DEPARTMENT OF HEALTH AND HUMAN SERVICES

Health Care Financing Administration

42 CFR Parts 410 and 414

[HCFA-1120-FC]

RIN 0938-AK11

Medicare Program; Revisions to Payment Policies Under the Physician Fee Schedule for Calendar Year 2001

AGENCY: Health Care Financing Administration (HCFA), HHS.

ACTION: Final rule with comment period.

SUMMARY: This final rule with comment period makes several changes affecting Medicare Part B payment. The changes include: refinement of resource-based practice expense relative value units (RVUs); the geographic practice cost indices; resource-based malpractice RVUs; critical care RVUs; care plan oversight and physician certification and recertification for home health services; observation care codes; ocular photodynamic therapy and other ophthalmological treatments; electrical bioimpedance; antigen supply; and the implantation of ventricular assist devices. This rule also addresses the comments received on the May 3, 2000 interim final rule on the supplemental survey criteria and makes modifications to the criteria for data submitted in 2001. Based on public comments we are withdrawing our proposals related to the global period for insertion, removal, and replacement of pacemakers and cardioverter defibrillators and low intensity ultrasound. This final rule also discusses or clarifies the payment policy for incomplete medical direction, pulse oximetry services, outpatient therapy supervision, outpatient therapy caps, HCPCS “G” Codes, and the second 5-year refinement of work RVUs for services furnished beginning January 1, 2002. In addition, we are finalizing the calendar year (CY) 2000 interim physician work RVUs and are issuing interim RVUs for new and revised codes for CY 2001. We are making these changes to ensure that our payment systems are updated to reflect changes in medical practice and the relative value of services. This final rule also announces the CY 2001 Medicare physician fee schedule conversion factor under the Medicare Supplementary Medical Insurance (Part B) program as required by section 1848(d) of the Social Security Act. The 2001 Medicare physician fee schedule conversion factor is $38.2581.

DATES: Effective date: This rule is effective January 1, 2001.

Comment date: Comments on interim RVUs for selected procedure codes identified in Addendum C and on interim practice expense RVUs and malpractice RVUs for all codes as shown in Addendum B will be considered if we receive them at the appropriate address, as provided below, no later than 5 p.m. on January 2, 2001.

ADDRESSES: Mail written comments (1 original and 3 copies) to the following address only: Health Care Financing Administration, Department of Health and Human Services, Attention: HCFA-1120-FC, P.O. Box 8013, Baltimore, MD 21244-8013.

Please allow sufficient time for mailed comments to be timely received in the event of delivery delays. If you prefer, you may deliver your written comments by courier (1 original and 3 copies) to one of the following addresses:

Room 443-G, Hubert H. Humphrey Building, 200 Independence Avenue, SW., Washington, DC 20201 or Room C5-14-03, 7500 Security Boulevard, Baltimore, MD 21244.

Comments mailed to the two above addresses may be delayed and received too late to be considered. Because of staff and resource limitations, we cannot accept comments by facsimile (FAX) transmission. In commenting, please refer to file code HCFA-1120-FC. Comments received timely will be available for public inspection as they are received, generally beginning approximately 3 weeks after publication of a document, in Room 443-G of the Department's office at 200 Independence Avenue, SW., Washington, DC, on Monday through Friday of each week from 8:30 to 5 p.m. (phone: (202) 690-7890).

FOR FURTHER INFORMATION CONTACT: Carolyn Mullen, (410) 786-4589 or Marc Hartstein, (410) 786-4539, (for issues related to resource-based practice expense relative value units).

Kenneth Marsalek, (410) 786-4502 (for issues related to supplemental practice expense survey data).

Bob Ulikowski, (410) 786-5721 (for issues related to resource-based malpractice relative value units and geographic practice cost index changes).

Rick Ensor, (410) 786-5617 (for issues related to care plan oversight and physician certification/recertification).

Cathleen Scally, (410) 786-5714 (for issues related to observation care codes).

Jim Menas, (410) 786-4507 (for issues related to incomplete medical direction and the 5-year review).

Roberta Epps, (410) 786-4503 (for issues related to outpatient/therapy).

Marc Hartstein, (410) 786-4539 (for issues related to the physician fee schedule update, the sustainable growth rate, the conversion factor, and the regulatory impact analysis).

Diane Milstead, (410) 786-3355 (for all other issues).

SUPPLEMENTARY INFORMATION: Copies: To order copies of the Federal Register containing this document, send your request to: New Orders, Superintendent of Documents, P.O. Box 371954, Pittsburgh, PA 15250-7954. Specify the date of the issue requested and enclose a check or money order payable to the Superintendent of Documents, or enclose your Visa, Discover, or Master Card number and expiration date. Credit card orders can also be placed by calling the order desk at (202) 512-1800 or by faxing to (202) 512-2250. The cost for each copy is $8. As an alternative, you can view and photocopy the Federal Register document at most libraries designated as Federal Depository Libraries and at many other public and academic libraries throughout the country that receive the Federal Register.

To order the disks containing this document, send your request to: Superintendent of Documents, Attention: Electronic Products, P.O. Box 37082, Washington, DC 20013-7082. Please specify, “Medicare Program; Revisions to Payment Policies Under the Physician Fee Schedule for Calendar Year 2001,” and enclose a check or money order payable to the Superintendent of Documents, or enclose your VISA, Discover, or MasterCard number and expiration date. Credit card orders can be placed by calling the order clerk at (202) 512-1530 (or toll free at 1-888-293-6498) or by faxing to (202) 512-1262. The cost of the four disks is $25.

This Federal Register document is also available from the Federal Register online database through GPO Access, a service of the U.S. Government Printing Office. The Website address is: http://www.access.gpo.gov/nara/index.html.

Information on the physician fee schedule can be found on our homepage. You can access this data by using the following directions:

1. Go to the HCFA homepage (­http://www.hcfa.gov).

2. Click on “Medicare.”

3. Click on “Professional/Technical Information.”

4. Select Medicare Payment Systems.

5. Select Physician Fee Schedule.

Or, you can go directly to the Physician Fee Schedule page by typing the following: http://www.hcfa.gov/medicare/pfsmain.htm.

To assist readers in referencing sections contained in this preamble, we are providing the following table of contents. Some of the issues discussed in this preamble affect the payment policies but do not require changes to the regulations in the Code of Federal Regulations. Information on the regulations impact appears throughout the preamble and is not exclusively in section X.

Table of Contents

I. Background

A. Legislative History

B. Published Changes to the Fee Schedule

C. Components of the Fee Schedule Payment Amounts

D. Development of the Relative Value Units

II. Specific Proposals for Calendar Year 2001

A. Resource-Based Practice Expense Relative Value Units

B. Geographic Practice Cost Index Changes

C. Resource-Based Malpractice Relative Value Units

D. Critical Care Relative Value Units

E. Care Plan Oversight and Physician Certification/Recertification

F. Observation Care Codes

G. Ocular Photodynamic Therapy and Other Ophthalmological Treatments

H. Electrical Bioimpedance

I. Global Period for Insertion, Removal, and Replacement of Pacemakers and Cardioverter Defibrillators

J. Antigen Supply

K. Low Intensity Ultrasound

L. Implantation of Ventricular Assist Devices

III. Other Issues

A. Incomplete Medical Direction

B. Payment for Pulse Oximetry Services

C. Outpatient Therapy Supervision

D. Outpatient Therapy Caps

E. HCPCS G Codes

F. Work RVUs in the Proposed Rule

G. Five-Year Refinement of Relative Value Units

IV. Refinement of Relative Value Units for Calendar Year 2001 and Response to Public Comments on Interim Relative Value Units for 2000 (Including the Interim Relative Value Units Contained in the July 2000 Proposed Rule)

A. Summary of Issues Discussed Related to the Adjustment of Relative Value Units

B. Process for Establishing Work Relative Value Units for the 2001 Physician Fee Schedule and Clarification of CPT Definitions

C. Other Changes to the 2001 Physician Fee Schedule and Clarification of CPT Definitions

V. Physician Fee Schedule Update and Conversion Factor for Calendar Year 2001

VI. Allowed Expenditures for Physicians' Services and the Sustainable Growth Rate

A. Medicare Sustainable Growth Rate

B. Physicians' Services

C. Provisions Related to the SGR

D. Preliminary Estimate of the SGR for 2001

E. Sustainable Growth Rate for CY 2000

F. Sustainable Growth Rate for FY 2000

G. Calculation of the FY 2000, CY 2000, and CY 2001 Sustainable Growth Rates

VII. Provisions of the Final Rule

VIII. Collection of Information Requirements

IX. Response to Comments

X. Regulatory Impact Analysis

A. Resource-Based Practice Expense Relative Value Units

B. Geographic Practice Cost Index Changes

C. Resource-Based Malpractice Relative Value Units

D. Critical Care Relative Value Units

E. Care Plan Oversight and Physician Certification/Recertification

F. Observation Care Codes

G. Ocular Photodynamic Therapy and Other Ophthalmological Treatments

H. Electrical Bioimpedance

I. Global Period for Insertion, Removal, and Replacement of Pacemakers and Cardioverter Defibrillators

J. Antigen Supply

K. Increased Space Allotment in Physical Therapy Salary Equivalency Guidelines

XI. Federalism

Addendum A—Explanation and Use of Addendum B

Addendum B—2001 Relative Value Units and Related Information Used in Determining Medicare Payments for 2001

Addendum C—Codes with Interim RVUs

Addendum D—2002 Geographic Practice Cost Indices by Medicare Carrier and Locality

Addendum E—2001 Geographic Practice Cost Indices by Medicare Carrier and Locality

Addendum F—Proposed 2002 Versus 1999 Geographic Adjustment Factors (GAF)

Addendum G—Malpractice

In addition, because of the many organizations and terms to which we refer by acronym in this final rule, we are listing these acronyms and their corresponding terms in alphabetical order below:

AMA American Medical Association

BBA Balanced Budget Act of 1997

BBRA Balanced Budget Refinement Act of 1999

CF Conversion factor

CFR Code of Federal Regulations

CPT [Physicians'] Current Procedural Terminology

[4th Edition, 1997, copyrighted by the American Medical Association]

CPEP Clinical Practice Expert Panel

CRNA Certified Registered Nurse Anesthetist

E/M Evaluation and management

EB Electrical bioimpedance

FMR Fair market rental

GAF Geographic adjustment factor

GPCI Geographic practice cost index

HCFA Health Care Financing Administration

HCPCS HCFA Common Procedure Coding System

HHA Home health agency

HHS [Department of] Health and Human Services

IDTFs Independent Diagnostic Testing Facilities

MCM Medicare Carrier Manual

MedPAC Medicare Payment Advisory Commission

MEI Medicare Economic Index

MGMA Medical Group Management Association

MSA Metropolitan Statistical Area

NAMCS National Ambulatory Medical Care Survey

OBRA Omnibus Budget Reconciliation Act

PC Professional component

PEAC Practice Expense Advisory Committee

PPAC Practicing Physicians Advisory Council

PPS Prospective payment system

RUC [AMA's Specialty Society] Relative [Value] Update Committee

RVU Relative value unit

SGR Sustainable growth rate

SMS [AMA's] Socioeconomic Monitoring System

TC Technical component

I. Background

A. Legislative History

Since January 1, 1992, Medicare has paid for physicians' services under section 1848 of the Social Security Act (the Act), “Payment for Physicians' Services.” This section contains three major elements—(1) a fee schedule for the payment of physicians' services; (2) a sustainable growth rate for the rates of increase in Medicare expenditures for physicians' services; and (3) limits on the amounts that nonparticipating physicians can charge beneficiaries. The Act requires that payments under the fee schedule be based on national uniform relative value units (RVUs) based on the resources used in furnishing a service. Section 1848(c) of the Act requires that national RVUs be established for physician work, practice expense, and malpractice expense.

Section 1848(c)(2)(B)(ii)(II) of the Act provides that adjustments in RVUs may not cause total physician fee schedule payments to differ by more than $20 million from what they would have been had the adjustments not been made. If adjustments to RVUs cause expenditures to change by more than $20 million, we must make adjustments to the conversion factors (CFs) to preserve budget neutrality.

B. Published Changes to the Fee Schedule

In the July 2000 proposed rule (65 FR 44177), we listed all of the final rules published through November 1999, relating to the updates to the RVUs and revisions to payment policies under the physician fee schedule. In the July 2000 proposed rule (65 FR 44176), we discussed several issues affecting Medicare payment for physicians' services, including:

Refinement of resource-based practice expense RVUs;

• Changes to the geographic practice cost indices;

• Resource-based malpractice RVUs;

• Critical care RVUs;

• Care plan oversight and physician certification/recertification;

• Observation care codes;

• Ocular photodynamic therapy and other ophthalmological treatments;

• Electrical bioimpedance;

• The global period for insertion, removal, and replacement of pacemakers and cardioverter defibrillators;

• Antigen supply;

• Low intensity ultrasound; and

• The implantation of ventricular assist devices.

This proposed rule also discussed or clarified the payment policy for incomplete medical direction, pulse oximetry services, outpatient therapy supervision, outpatient therapy caps, and the second 5-year refinement of work RVUs for services furnished beginning January 1, 2002.

This final rule affects the regulations set forth at part 410, Supplementary medical insurance (SMI) benefits and part 414, Payment for Part B medical and other services.

The information in this final rule updates information in the July 2000 proposed rule and the May 3, 2000 interim final rule with comment period (65 FR 25664) discussed later.

C. Components of the Fee Schedule Payment Amounts

Under the formula set forth in section 1848(b)(1) of the Act, the payment amount for each service paid under the physician fee schedule is the product of three factors—(1) a nationally uniform relative value for the service; (2) a geographic adjustment factor (GAF) for each physician fee schedule area; and (3) a nationally uniform CF for the service. The CF converts the relative values into payment amounts.

For each physician fee schedule service, there are three relative values—(1) an RVU for physician work; (2) an RVU for practice expense; and (3) an RVU for malpractice expense. For each of these components of the fee schedule there is a geographic practice cost index (GPCI) for each fee schedule area. The GPCIs reflect the relative costs of practice expenses, malpractice insurance, and physician work in an area compared to the national average for each component.

The general formula for calculating the Medicare fee schedule amount for a given service in a given fee schedule area can be expressed as:

Payment = [(RVU work × GPCI work) + (RVU practice expense × GPCI practice expense) + (RVU malpractice × GPCI malpractice)] × CF

The CF for CY 2001 appears in section V. The RVUs for CY 2001 are in Addendum B. The GPCIs for CY 2001 can be found in Addendum E.

Section 1848(e) of the Act requires us to develop GAFs for all physician fee schedule areas. The total GAF for a fee schedule area is equal to a weighted average of the individual GPCIs for each of the three components of the service. Thus, the GPCIs reflect the relative practice expenses, malpractice insurance, and physician work in an area compared to the national average. In accordance with the statute, however, the GAF for the physician's work reflects one-quarter of the relative cost of physician's work compared to the national average.

D. Development of the Relative Value Units

1. Work Relative Value Units

Approximately 7,500 codes represent services included in the physician fee schedule. The work RVUs established for the implementation of the fee schedule in January 1992 were developed with extensive input from the physician community. A research team at the Harvard School of Public Health developed the original work RVUs for most codes in a cooperative agreement with us. In constructing the vignettes for the original RVUs, Harvard worked with panels of expert physicians and obtained input from physicians from numerous specialties.

The RVUs for radiology services were based on the American College of Radiology (ACR) relative value scale, which we integrated into the overall physician fee schedule. The RVUs for anesthesia services were based on RVUs from a uniform relative value guide. We established a separate CF for anesthesia services while we continue to recognize time as a factor in determining payment for these services. As a result, there is a separate payment system for anesthesia services.

2. Practice Expense and Malpractice Expense Relative Value Units

Section 121 of the Social Security Act Amendments of 1994 (Pub. L. No. 103-432), enacted on October 31, 1994, required us to develop a methodology for a resource-based system for determining practice expense RVUs for each physician service. As amended by the Balanced Budget Act of 1997 (BBA) (Pub. L. No. 105-33), section 1848(c) required the new payment methodology to be phased in over 4 years, effective for services furnished in 1999, with resource-based practice expense RVUs becoming fully effective in 2002. The BBA also requires us to implement resource-based malpractice RVUs for services furnished beginning in 2000.

II. Specific Proposals for Calendar Year 2001

In response to the publication of the July 2000 proposed rule, we received approximately 600 comments. We received comments from individual physicians, health care workers, and professional associations and societies. The majority of comments addressed the proposals related to practice expense, observation care, antigen supplies, care plan oversight, and certification and recertification of home health services.

The proposed rule discussed policies that affected the number of RVUs on which payment for certain services would be based. Certain changes implemented through this final rule are subject to the $20 million limitation on annual adjustments contained in section 1848(c)(2)(B)(ii)(II) of the Act.

After reviewing the comments and determining the policies we would implement, we have estimated the costs and savings of these policies, and added those costs and savings to the estimated costs associated with any other changes in RVUs for 2001. We discuss in detail the effects of these changes in the Regulatory Impact Analysis (section X).

For the convenience of the reader, the headings for the policy issues correspond to the headings used in the July 2000 proposed rule. More detailed background information for each issue can be found in the May 2000 interim final rule with comment period and the July 2000 proposed rule.

A. Resource-Based Practice Expense Relative Value Units

1. Resource-Based Practice Expense Legislation

Section 121 of the Social Security Act Amendments of 1994 (Pub. L. No. 103-432), enacted on October 31, 1994, required us to develop a methodology for a resource-based system for determining practice expense RVUs for each physician's services beginning in 1998. In developing the methodology, we were to consider the staff, equipment, and supplies used in furnishing medical and surgical services in various settings. The legislation specifically required that, in implementing the new system of practice expense RVUs, we must apply the same budget-neutrality provisions that we apply to other adjustments under the physician fee schedule.

Section 4505(a) of the BBA delayed the effective date of the resource-based practice expense RVU system until January 1, 1999. In addition, section 4505(b) of the BBA provided for a 4-year transition period from charge-based practice expense RVUs to resource-based RVUs. The practice expense RVUs for CY 1999 were the product of 75 percent of charge-based RVUs and 25 percent of the resource-based RVUs. For CY 2000, the RVUs were 50 percent charge-based and 50 percent resource-based. For CY 2001, the RVUs are 25 percent charge-based and 75 percent resource-based. After CY 2001, the RVUs will be totally resource-based.

Section 4505(e) of the BBA provided that, in 1998, the practice expense RVUs would be adjusted for certain services in anticipation of the implementation of resource-based practice expenses beginning in 1999. As a result, we increased practice expense RVUs for office visits. For other services in which practice expense RVUs exceeded 110 percent of the work RVUs and were furnished less than 75 percent of the time in an office setting, we reduced the 1998 practice expense RVUs to a number equal to 110 percent of the work RVUs. This limitation did not apply to services that had proposed resource-based practice expense RVUs that increased from their 1997 practice expense RVUs as reflected in the June 18, 1997 proposed rule (62 FR 33196). The services affected, and the final RVUs for 1998, were published in the October 1997 final rule (62 FR 59103).

The most recent legislation affecting resource-based practice expense was included in the Balanced Budget Refinement Act of 1999 (BBRA) (Pub. L. No. 106-113). Section 212 of the BBRA stated that we must establish a process under which we accept and use, to the maximum extent practicable and consistent with sound data practices, data collected or developed by entities and organizations. These data would supplement the data we normally collect in determining the practice expense component of the physician fee schedule for payments in CY 2001 and CY 2002.

2. Current Methodology for Computing Practice Expense Relative Value Unit System

Effective with services on or after January 1, 1999, we established a new methodology for computing resource-based practice expense RVUs that used the two significant sources of actual practice expense data we have available: the Clinical Practice Expert Panel (CPEP) data and the AMA's Socioeconomic Monitoring System (SMS) data. The methodology is based on an assumption that current aggregate specialty practice costs are a reasonable way to establish initial estimates of relative resource costs of physicians' services across specialties. It then allocates these aggregate specialty practice costs to specific procedures and, thus, can be considered as a “top-down” approach. The methodology can be summarized as follows:

a. Practice Expense Cost Pools. We used actual practice expense data by specialty, derived from the 1995 through 1997 SMS survey data, to create six cost pools—administrative labor, clinical labor, medical supplies, medical equipment, office supplies, and all other expenses. There were three steps in the creation of the cost pools.

• Step (1) We used the AMA's SMS survey of actual cost data to determine practice expenses per hour by cost category. The practice expenses per hour for each physician respondent's practice was calculated as the practice expenses for the practice divided by the total number of hours spent in patient care activities. The practice expenses per hour for the specialty were an average of the practice expenses per hour for the respondent physicians in that specialty. In addition, for the CY 2000 physician fee schedule, we used data from a survey submitted by the Society of Thoracic Surgeons (STS) in calculating thoracic and cardiac surgery's practice expense per hour. (See the November 1999 final rule (64 FR 59391) for additional information concerning acceptance of this data.)

• Step (2) We determined the total number of physician hours (by specialty) spent treating Medicare patients. This was calculated from physician time data for each procedure code and from Medicare claims data.

• Step (3) We calculated the practice expense pools by specialty and by cost category by multiplying the specialty practice expenses per hour for each category by the total physician hours.

For services with work RVUs equal to zero (including the technical component (TC) of services with a TC and professional component (PC)), we created a separate practice expense pool, using the average clinical staff time from the CPEP data (since these codes by definition do not have physician time), and the “all physicians” practice expense per hour.

b. Cost Allocation Methodology. For each specialty, we separated the six practice expense pools into two groups and used a different allocation basis for each group.

(i) Direct Costs

For direct costs (including clinical labor, medical supplies, and medical equipment), we used the CPEP data as the allocation basis. The CPEP data for clinical labor, medical supplies, and medical equipment were used to allocate the clinical labor, medical supplies, and medical equipment cost pools, respectively.

For the separate practice expense pool for services with work RVUs equal to zero, we used 1998 practice expense RVUs to allocate the direct cost pools (clinical labor, medical supplies, and medical equipment cost pools) as an interim measure. Also, for all radiology services that are assigned work RVUs, we used the 1998 practice expense relative values for radiology services as an interim measure to allocate the direct practice expense cost pool for radiology. For all other specialties that perform radiology services, we used the CPEP data for radiology services in the allocation of that specialty's direct practice expense cost pools.

(ii) Indirect Costs

To allocate the cost pools for indirect costs, including administrative labor, office expenses, and all other expenses, we used the total direct costs, as described above, in combination with the physician fee schedule work RVUs. We converted the work RVUs to dollars using the Medicare CF (expressed in 1995 dollars for consistency with the SMS survey years).

The SMS pool was divided by the CPEP pool for each specialty to produce a scaling factor that was applied to the CPEP direct cost inputs. This was intended to match costs counted as practice expenses in the SMS survey with items counted as practice expenses in the CPEP process. When the specialty-specific scaling factor exceeds the average scaling factor by more than three standard deviations, we used the average scaling factor. (See the November 1999 final rule (64 FR 59390) for further discussion of this issue).

For procedures performed by more than one specialty, the final procedure code allocation was a weighted average of allocations for the specialties that perform the procedure, with the weights being the frequency with which each specialty performs the procedure on Medicare patients.

c. Other Methodological Issues.

(i) Global Practice Expense Relative Value Units

For services with the PC and TC paid under the physician fee schedule, the global practice expense RVUs were set equal to the sum of the PC and TC.

(ii) Practice Expenses per Hour Adjustments and Specialty Crosswalks

Since many specialties identified in our claims data did not correspond exactly to the specialties included in the practice expense tables from the SMS survey data, it was necessary to crosswalk these specialties to the most appropriate SMS specialty category. We also made the following adjustments to the practice expense per hour data. (For the rationale for these adjustments to the practice expense per hour see the November 1998 final rule (63 FR 58841).)

• We set the medical materials and supplies practice expenses per hour for the specialty of “oncology” equal to the “all physician” medical materials and supplies practice expenses per hour.

• We based the administrative payroll, office, and other practice expenses per hour for the specialties of “physical therapy” and “occupational therapy” on data used to develop the salary equivalency guidelines for these specialties. We set the remaining practice expense per hour categories equal to the “all physician” practice expenses per hour from the SMS survey data.

• Due to uncertainty concerning the appropriate crosswalk and time data for the nonphysician specialty “audiologist,” we derived the resource-based practice expense RVUs for codes performed by audiologists from the practice expenses per hour of the other specialties that perform these codes.

• For the specialty of “emergency medicine,” we used the “all physician” practice expense per hour to create practice expense cost pools for the categories “clerical payroll” and “other expenses.”

• For the specialty of “podiatry,” we used the “all physician” practice expense per hour to create the practice expense pool.

• For the specialty of “pathology,” we removed the supervision and autopsy hours reimbursed through Part A of the Medicare program from the practice expense per hour calculation.

• For the specialty “maxillofacial prosthetics,” we used the “all physician” practice expense per hour to create practice expense cost pools and, as an interim measure, allocated these pools using the 1998 practice expense RVUs.

• We split the practice expenses per hour for the specialty “radiology” into “radiation oncology” and “radiology other than radiation oncology” and used this split practice expense per hour to create practice expense cost pools for these specialties.

(iii) Time Associated with the Work RVUs

The time data resulting from the refinement of the work RVUs have been, on average, 25 percent greater than the time data obtained by the Harvard study for the same services. We increased the Harvard research team's time data to ensure consistency between these data sources.

For services with no assigned physician time (such as, dialysis, physical therapy, psychology, and many radiology and other diagnostic services), we calculated estimated total physician time based on work RVUs, maximum clinical staff time for each service as shown in the CPEP data, or the judgment of our clinical staff.

We calculated the time for CPT codes 00100 through 01996, using the base and time units from the anesthesia fee schedule and the Medicare allowed claims data.

3. Refinement

a. Background

Section 4505(d)(1)(C) of the BBA required us to develop a refinement process to be used during each of the 4 years of the transition period. We did not propose a specific long-term refinement process in the June 1998 proposed rule (63 FR 30835). Rather, we set out the parameters for an acceptable refinement process for practice expense RVUs and solicited comments on our proposal. We received a large variety of comments about broad methodology issues, practice expense per hour data, and detailed code level data. We made some adjustments to our proposal when we were convinced an adjustment was appropriate. We also indicated that we would consider other comments for possible refinement and that the values of all codes would be considered interim for 1999 and for future years during the transition period.

We outlined in the November 1998 final rule (63 FR 58832) the steps we were undertaking as part of the initial refinement process. These steps included—

• Establishment of a mechanism to receive independent advice for dealing with broad practice expense RVU technical and methodological issues;

• Evaluation of any additional recommendations from the General Accounting Office, the Medicare Payment Advisory Commission (MedPAC), and the Practicing Physicians Advisory Council (PPAC); and

• Consultation with physician groups and other groups concerning these issues.

We also discussed a proposal submitted by the AMA's Specialty Society Relative Value Update Committee (RUC) for development of a new advisory committee, the Practice Expense Advisory Committee (PEAC), to review comments and recommendations on the code-specific CPEP data during the refinement period. In addition, we solicited comments and suggestions about our practice expense methodology from organizations that have a broad range of interests and expertise in practice expense and survey issues.

In the July 22, 1999 proposed rule, the November 1999 final rule, and the July 2000 proposed rule, we provided further information on refinement activities underway, including the recommendations from the PEAC and the support contract that we awarded to focus on methodologic issues. The following is an update on activities with respect to these initiatives, as well as the status of refinement with respect to other areas of concern such as the SMS data and CPEP inputs.

b. SMS Data

We have received many comments on both our 1998 and 1999 proposed and final rules from a number of medical specialty societies expressing concerns regarding the accuracy of the SMS data. Some commenters stated their belief that the sample size for their specialty was not large enough to yield reliable data. Other specialties not represented in the SMS survey objected that the crosswalk used for their practice expense per hour was not appropriate and requested that their own data be used instead. Commenters also raised questions about whether the direct patient care hours for their specialty were overstated by the SMS to the specialty's disadvantage.

We consider dealing with these issues to be one of the major priorities of the refinement effort. Therefore, we have undertaken the following activities:

(i) Interim Final Rule on Supplemental Practice Expense Survey Data

On May 3, 2000, we published an interim final rule (65 FR 25664) that set forth the criteria for physician and non-physician specialty groups to submit supplemental practice expense survey data for use in determining payments under the physician fee schedule. Section 212 of the BBRA amended section 1848(c) of the Act to require us to establish a process under which we will accept and use, to the maximum extent practicable and consistent with sound data practices, data collected or developed by entities and organizations. These data will supplement the data we normally collect in determining the practice expense component of the physician fee schedule for payments in CY 2001 and CY 2002.

To obtain data that could be used in computing practice expense RVUs beginning January 1, 2001, we published the criteria in the May 2000 interim final rule (65 FR 25666) that we will apply to supplemental survey data submitted to us by August 1, 2000. We also provided a 60-day period for submission of comments on the criteria that we will consider for survey data submitted between August 2, 2000 and August 1, 2001 for use in computing the practice expense RVUs for the CY 2002 physician fee schedule. (See the May 2000 interim final rule for further information on the criteria and process). We are responding to comments received on the interim final rule in this rule, and are publishing the criteria to be used for 2001 submission.

The following are specific criteria and discussion in the May 2000 interim final rule.

• Physician groups must draw their sample from the AMA Physician Masterfile to ensure a nationally representative sample that includes both members and non-members of a physician specialty group.

• Physician groups must arrange for the AMA to send the sample directly to their survey contractor to ensure confidentiality of the sample; that is, to ensure comparability in the methods and data collected, specialties must not know the names of the specific individuals in the sample.

• Non-physician specialties not included in the AMA's SMS must develop a method to draw a nationally representative sample of members and non-members. At a minimum, these groups must include former members in their survey sample. The sample must be drawn by the non-physician group's survey contractor, or another independent party, in a way that ensures the confidentiality of the sample; that is, to ensure comparability in the methods and data collected, specialties must not know the names of the specific individuals in the sample.

• A group (or its contractors) must conduct the survey based on the SMS survey instruments and protocols, including administration and follow-up efforts, and definitions of practice expense and hours in patient care. In addition, any cover letters or other information furnished to survey sample participants must be comparable to such information previously supplied by the SMS contractor to its sample participants.

• A group must use a contractor that has experience with the SMS or a survey firm with experience successfully conducting national multi-specialty surveys of physicians using nationally representative random samples.

• A group must submit raw survey data to us, including all complete and incomplete survey responses as well as any cover letters and instructions that accompanied the survey, by August 1, 2000 for data analysis and editing to ensure consistency. All personal identifiers in the raw data must be eliminated. (Send data to Health Care Financing Administration, Department of Health and Human Services, Attn: Kenneth Marsalek, C4-03-06, 7500 Security Boulevard, Baltimore, MD 21244-8013.)

• Raw survey data submitted to us between August 2, 2000 and August 1, 2001 will be considered for use in computing practice expense RVUs for CY 2002.

• The physician practice expense data from surveys that we use in our code-level practice expense calculations are the practice expenses per physician hour in the six practice expense categories—clinical labor, medical supplies, medical equipment, administrative labor, office overhead, and other. Supplemental survey data must include data for these categories. Ideally, we would like to calculate practice expense values with precision; however, we recognize that we must achieve a balance. Conducting surveys is expensive, and there is a tension between achieving large sample sizes, which increases precision, and smaller ones, which conserves costs.

In addition, in the May 2000 interim final rule (65 FR 25666) we indicated that we believed an achievable level of precision is a coefficient of variation, that is, the ratio of the standard error of the mean to the mean expressed as a percent, not greater than 10 percent, for overall practice expenses or practice expenses per hour. For existing surveys the standard deviation is frequently the same magnitude as the mean. If the standard deviation equals the mean, then a usable sample size of 100 will yield a coefficient of variation of 10 percent. For small, homogeneous subspecialties, the variations in practice expenses may be lower because a smaller sample size achieves this level of precision. Other ways of expressing precision (for example, 95 percent confidence intervals) are also acceptable if they are approximately equivalent to a coefficient of variation of 10 percent or better. We indicated that will consider surveys for which the precision of the practice expenses are equal to or better than this level of precision and that meet the other survey criteria. Also, we indicated that we will require documentation regarding how the practice expenses were calculated and we will verify the calculations. We have the statutory authority, however, to determine the final practice expense RVUs.

We also indicated that, since the physician fee schedule is a national fee schedule, we would require that the survey be representative of the target population of physicians nationwide. We can presume national representativeness if a random sample is drawn from a complete nationwide listing of the physician specialty or subspecialty and the response rate, the percent of usable responses received from the sample, is high, for example, 80 to 90 percent. If any of these conditions (random sample, complete nationwide listing, and high response rate) are not achieved, then the potential impacts of the deviations upon national representativeness must be explored and documented. For example, if the response rate is low, then justification must be furnished to demonstrate that the responders are not significantly different from non-responders with regard to factors affecting practice expense. Differential weighting of subsamples may improve the representativeness. Minor deviations from national representativeness may be acceptable.

Comments on Criteria for Submitting Supplemental Practice Expense Data

We received comments from 17 specialty groups concerning the criteria for the acceptance of supplemental data. While many of these comments contained positive feedback on aspects of our interim final rule, they all contained statements of opposition to specific requirements and/or suggestions for improving the process. Outlined below are the comments from specialty groups and our responses concerning the requirements for supplemental survey data.

Required Sampling From the AMA's Physician Masterfile

Comment: Four groups stated that the requirement for survey respondents to be drawn solely from the AMA Physician Masterfile is inappropriate for the specialties of radiology and radiation oncology. They believe that hospital-based radiologists and radiation oncologists do not encounter the same practice expenses for staff and supplies as those radiologists and radiation oncologists working in freestanding centers. According to the groups, radiologists and radiation oncologists working in a freestanding center encounter capital intensive TC services not incurred by hospital-based physicians and, often, these TC component costs are borne by non-physician entities not included in the Physician Masterfile. The groups also believe that the small number of radiologists and radiation oncologists who own and operate a freestanding center will not be represented in a sample from the Physician Masterfile. The groups suggest that we work with the professional community to develop a list of freestanding radiation centers from which we could extract a geographically diverse sample. Alternatively, the groups suggest that, because of potential low response rates, we include all radiation practices in the survey sample and use the data for those physicians not working at freestanding centers only in the calculation of PC services.

One group expressed concern that by sampling from the AMA Physician Masterfile, a substantial number of emergency medicine practices are overlooked. The small number of physician practice owners leads to a strong possibility that these owners will not be selected in the random sample. They suggest that we permit an additional sample of large emergency medicine practice groups to supplement the current survey.

Response: The Physician Masterfile is the most extensive list of physicians in the United States, and, therefore, we believe it is the most appropriate list from which to develop a random sample of physicians within a specialty. Currently, we are not aware of a complete list of radiation and radiation oncology practices or emergency medicine practice groups that exists that is more comprehensive than the Physician Masterfile with the information necessary to extract a representative random sample. If such a list were to exist or be developed in the future, we would consider the appropriateness and potential uses for sampling. We would welcome information from physician and other organizations on specific data sources from which representative samples of physicians could be selected, if there is concern that the AMA Masterfile is not a comprehensive list for the specialty.

Comment: One group commented that the AMA Physician Masterfile may contain “self-designated” dermatologists who do not meet the criteria for “qualified” dermatologists. They defined “qualified” dermatologists as board certified dermatologists, associates and affiliate members such as osteopathic dermatologists, physicians conducting research in dermatology, and practicing dermatologists certified by a foreign board but now practicing in the United States. According to the group, other, “self-designated” dermatologists should not be included in the sample for dermatology because their practice expense data could be unrepresentative and potentially damaging to the practice expense RVUs for dermatology.

Response: Self-designation of specialty is not unique to dermatologists. In the Physician Masterfile, all specialties are based on self-designation. The SMS survey deals with the issue of self-designation by asking respondents if their specialty designation is representative of the specialty practice from which they gain the majority of their medical income. It is important to note that if any physician who is self-designated as a dermatologist furnishes dermatological services to Medicare patients, it is appropriate for this physician to be included in the sample because this physician receives income for dermatological services.

Comment: Three groups suggested that the requirement to sample from the Physician Masterfile may not be reasonable, as it serves only to limit specialties' ability to present alternative data to us. They noted that the requirement to sample from the Physician Masterfile is based on the assumption that physicians outside of the specialty group have different costs than members of the group. One commenter maintained that the substantial variance in practice expenses within members' practices makes it unlikely that non-members' practices would extend this variance. In addition, one group suggested that societies representing a smaller proportion of specialty practitioners should be allowed to explore options for addressing potential bias beyond sampling from the Physician Masterfile. According to the group, nonmembers of a specialty society are unlikely to respond to what they consider a time-consuming and intrusive survey about sensitive financial issues.

Response: We believe that the commenter is arguing that is should be sufficient to draw a sample from the members of a specialty society because there is unlikely to be a difference in practice expense per hour between members and nonmembers of a specialty society. Our goal in collecting practice expense data is to create practice expense values that reflect the costs of both members and non-members of a specialty society. We cannot assume that the average practice expenses of members and non-members of a specialty group are comparable without data to support this finding. The AMA Physician Masterfile is the most comprehensive list of physicians practicing in the United States. A specialty society's members are likely to include only a portion of the physicians practicing in that specialty. Thus, we believe that it is likely that a random sample selected from the AMA Physician Masterfile is going to be more representative of a specialty than a sample drawn from a specialty society's membership list. For this reason, we are maintaining the requirement that the sample of physicians must be drawn from the AMA Physician Masterfile.

Required Use of SMS Survey Instruments and Protocol

Comment: One group expressed concern that the SMS survey does not account for care hours induced by the Emergency Treatment and Labor Act (EMTALA) in the patient care hours question, thereby overstating the hours and understating the practice expense costs. They recommend that a question be added to the SMS that asks respondents about the patient care hours they spend in an average week providing EMTALA-induced care. Each specialty's average amount of EMTALA-induced care should then be deducted from the total hours spent in patient care. The commenter recognized that this is a long-term recommendation and wished to work on an interim solution with us.

Response: We understand the group's concerns and have contracted with The Lewin Group to provide recommendations on both the modification of future surveys to account for EMTALA-induced patient care hours and the use of these data to adjust practice expense values. We have also made specific comments to the AMA requesting that this issue be addressed in any future work they may do with regard to collecting survey data. In the interim, we have made an adjustment to the practice expense per hour for emergency medicine to address this issue. We have no reason to believe emergency medicine is being disadvantaged in the interim as a result of this adjustment. We will consider The Lewin Group's recommendations.

Comment: Six groups questioned the adequacy of the SMS survey for the purpose of accurately assessing a particular specialty's practice expenses. For example, one group believes that additional questions are needed to account for cardiology TC questions. They recommend that we revise the criteria for supplemental surveys to allow for the collection of additional data through specialty-specific questions.

Response: We consider the SMS survey to be adequate for the purpose of accurately assessing practice expenses. However, we agree that additional clarification and examples tailored to specific specialties may improve the accuracy of the data collected. Although we do not want specialties to change the basic structure of the SMS practice expense module, we have not precluded any groups from collecting additional data specific to the specialty in their supplemental surveys.

Comment: One group suggested that we adopt the AMA's practice level Practice Expense survey in place of the SMS and revise the criteria for supplemental survey data accordingly. They also suggested that our references to the SMS survey may be misunderstood by specialty groups referencing the AMA's practice level survey instrument, and that we must clarify this distinction. Two groups recommended that the specialty groups should collect practice level data, rather than individual physician estimates. One group also suggested that a practice level survey should be developed to more appropriately capture the practice expenses.

Response: The AMA has fielded the practice expense level survey with minimal success. At this time, we understand that the AMA does not plan to continue with the practice expense level survey. We are currently using the physician level SMS as the basis for supplemental surveys, and will continue to use this survey to maintain consistency with our existing data. We cannot use the AMA's practice level survey, or any other survey, until it has been evaluated to determine if the survey data can be incorporated into our practice expense methodology. In addition, we would have to determine if it is possible to reconcile the outcomes of the physician level and practice level surveys. We have asked The Lewin Group to review the AMA's practice level survey to determine how the data collected could be used to calculate practice expenses per hour values.

Comment: Four groups requested that specialty groups be allowed to conduct the supplemental surveys by mail with follow-up phone interviews. The groups believe this will reduce the cost of administering a survey.

Response: As explained previously, to help obtain comparable data, we believe supplemental surveys should follow the SMS methodology.

Comment: Two groups expressed concern that requiring cover letters and other information furnished to survey participants to be comparable to those supplied by the SMS contractor will hamper response rates. They believe specialty groups should be able to provide correspondence that explains the importance of the data for the benefit of the specialty without our “censorship.”

Response: Although specialty-specific correspondence may increase response rates, it could potentially introduce bias into the practice expense data. We believe that it is essential to obtain unbiased data.

Comment: One group suggested we use the tax form 1120 as a foundation for validating practice expense data. They suggested that independent accountants could be used to compare the practice expense data submitted to the actual expenses on the tax form.

Response: The Lewin Group has considered this recommendation and, after discussions with the AMA and numerous physician specialty groups, has determined that practitioners may not respond to the survey if they believe their data may be audited. However, The Lewin Group does believe that a closer link between the survey worksheet and a practice's tax forms may improve the accuracy of the data. We may consider this as a longer-term refinement issue.

Comment: One group recommended that we develop a workable alternative to the SMS survey. They noted the indefinite suspension of the SMS survey, and the lack of evidence that the SMS is the best source of obtaining practice expense data at the specialty level as reasons for their suggestion. They suggested we develop a set of core questions and standard definitions to be incorporated in each specialty's survey. If we create an alternative to the SMS, They requested that we take into account the extensive amount of time involved in designing and conducting an effective practice expense survey.

Response: The Lewin Group has already worked with specialty groups to modify the SMS survey for administration as a supplemental survey. The Lewin Group will continue to help specialty groups field supplemental surveys.

Comment: One group requested that we keep the specialty groups updated on the status of the SMS survey and any potential solutions or alternate plans we develop to account for the absence of new SMS data. They stated that keeping the specialties current would allow them to anticipate extra spending on survey projects.

Response: The best source of current information on the status of the SMS survey would, of course, be from the AMA. Any plans on our part would be included in information provided as part of future revisions to practice expenses.

Comments on the Response Rate

Comment: Seven groups objected to the response rate of 80 to 90 percent mentioned as a criterion for the presumed national representativeness of a sample. The groups stated that the SMS has never achieved a response rate this high, and that specialty groups should not be expected to achieve a response rate higher than that achieved by the SMS. Two groups suggested an acceptable response rate of 30 to 40 percent, and the American Academy of Ophthalmology (AAO) suggested an acceptable response rate of 30 percent. The ACR requested an acceptable response rate of no higher than 65 percent. Three groups objected to our response rate but did not suggest an alternative rate.

Response: The 80 to 90 percent response rate was presented as a rate at which we can presume that the sample is nationally representative, but not as an absolute requirement for the acceptance of data. As we stated in the May 3, 2000 interim final rule (65 FR 25666), we are attempting to be as reasonable as possible. However, surveys with a response rate lower than 80 percent cannot be assumed to be nationally representative, and, for us to accept these data, a specialty group must demonstrate that the survey respondents are not significantly different from non-respondents. In addition, based on our review of the supplemental surveys submitted, we are modifying our criteria concerning an acceptable level of precision for surveys. We now believe a reasonable level of precision for surveys to be used for supplementing current data is a 90-percent confidence interval with a range of plus or minus 10 percent of the mean (that is, 1.645 times the standard error of the mean, divided by the mean, should be equal to or less than 10 percent of the mean).

Comment: One group commented that it is highly unlikely that small specialties will be able to achieve the coefficient of variation of less than 10 percent for overall practice expenses or practice expenses per hour that we require for the acceptance of supplemental data. They note that the original SMS survey did not achieve this threshold for many small specialties and, therefore, question the application of the requirement to supplemental surveys.

Response: In developing the resource-based practice expense RVUs, we consulted widely with physician groups, researchers, and others to identify possible data sources. Nearly all commenters agreed that the SMS data, while not specifically designed for the purpose of establishing practice expense RVUs, was the best available data for this purpose. We believe our criteria, as discussed above, help assure that any data used to supplement the SMS data are statistically valid and representative. Further, we believe these criteria are reasonable and achievable. For example, a specialty society for thoracic surgeons submitted supplemental data that we incorporated last year. These data from the STS achieve our statistical criteria for supplemental surveys. We also note that the 90-percent confidence interval requirement seems very reasonable in that, in general, a 95-percent confidence interval is a more typical statistical standard value.

Comment: One group requested that we provide the specialty groups “with a comprehensive definition of ‘complete' and ‘incomplete' data in addition to an explanation of the extent to which incomplete data will be excluded or utilized in practice expense calculations.” At a minimum, the group requested indicators for required and non-required data fields on the survey instrument.

Response: The required data fields for the survey instrument are available from our contractor, The Lewin Group, and from the protocols and guidelines we have created for the supplemental surveys. The original SMS survey data obtained from the AMA was accepted only for surveys with complete practice expense and patient care per-hour information. We will continue to use these criteria for the acceptance of data. (A copy of the guidelines and procedures may be obtained by contracting Lane Koeing at The Lewin Group at (703) 269-5659.)

Data Adjustment

Comment: Three groups commented on our use of the 1995 through 1997 specialty practice expense per-hour data from the SMS and our deflation of supplemental survey data to 1995 practice costs. The groups stated that we should use the most current data available for all specialties rather than earlier data of questionable relevance.

Response: We indicated in the July 2000 proposed rule (65 FR 44181) that, based on a recommendation by The Lewin Group, we have incorporated the 1998 SMS data into our practice expense per-hour calculations and that we are now basing our practice expense per-hour calculations on a 4-year average. Regarding the deflation of the practice costs to 1995, as long as the same deflator is used across specialties, the particular year to which the specialties are deflated is insignificant. The base year of 1995 was chosen to be consistent with the data we have already.

Comment: One group commented on our decision to weight average the supplemental data with the existing SMS data already being used. According to the group, this decision is flawed because it erroneously assumes that the SMS data currently in use is correct. In addition, they believe that the SMS sample size for emergency physicians has been too small to provide valid data for the calculation of practice expenses. The group suggested that it is inappropriate for us to weight average data from this unrepresentative sample with supplemental survey data for emergency physicians.

Response: The SMS data is the best data currently available for the calculation of practice expenses. As refinements of the practice expense methodology are identified and included, we will extrapolate and apply them to past SMS data to the extent possible. Weight averaging the supplemental survey data with the existing SMS data would be used to increase the sample size. We also established the criteria for supplemental surveys in the May 3, 2000 interim final rule (65 FR 25666) as a guideline for those specialties seeking to increase their sample size.

Short Time Frame for Data Submission

Comment: Three groups expressed concern with the short time frame we have provided for specialty groups to develop the survey methodologies, find a contractor, and provide the data for computation of RVUs.

Response: Section 212 of the BBRA required that we establish, through regulation, a process for any organization to collect and submit supplemental survey data for use in establishing payments for the calendar years 2001 and 2002 physician fee schedules. Thus, the amount of work required to be accomplished in a short time was largely due to the requirements of the statute itself.

Cost Burden of the Supplemental Surveys

Comment: Two groups commented that we should share the cost burden for the supplemental surveys. According to the groups, the supplemental surveys will be filling in the data gap left by the SMS and, therefore, we should subsidize the cost of completing the surveys. In addition, one group commented that the efforts needed to meet the supplemental survey requirements may be prohibitively costly for many specialties without subsidization from us. One group also commented that we should take into account the AMA's problems with the expense of administering the SMS before fully adopting the survey protocol. Specifically, they suggested that we look for less costly, and more cost-effective, ways of validating the data than telephone interviews.

Response: We have no funding for supplemental surveys, and we are not currently considering such approaches. As we have previously explained, we believe the SMS data are currently the best available source of practice cost information. We believe there are significant, methodological advantages to obtaining practice cost information through multi-specialty surveys such as SMS, rather than through surveys of more limited groups of specialties. The supplemental survey process allows specialties the option to provide additional information.

Comment: Two groups suggested that we should eliminate some of the criteria for the acceptance of outside survey data if a specialty can demonstrate that the collected data are valid practice expense data for the specialty. According to one commenter, some specialty groups may have valid data that does not exactly meet the criteria we outlined, but nevertheless could be a valuable data source.

Response: In the May 3, 2000 interim final rule (65 FR 25666), we presented the criteria for specialty societies seeking to collect new practice expense data through supplemental surveys. The process established by these criteria, as amended by this final rule, should be followed by specialty societies to collect future supplemental practice expense data.

Survey Contractor Requirements

Comment: One group expressed concern about contracting for survey research. According to the group, many specialties have staff capable of analyzing the survey data. Requiring specialties to contract for the surveys could eliminate certain subspecialties from administering a supplemental survey due to cost burden.

Response: We recognize the cost burden of contracting for the supplemental survey administration; however, to ensure the integrity of the practice expense data, we are requiring that a disinterested third party administer supplemental surveys.

Comment: One group questioned our requirement for specialties to use a survey contractor with experience in conducting national multi-specialty surveys of physicians using random samples. They believe that a contractor with experience surveying health care professionals and using random sample techniques should be sufficient.

Response: We believe our initial requirements represent a preferred way to collect valid and reliable data. We will, however, consider survey contractors with experience surveying health care professionals, collecting financial information, and using random samples.

Comment: Two groups are concerned with our requirement for raw survey data to be submitted to us. One group believes that we should outsource the analysis of the survey responses. The other group opposes the submission of raw data to us because they believe physicians will be unlikely to respond to sensitive financial questions if they are informed that their individual responses will be sent directly to the government.

Response: The raw survey data have been submitted to The Lewin Group, and they have provided us with only aggregate practice expense values.

HCFA's Use of the Supplemental Survey Data

Comment: One group expressed concern about our use of the supplemental survey data. Before administering an expensive survey, they want assurance from us that the supplemental data will be used. Alternatively, the group believes we should conduct a survey across all specialties. They commented that we must adopt one of these options to remove flawed data that does not account for the unique practice expenses related to emergency medicine.

Response: The criteria for the consideration of supplemental survey data are described in this final rule. We anticipate incorporating data that meet these criteria in the practice expense methodology.

Comment: One group requested that we provide specialty groups with the criteria for determining if data supplied between August 2, 2000 and August 1, 2001 is usable. We state in the interim final rule that submitted data will be considered, but we do not state whether the criteria for acceptance will be the same as the criteria for data supplied by August 1, 2000.

Response: The criteria for accepting supplemental survey data were presented in the May 3, 2000 interim final rule. These criteria were subject to public comment, and any modification we have made to these criteria, as a result of the comments, are part of this final rule.

Result of Evaluation of Comments

The criteria published May 3, 2000 will be used for surveys submitted in 2001 with the following modifications.

• We had proposed that specialty groups use a contractor that has experience with the SMS or a survey firm with experience successfully conducting national multi-specialty surveys of physicians using nationally representative random samples. We have modified the criteria to provide for using a contractor that has experience surveying health care professionals, collecting financial information and using random samples.

• In addition, based on our review of the supplemental surveys submitted, we are modifying our criteria concerning an acceptable level of precision for surveys. We now believe a reasonable level of precision for surveys to be used for supplementing current data is a 90 percent confidence interval with a range of plus or minus 10 percent of the mean; (that is, 1.645 times the standard error of the mean, divided by the mean, should be equal to or less than 10 percent of the mean).

With respect to response rates, we are concerned about the low response rates received from supplemental surveys submitted to us in 2000. While we acknowledge that the timing of the surveys (that is, short-field time and time of year) contributed to the low response rates, we believe that groups will have more time to conduct surveys and, thus, are likely to obtain better response rates in future surveys. While we continue to believe that it is impossible and impractical to set rigid cutoffs, we are expecting higher response rates than were achieved in the supplemental surveys submitted to us in 2000. We would like to see detailed analyses that indicate the sample is representative of the population. While The Lewin Group was able to perform some limited analyses of response bias for the supplemental surveys received in 2000, we expect that these supplemental surveys received in 2001 will provide detailed analyses with respect to possible response bias on factors that could affect practice expenses. Such analyses should consider variables such as specialty society membership, years in practice, board certification, gender, geographic distribution of respondents, and practice arrangements (for example, solo practitioners or large group practices). We will not consider supplemental data in the practice expense methodology unless we receive detailed analyses that give us confidence that survey respondents are representative of the profession on items that affect practice expense. In addition, the data must appear reasonable and consistent with other data used to determine practice expense RVUs.

Submission of Supplemental Surveys

In response to the May 3, 2000 interim final rule, three organizations submitted supplemental survey data for consideration. One survey was submitted by the American Physical Therapy Association (APTA), and a joint survey was submitted by the American Association of Vascular Surgery (AAVS) and the Society for Vascular Surgery (SVS). Our contractor, The Lewin Group, has evaluated the data submitted by each organization and recommended that we use these data. The full recommendation and discussion will be made available on the HCFA website. We have decided to use the data submitted by the AAVS and SVS to supplement the information we are currently using. However, we have decided not to use the data submitted by the APTA. The revised practice expense per hour figures that we are using for vascular surgery are:

Clinical staff | Admin staff | Office expense | Supplies | Equipment | Other | Total
20.2 | 18.1 | 17.7 | 3.2 | 4.5 | 11.4 | 75.1

These figures are from the supplemental survey information provided to us from the Lewin Group adjusted by the MEI so the figures reflect 1995 data. That is, we divided the 1999 practice expense per hour data by the cumulative MEI for 1996-1999 (1.0877).

Both supplemental surveys have extremely low response rates (about 14 percent for vascular surgeons and 11 percent for physical therapists). We specified the criteria we would apply for supplemental surveys in the May 2000 interim final rule (65 FR 25666). While we did not establish a precise minimum response rate, we did indicate that surveys with response rates less than 80 percent to 90 percent require an analysis to determine to what extent the sample is representative of the population. The extremely low response rates achieved by these two supplemental surveys and the relatively small number of responses make it extremely difficult, and very subjective, to determine whether the data are representative of each specialty. Our contractor was able to make very limited assessments of this issue based on the data provided.

However, in our May 2000 interim final rule, we indicated that, based on our review of existing physician practice expense surveys, we believe that an achievable level of precision is a coefficient of variation, that is, the ratio of the standard error of the mean to the mean expressed as a percent, not greater than 10 percent, for overall practice expenses or practice expenses per hour. For existing surveys, the standard deviation is frequently the same magnitude as the mean. We indicated in the May 2000 interim final rule that we would consider practice expenses for which the precision of the practice expenses is equal to or better than this level of precision and that meet the other survey criteria.

The data submitted by the AAVS and the SVS met the level of precision. The data submitted by the APTA did not rise to this level of precision; they did not meet this objective criterion set out in the May 2000 interim final rule. Thus, we do not have, in the survey data submitted by the APTA, data that convince us of both the representativeness or the precision of the surveys. For that reason, we are unable to incorporate the supplemental survey data submitted by the APTA in the practice expense system.

We note, however, that we have made an adjustment to the practice expense data for physical and occupational therapy services based on other comments received. These comments and adjustments are described elsewhere in this regulation.

In addition, one specialty society also submitted data concerning clinical staff in the hospital setting. The data submitted were not in the context of supplemental survey data. We discuss the issues addressed by these data elsewhere in this preamble.

(ii) Proposals for SMS Refinement

In the July 2000 proposed rule (65 FR 44180), we discussed the tasks that our contractor, The Lewin Group, was undertaking to assist us with broad practice expense technical and methodological issues. We also highlighted the recommendations that were contained in the first draft report that the contractor submitted, “Practice Expense Methodology,” dated September 24, 1999. This report is on our homepage under the title “Practice Expense Methodology Report.” (Access to our homepage is discussed under the “Supplementary Information” section above.)

The report contained various recommendations aimed at increasing the validity and reliability of the AMA's SMS survey. Although the Lewin Group's recommendations were made specifically to address improving the SMS survey for calculating practice expense RVUs, we believe the recommendations will be useful in making refinements to any other survey instrument that may be used in calculating practice expense RVUs. The recommendations fell into the three following areas:

• The use of data supplementary to the SMS survey.

• Suggested changes to the survey instrument.

• Recommendations for using the data in calculating the specialty-specific practice expense per hour.

In response to the report's recommendations on the use of the SMS data, we proposed to incorporate data from the 1998 SMS survey, which is the latest data available, into our practice expense per-hour calculations. In addition, we proposed basing the practice expense per hour calculations on a 4-year average, rather than the 3-year average recommended in the contractor's report. We published a table that contained the practice expense per-hour calculations for CY 2001 that resulted from the above proposals. We also proposed standardizing the practice expense data to reflect a 1995 cost year consistent with the pricing information we are using for the estimates of practice expense inputs for individual procedures. To standardize costs, we proposed inflating 1995 cost data by the MEI and deflating 1996 and 1997 costs data. This proposal has virtually no impact on the practice expense per-hour calculations.

After discussions with the AMA's SMS staff, we did not propose, as recommended by our contractor, to revise edits and trims to the SMS survey data to exclude data that fall outside set acceptable ranges.

In the July 2000 proposed rule (65 FR 44184), we also discussed the suggestions we made to the AMA for including additional questions in the SMS survey that would make it more useful for calculating specialty-specific practice expenses more precisely. It now appears that the AMA may no longer undertake a multi-specialty survey to collect practice expense information. While we will continue our discussion with the AMA regarding any future plans for practice expense data collection, as stated above, we believe these recommendations will be useful in the design of any other survey used in developing practice expense RVUs.

As we indicated earlier, we proposed to use data from the 1998 SMS to develop the 2001 practice expense RVUs. Furthermore, data from the 1999 SMS will become available later this year for use in developing the 2002 practice expense RVUs. In addition, section 1848(c)(2)(B) of the Act requires that not less often than every 5 years, we review and make adjustments to RVUs. Thus, we are required by the statute to review and make adjustments to the practice expense RVUs 5 years after the end of the transition period, that is, no later than 2007. Regardless of whether the AMA continues to collect data on practice expenses, we will be developing plans for making refinements to practice expense RVUs beyond 2002.

Comment: One specialty society indicated that SMS data from 1998 and 1999 is available and we have not used this data in the past because of fears that the data may be tainted now that some physicians know that the responses could affect Medicare fees. The commenter recommended that we use data from 1996 through 1999, rather than the 1995 through 1998 data we have proposed using.

Response: In the November 2, 1998 final rule (63 FR 58821), we expressed concern about the potential biases that may exist in surveys collected by individual specialties and in any survey data collected in the SMS survey process subsequent to our June 5, 1998 proposed rule. There is no relationship between this concern and any decisions that we have made with respect to incorporating available data from the SMS survey process into the practice expense methodology. Since SMS survey data from 1998 was collected more than 1 year before the June 1998 proposed rule announcing the “top down” methodology, any implication that we did not previously propose use of the data because of a concern about bias in the data is inaccurate. Rather, we have not previously proposed using the data because it was unavailable to us before this year's proposed rule. In addition, we did not propose using SMS data from 1999 because it was unavailable to us at the time of the proposed rule. We will consider using 1999 data from the SMS for setting 2002 physician fee schedule rates. As we stated in our July 2000 proposed rule (65 FR 44184), we welcome comments on long term strategies for collecting practice expense data in the future.

Comment: We received two comments that indicated that the SMS sample for gastroenterology is small and inadequate, that the response rate in the SMS is the lowest among any specialty, and that the practice expense calculations are probably inaccurate. One of these commenters also urged us to work with the AMA and the medical community to improve the aggregate specialty-specific data. A specialty society representing pediatrics reiterated the concern that the pediatric specialties are not adequately represented in the SMS, and a society representing geriatrics also believed that the sample size of geriatricians is not large enough to yield reliable data. Another commenter was concerned about the inadequate sample size of radiation oncologists in the SMS and believed that the use of the Physician Masterfile under-samples non-hospital based radiation oncologists and over-samples hospital-based radiation oncologists, who do not incur the same practice expenses for equipment and staff. Several imaging specialties stated that the SMS does not capture the practice expenses for TC services, probably because the SMS sample is skewed toward professional-component only providers. These commenters argued that, even if the sample of TC providers were adequate, the higher TC costs would be diluted by the lower PC costs, and thus it is necessary to perform a survey of only TC providers to use in the practice expense calculations.

Response: Since concerns regarding the representation of various specialty societies in the SMS data were raised previously, we are reiterating our general response that can be found in more detail in the November 2, 1998 final rule (63 FR 58821). As we indicated in that rule, many of the criticisms of the SMS data could well be made about any other practice expense survey. At the time, we proposed use of the SMS data for developing the practice expense RVUs, we indicated that it was the best available data source on aggregate practice expenses. Since we are continuing to rely on the SMS data in the process for determining practice expense RVUs, we believe that the specialty-specific representation in the data is now improved by incorporating an additional year of data. The practice expense per hour will be based on a larger number of survey responses that will likely result in improved representativeness of the data.

Comment: One commenter contended that the data in the practice expense per-hour table in the July 2000 proposed rule do not appear logical, objective, or consistent. There is an unexplained range of clerical payroll per hour among similar specialties, and the ranking of the practice expenses among specialties appears to be untenable; for example, the total practice expense per hour for dermatology is almost two times greater than for gastroenterology.

Response: We believe that different specialties are likely to have differences in practice expense per-hour for indirect types of costs depending upon the nature of the practice. With respect to the examples identified, dermatologists are generally in office-based practices, while gastroenterologists provide most services in hospitals. The nature of these types of practices may result in very different expenses for administrative personnel. Without disaggregating the costs and describing the different administrative activities that are performed by employees of the different types of specialties, it is difficult to explain deviations in the practice expense per hour among specialties. Nevertheless, we reviewed data on administrative practice expenses per hour across specialties for each individual SMS data year and found, with some exceptions, that there is stability among the relative practice expense per hour for this item across years. For instance, for 3 of the 4 years that there is survey data, the administrative practice expense per hour for gastroenterology is between 61 and 63 percent of dermatology (in the remaining year, it is 53 percent). We believe that the apparent stability of the relative practice expense per hour across specialties provide assurance of the data's reliability.

Comment: We received a number of comments expressing concern about our decision to incorporate 1998 SMS data into the practice expense methodology. Several commenters noted that there were a small number of usable responses for some specialties to calculate the practice expense per hour using the 1998 SMS data, citing that cardiac and thoracic surgeons and radiation oncologists had only three responses. Another commenter stated that, in the past, we have been unwilling to use SMS data if the number of survey respondents is low. Other commenters expressed concern that for some specialties, the small sample of physicians would mean that the practice expense per hour could not be calculated accurately and such unstable data would produce some substantial changes. These commenters suggested that we not incorporate additional data, including the 1998 SMS data, until a representative practice expense sample can be performed with an adequate number of respondents for all specialties.

One specialty commented that inclusion of the 1998 SMS data is premature because of questions regarding its validity, since AMA is redeveloping the SMS with the possibility of seeking specialty-society input, and there are questions regarding the validity of the 1998 SMS data. While some commenters agreed with the general principle of using the most current data, they argued that the quality of the 1998 SMS data does not merit inclusion into our practice expense per-hour calculations. One commenter stated that the SMS survey does not recognize the unique nature of emergency medicine.

Alternatively, there were many comments that supported our use of the 1998 SMS data. These commenters generally indicated that we should use the most current data because practice expenses may change over time. In addition, these commenters indicated that there is no evidence that the 1998 SMS data is tainted or otherwise objectionable. Other commenters indicated that including more survey responses from later SMS years will result in practice expense values that are more representative of physicians' costs. Some commenters indicated that practice expense data based on a 4-year sample provides greater assurance of its quality. Many of the commenters that suggested incorporating the 1998 SMS data also indicated that we should use the 1999 data from the SMS when it becomes available. Other commenters supported our proposal to base the practice expense per-hour calculation on a 4-year average of SMS data as opposed to a 3-year average, because it will help to compensate for the low number of survey responses from some specialties in the prior years' SMS surveys.

One commenter believed that we should follow our contractor's recommendation and use a rolling 3-year average, because using 4 years results in older data completed by persons less familiar with the SMS. Other commenters supported using only the latest 3 years of data to eliminate the oldest practice expense data from the methodology.

Response: While the lower response rates in the 1998 SMS data are a concern, we continue to believe it is appropriate to incorporate these additional data into the practice expense methodology. In general, even though there are fewer responses in the 1998 SMS data, it is unclear to us why this alone indicates that we should reject incorporating the data. Generally, the inclusion of more survey data will improve the data's representativeness and lead to more stability in the practice expense methodology. Furthermore, to the extent that there are fewer responses to the 1998 SMS survey, there will be less impact on a given specialty because the practice expense per-hour calculation is weighted by the number of respondents from each respective year. With respect to the stability of the data, the AMA indicated that a statistical test of the data “revealed only marginal evidence of a statistically significant change in PE-HR across specialties when all specialty-level changes were considered jointly. In other words, the combined set of changes in relative PE-HR were with the range of what could be expected by sampling error.” Thus, although there may have been some large changes in practice expense per hour across years for some specialties, there appears to be overall stability across years among all physicians.

In general, use of the 1998 SMS improves the stability of the practice expense per hour and results in little specialty level impact. For the 35 specialties listed in our impact table in the July 2000 proposed rule (65 FR 44203), 21 specialties will experience an impact that is near zero. There are nine specialties that will experience an impact of approximately 1 percent as a result of inclusion of the data. For two (cardiac and thoracic surgery) of the four specialties that show a payment impact of approximately 2 percent, the data were affected by more than just the inclusion of the 1998 SMS data. In the November 1999 final rule (64 FR 59391), we indicated that supplemental data would be incorporated in the practice expense per hour and we would not include data from the 1995 SMS. We are now adding the 1995 SMS data as well as the 1998 SMS data to the calculation of practice expense per hour and increased the likelihood that there would be a larger impact on the practice expense per hour. For one specialty (physical and occupational therapy, included in the nonphysician practitioner category), we made an error in the practice expense per hour calculation in the July 2000 proposed rule. After correcting this error, there is only approximately a 1-percent increase in the nonphysician practitioner category from incorporating the additional SMS data. We believe that these results support the argument that the practice expense per hour is generally stable and that it is appropriate to include 1998 SMS data in the practice expense methodology.

With respect to the comment that it is premature to incorporate 1998 SMS data into the practice expense methodology because of AMA efforts to redesign the survey and include specialty society input, we are unsure of the AMA's efforts in this regard. Nevertheless, while we would welcome multispecialty involvement in an effort to collect practice expense data specifically for the purpose of determining relative value units, we believe that such efforts should not have any bearing on our decision to incorporate later SMS data into the practice expense methodology at this time. If new data were to be collected under a redesigned survey process, it could be at least 2 years before such data is available to us. In the interim, we believe it is appropriate to include the latest SMS data into our methodology.

We disagree with the commenter who suggested that the older SMS data should be eliminated from the practice expense per hour calculations because the surveys were completed by respondents less familiar with the SMS. The SMS is a longstanding survey that was originally developed by the AMA in 1981. There is no evidence that data from earlier SMS surveys is less reliable than later survey information.

Comment: A commenter representing urologists stated that, if we are not going to accept our contractor's recommendation to revise the edits and trims to the SMS survey data, the use of median values, rather than means, would produce the most fair relative ranking of the practice expense per hour among medical specialties.

Response: We believe it is appropriate and consistent with the statute to use the mean practice expense per hour rather than the median. Under the practice expense methodology, the practice expense per hour for each specialty is multiplied by the physician time per procedure and number of Medicare allowed services and summed at the specialty level to produce aggregate specialty cost pools. In theory, the aggregate practice expense pools would reflect actual physicians' costs if the utilization data for all payers, not just Medicare payers, were used. (In reality, however, the data is potentially biased by the inclusion of mid-level practitioners. See the June 5, 1998 proposed rule (63 FR 30832) for a more detailed discussion of this issue). If the median practice expense per hour were used, however, the aggregate cost pools would not be reflective of physicians' actual expenses, because very high-cost or low-cost practice data would be excluded. Since the statute indicates that we should “recognize all staff, equipment, supplies and expenses,” we believe use of the mean rather than the median practice expense per hour will result in the practice expense RVUs being more reflective of all physician practice costs.

Comment: We received several comments that were concerned about the AMA's decision to no longer collect practice expense data from the SMS. One commenter noted that the Lewin Group recommendations described in the proposed rule were aimed at improving the SMS surveys and/or practice level surveys that the AMA no longer intends to perform. Other commenters expressed concern about plans for gathering practice expense data for years after 1999, particularly if the AMA will not continue the SMS survey. Two commenters recommended that we initiate a dialogue with specialty societies to develop a workable alternative and another that we consider creating and funding a survey to collect practice expense data in the future. One organization commented that the AMA's decision to no longer collect practice expense data means that issues related to uncompensated care in the practice expense methodology will not be addressed. This commenter stated that we should continue to work with emergency physicians to ensure that what the society feels are flawed practice expense data are no longer used to determine payment amounts for emergency physicians.

Response: We share these commenters' concerns about the AMA's decision to no longer collect practice expense data. However, we continue to believe that the recommendations of the Lewin Group and our suggestions to the AMA regarding improvements that could be made to the SMS and practice level survey will be helpful in future practice expense data collection efforts. As the AMA indicated in a letter to us (see 63 FR 30829 for the AMA's more detailed comments), the SMS data were never collected for the purpose of developing relative values. The Lewin Group recommendations and our suggestions to the AMA were intended to tailor the SMS or a practice level survey to be more suitable for this purpose. While our comments were addressed specifically to improving the ability of the SMS or a practice level survey to be used for developing practice expense RVUs, there is no reason that these suggestions would not be equally valid for any alternative practice expense survey instrument that may be developed. Thus, we continue to believe that there is merit in the work of the Lewin Group and in our suggestions on improvements to the AMA survey.

With respect to the concerns expressed about gathering practice expense data beyond 1999, we have published criteria that specialties must follow to submit supplementary practice expense survey data that can be included in the practice expense calculations. Thus, there is a process for specialties to collect representative data on practice expenses for a specialty that can be used to influence the calculation of practice expense RVUs. Furthermore, we are currently planning to use 1999 SMS data to determine the practice expense per hour for calculating practice expense RVUs for 2002. Thus, the fully implemented resource-based practice expense RVUs will be based on a weighted 5-year average of the latest SMS survey data.

Regardless of whether the AMA were to continue the SMS survey, it is unclear whether it would be necessary or even desirable to incorporate more recent practice expense per hour data into the methodology on an annual basis. While the practice expense may increase or decrease over time, the important variable for the practice expense methodology is whether there is a relative change among specialties in practice expense per hour. Again, with exceptions for some specialties, there generally appears to be stability in the relative practice expense per hour among specialties in the SMS data we are using. Indeed, there generally was little redistribution in payment resulting from use of the latest SMS data. For 21 of the 35 specialties listed in Table 1 of the July 2000 proposed rule (65 FR 44203), the percent change in practice expense from using the latest SMS data was near zero. For nine of the remaining 14 specialties, the impact on payments was only 1 percent. For only five of 35 specialties listed was the impact on payments 2 percent or greater. Thus, if there is year to year stability in the relative practice expense per hour among specialties, it will likely make little difference whether we incorporate additional practice expense data into the methodology.

However, it is possible that there will be more significant changes in relative practice expense per hour over time among specialties. The statute requires that we make refinements in the practice expense RVUs at least every 5 years. While we expect to continue making refinements to the inputs for individual codes on an annual basis, it could be several years before we might require practice expense data from a multi-specialty survey after the initial refinement period ends in 2002. While we consider how to approach this issue, we welcome the comments that suggested that we seek input from the medical community in developing a mutually satisfactory and equitable approach to obtaining the needed information on practice expenses for future refinement efforts.

Comment: A society representing vascular surgeons commented that separately billable income should be deducted from practice expenses as part of the practice expense per hour calculations, because the inclusion of this income may account for the inexplicably wide range in the practice expense calculations among specialties.

Response: We agree that it is desirable to identify separately billable services. As explained elsewhere, this is an issue for future SMS revisions.

Comment: One commenter suggested that we move the SMS clinical labor expenses to the indirect expense category, as was done with the administrative labor cost. The commenter stated that with the inclusion of high administrative costs, the indirect costs will vary considerably among specialties and expressed their concern that the determination of the scaling factor is not an equitable means to distribute these indirect costs. The commenter encouraged us, along with our contractor, to examine this issue in detail.

Response: We are reviewing issues related to indirect expenses with our contractor.

Comment: A commenter stated that separately billable income of mid-level practitioners should be deducted from practice expenses as part of the practice expense per hour calculations. The commenter suggested that the total practice expense pools should be adjusted by the Medicare income received by physicians for the work of physician assistants and other mid-level practitioners. The commenter indicated that the pools can be adjusted easily for cardiac and thoracic surgery because the data on billing for these mid-level practitioners are easily available from our data files.

Response: We believe that the numerator of the practice expense per hour calculation should exclude any costs associated with mid-level practitioners and the denominator should include their patient care hours. Unfortunately, the data from the SMS do not permit the calculations to be performed in this way. We believe that this issue should be addressed in any multispecialty survey instrument that will be used in the future to collect practice expense data and determine practice expense RVUs. We disagree with the commenter that there is a feasible way of making an adjustment to the aggregate practice expense pools themselves to address this issue. While it is unclear from the comment about how such an adjustment would be made, it is possible that the commenter believed that we can use Medicare utilization data to determine the proportion of total allowed services for cardiac thoracic surgery procedures, where the specialty data indicates that the service is performed by a mid-level practitioner assisting at surgery; perhaps the commenter assumes that we would use this proportion to reduce the size of the aggregate cost pool. We believe that it is not possible to make an equitable adjustment in this way. First, the aggregate cost pools are constructed using a total practice per hour figure, and the proportional adjustment would reflect only Medicare data. Second, it is not clear to us how such a calculation would be made. An assumption would have to be made that where a mid-level practitioner is performing a given type of service, the work is being furnished for a given type of physician specialist. For instance, if a physician assistant is assisting at surgery for a heart procedure, we would have to assume that practitioner is working for a cardiac or thoracic surgeon. Even this simplified example presents a dilemma, because it would be unclear whether to adjust the pool of the cardiac or thoracic surgeon in this instance. We believe that, even if these assumptions could be made for some services, it would be difficult to make similar assumptions, for example, for evaluation and management services when the mid-level practitioner could be working for one of many different specialists. For these reasons, we are not making an adjustment to the practice expense pools at this time.

(iii) Direct Patient Care Hours

In our July 2000 proposed rule (65 FR 44184), we discussed the many concerns that have been raised from various specialty societies concerning our calculation of direct patient care hours. Several previous commenters representing surgical specialty societies have raised concern that the hours computed for their specialties have been overstated, because non-billable hours, such as stand-by time, have been included. In addition, commenters representing emergency room physicians raised the issue that the hours spent on uncompensated care were probably also included in the survey responses to the detriment of this specialty.

We then discussed the steps we were taking to improve the future accuracy of these data. We recommended more precise wording for future survey questions so that only the appropriate practitioner hours are included.

We also discussed the second draft report issued by our contractor, entitled “Validating Patient Care Hours Used in HCFA's Practice Expense Methodology.” This report, which is on our homepage under the title “Validating Patient Care Hours,” explores alternative methods that we might use to validate the time data collected by the SMS survey. We have extended The Lewin Group's contract so that, among other refinement tasks, the above validations can be performed. We also solicited comments and suggestions as to other steps we could take to verify and improve the accuracy of the specialty-specific patient care hours.

Comment: We received several comments, primarily from surgical specialty societies, reiterating the concerns about patient care hours discussed in the July 2000 proposed rule. In particular, commenters urged that we find a way to identify non-billable hours, such as down-time between surgeries, stand-by time, phone calls, “curbstone” consultations, and uncompensated care, so that these non-billable hours can be subtracted from the specialties' direct patient care hours. In addition, several commenters raised the concern that the SMS survey data on patient care hours varies considerably by specialty.

The comments also contained a number of recommendations. One commenter suggested that we could use a blend of the all-physician and the specialty-specific hours. A specialty society, citing concerns about the variability between the SMS and the Harvard/RUC time data, recommended that we collect information on the Medicare share of practice hours in the SMS to produce a check of the meaningfulness of the pool allocations. Another specialty society, claiming that the SMS data on patient care hours are sure to be imprecise, urged us to use a standardized number of hours in the practice expense calculation or to statistically limit the impact of this variable. While one commenter recommended that we use the average number of hours per week that physicians' offices are open to calculate the practice expense per hour, another commenter argued that the assumption of a 40-hour work week for all specialties would result in a significant distortion of practice expenses per hour.

Response: We do agree that the patient care hours data would be more precise if we could ensure that there is a standard definition understood across specialties, so that non-billable hours would not be included in the data. As discussed in the July 2000 proposed rule (65 FR 44185), we suggested adding a clarifying definition of hours to be included to any future multi-specialty practice expense surveys. In addition, we referred to the work our contractor is doing to validate the patient care hours; one of the tasks will be a comparison between the SMS hours data and the Harvard/RUC physician time data. Once this analysis is completed, it could form a basis for deciding whether any adjustment to the SMS data is either advisable or workable. As for the recommendations that we use either a standard time for all specialties or the actual time the physicians' offices are open, we believe these recommendations stem from the mistaken impression that a specialty that actually works longer billable hours is somehow disadvantaged by our methodology. First, we believe that some specialties do put in more billable hours per week than other specialties, and using a standard number of hours for all specialties would thus be inaccurate and inequitable. Second, while it can be argued, as some commenters claimed, that most practice expense costs are generally incurred during the hours the physician's office is open, we do not have a two-tiered system of payment in which we pay less for surgeries performed at 6:00 a.m. than we do for those performed during office hours on the grounds that the earlier procedure somehow incurs less practice expense. Rather, we average the payments across each service, regardless of the time it is performed. Likewise, the practice expense per hour calculation is an average of the costs per hour, in which some hours would have higher costs and some lower. In addition, the direct patient care that takes place outside of office hours should be reflected in increases in the utilization data for that specialty that, in turn, increases the practice expense cost pools for the same specialty.

Comment: One commenter urged that any uncompensated care adjustment be allowed only for emergency department services that are furnished by practices in areas that have a disproportionate share of uncompensated care.

Response: If we were to propose any further adjustments for uncompensated care, we would publish them in a proposed rule, subject to comment by all interested parties.

Comment: A specialty society expressed concern that, because podiatrists are not surveyed by SMS, any validation of patient care hours performed by our contractor would not apply to podiatry. This commenter also stated that the specialty society has shared with us two of the society's own surveys containing patient care hour data, and requested that we either validate and use this data or take responsibility for collecting this data.

Response: We understand the points that are made by this commenter and will consider this further if we make adjustments to the patient care hours. In addition, now that a process and criteria have been spelled out for the submission of supplementary practice expense data, the specialty society can also submit additional survey data that should include information on podiatrists' patient care hours.

(c) CPEP Data

(i) Relative Value Update Committee's Practice Expense Advisory Committee (PEAC)

1999 RUC Recommendations on CPEP Inputs

The PEAC, a subcommittee of the RUC, held its initial meetings last year to begin to refine the clinical staff, supply and equipment inputs for physician fee schedule services. In the November 1999 final rule (64 FR 59394), we responded to the RUC recommendations for the refinement of the direct inputs for 65 codes originally reviewed by the PEAC and subsequently approved by the RUC and noted that our actions on all of the recommended inputs were subject to comment. We received the following comments on our revisions to the RUC recommendations:

Comment: One specialty society questioned the removal of lysol, tissues, and biohazard bags from the supply list for all codes, since these items represent costs that physicians must pay. Additionally, one organization objected to our removal of self-administered drugs from all codes, and another society, as well as the RUC, objected to the removal of betadine from the supplies recommended for the post-procedure period.

Response: We believe that the removal of such items as tissues, lysol, and biohazard bags will help simplify the refinement of the CPEP supply data without having a noticeable impact on the payment for any service. We removed the costs of these minor supplies from the overall CPEP supply list either because of the difficulty in measuring their use or because the supplies were not fully used up during a single procedure. Throughout the supply data, the quantities for biohazard bags and tissues were reported incorrectly; for example, codes were assigned 5 boxes of tissues or 250 tissues when the intention was to assign 5 single tissues at a cost of 5 cents. The PEAC/RUC has since extended this simplification by eliminating paper towels and room disinfectant from their recent recommendations. We proposed to eliminate the very few self-administered drugs on our supply list from the CPEP data because we believe that it is reasonable to exclude non-covered items in the allocation of the specialty-specific cost pools. With respect to betadine, we note that it is included in the recommendations for the post-surgical supply package that we have accepted in this rule, which can be used by any surgical specialty for its codes. Therefore, we will not be adding back any of these individual supplies at this time.

CPT Code 17003, Destruction by Any Method, Second Through 14 Lesions

CPT Code 17004, Destruction by Any Method, 15 or More Lesions

Comment: One organization commented that we should have corrected the obvious and egregious anomaly in these codes whereby the payment for destruction of 14 lesions is considerably higher than the payment for 15 lesions.

Response: We agree that the values for these two codes appear anomalous. However, we do not assign practice expense RVUs to services. Rather, these RVUs are allocated based on the inputs that are associated with each service. Both of the above codes, along with CPT Code 17001, Destruction by any method, first lesion, were presented by the dermatology specialty societies to the PEAC, but we received recommendations only on the supplies for these services. We accepted these recommendations in general, but deleted many specific supplies from CPT Code 17003 because it is an add-on code. We have re-examined the current CPEP inputs for CPT Code 17001, 17003, and 17004, and believe that the inputs for labor and equipment appear to be appropriate. The source of the anomaly seems to be in the supply inputs for these services. To ensure that the appropriate revisions are made to the supply lists, we need specific recommendations from the RUC or the relevant specialty societies.

CPT Code 17304 Through 17310, Chemo Surgery (Mohs' Micrographic Technique) [First and Subsequent Stages]

Comment: A commenter representing Mohs surgeons, while acknowledging the revisions made in the final rule to the lists of supplies, indicated that we erroneously omitted some supplies from the updated list. The commenter provided information on the supplies omitted, as well as the rationale for why these supplies need to be included.

Response: We appreciate the detailed explanation regarding the use of these supplies. After review, we note that, with few exceptions, all the supplies the commenter claimed were omitted are in fact already included in our CPEP database as originally recommended. We explained in the November 1999 final rule that we were deleting Valium, which is separately billable, and Tylenol, which is self-administrable from all codes; therefore, these drugs will not be included for any of these services. In addition, we are not convinced that it is typical to suture the wound after each stage of surgery, and the commenter stated that the wound is not closed until it is determined that no further procedures are necessary. Therefore, we believe that only one set of sutures and suture kit are typically needed, which we are including in the supplies only for CPT code 17304. We also note that the tincture benzoin swab requested by the commenter was not included in the original RUC recommendation, though we are adding it at this time.

CPT Code 56340, Laparoscopy, Surgical; Cholecystectomy (Any Method)

Comment: A specialty society representing surgeons and the RUC objected to the decreases we made to the PEAC/RUC recommendations for the pre- and post-service times for this CPT code. They indicated that there were extensive discussions about this code at the PEAC/RUC meeting, and that adequate information was provided to support this change for pre-service time. The commenters also objected to our elimination of the time for the second registered nurse in the post-service period and requested that we provide the basis for determining that this is not typical practice.

Response: There was insufficient rationale for the PEAC recommendations transmitted to us. Moreover, the PEAC is currently working on establishing a standardized methodology for refining the pre- and post-procedure clinical staff times. This code, like all other surgical codes involving pre- and post-procedure staff time will undergo further refinement. We are not changing the clinical staff times now, but will review them upon receipt of the PEAC recommendations for pre- and post-procedure time for surgical procedures in general.

CPT Ophthalmology Codes 65855, 66170, 66172, 66821, 66984, 67036, 67038, 67039, and 67040

Comment: Three specialty societies representing ophthalmologists and the RUC expressed concern that we did not accept the RUC recommendation to increase the pre-service period to 42 minutes for the above CPT codes, but rather deleted all pre-service clinical staff time. The commenters also noted that the statement in the November 1998 final rule that we were retaining the original CPEP value of zero minutes was in error for CPT codes 66170, 66172, 66984, 67036, 67038, 67039, and 67040 because the CPEP panel had assigned 24 minutes of clinical staff pre-service times to these codes. Commenters requested that we accept RUC recommendations for 42 minutes of clinical staff time in the pre-service period for all these codes because facility-based surgical procedures require significant pre-service clinical staff work.

Response: We thank the commenters for pointing out our inadvertent error regarding the pre-service time in the original CPEP data for seven of the above ophthalmology codes. Although we are not convinced that each of the codes would have as much as 42 minutes of pre-service clinical staff time, we will use this as an interim value for pre-service time. We understand that the PEAC and RUC are planning to develop standardized approaches to assign the pre- and post-surgical clinical staff times, as well as coordination of care times, across wide ranges of codes for the different global periods. These pre-service times can then be revisited in light of future recommendations.

Comment: Several ophthalmic societies opposed our decision to decrease the post-service clinical staff time approved by the PEAC/RUC for ophthalmic surgical procedures. The commenter representing three ophthalmic sub-specialties also stated that we did not consider the consensus agreement to replace the Ophthalmic Medical Personnel (OMP) staff type with the Certified Ophthalmic Technician (COMT) staff type for ophthalmic procedures. Another specialty society believed we should have collapsed the two staff types into the OMP staff type, because this was agreed upon at the 1997 validation panels.

Response: At the time that the November 1999 final rule was developed, we had received a comment from the specialty society that had presented these codes to the PEAC. This comment described the building-block approach that was used to arrive at the post-service clinical times. Unfortunately, there was a miscommunication regarding the specific building blocks that were used to arrive at the total times, and our total times were different from those of the RUC. We have since received a clarification from the specialty society, and we are restoring the clinical post-service times to their recommended values.

There appears not be a consensus among the ophthalmic specialty societies regarding which staff type to use for ophthalmology codes. In addition, we have not used any of the decisions from the 1997 validation panels in refining the practice expense inputs, but have accepted the RUC recommendations for the use of the OMP staff types for the codes that have been refined to date. We have not received from the RUC any recommendation regarding a global change in the staff type for ophthalmology services, but would certainly consider any future recommendation from the RUC on this issue.

CPT Code 85060 Blood Smear, Peripheral, Interpretation by Physician With Written Report and CPT Code 85097 Bone Marrow; Smear Interpretation Only, With or Without Differential Cell Count

In the November 1999 rule (64 FR 59397), we stated that these were professional services and, if any practice expenses were incurred, they could be reported using other applicable codes. Therefore, we removed all practice expense inputs for these two codes.

Comment: Two specialty societies and the RUC requested that we use the recommendations of the RUC to establish a TC for CPT Code 85060, even though we would not use the RVUs for payment purposes, because other payers are increasingly using our RVUs to establish fees. The commenters also stated that the interpretation of blood smears can require additional slides and services. Commenters did not agree that the activity associated with the technical portion of CPT Code 85097 is included in payment for other services when this service is performed outside a hospital, as is increasingly occurring. They indicated that creation of a TC component for CPT Code 85097, using the RUC recommendations, would allow the laboratory that receives the specimen to bill for the technical costs in preparing the slide for examination by the physician, and recommended this TC component be paid under the physician fee schedule.

Response: We do not want, at this time, to create a TC for a code that we do not cover, such as CPT Code 85060. However, as mentioned elsewhere in this final rule, we are further considering the issue of valuing non-covered services. We will publish practice expense RVUs for CPT Code 85097, so that it can be paid when furnished in a nonfacility setting. We will use the RUC recommended inputs to calculate the practice expense RVUs.

CPT 88104 Cytopathology, Fluids, Washings or Brushings, Except Cervical or Vaginal; Smears With Interpretation

Comment: Several commenters pointed out that, while we accepted the RUC recommendation that included filter paper in the list of supplies for this code, this was not reflected in the CPEP database.

Response: This item was omitted inadvertently from the CPEP database and will now be included.

In the November 1999 final rule, we deferred action on the RUC recommendations for a few groups of CPT codes on which we had significant questions. In the July 2000 proposed rule (65 FR 44185), we proposed to accept two groups of CPT codes of the RUC recommendations with the revisions noted below, while the RUC recommendation discussed below for the antigen service has not been previously addressed.

Prostate Procedures

CPT 52647 Non-Contact Laser Coagulation of Prostate, Including Control of Postoperative Bleeding, Complete (Vasectomy, Meatotomy, Cystourethroscopy, Urethral Calibration and/or Dilation, and Internal Urethrotomy Are Included)

CPT 53850 Transurethral Destruction of Prostate Tissue; by Microwave Thermotherapy

CPT 53852 Transurethral Destruction of Prostate Tissue; by Radiofrequency Thermotherapy

We discussed the inputs for these codes at length with the relevant specialty society, and arrived at a consensus on the staff, supplies, and equipment that were needed for these services.

Comment: The American Urological Association (AUA) applauded us for our proposal to accept the RUC recommendations for the three heat therapy prostate procedures and agreed that all inputs are now included in the CPEP data for these services. One manufacturer recommended that we adopt our proposal for CPT code 53850 in this final rule. Three individual urologists and a manufacturer commented that we should add equipment, such as an autoclave, rigid cystoscope, video system or ultrasound equipment to the equipment inputs for CPT Code 53852. The manufacturer also stated the prices in the CPEP database for the generator system and the hand piece are now outdated, and included the suggested current prices. Two of these commenters also included a list of supplies, most of which are already in the CPEP inputs for this code.

Response: Because our proposal is based on a recommendation from the RUC, and the AUA has stated that it believes the current inputs for this code are correct, we will not add the suggested equipment or supplies at this time, nor change the prices for any of the equipment. However, we have awarded a contract to have all of our direct cost inputs re-priced and any information that is sent to us on current pricing will be forwarded to our contractor.

Chemotherapy Procedures

CPT 96408 Chemotherapy Administration, Intravenous; Push Technique

CPT 96410 Chemotherapy Administration, Intravenous; Infusion Technique, Up to One Hour

The RUC had recommended 102 minutes of clinical staff time for CPT code 96408 and 121 minutes for CPT code 96410. After the publication of the November 1999 final rule we met with representatives of the American Society of Clinical Oncology (ASCO) and discussed the society's breakdown by specific tasks of the above staff times. Included in this breakdown were 20 minutes for pre- and post-procedure education and 15 minutes for three phone calls after each visit.

Because we believed that the times for patient education and phone calls should be averaged over the whole course of chemotherapy treatment, and because there appeared to be some duplication in the pre- and post-procedure education tasks, we reduced both the patient education and phone call times by 5 minutes. Therefore, we proposed 92 minutes of clinical staff time for CPT code 96408 and 111 minutes for CPT code 96410.

Comment: ASCO objected to the 10-minute reduction of the clinical staff time for CPT 96408 and 96410. The commenter argued that the original RUC recommendation was reasonable and appropriate for both services and should be adopted. The comment also objected to our revision of a RUC recommendation unless we have a concrete reason to do so.

Response: Upon reviewing the times the RUC has since recommended for patient education and post-visit phone calls for comparable services, we are adding the 5 minutes we had removed from both patient education and phone calls in the proposed rule. We will now use the RUC-recommended total times of 102 minutes of clinical staff time for CPT code 96408 and 121 minutes for CPT code 96410. We believe that the total time is consistent with subsequent recommendations that we are accepting, though as the PEAC and RUC continue to develop standardized times for clinical staff functions, all previously valued codes are subject to possible review.

CPT 95165 Allergen Immunotherapy

The RUC did not forward any recommendations on the specific inputs required to perform the above service. However, we did receive a recommendation about the interpretation of the meaning of a dose for purposes of calculating the practice expense RVUs for this service. Because we did not believe the recommendation resolved the ambiguity and confusion in the medical community surrounding this issue, we did not accept this recommendation in the July proposed rule. Since that time, we have received clarifying comments from relevant specialties on both the definition of dose and the practice expense inputs to use for this code.

The practice expense inputs have been analyzed and adjusted so that they now correspond to the practice expense of preparing a one cc dose from a ten cc (ten dose) vial. The practice expense inputs for CPT code 95165 are based on an assumption that ten doses are typically included in each vial. Payment will be based on a maximum of ten doses per multidose vial. The practice expense RVUs for preparing a ten dose vial will remain the same, even if twenty doses are obtained from the vial (for example, if the physician administers 0.5cc doses, instead of one cc doses). Therefore, Medicare should be billed for a maximum of ten doses per vial, even if more than ten doses are obtained from the vial. Furthermore, when a physician dilutes a multidose vial (for example, by taking a one cc aliquot from a multidose vial and mixing it with nine cc's of diluent in a new multidose vial), Medicare should not be billed an additional amount for these diluted doses for CPT 95165. The additional clinical staff and supply costs for preparing such a diluted vial are minimal, because allergens represent over 80% of the direct costs of preparing a multidose vial. In a diluted vial there are no associated allergen costs, since they have already been billed in preparation of the initial vial. Therefore, we expect a maximum of ten doses to be billed for each multidose vial. If fewer doses are prepared from this vial, a dose number less than ten per vial should be billed.

The practice expense inputs per one cc dose are as follows:

Clinical Staff: 2.2 minutes

Supplies: Allergen $6.05

0.5 needles and syringes

0.1 vial and cap

one alcohol pad

1 pair of nonsterile gloves

If multiplied by ten, the inputs correspond to the total practice expense of a ten cc vial from which ten doses of one cc each are administered. Commenters recommended that a typical ten cc multidose vial contains five antigens and no diluent and that the total number of needles and syringes for the ten cc vial is five. The cost data for allergens was obtained from catalogue information and is based on the typical practice of using standardized extracts when available.

In view of the clarification we have made regarding practice expense inputs, we will revise Section 15050(B)(7) of the Medicare Carriers Manual. In May 1998, we changed the language of that section, in part, to clarify our payment policy for antigen preparation. At that time we stated, “A dose of code 95165 is the total amount of antigen to be administered to a patient during one treatment session, whether mixed or in separate visits.” Two examples of antigen preparation and administration follow immediately after this language.

We will revise this section of the carrier manual to define a dose as a one cc aliqout from a single multidose vial. With this clarification physicians will be able to bill Medicare for each dose prepared in each multidose vial. We plan to issue new instructions to the carriers and update the carrier manual to ensure that appropriate payment is made as of January 1, 2001.

2000 RUC Recommendations on CPEP Inputs

We believe that the recommendations received this year from the PEAC/RUC for the refinement of the CPEP inputs for existing codes mark a positive step in the CPEP refinement process. We received recommendations for clinical staff, supply and equipment inputs for 49 CPT codes, and for the supply and equipment inputs for four additional services. But the significance of the recommendations goes beyond the number of codes that were refined. First, included in these recommendations were the refinements for the 15 major evaluation and management (E/M) codes. These 15 codes represent over 25% of the payments made under the physician fee schedule. This was a breakthrough not only because the clinical staff times for these codes had previously been a point of major contention, but also because agreement on the inputs for E/M services may make it easier in the future to refine the post-surgical visits for thousands of services. Second, the PEAC/RUC approved supply packages for three specialties: obstetrics-gynecology, ophthalmology and neurosurgery; as a result, the supply inputs for hundreds of codes are now refined. We also understand that the PEAC will be developing further supply packages and is also setting up workgroups to determine approaches to standardizing pre- and post-procedure clinical staff times.

We have reviewed the submitted RUC recommendations and have accepted all of them with only two minor revisions. In order to be consistent with a revision made previously in the November 1999 final rule, we have deleted the skin marking pen when it appears in a recommended supply list because it is not practical to allocate its use to individual procedures. In addition, for the ophthalmology codes that were refined before the supply packages were adopted, we have substituted the ophthalmology visit supply package as appropriate. If future decisions are made on standard clinical staff times, all of these refined codes can be revisited to determine whether any further refinements would be appropriate.

Following is a list of the CPT codes that were included in the PEAC/RUC recommendations: (The complete PEAC/RUC recommendations and the revised CPEP database can be found on our website. See the Supplementary Information section of this rule for directions on accessing our web site.)

CPT 57452 Examination of vagina

CPT 57454 Vagina examination and biopsy

CPT 57500 Biopsy of cervix.

CPT 59000 Amniocentesis

CPT 62270 Spinal fluid tap, diagnostic

CPT 65730 Corneal transplant

CPT 67311 Revise eye muscle

CPT 67800 Remove eyelid lesion

CPT 67961 Revision of eyelid

CPT 90471 Immunization admin*

CPT 90472 Immunization admin, each add*

CPT 90782 Injection, sc/im

CPT 92270 Electro-oculography

CPT 92275 Electroretinography

CPT 92582 Conditioning play audiometry

CPT 94621 Pulm stress test/complex

CPT 95812 Electroencephalogram (EEG)

CPT 95822 Sleep electroencephalogram

CPT 95829 Surgery electrocorticogram

CPT 95830 Insert electrodes for EEG

CPT 95861 Muscle test, two limbs

CPT 95863 Muscle test, 3 limbs

CPT 95864 Muscle test, 4 limbs

CPT 95867 Muscle test, head or neck

CPT 95868 Muscle test, head or neck

CPT 95870 Muscle test nonparaspinal

CPT 95903 Motor nerve conduction test

CPT 95925 Somatosensory testing

CPT 95926 Somatosensory testing

CPT 95930 Visual evoked potential test

CPT 99141 Sedation, iv/im or inhalant

CPT 99142 Sedation, oral/rectal/nasal

CPT 99201 Office/outpatient visit, new

CPT 99202 Office/outpatient visit, new

CPT 99203 Office/outpatient visit, new

CPT 99204 Office/outpatient visit, new

CPT 99205 Office/outpatient visit, new

CPT 99211 Office/outpatient visit, est

CPT 99212 Office/outpatient visit, est

CPT 99213 Office/outpatient visit, est

CPT 99214 Office/outpatient visit, est

CPT 99215 Office/outpatient visit, est

CPT 99241 Office consultation

CPT 99242 Office consultation

CPT 99243 Office consultation

CPT 99244 Office consultation

CPT 99245 Office consultation

CPT 95813 Electroencephalogram (EEG)

CPT 95816 Electroencephalogram (EEG)

CPT 94060 Evaluation of wheezing

CPT 95921 Autonomic nerv function test

CPT 95922 Autonomic nerv function test

CPT 95923 Autonomic nerv function test

*Note: These are noncovered under the Medicare physician fee schedule.

Other Comments on Refinement of CPEP Inputs

Comment: One commenter asked that we clarify whether we plan to implement the RUC CPEP recommendations on a rolling basis, or whether all changes will be made at once.

Response: Unless we announce a change in approach, we plan to deal with the RUC's recommendations on a rolling basis as we receive them.

Comment: A commenter representing three ophthalmology sub-specialty societies expressed disappointment in our belief that it is preferable to have a multi-specialty agreement on changing the CPEP data, rather than accepting the recommendations of a single group. The commenter argued that there is little or no added value from such multi-specialty review when the impact of the changes is limited to a single specialty and when members of other specialties have no additional clinical knowledge.

Response: We strongly disagree with this comment. We have found that the input and recommendations of the RUC play a crucial role in the practice expense refinement. Also, because there are many codes that are shared across a number of specialties, changes in payment for even a specialty-specific service can affect the payment of the shared services that the specialty performs. Therefore, we believe that it is fair and equitable to have a multi-specialty consensus on these changes. In addition, we have found, in our role as observers at RUC meetings, that RUC members, of whatever specialty, ask pertinent questions and make clinically relevant observations.

Comment: A specialty society representing many medical specialties recommended that we should use panels, corresponding to the refinement panels we use for work, to make recommendations on code-level refinements that are submitted to us.

Response: We certainly do not rule out the use of such refinement panels for code-level practice expense recommendations when and if such panels would be necessary and useful. We have used these panels for work RVU refinement in those cases when we have not accepted the RUC recommendations on a number of codes and subsequently have received comments disagreeing with our actions. Because we have made so few revisions in this current final rule to the PEAC/RUC recommendations for practice expense inputs, there may be no need for practice expense panels next year, although we will consider this issue.

(ii) Clinical Staff Time

In the November 1999 final rule (64 FR 59399), we removed estimates of all clinical staff time allotted to the use of clinical staff in the facility setting from the CPEP data. Commenters have since noted that the clinical staff times reported by some CPEP panels for pre-and post-service times for 0-day global services performed in the office were recorded in the intra-service field in the CPEP database. These times were, therefore, deleted along with the times for the use of clinical staff in the facility setting.

In the July 2000 proposed rule (65 FR 44186), we stated that these data are not comparable to the data we excluded for clinical staff used in the facility setting. We reviewed the “CPEP Recorders' Notes Files” compiled for each CPEP panel by Abt Associates, Inc., the contractor managing the CPEP panels. When the notes indicated that clinical staff estimates were for activities performed in physicians' offices, we proposed to reinstate the time data for 0-day global services.

Comment: Many medical societies representing specialists such as gastroenterologists, internists, rheumatologists, cardiologists, osteopaths and podiatrists, as well as the AMA, expressed strong support for this proposal to reinstate the pre- and post-procedure clinical staff time in the office for 0-day global services. One reason given in the comments for this support is that this time for staff in the office is not comparable to the data excluded for clinical staff used in the facility setting.

Response: We are pleased that all commenters supported this proposal, and we are implementing this refinement in this rule.

Comment: An organization representing cardiologists stated, in a comment on the November 1999 final rule, that we should enlist the assistance of medical specialties to identify codes for which clinical staff are used in the physician's office during the intra-service period for facility services. In a comment on the current proposed rule, this society agreed with our proposal to add some pre- and post-service clinical staff time to 0-day global services and listed several 0-day cardiology services for which it recommended the addition of clinical staff time.

Response: In this proposal, we added only clinical staff time in the facility setting for those 0-day services when the CPEP recorder notes specified that the time was for pre- and post-service time for staff in the office. We believe that this is appropriate because these CPEP data are as valid as all other non-refined CPEP data. We also believe that changes to the CPEP data for this pre- and post-service clinical staff time should go through the same refinement process as other desired changes and that any group recommending the addition of such time should present this issue to the PEAC/RUC for refinement. We also understand that the issue of “coordination of care” clinical staff time is one that the PEAC may address across the board at some future meeting. In addition, from the description of the staff duties for the codes listed by the commenter, it is not clear that this staff is in the office, rather than in the facility performing facility nursing functions. Therefore, we will not be making these changes at this time.

Comment: An emergency physician organization recommended that we not limit this proposal to 0-day global period services and submitted the CPEP recorders' notes for emergency room visits, CPT codes 99281 through 99285. The notes indicate that the CPEP panel added 3 minutes of pre-service time and 4 minutes of post-service time for office staff involved in admissions to the emergency room. The commenter recommended that this time be reinstated for these emergency room visit codes.

Response: These emergency room visits have an XXX global period. By the current definition, XXX services do not include pre- and post-service times. Before implementing this specific recommendation, we hope to receive input from the RUC/PEAC on the general issue of appropriate pre- and post-staff times for the different global periods, in order to ensure consistency in our approach to this issue.

In the November 1999 final rule (64 FR 59399) we finalized our decision to remove from the CPEP data all clinical staff times associated with physician's staff used in the facility setting. We implemented this policy for the following reasons—(1) We should not pay twice for the same service; (2) It is not typical practice for most specialty societies to use their own staff in the facility setting; and (3) Inclusion of these costs is arguably inconsistent with both the statute and Medicare regulations. In response to the November 1999 final rule, we received many comments on this final decision, which, for the most part, reiterated comments that had been made on the original proposal.

Comment: Although several primary care groups expressed support for this decision, most of the commenters objected to the exclusion of this clinical staff CPEP data. Many of these organizations urged us to postpone the implementation of this policy and to collect additional information before making a decision on how to treat these costs. However, taking the opposite approach, a primary care organization stated that the clinical staff time should be removed for services furnished in the facility until the PEAC/RUC can determine that the time for these services is typical and not duplicative of physician work. Several commenters again raised the argument that the BBA prohibits us from excluding these clinical staff costs because the BBA requires us to recognize all costs, not just those that can be tied to specific procedures. Many organizations reiterated the claim that the practice of taking staff to the hospital is either typical or prevalent in their specialties. However, only the specialty society representing thoracic surgeons submitted any additional information to support this claim. The STS surveyed their members in July 2000,and reported that 74 percent of the respondents said they employ clinical staff who assist in the hospital, though more than half report that they receive Medicare payment for some of these personnel. Commenters made the following recommendations:

Several organizations contended that hospitals no longer supply the staff to furnish adequate care. In relation to this point, two commenters recommended that the issue of cost shifts between hospitals and other providers is one that we should not ignore, and, if there is any double payment, Part A payment to the affected hospitals should be adjusted.

Another specialty society recommended that we establish a modifier to allow for documentation of and payment for non-physician clinical staff who furnish services in a facility setting. This modifier would indicate whether there is a physician practice expense or a hospital practice expense that has been transferred to the physician practice, to ascertain whether payment should come from Medicare Part A or Part B.

One organization recommended that the SMS data be adjusted by the income received for the work of physician assistants.

Response: We have considered all the comments that we have received on this issue, both on the July 22, 1999 proposed rule and the November 1999 final rule. Though many of the commenters raised interesting points, there were neither new arguments nor evidence presented that would cause us to delay or abandon this policy. While we particularly appreciate the effort undertaken by the thoracic surgeons to develop data on the prevalence of their use of clinical staff in the hospital, the survey addresses only the question of typicality. As stated above, there are two other reasons why we eliminated this clinical staff time. First, we believe that we already pay the facility for the clinical staff needed for patient care. Much of what is claimed as physician's clinical staff time in the facility is either separately billable (as illustrated by the survey submitted by the commenter) or is accounted for in the work RVUs. Furthermore, by law, the hospital itself must furnish all services and items to a hospital patient, either directly or under arrangement. (For a more detailed description of our rationale for this policy, see the November 1999 final rule (64 FR 59402).)

As to the recommendations made by the commenters, we agree that it would be desirable to remove costs associated with these mid-level practitioners from the SMS data as well. This would answer the concern raised by another commenter that removing the clinical staff from the CPEP data introduces further inconsistency with the SMS data. It is for that reason that we had recommended to the AMA that several specific questions be added to the SMS survey to capture the needed information on this clinical staff issue, and we anticipate that we will, in the future, be able to obtain such data.

Although we would be interested in receiving data on the cost shifts between hospitals and other providers, we believe that the suggested use of a modifier for this purpose would be extremely difficult to implement and also burdensome for the practitioner. First, however, we must clarify that, even if the practice of bringing physician staff to the hospital pre-dates the advent of the hospital prospective payment system, any costs associated with such a practice were explicitly included in the hospital Diagnosis Related Group (DRG) payments in the September 1, 1983 interim final rule with comment and in the January 4, 1984 final rule. These rules reference section 1862(a)(14) of the Act, and the discussion makes clear that, with certain limited exceptions, all nonphysician services furnished to hospital inpatients are to be paid under Part A. The exception provided that, for any cost reporting period beginning before October 1, 1986, a hospital that has followed a practice, since before October 1, 1982, of allowing direct billing under Part B to an extent that immediate compliance with the bundling requirements would threaten the stability of patient care, could continue to bill under Part B. There is no indication that the waiver was extended. In response to a comment, we stated the following: “In order for a payment system that is based on a national average rate for a particular diagnosis to succeed, it is vital that the services and supplies included in the payment be essentially the same in every hospital. If the statute had not included the rebundling provision, it would have been possible for hospitals to collect the full prospective payment rate for inpatient services and, at the same time, reduce their costs by having outside providers and suppliers furnish many of the necessary services and bill Part B.” Furthermore, these rules state that, to calculate the PPS standardized amounts, base year costs were adjusted “to include the costs of services that were billed under Part B of the program by another provider or supplier during the base period but will be billed under Part A as inpatient hospital services effective October 1, 1983.”

We do agree that it would be helpful to determine whether hospitals are still providing the staffing that is assumed in their DRG payments. To this end, we have requested that the Office of Inspector General conduct an independent assessment of staffing arrangements between hospitals and thoracic surgeons.

(iii) Supplies

In the November 1999 final rule, we deleted certain casting supplies from the CPEP data for the casting and strapping CPT codes 29000 through 29750. In the July 2000 proposed rule, we identified additional CPT codes for the treatment of fractures/dislocations and additional casting and splinting supplies that are separately billable under section 1861(s)(5) of the Act. Therefore, we proposed the removal of inputs for fiberglass roll, cast padding, cast shoe, stockingnet/stockinette, plaster bandage, Denver splint, dome paste bandage, cast sole, elastoplast roll, fiberglass splint, Ace wrap, Kerlix, Webril, malleable archbars, and elastics from the following CPT codes: 23500 through 23680; 24500 through 24685; 25500 through 25695; 26600 through 26785; 27500 through 27566; 27750 through 27848; 28400 through 28675, and 29000 through 29750.

Comment: Several specialty societies, representing orthopedic surgeons, podiatrists, and occupational therapists supported our proposal to delete casting supplies from the CPEP inputs for all applicable fracture management and cast/strapping application procedure codes for which these supplies are separately billable. The orthopedic surgery specialty society comment also included a list of non-fracture/dislocation codes for which it recommended deleting casting supplies and another list of non-fracture codes from which the supplies should be deleted if they are separately billable for these services and left in the CPEP data if they are not. This commenter also stated that the soft goods, such as stockinette, that we propose to delete do not currently have a HCPCS code, and requested that these supplies remain on the CPEP list until a separate code is established.

Response: We appreciate the support expressed for our proposal. Consistent with the statute that limits separate payment for casting supplies only to the treatment of fractures and dislocations, we are not deleting these supplies from either of the two lists of additional codes supplied in the above comment. Also, we will delete soft goods, such as stockinette, from the CPEP data for the appropriate codes, because these are casting supplies that may be separately billed. We will, however, also request that HCPCS codes be developed for these items. Therefore, we will implement the policy as proposed.

Comment: A commenter representing dermatologists sought clarification on whether the unna boot would be separately billable. The commenter stated that the unna boot is not in the list of supplies to be deleted from the CPEP data, but CPT code 29580, Application of paste boot, falls within the range of codes listed under this proposal.

Response: We are not deleting the unna boot from CPT code 29580, because this code can be appropriately used for cases other than fractures, and in those cases the supply is not separately billable.

Comment: One supplier of casting supplies agreed with our proposal to delete these casting supplies from the CPEP data, but suggested that we include their product, Procel cast liner, on this list as well, to clarify that it is separately billable.

Response: The purpose of the proposal was not to list all the casting supplies that could be separately billable, but rather to delete from our CPEP input database any casting supplies that are currently listed. Because the Procel cast liner is not currently in our database, it does not need to be deleted.

(iv) Equipment

We currently use the original CPEP definitions for equipment that distinguish between “procedure specific” equipment and “overhead” equipment. Under the “top-down” methodology, the CPEP inputs are used only as allocators of the specialty-specific practice expense pools, and we believe the distinction between types of equipment has served to hinder the process of refining the CPEP inputs while not leading to a substantive distinction in how we value services. Therefore, we proposed to combine both categories of equipment into a single “equipment” category, assuming an average 50 percent utilization for all equipment.

We also proposed to delete from the CPEP data equipment that is not used typically with any service, but is on “standby” for many services, or that is used for multiple services at the same time. The following is the list of equipment that we proposed to delete from the CPEP inputs of all services: autoclave, wheelchair, refrigerator, film file cabinet, hazard material spill kit, embryo freezer, water system, flammable reagent cabinet, utility freezer, ultra low temperature freezer, acid cabinet, bulk storage refrigerator, abortion clinic security system, abortion clinic security guard, gomco suction machine, doppler, laser printer, lead shielding, defibrillator with cardiac monitor, blood pressure/pulse oximetry monitor, blood pressure monitor, printer, crash cart—no defibrillator, and smoke evacuator.

The following is a list of equipment that we proposed to delete as “standby” equipment for most codes, but that we believed typically may be used with a designated subset of procedures:

X-ray view box—four panels (retain when currently in the CPEP data for codes in the range CPT codes 70010 through 79999).

ECG machine—3 channel (retain when currently in the CPEP data for CPT codes 93000 through 93221).

Pulse oximeter (retain when currently in the CPEP data for CPT codes 94620, 94621, 94680, 94681 and 94690; 94760 through 94770, 95807 through 95811 and 95819).

ECG/blood pressure monitor—3 channel (retain when currently in the CPEP data for CPT codes 43200 through 43202 and 43234 through 43239).

Cardiac monitor (retain when currently in the CPEP data for CPT codes 31615 through 31628).

ECG-Burdick (except for HCPCS code G0166).

Comment: All the specialty societies that commented on these proposals were supportive of what one commenter characterized as “HCFA's efforts to streamline the treatment of medical equipment” and agreed that the changes will facilitate the refinement process. One of these commenters stated that a standardized utilization rate overstates the use of some equipment and understates it for others and recommended that we continue to seek reliable data on this issue. Another commenter recommended that we need to provide clear and specific criteria for including medical equipment in the direct practice expense inputs, and gave three possible options—(1) equipment used primarily for a specific procedure or group of procedures; (2) all equipment used for a specific procedure; or (3) all equipment that typically must be available when a specific procedure is performed.

Response: We agree that clear criteria are needed for including equipment in the inputs for a given procedure. The major criterion used for clinical staff time and supplies is that the suggested input must be typically used in the performance of a service to be included as a direct practice expense. We believe that the same criterion should be applied to equipment. This criterion can be applied more clearly than the other options mentioned by the commenters, and, thus, should result in more consistent assignment of equipment across all services. Regarding utilization rates, we did solicit information on specific equipment utilization rates in the 1997 Notice of Intent to Regulate, but very little hard data were submitted. For most specialties, equipment costs are a very small portion of total practice expense, averaging less than 5 percent of the total practice expense per hour for the “all physicians” category. In addition, for most equipment, a change in the utilization rate would produce a negligible difference in the practice expense RVUs for any service. Therefore, with perhaps a few specific exceptions, and because of the apparent difficulty in obtaining reliable objective data, we expect that this issue will not be a high priority issue during the refinement process.

Comment: One specialty society agreed that it is appropriate to capture as indirect expense the costs of the equipment that we have proposed to delete. The specialty society expressed concern that the SMS survey would not include most of this equipment as indirect expense, disadvantaging certain specialties who have relatively higher costs for indirect or stand-by equipment. Other commenters questioned how the costs of stand-by and multiple-use equipment can be reflected if the equipment is not included in the calculation of practice expense. One society stressed that, because of the high costs of radiology equipment, it is critical that overhead costs are accounted for.

Response: The commenter raised a valid point about the relationship between the deleted “indirect” equipment and the SMS cost pools. The costs for this deleted equipment are included in the SMS cost pools for each specialty. However, we believe this proposal simplifies the refinement of equipment without introducing new problems. First, it is not clear whether much of this equipment, such as laser printers, lead shielding, refrigerators and freezers, cabinets, water systems, security systems, smoke evacuators and hazard material spill kits, would have been included as medical equipment or as indirect costs in the SMS survey. Second, stand-by equipment, such as crash carts, wheelchairs and ECG machines, would often be available for more than one procedure at a time. Allocating costs of these items for every service for which they are available, rather than for services for which they are typically used, can mean that we are allocating more than their actual costs and thus overstating their value. Third, the inclusion of the costs of equipment that is not typically used in a service means that we have different criteria for equipment than we do for other direct inputs. Fourth, most of this equipment is relatively low cost, which is one reason the impacts of this proposal are not significant. We also want to clarify that combining all equipment into one category does not eliminate from the practice expense calculations any of the overhead equipment, such as the most expensive radiology equipment, that is typically used for a given service.

Comment: Societies representing various imaging specialties requested clarification on the doppler that was included in the list of potentially deleted items, because, if this is an image-directed spectral doppler, it should not be deleted. One of these commenters supported the elimination of x-ray boxes because they are no longer typically used in current radiology practice.

Response: The doppler we are deleting from all but the relevant procedures is a hand-held doppler, with a cost of $1350, that can be used on obstetric patients, not the ultrasonic doppler at $155,000.

Comment: A society representing obstetricians and gynecologists recommended that the following equipment that we proposed deleting from all services be retained for specific codes:

The doppler should be retained for the prenatal codes CPT 59400, 59425, 59426, 59510, 59610 and 59618.

The blood pressure and pulse oximetry monitors should be retained for procedures requiring anesthesia or sedation, CPT 58555, 58558, 58120, 58800, 59140, 59160, 59812, 59820, 59840 and 59841.

The suction machine should be maintained for procedures that include evacuation of the uterus, CPT 58120, 59140, 59160, 59812, 59820, 59821, 59840, 59841.

Response: We will retain the doppler, monitor and suction machine for the recommended services. Because these were the only code-specific changes recommended in comments on our equipment proposals, we will be implementing our proposals with only the above changes.

Comment: The American Academy of Dermatology (AAD) wanted clarification on whether we are proposing that dermatology-related standby equipment be assigned to the overhead category, because the specialty gains one percent on the overhead proposal and loses one percent on the standby equipment proposal.

Response: We are proposing to delete from the inputs the identified “standby” equipment from those codes for which the equipment is not typically used. It is a coincidence that the impact came out as it did.

Comment: One primary care specialty society recommended that we propose a methodology in the 2001 proposed rule for the use of an alpha-numeric code for billing unusual equipment costs associated with a procedure that are not properly captured in the practice expense data.

Response: We will certainly consider this idea, although we foresee many policy and operational difficulties in implementing this recommendation.

(v) CPEP Anomalies

In the November 1999 final rule, we made corrections to the CPEP data for a number of codes when we learned that the data contained errors and anomalies that we could easily correct. In the July 2000 proposed rule, we listed other egregious errors and anomalies that we are proposing to correct. As we have previously stated, though certain revisions may be made now, all practice expense inputs for these codes are still subject to further comment, refinement, and potential PEAC and RUC review and recommendations. We received the following comments on our proposed corrections.

Comment: A major primary care organization agreed with our decision to correct major errors in the CPEP practice expense data that had been identified by specialty societies. Another association stated appreciation for our correction of the supply list for CPT code 68761 to reflect the cost of a punctal plug.

Response: We are pleased that there was no disagreement on any of the proposed revisions we made in the November 1999 final rule and the July 2000 proposed rule to correct egregious errors and anomalies in CPEP data, with the exception of those discussed below. Therefore, we will be implementing all other changes at this time.

Comment: Two specialty societies, representing obstetrics and family practice, pointed out that we proposed to crosswalk the CPEP inputs for CPT 59618, which includes antepartum care, delivery and postpartum care, from CPT 59410, which only includes delivery and postpartum care. They recommended that we change the crosswalk to CPT 59510, Routine obstetric care including antepartum care, cesarean delivery, and postpartum care.

Response: The above proposed crosswalk was a typographical error. We thank the commenters for pointing this out, and we are now crosswalking the CPEP inputs for CPT 59618 from the inputs for CPT 59510 as requested.

Comment: A specialty society representing interventional radiologists agreed that we had appropriately removed the clinical supplies listed in the facility setting for CPT codes 47510, Insert catheter, bile duct and 47511, Insert bile duct drain. They recommended that these supplies be listed in the office setting, because these are 90-day global services with two post-procedure visits.

Response: We have added post-procedure supplies to these two codes by crosswalking from the supplies assigned to CPT code 45525, Change bile duct catheter, adjusted for two post-visits.

Comment: A radiology specialty society objected to our proposal to crosswalk the inputs of CPT code 78206, Liver image (3D) with flow from the inputs of CPT code 78205, Liver imaging (3D). The specialty society suggested that it will work with the PEAC and RUC to determine the appropriate additional expenses.

Response: We view crosswalks of CPEP inputs as a temporary solution, and we would welcome a recommendation from the RUC.

Comment: One specialty society commented that they had previously identified inaccurate inputs, which lead to anomalous RVUs that we have not yet addressed. The commenter requested the status of these suggested changes for 13 procedures. For 11 of these procedures there is a request to increase the number of post-operative office visits. For CPT code 52276, Cystourethroscopy with direct vision internal urethrotomy, the commenter questioned why the facility practice expense RVUs are much lower than those for CPT 52340, Cystourethroscopy with incision, fulguration, or resection of congenial posterior urethral valves, or congenital obstructive hypertrophic mucosal folds, even though the practice expenses are similar. The commenter also noted that the supply cost for a double stent (CPEP supply code 93119) should be decreased from $359 to $150.

Response: We do not view a request to increase the number of post-operative visits as a correction of an egregious error, because it is not clear without supporting evidence that the current number of post-operative visits in our database is inappropriate. It would be most beneficial to discuss this issue with the RUC, which could then make recommendations to us. In regard to the second issue, CPT 52340, a code that will be deleted in 2001, is a 90-day global service, while CPT 52276 is a 0-day global service and therefore has lower practice expense RVUs. The double stent is currently priced at $179.50. We appreciate the information that this may be overpriced. However, we have awarded a contract to have the prices of all the CPEP clinical staff, supply and equipment inputs updated in time for next year's proposed rule and will revise the costs at that time. If the society has documentation on the correct price for this item, we will send this information to our contractor.

Comment: An association representing psychiatrists reiterated their concern regarding the physician times assigned to the psychotherapy codes that include evaluation and management services (E/M). The society recommended that the times assigned to each psychotherapy E/M code be increased so that the total time would be 7 minutes more than the time assigned to the corresponding psychotherapy code without E/M. The commenter argued that this added time would be equal to the time assigned to CPT 99211, the lowest level office visit with an established patient, and that this corresponds to the adjustment made to the work RVUs for the psychotherapy codes with E/M services. In addition, the comment requested that we make the physician time for CPT 90847, Family psychotherapy (with patient present), equal to CPT 90846, Family psychotherapy (without the patient present) and the time for CPT 90857, Interactive group psychotherapy, equal to CPT 90853, Group psychotherapy.

Response: We agree that an increase of seven minutes in the physician times for the psychotherapy codes with E/M is reasonable, and we will make the appropriate changes in our physician time database. In addition, we also agree that the times for CPT 90847 and 90846 should be equal, as should the times for CPT 90857 and 90853, and we will make those increases in physician time as well.

Comment: The association representing psychiatrists also commented that the clinical staff times for psychotherapy with E/M services are underestimated and questioned why we did not correct this as an egregious error.

Response: We included as egregious errors and anomalies only those instances where there was a clear error or anomaly in the CPEP data and also where the correct input would be obvious, without the benefit of a multi-specialty recommendation. We did not consider the clinical staff times for psychotherapy codes to fall into that category; in fact, we have concerns that the clinical staff time for most of the psychotherapy codes is, in fact, overstated. Therefore, we believe that this issue might better be dealt with initially by the RUC.

Comment: A manufacturer of diathermy equipment commented that the practice expense RVUs for CPT code 97024, Application of a modality to one or more areas; diathermy, are undervalued. The commenter stated that this payment rate will threaten the ability of providers to make this service available to the Medicare population.

Response: In checking our direct cost inputs for this service, neither the clinical staff time nor the supplies seem inappropriate. The issue appears to arise from a discrepancy in the cost of the diathermy machine itself. The machine in our database is priced at $2850. The price range quoted by the manufacturer is for $18,000 to $30,000. There is obviously a wide range of machines available, and we will need to determine the most typical cost to a practice. As mentioned earlier, we have granted a contract to re-price all of our direct cost inputs, including equipment. We would welcome information on this and other equipment used by practitioners and would find recent invoices particularly helpful.

(d) Calculation of Practice Expense Pools—Other Issues

(i) Technical Refinement to Practice Expense Pools

The Act requires payment of some practitioner services (services of certified registered nurse anesthetists, nurse practitioners, clinical nurse specialists, physician assistants, and certified nurse mid-wives) based on a percentage of the physician fee schedule payment amount. Since the payment under the physician fee schedule for a service performed by a mid-level practitioner is required to be based on a percentage of the amount paid to a physician for a service, we proposed using only physician practice expense data in determining the practice expense RVUs for each practitioner service. Removal of the services performed by mid-level practitioners from the practice expense calculations would assist in simplifying the methodology and would also be consistent with the statutory requirement that we pay for their services based on a percentage of the fee schedule amount.

Comment: A primary care organization expressed concern that removing the services performed by mid-level practitioners from the practice expense calculations might have implications that were not discussed in the proposed rule. The comment encouraged us to withdraw the proposal until there is more information and a thorough discussion of the issue. The AMA stated in its comment that it would be difficult for us to include such mid-level practitioner data since we do not have reliable information concerning the extent to which these practitioners are self-employed or are employed by physicians. The comment further noted that we have recommended that the AMA request in any practice expense survey the amount of revenue and patient care hours generated by mid-level practitioners. Another primary care organization agreed that this proposal will make the methodology more consistent with the statutory requirement.

Response: The statute specifies the payment amounts for practitioners such as nurse practitioners, physician assistants, and certified nurse specialists. Because payment for these practitioners is not based on the calculation of their own practice expense cost pools, we are removing these services from the practice expense computations and will consider further adjustments as additional information becomes available.

(ii) Medicare Utilization Data

We have received, in response to previous rules, comments from several surgical specialties urging us to evaluate the Medicare claims data to eliminate potential errors in the specialties associated with each service. In the June 2000 proposed rule, we described the analyses we ran to determine whether potential errors in the claims data have an adverse impact on any specialty or merely represent “noise” that creates no significant effect. We tested, for neurosurgery, ophthalmology and otolaryngology, the impact of reassigning to the dominant specialty the small proportion of allowed services associated with specialties not expected to perform these services. The impacts did not even approach a 1-percent increase or decrease in any scenario.

We stated our belief that these simulations demonstrated that the small percentage of potential errors in our very large database have no adverse effect on specialty-specific practice expense RVUs. Therefore, we did not propose any further action at this time.

Comment: One surgical specialty society expressed concern that we had dismissed the impact of less than 1 percent as inconsequential and encouraged us to develop a software program to reassign obvious errors in the specialty-specific assignment of procedures to the appropriate specialty.

Response: We believe that developing software would not be an easy solution to what we still see as an issue of little significance for the calculation of practice expense RVUs. On what basis do we decide what an obvious error would be? At this time, we do not have policies that limit payment for given services to only certain physician specialties, and we are not convinced that the medical community would actually support our doing this. In addition, because many services are performed appropriately by more than one specialty, on what basis would we decide to which specialty the services should be reassigned? Therefore, though we would certainly want the possible error rate to be zero, at this time we do not plan to propose any changes in our method of handling the utilization data for the purposes of calculating practice expense.

(iii) Allocation of Practice Expense Pools to Codes

In the July 2000 proposed rule, we discussed the work The Lewin Group had recently begun on the third phase of the project, which concentrates specifically on evaluating the indirect cost allocation methodology and considers alternatives to allocating indirect costs by the current method. We expect their report on this analysis, which will be placed on our website, to be available soon.

Comment: Two specialty societies commented that we should develop and implement ways to reduce or eliminate the pool leakage that can occur in the weight-averaging step of our methodology when procedures are performed by multiple specialties. One commenter argued that the problem is in the allocation formula that sets up the leakage, not the averaging.

Response: These comments refer to methodological issues surrounding the development of the practice expense relative value units under the “top down” methodology. We use a combination of data on practice expense per hour from the SMS survey, the time estimated to perform individual procedures and Medicare utilization data to create aggregate cost pools. These cost pools are allocated to individual codes. Once the costs are allocated, estimates of practice expenses for individual procedures are then weight-averaged by the specialties performing each procedure to produce practice expense RVUs for a procedure. The above commenters are concerned that this process does not result in practice expense payments to each specialty that equal the aggregate cost pools. To the extent that there is “pool leakage,” it implies that an individual specialty's practice expense payments are less than its aggregate practice expense pool. The implication of the comments we have received on this issue is that specialties that receive aggregate cost payments that are less than the aggregate cost pools are underpaid. We disagree. As we indicated in the November 1999 final rule (64 FR 59390), we believe it is more likely that the aggregate practice expense pools are overstated, rather than that aggregate practice expense payments to a specialty are too low.

As we indicated both in that rule and in the June 5, 1998 proposed rule (63 FR 30832), there are two potential sources of bias in the practice expense per hour data that may result in an overstatement of the aggregate practice expense pool. First, mid-level practitioners may have been included in the numerator of the practice expense per hour calculation even though there is generally separate payment for their services. Thus, a mid-level practitioner would be analogous to an employee physician who also generates revenue and whose costs are not included in the practice expense calculation, rather than to a registered nurse or other practitioner who cannot furnish a separately billable service. Second, the mid-level practitioner's hours spent are not included in the denominator of the practice expense per hour calculation even though, like a physician, the mid-level practitioner is generating patient care revenues during the hours spent in patient care. To the extent that a specialty depends on the use of mid-level practitioners, then the aggregate specialty practice expense pools are likely to be overstated. Based on information in our utilization data and comments made to us by one of the commenters, we believe this is the case with thoracic surgery. Rather than developing a process that ensures that aggregate practice expense payments are equal to overstated aggregate practice expense pools, we believe the better option is to address the issue of mid-level practitioners in the practice expense methodology. In this final rule, we have already addressed one aspect of this issue. Specifically, we have eliminated any utilization data that reflects that the service was performed by a mid-level practitioner. The other aspect of this proposal that we would like to address is the practice expense per hour calculation itself. As we have indicated elsewhere, we are interested in addressing this and other issues related to the practice expense methodology as we develop long-term plans for refining the practice expense RVUs beyond 2002.

(iv) Zero Work Pool

There were no proposals in the July 2000 proposed rule on this issue. However, in the November 1999 final rule, we implemented the proposal to remove requested services from the zero work pool and return them to the specialty-specific cost pools.

Comment: Many specialty societies and the AMA expressed approval of our decision to remove a list of CPT codes from the “zero work pool” in response to specific requests to do so. Other organizations, representing specialties with technical services, supported our decisions—(1) not to modify the practice expense RVUs for diagnostic imaging “zero work” services in any substantial way at this time; and (2) to keep the zero work pool intact, at least until we can develop a methodology that accurately captures TC costs. Several commenters did express a concern that we erroneously removed from the pool an amount equal to the increased payment the removed services would receive in their own pools, rather than the payment rate the services were assigned in the zero-work pool. Another specialty society representing TC providers argued that the RVUs of the codes remaining in the pool should have been maintained at their previous level.

Response: We are pleased that there is general support of our adjustments to the zero work pool. With respect to the concern expressed, we did deal with the removal of services from the zero work pool in a manner that seems consistent with the views of the commenters. We only subtracted from the pool the dollars for the utilization associated with the removed services, which would represent the rate the services were assigned in the zero-work pool, not the increased rate in the specialty-specific pool. With regard to the recommendation that the RVUs of the remaining services in the zero-work pool should be maintained in spite of any adjustment we make, we believe that such an approach would be unfair to the other services in the fee schedule whose practice expense RVUs are not similarly protected from the effects of changes we make in the practice expense calculations.

(e) Site of Service

Clarifying the Definition of Facility/Nonfacility

In the July 2000 proposed rule, we clarified the definition of facility and nonfacility sites of service for the purposes of practice expense calculations. This distinction takes into account the higher expenses of the practitioner in the nonfacility setting. The major purpose of this distinction is to ensure that Medicare does not duplicate payment, to the physician and to the facility, for any of the practice expenses incurred in performing a service for a Medicare patient. For purposes of the site-of-service, we have defined hospitals, skilled nursing facilities (SNFs), and ambulatory surgical centers as facilities, because they will receive a facility payment for their provision of services. In the July 2000 proposed rule, we proposed to revise § 414.22(b)(5)(i) (Practice expense RVUs) to define community mental health centers (CMHCs) as facility settings since CMHCs also receive a separate facility payment for their services.

In addition, we clarified that the nonfacility practice expense RVUs should be applied to all outpatient therapy services (physical therapy, occupational therapy, and speech language pathology), even when they are provided in a facility. Only the facility can bill for therapy services furnished to hospital and SNF patients. Because there will be only one bill for this service and because the payment must reflect the practice expenses incurred in furnishing the service, the higher nonfacility RVUs are used to pay for therapy services even in the facility setting.

Comment: Three specialty societies representing gastroenterologists reiterated their disagreement with our site-of-service policy because they believe—

• The policy offers a financial incentive for physicians to perform certain gastroenterological procedures in their offices, rather than in an ASC or hospital outpatient department;

• The policy allows the procedures to be furnished in a physician's office that does not have to meet accreditation standards;

• The wide divergence between the payments in the two settings may be encouraging the performance of gastrointestinal procedures by non-gastroenterologists; and,

• This reduction of payments for endoscopy services in the facility setting is contrary to the intent of the statute.

The commenters had varying recommendations on this issue: one comment urged us to provide the same practice expense RVUs in the facility and nonfacility settings for 18 endoscopic gastroenterological procedures. Another commenter suggested that because we now pay therapy services at the nonfacility rate regardless of setting, we should do the same for the colorectal screening codes. A major specialty society stated that it is in the process of working with gastroenterology societies to develop a proposal to create a single site-of-service payment rate for those services that are furnished less than 10 percent of the time in the office.

Response: We believe that some of the commenters continue to misunderstand the reasons for the distinction between the facility and nonfacility sites of service and the actual implications of this distinction. We have perhaps added to this confusion by continuing, on occasion, to use the term “site-of-service differential” to describe this policy. Under the charge-based practice expense methodology, there was an actual differential; certain services were automatically reduced by a pre-determined amount when furnished in the facility setting. However, in our current resource-based “top-down” approach, we employ no such reduction. Rather, we carry out the statutory requirement to develop practice expense RVUs that reflect the relative resources involved with furnishing each service. We doubt that any specialty society would argue that the direct costs of performing a service in the office setting are not higher than in the facility setting. In the office setting, the physician must bear the costs for all of the clinical staff, supplies and equipment needed to perform a given service; in the facility setting, these costs are the responsibility of the facility. Our RVUs reflect the relative resources used in furnishing the service in each of the facility and nonfacility settings. Therefore, to the extent that we have correctly identified the relative direct costs, there should be no incentive to perform a service in either setting. It is true that we pay more to the physician if the service is furnished in the office, but that is because greater resources are involved with furnishing the service in that setting. The fact that there is a significant difference between the facility and nonfacility payment for any given service seems to us both expected and appropriate. We believe that properly reflecting the relative resources involved with furnishing services in the facility and nonfacility settings creates no incentive to perform a service in one setting or another. In contrast, a policy that paid the same amount for a service furnished in a facility and nonfacility setting would create an incentive to furnish the service in the facility setting and, thus, would not be incentive-neutral.

We have serious reservations about adopting a policy to develop a single site-of-service payment for services that are furnished less than 10 percent of the time in the office. First, if there are real concerns regarding patient safety when certain procedures are furnished in the office, sufficient evidence should be presented to the relevant parties so that an appropriate coverage decision can be made. We emphasize that such a decision would be a coverage decision, and would not be a payment policy issue. Second, a 10-percent threshold could eliminate payment in the office setting for some high-volume procedures done thousands of times there. Third, we have some concern that this issue may be a matter of contention between those specialties that generally perform procedures in physician-owned ASCs and other specialties that would utilize the office setting. We would suggest that this issue, either as a general proposal or on a code-specific level, be discussed in the PEAC/RUC, where a multi-specialty recommendation could then be submitted to us.

The site-of-service policy for therapy services mentioned by a commenter as a precedent is not applicable to other services in the physician fee schedule. As described above, the facility itself must bill for both the technical and professional portion of the therapy service; in these circumstances, the therapist does not bill Medicare at all. Therefore, the nonfacility RVUs are used to ensure that the facility is paid for the direct costs incurred in the service.

Comment: A specialty society representing pediatricians believed that the site-of-service differentials will likely have an adverse impact on pediatric specialty care that is primarily hospital-based. Most pediatric sub-specialists, most of whom are not hospital-employed, incur practice expense (in the form of a lease or rent) when they provide ambulatory services in a hospital-owned facility. This expense most typically includes administrative and clinical staff.

Response: We would need more information on the scenario described before we can formulate a definitive response on this issue. For example, it is not clear whether these pediatric services as described would always be considered “facility” services. A visit to a physician's office that is leased from a hospital could, in many circumstances, be considered a “non-facility” service by Medicare, if there is not a Part A bill for the same service. In addition, indirect expenses, such as rent or administrative staff salaries, are treated the same in all sites under our methodology. We would welcome further discussion on this issue.

Comment: A comment from an association representing providers of services in long-term care facilities contended that there should be a site-of-service differential for settings such as SNFs, where patient acuity is higher and where services must be transported to the patients. Use of data from the SMS survey for services performed outside of the physician's office is not appropriate. An occupational therapy association stated that, though they concur with our clarification that therapy services would always be paid at the nonfacility rate, the resources necessary to provide therapy services in facilities are not adequately reflected in our practice expense calculations. A commenter representing geriatricians commented that pre-and post-care involved in nursing home visits are not reflected in the nursing home visits.

Response: The practice expense RVUs for the office and facility settings differ primarily as a result of the differences in the direct costs in these sites. Because the SNF would bear the costs of the clinical staff, supplies and equipment, the cost to the practitioner is less than it would be in the office setting. It is not clear to us how the acuity of the patients in a SNF would affect the direct practice expense costs of the practitioner, or what resources are not reflected in our calculations, since the practitioner is not responsible for the direct costs in that setting. If there is clinical staff time for staff back in the office associated with nursing home visits, this issue should be brought to the attention of the PEAC/RUC, because they are considering an approach to standardizing “coordination of care” clinical staff times for various services to make recommendations to us on this issue.

Comment: A long-term care association recommended that we clarify our policy on mixed facilities, which are SNFs that also have nursing home beds, to state that the presumption should be made that the therapist is treating a nonfacility patient. A society representing podiatrists requested confirmation of this policy.

Response: We do not agree that the above recommendation would be a clarification of our policy on “mixed” facilities. We explicitly stated in our July 1999 proposed rule that a service in a mixed facility should be designated as a facility service (that is, the place of service would be a SNF), unless the practitioners can verify that no Part A claim will be made for the service. In the latter case, the place of service would be a nursing home, and the service would be paid at the nonfacility rate. We did not change this policy in our November 1999 final rule, and we believe that this is an appropriate policy.

Comment: Commenters were supportive of the expansion of the definition of facilities to include community mental health centers (CMHCs). However, one commenter, representing a state health department, requested that we clarify the distinction between CMHCs and other types of community mental health entities to which this would not apply.

Response: A CMHC is a distinct type of facility certified for Medicare participation for the purpose of providing “partial hospitalization services”. As we had explained in the proposed rule, Medicare payment to a facility typically includes the cost of services furnished. If an entity is not participating in the Medicare program, the nonfacility practice expense RVUs would apply to the services. We believe this may not have been clear in the proposed rule. We are revising § 414.22(b)(5)(i)(A) to specifically provide that, for calculation of practice expense RVUs, a CMHC is considered to be a facility and revising § 414.22(b)(5)(i)(B) to parallel the language of § 414.22(b)(5)(i)(A). We also specify that the nonfacility practice expense RVUs are applicable to outpatient therapy services regardless of the actual setting.

Comment: One organization commented that the proposed rule did not address coverage or payment for “inpatient” only services performed in the outpatient setting, and referenced the outpatient PPS rule published April 7, 2000.

Response: This issue is addressed in the outpatient prospective payment system rules.

(f) Other Practice Expense Issue

Comment: One specialty society recommended that we keep the practice expense RVUs that will be fully resource-based in 2002 as interim RVUs for a minimum of another three years, during which we would consider comments for further code-level refinement.

Response: As long as there is a good faith effort on the part of all parties to continue the quality work that the PEAC/RUC has already undertaken, we do not plan to close the door on further code-level refinements in 2002. We understand the magnitude of this task and have an interest in ensuring that there is sufficient time to deal with the CPEP inputs of all services in a thoughtful and equitable manner.

Comment: A specialty society representing neurological surgeons made a number of comments critical of the methodology used to allocate practice expenses. These criticisms pertained to virtually every aspect of the methodology. For instance, there was criticism of the CPEP data, the SMS data, and the idea that indirect practice expenses are a function of the amount of time spent in patient care activities. The commenter further indicated that the “cursory efforts to ‘validate’ CPEP data by having it reviewed by RUC's Practice Expense Advisory Committee (PEAC) seems more pro forma rather than have it based on some independent appraisal of the real costs that may be involved.” In addition to the criticism cited above with respect to the methodology for allocating indirect costs, the commenter suggested that we should have summed the three indirect cost categories (administrative labor, office expense, and other expense), and allocated the result to individual codes based on the work RVUs. The commenter suggested that this was a better method than the “unnecessarily tortuous” approach we adopted that “used the total SMS pool and divided it by the pool of direct expenses * * * to generate a scaling factor that represented the fraction of the total that the CPEP data calculation claimed as direct.” In addition, the commenter objected to a “single adjustment” of 25 percent made to the Harvard physician time data that are being used to generate the practice cost pools. They indicated that this adjustment distorts time values for many codes. The commenter suggested that RUC time data would be more reliable than Harvard time data and that we should consider establishing a rank order reliability in the time data based on dependability of the process that generated the time values. For instance, the commenter suggested that operative logs would provide a measure of skin-to-skin time for intraoperative portion of surgical procedures that should rank above a group of estimates of the same time made by surgeons.

Response: With respect to the criticism of the CPEP data, we acknowledge that there are limitations and anomalies in the data that may distort values for some services. As required by the BBA, we have established a refinement process that will address the inputs for many codes. In this final rule, we are reflecting refinements to the practice expense inputs for office visits and office consultations. As a result, services that account for approximately 22 percent of Medicare allowed charges for physicians' services will have been reviewed and the inputs been refined. As we describe elsewhere in this rule, we are making other refinements with respect to how equipment costs are being allocated, and we are continuing to consult with the PEAC on developing supply cost packages that will facilitate refinement of this aspect of the practice expense inputs. Although the commenter believed that surveys of physician practices for resource inputs would be an improvement over the scrutiny being applied by the PEAC, we disagree. A survey process to collect direct cost inputs for the over 7,000 procedures on the Medicare physician fee schedule would be enormously expensive and time consuming and may be unlikely to yield better results than are being recommended by the RUC/PEAC. We believe the RUC/PEAC process allows for a multispecialty review of inputs for particular procedures. These RUC/PEAC recommendations have been helpful to us in simplifying the number of data inputs going into individual codes and in improving the overall quality of the data that are being used to determine practice expense RVUs.

With respect to the indirect methodology, the commenter is essentially suggesting that we abandon the direct inputs and use the work RVUs as the basis for allocating all indirect costs. While this approach may be simpler, we disagree that such a methodology will improve overall equity in Medicare payment for physicians' services. It would, of course, likely increase payments to specialties with relatively high work values and low direct costs. Furthermore, we do not believe this approach would be consistent with the statutory requirement to recognize “all staff, equipment and supplies and expenses” in determining the practice expense RVUs.

We do agree with the commenter that it may be helpful to validate physician time data using independent information sources such as operative logs. In fact, as we described in the July 2000 proposed rule (65 FR 44202), we have several efforts underway to obtain information on times spent performing individual procedures, including using inpatient and outpatient records and operative reports on skin-to-skin surgical times for selected procedures.

Comment: One surgical specialty society reiterated its contention that we have not been providing the impact analysis required by the BBA and requested that we do so. The osteopathic surgeons requested that we publish the impacts rounded to a tenth of a percent and that we display the impact for the entire period of the transition rather than for the individual year. A society representing radiation oncology also requested that we expand the percentage of impact by several decimal places; although the impact table for radiation oncology displays zero percentage impact for each category, there is a total increase of one percent. An ophthalmology society requested that we publish more detailed impacts, and enumerated five additional impact analyses or tables we should include in the final rule. Three other specialty societies urged us to conduct the sensitivity analyses recommended by the GAO, because, without knowing the effect of a change in methodology or data, it is difficult to know whether the proposed change is acceptable.

Response: We have addressed these comments in previous rules. We provide a discussion of impacts in each proposed and final rule. We also provide detailed information on the HCFA web page, which allows any group to select services of interest and determine the impacts resulting from payment rates.

Comment: A commenter suggested that we should identify a way to incorporate the cost of compliance with regulations into the practice expense payments or into the annual updates to the physician fee schedule.

Response: To the extent that these costs are due to increased clinical or administrative staff time, the SMS or supplementary surveys should reflect these expenses, so they are already reflected in the practice expense calculations.

Comment: A specialty society representing podiatrists requested clarification concerning the reduction in practice expense RVUs for CPT code 11750, Removal of nail bed, as compared to the previous charge-based RVUs.

Response: Because the charge-based practice expense RVUs were not based on the resources used to perform a service, the payment for many services either increased or decreased, some significantly, when we implemented resource-based practice expense. In themselves, such changes are not indicative of an error in our calculations. A comparison to the values assigned to codes in the same or similar families would be more important. It appears that the fully implemented practice expense RVUs for CPT 11750 are in the same range as the values for related services. If the specialty society believes this is not the case, we would need more information as to which codes' values appear anomalous.

Comment: An occupational therapy association noted that the fully-implemented practice expense RVUs for CPT 97110, Therapeutic exercises are greater than those for CPT 97530, Therapeutic activities, even though the CPEP inputs that we accepted should be the same for both services. The commenter also questioned why, in the November 1999 final rule, the practice expense RVUs for the occupational therapy evaluation and re-evaluation services, CPT 97003 and 97004, were lower than those for the physical therapy evaluation and re-evaluation services, CPT 97001 and 97002.

Response: We checked the CPEP inputs for CPT codes 97110 and 97530. The time associated with the use of procedure-specific equipment for CPT 97110 was inadvertently overstated, causing a slight increase in the equipment cost for that service. We have corrected this error. In addition, as we explained in the November 1999 final rule, we deleted the tables in the equipment lists from CPT 97530 because we believed the service would typically be performed while the patient was standing. However, even when two services have identical inputs, the final practice expense RVUs can differ, if a different mix of specialties perform the two services. One reason for the difference between the occupational and physical therapy evaluation and re-evaluation services is that the occupational therapy codes were only valued by one CPEP panel. The physical therapy codes were valued by two CPEP panels, one of which estimated higher staff times than the other, giving these codes a higher average time. The refinement of these codes should remove this issue, although, for the reason explained above, the practice expense RVUs may still not be identical.

Comment: Two organizations representing audiologists submitted a joint comment which reiterated their concern regarding our use of data from the other specialties that perform audiology services to calculate the practice expense RVUs for these services. The specialty society intended to perform a survey of audiologists' practice expenses in order to gather more accurate data.

Response: We have published the criteria and process for the submission of specialty-specific supplementary survey data. We would welcome this additional information.

Comment: A specialty society representing geriatricians contended that this specialty requires more office space than other providers and wanted us to increase the space requirements beyond what is allowed for internists. They believe we have set a precedent for this by altering the space allotment for physician and occupational therapists.

Response: Under our current practice expense methodology, we do not have space requirements for any physician specialty. The amount of office space needed would presumably be reflected in the SMS indirect costs for each surveyed specialty, but we have no way of knowing what this is, or of making an adjustment to these costs for a given specialty or sub-specialty. The adjustment for the physical therapists was a different issue. Because we believed that the crosswalk to the “all physician” rate that we used for physical therapy would overstate the indirect costs, we substituted a lower rate based on a study of physical and occupational therapists that computed costs for therapy services partially on the space used for therapy agencies and later made an adjustment to that rate. This adjustment would have no relevance to any other specialty.

Comment: A commenter objected to the use of salary equivalency guidelines to determine the indirect cost pools for physical therapists. The commenter indicated that the original estimate of 250 square feet was insufficient to reflect expenses for therapists in private practice. While we agreed that these space requirements were insufficient and increased the space to 500 square feet, the commenter continues to believe that the salary equivalency data is not an accurate measure of the expenses associated with operating a physical therapy office since these apply to therapy services furnished by an outside contractor to an outpatient hospital, skilled nursing facility, home health agency, clinic, rehabilitation agency or public health agency.

Response: In general, we believe it is better to use data that reflect a specific physician specialty or nonphysician practitioners' costs if they are available. For the direct expense items (clinical staff, equipment and medical supplies), there was no data available for physical therapy so we used a crosswalk to the all physician rate. For the indirect cost items, we used the information that is directly applicable to physical therapy for use in the practice expense methodology. While the use of salary equivalency guidelines data may have been developed for contract physical therapists providing services in facilities, we believe that a potential shortcoming for its use is related to the number of square feet of space that are allotted for each therapist. In response to previous comments we increased the space allocation to 500 square feet in the November 1999 final rule (64 FR 59404). While we are currently using 500 square feet for the space allotment and believe that that amount may recognize some components of indirect costs, the figure still may understate the space requirements for private practice physical therapists because it does not recognize other components of indirect costs that are not incurred by contract physical therapists working in a facility setting. In an earlier comment, the American Physical Therapy Association indicated that 250 square feet is inadequate for physical therapists in private practice. The comment indicates that approximately 700 to 850 square feet per therapist are necessary. We are increasing the space requirements from the salary equivalency guidelines for physical therapy to 750 square feet. This revision will result in use of the following practice expense per hour for physical therapy for calculation of the 2001 practice expense RVUs:

Clinical staff | Admin staff | Office expense | Supplies | Equipment | Other | Total
12.3 | 5.8 | 7.5 | 7.3 | 3.1 | 4.4 | 40.4

Comment: Many individuals and several specialty groups expressed concern about the relatively low rates contained in the July 2000 proposed rule with respect to pain management services. They suggested that this may be due to the practice expense component for these services being undervalued. They also pointed out that a few of the services seemed to have significant reductions.

Response: A few of the pain management codes were affected by a programming error related to work RVUs. We apologize for the error and ensured that this was corrected in this final rule. To the extent that the rates are low due to the practice expense component being undervalued, we would recommend that specialty groups forward the codes in question to the RUC/PEAC for refinement.

B. Geographic Practice Cost Index Changes

The Act requires that payments vary among fee schedule areas to the extent that resource costs vary as measured by the GPCIs. Section 1848(e)(1)(C) of the Act requires us to review and, if necessary, adjust the GPCIs at least every 3 years. This section of the Act also requires us to phase in the adjustment over 2 years and implement only one-half of any adjustment in the first year if more than 1 year has elapsed since the last GPCI revision.

The GPCIs were first implemented in 1992. (A detailed discussion of the development of the GPCIs and references to obtaining studies on the development of the GPCIs can be found in the July 17, 2000 proposed rule (65 FR 44189).) The first review and revision was implemented in 1995, and the second review was implemented in 1998.

The 2001 through 2003 GPCIs represent the third GPCI update. The 2002 GPCIs (Addendum D) are the fully-revised GPCIs. The 2001 GPCIs (Addendum E) represent the one-half transition GPCIs. Addendum F shows the estimated effects on area payments of the fully-revised 2002 GPCIs. The payment effects in 2001 will be about one-half of these amounts.

The same data sources and methodology used for the 1998 through 2000 GPCIs were used for the 2001 through 2003 GPCIs. The only differences between the 1998 through 2000 GPCIs and the proposed GPCIs are in the cost shares and RVU weighting.

1. Work Geographic Practice Cost Indices

The work GPCIs are based on the decennial census. The 1992 through 1994 work GPCIs were based on 1980 census data because 1990 census data were not yet available. The work GPCIs were revised in 1995 with new data from the 1990 census. New census data will not be available again until after the 2000 census. We searched for other data that would enable us to update the work GPCIs between the decennial censuses, but no acceptable data sources were found.

We therefore made no significant changes to the 2001 through 2003 work GPCIs from the 1998 through 2000 work GPCIs, other than the generally negligible changes resulting from using 1998, rather than 1994, RVUs for this GPCI update, because we were unable to find acceptable data for use between the decennial censuses. We believe that making no changes is preferable to making inaccurate changes based on unacceptable data. We believe that this is a reasonable position given the generally small magnitude of the changes in payments resulting from the changes in the work GPCIs from the 1980 to the 1990 census data.

2. Practice Expense Geographic Practice Cost Indices

a. Employee Wage Indices

As with the work GPCIs, the employee wage indices are based on decennial census data. For the same reasons discussed above pertaining to the work GPCIs, we are not changing the employee wage indices during this GPCI update.

b. Rent Indices

The office rental indices are again based on HUD residential rent data. No changes have been made in the methodology. The rental indices are based on 2000 rather than 1994 HUD data.

c. Medical Equipment, Supplies, and Miscellaneous Expenses

As with all previous GPCIs, this component will be given a national value of 1.000, indicating no measurable differences among areas in costs.

3. Malpractice Geographic Practice Cost Indices

As with the previous GPCIs, malpractice premium data were collected for a mature “claims made” policy with $1 million to $3 million limits of coverage, with adjustments made for mandatory patient compensation funds. The only difference is that we proposed to use more recent data. The proposed malpractice indices are based on 1996 through 1998 data, compared to the 1992 through 1994 data used in the previous GPCI update.

We received the following comments and responses on our proposed GPCI changes.

Comment: One commenter stated that Medicare physician reimbursement should not vary by geographic area.

Response: The law requires that payments vary among payment localities as locality cost differences vary as measured by the GPCIs. However, the work GPCI by law reflects only ¼ of the difference in the relative value of physicians' work in the area and the national average.

Comment: One commenter stated that we should not use census data on the earnings of other highly educated professionals as a proxy for physician earnings. The commenter suggested that we instead use IRS income tax data on actual physician income, which also has the advantage of being available on an annual basis rather than every 10 years like the decennial census.

Response: As stated in this year's proposed rule and in all previous reports on the GPCIs, the actual reported earnings of physicians were not used to adjust geographical differences in fees because the fees are in large part a determinant of the earnings. We believe that the earnings of physicians will vary among areas to the same extent that the earnings of other professionals vary. The GPCI compares average hourly wages of professionals among geographic areas. IRS data on the earnings of physicians and other professionals were previously examined as a possible work GPCI data source. The IRS data were rejected for numerous reasons, chiefly because—(1) they did not control for hours worked, and thus, average hourly earnings could not be determined; (2) the business tax returns of physicians and other professionals include entrepreneurial return, as well as the opportunity cost of time (what a physician on salary could earn per hour); and, (3) the business returns contain no information on the number and mix of employees (physicians are included with other nonphysician employees). The Medicare physician fee schedule is based on the principle that fees should reflect costs, such as opportunity wages, but not other factors, such as entrepreneurial profit.

Comment: Two commenters stated that the rent GPCI for Puerto Rico is severely understated. They believe the HUD rental data to be inordinately low relative to the national average because of the high level of poverty in Puerto Rico. They believe that physician rents are relatively higher compared to the national average than reflected by the HUD data. The commenters suggested that we fund a special study to examine the rental costs in Puerto Rico to see if the HUD rent proxy is inadequate to reflect physician rental costs, and, if so, to expand the study to other areas with inordinately high poverty rates.

Response: For the next GPCI update, we will again look for alternative sources to the HUD data.

Comment: One commenter whose malpractice GPCI would have decreased under the proposed rule stated that this would reflect decreasing malpractice premiums, while in reality their malpractice premiums have increased since 1997, and, therefore, their malpractice GPCI must be wrong.

Response: A decreasing malpractice GPCI does not necessarily reflect decreasing malpractice premiums. An area's malpractice GPCI reflects its relative position compared to the national average. An area could have increasing malpractice premiums and still experience a decrease in its malpractice GPCI if its premiums increased less than the national average rate of increase.

Comment: A commenter from Kansas commented that Kansas prohibits territorial rating of malpractice premiums within the State; yet we show two different malpractice GPCIs for Kansas. They state that one of these must be an error.

Response: We agree. Kansas is a single statewide locality under the physician fee schedule. We show two sets of GPCIs because Kansas is served by two carriers. However, the GPCIs should be the same. The malpractice GPCI shown in the proposed rule for carrier 00740 was erroneous. Both carriers should have the same malpractice GPCI of 0.823.

Result of Evaluation of Comments

The 2002 fully-effective revised GPCIs and the transitional 2001 revised GPCIs can be found at Addendum D and Addendum E, respectively. No changes were made in the 2002 and 2001 GPCIs from those proposed in the July 17, 2000 proposed rule, except to correct the erroneous Kansas malpractice GPCI discussed above. Since the revised GPCIs could result in total payments either greater or less than payments that would have been made if the GPCIs were not revised, it was necessary to adjust the GPCIs for budget neutrality as required by law. Therefore, we adjusted the 2001 through 2002 GPCIs as follows: work by 0.99699; practice expense by 0.99235; and malpractice by 1.00215.

C. Resource-Based Malpractice Relative Value Units

Resource-based malpractice RVUs replaced the prior charge-based malpractice RVUs on January 1, 2000. A detailed description of the methodology used in establishing the 2000 malpractice RVUs can be found in the July 1999 proposed rule (64 FR 39610) and the November 1999 final rule (64 FR 59383). The 2000 malpractice RVUs are based on 1993 through 1995 malpractice insurance premium data, the latest data available when we began collecting data to establish the resource-based malpractice RVUs. We stated in last year's proposed and final rules that we were collecting more recent premium data, and would update the malpractice RVUs as soon as we had finished collecting and analyzing the more recent data.

In the July 2000 proposed rule we stated that we had obtained, and were currently examining, malpractice premium data for 1996 through 1998. We provided a table that compared the 1993 through 1995 average premiums (used to calculate the 2000 malpractice RVUs) with the 1996 through 1998 average premiums (used to calculate the 2001 malpractice RVUs). The table showed that there was very little change in the national average premiums from 1993 through 1995 to 1996 through 1998. We, therefore, anticipated minimal changes in malpractice RVUs from use of the more recent data.

In addition, in response to comments received on last year's rule, we proposed to accept a comment regarding crosswalking specialties. We proposed to crosswalk surgical oncology to general surgery rather than to all physicians. We also indicated that the malpractice values to be included in the final rule reflecting the updated data would remain interim.

Comment: Numerous commenters commended the use of more recent 1996 through 1998 malpractice premium data to replace the 1993 through 1995 data in calculating the malpractice RVUs.

Response: We plan to use the most recent available data in updating malpractice RVUs.

Comment: Commenters stated that since the proposed 2001 malpractice RVUs were not available for comment in the July proposed rule, and are being seen for the first time in this final rule, they be considered interim and subject to comment and revision.

Response: We agree. The proposed 2001 malpractice RVUs will be considered interim, subject to revision in 2002 based on comments received on this final rule.

Comment: Some commenters stated that they were unable to duplicate the malpractice RVU calculations using the premium data and risk factors shown in our previous proposed and final rules. They requested that we provide them with all necessary information to reproduce the malpractice RVUs.

Response: To address this concern, we had our contractor, KPMG Consulting, prepare a technical addendum. This addendum presents a detailed explanation of all of the information used—a table of specialty premiums, risk factors for each specialty either from the premium data or insurer rating manuals, code crosswalks for new and revised CPT codes, and the budget-neutrality factor used by KPMG—with examples of the methodology used in calculating the malpractice RVUs. It also discusses special circumstances, such as the use of different risk factors for OB/GYN for surgical, nonsurgical, and delivery services, and the use of the surgical risk factor for cardiology for certain cardiac catheterization services even though the services are not in the surgery section of CPT. When combined with our 1999 specialty utilization data, it should be possible to reproduce KPMG's malpractice RVU calculations. This technical document can be found at Addendum G.

Comment: One commenter stated that we should explore the collection of non-M.D. and non-D.O. premium data (such as for podiatrists, chiropractors, and nurse practitioners) for future malpractice RVU updates.

Response: We will consider searching for such data for specialties such as podiatrists and chiropractors. We would not expect to collect such information for groups such as nurse practitioners since the law establishes their payments at 85 percent of the physician rate.

Comment: One commenter suggested that certain invasive electrophysiology codes, have the same relative risks as cardiac catheterization codes, and should be assigned a surgical risk factor similar to the risk factor assigned to cardiac catheterization codes.

Response: We agree, and have assigned a surgical risk factor to CPT codes 93600 through 93612, 93618 through 93641, and 93650 through 93652.

Comment: One commenter stated that since most OB/GYNs perform both obstetrics and gynecology, the higher obstetrics premium should be used for all services performed by OB/GYNs.

Response: We disagree. This comment was also addressed in the November 1999 final rule. To reiterate our response, it is true that a physician furnishing a wide range of services—from low-risk visits to high-risk surgeries or deliveries—will probably pay a malpractice premium driven by the higher-risk procedures.

The purpose of the resource-based malpractice RVUs is not to guarantee each physician an absolute return of malpractice costs. It is rather to construct malpractice RVUs based on the relative malpractice costs among services. We believe that it is reasonable to use the lower risk factors for the values of the lower risk services and to allocate the higher relative values to the higher risk services that cause them. In the case of OB/GYN services, the higher obstetrical premiums were used for services that were clearly obstetrical and were causing the higher obstetrical premiums; the gynecological surgical risk factor was used for the surgical services, and the lower nonsurgical GYN risk factor was used for all other services. We would further note that even if we were to adopt the approach suggested by this comment, it would have very little, if any, impact on payment rates since OB/GYN specialties perform such a small proportion of the low risk visits provided to patients in the U.S.

Result of Evaluation of Comments

New malpractice RVUs based on the more recent 1996 through 1998 premium data will become effective on January 1, 2001. These malpractice RVUs will be considered interim for 2001 and subject to comment and possible revision in 2002. These malpractice RVUs can be found in Addendum B.

D. Critical Care Relative Value Units

Based on revisions to the definition of critical care services (CPT codes 99291 and 99292) in the CPT manual for CY 2001, we proposed to value the physician work at 4.0 RVUs for CPT code 99291 and 2.0 RVUs for CPT code 99292.

In addition, consistent with our discussion in the July 2000 proposed rule for electrical bioimpedance (EB), (see section H), we proposed not to allow separate Medicare payment for EB when it is furnished in conjunction with critical care services (CPT codes 99291 and 99292).

Comment: Commenters supported the revision to the physician work for these two codes. However, in the regulatory impact section of the July 2000 proposed rule (65 FR 44208), we stated that “* * * any impact of this proposal would be incorporated in the physician fee budget neutrality calculations.” Commenters believed it would be inappropriate to make a budget neutrality adjustment, since we made no adjustment last year. They argue that such an adjustment would skew payments.

Response: As indicated in the previous response, we are restoring the work RVUs for critical care to 4.0 for CPT code 99291 and 2.0 for CPT code 99292. The earlier reductions to the work RVUs were made assuming there would be a substitution of critical care for other services that would increase net payments if there were no reductions to the work RVUs. We believe this substitution will not occur because of additional revisions to the definition of critical care for 2001. Thus net payments would decrease if we do not restore critical care RVUs to their former levels.

Comment: One commenter urged that we reconsider including payment for EB services within the critical care codes, because they believed it would have a negative impact on its use in hospitals.

Response: The physician work required to perform this service involves reading and interpreting a series of numerical measurements. This is generally performed in conjunction with an evaluation and management service because the measurements produced by this procedure are difficult to interpret without a clinical evaluation of the patient. We continue to believe that it is appropriate to include payment for this service within the critical care service since the critical care service includes the review of EB tests. Other services such as the interpretation of cardiac output measurements (CPT 93561 and 93562) are currently included in the payment for critical care services, and we do not believe this has had an adverse impact on their performance in the hospital.

Result of Evaluation of Comments

We will finalize our proposal and value the physician work at 4.0 RVUs for CPT code 99291 and 2.0 RVUs for CPT code 99292. In addition, we will not allow separate Medicare payment for EB when provided in conjunction with critical care services (CPT codes 99291 and 99292).

E. Care Plan Oversight and Physician Certification and Recertification

In anticipation of CPT revisions to the definition of care plan oversight, we proposed establishing two new HCPCS codes for care plan oversight to be consistent with our payment policies. For the 2001 physician fee schedule, we proposed adding a new HCPCS code G0181 (care plan oversight, home health), using the CPT 2000 definition associated with CPT code 99375 and a new HCPCS code G0182 (care plan oversight, hospice) using the CPT 2000 definition associated with CPT code 99378. The definitions proposed for these new codes are:

G0181 Physician supervision of a patient under care of Medicare-covered home health agency (patient not present) requiring complex and multidisciplinary care modalities involving regular physician development and/or revision of care plans, review of laboratory and other studies, communication (including telephone calls) with other health care professionals involved with the patient's care, integration of new information into the treatment plan and/or adjustment of medical therapy, within a calendar month; 30 minutes or more.

G0182 Physician supervision of a patient under care of Medicare-covered hospice (patient not present) requiring complex and multidisciplinary care modalities involving regular physician development and/or revision of care plans, review of laboratory and other studies, communication (including telephone calls) with other health care professionals involved with the patient's care, integration of new information into the treatment plan and/or adjustment of medical therapy, within a calendar month; 30 minutes or more.

We also stated that current policy guidance that applied to CPT codes 99375 and 99378 will continue to apply to these G codes, and current payments for CPT codes 99375 and 99378 will be maintained in G0181 and G0182.

In addition, we proposed establishing two new HCPCS codes (G0180 and G0179) to describe the physician's services involved in physician certification (and recertification) of Medicare-covered home health services. These services include creation and review of a plan of care for a patient and verification that the home health agency initially complies with the physician's plan of care. The physician's work in reviewing data collected in the home health agency's patient assessment, including the Outcome and Assessment Information Set (OASIS) data, would be included in these services.

The proposed text for the new codes was as follows:

• G0180 (referred to as Gxxx3 in the proposal but renumbered in this final rule) Physician services for the initial certification of Medicare-covered home health services, for a patient's home health certification period, and

• G0179 (referred to as Gxxx4 in the proposal but renumbered in this final rule) Physician services for the recertification of Medicare-covered home health services, for a patient's home health certification period.

Under the proposed rule, the use of these codes would have been restricted to physicians who are permitted to certify that home health services are required by a patient according to section 1814(a)(2)(C) and section 1835(a)(2)(A) of the Act.

Under the proposed rule, the physician certification for home health code (G0180), could be reported only once every 60 days, except in the rare situation when the patient starts a new episode before 60 days elapses and requires a new plan of care to start a new episode. For services within the episode (generally beyond the first week or two of care plan implementation) that are consistent with the definition of care plan oversight, the care plan oversight code (G0181) would be used.

Because we believed that the physician work associated with HCPCS code G0180 is equivalent to that of a level 3 established patient office visit (CPT code 99213), we proposed a value of 0.67 for the work RVUs. For G0179, we proposed a value of 0.45 work RVUs because we believe the work equates to a level 2 established patient office visit (CPT code 99212). For practice expense RVUs, we proposed to crosswalk both G0180 and G0179 to the practice expense inputs currently used for care plan oversight (CPT code 99375), since both the certification and recertification and care plan oversight codes do not require a face-to-face encounter between the beneficiary and the physician.

Care Plan Oversight

Comment: Several commenters objected to our proposal for G codes for care plan oversight services because the rationale presented in the July 2000 proposed rule (65 FR 44196) for the change was not clear. They stated that the public was not aware of specific definition changes proposed by the CPT panel, so they could not determine whether the new CPT definitions conflicted with Medicare policy. Thus, the commenters challenged the need for such a complicated change.

Response: We understand the concerns of the commenters but we were at that time unable to provide the full text of the revised CPT codes in the proposed rule. The CPT Committee had not yet released the definitions. The 2001 revised CPT code definitions for CPT codes 99375 and 99378 make a significant change. Specifically, the new definitions include the time the physician spends communicating with non-professional caretakers involved in delivering the home health or hospice services.

While we recognize that non-health professionals contribute to the care of both home health and hospice patients, our long-standing policy has been that payment for these services is included in the payment for evaluation and management services. As we indicated in the December 8, 1994 final rule (59 FR 63421) that originally established Medicare policies for care plan oversight services, we recognize for separate payment only the physician's communications to the health care professionals involved in the patient's care. The goal in care plan management is to be certain that the home health or hospice professional staff communicate with the patient's physician to allow the beneficiary to receive appropriate care. This continues to be the justification for an additional payment.

Comment: One organization requested clarification on whether nurse practitioners are able to bill for care plan oversight and physician certification and recertification services. They stated that the preamble discussion suggested only physicians may bill for these services. The commenter believed that under the provisions of the BBA, nurse practitioners practicing within the scope of State law are also permitted to perform these services.

Response: Under the provisions of the BBA, nurse practitioners, physician assistants and clinical nurse specialists, practicing within the scope of State law, can bill for care plan oversight services. These non-physician practitioners must have been providing ongoing care for the patient through evaluation and management (E/M) services (but not if they are involved only in the delivery of the Medicare-covered home health or hospice service). Sections 1814(a)(2)(C) and 1835(a)(2)(A) of the Act require that physicians certify and recertify the necessity of home health care in order for a particular beneficiary to receive covered services. Thus, without regard to payment issues, in order to be effective, a certification must be made by a physician. We agree with commenters that, according to section 1861(s)(2)(K) of the Act, nurse practitioners and others can perform and, where appropriate, bill for a service that is a physician service and within the scope of their practice. In adopting codes for certification and recertification of home health services and denominating them as billable physician services, we might be perceived as enabling these practitioners to bill those codes. However, nurse practitioners and others not specified under section 1861(r) of the Act cannot meet the requirements for certifying and recertifying home health services under sections 1814 and 1835 of the Act that independently require physician certification and recertification to establish the necessity of treatment.

Comment: Many commenters indicated they knew about the CPT panel's plans to change the code definition for 2001. They indicated that the CPT definition revision adding the reference to non-health professionals was merely to clarify that communication with these individuals is sometimes just as integral in providing good care. Some commenters also suggested that this was allowable when the codes were originally developed.

Response: We disagree with the commenters. When we originally established a separate payment for this service, we established a G code to describe the service. The CPT subsequently adopted the code. It was always our intent, as discussed above, to count the time spent with other health care professionals toward the 30-minute threshold. Although we agree that interactions with non-health care professionals are important to the overall care of patients, as explained in the previous response, such communication is included in the pre-visit and post-visit work of evaluation and management codes.

Comment: Many commenters expressed concern that adopting these G codes would complicate billing for care plan oversight services and exacerbate confusion surrounding these services, particularly since two sets of codes will exist for care plan oversight (CPT and HCPCS).

Response: Although we understand the commenter's concern, we feel the revised definitions for CPT codes 99375 and 99378 necessitate the establishment of temporary HCPCS codes G0181 and G0182. To assure consistency with current Medicare policy, we find it necessary to retain the current definitions of care plan oversight by the use of temporary HCPCS codes G0181 and G0182.

Certification and Recertification

Comment: Commenters generally supported the proposed new codes for certification and recertification, and some commenters emphasized that the codes will have a positive impact on patient care and also enhance the role of the physician in home care. However, some commenters were concerned that the CPT/RUC process was not used for the introduction of these codes, and recommended that these codes be submitted to the CPT panel for establishment of codes.

Response: We wanted the home health certification and recertification codes to become active as soon as possible after the implementation of Medicare's new home health prospective payment system that was effective October 1, 2000. Requesting the CPT panel to adopt these codes was likely to delay their introduction. However, we will now ask the CPT panel to consider adopting these codes.

Comment: A few commenters expressed concern that the proposed values for the codes were provided with no explanation; thus, it was difficult to evaluate the proposal.

Response: To value these codes, we estimated the value of the work involved. We expect to re-evaluate these services once physicians become more familiar with the new home health payment system and use of this procedure code. In addition, if the CPT panel adopts the codes, we expect that the RUC would also review them.

Comment: A few commenters asked whether surgeons may bill for this service or whether the service is included in the surgeon's global fee. These commenters recommended that surgeons be allowed to bill outside the global surgery rules.

Response: Surgeons who refer patients for Medicare-covered home health care and who are certifying (or recertifying) the plan of care will be able to report codes G0179 and G0180.

Comment: We received comments that objected to our proposal to adjust the conversion factor to assure that physicians expenditures would not increase as a result of separate payment for this service. Some commenters stated that a budget-neutrality adjustment should not be performed because they believed these were new services that should appropriately increase physician expenditures.

Response: We address this comment in the impact section of this rule.

Comment: One commenter suggested we revise the definition of certification and delete reference to a “patient who has not received Medicare-covered home health services for at least 60 days.” There are scenarios when a patient may require a new initial certification but 60 days have not lapsed.

Response: Based on the opinions of our medical experts, we believe that creating a new plan of care is significantly more work than making even major modifications to a home health care plan. We plan to reconsider this issue once we have more experience with these codes.

Comment: Another commenter expressed concern about the ambiguity of codes for care plan oversight, certification, and recertification. The commenter also believed we needed to take a more comprehensive approach to informing physicians about the home health prospective payment system and new codes.

Response: We expect the discussion of these codes in this preamble to clarify their use. If additional questions remain, they can be addressed to our contractors who process Medicare bills. Our contractors will notify physicians about fee schedule changes for 2001.

Result of Evaluation of Comments

For care plan oversight, we are establishing the following two new codes as proposed:

• G0181 Physician supervision of a patient receiving Medicare-covered services from a participating home health agency (patient not present) requiring complex and multidisciplinary care modalities involving regular physician development and/or revision of care plans, review of subsequent reports of patient status, review of laboratory and other studies, communication (including telephone calls) with other health care professionals involved in patient's care, integration of new information into the medical treatment plan and/or adjustment of medical therapy, within a calendar month; 30 minutes or more, and

• G0182 Physician supervision of a patient receiving Medicare-covered services from a Medicare-participating hospice (patient not present) requiring complex and multidisciplinary care modalities involving regular physician development and/or revision of care plans, review of subsequent reports of patient status, review of laboratory and other studies, communication (including phone calls) with other health professionals involved in patient's care, integration of new information into the medical treatment plan and/or adjustment of medical therapy, within a calendar month; 30 minutes or more.

As stated in the proposed rule, current policy guidance that applied to CPT codes 99375 and 99378 will continue to apply to these G codes, and current payments for CPT codes 99375 and 99378 will be maintained in G0181 and G0182, respectively.

For the services involved in physician certification (and recertification) and the development of a plan of care for a patient for whom the physician has prescribed Medicare-covered home health services, we are establishing two new codes as proposed:

• G0180 Physician services for initial certification of Medicare-covered home health services, billable once for a patient's home health certification period. This code will be used when the patient has not received Medicare-covered home health services for at least 60 days.

• G0179 Physician services for recertification of Medicare-covered home health services, billable once for a patient's home health certification period. This code would be used after a patient has received services for at least 60 days (or one certification period) when the physician signs the certification after the initial certification period.

The G0179 code will be reported only once every 60 days, except in the rare situation when the patient starts a new episode before 60 days elapses and requires a new plan of care to start a new episode. For services within the episode that are consistent with the definition of care plan oversight, the care plan oversight code (G0181) would be used.

Consistent with section 1835(a)(2) of the Act, a physician who has a significant ownership interest in, or a significant financial or contractual relationship with a home health agency (HHA), generally cannot bill this code for patients served by that HHA.

We have retained the proposed relative values, for the reasons stated earlier. The physician work associated with HCPCS code G0180 will be valued at 0.67 and for G0179 the physician work will be valued at 0.45. We will use the practice expense inputs used for care plan oversight (G0181) for both codes.

F. Observation Care Codes

In the July 17, 2000 proposed rule (65 FR 44196) we indicated that allowing payment under the fee schedule for CPT codes 99234 through 99236, Observation or inpatient hospital care services (including the admission and discharge services) for a patient on the same date, conflicts with two policies currently in the Medicare Carrier Manual (MCM). Section 15505.1(c) in the MCM states that we only pay for a hospital admission when a patient is admitted as an inpatient and is discharged on the same day. Section 15504.b of the MCM states that CPT codes 99218 through 99220 (Initial Observation Care) should be used if the patient is discharged on the same day as the admission for observation only. Observation care discharge (CPT code 99217) may be used only on the second or subsequent days for observation care.

These policies also result in different payments for patients whose inpatient stay is less than 24 hours based solely on whether they were in the hospital at midnight. For example, a physician who admits a patient to observation or to inpatient care at 8 a.m. and then discharges the patient at 8 p.m. the same day is paid for only the admission service. On the other hand, a physician who admits a patient to observation or to inpatient care at 8 p.m. and then discharges the patient at 8 a.m. the next day, is allowed payment for both the admission and discharge services.

In response to these concerns, and to clarify our payment policy, we proposed the following:

Inpatient Stay of 24 Hours or More

We would pay for both inpatient hospital admission services (CPT codes 99221 through 99223) and hospital discharge services (CPT codes 99238 and 99239) when a patient is a hospital inpatient for a period of 24 hours or more. The medical record would have to document that the patient was an inpatient for at least 24 hours for both of these services to be paid.

Inpatient or Observation Stay of Less Than 8 Hours

If a patient is admitted as a hospital inpatient or an observation care patient for less than 8 hours, we will pay for only the admission service (CPT codes 99221 to 99223 or 99218 to 99220) on that day. The discharge service is not a separately billable service.

Inpatient or Observation Stay of 8 or More Hours, But Less Than 24 Hours

If a patient is admitted as a hospital inpatient or an observation care patient for a period of 8 or more hours, but less than 24 hours, we will pay for both the admission and discharge services under CPT codes 99234 through 99236 with the following proposed physician work RVUs and documentation requirements:

Physician Work RVUs

To properly value both the admission and discharge work of these services, we proposed to continue valuing the admission portion of the physician work as equivalent to CPT codes 99218 through 99220 (or CPT codes 99221 through 99223) and to reduce the discharge work RVUs from 1.28 to 0.67. Thus, the work RVUs would be as follows: CPT code 99234—1.95 RVUs; CPT code 99235—2.81 RVUs; CPT code 99236—3.66 RVUs. Our policy would allow payment for CPT codes 99234 through 99236 only for stays of equal to or greater than 8 hours, but less than 24 hours.

In addition to the documentation guidelines for history, physical examination, and medical decision making described in CPT 2000 for CPT codes 99234 through 99236, we proposed requiring the following to be documented in the medical record:

• A stay involving 8 hours, but less than 24 hours.

• The billing physician was present and personally performed the services.

• The admission and discharge notes were written by the billing physician.

Comment: A number of commenters disagreed with our proposal. They stated that we recently accepted the work values for CPT codes 99234 through 99236 and should not make changes now. They also stated that, instead of finalizing our proposal, we should change our payment policy in the MCM regarding payment for hospital admissions and discharges on the same day. Other commenters said that the proposed documentation requirements were onerous. These commenters said that the work value for discharging a patient on the same day as admission to the hospital or observation was the same as the work value for discharging a patient in the hospital for one or more days.

Response: We agree with the commenters that the work value for discharging a patient on the same day as admission is similar to the work value for discharging a patient on subsequent days.

We disagree with the commenters on the subject of documentation. We do not believe it is onerous to require a physician to document the length of time the patient remains in observation status. Minimal documentation, such as noting the hours in observation status, is required in the medical record to do this. There are other reasons to document the time a patient was seen and orders were written. For example, such documentation allows physicians and facilities to improve the quality of care they deliver. We also continue to believe that a recorded time requirement is necessary to assure that patients are truly being observed and treated for conditions that require ongoing care. Regarding payment for admission and discharge on the same day, we have long established policy that we will pay for only one E/M service per physician per patient per day for the same diagnosis, and we do not wish to revisit that policy.

Admission and discharge of a patient from observation or the hospital on the same calendar date should be billed as CPT code 99234 or 99235 or 99236. The hospital and observation admission/discharge codes should be used when a patient is admitted and discharged on different calendar dates.

In view of the foregoing explanation, our policy is as follows:

• The relative work values of CPT codes 99234 through 99236 will remain unchanged.

• For a physician to appropriately report CPT codes 99234 through 99236 for Medicare payment, the patient must be an inpatient or an observation care patient for a minimum of 8 hours on the same calendar date.

• When the patient is admitted to observation status for less than 8 hours on the same date, then CPT codes 99218 through 99220 should be used by the physician and no discharge code should be reported.

• When patients are admitted for observation care and then discharged on a different calendar date, the physician should use CPT codes 99218 through 99220 and CPT observation discharge code 99217.

• When patients are admitted to inpatient hospital care and then discharged on a different calendar date, the physician should use CPT codes 99221 through 99223 and CPT hospital discharge day management codes 99238 or 99239.

• For an inpatient admission and discharge less than 8 hours later on the same calendar date, CPT codes 99221 through 99223 should be used for the admission service, and the hospital discharge day management service should not be billed.

• The physician must satisfy the documentation requirements for both admission to and discharge from inpatient or observation care to bill CPT codes 99234, 99235, or 99236. The length of time for observation care or treatment status must also be documented.

We believe that this policy meets the concerns of the commenters and allows us to resolve the discrepancies in payment policy regarding same day hospital and observation care admission and discharge.

Result of Evaluation of Comments

The work RVUs for CPT codes 99234 through 99236 used for reporting admission for observation care, or inpatient hospital care and discharge on the same calendar date will not be changed. The policies outlined above must be followed when reporting these codes.

G. Ocular Photodynamic Therapy and Other Ophthalmological Treatments

Ocular photodynamic therapy (OPT) is a treatment recently approved by the Food and Drug Administration for age-related macular degeneration, the most common cause of blindness in the elderly. For CPT 2000, ocular photodynamic therapy was added to CPT code 67220, which was formerly limited to photocoagulation by laser. Because we believe that OPT is significantly different from laser photocoagulation, we proposed to establish new HCPCS codes that specifically identify these procedures as follows:

Gxxx5—“Destruction of localized lesion of choroid (e.g., choroidal neovascularization); photocoagulation (e.g., by laser), one or more sessions.” We proposed using this code in place of CPT code 67220 and maintaining the work and malpractice RVUs and the CPEP inputs presently used for CPT code 67220 for payment of this new “G” code.

Gxxx6—“Destruction of localized lesion of choroid (e.g., choroidal neovascularization); ocular photodynamic therapy (includes intravenous infusion).” We proposed a value of 0.55 work RVUs and 0.52 RVUs for the malpractice component with a global period of “XXX.”

We also proposed the following practice expense inputs for non-facility settings:

• Clinical Staff Time. Registered nurse/ophthalmology technician—40 minutes;

• Supplies. Ophthaine, mydriacil, myolfrin, gonisol, post myd spectacles, verteporfin and also infusion supplies including sterile and non-sterile gloves, butterfly needle, syringe, band aid, alcohol swab, staff gown, iv infusion set, and infusion pump cassette;

• Equipment. Laser, infusion pump, and exam lane. We noted that, while we proposed establishment of procedure codes for ocular photodynamic therapy, coverage of the procedure is at the discretion of the local carrier.

In instances where both eyes are treated the same day, we proposed the use of the following HCPCS add-on code: Gxxx7—“Destruction of localized lesion of choroid (e.g., choroidal neovascularization); ocular photodynamic therapy (includes intravenous infusion) other eye.” (List separately in addition to Gxxx6.) For this add-on code we proposed a “ZZZ” global period, with .28 work RVUs (half of that proposed for Gxxx6) and .52 malpractice RVUs (identical to that proposed for Gxxx6). The proposed practice expense inputs for services in the non-facility setting were as follows:

• Clinical Staff Time. Registered nurse/ophthalmology technician—5 minutes;

• Supplies. Ophthaine, mydriacil, myolfrin, and gonisol.

In addition, we identified several other specific ophthalmological treatments that are not distinctly identified in CPT 2000. We proposed to establish specific HCPCS codes for these procedures:

“Destruction of localized lesion of choroid (e.g., choroidal neovascularization); transpupillary thermotherapy, one or more sessions”;

“Destruction of localized lesion of choroid (e.g., choroidal neovascularization); photocoagulation, feeder vessel technique, one or more sessions”; and

“Destruction of macular drusen, photocoagulation, one or more sessions”.

We did not propose RVUs for HCPCS codes Gxxx8 through Gxx10 and indicated that the procedures represented experimental procedures and that the codes would be used for tracking purposes.

Since publication of the proposed rule, the AMA CPT editorial panel has approved a CPT code for Ocular Photodynamic Therapy, CPT code 67221, effective for CPT 2001, and removed the procedure as an example of a service included in CPT code 67220. In addition, verteporfin has been approved for inclusion in the United States Pharmacopeia and can now be billed separately as a drug under the Medicare program.

Comment: Several commenters requested that we withdraw our proposal to establish a G code for OPT in view of the establishment of a CPT code for this service. These commenters also recommended that we continue to recognize CPT code 67220 with its current RVUs.

Response: We agree with the commenters and are withdrawing our proposed G code for OPT. We will establish RVUs for CPT 67221 as described below. We will also continue to recognize CPT code 67220 and will maintain its current RVUs. We are removing verteporfin from the supplies included in practice expenses because the drug is now separately billable under Medicare.

Comment: We received comments in agreement with our proposal to establish an add-on G code for OPT performed on a second eye at the same sitting.

Response: We agree with the commenters and are finalizing this proposal. We will establish RVUs for this G code as described in a response found later in this section.

Comment: We received comments from physician groups agreeing with our proposal to establish three G codes for transpupillary thermotherapy (TTT), feeder vessel technique, and destruction of macular drusen. It was also pointed out that these services are not necessarily experimental, as we had stated in the proposed rule. All of these commenters said that coding these procedures as CPT 67220 was inappropriate because the work involved in performing these three procedures was substantially less than the work required for 67220. These commenters also agreed with our goal of tracking the utilization of these services and offered to assist us in developing national payment policy when appropriate. One commenter, representing a laser manufacturer, recommended continuing to allow TTT to be coded as 67220. Although this commenter stated that the work of TTT was similar to the work of 67220, no rationale was submitted for this comparison.

Response: We agree with the commenters who supported our proposal and are finalizing it. However, coverage and payment for these G codes will be at the discretion of each carrier. We want to thank the commenters offering to assist us in developing national payment policy at the appropriate time. We will review the frequency with which these procedures are performed on Medicare beneficiaries, and, when there is sufficient Medicare experience with this procedure, we will consider development of national payment policies for these services.

Comment: Several national ophthalmologic organizations submitted detailed information and recommendations regarding work RVUs, practice expense inputs, and malpractice RVUs for OPT.

Comment: Regarding work RVUs, the physician organizations submitted a joint recommendation of 5.08 work RVUs for this service based on a RUC survey and comparison of OPT to similar retinal procedures such as CPT codes 67141 and 67210 and the similar photodynamic procedure 43228 and 96570.

Response: Based on comments received from specialty societies and a comparison of the work values for this procedure with the work values for CPT code 67210 (Destruction of localized lesion of retina), we have assigned 4.01 work RVUs to this service. The intraservice times and work intensities for CPT codes 67210 and 67221 are comparable. Therefore, adjusting for the work value of the postoperative visits (because CPT code 67210 has a 90-day global period) and the 20 percent retreatment rate included in CPT code 67210 and then applying the intraservice work intensity of CPT codes 67210 and 67221 yields an appropriate work value for CPT 67221. In addition, we are assigning a 0-day global period to this code, since this most accurately reflects the pre-, intra-, and post-service work and practice expense RVUs for this procedure.

Comment: Commenters agreed that the work value for performing OPT on a second eye at the same session as the first eye was 10 percent of the work value for the first eye. This was felt to be uniform for pre-, intra-, and post-service work.

Response: We agree with the commenters and are establishing a work RVU of 0.47 for G0184, the add-on code for the second eye. The global period for this code will be ZZZ as proposed.

Comment: Commenters agreed with our crosswalk of malpractice RVUs from CPT code 67220.

Response: We are finalizing our malpractice RVUs as proposed.

Comment: Commenters submitted a list of practice expense inputs for ocular photodynamic therapy.

Response: We agree with the practice expense inputs submitted by the commenters; however, we are adjusting the registered nurse time to eliminate a duplication in the counting of tasks reflected in their comments (reduction of two minutes) and have omitted the lens, which is reusable. A list of the direct inputs for practice expense is provided below under “Result of Evaluation of Comments”.

Result of Evaluation of Comments

We will continue to recognize CPT code 67220 “Destruction of localized lesion of choroids (e.g., choroidal neovascularization); photocoagulation, one or more sessions, (e.g., by laser)” with its current RVUs. We are recognizing new CPT 67221 “Destruction of localized lesion of choroids (e.g., choroidal neovascularization); photodynamic therapy (includes intravenous infusion)” for ocular photodynamic therapy and establishing a work RVU of 4.01, a malpractice RVU of 0.52 and using the following direct inputs for determining practice expense:

• Clinical Staff Time. Registered nurse—65 minutes; Certified ophthalmology technician—14 minutes;

• Equipment. Laser, infusion pump, exam chair and slit lamp; and,

• Supplies. Opthaine, mydriacyl, myolfrin, gonisol, infusion kit (includes all infusion supplies), gloves, drape, gown, band aid.

For G0184 “Destruction of localized lesion of choroid (e.g., choroidal neovascularization); ocular photodynamic therapy (includes intravenous infusion) other eye” which is the add-on code for ocular photodynamic therapy of the second eye, we are establishing a work RVU 0.47 and a malpractice RVU of 0.52. The following direct inputs will be used for calculating practice expense:

• Supplies. Opthaine, mydriacyl, myolfrin, and gonisol.

In addition, we are establishing the following HCPCS codes for other ophthalmologic procedures:

G0185 for “Destruction of localized lesion of choroid (e.g., choroidal neovascularization); transpupillary thermotherapy, one or more sessions”; G0186 for “Destruction of localized lesion of choroid (e.g., choroidal neovascularization); photocoagulation, feeder vessel technique, one or more sessions”; and G0187 for “Destruction of macular drusen, photocoagulation, one or more sessions”. Coverage and payment for these G codes will be at the discretion of each carrier.

H. Electrical Bioimpedance

Electrical bioimpedance (EB), a noninvasive method of measuring cardiac input, is a covered procedure under Medicare, if medically necessary. Performance of this procedure is reported by the Level 2 HCPCS code M0302, and the procedure is currently carrier-priced. In the July 17, 2000 rule, we proposed the following RVUs for this procedure:

1. Practice Expense

We proposed the following direct inputs for determining practice expense RVUs.

• Clinical staff time. Registered nurse—15 minutes.

• Supplies. Four disposable sensors, patient gown, exam table paper, and pillowcase.

• Equipment. Cardiac output monitor and exam table.

2. Malpractice

We proposed 0.02 RVUs for this procedure.

3. Physician Work

We stated that with respect to RVUs for physician work, we had insufficient information to propose a work value and invited comments on this subject.

We also proposed that the payment for this procedure be included in reporting critical care. Therefore, separate payment would not be made for this procedure when provided in conjunction with critical care services (CPT codes 99291 and 99292).

Comment: There was general agreement with the proposed direct practice expense inputs. Commenters agreed that, although the amount of time for the procedure can vary, the typical time is 15 minutes. They noted that the price for the sensors per treatment was higher than the type of sensors used in an EKG. Commenters also indicated that the average cost of the bioimpedance monitor was $27,000 (we had priced the equipment at $22,790). A specialty group provided direct practice data obtained from a survey they had conducted. The data reflected similar supplies as proposed, with the addition of alcohol swabs and also stated the price of the equipment was $26,225. These data also reflected a clinical staff (registered nurse) time of 29 minutes.

Response: For the practice expense inputs, we are adjusting the cost used for the bioimpedance monitor (increasing the proposed amount $22,790 to $25,700). In addition, the alcohol swabs will be added to the supplies. The specific price allocated to the disposable sensors was $9.95 which was comparable to the $9 to $10 range reflected in the comments received; therefore, no change is being made to the price of the sensors. We are making no adjustment to the clinical staff time because, based on further discussions and observation of the service being performed, we believe 15 minutes of registered nurse time is reasonable.

Comment: While some commenters agreed with the proposed value of .02 for malpractice, a few commenters indicated that the proposed value of .02 for malpractice was slightly low. They recommended a value of .06 that is the malpractice RVU for CPT code 93720 (plethysmography).

Response: We will finalize our proposal of .02 RVUs for the malpractice component of this service because we continue to believe it is most similar to the malpractice component for an EKG.

Comment: Commenters recommended work values ranging from 0 work RVUs to work RVUs similar to EKG Interpretation (CPT code 93010), Total Body Plethysmography (CPT code 93720), Exercise Tolerance Test (CPT code 93018), Cardiac Output Measurement by thermodilution (CPT code 93561) and Echocardiography (CPT code 93320).

Response: The physician work required for performance of this service involves reading and interpreting a series of numerical measurements. This is generally done in conjunction with an evaluation and management service because the measurements produced by this procedure are difficult to interpret without a clinical evaluation of the patient. To determine what, if any, work RVUs to establish for this procedure, we identified physician work that would be attributed to this procedure and would not be billed as part of an evaluation and management service.

The fact that the information gained from a test is used in making treatment decisions is irrelevant to the issue of determining physician work (for example, results of urinalyses, complete blood counts (CBCs) are used to make clinical decisions, but these tests do not contain a physician work component). For example, it is possible to make an electrocardigraphic diagnosis (for example, left ventricular hypertrophy, acute Myocardial Infarction, Heart Block) through analysis of the waveforms on an EKG without a clinical evaluation of the patient. This separately identifiable work is what justifies establishment of work RVUs for interpretation of EKGs. It is not as easy to identify separately identifiable work in the case of cardiac bioimpedance. The measurements produced by cardiac bioimpedance include blood pressure, pulse, cardiac output, vascular resistance and thoracic fluid content. Generally, abnormalities in any of these do not allow a diagnosis to be made (for example, hypertension or heart failure). These measurements are used to provide additional information to a physician who is clinically evaluating a patient, in much the same way that results of a CBC and urinalysis are used. However, after reviewing the comments, we currently believe there is a small amount of physician work in interpreting the measurements produced by cardiac bioimpedance that is not billable as part of an E/M service. For example, if a physician reviews, interprets, and issues a report, then separate work can be identified.

We believe that this physician work is most similar to the work of interpreting an EKG and have assigned a work RVU of .17 for the professional component of cardiac bioimpedance. We wish to emphasize that in order for the PC to be billed, all the requirements for billing a diagnostic test must be satisfied. We will also bundle the PC into critical care when critical care services are furnished, since the critical care service includes the review of such tests. Furthermore, we will allow this service to be billed once per physician, per patient, per day.

Result of Evaluation of Comments

For HCPCS code M0302, we are establishing a work RVU of .17, a malpractice value of .02 and are using the following inputs for PE

• Clinical Staff Time. Registered nurse—15 minutes.

• Supplies. Four disposable sensors, patient gown, exam table paper, pillowcase, and four alcohol swabs.

• Equipment. Cardiac output monitor and exam table (using a price of $25,700 for the monitor).

We note that there is a TC and a PC for this service. The direct practice expense inputs listed above will be part of the TC.

I. Global Period for Insertion, Removal, and Replacement of Pacemakers and Cardioverter Defibrillators

We proposed to change the global period for the insertion, removal, and replacement of pacemakers and cardioverter defibrillators (CPT codes 33206, 33207, 33208, 33212, 33213, 33214, 33216, 33217, 33218, 33220, 33233, 33234, 33235, 33240, 33241, 33244, 33249, 33282, and 33284) to 0 days. This would permit separate payment for any care furnished during the post-operative period by the physician who performed the pacemaker or cardioverter defibrillator procedure. We also proposed an adjustment to the physician work RVUs and practice expense inputs to reflect the change in global period for these codes.

Comment: Several physician organizations recommended withdrawal of this proposal. They commented that the proposed reduction in work and payment for these codes was too drastic and was inappropriate since most of the work in these procedures was intraservice work. They also stated that physicians who insert pacemakers and cardioverter defibrillators generally do not see their patients postoperatively and do not render any postoperative care for related conditions.

Response: We are deferring this proposal because of the concerns raised about the adjustment to the work RVU under our proposed policy. Nonetheless, we believe that some commenters have raised points that, if accurate, suggest that a 0-day global period and adjustment to the work RVU is appropriate. We proposed this policy because of our concern that cardiologists are providing post-operative services during the 90-day global period, as well as evaluation and management services to treat underlying heart conditions that are unrelated to the insertion, removal and replacement of a pacemaker or cardioverter defibrillator.

Our proposed policy was intended to facilitate separate payment for the evaluation and management services unrelated to the surgical service. Our concern was that the 90-day global period was precluding separate payment for the evaluation and management services. However, we received comments that indicated that cardiologists do not typically provide the post-operative services related to surgical service. If this is the case, we believe that a 0-day global period is appropriate for these procedures. Moreover, if the comment is accurate, the current (not the proposed) work and practice expense RVUs are likely overstated because these values are based on one physician providing both the surgical and post-operative services. In general, we believe that the refinement process is useful for revaluing services when the nature of the service has changed from its previous valuation. If the commenters are correct, the issue of the global period and appropriate relative value units for these services will need further review. We look forward to working with the physician community to better understand the typical practice with regard to the provision of services related to insertion, removal and replacement of pacemakers and cardioverter defibrillators. We welcome any review of this issue that may be undertaken by the RUC as part of their recommendation related to the 5-year review of work and the PEAC on issues related to practice expense.

Nevertheless, we are not finalizing our proposal with respect to this issue because we believe that physicians have raised valid concerns that the adjustment to the work RVU in the proposal may result in an underpayment for the service. Until there is further review of this issue, we are continuing with current pricing for these services and the use of a 90-day global period.

Result of Evaluation of Comments

No change will be made to the global period for CPT codes 33206, 33207, 33208, 33212, 33213, 33214, 33216, 33217, 33218, 33220, 33233, 33234, 33235, 33240, 33241, 33244, 33249, 33282, and 33284 in this rule.

J. Antigen Supply

In the July 2000 rule we proposed amending § 410.68(b), Antigens: Scope and conditions, to change the limitation of antigen supply from 12-weeks to 12-months to be more reflective of current industry standards and guidelines.

Comments: The majority of commenters, including national and State specialty associations, supported this change and indicated that it was not only reflective of current industry standards but would improve patient care and benefit patients and practitioners alike. However, a few commenters did not agree with this revision, and felt that stability of the extracts over time is still questionable. They recommended that the 12-weeks limitation be maintained, or that it be changed to no more than 6 months.

Response: We continue to believe that revising the regulation is appropriate, so that it is reflective of current industry standards. To the extent that the 12-month time period is inappropriate for specific antigens, it is a physician's responsibility to assure that the clinical potency of the antigen is preserved by furnishing a supply of antigens for a shorter time frame. The revision to the regulation simply allows a physician to furnish a 12-month supply of antigens when the physician believes it is appropriate, based on the specific antigens involved.

Result of Evaluation of Comments

We are revising the regulation at § 410.68(b) as proposed.

K. Low Intensity Ultrasound

We proposed to remove the RVUs that were assigned to CPT code 20979, low intensity ultrasound stimulation to aid bone healing. We made this proposal because of concerns raised by commenters, and because the service was a noncovered service under Medicare.

Comment: One specialty organization pointed out that on July 31, 2000, subsequent to publication of the proposed rule, a HCFA National Coverage Decision Memorandum was issued stating that ultrasound stimulation for the treatment of established nonunions is now covered under Medicare.

Response: As pointed out by the commenter, since publication of our proposed rule on July 17, 2000, a National Coverage Decision has been made that states that low intensity ultrasound will be covered by Medicare as a treatment modality for nonunion of extremity fractures. This restricted coverage takes effect on April 1, 2001. Therefore, this service will be noncovered until that time. Although low intensity ultrasound was approved under the durable medical equipment benefit, a single training session for the patient in the use of the device is required. This session is generally provided by a physician, or under the direction of a physician, and is appropriately reported as CPT code 20979, “Low intensity ultrasound stimulation to aid bone healing, noninvasive (nonoperative)”. This service is comparable to the service provided under CPT code 20974 “Electrical bone stimulation to aid bone healing; noninvasive (nonoperative)”. Both are training sessions provided to a patient once per course of treatment by a physician or under a physician's direction. Based on this, and in light of concerns raised on the interim RVUs contained in last year's final rule, we will crosswalk the work RVUs and the malpractice RVUs for CPT code 20974 to CPT code 20979. We will use the following direct inputs for determining practice expense:

• Clinical Staff Time. Technician—45 minutes.

• Equipment. Exam table.

• Supplies. Minimum visit package.

In addition, we are assigning a global period of “XXX”. However, we expect that CPT code 20979 will be billed only once per treatment period, and we will require the use of the -25 modifier with any E/M service billed by a physician for the same patient on the same day as CPT code 20979. Therefore, any E/M service billed in addition to CPT code 20979 must be distinct and separately identifiable.

Comment: One commenter agreed with our proposed elimination of RVUs for this code, and requested that we eliminate all RVUs for status N codes (that is, codes that are non-covered by Medicare). The commenter felt that the RVUs associated with status N codes may contain overvalued misrepresentations and that since non-governmental insurers use the Medicare Fee Schedule as a basis for payment, use of RVUs for status N codes grossly misrepresents equitable payment for these types of services.

Response: As noted in the response above, based on the National Coverage Decision Memorandum, we are retaining the RVUs for CPT code 20979 in the Medicare fee schedule. We will further review issues related to publishing RVUs for non-covered services and may address it in future rulemaking.

Result of Evaluation of Comments

We are assigning .62 work RVUs and .04 malpractice RVUs to CPT code 20979 (which are the values also used for CPT code 20974) and the direct inputs of: technician time of 45 min., an exam table, and minimum supply package will be used to determine practice expense. We note that the inputs for practice expense are subject to refinement.

L. Implantation of Ventricular Assist Devices

In the July 2000 rule, we proposed to revise the practice expense RVUs associated with the CPT codes 33975 and 33976 (implantation of ventricular assist devices) to reflect an “XXX” global period. The purpose of this revision was to ensure that the practice expense RVUs reflect the global period change published in the April 11, 2000 correction notice (65 FR 19332) to the November 1999 final rule. No comments were received on this proposal and we are finalizing it as proposed.

III. Other Issues

A. Incomplete Medical Direction

We currently do not have a national policy that instructs carriers on the method of payment for a service when the anesthesiologist does not fulfill all the medical direction requirements. One option carriers may use is instructing the anesthesiologist to report this service as a reduced or unusual service to determine appropriate payment. We did not make a specific proposal, but indicated that we would like to clarify this policy. We outlined possible options in the July 2000 proposed rule that could be alternatives for future rulemaking consideration. We requested comments, particularly from physicians and practitioners most affected by this policy.

We received comments from both of the major anesthesia groups, the American Society of Anesthesiologists and the American Association of Nurse Anesthetists, as well as a few state anesthesiology groups and practicing anesthesiologists. We will review these suggestions as we determine whether to make a future proposal.

B. Payment for Pulse Oximetry Services

In the July 2000 proposed rule, we clarified that we will continue to pay separately for certain diagnostic codes, including pulse oximetry (CPT codes 94760 and 94761), when they are medically necessary and there are no other services payable under the physician fee schedule billed on the same date by the same supplier.

Comment: Commenters were appreciative of the policy clarification; however, they continue to believe that we should allow separate payment for this service when provided in conjunction with other services, particularly after years of paying separately for this service. Under current policy, physicians are unable to receive payment for the practice expense associated with the service if it is provided on the same day as another service (for example, E/M). Commenters continue to believe that there is additional identifiable work involved that should be paid by Medicare. One commenter stated that this activity is not included in an E/M vignette, and thus, it should not be bundled into an E/M service.

Response: As explained in last year's final rule, we believe pulse oximetry is no more resource intensive, and arguably less so, than recording the patient's temperature, another example of a diagnostic service for which we do not make separate payment. Because this technology has progressed and been simplified and reduced in cost, pulse oximetry is a routine, minor part of a procedure or visit. We will continue to bundle payment for CPT codes 94760 and 94761 when they are provided the same day as other services. The interpretation of pulse oximetry is part of the medical decision making included in the E/M service. The medical decision making process involves the physician's assessment and treatment plan unique to the individual patient. CPT vignettes are examples and do not necessarily include every potential activity which may occur in the medical decision making process.

Comment: One commenter pointed out that we require an arterial blood gas (ABG) or pulse oximetry for patients requiring oxygen, and that an ABG is a more expensive service than pulse oximetry, and also can be more burdensome to the patient. Therefore, we should continue to reimburse for this service.

Response: As previously explained, we will make separate payment for pulse oximetry services (CPT codes 94760 and 94761) when it is medically necessary and there are no other services payable under the physician fee schedule billed on the same day by the same supplier.

Result of Evaluation of Comments

We will continue with the policy of bundling payment for pulse oximetry (CPT codes 94760 and 94761) when it is provided on the same day as another service. Separate payment for these codes may be made only when the services are medically necessary and there are no other services payable under the physician fee schedule billed on the same date by the same supplier.

C. Outpatient Therapy Supervision

In the July 2000 proposed rule, we clarified that therapy assistants must be personally supervised by the therapist in private practice and employed directly by the therapist, by the partnership or group to which the therapist belongs. We did not make a proposal, and the discussion was provided for informational purposes only. We felt that this explanation was necessary, since revisions in the November 1998 final rule (63 FR 58814) had prompted confusion in the therapy industry. They believed that we had misinterpreted the supervision requirement or had established a new requirement for therapy assistants in the private practice setting. We wanted to clarify that the requirements for therapy assistants in a private practice setting had not changed from the longstanding requirements established in Medicare Carriers Manual (MCM) instructions (see section 2215F, HCFA Pub. 6) revised in 1981.

Comment: Two therapy associations asserted that we have established a new supervision requirement for therapy assistants in the private setting. They base their assertion upon an analysis of the legislative and regulatory history pertaining to supervision of therapy assistants in a private practice setting. According to the associations, we should state in this rule that direct supervision, rather than personal supervision, is required for therapy assistants in the private practice setting. In addition, they requested this statement because Medicare carriers are now examining claims prior to 1999, and seeking money from therapists for services furnished without the therapist being “in the room” with the therapy assistant.

Response: In light of the comments received, we are carefully examining this issue. We did not propose any change in the supervision requirement for therapy assistants in the private setting in the final rule published November 2, 1998 (63 FR 58860). Any change in the level of supervision would need to be addressed in a future proposed rule.

Comment: Two medical associations requested clarification as to whether a physical therapist could bill for services without ever providing or supervising the performance of that service. In addition, clarifications were requested about the application of the physical therapy supervision policy and the “incident to” rules applicable to the physician services benefit.

Response: First, we note that the physical therapy supervision policy only relates to the therapist in the private practice setting. A therapist cannot bill for services that he or she has not either personally performed or supervised the performance of the service. Moreover, there is no “incident to” provision in the physical therapy benefit, unlike the physician services benefit. However, a physician may employ a therapist, and the services of the therapist may be billed as “incident to” the physician's services if all the requirements of section 2050 through 2050.1 of the MCM are met.

Comment: A revision in section 2050.2 of the MCM is urged by a psychiatric association to allow physicians who own a practice to be off the premises when other legally authorized practitioners, for example, psychologists and clinical social workers are present. An analogy to physical therapists in private practice was provided.

Response: The regulatory change that allowed physical therapists in private practice to be off the premises when other qualified therapists are present resulted from Congressional statements in both the House and Senate committee reports associated with our fiscal year 1997 appropriations process. To address the concerns expressed in these reports, we revised the regulations at §§ 410.59(c)(2) and 410.60(c)(2). With respect to the commenters reference to section 2050 of the MCM, this section discusses services and supplies furnished “incident to” a physician's professional services. As stated in section 2050.2 of the MCM, in order for the services of a nonphysician practitioner to be covered as incident to the services of the physician, the services must meet all the requirements for coverage specified in sections 2050 through 2050.1. There is no analogy between physicians and therapists in this circumstance, because there is no similar benefit covering services and supplies provided incident to a therapist's professional services. We have, therefore, no plans to revise section 2050.2 of the MCM. We would also note that some practitioners, such as clinical psychologists and clinical social workers, have a statutory benefit under Medicare, and may provide and bill for services without supervision of a psychiatrist.

D. Outpatient Therapy Caps

Section 221 of the BBRA placed a 2-year moratorium on Medicare Part B outpatient therapy caps (the $1500 cap on outpatient physical therapy services including speech language-pathology services and the $1500 cap on outpatient occupational therapy services in all nonhospital settings). The two $1500 caps were implemented in 1999 as required by the BBA.

The BBRA also requires us to submit to the Congress a report by January 1, 2001 that includes recommendations on—(1) the establishment of a mechanism for assuring appropriate utilization of outpatient therapy services; (2) the establishment of an alternative payment policy for outpatient therapy services based on classifications of individuals by diagnostic category, functional status, prior use of services (in both inpatient and outpatient settings), and other criteria, in place of uniform dollar limitations, and (3) how to do this in a budget-neutral manner.

In the July 17, 2000 rule, we provided examples of informal recommendations we have received on this issue, and asked for comments from the public on other alternatives that we might consider in developing a payment policy for outpatient therapy services. We indicated that this information would be considered in preparing our report to Congress on outpatient therapy services.

Result of Evaluation of Comments

Several organizations commented on the issue of outpatient therapy caps. Some groups responded to the examples provided in the proposed rule, while others offered other alternatives. We appreciate the information provided and will consider it as we develop the report to Congress.

E. HCPCS G Codes

Several commenters recommended that, instead of creating G codes, we work more closely with the AMA CPT Editorial Panel to establish or revise CPT codes to meet our requirements.

We have a long-established working relationship with the AMA CPT Editorial Panel. We prefer the use of CPT codes to the use of G codes for reporting physicians' services. In fact, this year, we initiated the establishment of a new CPT code that describes ocular photodynamic therapy (67221) for CPT 2001, and the revision of an old CPT code (67220) to remove ocular photodynamic therapy. We did this proactively to avoid the need to establish a G code. We, along with the ophthalmology societies, brought these recommendations to the CPT Editorial Panel. Thus we were able to withdraw our proposal for a G code for ocular photodynamic therapy. We also worked with the panel to establish CPT codes for artificial skin placement and wound care management that will enable to us to retire our G codes for these services.

We believe that sometimes HCPCS level 2 codes are useful to the CPT Editorial Panel process. For example, use of a new service can be tracked with the G codes to determine if a future CPT code is appropriate.

Frequently, we create G codes to reflect our own coverage and payment requirements. These requirements are usually very specific, and may make it inappropriate to create a CPT code for general use.

Moreover, in response to requests from physicians and others, we make coverage decisions on a rolling basis. Because the CPT process requires at least 1 year between approval and implementation of a CPT code, we must create a G code during the interim. We occasionally have specific coverage and payment requirements according to which Medicare payment is not made for a specific CPT code. This was the case with the revision of the care plan oversight codes. We specifically informed the CPT Editorial Panel before the codes were revised that the proposed revisions would be inconsistent with our established payment policy, and, therefore, we would need to create G codes for care plan oversight and not use the revised CPT codes. Similarly, we are finalizing our proposal to create G codes for several ophthalmologic procedures to track the use of these services and permit coverage and payment on a carrier-by-carrier basis. We had comments from the appropriate medical specialty societies, and determined that it was not appropriate to create CPT codes for these services at present. The specialty societies supported our creation of the G codes; this mechanism permits payment for these services while establishing a way to track their use. In the case of physician certification and recertification of a plan of care for home health services, we created two new G codes because of our interest in providing explicit payment for these services as a result of development of the home health prospective payment system (PPS). As we indicated in the home health PPS rule (65 FR 41163), we have decided to “focus our attention on physician certification efforts and education in order to better involve the physician in the delivery of home health services.” While we are imposing no new regulatory requirements on physicians related to these services, we felt that it was important to establish these two new codes quickly to allow separate payment for these services as soon as possible after implementation of the home health PPS on October 1, 2000.

Use of G codes is also consistent with section 1848(c)(5) of the Act, which specifically provides us with the authority to establish a uniform procedure coding system for the coding of all physicians' services.

In summary, we support the use of CPT codes. We establish G codes only when absolutely necessary. We would like to assure the medical community that we will continue work with the AMA CPT Editorial Panel to minimize the need for G codes. However, we have the responsibility for developing and implementing payment policy for the Medicare program. On occasion, we need to establish G codes to appropriately administer the Medicare program.

F. Work RVUs in Proposed Rule

Comment: A few commenters stated that work RVUs for some services were incorrect due to the incorrect placement of the decimal in Addendum B of the July 2000 proposed rule (65 FR 44210). They requested that we correct them in the final rule.

Response: Due to a programming error, some services were assigned incorrect work RVUs in Addendum B of the proposed rule. We have taken steps to ensure that this programming error is corrected.

G. Five-Year Refinement of Relative Value Units

In the July 17, 2000 proposed rule (65 FR 44201), we included a discussion on the activities underway with respect to the second five-year refinement of work RVUs. We indicated that we had received comments on potentially misvalued services from approximately 30 specialty groups, organizations and individuals, involving over 900 codes. We shared these comments with the RUC, which makes recommendations to us on the assignment of RVUs to new and revised CPT codes. We also discussed current initiatives involving the validation of physician time data.

Comment: Commenters expressed concern about the discussion on five-year review activities. They were unsure as to how the contractor activities outlined in the proposed rule would be coordinated with the RUC recommendations on work RVUs that will be forwarded to us for consideration. Commenters also expressed concern that contractor activities are primarily focused on physician time. They cautioned that other factors need to be considered in conjunction with time (for example, stress, physician effort, and technical effort) when valuing physician work.

Response: We discussed the data obtained by our contractors with the RUC. We also discussed with the RUC and the physician community the best use of the data obtained by our contractors.

Comment: One organization stated that, during the initial five-year review, budget neutrality was achieved by applying an 8.3 percent reduction to all physician work RVUs. They strongly encouraged us to distribute any impact across all specialties and all CPT codes for the current 5-year review.

Response: Based on our prior experience, we acknowledge that there has been significant interest in how we make adjustments to achieve budget neutrality as a result of work refinement. We will discuss potential options and propose an adjustment to ensure budget neutrality resulting from the work RVU refinement in next year's proposed rule.

Comment: One commenter asked when the Health Economics Research (HER) study data discussed in the proposed rule would be available.

Response: We anticipate that the study data will be available by December 1, 2000. We will be posting this information on our homepage. (Access to the homepage is discussed in the introductory section of this rule under Supplementary Information.)

IV. Refinement of Relative Value Units for Calendar Year 2001 and Responses to Public Comments on Interim Relative Value Units for 2000 (Including the Interim Relative Value Units Contained in the July 17, 2000 Proposed Rule)

A. Summary of Issues Discussed Related to the Adjustment of Relative Value Units

Section IV.B. of this final rule describes the methodology used to review the comments received on the RVUs for physician work and the process used to establish RVUs for new and revised CPT codes. Changes to codes on the physician fee schedule reflected in Addendum B are effective for services furnished beginning January 1, 2001.

B. Process for Establishing Work Relative Value Units for the 2001 Fee Schedule and Clarification of CPT Definitions

Our November 2, 1999 final rule on the 2000 physician fee schedule (64 FR 59380) announced the final work RVUs for Medicare payment for existing procedure codes under the physician fee schedule and interim RVUs for new and revised codes. The RVUs contained in the rule apply to physician services furnished beginning January 1, 2000. We announced that we considered the RVUs for the interim codes to be subject to public comment under the annual refinement process. In this section, we summarize the refinements to the interim work RVUs that have occurred since publication of the November 1999 final rule and our establishment of the work RVUs for new and revised codes for the 2001 fee schedule.

Work Relative Value Unit Refinements of Interim and Related Relative Value Units

1. Methodology (Includes Table titled Work Relative Value Unit Refinements of the 2000 Interim and Related Relative Value Units)

Although the RVUs in the November 1999 final rule were used to calculate 2000 payment amounts, we considered the RVUs for the new or revised codes to be interim. We accepted comments for a period of 60 days. We received substantive comments from approximately 11 specialty societies on approximately 29 CPT codes with interim work RVUs. Only comments on codes listed in Addendum C of the November 1999 final rule were considered.

We used a process similar to the process used in 1997. (See the October 31, 1997 final rule on the physician fee schedule (62 FR 59084) for the discussion of refinement of CPT codes with interim work RVUs.) We convened a multispecialty panel of physicians to assist us in the review of the comments. The comments that we did not submit to panel review are discussed at the end of this section, as well as those that were reviewed by the panel. We invited one representative from each of those specialty societies from which substantive comments were received to attend a panel for discussion of the codes on which they had commented. The panel was moderated by our medical staff, and consisted of the following representatives.

Voting Members

• One or two clinicians representing the commenting specialty(s), based upon our determination of those specialties which are most identified with the service(s) in question. Although commenting specialties were welcomed to observe the entire refinement process, they were only involved in the discussion of those services for which they were invited to participate.

• Two Primary care clinicians nominated by the American Academy of Family Physicians and the American Society of Internal Medicine.

• Five Carrier medical directors.

• Four clinicians with practices in related specialties, who were expected to have knowledge of the services under review.

The panel discussed the work involved in each procedure under review in comparison to the work associated with other services on the fee schedule. We had assembled a set of reference services, and asked the panel members to compare the clinical aspects of the work of services they believed were incorrectly valued to one or more of the reference services. In compiling the set, we attempted to include—(1) services that are commonly performed whose work RVUs are not controversial; (2) services that span the entire spectrum from the easiest to the most difficult; and (3) at least three services performed by each of the major specialties so that each specialty would be represented. The set listed approximately 300 services. Group members were encouraged to make comparisons to reference services. The intent of the panel process was to capture each participant's independent judgement based on the discussion and his or her clinical experience. Following each discussion, each participant rated the work for the procedure. Ratings were individual and confidential, and there was no attempt to achieve consensus among the panel members.

We then analyzed the ratings based on a presumption that the interim RVUs were correct. To overcome this presumption, the inaccuracy of the interim RVUs had to be apparent to the broad range of physicians participating in each panel.

Ratings of work were analyzed for consistency among the groups represented on each panel. In general terms, we used statistical tests to determine whether there was enough agreement among the groups of the panel, and whether the agreed-upon RVUs were significantly different from the interim RVUs published in Addendum C of the November 1999 final rule. We did not modify the RVUs unless there was a clear indication for a change. If there was agreement across groups for change, but the groups did not agree on what the new RVUs should be, we eliminated the outlier group, and looked for agreement among the remaining groups as the basis for new RVUs. We used the same methodology in analyzing the ratings that we first used in the refinement process for the 1993 fee schedule. The statistical tests were described in detail in the November 25, 1992 final rule (57 FR 55938).

Our decision to convene multispecialty panels of physicians and to apply the statistical tests described above was based on our need to balance the interests of those who commented on the work RVUs against the redistributive effects that would occur in other specialties. Of the 11 codes reviewed by the multispecialty panel, all were the subject of requests for increased values. Of the 11 interim work RVUs that were reviewed, 9 were increased and 2 were unchanged.

We also received comments on RVUs that were interim for 2000, but which we did not submit to the panel for review for a variety of reasons. These comments and our decisions on those comments are discussed in further detail below.

The table below lists the interim and related codes reviewed during the refinement process described in this section. This table includes the following information:

• CPT Code. This is the CPT code for a service.

• Description. This is an abbreviated version of the narrative description of the code.

• 2000 Work RVU. The work RVUs that appeared in the November 1999 rule are shown for each reviewed code.

• Requested Work RVU. This column identifies the work RVUs requested by commenters.

• 2001 Work RVU. This column contains the final RVUs for physician work.

Refinement of 2000 Interim Work Relative Value Units
CPT code | Description | 2000 work RVU | Requested work RVU | 2001 work RVU
27096 | Inject sacroiliac joint | 1.10 | 1.40 | 1.40
61862 | Implant neurostimul, subcort | 19.34 | 27.34 | 19.34
61885 | Implant neurostim one array | 5.85 | 8.00 | 5.85
62263 | Lysis epidural adhesions | 6.02 | 7.20 | 6.14
72275 | Epidurography | 0.54 | 0.83 | 0.76
73542 | X-ray exam, sacroiliac joint | 0.54 | 0.64 | 0.59
76873 | Echograp trans r, pros study | 0.99 | 1.92 | 1.55
93741 | Analyze ht pace device sngl | 0.64 | 0.90 | 0.80
93742 | Analyze ht pace device sngl | 0.73 | 1.03 | 0.91
93743 | Analyze ht pace device dual | 0.83 | 1.17 | 1.03
93744 | Analyze ht pace device dual | 0.95 | 1.33 | 1.18
*All CPT codes and descriptions copyright 2000 American Medical Association.

2. Interim 2000 Codes.

CPT code 11980 Subcutaneous hormone pellet implantation.

We did not receive a work RVU recommendation from the RUC for this code, and therefore crosswalked it to CPT 11980 for the 2000 fee schedule. One commenter indicated that a recommendation for work RVUs would be included in the RUC recommendations for 2001, and urged that we accept this RVU recommendation.

Final decision: The 2001 RUC recommendation for CPT Code 11980 has been reviewed and accepted.

CPT Code 27096 Injection Procedure for Sacroiliac Joint Arthrography and/or Aesthetic Steroid

We reduced the work RVU for 27096 from the RUC proposed value of 1.40 to 1.10 based on a weighted average with CPT code 20610 (Large joint injection-work RVU of 0.79) Commenters pointed out that while this was one of the codes used prior to approval of CPT code 27096, it (20610) was cited as being inadequate, because the sacroiliac joint injection requires more precision and skill than does a large joint (for example, hip) injection. They also indicated that the reduction made by HCFA to account for the fact that this procedure may be performed without contrast was not justified. In light of these comments we referred the code to a refinement panel for review.

Final decision: As a result of the statistical analysis of the refinement panel ratings, the final work RVUs are established as 1.40 for CPT code 27096. CPT code 61862 Subcortical neurostimulator array implantation.

The RUC evaluated this code using a building block approach that included the work of sterotactic localization, the device implantation and 140 minutes of intra-operative testing.

A few commenters expressed concern about our rejection of the RUC recommendation of 27.34 work RVUs and our proposed 19.34 work RVUs. We subtracted 8.00 RVUs attributed to 140 minutes of intra-operative testing, since this time was variable and it could be reported under other CPT codes. The commenters explained that the assignment of surgeon work during this 140 minutes of electrode maneuvering was done by comparing the work, including intensity, to CPT code 99291 at an equivalent rate of 4.00 RVUs for each of the approximately 2 hours in this average. Information was provided during the discussion at the RUC that the time of 140 minutes was truly an average, with some testing requiring as long as 3 to 4 hours to achieve satisfactory electrode placement. The commenters recommended that we restore the missing 8.00 RVUs and accept the RUC recommendation of 27.34 for this code. Due to the questions concerning our reduction of 8.00 RVUs, we referred this code to a refinement panel for review.

Final decision: As a result of the statistical analysis of the refinement panel ratings we are retaining the work RVU of 19.34 for CPT code 61862.

CPT Code 61885 Incision and Subcutaneous Placement of Cranial Neurostimulator Pulse Generator or Receiver, Direct or Inductive Coupling; With Connection to a Single Electrode Array

CPT Code 61885 was revised to add a delimiter to the code that specified connection of the neurostimulator to a single electrode array, and a new code (CPT code 61886) was introduced for situations involving two or more electrode arrays. We had received recommendations for work RVUs for the revised CPT code 61885, as well as the new CPT code 61886. Commenters disagreed with our statement that there was no evidence to justify an increase in the work RVU for CPT code 61885. We also noted that the work RVU for this code had been increased in the last 5-year review. Commenters felt that the RUC analyses presented supported an increase in the work RVU. In light of these comments, we referred this code to the refinement panel for review.

Final decision: As a result of the statistical analysis of the refinement panel ratings, the final work RVUs are 5.85 for CPT code 61885.

CPT Code 62263 Percutaneous Lysis of Epidural Adhesions Using Solution Injection (for Example, Hypertonic Saline, Enzyme) or Mechanical Means (for Example, Spring-wound Catheter) Including Radiologic Localization (Includes Contrast When Administered)

This was a new CPT code for which the RUC had recommended work RVUs of 7.20. We reduced the value to 6.02 based on two determinations—(1) that the RUC had erroneously counted the insertion of a catheter twice in compiling the component services; and (2) the appropriate building block for the fluoroscopic guidance was code 76003, not 76005. Commenters requested that we reconsider these decisions. They indicated that they had intentionally doubled the value for catheter insertion, as insertion of a catheter into a tight scarred epidural space involved more work than the typical epidural injection. They also felt that the fluoroscopic code the RUC had used was appropriate, and more accurately reflected the work involved. In response to these comments, we referred this code to the refinement panel for review.

Final decision: As a result of our statistical analysis of the refinement panel ratings the final work RVU for CPT 62263 will be 6.14.

CPT Codes 62310, 62311, 62318, 62319 Epidural or Subarachnoid Spine Injection Procedures

We had agreed with the relativity of these new codes established by the RUC, but in order to retain budget neutrality within this family of codes, we had to uniformly reduce the RUC recommended values. Commenters indicated that our calculations of the amount of reduction in the work RVUs needed slight adjustments. The specialties involved in developing the work RVUs submitted the following re-scaled work RVUs that they felt were a better reflection of the budget neutrality adjustment while preserving the intra-family relativity of the new codes (62310-1.95; 62311-1.57; 62318-2.26; and 62319-1.88).

Final decision: We reviewed the work RVUs submitted by the specialty, and found the proposed work RVUs not to be budget neutral. We apply a standard technique, using the most recent available data, to arrive at budget neutral values. The work RVUs, as published in the November 1999 final rule will be retained.

CPT Code 72275 Epidurography

We reduced the work RVUs for this new code by approximately one third, from the 0.83 recommended by RUC to 0.54. Commenters disagreed with this reduction, noting that the comparison codes selected by HCFA medical staff to support this reduction did not accurately reflect the work involved. They indicated that the RUC survey reflected that there was a greater amount of time involved. This code was referred to the refinement panel for review.

Final decision: As a result of our statistical analysis of the refinement panel ratings, we are assigning a work RVU of 0.76 to CPT code 72275.

CPT Code 73542 Sacroiliac Joint Arthrography

The RUC recommended value of 0.64 work RVUs was reduced to 0.54 work RVUs based on our belief that there was no difference in work from the primary survey reference code (CPT code 73525 which has a work RVU of 0.54). Commenters disagreed with this reduction. Although the time estimates between CPT code 73542 and the reference code are similar, the mean intensity/complexity measures are consistently higher for CPT code 73542, and therefore warranted the RUC recommended work RVU of .64. The RUC valued this code not only according to the time required, but also according to the intensity of the service. Commenters recommended adoption of the RUC work RVUs of 0.64 for CPT code 73542. This code was referred to the refinement panel for review.

Final decision: As a result of our statistical analysis of the refinement panel ratings, we are assigning a work RVU of 0.59 to CPT code 73542.

CPT Code 76005 Fluoroscopic Guidance and Localization of Needle or Catheter Tip for Spine or Paraspinous Diagnostic or Therapeutic Injection Procedures (Epidural, Transforaminal Epidural, Subarachnoid, Paravertebral Facet Joint, Paravertebral Facet Joint Nerve or Sacroiliac Joint) Including Neurolytic Agent Destruction

The RUC recommended value of 0.60 work RVUs for this new code was reduced to 0.54, because we did not believe there was enough difference in work from the primary survey reference code 76003 (0.54 work RVUs). Commenters disagreed with this determination, and indicated that the survey data results were evidence that comparison between CPT codes 76005 and 76003 was not appropriate, since the survey showed more time for CPT code 76005, as well as a consistently higher estimation of intensity and complexity. Commenters also pointed out that another established code in the same family (CPT code 76001 with a work RVU of .67) was also previously used to report this service.

Final decision: The RUC recommended .60 work RVUs for CPT code 76005. We reduced this recommendation to .54 work RVUs based upon reference procedure CPT code 76003. We inadvertently failed to also examine the other reference procedures identified on the RUC survey. Based upon the other reference procedures which were listed, CPT code 76001 (work RVU = .67), we are changing the work RVU to the RUC recommended value of .60.

CPT Code 76873 Prostate Volume Study

We reduced the RUC recommendation of 1.92 work RVUs to .99, since we did not believe that general anesthesia is used in this procedure. Commenters disagreed with this point and indicated that, because the patient must remain motionless during the procedure, significant sedation, either general or spinal anesthesia, is used. Thus, this is usually performed in a hospital operating room (outpatient) or ambulatory surgical center. Commenters also objected to the comparison we made between this code (76873) and CPT code 76805 Echography, pregnant uterus, B-scan and/or real time with image documentation; complete. An obstetric ultrasound does not require anesthesia and is done in a physician's office. Commenters also questioned our statement that we would not allow payment for a prostate volume study when performed on the same day as seed implantation or other services that are part of seed implantation. During the RUC deliberations, it was specifically discussed that the prostate volume study was not included in the work for seed implantation (CPT code 55859). This code was referred to the refinement panel for review.

Final decision: As a result of our statistical analysis of the refinement panel ratings, we are assigning a work RVU of 1.55 to CPT code 76873.

CPT Codes 90471 and 90472 Immunization Administration

In the final rule published November 2, 1999, we included a discussion of practice expense inputs and omitted a discussion of the RUC recommended work RVUs for these codes. Commenters encouraged us to publish the values for these codes, noting that while these are not reimbursed under the Medicare program, fee schedule values provide guidance to other payers who use the fee schedule.

Final decision: While we realize that other payers may use the RVUs under the physician fee schedule, since these are noncovered services under Medicare, we are not including values for these services in the fee schedule. The discussion on practice expense was erroneously included. As we indicated in an earlier discussion, we will be examining the issue of including values for noncovered services in the fee schedule.

CPT Codes 93741, 93742, 93743, 93744 Electronic Analysis of Pacing Cardioverter-Defibrillator

We reduced the RUC recommendations for work RVUs for these codes (93741-0.64; 93742-0.73; 93743-0.83, and 93744-0.95) because we felt there were inconsistencies between the recommendations and the survey data. Commenters stated that the differences in time reflected between the earlier surveys and three 1998 and 1999 surveys were a result of the large increase in the complexity of the technologies associated with these procedures over the last few years. With older devices, there was less information to analyze. The new technology provides more information, thus, the work involved is significantly greater than it was when the reference procedure was initially evaluated. These codes were referred to the refinement panel for review.

Final decision: As a result of our statistical analysis of the refinement panel ratings, we are assigning the following work RVUs: 93741-0.80, 93742-0.91, 93743-1.03, 93744-1.18.

Practice Expense Refinements of 2000 Interim and Related Relative Value Units

We received the following comments on the interim practice expense RVUs assigned to the new and revised CPT codes for 2000:

CPT Code 33410 Replacement, Aortic Valve, With Cardiopulmonary Bypass; With Stentless Tissue Valve

A specialty group commented that the practice expense RVUs for this code should be slightly higher than for CPT code 33406, Replacement, aortic valve, with cardiopulmonary bypass; with homograft valve (freehand), due to the difference in the grafts. However, the practice expense RVUs for CPT code 33410 are 0.09 less than the practice expense RVUs for CPT code 33406. The commenter adds that, due to this error, physicians have received unfairly low reimbursement for this procedure in CY 2000, and should receive fair compensation after this error is corrected.

Response: The RUC made no recommendation on the practice expense inputs for this code, but the Society of Thoracic Surgeons recommended that we crosswalk the direct inputs from those assigned to CPT code 33406, which we did. The identified payment anomaly did not exist in the practice expense RVUs published in our November 1999 final rule. There was a calculation error reflected in the published RVU values in the July 2000 proposed rule (65 FR 44210) that has been corrected in this final rule. We hope that the code will be refined soon, so that it will no longer be necessary to use a crosswalk for the practice expense inputs.

CPT Code 33249 Insertion or Repositioning of Electrode Lead(s) for Single or Dual Chamber Pacing Cardioverter Defibrillator and Insertion of Pulse Generator

We received comments from two organizations representing cardiology and pacing electrophysiology on the interim PE RVUs for this procedure. Both commenters indicated that the practice expense RVUs should be increased to account for the fact that under the revised definition, this procedure now includes the implantation of dual chamber ICDs.

Response: We did not receive a practice expense recommendation on this revised code from either the RUC or the specialty societies, and we kept the practice expense inputs at their original level. Because this is a procedure that would only be performed in the facility setting, an increase in the physician work involved to perform the service would not lead to an increase in the practice expense, unless there would be more post-surgical visits associated with the revised service. No claim has been made that this is the case. Therefore, we believe that there is no justification for increasing the practice expense RVUs.

CPT code 92961, Cardioversion, elective, electrical conversion of arrhythmia; internal (separate procedure)

One organization indicated that, for the PE inputs, we crosswalked this code to CPT code 93610, intra-atrial pacing, which does not include costs associated with a cardioversion, which is part of the procedure. They recommended that we use a building block approach, using inputs from CPT code 93610-26 (a similar intra-atrial pacing code) and CPT code 92960 (a similar cardioversion code) for establishing the PE RVUs.

Response: We did not originally receive a practice expense recommendation on this code from either the RUC or the specialty society. Because this is a 0-day procedure that would only be performed in the facility setting, there would be few or no direct inputs associated with the service. Thus, an increase in the physician work involved to perform the service would not lead to an increase in the practice expense. CPT code 92960 also has no inputs in the facility setting, so including that code as an added crosswalk, as recommended in the comment, would have no effect on the practice expense RVUs for CPT code 92961. Therefore, we are making no change in our recommended crosswalk.

CPT Code 93727 Electronic Analysis of Implantable Loop Recorder (ILR) System (Includes Retrieval of Recorded and Stored ECG Data, Physician Review and Interpretation of Retrieved ECG Data and Reprogramming)

Two organizations objected to our crosswalk of the practice expense inputs for this code from CPT code 93272, Patient demand single or multiple event recording with presymptom memory loop, per 30 day period of time; physician review and interpretation only. The commenters stated that this crosswalk does not accurately reflect all the practice expense inputs associated with the service, and recommended we crosswalk the inputs from CPT code 93271, Patient demand single or multiple event recording with presymptom memory loop, per 30 day period of time; monitoring, receipt of transmissions, and analysis.

Response: We did not originally receive a practice expense recommendation on this revised code from either the RUC or the specialty societies. We have reviewed this comment, and have changed the crosswalk as recommended by the commenters.

CPT 90471/72 Immunization Administration and CPT 99173 Visual Screening Test

Two organizations requested that we publish the RUC recommended values for these immunization codes, as well as the visual screening test and other services with RUC recommendations not reimbursed under Medicare, because other payors use the RVUs under the physician fee schedule.

Response: While we realize that other payers may use the RBRVS fee schedule, since these are non-covered services under Medicare, as indicated above, we are not including values for these services in the fee schedule.

We received the following comments on HCPCS codes established in the November 2, 1999 Final Rule:

G0166 External Counterpulsation

One commenter indicated this service was undervalued and recommended inputs for this code. We continue to believe that the values assigned in last year's rule are appropriate, and we are retaining these values.

G0167 Hyperbaric Oxygen Treatment

We received comments expressing concerns about the new code, G0167, Hyperbaric Oxygen Treatment Not Requiring Physician Attendance, per Treatment. The commenter requested that we clarify the intended use of this code. Our contractors have discretion to cover hyperbaric oxygen with or without physician supervision. Our coverage staff is currently reviewing hyperbaric oxygen therapy services policies generally, including the appropriate levels of physician supervision. The progress of this review can be tracked on our web site, http://www.hcfa.gov, by selecting Coverage Policies.

G0168 Wound Closure Utilizing Tissue Adhesives Only

One specialty was concerned that the services described by this code were not coded as a simple repair as recommended by the CPT panel. The commenter suggested that the cost of the supply, Dermabond, could be reimbursed separately. Another commenter was concerned about the 10-day global period assigned to this code.

The work and practice expense values for this code were based upon an evaluation and management visit, CPT code 99212, except that the price of Dermabond was added as a practice expense. We assigned these values because many of these wounds could have been closed with Steri-strips, a service that is also coded with evaluation and management, rather than a simple repair. We will be analyzing the use of HCPCS code G0168 to learn more about the use of this product, and will consider revaluing it after that analysis is completed.

Although we believe that the typical service involving the use of Dermabond as the only closure will typically not involve a visit for suture removal, we concede that, if another visit were needed for a complication, we should allow another evaluation and management visit. For this reason, we will change the global period to 0 days.

G0169 Removal of Devitalized Tissue, Without Use of Anesthesia

For 2000, we created G0169 to describe a service that involved removal of devitalized tissue. For 2001, CPT adopted a code 97601 that is sufficiently similar to the services described by G0169 that we will ask providers to utilize that code for selective removal of devitalized tissue, and we will eliminate G0169. We crosswalked the values for G0169 to CPT Code 97601. This code will continue to have no global period. Establishment of Interim Work Relative Value Units for New and Revised Physician's Current Procedural Terminology Codes and New HCFA Common Procedure Coding System Codes for 2001 (Includes Table titled American Medical Association Specialty Relative Value Update Committee and Health Care Professionals Advisory Committee Recommendations and HCFA's Decisions for New and Revised 2001 CPT Codes)

One aspect of establishing RVUs for 2001 was related to the assignment of interim work RVUs for all new and revised CPT codes. As described in our November 25, 1992 notice in the 1993 fee schedule (57 FR 55983) and in section III.B. of our November 22, 1996 final rule (61 FR 59505 through 59506) we established a process, based on recommendations received from the AMA's RUC, for establishing interim work RVUs for new and revised codes.

This year we received work RVU recommendations for approximately 131 new and revised CPT codes from the RUC. Our staff and medical officers reviewed the RUC recommendations by comparing them to our reference set or to other comparable services for which work RVUs had been previously established, or to both of these criteria. We also considered the relationships among the new and revised codes for which we received RUC recommendations. We agreed with the majority of these relationships reflected in the RUC values. In some instances, when we agreed with the relationships, we revised the work RVUs to achieve work neutrality within families of codes, that is, the work RVUs have been adjusted so that the sum of the new or revised work RVUs (weighted by projected frequency of use) for a family will be the same as the sum of the current work RVUs (weighted by projected frequency of use). For approximately 91 percent of the RUC recommendations, proposed work RVUs were accepted, and for approximately 9 percent, we disagreed with the RUC recommendation. In a majority of instances, we agreed with the relativity proposed by the RUC, but needed to decrease work RVUs to retain budget neutrality.

There were also 38 CPT codes for which we did not receive a RUC recommendation. After a review of these CPT codes by our staff and medical officers, we established interim work RVUs for the majority of these services. For those services for which we could not arrive at interim work RVUs, we have assigned a carrier priced status until such time as the RUC provides work RVU recommendations.

We received 5 recommendations from the Health Care Professionals Advisory Committee (HCPAC). Two of the HCPAC recommendations were reduced while 3 of the recommendations were for services that we do not cover. Additionally, there were 2 services for which we did not receive recommendations from the HCPAC.

The table titled AMA RUC and HCPAC Recommendations and HCFA Decisions for New and Revised 2001 CPT Codes lists the new or revised CPT codes, and their associated work RVUs, that will be interim in 2001. This table includes the following information:

• A “#” identifies a new code for 2001.

• CPT code. This is the CPT code for a service.

• Modifier. A “26” in this column indicates that the work RVUs are for the professional component of the code.

• Description. This is an abbreviated version of the narrative description of the code.

• RUC recommendations. This column identifies the work RVUs recommended by the RUC.

• HCPAC recommendations. This column identifies the work RVUs recommended by the HCPAC.

• HCFA decision. This column indicates whether we agreed with the RUC recommendation (“agree”) or we disagreed with the RUC recommendation (“disagree”). Codes for which we did not accept the RUC recommendation are discussed in greater detail following this table. An “(a)” indicates that no RUC recommendation was provided. A discussion follows the table.

• HCFA Work RVUs. This column contains the RVUs for physician work based on our reviews of the RUC recommendations.

• 2001 Work RVUs. This column establishes the 2001 work RVUs for physician work.

AMA RUC and HCPAC Recommendations and HCFA Decisions for New and Revised 2001 CPT Codes
CPT* code | MOD | Description | RUC recommendation | HCPAC recommendation | HCFA decision | HCFA work RVU | 2000 work RVU
11980# |  | IMPLANT HORMONE PELLET(S) | 1.48 |  | Agree | 1.48 | 1.48
15342# |  | CULTURED SKIN GRAFT, 25 CM | 1.50 |  | Disagree | 1.00 | 1.00
15343# |  | CULTURE SKN GRAFT ADDL 25 CM | 0.38 |  | Disagree | 0.25 | 0.25
16035 |  | INCISION OF BURN SCAB, INITI | 3.75 |  | Agree | 3.75 | 3.75
16036# |  | INCISE BURN SCAB, ADDL INCIS | 1.50 |  | Agree | 1.50 | 1.50
19100 |  | BX BREAST PERCUT W/O IMAGE | 1.27 |  | Agree | 1.27 | 1.27
19101 |  | BIOPSY OF BREAST, OPEN | 3.18 |  | Agree | 3.18 | 3.18
19102# |  | BX BREAST PERCUT W/IMAGE | 2.00 |  | Agree | 2.00 | 2.00
19103# |  | BX BREAST PERCUT W/DEVICE | 2.37 |  | Agree | 2.37 | 2.37
19120 |  | REMOVAL OF BREAST LESION | 5.56 |  | Agree | 5.56 | 5.56
19125 |  | EXCISION, BREAST LESION | 6.06 |  | Agree | 6.06 | 6.06
19126 |  | EXCISION, ADDL BREAST LESION | 2.93 |  | Agree | 2.93 | 2.93
19295# |  | PLACE BREAST CLIP, PERCUT | 0.00 |  | Agree | 0.00 | 0.00
21199# |  | RECONSTR LWR JAW W/ADVANCE | 16.00 |  | Agree | 16.00 | 16.00
22520# |  | PERCUT VERTEBROPLASTY THOR | 8.91 |  | Agree | 8.91 | 8.91
22521# |  | PERCUT VERTEBROPLASTY LUMB | 8.34 |  | Agree | 8.34 | 8.34
22522# |  | PERCUT VERTEBROPLASTY ADDL | 4.31 |  | Disagree | 3.00 | 3.00
30465# |  | REPAIR NASAL STENOSIS | 11.64 |  | Agree | 11.64 | 11.64
33140 |  | HEART REVASCULARIZE (TMR) | 20.00 |  | Agree | 20.00 | 20.00
33141# |  | HEART TMR W/OTHER PROCEDURE | 4.84 |  | Agree | 4.84 | 4.84
33533 |  | CABG, ARTERIAL, SINGLE | 25.83 |  | Agree | 25.83 | 25.83
33534 |  | CABG, ARTERIAL, TWO | 28.82 |  | Agree | 28.82 | 28.82
33535 |  | CABG, ARTERIAL, THREE | 31.81 |  | Agree | 31.81 | 31.81
33536 |  | CABG, ARTERIAL, FOUR OR MORE | 34.79 |  | Agree | 34.79 | 34.79
34800# |  | ENDOVASC ABDO REPAIR W/TUBE | 20.75 |  | Agree | 20.75 | 20.75
34802# |  | ENDOVASC ABDO REPR W/DEVICE | 23.00 |  | Agree | 23.00 | 23.00
34804# |  | ENDOVASC ABDO REPR W/DEVICE | 23.00 |  | Agree | 23.00 | 23.00
34808# |  | ENDOVASC ABDO OCCLUD DEVICE | 4.13 |  | Agree | 4.13 | 4.13
34812# |  | XPOSE FOR ENDOPROSTH, AORTIC | 6.75 |  | Agree | 6.75 | 6.75
34813# |  | XPOSE FOR ENDOPROSTH, FEMORL | 4.80 |  | Agree | 4.80 | 4.80
34820# |  | XPOSE FOR ENDOPROSTH, ILIAC | 9.75 |  | Agree | 9.75 | 9.75
34825# |  | ENDOVASC EXTEND PROSTH, INIT | 12.00 |  | Agree | 12.00 | 12.00
34826# |  | ENDOVASC EXTEN PROSTH, ADDL | 4.13 |  | Agree | 4.13 | 4.13
34830# |  | OPEN AORTIC TUBE PROSTH REPR | 32.59 |  | Agree | 32.59 | 32.59
34831# |  | OPEN AORTOILIAC PROSTH REPR | 35.34 |  | Agree | 35.34 | 35.34
34832# |  | OPEN AORTOFEMOR PROSTH REPR | 35.34 |  | Agree | 35.34 | 35.34
35600# |  | HARVEST ARTERY FOR CABG | 4.95 |  | Agree | 4.95 | 4.95
36540# |  | COLLECT BLOOD VENOUS DEVICE | 0.00 |  | Agree | 0.00 | 0.00
36831 |  | AV FISTULA EXCISION, OPEN | 8.00 |  | Agree | 8.00 | 8.00
36832 |  | AV FISTULA REVISION, OPEN | 10.50 |  | Agree | 10.50 | 10.50
36870# |  | AV FISTULA REVISION, OPEN | 5.16 |  | Agree | 5.16 | 5.16
38500 |  | BIOPSY/REMOVAL, LYMPH NODES | 2.88 |  | Agree | 2.88 | 2.88
38530 |  | BIOPSY/REMOVAL, LYMPH NODES | 6.13 |  | Agree | 6.13 | 6.13
43231# |  | ESOPH ENDOSCOPY W/US EXAM | 4.09 |  | Agree | 4.09 | 4.09
43232# |  | ESOPH ENDOSCOPY W/US FN BX | 4.71 |  | Agree | 4.71 | 4.71
43240# |  | ESOPH ENDOSCOPE W/DRAIN CYST | 7.39 |  | Agree | 7.39 | 7.39
43241 |  | UPPER GI ENDOSCOPY WITH TUBE | 2.59 |  | Agree | 2.59 | 2.59
43242# |  | UPPR GI ENDOSCOPY W/US FN BX | 5.51 |  | Agree | 5.51 | 5.51
43256# |  | UPPR GI ENDOSCOPY W STENT | (ᵃ) |  | (ᵃ) | 4.35 | 4.35
43752# |  | NASAL/OROGASTRIC W/STENT | (ᵃ) |  | (ᵃ) | 0.00 | 0.00
44132# |  | ENTERECTOMY, CADAVER DONOR | carrier |  | Disagree | 0.00 | 0.00
44133# |  | ENTERECTOMY, LIVE DONOR | carrier |  | Disagree | 0.00 | 0.00
44135# |  | INTESTINE TRANSPLNT, CADAVER | carrier |  | Disagree | 0.00 | 0.00
44136# |  | INTESTINE TRANSPLANT, LIVE | carrier |  | Disagree | 0.00 | 0.00
44370# |  | SMALL BOWEL ENDOSCOPY/STENT | (ᵃ) |  | (ᵃ) | 4.33 | 4.33
44379# |  | S BOWEL ENDOSCOPE W/STENT | (ᵃ) |  | (ᵃ) | 7.07 | 7.07
44383# |  | ILEOSCOPY W/STENT | (ᵃ) |  | (ᵃ) | 2.41 | 2.41
44397# |  | COLONOSCOPY W STENT | 4.78 |  | Disagree | 4.23 | 4.23
44500 |  | INTRO, GASTROINTESTINAL TUBE | 0.49 |  | Agree | 0.49 | 0.49
45327# |  | PROCTOSIGMOIDOSCOPY W/STENT | 2.66 |  | Disagree | 1.46 | 1.46
45341# |  | SIGMOIDOSCOPY W/ULTRASOUND | 3.46 |  | Agree | 3.46 | 3.46
45342# |  | SIGMOIDOSCOPY W/US GUIDE BX | 4.08 |  | Agree | 4.08 | 4.08
45345# |  | SIGMODOSCOPY W/STENT | 2.92 |  | Disagree | 2.66 | 2.66
45387# |  | COLONOSCOPY W/STENT | 5.66 |  | Disagree | 5.62 | 5.62
47379# |  | LAPAROSCOPE PROCEDURE, LIVER | carrier |  | Agree | carrier | carrier
50545# |  | LAPARO RADICAL NEPHRECTOMY | 24.00 |  | Agree | 24.00 | 24.00
50546 |  | LAPAROSCOPIC NEPHRECTOMY | 20.48 |  | Agree | 20.48 | 20.48
50548 |  | LAPARO REMOVE K/URETER | 24.40 |  | Agree | 24.40 | 24.40
50947# |  | LAPARO NEW URETER/BLADDER | 24.50 |  | Agree | 24.50 | 24.50
50948# |  | LAPARO NEW URETER/BLADDER | 22.50 |  | Agree | 22.50 | 22.50
50949# |  | LAPAROSCOPE PROC, URETER | carrier |  | Agree | carrier | carrier
52341# |  | CYSTO W/URETER STRICTURE TX | 6.00 |  | Agree | 6.00 | 6.00
52342# |  | CYSTO W/UP STRICTURE TX | 6.50 |  | Agree | 6.50 | 6.50
52343# |  | CYSTO W/RENAL STRICTURE TX | 7.20 |  | Agree | 7.20 | 7.20
52344# |  | CYSTO/URETERO, STONE REMOVE | 7.70 |  | Agree | 7.70 | 7.70
52345# |  | CYSTO/URETERO W/UP STRICTURE | 8.20 |  | Agree | 8.20 | 8.20
52346# |  | CYSTOURETERO W/RENAL STRICT | 9.23 |  | Agree | 9.23 | 9.23
52351# |  | CYSTOURETRO & OR PYELOSCOPE | 5.86 |  | Agree | 5.86 | 5.86
52352# |  | CYSTOURETRO W/STONE REMOVE | 6.88 |  | Agree | 6.88 | 6.88
52353# |  | CYSTOURETERO W/LITHOTRIPSY | 7.97 |  | Agree | 7.97 | 7.97
52354# |  | CYSTOURETERO W/BIOPSY | 7.34 |  | Agree | 7.34 | 7.34
52355# |  | CYSTOURETERO W/EXCISE TUMOR | 8.82 |  | Agree | 8.82 | 8.82
52400# |  | CYSTOURETERO W/CONGEN REPR | 9.68 |  | Agree | 9.68 | 9.68
54512# |  | EXCISE LESION TESTIS | 8.58 |  | Agree | 8.58 | 8.58
54522# |  | ORCHIECTOMY, PARTIAL | 9.50 |  | Agree | 9.50 | 9.50
55873# |  | CRYOABLATE PROSTATE | 17.80 |  | Agree | 17.80 | 17.80
57022# |  | I &D VAGINAL HEMATOMA, OB | 2.56 |  | Agree | 2.56 | 2.56
57023# |  | I &D VAG HEMATOMA, TRAUMA | (ᵃ) |  | (ᵃ) | 2.56 | 2.56
57287# |  | REVISE/REMOVE SLING REPAIR | 10.71 |  | Agree | 10.71 | 10.71
58353# |  | ENDOMETR ABLATE, THERMAL | 3.56 |  | Agree | 3.56 | 3.56
61697# |  | BRAIN ANEURYSM REPR, COMPLX | 50.52 |  | Agree | 50.52 | 50.52
61698# |  | BRAIN ANEURYSM REPR, COMPLX | 48.41 |  | Agree | 48.41 | 48.41
61700 |  | BRAIN ANEURYSM REPR , SIMPLE | 50.52 |  | Agree | 50.52 | 50.52
61702 |  | INNER SKULL VESSEL SURGERY | 48.41 |  | Agree | 48.41 | 48.41
62252# | 26 | CSF SHUNT REPROGRAM | 0.74 |  | Agree | 0.74 | 0.74
63040 |  | LAMINOTOMY, SINGLE CERVICAL | (ᵃ) |  | (ᵃ) | 18.81 | 18.81
63042 |  | LAMINOTOMY, SINGLE LUMBAR | (ᵃ) |  | (ᵃ) | 17.47 | 17.47
63043# |  | LAMINOTOMY, ADDL CERVICAL | (ᵃ) |  | (ᵃ) | 0.00 | 0.00
63044# |  | LAMINOTOMY, ADDL LUMBAR | (ᵃ) |  | (ᵃ) | 0.00 | 0.00
64612 |  | DESTROY NERVE, FACE MUSCLE | 1.96 |  | Agree | 1.96 | 1.96
64613 |  | DESTROY NERVE, SPINE MUSCLE | 1.96 |  | Agree | 1.96 | 1.96
64614# |  | DESTROY NERVE, EXTREM MUSC | 2.20 |  | Agree | 2.20 | 2.20
66982# |  | CATARACT SURGERY, COMPLEX | 13.50 |  | Agree | 13.50 | 13.50
66984 |  | CATARACT SURG W/IOL, I STAGE | 10.23 |  | Agree | 10.23 | 10.23
67221# |  | OCULAR PHOTODYNAMIC THER | (ᵃ) |  | (ᵃ) | 4.01 | 4.01
69714# |  | IMPLANT TEMPLE BONE W/STIMUL | 14.00 |  | Agree | 14.00 | 14.00
69715# |  | TEMPLE BNE IMPLNT W/STIMULAT | 18.25 |  | Agree | 18.25 | 18.25
69717# |  | TEMPLE BONE IMPLANT REVISION | 14.98 |  | Agree | 14.98 | 14.98
69718# |  | REVISE TEMPLE BONE IMPLANT | 18.50 |  | Agree | 18.50 | 18.50
70496# |  | CT ANGIOGRAPHY, HEAD | 1.75 |  | Agree | 1.75 | 1.75
70498# |  | CT ANGIOGRAPHY, NECK | 1.75 |  | Agree | 1.75 | 1.75
70540 | 26 | MRI ORBIT/FACE/NECK W/O DYE | 1.48 |  | Disagree | 0.98 | 0.98
70542# | 26 | MRI ORBIT/FACE/NECK W/DYE | 1.78 |  | Disagree | 1.17 | 1.17
70543# | 26 | MRI ORBT/FAC/NCK W/O&W DYE | 2.36 |  | Disagree | 1.56 | 1.56
70544# | 26 | MR ANGIOGRAPHY HEAD W/O DYE | 1.20 |  | Agree | 1.20 | 1.20
70545# | 26 | MR ANGIOGRAPHY HEAD W/DYE | 1.20 |  | Agree | 1.20 | 1.20
70546# | 26 | MR ANGIOGRAPH HEAD W/O&W DYE | 1.80 |  | Agree | 1.80 | 1.80
70547# | 26 | MR ANGIOGRAPHY NECK W/O DYE | 1.20 |  | Agree | 1.20 | 1.20
70548# | 26 | MR ANGIOGRAPHY NECK W/DYE | 1.20 |  | Agree | 1.20 | 1.20
70549# | 26 | MR ANGIOGRAPH NECK W/O&W DYE | 1.80 |  | Agree | 1.80 | 1.80
71275# | 26 | CT ANGIOGRAPHY, CHEST | (ᵃ) |  | (ᵃ) | 1.20 | 1.20
71550 | 26 | MRI CHEST W/O DYE | (ᵃ) |  | (ᵃ) | 1.10 | 1.10
71551# | 26 | MRI CHEST W/DYE | (ᵃ) |  | (ᵃ) | 1.30 | 1.30
71552# | 26 | MRI CHEST W/O&W DYE | (ᵃ) |  | (ᵃ) | 1.70 | 1.70
72191# | 26 | CT ANGIOGRAPH PELV W/O&W DYE | (ᵃ) |  | (ᵃ) | 1.20 | 1.20
72195# | 26 | MRI PELVIS W/O DYE | (ᵃ) |  | (ᵃ) | 1.10 | 1.10
72196 | 26 | MRI PELVIS W/DYE | (ᵃ) |  | (ᵃ) | 1.30 | 1.30
72197# | 26 | MRI PELVIS W/O & W DYE | (ᵃ) |  | (ᵃ) | 1.70 | 1.70
73206# | 26 | CT ANGIO UPR EXTRM W/O&W DYE | (ᵃ) |  | (ᵃ) | 1.20 | 1.20
73218# | 26 | MRI UPPER EXTREMITY W/O DYE | (ᵃ) |  | (ᵃ) | 0.98 | 0.98
73219# | 26 | MRI UPPER EXTREMITY W/DYE | (ᵃ) |  | (ᵃ) | 1.17 | 1.17
73220 | 26 | MRI UPPR EXTREMITY W/O&W DYE | (ᵃ) |  | (ᵃ) | 1.56 | 1.56
73221 | 26 | MRI JOINT UPR EXTREM W/O DYE | (ᵃ) |  | (ᵃ) | 0.98 | 0.98
73222# | 26 | MRI JOINT UPR EXTREM W/ DYE | (ᵃ) |  | (ᵃ) | 1.17 | 1.17
73223# | 26 | MRI JOINT UPR EXTR W/O&W DYE | (ᵃ) |  | (ᵃ) | 1.56 | 1.56
73706# | 26 | CT ANGIO LWR EXTR W/O&W DYE | (ᵃ) |  | (ᵃ) | 1.20 | 1.20
73718# | 26 | MRI LOWER EXTREMITY W/O DYE | (ᵃ) |  | (ᵃ) | 0.98 | 0.98
73719# | 26 | MRI LOWER EXTREMITY W/DYE | (ᵃ) |  | (ᵃ) | 1.17 | 1.17
73720 | 26 | MRI LWR EXTREMITY W/O&W DYE | (ᵃ) |  | (ᵃ) | 1.56 | 1.56
73721 | 26 | MRI JOINT OF LWR EXTRE W/O D | (ᵃ) |  | (ᵃ) | 0.98 | 0.98
73722# | 26 | MRI JOINT OF LWR EXTR W/DYE | (ᵃ) |  | (ᵃ) | 1.17 | 1.17
73723# | 26 | MRI JOINT LWR EXTR W/O&W DYE | (ᵃ) |  | (ᵃ) | 1.56 | 1.56
74175# | 26 | CT ANGIO ABDOM W/O&W DYE | (ᵃ) |  | (ᵃ) | 1.20 | 1.20
74181 | 26 | MRI ABDOMEN W/O DYE | (ᵃ) |  | (ᵃ) | 1.10 | 1.10
74182# | 26 | MRI ABDOMEN W/DYE | (ᵃ) |  | (ᵃ) | 1.30 | 1.30
74183# | 26 | MRI ABDOMEN W/O&W DYE | (ᵃ) |  | (ᵃ) | 1.70 | 1.70
75635# | 26 | CT ANGIO ABDOMINAL ARTERIES | (ᵃ) |  | (ᵃ) | 1.89 | 1.89
75952# |  | ABDOM ANEURYSM ENDOVAS RPR | 4.00 |  | Agree | 4.00 | 4.00
75953# |  | ABDOM ANEURYSM ENDOVAS RPR | 1.36 |  | Agree | 1.36 | 1.36
76012# |  | PERCUT VERTEBROPLASTY FLUOR | 1.31 |  | Agree | 1.31 | 1.31
76013# |  | PERCUT VERTEBROPLASTY, CT | 1.38 |  | Agree | 1.38 | 1.38
76393# | 26 | MR GUIDANCE FOR NEEDLE PLACE | 1.50 |  | Agree | 1.50 | 1.50
76818 | 26 | FETL BIOPHYS PROFIL W/STRESS | 1.05 |  | Disagree | 0.86 | 0.86
76819# | 26 | FETL BIOPHYS PROFIL W/O STRS | 0.77 |  | Disagree | 0.63 | 0.63
76975 | 26 | GI ENDOSCOPIC ULTRASOUND | 0.81 |  | Agree | 0.81 | 0.81
77520 | 26 | PROTON TRMT, SIMPLE W/O COMP | carrier |  | Agree | carrier | carrier
77522# | 26 | PROTON TRMT, SIMPLE W/COMP | carrier |  | Agree | carrier | carrier
77523 | 26 | PROTON TRMT, INTERMEDIATE | carrier |  | Agree | carrier | carrier
77525# | 26 | PROTON TREATMENT, COMPLEX | carrier |  | Agree | carrier | carrier
90940# |  | HEMODIALYSIS ACCESS STUDY | 0.00 |  | Agree | 0.00 | 0.00
91132# |  | ELECTROGASTROGRAPHY | carrier |  | Agree | carrier | carrier
91133# |  | ELECTROGASTROGRAPHY W/TEST | carrier |  | Agree | carrier | carrier
92585 |  | AUDITOR EVOKE POTENT, COMPRE | 0.50 |  | Agree | 0.50 | 0.50
92586# |  | AUDITOR EVOKE POTENT, LIMIT | 0.00 |  | Agree | 0.00 | 0.00
93662# |  | INTRACARDIAC ECG (ICE) | 2.80 |  | Agree | 2.80 | 2.80
93668# |  | PERIPHERAL VASCULAR REHAB | 0.00 |  | Agree | 0.00 | 0.00
96570# |  | PHOTODYNAMIC TX, 30 MIN | 1.10 |  | Agree | 1.10 | 1.10
96571# |  | PHOTODYNAMIC TX, ADDL 15 MIN | 0.55 |  | Agree | 0.55 | 0.55
97532# |  | COGNITIVE SKILLS DEVELOPMENT |  | 0.51 | Disagree | 0.44 | 0.44
97533# |  | SENSORY INTEGRATION |  | 0.48 | Disagree | 0.44 | 0.44
97601# |  | WOUND CARE SELECTIVE |  | (ᵃ) | (ᵃ) | 0.50 | 0.50
97602# |  | WOUND CARE NON-SELECTIVE |  | (ᵃ) | (ᵃ) | 0.00 | 0.00
97802# |  | MEDICAL NUTRITION, INDIV, IN |  | 0.45 | Disagree | 0.00 | 0.00
97803# |  | MED NUTRITION, INDIV, SUBSEQ |  | 0.37 | Disagree | 0.00 | 0.00
97804# |  | MEDICAL NUTRITION, GROUP |  | 0.25 | Diagree | 0.00 | 0.00
99172# |  | OCULAR FUNCTION SCREEN | 0.00 |  | Agree | 0.00 | 0.00
ᵃ No RUC recommendation provided.
# New Codes.
* All numeric HCPCS CPT Copyright 2000 American Medical Association.

Discussion of Codes for Which There Were No RUC Recommendations or for Which the RUC Recommendations Were Not Accepted

The following is a summary of our rationale for not accepting particular RUC work RVU recommendations. It is arranged by type of service in CPT order. Additionally, we also discuss those CPT codes for which we received no RUC recommendations for physician work RVUs. This summary refers only to work RVUs.

Bioengineered Tissue Grafts (CPT Codes 15342 and 15343)

Temporary HCPCS Codes G0170 and G0171, established in the November 1999 final rule, will be deleted. The two aforementioned deleted codes have been replaced by CPT codes 15342 and 15343. The RUC recommended that the work RVUs for CPT codes 15342 and 15343 be crosswalked from deleted HCPCS codes G0170 and G0171, which are currently being used to report bioengineered tissue grafts. The work RVUs for CPT codes 15342 and 15343 are crosswalked from G0170 and G0171, with the following modification. Currently, HCPCS code G0170 includes the work of CPT codes 15000 and 15350. The CPT instructions for CPT code 15342 state that it can be billed with CPT code 15000. For this reason the crosswalk for CPT code 15342 would be to 25 percent of the work RVU of CPT code 15350, or 1.00 work RVUs. This percentage was chosen because CPT code 15342 is for graft sizes of up to 25 square centimeters, and CPT code 15350 is for graft sizes up to 100 square centimeters. Similarly, the RUC recommended work RVUs for CPT code 15343 are adjusted to 25 percent of 15351, or 0.25 work RVUs. Additionally, we note that some commenters requested the global period for HCPCS code G0170 be lowered from ten to seven days. This was not done, because we use only three global period lengths zero, ten, and ninety days. Clearly the ten-day global period is the most appropriate and consistent with the recommendation of the commenters. This decision will be applied to CPT code 15342. CPT code 15343 is an add-on service that does not have a global period.

Percutaneous Vertebroplasty (CPT Code 22522)

The RUC recommended a work RVU of 4.31 for CPT code 22522. The RUC arrived at this value based upon the fact that the work involved with CPT code 22522 was 50 percent of the total work of CPT codes 22520 and 22521. The RUC failed to remove the pre-service 99213 and the post-service 99238 associated with CPT codes 22520 and 22521 before performing their calculations. CPT code 22522 is an add-on procedure, and there should be no pre-and post-service work associated with this service. We have removed the work RVUs of 99213 (pre-service) and 99238 (post-service) from the weighted average of CPT codes 22520 and 22521. For this reason, we have assigned a work RVU of 3.00 to CPT code 22522.

Naso- or Oro-gastric Tube Placement (CPT Code 43752)

The RUC did not supply us with a recommendation for CPT code 43752. We believe that this service is bundled into evaluation and management services. For this reason, there is no work RVU associated with this service.

Small Bowel Implantation (CPT Codes 44132, 44133, 44135, and 44136)

The RUC recommended carrier pricing for these services. These services are not covered transplant services under Medicare. For this reason, there are no work RVUs associated with these services.

Endoscopic Enteral Stenting (CPT Codes 43256, 44370, 44379, 44383, 44397, 45327, 45345, 45387)

The RUC determined a work increment, from the applicable endoscopic base code, for transendoscopic stent placement including predilation of 1.96 RVUs. We agree with this increment. For the endoscopic stent placement CPT codes for which we did not receive a work recommendation from the RUC, we applied this increment to the applicable endoscopic basecode. Because endoscopic stent placement is being currently billed under existing endoscopic CPT codes, we needed to make a work neutrality adjustment to each family of codes in which a stent placement code had been created.

Incision and Drainage of Vaginal Hematoma (CPT Code 57023)

The RUC did not supply a work RVU recommendation for CPT code 57023. We did receive a work RVU recommendation for similar CPT code 57022. Until such time as we receive more information allowing us to appropriately value CPT code 57023, we will adopt the RUC recommended work RVU for CPT code 57022. For these reasons, we have assigned a work RVU of 2.56 to CPT code 57023.

Laminotomy Re-Exploration (CPT Codes 63040, 63042, 63043, and 63044)

The RUC did not supply work RVU recommendations for CPT codes 63040 through 63044. CPT codes 63040 and 63042 were revised to account for single interspace cervical and lumbar laminotomy, respectively. CPT codes 63043 and 63044 were added to account for each additional cervical and lumbar interspace laminotomy(s). We will bundle CPT code 63043 into CPT code 63040 and CPT code 63044 into CPT code 63042, and retain the existing work RVUs for CPT codes 63040 and 63042. We will re-evaluate these services when the RUC supplies work RVU recommendations.

Ocular Photodynamic Therapy (CPT Code 67221)

The RUC did not supply work RVU recommendations for CPT code 67221. Subsequent to the publication of the July 2000 proposed rule in which we proposed establishing a new HCPCS code for this service, the CPT editorial panel approved CPT code 67221 for ocular photodynamic therapy. We have deleted our proposed temporary code and established values for CPT code 67221. Based on comments received from specialty societies and a comparison of the work values for this procedure with CPT code 67210, Destruction of localized lesion of retina, we have assigned 4.01 work RVUs to this service. The intraservice times and work intensities for CPT codes 67210 and 67221 are comparable. Therefore, adjusting for the work value of the postoperative visits (because 67210 has a 90-day global period) and the 20 percent retreatment rate included in CPT code 67210, and then applying the intraservice work intensity of 67210 to 67221, yields an appropriate work value for 67221. For a further discussion of this issue, see section II.G.

Computed Tomographic Angiography (CPT Codes 71275, 72191, 73206, 73706, 74175, and 75635)

CPT created a series of new codes for 2001 describing computed tomographic (CT) angiography for different parts of the body. The RUC submitted work recommendations of 1.75 RVUs for CPT codes 70496 and 70498, with which we agree. The RUC did not submit work recommendations for the other CT angiography codes. The RUC compared the head and neck CPT angiography codes to MRI angiography and CT scans without contrast followed by contrast of the same region in determining the values for these services. However, upon our review, we determined that the work RVUs recommended by the RUC were more comparable to the work RVUs associated with CPT code 75671, Angiography, carotid, cerebral, bilateral, radiological interpretation and supervision, and CPT code 75680, Angiography, carotid, cervical, bilateral, radiological interpretation and supervision. Both CPT code 75671 and CPT code 75680 have work RVUs of 1.66. The proportional work RVU increase from the angiography supervision and interpretation code to the CT angiography code was 1.05. Therefore, in determining the work RVUs of the other CT angiography codes, we—(1) compared each code to its most comparable angiographic radiological supervision and interpretation code, and (2) applied a proportionate work increase of 1.05 to the CT angiography code. The CPT codes to which we compared the CT angiography codes were 75605, 75736, 75710, 75625, and 75630. Note that CT angiography of the extremities has been valued as a unilateral service. However, CPT code 75635 is valued for bilateral lower extremity run.

Magnetic Resonance Imaging Procedures (CPT Codes 70540, 70542, 70543, 71550, 71551, 71552, 72195, 72196, 72197, 73218, 73219, 73220, 73221, 73222, 73223, 73718, 73719, 73720, 73721, 73722, 73723, 74181, 74182, and 74183)

CPT 2000 has a single code to describe MRI of each region of the body except for MRI of the brain, where three separate codes exist that describe MRI of the brain without contrast, with contrast, and without contrast followed by contrast. For CPT 2001 the single MRI code for each area of the body will be broken out into three separate CPT codes describing MRI for that body area without contrast, with contrast, and without contrast followed by contrast.

The only codes for which we received work RVU recommendations from the RUC were CPT 70540 (MRI orbit/face/neck, w/o contrast), 70542 (MRI orbit/face/neck, w/contrast), and 70543 (MRI orbit/face/neck, w/out then w/contrast). The recommended work RVUs were 1.48, 1.78, and 2.36 respectively. The services that will be described under these three CPT codes are currently being coded under a single CPT code, 70540 (current descriptor is Magnetic Resonance (e.g. proton) imaging, orbit, face, and neck with a current work RVU of 1.48). For this reason we must make the new CPT codes work neutral to the current CPT code; that is, the total work RVUs associated with the three new codes must result in the same total work RVUs of the current CPT code. The RUC recommendations were not work neutral. Since neither the RUC nor the specialty society supplied us with relative utilization rates for these CPT codes, we applied the current relative utilization pattern for MRI of the brain. MRI of the brain currently has three separate CPT codes for MRI without contrast, with contrast, and without contrast followed by contrast. This resulted in work RVUs of 0.98, 1.17, and 1.56 for MRI of the orbit, face, and neck without contrast, with contrast, and without contrast followed by contrast, respectively.

We did not receive work recommendations or utilization data for any of the other new MRI codes. In each case, a single MRI code describing MRI of a body area was broken out into three codes describing MRI of that body area without contrast, with contrast, and without contrast followed by contrast. In order to assign appropriate work values for these codes, we followed the following procedure for MRI of each body area—(1) we assigned a work RVU to MRI without contrast, MRI with contrast, and MRI without contrast followed by contrast that maintained the same relationship as the work RVUs the RUC assigned to the three codes for MRI of the orbit, face, and neck, (2) we determined the total work RVUs for the body area by utilization of the current MRI code for that body area, (3) we applied the relative utilization of the brain MRI codes to the new MRI codes for each body area, and (4) we adjusted the work RVUs assigned in step 1 for MRI of each body area to make them work neutral to the work RVUs determined from step 2.

Fetal Biophysical Profile (CPT Code 76818 and CPT Code 76819)

The RUC recommended a work RVU of 1.05 for CPT code 76818 and 0.77 for CPT code 76819. Although we agree with the relativity established by the RUC, the codes needed to be adjusted for budget neutrality. For this reason, we have assigned 0.86 work RVUs to CPT code 76818 and 0.63 work RVUs to CPT code 76819.

Sensory Integrative Techniques (CPT Code 97532 and CPT Code 97533)

The RUC recommended a work RVU of 0.51 for CPT code 97532 and 0.48 for CPT code 97533. These two new services were created to replace the deleted CPT code 97770. We believe the work associated with these two new services is analogous to deleted CPT code 97770. For this reason, we have assigned the same work RVU (0.44) that was assigned to deleted CPT code 97770 to both CPT code 97532 and CPT code 97533.

Active Wound Care Management (CPT Code 97601 and CPT Code 97602)

The HCPAC did not supply a work RVU recommendation for either CPT code 97601 or CPT code 97602. We had established temporary HCPCS code G0169 for the work described in new CPT code 97601. For this reason, we have assigned the same work RVU (0.50) to CPT code 97601 that was assigned to now-deleted HCPCS code G0169. We consider CPT code 97602 to be bundled into CPT code 97601 and therefore will not establish work RVUs for this service.

Medical Nutrition Therapy (CPT Codes 97802 Through 97804)

The HCPAC supplied work RVU recommendations of: 0.45 for CPT code 97802, 0.37 for CPT code 97803, and 0.25 for CPT code 97804. These services do not fall under any enumerated category of Medicare services, and thus these services are not covered by Medicare. Additionally, these services are not physician services and, therefore, would not be assigned physician work RVUs. Finally, the American Diabetic Association is unhappy with the descriptors CPT has assigned to CPT codes 97802 through 97804, and is in the process of submitting a request to CPT for a revision to the descriptors for these services. For these reasons, we have decided not to assign work RVUs to these services.

Establishment of Interim Practice Expense Relative Value Units for New and Revised Physician's Current Procedural Terminology (CPT) Codes and New HCFA Common Procedure Coding System Codes for 2001.

We have developed a process for establishing interim practice expense RVUs (PERVUs) for new and revised codes that is similar to that used for work RVUs. Under this process, the RUC recommends the practice expense direct inputs, that is, the staff time, supplies and equipment associated with each new code. We then review the recommendations in a manner similar to our evaluation of the recommended work RVUs.

The RUC recommendations on the practice expense inputs for the new and revised 2001 codes were submitted to us as interim recommendations. We, therefore, consider that these recommendations are still subject to further refinement by the PEAC, or by us, if it is determined that such future review is needed. We do have concerns regarding some of the recommended inputs, particularly clinical staff times, for certain services, and we may revisit these inputs in light of future decisions of the PEAC regarding supply and equipment packages and standardized approaches to pre- and post-service clinical staff times.

We have accepted, at least in the interim, almost all of the practice expense recommendations submitted by the RUC for the codes listed in the following table titled “AMA RUC and HCPAC Recommendations and HCFA Decisions for New and Revised 2001 CPT Codes.” We made the following minor changes to the inputs where relevant:

• We rounded all clinical staff time to the nearest minute.

• For consistency with the CPEP revisions contained in the November 1999 final rule, we deleted separately billable fluid and contrast material, and the skin marking pen, disinfectant and biohazard bag, because these items cannot easily be allocated to individual services.

• The RUC assigned the E/M visit supply package, which includes a tongue depressor, drape sheet, and disposable otoscope speculum, as well as the E/M equipment package, which includes an otoscope-ophthalmoscope, to several vascular, spine and other post-surgical visits. We deleted the otoscope-ophthalmoscope, because it is not typically used for such post-surgical visits and, instead of the E/M visit supply package, substituted the multi-specialty minimum visit supply package that includes: exam table paper, patient gown, pillow case, nonsterile gloves, and thermometer probe cover. We also added a patient education book.

• For those codes refined before the multi-specialty minimum visit supply package was adopted, we substituted this package for the list of individual items when they matched exactly. In the same manner, we substituted the ophthalmology visit supply package as appropriate.

• For CPT 11980, Subcutaneous hormone pellet implantation, we deleted the disinfectant solution because it is already included in the OB-GYN visit supply package assigned to this code.

• The RUC only priced CPT 36870, Thrombectomy, percutaneous, arteriovenous fistula, in the office setting. We added inputs for the facility setting, using the clinical staff time for coordinating pre-surgery services and providing pre-service education, as well as the clinical staff time for the one post-surgical visit. We also added the supply and equipment inputs for the post-surgical visit. For the non-facility setting, we added a multi-specialty minimum visit supply package for the post-surgical visit. However, we deleted the oxygen tank from the equipment inputs, because it appeared that it is only used on a stand-by basis, and would thus be considered an indirect cost.

• The RUC Health Care Professional Advisory Committee submitted a recommendation on the inputs for CPT 97533, Sensory integrative techniques. The inputs included a long list of specific equipment that we have combined into one package called “sensory integration equipment.”

• The RUC deferred making a recommendation on the practice expense inputs for CPT 43752, Naso- or oro-gastric tube placement. We have assumed that this service is performed only in the facility setting, and, as a 0-day global, has no direct inputs.

For the following CPT codes we did not receive practice expense recommendations. Therefore, we are providing practice expense inputs through crosswalking to an existing code as indicated below:

s
New CPT code | Existing CPT code
43256 Upper GI Endoscopy | 43241 Upper GI endoscopy with tube.
44370 Small bowel endoscopy/stent | 44363 Endocholaniopancreatograph.
44379 S bowel endoscope w/stent | 44377 Small bowel endoscopy/biopsy.
44383 Ileoscopy w/stent | 44382 Small bowel endoscopy.
57023 I&D vag hematoma, trauma | 57022 I&D vag hematoma,ob.
71275 CT angiography, chest | 71270-TC Contrast CAT scans of chest.
71551 CT angiography, chest | 70552-TC Magnetic image, brain (MRI).
71552 MRI chest w/o&w dye | 70553-TC Magnetic image, brain (MRI).
72191 CT angiograph pelv w/o&w dye | 72194-TC Contrast CAT scans of pelvis.
72195 MRI pelvis w/o dye | 70551-TC Magnetic image , brain (MRI).
72197 MRI pelvis w/o&w dye | 70553-TC Magnetic image, brain (MRI).
73206 CT angio upr extrm w&w/o dye | 73202-TC Contrast CAT scans of arm.
73218 MRI uppr extremity w/o dye | 70551-TC Magnetic image , brain (MRI).
73219 MRI uppr extremity w/ dye | 70552-TC Magnetic image, brain (MRI).
73222 MRI joint upr extrem w/dye | 70552-TC Magnetic image, brain (MRI).
73223 MRI joint upr extr w/o&w dye | 70553-TC Magnetic image, brain (MRI).
73706 CT angio lwr extr w/o&w dye | 73702-TC Contrast CAT scans of leg.
73718 MRI lower extremity w/o dye | 70551-TC Magnetic image , brain (MRI).
73719 MRI lower extremity w/ dye | 70552-TC Magnetic image, brain (MRI).
73722 MRI joint of lwr extr w/dye | 70552-TC Magnetic image, brain (MRI).
73723 MRI joint lwr extr w/o&w dye | 70553-TC Magnetic image, brain (MRI).
74175 CT angio abdom w/o&w dye | 74170-TC Contrast CAT scans, abdomen.
74182 MRI abdomen w/dye | 70552-TC Magnetic image, brain (MRI).
74183 MRI abdomen w/o& w dye | 70553-TC Magnetic image, brain (MRI).
75635 CT angio abdominal arteries | 74170-TC Contrast CAT scans, abdomen.

C. Other Changes to the 2001 Physician Fee Schedule and Clarification of CPT Definitions

For the 2001 physician fee schedule, we are establishing or revising several alpha-numeric HCPCS codes for reporting certain services that are not clearly described by existing CPT codes. This is in addition to the HCPCS codes for ocular photodynamic therapy, certification/recertification for home health services and care plan oversight previously discussed. We view these codes as temporary since we will be referring them to the CPT Editorial Panel for possible inclusion in future editions of CPT. Additionally, included in this section are some clarifications of proper use of some new or revised codes.

Evaluation of Swallowing Function

We are proposing the following new codes to describe the evaluation of swallowing function. These codes will replace the more general CPT 92525, Evaluation of swallowing and oral function for feeding, which represents a combination of these separate examinations. Our contractors requested the more precise coding to improve claims review for evaluation of dysphagia. The new codes are described as follows:

G0193 Endoscopy study of swallowing function, often referred to as fiberoptic endoscopic evaluation of swallowing (FEES).

G0194 Sensory testing during endoscoping study of swallowing. This service, often referred to as fiberoptic endoscopic evaluation of swallowing with testing, will be coded as an add-on code to G0193.

The creation of these two codes does not imply coverage. Coverage of G0193 and G0194 remains at the discretion of the contractor processing the Medicare claim. These codes will be priced by contractors.

Two additional codes are also used to describe swallowing evaluations:

G0195 Clinical evaluation of swallowing function. This service describes the clinical examination and evaluation of the patient, typically by a speech and language pathologist.

G0196 Evaluation of swallowing involving swallowing of radio-opaque materials. This code involves the participation and interpretation of results from the dynamic observation of the patient swallowing materials of various consistencies. It is observed fluoroscopically and typically recorded on video. This evaluation involves using the information to assess the patient's swallowing function and developing a treatment plan for the patient.

Both codes G0195 and G0196 will be assigned the same work and malpractice RVUs as CPT 92525. For practice expense, we have crosswalked the inputs from 92525 for these codes. CPT 92525 will no longer be an active code for Medicare.

Note that CPT 31575 (laryngoscopy, flexible fiberoptic, diagnostic) and CPT 31579 (laryngoscopy, flexible or rigid fiberoptic, with stroboscopy) should not be used for evaluations of swallowing.

Speech-Generating Devices

Because of the change in coverage policy on speech-generating devices, effective January 1, 2001, we needed codes that more specifically describe the services needed to evaluate and train patients to use these devices. As a result, we will be replacing CPT 92597, Evaluation for use and/or fitting of voice prosthetic or augmentative/alternative communication device to supplement oral speech) and 92598, Modification of voice prosthetic or augmentative/alternative communication device or supplemental oral speech, with the following new codes:

G0197 Evaluation of patient for prescription of speech-generating devices. This code describes the services to evaluate a patient to specify the speech-generating device recommended to meet the patient's needs and capacity for use. This code involves face-to-face involvement of the practitioner (typically a speech and language pathologist experienced in the use of these devices) with the patient. The work and malpractice RVUs for this new code will be cross-walked to the ones used for CPT code 92597, the code it replaces. For practice expense, we have crosswalked the inputs to CPT code 92527 for these codes.

G0198 Patient adaptation and training for use of speech-generating devices. This code describes the services delivered to the patient to adapt the device to the patient, and train him or her in its use. This code involves face-to-face involvement of the practitioner (typically a speech and language pathologist experienced in the use of these devices) with the patient. The work and malpractice RVUs, as well as the practice expense inputs for this new code, will be crosswalked to the ones used for CPT code 92598, the code it replaces.

G0199 Re-evaluation of patient using speech-generating devices. This code describes the services to re-evaluate a patient who has previously been evaluated for a speech-generating device, and either is currently using a device or did not have a device recommended. This code involves face-to-face involvement of the practitioner (typically a speech and language pathologist experienced in the use of these devices) with the patient. The work RVUs for this new code will be 75 percent of the value for CPT code 92597, reflecting that it is likely to be less intensive than the initial evaluation. The malpractice and practice expense inputs are also crosswalked to CPT code 92957.

G0200 Evaluation of patient for prescription of voice prosthetic. This code describes the services to evaluate a patient for the use of a voice prosthetic device. This code involves face-to-face involvement of the practitioner (typically a speech and language pathologist experienced in the use of these devices) with the patient. The work and malpractice RVUs for this new code will be crosswalked to the ones used for CPT code 92597, the code it replaces. We will also crosswalk practice expense inputs to CPT code 92957.

G0201 Modification or training in use of voice prosthetic. This code involves the modification or training of a patient in the use of a voice prosthetic. This code involves face-to-face involvement of the practitioner (typically a speech and language pathologist experienced in the use of these devices) with the patient. The work and malpractice RVUs, as well as the practice expense inputs for this new code, will be crosswalked to the ones used for CPT code 92598, the code it replaces. The RUC recommendations, as well as the revised CPEP data for all codes, can be found on our homepage. See the Supplementary Information section of this rule for instructions on accessing our website.

V. Physician Fee Schedule Update and Conversion Factor for Calendar Year 2001

The 2001 physician fee schedule conversion factor is $38.2581. The separate 2001 national average anesthesia conversion factor is $17.26.

The 2001 physician fee schedule update is 5.1 percent. However, miscellaneous adjustments will result in an increase in the conversion factor from 2000 to 2001 of 4.5 percent. The specific calculations to determine the physician fee schedule update and conversion factor for physicians' services for calendar year 2001 are explained below.

Detail on Calculation of the Calendar Year 2001 Physician Fee Schedule Update and the 2001 Conversion Factor

Physician Fee Schedule Update and Conversion Factor

The conversion factor is affected by section 1848(c)(2)(B)(ii)(II) of the Act, which requires that changes to the relative value units of the Medicare physician fee schedule not cause expenditures to increase or decrease by more than $20 million from the amount of expenditures that would have been made if such adjustments had not been made. We implement this requirement through a uniform budget-neutrality adjustment to the conversion factor. There are two changes that will require us to make an adjustment to the conversion factor to meet the budget neutrality requirements in section 1848(c)(2)(B)(ii)(II). We are making a 0.3 percent reduction (0.997) in the conversion factor to account for separate payment for certification and recertification of a plan of care for home health services. We are also making a 0.14 percent (0.9986) reduction in the conversion factor to account for an anticipated increase in the volume and intensity of services.

After considering this factor, as well as the percent change in the MEI, the update adjustment factor, and statutory adjustment described below, the 2001 conversion factor is calculated as follows:

2000 Conversion Factor—$36.6137

2001 Update—1.05163

2001 Legislative Adjustment—0.998

Volume and Intensity Adjustment—0.9986

Other Factors—0.997

2001 Conversion Factor—$38.2581

Under section 1848(d)(3) of the Act, the update is equal to the product of the MEI and the update adjustment factor. For 2001, the MEI is equal to 2.1 percent (1.021). A more detailed description of the MEI and its calculation follows. The update adjustment factor is equal to 3.0 percent (1.030). Thus, the product of the MEI (1.021) and the update adjustment factor (1.030) equal the 2001 update (1.05163). Section 1848(d)(4)(F) of the Act provides for an additional adjustment to the update for 2001 of −0.2 percent (0.998). Thus, taking into account the 2001 update, the 2001 legislative adjustment, the 2001 volume and intensity adjustment, and the adjustment for certification and recertification of a plan of care for home health services, the conversion factor for 2001 is determined as follows: $36.6137 × 1.05163 × 0.998 × 0.9986 × 0.997 = $38.2581.

The MEI and the update adjustment factor are described below.

The Percentage Change in the Medicare Economic Index

The MEI measures the weighted-average annual price change for various inputs needed to produce physicians' services. The MEI is a fixed-weight input price index, with an adjustment for the change in economy-wide labor productivity. This index, which has 1996 base weights, is comprised of two broad categories: Physician's own time and physician's practice expense.

The physician's own time component represents the net income portion of business receipts and primarily reflects the input of the physician's own time into the production of physicians' services in physicians' offices. This category consists of two subcomponents—wages and salaries, and fringe benefits. These components are adjusted by the 10-year moving average annual percent change in output per man-hour for the nonfarm business sector to account for productivity growth in the general economy.

The physician's practice expense category represents the rate of price growth in nonphysician inputs to the production of services in physicians' offices. This category consists of wages and salaries and fringe benefits for nonphysician staff and other nonlabor inputs. Like physician's own time, the nonphysician staff categories are adjusted for productivity using the 10-year moving average annual percent change in output per man-hour for the nonfarm business sector. The physician's practice expense component also includes the following categories of nonlabor inputs—office expense, medical materials and supplies, professional liability insurance, medical equipment, professional car, and other expense. The table below presents a listing of the MEI cost categories with associated weights and percent changes for price proxies for the 2001 update. The calendar year 2001 MEI is 2.1 percent.

Increase in the Medicare Economic Index Update for Calendar Year 2001 ¹
Cost categories and price measures | 1996 weights ² | CY 2001 percent changes
Medicare Economic Index Total | 100.0 | 2.1
1. Physician's Own Time ³ ⁴ | 54.5 | 1.7
a. Wages and Salaries: Average hourly earnings private nonfarm, net of productivity | 44.2 | 1.6
b. Fringe Benefits: Employment Cost Index, Benefits, private nonfarm, net of productivity | 10.3 | 2.4
2. Physician's Practice Expense ³ | 45.5 | 2.5
a. Nonphysician Employee Compensation | 16.8 | 1.8
1. Wages and Salaries: Employment Cost Index, wages and salaries, weighted by occupation, net of productivity | 12.4 | 1.7
2. Fringe Benefits: Employment Cost Index, fringe benefits, white collar, net of productivity | 4.4 | 2.6
b. Office Expense: Consumer Price Index for Urban Consumers (CPI-U), housing | 11.6 | 2.5
c. Medical Materials and Supplies: Producer Price Index (PPI), ethical drugs/PPI, surgical appliances and supplies/CPI-U, medical equipment and supplies (equally weighted) | 4.5 | 2.0
d. Professional Liability Insurance: HCFA professional liability insurance survey ⁵ | 3.2 | 7.2
e. Medical Equipment: PPI, medical instruments and equipment. | 1.9 | −1.1
f. Other Professional Expense | 7.6 | 2.8
1. Professional Car: CPI-U, private transportation | 1.3 | 5.5
2. Other: CPI-U, all items less food and energy | 6.3 | 2.1
Addendum:
Productivity: 10-year moving average of output per man-hour, nonfarm business sector | n/a | 1.9
Physician's Own Time, not productivity adjusted | 54.5 | 3.7
Wages and salaries, not productivity adjusted | 44.2 | 3.6
Fringe benefits, not productivity adjusted | 10.3 | 4.4
Nonphysician Employee Compensation, not productivity adjusted | 16.8 | 4.0
Wages and salaries, not productivity adjusted | 12.4 | 3.9
Fringe benefits, not productivity adjusted | 4.4 | 4.6
¹ The rates of historical change are for the 12-month period ending June 30, 2000, which is the period used for computing the calendar year 2001 update. The price proxy values are based upon the latest available Bureau of Labor Statistics data as of September 15, 2000.
² The weights shown for the MEI components are the 1996 base-year weights, which may not sum to subtotals or totals because of rounding. The MEI is a fixed-weight, Laspeyres-type input price index whose category weights indicate the distribution of expenditures among the inputs to physicians' services for calendar year 1996. To determine the MEI level for a given year, the price proxy level for each component is multiplied by its 1996 weight. The sum of these products (weights multiplied by the price index levels) over all cost categories yields the composite MEI level for a given year. The annual percent change in the MEI levels is an estimate of price change over time for a fixed market basket of inputs to physicians' services.
³ The Physician's Own Time and Nonphysician Employee Compensation category price measures include an adjustment for productivity. The price measure for each category is divided by the 10-year moving average of output per man-hour in the nonfarm business sector. For example, the fringe benefits component of the Nonphysician Compensation category is calculated by dividing the rate of growth in the employment cost index-benefits for private, white collar workers by the 10-year moving average rate of growth of output per man-hour for the nonfarm business sector. Dividing one plus the decimal form of the percent change in the employment cost index-benefits (1+.046=1.046) by one plus the decimal form of the percent change in the 10-year moving average of labor productivity (1+.019=1.019) equals one plus the change in the employment cost index-benefits for white collar workers net of the change in output per manhour (1.046/1.019=1.026). All Physician's Own Time and Nonphysician Employee Compensation categories are adjusted in this way. Due to a higher level of precision the computer calculated quotient may differ from the quotient calculated from rounded individual percent changes.
⁴ The average hourly earnings proxy, the Employment Cost Index proxies, as well as the CPI-U, housing and CPI-U, private transportation are published in the Current Labor Statistics Section of the Bureau of Labor Statistics' Monthly Labor Review. The remaining CPIs and PPIs in the revised index can be obtained from the Bureau of Labor Statistics' CPI Detailed Report or Producer Price Indexes.
⁵ Derived from a HCFA survey of several major insurers (the latest available historical percent change data are for the period ending second quarter of 2000).
N/A Productivity is factored into the MEI compensation categories as an adjustment to the price variables; therefore, no explicit weight exists for productivity in the MEI.

The Update Adjustment Factor

Under sections 1848(d)(3) and (d)(4) of the Act, the physician fee schedule update is equal to the product of the Medicare Economic Index and an “update adjustment factor.” The update adjustment factor represents an amount that is applied to the inflation update to reflect success or failure in meeting the expenditure target that the law refers to as “allowed expenditures.” Allowed expenditures are equal to actual expenditures in a base period updated each year by the sustainable growth rate. The sustainable growth rate is a percentage increase that is determined by a formula specified in section 1848(f) of the Act. The next section describes the SGR and its calculation in detail. The update adjustment factor is determined based on a comparison of actual and allowed expenditures. For years beginning with 1999, the BBA required that the update adjustment factor be determined under section 1848(d)(3) of the Act to equal—

(i) the difference between—(I) the sum of the allowed expenditures for physicians' services (as determined under subparagraph (C)) for the period beginning April 1, 1997, and ending on March 31 of the year involved, and (II) the amount of actual expenditures for physicians' services furnished during the period beginning April 1, 1997, and ending on March 31 of the preceding year; divided by—

(ii) the actual expenditures for physicians' services for the 12-month period ending on March 31 of the preceding year, increased by the sustainable growth rate under subsection (f) for the fiscal year which begins during such 12-month period.

Pub. L. No. 106-113, the Medicare, Medicaid and State Children's Health Insurance Program Balanced Budget Refinement Act of 1999 (BBRA) made changes to the methodology for determining the physician fee schedule update beginning in 2001. In particular, it established that the methodology in section 1848(d)(3) of the Act would only be used for determining the physician fee schedule update for 1999 and 2000. The BBRA established that the physician fee schedule update for 2001 and subsequent years would be determined under section 1848(d)(4) of the Act. While the general principle of adjusting the inflation update (the MEI) by the update adjustment factor continues, the BBRA made fundamental changes to the calculation of the update adjustment factor. In general, these changes do two things. First, the measurement of actual expenditures will occur on the basis of a calendar year rather than an April 1 to March 31 year. This essentially conforms the measurement of actual expenditures with other aspects of the SGR system that are also occurring on the basis of a calendar year as a result of BBRA amendments. As we explained in our April 10, 2000 SGR final notice (65 FR 19000), the BBRA essentially changed the SGR system from one that spanned 3 different time periods, ((1) measurement of actual expenditures on the basis of an April 1 to March 31 period; (2) calculation of the SGR rate of increase on a federal fiscal year basis; and (3) application of the update on a calendar year basis) to one that spans only one time period. (All three are on the basis of a calendar year). Second, it ensures that any deviation between cumulative actual expenditures and cumulative allowed expenditures will be corrected over several years rather than in a single year. This will result in less year-to-year volatility in the physician fee schedule update than would occur if adjustments to the update are made to bring expenditures in line with the target in one year.

Under section 1848(d)(4)(A) of the Act, the physician fee schedule update for a year is equal to the product of— (1) 1 plus the Secretary's estimate of the percentage increase in the MEI for the year, and (2) 1 plus the Secretary's estimate of the update adjustment factor for the year. Under section 1848(d)(4)(B) of the Act, the update adjustment factor for a year beginning with 2001 is equal to the sum of the following:

(i) Prior Year Adjustment Component. An amount determined by:

(I) Computing the difference (which may be positive or negative) between the amount of the allowed expenditures for physicians' services for the prior year (the year prior to the year for which the update is being determined) and the amount of the actual expenditures for such services for that year;

(II) Dividing that difference by the amount of the actual expenditures for such services for that year; and

(III) Multiplying that quotient by 0.75.

(ii) Cumulative Adjustment Component. An amount determined by:

(I) Computing the difference (which may be positive or negative) between the amount of the allowed expenditures for physicians' services from April 1, 1996 through the end of the prior year and the amount of the actual expenditures for such services during that period;

(II) Dividing that difference by actual expenditures for such services for the prior year as increased by the sustainable growth rate for the year for which the update adjustment factor is to be determined; and

(III) Multiplying that quotient by 0.33.

Thus, the CY 2001 update adjustment factor will be determined as the sum of the following:

(i) Prior Year Adjustment Component. This equals the difference between allowed expenditures in 2000 and our current estimate of actual expenditures for 2000. This difference is divided by our current estimate of actual expenditures for 2000 and the quotient is multiplied by 0.75. Our current estimate of allowed expenditures for CY 2000 is $56.6 billion. Our current estimate of actual expenditures for all of 2000 based on claims received through June 30 is $55.1 billion. Thus, the prior year adjustment component is equal to:

(($56.6−$55.1)/$55.1)) × 0.75 = .020

(ii) Cumulative Adjustment Component. This amount equals the difference between allowed expenditures for the period April 1, 1996 through December 31, 2000 ($244.4 billion) and actual expenditures for the same period ($240.6 billion) divided by the product of actual expenditures for the year 2000 ($55.1) increased by the SGR for 2001 (5.6 percent). This quotient is multiplied by 0.33. Thus, the cumulative adjustment component is equal to:

(($244.4−$240.6)/($55.1×1.056)) × 0.33 = 0.022.

The prior year adjustment component and the cumulative adjustment component are added. Adding these figures together would make the update adjustment factor equal 0.042. However, section 1848(d)(4)(D) of the Act indicates that the update adjustment factor determined under section 1848(d)(4)(B) of the Act for a year may not be less than −0.07 or greater than 0.03. Since 0.042 exceeds 0.03, we are limiting the update adjustment factor consistent with section 1848(d)(4)(D) of the Act to 0.03. Section 1848(d)(4)(A)(ii) of the Act indicates that 1 should be added to the update adjustment factor determined under section 1848(d)(4)(B) of the Act. Thus, adding 1 to 0.03 makes the update adjustment factor equal 1.030.

(As indicated in the SGR discussion below, allowed expenditures through the end of CY 2000 will be revised one more time, no later than November 1, 2001. We will also be revising the measurement of actual expenditures for CY 2000 based on claims received through June 30, 2001. These revised figures will be determined no later than November 1, 2001. The SGR for 2001 will also be revised two more times. Any differences that result in the update adjustment factor for 2001 from revision of estimates will be reflected in update adjustment factor determined for 2002.)

VI. Allowed Expenditures for Physicians' Services and the Sustainable Growth Rate

A. Medicare Sustainable Growth Rate

Section 1848(f) of the Social Security Act (the Act), as amended by section 4503 of the Balanced Budget Act of 1997 (BBA) (Pub. L. 105-33), enacted on August 5, 1997, replaced the Medicare Volume Performance Standard (MVPS) with a Sustainable Growth Rate (SGR). Section 1848(f)(2) of the Act specifies the formula for establishing yearly SGR targets for physicians' services under Medicare. The use of SGR targets is intended to control the actual growth in aggregate Medicare expenditures for physicians' services.

The SGR targets are not limits on expenditures. Payments for services are not withheld if the SGR target is exceeded by actual expenditures. Rather, the appropriate fee schedule update, as specified in section 1848(d)(3) of the Act, is adjusted to reflect the success or failure in meeting the SGR target. If expenditures exceed the target, the update is reduced. If expenditures are less than the target, the update is increased.

As with the MVPS, the statute specifies a formula to calculate the SGR based on our estimate of the change in each of four factors. The four factors for calculating the SGR are as follows:

(1) The estimated change in fees for physicians' services.

(2) The estimated change in the average number of Medicare fee-for-service beneficiaries.

(3) The estimated projected growth in real gross domestic product (GDP) per capita.

(4) The estimated change in expenditures due to changes in law or regulations.

Section 211 of the BBRA amended sections 1848(d) and 1848(f) of the Act with respect to the physician fee schedule update and the SGR. Section 211(b) of the BBRA maintains the formula for calculating the SGR, but amends section 1848(f)(2) of the Act to apply the SGR on a calendar year (CY) basis beginning with 2000 while maintaining the SGR on a fiscal year (FY) basis for FY 1998 through FY 2000. Specifically, section 1848(f)(2) of the Act, as amended by section 211(b) of the BBRA, states that_“* * * [t]he sustainable growth rate for all physicians' services for a fiscal year (beginning with fiscal 1998 and ending with fiscal year 2000) and a year beginning with 2000 shall be equal to the product of:

(1) 1 plus the Secretary's estimate of the weighted average percentage increase (divided by 100) in the fees for all physicians' services in the applicable period involved,

(2) 1 plus the Secretary's estimate of the percentage change (divided by 100) in the average number of individuals enrolled under this part (other than Medicare+Choice plan enrollees) from the previous applicable period to the applicable period involved,

(3) 1 plus the Secretary's estimate of the projected percentage growth in real gross domestic product per capita (divided by 100) from the previous applicable period to the applicable period involved; and

(4) 1 plus the Secretary's estimate of the percentage change (divided by 100) in expenditures for all physicians' services in the applicable period (compared with the previous applicable period) which will result from changes in law and regulations, determined without taking into account estimated changes in expenditures resulting from the update adjustment factor determined under section 1834 (d)(3)(B) or (d)(4)(B) of the Act, as the case may be, minus 1 and multiplied by 100.”

Under section 1848(f)(4)(C) of the Act, as added by section 211(b)(3) of the BBRA, the term “applicable period” means—(1) a FY, in the case of FY 1998, FY 1999 and FY 2000, and (2) a CY with respect to a year beginning with 2000.

To make the transition from a FY SGR to a CY SGR in 1999 using the FY 2000 SGR, sections 211(b)(2) and (b)(3) of the BBRA require us to calculate SGRs for both FY and CY 2000. Section 1848(d)(4)(C) of the Act, as modified by section 211(a)(1)(B) of the BBRA, required us to determine the allowed expenditures for both the 9-month period beginning April 1, 1999 and for CY 1999. The SGR for CY 2000 is then applied to allowed expenditures for CY 1999.

As stated in the April 10 final notice (65 FR 19002), the BBRA requires the estimate of the FY 2000 and CY 2000 SGR to be revised based on more recent data, but, as explained below, the BBRA does not provide for revision of either the FY 1998 or the FY 1999 SGR. This means that, for the transition to a calendar year SGR system, allowed expenditures for the period April 1, 1999 through December 31, 1999 (determined by applying the FY 2000 SGR to allowed expenditures for the 12-month period ending March 31, 1999) are subject to change based on revision of the FY 2000 SGR; allowed expenditures for the period January 1, 1999 through March 31, 1999 (determined using the FY 1999 SGR) are not subject to revision.

In general, the BBRA requires us to publish SGRs for three different time periods, no later than November 1 of each year, using the best data available as of September 1 of each year. Under section 1848(f)(3)(C)(i) of the Act, as added by section 211(b)(5) of the BBRA, the SGR is estimated and subsequently revised twice (beginning with the FY and CY 2000 SGRs) based on later data. Under section 1848(f)(3)(C)(ii) of the Act, there are no further revisions to the SGR once it has been estimated and subsequently revised in each of the 2 years following the initial estimate.

The requirement of revisions to the SGR based on later data means that we will estimate and publish an SGR for the upcoming year, the contemporaneous year, and the preceding year by not later than November 1 of each year. For example, by not later than November 1, 2002, we will publish an estimate of the SGR for CY 2003, a revision of the CY 2002 SGR estimated in the previous year, and a revision of the CY 2001 SGR first estimated two years earlier and first revised in the previous year. Under section 1848(f)(3)(C)(ii) of the Act, this would be the final revision to the CY 2001 SGR.

Sections 1848(f)(3)(A) and (f)(3)(B) of the Act, as added by section 211(b)(5) of the BBRA, specify special rules with respect to the SGR and the CY 2001 and CY 2002 updates. Section 1848(f)(3)(A) of the Act requires us, not later than November 1, 2000, to revise the SGRs for FY 2000 and CY 2000 and to establish the SGR for CY 2001, based on the best data available, as of September 1, 2000. Section 1848(f)(3)(B) of the Act requires us, by not later than November 1, 2001, to revise the SGRs for FY 2000 and CYs 2000 and 2001 and to establish the SGR for CY 2002, based on the best data available as of September 1, 2001. In accordance with section 1848(f)(3)(C)(ii) of the Act, there will be no further revisions to the FY 2000 and CY 2000 SGRs after their revision in the 2001 notice.

Physicians' Services

Section 1848(f)(4)(A) of the Act defines the scope of physicians' services covered by the SGR. The BBRA made no changes to this definition that was also used for the MVPS. For this reason, we are continuing to use the same definition of physicians' services for the SGR in this notice as we did in prior SGR notices and for the MVPS published in the Federal Register (61 FR 59717) on November 22, 1996.

C. Provisions Related to the SGR

We are implementing section 211(b)(1)(A) of the BBRA that requires us to publish in the Federal Register, not later than November 1, 2000, a notice containing—(1) a preliminary estimate of the SGR for 2001; and (2) a revised estimate of the CY 2000 SGR. In addition, consistent with section 1848(f)(3)(A) of the Act, we are revising the SGR for FY 2000 for purposes of determining the physician fee schedule update for 2001 under section 1848(d)(4)(B) of the Act.

In general, the update for a year is based on the Medicare Economic Index (MEI) as adjusted, within bounds, by the amount of actual expenditures for physicians' services compared to allowed (that is, growth target) expenditures. A key difference between the MVPS and the SGR is that the comparison of actual and allowed expenditures is made on a cumulative basis under the SGR, while it was made on an annual basis under the MVPS. The “update adjustment factor” in section 1848(d)(4)(B) of the Act is an adjustment to the MEI that reflects the difference between actual expenditures and target expenditures.

Section 1848(d)(3)(C) of the Act, as modified by the BBA, defines allowed expenditures for the 12-month period ending March 31, 1997 as equal to actual expenditures for physicians' services during that period (that is, April 1, 1996 through March 31, 1997), as we have estimated. Section 1848(d)(3)(C) of the Act defines allowed expenditures for subsequent 12-month periods to be equal to allowed expenditures for physicians' services for the previous year increased by the SGR for the FY which begins during the 12-month period. For example, allowed expenditures for the 12-month period April 1, 1997 through March 31, 1998 are equal to allowed expenditures for the 12-months ending March 31, 1997, increased by the SGR for FY 1998. As explained above, BBRA subsequently provided for a transition to a calendar year SGR system in 1999 with allowed expenditures in 2000 equal to 1999 allowed expenditures increased by the 2000 SGR. Allowed expenditures for each subsequent year will equal expenditures from the prior year updated by the SGR.

The following table shows annual and cumulative allowed expenditures for physicians' services from April 1, 1996 through December 31, 2001.

Period | Annual allowed expenditures | Cumulative allowed expenditures | FY or CY SGR
4/1/96-3/31/97 | $48.9 billion | $48.9 billion | N/A.
4/1/97-3/31/98 | $49.6 billion | $98.5 billion | FY 1998=1.5%.
4/1/98-3/31/99 | $49.4 billion | $147.9 billion | FY 1999=-0.3%.
1/1/99-3/31/99 | $12.5 billion.
4/1/99-12/31/00 | $39.5 billion | $187.9 billion | FY 2000=7.9%.
1/1/99-12/31/99 | $52.4 billion | Included in $187.9 billion above | See Note.
1/1/00-12/31/00 | $56.6 billion | $244.4 billion | CY 2000=8.1%.
1/1/01-12/31/01 | $59.8 billion | $304.2 billion | CY 2001=5.6%.

Note: Allowed expenditures for the first quarter of 1999 are based on the FY 1999 SGR and allowed expenditures for the last three quarters of 1999 are based on the FY 2000 SGR.

In the above table, for the period April 1996 through March 1997, annual allowed expenditures are equal to actual expenditures for the period. Annual allowed expenditures for each subsequent year are equal to the figure from the prior April 1 through March 31 12-month period (shown in the annual allowed expenditure column) multiplied by the SGR figure one row down in the right hand column. For example, allowed expenditures from April 1997 through March 1998 are equal to $48.9 multiplied by 1.015. Cumulative allowed expenditures in a year are equal to the sum of the annual allowed expenditures figure in the same row and annual allowed expenditures for all prior years. The transition to the calendar SGR occurs in 1999. Our current estimates of the FY 2000 SGR of 7.9 percent (2.1 percent for factor 1, 0.8 percent for factor 2, 4.5 percent for factor 3 and 0.3 percent for factor 4), the CY 2000 SGR of 8.1 percent (2.1 percent for factor 1, 1.0 percent for factor 2, 4.3 percent for factor 3, and 0.5 percent for factor 4) and the CY 2001 SGR (1.9 percent for factor 1, 0.9 percent for factor 2, 2.7 percent for factor 3 and 0.0 percent for factor 4) are described in more detail below. All estimates are based on the best data available to the Secretary as of September 1.

Allowed expenditures for the April 1, 1999 through the December 31, 1999 period are based on the FY 2000 SGR. As previously discussed, section 1848(f)(3) of the Act requires two revisions to the FY 2000 SGR. The first revision must be made not later than November 1, 2000 based on the best data available as of September 1, 2000; the second revision must be made not later than November 1, 2001, based on the best data available as of September 1, 2001. The allowed expenditures figure in the above table for the April 1, 1999 through the December 31, 1999 period reflects the revisions of the FY 2000 SGR contained in this notice. Similarly, the allowed expenditure figure for 2000 reflects our current estimate of the SGR for 2000. Both figures will be revised for the final time not later than November 1, 2001.

As we explained in our April 10, 2000 SGR notice (65 FR 19002), section 1848(d)(4)(C)(ii)(II) of the Act, as added by section 211(a)(1)(B) of the BBRA, specifies that allowed expenditures for the year of 1999 must be our estimate of the amount of the allowed expenditures that would be permitted under section 1848(d)(3)(C) of the Act for that year. We are, therefore, calculating allowed expenditures for CY 1999 as the sum of allowed expenditures for—(1) The January 1, 1999 through March 31, 1999 period; and (2) allowed expenditures for the April 1, 1999 through December 31, 1999 period.

Annual allowed expenditures for the period April 1, 1998 through March 31, 1999 are $49.4 billion. Our actuarial estimate of allowed expenditures for the 3-month period January 1, 1999 through March 31, 1999 is $12.5 billion that was determined by updating quarterly allowed expenditures included in the January 1, 1997 through March 31, 1997 period by the SGRs for FY 1998, FY 1999 and FY 2000. Adding this figure to the $39.9 billion figure for April 1, 1999 through December 31, 1999 equals allowed expenditures for 1999 of $52.4 billion. (Due to rounding, the figures may not add precisely to the total for 2000.)

Allowed expenditures for the period April 1, 1998 through March 30, 1999 are equal to allowed expenditures for the previous 12-month period increased by the FY 1999 SGR. As discussed in the April 10, 2000 SGR final notice (65 FR 19001), because there is no provision in the Act for revising the FY 1999 SGR or, consequently, the allowed expenditures for the April 1, 1998 through March 31, 1999 period, we are not revising the January 1, 1999 through March 31, 1999 portion of allowed expenditures included in the 1999 allowed expenditures. Thus, allowed expenditures for the January 1, 1999 to March 31, 1999 period are the same as those included in our April 10, 2000 final notice (65 FR 19002). However, as indicated above, revisions to the FY 2000 SGR contained in this notice result in an increase in our earlier estimates of allowed expenditures for April 1, 1999 through December 31, 1999 and, hence, allowed expenditures for 1999.

D. Preliminary Estimate of the SGR for CY 2001

According to sections 1848(f)(2)(A) through (f)(2)(D) of the Act, as amended by section 211(b) of the BBRA, we have determined the preliminary estimate of the CY 2001 SGR to be 5.6 percent. Our determination is based on estimates of the following four statutory factors as indicated in the table below:

Statutory factors | April 10 estimate | Current estimate
Fees | 1.5 | 1.9
Enrollment | −0.6 | 0.9
Real Per Capita GDP | 1.9 | 2.7
Law and Regulation | 0.0 | −0.0
Total | 2.8 | 5.6

(Note: Consistent with section 1848(f)(2) of the Act, the statutory factors are multiplied, not added, to produce the total (that is, 1.019 × 0.991 × 1.027 × 1.000 = 1.056.) A more detailed explanation of each figure is provided below.

E. Sustainable Growth Rate for CY 2000

According to sections 1848(f)(2)(A) through (f)(2)(D) of the Act, as amended by section 211(b) of the BBRA, our current estimate of the CY 2000 SGR is 8.1 percent. This compares to an estimate of 5.8 percent included in our April 10, 2000 notice (65 FR 19003). The table below shows our April 10 and current estimates of the four statutory factors that determine the CY 2000 SGR:

Statutory factors | April 10 estimate | Current estimate
Fees | 2.1 | 2.1
Enrollment | −0.6 | 1.0
Real Per Capita GDP | 2.5 | 4.3
Law and Regulation | 1.7 | 0.5
Total | 5.8 | 8.1

A more detailed explanation of each figure is provided below.

F. Sustainable Growth Rate for FY 2000

According to sections 1848(f)(2)(A) through (f)(2)(D) of the Act, as amended by section 211(b) of the BBRA, our current estimate of the FY 2000 SGR is 7.9 percent. This is in comparison to an estimate of 2.1 percent included in our October 1, 1999 notice (64 FR 53394). At the time of the April 10, 2000 final (SGR) notice, we estimated the SGR for FY 2000 would be 5.7 percent. The table below shows our October 1, 1999 and current estimates of the four statutory factors that determine the FY 2000 SGR:

Statutory factors | April 10 estimate | Current estimate
Fees | 2.1 | 2.1
Enrollment | −0.4 | 0.8
Real Per Capita GDP | 2.7 | 4.5
Law and Regulation | 1.2 | 0.3
Total | 5.7 | 7.9

A more detailed explanation of each figure is provided below.

G. Calculation of the FY 2000 CY 2000 and CY 2001 Sustainable Growth Rate

1. Detail on the CY 2001 SGR

A more detailed discussion of our preliminary estimates of the four elements of the 2001 SGR follows.

Factor 1—Changes in Fees for Physicians' Services (Before Applying Legislative Adjustments) for CY 2001

This factor was calculated as a weighted average of the CY 2001 fee increases that apply for the different types of services included in the definition of physicians' services for the SGR.

Physicians' services represent approximately 89 percent of allowed charges for physicians' services under the SGR and are updated by the Medicare Economic Index (MEI). Our current estimate of the MEI for 2001 is 2.1 percent. Diagnostic laboratory tests represent approximately 11 percent of the Medicare allowed charges for physicians' services under the SGR. The BBA provided for a 0.0 percent update for CY 2001 for laboratory services. The table below shows both the physicians' and laboratory service updates that were used to determine the percentage increase in physicians' fees for CY 2001.

| Weight | Update
Physician | .89 | 2.1
Laboratory | .11 | 0.0
Weighted Average | 1.0 | 1.9

After taking into account the elements described in the table, we estimate that the weighted-average increase in fees for CY 2001 for physicians' services under the SGR (before applying any legislative adjustments) will be 1.9 percent.

Factor 2—The Percentage Change in the Average Number of Part B Enrollees from CY 2000 to CY 2001

This factor is our estimate of the percent change in the average number of fee-for-service enrollees for CY 2001 as compared to CY 2000. Medicare+Choice (M+C) plan enrollees, whose Medicare-covered medical care is outside the scope of the SGR, are excluded from this estimate. Our actuaries estimate that the average number of Medicare Part B fee-for-service enrollees (excluding beneficiaries enrolled in M+C plans) will increase by 0.9 percent in calendar year 2001. This estimate was derived by subtracting estimated M+C enrollment from estimated overall Medicare enrollment as illustrated in the table below.

| 2000 | 2001
Overall | 37.476 million | 37.824 million.
Medicare+Choice | 6.303 million | 6.382 million.
Net | 31.174 million | 31.442 million.
Percent Increase |  | 0.9 percent.

In our April 10 final notice (65 FR 19005), we indicated that the enrollment factor is one of two elements of the SGR upon which there has been the largest difference between our actuaries' estimates and the actual percentage change in the factor. At this time, our actuary has no information on actual enrollment in M+C organizations for 2001. While we do receive information on whether a M+C Plan will continue to participate or withdraw from the program in 2001, it remains difficult to estimate the number of beneficiaries that will select a M+C plan or fee-for-service before the start of the calendar year. While some managed care organizations will no longer offer a M+C plan, other plans are available as an option to most beneficiaries in areas where there have been plan withdrawals. We have considered this issue in developing our 2001 M+C enrollment estimate. While there have been plan withdrawals the past three years, we have continued to observe increased enrollments. For 2001, we considered the issue of plan withdrawals and are forecasting a smaller increase than in prior years. Since beneficiaries have the option of moving between the fee-for-service and M+C sectors on a monthly basis, there may be movement during the year between the fee-for-service and M+C programs. This is another factor that contributes to the difficulty of estimating the size of the M+C enrollee population prior to the start of a calendar year. Since the fee-for-service enrollment figure is determined net of the change in M+C enrollment, it makes early estimates of this factor difficult. We would further point out that our estimate of this factor will have little bearing on the estimate of the update adjustment factor for 2001; it has no impact since the update adjustment is already at its limit. Since the law requires revisions of the estimates used in setting the SGR, we will have information on actual enrollment in M+C plans for the first eight months of 2001, and will be better able to predict the change in fee-for-service enrollment for the year by the time we determine the 2002 physician fee schedule. Thus, our estimate of the increase in fee-for-service enrollment contained in this final rule has no affect on the 2001 physician fee schedule update and will reflect later estimates based largely on actual information for the period by the time we set the 2002 physician fee schedule update.

Factor 3—Estimated Real Gross Domestic Product Per Capita Growth in CY 2001

Section 1848(f)(2)(C) of the Act, as amended by section 211 of the BBRA, requires us to estimate growth in real GDP per capita. This factor is applied on a CY basis beginning with the CY 2000 SGR. We estimate that the growth in real GDP will be 2.7 percent in CY 2001. Our past experience indicates that there have also been large changes in estimates of real per capita GDP growth and the actual change in this factor. Again, we note that we will use revised estimates of real per capita GDP growth in setting future year updates.

Factor 4—Percentage Change in Expenditures for Physicians' Services Resulting From Changes in Law or Regulations in CY 2001 Compared With CY 2000

There are no statutory or regulatory provisions that will affect expenditures in CY 2001 relative to CY 2000. The percentage change in expenditures for physicians' services resulting from changes in law or regulations is estimated to be 0.0 percent for 2001.

2. Detail on Calculation of the FY 2000 and CY 2000 SGRs

A more detailed discussion of our revised estimates of the four elements of the FY 2000 and CY 2000 SGR follows.

Factor 1—Changes in Fees for Physicians' Services (Before Applying Legislative Adjustments) for FY 2000 SGR and CY 2000 SGR.

We are continuing to use 2.1 percent for this element of the SGR for the FY 2000 SGR and the CY 2000 SGR. This factor is unchanged from earlier estimates previously described respectively for FY 2000 and CY 2000 in the October 1, 1999 Federal Register (65 FR 53395) and the April 10, 2000 Federal Register (65 FR 19003).

Factor 2—The Percentage Change in the Average Number of Part B Enrollees for the FY 2000 SGR and CY 2000 SGR.

This factor is our estimate of the percent change in the average number of fee-for-service enrollees for FY 2000 as compared to FY 1999 and CY 2000 as compared to CY 1999. As we indicated above, this factor is difficult to estimate prior to the beginning of the period for which the estimates are being made because of the interaction of the fee-for-service and M+C program and the lack of availability of actual data on beneficiary selection of M+C enrollment. We currently have such information on actual enrollment in the M+C program for FY 2000 and CY 2000 that permits estimates of the change in fee-for-service enrollment for these years that will be more reflective of the final actual change. The estimates for FY 2000 and CY 2000 were derived by subtracting estimated M+C enrollment from estimated overall Medicare enrollment as illustrated in the tables below.

| 1999 | 2000
Overall | 37.055 million | 37.746 million.
Medicare+Choice | 6.191 million | 6.303 million.
Net | 30.864 million | 31.174 million.
Percent Increase |  | 1.0 percent.

Our actuaries' estimate of the percent change in the average number of fee-for-service enrollees, net of M+C enrollment for 2000 compared to 1999 (0.8 percent for fiscal year 2000, and 1.0 percent for calendar year 2000) is greater than earlier estimates of this factor (−4.3 percent for FY 2000 and −0.6 percent for CY 2000). This is because the historical base from which our actuarial estimate is made has changed (that is, we have more information on actual enrollment in M+C plans from CY 1999 and CY 2000 that affects our estimates for these and future years).

Factor 3—Estimated Real Gross Domestic Product Per Capita Growth in FY 2000 and CY 2000

In the FY 2000 SGR notice published on October 1, 1999 (64 FR 53396), we estimated that real GDP growth per capita for FY 2000 would be 1.8 percent. In our April 10, 2000 SGR notice, we estimated that real per capita GDP growth for CY 2000 would be 2.5 percent. We are now estimating real GDP growth per capita to be 4.5 percent for FY 2000 and 4.3 percent for CY 2000. As we explained in our April 10, 2000 SGR notice (65 FR 19004), the higher estimate of the FY 2000 SGR is due in part to Bureau of Economic Analysis (BEA) revisions to the historical National Income and Product Accounts (NIPA) and in part due to a change in the outlook for growth in 2000. The historical revisions, released by BEA on October 29, 1999, raised historical real GDP per capita growth by 0.2 percentage points on average between 1959 and 1998, with larger differences in recent years. (For detailed description of changes to NIPA, see Brent R. Moulton, Robert P. Parker, and Eugene P. Seskin, “A Preview of the 1999 Comprehensive Revision of the National Income and Product Accounts,” Survey of Current Business (August, 1999): 7-20.) Subsequently, the projections of growth in real GDP per capita for FY 2000 have been revised upwards to reflect these revisions. Also, projections of real GDP per capita in 2000 (both FY and CY) have been revised upward to reflect stronger than expected stock market performance and less than expected buildup of inventories in preparation for Y2K in 1999.

Factor 4—Percentage Change in Expenditures for Physicians' Services Resulting From Changes in Law or Regulations in FY 2000 Compared With FY 1999 and CY 2000 Compared With CY 1999

As we explained in our October 1, 1999 and April 10, 2000 SGR notices, legislative changes contained in the BBA and the BBRA will have an impact on expenditures for physicians' services under the SGR in FY 2000 and CY 2000. Section 4103 of the BBA mandates a new prostate screening benefit effective January 1, 2000. We originally did not include any costs associated with the prostate screening benefit in our FY 2000 SGR notice published on August 1, 1999 (64 FR 53394). In the CY 2000 SGR notice published on April 10, 2000 (65 FR 19004), we indicated that inclusion of the prostate screening benefit would increase the FY 2000 SGR by 1.4 percentage points. We inadvertently included both the estimated physician and hospital expenditures associated with the prostate screening benefit in this figure while only Part B physician expenditures should be included in the SGR. In the April 10, 2000 SGR notice, we estimated that factor 4 would be 1.2 percentage points for the FY 2000 SGR and 1.7 percentage points for the CY 2000 SGR. The corresponding figures are now 0.3 percent for FY 2000 and 0.5 percent for CY 2000. The correction of the prostate screening benefit largely explains the reduction in this factor from our April 10, 2000 notice. We also incorporated a higher price for the prostate screening test itself that has the effect of slightly increasing this component of the FY and CY 2000 SGR. Other factors that affect the FY 2000 and CY 2000 SGR are the elimination of the requirement that subluxation of the spine be demonstrated by an x-ray before a beneficiary can receive Medicare coverage for chiropractic services. This provision is resulting in a small increase in expenditures in FY 2000 and CY 2000. The impact of BBA Medicare Secondary Payer provisions will have marginal impact on reducing expenditures in FY 2000 and CY 2000.

Certain BBRA provisions also have a small impact on expenditures in FY 2000 and CY 2000. Section 224 of the BBRA increases payments for pap smears and is slightly increasing expenditures. Section 221 of the BBRA postponed the implementation of payment caps on physical and occupational therapy and speech-language pathology services. The effect of this provision on physicians and independent practitioners is resulting in a small increase in expenditures for these years. There is no effect on the SGR of provisions related to the technical component of a physician pathology service or the use of modifier 25. We are not implementing the proposed policy related to modifier 25, and the savings associated with the technical component of a physician pathology service are not large enough to affect calculation of the FY 2001 SGR.

After taking into account these provisions, the percentage change in expenditures for physicians' services resulting from changes in law or regulations is estimated to be 0.3 percent for FY 2000 and 0.5 percent for CY 2000.

VII. Provisions of the Final Rule

The provisions of this final rule restate the provisions of the July 2000 proposed rule, except as noted elsewhere in the preamble. Following is a highlight of the changes made from the proposed rule:

For changes related to the Geographic Practice Cost Index (GPCI), we made no changes in the 2002 and 2001 GPCIs from those proposed in the July 2000 proposed rule except to correct the Kansas malpractice GPCI. Since the revised GPCIs could not result in total payments either greater or lesser than payments that would have been made if GPCIs were not revised, it was necessary to adjust the GPCIs for budget neutrality as required by law. Therefore, we adjusted the 2001 through 2002 GPCIs as follows—work by 0.99699; practice expense by 0.99235; and malpractice by 1.00215.

For malpractice RVUs, new malpractice RVUs, based on the more recent 1996 through 1998 premium data, will become effective January 1, 2001. These malpractice RVUs will be considered interim for 2001 and subject to comment and possible revision in 2002.

We are not finalizing our proposal relating to global period for insertion, removal, and replacement of pacemakers and cardioverter defibrillators, because we believe that physicians have raised valid concerns that the adjustment to the work RVUs in the proposed rule may result in an underpayment for the service. Until we review this issue further, we are continuing with current pricing for these services and the use of the 90-day global period.

For our proposal relating to low intensity ultrasound, we are assigning .62 work RVUs and .04 malpractice RVUs to CPT code 20979 (which are the values also used for CPT code 20974). To determine the practice expense RVUs, we are applying direct inputs of technician time of 45 minutes and an exam table and minimum supply package. Since the publication of the July 2000 proposed rule, a national coverage decision has been made stating that low intensity ultrasound will be covered by Medicare as a treatment modality for nonunion of extremity fractures beginning April 1, 2001.

For our proposal concerning observation care codes CPT 99234 through 99236, we are not adjusting the work RVUs as proposed. We are maintaining the current work RVUs and clarifying the policies to be followed for the use of these codes.

VIII. Collection of Information Requirements

This document does not impose information collection and recordkeeping requirements. Consequently, it need not be reviewed by the Office of Management and Budget under the authority of the Paperwork Reduction Act of 1995.

IX. Response to Comments

Because of the large number of items of correspondence we normally receive on Federal Register documents published for comment, we are not able to acknowledge or respond to them individually. We will consider all comments we receive by the date and time specified in the “DATES” section of this preamble, and, if we proceed with a subsequent document, we will respond to the comments in the preamble to that document.

X. Regulatory Impact Analysis

We have examined the impacts of this final rule as required by Executive Order 12866, the Unfunded Mandates Reform Act of 1995 (UMRA) (Pub. L. 104-4), the Regulatory Flexibility Act of 1980 (RFA) (Pub. L. 96-354), and Executive Order 13132 of August 4, 1999 (Federalism).

EO 12866 directs agencies to assess costs and benefits of available regulatory alternatives and, when regulation is necessary, to select regulatory approaches that maximize net benefits (including potential economic, environmental, public health and safety effects, distributive impacts, and equity). A regulatory impact analysis (RIA) must be prepared for major rules with economically significant effects ($100 million or more annually). In the proposed rule impact analysis, we indicated that the rule would not be a major rule because it would not increase or decrease expenditures to a physician specialty or geographic area by more than $100 million. While the changes in the Medicare physician fee schedule are for the most part, budget neutral, they do involve redistribution of Medicare spending among procedures and physician specialties and geographic areas. The redistributive effect of this rule on any particular specialty or geographic area is, in our estimate, likely to exceed $100 million for at least one physician specialty. For this reason, we are considering this to be a major rule. The GPCI changes are expected to increase payments by less than $10 million in one locality and decrease payments by about $20 million in another locality. The effect on all other payment localities is likely to be less than these amounts.

The UMRA also requires (in section 202) that agencies prepare an assessment of anticipated costs and benefits before developing any rule that may result in expenditure in any one year by State, local, or tribal governments, in the aggregate, or by the private sector, of $100 million or more. We have determined that this rule has no consequential effect on State, local, or tribal governments. We believe the private sector cost of this rule falls below the above-stated threshold as well.

The RFA requires that we analyze regulatory options for small businesses and other small entities. We prepare a Regulatory Flexibility Analysis unless we certify that a rule would not have a significant economic impact on a substantial number of small entities. The analysis must include a justification concerning the reason action is being taken, the kinds and number of small entities the rule affects, and an explanation of any meaningful options that achieve the objectives and lessen significant adverse economic impact on the small entities.

In addition, section 1102(b) of the Act requires us to prepare a regulatory impact analysis if a rule may have a significant impact on the operations of a substantial number of small rural hospitals. This analysis must conform to the provisions of section 604 of the RFA. For purposes of section 1102(b) of the Act, we define a small rural hospital as a hospital that is located outside of a Metropolitan Statistical Area and has fewer than 50 beds.

For purposes of the RFA, all physicians are considered to be small entities. There are about 700,000 physicians and other practitioners who receive Medicare payment under the physician fee schedule.

For the purpose of EO 12866 and the RFA we have prepared the following analysis, which, together with the rest of this preamble, meets all four assessment requirements. It explains the rationale for and purpose of the rule, details the costs and benefits of the rule, analyzes alternatives, and presents the measures we considered to minimize the burden on small entities.

A. Resource-Based Practice Expense Relative Value Units

Revisions in resource-based practice expense RVUs for physicians' services are calculated to be budget neutral, that is, the total practice expense RVUs for calendar year 2001 are calculated to be the same as the total practice expense RVUs that we estimate would have occurred without the changes in this regulation. This also means that increases in practice expense RVUs for some services will necessarily be offset by corresponding decreases in values for other services.

The following table shows the impact on total allowed charges by specialty of this rule's practice expense changes. In addition to the provisions of the rule, this table incorporates any impacts that result from using 1999 utilization data and other changes that we have made to practice expense inputs. The column labeled “Year 2001-2002 Impact” shows the impact on the fully implemented practice expense RVUs of changes resulting from this final rule. The column labeled “Year 2001” impact reflects only the 2001 portion of the changes from “Year 2001-2002 Impact” column. The difference between the two columns reflects the effect of the transition to fully implemented practice expense RVUs. That is, the impact in the 2001 column will reflect 75 percent of the impact on the fully implemented RVUs. These impacts are in addition to the impacts announced in previous rules related to the adoption of resource-based practice relative value units.

Impact of Practice Expense Changes, Transition, and 2001-2002 Impact
Specialty | Allowed charges (billions $) | Year 2001 impact % | 2001-2002 impact %
Anesthesiology | 1.5 | −1 | −1
Cardiac Surgery | 0.3 | −1 | −2
Cardiology | 4.1 | −1 | −1
Chiropractor | 0.4 | 1 | 1
Clinics | 1.5 | 0 | 0
Dermatology | 1.4 | −1 | −2
Emergency Medicine | 1.0 | 0 | 0
Family Practice | 3.3 | −2 | −2
Gastroenterology | 1.2 | 1 | 2
General Practice | 1.0 | −1 | −2
General Surgery | 1.9 | 0 | 0
Hematology Oncology | 0.6 | −2 | −2
Internal Medicine | 6.8 | −1 | −1
Nephrology | 0.9 | 2 | 3
Neurology | 0.8 | 0 | 0
Neurosurgery | 0.3 | −1 | −1
Nonphysician Practitioner | 1.1 | 1 | 2
Obstetrics/Gynecology | 0.4 | 0 | −1
Ophthalmology | 3.7 | 0 | 0
Optometrist | 0.5 | −1 | −2
Orthopedic Surgery | 2.2 | −1 | −1
Other Physician | 1.5 | 0 | 0
Otolaryngology | 0.6 | −2 | −2
Pathology | 0.6 | −2 | −3
Plastic Surgery | 0.2 | 0 | 1
Podiatry | 1.1 | 0 | 0
Psychiatry | 1.0 | 1 | 1
Pulmonary | 1.0 | 0 | 1
Radiation Oncology | 0.7 | 0 | 0
Radiology | 3.0 | 4 | 5
Rheumatology | 0.3 | −1 | −1
Suppliers | 0.5 | −5 | −6
Thoracic Surgery | 0.5 | −1 | −1
Urology | 1.3 | 0 | 0
Vascular Surgery | 0.3 | −1 | −1

The following table shows the impact of this final rule compared to the proposed rule that was published on July 17. There are 3 major changes that occurred between the proposed and final rule that may have an impact on specialty level payments. First, we corrected an error in the practice expense methodology that affected physical and occupational therapy. We inadvertently used the incorrect practice expense per hour for physical and occupational therapy in the proposed rule. This caused the nonphysician practitioner category to reflect a 4 percent increase in payments. The correct figure should have been 1 percent. Second, we are using 1999 utilization data. Use of the 1999 utilization data generally appears to have little impact on any particular specialty. It does result in a small reduction in payments for pathology and a somewhat larger reduction in payments for the supplier category. Third, we adopted the recommendations of the RUC and PEAC to make refinements to the practice expense inputs for office visits and office consultation services. This change will have the effect of reducing payments for specialties whose incomes are derived in large part from these services. We note that the table shows the impact of this rule only and does not incorporate practice expense changes from two final rules, November 2, 1998 (63 FR 58895) and November 2, 1999 (64 FR 59433), that resulted in large increases in payments for visit and consultation services provided in physicians' offices. Since the statute requires a transition to payments based on resource-based practice expense RVUs, the increase in payments for these services is occurring over a 4-year period. Payment for these services is continuing to increase under the transition to resource-based practice expense RVUs. However, it is increasing by a lesser amount than earlier anticipated.

Impact of Practice Expense Changes of the Final Rule Compared to the Proposed Rule
Specialty | Allowed charges (billions $) | Proposed rule impact % | Final 2001-2002 impact %
Anesthesiology | 1.5 | −1 | −1
Cardiac Surgery | 0.3 | −3 | −2
Cardiology | 3.9 | 0 | −1
Chiropractor | 0.4 | 1 | 1
Clinics | 1.5 | 0 | 0
Dermatology | 1.3 | 0 | −2
Emergency Medicine | 0.9 | 0 | 0
Family Practice | 3.2 | 0 | −2
Gastroenterology | 1.1 | 2 | 2
General Practice | 1.0 | 0 | −2
General Surgery | 1.9 | −1 | 0
Hematology Oncology | 0.6 | −1 | −2
Internal Medicine | 6.7 | 0 | −1
Nephrology | 0.9 | 2 | 3
Neurology | 0.8 | 0 | 0
Neurosurgery | 0.3 | −1 | −1
Nonphysician Practitioner | 0.9 | 4 | 2
Obstetrics/Gynecology | 0.4 | −1 | −1
Ophthalmology | 3.7 | −1 | 0
Optometrist | 0.5 | −2 | −2
Orthopedic Surgery | 2.2 | −1 | −1
Other Physician | 1.3 | 1 | 0
Otolaryngology | 0.6 | −1 | −2
Pathology | 0.6 | −1 | −3
Plastic Surgery | 0.2 | 0 | 1
Podiatry | 1.1 | 0 | 0
Psychiatry | 1.1 | −1 | 1
Pulmonary | 1.0 | 0 | 1
Radiation Oncology | 0.6 | 1 | 0
Radiology | 2.9 | 3 | 5
Rheumatology | 0.3 | 0 | −1
Suppliers | 0.5 | −1 | −6
Thoracic Surgery | 0.5 | −2 | −1
Urology | 1.3 | 0 | 0
Vascular Surgery | 0.3 | −1 | −1

The following table titled Impact of this Final Rule on Payments for Selected Codes shows the percentage change in total payment (in 2001 physician fee schedule dollars) for selected high-volume procedures that result from practice expense and malpractice changes announced in this final rule. These tables reflect the impact of this final rule only on the fully implemented fee schedule amount. The payments in these columns are determined using a conversion factor $38.2581. The RVUs used for calculating payment in the “old” columns are from the November 2, 1999 final rule. The RVUs used in calculating payments in the “new” columns are from this final rule. By using the conversion factor of $38.2581 and the 2001 malpractice RVUs to calculate payments in both the “old” and “new” columns, the impact of changes in practice expense are illustrated. These tables do not show the actual impact on payment from 2000 to 2001 because they do not incorporate the effect of the transition or physician fee schedule update (that is, “old” and “new” payments both reflect use of the 2001 conversion factor).

Impact of This Final Rule Only on Payment for Selected Codes
Procedure code |  | Description | Old facility | New facility | Percent change | Old nonfacility | New nonfacility | Percent change
11721 |  | Debride nail, 6 or more | $30.22 | $30.61 | 1 | $41.32 | $42.47 | 3
17000 |  | Destroy benign/premal lesion | 34.43 | 34.43 | 0 | 63.13 | 63.89 | 1
27130 |  | Total hip replacement | 1,487.09 | 1,502.78 | 1 | NA | NA | NA
27236 |  | Treat thigh fracture | 1,135.88 | 1,153.10 | 2 | NA | NA | NA
27244 |  | Treat thigh fracture | 1,157.31 | 1,177.58 | 2 | NA | NA | NA
27447 |  | Total knee replacement | 1,556.72 | 1,570.88 | 1 | NA | NA | NA
33533 |  | CABG, arterial, single | 1,904.49 | 1,859.73 | −2 | NA | NA | NA
35301 |  | Rechanneling of artery | 1,180.64 | 1,172.99 | −1 | NA | NA | NA
43239 |  | Upper GI endoscopy, biopsy | 143.85 | 157.24 | 9 | 283.11 | 298.03 | 5
45385 |  | Lesion removal colonoscopy | 283.49 | 299.94 | 6 | 478.99 | 502.33 | 5
66821 |  | After cataract laser surgery | 184.79 | 215.01 | 16 | 212.72 | 229.93 | 8
66984 |  | Cataract surg w/iol, i stage | 680.99 | 698.21 | 3 | NA | NA | NA
67210 |  | Treatment of retinal lesion | 575.40 | 575.78 | 0 | 629.73 | 628.20 | 0
71010 | 26 | Chest x-ray | 9.18 | 9.56 | 4 | 9.18 | 9.56 | 4
71020 | 26 | Chest x-ray | 11.09 | 11.86 | 7 | 11.09 | 11.86 | 7
88305 | 26 | Tissue exam by pathologist | 42.47 | 42.08 | −1 | 42.47 | 42.08 | −1
90801 |  | Psy dx interview | 144.62 | 145.00 | 0 | 152.27 | 153.80 | 1
90806 |  | Psytx, off, 45-50 min | 97.56 | 96.41 | −1 | 101.77 | 102.15 | 0
90807 |  | Psytx, off, 45-50 min w/e&m | 103.68 | 104.44 | 1 | 108.27 | 109.80 | 1
90862 |  | Medication management | 48.59 | 48.97 | 1 | 53.18 | 53.94 | 1
90921 |  | ESRD related services, month | 272.02 | 278.90 | 3 | 272.02 | 278.90 | 3
90935 |  | Hemodialysis, one evaluation | 63.13 | 77.66 | 23 | NA | NA | NA
92004 |  | Eye exam, new patient | 91.44 | 92.58 | 1 | 130.46 | 131.23 | 1
92012 |  | Eye exam established pat | 37.88 | 37.88 | 0 | 66.19 | 66.19 | 0
92014 |  | Eye exam & treatment | 61.60 | 62.36 | 1 | 94.50 | 94.88 | 0
92980 |  | Insert intracoronary stent | 840.15 | 845.89 | 1 | NA | NA | NA
92982 |  | Coronary artery dilation | 621.69 | 626.67 | 1 | NA | NA | NA
93000 |  | Electrocardiogram, complete | NA | NA | NA | 27.55 | 27.55 | 0
93010 |  | Electrocardiogram report | 9.18 | 9.56 | 4 | 9.18 | 9.56 | 4
93015 |  | Cardiovascular stress test | NA | NA | NA | 109.04 | 108.65 | 0
93307 | 26 | Echo exam of heart | 50.88 | 51.27 | 1 | 50.88 | 51.27 | 1
93510 | 26 | Left heart catheterization | 244.47 | 246.38 | 1 | 244.47 | 246.38 | 1
98941 |  | Chiropractic manipulation | 32.14 | 32.52 | 1 | 36.73 | 37.49 | 2
99202 |  | Office/outpatient visit, new | 47.82 | 48.21 | 1 | 76.13 | 63.89 | −16
99203 |  | Office/outpatient visit, new | 73.07 | 73.46 | 1 | 107.51 | 95.65 | −11
99204 |  | Office/outpatient visit, new | 107.89 | 108.65 | 1 | 152.27 | 137.73 | −10
99205 |  | Office/outpatient visit, new | 142.32 | 143.85 | 1 | 187.85 | 174.46 | −7
99211 |  | Office/outpatient visit, est | 9.18 | 9.18 | 0 | 26.40 | 21.04 | −20
99212 |  | Office/outpatient visit, est | 24.10 | 24.49 | 2 | 40.55 | 37.49 | −8
99213 |  | Office/outpatient visit, est | 35.58 | 35.96 | 1 | 54.33 | 52.41 | −4
99214 |  | Office/outpatient visit, est | 58.53 | 58.92 | 1 | 84.55 | 82.64 | −2
99215 |  | Office/outpatient visit, est | 94.50 | 95.26 | 1 | 120.90 | 120.90 | 0
99221 |  | Initial hospital care | 68.10 | 68.86 | 1 | NA | NA | NA
99222 |  | Initial hospital care | 113.24 | 114.01 | 1 | NA | NA | NA
99223 |  | Initial hospital care | 157.62 | 159.15 | 1 | NA | NA | NA
99231 |  | Subsequent hospital care | 34.05 | 34.43 | 1 | NA | NA | NA
99232 |  | Subsequent hospital care | 55.86 | 56.24 | 1 | NA | NA | NA
99233 |  | Subsequent hospital care | 79.58 | 80.34 | 1 | NA | NA | NA
99236 |  | Observ/hosp same date | 202.39 | 194.34 | 4 | NA | NA | NA
99238 |  | Hospital discharge day | 67.33 | 67.72 | 1 | NA | NA | NA
99239 |  | Hospital discharge day | 91.82 | 92.58 | 1 | NA | NA | NA
99241 |  | Office consultation | 34.43 | 34.81 | 1 | 63.89 | 48.97 | −23
99242 |  | Office consultation | 70.78 | 71.54 | 1 | 106.74 | 91.05 | −15
99243 |  | Office consultation | 94.11 | 95.26 | 1 | 134.67 | 120.90 | −10
99244 |  | Office consultation | 138.88 | 140.79 | 1 | 185.17 | 171.78 | −7
99245 |  | Office consultation | 184.40 | 186.70 | 1 | 232.99 | 223.04 | −4
99251 |  | Initial inpatient consult | 37.88 | 38.26 | 1 | NA | NA | NA
99252 |  | Initial inpatient consult | 74.99 | 75.37 | 1 | NA | NA | NA
99253 |  | Initial inpatient consult | 101.77 | 102.15 | 0 | NA | NA | NA
99254 |  | Initial inpatient consult | 145.00 | 146.15 | 1 | NA | NA | NA
99255 |  | Initial inpatient consult | 198.94 | 200.47 | 1 | NA | NA | NA
99261 |  | Follow-up inpatient consult | 24.49 | 24.87 | 2 | NA | NA | NA
99262 |  | Follow-up inpatient consult | 47.44 | 47.82 | 1 | NA | NA | NA
99263 |  | Follow-up inpatient consult | 69.63 | 70.01 | 1 | NA | NA | NA
99282 |  | Emergency dept visit | 27.93 | 27.93 | 0 | NA | NA | NA
99283 |  | Emergency dept visit | 62.74 | 62.74 | 0 | NA | NA | NA
99284 |  | Emergency dept visit | 97.56 | 97.94 | 0 | NA | NA | NA
99285 |  | Emergency dept visit | 152.65 | 153.03 | 0 | NA | NA | NA
99291 |  | Critical care, first hour | 202.39 | 208.89 | 3 | 211.18 | 218.45 | 3
99292 |  | Critical care, addl 30 min | 101.00 | 104.06 | 3 | 108.27 | 111.71 | 3
99301 |  | Nursing facility care | 63.13 | 63.51 | 1 | NA | NA | NA
99302 |  | Nursing facility care | 84.17 | 84.93 | 1 | NA | NA | NA
99303 |  | Nursing facility care | 104.44 | 105.59 | 1 | NA | NA | NA
99311 |  | Nursing fac care, subseq | 31.37 | 31.75 | 1 | NA | NA | NA
99312 |  | Nursing fac care, subseq | 52.03 | 52.41 | 1 | NA | NA | NA
99313 |  | Nursing fac care, subseq | 73.84 | 74.60 | 1 | NA | NA | NA
99348 |  | Home visit, est patient | 69.63 | 70.01 | 1 | 75.75 | 77.28 | 2
99350 |  | Home visit, est patient | 161.83 | 164.13 | 1 | 171.78 | 176.37 | 3

B. Geographic Practice Cost Index Changes

Section 1848(e)(1)(A) of the Act requires that payments under the Medicare physician fee schedule vary among payment areas only to the extent that area costs vary as reflected by the area GPCIs. The GPCIs measure area cost differences in the three components of the physician fee schedule: Physician work, practice expenses (employee wages, rent, medical supplies, and equipment), and malpractice insurance. Section 1848(e)(1)(C) of the Act requires that the GPCIs be reviewed and, if necessary, revised at least every 3 years. The first GPCI revision was implemented in 1995. The second revision was implemented in 1998, and the next revision will be implemented in 2001. Section 1848(e)(1)(C) of the Act also requires that the GPCI revisions be phased in equally over a 2-year period if more than one year has elapsed since the last adjustment.

An estimate of the overall effects of proposed GPCI changes on fee schedule area payments can be demonstrated by a comparison of area geographic adjustment factors (GAFs). The GAFs are a weighted composite of each area's work, practice expense, and malpractice expense GPCIs using the national GPCI cost share weights. While we do not actually use the GAFs in computing the fee schedule payment for a specific service, they are useful in comparing overall area costs and payments. The actual effect on payment for any actual service will deviate from the GAF to the extent that the service's proportions of work, practice expense, and malpractice expense RVUs differ from those of the GAF. Addendum H shows the estimated effects of the revised GPCIs on area GAFs in descending order.

Only 14 of the 89 fee schedule areas will change by at least 2 percent. Only 16 areas will change by from 1 to 1.9 percent. The remaining 59 areas are estimated to experience payment changes of less than 1 percent under the revised GPCIs. These are very minor changes that would be expected in that we are revising only the rent indices, comprising 11.6 percent of the total GPCI, and the malpractice expense indices, comprising 3.2 percent of the GPCI. Thus, only about 15 percent of the GPCIs will be subject to change. The effects in the transition year 2001 will only be one-half of these amounts as the revised GPCIs will be phased in over a 2-year period as required by law.

C. Resource-Based Malpractice Relative Value Units

The malpractice RVUs in this final rule reflect the newer data and refinements made as a result of comments made on last year's rule. As we anticipated in the proposed rule, use of the updated data results in little impact on the specialty level payments. Tables showing the impacts can be found in the technical addendum at Addendum G. Of the 62 specialties shown, the overall median effect on specialty payments is 0.0 percent. The median impact on specialties whose payments are estimated to increase is +0.2 percent. The median impact on specialties whose payments are expected to decrease is -0.1 percent.

D. Critical Care Relative Value Units

As we explained in the preamble in the November 1999 final rule, we established interim work RVUs for 2000 for CPT codes 99291 and 99292 (critical care services). These RVUs were decreased in 2000 due to concerns about changes in the CPT definition for these services. In the proposed rule we indicated our intent to increase the work RVUs for critical care services and value the physician work at 4.0 RVUs for CPT code 99291 and 2.0 RVUs for CPT code 99292 because of changes that were made to the definition of critical care for 2001. The earlier reductions to the work RVUs were made assuming there would be a substitution of use of the critical care codes for other codes that would increase net payments if there were no reductions to the work RVUs. We do not believe this substitution will occur because of additional revisions to the definition of critical care for 2001. Thus net payments would decrease if we do not restore critical care RVUs to their former levels. For this reason we are finalizing our proposal and increasing the work RVUs to 4.0 RVUs for CPT code 99292.

E. Care Plan Oversight and Physician Certification/Recertification

We are establishing two new HCPCS codes for care plan oversight that are consistent with our coverage criteria. We are establishing two new HCPCS codes to describe the services involved in physician certification or recertification and development of a plan of care for a patient for whom the physician has prescribed Medicare-covered home health services. We are assuming there would be no additional cost or savings as a result of the two new HCPCS codes for care plan oversight. We are merely instituting these codes for consistency with our coverage criteria, and they would be used in place of the CPT codes when these services are provided.

In our proposed rule we indicated that new HCPCS codes are being established for physician certification or recertification and development of a plan of care. We stated that payment for these services is currently included in the payment for a variety of services such as E/M services that are provided independently to patients as part of a global surgical service. Under this proposal, we would instead pay separately for the certification and recertification of the plan of care for home health services. Since we are proposing to pay separately for a service that is currently included in our payment for other services, this proposal would increase Medicare expenditures for physicians' services without an adjustment to the physician fee schedule CF. For this reason, we proposed to adjust the physician fee schedule CF to ensure that Medicare payments for physicians' services do not increase as a result of this proposal.

Comment: We received several comments that objected to any budget neutrality adjustment related to the establishment of new codes related to certification and recertification of a plan of care for home health services. According to the AMA, the home health PPS rule published on July 3, 2000 indicates that we want more physician effort devoted to home health services, and not just a continuation of current efforts. The AMA stated that our home health PPS rule indicates an intent to focus on physician certification efforts and education “in order to better involve the physician in the delivery of home health services.” (65 FR 41127).

Response: Although we are establishing new codes to describe certification and recertification of a plan of care for home health services, we disagree that the establishment of these codes constitutes a new requirement to furnish a physicians' service as a condition of payment for home health services. We note that the proposed regulations applicable to home health services, published on October 10, 1999, would have modified 42 CFR section 424.22 to add a new paragraph (a)(1)(v) to specify that as a condition for payment of home health services under Medicare Part A or Medicare Part B, a physician must certify that the individual is correctly assigned to one of the home health resource groups. However, in response to comments we eliminated this requirement and did not make a modification to the regulation. We also proposed to make a conforming change at paragraph (b)(1) of § 424.22 regarding the timing of the recertification. Specifically, we proposed to amend § 424.22(b) by replacing the phrase “at least every 2 months” with “at least every 60 days.” We believe this is a minor conforming change to the regulation that will have little or no impact on expenditures. While we believe it is beneficial to establish separate codes for the certification and recertification services, the home health regulations do not impose any new requirements on physicians that will increase expenditures. As indicated in our April 2000, Program Memorandum (Provider Education Article: Role of Physicians in the Home Health Prospective Payment System, transmittal B-00-16), the prospective payment system does not introduce change to the plan of care. It remains the beneficiary's physician's responsibility to develop a plan of care based on his or her intimate knowledge of the medical condition of the home health patient.

The sustainable growth rate determined under section 1848(f) of the Act allows for an adjustment for changes in expenditures that “will result from changes in law and regulations.” Since there are no new requirements being imposed upon physicians and there are no regulatory changes that would mandate an adjustment to the SGR, we are making a budget neutrality adjustment to the conversion factor to ensure that expenditures do not increase as a result of this provision. We estimate that paying separately for certification and recertification of a plan of care for home health services will increase Medicare payments without the 0.3 percent offsetting adjustment to the conversion factor that we have applied.

F. Observation Care Codes

We believe that there are not any significant costs for this policy clarification. We believe physicians have not typically been billing for the discharge component of a hospital or observation stay of less than 8 hours. However, physicians who have been billing 99234 through 99236 for stays less than 8 hours in length would see a small reduction in payment. This policy clarification will give clear guidance to physicians and Medicare contractors in reviewing medical records and would assure consistent payment across contractors.

G. Ocular Photodynamic Therapy and Other Ophthalmological Treatments

As previously stated, we are establishing national HCPCS codes and payment amounts for ocular photodynamic therapy. If we did not establish national codes and pricing for this procedure, carriers that determined that this procedure is covered would use unlisted codes and determine pricing locally. There will be no budget effects associated with establishing national codes and payment amounts for this service since national pricing would substitute for use of unlisted codes and carrier pricing.

H. Electrical Bioimpedance

As stated earlier, we are establishing a national payment amount for electrical bioimpedance. This rule establishes national pricing amounts for a service currently priced by carriers. This change will have little impact on the Medicare program costs.

I. Global Period for Insertion, Removal, and Replacement of Pacemakers and Cardioverter Defibrillators

We proposed to change the global period for certain CPT codes involving the insertion, removal, and replacement of pacemakers and cardioverter defibrillators from 90 days to 0 days. The proposed changes were not anticipated to result in cost or savings because we proposed to reduce the work and practice expense RVUs to account for any claims that we would receive for post-operative visits that were previously bundled into payment for the 90-day global surgical service. As a result of comments received on the proposed rule, we are not adopting the proposed policy. The global period will remain at 90 days, and we will not implement the proposed reductions to the work and practice expense RVUs. Thus, since there is no change in policy, there are no budget implications of our decision on this issue in the final rule.

J. Antigen Supply

Our change from permitting a physician to bill for a 12-month, as opposed to a 12-week supply of antigen could benefit beneficiaries, since they will be able to obtain a year's supply of medication in a single visit. We believe that this change has no impact on program costs. Also, there is no impact on the beneficiary, since this change only aggregates four prescriptions into one, and the cost to the beneficiary remains the same.

K. Increased Space Allotment in Physical Therapy Salary Equivalency Guidelines

We are making an adjustment to our application of the salary equivalency guidelines that are used to determine the indirect components of the practice expense per hour for physical and occupational therapy. Payments for all outpatient physical and occupational therapy services will increase by 3 and 4 percent, respectively. This change will be budget neutral among all physician fee schedule services.

Other issues mentioned in the preamble are merely discussions or clarifications and, therefore, have no budgetary impact.

Budget-Neutrality

Each year since the fee schedule has been implemented, our actuaries have determined any adjustments needed to meet the budget-neutrality requirement of the statute. A component of the actuarial determination of budget-neutrality involves estimating the impact of changes in the volume-and-intensity of physicians' services provided to Medicare beneficiaries as a result of the proposed changes. Consistent with the provision in the November 1998 final rule, the actuaries would use a model that assumes a 30 percent volume-and-intensity response to price reductions. This year there will be a 5.0 percent increase in the conversion factor resulting from the physician fee schedule update. Since this update will offset any negative payment impacts resulting from this final rule, no volume and intensity adjustment is being incorporated into the physician fee schedule conversion factor in 2001.

Impact on Beneficiaries

Although changes in physicians' payments when the physician fee schedule was implemented in 1992 were large, we detected no problems with beneficiary access to care. Furthermore, since beginning our transition to a resource-based practice expense system in 1999, we have not found that there are problems with beneficiary access to care.

XI. Federalism

We have reviewed this final rule under the threshold criteria of EO 13132, Federalism, and we have determined that the final rule does not significantly affect the rights, roles, and responsibilities of States.

List of Subjects

42 CFR Part 410

Health facilities, Health professions, Kidney diseases, Laboratories, Medicare, Rural areas, X-rays.

42 CFR Part 414

Administrative practice and procedure, Health facilities, Health professions, Kidney diseases, Medicare, Reporting and recordkeeping requirements, Rural areas, X-rays.

For the reasons set forth in the preamble, HCFA amends 42 CFR chapter IV as follows:

PART 410—SUPPLEMENTARY MEDICAL INSURANCE (SMI) BENEFITS

1. The authority citation for part 410 continues to read as follows:

Authority: Secs. 1102 and 1871 of the Social Security Act (42 U.S.C. 1302 and 1395hh).

2. In § 410.68, republish the introductory text and revise the introductory text for paragraph (b) to read as follows:

§ 410.68 Antigens: Scope and conditions.

Medicare Part B pays for—

* * * * *

(b) A supply of antigen sufficient for not more than 12 months that is—

* * * * *

PART 414—PAYMENT FOR PART B MEDICAL AND OTHER HEALTH SERVICES

3. The authority citation for part 414 continues to read as follows:

Authority: Secs. 1102, 1871, and 1881(b)(1) of the Social Security Act (42 U.S.C. 1302, 1395(hh), and 1395rr(b)(1).

4. Revise § 414.22(b)(5)(i) to read as follows:

§ 414.22 Relative value units (RVUs).

* * * * *

(b) * * *

(5) * * *

(i) Usually there are two levels of practice expense RVUs that correspond to each code.

(A) Facility practice expense RVUs. The lower facility practice expense RVUs apply to services furnished to patients in the hospital, skilled nursing facility, community mental health center, or in an ambulatory surgical center when the physician performs procedures on the ASC approved procedures list. (The facility practice expense RVUs for a particular code may not be greater than the non-facility RVUs for the code.)

(B) Non-facility practice expense RVUs. The higher non-facility practice expense RVUs apply to services performed in a physician's office, a patient's home, an ASC if the physician is performing a procedure not on the ASC approved procedures list, a nursing facility, or a facility or institution other than a hospital or skilled nursing facility, community mental health center, or ASC performing an ASC approved procedure.

(C) Outpatient therapy services. Outpatient therapy services billed under the physician fee schedule are paid using the non-facility practice expense RVU component.

* * * * *

(Catalog of Federal Domestic Assistance Program No. 93.778, Medical Assistance Program)

(Catalog of Federal Domestic Assistance Program No. 93.773, Medicare—Hospital Insurance; and Program No. 93.774, Medicare—Supplementary Medical Insurance Program)

Dated: October 20, 2000.
Michael M. Hash,
Acting Administrator, Health Care Financing Administration.

Dated: October 23, 2000.
Donna E. Shalala,
Secretary.

Note: These addenda will not appear in the Code of Federal Regulations.

Addendum A—Explanation and Use of Addenda B

The addenda on the following pages provide various data pertaining to the Medicare fee schedule for physicians' services furnished in 2001. Addendum B contains the RVUs for work, non-facility practice expense, facility practice expense, and malpractice expense, and other information for all services included in the physician fee schedule.

Addendum B—2001 Relative Value Units and Related Information Used in Determining Medicare Payments for 2001

This addendum contains the following information for each CPT code and alphanumeric HCPCS code, except for alphanumeric codes beginning with B (enteral and parenteral therapy), E (durable medical equipment), K (temporary codes for nonphysicians' services or items), or L (orthotics), and codes for anesthesiology.

1. CPT/HCPCS code. This is the CPT or alphanumeric HCPCS number for the service. Alphanumeric HCPCS codes are included at the end of this addendum.

2. Modifier. A modifier is shown if there is a technical component (modifier TC) and a professional component (PC) (modifier −26) for the service. If there is a PC and a TC for the service, Addendum B contains three entries for the code: One for the global values (both professional and technical); one for modifier −26 (PC); and one for modifier TC. The global service is not designated by a modifier, and physicians must bill using the code without a modifier if the physician furnishes both the PC and the TC of the service.

Modifier −53 is shown for a discontinued procedure. There will be RVUs for the code (CPT code 45378) with this modifier.

3. Status indicator. This indicator shows whether the CPT/HCPCS code is in the physician fee schedule and whether it is separately payable if the service is covered.

A = Active code. These codes are separately payable under the fee schedule if covered. There will be RVUs for codes with this status. The presence of an “A” indicator does not mean that Medicare has made a national decision regarding the coverage of the service. Carriers remain responsible for coverage decisions in the absence of a national Medicare policy.

B = Bundled code. Payment for covered services is always bundled into payment for other services not specified. If RVUs are shown, they are not used for Medicare payment. If these services are covered, payment for them is subsumed by the payment for the services to which they are incident. (An example is a telephone call from a hospital nurse regarding care of a patient.)

C = Carrier-priced code. Carriers will establish RVUs and payment amounts for these services, generally on a case-by-case basis following review of documentation, such as an operative report.

D = Deleted code. These codes are deleted effective with the beginning of the calendar year.

E = Excluded from physician fee schedule by regulation. These codes are for items or services that we chose to exclude from the physician fee schedule payment by regulation. No RVUs are shown, and no payment may be made under the physician fee schedule for these codes. Payment for them, if they are covered, continues under reasonable charge or other payment procedures.

G = Code not valid for Medicare purposes. Medicare does not recognize codes assigned this status. Medicare uses another code for reporting of, and payment for, these services.

N = Noncovered service. These codes are noncovered services. Medicare payment may not be made for these codes. If RVUs are shown, they are not used for Medicare payment.

P = Bundled or excluded code. There are no RVUs for these services. No separate payment should be made for them under the physician fee schedule.

— If the item or service is covered as incident to a physician's service and is furnished on the same day as a physician's service, payment for it is bundled into the payment for the physician's service to which it is incident (an example is an elastic bandage furnished by a physician incident to a physician's service).

— If the item or service is covered as other than incident to a physician's service, it is excluded from the physician fee schedule (for example, colostomy supplies) and is paid under the other payment provisions of the Act.

R = Restricted coverage. Special coverage instructions apply. If the service is covered and no RVUs are shown, it is carrier-priced.

T = Injections. There are RVUs for these services, but they are only paid if there are no other services payable under the physician fee schedule billed on the same date by the same provider. If any other services payable under the physician fee schedule are billed on the same date by the same provider, these services are bundled into the service(s) for which payment is made.

X = Exclusion by law. These codes represent an item or service that is not within the definition of “physicians services” for physician fee schedule payment purposes. No RVUs are shown for these codes, and no payment may be made under the physician fee schedule. (Examples are ambulance services and clinical diagnostic laboratory services.)

4. Description of code. This is an abbreviated version of the narrative description of the code.

5. Physician work RVUs. These are the RVUs for the physician work for this service in 2000. Codes that are not used for Medicare payment are identified with a “+.”

6. Fully implemented non-facility practice expense RVUs. These are the fully implemented resource-based practice expense RVUs for non-facility settings.

7. Year 2000 Transition non-facility practice expense RVUs. Blended non-facility practice expense RVUs for use in 2000.

8. Fully implemented facility practice expense RVUs. These are the fully implemented resource-based practice expense RVUs for facility settings.

9. Year 2000 transition facility practice expense RVUs. Blended facility practice expense RVUs for use in 2000.

10. Malpractice expense RVUs. These are the RVUs for the malpractice expense for the service for 2000.

11. Fully implemented non-facility total. This is the sum of the work, fully implemented non-facility practice expense, and malpractice expense RVUs.

12. Year 2000 transition non-facility total. This is the sum of the work, transition non-facility practice expense, and malpractice expense RVUs for use in 2000.

13. Fully implemented facility total. This is the sum of the work, fully implemented facility practice expense, and malpractice expense RVUs.

14. Year 2000 transition facility total. This is the sum of the work, transition facility practice expense, and malpractice expense RVUs for use in 2000.

15. Global period. This indicator shows the number of days in the global period for the code (0, 10, or 90 days). An explanation of the alpha codes follows:

MMM = The code describes a service furnished in uncomplicated maternity cases including antepartum care, delivery, and postpartum care. The usual global surgical concept does not apply. See the 1999 Physicians' Current Procedural Terminology for specific definitions.

XXX = The global concept does not apply.

YYY = The global period is to be set by the carrier (for example, unlisted surgery codes).

ZZZ = The code is part of another service and falls within the global period for the other service.

——————————

¹ CPT codes and descriptions only are copyright 2000 American Medical Association. All Rights Reserved. Applicable FARS/DFARS Apply.

² Copyright 1994 American Dental Association. All rights reserved.

³ + Indicates RVUs are not used for Medicare payment.

⁴ PE RVUs = Practice Expense Relative Value Units.

Addendum B.—Relative Value Units (RVU's) and Related Information
CPT¹/HCPCS² | MOD | Status | Description | Physician Work RVUs³ | Fully Implemented Non-Facility PE RVUs | Year 2001 Transitional Non-Facility PE RVUs | Fully Implemented Facility PE RVUs | Year 2001 Transitional Facility PE RVUs | Mal- Practice RVUs | Fully Implemented Non-Facility Total | Year 2001 Transitional Non-Facility Total | Fully Implemented Facility Total | Year 2001 Transitional Facility Total | Global
10040 |  | A | Acne surgery of skin abscess | 1.18 | 1.58 | 1.27 | 0.52 | 0.44 | 0.05 | 2.81 | 2.50 | 1.75 | 1.67 | 010
10060 |  | A | Drainage of skin abscess | 1.17 | 1.29 | 1.09 | 0.65 | 0.55 | 0.08 | 2.54 | 2.34 | 1.90 | 1.80 | 010
10061 |  | A | Drainage of skin abscess | 2.40 | 1.99 | 1.67 | 1.15 | 0.95 | 0.17 | 4.56 | 4.24 | 3.72 | 3.52 | 010
10080 |  | A | Drainage of pilonidal cyst | 1.17 | 2.01 | 1.64 | 0.69 | 0.59 | 0.09 | 3.27 | 2.90 | 1.95 | 1.85 | 010
10081 |  | A | Drainage of pilonidal cyst | 2.45 | 2.77 | 2.38 | 1.60 | 1.35 | 0.19 | 5.41 | 5.02 | 4.24 | 3.99 | 010
10120 |  | A | Remove foreign body | 1.22 | 1.75 | 1.44 | 0.71 | 0.60 | 0.10 | 3.07 | 2.76 | 2.03 | 1.92 | 010
10121 |  | A | Remove foreign body | 2.69 | 2.71 | 2.31 | 1.80 | 1.49 | 0.25 | 5.65 | 5.25 | 4.74 | 4.43 | 010
10140 |  | A | Drainage of hematoma/fluid | 1.53 | 1.37 | 1.16 | 0.86 | 0.71 | 0.15 | 3.05 | 2.84 | 2.54 | 2.39 | 010
10160 |  | A | Puncture drainage of lesion | 1.20 | 1.48 | 1.21 | 0.76 | 0.62 | 0.11 | 2.79 | 2.52 | 2.07 | 1.93 | 010
10180 |  | A | Complex drainage, wound | 2.25 | 1.46 | 1.38 | 1.26 | 1.23 | 0.25 | 3.96 | 3.88 | 3.76 | 3.73 | 010
11000 |  | A | Debride infected skin | 0.60 | 0.55 | 0.52 | 0.24 | 0.24 | 0.05 | 1.20 | 1.17 | 0.89 | 0.89 | 000
11001 |  | A | Debride infected skin add-on | 0.30 | 0.31 | 0.30 | 0.11 | 0.12 | 0.02 | 0.63 | 0.62 | 0.43 | 0.44 | ZZZ
11010 |  | A | Debride skin, fx | 4.20 | 2.45 | 2.91 | 2.01 | 2.58 | 0.45 | 7.10 | 7.56 | 6.66 | 7.23 | 010
11011 |  | A | Debride skin/muscle, fx | 4.95 | 3.89 | 4.20 | 2.66 | 3.28 | 0.53 | 9.37 | 9.68 | 8.14 | 8.76 | 000
11012 |  | A | Debride skin/muscle/bone, fx | 6.88 | 5.69 | 6.05 | 4.22 | 4.95 | 0.89 | 13.46 | 13.82 | 11.99 | 12.72 | 000
11040 |  | A | Debride skin, partial | 0.50 | 0.47 | 0.46 | 0.21 | 0.21 | 0.05 | 1.02 | 1.01 | 0.76 | 0.76 | 000
11041 |  | A | Debride skin, full | 0.82 | 0.64 | 0.63 | 0.34 | 0.33 | 0.08 | 1.54 | 1.53 | 1.24 | 1.23 | 000
11042 |  | A | Debride skin/tissue | 1.12 | 0.90 | 0.85 | 0.47 | 0.44 | 0.11 | 2.13 | 2.08 | 1.70 | 1.67 | 000
11043 |  | A | Debride tissue/muscle | 2.38 | 2.60 | 2.44 | 1.41 | 1.55 | 0.24 | 5.22 | 5.06 | 4.03 | 4.17 | 010
11044 |  | A | Debride tissue/muscle/bone | 3.06 | 3.11 | 3.10 | 1.83 | 2.14 | 0.34 | 6.51 | 6.50 | 5.23 | 5.54 | 010
11055 |  | R | Trim skin lesion | 0.27 | 0.35 | 0.33 | 0.12 | 0.13 | 0.02 | 0.64 | 0.62 | 0.41 | 0.42 | 000
11056 |  | R | Trim skin lesions, 2 to 4 | 0.39 | 0.39 | 0.39 | 0.17 | 0.18 | 0.03 | 0.81 | 0.81 | 0.59 | 0.60 | 000
11057 |  | R | Trim skin lesions, over 4 | 0.50 | 0.44 | 0.41 | 0.21 | 0.20 | 0.04 | 0.98 | 0.95 | 0.75 | 0.74 | 000
11100 |  | A | Biopsy of skin lesion | 0.81 | 1.53 | 1.29 | 0.38 | 0.36 | 0.04 | 2.38 | 2.14 | 1.23 | 1.21 | 000
11101 |  | A | Biopsy, skin add-on | 0.41 | 0.74 | 0.63 | 0.20 | 0.19 | 0.02 | 1.17 | 1.06 | 0.63 | 0.62 | ZZZ
11200 |  | A | Removal of skin tags | 0.77 | 1.10 | 0.94 | 0.31 | 0.29 | 0.04 | 1.91 | 1.75 | 1.12 | 1.10 | 010
11201 |  | A | Remove skin tags add-on | 0.29 | 0.47 | 0.40 | 0.12 | 0.11 | 0.02 | 0.78 | 0.71 | 0.43 | 0.42 | ZZZ
11300 |  | A | Shave skin lesion | 0.51 | 1.04 | 0.93 | 0.23 | 0.25 | 0.03 | 1.58 | 1.47 | 0.77 | 0.79 | 000
11301 |  | A | Shave skin lesion | 0.85 | 1.13 | 1.03 | 0.39 | 0.39 | 0.04 | 2.02 | 1.92 | 1.28 | 1.28 | 000
11302 |  | A | Shave skin lesion | 1.05 | 1.23 | 1.17 | 0.49 | 0.49 | 0.05 | 2.33 | 2.27 | 1.59 | 1.59 | 000
11303 |  | A | Shave skin lesion | 1.24 | 1.36 | 1.39 | 0.55 | 0.60 | 0.06 | 2.66 | 2.69 | 1.85 | 1.90 | 000
11305 |  | A | Shave skin lesion | 0.67 | 0.81 | 0.75 | 0.30 | 0.30 | 0.04 | 1.52 | 1.46 | 1.01 | 1.01 | 000
11306 |  | A | Shave skin lesion | 0.99 | 1.08 | 1.00 | 0.44 | 0.43 | 0.05 | 2.12 | 2.04 | 1.48 | 1.47 | 000
11307 |  | A | Shave skin lesion | 1.14 | 1.20 | 1.16 | 0.51 | 0.51 | 0.05 | 2.39 | 2.35 | 1.70 | 1.70 | 000
11308 |  | A | Shave skin lesion | 1.41 | 1.28 | 1.34 | 0.64 | 0.67 | 0.07 | 2.76 | 2.82 | 2.12 | 2.15 | 000
11310 |  | A | Shave skin lesion | 0.73 | 1.14 | 1.04 | 0.34 | 0.35 | 0.04 | 1.91 | 1.81 | 1.11 | 1.12 | 000
11311 |  | A | Shave skin lesion | 1.05 | 1.25 | 1.17 | 0.51 | 0.50 | 0.05 | 2.35 | 2.27 | 1.61 | 1.60 | 000
11312 |  | A | Shave skin lesion | 1.20 | 1.33 | 1.30 | 0.58 | 0.59 | 0.06 | 2.59 | 2.56 | 1.84 | 1.85 | 000
11313 |  | A | Shave skin lesion | 1.62 | 1.60 | 1.61 | 0.76 | 0.77 | 0.09 | 3.31 | 3.32 | 2.47 | 2.48 | 000
11400 |  | A | Removal of skin lesion | 0.91 | 2.41 | 1.95 | 0.73 | 0.62 | 0.06 | 3.38 | 2.92 | 1.70 | 1.59 | 010
11401 |  | A | Removal of skin lesion | 1.32 | 2.43 | 2.01 | 0.89 | 0.76 | 0.09 | 3.84 | 3.42 | 2.30 | 2.17 | 010
11402 |  | A | Removal of skin lesion | 1.61 | 2.51 | 2.13 | 0.97 | 0.85 | 0.12 | 4.24 | 3.86 | 2.70 | 2.58 | 010
11403 |  | A | Removal of skin lesion | 1.92 | 2.76 | 2.39 | 1.10 | 0.99 | 0.16 | 4.84 | 4.47 | 3.18 | 3.07 | 010
11404 |  | A | Removal of skin lesion | 2.20 | 2.91 | 2.56 | 1.20 | 1.09 | 0.18 | 5.29 | 4.94 | 3.58 | 3.47 | 010
11406 |  | A | Removal of skin lesion | 2.76 | 3.19 | 2.90 | 1.42 | 1.58 | 0.25 | 6.20 | 5.91 | 4.43 | 4.59 | 010
11420 |  | A | Removal of skin lesion | 1.06 | 2.02 | 1.66 | 0.77 | 0.65 | 0.08 | 3.16 | 2.80 | 1.91 | 1.79 | 010
11421 |  | A | Removal of skin lesion | 1.53 | 2.35 | 1.96 | 1.00 | 0.85 | 0.11 | 3.99 | 3.60 | 2.64 | 2.49 | 010
11422 |  | A | Removal of skin lesion | 1.76 | 2.50 | 2.13 | 1.07 | 0.93 | 0.14 | 4.40 | 4.03 | 2.97 | 2.83 | 010
11423 |  | A | Removal of skin lesion | 2.17 | 2.93 | 2.55 | 1.24 | 1.11 | 0.17 | 5.27 | 4.89 | 3.58 | 3.45 | 010
11424 |  | A | Removal of skin lesion | 2.62 | 3.09 | 2.70 | 1.44 | 1.27 | 0.21 | 5.92 | 5.53 | 4.27 | 4.10 | 010
11426 |  | A | Removal of skin lesion | 3.78 | 3.73 | 3.30 | 1.90 | 1.92 | 0.34 | 7.85 | 7.42 | 6.02 | 6.04 | 010
11440 |  | A | Removal of skin lesion | 1.15 | 2.57 | 2.12 | 0.93 | 0.79 | 0.08 | 3.80 | 3.35 | 2.16 | 2.02 | 010
11441 |  | A | Removal of skin lesion | 1.61 | 2.72 | 2.27 | 1.17 | 0.99 | 0.11 | 4.44 | 3.99 | 2.89 | 2.71 | 010
11442 |  | A | Removal of skin lesion | 1.87 | 2.79 | 2.40 | 1.27 | 1.11 | 0.14 | 4.80 | 4.41 | 3.28 | 3.12 | 010
11443 |  | A | Removal of skin lesion | 2.49 | 3.34 | 2.90 | 1.61 | 1.41 | 0.18 | 6.01 | 5.57 | 4.28 | 4.08 | 010
11444 |  | A | Removal of skin lesion | 3.42 | 3.77 | 3.23 | 2.03 | 1.72 | 0.25 | 7.44 | 6.90 | 5.70 | 5.39 | 010
11446 |  | A | Removal of skin lesion | 4.49 | 4.23 | 3.66 | 2.53 | 2.14 | 0.30 | 9.02 | 8.45 | 7.32 | 6.93 | 010
11450 |  | A | Removal, sweat gland lesion | 2.73 | 3.99 | 3.72 | 1.10 | 1.55 | 0.26 | 6.98 | 6.71 | 4.09 | 4.54 | 090
11451 |  | A | Removal, sweat gland lesion | 3.95 | 4.90 | 4.46 | 1.66 | 2.03 | 0.39 | 9.24 | 8.80 | 6.00 | 6.37 | 090
11462 |  | A | Removal, sweat gland lesion | 2.51 | 4.08 | 3.72 | 1.02 | 1.42 | 0.23 | 6.82 | 6.46 | 3.76 | 4.16 | 090
11463 |  | A | Removal, sweat gland lesion | 3.95 | 5.57 | 4.72 | 1.69 | 1.81 | 0.40 | 9.92 | 9.07 | 6.04 | 6.16 | 090
11470 |  | A | Removal, sweat gland lesion | 3.25 | 4.40 | 4.06 | 1.33 | 1.75 | 0.30 | 7.95 | 7.61 | 4.88 | 5.30 | 090
11471 |  | A | Removal, sweat gland lesion | 4.41 | 5.41 | 4.73 | 1.84 | 2.05 | 0.40 | 10.22 | 9.54 | 6.65 | 6.86 | 090
11600 |  | A | Removal of skin lesion | 1.41 | 2.58 | 2.24 | 0.95 | 0.87 | 0.09 | 4.08 | 3.74 | 2.45 | 2.37 | 010
11601 |  | A | Removal of skin lesion | 1.93 | 2.66 | 2.37 | 1.10 | 1.02 | 0.12 | 4.71 | 4.42 | 3.15 | 3.07 | 010
11602 |  | A | Removal of skin lesion | 2.09 | 2.72 | 2.54 | 1.34 | 1.25 | 0.13 | 4.94 | 4.76 | 3.56 | 3.47 | 010
11603 |  | A | Removal of skin lesion | 2.35 | 2.90 | 2.79 | 1.41 | 1.36 | 0.16 | 5.41 | 5.30 | 3.92 | 3.87 | 010
11604 |  | A | Removal of skin lesion | 2.58 | 3.09 | 3.02 | 1.49 | 1.47 | 0.18 | 5.85 | 5.78 | 4.25 | 4.23 | 010
11606 |  | A | Removal of skin lesion | 3.43 | 3.65 | 3.58 | 1.80 | 2.20 | 0.28 | 7.36 | 7.29 | 5.51 | 5.91 | 010
11620 |  | A | Removal of skin lesion | 1.34 | 2.53 | 2.26 | 0.89 | 0.85 | 0.09 | 3.96 | 3.69 | 2.32 | 2.28 | 010
11621 |  | A | Removal of skin lesion | 1.97 | 2.70 | 2.50 | 1.36 | 1.26 | 0.12 | 4.79 | 4.59 | 3.45 | 3.35 | 010
11622 |  | A | Removal of skin lesion | 2.34 | 2.87 | 2.75 | 1.52 | 1.44 | 0.15 | 5.36 | 5.24 | 4.01 | 3.93 | 010
11623 |  | A | Removal of skin lesion | 2.93 | 2.82 | 2.82 | 1.74 | 1.66 | 0.20 | 5.95 | 5.95 | 4.87 | 4.79 | 010
11624 |  | A | Removal of skin lesion | 3.43 | 3.19 | 3.26 | 1.95 | 1.90 | 0.25 | 6.87 | 6.94 | 5.63 | 5.58 | 010
11626 |  | A | Removal of skin lesion | 4.30 | 4.20 | 4.08 | 2.38 | 2.71 | 0.35 | 8.85 | 8.73 | 7.03 | 7.36 | 010
11640 |  | A | Removal of skin lesion | 1.53 | 2.64 | 2.43 | 1.11 | 1.06 | 0.10 | 4.27 | 4.06 | 2.74 | 2.69 | 010
11641 |  | A | Removal of skin lesion | 2.44 | 3.00 | 2.82 | 1.67 | 1.54 | 0.15 | 5.59 | 5.41 | 4.26 | 4.13 | 010
11642 |  | A | Removal of skin lesion | 2.93 | 2.92 | 2.89 | 1.90 | 1.78 | 0.18 | 6.03 | 6.00 | 5.01 | 4.89 | 010
11643 |  | A | Removal of skin lesion | 3.50 | 3.29 | 3.29 | 2.19 | 2.05 | 0.24 | 7.03 | 7.03 | 5.93 | 5.79 | 010
11644 |  | A | Removal of skin lesion | 4.55 | 3.94 | 3.91 | 2.72 | 2.52 | 0.33 | 8.82 | 8.79 | 7.60 | 7.40 | 010
11646 |  | A | Removal of skin lesion | 5.95 | 5.22 | 5.09 | 3.43 | 3.75 | 0.46 | 11.63 | 11.50 | 9.84 | 10.16 | 010
11719 |  | R | Trim nail(s) | 0.11 | 0.49 | 0.43 | 0.04 | 0.06 | 0.01 | 0.61 | 0.55 | 0.16 | 0.18 | 000
11720 |  | A | Debride nail, 1-5 | 0.32 | 0.42 | 0.40 | 0.13 | 0.14 | 0.02 | 0.76 | 0.74 | 0.47 | 0.48 | 000
11721 |  | A | Debride nail, 6 or more | 0.54 | 0.53 | 0.55 | 0.22 | 0.24 | 0.04 | 1.11 | 1.13 | 0.80 | 0.82 | 000
11730 |  | A | Removal of nail plate | 1.13 | 0.74 | 0.68 | 0.46 | 0.41 | 0.09 | 1.96 | 1.90 | 1.68 | 1.63 | 000
11732 |  | A | Remove nail plate, add-on | 0.57 | 0.29 | 0.29 | 0.23 | 0.21 | 0.05 | 0.91 | 0.91 | 0.85 | 0.83 | ZZZ
11740 |  | A | Drain blood from under nail | 0.37 | 0.64 | 0.59 | 0.14 | 0.16 | 0.03 | 1.04 | 0.99 | 0.54 | 0.56 | 000
11750 |  | A | Removal of nail bed | 1.86 | 1.53 | 1.72 | 0.79 | 0.88 | 0.16 | 3.55 | 3.74 | 2.81 | 2.90 | 010
11752 |  | A | Remove nail bed/finger tip | 2.67 | 1.97 | 2.24 | 1.73 | 1.68 | 0.33 | 4.97 | 5.24 | 4.73 | 4.68 | 010
11755 |  | A | Biopsy, nail unit | 1.31 | 1.04 | 1.05 | 0.59 | 0.71 | 0.06 | 2.41 | 2.42 | 1.96 | 2.08 | 000
11760 |  | A | Repair of nail bed | 1.58 | 1.68 | 1.51 | 1.17 | 1.01 | 0.17 | 3.43 | 3.26 | 2.92 | 2.76 | 010
11762 |  | A | Reconstruction of nail bed | 2.89 | 2.13 | 2.30 | 1.84 | 1.73 | 0.32 | 5.34 | 5.51 | 5.05 | 4.94 | 010
11765 |  | A | Excision of nail fold, toe | 0.69 | 0.95 | 0.85 | 0.44 | 0.40 | 0.05 | 1.69 | 1.59 | 1.18 | 1.14 | 010
11770 |  | A | Removal of pilonidal lesion | 2.61 | 2.95 | 2.94 | 1.30 | 1.70 | 0.24 | 5.80 | 5.79 | 4.15 | 4.55 | 010
11771 |  | A | Removal of pilonidal lesion | 5.74 | 5.30 | 5.20 | 3.99 | 4.22 | 0.56 | 11.60 | 11.50 | 10.29 | 10.52 | 090
11772 |  | A | Removal of pilonidal lesion | 6.98 | 6.06 | 5.85 | 4.43 | 4.63 | 0.68 | 13.72 | 13.51 | 12.09 | 12.29 | 090
11900 |  | A | Injection into skin lesions | 0.52 | 0.73 | 0.62 | 0.23 | 0.21 | 0.02 | 1.27 | 1.16 | 0.77 | 0.75 | 000
11901 |  | A | Added skin lesions injection | 0.80 | 0.85 | 0.75 | 0.37 | 0.33 | 0.03 | 1.68 | 1.58 | 1.20 | 1.16 | 000
11920 |  | R | Correct skin color defects | 1.61 | 2.16 | 1.94 | 0.85 | 0.96 | 0.17 | 3.94 | 3.72 | 2.63 | 2.74 | 000
11921 |  | R | Correct skin color defects | 1.93 | 2.53 | 2.28 | 1.05 | 1.17 | 0.21 | 4.67 | 4.42 | 3.19 | 3.31 | 000
11922 |  | R | Correct skin color defects | 0.49 | 0.38 | 0.38 | 0.26 | 0.29 | 0.05 | 0.92 | 0.92 | 0.80 | 0.83 | ZZZ
11950 |  | R | Therapy for contour defects | 0.84 | 1.27 | 1.28 | 0.47 | 0.68 | 0.06 | 2.17 | 2.18 | 1.37 | 1.58 | 000
11951 |  | R | Therapy for contour defects | 1.19 | 1.69 | 1.59 | 0.51 | 0.71 | 0.10 | 2.98 | 2.88 | 1.80 | 2.00 | 000
11952 |  | R | Therapy for contour defects | 1.69 | 2.09 | 1.89 | 0.90 | 1.00 | 0.17 | 3.95 | 3.75 | 2.76 | 2.86 | 000
11954 |  | R | Therapy for contour defects | 1.85 | 2.76 | 2.39 | 0.96 | 1.04 | 0.19 | 4.80 | 4.43 | 3.00 | 3.08 | 000
11960 |  | A | Insert tissue expander(s) | 9.08 | NA | NA | 10.49 | 9.97 | 0.88 | NA | NA | 20.45 | 19.93 | 090
11970 |  | A | Replace tissue expander | 7.06 | NA | NA | 5.06 | 5.90 | 0.77 | NA | NA | 12.89 | 13.73 | 090
11971 |  | A | Remove tissue expander(s) | 2.13 | 6.02 | 5.14 | 3.81 | 3.48 | 0.21 | 8.36 | 7.48 | 6.15 | 5.82 | 090
11975 |  | N | Insert contraceptive cap | +1.48 | 1.56 | 1.46 | 0.59 | 0.73 | 0.14 | 3.18 | 3.08 | 2.21 | 2.35 | XXX
11976 |  | R | Removal of contraceptive cap | 1.78 | 1.55 | 1.51 | 0.72 | 0.89 | 0.17 | 3.50 | 3.46 | 2.67 | 2.84 | XXX
11977 |  | N | Removal/reinsert contra cap | +3.30 | 2.28 | 2.35 | 1.32 | 1.63 | 0.31 | 5.89 | 5.96 | 4.93 | 5.24 | XXX
11980 |  | A | Implant hormone pellet(s) | 1.48 | 1.14 | 1.14 | 0.63 | 0.63 | 0.10 | 2.72 | 2.72 | 2.21 | 2.21 | 000
12001 |  | A | Repair superficial wound(s) | 1.70 | 2.31 | 1.89 | 0.84 | 0.79 | 0.13 | 4.14 | 3.72 | 2.67 | 2.62 | 010
12002 |  | A | Repair superficial wound(s) | 1.86 | 2.41 | 2.02 | 0.87 | 0.87 | 0.15 | 4.42 | 4.03 | 2.88 | 2.88 | 010
12004 |  | A | Repair superficial wound(s) | 2.24 | 2.60 | 2.26 | 0.99 | 1.05 | 0.17 | 5.01 | 4.67 | 3.40 | 3.46 | 010
12005 |  | A | Repair superficial wound(s) | 2.86 | 3.07 | 2.70 | 1.25 | 1.34 | 0.23 | 6.16 | 5.79 | 4.34 | 4.43 | 010
12006 |  | A | Repair superficial wound(s) | 3.67 | 4.17 | 3.61 | 1.95 | 1.95 | 0.31 | 8.15 | 7.59 | 5.93 | 5.93 | 010
12007 |  | A | Repair superficial wound(s) | 4.12 | 4.62 | 3.95 | 2.28 | 2.20 | 0.37 | 9.11 | 8.44 | 6.77 | 6.69 | 010
12011 |  | A | Repair superficial wound(s) | 1.76 | 2.39 | 1.99 | 0.85 | 0.84 | 0.14 | 4.29 | 3.89 | 2.75 | 2.74 | 010
12013 |  | A | Repair superficial wound(s) | 1.99 | 2.55 | 2.19 | 0.90 | 0.96 | 0.16 | 4.70 | 4.34 | 3.05 | 3.11 | 010
12014 |  | A | Repair superficial wound(s) | 2.46 | 2.86 | 2.47 | 1.08 | 1.13 | 0.18 | 5.50 | 5.11 | 3.72 | 3.77 | 010
12015 |  | A | Repair superficial wound(s) | 3.19 | 3.31 | 2.92 | 1.28 | 1.40 | 0.24 | 6.74 | 6.35 | 4.71 | 4.83 | 010
12016 |  | A | Repair superficial wound(s) | 3.93 | 3.83 | 3.49 | 1.51 | 1.75 | 0.32 | 8.08 | 7.74 | 5.76 | 6.00 | 010
12017 |  | A | Repair superficial wound(s) | 4.71 | 5.35 | 4.93 | 2.46 | 2.76 | 0.39 | 10.45 | 10.03 | 7.56 | 7.86 | 010
12018 |  | A | Repair superficial wound(s) | 5.53 | 6.32 | 6.14 | 2.75 | 3.46 | 0.46 | 12.31 | 12.13 | 8.74 | 9.45 | 010
12020 |  | A | Closure of split wound | 2.62 | 2.62 | 2.29 | 1.49 | 1.44 | 0.24 | 5.48 | 5.15 | 4.35 | 4.30 | 010
12021 |  | A | Closure of split wound | 1.84 | 2.10 | 1.74 | 1.15 | 0.95 | 0.19 | 4.13 | 3.77 | 3.18 | 2.98 | 010
12031 |  | A | Layer closure of wound(s) | 2.15 | 2.76 | 2.27 | 1.20 | 1.00 | 0.15 | 5.06 | 4.57 | 3.50 | 3.30 | 010
12032 |  | A | Layer closure of wound(s) | 2.47 | 2.84 | 2.42 | 1.29 | 1.11 | 0.15 | 5.46 | 5.04 | 3.91 | 3.73 | 010
12034 |  | A | Layer closure of wound(s) | 2.92 | 3.12 | 2.74 | 1.46 | 1.50 | 0.21 | 6.25 | 5.87 | 4.59 | 4.63 | 010
12035 |  | A | Layer closure of wound(s) | 3.43 | 3.05 | 2.81 | 1.68 | 1.78 | 0.30 | 6.78 | 6.54 | 5.41 | 5.51 | 010
12036 |  | A | Layer closure of wound(s) | 4.05 | 5.22 | 4.55 | 2.52 | 2.52 | 0.41 | 9.68 | 9.01 | 6.98 | 6.98 | 010
12037 |  | A | Layer closure of wound(s) | 4.67 | 5.56 | 5.01 | 2.88 | 3.00 | 0.49 | 10.72 | 10.17 | 8.04 | 8.16 | 010
12041 |  | A | Layer closure of wound(s) | 2.37 | 3.06 | 2.52 | 1.27 | 1.07 | 0.17 | 5.60 | 5.06 | 3.81 | 3.61 | 010
12042 |  | A | Layer closure of wound(s) | 2.74 | 3.05 | 2.61 | 1.42 | 1.23 | 0.17 | 5.96 | 5.52 | 4.33 | 4.14 | 010
12044 |  | A | Layer closure of wound(s) | 3.14 | 3.20 | 2.84 | 1.62 | 1.66 | 0.24 | 6.58 | 6.22 | 5.00 | 5.04 | 010
12045 |  | A | Layer closure of wound(s) | 3.64 | 3.58 | 3.26 | 1.86 | 1.97 | 0.34 | 7.56 | 7.24 | 5.84 | 5.95 | 010
12046 |  | A | Layer closure of wound(s) | 4.25 | 5.24 | 4.70 | 2.59 | 2.71 | 0.40 | 9.89 | 9.35 | 7.24 | 7.36 | 010
12047 |  | A | Layer closure of wound(s) | 4.65 | 5.96 | 5.56 | 2.92 | 3.28 | 0.41 | 11.02 | 10.62 | 7.98 | 8.34 | 010
12051 |  | A | Layer closure of wound(s) | 2.47 | 3.03 | 2.55 | 1.42 | 1.20 | 0.16 | 5.66 | 5.18 | 4.05 | 3.83 | 010
12052 |  | A | Layer closure of wound(s) | 2.77 | 3.01 | 2.66 | 1.38 | 1.24 | 0.17 | 5.95 | 5.60 | 4.32 | 4.18 | 010
12053 |  | A | Layer closure of wound(s) | 3.12 | 3.16 | 2.85 | 1.52 | 1.62 | 0.20 | 6.48 | 6.17 | 4.84 | 4.94 | 010
12054 |  | A | Layer closure of wound(s) | 3.46 | 3.48 | 3.32 | 1.65 | 1.94 | 0.25 | 7.19 | 7.03 | 5.36 | 5.65 | 010
12055 |  | A | Layer closure of wound(s) | 4.43 | 4.67 | 4.38 | 2.16 | 2.50 | 0.35 | 9.45 | 9.16 | 6.94 | 7.28 | 010
12056 |  | A | Layer closure of wound(s) | 5.24 | 6.70 | 6.31 | 2.89 | 3.45 | 0.43 | 12.37 | 11.98 | 8.56 | 9.12 | 010
12057 |  | A | Layer closure of wound(s) | 5.96 | 6.55 | 6.42 | 3.87 | 4.41 | 0.50 | 13.01 | 12.88 | 10.33 | 10.87 | 010
13100 |  | A | Repair of wound or lesion | 3.12 | 3.41 | 2.87 | 1.88 | 1.57 | 0.21 | 6.74 | 6.20 | 5.21 | 4.90 | 010
13101 |  | A | Repair of wound or lesion | 3.92 | 3.66 | 3.31 | 2.35 | 2.05 | 0.22 | 7.80 | 7.45 | 6.49 | 6.19 | 010
13102 |  | A | Repair wound/lesion add-on | 1.24 | 0.74 | 0.74 | 0.59 | 0.59 | 0.10 | 2.08 | 2.08 | 1.93 | 1.93 | ZZZ
13120 |  | A | Repair of wound or lesion | 3.30 | 3.52 | 3.01 | 1.94 | 1.64 | 0.23 | 7.05 | 6.54 | 5.47 | 5.17 | 010
13121 |  | A | Repair of wound or lesion | 4.33 | 3.88 | 3.63 | 2.42 | 2.18 | 0.25 | 8.46 | 8.21 | 7.00 | 6.76 | 010
13122 |  | A | Repair wound/lesion add-on | 1.44 | 0.87 | 0.87 | 0.69 | 0.69 | 0.12 | 2.43 | 2.43 | 2.25 | 2.25 | ZZZ
13131 |  | A | Repair of wound or lesion | 3.79 | 3.76 | 3.36 | 2.24 | 1.95 | 0.25 | 7.80 | 7.40 | 6.28 | 5.99 | 010
13132 |  | A | Repair of wound or lesion | 5.95 | 4.61 | 4.70 | 3.31 | 3.10 | 0.32 | 10.88 | 10.97 | 9.58 | 9.37 | 010
13133 |  | A | Repair wound/lesion add-on | 2.19 | 1.22 | 1.22 | 1.04 | 1.04 | 0.17 | 3.58 | 3.58 | 3.40 | 3.40 | ZZZ
13150 |  | A | Repair of wound or lesion | 3.81 | 5.24 | 4.41 | 2.68 | 2.49 | 0.29 | 9.34 | 8.51 | 6.78 | 6.59 | 010
13151 |  | A | Repair of wound or lesion | 4.45 | 5.19 | 4.56 | 3.13 | 2.68 | 0.28 | 9.92 | 9.29 | 7.86 | 7.41 | 010
13152 |  | A | Repair of wound or lesion | 6.33 | 5.91 | 5.83 | 4.04 | 3.73 | 0.38 | 12.62 | 12.54 | 10.75 | 10.44 | 010
13153 |  | A | Repair wound/lesion add-on | 2.38 | 1.35 | 1.35 | 1.13 | 1.13 | 0.18 | 3.91 | 3.91 | 3.69 | 3.69 | ZZZ
13160 |  | A | Late closure of wound | 10.48 | NA | NA | 6.41 | 5.71 | 1.19 | NA | NA | 18.08 | 17.38 | 090
14000 |  | A | Skin tissue rearrangement | 5.89 | 7.49 | 6.54 | 4.63 | 3.94 | 0.46 | 13.84 | 12.89 | 10.98 | 10.29 | 090
14001 |  | A | Skin tissue rearrangement | 8.47 | 8.96 | 8.01 | 6.01 | 5.80 | 0.65 | 18.08 | 17.13 | 15.13 | 14.92 | 090
14020 |  | A | Skin tissue rearrangement | 6.59 | 8.11 | 7.41 | 5.32 | 5.32 | 0.50 | 15.20 | 14.50 | 12.41 | 12.41 | 090
14021 |  | A | Skin tissue rearrangement | 10.06 | 9.44 | 8.77 | 7.16 | 7.06 | 0.69 | 20.19 | 19.52 | 17.91 | 17.81 | 090
14040 |  | A | Skin tissue rearrangement | 7.87 | 8.37 | 8.12 | 6.08 | 5.48 | 0.53 | 16.77 | 16.52 | 14.48 | 13.88 | 090
14041 |  | A | Skin tissue rearrangement | 11.49 | 10.20 | 9.79 | 7.97 | 7.05 | 0.68 | 22.37 | 21.96 | 20.14 | 19.22 | 090
14060 |  | A | Skin tissue rearrangement | 8.50 | 8.86 | 8.75 | 6.95 | 7.32 | 0.59 | 17.95 | 17.84 | 16.04 | 16.41 | 090
14061 |  | A | Skin tissue rearrangement | 12.29 | 11.08 | 11.16 | 8.92 | 8.11 | 0.75 | 24.12 | 24.20 | 21.96 | 21.15 | 090
14300 |  | A | Skin tissue rearrangement | 11.76 | 10.43 | 10.89 | 8.48 | 9.43 | 0.88 | 23.07 | 23.53 | 21.12 | 22.07 | 090
14350 |  | A | Skin tissue rearrangement | 9.61 | NA | NA | 6.38 | 6.43 | 1.09 | NA | NA | 17.08 | 17.13 | 090
15000 |  | A | Skin graft | 4.00 | 2.51 | 2.47 | 1.97 | 2.06 | 0.37 | 6.88 | 6.84 | 6.34 | 6.43 | 000
15001 |  | A | Skin graft add-on | 1.00 | 0.57 | 0.57 | 0.44 | 0.44 | 0.11 | 1.68 | 1.68 | 1.55 | 1.55 | ZZZ
15050 |  | A | Skin pinch graft | 4.30 | 4.88 | 4.15 | 3.95 | 3.45 | 0.46 | 9.64 | 8.91 | 8.71 | 8.21 | 090
15100 |  | A | Skin split graft | 9.05 | 6.28 | 5.94 | 6.19 | 5.88 | 0.94 | 16.27 | 15.93 | 16.18 | 15.87 | 090
15101 |  | A | Skin split graft add-on | 1.72 | 1.20 | 1.33 | 0.78 | 1.02 | 0.18 | 3.10 | 3.23 | 2.68 | 2.92 | ZZZ
15120 |  | A | Skin split graft | 9.83 | 8.99 | 8.39 | 6.68 | 6.65 | 0.87 | 19.69 | 19.09 | 17.38 | 17.35 | 090
15121 |  | A | Skin split graft add-on | 2.67 | 1.58 | 1.98 | 1.28 | 1.75 | 0.27 | 4.52 | 4.92 | 4.22 | 4.69 | ZZZ
15200 |  | A | Skin full graft | 8.03 | 9.61 | 8.33 | 5.66 | 5.37 | 0.73 | 18.37 | 17.09 | 14.42 | 14.13 | 090
15201 |  | A | Skin full graft add-on | 1.32 | 1.00 | 1.21 | 0.67 | 0.90 | 0.14 | 2.46 | 2.67 | 2.13 | 2.36 | ZZZ
15220 |  | A | Skin full graft | 7.87 | 9.69 | 8.58 | 6.21 | 5.97 | 0.68 | 18.24 | 17.13 | 14.76 | 14.52 | 090
15221 |  | A | Skin full graft add-on | 1.19 | 0.98 | 1.17 | 0.59 | 0.80 | 0.12 | 2.29 | 2.48 | 1.90 | 2.11 | ZZZ
15240 |  | A | Skin full graft | 9.04 | 9.30 | 8.63 | 7.08 | 6.97 | 0.77 | 19.11 | 18.44 | 16.89 | 16.78 | 090
15241 |  | A | Skin full graft add-on | 1.86 | 1.52 | 1.79 | 0.97 | 1.28 | 0.17 | 3.55 | 3.82 | 3.00 | 3.31 | ZZZ
15260 |  | A | Skin full graft | 10.06 | 9.24 | 8.96 | 7.59 | 7.72 | 0.63 | 19.93 | 19.65 | 18.28 | 18.41 | 090
15261 |  | A | Skin full graft add-on | 2.23 | 1.63 | 2.00 | 1.18 | 1.55 | 0.17 | 4.03 | 4.40 | 3.58 | 3.95 | ZZZ
15342 |  | A | Cultured skin graft, 25 cm | 1.00 | 2.20 | 2.20 | 0.78 | 0.78 | 0.39 | 3.59 | 3.59 | 2.17 | 2.17 | 010
15343 |  | A | Culture skn graft addl 25 cm | 0.25 | 0.28 | 0.28 | 0.10 | 0.10 | 0.09 | 0.62 | 0.62 | 0.44 | 0.44 | ZZZ
15350 |  | A | Skin homograft | 4.00 | 7.22 | 6.00 | 4.35 | 3.85 | 0.42 | 11.64 | 10.42 | 8.77 | 8.27 | 090
15351 |  | A | Skin homograft add-on | 1.00 | 0.94 | 0.94 | 0.43 | 0.43 | 0.11 | 2.05 | 2.05 | 1.54 | 1.54 | ZZZ
15400 |  | A | Skin heterograft | 4.00 | 5.14 | 4.14 | 5.14 | 4.14 | 0.40 | 9.54 | 8.54 | 9.54 | 8.54 | 090
15401 |  | A | Skin heterograft add-on | 1.00 | 1.15 | 1.15 | 0.48 | 0.48 | 0.11 | 2.26 | 2.26 | 1.59 | 1.59 | ZZZ
15570 |  | A | Form skin pedicle flap | 9.21 | 8.44 | 7.82 | 6.41 | 6.30 | 0.96 | 18.61 | 17.99 | 16.58 | 16.47 | 090
15572 |  | A | Form skin pedicle flap | 9.27 | 7.54 | 7.12 | 6.21 | 6.12 | 0.93 | 17.74 | 17.32 | 16.41 | 16.32 | 090
15574 |  | A | Form skin pedicle flap | 9.88 | 8.53 | 7.86 | 6.93 | 6.66 | 0.92 | 19.33 | 18.66 | 17.73 | 17.46 | 090
15576 |  | A | Form skin pedicle flap | 8.69 | 8.97 | 7.58 | 6.38 | 5.63 | 0.72 | 18.38 | 16.99 | 15.79 | 15.04 | 090
15600 |  | A | Skin graft | 1.91 | 6.42 | 5.50 | 2.31 | 2.30 | 0.19 | 8.52 | 7.60 | 4.41 | 4.40 | 090
15610 |  | A | Skin graft | 2.42 | 4.49 | 4.13 | 2.63 | 2.70 | 0.25 | 7.16 | 6.80 | 5.30 | 5.37 | 090
15620 |  | A | Skin graft | 2.94 | 6.76 | 6.00 | 3.24 | 3.31 | 0.28 | 9.98 | 9.22 | 6.46 | 6.53 | 090
15630 |  | A | Skin graft | 3.27 | 6.12 | 5.57 | 3.67 | 3.73 | 0.28 | 9.67 | 9.12 | 7.22 | 7.28 | 090
15650 |  | A | Transfer skin pedicle flap | 3.97 | 6.18 | 5.82 | 3.81 | 4.04 | 0.36 | 10.51 | 10.15 | 8.14 | 8.37 | 090
15732 |  | A | Muscle-skin graft, head/neck | 17.84 | NA | NA | 11.53 | 12.85 | 1.50 | NA | NA | 30.87 | 32.19 | 090
15734 |  | A | Muscle-skin graft, trunk | 17.79 | NA | NA | 11.45 | 13.75 | 1.91 | NA | NA | 31.15 | 33.45 | 090
15736 |  | A | Muscle-skin graft, arm | 16.27 | NA | NA | 10.80 | 12.50 | 1.78 | NA | NA | 28.85 | 30.55 | 090
15738 |  | A | Muscle-skin graft, leg | 17.92 | NA | NA | 11.35 | 12.01 | 1.95 | NA | NA | 31.22 | 31.88 | 090
15740 |  | A | Island pedicle flap graft | 10.25 | 8.98 | 9.56 | 7.14 | 8.18 | 0.62 | 19.85 | 20.43 | 18.01 | 19.05 | 090
15750 |  | A | Neurovascular pedicle graft | 11.41 | NA | NA | 8.14 | 9.35 | 1.12 | NA | NA | 20.67 | 21.88 | 090
15756 |  | A | Free muscle flap, microvasc | 35.23 | NA | NA | 18.83 | 22.29 | 3.11 | NA | NA | 57.17 | 60.63 | 090
15757 |  | A | Free skin flap, microvasc | 35.23 | NA | NA | 22.18 | 24.80 | 3.37 | NA | NA | 60.78 | 63.40 | 090
15758 |  | A | Free fascial flap, microvasc | 35.10 | NA | NA | 22.50 | 25.04 | 3.52 | NA | NA | 61.12 | 63.66 | 090
15760 |  | A | Composite skin graft | 8.74 | 9.29 | 8.95 | 6.80 | 7.08 | 0.72 | 18.75 | 18.41 | 16.26 | 16.54 | 090
15770 |  | A | Derma-fat-fascia graft | 7.52 | NA | NA | 6.08 | 6.59 | 0.78 | NA | NA | 14.38 | 14.89 | 090
15775 |  | R | Hair transplant punch grafts | 3.96 | 3.08 | 3.09 | 1.60 | 1.98 | 0.43 | 7.47 | 7.48 | 5.99 | 6.37 | 000
15776 |  | R | Hair transplant punch grafts | 5.54 | 3.93 | 4.04 | 2.99 | 3.34 | 0.60 | 10.07 | 10.18 | 9.13 | 9.48 | 000
15780 |  | A | Abrasion treatment of skin | 7.29 | 6.36 | 5.19 | 6.36 | 4.98 | 0.41 | 14.06 | 12.89 | 14.06 | 12.68 | 090
15781 |  | A | Abrasion treatment of skin | 4.85 | 4.83 | 4.65 | 4.83 | 4.14 | 0.27 | 9.95 | 9.77 | 9.95 | 9.26 | 090
15782 |  | A | Abrasion treatment of skin | 4.32 | 4.14 | 3.43 | 4.14 | 3.27 | 0.21 | 8.67 | 7.96 | 8.67 | 7.80 | 090
15783 |  | A | Abrasion treatment of skin | 4.29 | 4.49 | 3.87 | 3.48 | 2.86 | 0.26 | 9.04 | 8.42 | 8.03 | 7.41 | 090
15786 |  | A | Abrasion, lesion, single | 2.03 | 1.71 | 1.45 | 1.29 | 1.05 | 0.11 | 3.85 | 3.59 | 3.43 | 3.19 | 010
15787 |  | A | Abrasion, lesions, add-on | 0.33 | 0.38 | 0.35 | 0.17 | 0.16 | 0.02 | 0.73 | 0.70 | 0.52 | 0.51 | ZZZ
15788 |  | R | Chemical peel, face, epiderm | 2.09 | 3.08 | 2.71 | 1.05 | 1.19 | 0.11 | 5.28 | 4.91 | 3.25 | 3.39 | 090
15789 |  | R | Chemical peel, face, dermal | 4.92 | 5.68 | 4.66 | 3.69 | 3.17 | 0.27 | 10.87 | 9.85 | 8.88 | 8.36 | 090
15792 |  | R | Chemical peel, nonfacial | 1.86 | 2.84 | 2.27 | 1.83 | 1.51 | 0.10 | 4.80 | 4.23 | 3.79 | 3.47 | 090
15793 |  | A | Chemical peel, nonfacial | 3.74 | NA | NA | 3.38 | 2.67 | 0.17 | NA | NA | 7.29 | 6.58 | 090
15810 |  | A | Salabrasion | 4.74 | 3.80 | 3.88 | 3.80 | 3.88 | 0.42 | 8.96 | 9.04 | 8.96 | 9.04 | 090
15811 |  | A | Salabrasion | 5.39 | 4.07 | 4.07 | 4.07 | 4.07 | 0.52 | 9.98 | 9.98 | 9.98 | 9.98 | 090
15819 |  | A | Plastic surgery, neck | 9.38 | NA | NA | 6.87 | 7.33 | 0.77 | NA | NA | 17.02 | 17.48 | 090
15820 |  | A | Revision of lower eyelid | 5.15 | 10.70 | 9.56 | 6.60 | 6.49 | 0.30 | 16.15 | 15.01 | 12.05 | 11.94 | 090
15821 |  | A | Revision of lower eyelid | 5.72 | 11.31 | 10.19 | 6.77 | 6.79 | 0.31 | 17.34 | 16.22 | 12.80 | 12.82 | 090
15822 |  | A | Revision of upper eyelid | 4.45 | 8.92 | 8.02 | 5.99 | 5.82 | 0.22 | 13.59 | 12.69 | 10.66 | 10.49 | 090
15823 |  | A | Revision of upper eyelid | 7.05 | 10.19 | 9.74 | 7.17 | 7.47 | 0.32 | 17.56 | 17.11 | 14.54 | 14.84 | 090
15824 |  | R | Removal of forehead wrinkles | 0.00 | 0.00 | 0.00 | 0.00 | 0.00 | 0.00 | 0.00 | 0.00 | 0.00 | 0.00 | XXX
15825 |  | R | Removal of neck wrinkles | 0.00 | 0.00 | 0.00 | 0.00 | 0.00 | 0.00 | 0.00 | 0.00 | 0.00 | 0.00 | XXX
15826 |  | R | Removal of brow wrinkles | 0.00 | 0.00 | 0.00 | 0.00 | 0.00 | 0.00 | 0.00 | 0.00 | 0.00 | 0.00 | XXX
15828 |  | R | Removal of face wrinkles | 0.00 | 0.00 | 0.00 | 0.00 | 0.00 | 0.00 | 0.00 | 0.00 | 0.00 | 0.00 | XXX
15829 |  | R | Removal of skin wrinkles | 0.00 | 0.00 | 0.00 | 0.00 | 0.00 | 0.00 | 0.00 | 0.00 | 0.00 | 0.00 | XXX
15831 |  | A | Excise excessive skin tissue | 12.40 | NA | NA | 8.18 | 8.81 | 1.30 | NA | NA | 21.88 | 22.51 | 090
15832 |  | A | Excise excessive skin tissue | 11.59 | NA | NA | 7.82 | 8.12 | 1.21 | NA | NA | 20.62 | 20.92 | 090
15833 |  | A | Excise excessive skin tissue | 10.64 | NA | NA | 7.50 | 7.31 | 1.17 | NA | NA | 19.31 | 19.12 | 090
15834 |  | A | Excise excessive skin tissue | 10.85 | NA | NA | 6.14 | 6.55 | 1.18 | NA | NA | 18.17 | 18.58 | 090
15835 |  | A | Excise excessive skin tissue | 11.67 | NA | NA | 5.73 | 6.20 | 1.13 | NA | NA | 18.53 | 19.00 | 090
15836 |  | A | Excise excessive skin tissue | 9.34 | NA | NA | 6.18 | 6.21 | 0.95 | NA | NA | 16.47 | 16.50 | 090
15837 |  | A | Excise excessive skin tissue | 8.43 | 7.85 | 7.51 | 6.11 | 6.20 | 0.78 | 17.06 | 16.72 | 15.32 | 15.41 | 090
15838 |  | A | Excise excessive skin tissue | 7.13 | NA | NA | 5.70 | 5.87 | 0.58 | NA | NA | 13.41 | 13.58 | 090
15839 |  | A | Excise excessive skin tissue | 9.38 | 7.60 | 6.36 | 6.06 | 5.21 | 0.88 | 17.86 | 16.62 | 16.32 | 15.47 | 090
15840 |  | A | Graft for face nerve palsy | 13.26 | NA | NA | 9.85 | 11.35 | 1.15 | NA | NA | 24.26 | 25.76 | 090
15841 |  | A | Graft for face nerve palsy | 23.26 | NA | NA | 15.30 | 16.05 | 2.65 | NA | NA | 41.21 | 41.96 | 090
15842 |  | A | Flap for face nerve palsy | 37.96 | NA | NA | 21.94 | 24.32 | 3.99 | NA | NA | 63.89 | 66.27 | 090
15845 |  | A | Skin and muscle repair, face | 12.57 | NA | NA | 8.97 | 10.48 | 0.80 | NA | NA | 22.34 | 23.85 | 090
15850 |  | B | Removal of sutures | +0.78 | 1.38 | 1.13 | 0.31 | 0.33 | 0.04 | 2.20 | 1.95 | 1.13 | 1.15 | XXX
15851 |  | A | Removal of sutures | 0.86 | 1.56 | 1.25 | 0.35 | 0.31 | 0.05 | 2.47 | 2.16 | 1.26 | 1.22 | 000
15852 |  | A | Dressing change,not for burn | 0.86 | 1.75 | 1.43 | 0.37 | 0.34 | 0.07 | 2.68 | 2.36 | 1.30 | 1.27 | 000
15860 |  | A | Test for blood flow in graft | 1.95 | 1.36 | 1.39 | 0.83 | 0.99 | 0.13 | 3.44 | 3.47 | 2.91 | 3.07 | 000
15876 |  | R | Suction assisted lipectomy | 0.00 | 0.00 | 0.00 | 0.00 | 0.00 | 0.00 | 0.00 | 0.00 | 0.00 | 0.00 | XXX
15877 |  | R | Suction assisted lipectomy | 0.00 | 0.00 | 0.00 | 0.00 | 0.00 | 0.00 | 0.00 | 0.00 | 0.00 | 0.00 | XXX
15878 |  | R | Suction assisted lipectomy | 0.00 | 0.00 | 0.00 | 0.00 | 0.00 | 0.00 | 0.00 | 0.00 | 0.00 | 0.00 | XXX
15879 |  | R | Suction assisted lipectomy | 0.00 | 0.00 | 0.00 | 0.00 | 0.00 | 0.00 | 0.00 | 0.00 | 0.00 | 0.00 | XXX
15920 |  | A | Removal of tail bone ulcer | 7.95 | NA | NA | 5.53 | 4.95 | 0.83 | NA | NA | 14.31 | 13.73 | 090
15922 |  | A | Removal of tail bone ulcer | 9.90 | NA | NA | 7.27 | 7.08 | 1.06 | NA | NA | 18.23 | 18.04 | 090
15931 |  | A | Remove sacrum pressure sore | 9.24 | NA | NA | 5.71 | 5.08 | 0.95 | NA | NA | 15.90 | 15.27 | 090
15933 |  | A | Remove sacrum pressure sore | 10.85 | NA | NA | 7.78 | 7.71 | 1.14 | NA | NA | 19.77 | 19.70 | 090
15934 |  | A | Remove sacrum pressure sore | 12.69 | NA | NA | 8.45 | 8.36 | 1.35 | NA | NA | 22.49 | 22.40 | 090
15935 |  | A | Remove sacrum pressure sore | 14.57 | NA | NA | 10.35 | 10.81 | 1.56 | NA | NA | 26.48 | 26.94 | 090
15936 |  | A | Remove sacrum pressure sore | 12.38 | NA | NA | 9.01 | 9.55 | 1.32 | NA | NA | 22.71 | 23.25 | 090
15937 |  | A | Remove sacrum pressure sore | 14.21 | NA | NA | 10.43 | 11.48 | 1.51 | NA | NA | 26.15 | 27.20 | 090
15940 |  | A | Remove hip pressure sore | 9.34 | NA | NA | 6.02 | 5.48 | 0.98 | NA | NA | 16.34 | 15.80 | 090
15941 |  | A | Remove hip pressure sore | 11.43 | NA | NA | 9.75 | 9.23 | 1.23 | NA | NA | 22.41 | 21.89 | 090
15944 |  | A | Remove hip pressure sore | 11.46 | NA | NA | 8.66 | 9.01 | 1.21 | NA | NA | 21.33 | 21.68 | 090
15945 |  | A | Remove hip pressure sore | 12.69 | NA | NA | 9.77 | 10.35 | 1.38 | NA | NA | 23.84 | 24.42 | 090
15946 |  | A | Remove hip pressure sore | 21.57 | NA | NA | 14.60 | 15.46 | 2.32 | NA | NA | 38.49 | 39.35 | 090
15950 |  | A | Remove thigh pressure sore | 7.54 | NA | NA | 5.24 | 4.75 | 0.80 | NA | NA | 13.58 | 13.09 | 090
15951 |  | A | Remove thigh pressure sore | 10.72 | NA | NA | 7.72 | 7.87 | 1.14 | NA | NA | 19.58 | 19.73 | 090
15952 |  | A | Remove thigh pressure sore | 11.39 | NA | NA | 7.44 | 7.52 | 1.19 | NA | NA | 20.02 | 20.10 | 090
15953 |  | A | Remove thigh pressure sore | 12.63 | NA | NA | 8.94 | 9.17 | 1.38 | NA | NA | 22.95 | 23.18 | 090
15956 |  | A | Remove thigh pressure sore | 15.52 | NA | NA | 10.66 | 12.63 | 1.64 | NA | NA | 27.82 | 29.79 | 090
15958 |  | A | Remove thigh pressure sore | 15.48 | NA | NA | 10.97 | 12.85 | 1.66 | NA | NA | 28.11 | 29.99 | 090
15999 |  | C | Removal of pressure sore | 0.00 | 0.00 | 0.00 | 0.00 | 0.00 | 0.00 | 0.00 | 0.00 | 0.00 | 0.00 | YYY
16000 |  | A | Initial treatment of burn(s) | 0.89 | 0.99 | 0.84 | 0.27 | 0.25 | 0.06 | 1.94 | 1.79 | 1.22 | 1.20 | 000
16010 |  | A | Treatment of burn(s) | 0.87 | 1.08 | 0.90 | 0.38 | 0.33 | 0.07 | 2.02 | 1.84 | 1.32 | 1.27 | 000
16015 |  | A | Treatment of burn(s) | 2.35 | 1.79 | 1.90 | 1.00 | 1.30 | 0.22 | 4.36 | 4.47 | 3.57 | 3.87 | 000
16020 |  | A | Treatment of burn(s) | 0.80 | 1.09 | 0.91 | 0.26 | 0.24 | 0.06 | 1.95 | 1.77 | 1.12 | 1.10 | 000
16025 |  | A | Treatment of burn(s) | 1.85 | 1.74 | 1.43 | 0.69 | 0.58 | 0.16 | 3.75 | 3.44 | 2.70 | 2.59 | 000
16030 |  | A | Treatment of burn(s) | 2.08 | 2.98 | 2.38 | 0.95 | 0.85 | 0.18 | 5.24 | 4.64 | 3.21 | 3.11 | 000
16035 |  | A | Incision of burn scab, initi | 3.75 | NA | NA | 1.59 | 1.70 | 0.36 | NA | NA | 5.70 | 5.81 | 090
16036 |  | A | Incise burn scab, addl incis | 1.50 | NA | NA | 0.64 | 0.64 | 0.18 | NA | NA | 2.32 | 2.32 | ZZZ
17000 |  | A | Destroy benign/premal lesion | 0.60 | 1.04 | 0.90 | 0.27 | 0.26 | 0.03 | 1.67 | 1.53 | 0.90 | 0.89 | 010
17003 |  | A | Destroy lesions, 2-14 | 0.15 | 0.23 | 0.21 | 0.07 | 0.07 | 0.01 | 0.39 | 0.37 | 0.23 | 0.23 | ZZZ
17004 |  | A | Destroy lesions, 15 or more | 2.79 | 2.46 | 2.46 | 1.29 | 1.27 | 0.12 | 5.37 | 5.37 | 4.20 | 4.18 | 010
17106 |  | A | Destruction of skin lesions | 4.59 | 4.45 | 3.86 | 2.64 | 2.24 | 0.28 | 9.32 | 8.73 | 7.51 | 7.11 | 090
17107 |  | A | Destruction of skin lesions | 9.16 | 6.54 | 5.91 | 4.73 | 4.05 | 0.53 | 16.23 | 15.60 | 14.42 | 13.74 | 090
17108 |  | A | Destruction of skin lesions | 13.20 | 8.64 | 9.01 | 7.26 | 7.97 | 0.89 | 22.73 | 23.10 | 21.35 | 22.06 | 090
17110 |  | A | Destruct lesion, 1-14 | 0.65 | 1.00 | 0.86 | 0.26 | 0.25 | 0.04 | 1.69 | 1.55 | 0.95 | 0.94 | 010
17111 |  | A | Destruct lesion, 15 or more | 0.92 | 1.15 | 1.03 | 0.40 | 0.38 | 0.04 | 2.11 | 1.99 | 1.36 | 1.34 | 010
17250 |  | A | Chemical cautery, tissue | 0.50 | 0.66 | 0.59 | 0.21 | 0.21 | 0.04 | 1.20 | 1.13 | 0.75 | 0.75 | 000
17260 |  | A | Destruction of skin lesions | 0.91 | 1.29 | 1.28 | 0.42 | 0.47 | 0.04 | 2.24 | 2.23 | 1.37 | 1.42 | 010
17261 |  | A | Destruction of skin lesions | 1.17 | 1.41 | 1.44 | 0.55 | 0.60 | 0.05 | 2.63 | 2.66 | 1.77 | 1.82 | 010
17262 |  | A | Destruction of skin lesions | 1.58 | 1.61 | 1.70 | 0.75 | 0.81 | 0.07 | 3.26 | 3.35 | 2.40 | 2.46 | 010
17263 |  | A | Destruction of skin lesions | 1.79 | 1.72 | 1.90 | 0.83 | 0.93 | 0.08 | 3.59 | 3.77 | 2.70 | 2.80 | 010
17264 |  | A | Destruction of skin lesions | 1.94 | 1.80 | 2.05 | 0.85 | 0.99 | 0.08 | 3.82 | 4.07 | 2.87 | 3.01 | 010
17266 |  | A | Destruction of skin lesions | 2.34 | 2.00 | 2.35 | 0.97 | 1.15 | 0.11 | 4.45 | 4.80 | 3.42 | 3.60 | 010
17270 |  | A | Destruction of skin lesions | 1.32 | 1.49 | 1.48 | 0.62 | 0.65 | 0.06 | 2.87 | 2.86 | 2.00 | 2.03 | 010
17271 |  | A | Destruction of skin lesions | 1.49 | 1.57 | 1.65 | 0.72 | 0.78 | 0.06 | 3.12 | 3.20 | 2.27 | 2.33 | 010
17272 |  | A | Destruction of skin lesions | 1.77 | 1.71 | 1.88 | 0.85 | 0.94 | 0.07 | 3.55 | 3.72 | 2.69 | 2.78 | 010
17273 |  | A | Destruction of skin lesions | 2.05 | 1.86 | 2.10 | 0.98 | 1.09 | 0.09 | 4.00 | 4.24 | 3.12 | 3.23 | 010
17274 |  | A | Destruction of skin lesions | 2.59 | 2.12 | 2.46 | 1.19 | 1.33 | 0.11 | 4.82 | 5.16 | 3.89 | 4.03 | 010
17276 |  | A | Destruction of skin lesions | 3.20 | 2.42 | 2.74 | 1.70 | 1.74 | 0.15 | 5.77 | 6.09 | 5.05 | 5.09 | 010
17280 |  | A | Destruction of skin lesions | 1.17 | 1.33 | 1.45 | 0.54 | 0.63 | 0.05 | 2.55 | 2.67 | 1.76 | 1.85 | 010
17281 |  | A | Destruction of skin lesions | 1.72 | 1.69 | 1.84 | 0.83 | 0.91 | 0.07 | 3.48 | 3.63 | 2.62 | 2.70 | 010
17282 |  | A | Destruction of skin lesions | 2.04 | 1.85 | 2.09 | 0.99 | 1.09 | 0.09 | 3.98 | 4.22 | 3.12 | 3.22 | 010
17283 |  | A | Destruction of skin lesions | 2.64 | 2.15 | 2.43 | 1.25 | 1.35 | 0.11 | 4.90 | 5.18 | 4.00 | 4.10 | 010
17284 |  | A | Destruction of skin lesions | 3.21 | 2.44 | 2.78 | 1.51 | 1.61 | 0.14 | 5.79 | 6.13 | 4.86 | 4.96 | 010
17286 |  | A | Destruction of skin lesions | 4.44 | 3.06 | 3.47 | 2.46 | 2.43 | 0.22 | 7.72 | 8.13 | 7.12 | 7.09 | 010
17304 |  | A | Chemosurgery of skin lesion | 7.60 | 7.71 | 6.87 | 3.67 | 3.30 | 0.31 | 15.62 | 14.78 | 11.58 | 11.21 | 000
17305 |  | A | 2nd stage chemosurgery | 2.85 | 3.58 | 3.30 | 1.38 | 1.34 | 0.12 | 6.55 | 6.27 | 4.35 | 4.31 | 000
17306 |  | A | 3rd stage chemosurgery | 2.85 | 3.62 | 3.10 | 1.39 | 1.23 | 0.12 | 6.59 | 6.07 | 4.36 | 4.20 | 000
17307 |  | A | Followup skin lesion therapy | 2.85 | 3.17 | 2.78 | 1.40 | 1.25 | 0.12 | 6.14 | 5.75 | 4.37 | 4.22 | 000
17310 |  | A | Extensive skin chemosurgery | 0.95 | 1.49 | 1.15 | 0.48 | 0.38 | 0.05 | 2.49 | 2.15 | 1.48 | 1.38 | 000
17340 |  | A | Cryotherapy of skin | 0.76 | 1.35 | 1.09 | 0.27 | 0.24 | 0.04 | 2.15 | 1.89 | 1.07 | 1.04 | 010
17360 |  | A | Skin peel therapy | 1.43 | 1.51 | 1.21 | 0.69 | 0.56 | 0.06 | 3.00 | 2.70 | 2.18 | 2.05 | 010
17380 |  | R | Hair removal by electrolysis | 0.00 | 0.00 | 0.00 | 0.00 | 0.00 | 0.00 | 0.00 | 0.00 | 0.00 | 0.00 | XXX
17999 |  | C | Skin tissue procedure | 0.00 | 0.00 | 0.00 | 0.00 | 0.00 | 0.00 | 0.00 | 0.00 | 0.00 | 0.00 | YYY
19000 |  | A | Drainage of breast lesion | 0.84 | 1.18 | 0.99 | 0.30 | 0.28 | 0.07 | 2.09 | 1.90 | 1.21 | 1.19 | 000
19001 |  | A | Drain breast lesion add-on | 0.42 | 0.79 | 0.66 | 0.15 | 0.15 | 0.03 | 1.24 | 1.11 | 0.60 | 0.60 | ZZZ
19020 |  | A | Incision of breast lesion | 3.57 | 6.66 | 5.38 | 3.38 | 2.92 | 0.35 | 10.58 | 9.30 | 7.30 | 6.84 | 090
19030 |  | A | Injection for breast x-ray | 1.53 | 10.60 | 8.08 | 0.54 | 0.54 | 0.07 | 12.20 | 9.68 | 2.14 | 2.14 | 000
19100 |  | A | Bx breast percut w/o image | 1.27 | 3.33 | 2.67 | 0.46 | 0.43 | 0.10 | 4.70 | 4.04 | 1.83 | 1.80 | 000
19101 |  | A | Biopsy of breast, open | 3.18 | 9.82 | 8.00 | 2.97 | 2.86 | 0.20 | 13.20 | 11.38 | 6.35 | 6.24 | 010
19102 |  | A | Bx breast percut w/image | 2.00 | 4.58 | 4.58 | 0.73 | 0.73 | 0.08 | 6.66 | 6.66 | 2.81 | 2.81 | 000
19103 |  | A | Bx breast percut w/device | 2.37 | 10.83 | 10.83 | 0.86 | 0.86 | 0.08 | 13.28 | 13.28 | 3.31 | 3.31 | 000
19110 |  | A | Nipple exploration | 4.30 | 8.03 | 6.69 | 4.42 | 3.98 | 0.44 | 12.77 | 11.43 | 9.16 | 8.72 | 090
19112 |  | A | Excise breast duct fistula | 3.67 | 6.84 | 5.77 | 3.08 | 2.95 | 0.38 | 10.89 | 9.82 | 7.13 | 7.00 | 090
19120 |  | A | Removal of breast lesion | 5.56 | 4.41 | 4.10 | 3.62 | 3.50 | 0.56 | 10.53 | 10.22 | 9.74 | 9.62 | 090
19125 |  | A | Excision, breast lesion | 6.06 | 5.04 | 4.57 | 3.78 | 3.62 | 0.61 | 11.71 | 11.24 | 10.45 | 10.29 | 090
19126 |  | A | Excision, addl breast lesion | 2.93 | NA | NA | 1.11 | 1.23 | 0.30 | NA | NA | 4.34 | 4.46 | ZZZ
19140 |  | A | Removal of breast tissue | 5.14 | 8.71 | 7.70 | 3.76 | 3.99 | 0.52 | 14.37 | 13.36 | 9.42 | 9.65 | 090
19160 |  | A | Removal of breast tissue | 5.99 | NA | NA | 4.56 | 4.54 | 0.61 | NA | NA | 11.16 | 11.14 | 090
19162 |  | A | Remove breast tissue, nodes | 13.53 | NA | NA | 8.08 | 8.61 | 1.38 | NA | NA | 22.99 | 23.52 | 090
19180 |  | A | Removal of breast | 8.80 | NA | NA | 6.01 | 6.03 | 0.88 | NA | NA | 15.69 | 15.71 | 090
19182 |  | A | Removal of breast | 7.73 | NA | NA | 5.06 | 5.44 | 0.79 | NA | NA | 13.58 | 13.96 | 090
19200 |  | A | Removal of breast | 15.49 | NA | NA | 9.47 | 9.88 | 1.51 | NA | NA | 26.47 | 26.88 | 090
19220 |  | A | Removal of breast | 15.72 | NA | NA | 9.40 | 9.96 | 1.56 | NA | NA | 26.68 | 27.24 | 090
19240 |  | A | Removal of breast | 16.00 | NA | NA | 9.00 | 9.31 | 1.62 | NA | NA | 26.62 | 26.93 | 090
19260 |  | A | Removal of chest wall lesion | 15.44 | NA | NA | 10.55 | 9.28 | 1.64 | NA | NA | 27.63 | 26.36 | 090
19271 |  | A | Revision of chest wall | 18.90 | NA | NA | 13.98 | 14.27 | 2.27 | NA | NA | 35.15 | 35.44 | 090
19272 |  | A | Extensive chest wall surgery | 21.55 | NA | NA | 15.55 | 15.08 | 2.54 | NA | NA | 39.64 | 39.17 | 090
19290 |  | A | Place needle wire, breast | 1.27 | 4.85 | 3.76 | 0.45 | 0.46 | 0.06 | 6.18 | 5.09 | 1.78 | 1.79 | 000
19291 |  | A | Place needle wire, breast | 0.63 | 1.65 | 1.31 | 0.22 | 0.23 | 0.03 | 2.31 | 1.97 | 0.88 | 0.89 | ZZZ
19295 |  | A | Place breast clip, percut | 0.00 | 2.61 | 2.61 | 0.94 | 0.94 | 0.01 | 2.62 | 2.62 | 0.95 | 0.95 | ZZZ
19316 |  | A | Suspension of breast | 10.69 | NA | NA | 7.63 | 8.91 | 1.15 | NA | NA | 19.47 | 20.75 | 090
19318 |  | A | Reduction of large breast | 15.62 | NA | NA | 10.48 | 11.71 | 1.69 | NA | NA | 27.79 | 29.02 | 090
19324 |  | A | Enlarge breast | 5.85 | NA | NA | 4.62 | 4.36 | 0.63 | NA | NA | 11.10 | 10.84 | 090
19325 |  | A | Enlarge breast with implant | 8.45 | NA | NA | 6.75 | 6.66 | 0.90 | NA | NA | 16.10 | 16.01 | 090
19328 |  | A | Removal of breast implant | 5.68 | NA | NA | 4.60 | 4.47 | 0.61 | NA | NA | 10.89 | 10.76 | 090
19330 |  | A | Removal of implant material | 7.59 | NA | NA | 5.33 | 5.05 | 0.81 | NA | NA | 13.73 | 13.45 | 090
19340 |  | A | Immediate breast prosthesis | 6.33 | NA | NA | 3.32 | 4.38 | 0.68 | NA | NA | 10.33 | 11.39 | ZZZ
19342 |  | A | Delayed breast prosthesis | 11.20 | NA | NA | 7.96 | 8.90 | 1.21 | NA | NA | 20.37 | 21.31 | 090
19350 |  | A | Breast reconstruction | 8.92 | 13.94 | 12.38 | 6.87 | 7.07 | 0.95 | 23.81 | 22.25 | 16.74 | 16.94 | 090
19355 |  | A | Correct inverted nipple(s) | 7.57 | 11.53 | 9.99 | 5.94 | 5.79 | 0.80 | 19.90 | 18.36 | 14.31 | 14.16 | 090
19357 |  | A | Breast reconstruction | 18.16 | NA | NA | 13.92 | 13.74 | 1.96 | NA | NA | 34.04 | 33.86 | 090
19361 |  | A | Breast reconstruction | 19.26 | NA | NA | 12.29 | 14.68 | 2.08 | NA | NA | 33.63 | 36.02 | 090
19364 |  | A | Breast reconstruction | 41.00 | NA | NA | 22.88 | 21.69 | 3.91 | NA | NA | 67.79 | 66.60 | 090
19366 |  | A | Breast reconstruction | 21.28 | NA | NA | 12.38 | 13.74 | 2.27 | NA | NA | 35.93 | 37.29 | 090
19367 |  | A | Breast reconstruction | 25.73 | NA | NA | 15.65 | 17.20 | 2.78 | NA | NA | 44.16 | 45.71 | 090
19368 |  | A | Breast reconstruction | 32.42 | NA | NA | 19.45 | 20.05 | 3.51 | NA | NA | 55.38 | 55.98 | 090
19369 |  | A | Breast reconstruction | 29.82 | NA | NA | 18.59 | 19.41 | 3.24 | NA | NA | 51.65 | 52.47 | 090
19370 |  | A | Surgery of breast capsule | 8.05 | NA | NA | 6.16 | 6.30 | 0.86 | NA | NA | 15.07 | 15.21 | 090
19371 |  | A | Removal of breast capsule | 9.35 | NA | NA | 7.26 | 7.59 | 1.01 | NA | NA | 17.62 | 17.95 | 090
19380 |  | A | Revise breast reconstruction | 9.14 | NA | NA | 7.15 | 7.56 | 0.98 | NA | NA | 17.27 | 17.68 | 090
19396 |  | A | Design custom breast implant | 2.17 | 4.99 | 4.17 | 0.80 | 1.03 | 0.23 | 7.39 | 6.57 | 3.20 | 3.43 | 000
19499 |  | C | Breast surgery procedure | 0.00 | 0.00 | 0.00 | 0.00 | 0.00 | 0.00 | 0.00 | 0.00 | 0.00 | 0.00 | YYY
20000 |  | A | Incision of abscess | 2.12 | 1.94 | 1.69 | 1.18 | 1.00 | 0.17 | 4.23 | 3.98 | 3.47 | 3.29 | 010
20005 |  | A | Incision of deep abscess | 3.42 | 2.81 | 2.61 | 2.22 | 2.16 | 0.34 | 6.57 | 6.37 | 5.98 | 5.92 | 010
20100 |  | A | Explore wound, neck | 10.08 | 6.00 | 5.85 | 4.65 | 4.84 | 0.99 | 17.07 | 16.92 | 15.72 | 15.91 | 010
20101 |  | A | Explore wound, chest | 3.22 | 3.04 | 2.71 | 1.36 | 1.45 | 0.24 | 6.50 | 6.17 | 4.82 | 4.91 | 010
20102 |  | A | Explore wound, abdomen | 3.94 | 3.36 | 3.04 | 1.71 | 1.80 | 0.35 | 7.65 | 7.33 | 6.00 | 6.09 | 010
20103 |  | A | Explore wound, extremity | 5.30 | 4.12 | 3.79 | 3.02 | 2.97 | 0.57 | 9.99 | 9.66 | 8.89 | 8.84 | 010
20150 |  | A | Excise epiphyseal bar | 13.69 | NA | NA | 7.66 | 9.11 | 0.96 | NA | NA | 22.31 | 23.76 | 090
20200 |  | A | Muscle biopsy | 1.46 | 1.70 | 1.58 | 0.64 | 0.79 | 0.17 | 3.33 | 3.21 | 2.27 | 2.42 | 000
20205 |  | A | Deep muscle biopsy | 2.35 | 3.53 | 3.16 | 1.00 | 1.26 | 0.23 | 6.11 | 5.74 | 3.58 | 3.84 | 000
20206 |  | A | Needle biopsy, muscle | 0.99 | 3.02 | 2.53 | 0.36 | 0.53 | 0.06 | 4.07 | 3.58 | 1.41 | 1.58 | 000
20220 |  | A | Bone biopsy, trocar/needle | 1.27 | 4.78 | 3.94 | 2.87 | 2.51 | 0.06 | 6.11 | 5.27 | 4.20 | 3.84 | 000
20225 |  | A | Bone biopsy, trocar/needle | 1.87 | 4.28 | 3.86 | 2.85 | 2.70 | 0.11 | 6.26 | 5.84 | 4.83 | 4.68 | 000
20240 |  | A | Bone biopsy, excisional | 3.23 | NA | NA | 4.11 | 3.59 | 0.33 | NA | NA | 7.67 | 7.15 | 010
20245 |  | A | Bone biopsy, excisional | 3.95 | NA | NA | 4.69 | 4.49 | 0.44 | NA | NA | 9.08 | 8.88 | 010
20250 |  | A | Open bone biopsy | 5.03 | NA | NA | 4.29 | 4.59 | 0.50 | NA | NA | 9.82 | 10.12 | 010
20251 |  | A | Open bone biopsy | 5.56 | NA | NA | 4.72 | 5.13 | 0.79 | NA | NA | 11.07 | 11.48 | 010
20500 |  | A | Injection of sinus tract | 1.23 | 5.19 | 3.99 | 3.76 | 2.87 | 0.10 | 6.52 | 5.32 | 5.09 | 4.20 | 010
20501 |  | A | Inject sinus tract for x-ray | 0.76 | 12.72 | 9.62 | 0.27 | 0.29 | 0.03 | 13.51 | 10.41 | 1.06 | 1.08 | 000
20520 |  | A | Removal of foreign body | 1.85 | 5.22 | 4.11 | 3.33 | 2.60 | 0.17 | 7.24 | 6.13 | 5.35 | 4.62 | 010
20525 |  | A | Removal of foreign body | 3.50 | 6.39 | 5.40 | 4.14 | 3.71 | 0.40 | 10.29 | 9.30 | 8.04 | 7.61 | 010
20550 |  | A | Inject tendon/ligament/cyst | 0.86 | 1.96 | 1.57 | 0.22 | 0.22 | 0.06 | 2.88 | 2.49 | 1.14 | 1.14 | 000
20600 |  | A | Drain/inject, joint/bursa | 0.66 | 1.35 | 1.14 | 0.27 | 0.27 | 0.06 | 2.07 | 1.86 | 0.99 | 0.99 | 000
20605 |  | A | Drain/inject, joint/bursa | 0.68 | 1.68 | 1.38 | 0.27 | 0.27 | 0.06 | 2.42 | 2.12 | 1.01 | 1.01 | 000
20610 |  | A | Drain/inject, joint/bursa | 0.79 | 2.08 | 1.68 | 0.55 | 0.48 | 0.08 | 2.95 | 2.55 | 1.42 | 1.35 | 000
20615 |  | A | Treatment of bone cyst | 2.28 | 4.45 | 3.47 | 2.46 | 1.91 | 0.19 | 6.92 | 5.94 | 4.93 | 4.38 | 010
20650 |  | A | Insert and remove bone pin | 2.23 | 4.30 | 3.52 | 2.88 | 2.45 | 0.28 | 6.81 | 6.03 | 5.39 | 4.96 | 010
20660 |  | A | Apply,remove fixation device | 2.51 | NA | NA | 1.47 | 1.53 | 0.48 | NA | NA | 4.46 | 4.52 | 000
20661 |  | A | Application of head brace | 4.89 | NA | NA | 6.52 | 5.93 | 0.92 | NA | NA | 12.33 | 11.74 | 090
20662 |  | A | Application of pelvis brace | 6.07 | NA | NA | 5.11 | 5.61 | 0.81 | NA | NA | 11.99 | 12.49 | 090
20663 |  | A | Application of thigh brace | 5.43 | NA | NA | 4.75 | 4.82 | 0.77 | NA | NA | 10.95 | 11.02 | 090
20664 |  | A | Halo brace application | 8.06 | NA | NA | 8.25 | 7.23 | 1.49 | NA | NA | 17.80 | 16.78 | 090
20665 |  | A | Removal of fixation device | 1.31 | 2.20 | 1.79 | 1.23 | 1.06 | 0.17 | 3.68 | 3.27 | 2.71 | 2.54 | 010
20670 |  | A | Removal of support implant | 1.74 | 5.50 | 4.33 | 3.43 | 2.67 | 0.23 | 7.47 | 6.30 | 5.40 | 4.64 | 010
20680 |  | A | Removal of support implant | 3.35 | 5.02 | 4.67 | 5.02 | 4.67 | 0.46 | 8.83 | 8.48 | 8.83 | 8.48 | 090
20690 |  | A | Apply bone fixation device | 3.52 | NA | NA | 1.88 | 2.40 | 0.47 | NA | NA | 5.87 | 6.39 | 090
20692 |  | A | Apply bone fixation device | 6.41 | NA | NA | 2.49 | 3.36 | 0.60 | NA | NA | 9.50 | 10.37 | 090
20693 |  | A | Adjust bone fixation device | 5.86 | NA | NA | 11.60 | 9.38 | 0.85 | NA | NA | 18.31 | 16.09 | 090
20694 |  | A | Remove bone fixation device | 4.16 | 8.17 | 6.83 | 5.77 | 5.03 | 0.57 | 12.90 | 11.56 | 10.50 | 9.76 | 090
20802 |  | A | Replantation, arm, complete | 41.15 | NA | NA | 27.94 | 31.19 | 5.81 | NA | NA | 74.90 | 78.15 | 090
20805 |  | A | Replant, forearm, complete | 50.00 | NA | NA | 50.26 | 50.22 | 3.95 | NA | NA | 104.21 | 104.17 | 090
20808 |  | A | Replantation hand, complete | 61.65 | NA | NA | 43.46 | 48.17 | 6.49 | NA | NA | 111.60 | 116.31 | 090
20816 |  | A | Replantation digit, complete | 30.94 | NA | NA | 42.68 | 39.69 | 3.01 | NA | NA | 76.63 | 73.64 | 090
20822 |  | A | Replantation digit, complete | 25.59 | NA | NA | 39.15 | 35.71 | 3.07 | NA | NA | 67.81 | 64.37 | 090
20824 |  | A | Replantation thumb, complete | 30.94 | NA | NA | 36.49 | 35.05 | 3.48 | NA | NA | 70.91 | 69.47 | 090
20827 |  | A | Replantation thumb, complete | 26.41 | NA | NA | 45.63 | 40.75 | 3.21 | NA | NA | 75.25 | 70.37 | 090
20838 |  | A | Replantation foot, complete | 41.41 | NA | NA | 28.37 | 31.51 | 5.85 | NA | NA | 75.63 | 78.77 | 090
20900 |  | A | Removal of bone for graft | 5.58 | 6.70 | 5.79 | 5.81 | 5.12 | 0.77 | 13.05 | 12.14 | 12.16 | 11.47 | 090
20902 |  | A | Removal of bone for graft | 7.55 | NA | NA | 8.28 | 7.55 | 1.06 | NA | NA | 16.89 | 16.16 | 090
20910 |  | A | Remove cartilage for graft | 5.34 | 8.05 | 6.25 | 6.51 | 5.10 | 0.50 | 13.89 | 12.09 | 12.35 | 10.94 | 090
20912 |  | A | Remove cartilage for graft | 6.35 | NA | NA | 7.26 | 6.70 | 0.55 | NA | NA | 14.16 | 13.60 | 090
20920 |  | A | Removal of fascia for graft | 5.31 | NA | NA | 5.42 | 5.13 | 0.54 | NA | NA | 11.27 | 10.98 | 090
20922 |  | A | Removal of fascia for graft | 6.61 | 8.54 | 7.60 | 6.14 | 5.80 | 0.88 | 16.03 | 15.09 | 13.63 | 13.29 | 090
20924 |  | A | Removal of tendon for graft | 6.48 | NA | NA | 6.62 | 6.44 | 0.82 | NA | NA | 13.92 | 13.74 | 090
20926 |  | A | Removal of tissue for graft | 5.53 | NA | NA | 6.15 | 5.32 | 0.73 | NA | NA | 12.41 | 11.58 | 090
20930 |  | B | Spinal bone allograft | 0.00 | 0.00 | 0.00 | 0.00 | 0.00 | 0.00 | 0.00 | 0.00 | 0.00 | 0.00 | XXX
20931 |  | A | Spinal bone allograft | 1.81 | NA | NA | 0.96 | 1.19 | 0.34 | NA | NA | 3.11 | 3.34 | ZZZ
20936 |  | B | Spinal bone autograft | 0.00 | 0.00 | 0.00 | 0.00 | 0.00 | 0.00 | 0.00 | 0.00 | 0.00 | 0.00 | XXX
20937 |  | A | Spinal bone autograft | 2.79 | NA | NA | 1.52 | 1.86 | 0.43 | NA | NA | 4.74 | 5.08 | ZZZ
20938 |  | A | Spinal bone autograft | 3.02 | NA | NA | 1.62 | 2.00 | 0.52 | NA | NA | 5.16 | 5.54 | ZZZ
20950 |  | A | Fluid pressure, muscle | 1.26 | NA | NA | 2.08 | 1.86 | 0.16 | NA | NA | 3.50 | 3.28 | 000
20955 |  | A | Fibula bone graft, microvasc | 39.21 | NA | NA | 29.43 | 31.80 | 4.35 | NA | NA | 72.99 | 75.36 | 090
20956 |  | A | Iliac bone graft, microvasc | 39.27 | NA | NA | 28.36 | 28.57 | 5.77 | NA | NA | 73.40 | 73.61 | 090
20957 |  | A | Mt bone graft, microvasc | 40.65 | NA | NA | 24.17 | 25.69 | 5.74 | NA | NA | 70.56 | 72.08 | 090
20962 |  | A | Other bone graft, microvasc | 39.27 | NA | NA | 28.68 | 28.81 | 5.19 | NA | NA | 73.14 | 73.27 | 090
20969 |  | A | Bone/skin graft, microvasc | 43.92 | NA | NA | 32.20 | 35.04 | 4.34 | NA | NA | 80.46 | 83.30 | 090
20970 |  | A | Bone/skin graft, iliac crest | 43.06 | NA | NA | 29.96 | 33.14 | 4.64 | NA | NA | 77.66 | 80.84 | 090
20972 |  | A | Bone/skin graft, metatarsal | 42.99 | NA | NA | 18.72 | 24.79 | 6.07 | NA | NA | 67.78 | 73.85 | 090
20973 |  | A | Bone/skin graft, great toe | 45.76 | NA | NA | 22.14 | 28.07 | 4.65 | NA | NA | 72.55 | 78.48 | 090
20974 |  | A | Electrical bone stimulation | 0.62 | 0.38 | 1.21 | 0.34 | 0.72 | 0.09 | 1.09 | 1.92 | 1.05 | 1.43 | 000
20975 |  | A | Electrical bone stimulation | 2.60 | NA | NA | 1.41 | 1.83 | 0.42 | NA | NA | 4.43 | 4.85 | 000
20979 |  | A | Us bone stimulation | 0.62 | 0.57 | 0.57 | 0.25 | 0.25 | 0.04 | 1.23 | 1.23 | 0.91 | 0.91 | 000
20999 |  | C | Musculoskeletal surgery | 0.00 | 0.00 | 0.00 | 0.00 | 0.00 | 0.00 | 0.00 | 0.00 | 0.00 | 0.00 | YYY
21010 |  | A | Incision of jaw joint | 10.14 | NA | NA | 6.96 | 8.00 | 0.54 | NA | NA | 17.64 | 18.68 | 090
21015 |  | A | Resection of facial tumor | 5.29 | NA | NA | 6.95 | 6.79 | 0.52 | NA | NA | 12.76 | 12.60 | 090
21025 |  | A | Excision of bone, lower jaw | 10.06 | 7.37 | 6.65 | 6.86 | 5.71 | 0.79 | 18.22 | 17.50 | 17.71 | 16.56 | 090
21026 |  | A | Excision of facial bone(s) | 4.85 | 5.45 | 4.94 | 4.79 | 4.02 | 0.40 | 10.70 | 10.19 | 10.04 | 9.27 | 090
21029 |  | A | Contour of face bone lesion | 7.71 | 6.81 | 7.41 | 6.04 | 5.68 | 0.74 | 15.26 | 15.86 | 14.49 | 14.13 | 090
21030 |  | A | Removal of face bone lesion | 6.46 | 5.37 | 4.94 | 4.87 | 4.11 | 0.60 | 12.43 | 12.00 | 11.93 | 11.17 | 090
21031 |  | A | Remove exostosis, mandible | 3.24 | 3.33 | 3.50 | 2.11 | 2.08 | 0.28 | 6.85 | 7.02 | 5.63 | 5.60 | 090
21032 |  | A | Remove exostosis, maxilla | 3.24 | 3.29 | 3.52 | 2.16 | 2.15 | 0.27 | 6.80 | 7.03 | 5.67 | 5.66 | 090
21034 |  | A | Removal of face bone lesion | 16.17 | 11.88 | 10.81 | 10.61 | 9.85 | 1.37 | 29.42 | 28.35 | 28.15 | 27.39 | 090
21040 |  | A | Removal of jaw bone lesion | 2.11 | 2.97 | 2.98 | 1.86 | 1.77 | 0.19 | 5.27 | 5.28 | 4.16 | 4.07 | 090
21041 |  | A | Removal of jaw bone lesion | 6.71 | 5.59 | 5.76 | 4.35 | 4.05 | 0.56 | 12.86 | 13.03 | 11.62 | 11.32 | 090
21044 |  | A | Removal of jaw bone lesion | 11.86 | NA | NA | 7.90 | 8.52 | 0.87 | NA | NA | 20.63 | 21.25 | 090
21045 |  | A | Extensive jaw surgery | 16.17 | NA | NA | 10.26 | 11.45 | 1.20 | NA | NA | 27.63 | 28.82 | 090
21050 |  | A | Removal of jaw joint | 10.77 | NA | NA | 11.22 | 11.63 | 0.84 | NA | NA | 22.83 | 23.24 | 090
21060 |  | A | Remove jaw joint cartilage | 10.23 | NA | NA | 10.06 | 10.60 | 1.16 | NA | NA | 21.45 | 21.99 | 090
21070 |  | A | Remove coronoid process | 8.20 | NA | NA | 6.07 | 6.40 | 0.67 | NA | NA | 14.94 | 15.27 | 090
21076 |  | A | Prepare face/oral prosthesis | 13.42 | 9.75 | 11.32 | 7.34 | 7.51 | 1.36 | 24.53 | 26.10 | 22.12 | 22.29 | 010
21077 |  | A | Prepare face/oral prosthesis | 33.75 | 24.53 | 28.47 | 18.46 | 18.88 | 3.43 | 61.71 | 65.65 | 55.64 | 56.06 | 090
21079 |  | A | Prepare face/oral prosthesis | 22.34 | 17.32 | 20.57 | 12.77 | 13.37 | 1.59 | 41.25 | 44.50 | 36.70 | 37.30 | 090
21080 |  | A | Prepare face/oral prosthesis | 25.10 | 19.47 | 23.12 | 14.35 | 15.02 | 2.55 | 47.12 | 50.77 | 42.00 | 42.67 | 090
21081 |  | A | Prepare face/oral prosthesis | 22.88 | 17.74 | 21.06 | 13.08 | 13.69 | 1.87 | 42.49 | 45.81 | 37.83 | 38.44 | 090
21082 |  | A | Prepare face/oral prosthesis | 20.87 | 15.17 | 17.61 | 11.42 | 11.68 | 1.46 | 37.50 | 39.94 | 33.75 | 34.01 | 090
21083 |  | A | Prepare face/oral prosthesis | 19.30 | 14.97 | 17.78 | 11.03 | 11.55 | 1.96 | 36.23 | 39.04 | 32.29 | 32.81 | 090
21084 |  | A | Prepare face/oral prosthesis | 22.51 | 17.45 | 20.72 | 12.87 | 13.47 | 1.57 | 41.53 | 44.80 | 36.95 | 37.55 | 090
21085 |  | A | Prepare face/oral prosthesis | 9.00 | 6.53 | 7.58 | 4.93 | 5.04 | 0.65 | 16.18 | 17.23 | 14.58 | 14.69 | 010
21086 |  | A | Prepare face/oral prosthesis | 24.92 | 19.33 | 22.95 | 14.25 | 14.92 | 1.86 | 46.11 | 49.73 | 41.03 | 41.70 | 090
21087 |  | A | Prepare face/oral prosthesis | 24.92 | 18.10 | 21.01 | 13.64 | 13.95 | 2.22 | 45.24 | 48.15 | 40.78 | 41.09 | 090
21088 |  | C | Prepare face/oral prosthesis | 0.00 | 0.00 | 0.00 | 0.00 | 0.00 | 0.00 | 0.00 | 0.00 | 0.00 | 0.00 | 090
21089 |  | C | Prepare face/oral prosthesis | 0.00 | 0.00 | 0.00 | 0.00 | 0.00 | 0.00 | 0.00 | 0.00 | 0.00 | 0.00 | 090
21100 |  | A | Maxillofacial fixation | 4.22 | 5.87 | 4.69 | 4.00 | 3.29 | 0.18 | 10.27 | 9.09 | 8.40 | 7.69 | 090
21110 |  | A | Interdental fixation | 5.21 | 5.21 | 5.41 | 4.54 | 4.16 | 0.28 | 10.70 | 10.90 | 10.03 | 9.65 | 090
21116 |  | A | Injection, jaw joint x-ray | 0.81 | 7.87 | 6.10 | 0.31 | 0.43 | 0.05 | 8.73 | 6.96 | 1.17 | 1.29 | 000
21120 |  | A | Reconstruction of chin | 4.93 | 10.28 | 8.69 | 6.23 | 5.65 | 0.29 | 15.50 | 13.91 | 11.45 | 10.87 | 090
21121 |  | A | Reconstruction of chin | 7.64 | 8.07 | 7.59 | 5.81 | 5.89 | 0.56 | 16.27 | 15.79 | 14.01 | 14.09 | 090
21122 |  | A | Reconstruction of chin | 8.52 | NA | NA | 7.37 | 7.22 | 0.59 | NA | NA | 16.48 | 16.33 | 090
21123 |  | A | Reconstruction of chin | 11.16 | NA | NA | 8.46 | 8.55 | 1.16 | NA | NA | 20.78 | 20.87 | 090
21125 |  | A | Augmentation, lower jaw bone | 10.62 | 9.06 | 8.08 | 8.64 | 7.76 | 0.72 | 20.40 | 19.42 | 19.98 | 19.10 | 090
21127 |  | A | Augmentation, lower jaw bone | 11.12 | 9.54 | 9.30 | 6.73 | 7.19 | 0.76 | 21.42 | 21.18 | 18.61 | 19.07 | 090
21137 |  | A | Reduction of forehead | 9.82 | NA | NA | 7.11 | 7.26 | 0.53 | NA | NA | 17.46 | 17.61 | 090
21138 |  | A | Reduction of forehead | 12.19 | NA | NA | 9.81 | 9.76 | 1.47 | NA | NA | 23.47 | 23.42 | 090
21139 |  | A | Reduction of forehead | 14.61 | NA | NA | 9.37 | 9.92 | 1.02 | NA | NA | 25.00 | 25.55 | 090
21141 |  | A | Reconstruct midface, lefort | 18.10 | NA | NA | 11.10 | 12.22 | 1.63 | NA | NA | 30.83 | 31.95 | 090
21142 |  | A | Reconstruct midface, lefort | 18.81 | NA | NA | 11.26 | 12.47 | 1.16 | NA | NA | 31.23 | 32.44 | 090
21143 |  | A | Reconstruct midface, lefort | 19.58 | NA | NA | 11.26 | 12.62 | 0.90 | NA | NA | 31.74 | 33.10 | 090
21145 |  | A | Reconstruct midface, lefort | 19.94 | NA | NA | 11.47 | 12.49 | 2.09 | NA | NA | 33.50 | 34.52 | 090
21146 |  | A | Reconstruct midface, lefort | 20.71 | NA | NA | 12.11 | 13.11 | 2.13 | NA | NA | 34.95 | 35.95 | 090
21147 |  | A | Reconstruct midface, lefort | 21.77 | NA | NA | 13.29 | 14.15 | 1.52 | NA | NA | 36.58 | 37.44 | 090
21150 |  | A | Reconstruct midface, lefort | 25.24 | NA | NA | 14.79 | 16.10 | 1.09 | NA | NA | 41.12 | 42.43 | 090
21151 |  | A | Reconstruct midface, lefort | 28.30 | NA | NA | 18.36 | 19.38 | 1.98 | NA | NA | 48.64 | 49.66 | 090
21154 |  | A | Reconstruct midface, lefort | 30.52 | NA | NA | 18.36 | 19.78 | 4.86 | NA | NA | 53.74 | 55.16 | 090
21155 |  | A | Reconstruct midface, lefort | 34.45 | NA | NA | 18.36 | 20.58 | 5.48 | NA | NA | 58.29 | 60.51 | 090
21159 |  | A | Reconstruct midface, lefort | 42.38 | NA | NA | 21.53 | 24.56 | 6.74 | NA | NA | 70.65 | 73.68 | 090
21160 |  | A | Reconstruct midface, lefort | 46.44 | NA | NA | 24.59 | 27.66 | 4.39 | NA | NA | 75.42 | 78.49 | 090
21172 |  | A | Reconstruct orbit/forehead | 27.80 | NA | NA | 18.52 | 19.40 | 1.91 | NA | NA | 48.23 | 49.11 | 090
21175 |  | A | Reconstruct orbit/forehead | 33.17 | NA | NA | 18.89 | 20.78 | 5.16 | NA | NA | 57.22 | 59.11 | 090
21179 |  | A | Reconstruct entire forehead | 22.25 | NA | NA | 18.57 | 18.33 | 2.48 | NA | NA | 43.30 | 43.06 | 090
21180 |  | A | Reconstruct entire forehead | 25.19 | NA | NA | 18.88 | 19.17 | 2.15 | NA | NA | 46.22 | 46.51 | 090
21181 |  | A | Contour cranial bone lesion | 9.90 | NA | NA | 8.73 | 8.48 | 0.97 | NA | NA | 19.60 | 19.35 | 090
21182 |  | A | Reconstruct cranial bone | 32.19 | NA | NA | 22.46 | 23.26 | 2.53 | NA | NA | 57.18 | 57.98 | 090
21183 |  | A | Reconstruct cranial bone | 35.31 | NA | NA | 23.72 | 24.80 | 2.75 | NA | NA | 61.78 | 62.86 | 090
21184 |  | A | Reconstruct cranial bone | 38.24 | NA | NA | 21.55 | 23.78 | 4.12 | NA | NA | 63.91 | 66.14 | 090
21188 |  | A | Reconstruction of midface | 22.46 | NA | NA | 15.60 | 16.11 | 1.85 | NA | NA | 39.91 | 40.42 | 090
21193 |  | A | Reconst lwr jaw w/o graft | 17.15 | NA | NA | 10.99 | 11.58 | 1.53 | NA | NA | 29.67 | 30.26 | 090
21194 |  | A | Reconst lwr jaw w/graft | 19.84 | NA | NA | 12.06 | 12.92 | 1.39 | NA | NA | 33.29 | 34.15 | 090
21195 |  | A | Reconst lwr jaw w/o fixation | 17.24 | NA | NA | 12.93 | 13.05 | 1.20 | NA | NA | 31.37 | 31.49 | 090
21196 |  | A | Reconst lwr jaw w/fixation | 18.91 | NA | NA | 12.84 | 13.32 | 1.62 | NA | NA | 33.37 | 33.85 | 090
21198 |  | A | Reconstr lwr jaw segment | 14.16 | NA | NA | 11.81 | 12.88 | 1.05 | NA | NA | 27.02 | 28.09 | 090
21199 |  | A | Reconstr lwr jaw w/advance | 16.00 | NA | NA | 10.53 | 10.53 | 1.00 | NA | NA | 27.53 | 27.53 | 090
21206 |  | A | Reconstruct upper jaw bone | 14.10 | NA | NA | 10.08 | 10.31 | 1.01 | NA | NA | 25.19 | 25.42 | 090
21208 |  | A | Augmentation of facial bones | 10.23 | 9.92 | 10.49 | 8.37 | 9.33 | 0.92 | 21.07 | 21.64 | 19.52 | 20.48 | 090
21209 |  | A | Reduction of facial bones | 6.72 | 8.72 | 7.79 | 5.68 | 5.51 | 0.60 | 16.04 | 15.11 | 13.00 | 12.83 | 090
21210 |  | A | Face bone graft | 10.23 | 8.85 | 9.69 | 7.95 | 7.49 | 0.88 | 19.96 | 20.80 | 19.06 | 18.60 | 090
21215 |  | A | Lower jaw bone graft | 10.77 | 8.66 | 9.71 | 6.88 | 6.77 | 1.04 | 20.47 | 21.52 | 18.69 | 18.58 | 090
21230 |  | A | Rib cartilage graft | 10.77 | NA | NA | 10.09 | 10.38 | 0.96 | NA | NA | 21.82 | 22.11 | 090
21235 |  | A | Ear cartilage graft | 6.72 | 11.59 | 10.70 | 7.92 | 7.95 | 0.52 | 18.83 | 17.94 | 15.16 | 15.19 | 090
21240 |  | A | Reconstruction of jaw joint | 14.05 | NA | NA | 11.45 | 12.78 | 1.15 | NA | NA | 26.65 | 27.98 | 090
21242 |  | A | Reconstruction of jaw joint | 12.95 | NA | NA | 11.47 | 12.47 | 1.40 | NA | NA | 25.82 | 26.82 | 090
21243 |  | A | Reconstruction of jaw joint | 20.79 | NA | NA | 14.68 | 14.92 | 1.85 | NA | NA | 37.32 | 37.56 | 090
21244 |  | A | Reconstruction of lower jaw | 11.86 | NA | NA | 9.00 | 10.29 | 0.95 | NA | NA | 21.81 | 23.10 | 090
21245 |  | A | Reconstruction of jaw | 11.86 | 16.50 | 15.49 | 10.10 | 10.69 | 0.88 | 29.24 | 28.23 | 22.84 | 23.43 | 090
21246 |  | A | Reconstruction of jaw | 12.47 | 12.41 | 11.70 | 10.75 | 10.46 | 1.21 | 26.09 | 25.38 | 24.43 | 24.14 | 090
21247 |  | A | Reconstruct lower jaw bone | 22.63 | NA | NA | 18.73 | 20.80 | 2.21 | NA | NA | 43.57 | 45.64 | 090
21248 |  | A | Reconstruction of jaw | 11.48 | 8.79 | 10.02 | 7.96 | 7.69 | 1.01 | 21.28 | 22.51 | 20.45 | 20.18 | 090
21249 |  | A | Reconstruction of jaw | 17.52 | 11.31 | 13.71 | 10.15 | 10.23 | 1.39 | 30.22 | 32.62 | 29.06 | 29.14 | 090
21255 |  | A | Reconstruct lower jaw bone | 16.72 | NA | NA | 10.92 | 13.18 | 1.13 | NA | NA | 28.77 | 31.03 | 090
21256 |  | A | Reconstruction of orbit | 16.19 | NA | NA | 13.34 | 14.84 | 1.04 | NA | NA | 30.57 | 32.07 | 090
21260 |  | A | Revise eye sockets | 16.52 | NA | NA | 11.45 | 13.52 | 1.25 | NA | NA | 29.22 | 31.29 | 090
21261 |  | A | Revise eye sockets | 31.49 | NA | NA | 19.08 | 19.14 | 2.20 | NA | NA | 52.77 | 52.83 | 090
21263 |  | A | Revise eye sockets | 28.42 | NA | NA | 14.95 | 19.70 | 2.16 | NA | NA | 45.53 | 50.28 | 090
21267 |  | A | Revise eye sockets | 18.90 | NA | NA | 14.53 | 14.86 | 1.35 | NA | NA | 34.78 | 35.11 | 090
21268 |  | A | Revise eye sockets | 24.48 | NA | NA | 12.60 | 13.62 | 0.79 | NA | NA | 37.87 | 38.89 | 090
21270 |  | A | Augmentation, cheek bone | 10.23 | 10.37 | 10.38 | 9.16 | 9.48 | 0.73 | 21.33 | 21.34 | 20.12 | 20.44 | 090
21275 |  | A | Revision, orbitofacial bones | 11.24 | NA | NA | 11.10 | 10.75 | 1.03 | NA | NA | 23.37 | 23.02 | 090
21280 |  | A | Revision of eyelid | 6.03 | NA | NA | 6.22 | 6.47 | 0.27 | NA | NA | 12.52 | 12.77 | 090
21282 |  | A | Revision of eyelid | 3.49 | NA | NA | 5.20 | 4.94 | 0.21 | NA | NA | 8.90 | 8.64 | 090
21295 |  | A | Revision of jaw muscle/bone | 1.53 | NA | NA | 3.62 | 2.98 | 0.13 | NA | NA | 5.28 | 4.64 | 090
21296 |  | A | Revision of jaw muscle/bone | 4.25 | NA | NA | 5.20 | 4.88 | 0.30 | NA | NA | 9.75 | 9.43 | 090
21299 |  | C | Cranio/maxillofacial surgery | 0.00 | 0.00 | 0.00 | 0.00 | 0.00 | 0.00 | 0.00 | 0.00 | 0.00 | 0.00 | YYY
21300 |  | A | Treatment of skull fracture | 0.72 | 2.34 | 2.01 | 0.27 | 0.42 | 0.09 | 3.15 | 2.82 | 1.08 | 1.23 | 000
21310 |  | A | Treatment of nose fracture | 0.58 | 2.54 | 2.11 | 0.15 | 0.29 | 0.05 | 3.17 | 2.74 | 0.78 | 0.92 | 000
21315 |  | A | Treatment of nose fracture | 1.51 | 3.29 | 2.96 | 1.24 | 1.38 | 0.12 | 4.92 | 4.59 | 2.87 | 3.01 | 010
21320 |  | A | Treatment of nose fracture | 1.85 | 4.82 | 4.25 | 1.98 | 2.04 | 0.15 | 6.82 | 6.25 | 3.98 | 4.04 | 010
21325 |  | A | Treatment of nose fracture | 3.77 | NA | NA | 3.66 | 3.86 | 0.31 | NA | NA | 7.74 | 7.94 | 090
21330 |  | A | Treatment of nose fracture | 5.38 | NA | NA | 5.41 | 5.66 | 0.48 | NA | NA | 11.27 | 11.52 | 090
21335 |  | A | Treatment of nose fracture | 8.61 | NA | NA | 7.04 | 7.85 | 0.64 | NA | NA | 16.29 | 17.10 | 090
21336 |  | A | Treat nasal septal fracture | 5.72 | NA | NA | 5.44 | 5.19 | 0.45 | NA | NA | 11.61 | 11.36 | 090
21337 |  | A | Treat nasal septal fracture | 2.70 | 4.98 | 4.50 | 3.12 | 3.11 | 0.22 | 7.90 | 7.42 | 6.04 | 6.03 | 090
21338 |  | A | Treat nasoethmoid fracture | 6.46 | NA | NA | 5.88 | 5.77 | 0.53 | NA | NA | 12.87 | 12.76 | 090
21339 |  | A | Treat nasoethmoid fracture | 8.09 | NA | NA | 6.85 | 7.06 | 0.76 | NA | NA | 15.70 | 15.91 | 090
21340 |  | A | Treatment of nose fracture | 10.77 | NA | NA | 9.26 | 9.36 | 0.85 | NA | NA | 20.88 | 20.98 | 090
21343 |  | A | Treatment of sinus fracture | 12.95 | NA | NA | 9.93 | 9.94 | 1.06 | NA | NA | 23.94 | 23.95 | 090
21344 |  | A | Treatment of sinus fracture | 19.72 | NA | NA | 13.34 | 12.49 | 1.72 | NA | NA | 34.78 | 33.93 | 090
21345 |  | A | Treat nose/jaw fracture | 8.16 | 8.74 | 8.70 | 7.41 | 7.70 | 0.60 | 17.50 | 17.46 | 16.17 | 16.46 | 090
21346 |  | A | Treat nose/jaw fracture | 10.61 | NA | NA | 10.26 | 10.25 | 0.85 | NA | NA | 21.72 | 21.71 | 090
21347 |  | A | Treat nose/jaw fracture | 12.69 | NA | NA | 9.31 | 9.79 | 1.14 | NA | NA | 23.14 | 23.62 | 090
21348 |  | A | Treat nose/jaw fracture | 16.69 | NA | NA | 10.25 | 10.77 | 1.50 | NA | NA | 28.44 | 28.96 | 090
21355 |  | A | Treat cheek bone fracture | 3.77 | 4.79 | 4.02 | 2.40 | 2.22 | 0.29 | 8.85 | 8.08 | 6.46 | 6.28 | 010
21356 |  | A | Treat cheek bone fracture | 4.15 | NA | NA | 3.22 | 3.66 | 0.36 | NA | NA | 7.73 | 8.17 | 010
21360 |  | A | Treat cheek bone fracture | 6.46 | NA | NA | 5.72 | 6.22 | 0.52 | NA | NA | 12.70 | 13.20 | 090
21365 |  | A | Treat cheek bone fracture | 14.95 | NA | NA | 11.28 | 11.81 | 1.30 | NA | NA | 27.53 | 28.06 | 090
21366 |  | A | Treat cheek bone fracture | 17.77 | NA | NA | 12.09 | 12.35 | 1.41 | NA | NA | 31.27 | 31.53 | 090
21385 |  | A | Treat eye socket fracture | 9.16 | NA | NA | 7.68 | 8.36 | 0.64 | NA | NA | 17.48 | 18.16 | 090
21386 |  | A | Treat eye socket fracture | 9.16 | NA | NA | 7.98 | 8.45 | 0.76 | NA | NA | 17.90 | 18.37 | 090
21387 |  | A | Treat eye socket fracture | 9.70 | NA | NA | 8.14 | 8.13 | 0.78 | NA | NA | 18.62 | 18.61 | 090
21390 |  | A | Treat eye socket fracture | 10.13 | NA | NA | 8.49 | 9.39 | 0.70 | NA | NA | 19.32 | 20.22 | 090
21395 |  | A | Treat eye socket fracture | 12.68 | NA | NA | 9.99 | 10.11 | 1.09 | NA | NA | 23.76 | 23.88 | 090
21400 |  | A | Treat eye socket fracture | 1.40 | 2.92 | 2.64 | 1.08 | 1.23 | 0.12 | 4.44 | 4.16 | 2.60 | 2.75 | 090
21401 |  | A | Treat eye socket fracture | 3.26 | 5.56 | 4.87 | 3.19 | 3.09 | 0.34 | 9.16 | 8.47 | 6.79 | 6.69 | 090
21406 |  | A | Treat eye socket fracture | 7.01 | NA | NA | 6.51 | 6.30 | 0.59 | NA | NA | 14.11 | 13.90 | 090
21407 |  | A | Treat eye socket fracture | 8.61 | NA | NA | 7.74 | 7.73 | 0.67 | NA | NA | 17.02 | 17.01 | 090
21408 |  | A | Treat eye socket fracture | 12.38 | NA | NA | 9.63 | 9.53 | 1.24 | NA | NA | 23.25 | 23.15 | 090
21421 |  | A | Treat mouth roof fracture | 5.14 | 7.37 | 7.19 | 6.29 | 6.25 | 0.42 | 12.93 | 12.75 | 11.85 | 11.81 | 090
21422 |  | A | Treat mouth roof fracture | 8.32 | NA | NA | 7.13 | 7.83 | 0.69 | NA | NA | 16.14 | 16.84 | 090
21423 |  | A | Treat mouth roof fracture | 10.40 | NA | NA | 8.10 | 8.74 | 0.95 | NA | NA | 19.45 | 20.09 | 090
21431 |  | A | Treat craniofacial fracture | 7.05 | NA | NA | 5.28 | 5.59 | 0.58 | NA | NA | 12.91 | 13.22 | 090
21432 |  | A | Treat craniofacial fracture | 8.61 | NA | NA | 7.28 | 7.30 | 0.55 | NA | NA | 16.44 | 16.46 | 090
21433 |  | A | Treat craniofacial fracture | 25.35 | NA | NA | 17.70 | 18.15 | 2.46 | NA | NA | 45.51 | 45.96 | 090
21435 |  | A | Treat craniofacial fracture | 17.25 | NA | NA | 11.67 | 12.35 | 1.66 | NA | NA | 30.58 | 31.26 | 090
21436 |  | A | Treat craniofacial fracture | 28.04 | NA | NA | 18.85 | 18.11 | 2.32 | NA | NA | 49.21 | 48.47 | 090
21440 |  | A | Treat dental ridge fracture | 2.70 | 5.34 | 4.84 | 3.37 | 3.33 | 0.22 | 8.26 | 7.76 | 6.29 | 6.25 | 090
21445 |  | A | Treat dental ridge fracture | 5.38 | 6.92 | 6.85 | 5.27 | 5.56 | 0.55 | 12.85 | 12.78 | 11.20 | 11.49 | 090
21450 |  | A | Treat lower jaw fracture | 2.97 | 6.53 | 5.67 | 2.67 | 2.77 | 0.23 | 9.73 | 8.87 | 5.87 | 5.97 | 090
21451 |  | A | Treat lower jaw fracture | 4.87 | 6.51 | 6.47 | 5.49 | 5.57 | 0.39 | 11.77 | 11.73 | 10.75 | 10.83 | 090
21452 |  | A | Treat lower jaw fracture | 1.98 | 8.85 | 7.02 | 3.80 | 3.23 | 0.14 | 10.97 | 9.14 | 5.92 | 5.35 | 090
21453 |  | A | Treat lower jaw fracture | 5.54 | 7.43 | 7.38 | 6.20 | 6.30 | 0.49 | 13.46 | 13.41 | 12.23 | 12.33 | 090
21454 |  | A | Treat lower jaw fracture | 6.46 | NA | NA | 5.93 | 6.38 | 0.55 | NA | NA | 12.94 | 13.39 | 090
21461 |  | A | Treat lower jaw fracture | 8.09 | 9.57 | 9.59 | 7.73 | 8.21 | 0.73 | 18.39 | 18.41 | 16.55 | 17.03 | 090
21462 |  | A | Treat lower jaw fracture | 9.79 | 10.92 | 11.11 | 7.87 | 8.83 | 0.80 | 21.51 | 21.70 | 18.46 | 19.42 | 090
21465 |  | A | Treat lower jaw fracture | 11.91 | NA | NA | 7.39 | 7.83 | 0.84 | NA | NA | 20.14 | 20.58 | 090
21470 |  | A | Treat lower jaw fracture | 15.34 | NA | NA | 9.78 | 11.91 | 1.36 | NA | NA | 26.48 | 28.61 | 090
21480 |  | A | Reset dislocated jaw | 0.61 | 1.58 | 1.40 | 0.18 | 0.32 | 0.05 | 2.24 | 2.06 | 0.84 | 0.98 | 000
21485 |  | A | Reset dislocated jaw | 3.99 | 3.80 | 3.45 | 3.49 | 2.92 | 0.31 | 8.10 | 7.75 | 7.79 | 7.22 | 090
21490 |  | A | Repair dislocated jaw | 11.86 | NA | NA | 7.45 | 7.30 | 1.31 | NA | NA | 20.62 | 20.47 | 090
21493 |  | A | Treat hyoid bone fracture | 1.27 | NA | NA | 3.05 | 2.67 | 0.10 | NA | NA | 4.42 | 4.04 | 090
21494 |  | A | Treat hyoid bone fracture | 6.28 | NA | NA | 5.24 | 5.97 | 0.44 | NA | NA | 11.96 | 12.69 | 090
21495 |  | A | Treat hyoid bone fracture | 5.69 | NA | NA | 4.80 | 4.91 | 0.41 | NA | NA | 10.90 | 11.01 | 090
21497 |  | A | Interdental wiring | 3.86 | 4.72 | 4.62 | 3.78 | 3.91 | 0.31 | 8.89 | 8.79 | 7.95 | 8.08 | 090
21499 |  | C | Head surgery procedure | 0.00 | 0.00 | 0.00 | 0.00 | 0.00 | 0.00 | 0.00 | 0.00 | 0.00 | 0.00 | YYY
21501 |  | A | Drain neck/chest lesion | 3.81 | 4.15 | 3.61 | 3.64 | 3.23 | 0.36 | 8.32 | 7.78 | 7.81 | 7.40 | 090
21502 |  | A | Drain chest lesion | 7.12 | NA | NA | 8.58 | 7.58 | 0.79 | NA | NA | 16.49 | 15.49 | 090
21510 |  | A | Drainage of bone lesion | 5.74 | NA | NA | 8.10 | 7.11 | 0.67 | NA | NA | 14.51 | 13.52 | 090
21550 |  | A | Biopsy of neck/chest | 2.06 | 2.27 | 1.93 | 1.24 | 1.05 | 0.13 | 4.46 | 4.12 | 3.43 | 3.24 | 010
21555 |  | A | Remove lesion, neck/chest | 4.35 | 4.17 | 3.56 | 2.54 | 2.34 | 0.41 | 8.93 | 8.32 | 7.30 | 7.10 | 090
21556 |  | A | Remove lesion, neck/chest | 5.57 | NA | NA | 3.31 | 3.51 | 0.51 | NA | NA | 9.39 | 9.59 | 090
21557 |  | A | Remove tumor, neck/chest | 8.88 | NA | NA | 8.03 | 8.33 | 0.85 | NA | NA | 17.76 | 18.06 | 090
21600 |  | A | Partial removal of rib | 6.89 | NA | NA | 8.77 | 7.80 | 0.81 | NA | NA | 16.47 | 15.50 | 090
21610 |  | A | Partial removal of rib | 14.61 | NA | NA | 10.79 | 9.50 | 1.85 | NA | NA | 27.25 | 25.96 | 090
21615 |  | A | Removal of rib | 9.87 | NA | NA | 9.65 | 9.99 | 1.20 | NA | NA | 20.72 | 21.06 | 090
21616 |  | A | Removal of rib and nerves | 12.04 | NA | NA | 9.02 | 8.74 | 1.31 | NA | NA | 22.37 | 22.09 | 090
21620 |  | A | Partial removal of sternum | 6.79 | NA | NA | 8.89 | 8.53 | 0.77 | NA | NA | 16.45 | 16.09 | 090
21627 |  | A | Sternal debridement | 6.81 | NA | NA | 15.57 | 13.04 | 0.82 | NA | NA | 23.20 | 20.67 | 090
21630 |  | A | Extensive sternum surgery | 17.38 | NA | NA | 14.42 | 14.31 | 1.95 | NA | NA | 33.75 | 33.64 | 090
21632 |  | A | Extensive sternum surgery | 18.14 | NA | NA | 15.62 | 14.85 | 2.16 | NA | NA | 35.92 | 35.15 | 090
21700 |  | A | Revision of neck muscle | 6.19 | 8.78 | 7.71 | 7.38 | 6.66 | 0.31 | 15.28 | 14.21 | 13.88 | 13.16 | 090
21705 |  | A | Revision of neck muscle/rib | 9.60 | NA | NA | 7.70 | 7.09 | 0.92 | NA | NA | 18.22 | 17.61 | 090
21720 |  | A | Revision of neck muscle | 5.68 | 7.31 | 6.53 | 7.27 | 6.50 | 0.80 | 13.79 | 13.01 | 13.75 | 12.98 | 090
21725 |  | A | Revision of neck muscle | 6.99 | NA | NA | 6.85 | 6.45 | 0.90 | NA | NA | 14.74 | 14.34 | 090
21740 |  | A | Reconstruction of sternum | 16.80 | NA | NA | 15.71 | 14.22 | 2.03 | NA | NA | 34.54 | 33.05 | 090
21750 |  | A | Repair of sternum separation | 10.77 | NA | NA | 13.10 | 11.81 | 1.35 | NA | NA | 25.22 | 23.93 | 090
21800 |  | A | Treatment of rib fracture | 0.96 | 2.17 | 1.84 | 1.00 | 0.96 | 0.09 | 3.22 | 2.89 | 2.05 | 2.01 | 090
21805 |  | A | Treatment of rib fracture | 2.75 | NA | NA | 4.14 | 3.47 | 0.29 | NA | NA | 7.18 | 6.51 | 090
21810 |  | A | Treatment of rib fracture(s) | 6.86 | NA | NA | 7.05 | 7.28 | 0.60 | NA | NA | 14.51 | 14.74 | 090
21820 |  | A | Treat sternum fracture | 1.28 | 2.59 | 2.31 | 1.47 | 1.47 | 0.15 | 4.02 | 3.74 | 2.90 | 2.90 | 090
21825 |  | A | Treat sternum fracture | 7.41 | NA | NA | 11.82 | 10.74 | 0.84 | NA | NA | 20.07 | 18.99 | 090
21899 |  | C | Neck/chest surgery procedure | 0.00 | 0.00 | 0.00 | 0.00 | 0.00 | 0.00 | 0.00 | 0.00 | 0.00 | 0.00 | YYY
21920 |  | A | Biopsy soft tissue of back | 2.06 | 2.35 | 1.98 | 0.79 | 0.70 | 0.12 | 4.53 | 4.16 | 2.97 | 2.88 | 010
21925 |  | A | Biopsy soft tissue of back | 4.49 | 10.52 | 8.42 | 4.40 | 3.83 | 0.44 | 15.45 | 13.35 | 9.33 | 8.76 | 090
21930 |  | A | Remove lesion, back or flank | 5.00 | 4.59 | 4.18 | 2.72 | 2.78 | 0.49 | 10.08 | 9.67 | 8.21 | 8.27 | 090
21935 |  | A | Remove tumor, back | 17.96 | NA | NA | 13.07 | 11.59 | 1.87 | NA | NA | 32.90 | 31.42 | 090
22100 |  | A | Remove part of neck vertebra | 9.73 | NA | NA | 8.60 | 8.52 | 1.55 | NA | NA | 19.88 | 19.80 | 090
22101 |  | A | Remove part, thorax vertebra | 9.81 | NA | NA | 8.47 | 8.53 | 1.51 | NA | NA | 19.79 | 19.85 | 090
22102 |  | A | Remove part, lumbar vertebra | 9.81 | NA | NA | 8.68 | 7.73 | 1.46 | NA | NA | 19.95 | 19.00 | 090
22103 |  | A | Remove extra spine segment | 2.34 | NA | NA | 1.29 | 1.57 | 0.37 | NA | NA | 4.00 | 4.28 | ZZZ
22110 |  | A | Remove part of neck vertebra | 12.74 | NA | NA | 10.49 | 10.51 | 2.20 | NA | NA | 25.43 | 25.45 | 090
22112 |  | A | Remove part, thorax vertebra | 12.81 | NA | NA | 10.91 | 10.87 | 1.96 | NA | NA | 25.68 | 25.64 | 090
22114 |  | A | Remove part, lumbar vertebra | 12.81 | NA | NA | 10.36 | 9.74 | 1.98 | NA | NA | 25.15 | 24.53 | 090
22116 |  | A | Remove extra spine segment | 2.32 | NA | NA | 1.18 | 1.49 | 0.40 | NA | NA | 3.90 | 4.21 | ZZZ
22210 |  | A | Revision of neck spine | 23.82 | NA | NA | 16.86 | 16.40 | 4.23 | NA | NA | 44.91 | 44.45 | 090
22212 |  | A | Revision of thorax spine | 19.42 | NA | NA | 14.33 | 15.44 | 2.78 | NA | NA | 36.53 | 37.64 | 090
22214 |  | A | Revision of lumbar spine | 19.45 | NA | NA | 14.87 | 15.25 | 2.78 | NA | NA | 37.10 | 37.48 | 090
22216 |  | A | Revise, extra spine segment | 6.04 | NA | NA | 3.27 | 3.83 | 0.98 | NA | NA | 10.29 | 10.85 | ZZZ
22220 |  | A | Revision of neck spine | 21.37 | NA | NA | 15.47 | 16.12 | 3.65 | NA | NA | 40.49 | 41.14 | 090
22222 |  | A | Revision of thorax spine | 21.52 | NA | NA | 13.59 | 13.89 | 3.08 | NA | NA | 38.19 | 38.49 | 090
22224 |  | A | Revision of lumbar spine | 21.52 | NA | NA | 15.81 | 15.84 | 3.20 | NA | NA | 40.53 | 40.56 | 090
22226 |  | A | Revise, extra spine segment | 6.04 | NA | NA | 3.27 | 3.83 | 1.01 | NA | NA | 10.32 | 10.88 | ZZZ
22305 |  | A | Treat spine process fracture | 2.05 | 3.02 | 2.88 | 1.86 | 2.01 | 0.29 | 5.36 | 5.22 | 4.20 | 4.35 | 090
22310 |  | A | Treat spine fracture | 2.61 | 4.38 | 3.97 | 3.27 | 3.14 | 0.37 | 7.36 | 6.95 | 6.25 | 6.12 | 090
22315 |  | A | Treat spine fracture | 8.84 | NA | NA | 8.89 | 8.16 | 1.37 | NA | NA | 19.10 | 18.37 | 090
22318 |  | A | Treat odontoid fx w/o graft | 21.50 | NA | NA | 14.53 | 14.53 | 4.26 | NA | NA | 40.29 | 40.29 | 090
22319 |  | A | Treat odontoid fx w/graft | 24.00 | NA | NA | 16.80 | 16.80 | 4.76 | NA | NA | 45.56 | 45.56 | 090
22325 |  | A | Treat spine fracture | 18.30 | NA | NA | 14.19 | 12.90 | 2.61 | NA | NA | 35.10 | 33.81 | 090
22326 |  | A | Treat neck spine fracture | 19.59 | NA | NA | 15.24 | 15.75 | 3.54 | NA | NA | 38.37 | 38.88 | 090
22327 |  | A | Treat thorax spine fracture | 19.20 | NA | NA | 14.50 | 15.20 | 2.75 | NA | NA | 36.45 | 37.15 | 090
22328 |  | A | Treat each add spine fx | 4.61 | NA | NA | 2.29 | 2.91 | 0.66 | NA | NA | 7.56 | 8.18 | ZZZ
22505 |  | A | Manipulation of spine | 1.87 | 4.60 | 3.81 | 2.97 | 2.58 | 0.27 | 6.74 | 5.95 | 5.11 | 4.72 | 010
22520 |  | A | Percut vertebroplasty thor | 8.91 | NA | NA | 3.95 | 3.95 | 0.89 | NA | NA | 13.75 | 13.75 | 010
22521 |  | A | Percut vertebroplasty lumb | 8.34 | NA | NA | 3.72 | 3.72 | 0.84 | NA | NA | 12.90 | 12.90 | 010
22522 |  | A | Percut vertebroplasty addl | 3.00 | NA | NA | 1.20 | 1.20 | 0.30 | NA | NA | 4.50 | 4.50 | ZZZ
22548 |  | A | Neck spine fusion | 25.82 | NA | NA | 17.66 | 19.42 | 4.98 | NA | NA | 48.46 | 50.22 | 090
22554 |  | A | Neck spine fusion | 18.62 | NA | NA | 13.60 | 15.58 | 3.51 | NA | NA | 35.73 | 37.71 | 090
22556 |  | A | Thorax spine fusion | 23.46 | NA | NA | 16.73 | 18.43 | 3.78 | NA | NA | 43.97 | 45.67 | 090
22558 |  | A | Lumbar spine fusion | 22.28 | NA | NA | 14.49 | 16.34 | 3.18 | NA | NA | 39.95 | 41.80 | 090
22585 |  | A | Additional spinal fusion | 5.53 | NA | NA | 2.90 | 3.64 | 0.98 | NA | NA | 9.41 | 10.15 | ZZZ
22590 |  | A | Spine & skull spinal fusion | 20.51 | NA | NA | 15.27 | 17.31 | 3.81 | NA | NA | 39.59 | 41.63 | 090
22595 |  | A | Neck spinal fusion | 19.39 | NA | NA | 14.26 | 16.48 | 3.62 | NA | NA | 37.27 | 39.49 | 090
22600 |  | A | Neck spine fusion | 16.14 | NA | NA | 12.55 | 14.23 | 2.89 | NA | NA | 31.58 | 33.26 | 090
22610 |  | A | Thorax spine fusion | 16.02 | NA | NA | 12.52 | 14.17 | 2.66 | NA | NA | 31.20 | 32.85 | 090
22612 |  | A | Lumbar spine fusion | 21.00 | NA | NA | 15.30 | 17.07 | 3.28 | NA | NA | 39.58 | 41.35 | 090
22614 |  | A | Spine fusion, extra segment | 6.44 | NA | NA | 3.49 | 4.15 | 1.04 | NA | NA | 10.97 | 11.63 | ZZZ
22630 |  | A | Lumbar spine fusion | 20.84 | NA | NA | 15.53 | 16.65 | 3.79 | NA | NA | 40.16 | 41.28 | 090
22632 |  | A | Spine fusion, extra segment | 5.23 | NA | NA | 2.80 | 3.46 | 0.90 | NA | NA | 8.93 | 9.59 | ZZZ
22800 |  | A | Fusion of spine | 18.25 | NA | NA | 13.59 | 15.64 | 2.71 | NA | NA | 34.55 | 36.60 | 090
22802 |  | A | Fusion of spine | 30.88 | NA | NA | 21.22 | 23.60 | 4.42 | NA | NA | 56.52 | 58.90 | 090
22804 |  | A | Fusion of spine | 36.27 | NA | NA | 23.90 | 25.61 | 5.23 | NA | NA | 65.40 | 67.11 | 090
22808 |  | A | Fusion of spine | 26.27 | NA | NA | 18.27 | 18.70 | 4.36 | NA | NA | 48.90 | 49.33 | 090
22810 |  | A | Fusion of spine | 30.27 | NA | NA | 19.89 | 19.91 | 4.49 | NA | NA | 54.65 | 54.67 | 090
22812 |  | A | Fusion of spine | 32.70 | NA | NA | 21.94 | 23.49 | 4.67 | NA | NA | 59.31 | 60.86 | 090
22818 |  | A | Kyphectomy, 1-2 segments | 31.83 | NA | NA | 20.99 | 23.41 | 5.01 | NA | NA | 57.83 | 60.25 | 090
22819 |  | A | Kyphectomy, 3 or more | 36.44 | NA | NA | 20.73 | 23.21 | 5.20 | NA | NA | 62.37 | 64.85 | 090
22830 |  | A | Exploration of spinal fusion | 10.85 | NA | NA | 9.58 | 10.43 | 1.73 | NA | NA | 22.16 | 23.01 | 090
22840 |  | A | Insert spine fixation device | 12.54 | NA | NA | 8.31 | 7.86 | 2.03 | NA | NA | 22.88 | 22.43 | ZZZ
22841 |  | B | Insert spine fixation device | 0.00 | 0.00 | 0.00 | 0.00 | 0.00 | 0.00 | 0.00 | 0.00 | 0.00 | 0.00 | XXX
22842 |  | A | Insert spine fixation device | 12.58 | NA | NA | 6.79 | 6.95 | 2.04 | NA | NA | 21.41 | 21.57 | ZZZ
22843 |  | A | Insert spine fixation device | 13.46 | NA | NA | 8.80 | 8.92 | 2.10 | NA | NA | 24.36 | 24.48 | ZZZ
22844 |  | A | Insert spine fixation device | 16.44 | NA | NA | 10.46 | 10.68 | 2.42 | NA | NA | 29.32 | 29.54 | ZZZ
22845 |  | A | Insert spine fixation device | 11.96 | NA | NA | 7.90 | 7.47 | 2.22 | NA | NA | 22.08 | 21.65 | ZZZ
22846 |  | A | Insert spine fixation device | 12.42 | NA | NA | 8.17 | 8.27 | 2.26 | NA | NA | 22.85 | 22.95 | ZZZ
22847 |  | A | Insert spine fixation device | 13.80 | NA | NA | 8.90 | 9.06 | 2.36 | NA | NA | 25.06 | 25.22 | ZZZ
22848 |  | A | Insert pelv fixation device | 6.00 | NA | NA | 4.74 | 5.11 | 0.88 | NA | NA | 11.62 | 11.99 | ZZZ
22849 |  | A | Reinsert spinal fixation | 18.51 | NA | NA | 13.69 | 13.46 | 2.87 | NA | NA | 35.07 | 34.84 | 090
22850 |  | A | Remove spine fixation device | 9.52 | NA | NA | 8.41 | 8.80 | 1.51 | NA | NA | 19.44 | 19.83 | 090
22851 |  | A | Apply spine prosth device | 6.71 | NA | NA | 5.07 | 5.54 | 1.11 | NA | NA | 12.89 | 13.36 | ZZZ
22852 |  | A | Remove spine fixation device | 9.01 | NA | NA | 8.18 | 8.80 | 1.40 | NA | NA | 18.59 | 19.21 | 090
22855 |  | A | Remove spine fixation device | 15.13 | NA | NA | 11.26 | 10.47 | 2.74 | NA | NA | 29.13 | 28.34 | 090
22899 |  | C | Spine surgery procedure | 0.00 | 0.00 | 0.00 | 0.00 | 0.00 | 0.00 | 0.00 | 0.00 | 0.00 | 0.00 | YYY
22900 |  | A | Remove abdominal wall lesion | 5.80 | NA | NA | 4.37 | 4.10 | 0.58 | NA | NA | 10.75 | 10.48 | 090
22999 |  | C | Abdomen surgery procedure | 0.00 | 0.00 | 0.00 | 0.00 | 0.00 | 0.00 | 0.00 | 0.00 | 0.00 | 0.00 | YYY
23000 |  | A | Removal of calcium deposits | 4.36 | 8.91 | 7.56 | 6.62 | 5.85 | 0.50 | 13.77 | 12.42 | 11.48 | 10.71 | 090
23020 |  | A | Release shoulder joint | 8.93 | NA | NA | 9.98 | 9.46 | 1.23 | NA | NA | 20.14 | 19.62 | 090
23030 |  | A | Drain shoulder lesion | 3.43 | 5.78 | 4.92 | 4.20 | 3.74 | 0.42 | 9.63 | 8.77 | 8.05 | 7.59 | 010
23031 |  | A | Drain shoulder bursa | 2.74 | 5.66 | 4.38 | 3.82 | 2.93 | 0.33 | 8.73 | 7.45 | 6.89 | 6.00 | 010
23035 |  | A | Drain shoulder bone lesion | 8.61 | NA | NA | 14.63 | 12.66 | 1.19 | NA | NA | 24.43 | 22.46 | 090
23040 |  | A | Exploratory shoulder surgery | 9.20 | NA | NA | 10.88 | 10.68 | 1.28 | NA | NA | 21.36 | 21.16 | 090
23044 |  | A | Exploratory shoulder surgery | 7.12 | NA | NA | 9.95 | 9.34 | 0.97 | NA | NA | 18.04 | 17.43 | 090
23065 |  | A | Biopsy shoulder tissues | 2.27 | 2.57 | 2.11 | 1.30 | 1.16 | 0.14 | 4.98 | 4.52 | 3.71 | 3.57 | 010
23066 |  | A | Biopsy shoulder tissues | 4.16 | 7.35 | 5.83 | 6.09 | 4.89 | 0.50 | 12.01 | 10.49 | 10.75 | 9.55 | 090
23075 |  | A | Removal of shoulder lesion | 2.39 | 5.10 | 4.28 | 3.04 | 2.74 | 0.25 | 7.74 | 6.92 | 5.68 | 5.38 | 010
23076 |  | A | Removal of shoulder lesion | 7.63 | NA | NA | 7.98 | 6.95 | 0.87 | NA | NA | 16.48 | 15.45 | 090
23077 |  | A | Remove tumor of shoulder | 16.09 | NA | NA | 14.00 | 12.50 | 1.81 | NA | NA | 31.90 | 30.40 | 090
23100 |  | A | Biopsy of shoulder joint | 6.03 | NA | NA | 8.00 | 7.80 | 0.81 | NA | NA | 14.84 | 14.64 | 090
23101 |  | A | Shoulder joint surgery | 5.58 | NA | NA | 8.13 | 7.76 | 0.77 | NA | NA | 14.48 | 14.11 | 090
23105 |  | A | Remove shoulder joint lining | 8.23 | NA | NA | 9.59 | 9.65 | 1.13 | NA | NA | 18.95 | 19.01 | 090
23106 |  | A | Incision of collarbone joint | 5.96 | NA | NA | 8.53 | 7.69 | 0.82 | NA | NA | 15.31 | 14.47 | 090
23107 |  | A | Explore treat shoulder joint | 8.62 | NA | NA | 9.60 | 9.77 | 1.19 | NA | NA | 19.41 | 19.58 | 090
23120 |  | A | Partial removal, collar bone | 7.11 | NA | NA | 8.87 | 7.90 | 0.99 | NA | NA | 16.97 | 16.00 | 090
23125 |  | A | Removal of collar bone | 9.39 | NA | NA | 10.29 | 10.02 | 1.27 | NA | NA | 20.95 | 20.68 | 090
23130 |  | A | Remove shoulder bone, part | 7.55 | NA | NA | 9.12 | 8.75 | 1.06 | NA | NA | 17.73 | 17.36 | 090
23140 |  | A | Removal of bone lesion | 6.89 | NA | NA | 8.32 | 7.37 | 0.82 | NA | NA | 16.03 | 15.08 | 090
23145 |  | A | Removal of bone lesion | 9.09 | NA | NA | 11.32 | 10.70 | 1.24 | NA | NA | 21.65 | 21.03 | 090
23146 |  | A | Removal of bone lesion | 7.83 | NA | NA | 9.97 | 8.90 | 1.11 | NA | NA | 18.91 | 17.84 | 090
23150 |  | A | Removal of humerus lesion | 8.48 | NA | NA | 9.44 | 8.88 | 1.14 | NA | NA | 19.06 | 18.50 | 090
23155 |  | A | Removal of humerus lesion | 10.35 | NA | NA | 10.79 | 10.48 | 1.20 | NA | NA | 22.34 | 22.03 | 090
23156 |  | A | Removal of humerus lesion | 8.68 | NA | NA | 9.69 | 9.34 | 1.18 | NA | NA | 19.55 | 19.20 | 090
23170 |  | A | Remove collar bone lesion | 6.86 | NA | NA | 10.75 | 9.37 | 0.84 | NA | NA | 18.45 | 17.07 | 090
23172 |  | A | Remove shoulder blade lesion | 6.90 | NA | NA | 10.98 | 9.64 | 0.95 | NA | NA | 18.83 | 17.49 | 090
23174 |  | A | Remove humerus lesion | 9.51 | NA | NA | 10.91 | 10.50 | 1.30 | NA | NA | 21.72 | 21.31 | 090
23180 |  | A | Remove collar bone lesion | 8.53 | NA | NA | 14.81 | 12.28 | 1.18 | NA | NA | 24.52 | 21.99 | 090
23182 |  | A | Remove shoulder blade lesion | 8.15 | NA | NA | 15.51 | 13.42 | 1.08 | NA | NA | 24.74 | 22.65 | 090
23184 |  | A | Remove humerus lesion | 9.38 | NA | NA | 14.87 | 13.55 | 1.24 | NA | NA | 25.49 | 24.17 | 090
23190 |  | A | Partial removal of scapula | 7.24 | NA | NA | 8.00 | 7.65 | 0.97 | NA | NA | 16.21 | 15.86 | 090
23195 |  | A | Removal of head of humerus | 9.81 | NA | NA | 10.43 | 10.24 | 1.38 | NA | NA | 21.62 | 21.43 | 090
23200 |  | A | Removal of collar bone | 12.08 | NA | NA | 13.60 | 12.69 | 1.48 | NA | NA | 27.16 | 26.25 | 090
23210 |  | A | Removal of shoulder blade | 12.49 | NA | NA | 13.62 | 12.66 | 1.61 | NA | NA | 27.72 | 26.76 | 090
23220 |  | A | Partial removal of humerus | 14.56 | NA | NA | 14.40 | 14.07 | 2.03 | NA | NA | 30.99 | 30.66 | 090
23221 |  | A | Partial removal of humerus | 17.74 | NA | NA | 16.08 | 16.98 | 2.51 | NA | NA | 36.33 | 37.23 | 090
23222 |  | A | Partial removal of humerus | 23.92 | NA | NA | 19.73 | 18.87 | 3.37 | NA | NA | 47.02 | 46.16 | 090
23330 |  | A | Remove shoulder foreign body | 1.85 | 5.35 | 4.16 | 4.63 | 3.55 | 0.18 | 7.38 | 6.19 | 6.66 | 5.58 | 010
23331 |  | A | Remove shoulder foreign body | 7.38 | NA | NA | 8.97 | 7.34 | 1.02 | NA | NA | 17.37 | 15.74 | 090
23332 |  | A | Remove shoulder foreign body | 11.62 | NA | NA | 11.33 | 11.14 | 1.62 | NA | NA | 24.57 | 24.38 | 090
23350 |  | A | Injection for shoulder x-ray | 1.00 | 9.36 | 7.16 | 0.36 | 0.41 | 0.05 | 10.41 | 8.21 | 1.41 | 1.46 | 000
23395 |  | A | Muscle transfer,shoulder/arm | 16.85 | NA | NA | 13.44 | 13.10 | 2.29 | NA | NA | 32.58 | 32.24 | 090
23397 |  | A | Muscle transfers | 16.13 | NA | NA | 13.98 | 14.28 | 2.24 | NA | NA | 32.35 | 32.65 | 090
23400 |  | A | Fixation of shoulder blade | 13.54 | NA | NA | 12.95 | 12.38 | 1.91 | NA | NA | 28.40 | 27.83 | 090
23405 |  | A | Incision of tendon & muscle | 8.37 | NA | NA | 8.93 | 8.73 | 1.12 | NA | NA | 18.42 | 18.22 | 090
23406 |  | A | Incise tendon(s) & muscle(s) | 10.79 | NA | NA | 10.82 | 10.67 | 1.48 | NA | NA | 23.09 | 22.94 | 090
23410 |  | A | Repair of tendon(s) | 12.45 | NA | NA | 11.69 | 11.74 | 1.72 | NA | NA | 25.86 | 25.91 | 090
23412 |  | A | Repair of tendon(s) | 13.31 | NA | NA | 12.27 | 12.83 | 1.86 | NA | NA | 27.44 | 28.00 | 090
23415 |  | A | Release of shoulder ligament | 9.97 | NA | NA | 9.61 | 8.61 | 1.39 | NA | NA | 20.97 | 19.97 | 090
23420 |  | A | Repair of shoulder | 13.30 | NA | NA | 13.09 | 13.79 | 1.86 | NA | NA | 28.25 | 28.95 | 090
23430 |  | A | Repair biceps tendon | 9.98 | NA | NA | 10.44 | 9.82 | 1.40 | NA | NA | 21.82 | 21.20 | 090
23440 |  | A | Remove/transplant tendon | 10.48 | NA | NA | 10.67 | 9.95 | 1.47 | NA | NA | 22.62 | 21.90 | 090
23450 |  | A | Repair shoulder capsule | 13.40 | NA | NA | 12.42 | 12.78 | 1.86 | NA | NA | 27.68 | 28.04 | 090
23455 |  | A | Repair shoulder capsule | 14.37 | NA | NA | 12.88 | 13.88 | 2.01 | NA | NA | 29.26 | 30.26 | 090
23460 |  | A | Repair shoulder capsule | 15.37 | NA | NA | 13.54 | 13.97 | 2.17 | NA | NA | 31.08 | 31.51 | 090
23462 |  | A | Repair shoulder capsule | 15.30 | NA | NA | 13.37 | 14.13 | 2.16 | NA | NA | 30.83 | 31.59 | 090
23465 |  | A | Repair shoulder capsule | 15.85 | NA | NA | 12.30 | 13.07 | 1.61 | NA | NA | 29.76 | 30.53 | 090
23466 |  | A | Repair shoulder capsule | 14.22 | NA | NA | 12.80 | 13.84 | 2.00 | NA | NA | 29.02 | 30.06 | 090
23470 |  | A | Reconstruct shoulder joint | 17.15 | NA | NA | 14.38 | 15.33 | 2.40 | NA | NA | 33.93 | 34.88 | 090
23472 |  | A | Reconstruct shoulder joint | 16.92 | NA | NA | 14.29 | 15.77 | 2.37 | NA | NA | 33.58 | 35.06 | 090
23480 |  | A | Revision of collar bone | 11.18 | NA | NA | 11.14 | 10.14 | 1.56 | NA | NA | 23.88 | 22.88 | 090
23485 |  | A | Revision of collar bone | 13.43 | NA | NA | 12.41 | 12.39 | 1.84 | NA | NA | 27.68 | 27.66 | 090
23490 |  | A | Reinforce clavicle | 11.86 | NA | NA | 10.53 | 10.61 | 1.11 | NA | NA | 23.50 | 23.58 | 090
23491 |  | A | Reinforce shoulder bones | 14.21 | NA | NA | 12.58 | 12.88 | 2.00 | NA | NA | 28.79 | 29.09 | 090
23500 |  | A | Treat clavicle fracture | 2.08 | 3.55 | 3.11 | 2.37 | 2.23 | 0.26 | 5.89 | 5.45 | 4.71 | 4.57 | 090
23505 |  | A | Treat clavicle fracture | 3.69 | 5.46 | 4.79 | 3.77 | 3.53 | 0.50 | 9.65 | 8.98 | 7.96 | 7.72 | 090
23515 |  | A | Treat clavicle fracture | 7.41 | NA | NA | 7.68 | 7.64 | 1.03 | NA | NA | 16.12 | 16.08 | 090
23520 |  | A | Treat clavicle dislocation | 2.16 | 3.47 | 2.98 | 2.40 | 2.18 | 0.26 | 5.89 | 5.40 | 4.82 | 4.60 | 090
23525 |  | A | Treat clavicle dislocation | 3.60 | 5.33 | 4.54 | 3.63 | 3.26 | 0.44 | 9.37 | 8.58 | 7.67 | 7.30 | 090
23530 |  | A | Treat clavicle dislocation | 7.31 | NA | NA | 8.76 | 8.36 | 0.85 | NA | NA | 16.92 | 16.52 | 090
23532 |  | A | Treat clavicle dislocation | 8.01 | NA | NA | 8.08 | 8.02 | 1.13 | NA | NA | 17.22 | 17.16 | 090
23540 |  | A | Treat clavicle dislocation | 2.23 | 4.11 | 3.50 | 2.38 | 2.21 | 0.24 | 6.58 | 5.97 | 4.85 | 4.68 | 090
23545 |  | A | Treat clavicle dislocation | 3.25 | 4.72 | 4.08 | 3.44 | 3.12 | 0.39 | 8.36 | 7.72 | 7.08 | 6.76 | 090
23550 |  | A | Treat clavicle dislocation | 7.24 | NA | NA | 7.68 | 7.92 | 0.94 | NA | NA | 15.86 | 16.10 | 090
23552 |  | A | Treat clavicle dislocation | 8.45 | NA | NA | 8.29 | 8.20 | 1.18 | NA | NA | 17.92 | 17.83 | 090
23570 |  | A | Treat shoulder blade fx | 2.23 | 3.54 | 3.12 | 2.49 | 2.33 | 0.29 | 6.06 | 5.64 | 5.01 | 4.85 | 090
23575 |  | A | Treat shoulder blade fx | 4.06 | 5.59 | 4.94 | 3.98 | 3.73 | 0.53 | 10.18 | 9.53 | 8.57 | 8.32 | 090
23585 |  | A | Treat scapula fracture | 8.96 | NA | NA | 8.82 | 8.71 | 1.25 | NA | NA | 19.03 | 18.92 | 090
23600 |  | A | Treat humerus fracture | 2.93 | 5.41 | 4.85 | 3.52 | 3.43 | 0.39 | 8.73 | 8.17 | 6.84 | 6.75 | 090
23605 |  | A | Treat humerus fracture | 4.87 | 8.14 | 7.40 | 6.40 | 6.09 | 0.67 | 13.68 | 12.94 | 11.94 | 11.63 | 090
23615 |  | A | Treat humerus fracture | 9.35 | NA | NA | 9.52 | 9.93 | 1.31 | NA | NA | 20.18 | 20.59 | 090
23616 |  | A | Treat humerus fracture | 21.27 | NA | NA | 15.55 | 17.72 | 2.98 | NA | NA | 39.80 | 41.97 | 090
23620 |  | A | Treat humerus fracture | 2.40 | 5.12 | 4.62 | 3.26 | 2.81 | 0.32 | 7.84 | 7.34 | 5.98 | 5.53 | 090
23625 |  | A | Treat humerus fracture | 3.93 | 7.07 | 6.34 | 5.32 | 5.03 | 0.53 | 11.53 | 10.80 | 9.78 | 9.49 | 090
23630 |  | A | Treat humerus fracture | 7.35 | NA | NA | 7.67 | 7.95 | 1.03 | NA | NA | 16.05 | 16.33 | 090
23650 |  | A | Treat shoulder dislocation | 3.39 | 5.17 | 4.45 | 3.33 | 3.07 | 0.31 | 8.87 | 8.15 | 7.03 | 6.77 | 090
23655 |  | A | Treat shoulder dislocation | 4.57 | NA | NA | 4.03 | 3.82 | 0.52 | NA | NA | 9.12 | 8.91 | 090
23660 |  | A | Treat shoulder dislocation | 7.49 | NA | NA | 7.64 | 7.97 | 1.01 | NA | NA | 16.14 | 16.47 | 090
23665 |  | A | Treat dislocation/fracture | 4.47 | 7.39 | 6.45 | 5.59 | 5.10 | 0.60 | 12.46 | 11.52 | 10.66 | 10.17 | 090
23670 |  | A | Treat dislocation/fracture | 7.90 | NA | NA | 8.11 | 8.44 | 1.10 | NA | NA | 17.11 | 17.44 | 090
23675 |  | A | Treat dislocation/fracture | 6.05 | 8.17 | 7.20 | 6.49 | 5.94 | 0.83 | 15.05 | 14.08 | 13.37 | 12.82 | 090
23680 |  | A | Treat dislocation/fracture | 10.06 | NA | NA | 9.31 | 9.99 | 1.39 | NA | NA | 20.76 | 21.44 | 090
23700 |  | A | Fixation of shoulder | 2.52 | NA | NA | 3.22 | 2.98 | 0.35 | NA | NA | 6.09 | 5.85 | 010
23800 |  | A | Fusion of shoulder joint | 14.16 | NA | NA | 13.53 | 14.38 | 1.97 | NA | NA | 29.66 | 30.51 | 090
23802 |  | A | Fusion of shoulder joint | 16.60 | NA | NA | 15.01 | 15.08 | 2.34 | NA | NA | 33.95 | 34.02 | 090
23900 |  | A | Amputation of arm & girdle | 19.72 | NA | NA | 14.73 | 14.46 | 2.47 | NA | NA | 36.92 | 36.65 | 090
23920 |  | A | Amputation at shoulder joint | 14.61 | NA | NA | 13.74 | 14.06 | 1.92 | NA | NA | 30.27 | 30.59 | 090
23921 |  | A | Amputation follow-up surgery | 5.49 | NA | NA | 6.55 | 6.07 | 0.78 | NA | NA | 12.82 | 12.34 | 090
23929 |  | C | Shoulder surgery procedure | 0.00 | 0.00 | 0.00 | 0.00 | 0.00 | 0.00 | 0.00 | 0.00 | 0.00 | 0.00 | YYY
23930 |  | A | Drainage of arm lesion | 2.94 | 5.81 | 4.80 | 3.91 | 3.37 | 0.32 | 9.07 | 8.06 | 7.17 | 6.63 | 010
23931 |  | A | Drainage of arm bursa | 1.79 | 5.38 | 4.24 | 3.37 | 2.63 | 0.21 | 7.38 | 6.24 | 5.37 | 4.63 | 010
23935 |  | A | Drain arm/elbow bone lesion | 6.09 | NA | NA | 12.01 | 10.28 | 0.84 | NA | NA | 18.94 | 17.21 | 090
24000 |  | A | Exploratory elbow surgery | 5.82 | NA | NA | 5.68 | 6.00 | 0.77 | NA | NA | 12.27 | 12.59 | 090
24006 |  | A | Release elbow joint | 9.31 | NA | NA | 8.12 | 8.03 | 1.27 | NA | NA | 18.70 | 18.61 | 090
24065 |  | A | Biopsy arm/elbow soft tissue | 2.08 | 5.40 | 4.27 | 3.20 | 2.51 | 0.14 | 7.62 | 6.49 | 5.42 | 4.73 | 010
24066 |  | A | Biopsy arm/elbow soft tissue | 5.21 | 8.49 | 7.10 | 6.36 | 5.51 | 0.61 | 14.31 | 12.92 | 12.18 | 11.33 | 090
24075 |  | A | Remove arm/elbow lesion | 3.92 | 7.81 | 6.40 | 5.71 | 4.82 | 0.43 | 12.16 | 10.75 | 10.06 | 9.17 | 090
24076 |  | A | Remove arm/elbow lesion | 6.30 | NA | NA | 6.80 | 6.10 | 0.70 | NA | NA | 13.80 | 13.10 | 090
24077 |  | A | Remove tumor of arm/elbow | 11.76 | NA | NA | 13.16 | 12.53 | 1.32 | NA | NA | 26.24 | 25.61 | 090
24100 |  | A | Biopsy elbow joint lining | 4.93 | NA | NA | 5.48 | 5.26 | 0.62 | NA | NA | 11.03 | 10.81 | 090
24101 |  | A | Explore/treat elbow joint | 6.13 | NA | NA | 6.32 | 6.57 | 0.84 | NA | NA | 13.29 | 13.54 | 090
24102 |  | A | Remove elbow joint lining | 8.03 | NA | NA | 7.40 | 7.95 | 1.09 | NA | NA | 16.52 | 17.07 | 090
24105 |  | A | Removal of elbow bursa | 3.61 | NA | NA | 4.83 | 4.65 | 0.49 | NA | NA | 8.93 | 8.75 | 090
24110 |  | A | Remove humerus lesion | 7.39 | NA | NA | 9.06 | 8.88 | 0.99 | NA | NA | 17.44 | 17.26 | 090
24115 |  | A | Remove/graft bone lesion | 9.63 | NA | NA | 9.34 | 9.09 | 1.15 | NA | NA | 20.12 | 19.87 | 090
24116 |  | A | Remove/graft bone lesion | 11.81 | NA | NA | 11.19 | 11.03 | 1.66 | NA | NA | 24.66 | 24.50 | 090
24120 |  | A | Remove elbow lesion | 6.65 | NA | NA | 6.29 | 6.35 | 0.87 | NA | NA | 13.81 | 13.87 | 090
24125 |  | A | Remove/graft bone lesion | 7.89 | NA | NA | 6.54 | 6.48 | 0.88 | NA | NA | 15.31 | 15.25 | 090
24126 |  | A | Remove/graft bone lesion | 8.31 | NA | NA | 7.07 | 7.31 | 0.90 | NA | NA | 16.28 | 16.52 | 090
24130 |  | A | Removal of head of radius | 6.25 | NA | NA | 6.41 | 6.63 | 0.87 | NA | NA | 13.53 | 13.75 | 090
24134 |  | A | Removal of arm bone lesion | 9.73 | NA | NA | 15.37 | 13.89 | 1.31 | NA | NA | 26.41 | 24.93 | 090
24136 |  | A | Remove radius bone lesion | 7.99 | NA | NA | 6.52 | 7.27 | 0.85 | NA | NA | 15.36 | 16.11 | 090
24138 |  | A | Remove elbow bone lesion | 8.05 | NA | NA | 7.33 | 7.23 | 1.12 | NA | NA | 16.50 | 16.40 | 090
24140 |  | A | Partial removal of arm bone | 9.18 | NA | NA | 15.69 | 14.15 | 1.23 | NA | NA | 26.10 | 24.56 | 090
24145 |  | A | Partial removal of radius | 7.58 | NA | NA | 10.25 | 9.42 | 1.01 | NA | NA | 18.84 | 18.01 | 090
24147 |  | A | Partial removal of elbow | 7.54 | NA | NA | 10.30 | 9.52 | 1.04 | NA | NA | 18.88 | 18.10 | 090
24149 |  | A | Radical resection of elbow | 14.20 | NA | NA | 10.77 | 11.51 | 1.90 | NA | NA | 26.87 | 27.61 | 090
24150 |  | A | Extensive humerus surgery | 13.27 | NA | NA | 13.78 | 14.16 | 1.81 | NA | NA | 28.86 | 29.24 | 090
24151 |  | A | Extensive humerus surgery | 15.58 | NA | NA | 15.34 | 15.26 | 2.19 | NA | NA | 33.11 | 33.03 | 090
24152 |  | A | Extensive radius surgery | 10.06 | NA | NA | 8.92 | 8.54 | 1.19 | NA | NA | 20.17 | 19.79 | 090
24153 |  | A | Extensive radius surgery | 11.54 | NA | NA | 7.24 | 8.26 | 0.64 | NA | NA | 19.42 | 20.44 | 090
24155 |  | A | Removal of elbow joint | 11.73 | NA | NA | 8.75 | 9.48 | 1.42 | NA | NA | 21.90 | 22.63 | 090
24160 |  | A | Remove elbow joint implant | 7.83 | NA | NA | 7.29 | 6.78 | 1.07 | NA | NA | 16.19 | 15.68 | 090
24164 |  | A | Remove radius head implant | 6.23 | NA | NA | 6.33 | 6.25 | 0.84 | NA | NA | 13.40 | 13.32 | 090
24200 |  | A | Removal of arm foreign body | 1.76 | 5.66 | 4.40 | 3.13 | 2.43 | 0.15 | 7.57 | 6.31 | 5.04 | 4.34 | 010
24201 |  | A | Removal of arm foreign body | 4.56 | 8.52 | 7.22 | 7.15 | 6.19 | 0.56 | 13.64 | 12.34 | 12.27 | 11.31 | 090
24220 |  | A | Injection for elbow x-ray | 1.31 | 10.24 | 7.82 | 0.48 | 0.50 | 0.07 | 11.62 | 9.20 | 1.86 | 1.88 | 000
24301 |  | A | Muscle/tendon transfer | 10.20 | NA | NA | 8.82 | 8.76 | 1.30 | NA | NA | 20.32 | 20.26 | 090
24305 |  | A | Arm tendon lengthening | 7.45 | NA | NA | 7.11 | 6.17 | 0.98 | NA | NA | 15.54 | 14.60 | 090
24310 |  | A | Revision of arm tendon | 5.98 | NA | NA | 7.62 | 6.52 | 0.74 | NA | NA | 14.34 | 13.24 | 090
24320 |  | A | Repair of arm tendon | 10.56 | NA | NA | 9.86 | 9.89 | 1.00 | NA | NA | 21.42 | 21.45 | 090
24330 |  | A | Revision of arm muscles | 9.60 | NA | NA | 8.31 | 8.61 | 1.21 | NA | NA | 19.12 | 19.42 | 090
24331 |  | A | Revision of arm muscles | 10.65 | NA | NA | 8.75 | 9.17 | 1.41 | NA | NA | 20.81 | 21.23 | 090
24340 |  | A | Repair of biceps tendon | 7.89 | NA | NA | 7.19 | 7.29 | 1.08 | NA | NA | 16.16 | 16.26 | 090
24341 |  | A | Repair arm tendon/muscle | 7.90 | NA | NA | 7.25 | 7.34 | 1.08 | NA | NA | 16.23 | 16.32 | 090
24342 |  | A | Repair of ruptured tendon | 10.62 | NA | NA | 8.86 | 9.46 | 1.48 | NA | NA | 20.96 | 21.56 | 090
24350 |  | A | Repair of tennis elbow | 5.25 | NA | NA | 5.88 | 5.56 | 0.72 | NA | NA | 11.85 | 11.53 | 090
24351 |  | A | Repair of tennis elbow | 5.91 | NA | NA | 6.31 | 5.97 | 0.82 | NA | NA | 13.04 | 12.70 | 090
24352 |  | A | Repair of tennis elbow | 6.43 | NA | NA | 6.58 | 6.48 | 0.90 | NA | NA | 13.91 | 13.81 | 090
24354 |  | A | Repair of tennis elbow | 6.48 | NA | NA | 6.53 | 6.42 | 0.88 | NA | NA | 13.89 | 13.78 | 090
24356 |  | A | Revision of tennis elbow | 6.68 | NA | NA | 6.70 | 7.00 | 0.90 | NA | NA | 14.28 | 14.58 | 090
24360 |  | A | Reconstruct elbow joint | 12.34 | NA | NA | 9.59 | 10.88 | 1.69 | NA | NA | 23.62 | 24.91 | 090
24361 |  | A | Reconstruct elbow joint | 14.08 | NA | NA | 10.32 | 11.30 | 1.95 | NA | NA | 26.35 | 27.33 | 090
24362 |  | A | Reconstruct elbow joint | 14.99 | NA | NA | 10.85 | 9.92 | 1.92 | NA | NA | 27.76 | 26.83 | 090
24363 |  | A | Replace elbow joint | 18.49 | NA | NA | 13.18 | 15.40 | 2.52 | NA | NA | 34.19 | 36.41 | 090
24365 |  | A | Reconstruct head of radius | 8.39 | NA | NA | 7.59 | 7.73 | 1.11 | NA | NA | 17.09 | 17.23 | 090
24366 |  | A | Reconstruct head of radius | 9.13 | NA | NA | 8.00 | 8.73 | 1.28 | NA | NA | 18.41 | 19.14 | 090
24400 |  | A | Revision of humerus | 11.06 | NA | NA | 11.87 | 11.19 | 1.53 | NA | NA | 24.46 | 23.78 | 090
24410 |  | A | Revision of humerus | 14.82 | NA | NA | 13.81 | 14.17 | 1.89 | NA | NA | 30.52 | 30.88 | 090
24420 |  | A | Revision of humerus | 13.44 | NA | NA | 15.37 | 14.87 | 1.82 | NA | NA | 30.63 | 30.13 | 090
24430 |  | A | Repair of humerus | 12.81 | NA | NA | 12.12 | 12.91 | 1.80 | NA | NA | 26.73 | 27.52 | 090
24435 |  | A | Repair humerus with graft | 13.17 | NA | NA | 13.09 | 13.75 | 1.84 | NA | NA | 28.10 | 28.76 | 090
24470 |  | A | Revision of elbow joint | 8.74 | NA | NA | 7.13 | 7.50 | 1.23 | NA | NA | 17.10 | 17.47 | 090
24495 |  | A | Decompression of forearm | 8.12 | NA | NA | 9.57 | 8.74 | 0.92 | NA | NA | 18.61 | 17.78 | 090
24498 |  | A | Reinforce humerus | 11.92 | NA | NA | 11.57 | 11.49 | 1.67 | NA | NA | 25.16 | 25.08 | 090
24500 |  | A | Treat humerus fracture | 3.21 | 4.99 | 4.43 | 3.25 | 3.13 | 0.41 | 8.61 | 8.05 | 6.87 | 6.75 | 090
24505 |  | A | Treat humerus fracture | 5.17 | 8.65 | 7.71 | 6.67 | 6.22 | 0.72 | 14.54 | 13.60 | 12.56 | 12.11 | 090
24515 |  | A | Treat humerus fracture | 11.65 | NA | NA | 10.75 | 10.68 | 1.63 | NA | NA | 24.03 | 23.96 | 090
24516 |  | A | Treat humerus fracture | 11.65 | NA | NA | 11.14 | 10.97 | 1.63 | NA | NA | 24.42 | 24.25 | 090
24530 |  | A | Treat humerus fracture | 3.50 | 6.03 | 5.26 | 4.71 | 4.27 | 0.47 | 10.00 | 9.23 | 8.68 | 8.24 | 090
24535 |  | A | Treat humerus fracture | 6.87 | 8.56 | 7.74 | 6.60 | 6.27 | 0.96 | 16.39 | 15.57 | 14.43 | 14.10 | 090
24538 |  | A | Treat humerus fracture | 9.43 | NA | NA | 9.73 | 9.46 | 1.25 | NA | NA | 20.41 | 20.14 | 090
24545 |  | A | Treat humerus fracture | 10.46 | NA | NA | 9.57 | 9.88 | 1.47 | NA | NA | 21.50 | 21.81 | 090
24546 |  | A | Treat humerus fracture | 15.69 | NA | NA | 12.98 | 12.44 | 2.18 | NA | NA | 30.85 | 30.31 | 090
24560 |  | A | Treat humerus fracture | 2.80 | 4.81 | 4.19 | 3.04 | 2.87 | 0.35 | 7.96 | 7.34 | 6.19 | 6.02 | 090
24565 |  | A | Treat humerus fracture | 5.56 | 7.82 | 6.80 | 5.85 | 5.32 | 0.74 | 14.12 | 13.10 | 12.15 | 11.62 | 090
24566 |  | A | Treat humerus fracture | 7.79 | NA | NA | 9.23 | 8.57 | 1.10 | NA | NA | 18.12 | 17.46 | 090
24575 |  | A | Treat humerus fracture | 10.66 | NA | NA | 7.98 | 8.10 | 1.44 | NA | NA | 20.08 | 20.20 | 090
24576 |  | A | Treat humerus fracture | 2.86 | 4.53 | 3.98 | 3.15 | 2.95 | 0.38 | 7.77 | 7.22 | 6.39 | 6.19 | 090
24577 |  | A | Treat humerus fracture | 5.79 | 7.93 | 7.03 | 5.99 | 5.58 | 0.81 | 14.53 | 13.63 | 12.59 | 12.18 | 090
24579 |  | A | Treat humerus fracture | 11.60 | NA | NA | 10.67 | 10.27 | 1.62 | NA | NA | 23.89 | 23.49 | 090
24582 |  | A | Treat humerus fracture | 8.55 | NA | NA | 9.71 | 9.08 | 1.20 | NA | NA | 19.46 | 18.83 | 090
24586 |  | A | Treat elbow fracture | 15.21 | NA | NA | 10.70 | 12.02 | 2.12 | NA | NA | 28.03 | 29.35 | 090
24587 |  | A | Treat elbow fracture | 15.16 | NA | NA | 10.48 | 11.58 | 2.14 | NA | NA | 27.78 | 28.88 | 090
24600 |  | A | Treat elbow dislocation | 4.23 | 6.77 | 5.61 | 4.98 | 4.27 | 0.49 | 11.49 | 10.33 | 9.70 | 8.99 | 090
24605 |  | A | Treat elbow dislocation | 5.42 | NA | NA | 4.73 | 4.17 | 0.72 | NA | NA | 10.87 | 10.31 | 090
24615 |  | A | Treat elbow dislocation | 9.42 | NA | NA | 7.53 | 8.17 | 1.31 | NA | NA | 18.26 | 18.90 | 090
24620 |  | A | Treat elbow fracture | 6.98 | NA | NA | 6.42 | 5.84 | 0.90 | NA | NA | 14.30 | 13.72 | 090
24635 |  | A | Treat elbow fracture | 13.19 | NA | NA | 15.05 | 14.29 | 1.84 | NA | NA | 30.08 | 29.32 | 090
24640 |  | A | Treat elbow dislocation | 1.20 | 3.46 | 2.87 | 1.77 | 1.60 | 0.11 | 4.77 | 4.18 | 3.08 | 2.91 | 010
24650 |  | A | Treat radius fracture | 2.16 | 4.45 | 3.95 | 2.80 | 2.41 | 0.28 | 6.89 | 6.39 | 5.24 | 4.85 | 090
24655 |  | A | Treat radius fracture | 4.40 | 7.12 | 6.16 | 5.15 | 4.68 | 0.58 | 12.10 | 11.14 | 10.13 | 9.66 | 090
24665 |  | A | Treat radius fracture | 8.14 | NA | NA | 8.78 | 8.52 | 1.13 | NA | NA | 18.05 | 17.79 | 090
24666 |  | A | Treat radius fracture | 9.49 | NA | NA | 9.51 | 9.92 | 1.32 | NA | NA | 20.32 | 20.73 | 090
24670 |  | A | Treat ulnar fracture | 2.54 | 4.38 | 3.82 | 3.00 | 2.78 | 0.33 | 7.25 | 6.69 | 5.87 | 5.65 | 090
24675 |  | A | Treat ulnar fracture | 4.72 | 7.27 | 6.41 | 5.36 | 4.97 | 0.65 | 12.64 | 11.78 | 10.73 | 10.34 | 090
24685 |  | A | Treat ulnar fracture | 8.80 | NA | NA | 9.13 | 9.13 | 1.23 | NA | NA | 19.16 | 19.16 | 090
24800 |  | A | Fusion of elbow joint | 11.20 | NA | NA | 9.41 | 9.93 | 1.41 | NA | NA | 22.02 | 22.54 | 090
24802 |  | A | Fusion/graft of elbow joint | 13.69 | NA | NA | 11.10 | 11.63 | 1.89 | NA | NA | 26.68 | 27.21 | 090
24900 |  | A | Amputation of upper arm | 9.60 | NA | NA | 10.61 | 10.04 | 1.18 | NA | NA | 21.39 | 20.82 | 090
24920 |  | A | Amputation of upper arm | 9.54 | NA | NA | 11.85 | 10.73 | 1.22 | NA | NA | 22.61 | 21.49 | 090
24925 |  | A | Amputation follow-up surgery | 7.07 | NA | NA | 8.88 | 8.36 | 0.95 | NA | NA | 16.90 | 16.38 | 090
24930 |  | A | Amputation follow-up surgery | 10.25 | NA | NA | 11.00 | 10.47 | 1.23 | NA | NA | 22.48 | 21.95 | 090
24931 |  | A | Amputate upper arm & implant | 12.72 | NA | NA | 11.26 | 11.48 | 1.56 | NA | NA | 25.54 | 25.76 | 090
24935 |  | A | Revision of amputation | 15.56 | NA | NA | 11.88 | 12.63 | 1.58 | NA | NA | 29.02 | 29.77 | 090
24940 |  | C | Revision of upper arm | 0.00 | 0.00 | 0.00 | 0.00 | 0.00 | 0.00 | 0.00 | 0.00 | 0.00 | 0.00 | 090
24999 |  | C | Upper arm/elbow surgery | 0.00 | 0.00 | 0.00 | 0.00 | 0.00 | 0.00 | 0.00 | 0.00 | 0.00 | 0.00 | YYY
25000 |  | A | Incision of tendon sheath | 3.38 | NA | NA | 6.59 | 5.95 | 0.45 | NA | NA | 10.42 | 9.78 | 090
25020 |  | A | Decompression of forearm | 5.92 | NA | NA | 10.29 | 8.90 | 0.75 | NA | NA | 16.96 | 15.57 | 090
25023 |  | A | Decompression of forearm | 12.96 | NA | NA | 15.90 | 13.40 | 1.50 | NA | NA | 30.36 | 27.86 | 090
25028 |  | A | Drainage of forearm lesion | 5.25 | NA | NA | 9.39 | 7.60 | 0.61 | NA | NA | 15.25 | 13.46 | 090
25031 |  | A | Drainage of forearm bursa | 4.14 | NA | NA | 9.02 | 6.95 | 0.50 | NA | NA | 13.66 | 11.59 | 090
25035 |  | A | Treat forearm bone lesion | 7.36 | NA | NA | 15.16 | 13.08 | 0.98 | NA | NA | 23.50 | 21.42 | 090
25040 |  | A | Explore/treat wrist joint | 7.18 | NA | NA | 8.56 | 7.97 | 0.96 | NA | NA | 16.70 | 16.11 | 090
25065 |  | A | Biopsy forearm soft tissues | 1.99 | 2.45 | 2.04 | 2.45 | 1.94 | 0.12 | 4.56 | 4.15 | 4.56 | 4.05 | 010
25066 |  | A | Biopsy forearm soft tissues | 4.13 | NA | NA | 7.36 | 5.94 | 0.49 | NA | NA | 11.98 | 10.56 | 090
25075 |  | A | Removal of forearm lesion | 3.74 | NA | NA | 6.81 | 5.70 | 0.40 | NA | NA | 10.95 | 9.84 | 090
25076 |  | A | Removal of forearm lesion | 4.92 | NA | NA | 11.51 | 9.66 | 0.59 | NA | NA | 17.02 | 15.17 | 090
25077 |  | A | Remove tumor, forearm/wrist | 9.76 | NA | NA | 15.13 | 13.65 | 1.10 | NA | NA | 25.99 | 24.51 | 090
25085 |  | A | Incision of wrist capsule | 5.50 | NA | NA | 9.88 | 8.66 | 0.71 | NA | NA | 16.09 | 14.87 | 090
25100 |  | A | Biopsy of wrist joint | 3.90 | NA | NA | 6.64 | 6.15 | 0.50 | NA | NA | 11.04 | 10.55 | 090
25101 |  | A | Explore/treat wrist joint | 4.69 | NA | NA | 7.23 | 6.82 | 0.60 | NA | NA | 12.52 | 12.11 | 090
25105 |  | A | Remove wrist joint lining | 5.85 | NA | NA | 10.05 | 9.29 | 0.77 | NA | NA | 16.67 | 15.91 | 090
25107 |  | A | Remove wrist joint cartilage | 6.43 | NA | NA | 10.23 | 9.11 | 0.82 | NA | NA | 17.48 | 16.36 | 090
25110 |  | A | Remove wrist tendon lesion | 3.92 | NA | NA | 7.72 | 6.55 | 0.48 | NA | NA | 12.12 | 10.95 | 090
25111 |  | A | Remove wrist tendon lesion | 3.39 | NA | NA | 6.01 | 5.38 | 0.42 | NA | NA | 9.82 | 9.19 | 090
25112 |  | A | Reremove wrist tendon lesion | 4.53 | NA | NA | 6.88 | 6.17 | 0.54 | NA | NA | 11.95 | 11.24 | 090
25115 |  | A | Remove wrist/forearm lesion | 8.82 | NA | NA | 15.45 | 13.53 | 1.11 | NA | NA | 25.38 | 23.46 | 090
25116 |  | A | Remove wrist/forearm lesion | 7.11 | NA | NA | 14.43 | 12.95 | 0.90 | NA | NA | 22.44 | 20.96 | 090
25118 |  | A | Excise wrist tendon sheath | 4.37 | NA | NA | 7.17 | 6.68 | 0.55 | NA | NA | 12.09 | 11.60 | 090
25119 |  | A | Partial removal of ulna | 6.04 | NA | NA | 10.00 | 9.30 | 0.80 | NA | NA | 16.84 | 16.14 | 090
25120 |  | A | Removal of forearm lesion | 6.10 | NA | NA | 13.26 | 11.72 | 0.81 | NA | NA | 20.17 | 18.63 | 090
25125 |  | A | Remove/graft forearm lesion | 7.48 | NA | NA | 14.52 | 12.75 | 1.02 | NA | NA | 23.02 | 21.25 | 090
25126 |  | A | Remove/graft forearm lesion | 7.55 | NA | NA | 13.95 | 12.31 | 1.00 | NA | NA | 22.50 | 20.86 | 090
25130 |  | A | Removal of wrist lesion | 5.26 | NA | NA | 7.50 | 6.77 | 0.66 | NA | NA | 13.42 | 12.69 | 090
25135 |  | A | Remove & graft wrist lesion | 6.89 | NA | NA | 8.29 | 7.70 | 0.89 | NA | NA | 16.07 | 15.48 | 090
25136 |  | A | Remove & graft wrist lesion | 5.97 | NA | NA | 6.38 | 6.07 | 0.58 | NA | NA | 12.93 | 12.62 | 090
25145 |  | A | Remove forearm bone lesion | 6.37 | NA | NA | 14.00 | 12.12 | 0.82 | NA | NA | 21.19 | 19.31 | 090
25150 |  | A | Partial removal of ulna | 7.09 | NA | NA | 10.98 | 10.05 | 0.96 | NA | NA | 19.03 | 18.10 | 090
25151 |  | A | Partial removal of radius | 7.39 | NA | NA | 13.77 | 11.89 | 0.93 | NA | NA | 22.09 | 20.21 | 090
25170 |  | A | Extensive forearm surgery | 11.09 | NA | NA | 16.06 | 14.70 | 1.52 | NA | NA | 28.67 | 27.31 | 090
25210 |  | A | Removal of wrist bone | 5.95 | NA | NA | 8.02 | 7.34 | 0.73 | NA | NA | 14.70 | 14.02 | 090
25215 |  | A | Removal of wrist bones | 7.89 | NA | NA | 11.15 | 10.72 | 1.02 | NA | NA | 20.06 | 19.63 | 090
25230 |  | A | Partial removal of radius | 5.23 | NA | NA | 7.44 | 7.09 | 0.66 | NA | NA | 13.33 | 12.98 | 090
25240 |  | A | Partial removal of ulna | 5.17 | NA | NA | 9.61 | 8.65 | 0.69 | NA | NA | 15.47 | 14.51 | 090
25246 |  | A | Injection for wrist x-ray | 1.45 | 9.80 | 7.49 | 0.52 | 0.53 | 0.07 | 11.32 | 9.01 | 2.04 | 2.05 | 000
25248 |  | A | Remove forearm foreign body | 5.14 | NA | NA | 9.04 | 7.37 | 0.54 | NA | NA | 14.72 | 13.05 | 090
25250 |  | A | Removal of wrist prosthesis | 6.60 | NA | NA | 8.15 | 7.64 | 0.84 | NA | NA | 15.59 | 15.08 | 090
25251 |  | A | Removal of wrist prosthesis | 9.57 | NA | NA | 11.55 | 10.90 | 1.15 | NA | NA | 22.27 | 21.62 | 090
25260 |  | A | Repair forearm tendon/muscle | 7.80 | NA | NA | 15.60 | 12.95 | 0.97 | NA | NA | 24.37 | 21.72 | 090
25263 |  | A | Repair forearm tendon/muscle | 7.82 | NA | NA | 14.95 | 12.78 | 0.94 | NA | NA | 23.71 | 21.54 | 090
25265 |  | A | Repair forearm tendon/muscle | 9.88 | NA | NA | 15.75 | 13.97 | 1.19 | NA | NA | 26.82 | 25.04 | 090
25270 |  | A | Repair forearm tendon/muscle | 6.00 | NA | NA | 14.52 | 11.80 | 0.76 | NA | NA | 21.28 | 18.56 | 090
25272 |  | A | Repair forearm tendon/muscle | 7.04 | NA | NA | 15.17 | 12.31 | 0.89 | NA | NA | 23.10 | 20.24 | 090
25274 |  | A | Repair forearm tendon/muscle | 8.75 | NA | NA | 14.96 | 13.02 | 1.11 | NA | NA | 24.82 | 22.88 | 090
25280 |  | A | Revise wrist/forearm tendon | 7.22 | NA | NA | 14.31 | 11.88 | 0.91 | NA | NA | 22.44 | 20.01 | 090
25290 |  | A | Incise wrist/forearm tendon | 5.29 | NA | NA | 16.18 | 12.81 | 0.66 | NA | NA | 22.13 | 18.76 | 090
25295 |  | A | Release wrist/forearm tendon | 6.55 | NA | NA | 14.02 | 11.34 | 0.84 | NA | NA | 21.41 | 18.73 | 090
25300 |  | A | Fusion of tendons at wrist | 8.80 | NA | NA | 9.51 | 9.13 | 1.07 | NA | NA | 19.38 | 19.00 | 090
25301 |  | A | Fusion of tendons at wrist | 8.40 | NA | NA | 9.29 | 8.81 | 1.08 | NA | NA | 18.77 | 18.29 | 090
25310 |  | A | Transplant forearm tendon | 8.14 | NA | NA | 14.58 | 12.87 | 1.01 | NA | NA | 23.73 | 22.02 | 090
25312 |  | A | Transplant forearm tendon | 9.57 | NA | NA | 15.53 | 13.72 | 1.22 | NA | NA | 26.32 | 24.51 | 090
25315 |  | A | Revise palsy hand tendon(s) | 10.20 | NA | NA | 16.30 | 14.41 | 1.26 | NA | NA | 27.76 | 25.87 | 090
25316 |  | A | Revise palsy hand tendon(s) | 12.33 | NA | NA | 17.13 | 15.72 | 1.74 | NA | NA | 31.20 | 29.79 | 090
25320 |  | A | Repair/revise wrist joint | 10.77 | NA | NA | 10.68 | 10.34 | 1.32 | NA | NA | 22.77 | 22.43 | 090
25332 |  | A | Revise wrist joint | 11.41 | NA | NA | 11.17 | 11.09 | 1.46 | NA | NA | 24.04 | 23.96 | 090
25335 |  | A | Realignment of hand | 12.88 | NA | NA | 13.34 | 13.10 | 1.66 | NA | NA | 27.88 | 27.64 | 090
25337 |  | A | Reconstruct ulna/radioulnar | 10.17 | NA | NA | 12.37 | 11.61 | 1.31 | NA | NA | 23.85 | 23.09 | 090
25350 |  | A | Revision of radius | 8.78 | NA | NA | 14.82 | 13.18 | 1.17 | NA | NA | 24.77 | 23.13 | 090
25355 |  | A | Revision of radius | 10.17 | NA | NA | 15.90 | 14.40 | 1.44 | NA | NA | 27.51 | 26.01 | 090
25360 |  | A | Revision of ulna | 8.43 | NA | NA | 14.97 | 12.97 | 1.17 | NA | NA | 24.57 | 22.57 | 090
25365 |  | A | Revise radius & ulna | 12.40 | NA | NA | 16.30 | 15.02 | 1.67 | NA | NA | 30.37 | 29.09 | 090
25370 |  | A | Revise radius or ulna | 13.36 | NA | NA | 17.80 | 16.54 | 1.88 | NA | NA | 33.04 | 31.78 | 090
25375 |  | A | Revise radius & ulna | 13.04 | NA | NA | 17.62 | 16.85 | 1.84 | NA | NA | 32.50 | 31.73 | 090
25390 |  | A | Shorten radius or ulna | 10.40 | NA | NA | 15.88 | 14.30 | 1.38 | NA | NA | 27.66 | 26.08 | 090
25391 |  | A | Lengthen radius or ulna | 13.65 | NA | NA | 17.19 | 15.95 | 1.73 | NA | NA | 32.57 | 31.33 | 090
25392 |  | A | Shorten radius & ulna | 13.95 | NA | NA | 16.60 | 15.83 | 1.73 | NA | NA | 32.28 | 31.51 | 090
25393 |  | A | Lengthen radius & ulna | 15.87 | NA | NA | 16.76 | 16.43 | 1.87 | NA | NA | 34.50 | 34.17 | 090
25400 |  | A | Repair radius or ulna | 10.92 | NA | NA | 16.07 | 14.98 | 1.50 | NA | NA | 28.49 | 27.40 | 090
25405 |  | A | Repair/graft radius or ulna | 14.38 | NA | NA | 18.35 | 17.13 | 1.95 | NA | NA | 34.68 | 33.46 | 090
25415 |  | A | Repair radius & ulna | 13.35 | NA | NA | 17.45 | 16.19 | 1.87 | NA | NA | 32.67 | 31.41 | 090
25420 |  | A | Repair/graft radius & ulna | 16.33 | NA | NA | 19.23 | 18.41 | 2.20 | NA | NA | 37.76 | 36.94 | 090
25425 |  | A | Repair/graft radius or ulna | 13.21 | NA | NA | 24.28 | 21.47 | 1.61 | NA | NA | 39.10 | 36.29 | 090
25426 |  | A | Repair/graft radius & ulna | 15.82 | NA | NA | 19.50 | 17.81 | 2.23 | NA | NA | 37.55 | 35.86 | 090
25440 |  | A | Repair/graft wrist bone | 10.44 | NA | NA | 10.42 | 10.27 | 1.41 | NA | NA | 22.27 | 22.12 | 090
25441 |  | A | Reconstruct wrist joint | 12.90 | NA | NA | 11.51 | 11.72 | 1.83 | NA | NA | 26.24 | 26.45 | 090
25442 |  | A | Reconstruct wrist joint | 10.85 | NA | NA | 10.57 | 9.84 | 1.24 | NA | NA | 22.66 | 21.93 | 090
25443 |  | A | Reconstruct wrist joint | 10.39 | NA | NA | 14.29 | 13.26 | 1.30 | NA | NA | 25.98 | 24.95 | 090
25444 |  | A | Reconstruct wrist joint | 11.15 | NA | NA | 12.32 | 11.99 | 1.43 | NA | NA | 24.90 | 24.57 | 090
25445 |  | A | Reconstruct wrist joint | 9.69 | NA | NA | 12.33 | 12.06 | 1.26 | NA | NA | 23.28 | 23.01 | 090
25446 |  | A | Wrist replacement | 16.55 | NA | NA | 13.85 | 15.33 | 2.20 | NA | NA | 32.60 | 34.08 | 090
25447 |  | A | Repair wrist joint(s) | 10.37 | NA | NA | 10.42 | 10.43 | 1.34 | NA | NA | 22.13 | 22.14 | 090
25449 |  | A | Remove wrist joint implant | 14.49 | NA | NA | 14.60 | 13.08 | 1.77 | NA | NA | 30.86 | 29.34 | 090
25450 |  | A | Revision of wrist joint | 7.87 | NA | NA | 11.62 | 10.70 | 0.88 | NA | NA | 20.37 | 19.45 | 090
25455 |  | A | Revision of wrist joint | 9.49 | NA | NA | 11.16 | 10.73 | 1.07 | NA | NA | 21.72 | 21.29 | 090
25490 |  | A | Reinforce radius | 9.54 | NA | NA | 14.92 | 13.55 | 1.19 | NA | NA | 25.65 | 24.28 | 090
25491 |  | A | Reinforce ulna | 9.96 | NA | NA | 15.39 | 14.01 | 1.41 | NA | NA | 26.76 | 25.38 | 090
25492 |  | A | Reinforce radius and ulna | 12.33 | NA | NA | 14.11 | 13.62 | 1.62 | NA | NA | 28.06 | 27.57 | 090
25500 |  | A | Treat fracture of radius | 2.45 | 4.18 | 3.77 | 2.86 | 2.46 | 0.28 | 6.91 | 6.50 | 5.59 | 5.19 | 090
25505 |  | A | Treat fracture of radius | 5.21 | 7.49 | 6.59 | 5.56 | 5.14 | 0.69 | 13.39 | 12.49 | 11.46 | 11.04 | 090
25515 |  | A | Treat fracture of radius | 9.18 | NA | NA | 9.22 | 8.99 | 1.22 | NA | NA | 19.62 | 19.39 | 090
25520 |  | A | Treat fracture of radius | 6.26 | 7.81 | 7.42 | 6.24 | 6.24 | 0.85 | 14.92 | 14.53 | 13.35 | 13.35 | 090
25525 |  | A | Treat fracture of radius | 12.24 | NA | NA | 10.96 | 11.25 | 1.68 | NA | NA | 24.88 | 25.17 | 090
25526 |  | A | Treat fracture of radius | 12.98 | NA | NA | 14.15 | 13.83 | 1.80 | NA | NA | 28.93 | 28.61 | 090
25530 |  | A | Treat fracture of ulna | 2.09 | 4.09 | 3.73 | 2.78 | 2.40 | 0.27 | 6.45 | 6.09 | 5.14 | 4.76 | 090
25535 |  | A | Treat fracture of ulna | 5.14 | 7.49 | 6.59 | 5.51 | 5.10 | 0.68 | 13.31 | 12.41 | 11.33 | 10.92 | 090
25545 |  | A | Treat fracture of ulna | 8.90 | NA | NA | 9.20 | 8.96 | 1.23 | NA | NA | 19.33 | 19.09 | 090
25560 |  | A | Treat fracture radius & ulna | 2.44 | 4.19 | 3.76 | 2.85 | 2.75 | 0.27 | 6.90 | 6.47 | 5.56 | 5.46 | 090
25565 |  | A | Treat fracture radius & ulna | 5.63 | 7.76 | 7.09 | 5.77 | 5.59 | 0.76 | 14.15 | 13.48 | 12.16 | 11.98 | 090
25574 |  | A | Treat fracture radius & ulna | 7.01 | NA | NA | 8.10 | 8.17 | 0.96 | NA | NA | 16.07 | 16.14 | 090
25575 |  | A | Treat fracture radius/ulna | 10.45 | NA | NA | 10.07 | 10.46 | 1.46 | NA | NA | 21.98 | 22.37 | 090
25600 |  | A | Treat fracture radius/ulna | 2.63 | 4.41 | 4.08 | 2.99 | 2.63 | 0.34 | 7.38 | 7.05 | 5.96 | 5.60 | 090
25605 |  | A | Treat fracture radius/ulna | 5.81 | 7.93 | 7.02 | 5.96 | 5.54 | 0.81 | 14.55 | 13.64 | 12.58 | 12.16 | 090
25611 |  | A | Treat fracture radius/ulna | 7.77 | NA | NA | 9.26 | 8.58 | 1.08 | NA | NA | 18.11 | 17.43 | 090
25620 |  | A | Treat fracture radius/ulna | 8.55 | NA | NA | 9.01 | 8.69 | 1.17 | NA | NA | 18.73 | 18.41 | 090
25622 |  | A | Treat wrist bone fracture | 2.61 | 4.38 | 3.90 | 2.98 | 2.55 | 0.33 | 7.32 | 6.84 | 5.92 | 5.49 | 090
25624 |  | A | Treat wrist bone fracture | 4.53 | 7.14 | 6.35 | 5.22 | 4.41 | 0.61 | 12.28 | 11.49 | 10.36 | 9.55 | 090
25628 |  | A | Treat wrist bone fracture | 8.43 | NA | NA | 9.06 | 8.73 | 1.14 | NA | NA | 18.63 | 18.30 | 090
25630 |  | A | Treat wrist bone fracture | 2.88 | 4.53 | 3.99 | 3.07 | 2.60 | 0.37 | 7.78 | 7.24 | 6.32 | 5.85 | 090
25635 |  | A | Treat wrist bone fracture | 4.39 | 7.18 | 6.30 | 4.16 | 3.58 | 0.39 | 11.96 | 11.08 | 8.94 | 8.36 | 090
25645 |  | A | Treat wrist bone fracture | 7.25 | NA | NA | 8.97 | 8.54 | 0.93 | NA | NA | 17.15 | 16.72 | 090
25650 |  | A | Treat wrist bone fracture | 3.05 | 4.62 | 4.19 | 3.12 | 2.70 | 0.37 | 8.04 | 7.61 | 6.54 | 6.12 | 090
25660 |  | A | Treat wrist dislocation | 4.76 | NA | NA | 5.36 | 4.52 | 0.59 | NA | NA | 10.71 | 9.87 | 090
25670 |  | A | Treat wrist dislocation | 7.92 | NA | NA | 8.85 | 8.56 | 1.07 | NA | NA | 17.84 | 17.55 | 090
25675 |  | A | Treat wrist dislocation | 4.67 | 7.16 | 5.99 | 5.15 | 4.48 | 0.57 | 12.40 | 11.23 | 10.39 | 9.72 | 090
25676 |  | A | Treat wrist dislocation | 8.04 | NA | NA | 8.91 | 8.67 | 1.10 | NA | NA | 18.05 | 17.81 | 090
25680 |  | A | Treat wrist fracture | 5.99 | NA | NA | 6.39 | 5.46 | 0.61 | NA | NA | 12.99 | 12.06 | 090
25685 |  | A | Treat wrist fracture | 9.78 | NA | NA | 9.54 | 9.54 | 1.25 | NA | NA | 20.57 | 20.57 | 090
25690 |  | A | Treat wrist dislocation | 5.50 | NA | NA | 6.86 | 6.47 | 0.78 | NA | NA | 13.14 | 12.75 | 090
25695 |  | A | Treat wrist dislocation | 8.34 | NA | NA | 8.84 | 8.54 | 1.07 | NA | NA | 18.25 | 17.95 | 090
25800 |  | A | Fusion of wrist joint | 9.76 | NA | NA | 10.00 | 10.42 | 1.30 | NA | NA | 21.06 | 21.48 | 090
25805 |  | A | Fusion/graft of wrist joint | 11.28 | NA | NA | 10.95 | 11.58 | 1.51 | NA | NA | 23.74 | 24.37 | 090
25810 |  | A | Fusion/graft of wrist joint | 10.57 | NA | NA | 10.47 | 11.01 | 1.37 | NA | NA | 22.41 | 22.95 | 090
25820 |  | A | Fusion of hand bones | 7.45 | NA | NA | 8.81 | 8.83 | 0.96 | NA | NA | 17.22 | 17.24 | 090
25825 |  | A | Fuse hand bones with graft | 9.27 | NA | NA | 9.82 | 10.13 | 1.20 | NA | NA | 20.29 | 20.60 | 090
25830 |  | A | Fusion, radioulnar jnt/ulna | 10.06 | NA | NA | 14.92 | 13.52 | 1.27 | NA | NA | 26.25 | 24.85 | 090
25900 |  | A | Amputation of forearm | 9.01 | NA | NA | 13.27 | 11.87 | 1.08 | NA | NA | 23.36 | 21.96 | 090
25905 |  | A | Amputation of forearm | 9.12 | NA | NA | 15.11 | 13.26 | 1.06 | NA | NA | 25.29 | 23.44 | 090
25907 |  | A | Amputation follow-up surgery | 7.80 | NA | NA | 13.20 | 11.46 | 1.01 | NA | NA | 22.01 | 20.27 | 090
25909 |  | A | Amputation follow-up surgery | 8.96 | NA | NA | 15.15 | 12.87 | 1.07 | NA | NA | 25.18 | 22.90 | 090
25915 |  | A | Amputation of forearm | 17.08 | NA | NA | 20.21 | 19.45 | 2.41 | NA | NA | 39.70 | 38.94 | 090
25920 |  | A | Amputate hand at wrist | 8.68 | NA | NA | 9.28 | 8.86 | 1.06 | NA | NA | 19.02 | 18.60 | 090
25922 |  | A | Amputate hand at wrist | 7.42 | NA | NA | 9.14 | 8.36 | 0.93 | NA | NA | 17.49 | 16.71 | 090
25924 |  | A | Amputation follow-up surgery | 8.46 | NA | NA | 9.22 | 8.95 | 1.07 | NA | NA | 18.75 | 18.48 | 090
25927 |  | A | Amputation of hand | 8.80 | NA | NA | 13.46 | 11.80 | 1.02 | NA | NA | 23.28 | 21.62 | 090
25929 |  | A | Amputation follow-up surgery | 7.59 | NA | NA | 7.05 | 6.57 | 0.89 | NA | NA | 15.53 | 15.05 | 090
25931 |  | A | Amputation follow-up surgery | 7.81 | NA | NA | 13.94 | 11.69 | 0.88 | NA | NA | 22.63 | 20.38 | 090
25999 |  | C | Forearm or wrist surgery | 0.00 | 0.00 | 0.00 | 0.00 | 0.00 | 0.00 | 0.00 | 0.00 | 0.00 | 0.00 | YYY
26010 |  | A | Drainage of finger abscess | 1.54 | 4.86 | 3.78 | 3.48 | 2.68 | 0.14 | 6.54 | 5.46 | 5.16 | 4.36 | 010
26011 |  | A | Drainage of finger abscess | 2.19 | 6.80 | 5.52 | 5.69 | 4.69 | 0.25 | 9.24 | 7.96 | 8.13 | 7.13 | 010
26020 |  | A | Drain hand tendon sheath | 4.67 | NA | NA | 11.55 | 9.67 | 0.59 | NA | NA | 16.81 | 14.93 | 090
26025 |  | A | Drainage of palm bursa | 4.82 | NA | NA | 11.71 | 10.01 | 0.60 | NA | NA | 17.13 | 15.43 | 090
26030 |  | A | Drainage of palm bursa(s) | 5.93 | NA | NA | 12.14 | 10.66 | 0.72 | NA | NA | 18.79 | 17.31 | 090
26034 |  | A | Treat hand bone lesion | 6.23 | NA | NA | 13.35 | 11.16 | 0.79 | NA | NA | 20.37 | 18.18 | 090
26035 |  | A | Decompress fingers/hand | 9.51 | NA | NA | 15.30 | 12.88 | 1.12 | NA | NA | 25.93 | 23.51 | 090
26037 |  | A | Decompress fingers/hand | 7.25 | NA | NA | 11.76 | 10.55 | 0.87 | NA | NA | 19.88 | 18.67 | 090
26040 |  | A | Release palm contracture | 3.33 | NA | NA | 11.19 | 9.17 | 0.45 | NA | NA | 14.97 | 12.95 | 090
26045 |  | A | Release palm contracture | 5.56 | NA | NA | 12.37 | 10.59 | 0.74 | NA | NA | 18.67 | 16.89 | 090
26055 |  | A | Incise finger tendon sheath | 2.69 | 7.04 | 6.17 | 6.76 | 5.96 | 0.36 | 10.09 | 9.22 | 9.81 | 9.01 | 090
26060 |  | A | Incision of finger tendon | 2.81 | NA | NA | 6.66 | 5.30 | 0.35 | NA | NA | 9.82 | 8.46 | 090
26070 |  | A | Explore/treat hand joint | 3.69 | NA | NA | 10.22 | 8.04 | 0.35 | NA | NA | 14.26 | 12.08 | 090
26075 |  | A | Explore/treat finger joint | 3.79 | NA | NA | 10.82 | 9.14 | 0.40 | NA | NA | 15.01 | 13.33 | 090
26080 |  | A | Explore/treat finger joint | 4.24 | NA | NA | 11.59 | 9.55 | 0.52 | NA | NA | 16.35 | 14.31 | 090
26100 |  | A | Biopsy hand joint lining | 3.67 | NA | NA | 7.39 | 6.35 | 0.45 | NA | NA | 11.51 | 10.47 | 090
26105 |  | A | Biopsy finger joint lining | 3.71 | NA | NA | 10.68 | 9.14 | 0.45 | NA | NA | 14.84 | 13.30 | 090
26110 |  | A | Biopsy finger joint lining | 3.53 | NA | NA | 10.69 | 8.81 | 0.44 | NA | NA | 14.66 | 12.78 | 090
26115 |  | A | Removal of hand lesion | 3.86 | 7.21 | 5.95 | 7.21 | 5.95 | 0.48 | 11.55 | 10.29 | 11.55 | 10.29 | 090
26116 |  | A | Removal of hand lesion | 5.53 | NA | NA | 12.26 | 10.20 | 0.69 | NA | NA | 18.48 | 16.42 | 090
26117 |  | A | Remove tumor, hand/finger | 8.55 | NA | NA | 14.41 | 12.18 | 1.01 | NA | NA | 23.97 | 21.74 | 090
26121 |  | A | Release palm contracture | 7.54 | NA | NA | 14.23 | 12.92 | 0.94 | NA | NA | 22.71 | 21.40 | 090
26123 |  | A | Release palm contracture | 9.29 | NA | NA | 15.22 | 13.89 | 1.17 | NA | NA | 25.68 | 24.35 | 090
26125 |  | A | Release palm contracture | 4.61 | NA | NA | 2.57 | 2.64 | 0.57 | NA | NA | 7.75 | 7.82 | ZZZ
26130 |  | A | Remove wrist joint lining | 5.42 | NA | NA | 14.77 | 12.44 | 0.65 | NA | NA | 20.84 | 18.51 | 090
26135 |  | A | Revise finger joint, each | 6.96 | NA | NA | 15.48 | 12.93 | 0.87 | NA | NA | 23.31 | 20.76 | 090
26140 |  | A | Revise finger joint, each | 6.17 | NA | NA | 14.41 | 12.00 | 0.76 | NA | NA | 21.34 | 18.93 | 090
26145 |  | A | Tendon excision, palm/finger | 6.32 | NA | NA | 14.33 | 12.03 | 0.77 | NA | NA | 21.42 | 19.12 | 090
26160 |  | A | Remove tendon sheath lesion | 3.15 | 7.20 | 6.03 | 6.96 | 5.85 | 0.39 | 10.74 | 9.57 | 10.50 | 9.39 | 090
26170 |  | A | Removal of palm tendon, each | 4.77 | NA | NA | 7.97 | 6.75 | 0.60 | NA | NA | 13.34 | 12.12 | 090
26180 |  | A | Removal of finger tendon | 5.18 | NA | NA | 7.83 | 6.96 | 0.64 | NA | NA | 13.65 | 12.78 | 090
26185 |  | A | Remove finger bone | 5.25 | NA | NA | 8.35 | 7.41 | 0.67 | NA | NA | 14.27 | 13.33 | 090
26200 |  | A | Remove hand bone lesion | 5.51 | NA | NA | 12.39 | 10.51 | 0.71 | NA | NA | 18.61 | 16.73 | 090
26205 |  | A | Remove/graft bone lesion | 7.70 | NA | NA | 14.03 | 12.26 | 0.95 | NA | NA | 22.68 | 20.91 | 090
26210 |  | A | Removal of finger lesion | 5.15 | NA | NA | 12.94 | 10.76 | 0.64 | NA | NA | 18.73 | 16.55 | 090
26215 |  | A | Remove/graft finger lesion | 7.10 | NA | NA | 13.35 | 11.52 | 0.77 | NA | NA | 21.22 | 19.39 | 090
26230 |  | A | Partial removal of hand bone | 6.33 | NA | NA | 11.81 | 10.01 | 0.84 | NA | NA | 18.98 | 17.18 | 090
26235 |  | A | Partial removal, finger bone | 6.19 | NA | NA | 11.45 | 9.72 | 0.78 | NA | NA | 18.42 | 16.69 | 090
26236 |  | A | Partial removal, finger bone | 5.32 | NA | NA | 11.29 | 9.52 | 0.66 | NA | NA | 17.27 | 15.50 | 090
26250 |  | A | Extensive hand surgery | 7.55 | NA | NA | 15.93 | 13.58 | 0.92 | NA | NA | 24.40 | 22.05 | 090
26255 |  | A | Extensive hand surgery | 12.43 | NA | NA | 16.86 | 15.07 | 1.05 | NA | NA | 30.34 | 28.55 | 090
26260 |  | A | Extensive finger surgery | 7.03 | NA | NA | 15.76 | 13.38 | 0.83 | NA | NA | 23.62 | 21.24 | 090
26261 |  | A | Extensive finger surgery | 9.09 | NA | NA | 16.90 | 14.77 | 0.84 | NA | NA | 26.83 | 24.70 | 090
26262 |  | A | Partial removal of finger | 5.67 | NA | NA | 12.80 | 10.89 | 0.70 | NA | NA | 19.17 | 17.26 | 090
26320 |  | A | Removal of implant from hand | 3.98 | NA | NA | 11.74 | 9.77 | 0.49 | NA | NA | 16.21 | 14.24 | 090
26350 |  | A | Repair finger/hand tendon | 5.99 | NA | NA | 18.01 | 15.07 | 0.73 | NA | NA | 24.73 | 21.79 | 090
26352 |  | A | Repair/graft hand tendon | 7.68 | NA | NA | 17.48 | 14.90 | 0.93 | NA | NA | 26.09 | 23.51 | 090
26356 |  | A | Repair finger/hand tendon | 8.07 | NA | NA | 19.37 | 16.48 | 0.99 | NA | NA | 28.43 | 25.54 | 090
26357 |  | A | Repair finger/hand tendon | 8.58 | NA | NA | 18.82 | 15.90 | 1.02 | NA | NA | 28.42 | 25.50 | 090
26358 |  | A | Repair/graft hand tendon | 9.14 | NA | NA | 18.56 | 15.93 | 1.07 | NA | NA | 28.77 | 26.14 | 090
26370 |  | A | Repair finger/hand tendon | 7.11 | NA | NA | 18.65 | 15.81 | 0.90 | NA | NA | 26.66 | 23.82 | 090
26372 |  | A | Repair/graft hand tendon | 8.76 | NA | NA | 18.77 | 15.81 | 1.06 | NA | NA | 28.59 | 25.63 | 090
26373 |  | A | Repair finger/hand tendon | 8.16 | NA | NA | 21.22 | 17.77 | 0.98 | NA | NA | 30.36 | 26.91 | 090
26390 |  | A | Revise hand/finger tendon | 9.19 | NA | NA | 14.49 | 13.03 | 1.09 | NA | NA | 24.77 | 23.31 | 090
26392 |  | A | Repair/graft hand tendon | 10.26 | NA | NA | 19.80 | 17.19 | 1.26 | NA | NA | 31.32 | 28.71 | 090
26410 |  | A | Repair hand tendon | 4.63 | NA | NA | 14.50 | 11.77 | 0.57 | NA | NA | 19.70 | 16.97 | 090
26412 |  | A | Repair/graft hand tendon | 6.31 | NA | NA | 14.96 | 12.85 | 0.80 | NA | NA | 22.07 | 19.96 | 090
26415 |  | A | Excision, hand/finger tendon | 8.34 | NA | NA | 14.51 | 12.72 | 0.77 | NA | NA | 23.62 | 21.83 | 090
26416 |  | A | Graft hand or finger tendon | 9.37 | NA | NA | 15.87 | 14.25 | 1.20 | NA | NA | 26.44 | 24.82 | 090
26418 |  | A | Repair finger tendon | 4.25 | NA | NA | 14.16 | 11.59 | 0.50 | NA | NA | 18.91 | 16.34 | 090
26420 |  | A | Repair/graft finger tendon | 6.77 | NA | NA | 15.68 | 13.30 | 0.83 | NA | NA | 23.28 | 20.90 | 090
26426 |  | A | Repair finger/hand tendon | 6.15 | NA | NA | 15.05 | 13.00 | 0.77 | NA | NA | 21.97 | 19.92 | 090
26428 |  | A | Repair/graft finger tendon | 7.21 | NA | NA | 15.60 | 13.19 | 0.84 | NA | NA | 23.65 | 21.24 | 090
26432 |  | A | Repair finger tendon | 4.02 | NA | NA | 11.01 | 8.69 | 0.48 | NA | NA | 15.51 | 13.19 | 090
26433 |  | A | Repair finger tendon | 4.56 | NA | NA | 12.66 | 10.57 | 0.56 | NA | NA | 17.78 | 15.69 | 090
26434 |  | A | Repair/graft finger tendon | 6.09 | NA | NA | 12.09 | 10.41 | 0.71 | NA | NA | 18.89 | 17.21 | 090
26437 |  | A | Realignment of tendons | 5.82 | NA | NA | 12.52 | 10.49 | 0.74 | NA | NA | 19.08 | 17.05 | 090
26440 |  | A | Release palm/finger tendon | 5.02 | NA | NA | 16.09 | 13.04 | 0.62 | NA | NA | 21.73 | 18.68 | 090
26442 |  | A | Release palm & finger tendon | 8.16 | NA | NA | 18.28 | 14.63 | 0.94 | NA | NA | 27.38 | 23.73 | 090
26445 |  | A | Release hand/finger tendon | 4.31 | NA | NA | 15.96 | 12.85 | 0.54 | NA | NA | 20.81 | 17.70 | 090
26449 |  | A | Release forearm/hand tendon | 7.00 | NA | NA | 16.72 | 14.05 | 0.84 | NA | NA | 24.56 | 21.89 | 090
26450 |  | A | Incision of palm tendon | 3.67 | NA | NA | 7.26 | 6.06 | 0.46 | NA | NA | 11.39 | 10.19 | 090
26455 |  | A | Incision of finger tendon | 3.64 | NA | NA | 7.52 | 6.15 | 0.47 | NA | NA | 11.63 | 10.26 | 090
26460 |  | A | Incise hand/finger tendon | 3.46 | NA | NA | 7.09 | 5.79 | 0.44 | NA | NA | 10.99 | 9.69 | 090
26471 |  | A | Fusion of finger tendons | 5.73 | NA | NA | 12.48 | 10.49 | 0.73 | NA | NA | 18.94 | 16.95 | 090
26474 |  | A | Fusion of finger tendons | 5.32 | NA | NA | 12.82 | 10.87 | 0.69 | NA | NA | 18.83 | 16.88 | 090
26476 |  | A | Tendon lengthening | 5.18 | NA | NA | 12.78 | 10.37 | 0.62 | NA | NA | 18.58 | 16.17 | 090
26477 |  | A | Tendon shortening | 5.15 | NA | NA | 12.24 | 10.26 | 0.60 | NA | NA | 17.99 | 16.01 | 090
26478 |  | A | Lengthening of hand tendon | 5.80 | NA | NA | 12.59 | 10.61 | 0.77 | NA | NA | 19.16 | 17.18 | 090
26479 |  | A | Shortening of hand tendon | 5.74 | NA | NA | 12.82 | 11.05 | 0.76 | NA | NA | 19.32 | 17.55 | 090
26480 |  | A | Transplant hand tendon | 6.69 | NA | NA | 17.21 | 14.68 | 0.84 | NA | NA | 24.74 | 22.21 | 090
26483 |  | A | Transplant/graft hand tendon | 8.29 | NA | NA | 18.04 | 15.84 | 1.03 | NA | NA | 27.36 | 25.16 | 090
26485 |  | A | Transplant palm tendon | 7.70 | NA | NA | 17.12 | 14.60 | 0.94 | NA | NA | 25.76 | 23.24 | 090
26489 |  | A | Transplant/graft palm tendon | 9.55 | NA | NA | 16.57 | 13.35 | 0.98 | NA | NA | 27.10 | 23.88 | 090
26490 |  | A | Revise thumb tendon | 8.41 | NA | NA | 13.78 | 12.45 | 1.05 | NA | NA | 23.24 | 21.91 | 090
26492 |  | A | Tendon transfer with graft | 9.62 | NA | NA | 14.89 | 13.54 | 1.19 | NA | NA | 25.70 | 24.35 | 090
26494 |  | A | Hand tendon/muscle transfer | 8.47 | NA | NA | 14.21 | 12.63 | 1.13 | NA | NA | 23.81 | 22.23 | 090
26496 |  | A | Revise thumb tendon | 9.59 | NA | NA | 14.17 | 13.00 | 1.17 | NA | NA | 24.93 | 23.76 | 090
26497 |  | A | Finger tendon transfer | 9.57 | NA | NA | 14.43 | 13.00 | 1.17 | NA | NA | 25.17 | 23.74 | 090
26498 |  | A | Finger tendon transfer | 14.00 | NA | NA | 16.72 | 15.74 | 1.74 | NA | NA | 32.46 | 31.48 | 090
26499 |  | A | Revision of finger | 8.98 | NA | NA | 15.73 | 13.90 | 0.94 | NA | NA | 25.65 | 23.82 | 090
26500 |  | A | Hand tendon reconstruction | 5.96 | NA | NA | 13.22 | 10.86 | 0.66 | NA | NA | 19.84 | 17.48 | 090
26502 |  | A | Hand tendon reconstruction | 7.14 | NA | NA | 14.34 | 12.19 | 0.87 | NA | NA | 22.35 | 20.20 | 090
26504 |  | A | Hand tendon reconstruction | 7.47 | NA | NA | 9.92 | 9.26 | 0.84 | NA | NA | 18.23 | 17.57 | 090
26508 |  | A | Release thumb contracture | 6.01 | NA | NA | 13.12 | 10.97 | 0.76 | NA | NA | 19.89 | 17.74 | 090
26510 |  | A | Thumb tendon transfer | 5.43 | NA | NA | 12.52 | 10.52 | 0.71 | NA | NA | 18.66 | 16.66 | 090
26516 |  | A | Fusion of knuckle joint | 7.15 | NA | NA | 13.26 | 11.07 | 0.90 | NA | NA | 21.31 | 19.12 | 090
26517 |  | A | Fusion of knuckle joints | 8.83 | NA | NA | 13.63 | 12.14 | 0.96 | NA | NA | 23.42 | 21.93 | 090
26518 |  | A | Fusion of knuckle joints | 9.02 | NA | NA | 13.33 | 11.77 | 1.13 | NA | NA | 23.48 | 21.92 | 090
26520 |  | A | Release knuckle contracture | 5.30 | NA | NA | 16.37 | 13.49 | 0.65 | NA | NA | 22.32 | 19.44 | 090
26525 |  | A | Release finger contracture | 5.33 | NA | NA | 16.76 | 13.56 | 0.66 | NA | NA | 22.75 | 19.55 | 090
26530 |  | A | Revise knuckle joint | 6.69 | NA | NA | 16.92 | 14.09 | 0.86 | NA | NA | 24.47 | 21.64 | 090
26531 |  | A | Revise knuckle with implant | 7.91 | NA | NA | 17.34 | 14.81 | 1.01 | NA | NA | 26.26 | 23.73 | 090
26535 |  | A | Revise finger joint | 5.24 | NA | NA | 9.17 | 8.19 | 0.66 | NA | NA | 15.07 | 14.09 | 090
26536 |  | A | Revise/implant finger joint | 6.37 | NA | NA | 16.01 | 13.91 | 0.80 | NA | NA | 23.18 | 21.08 | 090
26540 |  | A | Repair hand joint | 6.43 | NA | NA | 13.41 | 11.86 | 0.81 | NA | NA | 20.65 | 19.10 | 090
26541 |  | A | Repair hand joint with graft | 8.62 | NA | NA | 14.78 | 13.51 | 1.12 | NA | NA | 24.52 | 23.25 | 090
26542 |  | A | Repair hand joint with graft | 6.78 | NA | NA | 12.82 | 11.15 | 0.87 | NA | NA | 20.47 | 18.80 | 090
26545 |  | A | Reconstruct finger joint | 6.92 | NA | NA | 14.05 | 11.97 | 0.79 | NA | NA | 21.76 | 19.68 | 090
26546 |  | A | Repair nonunion hand | 8.92 | NA | NA | 14.06 | 12.75 | 1.14 | NA | NA | 24.12 | 22.81 | 090
26548 |  | A | Reconstruct finger joint | 8.03 | NA | NA | 14.23 | 12.24 | 0.98 | NA | NA | 23.24 | 21.25 | 090
26550 |  | A | Construct thumb replacement | 21.24 | NA | NA | 19.62 | 20.09 | 1.80 | NA | NA | 42.66 | 43.13 | 090
26551 |  | A | Great toe-hand transfer | 46.58 | NA | NA | 28.61 | 32.92 | 6.57 | NA | NA | 81.76 | 86.07 | 090
26553 |  | A | Single transfer, toe-hand | 46.27 | NA | NA | 28.33 | 32.63 | 1.99 | NA | NA | 76.59 | 80.89 | 090
26554 |  | A | Double transfer, toe-hand | 54.95 | NA | NA | 33.90 | 39.01 | 7.76 | NA | NA | 96.61 | 101.72 | 090
26555 |  | A | Positional change of finger | 16.63 | NA | NA | 22.41 | 20.99 | 2.13 | NA | NA | 41.17 | 39.75 | 090
26556 |  | A | Toe joint transfer | 47.26 | NA | NA | 28.88 | 33.24 | 6.67 | NA | NA | 82.81 | 87.17 | 090
26560 |  | A | Repair of web finger | 5.38 | NA | NA | 13.01 | 11.02 | 0.60 | NA | NA | 18.99 | 17.00 | 090
26561 |  | A | Repair of web finger | 10.92 | NA | NA | 13.50 | 12.54 | 0.69 | NA | NA | 25.11 | 24.15 | 090
26562 |  | A | Repair of web finger | 9.68 | NA | NA | 9.60 | 10.09 | 0.98 | NA | NA | 20.26 | 20.75 | 090
26565 |  | A | Correct metacarpal flaw | 6.74 | NA | NA | 13.16 | 11.45 | 0.84 | NA | NA | 20.74 | 19.03 | 090
26567 |  | A | Correct finger deformity | 6.82 | NA | NA | 13.05 | 10.95 | 0.84 | NA | NA | 20.71 | 18.61 | 090
26568 |  | A | Lengthen metacarpal/finger | 9.08 | NA | NA | 17.58 | 15.48 | 1.10 | NA | NA | 27.76 | 25.66 | 090
26580 |  | A | Repair hand deformity | 18.18 | NA | NA | 16.65 | 17.07 | 1.46 | NA | NA | 36.29 | 36.71 | 090
26585 |  | A | Repair finger deformity | 14.05 | NA | NA | 14.49 | 14.38 | 1.08 | NA | NA | 29.62 | 29.51 | 090
26587 |  | C | Reconstruct extra finger | 0.00 | 0.00 | 0.00 | 0.00 | 0.00 | 0.00 | 0.00 | 0.00 | 0.00 | 0.00 | 090
26590 |  | A | Repair finger deformity | 17.96 | NA | NA | 13.95 | 14.98 | 1.32 | NA | NA | 33.23 | 34.26 | 090
26591 |  | A | Repair muscles of hand | 3.25 | NA | NA | 12.58 | 10.06 | 0.37 | NA | NA | 16.20 | 13.68 | 090
26593 |  | A | Release muscles of hand | 5.31 | NA | NA | 11.76 | 9.94 | 0.64 | NA | NA | 17.71 | 15.89 | 090
26596 |  | A | Excision constricting tissue | 8.95 | NA | NA | 9.03 | 9.01 | 0.87 | NA | NA | 18.85 | 18.83 | 090
26597 |  | A | Release of scar contracture | 9.82 | NA | NA | 15.29 | 13.64 | 1.20 | NA | NA | 26.31 | 24.66 | 090
26600 |  | A | Treat metacarpal fracture | 1.96 | 4.04 | 3.45 | 2.72 | 2.25 | 0.25 | 6.25 | 5.66 | 4.93 | 4.46 | 090
26605 |  | A | Treat metacarpal fracture | 2.85 | 5.80 | 4.97 | 4.19 | 3.46 | 0.38 | 9.03 | 8.20 | 7.42 | 6.69 | 090
26607 |  | A | Treat metacarpal fracture | 5.36 | NA | NA | 7.89 | 6.88 | 0.70 | NA | NA | 13.95 | 12.94 | 090
26608 |  | A | Treat metacarpal fracture | 5.36 | NA | NA | 8.03 | 6.99 | 0.73 | NA | NA | 14.12 | 13.08 | 090
26615 |  | A | Treat metacarpal fracture | 5.33 | NA | NA | 7.66 | 7.07 | 0.70 | NA | NA | 13.69 | 13.10 | 090
26641 |  | A | Treat thumb dislocation | 3.94 | 6.59 | 5.24 | 4.79 | 3.89 | 0.42 | 10.95 | 9.60 | 9.15 | 8.25 | 090
26645 |  | A | Treat thumb fracture | 4.41 | 6.99 | 5.84 | 5.11 | 4.43 | 0.54 | 11.94 | 10.79 | 10.06 | 9.38 | 090
26650 |  | A | Treat thumb fracture | 5.72 | NA | NA | 8.20 | 7.24 | 0.77 | NA | NA | 14.69 | 13.73 | 090
26665 |  | A | Treat thumb fracture | 7.60 | NA | NA | 8.62 | 8.20 | 0.97 | NA | NA | 17.19 | 16.77 | 090
26670 |  | A | Treat hand dislocation | 3.69 | 6.17 | 4.89 | 4.66 | 3.76 | 0.36 | 10.22 | 8.94 | 8.71 | 7.81 | 090
26675 |  | A | Treat hand dislocation | 4.64 | 5.73 | 5.48 | 4.42 | 4.49 | 0.56 | 10.93 | 10.68 | 9.62 | 9.69 | 090
26676 |  | A | Pin hand dislocation | 5.52 | NA | NA | 8.10 | 7.39 | 0.76 | NA | NA | 14.38 | 13.67 | 090
26685 |  | A | Treat hand dislocation | 6.98 | NA | NA | 8.23 | 7.74 | 0.95 | NA | NA | 16.16 | 15.67 | 090
26686 |  | A | Treat hand dislocation | 7.94 | NA | NA | 9.08 | 8.52 | 1.05 | NA | NA | 18.07 | 17.51 | 090
26700 |  | A | Treat knuckle dislocation | 3.69 | 4.73 | 3.79 | 2.81 | 2.35 | 0.35 | 8.77 | 7.83 | 6.85 | 6.39 | 090
26705 |  | A | Treat knuckle dislocation | 4.19 | 5.90 | 4.91 | 4.06 | 3.53 | 0.50 | 10.59 | 9.60 | 8.75 | 8.22 | 090
26706 |  | A | Pin knuckle dislocation | 5.12 | NA | NA | 5.47 | 5.37 | 0.64 | NA | NA | 11.23 | 11.13 | 090
26715 |  | A | Treat knuckle dislocation | 5.74 | NA | NA | 7.79 | 6.96 | 0.75 | NA | NA | 14.28 | 13.45 | 090
26720 |  | A | Treat finger fracture, each | 1.66 | 2.82 | 2.41 | 1.57 | 1.33 | 0.20 | 4.68 | 4.27 | 3.43 | 3.19 | 090
26725 |  | A | Treat finger fracture, each | 3.33 | 4.81 | 4.03 | 3.02 | 2.48 | 0.43 | 8.57 | 7.79 | 6.78 | 6.24 | 090
26727 |  | A | Treat finger fracture, each | 5.23 | NA | NA | 8.21 | 6.82 | 0.69 | NA | NA | 14.13 | 12.74 | 090
26735 |  | A | Treat finger fracture, each | 5.98 | NA | NA | 8.11 | 7.10 | 0.77 | NA | NA | 14.86 | 13.85 | 090
26740 |  | A | Treat finger fracture, each | 1.94 | 3.51 | 2.95 | 2.40 | 1.96 | 0.24 | 5.69 | 5.13 | 4.58 | 4.14 | 090
26742 |  | A | Treat finger fracture, each | 3.85 | 7.01 | 5.80 | 5.08 | 4.35 | 0.49 | 11.35 | 10.14 | 9.42 | 8.69 | 090
26746 |  | A | Treat finger fracture, each | 5.81 | NA | NA | 8.20 | 7.44 | 0.74 | NA | NA | 14.75 | 13.99 | 090
26750 |  | A | Treat finger fracture, each | 1.70 | 3.35 | 2.74 | 2.21 | 1.88 | 0.19 | 5.24 | 4.63 | 4.10 | 3.77 | 090
26755 |  | A | Treat finger fracture, each | 3.10 | 4.69 | 3.81 | 2.88 | 2.45 | 0.37 | 8.16 | 7.28 | 6.35 | 5.92 | 090
26756 |  | A | Pin finger fracture, each | 4.39 | NA | NA | 8.02 | 6.53 | 0.56 | NA | NA | 12.97 | 11.48 | 090
26765 |  | A | Treat finger fracture, each | 4.17 | NA | NA | 7.17 | 6.10 | 0.51 | NA | NA | 11.85 | 10.78 | 090
26770 |  | A | Treat finger dislocation | 3.02 | 4.47 | 3.56 | 2.54 | 2.11 | 0.27 | 7.76 | 6.85 | 5.83 | 5.40 | 090
26775 |  | A | Treat finger dislocation | 3.71 | 5.76 | 4.63 | 3.73 | 3.11 | 0.43 | 9.90 | 8.77 | 7.87 | 7.25 | 090
26776 |  | A | Pin finger dislocation | 4.80 | NA | NA | 8.16 | 6.69 | 0.63 | NA | NA | 13.59 | 12.12 | 090
26785 |  | A | Treat finger dislocation | 4.21 | NA | NA | 7.14 | 6.16 | 0.54 | NA | NA | 11.89 | 10.91 | 090
26820 |  | A | Thumb fusion with graft | 8.26 | NA | NA | 14.62 | 12.77 | 1.11 | NA | NA | 23.99 | 22.14 | 090
26841 |  | A | Fusion of thumb | 7.13 | NA | NA | 13.55 | 11.84 | 0.97 | NA | NA | 21.65 | 19.94 | 090
26842 |  | A | Thumb fusion with graft | 8.24 | NA | NA | 14.30 | 13.05 | 1.10 | NA | NA | 23.64 | 22.39 | 090
26843 |  | A | Fusion of hand joint | 7.61 | NA | NA | 13.47 | 11.83 | 0.99 | NA | NA | 22.07 | 20.43 | 090
26844 |  | A | Fusion/graft of hand joint | 8.73 | NA | NA | 13.92 | 12.44 | 1.12 | NA | NA | 23.77 | 22.29 | 090
26850 |  | A | Fusion of knuckle | 6.97 | NA | NA | 12.95 | 10.97 | 0.89 | NA | NA | 20.81 | 18.83 | 090
26852 |  | A | Fusion of knuckle with graft | 8.46 | NA | NA | 13.85 | 11.94 | 1.05 | NA | NA | 23.36 | 21.45 | 090
26860 |  | A | Fusion of finger joint | 4.69 | NA | NA | 11.91 | 10.10 | 0.60 | NA | NA | 17.20 | 15.39 | 090
26861 |  | A | Fusion of finger jnt, add-on | 1.74 | NA | NA | 0.97 | 1.25 | 0.22 | NA | NA | 2.93 | 3.21 | ZZZ
26862 |  | A | Fusion/graft of finger joint | 7.37 | NA | NA | 13.47 | 11.50 | 0.92 | NA | NA | 21.76 | 19.79 | 090
26863 |  | A | Fuse/graft added joint | 3.90 | NA | NA | 2.20 | 2.57 | 0.51 | NA | NA | 6.61 | 6.98 | ZZZ
26910 |  | A | Amputate metacarpal bone | 7.60 | NA | NA | 13.09 | 11.22 | 0.90 | NA | NA | 21.59 | 19.72 | 090
26951 |  | A | Amputation of finger/thumb | 4.59 | NA | NA | 11.69 | 9.55 | 0.56 | NA | NA | 16.84 | 14.70 | 090
26952 |  | A | Amputation of finger/thumb | 6.31 | NA | NA | 13.00 | 10.84 | 0.74 | NA | NA | 20.05 | 17.89 | 090
26989 |  | C | Hand/finger surgery | 0.00 | 0.00 | 0.00 | 0.00 | 0.00 | 0.00 | 0.00 | 0.00 | 0.00 | 0.00 | YYY
26990 |  | A | Drainage of pelvis lesion | 7.48 | NA | NA | 14.64 | 11.82 | 0.92 | NA | NA | 23.04 | 20.22 | 090
26991 |  | A | Drainage of pelvis bursa | 6.68 | 10.23 | 8.16 | 9.12 | 7.33 | 0.85 | 17.76 | 15.69 | 16.65 | 14.86 | 090
26992 |  | A | Drainage of bone lesion | 13.02 | NA | NA | 18.42 | 15.55 | 1.75 | NA | NA | 33.19 | 30.32 | 090
27000 |  | A | Incision of hip tendon | 5.62 | NA | NA | 6.94 | 5.71 | 0.76 | NA | NA | 13.32 | 12.09 | 090
27001 |  | A | Incision of hip tendon | 6.94 | NA | NA | 7.78 | 6.47 | 0.95 | NA | NA | 15.67 | 14.36 | 090
27003 |  | A | Incision of hip tendon | 7.34 | NA | NA | 8.47 | 8.19 | 0.93 | NA | NA | 16.74 | 16.46 | 090
27005 |  | A | Incision of hip tendon | 9.66 | NA | NA | 9.89 | 8.33 | 1.36 | NA | NA | 20.91 | 19.35 | 090
27006 |  | A | Incision of hip tendons | 9.68 | NA | NA | 9.82 | 8.63 | 1.33 | NA | NA | 20.83 | 19.64 | 090
27025 |  | A | Incision of hip/thigh fascia | 11.16 | NA | NA | 9.71 | 8.94 | 1.38 | NA | NA | 22.25 | 21.48 | 090
27030 |  | A | Drainage of hip joint | 13.01 | NA | NA | 11.74 | 11.90 | 1.81 | NA | NA | 26.56 | 26.72 | 090
27033 |  | A | Exploration of hip joint | 13.39 | NA | NA | 11.91 | 12.06 | 1.87 | NA | NA | 27.17 | 27.32 | 090
27035 |  | A | Denervation of hip joint | 16.69 | NA | NA | 15.58 | 14.90 | 1.70 | NA | NA | 33.97 | 33.29 | 090
27036 |  | A | Excision of hip joint/muscle | 12.88 | NA | NA | 13.11 | 12.94 | 1.80 | NA | NA | 27.79 | 27.62 | 090
27040 |  | A | Biopsy of soft tissues | 2.87 | 5.79 | 4.54 | 3.67 | 2.95 | 0.21 | 8.87 | 7.62 | 6.75 | 6.03 | 010
27041 |  | A | Biopsy of soft tissues | 9.89 | NA | NA | 8.23 | 6.90 | 1.01 | NA | NA | 19.13 | 17.80 | 090
27047 |  | A | Remove hip/pelvis lesion | 7.45 | 9.26 | 7.46 | 6.90 | 5.69 | 0.79 | 17.50 | 15.70 | 15.14 | 13.93 | 090
27048 |  | A | Remove hip/pelvis lesion | 6.25 | NA | NA | 7.61 | 6.88 | 0.73 | NA | NA | 14.59 | 13.86 | 090
27049 |  | A | Remove tumor, hip/pelvis | 13.66 | NA | NA | 12.83 | 12.37 | 1.60 | NA | NA | 28.09 | 27.63 | 090
27050 |  | A | Biopsy of sacroiliac joint | 4.36 | NA | NA | 6.47 | 6.15 | 0.53 | NA | NA | 11.36 | 11.04 | 090
27052 |  | A | Biopsy of hip joint | 6.23 | NA | NA | 7.70 | 7.63 | 0.85 | NA | NA | 14.78 | 14.71 | 090
27054 |  | A | Removal of hip joint lining | 8.54 | NA | NA | 10.00 | 10.05 | 1.17 | NA | NA | 19.71 | 19.76 | 090
27060 |  | A | Removal of ischial bursa | 5.43 | NA | NA | 7.51 | 6.70 | 0.60 | NA | NA | 13.54 | 12.73 | 090
27062 |  | A | Remove femur lesion/bursa | 5.37 | NA | NA | 6.76 | 6.22 | 0.74 | NA | NA | 12.87 | 12.33 | 090
27065 |  | A | Removal of hip bone lesion | 5.90 | NA | NA | 8.00 | 7.52 | 0.76 | NA | NA | 14.66 | 14.18 | 090
27066 |  | A | Removal of hip bone lesion | 10.33 | NA | NA | 11.59 | 10.84 | 1.42 | NA | NA | 23.34 | 22.59 | 090
27067 |  | A | Remove/graft hip bone lesion | 13.83 | NA | NA | 13.57 | 13.33 | 1.95 | NA | NA | 29.35 | 29.11 | 090
27070 |  | A | Partial removal of hip bone | 10.72 | NA | NA | 15.98 | 14.00 | 1.36 | NA | NA | 28.06 | 26.08 | 090
27071 |  | A | Partial removal of hip bone | 11.46 | NA | NA | 17.00 | 15.06 | 1.51 | NA | NA | 29.97 | 28.03 | 090
27075 |  | A | Extensive hip surgery | 17.23 | NA | NA | 16.36 | 15.94 | 2.22 | NA | NA | 35.81 | 35.39 | 090
27076 |  | A | Extensive hip surgery | 22.12 | NA | NA | 19.45 | 19.03 | 2.86 | NA | NA | 44.43 | 44.01 | 090
27077 |  | A | Extensive hip surgery | 23.13 | NA | NA | 18.67 | 19.15 | 3.18 | NA | NA | 44.98 | 45.46 | 090
27078 |  | A | Extensive hip surgery | 13.44 | NA | NA | 14.31 | 13.23 | 1.67 | NA | NA | 29.42 | 28.34 | 090
27079 |  | A | Extensive hip surgery | 13.75 | NA | NA | 14.21 | 13.00 | 1.86 | NA | NA | 29.82 | 28.61 | 090
27080 |  | A | Removal of tail bone | 6.39 | NA | NA | 7.57 | 6.98 | 0.80 | NA | NA | 14.76 | 14.17 | 090
27086 |  | A | Remove hip foreign body | 1.87 | 5.06 | 3.95 | 3.76 | 2.90 | 0.17 | 7.10 | 5.99 | 5.80 | 4.94 | 010
27087 |  | A | Remove hip foreign body | 8.54 | NA | NA | 8.40 | 7.28 | 1.09 | NA | NA | 18.03 | 16.91 | 090
27090 |  | A | Removal of hip prosthesis | 11.15 | NA | NA | 10.64 | 10.45 | 1.55 | NA | NA | 23.34 | 23.15 | 090
27091 |  | A | Removal of hip prosthesis | 22.14 | NA | NA | 16.74 | 17.93 | 3.11 | NA | NA | 41.99 | 43.18 | 090
27093 |  | A | Injection for hip x-ray | 1.30 | 11.51 | 8.86 | 0.51 | 0.61 | 0.09 | 12.90 | 10.25 | 1.90 | 2.00 | 000
27095 |  | A | Injection for hip x-ray | 1.50 | 9.74 | 7.56 | 0.53 | 0.65 | 0.10 | 11.34 | 9.16 | 2.13 | 2.25 | 000
27096 |  | A | Inject sacroiliac joint | 1.40 | 11.08 | 11.08 | 0.54 | 0.54 | 0.08 | 12.56 | 12.56 | 2.02 | 2.02 | 000
27097 |  | A | Revision of hip tendon | 8.80 | NA | NA | 9.29 | 9.06 | 1.22 | NA | NA | 19.31 | 19.08 | 090
27098 |  | A | Transfer tendon to pelvis | 8.83 | NA | NA | 9.46 | 9.19 | 1.24 | NA | NA | 19.53 | 19.26 | 090
27100 |  | A | Transfer of abdominal muscle | 11.08 | NA | NA | 11.72 | 10.87 | 1.57 | NA | NA | 24.37 | 23.52 | 090
27105 |  | A | Transfer of spinal muscle | 11.77 | NA | NA | 11.73 | 10.40 | 1.66 | NA | NA | 25.16 | 23.83 | 090
27110 |  | A | Transfer of iliopsoas muscle | 13.26 | NA | NA | 11.14 | 11.23 | 1.38 | NA | NA | 25.78 | 25.87 | 090
27111 |  | A | Transfer of iliopsoas muscle | 12.15 | NA | NA | 10.68 | 11.17 | 1.48 | NA | NA | 24.31 | 24.80 | 090
27120 |  | A | Reconstruction of hip socket | 18.01 | NA | NA | 13.95 | 15.37 | 2.45 | NA | NA | 34.41 | 35.83 | 090
27122 |  | A | Reconstruction of hip socket | 14.98 | NA | NA | 13.50 | 14.60 | 2.08 | NA | NA | 30.56 | 31.66 | 090
27125 |  | A | Partial hip replacement | 14.69 | NA | NA | 13.14 | 14.24 | 2.05 | NA | NA | 29.88 | 30.98 | 090
27130 |  | A | Total hip replacement | 20.12 | NA | NA | 16.26 | 18.20 | 2.82 | NA | NA | 39.20 | 41.14 | 090
27132 |  | A | Total hip replacement | 23.30 | NA | NA | 18.07 | 20.51 | 3.26 | NA | NA | 44.63 | 47.07 | 090
27134 |  | A | Revise hip joint replacement | 28.52 | NA | NA | 20.79 | 24.10 | 3.97 | NA | NA | 53.28 | 56.59 | 090
27137 |  | A | Revise hip joint replacement | 21.17 | NA | NA | 16.92 | 19.01 | 2.97 | NA | NA | 41.06 | 43.15 | 090
27138 |  | A | Revise hip joint replacement | 22.17 | NA | NA | 17.49 | 19.69 | 3.11 | NA | NA | 42.77 | 44.97 | 090
27140 |  | A | Transplant femur ridge | 12.24 | NA | NA | 11.32 | 11.49 | 1.67 | NA | NA | 25.23 | 25.40 | 090
27146 |  | A | Incision of hip bone | 17.43 | NA | NA | 15.05 | 14.24 | 2.27 | NA | NA | 34.75 | 33.94 | 090
27147 |  | A | Revision of hip bone | 20.58 | NA | NA | 16.98 | 17.34 | 2.61 | NA | NA | 40.17 | 40.53 | 090
27151 |  | A | Incision of hip bones | 22.51 | NA | NA | 18.71 | 18.84 | 3.12 | NA | NA | 44.34 | 44.47 | 090
27156 |  | A | Revision of hip bones | 24.63 | NA | NA | 19.63 | 19.69 | 3.48 | NA | NA | 47.74 | 47.80 | 090
27158 |  | A | Revision of pelvis | 19.74 | NA | NA | 17.11 | 16.75 | 2.60 | NA | NA | 39.45 | 39.09 | 090
27161 |  | A | Incision of neck of femur | 16.71 | NA | NA | 13.71 | 14.17 | 2.32 | NA | NA | 32.74 | 33.20 | 090
27165 |  | A | Incision/fixation of femur | 17.91 | NA | NA | 14.27 | 15.25 | 2.51 | NA | NA | 34.69 | 35.67 | 090
27170 |  | A | Repair/graft femur head/neck | 16.07 | NA | NA | 13.36 | 14.47 | 2.20 | NA | NA | 31.63 | 32.74 | 090
27175 |  | A | Treat slipped epiphysis | 8.46 | NA | NA | 6.93 | 5.52 | 1.19 | NA | NA | 16.58 | 15.17 | 090
27176 |  | A | Treat slipped epiphysis | 12.05 | NA | NA | 9.74 | 10.13 | 1.68 | NA | NA | 23.47 | 23.86 | 090
27177 |  | A | Treat slipped epiphysis | 15.08 | NA | NA | 11.27 | 11.82 | 2.11 | NA | NA | 28.46 | 29.01 | 090
27178 |  | A | Treat slipped epiphysis | 11.99 | NA | NA | 9.28 | 9.80 | 1.68 | NA | NA | 22.95 | 23.47 | 090
27179 |  | A | Revise head/neck of femur | 12.98 | NA | NA | 9.62 | 10.24 | 1.84 | NA | NA | 24.44 | 25.06 | 090
27181 |  | A | Treat slipped epiphysis | 14.68 | NA | NA | 10.44 | 11.40 | 1.74 | NA | NA | 26.86 | 27.82 | 090
27185 |  | A | Revision of femur epiphysis | 9.18 | NA | NA | 9.66 | 8.00 | 1.29 | NA | NA | 20.13 | 18.47 | 090
27187 |  | A | Reinforce hip bones | 13.54 | NA | NA | 12.74 | 13.60 | 1.89 | NA | NA | 28.17 | 29.03 | 090
27193 |  | A | Treat pelvic ring fracture | 5.56 | 6.96 | 5.88 | 5.22 | 4.57 | 0.77 | 13.29 | 12.21 | 11.55 | 10.90 | 090
27194 |  | A | Treat pelvic ring fracture | 9.65 | 9.13 | 7.91 | 7.47 | 6.66 | 1.32 | 20.10 | 18.88 | 18.44 | 17.63 | 090
27200 |  | A | Treat tail bone fracture | 1.84 | 2.86 | 2.55 | 1.70 | 1.68 | 0.22 | 4.92 | 4.61 | 3.76 | 3.74 | 090
27202 |  | A | Treat tail bone fracture | 7.04 | NA | NA | 18.67 | 15.67 | 0.69 | NA | NA | 26.40 | 23.40 | 090
27215 |  | A | Treat pelvic fracture(s) | 10.05 | NA | NA | 9.86 | 10.40 | 1.37 | NA | NA | 21.28 | 21.82 | 090
27216 |  | A | Treat pelvic ring fracture | 15.19 | NA | NA | 14.71 | 12.20 | 2.15 | NA | NA | 32.05 | 29.54 | 090
27217 |  | A | Treat pelvic ring fracture | 14.11 | NA | NA | 12.20 | 13.10 | 1.95 | NA | NA | 28.26 | 29.16 | 090
27218 |  | A | Treat pelvic ring fracture | 20.15 | NA | NA | 15.73 | 15.75 | 2.85 | NA | NA | 38.73 | 38.75 | 090
27220 |  | A | Treat hip socket fracture | 6.18 | 7.30 | 6.63 | 5.56 | 5.33 | 0.85 | 14.33 | 13.66 | 12.59 | 12.36 | 090
27222 |  | A | Treat hip socket fracture | 12.70 | NA | NA | 9.85 | 9.12 | 1.77 | NA | NA | 24.32 | 23.59 | 090
27226 |  | A | Treat hip wall fracture | 14.91 | NA | NA | 12.71 | 13.82 | 2.07 | NA | NA | 29.69 | 30.80 | 090
27227 |  | A | Treat hip fracture(s) | 23.45 | NA | NA | 16.85 | 17.98 | 3.24 | NA | NA | 43.54 | 44.67 | 090
27228 |  | A | Treat hip fracture(s) | 27.16 | NA | NA | 19.05 | 19.70 | 3.77 | NA | NA | 49.98 | 50.63 | 090
27230 |  | A | Treat thigh fracture | 5.50 | 7.28 | 6.36 | 5.83 | 5.27 | 0.73 | 13.51 | 12.59 | 12.06 | 11.50 | 090
27232 |  | A | Treat thigh fracture | 10.68 | NA | NA | 8.81 | 9.05 | 1.45 | NA | NA | 20.94 | 21.18 | 090
27235 |  | A | Treat thigh fracture | 12.16 | NA | NA | 10.58 | 11.57 | 1.71 | NA | NA | 24.45 | 25.44 | 090
27236 |  | A | Treat thigh fracture | 15.60 | NA | NA | 12.30 | 13.81 | 2.18 | NA | NA | 30.08 | 31.59 | 090
27238 |  | A | Treat thigh fracture | 5.52 | NA | NA | 5.91 | 5.77 | 0.76 | NA | NA | 12.19 | 12.05 | 090
27240 |  | A | Treat thigh fracture | 12.50 | NA | NA | 9.84 | 10.01 | 1.69 | NA | NA | 24.03 | 24.20 | 090
27244 |  | A | Treat thigh fracture | 15.94 | NA | NA | 12.54 | 13.83 | 2.23 | NA | NA | 30.71 | 32.00 | 090
27245 |  | A | Treat thigh fracture | 20.31 | NA | NA | 15.00 | 15.67 | 2.85 | NA | NA | 38.16 | 38.83 | 090
27246 |  | A | Treat thigh fracture | 4.71 | 6.93 | 6.25 | 5.51 | 5.18 | 0.66 | 12.30 | 11.62 | 10.88 | 10.55 | 090
27248 |  | A | Treat thigh fracture | 10.45 | NA | NA | 9.50 | 10.25 | 1.45 | NA | NA | 21.40 | 22.15 | 090
27250 |  | A | Treat hip dislocation | 6.95 | NA | NA | 6.02 | 5.38 | 0.68 | NA | NA | 13.65 | 13.01 | 090
27252 |  | A | Treat hip dislocation | 10.39 | NA | NA | 7.88 | 7.09 | 1.37 | NA | NA | 19.64 | 18.85 | 090
27253 |  | A | Treat hip dislocation | 12.92 | NA | NA | 10.50 | 11.44 | 1.81 | NA | NA | 25.23 | 26.17 | 090
27254 |  | A | Treat hip dislocation | 18.26 | NA | NA | 13.68 | 13.92 | 2.52 | NA | NA | 34.46 | 34.70 | 090
27256 |  | A | Treat hip dislocation | 4.12 | NA | NA | 4.14 | 3.62 | 0.49 | NA | NA | 8.75 | 8.23 | 010
27257 |  | A | Treat hip dislocation | 5.22 | NA | NA | 4.51 | 4.64 | 0.56 | NA | NA | 10.29 | 10.42 | 010
27258 |  | A | Treat hip dislocation | 15.43 | NA | NA | 12.99 | 13.47 | 2.06 | NA | NA | 30.48 | 30.96 | 090
27259 |  | A | Treat hip dislocation | 21.55 | NA | NA | 16.92 | 17.36 | 2.99 | NA | NA | 41.46 | 41.90 | 090
27265 |  | A | Treat hip dislocation | 5.05 | NA | NA | 5.62 | 5.15 | 0.65 | NA | NA | 11.32 | 10.85 | 090
27266 |  | A | Treat hip dislocation | 7.49 | NA | NA | 7.04 | 6.49 | 1.04 | NA | NA | 15.57 | 15.02 | 090
27275 |  | A | Manipulation of hip joint | 2.27 | NA | NA | 3.30 | 2.99 | 0.31 | NA | NA | 5.88 | 5.57 | 010
27280 |  | A | Fusion of sacroiliac joint | 13.39 | NA | NA | 13.47 | 12.83 | 1.98 | NA | NA | 28.84 | 28.20 | 090
27282 |  | A | Fusion of pubic bones | 11.34 | NA | NA | 12.18 | 11.58 | 1.14 | NA | NA | 24.66 | 24.06 | 090
27284 |  | A | Fusion of hip joint | 16.76 | NA | NA | 14.51 | 14.82 | 2.36 | NA | NA | 33.63 | 33.94 | 090
27286 |  | A | Fusion of hip joint | 16.79 | NA | NA | 14.53 | 15.02 | 2.37 | NA | NA | 33.69 | 34.18 | 090
27290 |  | A | Amputation of leg at hip | 23.28 | NA | NA | 16.73 | 19.44 | 2.94 | NA | NA | 42.95 | 45.66 | 090
27295 |  | A | Amputation of leg at hip | 18.65 | NA | NA | 13.87 | 14.89 | 2.35 | NA | NA | 34.87 | 35.89 | 090
27299 |  | C | Pelvis/hip joint surgery | 0.00 | 0.00 | 0.00 | 0.00 | 0.00 | 0.00 | 0.00 | 0.00 | 0.00 | 0.00 | YYY
27301 |  | A | Drain thigh/knee lesion | 6.49 | 15.18 | 12.05 | 13.65 | 10.91 | 0.80 | 22.47 | 19.34 | 20.94 | 18.20 | 090
27303 |  | A | Drainage of bone lesion | 8.28 | NA | NA | 13.62 | 11.81 | 1.14 | NA | NA | 23.04 | 21.23 | 090
27305 |  | A | Incise thigh tendon & fascia | 5.92 | NA | NA | 8.75 | 7.59 | 0.77 | NA | NA | 15.44 | 14.28 | 090
27306 |  | A | Incision of thigh tendon | 4.62 | NA | NA | 7.02 | 5.81 | 0.62 | NA | NA | 12.26 | 11.05 | 090
27307 |  | A | Incision of thigh tendons | 5.80 | NA | NA | 7.66 | 6.56 | 0.78 | NA | NA | 14.24 | 13.14 | 090
27310 |  | A | Exploration of knee joint | 9.27 | NA | NA | 9.47 | 9.71 | 1.29 | NA | NA | 20.03 | 20.27 | 090
27315 |  | A | Partial removal, thigh nerve | 6.97 | NA | NA | 4.59 | 4.90 | 0.79 | NA | NA | 12.35 | 12.66 | 090
27320 |  | A | Partial removal, thigh nerve | 6.30 | NA | NA | 4.32 | 4.65 | 0.78 | NA | NA | 11.40 | 11.73 | 090
27323 |  | A | Biopsy, thigh soft tissues | 2.28 | 5.63 | 4.47 | 3.29 | 2.59 | 0.17 | 8.08 | 6.92 | 5.74 | 5.04 | 010
27324 |  | A | Biopsy, thigh soft tissues | 4.90 | NA | NA | 6.48 | 5.57 | 0.59 | NA | NA | 11.97 | 11.06 | 090
27327 |  | A | Removal of thigh lesion | 4.47 | 8.14 | 6.73 | 6.16 | 5.24 | 0.50 | 13.11 | 11.70 | 11.13 | 10.21 | 090
27328 |  | A | Removal of thigh lesion | 5.57 | NA | NA | 6.74 | 6.16 | 0.66 | NA | NA | 12.97 | 12.39 | 090
27329 |  | A | Remove tumor, thigh/knee | 14.14 | NA | NA | 13.75 | 13.49 | 1.68 | NA | NA | 29.57 | 29.31 | 090
27330 |  | A | Biopsy, knee joint lining | 4.97 | NA | NA | 5.94 | 5.94 | 0.66 | NA | NA | 11.57 | 11.57 | 090
27331 |  | A | Explore/treat knee joint | 5.88 | NA | NA | 7.00 | 7.01 | 0.81 | NA | NA | 13.69 | 13.70 | 090
27332 |  | A | Removal of knee cartilage | 8.27 | NA | NA | 8.35 | 8.73 | 1.15 | NA | NA | 17.77 | 18.15 | 090
27333 |  | A | Removal of knee cartilage | 7.30 | NA | NA | 7.89 | 8.10 | 1.03 | NA | NA | 16.22 | 16.43 | 090
27334 |  | A | Remove knee joint lining | 8.70 | NA | NA | 9.15 | 9.46 | 1.21 | NA | NA | 19.06 | 19.37 | 090
27335 |  | A | Remove knee joint lining | 10.00 | NA | NA | 9.91 | 10.42 | 1.41 | NA | NA | 21.32 | 21.83 | 090
27340 |  | A | Removal of kneecap bursa | 4.18 | NA | NA | 5.58 | 5.23 | 0.58 | NA | NA | 10.34 | 9.99 | 090
27345 |  | A | Removal of knee cyst | 5.92 | NA | NA | 6.91 | 6.71 | 0.81 | NA | NA | 13.64 | 13.44 | 090
27347 |  | A | Remove knee cyst | 5.78 | 2.83 | 2.83 | 2.83 | 2.83 | 0.76 | 9.37 | 9.37 | 9.37 | 9.37 | 090
27350 |  | A | Removal of kneecap | 8.17 | NA | NA | 8.35 | 8.70 | 1.15 | NA | NA | 17.67 | 18.02 | 090
27355 |  | A | Remove femur lesion | 7.65 | NA | NA | 9.58 | 9.24 | 1.07 | NA | NA | 18.30 | 17.96 | 090
27356 |  | A | Remove femur lesion/graft | 9.48 | NA | NA | 10.57 | 10.15 | 1.29 | NA | NA | 21.34 | 20.92 | 090
27357 |  | A | Remove femur lesion/graft | 10.53 | NA | NA | 11.14 | 10.74 | 1.48 | NA | NA | 23.15 | 22.75 | 090
27358 |  | A | Remove femur lesion/fixation | 4.74 | NA | NA | 2.64 | 3.22 | 0.67 | NA | NA | 8.05 | 8.63 | ZZZ
27360 |  | A | Partial removal, leg bone(s) | 10.50 | NA | NA | 17.03 | 15.10 | 1.42 | NA | NA | 28.95 | 27.02 | 090
27365 |  | A | Extensive leg surgery | 16.27 | NA | NA | 13.70 | 14.06 | 2.26 | NA | NA | 32.23 | 32.59 | 090
27370 |  | A | Injection for knee x-ray | 0.96 | 11.76 | 8.98 | 0.35 | 0.43 | 0.06 | 12.78 | 10.00 | 1.37 | 1.45 | 000
27372 |  | A | Removal of foreign body | 5.07 | 8.26 | 7.12 | 6.11 | 5.51 | 0.62 | 13.95 | 12.81 | 11.80 | 11.20 | 090
27380 |  | A | Repair of kneecap tendon | 7.16 | NA | NA | 7.84 | 8.02 | 1.00 | NA | NA | 16.00 | 16.18 | 090
27381 |  | A | Repair/graft kneecap tendon | 10.34 | NA | NA | 9.61 | 10.27 | 1.44 | NA | NA | 21.39 | 22.05 | 090
27385 |  | A | Repair of thigh muscle | 7.76 | NA | NA | 8.19 | 8.46 | 1.09 | NA | NA | 17.04 | 17.31 | 090
27386 |  | A | Repair/graft of thigh muscle | 10.56 | NA | NA | 10.30 | 10.88 | 1.49 | NA | NA | 22.35 | 22.93 | 090
27390 |  | A | Incision of thigh tendon | 5.33 | NA | NA | 7.14 | 6.54 | 0.69 | NA | NA | 13.16 | 12.56 | 090
27391 |  | A | Incision of thigh tendons | 7.20 | NA | NA | 8.32 | 7.71 | 0.99 | NA | NA | 16.51 | 15.90 | 090
27392 |  | A | Incision of thigh tendons | 9.20 | NA | NA | 10.27 | 9.78 | 1.23 | NA | NA | 20.70 | 20.21 | 090
27393 |  | A | Lengthening of thigh tendon | 6.39 | NA | NA | 7.78 | 7.37 | 0.90 | NA | NA | 15.07 | 14.66 | 090
27394 |  | A | Lengthening of thigh tendons | 8.50 | NA | NA | 10.01 | 9.06 | 1.17 | NA | NA | 19.68 | 18.73 | 090
27395 |  | A | Lengthening of thigh tendons | 11.73 | NA | NA | 12.74 | 12.40 | 1.63 | NA | NA | 26.10 | 25.76 | 090
27396 |  | A | Transplant of thigh tendon | 7.86 | NA | NA | 9.71 | 9.20 | 1.11 | NA | NA | 18.68 | 18.17 | 090
27397 |  | A | Transplants of thigh tendons | 11.28 | NA | NA | 11.12 | 10.75 | 1.58 | NA | NA | 23.98 | 23.61 | 090
27400 |  | A | Revise thigh muscles/tendons | 9.02 | NA | NA | 10.60 | 10.09 | 1.18 | NA | NA | 20.80 | 20.29 | 090
27403 |  | A | Repair of knee cartilage | 8.33 | NA | NA | 8.40 | 8.69 | 1.16 | NA | NA | 17.89 | 18.18 | 090
27405 |  | A | Repair of knee ligament | 8.65 | NA | NA | 9.09 | 9.40 | 1.21 | NA | NA | 18.95 | 19.26 | 090
27407 |  | A | Repair of knee ligament | 10.28 | NA | NA | 9.84 | 9.79 | 1.38 | NA | NA | 21.50 | 21.45 | 090
27409 |  | A | Repair of knee ligaments | 12.90 | NA | NA | 11.26 | 12.30 | 1.75 | NA | NA | 25.91 | 26.95 | 090
27418 |  | A | Repair degenerated kneecap | 10.85 | NA | NA | 10.38 | 11.03 | 1.51 | NA | NA | 22.74 | 23.39 | 090
27420 |  | A | Revision of unstable kneecap | 9.83 | NA | NA | 9.27 | 9.89 | 1.38 | NA | NA | 20.48 | 21.10 | 090
27422 |  | A | Revision of unstable kneecap | 9.78 | NA | NA | 9.28 | 9.88 | 1.37 | NA | NA | 20.43 | 21.03 | 090
27424 |  | A | Revision/removal of kneecap | 9.81 | NA | NA | 9.26 | 9.87 | 1.38 | NA | NA | 20.45 | 21.06 | 090
27425 |  | A | Lateral retinacular release | 5.22 | NA | NA | 6.73 | 6.61 | 0.73 | NA | NA | 12.68 | 12.56 | 090
27427 |  | A | Reconstruction, knee | 9.36 | NA | NA | 8.93 | 9.49 | 1.29 | NA | NA | 19.58 | 20.14 | 090
27428 |  | A | Reconstruction, knee | 14.00 | NA | NA | 11.90 | 12.64 | 1.95 | NA | NA | 27.85 | 28.59 | 090
27429 |  | A | Reconstruction, knee | 15.52 | NA | NA | 12.90 | 12.73 | 2.18 | NA | NA | 30.60 | 30.43 | 090
27430 |  | A | Revision of thigh muscles | 9.67 | NA | NA | 9.28 | 9.50 | 1.35 | NA | NA | 20.30 | 20.52 | 090
27435 |  | A | Incision of knee joint | 9.49 | NA | NA | 9.18 | 8.79 | 1.33 | NA | NA | 20.00 | 19.61 | 090
27437 |  | A | Revise kneecap | 8.46 | NA | NA | 9.35 | 9.54 | 1.18 | NA | NA | 18.99 | 19.18 | 090
27438 |  | A | Revise kneecap with implant | 11.23 | NA | NA | 10.53 | 11.25 | 1.56 | NA | NA | 23.32 | 24.04 | 090
27440 |  | A | Revision of knee joint | 10.43 | NA | NA | 10.16 | 10.73 | 1.42 | NA | NA | 22.01 | 22.58 | 090
27441 |  | A | Revision of knee joint | 10.82 | NA | NA | 10.62 | 10.45 | 1.49 | NA | NA | 22.93 | 22.76 | 090
27442 |  | A | Revision of knee joint | 11.89 | NA | NA | 11.14 | 11.91 | 1.68 | NA | NA | 24.71 | 25.48 | 090
27443 |  | A | Revision of knee joint | 10.93 | NA | NA | 10.79 | 11.35 | 1.52 | NA | NA | 23.24 | 23.80 | 090
27445 |  | A | Revision of knee joint | 17.68 | NA | NA | 14.40 | 16.08 | 2.49 | NA | NA | 34.57 | 36.25 | 090
27446 |  | A | Revision of knee joint | 15.84 | NA | NA | 13.47 | 14.83 | 2.22 | NA | NA | 31.53 | 32.89 | 090
27447 |  | A | Total knee replacement | 21.48 | NA | NA | 16.49 | 18.78 | 3.00 | NA | NA | 40.97 | 43.26 | 090
27448 |  | A | Incision of thigh | 11.06 | NA | NA | 11.43 | 11.88 | 1.51 | NA | NA | 24.00 | 24.45 | 090
27450 |  | A | Incision of thigh | 13.98 | NA | NA | 13.08 | 13.84 | 1.96 | NA | NA | 29.02 | 29.78 | 090
27454 |  | A | Realignment of thigh bone | 17.56 | NA | NA | 15.09 | 15.58 | 2.46 | NA | NA | 35.11 | 35.60 | 090
27455 |  | A | Realignment of knee | 12.82 | NA | NA | 11.85 | 12.15 | 1.78 | NA | NA | 26.45 | 26.75 | 090
27457 |  | A | Realignment of knee | 13.45 | NA | NA | 11.12 | 11.95 | 1.88 | NA | NA | 26.45 | 27.28 | 090
27465 |  | A | Shortening of thigh bone | 13.87 | NA | NA | 13.46 | 13.42 | 1.86 | NA | NA | 29.19 | 29.15 | 090
27466 |  | A | Lengthening of thigh bone | 16.33 | NA | NA | 14.73 | 14.69 | 1.92 | NA | NA | 32.98 | 32.94 | 090
27468 |  | A | Shorten/lengthen thighs | 18.97 | NA | NA | 16.62 | 17.04 | 2.68 | NA | NA | 38.27 | 38.69 | 090
27470 |  | A | Repair of thigh | 16.07 | NA | NA | 15.06 | 15.82 | 2.24 | NA | NA | 33.37 | 34.13 | 090
27472 |  | A | Repair/graft of thigh | 17.72 | NA | NA | 15.99 | 17.28 | 2.49 | NA | NA | 36.20 | 37.49 | 090
27475 |  | A | Surgery to stop leg growth | 8.64 | NA | NA | 9.08 | 8.91 | 1.13 | NA | NA | 18.85 | 18.68 | 090
27477 |  | A | Surgery to stop leg growth | 9.85 | NA | NA | 9.19 | 9.83 | 1.31 | NA | NA | 20.35 | 20.99 | 090
27479 |  | A | Surgery to stop leg growth | 12.80 | NA | NA | 10.25 | 10.84 | 1.81 | NA | NA | 24.86 | 25.45 | 090
27485 |  | A | Surgery to stop leg growth | 8.84 | NA | NA | 8.73 | 8.69 | 1.24 | NA | NA | 18.81 | 18.77 | 090
27486 |  | A | Revise/replace knee joint | 19.27 | NA | NA | 15.36 | 17.27 | 2.70 | NA | NA | 37.33 | 39.24 | 090
27487 |  | A | Revise/replace knee joint | 25.27 | NA | NA | 18.66 | 21.53 | 3.54 | NA | NA | 47.47 | 50.34 | 090
27488 |  | A | Removal of knee prosthesis | 15.74 | NA | NA | 13.48 | 14.50 | 2.21 | NA | NA | 31.43 | 32.45 | 090
27495 |  | A | Reinforce thigh | 15.55 | NA | NA | 14.84 | 15.77 | 2.18 | NA | NA | 32.57 | 33.50 | 090
27496 |  | A | Decompression of thigh/knee | 6.11 | NA | NA | 7.19 | 6.62 | 0.77 | NA | NA | 14.07 | 13.50 | 090
27497 |  | A | Decompression of thigh/knee | 7.17 | NA | NA | 7.29 | 6.97 | 0.84 | NA | NA | 15.30 | 14.98 | 090
27498 |  | A | Decompression of thigh/knee | 7.99 | NA | NA | 9.17 | 8.59 | 0.97 | NA | NA | 18.13 | 17.55 | 090
27499 |  | A | Decompression of thigh/knee | 9.00 | NA | NA | 9.05 | 8.76 | 1.18 | NA | NA | 19.23 | 18.94 | 090
27500 |  | A | Treatment of thigh fracture | 5.92 | 9.04 | 8.25 | 7.02 | 6.73 | 0.80 | 15.76 | 14.97 | 13.74 | 13.45 | 090
27501 |  | A | Treatment of thigh fracture | 5.92 | 10.04 | 9.00 | 7.97 | 7.45 | 0.83 | 16.79 | 15.75 | 14.72 | 14.20 | 090
27502 |  | A | Treatment of thigh fracture | 10.58 | NA | NA | 10.58 | 10.02 | 1.49 | NA | NA | 22.65 | 22.09 | 090
27503 |  | A | Treatment of thigh fracture | 10.58 | NA | NA | 10.57 | 10.01 | 1.49 | NA | NA | 22.64 | 22.08 | 090
27506 |  | A | Treatment of thigh fracture | 17.45 | NA | NA | 13.47 | 14.45 | 2.33 | NA | NA | 33.25 | 34.23 | 090
27507 |  | A | Treatment of thigh fracture | 13.99 | NA | NA | 11.88 | 13.09 | 1.95 | NA | NA | 27.82 | 29.03 | 090
27508 |  | A | Treatment of thigh fracture | 5.83 | 7.00 | 6.40 | 5.30 | 5.12 | 0.80 | 13.63 | 13.03 | 11.93 | 11.75 | 090
27509 |  | A | Treatment of thigh fracture | 7.71 | NA | NA | 8.59 | 7.59 | 1.08 | NA | NA | 17.38 | 16.38 | 090
27510 |  | A | Treatment of thigh fracture | 9.13 | NA | NA | 7.16 | 7.22 | 1.26 | NA | NA | 17.55 | 17.61 | 090
27511 |  | A | Treatment of thigh fracture | 13.64 | NA | NA | 12.39 | 13.36 | 1.91 | NA | NA | 27.94 | 28.91 | 090
27513 |  | A | Treatment of thigh fracture | 17.92 | NA | NA | 14.77 | 15.43 | 2.51 | NA | NA | 35.20 | 35.86 | 090
27514 |  | A | Treatment of thigh fracture | 17.30 | NA | NA | 14.24 | 14.96 | 2.41 | NA | NA | 33.95 | 34.67 | 090
27516 |  | A | Treat thigh fx growth plate | 5.37 | 7.49 | 6.93 | 5.77 | 5.64 | 0.74 | 13.60 | 13.04 | 11.88 | 11.75 | 090
27517 |  | A | Treat thigh fx growth plate | 8.78 | 9.64 | 9.35 | 7.70 | 7.90 | 1.22 | 19.64 | 19.35 | 17.70 | 17.90 | 090
27519 |  | A | Treat thigh fx growth plate | 15.02 | NA | NA | 12.63 | 12.91 | 2.09 | NA | NA | 29.74 | 30.02 | 090
27520 |  | A | Treat kneecap fracture | 2.86 | 5.35 | 4.84 | 3.71 | 3.20 | 0.38 | 8.59 | 8.08 | 6.95 | 6.44 | 090
27524 |  | A | Treat kneecap fracture | 10.00 | NA | NA | 8.44 | 9.14 | 1.40 | NA | NA | 19.84 | 20.54 | 090
27530 |  | A | Treat knee fracture | 3.78 | 5.86 | 5.32 | 4.22 | 4.09 | 0.51 | 10.15 | 9.61 | 8.51 | 8.38 | 090
27532 |  | A | Treat knee fracture | 7.30 | 7.46 | 7.14 | 5.67 | 5.79 | 1.02 | 15.78 | 15.46 | 13.99 | 14.11 | 090
27535 |  | A | Treat knee fracture | 11.50 | NA | NA | 11.25 | 11.61 | 1.61 | NA | NA | 24.36 | 24.72 | 090
27536 |  | A | Treat knee fracture | 15.65 | NA | NA | 11.55 | 11.84 | 2.19 | NA | NA | 29.39 | 29.68 | 090
27538 |  | A | Treat knee fracture(s) | 4.87 | 7.41 | 6.47 | 5.38 | 4.95 | 0.67 | 12.95 | 12.01 | 10.92 | 10.49 | 090
27540 |  | A | Treat knee fracture | 13.10 | NA | NA | 9.97 | 10.45 | 1.80 | NA | NA | 24.87 | 25.35 | 090
27550 |  | A | Treat knee dislocation | 5.76 | 7.36 | 6.22 | 5.63 | 4.92 | 0.68 | 13.80 | 12.66 | 12.07 | 11.36 | 090
27552 |  | A | Treat knee dislocation | 7.90 | NA | NA | 7.54 | 6.59 | 1.10 | NA | NA | 16.54 | 15.59 | 090
27556 |  | A | Treat knee dislocation | 14.41 | NA | NA | 13.65 | 13.62 | 2.01 | NA | NA | 30.07 | 30.04 | 090
27557 |  | A | Treat knee dislocation | 16.77 | NA | NA | 14.85 | 15.10 | 2.37 | NA | NA | 33.99 | 34.24 | 090
27558 |  | A | Treat knee dislocation | 17.72 | NA | NA | 15.08 | 15.27 | 2.51 | NA | NA | 35.31 | 35.50 | 090
27560 |  | A | Treat kneecap dislocation | 3.82 | 5.86 | 4.78 | 3.93 | 3.34 | 0.40 | 10.08 | 9.00 | 8.15 | 7.56 | 090
27562 |  | A | Treat kneecap dislocation | 5.79 | NA | NA | 5.36 | 5.43 | 0.69 | NA | NA | 11.84 | 11.91 | 090
27566 |  | A | Treat kneecap dislocation | 12.23 | NA | NA | 9.80 | 10.22 | 1.73 | NA | NA | 23.76 | 24.18 | 090
27570 |  | A | Fixation of knee joint | 1.74 | NA | NA | 2.98 | 2.70 | 0.24 | NA | NA | 4.96 | 4.68 | 010
27580 |  | A | Fusion of knee | 19.37 | NA | NA | 15.72 | 16.05 | 2.70 | NA | NA | 37.79 | 38.12 | 090
27590 |  | A | Amputate leg at thigh | 12.03 | NA | NA | 12.53 | 11.87 | 1.35 | NA | NA | 25.91 | 25.25 | 090
27591 |  | A | Amputate leg at thigh | 12.68 | NA | NA | 13.48 | 13.30 | 1.63 | NA | NA | 27.79 | 27.61 | 090
27592 |  | A | Amputate leg at thigh | 10.02 | NA | NA | 11.99 | 11.19 | 1.17 | NA | NA | 23.18 | 22.38 | 090
27594 |  | A | Amputation follow-up surgery | 6.92 | NA | NA | 8.93 | 7.69 | 0.82 | NA | NA | 16.67 | 15.43 | 090
27596 |  | A | Amputation follow-up surgery | 10.60 | NA | NA | 12.23 | 11.17 | 1.24 | NA | NA | 24.07 | 23.01 | 090
27598 |  | A | Amputate lower leg at knee | 10.53 | NA | NA | 11.03 | 11.00 | 1.24 | NA | NA | 22.80 | 22.77 | 090
27599 |  | C | Leg surgery procedure | 0.00 | 0.00 | 0.00 | 0.00 | 0.00 | 0.00 | 0.00 | 0.00 | 0.00 | 0.00 | YYY
27600 |  | A | Decompression of lower leg | 5.65 | NA | NA | 8.30 | 7.15 | 0.68 | NA | NA | 14.63 | 13.48 | 090
27601 |  | A | Decompression of lower leg | 5.64 | NA | NA | 7.26 | 6.36 | 0.69 | NA | NA | 13.59 | 12.69 | 090
27602 |  | A | Decompression of lower leg | 7.35 | NA | NA | 8.37 | 7.38 | 0.85 | NA | NA | 16.57 | 15.58 | 090
27603 |  | A | Drain lower leg lesion | 4.94 | 15.25 | 12.08 | 10.14 | 8.25 | 0.56 | 20.75 | 17.58 | 15.64 | 13.75 | 090
27604 |  | A | Drain lower leg bursa | 4.47 | 10.40 | 8.08 | 7.72 | 5.93 | 0.54 | 15.41 | 13.09 | 12.73 | 10.94 | 090
27605 |  | A | Incision of achilles tendon | 2.87 | 9.66 | 7.57 | 3.62 | 3.04 | 0.38 | 12.91 | 10.82 | 6.87 | 6.29 | 010
27606 |  | A | Incision of achilles tendon | 4.14 | 11.59 | 9.27 | 4.73 | 4.12 | 0.57 | 16.30 | 13.98 | 9.44 | 8.83 | 010
27607 |  | A | Treat lower leg bone lesion | 7.97 | NA | NA | 12.76 | 11.20 | 1.08 | NA | NA | 21.81 | 20.25 | 090
27610 |  | A | Explore/treat ankle joint | 8.34 | NA | NA | 9.82 | 9.38 | 1.15 | NA | NA | 19.31 | 18.87 | 090
27612 |  | A | Exploration of ankle joint | 7.33 | NA | NA | 7.55 | 7.83 | 1.01 | NA | NA | 15.89 | 16.17 | 090
27613 |  | A | Biopsy lower leg soft tissue | 2.17 | 5.55 | 4.35 | 3.04 | 2.37 | 0.16 | 7.88 | 6.68 | 5.37 | 4.70 | 010
27614 |  | A | Biopsy lower leg soft tissue | 5.66 | 11.19 | 9.01 | 6.79 | 5.71 | 0.62 | 17.47 | 15.29 | 13.07 | 11.99 | 090
27615 |  | A | Remove tumor, lower leg | 12.56 | NA | NA | 16.21 | 14.39 | 1.39 | NA | NA | 30.16 | 28.34 | 090
27618 |  | A | Remove lower leg lesion | 5.09 | 10.82 | 8.69 | 6.35 | 5.33 | 0.54 | 16.45 | 14.32 | 11.98 | 10.96 | 090
27619 |  | A | Remove lower leg lesion | 8.40 | 13.17 | 11.00 | 8.85 | 7.76 | 1.01 | 22.58 | 20.41 | 18.26 | 17.17 | 090
27620 |  | A | Explore/treat ankle joint | 5.98 | NA | NA | 7.30 | 7.11 | 0.83 | NA | NA | 14.11 | 13.92 | 090
27625 |  | A | Remove ankle joint lining | 8.30 | NA | NA | 9.11 | 9.20 | 1.16 | NA | NA | 18.57 | 18.66 | 090
27626 |  | A | Remove ankle joint lining | 8.91 | NA | NA | 9.78 | 10.00 | 1.23 | NA | NA | 19.92 | 20.14 | 090
27630 |  | A | Removal of tendon lesion | 4.80 | 11.16 | 9.21 | 6.56 | 5.76 | 0.60 | 16.56 | 14.61 | 11.96 | 11.16 | 090
27635 |  | A | Remove lower leg bone lesion | 7.78 | NA | NA | 10.30 | 9.91 | 1.06 | NA | NA | 19.14 | 18.75 | 090
27637 |  | A | Remove/graft leg bone lesion | 9.85 | NA | NA | 11.57 | 10.98 | 1.38 | NA | NA | 22.80 | 22.21 | 090
27638 |  | A | Remove/graft leg bone lesion | 10.57 | NA | NA | 12.06 | 11.53 | 1.47 | NA | NA | 24.10 | 23.57 | 090
27640 |  | A | Partial removal of tibia | 11.37 | NA | NA | 16.89 | 15.33 | 1.54 | NA | NA | 29.80 | 28.24 | 090
27641 |  | A | Partial removal of fibula | 9.24 | NA | NA | 14.87 | 13.09 | 1.22 | NA | NA | 25.33 | 23.55 | 090
27645 |  | A | Extensive lower leg surgery | 14.17 | NA | NA | 16.86 | 15.80 | 1.98 | NA | NA | 33.01 | 31.95 | 090
27646 |  | A | Extensive lower leg surgery | 12.66 | NA | NA | 15.44 | 14.50 | 1.55 | NA | NA | 29.65 | 28.71 | 090
27647 |  | A | Extensive ankle/heel surgery | 12.24 | NA | NA | 10.73 | 10.75 | 1.64 | NA | NA | 24.61 | 24.63 | 090
27648 |  | A | Injection for ankle x-ray | 0.96 | 8.98 | 6.88 | 0.35 | 0.40 | 0.05 | 9.99 | 7.89 | 1.36 | 1.41 | 000
27650 |  | A | Repair achilles tendon | 9.69 | NA | NA | 8.93 | 9.14 | 1.35 | NA | NA | 19.97 | 20.18 | 090
27652 |  | A | Repair/graft achilles tendon | 10.33 | NA | NA | 9.27 | 9.78 | 1.45 | NA | NA | 21.05 | 21.56 | 090
27654 |  | A | Repair of achilles tendon | 10.02 | NA | NA | 9.55 | 10.13 | 1.41 | NA | NA | 20.98 | 21.56 | 090
27656 |  | A | Repair leg fascia defect | 4.57 | 12.31 | 10.10 | 6.00 | 5.36 | 0.48 | 17.36 | 15.15 | 11.05 | 10.41 | 090
27658 |  | A | Repair of leg tendon, each | 4.98 | 14.14 | 11.70 | 8.23 | 7.26 | 0.68 | 19.80 | 17.36 | 13.89 | 12.92 | 090
27659 |  | A | Repair of leg tendon, each | 6.81 | 16.73 | 14.14 | 9.20 | 8.49 | 0.96 | 24.50 | 21.91 | 16.97 | 16.26 | 090
27664 |  | A | Repair of leg tendon, each | 4.59 | 11.88 | 9.84 | 8.14 | 7.03 | 0.63 | 17.10 | 15.06 | 13.36 | 12.25 | 090
27665 |  | A | Repair of leg tendon, each | 5.40 | 13.35 | 11.36 | 8.23 | 7.52 | 0.75 | 19.50 | 17.51 | 14.38 | 13.67 | 090
27675 |  | A | Repair lower leg tendons | 7.18 | NA | NA | 7.43 | 7.31 | 1.01 | NA | NA | 15.62 | 15.50 | 090
27676 |  | A | Repair lower leg tendons | 8.42 | NA | NA | 8.72 | 8.59 | 1.15 | NA | NA | 18.29 | 18.16 | 090
27680 |  | A | Release of lower leg tendon | 5.74 | NA | NA | 7.46 | 6.71 | 0.80 | NA | NA | 14.00 | 13.25 | 090
27681 |  | A | Release of lower leg tendons | 6.82 | NA | NA | 7.49 | 7.24 | 0.92 | NA | NA | 15.23 | 14.98 | 090
27685 |  | A | Revision of lower leg tendon | 6.50 | 10.15 | 8.65 | 7.65 | 6.78 | 0.91 | 17.56 | 16.06 | 15.06 | 14.19 | 090
27686 |  | A | Revise lower leg tendons | 7.46 | 16.51 | 14.16 | 9.24 | 8.71 | 1.05 | 25.02 | 22.67 | 17.75 | 17.22 | 090
27687 |  | A | Revision of calf tendon | 6.24 | NA | NA | 7.74 | 7.28 | 0.88 | NA | NA | 14.86 | 14.40 | 090
27690 |  | A | Revise lower leg tendon | 8.71 | NA | NA | 8.69 | 8.35 | 1.22 | NA | NA | 18.62 | 18.28 | 090
27691 |  | A | Revise lower leg tendon | 9.96 | NA | NA | 10.27 | 9.84 | 1.40 | NA | NA | 21.63 | 21.20 | 090
27692 |  | A | Revise additional leg tendon | 1.87 | NA | NA | 0.98 | 1.29 | 0.26 | NA | NA | 3.11 | 3.42 | ZZZ
27695 |  | A | Repair of ankle ligament | 6.51 | NA | NA | 8.47 | 8.30 | 0.90 | NA | NA | 15.88 | 15.71 | 090
27696 |  | A | Repair of ankle ligaments | 8.27 | NA | NA | 8.94 | 8.62 | 1.16 | NA | NA | 18.37 | 18.05 | 090
27698 |  | A | Repair of ankle ligament | 9.36 | NA | NA | 8.65 | 9.28 | 1.31 | NA | NA | 19.32 | 19.95 | 090
27700 |  | A | Revision of ankle joint | 9.29 | NA | NA | 7.33 | 8.27 | 1.24 | NA | NA | 17.86 | 18.80 | 090
27702 |  | A | Reconstruct ankle joint | 13.67 | NA | NA | 12.29 | 13.30 | 1.92 | NA | NA | 27.88 | 28.89 | 090
27703 |  | A | Reconstruction, ankle joint | 15.87 | NA | NA | 13.62 | 13.97 | 2.24 | NA | NA | 31.73 | 32.08 | 090
27704 |  | A | Removal of ankle implant | 7.62 | NA | NA | 7.29 | 7.05 | 0.61 | NA | NA | 15.52 | 15.28 | 090
27705 |  | A | Incision of tibia | 10.38 | NA | NA | 10.87 | 11.07 | 1.44 | NA | NA | 22.69 | 22.89 | 090
27707 |  | A | Incision of fibula | 4.37 | NA | NA | 7.71 | 7.07 | 0.60 | NA | NA | 12.68 | 12.04 | 090
27709 |  | A | Incision of tibia & fibula | 9.95 | NA | NA | 10.78 | 11.06 | 1.39 | NA | NA | 22.12 | 22.40 | 090
27712 |  | A | Realignment of lower leg | 14.25 | NA | NA | 12.92 | 12.67 | 2.00 | NA | NA | 29.17 | 28.92 | 090
27715 |  | A | Revision of lower leg | 14.39 | NA | NA | 14.13 | 14.02 | 2.00 | NA | NA | 30.52 | 30.41 | 090
27720 |  | A | Repair of tibia | 11.79 | NA | NA | 12.73 | 13.07 | 1.66 | NA | NA | 26.18 | 26.52 | 090
27722 |  | A | Repair/graft of tibia | 11.82 | NA | NA | 12.32 | 12.09 | 1.65 | NA | NA | 25.79 | 25.56 | 090
27724 |  | A | Repair/graft of tibia | 14.99 | NA | NA | 14.51 | 15.09 | 2.10 | NA | NA | 31.60 | 32.18 | 090
27725 |  | A | Repair of lower leg | 15.59 | NA | NA | 14.91 | 14.01 | 2.20 | NA | NA | 32.70 | 31.80 | 090
27727 |  | A | Repair of lower leg | 14.01 | NA | NA | 12.43 | 11.87 | 1.84 | NA | NA | 28.28 | 27.72 | 090
27730 |  | A | Repair of tibia epiphysis | 7.41 | 14.49 | 11.84 | 9.62 | 8.19 | 0.75 | 22.65 | 20.00 | 17.78 | 16.35 | 090
27732 |  | A | Repair of fibula epiphysis | 5.32 | 11.89 | 10.23 | 8.26 | 7.51 | 0.63 | 17.84 | 16.18 | 14.21 | 13.46 | 090
27734 |  | A | Repair lower leg epiphyses | 8.48 | NA | NA | 9.04 | 8.83 | 0.85 | NA | NA | 18.37 | 18.16 | 090
27740 |  | A | Repair of leg epiphyses | 9.30 | 15.25 | 13.71 | 10.51 | 10.15 | 1.31 | 25.86 | 24.32 | 21.12 | 20.76 | 090
27742 |  | A | Repair of leg epiphyses | 10.30 | 15.64 | 14.25 | 11.09 | 10.84 | 1.55 | 27.49 | 26.10 | 22.94 | 22.69 | 090
27745 |  | A | Reinforce tibia | 10.07 | NA | NA | 10.84 | 10.56 | 1.38 | NA | NA | 22.29 | 22.01 | 090
27750 |  | A | Treatment of tibia fracture | 3.19 | 5.51 | 5.07 | 3.89 | 3.85 | 0.43 | 9.13 | 8.69 | 7.51 | 7.47 | 090
27752 |  | A | Treatment of tibia fracture | 5.84 | 7.97 | 7.36 | 5.99 | 5.87 | 0.82 | 14.63 | 14.02 | 12.65 | 12.53 | 090
27756 |  | A | Treatment of tibia fracture | 6.78 | NA | NA | 9.99 | 9.52 | 0.94 | NA | NA | 17.71 | 17.24 | 090
27758 |  | A | Treatment of tibia fracture | 11.67 | NA | NA | 11.09 | 11.80 | 1.52 | NA | NA | 24.28 | 24.99 | 090
27759 |  | A | Treatment of tibia fracture | 13.76 | NA | NA | 12.66 | 13.22 | 1.93 | NA | NA | 28.35 | 28.91 | 090
27760 |  | A | Treatment of ankle fracture | 3.01 | 5.29 | 4.67 | 3.76 | 3.17 | 0.39 | 8.69 | 8.07 | 7.16 | 6.57 | 090
27762 |  | A | Treatment of ankle fracture | 5.25 | 7.52 | 6.55 | 5.57 | 5.09 | 0.71 | 13.48 | 12.51 | 11.53 | 11.05 | 090
27766 |  | A | Treatment of ankle fracture | 8.36 | NA | NA | 8.05 | 8.17 | 1.17 | NA | NA | 17.58 | 17.70 | 090
27780 |  | A | Treatment of fibula fracture | 2.65 | 5.23 | 4.46 | 3.56 | 2.94 | 0.33 | 8.21 | 7.44 | 6.54 | 5.92 | 090
27781 |  | A | Treatment of fibula fracture | 4.40 | 6.42 | 5.71 | 4.48 | 4.25 | 0.57 | 11.39 | 10.68 | 9.45 | 9.22 | 090
27784 |  | A | Treatment of fibula fracture | 7.11 | NA | NA | 7.99 | 7.51 | 0.98 | NA | NA | 16.08 | 15.60 | 090
27786 |  | A | Treatment of ankle fracture | 2.84 | 5.26 | 4.63 | 3.68 | 3.10 | 0.37 | 8.47 | 7.84 | 6.89 | 6.31 | 090
27788 |  | A | Treatment of ankle fracture | 4.45 | 6.42 | 5.70 | 4.52 | 3.84 | 0.61 | 11.48 | 10.76 | 9.58 | 8.90 | 090
27792 |  | A | Treatment of ankle fracture | 7.66 | NA | NA | 7.63 | 7.73 | 1.07 | NA | NA | 16.36 | 16.46 | 090
27808 |  | A | Treatment of ankle fracture | 2.83 | 6.23 | 5.43 | 4.35 | 4.02 | 0.38 | 9.44 | 8.64 | 7.56 | 7.23 | 090
27810 |  | A | Treatment of ankle fracture | 5.13 | 7.49 | 6.99 | 5.55 | 5.53 | 0.71 | 13.33 | 12.83 | 11.39 | 11.37 | 090
27814 |  | A | Treatment of ankle fracture | 10.68 | NA | NA | 10.24 | 10.39 | 1.50 | NA | NA | 22.42 | 22.57 | 090
27816 |  | A | Treatment of ankle fracture | 2.89 | 5.84 | 5.32 | 4.38 | 4.15 | 0.37 | 9.10 | 8.58 | 7.64 | 7.41 | 090
27818 |  | A | Treatment of ankle fracture | 5.50 | 7.69 | 7.41 | 5.72 | 5.93 | 0.74 | 13.93 | 13.65 | 11.96 | 12.17 | 090
27822 |  | A | Treatment of ankle fracture | 9.20 | NA | NA | 11.23 | 11.17 | 1.29 | NA | NA | 21.72 | 21.66 | 090
27823 |  | A | Treatment of ankle fracture | 11.80 | NA | NA | 12.62 | 12.94 | 1.65 | NA | NA | 26.07 | 26.39 | 090
27824 |  | A | Treat lower leg fracture | 2.89 | 6.25 | 5.63 | 4.35 | 4.13 | 0.39 | 9.53 | 8.91 | 7.63 | 7.41 | 090
27825 |  | A | Treat lower leg fracture | 6.19 | 8.07 | 7.82 | 6.16 | 6.39 | 0.85 | 15.11 | 14.86 | 13.20 | 13.43 | 090
27826 |  | A | Treat lower leg fracture | 8.54 | NA | NA | 10.87 | 10.70 | 1.19 | NA | NA | 20.60 | 20.43 | 090
27827 |  | A | Treat lower leg fracture | 14.06 | NA | NA | 13.95 | 13.64 | 1.96 | NA | NA | 29.97 | 29.66 | 090
27828 |  | A | Treat lower leg fracture | 16.23 | NA | NA | 15.10 | 14.80 | 2.27 | NA | NA | 33.60 | 33.30 | 090
27829 |  | A | Treat lower leg joint | 5.49 | NA | NA | 7.87 | 7.54 | 0.77 | NA | NA | 14.13 | 13.80 | 090
27830 |  | A | Treat lower leg dislocation | 3.79 | 4.80 | 4.48 | 4.25 | 4.07 | 0.44 | 9.03 | 8.71 | 8.48 | 8.30 | 090
27831 |  | A | Treat lower leg dislocation | 4.56 | NA | NA | 4.96 | 4.80 | 0.61 | NA | NA | 10.13 | 9.97 | 090
27832 |  | A | Treat lower leg dislocation | 6.49 | NA | NA | 7.75 | 7.36 | 0.91 | NA | NA | 15.15 | 14.76 | 090
27840 |  | A | Treat ankle dislocation | 4.58 | NA | NA | 5.55 | 4.67 | 0.47 | NA | NA | 10.60 | 9.72 | 090
27842 |  | A | Treat ankle dislocation | 6.21 | NA | NA | 4.89 | 4.27 | 0.76 | NA | NA | 11.86 | 11.24 | 090
27846 |  | A | Treat ankle dislocation | 9.79 | NA | NA | 9.76 | 9.65 | 1.36 | NA | NA | 20.91 | 20.80 | 090
27848 |  | A | Treat ankle dislocation | 11.20 | NA | NA | 10.89 | 10.44 | 1.55 | NA | NA | 23.64 | 23.19 | 090
27860 |  | A | Fixation of ankle joint | 2.34 | NA | NA | 3.48 | 2.99 | 0.31 | NA | NA | 6.13 | 5.64 | 010
27870 |  | A | Fusion of ankle joint | 13.91 | NA | NA | 12.91 | 13.30 | 1.95 | NA | NA | 28.77 | 29.16 | 090
27871 |  | A | Fusion of tibiofibular joint | 9.17 | NA | NA | 10.24 | 9.79 | 1.29 | NA | NA | 20.70 | 20.25 | 090
27880 |  | A | Amputation of lower leg | 11.85 | NA | NA | 11.75 | 11.08 | 1.38 | NA | NA | 24.98 | 24.31 | 090
27881 |  | A | Amputation of lower leg | 12.34 | NA | NA | 12.81 | 12.54 | 1.59 | NA | NA | 26.74 | 26.47 | 090
27882 |  | A | Amputation of lower leg | 8.94 | NA | NA | 12.92 | 11.69 | 1.03 | NA | NA | 22.89 | 21.66 | 090
27884 |  | A | Amputation follow-up surgery | 8.21 | NA | NA | 10.37 | 8.69 | 0.95 | NA | NA | 19.53 | 17.85 | 090
27886 |  | A | Amputation follow-up surgery | 9.32 | NA | NA | 10.99 | 10.19 | 1.13 | NA | NA | 21.44 | 20.64 | 090
27888 |  | A | Amputation of foot at ankle | 9.67 | NA | NA | 10.32 | 10.32 | 1.26 | NA | NA | 21.25 | 21.25 | 090
27889 |  | A | Amputation of foot at ankle | 9.98 | NA | NA | 10.65 | 10.28 | 1.19 | NA | NA | 21.82 | 21.45 | 090
27892 |  | A | Decompression of leg | 7.39 | NA | NA | 8.08 | 6.98 | 0.86 | NA | NA | 16.33 | 15.23 | 090
27893 |  | A | Decompression of leg | 7.35 | NA | NA | 8.38 | 7.20 | 0.90 | NA | NA | 16.63 | 15.45 | 090
27894 |  | A | Decompression of leg | 10.49 | NA | NA | 9.43 | 8.17 | 1.25 | NA | NA | 21.17 | 19.91 | 090
27899 |  | C | Leg/ankle surgery procedure | 0.00 | 0.00 | 0.00 | 0.00 | 0.00 | 0.00 | 0.00 | 0.00 | 0.00 | 0.00 | YYY
28001 |  | A | Drainage of bursa of foot | 2.73 | 4.58 | 3.58 | 2.84 | 2.20 | 0.31 | 7.62 | 6.62 | 5.88 | 5.24 | 010
28002 |  | A | Treatment of foot infection | 4.62 | 6.18 | 5.25 | 4.09 | 3.68 | 0.56 | 11.36 | 10.43 | 9.27 | 8.86 | 010
28003 |  | A | Treatment of foot infection | 8.41 | 9.97 | 8.43 | 9.86 | 7.87 | 1.03 | 19.41 | 17.87 | 19.30 | 17.31 | 090
28005 |  | A | Treat foot bone lesion | 8.68 | NA | NA | 9.49 | 8.23 | 1.14 | NA | NA | 19.31 | 18.05 | 090
28008 |  | A | Incision of foot fascia | 4.45 | 6.80 | 5.83 | 5.72 | 5.02 | 0.56 | 11.81 | 10.84 | 10.73 | 10.03 | 090
28010 |  | A | Incision of toe tendon | 2.84 | 6.20 | 5.63 | 4.50 | 3.87 | 0.39 | 9.43 | 8.86 | 7.73 | 7.10 | 090
28011 |  | A | Incision of toe tendons | 4.14 | 8.18 | 6.62 | 6.03 | 4.76 | 0.58 | 12.90 | 11.34 | 10.75 | 9.48 | 090
28020 |  | A | Exploration of foot joint | 5.01 | 8.29 | 7.41 | 5.73 | 5.49 | 0.64 | 13.94 | 13.06 | 11.38 | 11.14 | 090
28022 |  | A | Exploration of foot joint | 4.67 | 7.49 | 6.36 | 5.57 | 4.55 | 0.62 | 12.78 | 11.65 | 10.86 | 9.84 | 090
28024 |  | A | Exploration of toe joint | 4.38 | 7.22 | 6.06 | 5.87 | 4.73 | 0.50 | 12.10 | 10.94 | 10.75 | 9.61 | 090
28030 |  | A | Removal of foot nerve | 6.15 | NA | NA | 3.42 | 3.63 | 0.85 | NA | NA | 10.42 | 10.63 | 090
28035 |  | A | Decompression of tibia nerve | 5.09 | 8.79 | 8.27 | 4.93 | 5.22 | 0.71 | 14.59 | 14.07 | 10.73 | 11.02 | 090
28043 |  | A | Excision of foot lesion | 3.54 | 6.50 | 5.35 | 4.60 | 3.92 | 0.45 | 10.49 | 9.34 | 8.59 | 7.91 | 090
28045 |  | A | Excision of foot lesion | 4.72 | 6.87 | 6.24 | 5.17 | 4.96 | 0.62 | 12.21 | 11.58 | 10.51 | 10.30 | 090
28046 |  | A | Resection of tumor, foot | 10.18 | 11.78 | 10.29 | 10.23 | 9.13 | 1.13 | 23.09 | 21.60 | 21.54 | 20.44 | 090
28050 |  | A | Biopsy of foot joint lining | 4.25 | 5.95 | 5.51 | 5.18 | 4.93 | 0.55 | 10.75 | 10.31 | 9.98 | 9.73 | 090
28052 |  | A | Biopsy of foot joint lining | 3.94 | 7.42 | 6.60 | 5.25 | 4.46 | 0.51 | 11.87 | 11.05 | 9.70 | 8.91 | 090
28054 |  | A | Biopsy of toe joint lining | 3.45 | 7.01 | 5.87 | 4.99 | 4.35 | 0.45 | 10.91 | 9.77 | 8.89 | 8.25 | 090
28060 |  | A | Partial removal, foot fascia | 5.23 | 7.61 | 6.85 | 5.82 | 5.51 | 0.69 | 13.53 | 12.77 | 11.74 | 11.43 | 090
28062 |  | A | Removal of foot fascia | 6.52 | 8.52 | 8.31 | 5.86 | 6.31 | 0.85 | 15.89 | 15.68 | 13.23 | 13.68 | 090
28070 |  | A | Removal of foot joint lining | 5.10 | 7.75 | 7.03 | 5.38 | 5.25 | 0.68 | 13.53 | 12.81 | 11.16 | 11.03 | 090
28072 |  | A | Removal of foot joint lining | 4.58 | 7.27 | 6.32 | 6.08 | 5.43 | 0.64 | 12.49 | 11.54 | 11.30 | 10.65 | 090
28080 |  | A | Removal of foot lesion | 3.58 | 6.67 | 6.11 | 4.81 | 4.71 | 0.50 | 10.75 | 10.19 | 8.89 | 8.79 | 090
28086 |  | A | Excise foot tendon sheath | 4.78 | 10.76 | 8.92 | 6.67 | 5.85 | 0.66 | 16.20 | 14.36 | 12.11 | 11.29 | 090
28088 |  | A | Excise foot tendon sheath | 3.86 | 7.94 | 6.94 | 5.80 | 5.33 | 0.52 | 12.32 | 11.32 | 10.18 | 9.71 | 090
28090 |  | A | Removal of foot lesion | 4.41 | 6.96 | 6.04 | 5.03 | 4.59 | 0.57 | 11.94 | 11.02 | 10.01 | 9.57 | 090
28092 |  | A | Removal of toe lesions | 3.64 | 7.43 | 6.12 | 5.32 | 4.54 | 0.46 | 11.53 | 10.22 | 9.42 | 8.64 | 090
28100 |  | A | Removal of ankle/heel lesion | 5.66 | 10.71 | 9.28 | 6.99 | 6.49 | 0.76 | 17.13 | 15.70 | 13.41 | 12.91 | 090
28102 |  | A | Remove/graft foot lesion | 7.73 | NA | NA | 7.90 | 7.78 | 0.97 | NA | NA | 16.60 | 16.48 | 090
28103 |  | A | Remove/graft foot lesion | 6.50 | 10.68 | 9.53 | 6.98 | 6.76 | 0.89 | 18.07 | 16.92 | 14.37 | 14.15 | 090
28104 |  | A | Removal of foot lesion | 5.12 | 8.02 | 7.19 | 6.16 | 5.80 | 0.69 | 13.83 | 13.00 | 11.97 | 11.61 | 090
28106 |  | A | Remove/graft foot lesion | 7.16 | NA | NA | 5.83 | 6.12 | 1.01 | NA | NA | 14.00 | 14.29 | 090
28107 |  | A | Remove/graft foot lesion | 5.56 | 8.54 | 7.72 | 6.23 | 5.99 | 0.74 | 14.84 | 14.02 | 12.53 | 12.29 | 090
28108 |  | A | Removal of toe lesions | 4.16 | 6.25 | 5.83 | 4.74 | 4.13 | 0.52 | 10.93 | 10.51 | 9.42 | 8.81 | 090
28110 |  | A | Part removal of metatarsal | 4.08 | 7.68 | 6.71 | 5.99 | 5.44 | 0.49 | 12.25 | 11.28 | 10.56 | 10.01 | 090
28111 |  | A | Part removal of metatarsal | 5.01 | 10.30 | 9.09 | 6.96 | 6.59 | 0.63 | 15.94 | 14.73 | 12.60 | 12.23 | 090
28112 |  | A | Part removal of metatarsal | 4.49 | 9.00 | 7.83 | 6.61 | 6.03 | 0.60 | 14.09 | 12.92 | 11.70 | 11.12 | 090
28113 |  | A | Part removal of metatarsal | 4.79 | 8.22 | 7.37 | 6.35 | 5.97 | 0.63 | 13.64 | 12.79 | 11.77 | 11.39 | 090
28114 |  | A | Removal of metatarsal heads | 9.79 | 14.40 | 13.29 | 9.94 | 9.94 | 1.36 | 25.55 | 24.44 | 21.09 | 21.09 | 090
28116 |  | A | Revision of foot | 7.75 | 8.00 | 7.49 | 6.35 | 6.25 | 1.03 | 16.78 | 16.27 | 15.13 | 15.03 | 090
28118 |  | A | Removal of heel bone | 5.96 | 9.13 | 8.40 | 6.30 | 6.28 | 0.79 | 15.88 | 15.15 | 13.05 | 13.03 | 090
28119 |  | A | Removal of heel spur | 5.39 | 7.33 | 6.97 | 5.38 | 5.51 | 0.74 | 13.46 | 13.10 | 11.51 | 11.64 | 090
28120 |  | A | Part removal of ankle/heel | 5.40 | 11.67 | 10.12 | 8.70 | 7.89 | 0.69 | 17.76 | 16.21 | 14.79 | 13.98 | 090
28122 |  | A | Partial removal of foot bone | 7.29 | 10.13 | 8.81 | 8.40 | 7.52 | 0.96 | 18.38 | 17.06 | 16.65 | 15.77 | 090
28124 |  | A | Partial removal of toe | 4.81 | 7.79 | 6.96 | 6.63 | 5.53 | 0.65 | 13.25 | 12.42 | 12.09 | 10.99 | 090
28126 |  | A | Partial removal of toe | 3.52 | 6.68 | 6.09 | 6.12 | 5.13 | 0.49 | 10.69 | 10.10 | 10.13 | 9.14 | 090
28130 |  | A | Removal of ankle bone | 8.11 | NA | NA | 7.84 | 7.79 | 1.11 | NA | NA | 17.06 | 17.01 | 090
28140 |  | A | Removal of metatarsal | 6.91 | 10.71 | 9.37 | 7.47 | 6.94 | 0.84 | 18.46 | 17.12 | 15.22 | 14.69 | 090
28150 |  | A | Removal of toe | 4.09 | 7.74 | 6.70 | 6.32 | 5.63 | 0.52 | 12.35 | 11.31 | 10.93 | 10.24 | 090
28153 |  | A | Partial removal of toe | 3.66 | 6.76 | 6.15 | 5.22 | 4.46 | 0.49 | 10.91 | 10.30 | 9.37 | 8.61 | 090
28160 |  | A | Partial removal of toe | 3.74 | 7.24 | 6.55 | 6.29 | 5.28 | 0.51 | 11.49 | 10.80 | 10.54 | 9.53 | 090
28171 |  | A | Extensive foot surgery | 9.60 | NA | NA | 8.55 | 8.58 | 1.13 | NA | NA | 19.28 | 19.31 | 090
28173 |  | A | Extensive foot surgery | 8.80 | 10.93 | 9.76 | 7.93 | 7.51 | 1.04 | 20.77 | 19.60 | 17.77 | 17.35 | 090
28175 |  | A | Extensive foot surgery | 6.05 | 7.97 | 7.44 | 6.18 | 6.10 | 0.75 | 14.77 | 14.24 | 12.98 | 12.90 | 090
28190 |  | A | Removal of foot foreign body | 1.96 | 5.37 | 4.17 | 3.13 | 2.42 | 0.16 | 7.49 | 6.29 | 5.25 | 4.54 | 010
28192 |  | A | Removal of foot foreign body | 4.64 | 6.87 | 5.68 | 5.06 | 4.33 | 0.52 | 12.03 | 10.84 | 10.22 | 9.49 | 090
28193 |  | A | Removal of foot foreign body | 5.73 | 7.25 | 6.08 | 5.87 | 5.05 | 0.63 | 13.61 | 12.44 | 12.23 | 11.41 | 090
28200 |  | A | Repair of foot tendon | 4.60 | 7.40 | 6.92 | 5.45 | 5.46 | 0.59 | 12.59 | 12.11 | 10.64 | 10.65 | 090
28202 |  | A | Repair/graft of foot tendon | 6.84 | 10.71 | 9.61 | 6.34 | 6.34 | 0.86 | 18.41 | 17.31 | 14.04 | 14.04 | 090
28208 |  | A | Repair of foot tendon | 4.37 | 7.15 | 6.13 | 5.54 | 4.92 | 0.59 | 12.11 | 11.09 | 10.50 | 9.88 | 090
28210 |  | A | Repair/graft of foot tendon | 6.35 | 8.45 | 7.86 | 5.70 | 5.80 | 0.77 | 15.57 | 14.98 | 12.82 | 12.92 | 090
28220 |  | A | Release of foot tendon | 4.53 | 6.49 | 5.92 | 5.53 | 4.67 | 0.63 | 11.65 | 11.08 | 10.69 | 9.83 | 090
28222 |  | A | Release of foot tendons | 5.62 | 6.97 | 6.97 | 6.48 | 5.73 | 0.77 | 13.36 | 13.36 | 12.87 | 12.12 | 090
28225 |  | A | Release of foot tendon | 3.66 | 6.37 | 5.42 | 5.05 | 4.43 | 0.50 | 10.53 | 9.58 | 9.21 | 8.59 | 090
28226 |  | A | Release of foot tendons | 4.53 | 6.41 | 5.73 | 6.41 | 5.73 | 0.62 | 11.56 | 10.88 | 11.56 | 10.88 | 090
28230 |  | A | Incision of foot tendon(s) | 4.24 | 6.69 | 5.68 | 6.17 | 4.96 | 0.59 | 11.52 | 10.51 | 11.00 | 9.79 | 090
28232 |  | A | Incision of toe tendon | 3.39 | 6.66 | 5.43 | 5.78 | 4.55 | 0.48 | 10.53 | 9.30 | 9.65 | 8.42 | 090
28234 |  | A | Incision of foot tendon | 3.37 | 6.72 | 5.46 | 5.28 | 4.17 | 0.46 | 10.55 | 9.29 | 9.11 | 8.00 | 090
28238 |  | A | Revision of foot tendon | 7.73 | 10.27 | 9.67 | 6.87 | 7.12 | 1.08 | 19.08 | 18.48 | 15.68 | 15.93 | 090
28240 |  | A | Release of big toe | 4.36 | 6.66 | 5.57 | 5.67 | 4.83 | 0.61 | 11.63 | 10.54 | 10.64 | 9.80 | 090
28250 |  | A | Revision of foot fascia | 5.92 | 8.22 | 7.38 | 6.56 | 6.13 | 0.81 | 14.95 | 14.11 | 13.29 | 12.86 | 090
28260 |  | A | Release of midfoot joint | 7.96 | 7.81 | 7.06 | 6.77 | 6.28 | 1.08 | 16.85 | 16.10 | 15.81 | 15.32 | 090
28261 |  | A | Revision of foot tendon | 11.73 | 9.61 | 8.81 | 8.76 | 8.17 | 1.66 | 23.00 | 22.20 | 22.15 | 21.56 | 090
28262 |  | A | Revision of foot and ankle | 15.83 | 16.96 | 15.95 | 14.47 | 14.09 | 2.22 | 35.01 | 34.00 | 32.52 | 32.14 | 090
28264 |  | A | Release of midfoot joint | 10.35 | 10.97 | 10.82 | 10.97 | 10.82 | 1.46 | 22.78 | 22.63 | 22.78 | 22.63 | 090
28270 |  | A | Release of foot contracture | 4.76 | 7.16 | 6.08 | 6.31 | 5.09 | 0.67 | 12.59 | 11.51 | 11.74 | 10.52 | 090
28272 |  | A | Release of toe joint, each | 3.80 | 6.16 | 5.17 | 4.71 | 3.81 | 0.52 | 10.48 | 9.49 | 9.03 | 8.13 | 090
28280 |  | A | Fusion of toes | 5.19 | 8.67 | 7.11 | 6.23 | 5.28 | 0.72 | 14.58 | 13.02 | 12.14 | 11.19 | 090
28285 |  | A | Repair of hammertoe | 4.59 | 7.36 | 6.71 | 5.78 | 5.52 | 0.64 | 12.59 | 11.94 | 11.01 | 10.75 | 090
28286 |  | A | Repair of hammertoe | 4.56 | 7.03 | 6.25 | 5.83 | 5.35 | 0.64 | 12.23 | 11.45 | 11.03 | 10.55 | 090
28288 |  | A | Partial removal of foot bone | 4.74 | 8.06 | 7.06 | 7.21 | 6.43 | 0.65 | 13.45 | 12.45 | 12.60 | 11.82 | 090
28289 |  | A | Repair hallux rigidus | 7.04 | 9.49 | 9.49 | 7.90 | 7.90 | 0.96 | 17.49 | 17.49 | 15.90 | 15.90 | 090
28290 |  | A | Correction of bunion | 5.66 | 8.97 | 8.18 | 7.98 | 7.44 | 0.79 | 15.42 | 14.63 | 14.43 | 13.89 | 090
28292 |  | A | Correction of bunion | 7.04 | 8.66 | 8.41 | 6.78 | 7.00 | 0.98 | 16.68 | 16.43 | 14.80 | 15.02 | 090
28293 |  | A | Correction of bunion | 9.15 | 9.77 | 9.92 | 7.07 | 7.89 | 1.28 | 20.20 | 20.35 | 17.50 | 18.32 | 090
28294 |  | A | Correction of bunion | 8.56 | 9.11 | 9.32 | 7.06 | 7.78 | 1.16 | 18.83 | 19.04 | 16.78 | 17.50 | 090
28296 |  | A | Correction of bunion | 9.18 | 9.80 | 9.74 | 7.71 | 8.17 | 1.28 | 20.26 | 20.20 | 18.17 | 18.63 | 090
28297 |  | A | Correction of bunion | 9.18 | 12.14 | 11.55 | 9.38 | 9.48 | 1.31 | 22.63 | 22.04 | 19.87 | 19.97 | 090
28298 |  | A | Correction of bunion | 7.94 | 8.69 | 8.89 | 7.42 | 7.93 | 1.12 | 17.75 | 17.95 | 16.48 | 16.99 | 090
28299 |  | A | Correction of bunion | 8.88 | 9.63 | 9.87 | 7.56 | 8.32 | 1.24 | 19.75 | 19.99 | 17.68 | 18.44 | 090
28300 |  | A | Incision of heel bone | 9.54 | 14.49 | 12.64 | 8.89 | 8.44 | 1.31 | 25.34 | 23.49 | 19.74 | 19.29 | 090
28302 |  | A | Incision of ankle bone | 9.55 | 18.57 | 16.34 | 8.64 | 8.89 | 1.15 | 29.27 | 27.04 | 19.34 | 19.59 | 090
28304 |  | A | Incision of midfoot bones | 9.16 | 9.14 | 8.60 | 7.05 | 7.04 | 1.00 | 19.30 | 18.76 | 17.21 | 17.20 | 090
28305 |  | A | Incise/graft midfoot bones | 10.50 | 14.48 | 13.53 | 8.86 | 9.32 | 0.55 | 25.53 | 24.58 | 19.91 | 20.37 | 090
28306 |  | A | Incision of metatarsal | 5.86 | 9.15 | 8.10 | 5.74 | 5.55 | 0.81 | 15.82 | 14.77 | 12.41 | 12.22 | 090
28307 |  | A | Incision of metatarsal | 6.33 | 15.34 | 13.10 | 7.61 | 7.30 | 0.71 | 22.38 | 20.14 | 14.65 | 14.34 | 090
28308 |  | A | Incision of metatarsal | 5.29 | 6.77 | 6.63 | 4.85 | 5.19 | 0.74 | 12.80 | 12.66 | 10.88 | 11.22 | 090
28309 |  | A | Incision of metatarsals | 12.78 | NA | NA | 10.35 | 9.63 | 1.64 | NA | NA | 24.77 | 24.05 | 090
28310 |  | A | Revision of big toe | 5.43 | 7.96 | 7.10 | 6.04 | 5.66 | 0.76 | 14.15 | 13.29 | 12.23 | 11.85 | 090
28312 |  | A | Revision of toe | 4.55 | 7.58 | 6.92 | 6.65 | 6.23 | 0.62 | 12.75 | 12.09 | 11.82 | 11.40 | 090
28313 |  | A | Repair deformity of toe | 5.01 | 7.96 | 6.67 | 7.96 | 6.32 | 0.68 | 13.65 | 12.36 | 13.65 | 12.01 | 090
28315 |  | A | Removal of sesamoid bone | 4.86 | 6.62 | 6.12 | 4.98 | 4.89 | 0.66 | 12.14 | 11.64 | 10.50 | 10.41 | 090
28320 |  | A | Repair of foot bones | 9.18 | NA | NA | 8.06 | 8.40 | 1.27 | NA | NA | 18.51 | 18.85 | 090
28322 |  | A | Repair of metatarsals | 8.34 | 11.48 | 9.88 | 8.14 | 7.37 | 1.17 | 20.99 | 19.39 | 17.65 | 16.88 | 090
28340 |  | A | Resect enlarged toe tissue | 6.98 | 8.72 | 8.26 | 5.63 | 5.94 | 0.98 | 16.68 | 16.22 | 13.59 | 13.90 | 090
28341 |  | A | Resect enlarged toe | 8.41 | 8.00 | 8.08 | 6.47 | 6.93 | 1.18 | 17.59 | 17.67 | 16.06 | 16.52 | 090
28344 |  | A | Repair extra toe(s) | 4.26 | 12.28 | 10.22 | 4.98 | 4.74 | 0.60 | 17.14 | 15.08 | 9.84 | 9.60 | 090
28345 |  | A | Repair webbed toe(s) | 5.92 | 8.69 | 7.97 | 6.36 | 6.22 | 0.84 | 15.45 | 14.73 | 13.12 | 12.98 | 090
28360 |  | A | Reconstruct cleft foot | 13.34 | NA | NA | 12.16 | 12.35 | 1.88 | NA | NA | 27.38 | 27.57 | 090
28400 |  | A | Treatment of heel fracture | 2.16 | 5.60 | 4.90 | 4.61 | 3.81 | 0.29 | 8.05 | 7.35 | 7.06 | 6.26 | 090
28405 |  | A | Treatment of heel fracture | 4.57 | 6.56 | 5.98 | 5.71 | 5.34 | 0.63 | 11.76 | 11.18 | 10.91 | 10.54 | 090
28406 |  | A | Treatment of heel fracture | 6.31 | NA | NA | 8.06 | 7.70 | 0.87 | NA | NA | 15.24 | 14.88 | 090
28415 |  | A | Treat heel fracture | 15.97 | NA | NA | 14.47 | 13.30 | 2.24 | NA | NA | 32.68 | 31.51 | 090
28420 |  | A | Treat/graft heel fracture | 16.64 | NA | NA | 14.54 | 13.86 | 2.29 | NA | NA | 33.47 | 32.79 | 090
28430 |  | A | Treatment of ankle fracture | 2.09 | 5.19 | 4.56 | 4.13 | 3.43 | 0.27 | 7.55 | 6.92 | 6.49 | 5.79 | 090
28435 |  | A | Treatment of ankle fracture | 3.40 | 5.78 | 5.25 | 4.59 | 4.36 | 0.47 | 9.65 | 9.12 | 8.46 | 8.23 | 090
28436 |  | A | Treatment of ankle fracture | 4.71 | NA | NA | 7.29 | 6.61 | 0.66 | NA | NA | 12.66 | 11.98 | 090
28445 |  | A | Treat ankle fracture | 9.33 | NA | NA | 9.62 | 9.60 | 1.29 | NA | NA | 20.24 | 20.22 | 090
28450 |  | A | Treat midfoot fracture, each | 1.90 | 5.06 | 4.30 | 3.98 | 3.24 | 0.25 | 7.21 | 6.45 | 6.13 | 5.39 | 090
28455 |  | A | Treat midfoot fracture, each | 3.09 | 5.52 | 4.83 | 4.86 | 3.99 | 0.43 | 9.04 | 8.35 | 8.38 | 7.51 | 090
28456 |  | A | Treat midfoot fracture | 2.68 | NA | NA | 5.60 | 4.82 | 0.36 | NA | NA | 8.64 | 7.86 | 090
28465 |  | A | Treat midfoot fracture, each | 7.01 | NA | NA | 7.27 | 6.96 | 0.87 | NA | NA | 15.15 | 14.84 | 090
28470 |  | A | Treat metatarsal fracture | 1.99 | 4.40 | 3.79 | 3.29 | 2.71 | 0.26 | 6.65 | 6.04 | 5.54 | 4.96 | 090
28475 |  | A | Treat metatarsal fracture | 2.97 | 5.06 | 4.43 | 4.26 | 3.51 | 0.41 | 8.44 | 7.81 | 7.64 | 6.89 | 090
28476 |  | A | Treat metatarsal fracture | 3.38 | NA | NA | 5.90 | 5.34 | 0.46 | NA | NA | 9.74 | 9.18 | 090
28485 |  | A | Treat metatarsal fracture | 5.71 | NA | NA | 7.07 | 6.57 | 0.80 | NA | NA | 13.58 | 13.08 | 090
28490 |  | A | Treat big toe fracture | 1.09 | 2.44 | 2.08 | 2.00 | 1.62 | 0.13 | 3.66 | 3.30 | 3.22 | 2.84 | 090
28495 |  | A | Treat big toe fracture | 1.58 | 2.56 | 2.23 | 2.04 | 1.68 | 0.19 | 4.33 | 4.00 | 3.81 | 3.45 | 090
28496 |  | A | Treat big toe fracture | 2.33 | 9.87 | 7.97 | 4.20 | 3.71 | 0.32 | 12.52 | 10.62 | 6.85 | 6.36 | 090
28505 |  | A | Treat big toe fracture | 3.81 | 10.36 | 8.58 | 5.93 | 5.26 | 0.50 | 14.67 | 12.89 | 10.24 | 9.57 | 090
28510 |  | A | Treatment of toe fracture | 1.09 | 2.16 | 1.86 | 1.97 | 1.60 | 0.13 | 3.38 | 3.08 | 3.19 | 2.82 | 090
28515 |  | A | Treatment of toe fracture | 1.46 | 2.39 | 2.10 | 1.99 | 1.65 | 0.17 | 4.02 | 3.73 | 3.62 | 3.28 | 090
28525 |  | A | Treat toe fracture | 3.32 | 9.94 | 8.02 | 5.74 | 4.87 | 0.44 | 13.70 | 11.78 | 9.50 | 8.63 | 090
28530 |  | A | Treat sesamoid bone fracture | 1.06 | 2.69 | 2.29 | 2.32 | 1.88 | 0.13 | 3.88 | 3.48 | 3.51 | 3.07 | 090
28531 |  | A | Treat sesamoid bone fracture | 2.35 | 11.17 | 8.90 | 3.34 | 3.02 | 0.33 | 13.85 | 11.58 | 6.02 | 5.70 | 090
28540 |  | A | Treat foot dislocation | 2.04 | 3.31 | 2.65 | 3.31 | 2.57 | 0.24 | 5.59 | 4.93 | 5.59 | 4.85 | 090
28545 |  | A | Treat foot dislocation | 2.45 | 3.58 | 3.04 | 3.58 | 3.04 | 0.33 | 6.36 | 5.82 | 6.36 | 5.82 | 090
28546 |  | A | Treat foot dislocation | 3.20 | 5.15 | 4.61 | 5.15 | 4.61 | 0.46 | 8.81 | 8.27 | 8.81 | 8.27 | 090
28555 |  | A | Repair foot dislocation | 6.30 | 13.54 | 11.67 | 7.83 | 7.39 | 0.88 | 20.72 | 18.85 | 15.01 | 14.57 | 090
28570 |  | A | Treat foot dislocation | 1.66 | 3.60 | 3.13 | 3.60 | 2.92 | 0.22 | 5.48 | 5.01 | 5.48 | 4.80 | 090
28575 |  | A | Treat foot dislocation | 3.31 | 6.00 | 5.25 | 4.92 | 4.44 | 0.45 | 9.76 | 9.01 | 8.68 | 8.20 | 090
28576 |  | A | Treat foot dislocation | 4.17 | 13.53 | 10.90 | 6.03 | 5.28 | 0.56 | 18.26 | 15.63 | 10.76 | 10.01 | 090
28585 |  | A | Repair foot dislocation | 7.99 | 8.46 | 7.69 | 7.57 | 7.02 | 1.13 | 17.58 | 16.81 | 16.69 | 16.14 | 090
28600 |  | A | Treat foot dislocation | 1.89 | 4.11 | 3.27 | 3.95 | 3.06 | 0.24 | 6.24 | 5.40 | 6.08 | 5.19 | 090
28605 |  | A | Treat foot dislocation | 2.71 | 4.47 | 3.97 | 4.47 | 3.97 | 0.35 | 7.53 | 7.03 | 7.53 | 7.03 | 090
28606 |  | A | Treat foot dislocation | 4.90 | 15.49 | 12.57 | 6.59 | 5.89 | 0.68 | 21.07 | 18.15 | 12.17 | 11.47 | 090
28615 |  | A | Repair foot dislocation | 7.77 | NA | NA | 8.79 | 7.94 | 1.09 | NA | NA | 17.65 | 16.80 | 090
28630 |  | A | Treat toe dislocation | 1.70 | 2.04 | 1.81 | 2.04 | 1.67 | 0.17 | 3.91 | 3.68 | 3.91 | 3.54 | 010
28635 |  | A | Treat toe dislocation | 1.91 | 2.40 | 2.19 | 2.40 | 2.00 | 0.24 | 4.55 | 4.34 | 4.55 | 4.15 | 010
28636 |  | A | Treat toe dislocation | 2.77 | 6.52 | 5.59 | 3.11 | 3.03 | 0.39 | 9.68 | 8.75 | 6.27 | 6.19 | 010
28645 |  | A | Repair toe dislocation | 4.22 | 5.87 | 5.28 | 3.96 | 3.85 | 0.58 | 10.67 | 10.08 | 8.76 | 8.65 | 090
28660 |  | A | Treat toe dislocation | 1.23 | 2.87 | 2.32 | 2.25 | 1.86 | 0.11 | 4.21 | 3.66 | 3.59 | 3.20 | 010
28665 |  | A | Treat toe dislocation | 1.92 | 2.53 | 2.16 | 2.53 | 2.03 | 0.24 | 4.69 | 4.32 | 4.69 | 4.19 | 010
28666 |  | A | Treat toe dislocation | 2.66 | 6.47 | 5.52 | 2.29 | 2.38 | 0.38 | 9.51 | 8.56 | 5.33 | 5.42 | 010
28675 |  | A | Repair of toe dislocation | 2.92 | 8.72 | 7.36 | 4.46 | 4.16 | 0.41 | 12.05 | 10.69 | 7.79 | 7.49 | 090
28705 |  | A | Fusion of foot bones | 15.21 | NA | NA | 12.61 | 13.56 | 2.13 | NA | NA | 29.95 | 30.90 | 090
28715 |  | A | Fusion of foot bones | 13.10 | NA | NA | 11.78 | 12.18 | 1.84 | NA | NA | 26.72 | 27.12 | 090
28725 |  | A | Fusion of foot bones | 11.61 | NA | NA | 10.64 | 10.54 | 1.63 | NA | NA | 23.88 | 23.78 | 090
28730 |  | A | Fusion of foot bones | 10.76 | NA | NA | 9.92 | 9.88 | 1.51 | NA | NA | 22.19 | 22.15 | 090
28735 |  | A | Fusion of foot bones | 10.85 | NA | NA | 10.21 | 10.31 | 1.51 | NA | NA | 22.57 | 22.67 | 090
28737 |  | A | Revision of foot bones | 9.64 | NA | NA | 8.10 | 8.48 | 1.36 | NA | NA | 19.10 | 19.48 | 090
28740 |  | A | Fusion of foot bones | 8.02 | 13.29 | 11.36 | 8.26 | 7.59 | 1.13 | 22.44 | 20.51 | 17.41 | 16.74 | 090
28750 |  | A | Fusion of big toe joint | 7.30 | 14.54 | 12.35 | 8.49 | 7.81 | 1.03 | 22.87 | 20.68 | 16.82 | 16.14 | 090
28755 |  | A | Fusion of big toe joint | 4.74 | 8.49 | 7.37 | 5.92 | 5.44 | 0.66 | 13.89 | 12.77 | 11.32 | 10.84 | 090
28760 |  | A | Fusion of big toe joint | 7.75 | 9.59 | 8.66 | 7.00 | 6.72 | 1.07 | 18.41 | 17.48 | 15.82 | 15.54 | 090
28800 |  | A | Amputation of midfoot | 8.21 | NA | NA | 8.64 | 8.29 | 0.98 | NA | NA | 17.83 | 17.48 | 090
28805 |  | A | Amputation thru metatarsal | 8.39 | NA | NA | 8.88 | 8.38 | 0.97 | NA | NA | 18.24 | 17.74 | 090
28810 |  | A | Amputation toe & metatarsal | 6.21 | NA | NA | 7.69 | 6.83 | 0.70 | NA | NA | 14.60 | 13.74 | 090
28820 |  | A | Amputation of toe | 4.41 | 10.94 | 8.91 | 6.78 | 5.79 | 0.51 | 15.86 | 13.83 | 11.70 | 10.71 | 090
28825 |  | A | Partial amputation of toe | 3.59 | 10.01 | 8.16 | 6.57 | 5.58 | 0.43 | 14.03 | 12.18 | 10.59 | 9.60 | 090
28899 |  | C | Foot/toes surgery procedure | 0.00 | 0.00 | 0.00 | 0.00 | 0.00 | 0.00 | 0.00 | 0.00 | 0.00 | 0.00 | YYY
29000 |  | A | Application of body cast | 2.25 | 2.69 | 2.52 | 1.33 | 1.50 | 0.30 | 5.24 | 5.07 | 3.88 | 4.05 | 000
29010 |  | A | Application of body cast | 2.06 | 2.54 | 2.54 | 1.26 | 1.56 | 0.27 | 4.87 | 4.87 | 3.59 | 3.89 | 000
29015 |  | A | Application of body cast | 2.41 | 2.54 | 2.54 | 1.15 | 1.18 | 0.21 | 5.16 | 5.16 | 3.77 | 3.80 | 000
29020 |  | A | Application of body cast | 2.11 | 2.47 | 2.35 | 0.97 | 0.98 | 0.16 | 4.74 | 4.62 | 3.24 | 3.25 | 000
29025 |  | A | Application of body cast | 2.40 | 2.84 | 2.33 | 1.44 | 1.18 | 0.26 | 5.50 | 4.99 | 4.10 | 3.84 | 000
29035 |  | A | Application of body cast | 1.77 | 2.50 | 2.41 | 1.08 | 1.08 | 0.24 | 4.51 | 4.42 | 3.09 | 3.09 | 000
29040 |  | A | Application of body cast | 2.22 | 1.57 | 1.73 | 1.38 | 1.58 | 0.35 | 4.14 | 4.30 | 3.95 | 4.15 | 000
29044 |  | A | Application of body cast | 2.12 | 2.71 | 2.60 | 1.31 | 1.55 | 0.29 | 5.12 | 5.01 | 3.72 | 3.96 | 000
29046 |  | A | Application of body cast | 2.41 | 2.86 | 2.75 | 1.38 | 1.64 | 0.34 | 5.61 | 5.50 | 4.13 | 4.39 | 000
29049 |  | A | Application of figure eight | 0.89 | 1.54 | 1.27 | 0.50 | 0.43 | 0.12 | 2.55 | 2.28 | 1.51 | 1.44 | 000
29055 |  | A | Application of shoulder cast | 1.78 | 2.16 | 1.95 | 1.07 | 1.13 | 0.24 | 4.18 | 3.97 | 3.09 | 3.15 | 000
29058 |  | A | Application of shoulder cast | 1.31 | 1.81 | 1.54 | 0.63 | 0.65 | 0.14 | 3.26 | 2.99 | 2.08 | 2.10 | 000
29065 |  | A | Application of long arm cast | 0.87 | 1.30 | 1.19 | 0.54 | 0.52 | 0.12 | 2.29 | 2.18 | 1.53 | 1.51 | 000
29075 |  | A | Application of forearm cast | 0.77 | 1.24 | 1.10 | 0.47 | 0.44 | 0.11 | 2.12 | 1.98 | 1.35 | 1.32 | 000
29085 |  | A | Apply hand/wrist cast | 0.87 | 1.29 | 1.10 | 0.47 | 0.42 | 0.11 | 2.27 | 2.08 | 1.45 | 1.40 | 000
29105 |  | A | Apply long arm splint | 0.87 | 1.29 | 1.10 | 0.40 | 0.37 | 0.11 | 2.27 | 2.08 | 1.38 | 1.35 | 000
29125 |  | A | Apply forearm splint | 0.59 | 1.14 | 0.96 | 0.29 | 0.27 | 0.06 | 1.79 | 1.61 | 0.94 | 0.92 | 000
29126 |  | A | Apply forearm splint | 0.77 | 1.91 | 1.54 | 0.44 | 0.39 | 0.06 | 2.74 | 2.37 | 1.27 | 1.22 | 000
29130 |  | A | Application of finger splint | 0.50 | 0.91 | 0.73 | 0.27 | 0.23 | 0.05 | 1.46 | 1.28 | 0.82 | 0.78 | 000
29131 |  | A | Application of finger splint | 0.55 | 1.80 | 1.46 | 0.38 | 0.34 | 0.03 | 2.38 | 2.04 | 0.96 | 0.92 | 000
29200 |  | A | Strapping of chest | 0.65 | 1.36 | 1.09 | 0.29 | 0.26 | 0.04 | 2.05 | 1.78 | 0.98 | 0.95 | 000
29220 |  | A | Strapping of low back | 0.64 | 1.05 | 0.89 | 0.33 | 0.30 | 0.07 | 1.76 | 1.60 | 1.04 | 1.01 | 000
29240 |  | A | Strapping of shoulder | 0.71 | 1.43 | 1.15 | 0.31 | 0.31 | 0.05 | 2.19 | 1.91 | 1.07 | 1.07 | 000
29260 |  | A | Strapping of elbow or wrist | 0.55 | 1.15 | 0.93 | 0.27 | 0.24 | 0.04 | 1.74 | 1.52 | 0.86 | 0.83 | 000
29280 |  | A | Strapping of hand or finger | 0.51 | 1.30 | 1.03 | 0.27 | 0.23 | 0.04 | 1.85 | 1.58 | 0.82 | 0.78 | 000
29305 |  | A | Application of hip cast | 2.03 | 2.44 | 2.34 | 1.28 | 1.47 | 0.29 | 4.76 | 4.66 | 3.60 | 3.79 | 000
29325 |  | A | Application of hip casts | 2.32 | 2.59 | 2.47 | 1.43 | 1.60 | 0.31 | 5.22 | 5.10 | 4.06 | 4.23 | 000
29345 |  | A | Application of long leg cast | 1.40 | 1.68 | 1.54 | 0.84 | 0.77 | 0.19 | 3.27 | 3.13 | 2.43 | 2.36 | 000
29355 |  | A | Application of long leg cast | 1.53 | 1.69 | 1.57 | 0.87 | 0.80 | 0.20 | 3.42 | 3.30 | 2.60 | 2.53 | 000
29358 |  | A | Apply long leg cast brace | 1.43 | 1.86 | 1.82 | 0.93 | 0.91 | 0.19 | 3.48 | 3.44 | 2.55 | 2.53 | 000
29365 |  | A | Application of long leg cast | 1.18 | 1.52 | 1.37 | 0.71 | 0.65 | 0.17 | 2.87 | 2.72 | 2.06 | 2.00 | 000
29405 |  | A | Apply short leg cast | 0.86 | 1.20 | 1.12 | 0.52 | 0.50 | 0.12 | 2.18 | 2.10 | 1.50 | 1.48 | 000
29425 |  | A | Apply short leg cast | 1.01 | 1.14 | 1.12 | 0.56 | 0.55 | 0.14 | 2.29 | 2.27 | 1.71 | 1.70 | 000
29435 |  | A | Apply short leg cast | 1.18 | 1.79 | 1.66 | 0.79 | 0.75 | 0.17 | 3.14 | 3.01 | 2.14 | 2.10 | 000
29440 |  | A | Addition of walker to cast | 0.57 | 0.91 | 0.75 | 0.32 | 0.27 | 0.07 | 1.55 | 1.39 | 0.96 | 0.91 | 000
29445 |  | A | Apply rigid leg cast | 1.78 | 2.00 | 1.96 | 0.86 | 1.11 | 0.24 | 4.02 | 3.98 | 2.88 | 3.13 | 000
29450 |  | A | Application of leg cast | 1.02 | 1.20 | 1.01 | 0.57 | 0.48 | 0.13 | 2.35 | 2.16 | 1.72 | 1.63 | 000
29505 |  | A | Application, long leg splint | 0.69 | 1.60 | 1.36 | 0.42 | 0.47 | 0.06 | 2.35 | 2.11 | 1.17 | 1.22 | 000
29515 |  | A | Application lower leg splint | 0.73 | 1.15 | 0.99 | 0.42 | 0.38 | 0.07 | 1.95 | 1.79 | 1.22 | 1.18 | 000
29520 |  | A | Strapping of hip | 0.54 | 1.54 | 1.25 | 0.38 | 0.34 | 0.02 | 2.10 | 1.81 | 0.94 | 0.90 | 000
29530 |  | A | Strapping of knee | 0.57 | 1.22 | 1.01 | 0.27 | 0.30 | 0.04 | 1.83 | 1.62 | 0.88 | 0.91 | 000
29540 |  | A | Strapping of ankle | 0.51 | 0.51 | 0.47 | 0.26 | 0.24 | 0.04 | 1.06 | 1.02 | 0.81 | 0.79 | 000
29550 |  | A | Strapping of toes | 0.47 | 0.49 | 0.44 | 0.23 | 0.21 | 0.05 | 1.01 | 0.96 | 0.75 | 0.73 | 000
29580 |  | A | Application of paste boot | 0.57 | 0.84 | 0.85 | 0.31 | 0.28 | 0.05 | 1.46 | 1.47 | 0.93 | 0.90 | 000
29590 |  | A | Application of foot splint | 0.76 | 0.77 | 0.65 | 0.41 | 0.35 | 0.06 | 1.59 | 1.47 | 1.23 | 1.17 | 000
29700 |  | A | Removal/revision of cast | 0.57 | 0.81 | 0.70 | 0.31 | 0.28 | 0.07 | 1.45 | 1.34 | 0.95 | 0.92 | 000
29705 |  | A | Removal/revision of cast | 0.76 | 0.98 | 0.83 | 0.41 | 0.36 | 0.10 | 1.84 | 1.69 | 1.27 | 1.22 | 000
29710 |  | A | Removal/revision of cast | 1.34 | 1.72 | 1.41 | 0.85 | 0.70 | 0.17 | 3.23 | 2.92 | 2.36 | 2.21 | 000
29715 |  | A | Removal/revision of cast | 0.94 | 3.64 | 2.96 | 0.69 | 0.64 | 0.08 | 4.66 | 3.98 | 1.71 | 1.66 | 000
29720 |  | A | Repair of body cast | 0.68 | 1.46 | 1.16 | 0.49 | 0.40 | 0.10 | 2.24 | 1.94 | 1.27 | 1.18 | 000
29730 |  | A | Windowing of cast | 0.75 | 0.93 | 0.77 | 0.39 | 0.33 | 0.10 | 1.78 | 1.62 | 1.24 | 1.18 | 000
29740 |  | A | Wedging of cast | 1.12 | 1.36 | 1.12 | 0.53 | 0.45 | 0.15 | 2.63 | 2.39 | 1.80 | 1.72 | 000
29750 |  | A | Wedging of clubfoot cast | 1.26 | 1.56 | 1.31 | 0.58 | 0.50 | 0.16 | 2.98 | 2.73 | 2.00 | 1.92 | 000
29799 |  | C | Casting/strapping procedure | 0.00 | 0.00 | 0.00 | 0.00 | 0.00 | 0.00 | 0.00 | 0.00 | 0.00 | 0.00 | YYY
29800 |  | A | Jaw arthroscopy/surgery | 6.43 | NA | NA | 8.44 | 7.42 | 0.84 | NA | NA | 15.71 | 14.69 | 090
29804 |  | A | Jaw arthroscopy/surgery | 8.14 | NA | NA | 8.78 | 9.01 | 0.66 | NA | NA | 17.58 | 17.81 | 090
29815 |  | A | Shoulder arthroscopy | 5.89 | NA | NA | 7.32 | 6.80 | 0.83 | NA | NA | 14.04 | 13.52 | 090
29819 |  | A | Shoulder arthroscopy/surgery | 7.62 | NA | NA | 9.18 | 9.16 | 1.07 | NA | NA | 17.87 | 17.85 | 090
29820 |  | A | Shoulder arthroscopy/surgery | 7.07 | NA | NA | 8.81 | 8.72 | 0.99 | NA | NA | 16.87 | 16.78 | 090
29821 |  | A | Shoulder arthroscopy/surgery | 7.72 | NA | NA | 9.18 | 9.19 | 1.08 | NA | NA | 17.98 | 17.99 | 090
29822 |  | A | Shoulder arthroscopy/surgery | 7.43 | NA | NA | 9.08 | 9.03 | 1.04 | NA | NA | 17.55 | 17.50 | 090
29823 |  | A | Shoulder arthroscopy/surgery | 8.17 | NA | NA | 9.43 | 9.51 | 1.15 | NA | NA | 18.75 | 18.83 | 090
29825 |  | A | Shoulder arthroscopy/surgery | 7.62 | NA | NA | 9.19 | 9.17 | 1.06 | NA | NA | 17.87 | 17.85 | 090
29826 |  | A | Shoulder arthroscopy/surgery | 8.99 | NA | NA | 9.92 | 10.12 | 1.26 | NA | NA | 20.17 | 20.37 | 090
29830 |  | A | Elbow arthroscopy | 5.76 | NA | NA | 5.70 | 5.72 | 0.79 | NA | NA | 12.25 | 12.27 | 090
29834 |  | A | Elbow arthroscopy/surgery | 6.28 | NA | NA | 6.48 | 6.45 | 0.86 | NA | NA | 13.62 | 13.59 | 090
29835 |  | A | Elbow arthroscopy/surgery | 6.48 | NA | NA | 6.47 | 6.49 | 0.88 | NA | NA | 13.83 | 13.85 | 090
29836 |  | A | Elbow arthroscopy/surgery | 7.55 | NA | NA | 7.20 | 7.31 | 1.06 | NA | NA | 15.81 | 15.92 | 090
29837 |  | A | Elbow arthroscopy/surgery | 6.87 | NA | NA | 6.78 | 6.82 | 0.96 | NA | NA | 14.61 | 14.65 | 090
29838 |  | A | Elbow arthroscopy/surgery | 7.71 | NA | NA | 7.28 | 7.37 | 1.07 | NA | NA | 16.06 | 16.15 | 090
29840 |  | A | Wrist arthroscopy | 5.54 | NA | NA | 8.18 | 7.03 | 0.69 | NA | NA | 14.41 | 13.26 | 090
29843 |  | A | Wrist arthroscopy/surgery | 6.01 | NA | NA | 7.93 | 7.47 | 0.82 | NA | NA | 14.76 | 14.30 | 090
29844 |  | A | Wrist arthroscopy/surgery | 6.37 | NA | NA | 8.08 | 7.58 | 0.86 | NA | NA | 15.31 | 14.81 | 090
29845 |  | A | Wrist arthroscopy/surgery | 7.52 | NA | NA | 8.52 | 8.29 | 0.84 | NA | NA | 16.88 | 16.65 | 090
29846 |  | A | Wrist arthroscopy/surgery | 6.75 | NA | NA | 10.57 | 9.94 | 0.89 | NA | NA | 18.21 | 17.58 | 090
29847 |  | A | Wrist arthroscopy/surgery | 7.08 | NA | NA | 10.51 | 9.72 | 0.91 | NA | NA | 18.50 | 17.71 | 090
29848 |  | A | Wrist endoscopy/surgery | 5.44 | NA | NA | 7.73 | 6.84 | 0.72 | NA | NA | 13.89 | 13.00 | 090
29850 |  | A | Knee arthroscopy/surgery | 8.19 | NA | NA | 6.91 | 6.41 | 0.74 | NA | NA | 15.84 | 15.34 | 090
29851 |  | A | Knee arthroscopy/surgery | 13.10 | NA | NA | 11.33 | 11.47 | 1.81 | NA | NA | 26.24 | 26.38 | 090
29855 |  | A | Tibial arthroscopy/surgery | 10.62 | NA | NA | 9.99 | 10.66 | 1.50 | NA | NA | 22.11 | 22.78 | 090
29856 |  | A | Tibial arthroscopy/surgery | 14.14 | NA | NA | 11.94 | 12.13 | 2.00 | NA | NA | 28.08 | 28.27 | 090
29860 |  | A | Hip arthroscopy, dx | 8.05 | NA | NA | 7.60 | 7.01 | 1.14 | NA | NA | 16.79 | 16.20 | 090
29861 |  | A | Hip arthroscopy/surgery | 9.15 | NA | NA | 8.74 | 9.10 | 1.29 | NA | NA | 19.18 | 19.54 | 090
29862 |  | A | Hip arthroscopy/surgery | 9.90 | NA | NA | 9.07 | 9.54 | 1.39 | NA | NA | 20.36 | 20.83 | 090
29863 |  | A | Hip arthroscopy/surgery | 9.90 | NA | NA | 9.71 | 9.65 | 1.40 | NA | NA | 21.01 | 20.95 | 090
29870 |  | A | Knee arthroscopy, dx | 5.07 | NA | NA | 5.79 | 5.43 | 0.67 | NA | NA | 11.53 | 11.17 | 090
29871 |  | A | Knee arthroscopy/drainage | 6.55 | NA | NA | 7.75 | 7.65 | 0.88 | NA | NA | 15.18 | 15.08 | 090
29874 |  | A | Knee arthroscopy/surgery | 7.05 | NA | NA | 7.42 | 7.67 | 0.87 | NA | NA | 15.34 | 15.59 | 090
29875 |  | A | Knee arthroscopy/surgery | 6.31 | NA | NA | 7.15 | 7.25 | 0.88 | NA | NA | 14.34 | 14.44 | 090
29876 |  | A | Knee arthroscopy/surgery | 7.92 | NA | NA | 8.57 | 8.79 | 1.11 | NA | NA | 17.60 | 17.82 | 090
29877 |  | A | Knee arthroscopy/surgery | 7.35 | NA | NA | 7.74 | 8.00 | 1.03 | NA | NA | 16.12 | 16.38 | 090
29879 |  | A | Knee arthroscopy/surgery | 8.04 | NA | NA | 8.12 | 8.49 | 1.13 | NA | NA | 17.29 | 17.66 | 090
29880 |  | A | Knee arthroscopy/surgery | 8.50 | NA | NA | 8.38 | 8.82 | 1.19 | NA | NA | 18.07 | 18.51 | 090
29881 |  | A | Knee arthroscopy/surgery | 7.76 | NA | NA | 7.96 | 8.29 | 1.09 | NA | NA | 16.81 | 17.14 | 090
29882 |  | A | Knee arthroscopy/surgery | 8.65 | NA | NA | 7.96 | 8.55 | 1.09 | NA | NA | 17.70 | 18.29 | 090
29883 |  | A | Knee arthroscopy/surgery | 9.46 | NA | NA | 8.91 | 9.51 | 1.33 | NA | NA | 19.70 | 20.30 | 090
29884 |  | A | Knee arthroscopy/surgery | 7.33 | NA | NA | 8.25 | 8.38 | 1.03 | NA | NA | 16.61 | 16.74 | 090
29885 |  | A | Knee arthroscopy/surgery | 9.09 | NA | NA | 9.19 | 9.13 | 1.27 | NA | NA | 19.55 | 19.49 | 090
29886 |  | A | Knee arthroscopy/surgery | 7.54 | NA | NA | 8.36 | 8.12 | 1.06 | NA | NA | 16.96 | 16.72 | 090
29887 |  | A | Knee arthroscopy/surgery | 9.04 | NA | NA | 9.19 | 9.59 | 1.27 | NA | NA | 19.50 | 19.90 | 090
29888 |  | A | Knee arthroscopy/surgery | 13.90 | NA | NA | 11.86 | 13.04 | 1.95 | NA | NA | 27.71 | 28.89 | 090
29889 |  | A | Knee arthroscopy/surgery | 15.13 | NA | NA | 12.45 | 12.12 | 2.11 | NA | NA | 29.69 | 29.36 | 090
29891 |  | A | Ankle arthroscopy/surgery | 8.40 | NA | NA | 8.72 | 8.95 | 1.17 | NA | NA | 18.29 | 18.52 | 090
29892 |  | A | Ankle arthroscopy/surgery | 9.00 | NA | NA | 8.56 | 8.83 | 1.26 | NA | NA | 18.82 | 19.09 | 090
29893 |  | A | Scope, plantar fasciotomy | 5.22 | NA | NA | 4.71 | 4.94 | 0.74 | NA | NA | 10.67 | 10.90 | 090
29894 |  | A | Ankle arthroscopy/surgery | 7.21 | NA | NA | 7.36 | 7.67 | 1.01 | NA | NA | 15.58 | 15.89 | 090
29895 |  | A | Ankle arthroscopy/surgery | 6.99 | NA | NA | 7.66 | 7.83 | 0.97 | NA | NA | 15.62 | 15.79 | 090
29897 |  | A | Ankle arthroscopy/surgery | 7.18 | NA | NA | 8.29 | 8.36 | 1.01 | NA | NA | 16.48 | 16.55 | 090
29898 |  | A | Ankle arthroscopy/surgery | 8.32 | NA | NA | 8.12 | 8.57 | 1.14 | NA | NA | 17.58 | 18.03 | 090
29909 |  | C | Arthroscopy of joint | 0.00 | 0.00 | 0.00 | 0.00 | 0.00 | 0.00 | 0.00 | 0.00 | 0.00 | 0.00 | YYY
30000 |  | A | Drainage of nose lesion | 1.43 | 2.41 | 1.97 | 1.46 | 1.18 | 0.10 | 3.94 | 3.50 | 2.99 | 2.71 | 010
30020 |  | A | Drainage of nose lesion | 1.43 | 2.66 | 2.16 | 1.53 | 1.23 | 0.08 | 4.17 | 3.67 | 3.04 | 2.74 | 010
30100 |  | A | Intranasal biopsy | 0.94 | 1.29 | 1.16 | 0.52 | 0.49 | 0.06 | 2.29 | 2.16 | 1.52 | 1.49 | 000
30110 |  | A | Removal of nose polyp(s) | 1.63 | 2.68 | 2.36 | 0.89 | 0.84 | 0.12 | 4.43 | 4.11 | 2.64 | 2.59 | 010
30115 |  | A | Removal of nose polyp(s) | 4.35 | NA | NA | 4.38 | 4.05 | 0.31 | NA | NA | 9.04 | 8.71 | 090
30117 |  | A | Removal of intranasal lesion | 3.16 | 4.65 | 4.26 | 3.09 | 3.09 | 0.22 | 8.03 | 7.64 | 6.47 | 6.47 | 090
30118 |  | A | Removal of intranasal lesion | 9.69 | NA | NA | 7.44 | 7.75 | 0.66 | NA | NA | 17.79 | 18.10 | 090
30120 |  | A | Revision of nose | 5.27 | 5.87 | 5.98 | 5.87 | 5.98 | 0.41 | 11.55 | 11.66 | 11.55 | 11.66 | 090
30124 |  | A | Removal of nose lesion | 3.10 | NA | NA | 3.30 | 2.66 | 0.20 | NA | NA | 6.60 | 5.96 | 090
30125 |  | A | Removal of nose lesion | 7.16 | NA | NA | 6.31 | 6.24 | 0.54 | NA | NA | 14.01 | 13.94 | 090
30130 |  | A | Removal of turbinate bones | 3.38 | NA | NA | 3.87 | 3.36 | 0.22 | NA | NA | 7.47 | 6.96 | 090
30140 |  | A | Removal of turbinate bones | 3.43 | NA | NA | 4.42 | 4.14 | 0.24 | NA | NA | 8.09 | 7.81 | 090
30150 |  | A | Partial removal of nose | 9.14 | NA | NA | 8.45 | 8.49 | 0.76 | NA | NA | 18.35 | 18.39 | 090
30160 |  | A | Removal of nose | 9.58 | NA | NA | 8.31 | 9.09 | 0.78 | NA | NA | 18.67 | 19.45 | 090
30200 |  | A | Injection treatment of nose | 0.78 | 1.17 | 0.98 | 0.44 | 0.38 | 0.06 | 2.01 | 1.82 | 1.28 | 1.22 | 000
30210 |  | A | Nasal sinus therapy | 1.08 | 2.06 | 1.62 | 0.60 | 0.49 | 0.08 | 3.22 | 2.78 | 1.76 | 1.65 | 010
30220 |  | A | Insert nasal septal button | 1.54 | 2.38 | 2.20 | 0.86 | 0.85 | 0.11 | 4.03 | 3.85 | 2.51 | 2.50 | 010
30300 |  | A | Remove nasal foreign body | 1.04 | 2.51 | 2.01 | 0.38 | 0.35 | 0.07 | 3.62 | 3.12 | 1.49 | 1.46 | 010
30310 |  | A | Remove nasal foreign body | 1.96 | NA | NA | 1.85 | 1.83 | 0.14 | NA | NA | 3.95 | 3.93 | 010
30320 |  | A | Remove nasal foreign body | 4.52 | NA | NA | 5.32 | 5.16 | 0.36 | NA | NA | 10.20 | 10.04 | 090
30400 |  | R | Reconstruction of nose | 9.83 | NA | NA | 8.59 | 9.15 | 0.80 | NA | NA | 19.22 | 19.78 | 090
30410 |  | R | Reconstruction of nose | 12.98 | NA | NA | 10.43 | 11.70 | 1.08 | NA | NA | 24.49 | 25.76 | 090
30420 |  | R | Reconstruction of nose | 15.88 | NA | NA | 12.14 | 13.85 | 1.24 | NA | NA | 29.26 | 30.97 | 090
30430 |  | R | Revision of nose | 7.21 | NA | NA | 7.03 | 6.93 | 0.62 | NA | NA | 14.86 | 14.76 | 090
30435 |  | R | Revision of nose | 11.71 | NA | NA | 10.27 | 10.46 | 1.10 | NA | NA | 23.08 | 23.27 | 090
30450 |  | R | Revision of nose | 18.65 | NA | NA | 13.91 | 13.48 | 1.53 | NA | NA | 34.09 | 33.66 | 090
30460 |  | A | Revision of nose | 9.96 | NA | NA | 9.30 | 9.30 | 0.85 | NA | NA | 20.11 | 20.11 | 090
30462 |  | A | Revision of nose | 19.57 | NA | NA | 14.77 | 15.73 | 1.92 | NA | NA | 36.26 | 37.22 | 090
30465 |  | A | Repair nasal stenosis | 11.64 | NA | NA | 9.12 | 9.12 | 0.82 | NA | NA | 21.58 | 21.58 | 090
30520 |  | A | Repair of nasal septum | 5.70 | NA | NA | 5.71 | 5.98 | 0.41 | NA | NA | 11.82 | 12.09 | 090
30540 |  | A | Repair nasal defect | 7.75 | NA | NA | 6.38 | 6.59 | 0.53 | NA | NA | 14.66 | 14.87 | 090
30545 |  | A | Repair nasal defect | 11.38 | NA | NA | 8.21 | 9.10 | 0.80 | NA | NA | 20.39 | 21.28 | 090
30560 |  | A | Release of nasal adhesions | 1.26 | 2.26 | 1.85 | 1.46 | 1.17 | 0.09 | 3.61 | 3.20 | 2.81 | 2.52 | 010
30580 |  | A | Repair upper jaw fistula | 6.69 | 4.95 | 5.41 | 4.95 | 4.56 | 0.50 | 12.14 | 12.60 | 12.14 | 11.75 | 090
30600 |  | A | Repair mouth/nose fistula | 6.02 | 5.14 | 4.88 | 5.14 | 4.88 | 0.70 | 11.86 | 11.60 | 11.86 | 11.60 | 090
30620 |  | A | Intranasal reconstruction | 5.97 | NA | NA | 6.40 | 6.58 | 0.45 | NA | NA | 12.82 | 13.00 | 090
30630 |  | A | Repair nasal septum defect | 7.12 | NA | NA | 6.86 | 6.84 | 0.51 | NA | NA | 14.49 | 14.47 | 090
30801 |  | A | Cauterization, inner nose | 1.09 | 2.46 | 1.97 | 2.20 | 1.72 | 0.08 | 3.63 | 3.14 | 3.37 | 2.89 | 010
30802 |  | A | Cauterization, inner nose | 2.03 | 3.00 | 2.51 | 2.74 | 2.31 | 0.15 | 5.18 | 4.69 | 4.92 | 4.49 | 010
30901 |  | A | Control of nosebleed | 1.21 | 2.05 | 1.69 | 0.44 | 0.41 | 0.09 | 3.35 | 2.99 | 1.74 | 1.71 | 000
30903 |  | A | Control of nosebleed | 1.54 | 2.46 | 2.08 | 0.62 | 0.70 | 0.12 | 4.12 | 3.74 | 2.28 | 2.36 | 000
30905 |  | A | Control of nosebleed | 1.97 | 4.29 | 3.70 | 0.88 | 1.15 | 0.15 | 6.41 | 5.82 | 3.00 | 3.27 | 000
30906 |  | A | Repeat control of nosebleed | 2.45 | 4.52 | 3.68 | 1.34 | 1.30 | 0.17 | 7.14 | 6.30 | 3.96 | 3.92 | 000
30915 |  | A | Ligation, nasal sinus artery | 7.20 | NA | NA | 6.86 | 6.49 | 0.50 | NA | NA | 14.56 | 14.19 | 090
30920 |  | A | Ligation, upper jaw artery | 9.83 | NA | NA | 8.32 | 8.83 | 0.69 | NA | NA | 18.84 | 19.35 | 090
30930 |  | A | Therapy, fracture of nose | 1.26 | NA | NA | 2.09 | 1.76 | 0.09 | NA | NA | 3.44 | 3.11 | 010
30999 |  | C | Nasal surgery procedure | 0.00 | 0.00 | 0.00 | 0.00 | 0.00 | 0.00 | 0.00 | 0.00 | 0.00 | 0.00 | YYY
31000 |  | A | Irrigation, maxillary sinus | 1.15 | 2.35 | 1.88 | 0.63 | 0.53 | 0.08 | 3.58 | 3.11 | 1.86 | 1.76 | 010
31002 |  | A | Irrigation, sphenoid sinus | 1.91 | NA | NA | 1.96 | 1.53 | 0.14 | NA | NA | 4.01 | 3.58 | 010
31020 |  | A | Exploration, maxillary sinus | 2.94 | 4.24 | 3.90 | 3.54 | 3.38 | 0.20 | 7.38 | 7.04 | 6.68 | 6.52 | 090
31030 |  | A | Exploration, maxillary sinus | 5.92 | 4.79 | 5.36 | 4.53 | 5.17 | 0.42 | 11.13 | 11.70 | 10.87 | 11.51 | 090
31032 |  | A | Explore sinus,remove polyps | 6.57 | NA | NA | 5.90 | 6.39 | 0.47 | NA | NA | 12.94 | 13.43 | 090
31040 |  | A | Exploration behind upper jaw | 9.42 | NA | NA | 6.74 | 7.22 | 0.71 | NA | NA | 16.87 | 17.35 | 090
31050 |  | A | Exploration, sphenoid sinus | 5.28 | NA | NA | 4.93 | 5.28 | 0.39 | NA | NA | 10.60 | 10.95 | 090
31051 |  | A | Sphenoid sinus surgery | 7.11 | NA | NA | 6.34 | 6.88 | 0.55 | NA | NA | 14.00 | 14.54 | 090
31070 |  | A | Exploration of frontal sinus | 4.28 | NA | NA | 4.86 | 4.92 | 0.30 | NA | NA | 9.44 | 9.50 | 090
31075 |  | A | Exploration of frontal sinus | 9.16 | NA | NA | 8.02 | 8.75 | 0.64 | NA | NA | 17.82 | 18.55 | 090
31080 |  | A | Removal of frontal sinus | 11.42 | NA | NA | 8.73 | 9.05 | 0.78 | NA | NA | 20.93 | 21.25 | 090
31081 |  | A | Removal of frontal sinus | 12.75 | NA | NA | 9.32 | 9.79 | 1.84 | NA | NA | 23.91 | 24.38 | 090
31084 |  | A | Removal of frontal sinus | 13.51 | NA | NA | 10.38 | 11.80 | 0.96 | NA | NA | 24.85 | 26.27 | 090
31085 |  | A | Removal of frontal sinus | 14.20 | NA | NA | 10.62 | 12.20 | 1.18 | NA | NA | 26.00 | 27.58 | 090
31086 |  | A | Removal of frontal sinus | 12.86 | NA | NA | 9.94 | 10.41 | 0.90 | NA | NA | 23.70 | 24.17 | 090
31087 |  | A | Removal of frontal sinus | 13.10 | NA | NA | 10.43 | 10.64 | 1.15 | NA | NA | 24.68 | 24.89 | 090
31090 |  | A | Exploration of sinuses | 9.53 | NA | NA | 8.66 | 9.34 | 0.66 | NA | NA | 18.85 | 19.53 | 090
31200 |  | A | Removal of ethmoid sinus | 4.97 | NA | NA | 5.85 | 5.64 | 0.25 | NA | NA | 11.07 | 10.86 | 090
31201 |  | A | Removal of ethmoid sinus | 8.37 | NA | NA | 7.60 | 7.60 | 0.58 | NA | NA | 16.55 | 16.55 | 090
31205 |  | A | Removal of ethmoid sinus | 10.24 | NA | NA | 8.48 | 8.54 | 0.58 | NA | NA | 19.30 | 19.36 | 090
31225 |  | A | Removal of upper jaw | 19.23 | NA | NA | 14.86 | 16.42 | 1.38 | NA | NA | 35.47 | 37.03 | 090
31230 |  | A | Removal of upper jaw | 21.94 | NA | NA | 16.17 | 18.03 | 1.57 | NA | NA | 39.68 | 41.54 | 090
31231 |  | A | Nasal endoscopy, dx | 1.10 | 1.90 | 1.80 | 0.59 | 0.82 | 0.08 | 3.08 | 2.98 | 1.77 | 2.00 | 000
31233 |  | A | Nasal/sinus endoscopy, dx | 2.18 | 2.53 | 2.66 | 1.18 | 1.27 | 0.16 | 4.87 | 5.00 | 3.52 | 3.61 | 000
31235 |  | A | Nasal/sinus endoscopy, dx | 2.64 | 2.80 | 2.75 | 1.47 | 1.43 | 0.18 | 5.62 | 5.57 | 4.29 | 4.25 | 000
31237 |  | A | Nasal/sinus endoscopy, surg | 2.98 | 3.07 | 3.19 | 1.62 | 1.66 | 0.21 | 6.26 | 6.38 | 4.81 | 4.85 | 000
31238 |  | A | Nasal/sinus endoscopy, surg | 3.26 | 3.58 | 3.66 | 1.83 | 1.86 | 0.23 | 7.07 | 7.15 | 5.32 | 5.35 | 000
31239 |  | A | Nasal/sinus endoscopy, surg | 8.70 | NA | NA | 6.54 | 7.50 | 0.46 | NA | NA | 15.70 | 16.66 | 010
31240 |  | A | Nasal/sinus endoscopy, surg | 2.61 | NA | NA | 1.57 | 1.96 | 0.18 | NA | NA | 4.36 | 4.75 | 000
31254 |  | A | Revision of ethmoid sinus | 4.65 | NA | NA | 2.72 | 3.43 | 0.32 | NA | NA | 7.69 | 8.40 | 000
31255 |  | A | Removal of ethmoid sinus | 6.96 | NA | NA | 4.02 | 5.09 | 0.49 | NA | NA | 11.47 | 12.54 | 000
31256 |  | A | Exploration maxillary sinus | 3.29 | NA | NA | 1.95 | 2.45 | 0.23 | NA | NA | 5.47 | 5.97 | 000
31267 |  | A | Endoscopy, maxillary sinus | 5.46 | NA | NA | 3.18 | 3.81 | 0.38 | NA | NA | 9.02 | 9.65 | 000
31276 |  | A | Sinus endoscopy, surgical | 8.85 | NA | NA | 5.09 | 5.64 | 0.62 | NA | NA | 14.56 | 15.11 | 000
31287 |  | A | Nasal/sinus endoscopy, surg | 3.92 | NA | NA | 2.31 | 2.90 | 0.27 | NA | NA | 6.50 | 7.09 | 000
31288 |  | A | Nasal/sinus endoscopy, surg | 4.58 | NA | NA | 2.68 | 3.38 | 0.32 | NA | NA | 7.58 | 8.28 | 000
31290 |  | A | Nasal/sinus endoscopy, surg | 17.24 | NA | NA | 11.57 | 13.15 | 1.20 | NA | NA | 30.01 | 31.59 | 010
31291 |  | A | Nasal/sinus endoscopy, surg | 18.19 | NA | NA | 11.77 | 13.53 | 1.73 | NA | NA | 31.69 | 33.45 | 010
31292 |  | A | Nasal/sinus endoscopy, surg | 14.76 | NA | NA | 9.98 | 11.12 | 0.99 | NA | NA | 25.73 | 26.87 | 010
31293 |  | A | Nasal/sinus endoscopy, surg | 16.21 | NA | NA | 10.77 | 12.05 | 0.97 | NA | NA | 27.95 | 29.23 | 010
31294 |  | A | Nasal/sinus endoscopy, surg | 19.06 | NA | NA | 11.64 | 13.27 | 1.04 | NA | NA | 31.74 | 33.37 | 010
31299 |  | C | Sinus surgery procedure | 0.00 | 0.00 | 0.00 | 0.00 | 0.00 | 0.00 | 0.00 | 0.00 | 0.00 | 0.00 | YYY
31300 |  | A | Removal of larynx lesion | 14.29 | NA | NA | 16.61 | 15.60 | 0.99 | NA | NA | 31.89 | 30.88 | 090
31320 |  | A | Diagnostic incision, larynx | 5.26 | NA | NA | 12.92 | 10.74 | 0.40 | NA | NA | 18.58 | 16.40 | 090
31360 |  | A | Removal of larynx | 17.08 | NA | NA | 18.44 | 18.93 | 1.20 | NA | NA | 36.72 | 37.21 | 090
31365 |  | A | Removal of larynx | 24.16 | NA | NA | 22.05 | 23.75 | 1.72 | NA | NA | 47.93 | 49.63 | 090
31367 |  | A | Partial removal of larynx | 21.86 | NA | NA | 22.72 | 21.71 | 1.57 | NA | NA | 46.15 | 45.14 | 090
31368 |  | A | Partial removal of larynx | 27.09 | NA | NA | 27.49 | 27.88 | 1.90 | NA | NA | 56.48 | 56.87 | 090
31370 |  | A | Partial removal of larynx | 21.38 | NA | NA | 22.64 | 21.64 | 1.51 | NA | NA | 45.53 | 44.53 | 090
31375 |  | A | Partial removal of larynx | 20.21 | NA | NA | 20.48 | 19.39 | 1.43 | NA | NA | 42.12 | 41.03 | 090
31380 |  | A | Partial removal of larynx | 20.21 | NA | NA | 20.06 | 19.73 | 1.40 | NA | NA | 41.67 | 41.34 | 090
31382 |  | A | Partial removal of larynx | 20.52 | NA | NA | 22.21 | 21.02 | 1.44 | NA | NA | 44.17 | 42.98 | 090
31390 |  | A | Removal of larynx & pharynx | 27.53 | NA | NA | 27.91 | 28.28 | 1.95 | NA | NA | 57.39 | 57.76 | 090
31395 |  | A | Reconstruct larynx & pharynx | 31.09 | NA | NA | 32.98 | 33.83 | 2.27 | NA | NA | 66.34 | 67.19 | 090
31400 |  | A | Revision of larynx | 10.31 | NA | NA | 15.04 | 13.40 | 0.72 | NA | NA | 26.07 | 24.43 | 090
31420 |  | A | Removal of epiglottis | 10.22 | NA | NA | 14.96 | 13.41 | 0.71 | NA | NA | 25.89 | 24.34 | 090
31500 |  | A | Insert emergency airway | 2.33 | NA | NA | 0.67 | 0.81 | 0.15 | NA | NA | 3.15 | 3.29 | 000
31502 |  | A | Change of windpipe airway | 0.65 | 1.82 | 1.52 | 0.26 | 0.35 | 0.04 | 2.51 | 2.21 | 0.95 | 1.04 | 000
31505 |  | A | Diagnostic laryngoscopy | 0.61 | 1.72 | 1.41 | 0.34 | 0.32 | 0.04 | 2.37 | 2.06 | 0.99 | 0.97 | 000
31510 |  | A | Laryngoscopy with biopsy | 1.92 | 2.67 | 2.15 | 1.01 | 0.91 | 0.15 | 4.74 | 4.22 | 3.08 | 2.98 | 000
31511 |  | A | Remove foreign body, larynx | 2.16 | 2.93 | 2.46 | 0.76 | 0.83 | 0.16 | 5.25 | 4.78 | 3.08 | 3.15 | 000
31512 |  | A | Removal of larynx lesion | 2.07 | 2.87 | 2.64 | 1.13 | 1.33 | 0.16 | 5.10 | 4.87 | 3.36 | 3.56 | 000
31513 |  | A | Injection into vocal cord | 2.10 | NA | NA | 1.28 | 1.59 | 0.15 | NA | NA | 3.53 | 3.84 | 000
31515 |  | A | Laryngoscopy for aspiration | 1.80 | 2.35 | 2.07 | 0.84 | 0.94 | 0.12 | 4.27 | 3.99 | 2.76 | 2.86 | 000
31520 |  | A | Diagnostic laryngoscopy | 2.56 | NA | NA | 1.40 | 1.50 | 0.17 | NA | NA | 4.13 | 4.23 | 000
31525 |  | A | Diagnostic laryngoscopy | 2.63 | 2.80 | 2.70 | 1.49 | 1.42 | 0.18 | 5.61 | 5.51 | 4.30 | 4.23 | 000
31526 |  | A | Diagnostic laryngoscopy | 2.57 | NA | NA | 1.54 | 1.92 | 0.18 | NA | NA | 4.29 | 4.67 | 000
31527 |  | A | Laryngoscopy for treatment | 3.27 | NA | NA | 1.69 | 2.08 | 0.21 | NA | NA | 5.17 | 5.56 | 000
31528 |  | A | Laryngoscopy and dilatation | 2.37 | NA | NA | 1.30 | 1.68 | 0.16 | NA | NA | 3.83 | 4.21 | 000
31529 |  | A | Laryngoscopy and dilatation | 2.68 | NA | NA | 1.58 | 1.85 | 0.18 | NA | NA | 4.44 | 4.71 | 000
31530 |  | A | Operative laryngoscopy | 3.39 | NA | NA | 1.81 | 2.34 | 0.24 | NA | NA | 5.44 | 5.97 | 000
31531 |  | A | Operative laryngoscopy | 3.59 | NA | NA | 2.13 | 2.67 | 0.25 | NA | NA | 5.97 | 6.51 | 000
31535 |  | A | Operative laryngoscopy | 3.16 | NA | NA | 1.84 | 2.33 | 0.22 | NA | NA | 5.22 | 5.71 | 000
31536 |  | A | Operative laryngoscopy | 3.56 | NA | NA | 2.10 | 2.64 | 0.25 | NA | NA | 5.91 | 6.45 | 000
31540 |  | A | Operative laryngoscopy | 4.13 | NA | NA | 2.41 | 3.04 | 0.29 | NA | NA | 6.83 | 7.46 | 000
31541 |  | A | Operative laryngoscopy | 4.53 | NA | NA | 2.65 | 3.23 | 0.32 | NA | NA | 7.50 | 8.08 | 000
31560 |  | A | Operative laryngoscopy | 5.46 | NA | NA | 3.02 | 3.62 | 0.38 | NA | NA | 8.86 | 9.46 | 000
31561 |  | A | Operative laryngoscopy | 6.00 | NA | NA | 3.48 | 4.31 | 0.42 | NA | NA | 9.90 | 10.73 | 000
31570 |  | A | Laryngoscopy with injection | 3.87 | 4.07 | 4.21 | 2.25 | 2.27 | 0.24 | 8.18 | 8.32 | 6.36 | 6.38 | 000
31571 |  | A | Laryngoscopy with injection | 4.27 | NA | NA | 2.50 | 3.10 | 0.30 | NA | NA | 7.07 | 7.67 | 000
31575 |  | A | Diagnostic laryngoscopy | 1.10 | 2.09 | 1.99 | 0.62 | 0.68 | 0.08 | 3.27 | 3.17 | 1.80 | 1.86 | 000
31576 |  | A | Laryngoscopy with biopsy | 1.97 | 2.36 | 2.36 | 0.97 | 1.32 | 0.13 | 4.46 | 4.46 | 3.07 | 3.42 | 000
31577 |  | A | Remove foreign body, larynx | 2.47 | 2.79 | 2.83 | 1.32 | 1.73 | 0.17 | 5.43 | 5.47 | 3.96 | 4.37 | 000
31578 |  | A | Removal of larynx lesion | 2.84 | 3.01 | 3.11 | 1.58 | 2.03 | 0.20 | 6.05 | 6.15 | 4.62 | 5.07 | 000
31579 |  | A | Diagnostic laryngoscopy | 2.26 | 2.83 | 2.76 | 1.21 | 1.23 | 0.16 | 5.25 | 5.18 | 3.63 | 3.65 | 000
31580 |  | A | Revision of larynx | 12.38 | NA | NA | 15.79 | 15.54 | 0.87 | NA | NA | 29.04 | 28.79 | 090
31582 |  | A | Revision of larynx | 21.62 | NA | NA | 21.03 | 20.62 | 1.52 | NA | NA | 44.17 | 43.76 | 090
31584 |  | A | Treat larynx fracture | 19.64 | NA | NA | 18.35 | 17.21 | 1.42 | NA | NA | 39.41 | 38.27 | 090
31585 |  | A | Treat larynx fracture | 4.64 | NA | NA | 8.35 | 7.29 | 0.30 | NA | NA | 13.29 | 12.23 | 090
31586 |  | A | Treat larynx fracture | 8.03 | NA | NA | 11.96 | 10.75 | 0.56 | NA | NA | 20.55 | 19.34 | 090
31587 |  | A | Revision of larynx | 11.99 | NA | NA | 13.32 | 11.95 | 0.88 | NA | NA | 26.19 | 24.82 | 090
31588 |  | A | Revision of larynx | 13.11 | NA | NA | 16.47 | 15.26 | 0.92 | NA | NA | 30.50 | 29.29 | 090
31590 |  | A | Reinnervate larynx | 6.97 | NA | NA | 11.70 | 10.34 | 0.50 | NA | NA | 19.17 | 17.81 | 090
31595 |  | A | Larynx nerve surgery | 8.34 | NA | NA | 10.48 | 9.72 | 0.62 | NA | NA | 19.44 | 18.68 | 090
31599 |  | C | Larynx surgery procedure | 0.00 | 0.00 | 0.00 | 0.00 | 0.00 | 0.00 | 0.00 | 0.00 | 0.00 | 0.00 | YYY
31600 |  | A | Incision of windpipe | 3.62 | NA | NA | 1.63 | 2.30 | 0.34 | NA | NA | 5.59 | 6.26 | 000
31601 |  | A | Incision of windpipe | 4.45 | NA | NA | 2.15 | 2.94 | 0.39 | NA | NA | 6.99 | 7.78 | 000
31603 |  | A | Incision of windpipe | 4.15 | NA | NA | 1.72 | 2.44 | 0.35 | NA | NA | 6.22 | 6.94 | 000
31605 |  | A | Incision of windpipe | 3.58 | NA | NA | 1.30 | 2.05 | 0.33 | NA | NA | 5.21 | 5.96 | 000
31610 |  | A | Incision of windpipe | 8.76 | NA | NA | 10.55 | 9.72 | 0.69 | NA | NA | 20.00 | 19.17 | 090
31611 |  | A | Surgery/speech prosthesis | 5.64 | NA | NA | 9.78 | 9.09 | 0.40 | NA | NA | 15.82 | 15.13 | 090
31612 |  | A | Puncture/clear windpipe | 0.91 | 1.47 | 1.42 | 0.43 | 0.60 | 0.06 | 2.44 | 2.39 | 1.40 | 1.57 | 000
31613 |  | A | Repair windpipe opening | 4.59 | NA | NA | 8.74 | 7.16 | 0.37 | NA | NA | 13.70 | 12.12 | 090
31614 |  | A | Repair windpipe opening | 7.12 | NA | NA | 11.76 | 10.65 | 0.51 | NA | NA | 19.39 | 18.28 | 090
31615 |  | A | Visualization of windpipe | 2.09 | 3.49 | 3.15 | 1.19 | 1.42 | 0.14 | 5.72 | 5.38 | 3.42 | 3.65 | 000
31622 |  | A | Dx bronchoscope/wash | 2.78 | 3.21 | 3.24 | 1.17 | 1.71 | 0.14 | 6.13 | 6.16 | 4.09 | 4.63 | 000
31623 |  | A | Dx bronchoscope/brush | 2.88 | 3.10 | 3.16 | 1.17 | 1.71 | 0.14 | 6.12 | 6.18 | 4.19 | 4.73 | 000
31624 |  | A | Dx bronchoscope/lavage | 2.88 | 2.79 | 2.93 | 1.16 | 1.71 | 0.13 | 5.80 | 5.94 | 4.17 | 4.72 | 000
31625 |  | A | Bronchoscopy with biopsy | 3.37 | 2.83 | 3.13 | 1.31 | 1.99 | 0.16 | 6.36 | 6.66 | 4.84 | 5.52 | 000
31628 |  | A | Bronchoscopy with biopsy | 3.81 | 3.13 | 3.49 | 1.37 | 2.17 | 0.14 | 7.08 | 7.44 | 5.32 | 6.12 | 000
31629 |  | A | Bronchoscopy with biopsy | 3.37 | NA | NA | 1.24 | 1.94 | 0.13 | NA | NA | 4.74 | 5.44 | 000
31630 |  | A | Bronchoscopy with repair | 3.82 | NA | NA | 2.13 | 2.61 | 0.30 | NA | NA | 6.25 | 6.73 | 000
31631 |  | A | Bronchoscopy with dilation | 4.37 | NA | NA | 2.15 | 2.68 | 0.31 | NA | NA | 6.83 | 7.36 | 000
31635 |  | A | Remove foreign body, airway | 3.68 | NA | NA | 1.74 | 2.41 | 0.21 | NA | NA | 5.63 | 6.30 | 000
31640 |  | A | Bronchoscopy & remove lesion | 4.94 | NA | NA | 2.49 | 3.23 | 0.37 | NA | NA | 7.80 | 8.54 | 000
31641 |  | A | Bronchoscopy, treat blockage | 5.03 | NA | NA | 2.23 | 3.17 | 0.30 | NA | NA | 7.56 | 8.50 | 000
31643 |  | A | Diag bronchoscope/catheter | 3.50 | 1.16 | 1.71 | 1.16 | 1.71 | 0.15 | 4.81 | 5.36 | 4.81 | 5.36 | 000
31645 |  | A | Bronchoscopy, clear airways | 3.16 | NA | NA | 1.21 | 1.85 | 0.13 | NA | NA | 4.50 | 5.14 | 000
31646 |  | A | Bronchoscopy, reclear airway | 2.72 | NA | NA | 1.08 | 1.62 | 0.12 | NA | NA | 3.92 | 4.46 | 000
31656 |  | A | Bronchoscopy, inj for xray | 2.17 | NA | NA | 0.92 | 1.34 | 0.10 | NA | NA | 3.19 | 3.61 | 000
31700 |  | A | Insertion of airway catheter | 1.34 | 2.42 | 2.19 | 0.73 | 0.92 | 0.07 | 3.83 | 3.60 | 2.14 | 2.33 | 000
31708 |  | A | Instill airway contrast dye | 1.41 | NA | NA | 0.63 | 0.68 | 0.06 | NA | NA | 2.10 | 2.15 | 000
31710 |  | A | Insertion of airway catheter | 1.30 | NA | NA | 0.71 | 0.78 | 0.06 | NA | NA | 2.07 | 2.14 | 000
31715 |  | A | Injection for bronchus x-ray | 1.11 | NA | NA | 0.63 | 0.60 | 0.06 | NA | NA | 1.80 | 1.77 | 000
31717 |  | A | Bronchial brush biopsy | 2.12 | 2.59 | 2.14 | 0.87 | 0.85 | 0.09 | 4.80 | 4.35 | 3.08 | 3.06 | 000
31720 |  | A | Clearance of airways | 1.06 | 1.83 | 1.57 | 0.33 | 0.45 | 0.06 | 2.95 | 2.69 | 1.45 | 1.57 | 000
31725 |  | A | Clearance of airways | 1.96 | NA | NA | 0.61 | 0.84 | 0.10 | NA | NA | 2.67 | 2.90 | 000
31730 |  | A | Intro, windpipe wire/tube | 2.85 | 2.34 | 2.43 | 1.10 | 1.50 | 0.15 | 5.34 | 5.43 | 4.10 | 4.50 | 000
31750 |  | A | Repair of windpipe | 13.02 | NA | NA | 15.81 | 14.27 | 1.02 | NA | NA | 29.85 | 28.31 | 090
31755 |  | A | Repair of windpipe | 15.93 | NA | NA | 18.41 | 17.42 | 1.15 | NA | NA | 35.49 | 34.50 | 090
31760 |  | A | Repair of windpipe | 22.35 | NA | NA | 12.68 | 12.47 | 1.48 | NA | NA | 36.51 | 36.30 | 090
31766 |  | A | Reconstruction of windpipe | 30.43 | NA | NA | 20.27 | 20.20 | 3.16 | NA | NA | 53.86 | 53.79 | 090
31770 |  | A | Repair/graft of bronchus | 22.51 | NA | NA | 17.92 | 17.53 | 2.27 | NA | NA | 42.70 | 42.31 | 090
31775 |  | A | Reconstruct bronchus | 23.54 | NA | NA | 16.73 | 16.99 | 2.91 | NA | NA | 43.18 | 43.44 | 090
31780 |  | A | Reconstruct windpipe | 17.72 | NA | NA | 14.13 | 15.30 | 1.55 | NA | NA | 33.40 | 34.57 | 090
31781 |  | A | Reconstruct windpipe | 23.53 | NA | NA | 15.44 | 16.16 | 2.04 | NA | NA | 41.01 | 41.73 | 090
31785 |  | A | Remove windpipe lesion | 17.23 | NA | NA | 13.28 | 12.38 | 1.36 | NA | NA | 31.87 | 30.97 | 090
31786 |  | A | Remove windpipe lesion | 23.98 | NA | NA | 16.25 | 15.80 | 2.20 | NA | NA | 42.43 | 41.98 | 090
31800 |  | A | Repair of windpipe injury | 7.43 | NA | NA | 7.82 | 7.20 | 0.67 | NA | NA | 15.92 | 15.30 | 090
31805 |  | A | Repair of windpipe injury | 13.13 | NA | NA | 11.99 | 11.66 | 1.45 | NA | NA | 26.57 | 26.24 | 090
31820 |  | A | Closure of windpipe lesion | 4.49 | 7.65 | 6.71 | 7.65 | 6.71 | 0.35 | 12.49 | 11.55 | 12.49 | 11.55 | 090
31825 |  | A | Repair of windpipe defect | 6.81 | 11.20 | 9.76 | 10.88 | 9.52 | 0.50 | 18.51 | 17.07 | 18.19 | 16.83 | 090
31830 |  | A | Revise windpipe scar | 4.50 | 7.82 | 6.86 | 7.82 | 6.86 | 0.36 | 12.68 | 11.72 | 12.68 | 11.72 | 090
31899 |  | C | Airways surgical procedure | 0.00 | 0.00 | 0.00 | 0.00 | 0.00 | 0.00 | 0.00 | 0.00 | 0.00 | 0.00 | YYY
32000 |  | A | Drainage of chest | 1.54 | 2.95 | 2.46 | 0.50 | 0.62 | 0.07 | 4.56 | 4.07 | 2.11 | 2.23 | 000
32002 |  | A | Treatment of collapsed lung | 2.19 | NA | NA | 0.86 | 1.01 | 0.11 | NA | NA | 3.16 | 3.31 | 000
32005 |  | A | Treat lung lining chemically | 2.19 | NA | NA | 0.94 | 1.00 | 0.17 | NA | NA | 3.30 | 3.36 | 000
32020 |  | A | Insertion of chest tube | 3.98 | NA | NA | 1.60 | 1.91 | 0.36 | NA | NA | 5.94 | 6.25 | 000
32035 |  | A | Exploration of chest | 8.67 | NA | NA | 9.68 | 9.10 | 1.02 | NA | NA | 19.37 | 18.79 | 090
32036 |  | A | Exploration of chest | 9.68 | NA | NA | 11.37 | 10.46 | 1.20 | NA | NA | 22.25 | 21.34 | 090
32095 |  | A | Biopsy through chest wall | 8.36 | NA | NA | 10.48 | 10.10 | 0.99 | NA | NA | 19.83 | 19.45 | 090
32100 |  | A | Exploration/biopsy of chest | 11.84 | NA | NA | 11.72 | 11.84 | 1.45 | NA | NA | 25.01 | 25.13 | 090
32110 |  | A | Explore/repair chest | 13.62 | NA | NA | 12.70 | 12.65 | 1.63 | NA | NA | 27.95 | 27.90 | 090
32120 |  | A | Re-exploration of chest | 11.54 | NA | NA | 12.32 | 11.81 | 1.42 | NA | NA | 25.28 | 24.77 | 090
32124 |  | A | Explore chest free adhesions | 12.72 | NA | NA | 11.69 | 11.74 | 1.51 | NA | NA | 25.92 | 25.97 | 090
32140 |  | A | Removal of lung lesion(s) | 13.93 | NA | NA | 12.55 | 12.77 | 1.68 | NA | NA | 28.16 | 28.38 | 090
32141 |  | A | Remove/treat lung lesions | 14.00 | NA | NA | 12.92 | 13.33 | 1.72 | NA | NA | 28.64 | 29.05 | 090
32150 |  | A | Removal of lung lesion(s) | 14.15 | NA | NA | 11.89 | 11.72 | 1.60 | NA | NA | 27.64 | 27.47 | 090
32151 |  | A | Remove lung foreign body | 14.21 | NA | NA | 12.91 | 12.17 | 1.49 | NA | NA | 28.61 | 27.87 | 090
32160 |  | A | Open chest heart massage | 9.30 | NA | NA | 7.41 | 8.04 | 1.01 | NA | NA | 17.72 | 18.35 | 090
32200 |  | A | Drain, open, lung lesion | 15.29 | NA | NA | 12.13 | 10.97 | 1.46 | NA | NA | 28.88 | 27.72 | 090
32201 |  | A | Drain, percut, lung lesion | 4.00 | NA | NA | 6.55 | 5.74 | 0.18 | NA | NA | 10.73 | 9.92 | 000
32215 |  | A | Treat chest lining | 11.33 | NA | NA | 12.51 | 11.45 | 1.34 | NA | NA | 25.18 | 24.12 | 090
32220 |  | A | Release of lung | 19.27 | NA | NA | 15.39 | 15.83 | 2.39 | NA | NA | 37.05 | 37.49 | 090
32225 |  | A | Partial release of lung | 13.96 | NA | NA | 12.83 | 12.84 | 1.70 | NA | NA | 28.49 | 28.50 | 090
32310 |  | A | Removal of chest lining | 13.44 | NA | NA | 12.35 | 12.42 | 1.65 | NA | NA | 27.44 | 27.51 | 090
32320 |  | A | Free/remove chest lining | 20.54 | NA | NA | 14.95 | 16.12 | 2.50 | NA | NA | 37.99 | 39.16 | 090
32400 |  | A | Needle biopsy chest lining | 1.76 | 1.82 | 1.77 | 0.58 | 0.84 | 0.07 | 3.65 | 3.60 | 2.41 | 2.67 | 000
32402 |  | A | Open biopsy chest lining | 7.56 | NA | NA | 10.59 | 10.00 | 0.91 | NA | NA | 19.06 | 18.47 | 090
32405 |  | A | Biopsy, lung or mediastinum | 1.93 | 2.23 | 2.25 | 0.68 | 1.09 | 0.09 | 4.25 | 4.27 | 2.70 | 3.11 | 000
32420 |  | A | Puncture/clear lung | 2.18 | NA | NA | 0.85 | 1.05 | 0.11 | NA | NA | 3.14 | 3.34 | 000
32440 |  | A | Removal of lung | 21.02 | NA | NA | 15.56 | 16.71 | 2.56 | NA | NA | 39.14 | 40.29 | 090
32442 |  | A | Sleeve pneumonectomy | 26.24 | NA | NA | 19.00 | 19.12 | 3.12 | NA | NA | 48.36 | 48.48 | 090
32445 |  | A | Removal of lung | 25.09 | NA | NA | 16.73 | 18.10 | 3.11 | NA | NA | 44.93 | 46.30 | 090
32480 |  | A | Partial removal of lung | 18.32 | NA | NA | 13.52 | 14.79 | 2.24 | NA | NA | 34.08 | 35.35 | 090
32482 |  | A | Bilobectomy | 19.71 | NA | NA | 14.63 | 15.63 | 2.35 | NA | NA | 36.69 | 37.69 | 090
32484 |  | A | Segmentectomy | 20.69 | NA | NA | 14.88 | 15.81 | 2.54 | NA | NA | 38.11 | 39.04 | 090
32486 |  | A | Sleeve lobectomy | 23.92 | NA | NA | 16.63 | 16.96 | 3.00 | NA | NA | 43.55 | 43.88 | 090
32488 |  | A | Completion pneumonectomy | 25.71 | NA | NA | 17.76 | 18.13 | 3.18 | NA | NA | 46.65 | 47.02 | 090
32491 |  | R | Lung volume reduction | 21.25 | NA | NA | 17.23 | 17.12 | 2.66 | NA | NA | 41.14 | 41.03 | 090
32500 |  | A | Partial removal of lung | 14.30 | NA | NA | 13.15 | 13.52 | 1.77 | NA | NA | 29.22 | 29.59 | 090
32501 |  | A | Repair bronchus add-on | 4.69 | NA | NA | 1.89 | 2.59 | 0.56 | NA | NA | 7.14 | 7.84 | ZZZ
32520 |  | A | Remove lung & revise chest | 21.68 | NA | NA | 16.19 | 17.75 | 2.71 | NA | NA | 40.58 | 42.14 | 090
32522 |  | A | Remove lung & revise chest | 24.20 | NA | NA | 16.48 | 18.30 | 2.84 | NA | NA | 43.52 | 45.34 | 090
32525 |  | A | Remove lung & revise chest | 26.50 | NA | NA | 17.47 | 19.48 | 3.25 | NA | NA | 47.22 | 49.23 | 090
32540 |  | A | Removal of lung lesion | 14.64 | NA | NA | 13.36 | 13.19 | 1.84 | NA | NA | 29.84 | 29.67 | 090
32601 |  | A | Thoracoscopy, diagnostic | 5.46 | NA | NA | 4.57 | 4.37 | 0.63 | NA | NA | 10.66 | 10.46 | 000
32602 |  | A | Thoracoscopy, diagnostic | 5.96 | NA | NA | 4.81 | 4.66 | 0.70 | NA | NA | 11.47 | 11.32 | 000
32603 |  | A | Thoracoscopy, diagnostic | 7.81 | NA | NA | 5.08 | 4.75 | 0.76 | NA | NA | 13.65 | 13.32 | 000
32604 |  | A | Thoracoscopy, diagnostic | 8.78 | NA | NA | 5.98 | 5.54 | 0.97 | NA | NA | 15.73 | 15.29 | 000
32605 |  | A | Thoracoscopy, diagnostic | 6.93 | NA | NA | 5.55 | 5.11 | 0.86 | NA | NA | 13.34 | 12.90 | 000
32606 |  | A | Thoracoscopy, diagnostic | 8.40 | NA | NA | 5.65 | 5.29 | 0.99 | NA | NA | 15.04 | 14.68 | 000
32650 |  | A | Thoracoscopy, surgical | 10.75 | NA | NA | 10.88 | 10.23 | 1.25 | NA | NA | 22.88 | 22.23 | 090
32651 |  | A | Thoracoscopy, surgical | 12.91 | NA | NA | 10.80 | 11.31 | 1.50 | NA | NA | 25.21 | 25.72 | 090
32652 |  | A | Thoracoscopy, surgical | 18.66 | NA | NA | 14.50 | 15.17 | 2.30 | NA | NA | 35.46 | 36.13 | 090
32653 |  | A | Thoracoscopy, surgical | 12.87 | NA | NA | 11.59 | 11.50 | 1.55 | NA | NA | 26.01 | 25.92 | 090
32654 |  | A | Thoracoscopy, surgical | 12.44 | NA | NA | 9.14 | 9.98 | 1.51 | NA | NA | 23.09 | 23.93 | 090
32655 |  | A | Thoracoscopy, surgical | 13.10 | NA | NA | 10.99 | 11.88 | 1.53 | NA | NA | 25.62 | 26.51 | 090
32656 |  | A | Thoracoscopy, surgical | 12.91 | NA | NA | 12.44 | 12.96 | 1.61 | NA | NA | 26.96 | 27.48 | 090
32657 |  | A | Thoracoscopy, surgical | 13.65 | NA | NA | 11.81 | 12.51 | 1.64 | NA | NA | 27.10 | 27.80 | 090
32658 |  | A | Thoracoscopy, surgical | 11.63 | NA | NA | 13.17 | 13.35 | 1.47 | NA | NA | 26.27 | 26.45 | 090
32659 |  | A | Thoracoscopy, surgical | 11.59 | NA | NA | 11.24 | 11.89 | 1.39 | NA | NA | 24.22 | 24.87 | 090
32660 |  | A | Thoracoscopy, surgical | 17.43 | NA | NA | 13.34 | 15.21 | 2.09 | NA | NA | 32.86 | 34.73 | 090
32661 |  | A | Thoracoscopy, surgical | 13.25 | NA | NA | 12.60 | 11.96 | 1.66 | NA | NA | 27.51 | 26.87 | 090
32662 |  | A | Thoracoscopy, surgical | 16.44 | NA | NA | 13.52 | 14.09 | 2.01 | NA | NA | 31.97 | 32.54 | 090
32663 |  | A | Thoracoscopy, surgical | 18.47 | NA | NA | 14.39 | 15.45 | 2.28 | NA | NA | 35.14 | 36.20 | 090
32664 |  | A | Thoracoscopy, surgical | 14.20 | NA | NA | 10.97 | 11.09 | 1.70 | NA | NA | 26.87 | 26.99 | 090
32665 |  | A | Thoracoscopy, surgical | 15.54 | NA | NA | 11.15 | 12.25 | 1.79 | NA | NA | 28.48 | 29.58 | 090
32800 |  | A | Repair lung hernia | 13.69 | NA | NA | 11.78 | 11.08 | 1.51 | NA | NA | 26.98 | 26.28 | 090
32810 |  | A | Close chest after drainage | 13.05 | NA | NA | 11.97 | 10.74 | 1.55 | NA | NA | 26.57 | 25.34 | 090
32815 |  | A | Close bronchial fistula | 23.15 | NA | NA | 17.03 | 16.90 | 2.84 | NA | NA | 43.02 | 42.89 | 090
32820 |  | A | Reconstruct injured chest | 21.48 | NA | NA | 15.38 | 16.69 | 2.31 | NA | NA | 39.17 | 40.48 | 090
32850 |  | X | Donor pneumonectomy | 0.00 | 0.00 | 0.00 | 0.00 | 0.00 | 0.00 | 0.00 | 0.00 | 0.00 | 0.00 | XXX
32851 |  | A | Lung transplant, single | 38.63 | NA | NA | 24.78 | 25.52 | 4.90 | NA | NA | 68.31 | 69.05 | 090
32852 |  | A | Lung transplant with bypass | 41.80 | NA | NA | 27.82 | 28.38 | 5.17 | NA | NA | 74.79 | 75.35 | 090
32853 |  | A | Lung transplant, double | 47.81 | NA | NA | 29.36 | 30.69 | 6.13 | NA | NA | 83.30 | 84.63 | 090
32854 |  | A | Lung transplant with bypass | 50.98 | NA | NA | 29.22 | 31.17 | 6.41 | NA | NA | 86.61 | 88.56 | 090
32900 |  | A | Removal of rib(s) | 20.27 | NA | NA | 14.52 | 13.19 | 2.42 | NA | NA | 37.21 | 35.88 | 090
32905 |  | A | Revise & repair chest wall | 20.75 | NA | NA | 15.18 | 14.84 | 2.54 | NA | NA | 38.47 | 38.13 | 090
32906 |  | A | Revise & repair chest wall | 26.77 | NA | NA | 18.98 | 18.42 | 3.30 | NA | NA | 49.05 | 48.49 | 090
32940 |  | A | Revision of lung | 19.43 | NA | NA | 15.29 | 14.55 | 2.47 | NA | NA | 37.19 | 36.45 | 090
32960 |  | A | Therapeutic pneumothorax | 1.84 | 1.47 | 1.36 | 0.61 | 0.71 | 0.12 | 3.43 | 3.32 | 2.57 | 2.67 | 000
32997 |  | A | Total lung lavage | 6.00 | NA | NA | 2.32 | 2.32 | 0.55 | NA | NA | 8.87 | 8.87 | 000
32999 |  | C | Chest surgery procedure | 0.00 | 0.00 | 0.00 | 0.00 | 0.00 | 0.00 | 0.00 | 0.00 | 0.00 | 0.00 | YYY
33010 |  | A | Drainage of heart sac | 2.24 | NA | NA | 1.03 | 1.19 | 0.13 | NA | NA | 3.40 | 3.56 | 000
33011 |  | A | Repeat drainage of heart sac | 2.24 | NA | NA | 1.09 | 0.97 | 0.13 | NA | NA | 3.46 | 3.34 | 000
33015 |  | A | Incision of heart sac | 6.80 | NA | NA | 5.24 | 5.09 | 0.64 | NA | NA | 12.68 | 12.53 | 090
33020 |  | A | Incision of heart sac | 12.61 | NA | NA | 9.90 | 11.02 | 1.50 | NA | NA | 24.01 | 25.13 | 090
33025 |  | A | Incision of heart sac | 12.09 | NA | NA | 10.17 | 11.24 | 1.50 | NA | NA | 23.76 | 24.83 | 090
33030 |  | A | Partial removal of heart sac | 18.71 | NA | NA | 16.32 | 17.82 | 2.40 | NA | NA | 37.43 | 38.93 | 090
33031 |  | A | Partial removal of heart sac | 21.79 | NA | NA | 17.72 | 16.89 | 2.78 | NA | NA | 42.29 | 41.46 | 090
33050 |  | A | Removal of heart sac lesion | 14.36 | NA | NA | 12.87 | 12.16 | 1.73 | NA | NA | 28.96 | 28.25 | 090
33120 |  | A | Removal of heart lesion | 24.56 | NA | NA | 20.91 | 23.01 | 3.06 | NA | NA | 48.53 | 50.63 | 090
33130 |  | A | Removal of heart lesion | 21.39 | NA | NA | 16.53 | 16.06 | 2.51 | NA | NA | 40.43 | 39.96 | 090
33140 |  | A | Heart revascularize (tmr) | 20.00 | NA | NA | 12.79 | 12.79 | 2.27 | NA | NA | 35.06 | 35.06 | 090
33141 |  | A | Heart tmr w/other procedure | 4.84 | NA | NA | 1.97 | 1.97 | 0.60 | NA | NA | 7.41 | 7.41 | ZZZ
33200 |  | A | Insertion of heart pacemaker | 12.48 | NA | NA | 11.73 | 12.13 | 1.17 | NA | NA | 25.38 | 25.78 | 090
33201 |  | A | Insertion of heart pacemaker | 10.18 | NA | NA | 12.53 | 12.43 | 1.21 | NA | NA | 23.92 | 23.82 | 090
33206 |  | A | Insertion of heart pacemaker | 6.67 | NA | NA | 6.17 | 6.62 | 0.50 | NA | NA | 13.34 | 13.79 | 090
33207 |  | A | Insertion of heart pacemaker | 8.04 | NA | NA | 6.62 | 7.36 | 0.57 | NA | NA | 15.23 | 15.97 | 090
33208 |  | A | Insertion of heart pacemaker | 8.13 | NA | NA | 6.74 | 7.48 | 0.54 | NA | NA | 15.41 | 16.15 | 090
33210 |  | A | Insertion of heart electrode | 3.30 | NA | NA | 1.38 | 1.93 | 0.17 | NA | NA | 4.85 | 5.40 | 000
33211 |  | A | Insertion of heart electrode | 3.40 | NA | NA | 1.48 | 2.01 | 0.17 | NA | NA | 5.05 | 5.58 | 000
33212 |  | A | Insertion of pulse generator | 5.52 | NA | NA | 5.00 | 5.21 | 0.44 | NA | NA | 10.96 | 11.17 | 090
33213 |  | A | Insertion of pulse generator | 6.37 | NA | NA | 5.35 | 5.47 | 0.46 | NA | NA | 12.18 | 12.30 | 090
33214 |  | A | Upgrade of pacemaker system | 7.75 | NA | NA | 6.50 | 6.34 | 0.52 | NA | NA | 14.77 | 14.61 | 090
33216 |  | A | Revise eltrd pacing-defib | 5.39 | NA | NA | 5.39 | 5.41 | 0.36 | NA | NA | 11.14 | 11.16 | 090
33217 |  | A | Revise eltrd pacing-defib | 5.75 | NA | NA | 5.73 | 5.66 | 0.36 | NA | NA | 11.84 | 11.77 | 090
33218 |  | A | Revise eltrd pacing-defib | 5.44 | NA | NA | 5.03 | 5.02 | 0.40 | NA | NA | 10.87 | 10.86 | 090
33220 |  | A | Revise eltrd pacing-defib | 5.52 | NA | NA | 5.09 | 5.06 | 0.39 | NA | NA | 11.00 | 10.97 | 090
33222 |  | A | Revise pocket, pacemaker | 4.96 | NA | NA | 4.46 | 4.83 | 0.39 | NA | NA | 9.81 | 10.18 | 090
33223 |  | A | Revise pocket, pacing-defib | 6.46 | NA | NA | 5.76 | 5.87 | 0.44 | NA | NA | 12.66 | 12.77 | 090
33233 |  | A | Removal of pacemaker system | 3.29 | NA | NA | 4.33 | 3.97 | 0.22 | NA | NA | 7.84 | 7.48 | 090
33234 |  | A | Removal of pacemaker system | 7.82 | NA | NA | 6.36 | 5.54 | 0.56 | NA | NA | 14.74 | 13.92 | 090
33235 |  | A | Removal pacemaker electrode | 9.40 | NA | NA | 7.15 | 6.22 | 0.68 | NA | NA | 17.23 | 16.30 | 090
33236 |  | A | Remove electrode/thoracotomy | 12.60 | NA | NA | 11.65 | 9.82 | 1.49 | NA | NA | 25.74 | 23.91 | 090
33237 |  | A | Remove electrode/thoracotomy | 13.71 | NA | NA | 12.58 | 12.04 | 1.57 | NA | NA | 27.86 | 27.32 | 090
33238 |  | A | Remove electrode/thoracotomy | 15.22 | NA | NA | 12.31 | 12.03 | 1.56 | NA | NA | 29.09 | 28.81 | 090
33240 |  | A | Insert pulse generator | 7.60 | NA | NA | 6.27 | 6.16 | 0.53 | NA | NA | 14.40 | 14.29 | 090
33241 |  | A | Remove pulse generator | 3.24 | NA | NA | 3.92 | 3.53 | 0.21 | NA | NA | 7.37 | 6.98 | 090
33243 |  | A | Remove eltrd/thoracotomy | 22.64 | NA | NA | 13.30 | 12.42 | 2.53 | NA | NA | 38.47 | 37.59 | 090
33244 |  | A | Remove eltrd, transven | 13.76 | NA | NA | 9.41 | 9.51 | 1.05 | NA | NA | 24.22 | 24.32 | 090
33245 |  | A | Insert epic eltrd pace-defib | 14.30 | NA | NA | 13.04 | 14.05 | 1.28 | NA | NA | 28.62 | 29.63 | 090
33246 |  | A | Insert epic eltrd/generator | 20.71 | NA | NA | 17.92 | 19.08 | 2.22 | NA | NA | 40.85 | 42.01 | 090
33249 |  | A | Eltrd/insert pace-defib | 14.23 | NA | NA | 9.80 | 11.32 | 0.80 | NA | NA | 24.83 | 26.35 | 090
33250 |  | A | Ablate heart dysrhythm focus | 21.85 | NA | NA | 14.70 | 14.16 | 1.01 | NA | NA | 37.56 | 37.02 | 090
33251 |  | A | Ablate heart dysrhythm focus | 24.88 | NA | NA | 18.08 | 18.01 | 2.41 | NA | NA | 45.37 | 45.30 | 090
33253 |  | A | Reconstruct atria | 31.06 | NA | NA | 21.93 | 22.37 | 3.68 | NA | NA | 56.67 | 57.11 | 090
33261 |  | A | Ablate heart dysrhythm focus | 24.88 | NA | NA | 18.85 | 17.93 | 2.82 | NA | NA | 46.55 | 45.63 | 090
33282 |  | A | Implant pat-active ht record | 4.17 | NA | NA | 5.53 | 5.53 | 0.39 | NA | NA | 10.09 | 10.09 | 090
33284 |  | A | Remove pat-active ht record | 2.50 | NA | NA | 5.06 | 5.06 | 0.23 | NA | NA | 7.79 | 7.79 | 090
33300 |  | A | Repair of heart wound | 17.92 | NA | NA | 15.10 | 15.22 | 1.91 | NA | NA | 34.93 | 35.05 | 090
33305 |  | A | Repair of heart wound | 21.44 | NA | NA | 17.60 | 17.92 | 2.68 | NA | NA | 41.72 | 42.04 | 090
33310 |  | A | Exploratory heart surgery | 18.51 | NA | NA | 16.13 | 15.16 | 2.26 | NA | NA | 36.90 | 35.93 | 090
33315 |  | A | Exploratory heart surgery | 22.37 | NA | NA | 18.07 | 17.48 | 2.90 | NA | NA | 43.34 | 42.75 | 090
33320 |  | A | Repair major blood vessel(s) | 16.79 | NA | NA | 13.82 | 14.20 | 1.66 | NA | NA | 32.27 | 32.65 | 090
33321 |  | A | Repair major vessel | 20.20 | NA | NA | 17.69 | 19.17 | 2.70 | NA | NA | 40.59 | 42.07 | 090
33322 |  | A | Repair major blood vessel(s) | 20.62 | NA | NA | 17.11 | 18.73 | 2.51 | NA | NA | 40.24 | 41.86 | 090
33330 |  | A | Insert major vessel graft | 21.43 | NA | NA | 16.59 | 15.88 | 2.49 | NA | NA | 40.51 | 39.80 | 090
33332 |  | A | Insert major vessel graft | 23.96 | NA | NA | 16.63 | 16.56 | 2.45 | NA | NA | 43.04 | 42.97 | 090
33335 |  | A | Insert major vessel graft | 30.01 | NA | NA | 20.90 | 19.76 | 3.79 | NA | NA | 54.70 | 53.56 | 090
33400 |  | A | Repair of aortic valve | 25.34 | NA | NA | 22.51 | 23.99 | 3.09 | NA | NA | 50.94 | 52.42 | 090
33401 |  | A | Valvuloplasty, open | 23.91 | NA | NA | 20.65 | 22.60 | 2.71 | NA | NA | 47.27 | 49.22 | 090
33403 |  | A | Valvuloplasty, w/cp bypass | 24.89 | NA | NA | 21.18 | 23.00 | 2.48 | NA | NA | 48.55 | 50.37 | 090
33404 |  | A | Prepare heart-aorta conduit | 28.54 | NA | NA | 23.41 | 26.04 | 3.31 | NA | NA | 55.26 | 57.89 | 090
33405 |  | A | Replacement of aortic valve | 30.61 | NA | NA | 21.49 | 24.39 | 3.86 | NA | NA | 55.96 | 58.86 | 090
33406 |  | A | Replacement of aortic valve | 32.30 | NA | NA | 21.91 | 26.07 | 4.07 | NA | NA | 58.28 | 62.44 | 090
33410 |  | A | Replacement of aortic valve | 32.46 | NA | NA | 22.25 | 22.25 | 4.11 | NA | NA | 58.82 | 58.82 | 090
33411 |  | A | Replacement of aortic valve | 32.47 | NA | NA | 22.58 | 26.63 | 4.16 | NA | NA | 59.21 | 63.26 | 090
33412 |  | A | Replacement of aortic valve | 34.79 | NA | NA | 28.65 | 31.87 | 4.66 | NA | NA | 68.10 | 71.32 | 090
33413 |  | A | Replacement of aortic valve | 35.24 | NA | NA | 26.31 | 30.25 | 4.26 | NA | NA | 65.81 | 69.75 | 090
33414 |  | A | Repair of aortic valve | 30.35 | NA | NA | 25.53 | 28.21 | 3.79 | NA | NA | 59.67 | 62.35 | 090
33415 |  | A | Revision, subvalvular tissue | 27.15 | NA | NA | 23.86 | 26.00 | 3.25 | NA | NA | 54.26 | 56.40 | 090
33416 |  | A | Revise ventricle muscle | 30.35 | NA | NA | 21.75 | 23.95 | 3.85 | NA | NA | 55.95 | 58.15 | 090
33417 |  | A | Repair of aortic valve | 28.53 | NA | NA | 25.27 | 27.47 | 3.58 | NA | NA | 57.38 | 59.58 | 090
33420 |  | A | Revision of mitral valve | 22.70 | NA | NA | 12.17 | 14.51 | 1.48 | NA | NA | 36.35 | 38.69 | 090
33422 |  | A | Revision of mitral valve | 25.94 | NA | NA | 19.49 | 22.36 | 3.30 | NA | NA | 48.73 | 51.60 | 090
33425 |  | A | Repair of mitral valve | 27.00 | NA | NA | 18.50 | 21.93 | 3.00 | NA | NA | 48.50 | 51.93 | 090
33426 |  | A | Repair of mitral valve | 31.03 | NA | NA | 21.66 | 24.92 | 3.87 | NA | NA | 56.56 | 59.82 | 090
33427 |  | A | Repair of mitral valve | 33.72 | NA | NA | 22.30 | 26.14 | 4.30 | NA | NA | 60.32 | 64.16 | 090
33430 |  | A | Replacement of mitral valve | 31.43 | NA | NA | 21.86 | 25.78 | 3.95 | NA | NA | 57.24 | 61.16 | 090
33460 |  | A | Revision of tricuspid valve | 23.60 | NA | NA | 18.75 | 21.11 | 3.02 | NA | NA | 45.37 | 47.73 | 090
33463 |  | A | Valvuloplasty, tricuspid | 25.62 | NA | NA | 19.45 | 22.23 | 3.17 | NA | NA | 48.24 | 51.02 | 090
33464 |  | A | Valvuloplasty, tricuspid | 27.33 | NA | NA | 20.33 | 23.40 | 3.47 | NA | NA | 51.13 | 54.20 | 090
33465 |  | A | Replace tricuspid valve | 28.79 | NA | NA | 20.51 | 23.98 | 3.61 | NA | NA | 52.91 | 56.38 | 090
33468 |  | A | Revision of tricuspid valve | 30.12 | NA | NA | 29.92 | 31.43 | 4.00 | NA | NA | 64.04 | 65.55 | 090
33470 |  | A | Revision of pulmonary valve | 20.81 | NA | NA | 17.43 | 18.45 | 2.81 | NA | NA | 41.05 | 42.07 | 090
33471 |  | A | Valvotomy, pulmonary valve | 22.25 | NA | NA | 19.39 | 21.19 | 3.00 | NA | NA | 44.64 | 46.44 | 090
33472 |  | A | Revision of pulmonary valve | 22.25 | NA | NA | 19.97 | 21.62 | 2.92 | NA | NA | 45.14 | 46.79 | 090
33474 |  | A | Revision of pulmonary valve | 23.04 | NA | NA | 17.05 | 19.66 | 2.84 | NA | NA | 42.93 | 45.54 | 090
33475 |  | A | Replacement, pulmonary valve | 28.41 | NA | NA | 23.92 | 26.42 | 2.64 | NA | NA | 54.97 | 57.47 | 090
33476 |  | A | Revision of heart chamber | 25.77 | NA | NA | 19.07 | 21.94 | 2.40 | NA | NA | 47.24 | 50.11 | 090
33478 |  | A | Revision of heart chamber | 26.74 | NA | NA | 20.54 | 23.39 | 3.56 | NA | NA | 50.84 | 53.69 | 090
33496 |  | A | Repair, prosth valve clot | 27.25 | NA | NA | 24.25 | 26.32 | 3.44 | NA | NA | 54.94 | 57.01 | 090
33500 |  | A | Repair heart vessel fistula | 25.55 | NA | NA | 18.73 | 21.68 | 2.80 | NA | NA | 47.08 | 50.03 | 090
33501 |  | A | Repair heart vessel fistula | 17.78 | NA | NA | 14.21 | 14.50 | 2.05 | NA | NA | 34.04 | 34.33 | 090
33502 |  | A | Coronary artery correction | 21.04 | NA | NA | 23.73 | 21.64 | 2.51 | NA | NA | 47.28 | 45.19 | 090
33503 |  | A | Coronary artery graft | 21.78 | NA | NA | 14.77 | 17.58 | 1.42 | NA | NA | 37.97 | 40.78 | 090
33504 |  | A | Coronary artery graft | 24.66 | NA | NA | 23.74 | 25.17 | 3.04 | NA | NA | 51.44 | 52.87 | 090
33505 |  | A | Repair artery w/tunnel | 26.84 | NA | NA | 21.54 | 24.17 | 1.52 | NA | NA | 49.90 | 52.53 | 090
33506 |  | A | Repair artery, translocation | 26.71 | NA | NA | 16.87 | 20.62 | 3.19 | NA | NA | 46.77 | 50.52 | 090
33510 |  | A | CABG, vein, single | 25.12 | NA | NA | 19.14 | 21.85 | 3.13 | NA | NA | 47.39 | 50.10 | 090
33511 |  | A | CABG, vein, two | 27.40 | NA | NA | 19.78 | 23.01 | 3.34 | NA | NA | 50.52 | 53.75 | 090
33512 |  | A | CABG, vein, three | 29.67 | NA | NA | 20.95 | 24.57 | 3.70 | NA | NA | 54.32 | 57.94 | 090
33513 |  | A | CABG, vein, four | 31.95 | NA | NA | 21.98 | 26.02 | 3.99 | NA | NA | 57.92 | 61.96 | 090
33514 |  | A | CABG, vein, five | 35.00 | NA | NA | 23.34 | 27.95 | 4.37 | NA | NA | 62.71 | 67.32 | 090
33516 |  | A | Cabg, vein, six or more | 37.40 | NA | NA | 24.31 | 29.40 | 4.62 | NA | NA | 66.33 | 71.42 | 090
33517 |  | A | CABG, artery-vein, single | 2.57 | NA | NA | 1.06 | 1.56 | 0.32 | NA | NA | 3.95 | 4.45 | ZZZ
33518 |  | A | CABG, artery-vein, two | 4.85 | NA | NA | 1.99 | 2.94 | 0.61 | NA | NA | 7.45 | 8.40 | ZZZ
33519 |  | A | CABG, artery-vein, three | 7.12 | NA | NA | 2.93 | 4.32 | 0.89 | NA | NA | 10.94 | 12.33 | ZZZ
33521 |  | A | CABG, artery-vein, four | 9.40 | NA | NA | 3.88 | 5.72 | 1.18 | NA | NA | 14.46 | 16.30 | ZZZ
33522 |  | A | CABG, artery-vein, five | 11.67 | NA | NA | 4.83 | 7.11 | 1.48 | NA | NA | 17.98 | 20.26 | ZZZ
33523 |  | A | Cabg, art-vein, six or more | 13.95 | NA | NA | 5.76 | 8.49 | 1.78 | NA | NA | 21.49 | 24.22 | ZZZ
33530 |  | A | Coronary artery, bypass/reop | 5.86 | NA | NA | 2.39 | 3.54 | 0.73 | NA | NA | 8.98 | 10.13 | ZZZ
33533 |  | A | CABG, arterial, single | 25.83 | NA | NA | 19.44 | 22.29 | 3.24 | NA | NA | 48.51 | 51.36 | 090
33534 |  | A | CABG, arterial, two | 28.82 | NA | NA | 20.12 | 23.69 | 3.63 | NA | NA | 52.57 | 56.14 | 090
33535 |  | A | CABG, arterial, three | 31.81 | NA | NA | 21.05 | 25.28 | 3.97 | NA | NA | 56.83 | 61.06 | 090
33536 |  | A | Cabg, arterial, four or more | 34.79 | NA | NA | 18.16 | 24.00 | 3.29 | NA | NA | 56.24 | 62.08 | 090
33542 |  | A | Removal of heart lesion | 28.85 | NA | NA | 22.87 | 25.49 | 3.61 | NA | NA | 55.33 | 57.95 | 090
33545 |  | A | Repair of heart damage | 36.78 | NA | NA | 25.64 | 28.71 | 4.40 | NA | NA | 66.82 | 69.89 | 090
33572 |  | A | Open coronary endarterectomy | 4.45 | NA | NA | 1.83 | 2.25 | 0.55 | NA | NA | 6.83 | 7.25 | ZZZ
33600 |  | A | Closure of valve | 29.51 | NA | NA | 20.22 | 23.97 | 2.30 | NA | NA | 52.03 | 55.78 | 090
33602 |  | A | Closure of valve | 28.54 | NA | NA | 16.17 | 20.40 | 2.90 | NA | NA | 47.61 | 51.84 | 090
33606 |  | A | Anastomosis/artery-aorta | 30.74 | NA | NA | 18.74 | 23.23 | 3.59 | NA | NA | 53.07 | 57.56 | 090
33608 |  | A | Repair anomaly w/conduit | 31.09 | NA | NA | 26.78 | 29.37 | 4.17 | NA | NA | 62.04 | 64.63 | 090
33610 |  | A | Repair by enlargement | 30.61 | NA | NA | 26.03 | 28.66 | 4.02 | NA | NA | 60.66 | 63.29 | 090
33611 |  | A | Repair double ventricle | 32.30 | NA | NA | 24.45 | 27.98 | 3.28 | NA | NA | 60.03 | 63.56 | 090
33612 |  | A | Repair double ventricle | 33.26 | NA | NA | 27.40 | 30.48 | 4.44 | NA | NA | 65.10 | 68.18 | 090
33615 |  | A | Repair, modified fontan | 32.06 | NA | NA | 28.18 | 30.71 | 3.15 | NA | NA | 63.39 | 65.92 | 090
33617 |  | A | Repair single ventricle | 34.03 | NA | NA | 26.43 | 29.98 | 4.09 | NA | NA | 64.55 | 68.10 | 090
33619 |  | A | Repair single ventricle | 37.57 | NA | NA | 32.65 | 35.70 | 4.71 | NA | NA | 74.93 | 77.98 | 090
33641 |  | A | Repair heart septum defect | 21.39 | NA | NA | 15.59 | 18.08 | 2.67 | NA | NA | 39.65 | 42.14 | 090
33645 |  | A | Revision of heart veins | 24.82 | NA | NA | 19.83 | 22.28 | 3.27 | NA | NA | 47.92 | 50.37 | 090
33647 |  | A | Repair heart septum defects | 28.73 | NA | NA | 24.10 | 26.65 | 3.37 | NA | NA | 56.20 | 58.75 | 090
33660 |  | A | Repair of heart defects | 25.54 | NA | NA | 22.13 | 24.22 | 2.82 | NA | NA | 50.49 | 52.58 | 090
33665 |  | A | Repair of heart defects | 28.60 | NA | NA | 24.67 | 26.99 | 3.81 | NA | NA | 57.08 | 59.40 | 090
33670 |  | A | Repair of heart chambers | 32.73 | NA | NA | 17.23 | 22.69 | 2.18 | NA | NA | 52.14 | 57.60 | 090
33681 |  | A | Repair heart septum defect | 27.67 | NA | NA | 24.25 | 26.45 | 3.53 | NA | NA | 55.45 | 57.65 | 090
33684 |  | A | Repair heart septum defect | 29.65 | NA | NA | 22.78 | 25.94 | 3.77 | NA | NA | 56.20 | 59.36 | 090
33688 |  | A | Repair heart septum defect | 30.62 | NA | NA | 17.23 | 22.06 | 3.89 | NA | NA | 51.74 | 56.57 | 090
33690 |  | A | Reinforce pulmonary artery | 19.55 | NA | NA | 19.36 | 20.36 | 2.56 | NA | NA | 41.47 | 42.47 | 090
33692 |  | A | Repair of heart defects | 30.75 | NA | NA | 17.94 | 22.63 | 3.77 | NA | NA | 52.46 | 57.15 | 090
33694 |  | A | Repair of heart defects | 31.73 | NA | NA | 21.86 | 25.87 | 4.27 | NA | NA | 57.86 | 61.87 | 090
33697 |  | A | Repair of heart defects | 33.71 | NA | NA | 25.47 | 29.16 | 4.54 | NA | NA | 63.72 | 67.41 | 090
33702 |  | A | Repair of heart defects | 26.54 | NA | NA | 22.29 | 24.64 | 3.45 | NA | NA | 52.28 | 54.63 | 090
33710 |  | A | Repair of heart defects | 29.71 | NA | NA | 16.87 | 21.52 | 3.85 | NA | NA | 50.43 | 55.08 | 090
33720 |  | A | Repair of heart defect | 26.56 | NA | NA | 20.97 | 23.66 | 3.21 | NA | NA | 50.74 | 53.43 | 090
33722 |  | A | Repair of heart defect | 28.41 | NA | NA | 23.23 | 25.69 | 3.80 | NA | NA | 55.44 | 57.90 | 090
33730 |  | A | Repair heart-vein defect(s) | 31.67 | NA | NA | 19.96 | 24.42 | 2.85 | NA | NA | 54.48 | 58.94 | 090
33732 |  | A | Repair heart-vein defect | 28.16 | NA | NA | 20.83 | 24.03 | 2.78 | NA | NA | 51.77 | 54.97 | 090
33735 |  | A | Revision of heart chamber | 21.39 | NA | NA | 14.20 | 17.62 | 1.12 | NA | NA | 36.71 | 40.13 | 090
33736 |  | A | Revision of heart chamber | 23.52 | NA | NA | 22.09 | 23.54 | 2.70 | NA | NA | 48.31 | 49.76 | 090
33737 |  | A | Revision of heart chamber | 21.76 | NA | NA | 17.82 | 19.86 | 2.93 | NA | NA | 42.51 | 44.55 | 090
33750 |  | A | Major vessel shunt | 21.41 | NA | NA | 17.71 | 19.28 | 1.74 | NA | NA | 40.86 | 42.43 | 090
33755 |  | A | Major vessel shunt | 21.79 | NA | NA | 17.83 | 19.37 | 2.93 | NA | NA | 42.55 | 44.09 | 090
33762 |  | A | Major vessel shunt | 21.79 | NA | NA | 12.73 | 15.54 | 1.59 | NA | NA | 36.11 | 38.92 | 090
33764 |  | A | Major vessel shunt & graft | 21.79 | NA | NA | 14.94 | 17.20 | 1.93 | NA | NA | 38.66 | 40.92 | 090
33766 |  | A | Major vessel shunt | 22.76 | NA | NA | 21.93 | 22.44 | 3.04 | NA | NA | 47.73 | 48.24 | 090
33767 |  | A | Major vessel shunt | 24.50 | NA | NA | 20.58 | 22.41 | 3.14 | NA | NA | 48.22 | 50.05 | 090
33770 |  | A | Repair great vessels defect | 33.29 | NA | NA | 22.50 | 26.81 | 4.49 | NA | NA | 60.28 | 64.59 | 090
33771 |  | A | Repair great vessels defect | 34.65 | NA | NA | 18.84 | 24.47 | 4.67 | NA | NA | 58.16 | 63.79 | 090
33774 |  | A | Repair great vessels defect | 30.98 | NA | NA | 17.37 | 21.51 | 4.18 | NA | NA | 52.53 | 56.67 | 090
33775 |  | A | Repair great vessels defect | 32.20 | NA | NA | 17.86 | 21.88 | 4.34 | NA | NA | 54.40 | 58.42 | 090
33776 |  | A | Repair great vessels defect | 34.04 | NA | NA | 18.60 | 23.43 | 4.58 | NA | NA | 57.22 | 62.05 | 090
33777 |  | A | Repair great vessels defect | 33.46 | NA | NA | 18.37 | 22.26 | 4.51 | NA | NA | 56.34 | 60.23 | 090
33778 |  | A | Repair great vessels defect | 35.82 | NA | NA | 19.31 | 25.17 | 4.83 | NA | NA | 59.96 | 65.82 | 090
33779 |  | A | Repair great vessels defect | 36.21 | NA | NA | 19.97 | 25.79 | 2.40 | NA | NA | 58.58 | 64.40 | 090
33780 |  | A | Repair great vessels defect | 36.94 | NA | NA | 22.67 | 28.03 | 5.21 | NA | NA | 64.82 | 70.18 | 090
33781 |  | A | Repair great vessels defect | 36.45 | NA | NA | 19.56 | 25.55 | 4.91 | NA | NA | 60.92 | 66.91 | 090
33786 |  | A | Repair arterial trunk | 34.84 | NA | NA | 23.12 | 27.74 | 4.69 | NA | NA | 62.65 | 67.27 | 090
33788 |  | A | Revision of pulmonary artery | 26.62 | NA | NA | 19.10 | 22.27 | 3.32 | NA | NA | 49.04 | 52.21 | 090
33800 |  | A | Aortic suspension | 16.24 | NA | NA | 12.96 | 13.56 | 1.11 | NA | NA | 30.31 | 30.91 | 090
33802 |  | A | Repair vessel defect | 17.66 | NA | NA | 10.81 | 13.38 | 1.56 | NA | NA | 30.03 | 32.60 | 090
33803 |  | A | Repair vessel defect | 19.60 | NA | NA | 18.72 | 19.89 | 2.63 | NA | NA | 40.95 | 42.12 | 090
33813 |  | A | Repair septal defect | 20.65 | NA | NA | 17.37 | 19.02 | 2.78 | NA | NA | 40.80 | 42.45 | 090
33814 |  | A | Repair septal defect | 25.77 | NA | NA | 24.70 | 26.22 | 2.52 | NA | NA | 52.99 | 54.51 | 090
33820 |  | A | Revise major vessel | 16.29 | NA | NA | 16.79 | 17.46 | 2.10 | NA | NA | 35.18 | 35.85 | 090
33822 |  | A | Revise major vessel | 17.32 | NA | NA | 16.01 | 17.18 | 2.33 | NA | NA | 35.66 | 36.83 | 090
33824 |  | A | Revise major vessel | 19.52 | NA | NA | 16.13 | 17.92 | 2.61 | NA | NA | 38.26 | 40.05 | 090
33840 |  | A | Remove aorta constriction | 20.63 | NA | NA | 17.46 | 19.25 | 2.36 | NA | NA | 40.45 | 42.24 | 090
33845 |  | A | Remove aorta constriction | 22.12 | NA | NA | 20.75 | 22.16 | 2.90 | NA | NA | 45.77 | 47.18 | 090
33851 |  | A | Remove aorta constriction | 21.27 | NA | NA | 17.62 | 19.57 | 2.86 | NA | NA | 41.75 | 43.70 | 090
33852 |  | A | Repair septal defect | 23.71 | NA | NA | 19.99 | 22.07 | 3.19 | NA | NA | 46.89 | 48.97 | 090
33853 |  | A | Repair septal defect | 31.72 | NA | NA | 24.96 | 28.19 | 4.23 | NA | NA | 60.91 | 64.14 | 090
33860 |  | A | Ascending aortic graft | 33.96 | NA | NA | 22.74 | 26.47 | 4.30 | NA | NA | 61.00 | 64.73 | 090
33861 |  | A | Ascending aortic graft | 34.52 | NA | NA | 22.77 | 26.50 | 4.24 | NA | NA | 61.53 | 65.26 | 090
33863 |  | A | Ascending aortic graft | 36.47 | NA | NA | 23.69 | 27.19 | 4.60 | NA | NA | 64.76 | 68.26 | 090
33870 |  | A | Transverse aortic arch graft | 40.31 | NA | NA | 24.99 | 30.76 | 5.09 | NA | NA | 70.39 | 76.16 | 090
33875 |  | A | Thoracic aortic graft | 33.06 | NA | NA | 21.74 | 24.78 | 4.08 | NA | NA | 58.88 | 61.92 | 090
33877 |  | A | Thoracoabdominal graft | 42.60 | NA | NA | 26.54 | 31.87 | 5.07 | NA | NA | 74.21 | 79.54 | 090
33910 |  | A | Remove lung artery emboli | 24.59 | NA | NA | 18.51 | 17.86 | 3.06 | NA | NA | 46.16 | 45.51 | 090
33915 |  | A | Remove lung artery emboli | 21.02 | NA | NA | 13.32 | 13.25 | 1.20 | NA | NA | 35.54 | 35.47 | 090
33916 |  | A | Surgery of great vessel | 25.83 | NA | NA | 16.64 | 17.25 | 3.04 | NA | NA | 45.51 | 46.12 | 090
33917 |  | A | Repair pulmonary artery | 24.50 | NA | NA | 22.44 | 24.14 | 3.17 | NA | NA | 50.11 | 51.81 | 090
33918 |  | A | Repair pulmonary atresia | 26.45 | NA | NA | 15.57 | 19.57 | 3.42 | NA | NA | 45.44 | 49.44 | 090
33919 |  | A | Repair pulmonary atresia | 32.67 | NA | NA | 23.85 | 27.64 | 3.48 | NA | NA | 60.00 | 63.79 | 090
33920 |  | A | Repair pulmonary atresia | 31.95 | NA | NA | 18.94 | 23.74 | 3.61 | NA | NA | 54.50 | 59.30 | 090
33922 |  | A | Transect pulmonary artery | 23.52 | NA | NA | 17.86 | 20.42 | 2.30 | NA | NA | 43.68 | 46.24 | 090
33924 |  | A | Remove pulmonary shunt | 5.50 | NA | NA | 2.22 | 2.75 | 0.74 | NA | NA | 8.46 | 8.99 | ZZZ
33930 |  | X | Removal of donor heart/lung | 0.00 | 0.00 | 0.00 | 0.00 | 0.00 | 0.00 | 0.00 | 0.00 | 0.00 | 0.00 | XXX
33935 |  | R | Transplantation, heart/lung | 60.96 | NA | NA | 34.74 | 44.25 | 8.15 | NA | NA | 103.85 | 113.36 | 090
33940 |  | X | Removal of donor heart | 0.00 | 0.00 | 0.00 | 0.00 | 0.00 | 0.00 | 0.00 | 0.00 | 0.00 | 0.00 | XXX
33945 |  | R | Transplantation of heart | 42.10 | NA | NA | 27.22 | 32.98 | 5.42 | NA | NA | 74.74 | 80.50 | 090
33960 |  | A | External circulation assist | 19.36 | NA | NA | 7.48 | 7.51 | 2.14 | NA | NA | 28.98 | 29.01 | XXX
33961 |  | A | External circulation assist | 10.93 | NA | NA | 4.50 | 5.28 | 1.47 | NA | NA | 16.90 | 17.68 | ZZZ
33968 |  | A | Remove aortic assist device | 0.64 | NA | NA | 0.26 | 0.26 | 0.07 | NA | NA | 0.97 | 0.97 | 000
33970 |  | A | Aortic circulation assist | 6.75 | NA | NA | 2.80 | 4.12 | 0.70 | NA | NA | 10.25 | 11.57 | 000
33971 |  | A | Aortic circulation assist | 9.69 | NA | NA | 9.88 | 8.81 | 0.97 | NA | NA | 20.54 | 19.47 | 090
33973 |  | A | Insert balloon device | 9.76 | NA | NA | 4.01 | 5.05 | 1.01 | NA | NA | 14.78 | 15.82 | 000
33974 |  | A | Remove intra-aortic balloon | 14.41 | NA | NA | 13.34 | 11.51 | 1.48 | NA | NA | 29.23 | 27.40 | 090
33975 |  | A | Implant ventricular device | 21.00 | NA | NA | 6.41 | 8.66 | 1.72 | NA | NA | 29.13 | 31.38 | XXX
33976 |  | A | Implant ventricular device | 23.00 | NA | NA | 9.37 | 12.27 | 2.82 | NA | NA | 35.19 | 38.09 | XXX
33977 |  | A | Remove ventricular device | 19.29 | NA | NA | 13.41 | 13.43 | 2.44 | NA | NA | 35.14 | 35.16 | 090
33978 |  | A | Remove ventricular device | 21.73 | NA | NA | 14.89 | 15.02 | 2.66 | NA | NA | 39.28 | 39.41 | 090
33999 |  | C | Cardiac surgery procedure | 0.00 | 0.00 | 0.00 | 0.00 | 0.00 | 0.00 | 0.00 | 0.00 | 0.00 | 0.00 | YYY
34001 |  | A | Removal of artery clot | 12.91 | NA | NA | 6.28 | 7.31 | 1.46 | NA | NA | 20.65 | 21.68 | 090
34051 |  | A | Removal of artery clot | 15.21 | NA | NA | 8.20 | 8.54 | 1.90 | NA | NA | 25.31 | 25.65 | 090
34101 |  | A | Removal of artery clot | 9.97 | NA | NA | 5.17 | 6.14 | 1.11 | NA | NA | 16.25 | 17.22 | 090
34111 |  | A | Removal of arm artery clot | 8.07 | NA | NA | 4.35 | 5.32 | 0.85 | NA | NA | 13.27 | 14.24 | 090
34151 |  | A | Removal of artery clot | 16.86 | NA | NA | 7.88 | 9.16 | 1.84 | NA | NA | 26.58 | 27.86 | 090
34201 |  | A | Removal of artery clot | 9.13 | NA | NA | 5.16 | 6.29 | 1.02 | NA | NA | 15.31 | 16.44 | 090
34203 |  | A | Removal of leg artery clot | 12.21 | NA | NA | 6.45 | 7.18 | 1.37 | NA | NA | 20.03 | 20.76 | 090
34401 |  | A | Removal of vein clot | 12.86 | NA | NA | 6.47 | 7.04 | 1.20 | NA | NA | 20.53 | 21.10 | 090
34421 |  | A | Removal of vein clot | 9.93 | NA | NA | 5.53 | 6.17 | 0.95 | NA | NA | 16.41 | 17.05 | 090
34451 |  | A | Removal of vein clot | 14.44 | NA | NA | 7.39 | 8.44 | 1.59 | NA | NA | 23.42 | 24.47 | 090
34471 |  | A | Removal of vein clot | 10.18 | NA | NA | 5.24 | 4.88 | 0.90 | NA | NA | 16.32 | 15.96 | 090
34490 |  | A | Removal of vein clot | 7.60 | NA | NA | 5.67 | 6.23 | 0.73 | NA | NA | 14.00 | 14.56 | 090
34501 |  | A | Repair valve, femoral vein | 10.93 | NA | NA | 8.84 | 8.63 | 1.37 | NA | NA | 21.14 | 20.93 | 090
34502 |  | A | Reconstruct vena cava | 26.95 | NA | NA | 12.39 | 14.35 | 2.99 | NA | NA | 42.33 | 44.29 | 090
34510 |  | A | Transposition of vein valve | 13.25 | NA | NA | 9.45 | 9.50 | 1.60 | NA | NA | 24.30 | 24.35 | 090
34520 |  | A | Cross-over vein graft | 13.74 | NA | NA | 8.07 | 8.59 | 1.41 | NA | NA | 23.22 | 23.74 | 090
34530 |  | A | Leg vein fusion | 17.61 | NA | NA | 9.98 | 10.84 | 2.06 | NA | NA | 29.65 | 30.51 | 090
34800 |  | A | Endovasc abdo repair w/tube | 20.75 | NA | NA | 9.72 | 9.72 | 1.49 | NA | NA | 31.96 | 31.96 | 090
34802 |  | A | Endovasc abdo repr w/device | 23.00 | NA | NA | 10.62 | 10.62 | 1.65 | NA | NA | 35.27 | 35.27 | 090
34804 |  | A | Endovasc abdo repr w/device | 23.00 | NA | NA | 10.62 | 10.62 | 1.65 | NA | NA | 35.27 | 35.27 | 090
34808 |  | A | Endovasc abdo occlud device | 4.13 | NA | NA | 1.65 | 1.65 | 0.29 | NA | NA | 6.07 | 6.07 | ZZZ
34812 |  | A | Xpose for endoprosth, aortic | 6.75 | NA | NA | 2.70 | 2.70 | 0.49 | NA | NA | 9.94 | 9.94 | 000
34813 |  | A | Xpose for endoprosth, femorl | 4.80 | NA | NA | 1.92 | 1.92 | 0.34 | NA | NA | 7.06 | 7.06 | ZZZ
34820 |  | A | Xpose for endoprosth, iliac | 9.75 | NA | NA | 3.90 | 3.90 | 0.70 | NA | NA | 14.35 | 14.35 | 000
34825 |  | A | Endovasc extend prosth, init | 12.00 | NA | NA | 6.23 | 6.23 | 0.86 | NA | NA | 19.09 | 19.09 | 090
34826 |  | A | Endovasc exten prosth, addl | 4.13 | NA | NA | 1.65 | 1.65 | 0.29 | NA | NA | 6.07 | 6.07 | ZZZ
34830 |  | A | Open aortic tube prosth repr | 32.59 | NA | NA | 14.81 | 14.81 | 2.34 | NA | NA | 49.74 | 49.74 | 090
34831 |  | A | Open aortoiliac prosth repr | 35.34 | NA | NA | 15.90 | 15.90 | 2.53 | NA | NA | 53.77 | 53.77 | 090
34832 |  | A | Open aortofemor prosth repr | 35.34 | NA | NA | 15.90 | 15.90 | 2.53 | NA | NA | 53.77 | 53.77 | 090
35001 |  | A | Repair defect of artery | 19.64 | NA | NA | 9.28 | 11.28 | 2.44 | NA | NA | 31.36 | 33.36 | 090
35002 |  | A | Repair artery rupture, neck | 21.00 | NA | NA | 9.94 | 10.89 | 1.82 | NA | NA | 32.76 | 33.71 | 090
35005 |  | A | Repair defect of artery | 18.12 | NA | NA | 8.71 | 9.32 | 1.35 | NA | NA | 28.18 | 28.79 | 090
35011 |  | A | Repair defect of artery | 11.65 | NA | NA | 5.68 | 7.74 | 1.30 | NA | NA | 18.63 | 20.69 | 090
35013 |  | A | Repair artery rupture, arm | 17.40 | NA | NA | 7.89 | 9.91 | 1.91 | NA | NA | 27.20 | 29.22 | 090
35021 |  | A | Repair defect of artery | 19.65 | NA | NA | 10.22 | 12.59 | 1.93 | NA | NA | 31.80 | 34.17 | 090
35022 |  | A | Repair artery rupture, chest | 23.18 | NA | NA | 9.89 | 11.43 | 1.99 | NA | NA | 35.06 | 36.60 | 090
35045 |  | A | Repair defect of arm artery | 11.26 | NA | NA | 7.02 | 8.62 | 1.25 | NA | NA | 19.53 | 21.13 | 090
35081 |  | A | Repair defect of artery | 28.01 | NA | NA | 12.75 | 15.38 | 3.20 | NA | NA | 43.96 | 46.59 | 090
35082 |  | A | Repair artery rupture, aorta | 36.35 | NA | NA | 15.42 | 17.78 | 4.07 | NA | NA | 55.84 | 58.20 | 090
35091 |  | A | Repair defect of artery | 35.40 | NA | NA | 15.48 | 17.76 | 4.09 | NA | NA | 54.97 | 57.25 | 090
35092 |  | A | Repair artery rupture, aorta | 38.39 | NA | NA | 16.20 | 19.28 | 4.31 | NA | NA | 58.90 | 61.98 | 090
35102 |  | A | Repair defect of artery | 30.76 | NA | NA | 13.54 | 16.17 | 3.44 | NA | NA | 47.74 | 50.37 | 090
35103 |  | A | Repair artery rupture, groin | 33.57 | NA | NA | 14.25 | 17.79 | 3.79 | NA | NA | 51.61 | 55.15 | 090
35111 |  | A | Repair defect of artery | 16.43 | NA | NA | 7.81 | 10.63 | 1.81 | NA | NA | 26.05 | 28.87 | 090
35112 |  | A | Repair artery rupture,spleen | 18.69 | NA | NA | 8.42 | 9.15 | 1.95 | NA | NA | 29.06 | 29.79 | 090
35121 |  | A | Repair defect of artery | 25.99 | NA | NA | 11.62 | 13.90 | 2.93 | NA | NA | 40.54 | 42.82 | 090
35122 |  | A | Repair artery rupture, belly | 33.45 | NA | NA | 14.05 | 15.40 | 3.54 | NA | NA | 51.04 | 52.39 | 090
35131 |  | A | Repair defect of artery | 18.55 | NA | NA | 9.06 | 11.10 | 2.11 | NA | NA | 29.72 | 31.76 | 090
35132 |  | A | Repair artery rupture, groin | 21.95 | NA | NA | 9.79 | 12.41 | 2.48 | NA | NA | 34.22 | 36.84 | 090
35141 |  | A | Repair defect of artery | 14.46 | NA | NA | 7.35 | 9.50 | 1.65 | NA | NA | 23.46 | 25.61 | 090
35142 |  | A | Repair artery rupture, thigh | 15.86 | NA | NA | 7.62 | 10.08 | 1.75 | NA | NA | 25.23 | 27.69 | 090
35151 |  | A | Repair defect of artery | 17.00 | NA | NA | 8.27 | 10.37 | 1.93 | NA | NA | 27.20 | 29.30 | 090
35152 |  | A | Repair artery rupture, knee | 16.70 | NA | NA | 8.25 | 8.70 | 1.93 | NA | NA | 26.88 | 27.33 | 090
35161 |  | A | Repair defect of artery | 18.76 | NA | NA | 9.88 | 11.72 | 2.21 | NA | NA | 30.85 | 32.69 | 090
35162 |  | A | Repair artery rupture | 19.78 | NA | NA | 10.07 | 12.62 | 2.21 | NA | NA | 32.06 | 34.61 | 090
35180 |  | A | Repair blood vessel lesion | 13.62 | NA | NA | 6.23 | 6.67 | 1.44 | NA | NA | 21.29 | 21.73 | 090
35182 |  | A | Repair blood vessel lesion | 17.74 | NA | NA | 9.01 | 9.65 | 1.88 | NA | NA | 28.63 | 29.27 | 090
35184 |  | A | Repair blood vessel lesion | 12.25 | NA | NA | 6.25 | 7.33 | 1.34 | NA | NA | 19.84 | 20.92 | 090
35188 |  | A | Repair blood vessel lesion | 14.28 | NA | NA | 7.04 | 7.48 | 1.53 | NA | NA | 22.85 | 23.29 | 090
35189 |  | A | Repair blood vessel lesion | 18.43 | NA | NA | 9.21 | 9.98 | 2.12 | NA | NA | 29.76 | 30.53 | 090
35190 |  | A | Repair blood vessel lesion | 12.75 | NA | NA | 6.16 | 7.43 | 1.33 | NA | NA | 20.24 | 21.51 | 090
35201 |  | A | Repair blood vessel lesion | 9.99 | NA | NA | 5.31 | 6.72 | 1.17 | NA | NA | 16.47 | 17.88 | 090
35206 |  | A | Repair blood vessel lesion | 9.25 | NA | NA | 6.55 | 7.67 | 1.04 | NA | NA | 16.84 | 17.96 | 090
35207 |  | A | Repair blood vessel lesion | 10.15 | NA | NA | 9.28 | 9.89 | 1.15 | NA | NA | 20.58 | 21.19 | 090
35211 |  | A | Repair blood vessel lesion | 22.12 | NA | NA | 18.24 | 17.31 | 2.83 | NA | NA | 43.19 | 42.26 | 090
35216 |  | A | Repair blood vessel lesion | 18.75 | NA | NA | 14.34 | 13.65 | 2.17 | NA | NA | 35.26 | 34.57 | 090
35221 |  | A | Repair blood vessel lesion | 16.42 | NA | NA | 7.82 | 8.88 | 1.79 | NA | NA | 26.03 | 27.09 | 090
35226 |  | A | Repair blood vessel lesion | 9.06 | NA | NA | 7.19 | 8.10 | 0.84 | NA | NA | 17.09 | 18.00 | 090
35231 |  | A | Repair blood vessel lesion | 12.00 | NA | NA | 6.52 | 8.47 | 1.32 | NA | NA | 19.84 | 21.79 | 090
35236 |  | A | Repair blood vessel lesion | 10.54 | NA | NA | 7.03 | 8.42 | 1.19 | NA | NA | 18.76 | 20.15 | 090
35241 |  | A | Repair blood vessel lesion | 23.12 | NA | NA | 19.27 | 18.11 | 2.90 | NA | NA | 45.29 | 44.13 | 090
35246 |  | A | Repair blood vessel lesion | 19.84 | NA | NA | 14.83 | 15.72 | 2.22 | NA | NA | 36.89 | 37.78 | 090
35251 |  | A | Repair blood vessel lesion | 17.49 | NA | NA | 8.06 | 8.65 | 1.87 | NA | NA | 27.42 | 28.01 | 090
35256 |  | A | Repair blood vessel lesion | 11.38 | NA | NA | 7.60 | 9.07 | 1.32 | NA | NA | 20.30 | 21.77 | 090
35261 |  | A | Repair blood vessel lesion | 11.63 | NA | NA | 5.81 | 7.83 | 1.34 | NA | NA | 18.78 | 20.80 | 090
35266 |  | A | Repair blood vessel lesion | 10.30 | NA | NA | 7.08 | 8.39 | 1.16 | NA | NA | 18.54 | 19.85 | 090
35271 |  | A | Repair blood vessel lesion | 22.12 | NA | NA | 17.24 | 16.33 | 2.77 | NA | NA | 42.13 | 41.22 | 090
35276 |  | A | Repair blood vessel lesion | 18.75 | NA | NA | 15.47 | 14.55 | 2.37 | NA | NA | 36.59 | 35.67 | 090
35281 |  | A | Repair blood vessel lesion | 16.48 | NA | NA | 7.90 | 10.61 | 1.82 | NA | NA | 26.20 | 28.91 | 090
35286 |  | A | Repair blood vessel lesion | 11.87 | NA | NA | 7.81 | 9.04 | 1.36 | NA | NA | 21.04 | 22.27 | 090
35301 |  | A | Rechanneling of artery | 18.70 | NA | NA | 9.66 | 11.17 | 2.23 | NA | NA | 30.59 | 32.10 | 090
35311 |  | A | Rechanneling of artery | 23.85 | NA | NA | 12.08 | 15.05 | 2.75 | NA | NA | 38.68 | 41.65 | 090
35321 |  | A | Rechanneling of artery | 11.97 | NA | NA | 5.94 | 7.97 | 1.36 | NA | NA | 19.27 | 21.30 | 090
35331 |  | A | Rechanneling of artery | 23.52 | NA | NA | 10.93 | 11.82 | 2.71 | NA | NA | 37.16 | 38.05 | 090
35341 |  | A | Rechanneling of artery | 25.11 | NA | NA | 11.25 | 13.15 | 2.87 | NA | NA | 39.23 | 41.13 | 090
35351 |  | A | Rechanneling of artery | 20.11 | NA | NA | 9.42 | 11.12 | 2.29 | NA | NA | 31.82 | 33.52 | 090
35355 |  | A | Rechanneling of artery | 16.09 | NA | NA | 7.88 | 10.09 | 1.80 | NA | NA | 25.77 | 27.98 | 090
35361 |  | A | Rechanneling of artery | 23.59 | NA | NA | 10.67 | 13.26 | 2.66 | NA | NA | 36.92 | 39.51 | 090
35363 |  | A | Rechanneling of artery | 24.66 | NA | NA | 11.18 | 14.56 | 2.77 | NA | NA | 38.61 | 41.99 | 090
35371 |  | A | Rechanneling of artery | 11.64 | NA | NA | 6.01 | 7.90 | 1.32 | NA | NA | 18.97 | 20.86 | 090
35372 |  | A | Rechanneling of artery | 13.56 | NA | NA | 6.73 | 8.09 | 1.53 | NA | NA | 21.82 | 23.18 | 090
35381 |  | A | Rechanneling of artery | 15.81 | NA | NA | 7.88 | 9.62 | 1.80 | NA | NA | 25.49 | 27.23 | 090
35390 |  | A | Reoperation, carotid add-on | 3.19 | NA | NA | 1.22 | 1.37 | 0.38 | NA | NA | 4.79 | 4.94 | ZZZ
35400 |  | A | Angioscopy | 3.00 | NA | NA | 1.10 | 1.44 | 0.34 | NA | NA | 4.44 | 4.78 | ZZZ
35450 |  | A | Repair arterial blockage | 10.07 | NA | NA | 3.91 | 5.94 | 0.84 | NA | NA | 14.82 | 16.85 | 000
35452 |  | A | Repair arterial blockage | 6.91 | NA | NA | 3.51 | 3.81 | 0.76 | NA | NA | 11.18 | 11.48 | 000
35454 |  | A | Repair arterial blockage | 6.04 | NA | NA | 3.05 | 4.09 | 0.67 | NA | NA | 9.76 | 10.80 | 000
35456 |  | A | Repair arterial blockage | 7.35 | NA | NA | 3.56 | 4.87 | 0.82 | NA | NA | 11.73 | 13.04 | 000
35458 |  | A | Repair arterial blockage | 9.49 | NA | NA | 4.39 | 6.04 | 1.09 | NA | NA | 14.97 | 16.62 | 000
35459 |  | A | Repair arterial blockage | 8.63 | NA | NA | 3.93 | 5.52 | 0.96 | NA | NA | 13.52 | 15.11 | 000
35460 |  | A | Repair venous blockage | 6.04 | NA | NA | 2.90 | 3.03 | 0.66 | NA | NA | 9.60 | 9.73 | 000
35470 |  | A | Repair arterial blockage | 8.63 | NA | NA | 4.09 | 5.64 | 0.50 | NA | NA | 13.22 | 14.77 | 000
35471 |  | A | Repair arterial blockage | 10.07 | NA | NA | 4.78 | 6.59 | 0.50 | NA | NA | 15.35 | 17.16 | 000
35472 |  | A | Repair arterial blockage | 6.91 | NA | NA | 3.46 | 3.58 | 0.39 | NA | NA | 10.76 | 10.88 | 000
35473 |  | A | Repair arterial blockage | 6.04 | NA | NA | 3.07 | 4.11 | 0.34 | NA | NA | 9.45 | 10.49 | 000
35474 |  | A | Repair arterial blockage | 7.36 | NA | NA | 3.60 | 4.90 | 0.40 | NA | NA | 11.36 | 12.66 | 000
35475 |  | R | Repair arterial blockage | 9.49 | NA | NA | 4.26 | 5.94 | 0.47 | NA | NA | 14.22 | 15.90 | 000
35476 |  | A | Repair venous blockage | 6.04 | NA | NA | 2.94 | 3.06 | 0.27 | NA | NA | 9.25 | 9.37 | 000
35480 |  | A | Atherectomy, open | 11.08 | NA | NA | 4.96 | 7.03 | 1.13 | NA | NA | 17.17 | 19.24 | 000
35481 |  | A | Atherectomy, open | 7.61 | NA | NA | 3.80 | 4.03 | 0.84 | NA | NA | 12.25 | 12.48 | 000
35482 |  | A | Atherectomy, open | 6.65 | NA | NA | 3.28 | 4.45 | 0.75 | NA | NA | 10.68 | 11.85 | 000
35483 |  | A | Atherectomy, open | 8.10 | NA | NA | 3.89 | 5.34 | 0.81 | NA | NA | 12.80 | 14.25 | 000
35484 |  | A | Atherectomy, open | 10.44 | NA | NA | 4.67 | 6.25 | 1.13 | NA | NA | 16.24 | 17.82 | 000
35485 |  | A | Atherectomy, open | 9.49 | NA | NA | 4.40 | 4.53 | 1.06 | NA | NA | 14.95 | 15.08 | 000
35490 |  | A | Atherectomy, percutaneous | 11.08 | NA | NA | 5.04 | 7.09 | 0.55 | NA | NA | 16.67 | 18.72 | 000
35491 |  | A | Atherectomy, percutaneous | 7.61 | NA | NA | 3.71 | 3.96 | 0.49 | NA | NA | 11.81 | 12.06 | 000
35492 |  | A | Atherectomy, percutaneous | 6.65 | NA | NA | 3.36 | 4.51 | 0.43 | NA | NA | 10.44 | 11.59 | 000
35493 |  | A | Atherectomy, percutaneous | 8.10 | NA | NA | 4.06 | 5.46 | 0.47 | NA | NA | 12.63 | 14.03 | 000
35494 |  | A | Atherectomy, percutaneous | 10.44 | NA | NA | 4.68 | 6.26 | 0.48 | NA | NA | 15.60 | 17.18 | 000
35495 |  | A | Atherectomy, percutaneous | 9.49 | NA | NA | 4.79 | 4.82 | 0.51 | NA | NA | 14.79 | 14.82 | 000
35500 |  | A | Harvest vein for bypass | 6.45 | NA | NA | 2.12 | 2.12 | 0.63 | NA | NA | 9.20 | 9.20 | ZZZ
35501 |  | A | Artery bypass graft | 19.19 | NA | NA | 9.14 | 12.11 | 2.33 | NA | NA | 30.66 | 33.63 | 090
35506 |  | A | Artery bypass graft | 19.67 | NA | NA | 9.17 | 12.08 | 2.33 | NA | NA | 31.17 | 34.08 | 090
35507 |  | A | Artery bypass graft | 19.67 | NA | NA | 9.08 | 11.67 | 2.27 | NA | NA | 31.02 | 33.61 | 090
35508 |  | A | Artery bypass graft | 18.65 | NA | NA | 8.92 | 11.60 | 2.34 | NA | NA | 29.91 | 32.59 | 090
35509 |  | A | Artery bypass graft | 18.07 | NA | NA | 8.36 | 11.40 | 2.12 | NA | NA | 28.55 | 31.59 | 090
35511 |  | A | Artery bypass graft | 16.83 | NA | NA | 7.69 | 8.59 | 1.74 | NA | NA | 26.26 | 27.16 | 090
35515 |  | A | Artery bypass graft | 18.65 | NA | NA | 8.95 | 9.77 | 2.26 | NA | NA | 29.86 | 30.68 | 090
35516 |  | A | Artery bypass graft | 16.32 | NA | NA | 7.53 | 10.36 | 1.88 | NA | NA | 25.73 | 28.56 | 090
35518 |  | A | Artery bypass graft | 15.42 | NA | NA | 7.09 | 9.92 | 1.78 | NA | NA | 24.29 | 27.12 | 090
35521 |  | A | Artery bypass graft | 16.17 | NA | NA | 7.99 | 10.75 | 1.82 | NA | NA | 25.98 | 28.74 | 090
35526 |  | A | Artery bypass graft | 20.00 | NA | NA | 9.96 | 10.98 | 2.18 | NA | NA | 32.14 | 33.16 | 090
35531 |  | A | Artery bypass graft | 25.61 | NA | NA | 11.45 | 14.08 | 2.91 | NA | NA | 39.97 | 42.60 | 090
35533 |  | A | Artery bypass graft | 20.52 | NA | NA | 9.75 | 13.02 | 2.35 | NA | NA | 32.62 | 35.89 | 090
35536 |  | A | Artery bypass graft | 23.11 | NA | NA | 10.33 | 13.55 | 2.62 | NA | NA | 36.06 | 39.28 | 090
35541 |  | A | Artery bypass graft | 25.80 | NA | NA | 11.92 | 14.25 | 2.74 | NA | NA | 40.46 | 42.79 | 090
35546 |  | A | Artery bypass graft | 25.54 | NA | NA | 11.51 | 14.44 | 2.84 | NA | NA | 39.89 | 42.82 | 090
35548 |  | A | Artery bypass graft | 21.57 | NA | NA | 9.78 | 12.64 | 2.45 | NA | NA | 33.80 | 36.66 | 090
35549 |  | A | Artery bypass graft | 23.35 | NA | NA | 11.27 | 14.26 | 2.77 | NA | NA | 37.39 | 40.38 | 090
35551 |  | A | Artery bypass graft | 26.67 | NA | NA | 12.76 | 14.79 | 3.19 | NA | NA | 42.62 | 44.65 | 090
35556 |  | A | Artery bypass graft | 21.76 | NA | NA | 10.15 | 12.69 | 2.48 | NA | NA | 34.39 | 36.93 | 090
35558 |  | A | Artery bypass graft | 14.04 | NA | NA | 7.19 | 9.58 | 1.58 | NA | NA | 22.81 | 25.20 | 090
35560 |  | A | Artery bypass graft | 23.56 | NA | NA | 10.94 | 13.69 | 2.73 | NA | NA | 37.23 | 39.98 | 090
35563 |  | A | Artery bypass graft | 15.14 | NA | NA | 7.31 | 7.74 | 1.68 | NA | NA | 24.13 | 24.56 | 090
35565 |  | A | Artery bypass graft | 15.14 | NA | NA | 7.49 | 10.14 | 1.71 | NA | NA | 24.34 | 26.99 | 090
35566 |  | A | Artery bypass graft | 26.92 | NA | NA | 14.62 | 16.56 | 3.02 | NA | NA | 44.56 | 46.50 | 090
35571 |  | A | Artery bypass graft | 18.58 | NA | NA | 10.74 | 13.31 | 2.14 | NA | NA | 31.46 | 34.03 | 090
35582 |  | A | Vein bypass graft | 27.13 | NA | NA | 12.41 | 15.75 | 3.11 | NA | NA | 42.65 | 45.99 | 090
35583 |  | A | Vein bypass graft | 22.37 | NA | NA | 11.13 | 13.89 | 2.53 | NA | NA | 36.03 | 38.79 | 090
35585 |  | A | Vein bypass graft | 28.39 | NA | NA | 15.24 | 17.66 | 3.21 | NA | NA | 46.84 | 49.26 | 090
35587 |  | A | Vein bypass graft | 19.05 | NA | NA | 11.36 | 14.21 | 2.17 | NA | NA | 32.58 | 35.43 | 090
35600 |  | A | Harvest artery for cabg | 4.95 | NA | NA | 1.98 | 1.98 | 0.54 | NA | NA | 7.47 | 7.47 | ZZZ
35601 |  | A | Artery bypass graft | 17.50 | NA | NA | 8.11 | 11.19 | 2.08 | NA | NA | 27.69 | 30.77 | 090
35606 |  | A | Artery bypass graft | 18.71 | NA | NA | 8.65 | 11.25 | 2.17 | NA | NA | 29.53 | 32.13 | 090
35612 |  | A | Artery bypass graft | 15.76 | NA | NA | 7.45 | 10.13 | 1.72 | NA | NA | 24.93 | 27.61 | 090
35616 |  | A | Artery bypass graft | 15.70 | NA | NA | 7.74 | 10.36 | 1.84 | NA | NA | 25.28 | 27.90 | 090
35621 |  | A | Artery bypass graft | 14.54 | NA | NA | 7.50 | 9.96 | 1.68 | NA | NA | 23.72 | 26.18 | 090
35623 |  | A | Bypass graft, not vein | 16.62 | NA | NA | 8.24 | 8.37 | 1.91 | NA | NA | 26.77 | 26.90 | 090
35626 |  | A | Artery bypass graft | 23.63 | NA | NA | 11.47 | 14.17 | 2.89 | NA | NA | 37.99 | 40.69 | 090
35631 |  | A | Artery bypass graft | 24.60 | NA | NA | 11.15 | 13.21 | 2.83 | NA | NA | 38.58 | 40.64 | 090
35636 |  | A | Artery bypass graft | 22.46 | NA | NA | 10.26 | 11.36 | 2.37 | NA | NA | 35.09 | 36.19 | 090
35641 |  | A | Artery bypass graft | 24.57 | NA | NA | 11.52 | 14.22 | 2.83 | NA | NA | 38.92 | 41.62 | 090
35642 |  | A | Artery bypass graft | 17.98 | NA | NA | 9.16 | 9.67 | 1.84 | NA | NA | 28.98 | 29.49 | 090
35645 |  | A | Artery bypass graft | 17.47 | NA | NA | 8.46 | 9.37 | 1.91 | NA | NA | 27.84 | 28.75 | 090
35646 |  | A | Artery bypass graft | 25.81 | NA | NA | 11.87 | 15.36 | 2.98 | NA | NA | 40.66 | 44.15 | 090
35650 |  | A | Artery bypass graft | 14.36 | NA | NA | 6.70 | 9.31 | 1.64 | NA | NA | 22.70 | 25.31 | 090
35651 |  | A | Artery bypass graft | 25.04 | NA | NA | 11.42 | 15.10 | 2.53 | NA | NA | 38.99 | 42.67 | 090
35654 |  | A | Artery bypass graft | 18.61 | NA | NA | 8.85 | 12.19 | 2.10 | NA | NA | 29.56 | 32.90 | 090
35656 |  | A | Artery bypass graft | 19.53 | NA | NA | 9.15 | 11.67 | 2.21 | NA | NA | 30.89 | 33.41 | 090
35661 |  | A | Artery bypass graft | 13.18 | NA | NA | 6.68 | 8.95 | 1.50 | NA | NA | 21.36 | 23.63 | 090
35663 |  | A | Artery bypass graft | 14.17 | NA | NA | 7.33 | 9.73 | 1.55 | NA | NA | 23.05 | 25.45 | 090
35665 |  | A | Artery bypass graft | 15.40 | NA | NA | 7.63 | 10.32 | 1.76 | NA | NA | 24.79 | 27.48 | 090
35666 |  | A | Artery bypass graft | 19.19 | NA | NA | 11.57 | 14.12 | 2.19 | NA | NA | 32.95 | 35.50 | 090
35671 |  | A | Artery bypass graft | 14.80 | NA | NA | 9.48 | 11.34 | 1.68 | NA | NA | 25.96 | 27.82 | 090
35681 |  | A | Composite bypass graft | 1.60 | NA | NA | 2.44 | 4.24 | 0.18 | NA | NA | 4.22 | 6.02 | ZZZ
35682 |  | A | Composite bypass graft | 7.20 | NA | NA | 2.67 | 4.41 | 0.83 | NA | NA | 10.70 | 12.44 | ZZZ
35683 |  | A | Composite bypass graft | 8.50 | NA | NA | 3.18 | 4.79 | 0.98 | NA | NA | 12.66 | 14.27 | ZZZ
35691 |  | A | Arterial transposition | 18.05 | NA | NA | 8.02 | 11.34 | 2.06 | NA | NA | 28.13 | 31.45 | 090
35693 |  | A | Arterial transposition | 15.36 | NA | NA | 7.67 | 8.30 | 1.80 | NA | NA | 24.83 | 25.46 | 090
35694 |  | A | Arterial transposition | 19.16 | NA | NA | 8.47 | 8.89 | 2.13 | NA | NA | 29.76 | 30.18 | 090
35695 |  | A | Arterial transposition | 19.16 | NA | NA | 8.45 | 8.87 | 2.19 | NA | NA | 29.80 | 30.22 | 090
35700 |  | A | Reoperation, bypass graft | 3.08 | NA | NA | 3.14 | 2.79 | 0.36 | NA | NA | 6.58 | 6.23 | ZZZ
35701 |  | A | Exploration, carotid artery | 5.55 | NA | NA | 3.65 | 4.32 | 0.64 | NA | NA | 9.84 | 10.51 | 090
35721 |  | A | Exploration, femoral artery | 5.28 | NA | NA | 4.88 | 5.17 | 0.59 | NA | NA | 10.75 | 11.04 | 090
35741 |  | A | Exploration popliteal artery | 5.37 | NA | NA | 4.72 | 5.10 | 0.60 | NA | NA | 10.69 | 11.07 | 090
35761 |  | A | Exploration of artery/vein | 5.37 | NA | NA | 4.66 | 5.07 | 0.60 | NA | NA | 10.63 | 11.04 | 090
35800 |  | A | Explore neck vessels | 7.02 | NA | NA | 4.25 | 4.62 | 0.79 | NA | NA | 12.06 | 12.43 | 090
35820 |  | A | Explore chest vessels | 12.88 | NA | NA | 5.31 | 6.13 | 1.61 | NA | NA | 19.80 | 20.62 | 090
35840 |  | A | Explore abdominal vessels | 9.77 | NA | NA | 5.47 | 6.07 | 1.06 | NA | NA | 16.30 | 16.90 | 090
35860 |  | A | Explore limb vessels | 5.55 | NA | NA | 3.80 | 4.43 | 0.63 | NA | NA | 9.98 | 10.61 | 090
35870 |  | A | Repair vessel graft defect | 22.17 | NA | NA | 10.80 | 10.99 | 2.47 | NA | NA | 35.44 | 35.63 | 090
35875 |  | A | Removal of clot in graft | 10.13 | NA | NA | 6.85 | 7.37 | 0.97 | NA | NA | 17.95 | 18.47 | 090
35876 |  | A | Removal of clot in graft | 17.00 | NA | NA | 9.51 | 9.36 | 1.88 | NA | NA | 28.39 | 28.24 | 090
35879 |  | A | Revise graft w/vein | 16.00 | NA | NA | 8.58 | 8.58 | 1.35 | NA | NA | 25.93 | 25.93 | 090
35881 |  | A | Revise graft w/vein | 18.00 | NA | NA | 9.47 | 9.47 | 1.44 | NA | NA | 28.91 | 28.91 | 090
35901 |  | A | Excision, graft, neck | 8.19 | NA | NA | 5.81 | 6.31 | 0.90 | NA | NA | 14.90 | 15.40 | 090
35903 |  | A | Excision, graft, extremity | 9.39 | NA | NA | 8.43 | 8.27 | 1.03 | NA | NA | 18.85 | 18.69 | 090
35905 |  | A | Excision, graft, thorax | 18.19 | NA | NA | 12.88 | 11.61 | 2.15 | NA | NA | 33.22 | 31.95 | 090
35907 |  | A | Excision, graft, abdomen | 19.24 | NA | NA | 9.89 | 9.37 | 2.17 | NA | NA | 31.30 | 30.78 | 090
36000 |  | A | Place needle in vein | 0.18 | 0.62 | 0.53 | 0.05 | 0.07 | 0.01 | 0.81 | 0.72 | 0.24 | 0.26 | XXX
36005 |  | A | Injection, venography | 0.95 | 15.38 | 11.66 | 0.34 | 0.38 | 0.04 | 16.37 | 12.65 | 1.33 | 1.37 | 000
36010 |  | A | Place catheter in vein | 2.43 | NA | NA | 0.88 | 1.23 | 0.16 | NA | NA | 3.47 | 3.82 | XXX
36011 |  | A | Place catheter in vein | 3.14 | NA | NA | 1.16 | 1.39 | 0.17 | NA | NA | 4.47 | 4.70 | XXX
36012 |  | A | Place catheter in vein | 3.52 | NA | NA | 1.29 | 1.69 | 0.17 | NA | NA | 4.98 | 5.38 | XXX
36013 |  | A | Place catheter in artery | 2.52 | NA | NA | 0.81 | 1.18 | 0.17 | NA | NA | 3.50 | 3.87 | XXX
36014 |  | A | Place catheter in artery | 3.02 | NA | NA | 1.11 | 1.45 | 0.14 | NA | NA | 4.27 | 4.61 | XXX
36015 |  | A | Place catheter in artery | 3.52 | NA | NA | 1.29 | 1.69 | 0.16 | NA | NA | 4.97 | 5.37 | XXX
36100 |  | A | Establish access to artery | 3.02 | NA | NA | 1.26 | 1.65 | 0.18 | NA | NA | 4.46 | 4.85 | XXX
36120 |  | A | Establish access to artery | 2.01 | NA | NA | 0.73 | 1.15 | 0.11 | NA | NA | 2.85 | 3.27 | XXX
36140 |  | A | Establish access to artery | 2.01 | NA | NA | 0.72 | 0.92 | 0.12 | NA | NA | 2.85 | 3.05 | XXX
36145 |  | A | Artery to vein shunt | 2.01 | NA | NA | 0.75 | 1.16 | 0.10 | NA | NA | 2.86 | 3.27 | XXX
36160 |  | A | Establish access to aorta | 2.52 | NA | NA | 0.98 | 1.37 | 0.20 | NA | NA | 3.70 | 4.09 | XXX
36200 |  | A | Place catheter in aorta | 3.02 | NA | NA | 1.11 | 1.57 | 0.15 | NA | NA | 4.28 | 4.74 | XXX
36215 |  | A | Place catheter in artery | 4.68 | NA | NA | 1.72 | 2.05 | 0.22 | NA | NA | 6.62 | 6.95 | XXX
36216 |  | A | Place catheter in artery | 5.28 | NA | NA | 1.95 | 2.36 | 0.24 | NA | NA | 7.47 | 7.88 | XXX
36217 |  | A | Place catheter in artery | 6.30 | NA | NA | 2.36 | 2.83 | 0.32 | NA | NA | 8.98 | 9.45 | XXX
36218 |  | A | Place catheter in artery | 1.01 | NA | NA | 0.41 | 0.48 | 0.05 | NA | NA | 1.47 | 1.54 | ZZZ
36245 |  | A | Place catheter in artery | 4.68 | NA | NA | 1.86 | 2.25 | 0.23 | NA | NA | 6.77 | 7.16 | XXX
36246 |  | A | Place catheter in artery | 5.28 | NA | NA | 1.98 | 2.38 | 0.26 | NA | NA | 7.52 | 7.92 | XXX
36247 |  | A | Place catheter in artery | 6.30 | NA | NA | 2.33 | 2.81 | 0.32 | NA | NA | 8.95 | 9.43 | XXX
36248 |  | A | Place catheter in artery | 1.01 | NA | NA | 0.42 | 0.48 | 0.06 | NA | NA | 1.49 | 1.55 | ZZZ
36260 |  | A | Insertion of infusion pump | 9.71 | NA | NA | 5.71 | 6.11 | 1.00 | NA | NA | 16.42 | 16.82 | 090
36261 |  | A | Revision of infusion pump | 5.45 | NA | NA | 3.61 | 3.31 | 0.50 | NA | NA | 9.56 | 9.26 | 090
36262 |  | A | Removal of infusion pump | 4.02 | NA | NA | 2.58 | 2.46 | 0.43 | NA | NA | 7.03 | 6.91 | 090
36299 |  | C | Vessel injection procedure | 0.00 | 0.00 | 0.00 | 0.00 | 0.00 | 0.00 | 0.00 | 0.00 | 0.00 | 0.00 | YYY
36400 |  | A | Drawing blood | 0.18 | 0.62 | 0.49 | 0.05 | 0.05 | 0.01 | 0.81 | 0.68 | 0.24 | 0.24 | XXX
36405 |  | A | Drawing blood | 0.18 | 0.55 | 0.54 | 0.06 | 0.11 | 0.01 | 0.74 | 0.73 | 0.25 | 0.30 | XXX
36406 |  | A | Drawing blood | 0.18 | 0.76 | 0.61 | 0.05 | 0.06 | 0.01 | 0.95 | 0.80 | 0.24 | 0.25 | XXX
36410 |  | A | Drawing blood | 0.18 | 0.48 | 0.42 | 0.05 | 0.07 | 0.01 | 0.67 | 0.61 | 0.24 | 0.26 | XXX
36415 |  | I | Drawing blood | 0.00 | 0.00 | 0.00 | 0.00 | 0.00 | 0.00 | 0.00 | 0.00 | 0.00 | 0.00 | XXX
36420 |  | A | Establish access to vein | 1.01 | NA | NA | 0.32 | 0.38 | 0.09 | NA | NA | 1.42 | 1.48 | XXX
36425 |  | A | Establish access to vein | 0.76 | 3.22 | 2.44 | 0.17 | 0.15 | 0.05 | 4.03 | 3.25 | 0.98 | 0.96 | XXX
36430 |  | A | Blood transfusion service | 0.00 | 1.00 | 1.01 | 1.00 | 0.88 | 0.05 | 1.05 | 1.06 | 1.05 | 0.93 | XXX
36440 |  | A | Blood transfusion service | 1.03 | NA | NA | 0.29 | 0.47 | 0.08 | NA | NA | 1.40 | 1.58 | XXX
36450 |  | A | Exchange transfusion service | 2.23 | NA | NA | 0.73 | 0.80 | 0.16 | NA | NA | 3.12 | 3.19 | XXX
36455 |  | A | Exchange transfusion service | 2.43 | NA | NA | 0.97 | 1.34 | 0.10 | NA | NA | 3.50 | 3.87 | XXX
36460 |  | A | Transfusion service, fetal | 6.59 | NA | NA | 2.43 | 3.10 | 0.56 | NA | NA | 9.58 | 10.25 | XXX
36468 |  | R | Injection(s), spider veins | 0.00 | 0.00 | 0.00 | 0.00 | 0.00 | 0.00 | 0.00 | 0.00 | 0.00 | 0.00 | XXX
36469 |  | R | Injection(s), spider veins | 0.00 | 0.00 | 0.00 | 0.00 | 0.00 | 0.00 | 0.00 | 0.00 | 0.00 | 0.00 | XXX
36470 |  | A | Injection therapy of vein | 1.09 | 2.59 | 2.02 | 0.41 | 0.35 | 0.10 | 3.78 | 3.21 | 1.60 | 1.54 | 010
36471 |  | A | Injection therapy of veins | 1.57 | 3.23 | 2.53 | 0.60 | 0.50 | 0.15 | 4.95 | 4.25 | 2.32 | 2.22 | 010
36481 |  | A | Insertion of catheter, vein | 6.99 | NA | NA | 2.88 | 3.60 | 0.40 | NA | NA | 10.27 | 10.99 | 000
36488 |  | A | Insertion of catheter, vein | 1.35 | NA | NA | 0.75 | 0.83 | 0.09 | NA | NA | 2.19 | 2.27 | 000
36489 |  | A | Insertion of catheter, vein | 1.22 | 3.30 | 2.78 | 0.68 | 0.82 | 0.08 | 4.60 | 4.08 | 1.98 | 2.12 | 000
36490 |  | A | Insertion of catheter, vein | 1.67 | NA | NA | 0.89 | 1.04 | 0.17 | NA | NA | 2.73 | 2.88 | 000
36491 |  | A | Insertion of catheter, vein | 1.43 | NA | NA | 0.78 | 1.01 | 0.13 | NA | NA | 2.34 | 2.57 | 000
36493 |  | A | Repositioning of cvc | 1.21 | NA | NA | 0.85 | 0.81 | 0.06 | NA | NA | 2.12 | 2.08 | 000
36500 |  | A | Insertion of catheter, vein | 3.52 | NA | NA | 1.32 | 1.01 | 0.14 | NA | NA | 4.98 | 4.67 | 000
36510 |  | A | Insertion of catheter, vein | 1.09 | NA | NA | 0.61 | 0.51 | 0.06 | NA | NA | 1.76 | 1.66 | 000
36520 |  | A | Plasma and/or cell exchange | 1.74 | NA | NA | 0.98 | 1.25 | 0.06 | NA | NA | 2.78 | 3.05 | 000
36521 |  | A | Apheresis w/ adsorp/reinfuse | 1.74 | NA | NA | 0.98 | 0.98 | 0.06 | NA | NA | 2.78 | 2.78 | 000
36522 |  | A | Photopheresis | 1.67 | 5.96 | 5.14 | 1.12 | 1.34 | 0.07 | 7.70 | 6.88 | 2.86 | 3.08 | 000
36530 |  | R | Insertion of infusion pump | 6.20 | NA | NA | 3.75 | 4.12 | 0.56 | NA | NA | 10.51 | 10.88 | 010
36531 |  | R | Revision of infusion pump | 4.87 | NA | NA | 3.28 | 3.65 | 0.44 | NA | NA | 8.59 | 8.96 | 010
36532 |  | R | Removal of infusion pump | 3.30 | NA | NA | 1.65 | 1.72 | 0.34 | NA | NA | 5.29 | 5.36 | 010
36533 |  | A | Insertion of access device | 5.32 | 4.33 | 4.41 | 3.51 | 3.80 | 0.49 | 10.14 | 10.22 | 9.32 | 9.61 | 010
36534 |  | A | Revision of access device | 2.80 | NA | NA | 1.51 | 1.97 | 0.19 | NA | NA | 4.50 | 4.96 | 010
36535 |  | A | Removal of access device | 2.27 | 2.91 | 2.67 | 1.98 | 1.98 | 0.21 | 5.39 | 5.15 | 4.46 | 4.46 | 010
36540 |  | B | Collect blood venous device | 0.00 | 0.00 | 0.00 | 0.00 | 0.00 | 0.00 | 0.00 | 0.00 | 0.00 | 0.00 | XXX
36550 |  | A | Declot vascular device | 0.00 | 0.37 | 0.37 | 0.06 | 0.06 | 0.31 | 0.68 | 0.68 | 0.37 | 0.37 | XXX
36600 |  | A | Withdrawal of arterial blood | 0.32 | 0.40 | 0.38 | 0.09 | 0.14 | 0.02 | 0.74 | 0.72 | 0.43 | 0.48 | XXX
36620 |  | A | Insertion catheter, artery | 1.15 | NA | NA | 0.25 | 0.37 | 0.06 | NA | NA | 1.46 | 1.58 | 000
36625 |  | A | Insertion catheter, artery | 2.11 | NA | NA | 0.61 | 0.69 | 0.16 | NA | NA | 2.88 | 2.96 | 000
36640 |  | A | Insertion catheter, artery | 2.10 | NA | NA | 0.78 | 1.21 | 0.18 | NA | NA | 3.06 | 3.49 | 000
36660 |  | A | Insertion catheter, artery | 1.40 | NA | NA | 0.46 | 0.48 | 0.08 | NA | NA | 1.94 | 1.96 | 000
36680 |  | A | Insert needle, bone cavity | 1.20 | NA | NA | 0.60 | 0.79 | 0.08 | NA | NA | 1.88 | 2.07 | 000
36800 |  | A | Insertion of cannula | 2.43 | NA | NA | 1.67 | 1.86 | 0.17 | NA | NA | 4.27 | 4.46 | 000
36810 |  | A | Insertion of cannula | 3.97 | NA | NA | 2.49 | 3.05 | 0.40 | NA | NA | 6.86 | 7.42 | 000
36815 |  | A | Insertion of cannula | 2.62 | NA | NA | 1.81 | 2.14 | 0.26 | NA | NA | 4.69 | 5.02 | 000
36819 |  | A | Av fusion by basilic vein | 14.00 | NA | NA | 6.90 | 6.90 | 1.53 | NA | NA | 22.43 | 22.43 | 090
36821 |  | A | Av fusion direct any site | 8.93 | NA | NA | 5.23 | 5.89 | 0.97 | NA | NA | 15.13 | 15.79 | 090
36822 |  | A | Insertion of cannula(s) | 5.42 | NA | NA | 10.02 | 9.04 | 0.63 | NA | NA | 16.07 | 15.09 | 090
36823 |  | A | Insertion of cannula(s) | 21.00 | NA | NA | 11.80 | 11.80 | 2.18 | NA | NA | 34.98 | 34.98 | 090
36825 |  | A | Artery-vein graft | 9.84 | NA | NA | 5.91 | 7.37 | 1.09 | NA | NA | 16.84 | 18.30 | 090
36830 |  | A | Artery-vein graft | 12.00 | NA | NA | 6.51 | 7.59 | 1.32 | NA | NA | 19.83 | 20.91 | 090
36831 |  | A | Av fistula excision, open | 8.00 | 2.95 | 2.95 | 2.95 | 2.95 | 0.79 | 11.74 | 11.74 | 11.74 | 11.74 | 090
36832 |  | A | Av fistula revision, open | 10.50 | NA | NA | 5.90 | 6.35 | 1.13 | NA | NA | 17.53 | 17.98 | 090
36833 |  | A | Av fistula revision | 11.95 | 4.49 | 4.49 | 4.49 | 4.49 | 1.29 | 17.73 | 17.73 | 17.73 | 17.73 | 090
36834 |  | A | Repair A-V aneurysm | 9.93 | NA | NA | 4.09 | 5.19 | 1.06 | NA | NA | 15.08 | 16.18 | 090
36835 |  | A | Artery to vein shunt | 7.15 | NA | NA | 4.90 | 4.60 | 0.80 | NA | NA | 12.85 | 12.55 | 090
36860 |  | A | External cannula declotting | 2.01 | 2.31 | 2.43 | 1.64 | 1.83 | 0.10 | 4.42 | 4.54 | 3.75 | 3.94 | 000
36861 |  | A | Cannula declotting | 2.52 | NA | NA | 1.80 | 2.10 | 0.14 | NA | NA | 4.46 | 4.76 | 000
36870 |  | A | Av fistula revision, open | 5.16 | 30.67 | 30.67 | 2.51 | 2.51 | 0.40 | 36.23 | 36.23 | 8.07 | 8.07 | 090
37140 |  | A | Revision of circulation | 23.60 | NA | NA | 10.58 | 12.36 | 1.21 | NA | NA | 35.39 | 37.17 | 090
37145 |  | A | Revision of circulation | 24.61 | NA | NA | 11.00 | 12.90 | 2.48 | NA | NA | 38.09 | 39.99 | 090
37160 |  | A | Revision of circulation | 21.60 | NA | NA | 9.52 | 11.95 | 2.16 | NA | NA | 33.28 | 35.71 | 090
37180 |  | A | Revision of circulation | 24.61 | NA | NA | 10.97 | 12.08 | 2.63 | NA | NA | 38.21 | 39.32 | 090
37181 |  | A | Splice spleen/kidney veins | 26.68 | NA | NA | 11.74 | 13.26 | 2.67 | NA | NA | 41.09 | 42.61 | 090
37195 |  | A | Thrombolytic therapy, stroke | 0.00 | 7.99 | 8.08 | 7.99 | 8.08 | 0.38 | 8.37 | 8.46 | 8.37 | 8.46 | XXX
37200 |  | A | Transcatheter biopsy | 4.56 | NA | NA | 1.65 | 1.67 | 0.19 | NA | NA | 6.40 | 6.42 | 000
37201 |  | A | Transcatheter therapy infuse | 5.00 | NA | NA | 2.59 | 3.44 | 0.24 | NA | NA | 7.83 | 8.68 | 000
37202 |  | A | Transcatheter therapy infuse | 5.68 | NA | NA | 3.27 | 3.62 | 0.38 | NA | NA | 9.33 | 9.68 | 000
37203 |  | A | Transcatheter retrieval | 5.03 | NA | NA | 2.62 | 3.00 | 0.23 | NA | NA | 7.88 | 8.26 | 000
37204 |  | A | Transcatheter occlusion | 18.14 | NA | NA | 6.33 | 8.48 | 0.85 | NA | NA | 25.32 | 27.47 | 000
37205 |  | A | Transcatheter stent | 8.28 | NA | NA | 3.98 | 4.39 | 0.43 | NA | NA | 12.69 | 13.10 | 000
37206 |  | A | Transcatheter stent add-on | 4.13 | NA | NA | 1.62 | 1.92 | 0.22 | NA | NA | 5.97 | 6.27 | ZZZ
37207 |  | A | Transcatheter stent | 8.28 | NA | NA | 3.86 | 4.30 | 0.89 | NA | NA | 13.03 | 13.47 | 000
37208 |  | A | Transcatheter stent add-on | 4.13 | NA | NA | 1.56 | 1.87 | 0.44 | NA | NA | 6.13 | 6.44 | ZZZ
37209 |  | A | Exchange arterial catheter | 2.27 | NA | NA | 0.85 | 1.02 | 0.11 | NA | NA | 3.23 | 3.40 | 000
37250 |  | A | Iv us first vessel add-on | 2.10 | NA | NA | 0.86 | 0.96 | 0.17 | NA | NA | 3.13 | 3.23 | ZZZ
37251 |  | A | Iv us each add vessel add-on | 1.60 | NA | NA | 0.63 | 0.71 | 0.14 | NA | NA | 2.37 | 2.45 | ZZZ
37565 |  | A | Ligation of neck vein | 4.44 | NA | NA | 2.62 | 2.99 | 0.45 | NA | NA | 7.51 | 7.88 | 090
37600 |  | A | Ligation of neck artery | 4.57 | NA | NA | 3.34 | 3.86 | 0.40 | NA | NA | 8.31 | 8.83 | 090
37605 |  | A | Ligation of neck artery | 6.19 | NA | NA | 3.89 | 4.43 | 0.77 | NA | NA | 10.85 | 11.39 | 090
37606 |  | A | Ligation of neck artery | 6.28 | NA | NA | 3.93 | 4.55 | 0.79 | NA | NA | 11.00 | 11.62 | 090
37607 |  | A | Ligation of a-v fistula | 6.16 | NA | NA | 3.84 | 3.71 | 0.67 | NA | NA | 10.67 | 10.54 | 090
37609 |  | A | Temporal artery procedure | 2.30 | 6.20 | 5.25 | 2.30 | 2.33 | 0.21 | 8.71 | 7.76 | 4.81 | 4.84 | 010
37615 |  | A | Ligation of neck artery | 5.73 | NA | NA | 3.71 | 4.31 | 0.57 | NA | NA | 10.01 | 10.61 | 090
37616 |  | A | Ligation of chest artery | 16.49 | NA | NA | 13.33 | 11.14 | 1.93 | NA | NA | 31.75 | 29.56 | 090
37617 |  | A | Ligation of abdomen artery | 15.95 | NA | NA | 7.59 | 7.86 | 1.69 | NA | NA | 25.23 | 25.50 | 090
37618 |  | A | Ligation of extremity artery | 4.84 | NA | NA | 3.64 | 4.08 | 0.54 | NA | NA | 9.02 | 9.46 | 090
37620 |  | A | Revision of major vein | 10.56 | NA | NA | 5.60 | 6.59 | 0.75 | NA | NA | 16.91 | 17.90 | 090
37650 |  | A | Revision of major vein | 5.13 | NA | NA | 3.96 | 4.06 | 0.56 | NA | NA | 9.65 | 9.75 | 090
37660 |  | A | Revision of major vein | 10.61 | NA | NA | 6.14 | 6.17 | 1.17 | NA | NA | 17.92 | 17.95 | 090
37700 |  | A | Revise leg vein | 3.73 | NA | NA | 3.23 | 3.41 | 0.40 | NA | NA | 7.36 | 7.54 | 090
37720 |  | A | Removal of leg vein | 5.66 | NA | NA | 3.82 | 4.25 | 0.61 | NA | NA | 10.09 | 10.52 | 090
37730 |  | A | Removal of leg veins | 7.33 | NA | NA | 4.74 | 5.44 | 0.77 | NA | NA | 12.84 | 13.54 | 090
37735 |  | A | Removal of leg veins/lesion | 10.53 | NA | NA | 5.99 | 6.76 | 1.17 | NA | NA | 17.69 | 18.46 | 090
37760 |  | A | Revision of leg veins | 10.47 | NA | NA | 6.06 | 6.58 | 1.11 | NA | NA | 17.64 | 18.16 | 090
37780 |  | A | Revision of leg vein | 3.84 | NA | NA | 2.97 | 2.74 | 0.41 | NA | NA | 7.22 | 6.99 | 090
37785 |  | A | Revise secondary varicosity | 3.88 | 6.89 | 5.43 | 2.95 | 2.48 | 0.41 | 11.18 | 9.72 | 7.24 | 6.77 | 090
37788 |  | A | Revascularization, penis | 22.01 | NA | NA | 12.61 | 13.57 | 1.35 | NA | NA | 35.97 | 36.93 | 090
37790 |  | A | Penile venous occlusion | 8.34 | NA | NA | 7.23 | 6.97 | 0.63 | NA | NA | 16.20 | 15.94 | 090
37799 |  | C | Vascular surgery procedure | 0.00 | 0.00 | 0.00 | 0.00 | 0.00 | 0.00 | 0.00 | 0.00 | 0.00 | 0.00 | YYY
38100 |  | A | Removal of spleen, total | 13.01 | NA | NA | 6.36 | 7.09 | 1.30 | NA | NA | 20.67 | 21.40 | 090
38101 |  | A | Removal of spleen, partial | 13.74 | NA | NA | 6.69 | 6.92 | 1.38 | NA | NA | 21.81 | 22.04 | 090
38102 |  | A | Removal of spleen, total | 4.80 | NA | NA | 1.82 | 2.05 | 0.49 | NA | NA | 7.11 | 7.34 | ZZZ
38115 |  | A | Repair of ruptured spleen | 14.19 | NA | NA | 6.81 | 7.18 | 1.40 | NA | NA | 22.40 | 22.77 | 090
38120 |  | A | Laparoscopy, splenectomy | 17.00 | NA | NA | 7.79 | 7.79 | 1.73 | NA | NA | 26.52 | 26.52 | 090
38129 |  | C | Laparoscope proc, spleen | 0.00 | 0.00 | 0.00 | 0.00 | 0.00 | 0.00 | 0.00 | 0.00 | 0.00 | 0.00 | YYY
38200 |  | A | Injection for spleen x-ray | 2.64 | NA | NA | 0.98 | 1.20 | 0.12 | NA | NA | 3.74 | 3.96 | 000
38230 |  | R | Bone marrow collection | 4.54 | NA | NA | 2.34 | 2.51 | 0.25 | NA | NA | 7.13 | 7.30 | 010
38231 |  | R | Stem cell collection | 1.50 | NA | NA | 0.59 | 0.82 | 0.05 | NA | NA | 2.14 | 2.37 | 000
38240 |  | R | Bone marrow/stem transplant | 2.24 | NA | NA | 0.85 | 1.20 | 0.08 | NA | NA | 3.17 | 3.52 | XXX
38241 |  | R | Bone marrow/stem transplant | 2.24 | NA | NA | 0.84 | 1.18 | 0.08 | NA | NA | 3.16 | 3.50 | XXX
38300 |  | A | Drainage, lymph node lesion | 1.53 | 4.31 | 3.39 | 2.52 | 1.97 | 0.15 | 5.99 | 5.07 | 4.20 | 3.65 | 010
38305 |  | A | Drainage, lymph node lesion | 4.61 | 7.71 | 6.32 | 5.74 | 4.84 | 0.36 | 12.68 | 11.29 | 10.71 | 9.81 | 090
38308 |  | A | Incision of lymph channels | 4.95 | NA | NA | 5.10 | 4.74 | 0.51 | NA | NA | 10.56 | 10.20 | 090
38380 |  | A | Thoracic duct procedure | 7.46 | NA | NA | 7.45 | 6.79 | 0.68 | NA | NA | 15.59 | 14.93 | 090
38381 |  | A | Thoracic duct procedure | 12.88 | NA | NA | 12.22 | 11.22 | 1.58 | NA | NA | 26.68 | 25.68 | 090
38382 |  | A | Thoracic duct procedure | 10.08 | NA | NA | 10.97 | 9.54 | 1.08 | NA | NA | 22.13 | 20.70 | 090
38500 |  | A | Biopsy/removal, lymph nodes | 2.88 | 2.64 | 2.41 | 2.30 | 2.16 | 0.28 | 5.80 | 5.57 | 5.46 | 5.32 | 010
38505 |  | A | Needle biopsy, lymph nodes | 1.14 | 2.98 | 2.54 | 1.12 | 0.99 | 0.09 | 4.21 | 3.77 | 2.35 | 2.22 | 000
38510 |  | A | Biopsy/removal, lymph nodes | 4.14 | NA | NA | 4.40 | 3.99 | 0.38 | NA | NA | 8.92 | 8.51 | 090
38520 |  | A | Biopsy/removal, lymph nodes | 5.12 | NA | NA | 5.25 | 4.75 | 0.52 | NA | NA | 10.89 | 10.39 | 090
38525 |  | A | Biopsy/removal, lymph nodes | 4.66 | NA | NA | 3.93 | 3.65 | 0.48 | NA | NA | 9.07 | 8.79 | 090
38530 |  | A | Biopsy/removal, lymph nodes | 6.13 | NA | NA | 5.36 | 4.88 | 0.63 | NA | NA | 12.12 | 11.64 | 090
38542 |  | A | Explore deep node(s), neck | 5.91 | NA | NA | 5.99 | 5.65 | 0.50 | NA | NA | 12.40 | 12.06 | 090
38550 |  | A | Removal, neck/armpit lesion | 6.92 | NA | NA | 4.94 | 4.58 | 0.69 | NA | NA | 12.55 | 12.19 | 090
38555 |  | A | Removal, neck/armpit lesion | 14.14 | NA | NA | 11.79 | 10.82 | 1.46 | NA | NA | 27.39 | 26.42 | 090
38562 |  | A | Removal, pelvic lymph nodes | 10.49 | NA | NA | 6.51 | 6.75 | 0.97 | NA | NA | 17.97 | 18.21 | 090
38564 |  | A | Removal, abdomen lymph nodes | 10.83 | NA | NA | 6.51 | 6.89 | 1.06 | NA | NA | 18.40 | 18.78 | 090
38570 |  | A | Laparoscopy, lymph node biop | 9.25 | NA | NA | 4.61 | 5.19 | 0.89 | NA | NA | 14.75 | 15.33 | 010
38571 |  | A | Laparoscopy, lymphadenectomy | 12.38 | NA | NA | 5.48 | 6.43 | 0.80 | NA | NA | 18.66 | 19.61 | 010
38572 |  | A | Laparoscopy, lymphadenectomy | 14.32 | NA | NA | 6.43 | 7.54 | 1.32 | NA | NA | 22.07 | 23.18 | 010
38589 |  | C | Laparoscope proc, lymphatic | 0.00 | 0.00 | 0.00 | 0.00 | 0.00 | 0.00 | 0.00 | 0.00 | 0.00 | 0.00 | YYY
38700 |  | A | Removal of lymph nodes, neck | 8.24 | NA | NA | 13.23 | 12.38 | 0.60 | NA | NA | 22.07 | 21.22 | 090
38720 |  | A | Removal of lymph nodes, neck | 13.61 | NA | NA | 15.67 | 15.82 | 1.03 | NA | NA | 30.31 | 30.46 | 090
38724 |  | A | Removal of lymph nodes, neck | 14.54 | NA | NA | 16.15 | 16.01 | 1.10 | NA | NA | 31.79 | 31.65 | 090
38740 |  | A | Remove armpit lymph nodes | 6.77 | NA | NA | 4.73 | 4.83 | 0.69 | NA | NA | 12.19 | 12.29 | 090
38745 |  | A | Remove armpit lymph nodes | 8.84 | NA | NA | 6.75 | 7.31 | 0.90 | NA | NA | 16.49 | 17.05 | 090
38746 |  | A | Remove thoracic lymph nodes | 4.39 | NA | NA | 1.78 | 1.96 | 0.55 | NA | NA | 6.72 | 6.90 | ZZZ
38747 |  | A | Remove abdominal lymph nodes | 4.89 | NA | NA | 1.86 | 2.09 | 0.50 | NA | NA | 7.25 | 7.48 | ZZZ
38760 |  | A | Remove groin lymph nodes | 8.74 | NA | NA | 5.71 | 6.08 | 0.88 | NA | NA | 15.33 | 15.70 | 090
38765 |  | A | Remove groin lymph nodes | 16.06 | NA | NA | 10.08 | 11.00 | 1.50 | NA | NA | 27.64 | 28.56 | 090
38770 |  | A | Remove pelvis lymph nodes | 13.23 | NA | NA | 6.87 | 9.10 | 0.94 | NA | NA | 21.04 | 23.27 | 090
38780 |  | A | Remove abdomen lymph nodes | 16.59 | NA | NA | 9.23 | 11.28 | 1.60 | NA | NA | 27.42 | 29.47 | 090
38790 |  | A | Inject for lymphatic x-ray | 1.29 | 34.73 | 26.49 | 0.48 | 0.75 | 0.09 | 36.11 | 27.87 | 1.86 | 2.13 | 000
38792 |  | A | Identify sentinel node | 0.52 | NA | NA | 0.20 | 0.20 | 0.04 | NA | NA | 0.76 | 0.76 | 000
38794 |  | A | Access thoracic lymph duct | 4.45 | NA | NA | 1.69 | 2.04 | 0.17 | NA | NA | 6.31 | 6.66 | 090
38999 |  | C | Blood/lymph system procedure | 0.00 | 0.00 | 0.00 | 0.00 | 0.00 | 0.00 | 0.00 | 0.00 | 0.00 | 0.00 | YYY
39000 |  | A | Exploration of chest | 6.10 | NA | NA | 9.67 | 8.90 | 0.73 | NA | NA | 16.50 | 15.73 | 090
39010 |  | A | Exploration of chest | 11.79 | NA | NA | 12.67 | 12.61 | 1.46 | NA | NA | 25.92 | 25.86 | 090
39200 |  | A | Removal chest lesion | 13.62 | NA | NA | 12.97 | 12.87 | 1.65 | NA | NA | 28.24 | 28.14 | 090
39220 |  | A | Removal chest lesion | 17.42 | NA | NA | 14.48 | 14.91 | 2.10 | NA | NA | 34.00 | 34.43 | 090
39400 |  | A | Visualization of chest | 5.61 | NA | NA | 9.43 | 8.46 | 0.69 | NA | NA | 15.73 | 14.76 | 010
39499 |  | C | Chest procedure | 0.00 | 0.00 | 0.00 | 0.00 | 0.00 | 0.00 | 0.00 | 0.00 | 0.00 | 0.00 | YYY
39501 |  | A | Repair diaphragm laceration | 13.19 | NA | NA | 8.44 | 9.22 | 1.38 | NA | NA | 23.01 | 23.79 | 090
39502 |  | A | Repair paraesophageal hernia | 16.33 | NA | NA | 8.87 | 9.89 | 1.68 | NA | NA | 26.88 | 27.90 | 090
39503 |  | A | Repair of diaphragm hernia | 37.54 | NA | NA | 16.79 | 19.43 | 3.52 | NA | NA | 57.85 | 60.49 | 090
39520 |  | A | Repair of diaphragm hernia | 16.10 | NA | NA | 11.37 | 11.93 | 1.83 | NA | NA | 29.30 | 29.86 | 090
39530 |  | A | Repair of diaphragm hernia | 15.41 | NA | NA | 9.56 | 10.99 | 1.66 | NA | NA | 26.63 | 28.06 | 090
39531 |  | A | Repair of diaphragm hernia | 16.42 | NA | NA | 10.67 | 10.72 | 1.83 | NA | NA | 28.92 | 28.97 | 090
39540 |  | A | Repair of diaphragm hernia | 13.32 | NA | NA | 8.54 | 9.66 | 1.38 | NA | NA | 23.24 | 24.36 | 090
39541 |  | A | Repair of diaphragm hernia | 14.41 | NA | NA | 8.78 | 9.89 | 1.52 | NA | NA | 24.71 | 25.82 | 090
39545 |  | A | Revision of diaphragm | 13.37 | NA | NA | 11.72 | 10.93 | 1.55 | NA | NA | 26.64 | 25.85 | 090
39560 |  | A | Resect diaphragm, simple | 12.00 | NA | NA | 8.97 | 8.97 | 1.35 | NA | NA | 22.32 | 22.32 | 090
39561 |  | A | Resect diaphragm, complex | 17.50 | NA | NA | 11.08 | 11.08 | 1.97 | NA | NA | 30.55 | 30.55 | 090
39599 |  | C | Diaphragm surgery procedure | 0.00 | 0.00 | 0.00 | 0.00 | 0.00 | 0.00 | 0.00 | 0.00 | 0.00 | 0.00 | YYY
40490 |  | A | Biopsy of lip | 1.22 | 1.63 | 1.42 | 0.62 | 0.57 | 0.06 | 2.91 | 2.70 | 1.90 | 1.85 | 000
40500 |  | A | Partial excision of lip | 4.28 | 5.61 | 5.49 | 5.49 | 5.40 | 0.31 | 10.20 | 10.08 | 10.08 | 9.99 | 090
40510 |  | A | Partial excision of lip | 4.70 | 6.59 | 6.35 | 6.33 | 6.15 | 0.38 | 11.67 | 11.43 | 11.41 | 11.23 | 090
40520 |  | A | Partial excision of lip | 4.67 | 7.58 | 6.91 | 6.71 | 6.25 | 0.42 | 12.67 | 12.00 | 11.80 | 11.34 | 090
40525 |  | A | Reconstruct lip with flap | 7.55 | NA | NA | 8.21 | 8.41 | 0.68 | NA | NA | 16.44 | 16.64 | 090
40527 |  | A | Reconstruct lip with flap | 9.13 | NA | NA | 9.06 | 9.52 | 0.82 | NA | NA | 19.01 | 19.47 | 090
40530 |  | A | Partial removal of lip | 5.40 | 6.38 | 6.17 | 6.18 | 6.02 | 0.47 | 12.25 | 12.04 | 12.05 | 11.89 | 090
40650 |  | A | Repair lip | 3.64 | 5.38 | 5.12 | 4.52 | 4.48 | 0.31 | 9.33 | 9.07 | 8.47 | 8.43 | 090
40652 |  | A | Repair lip | 4.26 | 6.34 | 6.03 | 6.34 | 6.03 | 0.39 | 10.99 | 10.68 | 10.99 | 10.68 | 090
40654 |  | A | Repair lip | 5.31 | 7.61 | 7.29 | 7.37 | 7.11 | 0.48 | 13.40 | 13.08 | 13.16 | 12.90 | 090
40700 |  | A | Repair cleft lip/nasal | 12.79 | NA | NA | 10.36 | 10.07 | 0.93 | NA | NA | 24.08 | 23.79 | 090
40701 |  | A | Repair cleft lip/nasal | 15.85 | NA | NA | 10.09 | 12.81 | 1.36 | NA | NA | 27.30 | 30.02 | 090
40702 |  | A | Repair cleft lip/nasal | 13.04 | NA | NA | 9.30 | 9.52 | 1.01 | NA | NA | 23.35 | 23.57 | 090
40720 |  | A | Repair cleft lip/nasal | 13.55 | NA | NA | 12.39 | 11.90 | 1.31 | NA | NA | 27.25 | 26.76 | 090
40761 |  | A | Repair cleft lip/nasal | 14.72 | NA | NA | 11.59 | 11.63 | 1.41 | NA | NA | 27.72 | 27.76 | 090
40799 |  | C | Lip surgery procedure | 0.00 | 0.00 | 0.00 | 0.00 | 0.00 | 0.00 | 0.00 | 0.00 | 0.00 | 0.00 | YYY
40800 |  | A | Drainage of mouth lesion | 1.17 | 1.91 | 1.63 | 0.46 | 0.45 | 0.09 | 3.17 | 2.89 | 1.72 | 1.71 | 010
40801 |  | A | Drainage of mouth lesion | 2.53 | 2.43 | 2.28 | 1.90 | 1.66 | 0.18 | 5.14 | 4.99 | 4.61 | 4.37 | 010
40804 |  | A | Removal, foreign body, mouth | 1.24 | 2.56 | 2.08 | 2.16 | 1.70 | 0.09 | 3.89 | 3.41 | 3.49 | 3.03 | 010
40805 |  | A | Removal, foreign body, mouth | 2.69 | 3.05 | 2.97 | 2.69 | 2.70 | 0.17 | 5.91 | 5.83 | 5.55 | 5.56 | 010
40806 |  | A | Incision of lip fold | 0.31 | 0.85 | 0.74 | 0.85 | 0.74 | 0.02 | 1.18 | 1.07 | 1.18 | 1.07 | 000
40808 |  | A | Biopsy of mouth lesion | 0.96 | 2.05 | 1.74 | 2.05 | 1.64 | 0.07 | 3.08 | 2.77 | 3.08 | 2.67 | 010
40810 |  | A | Excision of mouth lesion | 1.31 | 2.66 | 2.32 | 2.36 | 1.93 | 0.09 | 4.06 | 3.72 | 3.76 | 3.33 | 010
40812 |  | A | Excise/repair mouth lesion | 2.31 | 2.87 | 2.56 | 2.87 | 2.36 | 0.17 | 5.35 | 5.04 | 5.35 | 4.84 | 010
40814 |  | A | Excise/repair mouth lesion | 3.42 | 4.04 | 3.91 | 4.04 | 3.47 | 0.26 | 7.72 | 7.59 | 7.72 | 7.15 | 090
40816 |  | A | Excision of mouth lesion | 3.67 | 4.35 | 4.14 | 4.35 | 3.70 | 0.27 | 8.29 | 8.08 | 8.29 | 7.64 | 090
40818 |  | A | Excise oral mucosa for graft | 2.41 | 4.02 | 3.63 | 4.02 | 3.63 | 0.14 | 6.57 | 6.18 | 6.57 | 6.18 | 090
40819 |  | A | Excise lip or cheek fold | 2.41 | 3.50 | 2.96 | 3.50 | 2.79 | 0.17 | 6.08 | 5.54 | 6.08 | 5.37 | 090
40820 |  | A | Treatment of mouth lesion | 1.28 | 2.33 | 1.89 | 2.17 | 1.70 | 0.08 | 3.69 | 3.25 | 3.53 | 3.06 | 010
40830 |  | A | Repair mouth laceration | 1.76 | 2.46 | 2.03 | 2.41 | 1.99 | 0.14 | 4.36 | 3.93 | 4.31 | 3.89 | 010
40831 |  | A | Repair mouth laceration | 2.46 | 2.78 | 2.61 | 2.78 | 2.61 | 0.21 | 5.45 | 5.28 | 5.45 | 5.28 | 010
40840 |  | R | Reconstruction of mouth | 8.73 | 6.16 | 6.33 | 6.16 | 6.33 | 0.79 | 15.68 | 15.85 | 15.68 | 15.85 | 090
40842 |  | R | Reconstruction of mouth | 8.73 | 5.98 | 6.19 | 5.98 | 6.19 | 0.65 | 15.36 | 15.57 | 15.36 | 15.57 | 090
40843 |  | R | Reconstruction of mouth | 12.10 | 8.47 | 8.74 | 8.47 | 8.74 | 0.84 | 21.41 | 21.68 | 21.41 | 21.68 | 090
40844 |  | R | Reconstruction of mouth | 16.01 | 8.95 | 9.87 | 8.41 | 9.46 | 1.63 | 26.59 | 27.51 | 26.05 | 27.10 | 090
40845 |  | R | Reconstruction of mouth | 18.58 | 10.53 | 13.44 | 10.53 | 13.44 | 1.47 | 30.58 | 33.49 | 30.58 | 33.49 | 090
40899 |  | C | Mouth surgery procedure | 0.00 | 0.00 | 0.00 | 0.00 | 0.00 | 0.00 | 0.00 | 0.00 | 0.00 | 0.00 | YYY
41000 |  | A | Drainage of mouth lesion | 1.30 | 2.35 | 1.97 | 1.54 | 1.26 | 0.09 | 3.74 | 3.36 | 2.93 | 2.65 | 010
41005 |  | A | Drainage of mouth lesion | 1.26 | 2.09 | 1.74 | 1.24 | 1.10 | 0.09 | 3.44 | 3.09 | 2.59 | 2.45 | 010
41006 |  | A | Drainage of mouth lesion | 3.24 | 3.51 | 2.91 | 3.41 | 2.83 | 0.25 | 7.00 | 6.40 | 6.90 | 6.32 | 090
41007 |  | A | Drainage of mouth lesion | 3.10 | 3.32 | 3.28 | 3.04 | 3.07 | 0.22 | 6.64 | 6.60 | 6.36 | 6.39 | 090
41008 |  | A | Drainage of mouth lesion | 3.37 | 3.57 | 2.97 | 3.18 | 2.53 | 0.24 | 7.18 | 6.58 | 6.79 | 6.14 | 090
41009 |  | A | Drainage of mouth lesion | 3.59 | 3.59 | 3.59 | 3.19 | 3.29 | 0.25 | 7.43 | 7.43 | 7.03 | 7.13 | 090
41010 |  | A | Incision of tongue fold | 1.06 | 2.90 | 2.28 | 2.90 | 2.28 | 0.06 | 4.02 | 3.40 | 4.02 | 3.40 | 010
41015 |  | A | Drainage of mouth lesion | 3.96 | 4.35 | 3.50 | 3.21 | 2.64 | 0.29 | 8.60 | 7.75 | 7.46 | 6.89 | 090
41016 |  | A | Drainage of mouth lesion | 4.07 | 4.14 | 4.11 | 3.39 | 3.54 | 0.28 | 8.49 | 8.46 | 7.74 | 7.89 | 090
41017 |  | A | Drainage of mouth lesion | 4.07 | 4.02 | 3.40 | 3.30 | 2.86 | 0.32 | 8.41 | 7.79 | 7.69 | 7.25 | 090
41018 |  | A | Drainage of mouth lesion | 5.10 | 4.53 | 4.47 | 3.89 | 3.99 | 0.35 | 9.98 | 9.92 | 9.34 | 9.44 | 090
41100 |  | A | Biopsy of tongue | 1.63 | 2.59 | 2.16 | 2.57 | 2.04 | 0.12 | 4.34 | 3.91 | 4.32 | 3.79 | 010
41105 |  | A | Biopsy of tongue | 1.42 | 2.42 | 2.10 | 2.42 | 1.96 | 0.10 | 3.94 | 3.62 | 3.94 | 3.48 | 010
41108 |  | A | Biopsy of floor of mouth | 1.05 | 2.29 | 1.95 | 2.23 | 1.79 | 0.08 | 3.42 | 3.08 | 3.36 | 2.92 | 010
41110 |  | A | Excision of tongue lesion | 1.51 | 3.03 | 2.63 | 2.49 | 2.05 | 0.11 | 4.65 | 4.25 | 4.11 | 3.67 | 010
41112 |  | A | Excision of tongue lesion | 2.73 | 3.48 | 3.26 | 3.48 | 2.94 | 0.20 | 6.41 | 6.19 | 6.41 | 5.87 | 090
41113 |  | A | Excision of tongue lesion | 3.19 | 3.46 | 3.52 | 3.46 | 3.06 | 0.23 | 6.88 | 6.94 | 6.88 | 6.48 | 090
41114 |  | A | Excision of tongue lesion | 8.47 | NA | NA | 6.36 | 6.50 | 0.64 | NA | NA | 15.47 | 15.61 | 090
41115 |  | A | Excision of tongue fold | 1.74 | 2.31 | 2.22 | 2.31 | 2.22 | 0.13 | 4.18 | 4.09 | 4.18 | 4.09 | 010
41116 |  | A | Excision of mouth lesion | 2.44 | 3.36 | 3.20 | 3.36 | 3.20 | 0.17 | 5.97 | 5.81 | 5.97 | 5.81 | 090
41120 |  | A | Partial removal of tongue | 9.77 | NA | NA | 8.68 | 8.49 | 0.70 | NA | NA | 19.15 | 18.96 | 090
41130 |  | A | Partial removal of tongue | 11.15 | NA | NA | 9.52 | 9.60 | 0.81 | NA | NA | 21.48 | 21.56 | 090
41135 |  | A | Tongue and neck surgery | 23.09 | NA | NA | 15.84 | 16.85 | 1.66 | NA | NA | 40.59 | 41.60 | 090
41140 |  | A | Removal of tongue | 25.50 | NA | NA | 18.03 | 18.65 | 1.85 | NA | NA | 45.38 | 46.00 | 090
41145 |  | A | Tongue removal, neck surgery | 30.06 | NA | NA | 21.43 | 22.26 | 2.11 | NA | NA | 53.60 | 54.43 | 090
41150 |  | A | Tongue, mouth, jaw surgery | 23.04 | NA | NA | 17.05 | 17.93 | 1.67 | NA | NA | 41.76 | 42.64 | 090
41153 |  | A | Tongue, mouth, neck surgery | 23.77 | NA | NA | 17.78 | 20.12 | 1.71 | NA | NA | 43.26 | 45.60 | 090
41155 |  | A | Tongue, jaw, & neck surgery | 27.72 | NA | NA | 19.81 | 22.98 | 2.02 | NA | NA | 49.55 | 52.72 | 090
41250 |  | A | Repair tongue laceration | 1.91 | 2.81 | 2.40 | 1.65 | 1.53 | 0.15 | 4.87 | 4.46 | 3.71 | 3.59 | 010
41251 |  | A | Repair tongue laceration | 2.27 | 2.73 | 2.61 | 2.24 | 2.24 | 0.18 | 5.18 | 5.06 | 4.69 | 4.69 | 010
41252 |  | A | Repair tongue laceration | 2.97 | 3.57 | 3.32 | 2.32 | 2.38 | 0.23 | 6.77 | 6.52 | 5.52 | 5.58 | 010
41500 |  | A | Fixation of tongue | 3.71 | NA | NA | 4.28 | 4.10 | 0.26 | NA | NA | 8.25 | 8.07 | 090
41510 |  | A | Tongue to lip surgery | 3.42 | NA | NA | 4.47 | 4.04 | 0.24 | NA | NA | 8.13 | 7.70 | 090
41520 |  | A | Reconstruction, tongue fold | 2.73 | 3.16 | 3.15 | 3.16 | 3.15 | 0.19 | 6.08 | 6.07 | 6.08 | 6.07 | 090
41599 |  | C | Tongue and mouth surgery | 0.00 | 0.00 | 0.00 | 0.00 | 0.00 | 0.00 | 0.00 | 0.00 | 0.00 | 0.00 | YYY
41800 |  | A | Drainage of gum lesion | 1.17 | 1.88 | 1.60 | 1.33 | 1.09 | 0.09 | 3.14 | 2.86 | 2.59 | 2.35 | 010
41805 |  | A | Removal foreign body, gum | 1.24 | 1.90 | 1.65 | 1.90 | 1.65 | 0.09 | 3.23 | 2.98 | 3.23 | 2.98 | 010
41806 |  | A | Removal foreign body,jawbone | 2.69 | 2.56 | 2.37 | 2.38 | 2.01 | 0.22 | 5.47 | 5.28 | 5.29 | 4.92 | 010
41820 |  | R | Excision, gum, each quadrant | 0.00 | 0.00 | 0.00 | 0.00 | 0.00 | 0.00 | 0.00 | 0.00 | 0.00 | 0.00 | XXX
41821 |  | R | Excision of gum flap | 0.00 | 0.00 | 0.00 | 0.00 | 0.00 | 0.00 | 0.00 | 0.00 | 0.00 | 0.00 | XXX
41822 |  | R | Excision of gum lesion | 2.31 | 2.84 | 2.95 | 0.91 | 1.51 | 0.24 | 5.39 | 5.50 | 3.46 | 4.06 | 010
41823 |  | R | Excision of gum lesion | 3.30 | 3.71 | 3.77 | 2.75 | 3.05 | 0.29 | 7.30 | 7.36 | 6.34 | 6.64 | 090
41825 |  | A | Excision of gum lesion | 1.31 | 2.34 | 2.16 | 2.27 | 1.91 | 0.10 | 3.75 | 3.57 | 3.68 | 3.32 | 010
41826 |  | A | Excision of gum lesion | 2.31 | 2.60 | 2.51 | 2.59 | 2.23 | 0.17 | 5.08 | 4.99 | 5.07 | 4.71 | 010
41827 |  | A | Excision of gum lesion | 3.42 | 3.55 | 3.68 | 3.55 | 3.17 | 0.25 | 7.22 | 7.35 | 7.22 | 6.84 | 090
41828 |  | R | Excision of gum lesion | 3.09 | 3.00 | 3.36 | 2.30 | 2.83 | 0.22 | 6.31 | 6.67 | 5.61 | 6.14 | 010
41830 |  | R | Removal of gum tissue | 3.35 | 3.15 | 3.36 | 3.15 | 3.36 | 0.23 | 6.73 | 6.94 | 6.73 | 6.94 | 010
41850 |  | R | Treatment of gum lesion | 0.00 | 0.00 | 0.00 | 0.00 | 0.00 | 0.00 | 0.00 | 0.00 | 0.00 | 0.00 | XXX
41870 |  | R | Gum graft | 0.00 | 0.00 | 0.00 | 0.00 | 0.00 | 0.00 | 0.00 | 0.00 | 0.00 | 0.00 | XXX
41872 |  | R | Repair gum | 2.59 | 2.67 | 2.78 | 2.67 | 2.78 | 0.18 | 5.44 | 5.55 | 5.44 | 5.55 | 090
41874 |  | R | Repair tooth socket | 3.09 | 2.81 | 3.03 | 2.34 | 2.68 | 0.23 | 6.13 | 6.35 | 5.66 | 6.00 | 090
41899 |  | C | Dental surgery procedure | 0.00 | 0.00 | 0.00 | 0.00 | 0.00 | 0.00 | 0.00 | 0.00 | 0.00 | 0.00 | YYY
42000 |  | A | Drainage mouth roof lesion | 1.23 | 2.39 | 1.96 | 1.68 | 1.35 | 0.10 | 3.72 | 3.29 | 3.01 | 2.68 | 010
42100 |  | A | Biopsy roof of mouth | 1.31 | 2.36 | 1.99 | 2.36 | 1.88 | 0.10 | 3.77 | 3.40 | 3.77 | 3.29 | 010
42104 |  | A | Excision lesion, mouth roof | 1.64 | 2.43 | 2.26 | 2.43 | 2.04 | 0.12 | 4.19 | 4.02 | 4.19 | 3.80 | 010
42106 |  | A | Excision lesion, mouth roof | 2.10 | 2.60 | 2.55 | 2.60 | 2.25 | 0.16 | 4.86 | 4.81 | 4.86 | 4.51 | 010
42107 |  | A | Excision lesion, mouth roof | 4.44 | 4.02 | 4.34 | 4.02 | 3.68 | 0.32 | 8.78 | 9.10 | 8.78 | 8.44 | 090
42120 |  | A | Remove palate/lesion | 6.17 | NA | NA | 6.01 | 6.35 | 0.44 | NA | NA | 12.62 | 12.96 | 090
42140 |  | A | Excision of uvula | 1.62 | 3.68 | 3.13 | 3.22 | 2.78 | 0.12 | 5.42 | 4.87 | 4.96 | 4.52 | 090
42145 |  | A | Repair palate, pharynx/uvula | 8.05 | NA | NA | 7.30 | 7.88 | 0.56 | NA | NA | 15.91 | 16.49 | 090
42160 |  | A | Treatment mouth roof lesion | 1.80 | 3.16 | 2.79 | 2.62 | 2.17 | 0.13 | 5.09 | 4.72 | 4.55 | 4.10 | 010
42180 |  | A | Repair palate | 2.50 | 2.74 | 2.66 | 2.09 | 2.18 | 0.19 | 5.43 | 5.35 | 4.78 | 4.87 | 010
42182 |  | A | Repair palate | 3.83 | 3.94 | 3.90 | 2.98 | 3.18 | 0.27 | 8.04 | 8.00 | 7.08 | 7.28 | 010
42200 |  | A | Reconstruct cleft palate | 12.00 | NA | NA | 9.92 | 9.39 | 0.97 | NA | NA | 22.89 | 22.36 | 090
42205 |  | A | Reconstruct cleft palate | 9.59 | NA | NA | 7.65 | 8.60 | 0.82 | NA | NA | 18.06 | 19.01 | 090
42210 |  | A | Reconstruct cleft palate | 14.50 | NA | NA | 7.94 | 9.35 | 1.24 | NA | NA | 23.68 | 25.09 | 090
42215 |  | A | Reconstruct cleft palate | 8.82 | NA | NA | 7.36 | 7.60 | 0.96 | NA | NA | 17.14 | 17.38 | 090
42220 |  | A | Reconstruct cleft palate | 7.02 | NA | NA | 5.69 | 5.73 | 0.41 | NA | NA | 13.12 | 13.16 | 090
42225 |  | A | Reconstruct cleft palate | 9.54 | NA | NA | 8.87 | 8.53 | 0.75 | NA | NA | 19.16 | 18.82 | 090
42226 |  | A | Lengthening of palate | 10.01 | NA | NA | 9.15 | 9.00 | 0.73 | NA | NA | 19.89 | 19.74 | 090
42227 |  | A | Lengthening of palate | 9.52 | NA | NA | 6.69 | 7.03 | 0.70 | NA | NA | 16.91 | 17.25 | 090
42235 |  | A | Repair palate | 7.87 | NA | NA | 5.75 | 5.82 | 0.49 | NA | NA | 14.11 | 14.18 | 090
42260 |  | A | Repair nose to lip fistula | 9.80 | 7.33 | 6.58 | 7.33 | 6.58 | 0.85 | 17.98 | 17.23 | 17.98 | 17.23 | 090
42280 |  | A | Preparation, palate mold | 1.54 | 1.41 | 1.60 | 0.81 | 1.15 | 0.12 | 3.07 | 3.26 | 2.47 | 2.81 | 010
42281 |  | A | Insertion, palate prosthesis | 1.93 | 2.01 | 1.91 | 1.03 | 1.17 | 0.14 | 4.08 | 3.98 | 3.10 | 3.24 | 010
42299 |  | C | Palate/uvula surgery | 0.00 | 0.00 | 0.00 | 0.00 | 0.00 | 0.00 | 0.00 | 0.00 | 0.00 | 0.00 | YYY
42300 |  | A | Drainage of salivary gland | 1.93 | 2.56 | 2.18 | 1.76 | 1.45 | 0.15 | 4.64 | 4.26 | 3.84 | 3.53 | 010
42305 |  | A | Drainage of salivary gland | 6.07 | NA | NA | 5.16 | 4.46 | 0.46 | NA | NA | 11.69 | 10.99 | 090
42310 |  | A | Drainage of salivary gland | 1.56 | 2.24 | 1.96 | 1.67 | 1.39 | 0.11 | 3.91 | 3.63 | 3.34 | 3.06 | 010
42320 |  | A | Drainage of salivary gland | 2.35 | 2.79 | 2.59 | 2.12 | 2.09 | 0.17 | 5.31 | 5.11 | 4.64 | 4.61 | 010
42325 |  | A | Create salivary cyst drain | 2.75 | 3.30 | 3.05 | 1.20 | 1.48 | 0.17 | 6.22 | 5.97 | 4.12 | 4.40 | 090
42326 |  | A | Create salivary cyst drain | 3.78 | 3.28 | 3.59 | 2.10 | 2.70 | 0.34 | 7.40 | 7.71 | 6.22 | 6.82 | 090
42330 |  | A | Removal of salivary stone | 2.21 | 2.70 | 2.32 | 1.20 | 1.05 | 0.16 | 5.07 | 4.69 | 3.57 | 3.42 | 010
42335 |  | A | Removal of salivary stone | 3.31 | 3.57 | 3.35 | 3.57 | 3.01 | 0.23 | 7.11 | 6.89 | 7.11 | 6.55 | 090
42340 |  | A | Removal of salivary stone | 4.60 | 4.57 | 4.58 | 4.57 | 4.01 | 0.34 | 9.51 | 9.52 | 9.51 | 8.95 | 090
42400 |  | A | Biopsy of salivary gland | 0.78 | 2.34 | 1.97 | 0.39 | 0.40 | 0.06 | 3.18 | 2.81 | 1.23 | 1.24 | 000
42405 |  | A | Biopsy of salivary gland | 3.29 | 3.35 | 2.93 | 3.28 | 2.67 | 0.24 | 6.88 | 6.46 | 6.81 | 6.20 | 010
42408 |  | A | Excision of salivary cyst | 4.54 | 4.61 | 4.34 | 4.61 | 4.34 | 0.34 | 9.49 | 9.22 | 9.49 | 9.22 | 090
42409 |  | A | Drainage of salivary cyst | 2.81 | 3.44 | 3.34 | 3.44 | 3.34 | 0.20 | 6.45 | 6.35 | 6.45 | 6.35 | 090
42410 |  | A | Excise parotid gland/lesion | 9.34 | NA | NA | 7.78 | 7.45 | 0.77 | NA | NA | 17.89 | 17.56 | 090
42415 |  | A | Excise parotid gland/lesion | 16.89 | NA | NA | 12.40 | 12.74 | 1.26 | NA | NA | 30.55 | 30.89 | 090
42420 |  | A | Excise parotid gland/lesion | 19.59 | NA | NA | 13.97 | 14.50 | 1.45 | NA | NA | 35.01 | 35.54 | 090
42425 |  | A | Excise parotid gland/lesion | 13.02 | NA | NA | 10.26 | 10.71 | 0.98 | NA | NA | 24.26 | 24.71 | 090
42426 |  | A | Excise parotid gland/lesion | 21.26 | NA | NA | 14.79 | 17.44 | 1.57 | NA | NA | 37.62 | 40.27 | 090
42440 |  | A | Excise submaxillary gland | 6.97 | NA | NA | 5.88 | 6.49 | 0.51 | NA | NA | 13.36 | 13.97 | 090
42450 |  | A | Excise sublingual gland | 4.62 | 4.92 | 4.62 | 4.91 | 4.61 | 0.34 | 9.88 | 9.58 | 9.87 | 9.57 | 090
42500 |  | A | Repair salivary duct | 4.30 | 4.67 | 4.75 | 4.67 | 4.75 | 0.30 | 9.27 | 9.35 | 9.27 | 9.35 | 090
42505 |  | A | Repair salivary duct | 6.18 | 5.33 | 5.84 | 5.33 | 5.84 | 0.44 | 11.95 | 12.46 | 11.95 | 12.46 | 090
42507 |  | A | Parotid duct diversion | 6.11 | NA | NA | 5.85 | 5.65 | 0.66 | NA | NA | 12.62 | 12.42 | 090
42508 |  | A | Parotid duct diversion | 9.10 | NA | NA | 7.96 | 8.04 | 0.64 | NA | NA | 17.70 | 17.78 | 090
42509 |  | A | Parotid duct diversion | 11.54 | NA | NA | 7.66 | 7.73 | 1.24 | NA | NA | 20.44 | 20.51 | 090
42510 |  | A | Parotid duct diversion | 8.15 | NA | NA | 7.44 | 7.66 | 0.57 | NA | NA | 16.16 | 16.38 | 090
42550 |  | A | Injection for salivary x-ray | 1.25 | 12.21 | 9.28 | 0.44 | 0.45 | 0.06 | 13.52 | 10.59 | 1.75 | 1.76 | 000
42600 |  | A | Closure of salivary fistula | 4.82 | 6.02 | 5.57 | 5.54 | 5.21 | 0.34 | 11.18 | 10.73 | 10.70 | 10.37 | 090
42650 |  | A | Dilation of salivary duct | 0.77 | 1.06 | 0.90 | 0.42 | 0.37 | 0.06 | 1.89 | 1.73 | 1.25 | 1.20 | 000
42660 |  | A | Dilation of salivary duct | 1.13 | 1.15 | 1.00 | 1.15 | 0.93 | 0.07 | 2.35 | 2.20 | 2.35 | 2.13 | 000
42665 |  | A | Ligation of salivary duct | 2.53 | 3.73 | 3.35 | 3.69 | 3.32 | 0.17 | 6.43 | 6.05 | 6.39 | 6.02 | 090
42699 |  | C | Salivary surgery procedure | 0.00 | 0.00 | 0.00 | 0.00 | 0.00 | 0.00 | 0.00 | 0.00 | 0.00 | 0.00 | YYY
42700 |  | A | Drainage of tonsil abscess | 1.62 | 3.09 | 2.55 | 1.80 | 1.47 | 0.12 | 4.83 | 4.29 | 3.54 | 3.21 | 010
42720 |  | A | Drainage of throat abscess | 5.42 | 4.73 | 4.06 | 4.67 | 4.02 | 0.39 | 10.54 | 9.87 | 10.48 | 9.83 | 010
42725 |  | A | Drainage of throat abscess | 10.72 | NA | NA | 8.37 | 7.49 | 0.80 | NA | NA | 19.89 | 19.01 | 090
42800 |  | A | Biopsy of throat | 1.39 | 2.91 | 2.38 | 2.50 | 1.98 | 0.10 | 4.40 | 3.87 | 3.99 | 3.47 | 010
42802 |  | A | Biopsy of throat | 1.54 | 3.01 | 2.54 | 2.60 | 2.23 | 0.11 | 4.66 | 4.19 | 4.25 | 3.88 | 010
42804 |  | A | Biopsy of upper nose/throat | 1.24 | 2.87 | 2.45 | 2.45 | 2.13 | 0.09 | 4.20 | 3.78 | 3.78 | 3.46 | 010
42806 |  | A | Biopsy of upper nose/throat | 1.58 | 3.29 | 2.85 | 2.63 | 2.35 | 0.12 | 4.99 | 4.55 | 4.33 | 4.05 | 010
42808 |  | A | Excise pharynx lesion | 2.30 | 4.66 | 4.18 | 3.04 | 2.96 | 0.17 | 7.13 | 6.65 | 5.51 | 5.43 | 010
42809 |  | A | Remove pharynx foreign body | 1.81 | 3.34 | 2.73 | 1.67 | 1.48 | 0.13 | 5.28 | 4.67 | 3.61 | 3.42 | 010
42810 |  | A | Excision of neck cyst | 3.25 | 5.28 | 4.81 | 4.45 | 4.19 | 0.25 | 8.78 | 8.31 | 7.95 | 7.69 | 090
42815 |  | A | Excision of neck cyst | 7.07 | NA | NA | 6.49 | 7.03 | 0.53 | NA | NA | 14.09 | 14.63 | 090
42820 |  | A | Remove tonsils and adenoids | 3.91 | NA | NA | 3.89 | 3.77 | 0.28 | NA | NA | 8.08 | 7.96 | 090
42821 |  | A | Remove tonsils and adenoids | 4.29 | NA | NA | 4.13 | 4.17 | 0.30 | NA | NA | 8.72 | 8.76 | 090
42825 |  | A | Removal of tonsils | 3.42 | NA | NA | 3.57 | 3.40 | 0.24 | NA | NA | 7.23 | 7.06 | 090
42826 |  | A | Removal of tonsils | 3.38 | NA | NA | 3.61 | 3.72 | 0.23 | NA | NA | 7.22 | 7.33 | 090
42830 |  | A | Removal of adenoids | 2.57 | NA | NA | 2.26 | 2.20 | 0.18 | NA | NA | 5.01 | 4.95 | 090
42831 |  | A | Removal of adenoids | 2.71 | NA | NA | 2.49 | 2.51 | 0.19 | NA | NA | 5.39 | 5.41 | 090
42835 |  | A | Removal of adenoids | 2.30 | NA | NA | 2.46 | 2.35 | 0.17 | NA | NA | 4.93 | 4.82 | 090
42836 |  | A | Removal of adenoids | 3.18 | NA | NA | 3.58 | 3.44 | 0.22 | NA | NA | 6.98 | 6.84 | 090
42842 |  | A | Extensive surgery of throat | 8.76 | NA | NA | 7.71 | 7.60 | 0.61 | NA | NA | 17.08 | 16.97 | 090
42844 |  | A | Extensive surgery of throat | 14.31 | NA | NA | 11.31 | 11.43 | 1.04 | NA | NA | 26.66 | 26.78 | 090
42845 |  | A | Extensive surgery of throat | 24.29 | NA | NA | 17.47 | 18.16 | 1.76 | NA | NA | 43.52 | 44.21 | 090
42860 |  | A | Excision of tonsil tags | 2.22 | NA | NA | 3.01 | 2.77 | 0.16 | NA | NA | 5.39 | 5.15 | 090
42870 |  | A | Excision of lingual tonsil | 5.40 | NA | NA | 5.83 | 5.00 | 0.38 | NA | NA | 11.61 | 10.78 | 090
42890 |  | A | Partial removal of pharynx | 12.94 | NA | NA | 10.62 | 10.41 | 0.91 | NA | NA | 24.47 | 24.26 | 090
42892 |  | A | Revision of pharyngeal walls | 15.83 | NA | NA | 12.15 | 12.08 | 1.14 | NA | NA | 29.12 | 29.05 | 090
42894 |  | A | Revision of pharyngeal walls | 22.88 | NA | NA | 16.83 | 16.98 | 1.64 | NA | NA | 41.35 | 41.50 | 090
42900 |  | A | Repair throat wound | 5.25 | NA | NA | 3.73 | 3.95 | 0.39 | NA | NA | 9.37 | 9.59 | 010
42950 |  | A | Reconstruction of throat | 8.10 | NA | NA | 7.40 | 7.97 | 0.58 | NA | NA | 16.08 | 16.65 | 090
42953 |  | A | Repair throat, esophagus | 8.96 | NA | NA | 8.96 | 8.44 | 0.73 | NA | NA | 18.65 | 18.13 | 090
42955 |  | A | Surgical opening of throat | 7.39 | NA | NA | 6.48 | 5.76 | 0.63 | NA | NA | 14.50 | 13.78 | 090
42960 |  | A | Control throat bleeding | 2.33 | NA | NA | 2.08 | 1.85 | 0.17 | NA | NA | 4.58 | 4.35 | 010
42961 |  | A | Control throat bleeding | 5.59 | NA | NA | 5.22 | 4.39 | 0.40 | NA | NA | 11.21 | 10.38 | 090
42962 |  | A | Control throat bleeding | 7.14 | NA | NA | 6.25 | 6.31 | 0.51 | NA | NA | 13.90 | 13.96 | 090
42970 |  | A | Control nose/throat bleeding | 5.43 | NA | NA | 3.77 | 3.11 | 0.37 | NA | NA | 9.57 | 8.91 | 090
42971 |  | A | Control nose/throat bleeding | 6.21 | NA | NA | 5.69 | 5.06 | 0.45 | NA | NA | 12.35 | 11.72 | 090
42972 |  | A | Control nose/throat bleeding | 7.20 | NA | NA | 5.29 | 5.20 | 0.54 | NA | NA | 13.03 | 12.94 | 090
42999 |  | C | Throat surgery procedure | 0.00 | 0.00 | 0.00 | 0.00 | 0.00 | 0.00 | 0.00 | 0.00 | 0.00 | 0.00 | YYY
43020 |  | A | Incision of esophagus | 8.09 | NA | NA | 6.75 | 6.85 | 0.70 | NA | NA | 15.54 | 15.64 | 090
43030 |  | A | Throat muscle surgery | 7.69 | NA | NA | 6.94 | 7.50 | 0.60 | NA | NA | 15.23 | 15.79 | 090
43045 |  | A | Incision of esophagus | 20.12 | NA | NA | 12.66 | 12.87 | 2.15 | NA | NA | 34.93 | 35.14 | 090
43100 |  | A | Excision of esophagus lesion | 9.19 | NA | NA | 7.55 | 7.34 | 0.79 | NA | NA | 17.53 | 17.32 | 090
43101 |  | A | Excision of esophagus lesion | 16.24 | NA | NA | 9.82 | 9.94 | 1.81 | NA | NA | 27.87 | 27.99 | 090
43107 |  | A | Removal of esophagus | 28.79 | NA | NA | 16.92 | 18.80 | 3.29 | NA | NA | 49.00 | 50.88 | 090
43108 |  | A | Removal of esophagus | 34.19 | NA | NA | 17.66 | 20.10 | 3.78 | NA | NA | 55.63 | 58.07 | 090
43112 |  | A | Removal of esophagus | 31.22 | NA | NA | 18.18 | 19.51 | 3.67 | NA | NA | 53.07 | 54.40 | 090
43113 |  | A | Removal of esophagus | 35.27 | NA | NA | 19.43 | 21.43 | 4.33 | NA | NA | 59.03 | 61.03 | 090
43116 |  | A | Partial removal of esophagus | 31.22 | NA | NA | 20.74 | 22.41 | 2.62 | NA | NA | 54.58 | 56.25 | 090
43117 |  | A | Partial removal of esophagus | 30.02 | NA | NA | 17.49 | 19.97 | 3.51 | NA | NA | 51.02 | 53.50 | 090
43118 |  | A | Partial removal of esophagus | 33.20 | NA | NA | 18.27 | 20.56 | 3.56 | NA | NA | 55.03 | 57.32 | 090
43121 |  | A | Partial removal of esophagus | 29.19 | NA | NA | 17.45 | 18.88 | 3.44 | NA | NA | 50.08 | 51.51 | 090
43122 |  | A | Parital removal of esophagus | 29.11 | NA | NA | 16.18 | 17.93 | 3.27 | NA | NA | 48.56 | 50.31 | 090
43123 |  | A | Partial removal of esophagus | 33.20 | NA | NA | 19.65 | 21.59 | 3.96 | NA | NA | 56.81 | 58.75 | 090
43124 |  | A | Removal of esophagus | 27.32 | NA | NA | 17.52 | 19.25 | 2.95 | NA | NA | 47.79 | 49.52 | 090
43130 |  | A | Removal of esophagus pouch | 11.75 | NA | NA | 9.45 | 9.94 | 1.06 | NA | NA | 22.26 | 22.75 | 090
43135 |  | A | Removal of esophagus pouch | 16.10 | NA | NA | 11.71 | 11.96 | 1.85 | NA | NA | 29.66 | 29.91 | 090
43200 |  | A | Esophagus endoscopy | 1.59 | 6.74 | 5.61 | 1.18 | 1.36 | 0.11 | 8.44 | 7.31 | 2.88 | 3.06 | 000
43202 |  | A | Esophagus endoscopy, biopsy | 1.89 | 5.35 | 4.67 | 1.13 | 1.41 | 0.12 | 7.36 | 6.68 | 3.14 | 3.42 | 000
43204 |  | A | Esophagus endoscopy & inject | 3.77 | NA | NA | 1.64 | 2.36 | 0.18 | NA | NA | 5.59 | 6.31 | 000
43205 |  | A | Esophagus endoscopy/ligation | 3.79 | NA | NA | 1.65 | 1.97 | 0.17 | NA | NA | 5.61 | 5.93 | 000
43215 |  | A | Esophagus endoscopy | 2.60 | NA | NA | 1.25 | 1.71 | 0.17 | NA | NA | 4.02 | 4.48 | 000
43216 |  | A | Esophagus endoscopy/lesion | 2.40 | NA | NA | 1.17 | 1.60 | 0.15 | NA | NA | 3.72 | 4.15 | 000
43217 |  | A | Esophagus endoscopy | 2.90 | NA | NA | 1.33 | 1.86 | 0.17 | NA | NA | 4.40 | 4.93 | 000
43219 |  | A | Esophagus endoscopy | 2.80 | NA | NA | 1.41 | 1.89 | 0.16 | NA | NA | 4.37 | 4.85 | 000
43220 |  | A | Esoph endoscopy, dilation | 2.10 | NA | NA | 1.09 | 1.45 | 0.12 | NA | NA | 3.31 | 3.67 | 000
43226 |  | A | Esoph endoscopy, dilation | 2.34 | NA | NA | 1.16 | 1.57 | 0.12 | NA | NA | 3.62 | 4.03 | 000
43227 |  | A | Esoph endoscopy, repair | 3.60 | NA | NA | 1.59 | 2.27 | 0.18 | NA | NA | 5.37 | 6.05 | 000
43228 |  | A | Esoph endoscopy, ablation | 3.77 | NA | NA | 1.77 | 2.45 | 0.25 | NA | NA | 5.79 | 6.47 | 000
43231 |  | A | Esoph endoscopy w/us exam | 4.09 | NA | NA | 1.84 | 1.84 | 0.24 | NA | NA | 6.17 | 6.17 | 000
43232 |  | A | Esoph endoscopy w/us fn bx | 4.71 | NA | NA | 2.18 | 2.18 | 0.28 | NA | NA | 7.17 | 7.17 | 000
43234 |  | A | Upper GI endoscopy, exam | 2.01 | 3.65 | 3.44 | 1.04 | 1.38 | 0.13 | 5.79 | 5.58 | 3.18 | 3.52 | 000
43235 |  | A | Uppr gi endoscopy, diagnosis | 2.39 | 4.79 | 4.43 | 1.17 | 1.59 | 0.13 | 7.31 | 6.95 | 3.69 | 4.11 | 000
43239 |  | A | Upper GI endoscopy, biopsy | 2.69 | 4.96 | 4.65 | 1.28 | 1.76 | 0.14 | 7.79 | 7.48 | 4.11 | 4.59 | 000
43240 |  | A | Esoph endoscope w/drain cyst | 7.39 | NA | NA | 3.05 | 3.05 | 0.45 | NA | NA | 10.89 | 10.89 | 000
43241 |  | A | Upper GI endoscopy with tube | 2.59 | NA | NA | 1.22 | 1.69 | 0.14 | NA | NA | 3.95 | 4.42 | 000
43242 |  | A | Uppr gi endoscopy w/us fn bx | 5.51 | 1.98 | 1.98 | 1.98 | 1.98 | 0.34 | 7.83 | 7.83 | 7.83 | 7.83 | 000
43243 |  | A | Upper gi endoscopy & inject | 4.57 | NA | NA | 1.93 | 2.81 | 0.21 | NA | NA | 6.71 | 7.59 | 000
43244 |  | A | Upper GI endoscopy/ligation | 4.59 | NA | NA | 1.93 | 2.39 | 0.21 | NA | NA | 6.73 | 7.19 | 000
43245 |  | A | Operative upper GI endoscopy | 3.39 | NA | NA | 1.50 | 2.14 | 0.18 | NA | NA | 5.07 | 5.71 | 000
43246 |  | A | Place gastrostomy tube | 4.33 | NA | NA | 1.80 | 2.64 | 0.24 | NA | NA | 6.37 | 7.21 | 000
43247 |  | A | Operative upper GI endoscopy | 3.39 | NA | NA | 1.50 | 2.14 | 0.17 | NA | NA | 5.06 | 5.70 | 000
43248 |  | A | Uppr gi endoscopy/guide wire | 3.15 | NA | NA | 1.42 | 2.01 | 0.15 | NA | NA | 4.72 | 5.31 | 000
43249 |  | A | Esoph endoscopy, dilation | 2.90 | NA | NA | 1.33 | 1.86 | 0.15 | NA | NA | 4.38 | 4.91 | 000
43250 |  | A | Upper GI endoscopy/tumor | 3.20 | NA | NA | 1.43 | 2.03 | 0.17 | NA | NA | 4.80 | 5.40 | 000
43251 |  | A | Operative upper GI endoscopy | 3.70 | NA | NA | 1.61 | 2.31 | 0.19 | NA | NA | 5.50 | 6.20 | 000
43255 |  | A | Operative upper GI endoscopy | 4.40 | NA | NA | 1.76 | 2.63 | 0.20 | NA | NA | 6.36 | 7.23 | 000
43256 |  | A | Uppr gi endoscopy w stent | 4.35 | 1.56 | 1.56 | 1.56 | 1.56 | 0.26 | 6.17 | 6.17 | 6.17 | 6.17 | 000
43258 |  | A | Operative upper GI endoscopy | 4.55 | NA | NA | 1.92 | 2.80 | 0.22 | NA | NA | 6.69 | 7.57 | 000
43259 |  | A | Endoscopic ultrasound exam | 4.89 | NA | NA | 2.12 | 2.68 | 0.22 | NA | NA | 7.23 | 7.79 | 000
43260 |  | A | Endo cholangiopancreatograph | 5.96 | NA | NA | 2.42 | 3.44 | 0.27 | NA | NA | 8.65 | 9.67 | 000
43261 |  | A | Endo cholangiopancreatograph | 6.27 | NA | NA | 2.53 | 3.52 | 0.29 | NA | NA | 9.09 | 10.08 | 000
43262 |  | A | Endo cholangiopancreatograph | 7.39 | NA | NA | 2.94 | 4.41 | 0.34 | NA | NA | 10.67 | 12.14 | 000
43263 |  | A | Endo cholangiopancreatograph | 6.19 | NA | NA | 2.51 | 3.47 | 0.28 | NA | NA | 8.98 | 9.94 | 000
43264 |  | A | Endo cholangiopancreatograph | 8.90 | NA | NA | 3.48 | 5.03 | 0.41 | NA | NA | 12.79 | 14.34 | 000
43265 |  | A | Endo cholangiopancreatograph | 8.90 | NA | NA | 3.48 | 4.46 | 0.42 | NA | NA | 12.80 | 13.78 | 000
43267 |  | A | Endo cholangiopancreatograph | 7.39 | NA | NA | 2.95 | 4.22 | 0.34 | NA | NA | 10.68 | 11.95 | 000
43268 |  | A | Endo cholangiopancreatograph | 7.39 | NA | NA | 2.94 | 4.41 | 0.34 | NA | NA | 10.67 | 12.14 | 000
43269 |  | A | Endo cholangiopancreatograph | 6.04 | NA | NA | 2.45 | 3.64 | 0.28 | NA | NA | 8.77 | 9.96 | 000
43271 |  | A | Endo cholangiopancreatograph | 7.39 | NA | NA | 2.93 | 4.27 | 0.34 | NA | NA | 10.66 | 12.00 | 000
43272 |  | A | Endo cholangiopancreatograph | 7.39 | NA | NA | 2.94 | 3.73 | 0.34 | NA | NA | 10.67 | 11.46 | 000
43280 |  | A | Laparoscopy, fundoplasty | 17.25 | NA | NA | 8.77 | 9.80 | 1.76 | NA | NA | 27.78 | 28.81 | 090
43289 |  | C | Laparoscope proc, esoph | 0.00 | 0.00 | 0.00 | 0.00 | 0.00 | 0.00 | 0.00 | 0.00 | 0.00 | 0.00 | YYY
43300 |  | A | Repair of esophagus | 9.14 | NA | NA | 7.63 | 8.45 | 0.85 | NA | NA | 17.62 | 18.44 | 090
43305 |  | A | Repair esophagus and fistula | 17.39 | NA | NA | 13.14 | 13.58 | 1.36 | NA | NA | 31.89 | 32.33 | 090
43310 |  | A | Repair of esophagus | 27.47 | NA | NA | 18.38 | 18.40 | 3.18 | NA | NA | 49.03 | 49.05 | 090
43312 |  | A | Repair esophagus and fistula | 30.50 | NA | NA | 23.31 | 21.21 | 3.38 | NA | NA | 57.19 | 55.09 | 090
43320 |  | A | Fuse esophagus & stomach | 16.07 | NA | NA | 10.25 | 10.86 | 1.59 | NA | NA | 27.91 | 28.52 | 090
43324 |  | A | Revise esophagus & stomach | 16.58 | NA | NA | 8.80 | 9.82 | 1.72 | NA | NA | 27.10 | 28.12 | 090
43325 |  | A | Revise esophagus & stomach | 16.17 | NA | NA | 9.21 | 10.06 | 1.65 | NA | NA | 27.03 | 27.88 | 090
43326 |  | A | Revise esophagus & stomach | 15.91 | NA | NA | 10.94 | 10.25 | 1.84 | NA | NA | 28.69 | 28.00 | 090
43330 |  | A | Repair of esophagus | 15.94 | NA | NA | 8.76 | 9.65 | 1.52 | NA | NA | 26.22 | 27.11 | 090
43331 |  | A | Repair of esophagus | 16.23 | NA | NA | 12.23 | 13.06 | 1.93 | NA | NA | 30.39 | 31.22 | 090
43340 |  | A | Fuse esophagus & intestine | 15.81 | NA | NA | 10.07 | 10.93 | 1.53 | NA | NA | 27.41 | 28.27 | 090
43341 |  | A | Fuse esophagus & intestine | 16.81 | NA | NA | 15.42 | 14.25 | 2.14 | NA | NA | 34.37 | 33.20 | 090
43350 |  | A | Surgical opening, esophagus | 12.72 | NA | NA | 10.66 | 10.13 | 1.15 | NA | NA | 24.53 | 24.00 | 090
43351 |  | A | Surgical opening, esophagus | 14.79 | NA | NA | 9.66 | 9.63 | 1.51 | NA | NA | 25.96 | 25.93 | 090
43352 |  | A | Surgical opening, esophagus | 12.30 | NA | NA | 9.53 | 9.55 | 1.28 | NA | NA | 23.11 | 23.13 | 090
43360 |  | A | Gastrointestinal repair | 28.78 | NA | NA | 16.55 | 18.21 | 3.00 | NA | NA | 48.33 | 49.99 | 090
43361 |  | A | Gastrointestinal repair | 32.65 | NA | NA | 18.51 | 20.74 | 3.52 | NA | NA | 54.68 | 56.91 | 090
43400 |  | A | Ligate esophagus veins | 17.09 | NA | NA | 8.66 | 9.43 | 0.99 | NA | NA | 26.74 | 27.51 | 090
43401 |  | A | Esophagus surgery for veins | 17.81 | NA | NA | 8.93 | 9.30 | 1.73 | NA | NA | 28.47 | 28.84 | 090
43405 |  | A | Ligate/staple esophagus | 16.13 | NA | NA | 9.39 | 10.93 | 1.63 | NA | NA | 27.15 | 28.69 | 090
43410 |  | A | Repair esophagus wound | 10.86 | NA | NA | 9.11 | 9.25 | 1.15 | NA | NA | 21.12 | 21.26 | 090
43415 |  | A | Repair esophagus wound | 17.06 | NA | NA | 11.23 | 11.88 | 1.92 | NA | NA | 30.21 | 30.86 | 090
43420 |  | A | Repair esophagus opening | 11.57 | NA | NA | 8.87 | 8.25 | 0.86 | NA | NA | 21.30 | 20.68 | 090
43425 |  | A | Repair esophagus opening | 16.95 | NA | NA | 11.97 | 11.68 | 2.03 | NA | NA | 30.95 | 30.66 | 090
43450 |  | A | Dilate esophagus | 1.38 | 1.26 | 1.13 | 0.61 | 0.64 | 0.07 | 2.71 | 2.58 | 2.06 | 2.09 | 000
43453 |  | A | Dilate esophagus | 1.51 | NA | NA | 0.65 | 0.90 | 0.08 | NA | NA | 2.24 | 2.49 | 000
43456 |  | A | Dilate esophagus | 2.57 | NA | NA | 1.05 | 1.46 | 0.14 | NA | NA | 3.76 | 4.17 | 000
43458 |  | A | Dilate esophagus | 3.06 | NA | NA | 1.24 | 1.34 | 0.17 | NA | NA | 4.47 | 4.57 | 000
43460 |  | A | Pressure treatment esophagus | 3.80 | NA | NA | 1.51 | 1.59 | 0.21 | NA | NA | 5.52 | 5.60 | 000
43496 |  | C | Free jejunum flap, microvasc | 0.00 | 0.00 | 0.00 | 0.00 | 0.00 | 0.00 | 0.00 | 0.00 | 0.00 | 0.00 | 090
43499 |  | C | Esophagus surgery procedure | 0.00 | 0.00 | 0.00 | 0.00 | 0.00 | 0.00 | 0.00 | 0.00 | 0.00 | 0.00 | YYY
43500 |  | A | Surgical opening of stomach | 8.44 | NA | NA | 4.38 | 4.95 | 0.84 | NA | NA | 13.66 | 14.23 | 090
43501 |  | A | Surgical repair of stomach | 15.31 | NA | NA | 7.32 | 7.82 | 1.55 | NA | NA | 24.18 | 24.68 | 090
43502 |  | A | Surgical repair of stomach | 17.67 | NA | NA | 8.36 | 8.60 | 1.83 | NA | NA | 27.86 | 28.10 | 090
43510 |  | A | Surgical opening of stomach | 9.99 | NA | NA | 6.56 | 7.17 | 0.90 | NA | NA | 17.45 | 18.06 | 090
43520 |  | A | Incision of pyloric muscle | 7.63 | NA | NA | 5.72 | 5.51 | 0.84 | NA | NA | 14.19 | 13.98 | 090
43600 |  | A | Biopsy of stomach | 1.91 | NA | NA | 1.00 | 0.89 | 0.11 | NA | NA | 3.02 | 2.91 | 000
43605 |  | A | Biopsy of stomach | 9.15 | NA | NA | 4.59 | 5.05 | 0.93 | NA | NA | 14.67 | 15.13 | 090
43610 |  | A | Excision of stomach lesion | 11.15 | NA | NA | 5.74 | 6.52 | 1.14 | NA | NA | 18.03 | 18.81 | 090
43611 |  | A | Excision of stomach lesion | 13.63 | NA | NA | 6.78 | 7.30 | 1.38 | NA | NA | 21.79 | 22.31 | 090
43620 |  | A | Removal of stomach | 22.54 | NA | NA | 10.83 | 12.30 | 2.29 | NA | NA | 35.66 | 37.13 | 090
43621 |  | A | Removal of stomach | 23.06 | NA | NA | 10.89 | 12.34 | 2.36 | NA | NA | 36.31 | 37.76 | 090
43622 |  | A | Removal of stomach | 24.41 | NA | NA | 11.37 | 12.70 | 2.48 | NA | NA | 38.26 | 39.59 | 090
43631 |  | A | Removal of stomach, partial | 19.66 | NA | NA | 8.97 | 10.10 | 1.99 | NA | NA | 30.62 | 31.75 | 090
43632 |  | A | Removal of stomach, partial | 19.66 | NA | NA | 8.97 | 10.10 | 2.00 | NA | NA | 30.63 | 31.76 | 090
43633 |  | A | Removal of stomach, partial | 20.10 | NA | NA | 9.15 | 10.23 | 2.05 | NA | NA | 31.30 | 32.38 | 090
43634 |  | A | Removal of stomach, partial | 21.86 | NA | NA | 9.84 | 13.03 | 2.18 | NA | NA | 33.88 | 37.07 | 090
43635 |  | A | Removal of stomach, partial | 2.06 | NA | NA | 0.78 | 0.88 | 0.21 | NA | NA | 3.05 | 3.15 | ZZZ
43638 |  | A | Removal of stomach, partial | 21.76 | NA | NA | 9.96 | 10.93 | 2.24 | NA | NA | 33.96 | 34.93 | 090
43639 |  | A | Removal of stomach, partial | 22.25 | NA | NA | 10.30 | 11.19 | 2.31 | NA | NA | 34.86 | 35.75 | 090
43640 |  | A | Vagotomy & pylorus repair | 14.81 | NA | NA | 7.14 | 8.16 | 1.51 | NA | NA | 23.46 | 24.48 | 090
43641 |  | A | Vagotomy & pylorus repair | 15.03 | NA | NA | 7.24 | 8.24 | 1.53 | NA | NA | 23.80 | 24.80 | 090
43651 |  | A | Laparoscopy, vagus nerve | 10.15 | NA | NA | 4.89 | 5.04 | 1.03 | NA | NA | 16.07 | 16.22 | 090
43652 |  | A | Laparoscopy, vagus nerve | 12.15 | NA | NA | 5.65 | 5.89 | 1.25 | NA | NA | 19.05 | 19.29 | 090
43653 |  | A | Laparoscopy, gastrostomy | 7.73 | NA | NA | 4.37 | 4.96 | 0.78 | NA | NA | 12.88 | 13.47 | 090
43659 |  | C | Laparoscope proc, stom | 0.00 | 0.00 | 0.00 | 0.00 | 0.00 | 0.00 | 0.00 | 0.00 | 0.00 | 0.00 | YYY
43750 |  | A | Place gastrostomy tube | 4.49 | NA | NA | 2.61 | 3.14 | 0.33 | NA | NA | 7.43 | 7.96 | 010
43752 |  | B | Nasal/orogastric w/stent | 0.00 | 0.00 | 0.00 | 0.00 | 0.00 | 0.00 | 0.00 | 0.00 | 0.00 | 0.00 | XXX
43760 |  | A | Change gastrostomy tube | 1.10 | 1.34 | 1.19 | 0.46 | 0.53 | 0.07 | 2.51 | 2.36 | 1.63 | 1.70 | 000
43761 |  | A | Reposition gastrostomy tube | 2.01 | NA | NA | 0.83 | 0.91 | 0.10 | NA | NA | 2.94 | 3.02 | 000
43800 |  | A | Reconstruction of pylorus | 10.46 | NA | NA | 5.64 | 6.09 | 1.07 | NA | NA | 17.17 | 17.62 | 090
43810 |  | A | Fusion of stomach and bowel | 11.19 | NA | NA | 5.80 | 6.42 | 1.10 | NA | NA | 18.09 | 18.71 | 090
43820 |  | A | Fusion of stomach and bowel | 11.74 | NA | NA | 5.98 | 6.74 | 1.18 | NA | NA | 18.90 | 19.66 | 090
43825 |  | A | Fusion of stomach and bowel | 14.68 | NA | NA | 7.02 | 8.27 | 1.50 | NA | NA | 23.20 | 24.45 | 090
43830 |  | A | Place gastrostomy tube | 7.28 | NA | NA | 4.25 | 4.87 | 0.69 | NA | NA | 12.22 | 12.84 | 090
43831 |  | A | Place gastrostomy tube | 7.84 | NA | NA | 4.41 | 4.72 | 0.81 | NA | NA | 13.06 | 13.37 | 090
43832 |  | A | Place gastrostomy tube | 11.92 | NA | NA | 6.37 | 6.94 | 1.13 | NA | NA | 19.42 | 19.99 | 090
43840 |  | A | Repair of stomach lesion | 11.89 | NA | NA | 6.02 | 6.64 | 1.20 | NA | NA | 19.11 | 19.73 | 090
43842 |  | A | Gastroplasty for obesity | 14.71 | NA | NA | 10.07 | 11.28 | 1.51 | NA | NA | 26.29 | 27.50 | 090
43843 |  | A | Gastroplasty for obesity | 14.85 | NA | NA | 9.76 | 11.04 | 1.53 | NA | NA | 26.14 | 27.42 | 090
43846 |  | A | Gastric bypass for obesity | 19.15 | NA | NA | 11.70 | 12.79 | 1.96 | NA | NA | 32.81 | 33.90 | 090
43847 |  | A | Gastric bypass for obesity | 21.44 | NA | NA | 13.22 | 13.93 | 2.14 | NA | NA | 36.80 | 37.51 | 090
43848 |  | A | Revision gastroplasty | 23.41 | NA | NA | 14.07 | 14.57 | 2.39 | NA | NA | 39.87 | 40.37 | 090
43850 |  | A | Revise stomach-bowel fusion | 19.69 | NA | NA | 8.94 | 9.86 | 1.97 | NA | NA | 30.60 | 31.52 | 090
43855 |  | A | Revise stomach-bowel fusion | 20.83 | NA | NA | 9.60 | 10.03 | 2.01 | NA | NA | 32.44 | 32.87 | 090
43860 |  | A | Revise stomach-bowel fusion | 19.91 | NA | NA | 9.09 | 9.93 | 2.03 | NA | NA | 31.03 | 31.87 | 090
43865 |  | A | Revise stomach-bowel fusion | 21.12 | NA | NA | 9.57 | 10.81 | 2.15 | NA | NA | 32.84 | 34.08 | 090
43870 |  | A | Repair stomach opening | 7.40 | NA | NA | 4.37 | 4.84 | 0.71 | NA | NA | 12.48 | 12.95 | 090
43880 |  | A | Repair stomach-bowel fistula | 19.63 | NA | NA | 9.42 | 9.30 | 1.94 | NA | NA | 30.99 | 30.87 | 090
43999 |  | C | Stomach surgery procedure | 0.00 | 0.00 | 0.00 | 0.00 | 0.00 | 0.00 | 0.00 | 0.00 | 0.00 | 0.00 | YYY
44005 |  | A | Freeing of bowel adhesion | 13.84 | NA | NA | 6.71 | 7.28 | 1.39 | NA | NA | 21.94 | 22.51 | 090
44010 |  | A | Incision of small bowel | 10.68 | NA | NA | 5.93 | 6.32 | 1.05 | NA | NA | 17.66 | 18.05 | 090
44015 |  | A | Insert needle cath bowel | 2.62 | NA | NA | 0.99 | 1.53 | 0.25 | NA | NA | 3.86 | 4.40 | ZZZ
44020 |  | A | Exploration of small bowel | 11.93 | NA | NA | 5.97 | 6.60 | 1.20 | NA | NA | 19.10 | 19.73 | 090
44021 |  | A | Decompress small bowel | 12.01 | NA | NA | 6.37 | 6.68 | 1.18 | NA | NA | 19.56 | 19.87 | 090
44025 |  | A | Incision of large bowel | 12.18 | NA | NA | 6.08 | 6.66 | 1.21 | NA | NA | 19.47 | 20.05 | 090
44050 |  | A | Reduce bowel obstruction | 11.40 | NA | NA | 5.77 | 6.44 | 1.15 | NA | NA | 18.32 | 18.99 | 090
44055 |  | A | Correct malrotation of bowel | 13.14 | NA | NA | 6.43 | 6.90 | 1.32 | NA | NA | 20.89 | 21.36 | 090
44100 |  | A | Biopsy of bowel | 2.01 | NA | NA | 1.04 | 1.16 | 0.12 | NA | NA | 3.17 | 3.29 | 000
44110 |  | A | Excision of bowel lesion(s) | 10.07 | NA | NA | 5.29 | 6.05 | 1.00 | NA | NA | 16.36 | 17.12 | 090
44111 |  | A | Excision of bowel lesion(s) | 12.19 | NA | NA | 6.62 | 7.59 | 1.22 | NA | NA | 20.03 | 21.00 | 090
44120 |  | A | Removal of small intestine | 14.50 | NA | NA | 6.94 | 7.77 | 1.46 | NA | NA | 22.90 | 23.73 | 090
44121 |  | A | Removal of small intestine | 4.45 | NA | NA | 1.69 | 1.90 | 0.45 | NA | NA | 6.59 | 6.80 | ZZZ
44125 |  | A | Removal of small intestine | 14.96 | NA | NA | 7.10 | 8.24 | 1.49 | NA | NA | 23.55 | 24.69 | 090
44130 |  | A | Bowel to bowel fusion | 12.36 | NA | NA | 6.13 | 6.95 | 1.23 | NA | NA | 19.72 | 20.54 | 090
44132 |  | N | Enterectomy, cadaver donor | 0.00 | 0.00 | 0.00 | 0.00 | 0.00 | 0.00 | 0.00 | 0.00 | 0.00 | 0.00 | XXX
44133 |  | N | Enterectomy, live donor | 0.00 | 0.00 | 0.00 | 0.00 | 0.00 | 0.00 | 0.00 | 0.00 | 0.00 | 0.00 | XXX
44135 |  | N | Intestine transplnt, cadaver | 0.00 | 0.00 | 0.00 | 0.00 | 0.00 | 0.00 | 0.00 | 0.00 | 0.00 | 0.00 | XXX
44136 |  | N | Intestine transplant, live | 0.00 | 0.00 | 0.00 | 0.00 | 0.00 | 0.00 | 0.00 | 0.00 | 0.00 | 0.00 | XXX
44139 |  | A | Mobilization of colon | 2.23 | NA | NA | 0.85 | 0.96 | 0.21 | NA | NA | 3.29 | 3.40 | ZZZ
44140 |  | A | Partial removal of colon | 18.35 | NA | NA | 8.82 | 9.70 | 1.83 | NA | NA | 29.00 | 29.88 | 090
44141 |  | A | Partial removal of colon | 19.51 | NA | NA | 11.83 | 12.09 | 1.95 | NA | NA | 33.29 | 33.55 | 090
44143 |  | A | Partial removal of colon | 20.17 | NA | NA | 12.04 | 12.36 | 2.02 | NA | NA | 34.23 | 34.55 | 090
44144 |  | A | Partial removal of colon | 18.89 | NA | NA | 10.80 | 11.37 | 1.89 | NA | NA | 31.58 | 32.15 | 090
44145 |  | A | Partial removal of colon | 23.18 | NA | NA | 11.03 | 11.87 | 2.22 | NA | NA | 36.43 | 37.27 | 090
44146 |  | A | Partial removal of colon | 24.16 | NA | NA | 13.79 | 14.41 | 2.20 | NA | NA | 40.15 | 40.77 | 090
44147 |  | A | Partial removal of colon | 18.17 | NA | NA | 9.52 | 11.30 | 1.74 | NA | NA | 29.43 | 31.21 | 090
44150 |  | A | Removal of colon | 21.01 | NA | NA | 12.92 | 13.72 | 2.05 | NA | NA | 35.98 | 36.78 | 090
44151 |  | A | Removal of colon/ileostomy | 20.04 | NA | NA | 12.35 | 12.03 | 1.97 | NA | NA | 34.36 | 34.04 | 090
44152 |  | A | Removal of colon/ileostomy | 24.41 | NA | NA | 15.55 | 15.85 | 2.36 | NA | NA | 42.32 | 42.62 | 090
44153 |  | A | Removal of colon/ileostomy | 26.83 | NA | NA | 15.31 | 16.73 | 2.33 | NA | NA | 44.47 | 45.89 | 090
44155 |  | A | Removal of colon/ileostomy | 24.44 | NA | NA | 14.08 | 15.08 | 2.26 | NA | NA | 40.78 | 41.78 | 090
44156 |  | A | Removal of colon/ileostomy | 23.01 | NA | NA | 13.86 | 13.49 | 2.19 | NA | NA | 39.06 | 38.69 | 090
44160 |  | A | Removal of colon | 15.88 | NA | NA | 7.85 | 9.26 | 1.55 | NA | NA | 25.28 | 26.69 | 090
44200 |  | A | Laparoscopy, enterolysis | 14.44 | NA | NA | 6.98 | 7.48 | 1.46 | NA | NA | 22.88 | 23.38 | 090
44201 |  | A | Laparoscopy, jejunostomy | 9.78 | NA | NA | 5.28 | 5.28 | 0.97 | NA | NA | 16.03 | 16.03 | 090
44202 |  | A | Laparo, resect intestine | 22.04 | NA | NA | 10.17 | 11.22 | 2.16 | NA | NA | 34.37 | 35.42 | 090
44209 |  | C | Laparoscope proc, intestine | 0.00 | 0.00 | 0.00 | 0.00 | 0.00 | 0.00 | 0.00 | 0.00 | 0.00 | 0.00 | YYY
44300 |  | A | Open bowel to skin | 8.88 | NA | NA | 5.58 | 5.82 | 0.88 | NA | NA | 15.34 | 15.58 | 090
44310 |  | A | Ileostomy/jejunostomy | 11.70 | NA | NA | 8.79 | 8.73 | 1.13 | NA | NA | 21.62 | 21.56 | 090
44312 |  | A | Revision of ileostomy | 5.88 | NA | NA | 4.26 | 4.03 | 0.54 | NA | NA | 10.68 | 10.45 | 090
44314 |  | A | Revision of ileostomy | 11.04 | NA | NA | 8.74 | 8.37 | 0.99 | NA | NA | 20.77 | 20.40 | 090
44316 |  | A | Devise bowel pouch | 15.47 | NA | NA | 12.23 | 11.79 | 1.41 | NA | NA | 29.11 | 28.67 | 090
44320 |  | A | Colostomy | 12.94 | NA | NA | 10.11 | 9.61 | 1.28 | NA | NA | 24.33 | 23.83 | 090
44322 |  | A | Colostomy with biopsies | 11.98 | NA | NA | 9.84 | 9.84 | 1.18 | NA | NA | 23.00 | 23.00 | 090
44340 |  | A | Revision of colostomy | 5.66 | NA | NA | 3.99 | 3.45 | 0.56 | NA | NA | 10.21 | 9.67 | 090
44345 |  | A | Revision of colostomy | 11.32 | NA | NA | 6.81 | 6.42 | 1.11 | NA | NA | 19.24 | 18.85 | 090
44346 |  | A | Revision of colostomy | 12.46 | NA | NA | 7.25 | 7.24 | 1.20 | NA | NA | 20.91 | 20.90 | 090
44360 |  | A | Small bowel endoscopy | 2.59 | NA | NA | 1.31 | 1.85 | 0.14 | NA | NA | 4.04 | 4.58 | 000
44361 |  | A | Small bowel endoscopy/biopsy | 2.87 | NA | NA | 1.41 | 2.02 | 0.15 | NA | NA | 4.43 | 5.04 | 000
44363 |  | A | Small bowel endoscopy | 3.50 | NA | NA | 1.60 | 2.01 | 0.19 | NA | NA | 5.29 | 5.70 | 000
44364 |  | A | Small bowel endoscopy | 3.74 | NA | NA | 1.73 | 2.56 | 0.21 | NA | NA | 5.68 | 6.51 | 000
44365 |  | A | Small bowel endoscopy | 3.31 | NA | NA | 1.58 | 2.30 | 0.18 | NA | NA | 5.07 | 5.79 | 000
44366 |  | A | Small bowel endoscopy | 4.41 | NA | NA | 1.96 | 2.96 | 0.22 | NA | NA | 6.59 | 7.59 | 000
44369 |  | A | Small bowel endoscopy | 4.52 | NA | NA | 1.95 | 2.98 | 0.23 | NA | NA | 6.70 | 7.73 | 000
44370 |  | A | Small bowel endoscopy/stent | 4.33 | 1.56 | 1.56 | 1.56 | 1.56 | 0.26 | 6.15 | 6.15 | 6.15 | 6.15 | 000
44372 |  | A | Small bowel endoscopy | 4.41 | NA | NA | 1.99 | 2.98 | 0.27 | NA | NA | 6.67 | 7.66 | 000
44373 |  | A | Small bowel endoscopy | 3.50 | NA | NA | 1.70 | 2.45 | 0.19 | NA | NA | 5.39 | 6.14 | 000
44376 |  | A | Small bowel endoscopy | 5.26 | NA | NA | 2.28 | 2.81 | 0.29 | NA | NA | 7.83 | 8.36 | 000
44377 |  | A | Small bowel endoscopy/biopsy | 5.53 | NA | NA | 2.38 | 2.94 | 0.28 | NA | NA | 8.19 | 8.75 | 000
44378 |  | A | Small bowel endoscopy | 7.13 | NA | NA | 2.95 | 3.64 | 0.37 | NA | NA | 10.45 | 11.14 | 000
44379 |  | A | S bowel endoscope w/stent | 7.07 | 2.52 | 2.52 | 2.52 | 2.52 | 0.45 | 10.04 | 10.04 | 10.04 | 10.04 | 000
44380 |  | A | Small bowel endoscopy | 1.05 | NA | NA | 0.74 | 1.01 | 0.08 | NA | NA | 1.87 | 2.14 | 000
44382 |  | A | Small bowel endoscopy | 1.27 | NA | NA | 0.82 | 1.16 | 0.09 | NA | NA | 2.18 | 2.52 | 000
44383 |  | A | Ileoscopy w/stent | 2.41 | 0.87 | 0.87 | 0.87 | 0.87 | 0.15 | 3.43 | 3.43 | 3.43 | 3.43 | 000
44385 |  | A | Endoscopy of bowel pouch | 1.82 | 4.19 | 3.78 | 0.94 | 1.25 | 0.12 | 6.13 | 5.72 | 2.88 | 3.19 | 000
44386 |  | A | Endoscopy, bowel pouch/biop | 2.12 | 5.12 | 4.26 | 1.09 | 1.24 | 0.15 | 7.39 | 6.53 | 3.36 | 3.51 | 000
44388 |  | A | Colon endoscopy | 2.50 | 5.48 | 5.09 | 1.26 | 1.79 | 0.18 | 8.16 | 7.77 | 3.94 | 4.47 | 000
44389 |  | A | Colonoscopy with biopsy | 2.77 | 5.92 | 5.53 | 1.37 | 1.96 | 0.18 | 8.87 | 8.48 | 4.32 | 4.91 | 000
44390 |  | A | Colonoscopy for foreign body | 3.39 | 6.56 | 5.63 | 1.59 | 1.91 | 0.22 | 10.17 | 9.24 | 5.20 | 5.52 | 000
44391 |  | A | Colonoscopy for bleeding | 3.82 | 5.60 | 5.63 | 1.55 | 2.45 | 0.23 | 9.65 | 9.68 | 5.60 | 6.50 | 000
44392 |  | A | Colonoscopy & polypectomy | 3.38 | 6.12 | 5.99 | 1.59 | 2.33 | 0.23 | 9.73 | 9.60 | 5.20 | 5.94 | 000
44393 |  | A | Colonoscopy, lesion removal | 4.28 | 6.79 | 6.56 | 1.92 | 2.88 | 0.27 | 11.34 | 11.11 | 6.47 | 7.43 | 000
44394 |  | A | Colonoscopy w/snare | 3.92 | 6.54 | 6.31 | 1.79 | 2.67 | 0.26 | 10.72 | 10.49 | 5.97 | 6.85 | 000
44397 |  | A | Colonoscopy w stent | 4.23 | NA | NA | 1.90 | 1.90 | 0.30 | NA | NA | 6.43 | 6.43 | 000
44500 |  | A | Intro, gastrointestinal tube | 0.49 | NA | NA | 0.35 | 0.36 | 0.02 | NA | NA | 0.86 | 0.87 | 000
44602 |  | A | Suture, small intestine | 10.61 | NA | NA | 5.48 | 6.19 | 1.07 | NA | NA | 17.16 | 17.87 | 090
44603 |  | A | Suture, small intestine | 14.00 | NA | NA | 6.74 | 7.52 | 1.39 | NA | NA | 22.13 | 22.91 | 090
44604 |  | A | Suture, large intestine | 14.28 | NA | NA | 6.87 | 7.29 | 1.42 | NA | NA | 22.57 | 22.99 | 090
44605 |  | A | Repair of bowel lesion | 15.37 | NA | NA | 7.68 | 8.30 | 1.54 | NA | NA | 24.59 | 25.21 | 090
44615 |  | A | Intestinal stricturoplasty | 14.19 | NA | NA | 6.80 | 6.93 | 1.39 | NA | NA | 22.38 | 22.51 | 090
44620 |  | A | Repair bowel opening | 10.87 | NA | NA | 5.50 | 5.75 | 1.05 | NA | NA | 17.42 | 17.67 | 090
44625 |  | A | Repair bowel opening | 13.41 | NA | NA | 6.49 | 7.47 | 1.30 | NA | NA | 21.20 | 22.18 | 090
44626 |  | A | Repair bowel opening | 22.59 | NA | NA | 9.92 | 10.53 | 2.19 | NA | NA | 34.70 | 35.31 | 090
44640 |  | A | Repair bowel-skin fistula | 14.83 | NA | NA | 7.39 | 7.32 | 1.46 | NA | NA | 23.68 | 23.61 | 090
44650 |  | A | Repair bowel fistula | 15.25 | NA | NA | 7.55 | 7.65 | 1.49 | NA | NA | 24.29 | 24.39 | 090
44660 |  | A | Repair bowel-bladder fistula | 14.63 | NA | NA | 7.18 | 7.65 | 1.14 | NA | NA | 22.95 | 23.42 | 090
44661 |  | A | Repair bowel-bladder fistula | 16.99 | NA | NA | 8.03 | 9.81 | 1.53 | NA | NA | 26.55 | 28.33 | 090
44680 |  | A | Surgical revision, intestine | 13.72 | NA | NA | 6.99 | 7.88 | 1.37 | NA | NA | 22.08 | 22.97 | 090
44700 |  | A | Suspend bowel w/prosthesis | 14.35 | NA | NA | 7.01 | 8.34 | 1.21 | NA | NA | 22.57 | 23.90 | 090
44799 |  | C | Intestine surgery procedure | 0.00 | 0.00 | 0.00 | 0.00 | 0.00 | 0.00 | 0.00 | 0.00 | 0.00 | 0.00 | YYY
44800 |  | A | Excision of bowel pouch | 11.23 | NA | NA | 5.70 | 5.70 | 1.11 | NA | NA | 18.04 | 18.04 | 090
44820 |  | A | Excision of mesentery lesion | 10.31 | NA | NA | 5.41 | 5.63 | 1.03 | NA | NA | 16.75 | 16.97 | 090
44850 |  | A | Repair of mesentery | 9.57 | NA | NA | 5.49 | 5.64 | 0.99 | NA | NA | 16.05 | 16.20 | 090
44899 |  | C | Bowel surgery procedure | 0.00 | 0.00 | 0.00 | 0.00 | 0.00 | 0.00 | 0.00 | 0.00 | 0.00 | 0.00 | YYY
44900 |  | A | Drain app abscess, open | 8.82 | NA | NA | 5.44 | 5.24 | 0.84 | NA | NA | 15.10 | 14.90 | 090
44901 |  | A | Drain app abscess, percut | 3.38 | NA | NA | 4.99 | 4.44 | 0.17 | NA | NA | 8.54 | 7.99 | 000
44950 |  | A | Appendectomy | 8.70 | NA | NA | 4.93 | 5.03 | 0.88 | NA | NA | 14.51 | 14.61 | 090
44955 |  | A | Appendectomy add-on | 1.53 | NA | NA | 0.58 | 0.89 | 0.16 | NA | NA | 2.27 | 2.58 | ZZZ
44960 |  | A | Appendectomy | 10.74 | NA | NA | 6.01 | 6.11 | 1.09 | NA | NA | 17.84 | 17.94 | 090
44970 |  | A | Laparoscopy, appendectomy | 8.70 | NA | NA | 4.31 | 4.56 | 0.88 | NA | NA | 13.89 | 14.14 | 090
44979 |  | C | Laparoscope proc, app | 0.00 | 0.00 | 0.00 | 0.00 | 0.00 | 0.00 | 0.00 | 0.00 | 0.00 | 0.00 | YYY
45000 |  | A | Drainage of pelvic abscess | 4.52 | NA | NA | 3.78 | 3.27 | 0.37 | NA | NA | 8.67 | 8.16 | 090
45005 |  | A | Drainage of rectal abscess | 1.99 | 4.22 | 3.52 | 1.59 | 1.54 | 0.18 | 6.39 | 5.69 | 3.76 | 3.71 | 010
45020 |  | A | Drainage of rectal abscess | 4.72 | NA | NA | 3.83 | 3.58 | 0.41 | NA | NA | 8.96 | 8.71 | 090
45100 |  | A | Biopsy of rectum | 3.68 | 4.60 | 3.96 | 2.11 | 2.09 | 0.33 | 8.61 | 7.97 | 6.12 | 6.10 | 090
45108 |  | A | Removal of anorectal lesion | 4.76 | 5.65 | 4.96 | 3.08 | 3.03 | 0.46 | 10.87 | 10.18 | 8.30 | 8.25 | 090
45110 |  | A | Removal of rectum | 23.80 | NA | NA | 12.01 | 13.44 | 2.26 | NA | NA | 38.07 | 39.50 | 090
45111 |  | A | Partial removal of rectum | 16.48 | NA | NA | 8.87 | 9.85 | 1.60 | NA | NA | 26.95 | 27.93 | 090
45112 |  | A | Removal of rectum | 25.96 | NA | NA | 12.40 | 13.66 | 2.35 | NA | NA | 40.71 | 41.97 | 090
45113 |  | A | Partial proctectomy | 25.99 | NA | NA | 11.69 | 13.13 | 2.13 | NA | NA | 39.81 | 41.25 | 090
45114 |  | A | Partial removal of rectum | 23.22 | NA | NA | 11.38 | 12.71 | 2.28 | NA | NA | 36.88 | 38.21 | 090
45116 |  | A | Partial removal of rectum | 20.89 | NA | NA | 10.20 | 10.57 | 2.00 | NA | NA | 33.09 | 33.46 | 090
45119 |  | A | Remove rectum w/reservoir | 26.21 | NA | NA | 12.21 | 13.52 | 2.13 | NA | NA | 40.55 | 41.86 | 090
45120 |  | A | Removal of rectum | 25.00 | NA | NA | 11.96 | 13.42 | 2.28 | NA | NA | 39.24 | 40.70 | 090
45121 |  | A | Removal of rectum and colon | 27.51 | NA | NA | 12.97 | 12.66 | 2.66 | NA | NA | 43.14 | 42.83 | 090
45123 |  | A | Partial proctectomy | 14.20 | NA | NA | 6.89 | 8.36 | 1.04 | NA | NA | 22.13 | 23.60 | 090
45126 |  | A | Pelvic exenteration | 38.39 | NA | NA | 17.29 | 17.29 | 3.23 | NA | NA | 58.91 | 58.91 | 090
45130 |  | A | Excision of rectal prolapse | 13.97 | NA | NA | 7.07 | 7.72 | 1.12 | NA | NA | 22.16 | 22.81 | 090
45135 |  | A | Excision of rectal prolapse | 16.39 | NA | NA | 8.49 | 10.70 | 1.52 | NA | NA | 26.40 | 28.61 | 090
45150 |  | A | Excision of rectal stricture | 5.67 | 5.01 | 4.68 | 3.16 | 3.29 | 0.46 | 11.14 | 10.81 | 9.29 | 9.42 | 090
45160 |  | A | Excision of rectal lesion | 13.02 | NA | NA | 6.41 | 6.83 | 1.07 | NA | NA | 20.50 | 20.92 | 090
45170 |  | A | Excision of rectal lesion | 9.77 | NA | NA | 5.31 | 5.24 | 0.89 | NA | NA | 15.97 | 15.90 | 090
45190 |  | A | Destruction, rectal tumor | 8.28 | NA | NA | 4.74 | 4.94 | 0.76 | NA | NA | 13.78 | 13.98 | 090
45300 |  | A | Proctosigmoidoscopy dx | 0.38 | 1.24 | 1.08 | 0.23 | 0.25 | 0.05 | 1.67 | 1.51 | 0.66 | 0.68 | 000
45303 |  | A | Proctosigmoidoscopy dilate | 0.44 | 1.41 | 1.23 | 0.26 | 0.28 | 0.06 | 1.91 | 1.73 | 0.76 | 0.78 | 000
45305 |  | A | Protosigmoidoscopy w/bx | 0.56 | 1.34 | 1.23 | 0.30 | 0.34 | 0.09 | 1.99 | 1.88 | 0.95 | 0.99 | 000
45307 |  | A | Protosigmoidoscopy fb | 0.94 | 2.26 | 2.04 | 0.44 | 0.68 | 0.15 | 3.35 | 3.13 | 1.53 | 1.77 | 000
45308 |  | A | Protosigmoidoscopy removal | 0.83 | 1.49 | 1.43 | 0.40 | 0.46 | 0.13 | 2.45 | 2.39 | 1.36 | 1.42 | 000
45309 |  | A | Protosigmoidoscopy removal | 1.11 | 2.07 | 1.86 | 0.50 | 0.53 | 0.17 | 3.35 | 3.14 | 1.78 | 1.81 | 000
45315 |  | A | Protosigmoidoscopy removal | 1.40 | 2.32 | 2.06 | 0.62 | 0.79 | 0.20 | 3.92 | 3.66 | 2.22 | 2.39 | 000
45317 |  | A | Protosigmoidoscopy bleed | 1.50 | 1.76 | 1.66 | 0.65 | 0.83 | 0.20 | 3.46 | 3.36 | 2.35 | 2.53 | 000
45320 |  | A | Protosigmoidoscopy ablate | 1.58 | 1.71 | 1.79 | 0.68 | 1.02 | 0.20 | 3.49 | 3.57 | 2.46 | 2.80 | 000
45321 |  | A | Protosigmoidoscopy volvul | 1.17 | NA | NA | 0.53 | 0.80 | 0.17 | NA | NA | 1.87 | 2.14 | 000
45327 |  | A | Proctosigmoidoscopy w/stent | 1.46 | NA | NA | 0.83 | 0.83 | 0.12 | NA | NA | 2.41 | 2.41 | 000
45330 |  | A | Diagnostic sigmoidoscopy | 0.88 | 1.75 | 1.65 | 0.42 | 0.46 | 0.05 | 2.68 | 2.58 | 1.35 | 1.39 | 000
45331 |  | A | Sigmoidoscopy and biopsy | 1.15 | 1.98 | 1.92 | 0.52 | 0.77 | 0.07 | 3.20 | 3.14 | 1.74 | 1.99 | 000
45332 |  | A | Sigmoidoscopy w/fb removal | 1.79 | 3.54 | 3.13 | 0.75 | 1.04 | 0.11 | 5.44 | 5.03 | 2.65 | 2.94 | 000
45333 |  | A | Sigmoidoscopy & polypectomy | 1.79 | 3.14 | 2.96 | 0.75 | 1.15 | 0.12 | 5.05 | 4.87 | 2.66 | 3.06 | 000
45334 |  | A | Sigmoidoscopy for bleeding | 2.73 | NA | NA | 1.09 | 1.55 | 0.16 | NA | NA | 3.98 | 4.44 | 000
45337 |  | A | Sigmoidoscopy & decompress | 2.15 | NA | NA | 0.89 | 1.37 | 0.15 | NA | NA | 3.19 | 3.67 | 000
45338 |  | A | Sigmoidoscpy w/tumr remove | 2.34 | 3.67 | 3.36 | 0.95 | 1.32 | 0.15 | 6.16 | 5.85 | 3.44 | 3.81 | 000
45339 |  | A | Sigmoidoscopy w/ablate tumr | 2.86 | 2.85 | 3.02 | 1.14 | 1.74 | 0.17 | 5.88 | 6.05 | 4.17 | 4.77 | 000
45341 |  | A | Sigmoidoscopy w/ultrasound | 3.46 | NA | NA | 1.66 | 1.66 | 0.24 | NA | NA | 5.36 | 5.36 | 000
45342 |  | A | Sigmoidoscopy w/us guide bx | 4.08 | NA | NA | 1.81 | 1.81 | 0.29 | NA | NA | 6.18 | 6.18 | 000
45345 |  | A | Sigmodoscopy w/stent | 2.66 | NA | NA | 1.30 | 1.30 | 0.18 | NA | NA | 4.14 | 4.14 | 000
45355 |  | A | Surgical colonoscopy | 3.52 | NA | NA | 1.29 | 1.29 | 0.26 | NA | NA | 5.07 | 5.07 | 000
45378 |  | A | Diagnostic colonoscopy | 3.68 | 6.60 | 6.07 | 1.70 | 2.38 | 0.20 | 10.48 | 9.95 | 5.58 | 6.26 | 000
45378 | 53 | A | Diagnostic colonoscopy | 0.88 | 1.75 | 1.65 | 0.42 | 0.46 | 0.05 | 2.68 | 2.58 | 1.35 | 1.39 | 000
45379 |  | A | Colonoscopy w/fb removal | 4.69 | 7.33 | 6.94 | 2.05 | 2.95 | 0.25 | 12.27 | 11.88 | 6.99 | 7.89 | 000
45380 |  | A | Colonoscopy and biopsy | 3.98 | 6.78 | 6.39 | 1.81 | 2.56 | 0.21 | 10.97 | 10.58 | 6.00 | 6.75 | 000
45382 |  | A | Colonoscopy/control bleeding | 5.69 | 7.95 | 7.56 | 2.23 | 3.27 | 0.27 | 13.91 | 13.52 | 8.19 | 9.23 | 000
45383 |  | A | Lesion removal colonoscopy | 5.83 | 7.82 | 7.47 | 2.48 | 3.47 | 0.32 | 13.97 | 13.62 | 8.63 | 9.62 | 000
45384 |  | A | Lesion remove colonoscopy | 4.67 | 7.41 | 6.96 | 2.06 | 2.95 | 0.24 | 12.32 | 11.87 | 6.97 | 7.86 | 000
45385 |  | A | Lesion removal colonoscopy | 5.27 | 7.57 | 7.48 | 2.28 | 3.30 | 0.28 | 13.12 | 13.03 | 7.83 | 8.85 | 000
45387 |  | A | Colonoscopy w/stent | 5.62 | NA | NA | 2.41 | 2.41 | 0.36 | NA | NA | 8.39 | 8.39 | 000
45500 |  | A | Repair of rectum | 7.29 | NA | NA | 4.25 | 4.80 | 0.56 | NA | NA | 12.10 | 12.65 | 090
45505 |  | A | Repair of rectum | 6.02 | NA | NA | 3.27 | 4.16 | 0.50 | NA | NA | 9.79 | 10.68 | 090
45520 |  | A | Treatment of rectal prolapse | 0.55 | 0.73 | 0.71 | 0.19 | 0.23 | 0.04 | 1.32 | 1.30 | 0.78 | 0.82 | 000
45540 |  | A | Correct rectal prolapse | 12.92 | NA | NA | 7.02 | 7.95 | 1.17 | NA | NA | 21.11 | 22.04 | 090
45541 |  | A | Correct rectal prolapse | 10.64 | NA | NA | 6.04 | 7.29 | 0.88 | NA | NA | 17.56 | 18.81 | 090
45550 |  | A | Repair rectum/remove sigmoid | 18.26 | NA | NA | 8.91 | 9.80 | 1.58 | NA | NA | 28.75 | 29.64 | 090
45560 |  | A | Repair of rectocele | 8.40 | NA | NA | 5.04 | 5.08 | 0.73 | NA | NA | 14.17 | 14.21 | 090
45562 |  | A | Exploration/repair of rectum | 12.21 | NA | NA | 6.33 | 6.94 | 1.15 | NA | NA | 19.69 | 20.30 | 090
45563 |  | A | Exploration/repair of rectum | 18.63 | NA | NA | 9.56 | 10.64 | 1.84 | NA | NA | 30.03 | 31.11 | 090
45800 |  | A | Repair rect/bladder fistula | 14.11 | NA | NA | 6.91 | 7.85 | 1.14 | NA | NA | 22.16 | 23.10 | 090
45805 |  | A | Repair fistula w/colostomy | 16.50 | NA | NA | 8.59 | 9.79 | 1.47 | NA | NA | 26.56 | 27.76 | 090
45820 |  | A | Repair rectourethral fistula | 14.67 | NA | NA | 7.24 | 7.87 | 1.17 | NA | NA | 23.08 | 23.71 | 090
45825 |  | A | Repair fistula w/colostomy | 16.87 | NA | NA | 8.67 | 9.18 | 0.97 | NA | NA | 26.51 | 27.02 | 090
45900 |  | A | Reduction of rectal prolapse | 1.83 | NA | NA | 0.78 | 0.74 | 0.17 | NA | NA | 2.78 | 2.74 | 010
45905 |  | A | Dilation of anal sphincter | 1.61 | 3.06 | 2.49 | 0.72 | 0.73 | 0.14 | 4.81 | 4.24 | 2.47 | 2.48 | 010
45910 |  | A | Dilation of rectal narrowing | 1.96 | 4.16 | 3.36 | 0.85 | 0.87 | 0.14 | 6.26 | 5.46 | 2.95 | 2.97 | 010
45915 |  | A | Remove rectal obstruction | 2.20 | 4.10 | 3.29 | 0.84 | 0.84 | 0.17 | 6.47 | 5.66 | 3.21 | 3.21 | 010
45999 |  | C | Rectum surgery procedure | 0.00 | 0.00 | 0.00 | 0.00 | 0.00 | 0.00 | 0.00 | 0.00 | 0.00 | 0.00 | YYY
46030 |  | A | Removal of rectal marker | 1.23 | 3.22 | 2.52 | 1.21 | 1.02 | 0.11 | 4.56 | 3.86 | 2.55 | 2.36 | 010
46040 |  | A | Incision of rectal abscess | 4.96 | 5.27 | 4.41 | 3.09 | 2.78 | 0.48 | 10.71 | 9.85 | 8.53 | 8.22 | 090
46045 |  | A | Incision of rectal abscess | 4.32 | NA | NA | 2.80 | 2.60 | 0.40 | NA | NA | 7.52 | 7.32 | 090
46050 |  | A | Incision of anal abscess | 1.19 | 3.38 | 2.70 | 1.28 | 1.04 | 0.11 | 4.68 | 4.00 | 2.58 | 2.34 | 010
46060 |  | A | Incision of rectal abscess | 5.69 | NA | NA | 3.80 | 4.30 | 0.52 | NA | NA | 10.01 | 10.51 | 090
46070 |  | A | Incision of anal septum | 2.71 | NA | NA | 2.45 | 2.21 | 0.27 | NA | NA | 5.43 | 5.19 | 090
46080 |  | A | Incision of anal sphincter | 2.49 | 3.65 | 3.32 | 1.62 | 1.79 | 0.23 | 6.37 | 6.04 | 4.34 | 4.51 | 010
46083 |  | A | Incise external hemorrhoid | 1.40 | 4.43 | 3.49 | 1.45 | 1.17 | 0.12 | 5.95 | 5.01 | 2.97 | 2.69 | 010
46200 |  | A | Removal of anal fissure | 3.42 | 3.81 | 3.75 | 2.38 | 2.68 | 0.30 | 7.53 | 7.47 | 6.10 | 6.40 | 090
46210 |  | A | Removal of anal crypt | 2.67 | 4.82 | 3.83 | 2.14 | 1.82 | 0.26 | 7.75 | 6.76 | 5.07 | 4.75 | 090
46211 |  | A | Removal of anal crypts | 4.25 | 5.33 | 4.51 | 2.92 | 2.71 | 0.37 | 9.95 | 9.13 | 7.54 | 7.33 | 090
46220 |  | A | Removal of anal tab | 1.56 | 1.25 | 1.11 | 0.59 | 0.61 | 0.14 | 2.95 | 2.81 | 2.29 | 2.31 | 010
46221 |  | A | Ligation of hemorrhoid(s) | 1.43 | 3.03 | 2.45 | 0.54 | 0.50 | 0.12 | 4.58 | 4.00 | 2.09 | 2.05 | 010
46230 |  | A | Removal of anal tabs | 2.57 | 4.03 | 3.25 | 1.69 | 1.38 | 0.22 | 6.82 | 6.04 | 4.48 | 4.17 | 010
46250 |  | A | Hemorrhoidectomy | 4.53 | 5.32 | 4.76 | 2.92 | 2.96 | 0.43 | 10.28 | 9.72 | 7.88 | 7.92 | 090
46255 |  | A | Hemorrhoidectomy | 5.36 | 5.97 | 5.76 | 3.21 | 3.69 | 0.51 | 11.84 | 11.63 | 9.08 | 9.56 | 090
46257 |  | A | Remove hemorrhoids & fissure | 6.28 | NA | NA | 3.46 | 4.02 | 0.59 | NA | NA | 10.33 | 10.89 | 090
46258 |  | A | Remove hemorrhoids & fistula | 6.67 | NA | NA | 3.67 | 4.35 | 0.64 | NA | NA | 10.98 | 11.66 | 090
46260 |  | A | Hemorrhoidectomy | 7.42 | NA | NA | 4.41 | 4.96 | 0.68 | NA | NA | 12.51 | 13.06 | 090
46261 |  | A | Remove hemorrhoids & fissure | 8.24 | NA | NA | 4.58 | 5.23 | 0.70 | NA | NA | 13.52 | 14.17 | 090
46262 |  | A | Remove hemorrhoids & fistula | 8.73 | NA | NA | 4.85 | 5.46 | 0.76 | NA | NA | 14.34 | 14.95 | 090
46270 |  | A | Removal of anal fistula | 3.72 | 4.74 | 4.06 | 2.56 | 2.43 | 0.36 | 8.82 | 8.14 | 6.64 | 6.51 | 090
46275 |  | A | Removal of anal fistula | 4.56 | 4.61 | 4.82 | 2.83 | 3.49 | 0.40 | 9.57 | 9.78 | 7.79 | 8.45 | 090
46280 |  | A | Removal of anal fistula | 5.98 | NA | NA | 3.76 | 4.47 | 0.50 | NA | NA | 10.24 | 10.95 | 090
46285 |  | A | Removal of anal fistula | 4.09 | 3.84 | 3.50 | 2.64 | 2.60 | 0.34 | 8.27 | 7.93 | 7.07 | 7.03 | 090
46288 |  | A | Repair anal fistula | 7.13 | NA | NA | 4.23 | 4.14 | 0.60 | NA | NA | 11.96 | 11.87 | 090
46320 |  | A | Removal of hemorrhoid clot | 1.61 | 3.63 | 2.91 | 1.49 | 1.21 | 0.14 | 5.38 | 4.66 | 3.24 | 2.96 | 010
46500 |  | A | Injection into hemorrhoids | 1.61 | 2.55 | 2.00 | 0.60 | 0.50 | 0.12 | 4.28 | 3.73 | 2.33 | 2.23 | 010
46600 |  | A | Diagnostic anoscopy | 0.50 | 0.77 | 0.65 | 0.15 | 0.15 | 0.04 | 1.31 | 1.19 | 0.69 | 0.69 | 000
46604 |  | A | Anoscopy and dilation | 1.31 | 0.96 | 0.82 | 0.49 | 0.42 | 0.09 | 2.36 | 2.22 | 1.89 | 1.82 | 000
46606 |  | A | Anoscopy and biopsy | 0.81 | 0.88 | 0.76 | 0.31 | 0.28 | 0.07 | 1.76 | 1.64 | 1.19 | 1.16 | 000
46608 |  | A | Anoscopy/ remove for body | 1.51 | 1.78 | 1.63 | 0.47 | 0.64 | 0.13 | 3.42 | 3.27 | 2.11 | 2.28 | 000
46610 |  | A | Anoscopy/remove lesion | 1.32 | 1.41 | 1.29 | 0.50 | 0.61 | 0.12 | 2.85 | 2.73 | 1.94 | 2.05 | 000
46611 |  | A | Anoscopy | 1.81 | 1.96 | 1.70 | 0.68 | 0.63 | 0.15 | 3.92 | 3.66 | 2.64 | 2.59 | 000
46612 |  | A | Anoscopy/ remove lesions | 2.34 | 2.29 | 2.10 | 0.88 | 1.04 | 0.18 | 4.81 | 4.62 | 3.40 | 3.56 | 000
46614 |  | A | Anoscopy/control bleeding | 2.01 | 1.62 | 1.64 | 0.74 | 0.77 | 0.14 | 3.77 | 3.79 | 2.89 | 2.92 | 000
46615 |  | A | Anoscopy | 2.68 | 1.75 | 1.73 | 1.01 | 0.97 | 0.23 | 4.66 | 4.64 | 3.92 | 3.88 | 000
46700 |  | A | Repair of anal stricture | 7.25 | NA | NA | 4.12 | 4.76 | 0.56 | NA | NA | 11.93 | 12.57 | 090
46705 |  | A | Repair of anal stricture | 7.17 | NA | NA | 4.83 | 4.60 | 0.73 | NA | NA | 12.73 | 12.50 | 090
46715 |  | A | Repair of anovaginal fistula | 7.46 | NA | NA | 4.63 | 4.43 | 0.76 | NA | NA | 12.85 | 12.65 | 090
46716 |  | A | Repair of anovaginal fistula | 12.85 | NA | NA | 7.04 | 6.92 | 1.30 | NA | NA | 21.19 | 21.07 | 090
46730 |  | A | Construction of absent anus | 22.39 | NA | NA | 10.92 | 11.11 | 2.03 | NA | NA | 35.34 | 35.53 | 090
46735 |  | A | Construction of absent anus | 27.02 | NA | NA | 13.19 | 13.43 | 2.64 | NA | NA | 42.85 | 43.09 | 090
46740 |  | A | Construction of absent anus | 24.19 | NA | NA | 11.01 | 11.39 | 1.99 | NA | NA | 37.19 | 37.57 | 090
46742 |  | A | Repair of imperforated anus | 29.67 | NA | NA | 15.65 | 17.10 | 2.63 | NA | NA | 47.95 | 49.40 | 090
46744 |  | A | Repair of cloacal anomaly | 33.21 | NA | NA | 14.55 | 16.93 | 2.27 | NA | NA | 50.03 | 52.41 | 090
46746 |  | A | Repair of cloacal anomaly | 36.74 | NA | NA | 18.48 | 20.44 | 2.51 | NA | NA | 57.73 | 59.69 | 090
46748 |  | A | Repair of cloacal anomaly | 40.52 | NA | NA | 19.99 | 22.33 | 2.77 | NA | NA | 63.28 | 65.62 | 090
46750 |  | A | Repair of anal sphincter | 8.14 | NA | NA | 4.84 | 5.26 | 0.69 | NA | NA | 13.67 | 14.09 | 090
46751 |  | A | Repair of anal sphincter | 8.77 | NA | NA | 6.22 | 5.77 | 0.78 | NA | NA | 15.77 | 15.32 | 090
46753 |  | A | Reconstruction of anus | 6.58 | NA | NA | 3.53 | 3.98 | 0.58 | NA | NA | 10.69 | 11.14 | 090
46754 |  | A | Removal of suture from anus | 1.54 | 4.98 | 4.14 | 1.09 | 1.22 | 0.12 | 6.64 | 5.80 | 2.75 | 2.88 | 010
46760 |  | A | Repair of anal sphincter | 11.46 | NA | NA | 5.77 | 6.17 | 0.86 | NA | NA | 18.09 | 18.49 | 090
46761 |  | A | Repair of anal sphincter | 10.99 | NA | NA | 5.68 | 6.11 | 0.84 | NA | NA | 17.51 | 17.94 | 090
46762 |  | A | Implant artificial sphincter | 10.09 | NA | NA | 4.94 | 5.26 | 0.71 | NA | NA | 15.74 | 16.06 | 090
46900 |  | A | Destruction, anal lesion(s) | 1.91 | 3.19 | 2.50 | 0.78 | 0.64 | 0.13 | 5.23 | 4.54 | 2.82 | 2.68 | 010
46910 |  | A | Destruction, anal lesion(s) | 1.86 | 3.44 | 2.75 | 1.48 | 1.20 | 0.14 | 5.44 | 4.75 | 3.48 | 3.20 | 010
46916 |  | A | Cryosurgery, anal lesion(s) | 1.86 | 3.42 | 2.75 | 1.60 | 1.29 | 0.09 | 5.37 | 4.70 | 3.55 | 3.24 | 010
46917 |  | A | Laser surgery, anal lesions | 1.86 | 4.24 | 3.71 | 1.54 | 1.42 | 0.16 | 6.26 | 5.73 | 3.56 | 3.44 | 010
46922 |  | A | Excision of anal lesion(s) | 1.86 | 3.68 | 3.11 | 1.43 | 1.42 | 0.17 | 5.71 | 5.14 | 3.46 | 3.45 | 010
46924 |  | A | Destruction, anal lesion(s) | 2.76 | 4.91 | 4.38 | 1.73 | 1.99 | 0.20 | 7.87 | 7.34 | 4.69 | 4.95 | 010
46934 |  | A | Destruction of hemorrhoids | 4.08 | 5.74 | 4.63 | 3.46 | 2.76 | 0.26 | 10.08 | 8.97 | 7.80 | 7.10 | 090
46935 |  | A | Destruction of hemorrhoids | 2.43 | 3.91 | 3.37 | 0.90 | 0.90 | 0.17 | 6.51 | 5.97 | 3.50 | 3.50 | 010
46936 |  | A | Destruction of hemorrhoids | 4.30 | 5.58 | 4.81 | 3.39 | 2.86 | 0.30 | 10.18 | 9.41 | 7.99 | 7.46 | 090
46937 |  | A | Cryotherapy of rectal lesion | 2.69 | 4.05 | 3.68 | 2.40 | 2.44 | 0.12 | 6.86 | 6.49 | 5.21 | 5.25 | 010
46938 |  | A | Cryotherapy of rectal lesion | 4.66 | 3.99 | 3.67 | 3.48 | 3.29 | 0.40 | 9.05 | 8.73 | 8.54 | 8.35 | 090
46940 |  | A | Treatment of anal fissure | 2.32 | 2.99 | 2.38 | 0.88 | 0.73 | 0.17 | 5.48 | 4.87 | 3.37 | 3.22 | 010
46942 |  | A | Treatment of anal fissure | 2.04 | 3.07 | 2.43 | 0.73 | 0.61 | 0.14 | 5.25 | 4.61 | 2.91 | 2.79 | 010
46945 |  | A | Ligation of hemorrhoids | 2.14 | 3.76 | 2.99 | 2.12 | 1.68 | 0.17 | 6.07 | 5.30 | 4.43 | 3.99 | 090
46946 |  | A | Ligation of hemorrhoids | 3.00 | 4.99 | 4.00 | 2.45 | 1.97 | 0.22 | 8.21 | 7.22 | 5.67 | 5.19 | 090
46999 |  | C | Anus surgery procedure | 0.00 | 0.00 | 0.00 | 0.00 | 0.00 | 0.00 | 0.00 | 0.00 | 0.00 | 0.00 | YYY
47000 |  | A | Needle biopsy of liver | 1.90 | 8.46 | 6.73 | 0.68 | 0.89 | 0.09 | 10.45 | 8.72 | 2.67 | 2.88 | 000
47001 |  | A | Needle biopsy, liver add-on | 1.90 | NA | NA | 0.72 | 0.92 | 0.18 | NA | NA | 2.80 | 3.00 | ZZZ
47010 |  | A | Open drainage, liver lesion | 10.28 | NA | NA | 7.49 | 7.45 | 0.65 | NA | NA | 18.42 | 18.38 | 090
47011 |  | A | Percut drain, liver lesion | 3.70 | NA | NA | 6.00 | 5.26 | 0.17 | NA | NA | 9.87 | 9.13 | 000
47015 |  | A | Inject/aspirate liver cyst | 9.70 | NA | NA | 6.11 | 6.42 | 0.86 | NA | NA | 16.67 | 16.98 | 090
47100 |  | A | Wedge biopsy of liver | 7.49 | NA | NA | 4.96 | 4.61 | 0.75 | NA | NA | 13.20 | 12.85 | 090
47120 |  | A | Partial removal of liver | 22.79 | NA | NA | 12.56 | 12.68 | 2.29 | NA | NA | 37.64 | 37.76 | 090
47122 |  | A | Extensive removal of liver | 35.39 | NA | NA | 17.25 | 17.71 | 3.60 | NA | NA | 56.24 | 56.70 | 090
47125 |  | A | Partial removal of liver | 31.58 | NA | NA | 15.87 | 16.63 | 3.18 | NA | NA | 50.63 | 51.39 | 090
47130 |  | A | Partial removal of liver | 34.25 | NA | NA | 17.03 | 17.98 | 3.47 | NA | NA | 54.75 | 55.70 | 090
47133 |  | X | Removal of donor liver | 0.00 | 0.00 | 0.00 | 0.00 | 0.00 | 0.00 | 0.00 | 0.00 | 0.00 | 0.00 | XXX
47134 |  | R | Partial removal, donor liver | 39.15 | NA | NA | 15.00 | 16.81 | 3.98 | NA | NA | 58.13 | 59.94 | XXX
47135 |  | R | Transplantation of liver | 81.52 | NA | NA | 43.43 | 47.35 | 8.13 | NA | NA | 133.08 | 137.00 | 090
47136 |  | R | Transplantation of liver | 68.60 | NA | NA | 45.80 | 43.44 | 6.93 | NA | NA | 121.33 | 118.97 | 090
47300 |  | A | Surgery for liver lesion | 9.68 | NA | NA | 5.79 | 6.42 | 0.97 | NA | NA | 16.44 | 17.07 | 090
47350 |  | A | Repair liver wound | 12.56 | NA | NA | 7.01 | 7.28 | 1.25 | NA | NA | 20.82 | 21.09 | 090
47360 |  | A | Repair liver wound | 17.28 | NA | NA | 9.45 | 10.05 | 1.71 | NA | NA | 28.44 | 29.04 | 090
47361 |  | A | Repair liver wound | 30.25 | NA | NA | 14.47 | 14.83 | 3.11 | NA | NA | 47.83 | 48.19 | 090
47362 |  | A | Repair liver wound | 11.88 | NA | NA | 7.81 | 7.28 | 1.22 | NA | NA | 20.91 | 20.38 | 090
47379 |  | C | Laparoscope procedure, liver | 0.00 | 0.00 | 0.00 | 0.00 | 0.00 | 0.00 | 0.00 | 0.00 | 0.00 | 0.00 | YYY
47399 |  | C | Liver surgery procedure | 0.00 | 0.00 | 0.00 | 0.00 | 0.00 | 0.00 | 0.00 | 0.00 | 0.00 | 0.00 | YYY
47400 |  | A | Incision of liver duct | 20.86 | NA | NA | 10.90 | 10.49 | 1.82 | NA | NA | 33.58 | 33.17 | 090
47420 |  | A | Incision of bile duct | 16.72 | NA | NA | 8.42 | 8.89 | 1.70 | NA | NA | 26.84 | 27.31 | 090
47425 |  | A | Incision of bile duct | 16.68 | NA | NA | 8.62 | 9.64 | 1.60 | NA | NA | 26.90 | 27.92 | 090
47460 |  | A | Incise bile duct sphincter | 15.17 | NA | NA | 7.92 | 10.16 | 1.24 | NA | NA | 24.33 | 26.57 | 090
47480 |  | A | Incision of gallbladder | 9.10 | NA | NA | 5.98 | 6.55 | 0.85 | NA | NA | 15.93 | 16.50 | 090
47490 |  | A | Incision of gallbladder | 7.23 | NA | NA | 7.42 | 6.53 | 0.33 | NA | NA | 14.98 | 14.09 | 090
47500 |  | A | Injection for liver x-rays | 1.96 | NA | NA | 0.69 | 0.93 | 0.09 | NA | NA | 2.74 | 2.98 | 000
47505 |  | A | Injection for liver x-rays | 0.76 | 14.97 | 11.49 | 0.27 | 0.43 | 0.03 | 15.76 | 12.28 | 1.06 | 1.22 | 000
47510 |  | A | Insert catheter, bile duct | 7.83 | NA | NA | 8.81 | 7.39 | 0.36 | NA | NA | 17.00 | 15.58 | 090
47511 |  | A | Insert bile duct drain | 10.50 | NA | NA | 10.08 | 8.34 | 0.47 | NA | NA | 21.05 | 19.31 | 090
47525 |  | A | Change bile duct catheter | 5.55 | NA | NA | 3.30 | 2.91 | 0.24 | NA | NA | 9.09 | 8.70 | 010
47530 |  | A | Revise/reinsert bile tube | 5.85 | NA | NA | 4.92 | 4.10 | 0.29 | NA | NA | 11.06 | 10.24 | 090
47550 |  | A | Bile duct endoscopy add-on | 3.02 | NA | NA | 1.15 | 1.29 | 0.30 | NA | NA | 4.47 | 4.61 | ZZZ
47552 |  | A | Biliary endoscopy thru skin | 6.04 | NA | NA | 2.56 | 2.29 | 0.42 | NA | NA | 9.02 | 8.75 | 000
47553 |  | A | Biliary endoscopy thru skin | 6.35 | NA | NA | 2.73 | 3.08 | 0.30 | NA | NA | 9.38 | 9.73 | 000
47554 |  | A | Biliary endoscopy thru skin | 9.06 | NA | NA | 3.66 | 3.81 | 0.74 | NA | NA | 13.46 | 13.61 | 000
47555 |  | A | Biliary endoscopy thru skin | 7.56 | NA | NA | 3.17 | 3.09 | 0.35 | NA | NA | 11.08 | 11.00 | 000
47556 |  | A | Biliary endoscopy thru skin | 8.56 | NA | NA | 3.51 | 3.35 | 0.38 | NA | NA | 12.45 | 12.29 | 000
47560 |  | A | Laparoscopy w/cholangio | 4.89 | NA | NA | 1.98 | 2.24 | 0.49 | NA | NA | 7.36 | 7.62 | 000
47561 |  | A | Laparo w/cholangio/biopsy | 5.18 | NA | NA | 2.26 | 2.76 | 0.49 | NA | NA | 7.93 | 8.43 | 000
47562 |  | A | Laparoscopic cholecystectomy | 11.09 | NA | NA | 5.04 | 5.95 | 1.13 | NA | NA | 17.26 | 18.17 | 090
47563 |  | A | Laparo cholecystectomy/graph | 11.94 | NA | NA | 5.53 | 6.44 | 1.21 | NA | NA | 18.68 | 19.59 | 090
47564 |  | A | Laparo cholecystectomy/explr | 14.23 | NA | NA | 7.17 | 7.92 | 1.44 | NA | NA | 22.84 | 23.59 | 090
47570 |  | A | Laparo cholecystoenterostomy | 12.58 | NA | NA | 6.12 | 7.08 | 1.28 | NA | NA | 19.98 | 20.94 | 090
47579 |  | C | Laparoscope proc, biliary | 0.00 | 0.00 | 0.00 | 0.00 | 0.00 | 0.00 | 0.00 | 0.00 | 0.00 | 0.00 | YYY
47600 |  | A | Removal of gallbladder | 11.42 | NA | NA | 6.16 | 6.66 | 1.16 | NA | NA | 18.74 | 19.24 | 090
47605 |  | A | Removal of gallbladder | 12.36 | NA | NA | 6.50 | 7.08 | 1.25 | NA | NA | 20.11 | 20.69 | 090
47610 |  | A | Removal of gallbladder | 15.83 | NA | NA | 7.94 | 8.50 | 1.61 | NA | NA | 25.38 | 25.94 | 090
47612 |  | A | Removal of gallbladder | 15.80 | NA | NA | 7.76 | 9.68 | 1.60 | NA | NA | 25.16 | 27.08 | 090
47620 |  | A | Removal of gallbladder | 17.36 | NA | NA | 8.39 | 9.34 | 1.77 | NA | NA | 27.52 | 28.47 | 090
47630 |  | A | Remove bile duct stone | 9.11 | NA | NA | 3.25 | 3.46 | 0.46 | NA | NA | 12.82 | 13.03 | 090
47700 |  | A | Exploration of bile ducts | 15.62 | NA | NA | 8.92 | 8.76 | 1.40 | NA | NA | 25.94 | 25.78 | 090
47701 |  | A | Bile duct revision | 29.55 | NA | NA | 14.49 | 13.10 | 3.00 | NA | NA | 47.04 | 45.65 | 090
47711 |  | A | Excision of bile duct tumor | 19.37 | NA | NA | 10.19 | 10.92 | 1.98 | NA | NA | 31.54 | 32.27 | 090
47712 |  | A | Excision of bile duct tumor | 25.44 | NA | NA | 12.89 | 12.94 | 2.67 | NA | NA | 41.00 | 41.05 | 090
47715 |  | A | Excision of bile duct cyst | 15.81 | NA | NA | 7.97 | 8.21 | 1.59 | NA | NA | 25.37 | 25.61 | 090
47716 |  | A | Fusion of bile duct cyst | 13.83 | NA | NA | 8.56 | 8.20 | 1.41 | NA | NA | 23.80 | 23.44 | 090
47720 |  | A | Fuse gallbladder & bowel | 13.38 | NA | NA | 7.95 | 8.45 | 1.37 | NA | NA | 22.70 | 23.20 | 090
47721 |  | A | Fuse upper gi structures | 16.08 | NA | NA | 8.89 | 9.77 | 1.63 | NA | NA | 26.60 | 27.48 | 090
47740 |  | A | Fuse gallbladder & bowel | 15.54 | NA | NA | 8.78 | 9.36 | 1.59 | NA | NA | 25.91 | 26.49 | 090
47741 |  | A | Fuse gallbladder & bowel | 17.95 | NA | NA | 9.55 | 11.06 | 1.82 | NA | NA | 29.32 | 30.83 | 090
47760 |  | A | Fuse bile ducts and bowel | 21.74 | NA | NA | 10.99 | 11.39 | 2.21 | NA | NA | 34.94 | 35.34 | 090
47765 |  | A | Fuse liver ducts & bowel | 20.93 | NA | NA | 11.63 | 12.69 | 2.18 | NA | NA | 34.74 | 35.80 | 090
47780 |  | A | Fuse bile ducts and bowel | 22.29 | NA | NA | 11.25 | 11.98 | 2.27 | NA | NA | 35.81 | 36.54 | 090
47785 |  | A | Fuse bile ducts and bowel | 26.23 | NA | NA | 13.37 | 13.57 | 2.69 | NA | NA | 42.29 | 42.49 | 090
47800 |  | A | Reconstruction of bile ducts | 19.60 | NA | NA | 10.17 | 11.22 | 1.95 | NA | NA | 31.72 | 32.77 | 090
47801 |  | A | Placement, bile duct support | 12.76 | NA | NA | 9.34 | 8.49 | 0.69 | NA | NA | 22.79 | 21.94 | 090
47802 |  | A | Fuse liver duct & intestine | 18.13 | NA | NA | 10.48 | 10.65 | 1.84 | NA | NA | 30.45 | 30.62 | 090
47900 |  | A | Suture bile duct injury | 16.74 | NA | NA | 9.16 | 10.46 | 1.65 | NA | NA | 27.55 | 28.85 | 090
47999 |  | C | Bile tract surgery procedure | 0.00 | 0.00 | 0.00 | 0.00 | 0.00 | 0.00 | 0.00 | 0.00 | 0.00 | 0.00 | YYY
48000 |  | A | Drainage of abdomen | 14.91 | NA | NA | 8.27 | 8.12 | 1.32 | NA | NA | 24.50 | 24.35 | 090
48001 |  | A | Placement of drain, pancreas | 18.83 | NA | NA | 9.37 | 9.23 | 1.90 | NA | NA | 30.10 | 29.96 | 090
48005 |  | A | Resect/debride pancreas | 22.40 | NA | NA | 10.65 | 10.48 | 2.26 | NA | NA | 35.31 | 35.14 | 090
48020 |  | A | Removal of pancreatic stone | 14.22 | NA | NA | 7.25 | 7.28 | 1.36 | NA | NA | 22.83 | 22.86 | 090
48100 |  | A | Biopsy of pancreas | 11.08 | NA | NA | 6.62 | 6.11 | 1.08 | NA | NA | 18.78 | 18.27 | 090
48102 |  | A | Needle biopsy, pancreas | 4.68 | 8.31 | 6.89 | 2.41 | 2.46 | 0.20 | 13.19 | 11.77 | 7.29 | 7.34 | 010
48120 |  | A | Removal of pancreas lesion | 14.36 | NA | NA | 7.14 | 7.99 | 1.35 | NA | NA | 22.85 | 23.70 | 090
48140 |  | A | Partial removal of pancreas | 20.78 | NA | NA | 10.29 | 11.32 | 2.12 | NA | NA | 33.19 | 34.22 | 090
48145 |  | A | Partial removal of pancreas | 21.76 | NA | NA | 11.28 | 12.72 | 2.25 | NA | NA | 35.29 | 36.73 | 090
48146 |  | A | Pancreatectomy | 23.91 | NA | NA | 13.04 | 14.26 | 2.43 | NA | NA | 39.38 | 40.60 | 090
48148 |  | A | Removal of pancreatic duct | 15.71 | NA | NA | 8.95 | 8.95 | 1.61 | NA | NA | 26.27 | 26.27 | 090
48150 |  | A | Partial removal of pancreas | 43.48 | NA | NA | 21.07 | 21.92 | 4.43 | NA | NA | 68.98 | 69.83 | 090
48152 |  | A | Pancreatectomy | 39.63 | NA | NA | 19.66 | 20.86 | 4.07 | NA | NA | 63.36 | 64.56 | 090
48153 |  | A | Pancreatectomy | 43.38 | NA | NA | 20.98 | 21.85 | 4.40 | NA | NA | 68.76 | 69.63 | 090
48154 |  | A | Pancreatectomy | 39.95 | NA | NA | 19.94 | 21.07 | 4.10 | NA | NA | 63.99 | 65.12 | 090
48155 |  | A | Removal of pancreas | 22.32 | NA | NA | 13.25 | 15.47 | 2.30 | NA | NA | 37.87 | 40.09 | 090
48160 |  | N | Pancreas removal/transplant | 0.00 | 0.00 | 0.00 | 0.00 | 0.00 | 0.00 | 0.00 | 0.00 | 0.00 | 0.00 | XXX
48180 |  | A | Fuse pancreas and bowel | 22.39 | NA | NA | 10.69 | 11.44 | 2.24 | NA | NA | 35.32 | 36.07 | 090
48400 |  | A | Injection, intraop add-on | 1.95 | NA | NA | 0.70 | 0.81 | 0.10 | NA | NA | 2.75 | 2.86 | ZZZ
48500 |  | A | Surgery of pancreas cyst | 13.84 | NA | NA | 7.28 | 7.78 | 1.35 | NA | NA | 22.47 | 22.97 | 090
48510 |  | A | Drain pancreatic pseudocyst | 12.96 | NA | NA | 7.12 | 7.39 | 1.07 | NA | NA | 21.15 | 21.42 | 090
48511 |  | A | Drain pancreatic pseudocyst | 4.00 | NA | NA | 4.57 | 4.25 | 0.17 | NA | NA | 8.74 | 8.42 | 000
48520 |  | A | Fuse pancreas cyst and bowel | 14.12 | NA | NA | 6.98 | 8.30 | 1.41 | NA | NA | 22.51 | 23.83 | 090
48540 |  | A | Fuse pancreas cyst and bowel | 17.86 | NA | NA | 8.45 | 9.77 | 1.82 | NA | NA | 28.13 | 29.45 | 090
48545 |  | A | Pancreatorrhaphy | 16.47 | NA | NA | 8.34 | 8.33 | 1.61 | NA | NA | 26.42 | 26.41 | 090
48547 |  | A | Duodenal exclusion | 23.40 | NA | NA | 10.50 | 10.88 | 2.30 | NA | NA | 36.20 | 36.58 | 090
48550 |  | X | Donor pancreatectomy | 0.00 | 0.00 | 0.00 | 0.00 | 0.00 | 0.00 | 0.00 | 0.00 | 0.00 | 0.00 | XXX
48554 |  | R | Transpl allograft pancreas | 34.17 | NA | NA | 12.84 | 14.48 | 3.30 | NA | NA | 50.31 | 51.95 | 090
48556 |  | A | Removal, allograft pancreas | 15.71 | NA | NA | 8.75 | 8.53 | 1.52 | NA | NA | 25.98 | 25.76 | 090
48999 |  | C | Pancreas surgery procedure | 0.00 | 0.00 | 0.00 | 0.00 | 0.00 | 0.00 | 0.00 | 0.00 | 0.00 | 0.00 | YYY
49000 |  | A | Exploration of abdomen | 11.68 | NA | NA | 6.32 | 6.58 | 1.17 | NA | NA | 19.17 | 19.43 | 090
49002 |  | A | Reopening of abdomen | 10.49 | NA | NA | 6.21 | 6.30 | 1.06 | NA | NA | 17.76 | 17.85 | 090
49010 |  | A | Exploration behind abdomen | 12.28 | NA | NA | 7.18 | 7.27 | 1.22 | NA | NA | 20.68 | 20.77 | 090
49020 |  | A | Drain abdominal abscess | 16.79 | NA | NA | 9.52 | 8.45 | 1.31 | NA | NA | 27.62 | 26.55 | 090
49021 |  | A | Drain abdominal abscess | 3.38 | NA | NA | 6.02 | 5.53 | 0.16 | NA | NA | 9.56 | 9.07 | 000
49040 |  | A | Drain, open, abdom abscess | 9.94 | NA | NA | 6.81 | 6.88 | 0.84 | NA | NA | 17.59 | 17.66 | 090
49041 |  | A | Drain, percut, abdom abscess | 4.00 | NA | NA | 6.23 | 5.50 | 0.18 | NA | NA | 10.41 | 9.68 | 000
49060 |  | A | Drain, open, retrop abscess | 11.66 | NA | NA | 8.05 | 7.54 | 0.77 | NA | NA | 20.48 | 19.97 | 090
49061 |  | A | Drain, percut, retroper absc | 3.70 | NA | NA | 6.15 | 5.37 | 0.17 | NA | NA | 10.02 | 9.24 | 000
49062 |  | A | Drain to peritoneal cavity | 11.36 | NA | NA | 7.40 | 7.74 | 1.08 | NA | NA | 19.84 | 20.18 | 090
49080 |  | A | Puncture, peritoneal cavity | 1.35 | 2.93 | 2.43 | 0.61 | 0.69 | 0.07 | 4.35 | 3.85 | 2.03 | 2.11 | 000
49081 |  | A | Removal of abdominal fluid | 1.26 | 2.76 | 2.27 | 0.58 | 0.64 | 0.06 | 4.08 | 3.59 | 1.90 | 1.96 | 000
49085 |  | A | Remove abdomen foreign body | 8.93 | NA | NA | 5.60 | 5.14 | 0.88 | NA | NA | 15.41 | 14.95 | 090
49180 |  | A | Biopsy, abdominal mass | 1.73 | 7.02 | 5.76 | 0.61 | 0.95 | 0.08 | 8.83 | 7.57 | 2.42 | 2.76 | 000
49200 |  | A | Removal of abdominal lesion | 10.25 | NA | NA | 6.45 | 7.11 | 0.89 | NA | NA | 17.59 | 18.25 | 090
49201 |  | A | Removal of abdominal lesion | 14.84 | NA | NA | 8.70 | 9.81 | 1.44 | NA | NA | 24.98 | 26.09 | 090
49215 |  | A | Excise sacral spine tumor | 23.20 | NA | NA | 11.20 | 10.71 | 2.48 | NA | NA | 36.88 | 36.39 | 090
49220 |  | A | Multiple surgery, abdomen | 14.88 | NA | NA | 7.90 | 9.26 | 1.51 | NA | NA | 24.29 | 25.65 | 090
49250 |  | A | Excision of umbilicus | 8.35 | NA | NA | 5.15 | 5.09 | 0.84 | NA | NA | 14.34 | 14.28 | 090
49255 |  | A | Removal of omentum | 11.14 | NA | NA | 6.67 | 6.40 | 1.12 | NA | NA | 18.93 | 18.66 | 090
49320 |  | A | Diag laparo separate proc | 5.10 | NA | NA | 3.04 | 3.49 | 0.50 | NA | NA | 8.64 | 9.09 | 010
49321 |  | A | Laparoscopy, biopsy | 5.40 | NA | NA | 3.12 | 3.67 | 0.53 | NA | NA | 9.05 | 9.60 | 010
49322 |  | A | Laparoscopy, aspiration | 5.70 | NA | NA | 3.40 | 3.87 | 0.57 | NA | NA | 9.67 | 10.14 | 010
49323 |  | A | Laparo drain lymphocele | 9.48 | NA | NA | 4.14 | 4.93 | 0.88 | NA | NA | 14.50 | 15.29 | 090
49329 |  | C | Laparo proc, abdm/per/oment | 0.00 | 0.00 | 0.00 | 0.00 | 0.00 | 0.00 | 0.00 | 0.00 | 0.00 | 0.00 | YYY
49400 |  | A | Air injection into abdomen | 1.88 | NA | NA | 0.83 | 0.93 | 0.11 | NA | NA | 2.82 | 2.92 | 000
49420 |  | A | Insert abdominal drain | 2.22 | NA | NA | 0.97 | 1.16 | 0.13 | NA | NA | 3.32 | 3.51 | 000
49421 |  | A | Insert abdominal drain | 5.54 | NA | NA | 4.14 | 4.23 | 0.55 | NA | NA | 10.23 | 10.32 | 090
49422 |  | A | Remove perm cannula/catheter | 6.25 | NA | NA | 3.06 | 3.42 | 0.63 | NA | NA | 9.94 | 10.30 | 010
49423 |  | A | Exchange drainage catheter | 1.46 | NA | NA | 0.69 | 0.82 | 0.07 | NA | NA | 2.22 | 2.35 | 000
49424 |  | A | Assess cyst, contrast inject | 0.76 | NA | NA | 0.44 | 0.49 | 0.03 | NA | NA | 1.23 | 1.28 | 000
49425 |  | A | Insert abdomen-venous drain | 11.37 | NA | NA | 7.14 | 7.66 | 1.21 | NA | NA | 19.72 | 20.24 | 090
49426 |  | A | Revise abdomen-venous shunt | 9.63 | NA | NA | 6.18 | 6.10 | 0.93 | NA | NA | 16.74 | 16.66 | 090
49427 |  | A | Injection, abdominal shunt | 0.89 | NA | NA | 0.48 | 0.49 | 0.05 | NA | NA | 1.42 | 1.43 | 000
49428 |  | A | Ligation of shunt | 2.38 | NA | NA | 1.78 | 1.62 | 0.31 | NA | NA | 4.47 | 4.31 | 010
49429 |  | A | Removal of shunt | 7.40 | NA | NA | 3.70 | 3.68 | 0.81 | NA | NA | 11.91 | 11.89 | 010
49495 |  | A | Repair inguinal hernia, init | 5.84 | NA | NA | 3.56 | 4.02 | 0.55 | NA | NA | 9.95 | 10.41 | 090
49496 |  | A | Repair inguinal hernia, init | 8.79 | NA | NA | 6.55 | 6.28 | 0.89 | NA | NA | 16.23 | 15.96 | 090
49500 |  | A | Repair inguinal hernia | 4.68 | NA | NA | 3.13 | 3.70 | 0.46 | NA | NA | 8.27 | 8.84 | 090
49501 |  | A | Repair inguinal hernia, init | 7.58 | NA | NA | 4.18 | 4.50 | 0.76 | NA | NA | 12.52 | 12.84 | 090
49505 |  | A | Repair inguinal hernia | 6.49 | 4.17 | 4.35 | 3.73 | 4.02 | 0.65 | 11.31 | 11.49 | 10.87 | 11.16 | 090
49507 |  | A | Repair inguinal hernia | 8.17 | NA | NA | 5.59 | 5.56 | 0.83 | NA | NA | 14.59 | 14.56 | 090
49520 |  | A | Rerepair inguinal hernia | 8.22 | NA | NA | 4.98 | 5.15 | 0.84 | NA | NA | 14.04 | 14.21 | 090
49521 |  | A | Repair inguinal hernia, rec | 10.22 | NA | NA | 5.28 | 5.33 | 1.04 | NA | NA | 16.54 | 16.59 | 090
49525 |  | A | Repair inguinal hernia | 7.32 | NA | NA | 4.53 | 4.90 | 0.74 | NA | NA | 12.59 | 12.96 | 090
49540 |  | A | Repair lumbar hernia | 8.87 | NA | NA | 5.17 | 5.29 | 0.90 | NA | NA | 14.94 | 15.06 | 090
49550 |  | A | Repair femoral hernia | 7.37 | NA | NA | 4.12 | 4.34 | 0.75 | NA | NA | 12.24 | 12.46 | 090
49553 |  | A | Repair femoral hernia, init | 8.06 | NA | NA | 4.51 | 4.63 | 0.83 | NA | NA | 13.40 | 13.52 | 090
49555 |  | A | Repair femoral hernia | 7.71 | NA | NA | 4.84 | 5.28 | 0.79 | NA | NA | 13.34 | 13.78 | 090
49557 |  | A | Repair femoral hernia, recur | 9.52 | NA | NA | 5.04 | 5.43 | 0.97 | NA | NA | 15.53 | 15.92 | 090
49560 |  | A | Repair abdominal hernia | 9.88 | NA | NA | 5.54 | 5.69 | 1.00 | NA | NA | 16.42 | 16.57 | 090
49561 |  | A | Repair incisional hernia | 12.17 | NA | NA | 6.07 | 6.09 | 1.23 | NA | NA | 19.47 | 19.49 | 090
49565 |  | A | Rerepair abdominal hernia | 9.88 | NA | NA | 5.70 | 6.02 | 1.00 | NA | NA | 16.58 | 16.90 | 090
49566 |  | A | Repair incisional hernia | 12.30 | NA | NA | 6.11 | 6.32 | 1.24 | NA | NA | 19.65 | 19.86 | 090
49568 |  | A | Hernia repair w/mesh | 4.89 | NA | NA | 1.86 | 2.09 | 0.50 | NA | NA | 7.25 | 7.48 | ZZZ
49570 |  | A | Repair epigastric hernia | 4.86 | NA | NA | 3.21 | 3.60 | 0.50 | NA | NA | 8.57 | 8.96 | 090
49572 |  | A | Repair epigastric hernia | 5.75 | NA | NA | 3.65 | 4.26 | 0.58 | NA | NA | 9.98 | 10.59 | 090
49580 |  | A | Repair umbilical hernia | 3.34 | NA | NA | 2.66 | 3.04 | 0.34 | NA | NA | 6.34 | 6.72 | 090
49582 |  | A | Repair umbilical hernia | 5.68 | NA | NA | 4.45 | 4.59 | 0.57 | NA | NA | 10.70 | 10.84 | 090
49585 |  | A | Repair umbilical hernia | 5.32 | NA | NA | 3.76 | 4.02 | 0.53 | NA | NA | 9.61 | 9.87 | 090
49587 |  | A | Repair umbilical hernia | 6.46 | NA | NA | 3.88 | 4.11 | 0.65 | NA | NA | 10.99 | 11.22 | 090
49590 |  | A | Repair abdominal hernia | 7.29 | NA | NA | 4.49 | 4.90 | 0.74 | NA | NA | 12.52 | 12.93 | 090
49600 |  | A | Repair umbilical lesion | 10.96 | NA | NA | 6.48 | 6.29 | 1.13 | NA | NA | 18.57 | 18.38 | 090
49605 |  | A | Repair umbilical lesion | 24.94 | NA | NA | 12.36 | 11.60 | 2.57 | NA | NA | 39.87 | 39.11 | 090
49606 |  | A | Repair umbilical lesion | 21.31 | NA | NA | 10.56 | 10.18 | 2.22 | NA | NA | 34.09 | 33.71 | 090
49610 |  | A | Repair umbilical lesion | 10.50 | NA | NA | 6.60 | 6.44 | 0.77 | NA | NA | 17.87 | 17.71 | 090
49611 |  | A | Repair umbilical lesion | 8.92 | NA | NA | 6.46 | 7.29 | 0.65 | NA | NA | 16.03 | 16.86 | 090
49650 |  | A | Laparo hernia repair initial | 6.27 | NA | NA | 3.39 | 3.77 | 0.64 | NA | NA | 10.30 | 10.68 | 090
49651 |  | A | Laparo hernia repair recur | 8.24 | NA | NA | 4.48 | 4.78 | 0.84 | NA | NA | 13.56 | 13.86 | 090
49659 |  | C | Laparo proc, hernia repair | 0.00 | 0.00 | 0.00 | 0.00 | 0.00 | 0.00 | 0.00 | 0.00 | 0.00 | 0.00 | YYY
49900 |  | A | Repair of abdominal wall | 12.28 | NA | NA | 6.91 | 6.18 | 1.23 | NA | NA | 20.42 | 19.69 | 090
49905 |  | A | Omental flap | 6.55 | NA | NA | 2.43 | 2.75 | 0.61 | NA | NA | 9.59 | 9.91 | ZZZ
49906 |  | C | Free omental flap, microvasc | 0.00 | 0.00 | 0.00 | 0.00 | 0.00 | 0.00 | 0.00 | 0.00 | 0.00 | 0.00 | 090
49999 |  | C | Abdomen surgery procedure | 0.00 | 0.00 | 0.00 | 0.00 | 0.00 | 0.00 | 0.00 | 0.00 | 0.00 | 0.00 | YYY
50010 |  | A | Exploration of kidney | 10.98 | NA | NA | 6.77 | 7.67 | 0.79 | NA | NA | 18.54 | 19.44 | 090
50020 |  | A | Renal abscess, open drain | 14.66 | NA | NA | 13.15 | 11.71 | 0.80 | NA | NA | 28.61 | 27.17 | 090
50021 |  | A | Renal abscess, percut drain | 3.38 | NA | NA | 11.64 | 9.43 | 0.15 | NA | NA | 15.17 | 12.96 | 000
50040 |  | A | Drainage of kidney | 14.94 | NA | NA | 11.09 | 10.27 | 0.82 | NA | NA | 26.85 | 26.03 | 090
50045 |  | A | Exploration of kidney | 15.46 | NA | NA | 8.14 | 8.77 | 1.06 | NA | NA | 24.66 | 25.29 | 090
50060 |  | A | Removal of kidney stone | 19.30 | NA | NA | 9.48 | 10.43 | 1.14 | NA | NA | 29.92 | 30.87 | 090
50065 |  | A | Incision of kidney | 20.79 | NA | NA | 7.49 | 9.40 | 1.13 | NA | NA | 29.41 | 31.32 | 090
50070 |  | A | Incision of kidney | 20.32 | NA | NA | 10.39 | 11.29 | 1.20 | NA | NA | 31.91 | 32.81 | 090
50075 |  | A | Removal of kidney stone | 25.34 | NA | NA | 12.20 | 13.73 | 1.51 | NA | NA | 39.05 | 40.58 | 090
50080 |  | A | Removal of kidney stone | 14.71 | NA | NA | 10.36 | 11.08 | 0.86 | NA | NA | 25.93 | 26.65 | 090
50081 |  | A | Removal of kidney stone | 21.80 | NA | NA | 12.45 | 13.40 | 1.30 | NA | NA | 35.55 | 36.50 | 090
50100 |  | A | Revise kidney blood vessels | 16.09 | NA | NA | 9.74 | 10.11 | 1.64 | NA | NA | 27.47 | 27.84 | 090
50120 |  | A | Exploration of kidney | 15.91 | NA | NA | 8.51 | 9.34 | 1.04 | NA | NA | 25.46 | 26.29 | 090
50125 |  | A | Explore and drain kidney | 16.52 | NA | NA | 8.64 | 9.45 | 1.07 | NA | NA | 26.23 | 27.04 | 090
50130 |  | A | Removal of kidney stone | 17.29 | NA | NA | 8.81 | 10.08 | 1.04 | NA | NA | 27.14 | 28.41 | 090
50135 |  | A | Exploration of kidney | 19.18 | NA | NA | 9.41 | 11.68 | 1.18 | NA | NA | 29.77 | 32.04 | 090
50200 |  | A | Biopsy of kidney | 2.63 | NA | NA | 0.94 | 1.41 | 0.12 | NA | NA | 3.69 | 4.16 | 000
50205 |  | A | Biopsy of kidney | 11.31 | NA | NA | 6.41 | 6.34 | 0.94 | NA | NA | 18.66 | 18.59 | 090
50220 |  | A | Removal of kidney | 17.15 | NA | NA | 8.97 | 10.34 | 1.16 | NA | NA | 27.28 | 28.65 | 090
50225 |  | A | Removal of kidney | 20.23 | NA | NA | 9.89 | 11.90 | 1.26 | NA | NA | 31.38 | 33.39 | 090
50230 |  | A | Removal of kidney | 22.07 | NA | NA | 10.47 | 12.85 | 1.35 | NA | NA | 33.89 | 36.27 | 090
50234 |  | A | Removal of kidney & ureter | 22.40 | NA | NA | 10.54 | 12.42 | 1.37 | NA | NA | 34.31 | 36.19 | 090
50236 |  | A | Removal of kidney & ureter | 24.86 | NA | NA | 13.52 | 14.95 | 1.50 | NA | NA | 39.88 | 41.31 | 090
50240 |  | A | Partial removal of kidney | 22.00 | NA | NA | 12.56 | 13.76 | 1.36 | NA | NA | 35.92 | 37.12 | 090
50280 |  | A | Removal of kidney lesion | 15.67 | NA | NA | 8.32 | 9.19 | 0.99 | NA | NA | 24.98 | 25.85 | 090
50290 |  | A | Removal of kidney lesion | 14.73 | NA | NA | 8.19 | 8.55 | 1.11 | NA | NA | 24.03 | 24.39 | 090
50300 |  | X | Removal of donor kidney | 0.00 | 0.00 | 0.00 | 0.00 | 0.00 | 0.00 | 0.00 | 0.00 | 0.00 | 0.00 | XXX
50320 |  | A | Removal of donor kidney | 22.21 | NA | NA | 10.49 | 12.34 | 1.78 | NA | NA | 34.48 | 36.33 | 090
50340 |  | A | Removal of kidney | 12.15 | NA | NA | 8.77 | 9.97 | 1.15 | NA | NA | 22.07 | 23.27 | 090
50360 |  | A | Transplantation of kidney | 31.53 | NA | NA | 17.74 | 19.94 | 2.97 | NA | NA | 52.24 | 54.44 | 090
50365 |  | A | Transplantation of kidney | 36.81 | NA | NA | 21.34 | 24.34 | 3.51 | NA | NA | 61.66 | 64.66 | 090
50370 |  | A | Remove transplanted kidney | 13.72 | NA | NA | 9.66 | 10.25 | 1.26 | NA | NA | 24.64 | 25.23 | 090
50380 |  | A | Reimplantation of kidney | 20.76 | NA | NA | 13.88 | 13.16 | 1.80 | NA | NA | 36.44 | 35.72 | 090
50390 |  | A | Drainage of kidney lesion | 1.96 | NA | NA | 0.69 | 0.98 | 0.09 | NA | NA | 2.74 | 3.03 | 000
50392 |  | A | Insert kidney drain | 3.38 | NA | NA | 1.19 | 1.53 | 0.15 | NA | NA | 4.72 | 5.06 | 000
50393 |  | A | Insert ureteral tube | 4.16 | NA | NA | 1.46 | 1.91 | 0.18 | NA | NA | 5.80 | 6.25 | 000
50394 |  | A | Injection for kidney x-ray | 0.76 | 13.29 | 10.12 | 0.27 | 0.35 | 0.04 | 14.09 | 10.92 | 1.07 | 1.15 | 000
50395 |  | A | Create passage to kidney | 3.38 | NA | NA | 1.18 | 1.79 | 0.16 | NA | NA | 4.72 | 5.33 | 000
50396 |  | A | Measure kidney pressure | 2.09 | NA | NA | 0.88 | 0.80 | 0.10 | NA | NA | 3.07 | 2.99 | 000
50398 |  | A | Change kidney tube | 1.46 | 1.30 | 1.12 | 0.51 | 0.53 | 0.07 | 2.83 | 2.65 | 2.04 | 2.06 | 000
50400 |  | A | Revision of kidney/ureter | 19.50 | NA | NA | 9.59 | 10.90 | 1.21 | NA | NA | 30.30 | 31.61 | 090
50405 |  | A | Revision of kidney/ureter | 23.93 | NA | NA | 12.67 | 14.19 | 1.45 | NA | NA | 38.05 | 39.57 | 090
50500 |  | A | Repair of kidney wound | 19.57 | NA | NA | 11.12 | 11.72 | 1.45 | NA | NA | 32.14 | 32.74 | 090
50520 |  | A | Close kidney-skin fistula | 17.23 | NA | NA | 10.45 | 10.64 | 1.26 | NA | NA | 28.94 | 29.13 | 090
50525 |  | A | Repair renal-abdomen fistula | 22.27 | NA | NA | 12.53 | 12.82 | 1.51 | NA | NA | 36.31 | 36.60 | 090
50526 |  | A | Repair renal-abdomen fistula | 24.02 | NA | NA | 15.41 | 13.56 | 1.62 | NA | NA | 41.05 | 39.20 | 090
50540 |  | A | Revision of horseshoe kidney | 19.93 | NA | NA | 11.82 | 12.50 | 1.28 | NA | NA | 33.03 | 33.71 | 090
50541 |  | A | Laparo ablate renal cyst | 16.00 | NA | NA | 6.61 | 6.61 | 0.99 | NA | NA | 23.60 | 23.60 | 090
50544 |  | A | Laparoscopy, pyeloplasty | 22.40 | NA | NA | 8.78 | 8.78 | 1.41 | NA | NA | 32.59 | 32.59 | 090
50545 |  | A | Laparo radical nephrectomy | 24.00 | NA | NA | 9.41 | 9.41 | 1.81 | NA | NA | 35.22 | 35.22 | 090
50546 |  | A | Laparoscopic nephrectomy | 20.48 | NA | NA | 8.31 | 8.31 | 1.37 | NA | NA | 30.16 | 30.16 | 090
50547 |  | A | Laparo removal donor kidney | 25.50 | NA | NA | 10.99 | 10.99 | 2.04 | NA | NA | 38.53 | 38.53 | 090
50548 |  | A | Laparo remove k/ureter | 24.40 | NA | NA | 9.44 | 9.44 | 1.49 | NA | NA | 35.33 | 35.33 | 090
50549 |  | C | Laparoscope proc, renal | 0.00 | 0.00 | 0.00 | 0.00 | 0.00 | 0.00 | 0.00 | 0.00 | 0.00 | 0.00 | YYY
50551 |  | A | Kidney endoscopy | 5.60 | 4.54 | 4.00 | 1.86 | 1.99 | 0.33 | 10.47 | 9.93 | 7.79 | 7.92 | 000
50553 |  | A | Kidney endoscopy | 5.99 | 15.58 | 12.14 | 2.06 | 2.00 | 0.35 | 21.92 | 18.48 | 8.40 | 8.34 | 000
50555 |  | A | Kidney endoscopy & biopsy | 6.53 | 18.16 | 14.90 | 2.20 | 2.93 | 0.38 | 25.07 | 21.81 | 9.11 | 9.84 | 000
50557 |  | A | Kidney endoscopy & treatment | 6.62 | 18.28 | 14.99 | 2.21 | 2.94 | 0.39 | 25.29 | 22.00 | 9.22 | 9.95 | 000
50559 |  | A | Renal endoscopy/radiotracer | 6.78 | NA | NA | 2.37 | 2.14 | 0.27 | NA | NA | 9.42 | 9.19 | 000
50561 |  | A | Kidney endoscopy & treatment | 7.59 | 16.42 | 13.71 | 2.55 | 3.30 | 0.44 | 24.45 | 21.74 | 10.58 | 11.33 | 000
50570 |  | A | Kidney endoscopy | 9.54 | NA | NA | 3.19 | 2.79 | 0.56 | NA | NA | 13.29 | 12.89 | 000
50572 |  | A | Kidney endoscopy | 10.35 | NA | NA | 3.44 | 4.55 | 0.64 | NA | NA | 14.43 | 15.54 | 000
50574 |  | A | Kidney endoscopy & biopsy | 11.02 | NA | NA | 3.67 | 4.67 | 0.65 | NA | NA | 15.34 | 16.34 | 000
50575 |  | A | Kidney endoscopy | 13.98 | NA | NA | 4.67 | 6.20 | 0.84 | NA | NA | 19.49 | 21.02 | 000
50576 |  | A | Kidney endoscopy & treatment | 10.99 | NA | NA | 3.64 | 5.09 | 0.66 | NA | NA | 15.29 | 16.74 | 000
50578 |  | A | Renal endoscopy/radiotracer | 11.35 | NA | NA | 3.78 | 3.86 | 0.67 | NA | NA | 15.80 | 15.88 | 000
50580 |  | A | Kidney endoscopy & treatment | 11.86 | NA | NA | 3.97 | 3.95 | 0.70 | NA | NA | 16.53 | 16.51 | 000
50590 |  | A | Fragmenting of kidney stone | 9.09 | 10.21 | 10.37 | 5.01 | 6.47 | 0.54 | 19.84 | 20.00 | 14.64 | 16.10 | 090
50600 |  | A | Exploration of ureter | 15.84 | NA | NA | 8.38 | 8.92 | 0.99 | NA | NA | 25.21 | 25.75 | 090
50605 |  | A | Insert ureteral support | 15.46 | NA | NA | 8.64 | 8.14 | 1.13 | NA | NA | 25.23 | 24.73 | 090
50610 |  | A | Removal of ureter stone | 15.92 | NA | NA | 8.87 | 9.85 | 1.08 | NA | NA | 25.87 | 26.85 | 090
50620 |  | A | Removal of ureter stone | 15.16 | NA | NA | 8.00 | 9.12 | 0.91 | NA | NA | 24.07 | 25.19 | 090
50630 |  | A | Removal of ureter stone | 14.94 | NA | NA | 8.09 | 9.52 | 0.90 | NA | NA | 23.93 | 25.36 | 090
50650 |  | A | Removal of ureter | 17.41 | NA | NA | 9.15 | 10.14 | 1.07 | NA | NA | 27.63 | 28.62 | 090
50660 |  | A | Removal of ureter | 19.55 | NA | NA | 9.93 | 10.84 | 1.19 | NA | NA | 30.67 | 31.58 | 090
50684 |  | A | Injection for ureter x-ray | 0.76 | 13.74 | 10.44 | 0.26 | 0.33 | 0.04 | 14.54 | 11.24 | 1.06 | 1.13 | 000
50686 |  | A | Measure ureter pressure | 1.51 | 4.64 | 3.58 | 0.70 | 0.63 | 0.09 | 6.24 | 5.18 | 2.30 | 2.23 | 000
50688 |  | A | Change of ureter tube | 1.17 | NA | NA | 1.71 | 1.39 | 0.06 | NA | NA | 2.94 | 2.62 | 010
50690 |  | A | Injection for ureter x-ray | 1.16 | 14.07 | 10.64 | 0.40 | 0.39 | 0.06 | 15.29 | 11.86 | 1.62 | 1.61 | 000
50700 |  | A | Revision of ureter | 15.21 | NA | NA | 8.84 | 10.04 | 0.86 | NA | NA | 24.91 | 26.11 | 090
50715 |  | A | Release of ureter | 18.90 | NA | NA | 11.64 | 11.78 | 1.68 | NA | NA | 32.22 | 32.36 | 090
50722 |  | A | Release of ureter | 16.35 | NA | NA | 9.16 | 9.67 | 1.41 | NA | NA | 26.92 | 27.43 | 090
50725 |  | A | Release/revise ureter | 18.49 | NA | NA | 10.02 | 10.79 | 1.44 | NA | NA | 29.95 | 30.72 | 090
50727 |  | A | Revise ureter | 8.18 | NA | NA | 6.12 | 6.05 | 0.51 | NA | NA | 14.81 | 14.74 | 090
50728 |  | A | Revise ureter | 12.02 | NA | NA | 7.71 | 7.93 | 0.88 | NA | NA | 20.61 | 20.83 | 090
50740 |  | A | Fusion of ureter & kidney | 18.42 | NA | NA | 9.42 | 10.60 | 1.49 | NA | NA | 29.33 | 30.51 | 090
50750 |  | A | Fusion of ureter & kidney | 19.51 | NA | NA | 10.11 | 11.39 | 1.24 | NA | NA | 30.86 | 32.14 | 090
50760 |  | A | Fusion of ureters | 18.42 | NA | NA | 9.65 | 10.89 | 1.25 | NA | NA | 29.32 | 30.56 | 090
50770 |  | A | Splicing of ureters | 19.51 | NA | NA | 9.86 | 11.53 | 1.25 | NA | NA | 30.62 | 32.29 | 090
50780 |  | A | Reimplant ureter in bladder | 18.36 | NA | NA | 9.56 | 10.91 | 1.20 | NA | NA | 29.12 | 30.47 | 090
50782 |  | A | Reimplant ureter in bladder | 19.54 | NA | NA | 11.02 | 12.00 | 1.13 | NA | NA | 31.69 | 32.67 | 090
50783 |  | A | Reimplant ureter in bladder | 20.55 | NA | NA | 10.55 | 11.65 | 1.35 | NA | NA | 32.45 | 33.55 | 090
50785 |  | A | Reimplant ureter in bladder | 20.52 | NA | NA | 10.27 | 11.89 | 1.30 | NA | NA | 32.09 | 33.71 | 090
50800 |  | A | Implant ureter in bowel | 14.52 | NA | NA | 9.27 | 10.93 | 0.92 | NA | NA | 24.71 | 26.37 | 090
50810 |  | A | Fusion of ureter & bowel | 20.05 | NA | NA | 12.75 | 12.97 | 1.78 | NA | NA | 34.58 | 34.80 | 090
50815 |  | A | Urine shunt to bowel | 19.93 | NA | NA | 11.31 | 13.84 | 1.31 | NA | NA | 32.55 | 35.08 | 090
50820 |  | A | Construct bowel bladder | 21.89 | NA | NA | 11.14 | 13.50 | 1.38 | NA | NA | 34.41 | 36.77 | 090
50825 |  | A | Construct bowel bladder | 28.18 | NA | NA | 14.53 | 19.18 | 1.81 | NA | NA | 44.52 | 49.17 | 090
50830 |  | A | Revise urine flow | 31.28 | NA | NA | 15.27 | 17.13 | 2.20 | NA | NA | 48.75 | 50.61 | 090
50840 |  | A | Replace ureter by bowel | 20.00 | NA | NA | 11.48 | 12.23 | 1.26 | NA | NA | 32.74 | 33.49 | 090
50845 |  | A | Appendico-vesicostomy | 20.89 | NA | NA | 9.63 | 10.99 | 1.26 | NA | NA | 31.78 | 33.14 | 090
50860 |  | A | Transplant ureter to skin | 15.36 | NA | NA | 8.56 | 9.38 | 1.01 | NA | NA | 24.93 | 25.75 | 090
50900 |  | A | Repair of ureter | 13.62 | NA | NA | 7.81 | 8.57 | 0.98 | NA | NA | 22.41 | 23.17 | 090
50920 |  | A | Closure ureter/skin fistula | 14.33 | NA | NA | 8.70 | 9.11 | 0.84 | NA | NA | 23.87 | 24.28 | 090
50930 |  | A | Closure ureter/bowel fistula | 18.72 | NA | NA | 9.73 | 10.69 | 1.57 | NA | NA | 30.02 | 30.98 | 090
50940 |  | A | Release of ureter | 14.51 | NA | NA | 8.08 | 8.75 | 1.04 | NA | NA | 23.63 | 24.30 | 090
50945 |  | A | Laparoscopy ureterolithotomy | 17.00 | NA | NA | 7.36 | 7.36 | 1.15 | NA | NA | 25.51 | 25.51 | 090
50947 |  | A | Laparo new ureter/bladder | 24.50 | NA | NA | 11.62 | 11.62 | 1.84 | NA | NA | 37.96 | 37.96 | 090
50948 |  | A | Laparo new ureter/bladder | 22.50 | NA | NA | 10.51 | 10.51 | 1.70 | NA | NA | 34.71 | 34.71 | 090
50949 |  | C | Laparoscope proc, ureter | 0.00 | 0.00 | 0.00 | 0.00 | 0.00 | 0.00 | 0.00 | 0.00 | 0.00 | 0.00 | YYY
50951 |  | A | Endoscopy of ureter | 5.84 | 4.94 | 4.16 | 1.96 | 1.92 | 0.35 | 11.13 | 10.35 | 8.15 | 8.11 | 000
50953 |  | A | Endoscopy of ureter | 6.24 | 17.47 | 13.55 | 2.08 | 2.01 | 0.37 | 24.08 | 20.16 | 8.69 | 8.62 | 000
50955 |  | A | Ureter endoscopy & biopsy | 6.75 | 18.19 | 14.34 | 2.29 | 2.41 | 0.38 | 25.32 | 21.47 | 9.42 | 9.54 | 000
50957 |  | A | Ureter endoscopy & treatment | 6.79 | 17.76 | 14.00 | 2.28 | 2.39 | 0.40 | 24.95 | 21.19 | 9.47 | 9.58 | 000
50959 |  | A | Ureter endoscopy & tracer | 4.40 | NA | NA | 1.55 | 2.08 | 0.18 | NA | NA | 6.13 | 6.66 | 000
50961 |  | A | Ureter endoscopy & treatment | 6.05 | 21.84 | 17.09 | 2.05 | 2.25 | 0.35 | 28.24 | 23.49 | 8.45 | 8.65 | 000
50970 |  | A | Ureter endoscopy | 7.14 | NA | NA | 2.39 | 3.20 | 0.43 | NA | NA | 9.96 | 10.77 | 000
50972 |  | A | Ureter endoscopy & catheter | 6.89 | NA | NA | 2.35 | 2.18 | 0.39 | NA | NA | 9.63 | 9.46 | 000
50974 |  | A | Ureter endoscopy & biopsy | 9.17 | NA | NA | 3.01 | 4.16 | 0.53 | NA | NA | 12.71 | 13.86 | 000
50976 |  | A | Ureter endoscopy & treatment | 9.04 | NA | NA | 3.01 | 4.00 | 0.53 | NA | NA | 12.58 | 13.57 | 000
50978 |  | A | Ureter endoscopy & tracer | 5.10 | NA | NA | 1.75 | 2.41 | 0.30 | NA | NA | 7.15 | 7.81 | 000
50980 |  | A | Ureter endoscopy & treatment | 6.85 | NA | NA | 2.30 | 2.58 | 0.41 | NA | NA | 9.56 | 9.84 | 000
51000 |  | A | Drainage of bladder | 0.78 | 1.88 | 1.54 | 0.25 | 0.32 | 0.05 | 2.71 | 2.37 | 1.08 | 1.15 | 000
51005 |  | A | Drainage of bladder | 1.02 | 3.15 | 2.49 | 0.35 | 0.39 | 0.08 | 4.25 | 3.59 | 1.45 | 1.49 | 000
51010 |  | A | Drainage of bladder | 3.53 | 6.75 | 5.33 | 1.82 | 1.63 | 0.23 | 10.51 | 9.09 | 5.58 | 5.39 | 010
51020 |  | A | Incise & treat bladder | 6.71 | NA | NA | 5.29 | 5.83 | 0.42 | NA | NA | 12.42 | 12.96 | 090
51030 |  | A | Incise & treat bladder | 6.77 | NA | NA | 5.34 | 5.24 | 0.42 | NA | NA | 12.53 | 12.43 | 090
51040 |  | A | Incise & drain bladder | 4.40 | NA | NA | 4.11 | 4.40 | 0.27 | NA | NA | 8.78 | 9.07 | 090
51045 |  | A | Incise bladder/drain ureter | 6.77 | NA | NA | 5.59 | 5.54 | 0.47 | NA | NA | 12.83 | 12.78 | 090
51050 |  | A | Removal of bladder stone | 6.92 | NA | NA | 4.90 | 5.61 | 0.42 | NA | NA | 12.24 | 12.95 | 090
51060 |  | A | Removal of ureter stone | 8.85 | NA | NA | 6.04 | 7.17 | 0.54 | NA | NA | 15.43 | 16.56 | 090
51065 |  | A | Removal of ureter stone | 8.85 | NA | NA | 5.89 | 6.34 | 0.53 | NA | NA | 15.27 | 15.72 | 090
51080 |  | A | Drainage of bladder abscess | 5.96 | NA | NA | 5.32 | 5.40 | 0.35 | NA | NA | 11.63 | 11.71 | 090
51500 |  | A | Removal of bladder cyst | 10.14 | NA | NA | 5.95 | 6.32 | 0.88 | NA | NA | 16.97 | 17.34 | 090
51520 |  | A | Removal of bladder lesion | 9.29 | NA | NA | 6.08 | 6.88 | 0.58 | NA | NA | 15.95 | 16.75 | 090
51525 |  | A | Removal of bladder lesion | 13.97 | NA | NA | 7.68 | 8.66 | 0.85 | NA | NA | 22.50 | 23.48 | 090
51530 |  | A | Removal of bladder lesion | 12.38 | NA | NA | 7.26 | 7.96 | 0.82 | NA | NA | 20.46 | 21.16 | 090
51535 |  | A | Repair of ureter lesion | 12.57 | NA | NA | 7.57 | 7.76 | 0.90 | NA | NA | 21.04 | 21.23 | 090
51550 |  | A | Partial removal of bladder | 15.66 | NA | NA | 8.32 | 9.15 | 1.05 | NA | NA | 25.03 | 25.86 | 090
51555 |  | A | Partial removal of bladder | 21.23 | NA | NA | 10.57 | 11.26 | 1.37 | NA | NA | 33.17 | 33.86 | 090
51565 |  | A | Revise bladder & ureter(s) | 21.62 | NA | NA | 11.06 | 12.59 | 1.40 | NA | NA | 34.08 | 35.61 | 090
51570 |  | A | Removal of bladder | 24.24 | NA | NA | 12.23 | 13.42 | 1.59 | NA | NA | 38.06 | 39.25 | 090
51575 |  | A | Removal of bladder & nodes | 30.45 | NA | NA | 14.70 | 17.23 | 1.88 | NA | NA | 47.03 | 49.56 | 090
51580 |  | A | Remove bladder/revise tract | 31.08 | NA | NA | 15.23 | 16.84 | 1.94 | NA | NA | 48.25 | 49.86 | 090
51585 |  | A | Removal of bladder & nodes | 35.23 | NA | NA | 16.48 | 19.18 | 2.18 | NA | NA | 53.89 | 56.59 | 090
51590 |  | A | Remove bladder/revise tract | 32.66 | NA | NA | 15.38 | 18.19 | 2.01 | NA | NA | 50.05 | 52.86 | 090
51595 |  | A | Remove bladder/revise tract | 37.14 | NA | NA | 16.80 | 21.77 | 2.23 | NA | NA | 56.17 | 61.14 | 090
51596 |  | A | Remove bladder/create pouch | 39.52 | NA | NA | 18.04 | 23.00 | 2.39 | NA | NA | 59.95 | 64.91 | 090
51597 |  | A | Removal of pelvic structures | 38.35 | NA | NA | 17.84 | 21.69 | 2.49 | NA | NA | 58.68 | 62.53 | 090
51600 |  | A | Injection for bladder x-ray | 0.88 | 14.30 | 10.80 | 0.31 | 0.31 | 0.04 | 15.22 | 11.72 | 1.23 | 1.23 | 000
51605 |  | A | Preparation for bladder xray | 0.64 | 15.09 | 11.40 | 0.22 | 0.25 | 0.04 | 15.77 | 12.08 | 0.90 | 0.93 | 000
51610 |  | A | Injection for bladder x-ray | 1.05 | 14.73 | 11.12 | 0.36 | 0.34 | 0.05 | 15.83 | 12.22 | 1.46 | 1.44 | 000
51700 |  | A | Irrigation of bladder | 0.88 | 3.63 | 2.78 | 0.33 | 0.28 | 0.05 | 4.56 | 3.71 | 1.26 | 1.21 | 000
51705 |  | A | Change of bladder tube | 1.02 | 2.45 | 1.94 | 1.23 | 0.98 | 0.06 | 3.53 | 3.02 | 2.31 | 2.06 | 010
51710 |  | A | Change of bladder tube | 1.49 | 4.60 | 3.61 | 1.37 | 1.11 | 0.09 | 6.18 | 5.19 | 2.95 | 2.69 | 010
51715 |  | A | Endoscopic injection/implant | 3.74 | 4.09 | 3.79 | 1.27 | 1.67 | 0.24 | 8.07 | 7.77 | 5.25 | 5.65 | 000
51720 |  | A | Treatment of bladder lesion | 1.96 | 3.93 | 3.07 | 0.66 | 0.56 | 0.12 | 6.01 | 5.15 | 2.74 | 2.64 | 000
51725 |  | A | Simple cystometrogram | 1.51 | 5.33 | 4.27 | 5.33 | 4.27 | 0.13 | 6.97 | 5.91 | 6.97 | 5.91 | 000
51725 | 26 | A | Simple cystometrogram | 1.51 | 0.51 | 0.55 | 0.51 | 0.55 | 0.10 | 2.12 | 2.16 | 2.12 | 2.16 | 000
51725 | TC | A | Simple cystometrogram | 0.00 | 4.82 | 3.72 | NA | NA | 0.03 | 4.85 | 3.75 | NA | NA | 000
51726 |  | A | Complex cystometrogram | 1.71 | 4.20 | 3.51 | 4.20 | 3.51 | 0.15 | 6.06 | 5.37 | 6.06 | 5.37 | 000
51726 | 26 | A | Complex cystometrogram | 1.71 | 0.58 | 0.66 | 0.58 | 0.66 | 0.11 | 2.40 | 2.48 | 2.40 | 2.48 | 000
51726 | TC | A | Complex cystometrogram | 0.00 | 3.62 | 2.85 | NA | NA | 0.04 | 3.66 | 2.89 | NA | NA | 000
51736 |  | A | Urine flow measurement | 0.61 | 0.99 | 0.86 | 0.99 | 0.86 | 0.05 | 1.65 | 1.52 | 1.65 | 1.52 | 000
51736 | 26 | A | Urine flow measurement | 0.61 | 0.21 | 0.23 | 0.21 | 0.23 | 0.04 | 0.86 | 0.88 | 0.86 | 0.88 | 000
51736 | TC | A | Urine flow measurement | 0.00 | 0.78 | 0.63 | NA | NA | 0.01 | 0.79 | 0.64 | NA | NA | 000
51741 |  | A | Electro-uroflowmetry, first | 1.14 | 1.74 | 1.46 | 1.74 | 1.46 | 0.09 | 2.97 | 2.69 | 2.97 | 2.69 | 000
51741 | 26 | A | Electro-uroflowmetry, first | 1.14 | 0.39 | 0.39 | 0.39 | 0.39 | 0.07 | 1.60 | 1.60 | 1.60 | 1.60 | 000
51741 | TC | A | Electro-uroflowmetry, first | 0.00 | 1.35 | 1.07 | NA | NA | 0.02 | 1.37 | 1.09 | NA | NA | 000
51772 |  | A | Urethra pressure profile | 1.61 | 4.29 | 3.48 | 4.29 | 3.48 | 0.16 | 6.06 | 5.25 | 6.06 | 5.25 | 000
51772 | 26 | A | Urethra pressure profile | 1.61 | 0.57 | 0.57 | 0.57 | 0.57 | 0.12 | 2.30 | 2.30 | 2.30 | 2.30 | 000
51772 | TC | A | Urethra pressure profile | 0.00 | 3.72 | 2.91 | NA | NA | 0.04 | 3.76 | 2.95 | NA | NA | 000
51784 |  | A | Anal/urinary muscle study | 1.53 | 3.02 | 2.55 | 3.02 | 2.55 | 0.13 | 4.68 | 4.21 | 4.68 | 4.21 | 000
51784 | 26 | A | Anal/urinary muscle study | 1.53 | 0.52 | 0.57 | 0.52 | 0.57 | 0.10 | 2.15 | 2.20 | 2.15 | 2.20 | 000
51784 | TC | A | Anal/urinary muscle study | 0.00 | 2.50 | 1.98 | NA | NA | 0.03 | 2.53 | 2.01 | NA | NA | 000
51785 |  | A | Anal/urinary muscle study | 1.53 | 3.06 | 2.58 | 3.06 | 2.58 | 0.12 | 4.71 | 4.23 | 4.71 | 4.23 | 000
51785 | 26 | A | Anal/urinary muscle study | 1.53 | 0.52 | 0.57 | 0.52 | 0.57 | 0.09 | 2.14 | 2.19 | 2.14 | 2.19 | 000
51785 | TC | A | Anal/urinary muscle study | 0.00 | 2.54 | 2.01 | NA | NA | 0.03 | 2.57 | 2.04 | NA | NA | 000
51792 |  | A | Urinary reflex study | 1.10 | 1.83 | 1.90 | 1.83 | 1.90 | 0.20 | 3.13 | 3.20 | 3.13 | 3.20 | 000
51792 | 26 | A | Urinary reflex study | 1.10 | 0.44 | 0.49 | 0.44 | 0.49 | 0.09 | 1.63 | 1.68 | 1.63 | 1.68 | 000
51792 | TC | A | Urinary reflex study | 0.00 | 1.39 | 1.41 | NA | NA | 0.11 | 1.50 | 1.52 | NA | NA | 000
51795 |  | A | Urine voiding pressure study | 1.53 | 4.39 | 3.69 | 4.39 | 3.69 | 0.18 | 6.10 | 5.40 | 6.10 | 5.40 | 000
51795 | 26 | A | Urine voiding pressure study | 1.53 | 0.52 | 0.55 | 0.52 | 0.55 | 0.10 | 2.15 | 2.18 | 2.15 | 2.18 | 000
51795 | TC | A | Urine voiding pressure study | 0.00 | 3.87 | 3.14 | NA | NA | 0.08 | 3.95 | 3.22 | NA | NA | 000
51797 |  | A | Intraabdominal pressure test | 1.60 | 4.38 | 3.55 | 4.38 | 3.55 | 0.14 | 6.12 | 5.29 | 6.12 | 5.29 | 000
51797 | 26 | A | Intraabdominal pressure test | 1.60 | 0.55 | 0.55 | 0.55 | 0.55 | 0.10 | 2.25 | 2.25 | 2.25 | 2.25 | 000
51797 | TC | A | Intraabdominal pressure test | 0.00 | 3.83 | 3.00 | NA | NA | 0.04 | 3.87 | 3.04 | NA | NA | 000
51800 |  | A | Revision of bladder/urethra | 17.42 | NA | NA | 9.12 | 10.10 | 1.17 | NA | NA | 27.71 | 28.69 | 090
51820 |  | A | Revision of urinary tract | 17.89 | NA | NA | 10.45 | 9.84 | 1.45 | NA | NA | 29.79 | 29.18 | 090
51840 |  | A | Attach bladder/urethra | 10.71 | NA | NA | 6.41 | 7.31 | 0.87 | NA | NA | 17.99 | 18.89 | 090
51841 |  | A | Attach bladder/urethra | 13.03 | NA | NA | 8.03 | 9.01 | 1.04 | NA | NA | 22.10 | 23.08 | 090
51845 |  | A | Repair bladder neck | 9.73 | NA | NA | 6.40 | 7.70 | 0.62 | NA | NA | 16.75 | 18.05 | 090
51860 |  | A | Repair of bladder wound | 12.02 | NA | NA | 7.57 | 7.75 | 0.89 | NA | NA | 20.48 | 20.66 | 090
51865 |  | A | Repair of bladder wound | 15.04 | NA | NA | 8.46 | 9.32 | 1.01 | NA | NA | 24.51 | 25.37 | 090
51880 |  | A | Repair of bladder opening | 7.66 | NA | NA | 5.43 | 5.42 | 0.54 | NA | NA | 13.63 | 13.62 | 090
51900 |  | A | Repair bladder/vagina lesion | 12.97 | NA | NA | 7.81 | 9.02 | 0.87 | NA | NA | 21.65 | 22.86 | 090
51920 |  | A | Close bladder-uterus fistula | 11.81 | NA | NA | 7.48 | 7.65 | 0.86 | NA | NA | 20.15 | 20.32 | 090
51925 |  | A | Hysterectomy/bladder repair | 15.58 | NA | NA | 8.90 | 9.41 | 1.48 | NA | NA | 25.96 | 26.47 | 090
51940 |  | A | Correction of bladder defect | 28.43 | NA | NA | 14.24 | 15.82 | 1.97 | NA | NA | 44.64 | 46.22 | 090
51960 |  | A | Revision of bladder & bowel | 23.01 | NA | NA | 12.44 | 15.14 | 1.41 | NA | NA | 36.86 | 39.56 | 090
51980 |  | A | Construct bladder opening | 11.36 | NA | NA | 6.95 | 7.24 | 0.74 | NA | NA | 19.05 | 19.34 | 090
51990 |  | A | Laparo urethral suspension | 12.50 | NA | NA | 6.28 | 6.28 | 1.02 | NA | NA | 19.80 | 19.80 | 090
51992 |  | A | Laparo sling operation | 14.01 | NA | NA | 6.39 | 6.39 | 0.93 | NA | NA | 21.33 | 21.33 | 090
52000 |  | A | Cystoscopy | 2.01 | 3.14 | 2.72 | 0.67 | 0.68 | 0.12 | 5.27 | 4.85 | 2.80 | 2.81 | 000
52005 |  | A | Cystoscopy & ureter catheter | 2.37 | 4.86 | 4.24 | 0.79 | 1.19 | 0.15 | 7.38 | 6.76 | 3.31 | 3.71 | 000
52007 |  | A | Cystoscopy and biopsy | 3.02 | NA | NA | 1.01 | 1.52 | 0.18 | NA | NA | 4.21 | 4.72 | 000
52010 |  | A | Cystoscopy & duct catheter | 3.02 | 5.21 | 4.42 | 1.01 | 1.02 | 0.18 | 8.41 | 7.62 | 4.21 | 4.22 | 000
52204 |  | A | Cystoscopy | 2.37 | 5.57 | 4.82 | 0.79 | 1.24 | 0.15 | 8.09 | 7.34 | 3.31 | 3.76 | 000
52214 |  | A | Cystoscopy and treatment | 3.71 | 5.94 | 5.22 | 1.24 | 1.69 | 0.22 | 9.87 | 9.15 | 5.17 | 5.62 | 000
52224 |  | A | Cystoscopy and treatment | 3.14 | 5.79 | 5.13 | 1.05 | 1.58 | 0.18 | 9.11 | 8.45 | 4.37 | 4.90 | 000
52234 |  | A | Cystoscopy and treatment | 4.63 | 6.70 | 6.30 | 1.55 | 2.44 | 0.27 | 11.60 | 11.20 | 6.45 | 7.34 | 000
52235 |  | A | Cystoscopy and treatment | 5.45 | 6.99 | 6.87 | 1.82 | 2.99 | 0.32 | 12.76 | 12.64 | 7.59 | 8.76 | 000
52240 |  | A | Cystoscopy and treatment | 9.72 | 8.41 | 9.20 | 3.24 | 5.32 | 0.58 | 18.71 | 19.50 | 13.54 | 15.62 | 000
52250 |  | A | Cystoscopy and radiotracer | 4.50 | NA | NA | 1.50 | 1.90 | 0.27 | NA | NA | 6.27 | 6.67 | 000
52260 |  | A | Cystoscopy and treatment | 3.92 | NA | NA | 1.31 | 1.56 | 0.23 | NA | NA | 5.46 | 5.71 | 000
52265 |  | A | Cystoscopy and treatment | 2.94 | 3.55 | 3.03 | 0.99 | 0.93 | 0.18 | 6.67 | 6.15 | 4.11 | 4.05 | 000
52270 |  | A | Cystoscopy & revise urethra | 3.37 | 6.32 | 5.68 | 1.13 | 1.79 | 0.20 | 9.89 | 9.25 | 4.70 | 5.36 | 000
52275 |  | A | Cystoscopy & revise urethra | 4.70 | 6.81 | 6.04 | 1.56 | 2.10 | 0.28 | 11.79 | 11.02 | 6.54 | 7.08 | 000
52276 |  | A | Cystoscopy and treatment | 5.00 | 6.92 | 6.43 | 1.66 | 2.49 | 0.30 | 12.22 | 11.73 | 6.96 | 7.79 | 000
52277 |  | A | Cystoscopy and treatment | 6.17 | NA | NA | 2.10 | 2.88 | 0.38 | NA | NA | 8.65 | 9.43 | 000
52281 |  | A | Cystoscopy and treatment | 2.80 | 3.56 | 3.30 | 0.93 | 1.01 | 0.17 | 6.53 | 6.27 | 3.90 | 3.98 | 000
52282 |  | A | Cystoscopy, implant stent | 6.40 | 7.07 | 6.55 | 2.14 | 2.85 | 0.38 | 13.85 | 13.33 | 8.92 | 9.63 | 000
52283 |  | A | Cystoscopy and treatment | 3.74 | 6.21 | 5.07 | 1.25 | 1.35 | 0.22 | 10.17 | 9.03 | 5.21 | 5.31 | 000
52285 |  | A | Cystoscopy and treatment | 3.61 | 6.41 | 5.61 | 1.21 | 1.31 | 0.22 | 10.24 | 9.44 | 5.04 | 5.14 | 000
52290 |  | A | Cystoscopy and treatment | 4.59 | NA | NA | 1.54 | 1.79 | 0.27 | NA | NA | 6.40 | 6.65 | 000
52300 |  | A | Cystoscopy and treatment | 5.31 | NA | NA | 1.77 | 2.27 | 0.32 | NA | NA | 7.40 | 7.90 | 000
52301 |  | A | Cystoscopy and treatment | 5.51 | NA | NA | 1.78 | 2.28 | 0.39 | NA | NA | 7.68 | 8.18 | 000
52305 |  | A | Cystoscopy and treatment | 5.31 | NA | NA | 1.77 | 2.28 | 0.31 | NA | NA | 7.39 | 7.90 | 000
52310 |  | A | Cystoscopy and treatment | 2.81 | 13.89 | 11.23 | 0.94 | 1.52 | 0.17 | 16.87 | 14.21 | 3.92 | 4.50 | 000
52315 |  | A | Cystoscopy and treatment | 5.21 | 14.86 | 12.25 | 1.74 | 2.41 | 0.31 | 20.38 | 17.77 | 7.26 | 7.93 | 000
52317 |  | A | Remove bladder stone | 6.72 | 25.37 | 20.71 | 2.24 | 3.36 | 0.40 | 32.49 | 27.83 | 9.36 | 10.48 | 000
52318 |  | A | Remove bladder stone | 9.19 | NA | NA | 3.07 | 4.44 | 0.54 | NA | NA | 12.80 | 14.17 | 000
52320 |  | A | Cystoscopy and treatment | 4.70 | NA | NA | 1.57 | 2.50 | 0.28 | NA | NA | 6.55 | 7.48 | 000
52325 |  | A | Cystoscopy, stone removal | 6.16 | NA | NA | 2.05 | 3.38 | 0.37 | NA | NA | 8.58 | 9.91 | 000
52327 |  | A | Cystoscopy, inject material | 5.19 | NA | NA | 1.75 | 2.31 | 0.32 | NA | NA | 7.26 | 7.82 | 000
52330 |  | A | Cystoscopy and treatment | 5.04 | 18.77 | 15.02 | 1.68 | 2.20 | 0.30 | 24.11 | 20.36 | 7.02 | 7.54 | 000
52332 |  | A | Cystoscopy and treatment | 2.83 | 28.13 | 21.97 | 0.95 | 1.56 | 0.17 | 31.13 | 24.97 | 3.95 | 4.56 | 000
52334 |  | A | Create passage to kidney | 4.83 | NA | NA | 1.62 | 2.12 | 0.28 | NA | NA | 6.73 | 7.23 | 000
52335 |  | D | Endoscopy of urinary tract | 0.00 | NA | NA | 0.00 | 0.00 | 0.00 | NA | NA | 0.00 | 0.00 | 000
52336 |  | D | Cystoscopy, stone removal | 0.00 | NA | NA | 0.00 | 0.00 | 0.00 | NA | NA | 0.00 | 0.00 | 000
52337 |  | D | Cystoscopy, stone removal | 0.00 | NA | NA | 0.00 | 0.00 | 0.00 | NA | NA | 0.00 | 0.00 | 000
52338 |  | D | Cystoscopy and treatment | 0.00 | NA | NA | 0.00 | 0.00 | 0.00 | NA | NA | 0.00 | 0.00 | 000
52339 |  | D | Cystoscopy and treatment | 0.00 | NA | NA | 0.00 | 0.00 | 0.00 | NA | NA | 0.00 | 0.00 | 000
52340 |  | D | Cystoscopy and treatment | 0.00 | NA | NA | 0.00 | 0.00 | 0.00 | NA | NA | 0.00 | 0.00 | 090
52341 |  | A | Cysto w/ureter stricture tx | 6.00 | NA | NA | 2.40 | 2.40 | 0.34 | NA | NA | 8.74 | 8.74 | 000
52342 |  | A | Cysto w/up stricture tx | 6.50 | NA | NA | 2.60 | 2.60 | 0.36 | NA | NA | 9.46 | 9.46 | 000
52343 |  | A | Cysto w/renal stricture tx | 7.20 | NA | NA | 2.88 | 2.88 | 0.40 | NA | NA | 10.48 | 10.48 | 000
52344 |  | A | Cysto/uretero, stone remove | 7.70 | NA | NA | 3.08 | 3.08 | 0.42 | NA | NA | 11.20 | 11.20 | 000
52345 |  | A | Cysto/uretero w/up stricture | 8.20 | NA | NA | 3.28 | 3.28 | 0.46 | NA | NA | 11.94 | 11.94 | 000
52346 |  | A | Cystouretero w/renal strict | 9.23 | NA | NA | 3.69 | 3.69 | 0.51 | NA | NA | 13.43 | 13.43 | 000
52351 |  | A | Cystouretro & or pyeloscope | 5.86 | NA | NA | 1.96 | 2.74 | 0.32 | NA | NA | 8.14 | 8.92 | 000
52352 |  | A | Cystouretro w/stone remove | 6.88 | NA | NA | 2.30 | 3.78 | 0.38 | NA | NA | 9.56 | 11.04 | 000
52353 |  | A | Cystouretero w/lithotripsy | 7.97 | NA | NA | 2.66 | 4.38 | 0.44 | NA | NA | 11.07 | 12.79 | 000
52354 |  | A | Cystouretero w/biopsy | 7.34 | NA | NA | 2.45 | 3.44 | 0.41 | NA | NA | 10.20 | 11.19 | 000
52355 |  | A | Cystouretero w/excise tumor | 8.82 | NA | NA | 2.95 | 3.82 | 0.50 | NA | NA | 12.27 | 13.14 | 000
52400 |  | A | Cystouretero w/congen repr | 9.68 | NA | NA | 5.36 | 5.42 | 0.53 | NA | NA | 15.57 | 15.63 | 090
52450 |  | A | Incision of prostate | 7.64 | NA | NA | 6.05 | 5.89 | 0.46 | NA | NA | 14.15 | 13.99 | 090
52500 |  | A | Revision of bladder neck | 8.47 | NA | NA | 6.31 | 6.75 | 0.50 | NA | NA | 15.28 | 15.72 | 090
52510 |  | A | Dilation prostatic urethra | 6.72 | NA | NA | 5.39 | 6.05 | 0.40 | NA | NA | 12.51 | 13.17 | 090
52601 |  | A | Prostatectomy (TURP) | 12.37 | NA | NA | 7.63 | 8.94 | 0.74 | NA | NA | 20.74 | 22.05 | 090
52606 |  | A | Control postop bleeding | 8.13 | NA | NA | 5.82 | 5.27 | 0.49 | NA | NA | 14.44 | 13.89 | 090
52612 |  | A | Prostatectomy, first stage | 7.98 | NA | NA | 6.17 | 7.01 | 0.48 | NA | NA | 14.63 | 15.47 | 090
52614 |  | A | Prostatectomy, second stage | 6.84 | NA | NA | 5.77 | 6.25 | 0.41 | NA | NA | 13.02 | 13.50 | 090
52620 |  | A | Remove residual prostate | 6.61 | NA | NA | 5.71 | 5.73 | 0.39 | NA | NA | 12.71 | 12.73 | 090
52630 |  | A | Remove prostate regrowth | 7.26 | NA | NA | 5.93 | 6.62 | 0.43 | NA | NA | 13.62 | 14.31 | 090
52640 |  | A | Relieve bladder contracture | 6.62 | NA | NA | 5.29 | 5.71 | 0.39 | NA | NA | 12.30 | 12.72 | 090
52647 |  | A | Laser surgery of prostate | 10.36 | 56.13 | 45.19 | 5.26 | 7.04 | 0.61 | 67.10 | 56.16 | 16.23 | 18.01 | 090
52648 |  | A | Laser surgery of prostate | 11.21 | NA | NA | 7.26 | 8.67 | 0.66 | NA | NA | 19.13 | 20.54 | 090
52700 |  | A | Drainage of prostate abscess | 6.80 | NA | NA | 5.85 | 5.28 | 0.41 | NA | NA | 13.06 | 12.49 | 090
53000 |  | A | Incision of urethra | 2.28 | 7.09 | 5.80 | 2.42 | 2.29 | 0.13 | 9.50 | 8.21 | 4.83 | 4.70 | 010
53010 |  | A | Incision of urethra | 3.64 | NA | NA | 3.89 | 3.87 | 0.20 | NA | NA | 7.73 | 7.71 | 090
53020 |  | A | Incision of urethra | 1.77 | 3.78 | 3.06 | 0.65 | 0.71 | 0.11 | 5.66 | 4.94 | 2.53 | 2.59 | 000
53025 |  | A | Incision of urethra | 1.13 | 4.32 | 3.46 | 0.43 | 0.54 | 0.07 | 5.52 | 4.66 | 1.63 | 1.74 | 000
53040 |  | A | Drainage of urethra abscess | 6.40 | 12.36 | 9.77 | 7.76 | 6.32 | 0.41 | 19.17 | 16.58 | 14.57 | 13.13 | 090
53060 |  | A | Drainage of urethra abscess | 2.63 | 5.98 | 4.62 | 2.92 | 2.33 | 0.23 | 8.84 | 7.48 | 5.78 | 5.19 | 010
53080 |  | A | Drainage of urinary leakage | 6.29 | NA | NA | 7.62 | 6.80 | 0.42 | NA | NA | 14.33 | 13.51 | 090
53085 |  | A | Drainage of urinary leakage | 10.27 | NA | NA | 9.13 | 8.68 | 0.67 | NA | NA | 20.07 | 19.62 | 090
53200 |  | A | Biopsy of urethra | 2.59 | 5.09 | 4.12 | 0.95 | 1.01 | 0.17 | 7.85 | 6.88 | 3.71 | 3.77 | 000
53210 |  | A | Removal of urethra | 12.57 | NA | NA | 7.58 | 7.49 | 0.81 | NA | NA | 20.96 | 20.87 | 090
53215 |  | A | Removal of urethra | 15.58 | NA | NA | 8.32 | 8.95 | 0.93 | NA | NA | 24.83 | 25.46 | 090
53220 |  | A | Treatment of urethra lesion | 7.00 | NA | NA | 5.21 | 5.20 | 0.44 | NA | NA | 12.65 | 12.64 | 090
53230 |  | A | Removal of urethra lesion | 9.58 | NA | NA | 5.98 | 6.64 | 0.60 | NA | NA | 16.16 | 16.82 | 090
53235 |  | A | Removal of urethra lesion | 10.14 | NA | NA | 6.17 | 5.99 | 0.60 | NA | NA | 16.91 | 16.73 | 090
53240 |  | A | Surgery for urethra pouch | 6.45 | NA | NA | 4.83 | 4.80 | 0.42 | NA | NA | 11.70 | 11.67 | 090
53250 |  | A | Removal of urethra gland | 5.89 | NA | NA | 4.15 | 4.21 | 0.35 | NA | NA | 10.39 | 10.45 | 090
53260 |  | A | Treatment of urethra lesion | 2.98 | 5.60 | 4.51 | 2.27 | 2.01 | 0.23 | 8.81 | 7.72 | 5.48 | 5.22 | 010
53265 |  | A | Treatment of urethra lesion | 3.12 | 5.98 | 5.00 | 2.24 | 2.19 | 0.20 | 9.30 | 8.32 | 5.56 | 5.51 | 010
53270 |  | A | Removal of urethra gland | 3.09 | 5.40 | 4.28 | 2.34 | 1.87 | 0.21 | 8.70 | 7.58 | 5.64 | 5.17 | 010
53275 |  | A | Repair of urethra defect | 4.53 | NA | NA | 3.17 | 3.02 | 0.28 | NA | NA | 7.98 | 7.83 | 010
53400 |  | A | Revise urethra, stage 1 | 12.77 | NA | NA | 7.62 | 7.74 | 0.85 | NA | NA | 21.24 | 21.36 | 090
53405 |  | A | Revise urethra, stage 2 | 14.48 | NA | NA | 8.03 | 8.84 | 0.91 | NA | NA | 23.42 | 24.23 | 090
53410 |  | A | Reconstruction of urethra | 16.44 | NA | NA | 8.61 | 8.78 | 0.99 | NA | NA | 26.04 | 26.21 | 090
53415 |  | A | Reconstruction of urethra | 19.41 | NA | NA | 9.51 | 10.35 | 1.16 | NA | NA | 30.08 | 30.92 | 090
53420 |  | A | Reconstruct urethra, stage 1 | 14.08 | NA | NA | 8.24 | 9.13 | 0.90 | NA | NA | 23.22 | 24.11 | 090
53425 |  | A | Reconstruct urethra, stage 2 | 15.98 | NA | NA | 8.71 | 9.04 | 0.97 | NA | NA | 25.66 | 25.99 | 090
53430 |  | A | Reconstruction of urethra | 16.34 | NA | NA | 8.72 | 8.48 | 1.01 | NA | NA | 26.07 | 25.83 | 090
53440 |  | A | Correct bladder function | 12.34 | NA | NA | 7.55 | 9.23 | 0.73 | NA | NA | 20.62 | 22.30 | 090
53442 |  | A | Remove perineal prosthesis | 8.27 | NA | NA | 5.68 | 5.85 | 0.55 | NA | NA | 14.50 | 14.67 | 090
53443 |  | A | Reconstruction of urethra | 19.89 | NA | NA | 9.33 | 9.72 | 1.25 | NA | NA | 30.47 | 30.86 | 090
53445 |  | A | Correct urine flow control | 14.06 | NA | NA | 8.14 | 10.30 | 0.84 | NA | NA | 23.04 | 25.20 | 090
53447 |  | A | Remove artificial sphincter | 13.17 | NA | NA | 7.45 | 8.07 | 0.79 | NA | NA | 21.41 | 22.03 | 090
53449 |  | A | Correct artificial sphincter | 9.70 | NA | NA | 6.27 | 6.99 | 0.57 | NA | NA | 16.54 | 17.26 | 090
53450 |  | A | Revision of urethra | 6.14 | NA | NA | 4.76 | 4.31 | 0.37 | NA | NA | 11.27 | 10.82 | 090
53460 |  | A | Revision of urethra | 7.12 | NA | NA | 5.13 | 4.51 | 0.43 | NA | NA | 12.68 | 12.06 | 090
53502 |  | A | Repair of urethra injury | 7.63 | NA | NA | 5.31 | 5.33 | 0.50 | NA | NA | 13.44 | 13.46 | 090
53505 |  | A | Repair of urethra injury | 7.63 | NA | NA | 5.26 | 5.35 | 0.46 | NA | NA | 13.35 | 13.44 | 090
53510 |  | A | Repair of urethra injury | 10.11 | NA | NA | 6.33 | 6.64 | 0.60 | NA | NA | 17.04 | 17.35 | 090
53515 |  | A | Repair of urethra injury | 13.31 | NA | NA | 7.24 | 7.88 | 0.83 | NA | NA | 21.38 | 22.02 | 090
53520 |  | A | Repair of urethra defect | 8.68 | NA | NA | 5.72 | 5.89 | 0.53 | NA | NA | 14.93 | 15.10 | 090
53600 |  | A | Dilate urethra stricture | 1.21 | 3.83 | 2.96 | 0.50 | 0.42 | 0.07 | 5.11 | 4.24 | 1.78 | 1.70 | 000
53601 |  | A | Dilate urethra stricture | 0.98 | 3.76 | 2.90 | 0.42 | 0.36 | 0.06 | 4.80 | 3.94 | 1.46 | 1.40 | 000
53605 |  | A | Dilate urethra stricture | 1.28 | NA | NA | 0.43 | 0.45 | 0.08 | NA | NA | 1.79 | 1.81 | 000
53620 |  | A | Dilate urethra stricture | 1.62 | 5.67 | 4.38 | 0.54 | 0.47 | 0.10 | 7.39 | 6.10 | 2.26 | 2.19 | 000
53621 |  | A | Dilate urethra stricture | 1.35 | 5.69 | 4.37 | 0.45 | 0.39 | 0.08 | 7.12 | 5.80 | 1.88 | 1.82 | 000
53660 |  | A | Dilation of urethra | 0.71 | 3.61 | 2.78 | 0.34 | 0.29 | 0.04 | 4.36 | 3.53 | 1.09 | 1.04 | 000
53661 |  | A | Dilation of urethra | 0.72 | 3.66 | 2.81 | 0.24 | 0.22 | 0.04 | 4.42 | 3.57 | 1.00 | 0.98 | 000
53665 |  | A | Dilation of urethra | 0.76 | NA | NA | 0.26 | 0.29 | 0.05 | NA | NA | 1.07 | 1.10 | 000
53670 |  | A | Insert urinary catheter | 0.50 | 3.37 | 2.59 | 0.21 | 0.19 | 0.03 | 3.90 | 3.12 | 0.74 | 0.72 | 000
53675 |  | A | Insert urinary catheter | 1.47 | 4.57 | 3.56 | 0.48 | 0.49 | 0.09 | 6.13 | 5.12 | 2.04 | 2.05 | 000
53850 |  | A | Prostatic microwave thermotx | 9.45 | 80.63 | 62.29 | 4.92 | 5.51 | 0.56 | 90.64 | 72.30 | 14.93 | 15.52 | 090
53852 |  | A | Prostatic rf thermotx | 9.88 | 69.08 | 53.71 | 5.17 | 5.78 | 0.58 | 79.54 | 64.17 | 15.63 | 16.24 | 090
53899 |  | C | Urology surgery procedure | 0.00 | 0.00 | 0.00 | 0.00 | 0.00 | 0.00 | 0.00 | 0.00 | 0.00 | 0.00 | YYY
54000 |  | A | Slitting of prepuce | 1.54 | 5.25 | 4.11 | 1.37 | 1.20 | 0.10 | 6.89 | 5.75 | 3.01 | 2.84 | 010
54001 |  | A | Slitting of prepuce | 2.19 | 5.86 | 4.62 | 1.98 | 1.71 | 0.14 | 8.19 | 6.95 | 4.31 | 4.04 | 010
54015 |  | A | Drain penis lesion | 5.32 | 6.68 | 5.24 | 3.04 | 2.51 | 0.33 | 12.33 | 10.89 | 8.69 | 8.16 | 010
54050 |  | A | Destruction, penis lesion(s) | 1.24 | 2.62 | 2.07 | 0.50 | 0.43 | 0.07 | 3.93 | 3.38 | 1.81 | 1.74 | 010
54055 |  | A | Destruction, penis lesion(s) | 1.22 | 6.32 | 4.91 | 1.38 | 1.12 | 0.07 | 7.61 | 6.20 | 2.67 | 2.41 | 010
54056 |  | A | Cryosurgery, penis lesion(s) | 1.24 | 2.95 | 2.36 | 0.53 | 0.47 | 0.06 | 4.25 | 3.66 | 1.83 | 1.77 | 010
54057 |  | A | Laser surg, penis lesion(s) | 1.24 | 2.88 | 2.57 | 1.28 | 1.33 | 0.08 | 4.20 | 3.89 | 2.60 | 2.65 | 010
54060 |  | A | Excision of penis lesion(s) | 1.93 | 5.24 | 4.25 | 1.54 | 1.47 | 0.12 | 7.29 | 6.30 | 3.59 | 3.52 | 010
54065 |  | A | Destruction, penis lesion(s) | 2.42 | 5.25 | 4.61 | 2.05 | 1.87 | 0.13 | 7.80 | 7.16 | 4.60 | 4.42 | 010
54100 |  | A | Biopsy of penis | 1.90 | 3.54 | 2.83 | 0.74 | 0.73 | 0.10 | 5.54 | 4.83 | 2.74 | 2.73 | 000
54105 |  | A | Biopsy of penis | 3.50 | 6.09 | 4.84 | 2.06 | 1.82 | 0.21 | 9.80 | 8.55 | 5.77 | 5.53 | 010
54110 |  | A | Treatment of penis lesion | 10.13 | NA | NA | 7.61 | 7.34 | 0.60 | NA | NA | 18.34 | 18.07 | 090
54111 |  | A | Treat penis lesion, graft | 13.57 | NA | NA | 8.67 | 8.99 | 0.79 | NA | NA | 23.03 | 23.35 | 090
54112 |  | A | Treat penis lesion, graft | 15.86 | NA | NA | 9.50 | 10.07 | 0.94 | NA | NA | 26.30 | 26.87 | 090
54115 |  | A | Treatment of penis lesion | 6.15 | 10.02 | 8.65 | 6.35 | 5.90 | 0.39 | 16.56 | 15.19 | 12.89 | 12.44 | 090
54120 |  | A | Partial removal of penis | 9.97 | NA | NA | 7.55 | 7.42 | 0.60 | NA | NA | 18.12 | 17.99 | 090
54125 |  | A | Removal of penis | 13.53 | NA | NA | 8.71 | 9.67 | 0.81 | NA | NA | 23.05 | 24.01 | 090
54130 |  | A | Remove penis & nodes | 20.14 | NA | NA | 11.19 | 12.37 | 1.19 | NA | NA | 32.52 | 33.70 | 090
54135 |  | A | Remove penis & nodes | 26.36 | NA | NA | 13.34 | 14.82 | 1.58 | NA | NA | 41.28 | 42.76 | 090
54150 |  | A | Circumcision | 1.81 | 7.59 | 5.84 | 1.81 | 1.51 | 0.17 | 9.57 | 7.82 | 3.79 | 3.49 | 010
54152 |  | A | Circumcision | 2.31 | NA | NA | 1.69 | 1.76 | 0.16 | NA | NA | 4.16 | 4.23 | 010
54160 |  | A | Circumcision | 2.48 | 5.72 | 4.74 | 1.68 | 1.71 | 0.16 | 8.36 | 7.38 | 4.32 | 4.35 | 010
54161 |  | A | Circumcision | 3.27 | NA | NA | 1.97 | 2.07 | 0.20 | NA | NA | 5.44 | 5.54 | 010
54200 |  | A | Treatment of penis lesion | 1.06 | 2.56 | 2.01 | 0.37 | 0.32 | 0.06 | 3.68 | 3.13 | 1.49 | 1.44 | 010
54205 |  | A | Treatment of penis lesion | 7.93 | NA | NA | 7.03 | 6.66 | 0.47 | NA | NA | 15.43 | 15.06 | 090
54220 |  | A | Treatment of penis lesion | 2.42 | 1.91 | 1.86 | 0.99 | 1.17 | 0.15 | 4.48 | 4.43 | 3.56 | 3.74 | 000
54230 |  | A | Prepare penis study | 1.34 | NA | NA | 0.45 | 0.52 | 0.08 | NA | NA | 1.87 | 1.94 | 000
54231 |  | A | Dynamic cavernosometry | 2.04 | 2.13 | 1.99 | 0.79 | 0.98 | 0.14 | 4.31 | 4.17 | 2.97 | 3.16 | 000
54235 |  | A | Penile injection | 1.19 | 1.09 | 0.94 | 0.40 | 0.36 | 0.07 | 2.35 | 2.20 | 1.66 | 1.62 | 000
54240 |  | A | Penis study | 1.31 | 1.18 | 1.16 | 1.18 | 1.16 | 0.13 | 2.62 | 2.60 | 2.62 | 2.60 | 000
54240 | 26 | A | Penis study | 1.31 | 0.45 | 0.48 | 0.45 | 0.48 | 0.08 | 1.84 | 1.87 | 1.84 | 1.87 | 000
54240 | TC | A | Penis study | 0.00 | 0.73 | 0.68 | NA | NA | 0.05 | 0.78 | 0.73 | NA | NA | 000
54250 |  | A | Penis study | 2.22 | 3.51 | 2.85 | 3.51 | 2.85 | 0.16 | 5.89 | 5.23 | 5.89 | 5.23 | 000
54250 | 26 | A | Penis study | 2.22 | 0.75 | 0.70 | 0.75 | 0.70 | 0.14 | 3.11 | 3.06 | 3.11 | 3.06 | 000
54250 | TC | A | Penis study | 0.00 | 2.76 | 2.15 | NA | NA | 0.02 | 2.78 | 2.17 | NA | NA | 000
54300 |  | A | Revision of penis | 10.41 | NA | NA | 8.26 | 8.06 | 0.64 | NA | NA | 19.31 | 19.11 | 090
54304 |  | A | Revision of penis | 12.49 | NA | NA | 9.26 | 9.30 | 0.74 | NA | NA | 22.49 | 22.53 | 090
54308 |  | A | Reconstruction of urethra | 11.83 | NA | NA | 8.99 | 8.33 | 0.70 | NA | NA | 21.52 | 20.86 | 090
54312 |  | A | Reconstruction of urethra | 13.57 | NA | NA | 10.08 | 10.10 | 0.81 | NA | NA | 24.46 | 24.48 | 090
54316 |  | A | Reconstruction of urethra | 16.82 | NA | NA | 11.53 | 11.73 | 1.00 | NA | NA | 29.35 | 29.55 | 090
54318 |  | A | Reconstruction of urethra | 11.25 | NA | NA | 9.09 | 8.86 | 1.15 | NA | NA | 21.49 | 21.26 | 090
54322 |  | A | Reconstruction of urethra | 13.01 | NA | NA | 8.60 | 8.52 | 0.77 | NA | NA | 22.38 | 22.30 | 090
54324 |  | A | Reconstruction of urethra | 16.31 | NA | NA | 11.30 | 11.46 | 1.03 | NA | NA | 28.64 | 28.80 | 090
54326 |  | A | Reconstruction of urethra | 15.72 | NA | NA | 9.93 | 10.30 | 0.93 | NA | NA | 26.58 | 26.95 | 090
54328 |  | A | Revise penis/urethra | 15.65 | NA | NA | 10.26 | 10.60 | 0.92 | NA | NA | 26.83 | 27.17 | 090
54332 |  | A | Revise penis/urethra | 17.08 | NA | NA | 11.62 | 12.11 | 1.01 | NA | NA | 29.71 | 30.20 | 090
54336 |  | A | Revise penis/urethra | 20.04 | NA | NA | 16.04 | 17.13 | 1.90 | NA | NA | 37.98 | 39.07 | 090
54340 |  | A | Secondary urethral surgery | 8.91 | NA | NA | 7.65 | 7.39 | 0.72 | NA | NA | 17.28 | 17.02 | 090
54344 |  | A | Secondary urethral surgery | 15.94 | NA | NA | 11.43 | 13.08 | 1.10 | NA | NA | 28.47 | 30.12 | 090
54348 |  | A | Secondary urethral surgery | 17.15 | NA | NA | 12.49 | 12.52 | 1.02 | NA | NA | 30.66 | 30.69 | 090
54352 |  | A | Reconstruct urethra/penis | 24.74 | NA | NA | 15.08 | 15.70 | 1.62 | NA | NA | 41.44 | 42.06 | 090
54360 |  | A | Penis plastic surgery | 11.93 | NA | NA | 8.13 | 8.00 | 0.72 | NA | NA | 20.78 | 20.65 | 090
54380 |  | A | Repair penis | 13.18 | NA | NA | 9.10 | 9.38 | 1.16 | NA | NA | 23.44 | 23.72 | 090
54385 |  | A | Repair penis | 15.39 | NA | NA | 11.08 | 11.15 | 0.71 | NA | NA | 27.18 | 27.25 | 090
54390 |  | A | Repair penis and bladder | 21.61 | NA | NA | 13.28 | 13.64 | 1.28 | NA | NA | 36.17 | 36.53 | 090
54400 |  | A | Insert semi-rigid prosthesis | 8.99 | NA | NA | 6.01 | 7.19 | 0.53 | NA | NA | 15.53 | 16.71 | 090
54401 |  | A | Insert self-contd prosthesis | 10.28 | NA | NA | 6.82 | 8.18 | 0.61 | NA | NA | 17.71 | 19.07 | 090
54402 |  | A | Remove penis prosthesis | 9.21 | NA | NA | 6.13 | 6.23 | 0.55 | NA | NA | 15.89 | 15.99 | 090
54405 |  | A | Insert multi-comp prosthesis | 13.43 | NA | NA | 7.92 | 9.95 | 0.80 | NA | NA | 22.15 | 24.18 | 090
54407 |  | A | Remove multi-comp prosthesis | 13.34 | NA | NA | 7.51 | 8.68 | 0.80 | NA | NA | 21.65 | 22.82 | 090
54409 |  | A | Revise penis prosthesis | 12.20 | NA | NA | 7.26 | 7.88 | 0.73 | NA | NA | 20.19 | 20.81 | 090
54420 |  | A | Revision of penis | 11.42 | NA | NA | 8.04 | 8.13 | 0.72 | NA | NA | 20.18 | 20.27 | 090
54430 |  | A | Revision of penis | 10.15 | NA | NA | 7.58 | 7.58 | 0.60 | NA | NA | 18.33 | 18.33 | 090
54435 |  | A | Revision of penis | 6.12 | NA | NA | 5.67 | 5.38 | 0.36 | NA | NA | 12.15 | 11.86 | 090
54440 |  | C | Repair of penis | 0.00 | 0.00 | 0.00 | 0.00 | 0.00 | 0.00 | 0.00 | 0.00 | 0.00 | 0.00 | 090
54450 |  | A | Preputial stretching | 1.12 | 0.99 | 0.93 | 0.46 | 0.53 | 0.07 | 2.18 | 2.12 | 1.65 | 1.72 | 000
54500 |  | A | Biopsy of testis | 1.31 | 5.92 | 4.56 | 0.45 | 0.46 | 0.08 | 7.31 | 5.95 | 1.84 | 1.85 | 000
54505 |  | A | Biopsy of testis | 3.46 | NA | NA | 2.53 | 2.40 | 0.21 | NA | NA | 6.20 | 6.07 | 010
54510 |  | A | Removal of testis lesion | 5.45 | NA | NA | 3.38 | 3.36 | 0.35 | NA | NA | 9.18 | 9.16 | 090
54512 |  | A | Excise lesion testis | 8.58 | NA | NA | 4.86 | 4.86 | 0.51 | NA | NA | 13.95 | 13.95 | 090
54520 |  | A | Removal of testis | 5.23 | NA | NA | 3.51 | 4.07 | 0.33 | NA | NA | 9.07 | 9.63 | 090
54522 |  | A | Orchiectomy, partial | 9.50 | NA | NA | 5.79 | 5.79 | 0.57 | NA | NA | 15.86 | 15.86 | 090
54530 |  | A | Removal of testis | 8.58 | NA | NA | 5.13 | 5.83 | 0.53 | NA | NA | 14.24 | 14.94 | 090
54535 |  | A | Extensive testis surgery | 12.16 | NA | NA | 7.00 | 7.57 | 0.83 | NA | NA | 19.99 | 20.56 | 090
54550 |  | A | Exploration for testis | 7.78 | NA | NA | 4.64 | 4.91 | 0.49 | NA | NA | 12.91 | 13.18 | 090
54560 |  | A | Exploration for testis | 11.13 | NA | NA | 6.75 | 7.03 | 0.79 | NA | NA | 18.67 | 18.95 | 090
54600 |  | A | Reduce testis torsion | 7.01 | NA | NA | 4.16 | 4.37 | 0.45 | NA | NA | 11.62 | 11.83 | 090
54620 |  | A | Suspension of testis | 4.90 | NA | NA | 3.01 | 3.16 | 0.31 | NA | NA | 8.22 | 8.37 | 010
54640 |  | A | Suspension of testis | 6.90 | NA | NA | 4.19 | 5.20 | 0.49 | NA | NA | 11.58 | 12.59 | 090
54650 |  | A | Orchiopexy (Fowler-Stephens) | 11.45 | NA | NA | 7.03 | 7.40 | 0.81 | NA | NA | 19.29 | 19.66 | 090
54660 |  | A | Revision of testis | 5.11 | NA | NA | 3.22 | 3.34 | 0.35 | NA | NA | 8.68 | 8.80 | 090
54670 |  | A | Repair testis injury | 6.41 | NA | NA | 4.09 | 4.24 | 0.41 | NA | NA | 10.91 | 11.06 | 090
54680 |  | A | Relocation of testis(es) | 12.65 | NA | NA | 7.37 | 7.75 | 0.94 | NA | NA | 20.96 | 21.34 | 090
54690 |  | A | Laparoscopy, orchiectomy | 10.96 | NA | NA | 6.44 | 6.79 | 0.99 | NA | NA | 18.39 | 18.74 | 090
54692 |  | A | Laparoscopy, orchiopexy | 12.88 | NA | NA | 5.68 | 5.68 | 0.87 | NA | NA | 19.43 | 19.43 | 090
54699 |  | C | Laparoscope proc, testis | 0.00 | 0.00 | 0.00 | 0.00 | 0.00 | 0.00 | 0.00 | 0.00 | 0.00 | 0.00 | YYY
54700 |  | A | Drainage of scrotum | 3.43 | 7.92 | 6.19 | 3.26 | 2.69 | 0.23 | 11.58 | 9.85 | 6.92 | 6.35 | 010
54800 |  | A | Biopsy of epididymis | 2.33 | 6.01 | 5.04 | 0.83 | 1.16 | 0.14 | 8.48 | 7.51 | 3.30 | 3.63 | 000
54820 |  | A | Exploration of epididymis | 5.14 | NA | NA | 3.50 | 3.34 | 0.33 | NA | NA | 8.97 | 8.81 | 090
54830 |  | A | Remove epididymis lesion | 5.38 | NA | NA | 3.59 | 3.65 | 0.34 | NA | NA | 9.31 | 9.37 | 090
54840 |  | A | Remove epididymis lesion | 5.20 | NA | NA | 3.51 | 3.95 | 0.31 | NA | NA | 9.02 | 9.46 | 090
54860 |  | A | Removal of epididymis | 6.32 | NA | NA | 4.08 | 4.46 | 0.38 | NA | NA | 10.78 | 11.16 | 090
54861 |  | A | Removal of epididymis | 8.90 | NA | NA | 4.95 | 5.69 | 0.52 | NA | NA | 14.37 | 15.11 | 090
54900 |  | A | Fusion of spermatic ducts | 13.20 | NA | NA | 7.13 | 7.78 | 1.34 | NA | NA | 21.67 | 22.32 | 090
54901 |  | A | Fusion of spermatic ducts | 17.94 | NA | NA | 9.79 | 10.68 | 1.83 | NA | NA | 29.56 | 30.45 | 090
55000 |  | A | Drainage of hydrocele | 1.43 | 2.06 | 1.65 | 0.50 | 0.43 | 0.10 | 3.59 | 3.18 | 2.03 | 1.96 | 000
55040 |  | A | Removal of hydrocele | 5.36 | NA | NA | 3.36 | 3.85 | 0.35 | NA | NA | 9.07 | 9.56 | 090
55041 |  | A | Removal of hydroceles | 7.74 | NA | NA | 4.39 | 5.32 | 0.50 | NA | NA | 12.63 | 13.56 | 090
55060 |  | A | Repair of hydrocele | 5.52 | NA | NA | 3.41 | 3.68 | 0.37 | NA | NA | 9.30 | 9.57 | 090
55100 |  | A | Drainage of scrotum abscess | 2.13 | 9.03 | 6.94 | 3.48 | 2.78 | 0.15 | 11.31 | 9.22 | 5.76 | 5.06 | 010
55110 |  | A | Explore scrotum | 5.70 | NA | NA | 3.51 | 3.58 | 0.36 | NA | NA | 9.57 | 9.64 | 090
55120 |  | A | Removal of scrotum lesion | 5.09 | NA | NA | 3.28 | 2.95 | 0.33 | NA | NA | 8.70 | 8.37 | 090
55150 |  | A | Removal of scrotum | 7.22 | NA | NA | 4.46 | 4.82 | 0.47 | NA | NA | 12.15 | 12.51 | 090
55175 |  | A | Revision of scrotum | 5.24 | NA | NA | 3.60 | 3.92 | 0.33 | NA | NA | 9.17 | 9.49 | 090
55180 |  | A | Revision of scrotum | 10.72 | NA | NA | 6.28 | 6.56 | 0.72 | NA | NA | 17.72 | 18.00 | 090
55200 |  | A | Incision of sperm duct | 4.24 | NA | NA | 3.01 | 2.79 | 0.25 | NA | NA | 7.50 | 7.28 | 090
55250 |  | A | Removal of sperm duct(s) | 3.29 | 8.76 | 7.28 | 2.95 | 2.57 | 0.21 | 12.26 | 10.78 | 6.45 | 6.07 | 090
55300 |  | A | Prepare, sperm duct x-ray | 3.51 | NA | NA | 1.43 | 1.81 | 0.20 | NA | NA | 5.14 | 5.52 | 000
55400 |  | A | Repair of sperm duct | 8.49 | NA | NA | 5.10 | 5.61 | 0.50 | NA | NA | 14.09 | 14.60 | 090
55450 |  | A | Ligation of sperm duct | 4.12 | 7.31 | 6.19 | 2.39 | 2.50 | 0.24 | 11.67 | 10.55 | 6.75 | 6.86 | 010
55500 |  | A | Removal of hydrocele | 5.59 | NA | NA | 3.59 | 3.87 | 0.43 | NA | NA | 9.61 | 9.89 | 090
55520 |  | A | Removal of sperm cord lesion | 6.03 | NA | NA | 3.75 | 3.66 | 0.56 | NA | NA | 10.34 | 10.25 | 090
55530 |  | A | Revise spermatic cord veins | 5.66 | NA | NA | 3.69 | 4.18 | 0.36 | NA | NA | 9.71 | 10.20 | 090
55535 |  | A | Revise spermatic cord veins | 6.56 | NA | NA | 4.01 | 4.20 | 0.42 | NA | NA | 10.99 | 11.18 | 090
55540 |  | A | Revise hernia & sperm veins | 7.67 | NA | NA | 4.36 | 4.50 | 0.74 | NA | NA | 12.77 | 12.91 | 090
55550 |  | A | Laparo ligate spermatic vein | 6.57 | NA | NA | 3.36 | 3.72 | 0.47 | NA | NA | 10.40 | 10.76 | 090
55559 |  | C | Laparo proc, spermatic cord | 0.00 | 0.00 | 0.00 | 0.00 | 0.00 | 0.00 | 0.00 | 0.00 | 0.00 | 0.00 | YYY
55600 |  | A | Incise sperm duct pouch | 6.38 | NA | NA | 4.12 | 4.26 | 0.38 | NA | NA | 10.88 | 11.02 | 090
55605 |  | A | Incise sperm duct pouch | 7.96 | NA | NA | 5.00 | 5.27 | 0.54 | NA | NA | 13.50 | 13.77 | 090
55650 |  | A | Remove sperm duct pouch | 11.80 | NA | NA | 6.10 | 6.54 | 0.72 | NA | NA | 18.62 | 19.06 | 090
55680 |  | A | Remove sperm pouch lesion | 5.19 | NA | NA | 3.79 | 4.05 | 0.31 | NA | NA | 9.29 | 9.55 | 090
55700 |  | A | Biopsy of prostate | 1.57 | 3.66 | 3.15 | 0.53 | 0.60 | 0.10 | 5.33 | 4.82 | 2.20 | 2.27 | 000
55705 |  | A | Biopsy of prostate | 4.57 | NA | NA | 3.62 | 3.63 | 0.26 | NA | NA | 8.45 | 8.46 | 010
55720 |  | A | Drainage of prostate abscess | 7.64 | NA | NA | 5.76 | 5.27 | 0.44 | NA | NA | 13.84 | 13.35 | 090
55725 |  | A | Drainage of prostate abscess | 8.68 | NA | NA | 6.38 | 6.31 | 0.51 | NA | NA | 15.57 | 15.50 | 090
55801 |  | A | Removal of prostate | 17.80 | NA | NA | 9.24 | 10.39 | 1.08 | NA | NA | 28.12 | 29.27 | 090
55810 |  | A | Extensive prostate surgery | 22.58 | NA | NA | 11.24 | 13.28 | 1.35 | NA | NA | 35.17 | 37.21 | 090
55812 |  | A | Extensive prostate surgery | 27.51 | NA | NA | 13.75 | 15.11 | 1.69 | NA | NA | 42.95 | 44.31 | 090
55815 |  | A | Extensive prostate surgery | 30.46 | NA | NA | 14.27 | 17.54 | 1.84 | NA | NA | 46.57 | 49.84 | 090
55821 |  | A | Removal of prostate | 14.25 | NA | NA | 7.74 | 9.49 | 0.85 | NA | NA | 22.84 | 24.59 | 090
55831 |  | A | Removal of prostate | 15.62 | NA | NA | 8.22 | 10.12 | 0.94 | NA | NA | 24.78 | 26.68 | 090
55840 |  | A | Extensive prostate surgery | 22.69 | NA | NA | 11.63 | 13.23 | 1.37 | NA | NA | 35.69 | 37.29 | 090
55842 |  | A | Extensive prostate surgery | 24.38 | NA | NA | 12.25 | 14.39 | 1.48 | NA | NA | 38.11 | 40.25 | 090
55845 |  | A | Extensive prostate surgery | 28.55 | NA | NA | 13.57 | 16.99 | 1.71 | NA | NA | 43.83 | 47.25 | 090
55859 |  | A | Percut/needle insert, pros | 12.52 | NA | NA | 7.27 | 7.05 | 0.74 | NA | NA | 20.53 | 20.31 | 090
55860 |  | A | Surgical exposure, prostate | 14.45 | NA | NA | 8.17 | 8.06 | 0.82 | NA | NA | 23.44 | 23.33 | 090
55862 |  | A | Extensive prostate surgery | 18.39 | NA | NA | 9.40 | 10.22 | 1.14 | NA | NA | 28.93 | 29.75 | 090
55865 |  | A | Extensive prostate surgery | 22.87 | NA | NA | 10.96 | 14.87 | 1.37 | NA | NA | 35.20 | 39.11 | 090
55870 |  | A | Electroejaculation | 2.58 | 1.82 | 1.86 | 1.15 | 1.36 | 0.14 | 4.54 | 4.58 | 3.87 | 4.08 | 000
55873 |  | A | Cryoablate prostate | 17.80 | NA | NA | 10.16 | 10.16 | 1.01 | NA | NA | 28.97 | 28.97 | 090
55899 |  | C | Genital surgery procedure | 0.00 | 0.00 | 0.00 | 0.00 | 0.00 | 0.00 | 0.00 | 0.00 | 0.00 | 0.00 | YYY
55970 |  | N | Sex transformation, M to F | 0.00 | 0.00 | 0.00 | 0.00 | 0.00 | 0.00 | 0.00 | 0.00 | 0.00 | 0.00 | XXX
55980 |  | N | Sex transformation, F to M | 0.00 | 0.00 | 0.00 | 0.00 | 0.00 | 0.00 | 0.00 | 0.00 | 0.00 | 0.00 | XXX
56405 |  | A | I & D of vulva/perineum | 1.44 | 2.28 | 1.92 | 1.24 | 1.03 | 0.14 | 3.86 | 3.50 | 2.82 | 2.61 | 010
56420 |  | A | Drainage of gland abscess | 1.39 | 2.26 | 1.91 | 1.20 | 1.01 | 0.13 | 3.78 | 3.43 | 2.72 | 2.53 | 010
56440 |  | A | Surgery for vulva lesion | 2.84 | 3.45 | 3.30 | 2.22 | 2.38 | 0.28 | 6.57 | 6.42 | 5.34 | 5.50 | 010
56441 |  | A | Lysis of labial lesion(s) | 1.97 | 2.48 | 2.31 | 1.95 | 1.91 | 0.17 | 4.62 | 4.45 | 4.09 | 4.05 | 010
56501 |  | A | Destruction, vulva lesion(s) | 1.53 | 2.23 | 1.82 | 1.29 | 1.04 | 0.15 | 3.91 | 3.50 | 2.97 | 2.72 | 010
56515 |  | A | Destruction, vulva lesion(s) | 1.88 | 2.64 | 2.62 | 1.90 | 1.99 | 0.18 | 4.70 | 4.68 | 3.96 | 4.05 | 010
56605 |  | A | Biopsy of vulva/perineum | 1.10 | 1.73 | 1.48 | 0.48 | 0.45 | 0.11 | 2.94 | 2.69 | 1.69 | 1.66 | 000
56606 |  | A | Biopsy of vulva/perineum | 0.55 | 1.50 | 1.22 | 0.22 | 0.21 | 0.06 | 2.11 | 1.83 | 0.83 | 0.82 | ZZZ
56620 |  | A | Partial removal of vulva | 7.47 | NA | NA | 4.80 | 5.36 | 0.76 | NA | NA | 13.03 | 13.59 | 090
56625 |  | A | Complete removal of vulva | 8.40 | NA | NA | 5.69 | 6.78 | 0.84 | NA | NA | 14.93 | 16.02 | 090
56630 |  | A | Extensive vulva surgery | 12.36 | NA | NA | 7.56 | 9.32 | 1.23 | NA | NA | 21.15 | 22.91 | 090
56631 |  | A | Extensive vulva surgery | 16.20 | NA | NA | 10.15 | 12.45 | 1.63 | NA | NA | 27.98 | 30.28 | 090
56632 |  | A | Extensive vulva surgery | 20.29 | NA | NA | 11.82 | 14.65 | 2.03 | NA | NA | 34.14 | 36.97 | 090
56633 |  | A | Extensive vulva surgery | 16.47 | NA | NA | 9.20 | 11.23 | 1.66 | NA | NA | 27.33 | 29.36 | 090
56634 |  | A | Extensive vulva surgery | 17.88 | NA | NA | 10.82 | 13.45 | 1.78 | NA | NA | 30.48 | 33.11 | 090
56637 |  | A | Extensive vulva surgery | 21.97 | NA | NA | 12.51 | 15.20 | 2.18 | NA | NA | 36.66 | 39.35 | 090
56640 |  | A | Extensive vulva surgery | 22.17 | NA | NA | 12.32 | 14.65 | 2.26 | NA | NA | 36.75 | 39.08 | 090
56700 |  | A | Partial removal of hymen | 2.52 | 2.80 | 2.60 | 1.98 | 1.98 | 0.24 | 5.56 | 5.36 | 4.74 | 4.74 | 010
56720 |  | A | Incision of hymen | 0.68 | 1.62 | 1.35 | 0.68 | 0.64 | 0.07 | 2.37 | 2.10 | 1.43 | 1.39 | 000
56740 |  | A | Remove vagina gland lesion | 3.76 | 3.52 | 3.42 | 2.57 | 2.71 | 0.37 | 7.65 | 7.55 | 6.70 | 6.84 | 010
56800 |  | A | Repair of vagina | 3.89 | NA | NA | 2.63 | 2.77 | 0.37 | NA | NA | 6.89 | 7.03 | 010
56805 |  | A | Repair clitoris | 18.86 | NA | NA | 9.29 | 10.16 | 1.82 | NA | NA | 29.97 | 30.84 | 090
56810 |  | A | Repair of perineum | 4.13 | NA | NA | 2.73 | 2.76 | 0.41 | NA | NA | 7.27 | 7.30 | 010
57000 |  | A | Exploration of vagina | 2.97 | NA | NA | 2.27 | 2.25 | 0.28 | NA | NA | 5.52 | 5.50 | 010
57010 |  | A | Drainage of pelvic abscess | 6.03 | NA | NA | 3.79 | 3.56 | 0.57 | NA | NA | 10.39 | 10.16 | 090
57020 |  | A | Drainage of pelvic fluid | 1.50 | 1.56 | 1.35 | 0.63 | 0.65 | 0.15 | 3.21 | 3.00 | 2.28 | 2.30 | 000
57022 |  | A | I &d vaginal hematoma, ob | 2.56 | NA | NA | 1.60 | 1.60 | 0.14 | NA | NA | 4.30 | 4.30 | 010
57023 |  | A | I &d vag hematoma, trauma | 2.56 | NA | NA | 1.60 | 1.60 | 0.14 | NA | NA | 4.30 | 4.30 | 010
57061 |  | A | Destruction vagina lesion(s) | 1.25 | 2.18 | 1.86 | 1.19 | 1.01 | 0.13 | 3.56 | 3.24 | 2.57 | 2.39 | 010
57065 |  | A | Destruction vagina lesion(s) | 2.61 | 2.87 | 2.93 | 2.23 | 2.45 | 0.26 | 5.74 | 5.80 | 5.10 | 5.32 | 010
57100 |  | A | Biopsy of vagina | 0.97 | 1.42 | 1.23 | 0.42 | 0.40 | 0.10 | 2.49 | 2.30 | 1.49 | 1.47 | 000
57105 |  | A | Biopsy of vagina | 1.69 | 2.19 | 2.07 | 2.16 | 2.05 | 0.17 | 4.05 | 3.93 | 4.02 | 3.91 | 010
57106 |  | A | Remove vagina wall, partial | 6.36 | 2.48 | 2.48 | 2.48 | 2.48 | 0.58 | 9.42 | 9.42 | 9.42 | 9.42 | 090
57107 |  | A | Remove vagina tissue, part | 23.00 | NA | NA | 10.32 | 10.32 | 2.17 | NA | NA | 35.49 | 35.49 | 090
57109 |  | A | Vaginectomy partial w/nodes | 27.00 | NA | NA | 11.90 | 11.90 | 1.97 | NA | NA | 40.87 | 40.87 | 090
57110 |  | A | Remove vagina wall, complete | 14.29 | NA | NA | 7.20 | 7.54 | 1.43 | NA | NA | 22.92 | 23.26 | 090
57111 |  | A | Remove vagina tissue, compl | 27.00 | NA | NA | 12.17 | 12.17 | 2.71 | NA | NA | 41.88 | 41.88 | 090
57112 |  | A | Vaginectomy w/nodes, compl | 29.00 | NA | NA | 12.77 | 12.77 | 2.19 | NA | NA | 43.96 | 43.96 | 090
57120 |  | A | Closure of vagina | 7.41 | NA | NA | 4.54 | 5.30 | 0.75 | NA | NA | 12.70 | 13.46 | 090
57130 |  | A | Remove vagina lesion | 2.43 | NA | NA | 2.07 | 2.26 | 0.23 | NA | NA | 4.73 | 4.92 | 010
57135 |  | A | Remove vagina lesion | 2.67 | 2.85 | 2.66 | 2.17 | 2.15 | 0.26 | 5.78 | 5.59 | 5.10 | 5.08 | 010
57150 |  | A | Treat vagina infection | 0.55 | 0.98 | 0.79 | 0.21 | 0.19 | 0.06 | 1.59 | 1.40 | 0.82 | 0.80 | 000
57160 |  | A | Insert pessary/other device | 0.89 | 1.34 | 1.07 | 0.35 | 0.30 | 0.09 | 2.32 | 2.05 | 1.33 | 1.28 | 000
57170 |  | A | Fitting of diaphragm/cap | 0.91 | 1.38 | 1.12 | 0.33 | 0.29 | 0.09 | 2.38 | 2.12 | 1.33 | 1.29 | 000
57180 |  | A | Treat vaginal bleeding | 1.58 | 2.21 | 1.81 | 1.43 | 1.15 | 0.16 | 3.95 | 3.55 | 3.17 | 2.89 | 010
57200 |  | A | Repair of vagina | 3.94 | NA | NA | 2.93 | 2.93 | 0.38 | NA | NA | 7.25 | 7.25 | 090
57210 |  | A | Repair vagina/perineum | 5.17 | NA | NA | 3.41 | 3.45 | 0.50 | NA | NA | 9.08 | 9.12 | 090
57220 |  | A | Revision of urethra | 4.31 | NA | NA | 3.31 | 3.69 | 0.42 | NA | NA | 8.04 | 8.42 | 090
57230 |  | A | Repair of urethral lesion | 5.64 | NA | NA | 4.16 | 4.16 | 0.50 | NA | NA | 10.30 | 10.30 | 090
57240 |  | A | Repair bladder & vagina | 6.07 | NA | NA | 4.30 | 5.04 | 0.53 | NA | NA | 10.90 | 11.64 | 090
57250 |  | A | Repair rectum & vagina | 5.53 | NA | NA | 3.75 | 4.46 | 0.54 | NA | NA | 9.82 | 10.53 | 090
57260 |  | A | Repair of vagina | 8.27 | NA | NA | 4.85 | 5.99 | 0.83 | NA | NA | 13.95 | 15.09 | 090
57265 |  | A | Extensive repair of vagina | 11.34 | NA | NA | 6.75 | 7.62 | 1.14 | NA | NA | 19.23 | 20.10 | 090
57268 |  | A | Repair of bowel bulge | 6.76 | NA | NA | 4.24 | 5.09 | 0.66 | NA | NA | 11.66 | 12.51 | 090
57270 |  | A | Repair of bowel pouch | 12.11 | NA | NA | 6.18 | 6.49 | 1.17 | NA | NA | 19.46 | 19.77 | 090
57280 |  | A | Suspension of vagina | 15.04 | NA | NA | 7.31 | 7.80 | 1.44 | NA | NA | 23.79 | 24.28 | 090
57282 |  | A | Repair of vaginal prolapse | 8.86 | NA | NA | 5.09 | 6.18 | 0.86 | NA | NA | 14.81 | 15.90 | 090
57284 |  | A | Repair paravaginal defect | 12.70 | NA | NA | 6.94 | 7.54 | 1.17 | NA | NA | 20.81 | 21.41 | 090
57287 |  | A | Revise/remove sling repair | 10.71 | NA | NA | 7.02 | 7.02 | 0.64 | NA | NA | 18.37 | 18.37 | 090
57288 |  | A | Repair bladder defect | 13.02 | NA | NA | 6.80 | 8.01 | 0.86 | NA | NA | 20.68 | 21.89 | 090
57289 |  | A | Repair bladder & vagina | 11.58 | NA | NA | 6.62 | 7.19 | 0.95 | NA | NA | 19.15 | 19.72 | 090
57291 |  | A | Construction of vagina | 7.95 | NA | NA | 6.07 | 6.01 | 0.78 | NA | NA | 14.80 | 14.74 | 090
57292 |  | A | Construct vagina with graft | 13.09 | NA | NA | 7.25 | 7.22 | 1.29 | NA | NA | 21.63 | 21.60 | 090
57300 |  | A | Repair rectum-vagina fistula | 7.61 | NA | NA | 4.70 | 5.67 | 0.70 | NA | NA | 13.01 | 13.98 | 090
57305 |  | A | Repair rectum-vagina fistula | 13.77 | NA | NA | 7.10 | 7.37 | 1.33 | NA | NA | 22.20 | 22.47 | 090
57307 |  | A | Fistula repair & colostomy | 15.93 | NA | NA | 7.77 | 7.49 | 1.59 | NA | NA | 25.29 | 25.01 | 090
57308 |  | A | Fistula repair, transperine | 9.94 | NA | NA | 5.73 | 6.26 | 0.91 | NA | NA | 16.58 | 17.11 | 090
57310 |  | A | Repair urethrovaginal lesion | 6.78 | NA | NA | 4.63 | 4.65 | 0.45 | NA | NA | 11.86 | 11.88 | 090
57311 |  | A | Repair urethrovaginal lesion | 7.98 | NA | NA | 5.19 | 5.41 | 0.51 | NA | NA | 13.68 | 13.90 | 090
57320 |  | A | Repair bladder-vagina lesion | 8.01 | NA | NA | 5.27 | 6.34 | 0.60 | NA | NA | 13.88 | 14.95 | 090
57330 |  | A | Repair bladder-vagina lesion | 12.35 | NA | NA | 6.60 | 7.20 | 0.86 | NA | NA | 19.81 | 20.41 | 090
57335 |  | A | Repair vagina | 18.73 | NA | NA | 9.15 | 8.74 | 1.66 | NA | NA | 29.54 | 29.13 | 090
57400 |  | A | Dilation of vagina | 2.27 | NA | NA | 1.29 | 1.06 | 0.22 | NA | NA | 3.78 | 3.55 | 000
57410 |  | A | Pelvic examination | 1.75 | 2.60 | 2.05 | 1.07 | 0.90 | 0.14 | 4.49 | 3.94 | 2.96 | 2.79 | 000
57415 |  | A | Remove vaginal foreign body | 2.17 | 3.37 | 2.63 | 2.00 | 1.60 | 0.19 | 5.73 | 4.99 | 4.36 | 3.96 | 010
57452 |  | A | Examination of vagina | 0.99 | 1.53 | 1.33 | 0.45 | 0.43 | 0.10 | 2.62 | 2.42 | 1.54 | 1.52 | 000
57454 |  | A | Vagina examination & biopsy | 1.27 | 1.71 | 1.61 | 0.59 | 0.61 | 0.13 | 3.11 | 3.01 | 1.99 | 2.01 | 000
57460 |  | A | Cervix excision | 2.83 | 2.05 | 2.09 | 1.13 | 1.12 | 0.28 | 5.16 | 5.20 | 4.24 | 4.23 | 000
57500 |  | A | Biopsy of cervix | 0.97 | 2.02 | 1.67 | 0.47 | 0.43 | 0.10 | 3.09 | 2.74 | 1.54 | 1.50 | 000
57505 |  | A | Endocervical curettage | 1.14 | 1.89 | 1.59 | 1.21 | 0.99 | 0.12 | 3.15 | 2.85 | 2.47 | 2.25 | 010
57510 |  | A | Cauterization of cervix | 1.90 | 3.07 | 2.44 | 1.52 | 1.21 | 0.18 | 5.15 | 4.52 | 3.60 | 3.29 | 010
57511 |  | A | Cryocautery of cervix | 1.90 | 2.35 | 1.99 | 0.74 | 0.67 | 0.18 | 4.43 | 4.07 | 2.82 | 2.75 | 010
57513 |  | A | Laser surgery of cervix | 1.90 | 2.50 | 2.44 | 1.49 | 1.69 | 0.19 | 4.59 | 4.53 | 3.58 | 3.78 | 010
57520 |  | A | Conization of cervix | 4.04 | 4.10 | 4.01 | 2.74 | 2.99 | 0.41 | 8.55 | 8.46 | 7.19 | 7.44 | 090
57522 |  | A | Conization of cervix | 3.36 | 3.65 | 3.67 | 2.47 | 2.79 | 0.34 | 7.35 | 7.37 | 6.17 | 6.49 | 090
57530 |  | A | Removal of cervix | 4.79 | NA | NA | 3.52 | 3.62 | 0.48 | NA | NA | 8.79 | 8.89 | 090
57531 |  | A | Removal of cervix, radical | 28.00 | NA | NA | 13.16 | 14.69 | 2.46 | NA | NA | 43.62 | 45.15 | 090
57540 |  | A | Removal of residual cervix | 12.22 | NA | NA | 6.14 | 6.43 | 1.21 | NA | NA | 19.57 | 19.86 | 090
57545 |  | A | Remove cervix/repair pelvis | 13.03 | NA | NA | 6.58 | 6.18 | 1.30 | NA | NA | 20.91 | 20.51 | 090
57550 |  | A | Removal of residual cervix | 5.53 | NA | NA | 3.75 | 4.46 | 0.55 | NA | NA | 9.83 | 10.54 | 090
57555 |  | A | Remove cervix/repair vagina | 8.95 | NA | NA | 5.48 | 6.78 | 0.89 | NA | NA | 15.32 | 16.62 | 090
57556 |  | A | Remove cervix, repair bowel | 8.37 | NA | NA | 4.85 | 6.14 | 0.80 | NA | NA | 14.02 | 15.31 | 090
57700 |  | A | Revision of cervix | 3.55 | NA | NA | 2.44 | 2.48 | 0.33 | NA | NA | 6.32 | 6.36 | 090
57720 |  | A | Revision of cervix | 4.13 | NA | NA | 3.22 | 3.17 | 0.41 | NA | NA | 7.76 | 7.71 | 090
57800 |  | A | Dilation of cervical canal | 0.77 | 1.15 | 0.99 | 0.35 | 0.33 | 0.08 | 2.00 | 1.84 | 1.20 | 1.18 | 000
57820 |  | A | D & c of residual cervix | 1.67 | 2.47 | 2.42 | 2.16 | 2.19 | 0.17 | 4.31 | 4.26 | 4.00 | 4.03 | 010
58100 |  | A | Biopsy of uterus lining | 0.71 | 1.99 | 1.67 | 0.28 | 0.30 | 0.07 | 2.77 | 2.45 | 1.06 | 1.08 | 000
58120 |  | A | Dilation and curettage | 3.27 | 3.72 | 3.52 | 2.36 | 2.50 | 0.33 | 7.32 | 7.12 | 5.96 | 6.10 | 010
58140 |  | A | Removal of uterus lesion | 14.60 | NA | NA | 7.06 | 7.56 | 1.46 | NA | NA | 23.12 | 23.62 | 090
58145 |  | A | Removal of uterus lesion | 8.04 | NA | NA | 4.78 | 5.82 | 0.80 | NA | NA | 13.62 | 14.66 | 090
58150 |  | A | Total hysterectomy | 15.24 | NA | NA | 7.45 | 8.19 | 1.53 | NA | NA | 24.22 | 24.96 | 090
58152 |  | A | Total hysterectomy | 15.09 | NA | NA | 7.40 | 8.80 | 1.52 | NA | NA | 24.01 | 25.41 | 090
58180 |  | A | Partial hysterectomy | 15.29 | NA | NA | 7.44 | 8.23 | 1.54 | NA | NA | 24.27 | 25.06 | 090
58200 |  | A | Extensive hysterectomy | 21.59 | NA | NA | 11.04 | 11.80 | 2.15 | NA | NA | 34.78 | 35.54 | 090
58210 |  | A | Extensive hysterectomy | 28.85 | NA | NA | 13.89 | 15.24 | 2.91 | NA | NA | 45.65 | 47.00 | 090
58240 |  | A | Removal of pelvis contents | 38.39 | NA | NA | 18.94 | 22.00 | 3.76 | NA | NA | 61.09 | 64.15 | 090
58260 |  | A | Vaginal hysterectomy | 12.20 | NA | NA | 5.92 | 6.99 | 1.23 | NA | NA | 19.35 | 20.42 | 090
58262 |  | A | Vaginal hysterectomy | 13.99 | NA | NA | 6.65 | 7.54 | 1.42 | NA | NA | 22.06 | 22.95 | 090
58263 |  | A | Vaginal hysterectomy | 15.28 | NA | NA | 7.16 | 8.17 | 1.55 | NA | NA | 23.99 | 25.00 | 090
58267 |  | A | Hysterectomy & vagina repair | 15.00 | NA | NA | 7.04 | 8.41 | 1.51 | NA | NA | 23.55 | 24.92 | 090
58270 |  | A | Hysterectomy & vagina repair | 13.48 | NA | NA | 6.45 | 7.64 | 1.37 | NA | NA | 21.30 | 22.49 | 090
58275 |  | A | Hysterectomy/revise vagina | 14.98 | NA | NA | 7.01 | 8.25 | 1.51 | NA | NA | 23.50 | 24.74 | 090
58280 |  | A | Hysterectomy/revise vagina | 15.41 | NA | NA | 7.13 | 8.20 | 1.54 | NA | NA | 24.08 | 25.15 | 090
58285 |  | A | Extensive hysterectomy | 18.57 | NA | NA | 9.80 | 10.50 | 1.88 | NA | NA | 30.25 | 30.95 | 090
58300 |  | N | Insert intrauterine device | +1.01 | 1.39 | 1.25 | 0.40 | 0.51 | 0.10 | 2.50 | 2.36 | 1.51 | 1.62 | XXX
58301 |  | A | Remove intrauterine device | 1.27 | 1.53 | 1.27 | 0.50 | 0.44 | 0.13 | 2.93 | 2.67 | 1.90 | 1.84 | 000
58321 |  | A | Artificial insemination | 0.92 | 0.88 | 0.85 | 0.37 | 0.47 | 0.10 | 1.90 | 1.87 | 1.39 | 1.49 | 000
58322 |  | A | Artificial insemination | 1.10 | 1.01 | 0.95 | 0.42 | 0.51 | 0.11 | 2.22 | 2.16 | 1.63 | 1.72 | 000
58323 |  | A | Sperm washing | 0.23 | 0.51 | 0.43 | 0.09 | 0.11 | 0.02 | 0.76 | 0.68 | 0.34 | 0.36 | 000
58340 |  | A | Catheter for hysterography | 0.88 | 11.40 | 8.71 | 0.33 | 0.40 | 0.08 | 12.36 | 9.67 | 1.29 | 1.36 | 000
58345 |  | A | Reopen fallopian tube | 4.66 | NA | NA | 1.80 | 2.30 | 0.36 | NA | NA | 6.82 | 7.32 | 010
58350 |  | A | Reopen fallopian tube | 1.01 | 1.98 | 1.67 | 1.06 | 0.98 | 0.10 | 3.09 | 2.78 | 2.17 | 2.09 | 010
58353 |  | A | Endometr ablate, thermal | 3.56 | NA | NA | 2.16 | 2.16 | 0.19 | NA | NA | 5.91 | 5.91 | 010
58400 |  | A | Suspension of uterus | 6.36 | NA | NA | 3.94 | 4.49 | 0.62 | NA | NA | 10.92 | 11.47 | 090
58410 |  | A | Suspension of uterus | 12.73 | NA | NA | 6.48 | 6.36 | 1.09 | NA | NA | 20.30 | 20.18 | 090
58520 |  | A | Repair of ruptured uterus | 11.92 | NA | NA | 5.87 | 5.55 | 1.17 | NA | NA | 18.96 | 18.64 | 090
58540 |  | A | Revision of uterus | 14.64 | NA | NA | 7.03 | 6.94 | 1.28 | NA | NA | 22.95 | 22.86 | 090
58550 |  | A | Laparo-asst vag hysterectomy | 14.19 | NA | NA | 6.71 | 7.58 | 1.44 | NA | NA | 22.34 | 23.21 | 010
58551 |  | A | Laparoscopy, remove myoma | 14.21 | NA | NA | 6.65 | 6.28 | 1.45 | NA | NA | 22.31 | 21.94 | 010
58555 |  | A | Hysteroscopy, dx, sep proc | 3.33 | 2.78 | 2.63 | 1.44 | 1.62 | 0.34 | 6.45 | 6.30 | 5.11 | 5.29 | 000
58558 |  | A | Hysteroscopy, biopsy | 4.75 | 3.36 | 3.06 | 2.02 | 2.06 | 0.49 | 8.60 | 8.30 | 7.26 | 7.30 | 000
58559 |  | A | Hysteroscopy, lysis | 6.17 | 2.45 | 2.86 | 2.45 | 2.86 | 0.62 | 9.24 | 9.65 | 9.24 | 9.65 | 000
58560 |  | A | Hysteroscopy, resect septum | 7.00 | 2.84 | 3.15 | 2.84 | 3.15 | 0.71 | 10.55 | 10.86 | 10.55 | 10.86 | 000
58561 |  | A | Hysteroscopy, remove myoma | 10.00 | 4.03 | 4.36 | 4.03 | 4.36 | 1.02 | 15.05 | 15.38 | 15.05 | 15.38 | 000
58562 |  | A | Hysteroscopy, remove fb | 5.21 | NA | NA | 2.20 | 2.19 | 0.52 | NA | NA | 7.93 | 7.92 | 000
58563 |  | A | Hysteroscopy, ablation | 6.17 | 2.47 | 3.04 | 2.47 | 3.04 | 0.62 | 9.26 | 9.83 | 9.26 | 9.83 | 000
58578 |  | C | Laparo proc, uterus | 0.00 | 0.00 | 0.00 | 0.00 | 0.00 | 0.00 | 0.00 | 0.00 | 0.00 | 0.00 | YYY
58579 |  | C | Hysteroscope procedure | 0.00 | 0.00 | 0.00 | 0.00 | 0.00 | 0.00 | 0.00 | 0.00 | 0.00 | 0.00 | YYY
58600 |  | A | Division of fallopian tube | 3.84 | NA | NA | 2.58 | 3.08 | 0.39 | NA | NA | 6.81 | 7.31 | 090
58605 |  | A | Division of fallopian tube | 3.34 | NA | NA | 2.40 | 2.80 | 0.33 | NA | NA | 6.07 | 6.47 | 090
58611 |  | A | Ligate oviduct(s) add-on | 0.63 | NA | NA | 0.25 | 0.32 | 0.07 | NA | NA | 0.95 | 1.02 | ZZZ
58615 |  | A | Occlude fallopian tube(s) | 3.90 | NA | NA | 2.64 | 2.77 | 0.40 | NA | NA | 6.94 | 7.07 | 010
58660 |  | A | Laparoscopy, lysis | 11.29 | NA | NA | 5.46 | 5.62 | 1.14 | NA | NA | 17.89 | 18.05 | 090
58661 |  | A | Laparoscopy, remove adnexa | 11.05 | NA | NA | 5.19 | 5.84 | 1.12 | NA | NA | 17.36 | 18.01 | 010
58662 |  | A | Laparoscopy, excise lesions | 11.79 | NA | NA | 5.45 | 5.59 | 1.18 | NA | NA | 18.42 | 18.56 | 090
58670 |  | A | Laparoscopy, tubal cautery | 5.60 | NA | NA | 3.49 | 3.90 | 0.55 | NA | NA | 9.64 | 10.05 | 090
58671 |  | A | Laparoscopy, tubal block | 5.60 | NA | NA | 3.55 | 4.09 | 0.56 | NA | NA | 9.71 | 10.25 | 090
58672 |  | A | Laparoscopy, fimbrioplasty | 12.88 | NA | NA | 6.13 | 5.99 | 1.22 | NA | NA | 20.23 | 20.09 | 090
58673 |  | A | Laparoscopy, salpingostomy | 13.74 | NA | NA | 6.82 | 6.55 | 1.40 | NA | NA | 21.96 | 21.69 | 090
58679 |  | C | Laparo proc, oviduct-ovary | 0.00 | 0.00 | 0.00 | 0.00 | 0.00 | 0.00 | 0.00 | 0.00 | 0.00 | 0.00 | YYY
58700 |  | A | Removal of fallopian tube | 6.49 | NA | NA | 3.82 | 4.58 | 0.64 | NA | NA | 10.95 | 11.71 | 090
58720 |  | A | Removal of ovary/tube(s) | 11.36 | NA | NA | 5.77 | 6.36 | 1.14 | NA | NA | 18.27 | 18.86 | 090
58740 |  | A | Revise fallopian tube(s) | 5.83 | NA | NA | 3.71 | 4.52 | 0.59 | NA | NA | 10.13 | 10.94 | 090
58750 |  | A | Repair oviduct | 14.84 | NA | NA | 7.24 | 7.14 | 1.52 | NA | NA | 23.60 | 23.50 | 090
58752 |  | A | Revise ovarian tube(s) | 14.84 | NA | NA | 7.62 | 7.54 | 1.51 | NA | NA | 23.97 | 23.89 | 090
58760 |  | A | Remove tubal obstruction | 13.13 | NA | NA | 6.43 | 6.21 | 1.34 | NA | NA | 20.90 | 20.68 | 090
58770 |  | A | Create new tubal opening | 13.97 | NA | NA | 6.95 | 6.65 | 1.42 | NA | NA | 22.34 | 22.04 | 090
58800 |  | A | Drainage of ovarian cyst(s) | 4.14 | 4.32 | 3.97 | 4.16 | 3.85 | 0.36 | 8.82 | 8.47 | 8.66 | 8.35 | 090
58805 |  | A | Drainage of ovarian cyst(s) | 5.88 | NA | NA | 3.52 | 4.37 | 0.56 | NA | NA | 9.96 | 10.81 | 090
58820 |  | A | Drain ovary abscess, open | 4.22 | NA | NA | 3.26 | 3.20 | 0.29 | NA | NA | 7.77 | 7.71 | 090
58822 |  | A | Drain ovary abscess, percut | 10.13 | NA | NA | 5.15 | 4.83 | 0.92 | NA | NA | 16.20 | 15.88 | 090
58823 |  | A | Drain pelvic abscess, percut | 3.38 | NA | NA | 3.14 | 3.05 | 0.18 | NA | NA | 6.70 | 6.61 | 000
58825 |  | A | Transposition, ovary(s) | 6.13 | NA | NA | 3.88 | 4.00 | 0.62 | NA | NA | 10.63 | 10.75 | 090
58900 |  | A | Biopsy of ovary(s) | 5.99 | NA | NA | 3.59 | 4.10 | 0.56 | NA | NA | 10.14 | 10.65 | 090
58920 |  | A | Partial removal of ovary(s) | 6.78 | NA | NA | 3.85 | 4.73 | 0.68 | NA | NA | 11.31 | 12.19 | 090
58925 |  | A | Removal of ovarian cyst(s) | 11.36 | NA | NA | 5.66 | 6.03 | 1.14 | NA | NA | 18.16 | 18.53 | 090
58940 |  | A | Removal of ovary(s) | 7.29 | NA | NA | 4.05 | 4.80 | 0.73 | NA | NA | 12.07 | 12.82 | 090
58943 |  | A | Removal of ovary(s) | 18.43 | NA | NA | 9.53 | 10.43 | 1.86 | NA | NA | 29.82 | 30.72 | 090
58950 |  | A | Resect ovarian malignancy | 15.27 | NA | NA | 8.36 | 9.32 | 1.55 | NA | NA | 25.18 | 26.14 | 090
58951 |  | A | Resect ovarian malignancy | 21.81 | NA | NA | 11.01 | 13.23 | 2.20 | NA | NA | 35.02 | 37.24 | 090
58952 |  | A | Resect ovarian malignancy | 25.01 | NA | NA | 12.32 | 14.15 | 2.50 | NA | NA | 39.83 | 41.66 | 090
58960 |  | A | Exploration of abdomen | 14.65 | NA | NA | 8.15 | 9.64 | 1.47 | NA | NA | 24.27 | 25.76 | 090
58970 |  | A | Retrieval of oocyte | 3.53 | 8.65 | 7.17 | 1.80 | 2.03 | 0.36 | 12.54 | 11.06 | 5.69 | 5.92 | 000
58974 |  | C | Transfer of embryo | 0.00 | 0.00 | 0.00 | 0.00 | 0.00 | 0.00 | 0.00 | 0.00 | 0.00 | 0.00 | 000
58976 |  | A | Transfer of embryo | 3.83 | 2.28 | 2.45 | 1.53 | 1.89 | 0.39 | 6.50 | 6.67 | 5.75 | 6.11 | 000
58999 |  | C | Genital surgery procedure | 0.00 | 0.00 | 0.00 | 0.00 | 0.00 | 0.00 | 0.00 | 0.00 | 0.00 | 0.00 | YYY
59000 |  | A | Amniocentesis | 1.30 | 1.86 | 1.66 | 0.61 | 0.72 | 0.23 | 3.39 | 3.19 | 2.14 | 2.25 | 000
59012 |  | A | Fetal cord puncture,prenatal | 3.45 | NA | NA | 1.65 | 1.95 | 0.62 | NA | NA | 5.72 | 6.02 | 000
59015 |  | A | Chorion biopsy | 2.20 | 1.32 | 1.32 | 0.89 | 0.99 | 0.40 | 3.92 | 3.92 | 3.49 | 3.59 | 000
59020 |  | A | Fetal contract stress test | 0.66 | 0.78 | 0.92 | 0.78 | 0.92 | 0.20 | 1.64 | 1.78 | 1.64 | 1.78 | 000
59020 | 26 | A | Fetal contract stress test | 0.66 | 0.26 | 0.39 | 0.26 | 0.39 | 0.12 | 1.04 | 1.17 | 1.04 | 1.17 | 000
59020 | TC | A | Fetal contract stress test | 0.00 | 0.52 | 0.53 | NA | NA | 0.08 | 0.60 | 0.61 | NA | NA | 000
59025 |  | A | Fetal non-stress test | 0.53 | 0.44 | 0.49 | 0.44 | 0.49 | 0.12 | 1.09 | 1.14 | 1.09 | 1.14 | 000
59025 | 26 | A | Fetal non-stress test | 0.53 | 0.21 | 0.26 | 0.21 | 0.26 | 0.10 | 0.84 | 0.89 | 0.84 | 0.89 | 000
59025 | TC | A | Fetal non-stress test | 0.00 | 0.23 | 0.23 | NA | NA | 0.02 | 0.25 | 0.25 | NA | NA | 000
59030 |  | A | Fetal scalp blood sample | 1.99 | NA | NA | 0.93 | 1.13 | 0.36 | NA | NA | 3.28 | 3.48 | 000
59050 |  | A | Fetal monitor w/report | 0.89 | NA | NA | 0.35 | 0.48 | 0.16 | NA | NA | 1.40 | 1.53 | XXX
59051 |  | A | Fetal monitor/interpret only | 0.74 | NA | NA | 0.28 | 0.43 | 0.14 | NA | NA | 1.16 | 1.31 | XXX
59100 |  | A | Remove uterus lesion | 12.35 | NA | NA | 6.03 | 5.65 | 2.21 | NA | NA | 20.59 | 20.21 | 090
59120 |  | A | Treat ectopic pregnancy | 11.49 | NA | NA | 6.01 | 6.64 | 2.06 | NA | NA | 19.56 | 20.19 | 090
59121 |  | A | Treat ectopic pregnancy | 11.67 | NA | NA | 6.04 | 5.99 | 2.09 | NA | NA | 19.80 | 19.75 | 090
59130 |  | A | Treat ectopic pregnancy | 14.22 | NA | NA | 7.10 | 6.94 | 2.54 | NA | NA | 23.86 | 23.70 | 090
59135 |  | A | Treat ectopic pregnancy | 13.88 | NA | NA | 6.97 | 7.90 | 2.49 | NA | NA | 23.34 | 24.27 | 090
59136 |  | A | Treat ectopic pregnancy | 13.18 | NA | NA | 6.71 | 6.72 | 2.36 | NA | NA | 22.25 | 22.26 | 090
59140 |  | A | Treat ectopic pregnancy | 5.46 | NA | NA | 3.17 | 3.64 | 0.98 | NA | NA | 9.61 | 10.08 | 090
59150 |  | A | Treat ectopic pregnancy | 6.89 | NA | NA | 4.37 | 4.51 | 1.23 | NA | NA | 12.49 | 12.63 | 090
59151 |  | A | Treat ectopic pregnancy | 7.86 | NA | NA | 4.29 | 5.55 | 1.41 | NA | NA | 13.56 | 14.82 | 090
59160 |  | A | D & c after delivery | 2.71 | 3.47 | 3.40 | 2.16 | 2.42 | 0.49 | 6.67 | 6.60 | 5.36 | 5.62 | 010
59200 |  | A | Insert cervical dilator | 0.79 | 1.31 | 1.13 | 0.31 | 0.31 | 0.15 | 2.25 | 2.07 | 1.25 | 1.25 | 000
59300 |  | A | Episiotomy or vaginal repair | 2.41 | 2.14 | 1.87 | 0.96 | 0.86 | 0.43 | 4.98 | 4.71 | 3.80 | 3.70 | 000
59320 |  | A | Revision of cervix | 2.48 | NA | NA | 1.40 | 1.53 | 0.45 | NA | NA | 4.33 | 4.46 | 000
59325 |  | A | Revision of cervix | 4.07 | NA | NA | 2.05 | 2.32 | 0.73 | NA | NA | 6.85 | 7.12 | 000
59350 |  | A | Repair of uterus | 4.95 | NA | NA | 1.95 | 2.42 | 0.88 | NA | NA | 7.78 | 8.25 | 000
59400 |  | A | Obstetrical care | 23.06 | NA | NA | 14.62 | 15.03 | 4.14 | NA | NA | 41.82 | 42.23 | MMM
59409 |  | A | Obstetrical care | 13.50 | NA | NA | 5.29 | 6.54 | 2.42 | NA | NA | 21.21 | 22.46 | MMM
59410 |  | A | Obstetrical care | 14.78 | NA | NA | 6.34 | 7.55 | 2.65 | NA | NA | 23.77 | 24.98 | MMM
59412 |  | A | Antepartum manipulation | 1.71 | 1.28 | 1.29 | 0.69 | 0.85 | 0.31 | 3.30 | 3.31 | 2.71 | 2.87 | MMM
59414 |  | A | Deliver placenta | 1.61 | NA | NA | 1.27 | 1.27 | 0.29 | NA | NA | 3.17 | 3.17 | MMM
59425 |  | A | Antepartum care only | 4.81 | 5.10 | 4.61 | 5.02 | 4.16 | 0.86 | 10.77 | 10.28 | 10.69 | 9.83 | MMM
59426 |  | A | Antepartum care only | 8.28 | 8.72 | 7.88 | 8.72 | 7.21 | 1.49 | 18.49 | 17.65 | 18.49 | 16.98 | MMM
59430 |  | A | Care after delivery | 2.13 | 1.22 | 1.02 | 1.21 | 0.96 | 0.38 | 3.73 | 3.53 | 3.72 | 3.47 | MMM
59510 |  | A | Cesarean delivery | 26.22 | NA | NA | 16.61 | 17.04 | 4.70 | NA | NA | 47.53 | 47.96 | MMM
59514 |  | A | Cesarean delivery only | 15.97 | NA | NA | 6.22 | 7.65 | 2.86 | NA | NA | 25.05 | 26.48 | MMM
59515 |  | A | Cesarean delivery | 17.37 | NA | NA | 7.99 | 9.20 | 3.12 | NA | NA | 28.48 | 29.69 | MMM
59525 |  | A | Remove uterus after cesarean | 8.54 | NA | NA | 3.33 | 3.53 | 1.53 | NA | NA | 13.40 | 13.60 | ZZZ
59610 |  | A | Vbac delivery | 24.62 | NA | NA | 15.08 | 15.38 | 4.41 | NA | NA | 44.11 | 44.41 | MMM
59612 |  | A | Vbac delivery only | 15.06 | NA | NA | 6.03 | 7.10 | 2.70 | NA | NA | 23.79 | 24.86 | MMM
59614 |  | A | Vbac care after delivery | 16.34 | NA | NA | 7.28 | 8.26 | 2.93 | NA | NA | 26.55 | 27.53 | MMM
59618 |  | A | Attempted vbac delivery | 27.78 | NA | NA | 17.86 | 17.98 | 4.98 | NA | NA | 50.62 | 50.74 | MMM
59620 |  | A | Attempted vbac delivery only | 17.53 | NA | NA | 6.68 | 7.99 | 3.15 | NA | NA | 27.36 | 28.67 | MMM
59622 |  | A | Attempted vbac after care | 18.93 | NA | NA | 8.59 | 9.65 | 3.39 | NA | NA | 30.91 | 31.97 | MMM
59812 |  | A | Treatment of miscarriage | 3.25 | 3.27 | 3.43 | 2.12 | 2.56 | 0.58 | 7.10 | 7.26 | 5.95 | 6.39 | 090
59820 |  | A | Care of miscarriage | 4.01 | 3.58 | 3.70 | 2.63 | 2.99 | 0.72 | 8.31 | 8.43 | 7.36 | 7.72 | 090
59821 |  | A | Treatment of miscarriage | 4.47 | 3.72 | 3.53 | 2.82 | 2.85 | 0.80 | 8.99 | 8.80 | 8.09 | 8.12 | 090
59830 |  | A | Treat uterus infection | 6.11 | NA | NA | 3.80 | 4.08 | 1.10 | NA | NA | 11.01 | 11.29 | 090
59840 |  | R | Abortion | 3.01 | 3.88 | 3.78 | 2.16 | 2.49 | 0.54 | 7.43 | 7.33 | 5.71 | 6.04 | 010
59841 |  | R | Abortion | 5.24 | 5.56 | 5.19 | 3.49 | 3.64 | 0.94 | 11.74 | 11.37 | 9.67 | 9.82 | 010
59850 |  | R | Abortion | 5.91 | NA | NA | 2.76 | 3.16 | 1.06 | NA | NA | 9.73 | 10.13 | 090
59851 |  | R | Abortion | 5.93 | NA | NA | 3.07 | 3.46 | 1.06 | NA | NA | 10.06 | 10.45 | 090
59852 |  | R | Abortion | 8.24 | NA | NA | 4.35 | 4.76 | 1.48 | NA | NA | 14.07 | 14.48 | 090
59855 |  | R | Abortion | 6.12 | NA | NA | 3.22 | 3.54 | 1.10 | NA | NA | 10.44 | 10.76 | 090
59856 |  | R | Abortion | 7.48 | NA | NA | 3.73 | 4.19 | 1.34 | NA | NA | 12.55 | 13.01 | 090
59857 |  | R | Abortion | 9.29 | NA | NA | 4.45 | 5.03 | 1.66 | NA | NA | 15.40 | 15.98 | 090
59866 |  | R | Abortion (mpr) | 4.00 | NA | NA | 1.60 | 1.98 | 0.72 | NA | NA | 6.32 | 6.70 | 000
59870 |  | A | Evacuate mole of uterus | 4.28 | NA | NA | 3.06 | 3.09 | 0.77 | NA | NA | 8.11 | 8.14 | 090
59871 |  | A | Remove cerclage suture | 2.13 | 1.90 | 1.91 | 0.87 | 1.14 | 0.38 | 4.41 | 4.42 | 3.38 | 3.65 | 000
59898 |  | C | Laparo proc, ob care/deliver | 0.00 | 0.00 | 0.00 | 0.00 | 0.00 | 0.00 | 0.00 | 0.00 | 0.00 | 0.00 | YYY
59899 |  | C | Maternity care procedure | 0.00 | 0.00 | 0.00 | 0.00 | 0.00 | 0.00 | 0.00 | 0.00 | 0.00 | 0.00 | YYY
60000 |  | A | Drain thyroid/tongue cyst | 1.76 | 2.36 | 1.93 | 2.31 | 1.82 | 0.14 | 4.26 | 3.83 | 4.21 | 3.72 | 010
60001 |  | A | Aspirate/inject thyriod cyst | 0.97 | 1.54 | 1.44 | 0.37 | 0.56 | 0.06 | 2.57 | 2.47 | 1.40 | 1.59 | 000
60100 |  | A | Biopsy of thyroid | 0.97 | 2.32 | 2.03 | 0.35 | 0.41 | 0.05 | 3.34 | 3.05 | 1.37 | 1.43 | 000
60200 |  | A | Remove thyroid lesion | 9.55 | NA | NA | 6.79 | 6.73 | 0.84 | NA | NA | 17.18 | 17.12 | 090
60210 |  | A | Partial thyroid excision | 10.88 | NA | NA | 6.69 | 7.37 | 1.01 | NA | NA | 18.58 | 19.26 | 090
60212 |  | A | Parital thyroid excision | 16.03 | NA | NA | 8.83 | 9.08 | 1.51 | NA | NA | 26.37 | 26.62 | 090
60220 |  | A | Partial removal of thyroid | 10.53 | NA | NA | 6.60 | 7.27 | 0.97 | NA | NA | 18.10 | 18.77 | 090
60225 |  | A | Partial removal of thyroid | 14.19 | NA | NA | 8.15 | 8.96 | 1.31 | NA | NA | 23.65 | 24.46 | 090
60240 |  | A | Removal of thyroid | 16.06 | NA | NA | 9.33 | 9.87 | 1.50 | NA | NA | 26.89 | 27.43 | 090
60252 |  | A | Removal of thyroid | 18.20 | NA | NA | 10.78 | 11.79 | 1.63 | NA | NA | 30.61 | 31.62 | 090
60254 |  | A | Extensive thyroid surgery | 23.88 | NA | NA | 14.52 | 16.10 | 1.96 | NA | NA | 40.36 | 41.94 | 090
60260 |  | A | Repeat thyroid surgery | 15.46 | NA | NA | 9.68 | 8.11 | 1.39 | NA | NA | 26.53 | 24.96 | 090
60270 |  | A | Removal of thyroid | 17.94 | NA | NA | 12.04 | 12.82 | 1.78 | NA | NA | 31.76 | 32.54 | 090
60271 |  | A | Removal of thyroid | 14.89 | NA | NA | 9.27 | 10.25 | 1.35 | NA | NA | 25.51 | 26.49 | 090
60280 |  | A | Remove thyroid duct lesion | 5.87 | NA | NA | 5.11 | 5.65 | 0.45 | NA | NA | 11.43 | 11.97 | 090
60281 |  | A | Remove thyroid duct lesion | 8.53 | NA | NA | 6.44 | 6.20 | 0.67 | NA | NA | 15.64 | 15.40 | 090
60500 |  | A | Explore parathyroid glands | 16.23 | NA | NA | 8.11 | 9.17 | 1.61 | NA | NA | 25.95 | 27.01 | 090
60502 |  | A | Re-explore parathyroids | 20.35 | NA | NA | 9.94 | 10.55 | 2.00 | NA | NA | 32.29 | 32.90 | 090
60505 |  | A | Explore parathyroid glands | 21.49 | NA | NA | 11.77 | 12.39 | 2.14 | NA | NA | 35.40 | 36.02 | 090
60512 |  | A | Autotransplant parathyroid | 4.45 | NA | NA | 1.78 | 1.97 | 0.44 | NA | NA | 6.67 | 6.86 | ZZZ
60520 |  | A | Removal of thymus gland | 16.81 | NA | NA | 11.14 | 12.03 | 1.84 | NA | NA | 29.79 | 30.68 | 090
60521 |  | A | Removal of thymus gland | 18.87 | NA | NA | 14.46 | 14.52 | 2.34 | NA | NA | 35.67 | 35.73 | 090
60522 |  | A | Removal of thymus gland | 23.09 | NA | NA | 15.89 | 15.59 | 2.83 | NA | NA | 41.81 | 41.51 | 090
60540 |  | A | Explore adrenal gland | 17.03 | NA | NA | 8.03 | 9.29 | 1.42 | NA | NA | 26.48 | 27.74 | 090
60545 |  | A | Explore adrenal gland | 19.88 | NA | NA | 9.84 | 11.25 | 1.75 | NA | NA | 31.47 | 32.88 | 090
60600 |  | A | Remove carotid body lesion | 17.93 | NA | NA | 14.03 | 13.63 | 1.87 | NA | NA | 33.83 | 33.43 | 090
60605 |  | A | Remove carotid body lesion | 20.24 | NA | NA | 19.89 | 17.82 | 2.28 | NA | NA | 42.41 | 40.34 | 090
60650 |  | A | Laparoscopy adrenalectomy | 20.00 | NA | NA | 8.60 | 8.60 | 1.98 | NA | NA | 30.58 | 30.58 | 090
60659 |  | C | Laparo proc, endocrine | 0.00 | 0.00 | 0.00 | 0.00 | 0.00 | 0.00 | 0.00 | 0.00 | 0.00 | 0.00 | YYY
60699 |  | C | Endocrine surgery procedure | 0.00 | 0.00 | 0.00 | 0.00 | 0.00 | 0.00 | 0.00 | 0.00 | 0.00 | 0.00 | YYY
61000 |  | A | Remove cranial cavity fluid | 1.58 | 1.72 | 1.58 | 1.59 | 1.48 | 0.13 | 3.43 | 3.29 | 3.30 | 3.19 | 000
61001 |  | A | Remove cranial cavity fluid | 1.49 | 1.88 | 1.65 | 1.38 | 1.16 | 0.15 | 3.52 | 3.29 | 3.02 | 2.80 | 000
61020 |  | A | Remove brain cavity fluid | 1.51 | 2.25 | 2.03 | 1.49 | 1.46 | 0.26 | 4.02 | 3.80 | 3.26 | 3.23 | 000
61026 |  | A | Injection into brain canal | 1.69 | 2.11 | 2.09 | 1.68 | 1.77 | 0.21 | 4.01 | 3.99 | 3.58 | 3.67 | 000
61050 |  | A | Remove brain canal fluid | 1.51 | NA | NA | 1.54 | 1.49 | 0.13 | NA | NA | 3.18 | 3.13 | 000
61055 |  | A | Injection into brain canal | 2.10 | NA | NA | 1.71 | 1.79 | 0.13 | NA | NA | 3.94 | 4.02 | 000
61070 |  | A | Brain canal shunt procedure | 0.89 | 6.61 | 5.09 | 1.16 | 0.94 | 0.09 | 7.59 | 6.07 | 2.14 | 1.92 | 000
61105 |  | A | Twist drill hole | 5.14 | NA | NA | 3.62 | 4.25 | 1.05 | NA | NA | 9.81 | 10.44 | 090
61107 |  | A | Drill skull for implantation | 5.00 | NA | NA | 3.13 | 3.84 | 1.02 | NA | NA | 9.15 | 9.86 | 000
61108 |  | A | Drill skull for drainage | 10.19 | NA | NA | 6.93 | 8.24 | 2.04 | NA | NA | 19.16 | 20.47 | 090
61120 |  | A | Burr hole for puncture | 8.76 | NA | NA | 5.79 | 5.96 | 1.81 | NA | NA | 16.36 | 16.53 | 090
61140 |  | A | Pierce skull for biopsy | 15.90 | NA | NA | 9.85 | 11.22 | 3.15 | NA | NA | 28.90 | 30.27 | 090
61150 |  | A | Pierce skull for drainage | 17.57 | NA | NA | 10.56 | 11.90 | 3.52 | NA | NA | 31.65 | 32.99 | 090
61151 |  | A | Pierce skull for drainage | 12.42 | NA | NA | 8.20 | 6.73 | 2.45 | NA | NA | 23.07 | 21.60 | 090
61154 |  | A | Pierce skull & remove clot | 14.99 | NA | NA | 9.42 | 11.54 | 3.05 | NA | NA | 27.46 | 29.58 | 090
61156 |  | A | Pierce skull for drainage | 16.32 | NA | NA | 10.26 | 12.09 | 3.42 | NA | NA | 30.00 | 31.83 | 090
61210 |  | A | Pierce skull, implant device | 5.84 | NA | NA | 3.50 | 4.26 | 1.16 | NA | NA | 10.50 | 11.26 | 000
61215 |  | A | Insert brain-fluid device | 4.89 | NA | NA | 4.19 | 4.60 | 0.99 | NA | NA | 10.07 | 10.48 | 090
61250 |  | A | Pierce skull & explore | 10.42 | NA | NA | 6.68 | 7.19 | 2.02 | NA | NA | 19.12 | 19.63 | 090
61253 |  | A | Pierce skull & explore | 12.36 | NA | NA | 7.31 | 8.09 | 2.26 | NA | NA | 21.93 | 22.71 | 090
61304 |  | A | Open skull for exploration | 21.96 | NA | NA | 12.56 | 15.98 | 4.33 | NA | NA | 38.85 | 42.27 | 090
61305 |  | A | Open skull for exploration | 26.61 | NA | NA | 14.90 | 19.07 | 5.25 | NA | NA | 46.76 | 50.93 | 090
61312 |  | A | Open skull for drainage | 24.57 | NA | NA | 14.32 | 17.29 | 4.99 | NA | NA | 43.88 | 46.85 | 090
61313 |  | A | Open skull for drainage | 24.93 | NA | NA | 14.54 | 17.43 | 5.07 | NA | NA | 44.54 | 47.43 | 090
61314 |  | A | Open skull for drainage | 24.23 | NA | NA | 12.38 | 16.24 | 4.00 | NA | NA | 40.61 | 44.47 | 090
61315 |  | A | Open skull for drainage | 27.68 | NA | NA | 15.98 | 18.61 | 5.62 | NA | NA | 49.28 | 51.91 | 090
61320 |  | A | Open skull for drainage | 25.62 | NA | NA | 14.92 | 16.26 | 5.20 | NA | NA | 45.74 | 47.08 | 090
61321 |  | A | Open skull for drainage | 28.50 | NA | NA | 15.99 | 17.37 | 5.35 | NA | NA | 49.84 | 51.22 | 090
61330 |  | A | Decompress eye socket | 23.32 | NA | NA | 17.09 | 16.34 | 2.58 | NA | NA | 42.99 | 42.24 | 090
61332 |  | A | Explore/biopsy eye socket | 27.28 | NA | NA | 19.47 | 20.23 | 4.15 | NA | NA | 50.90 | 51.66 | 090
61333 |  | A | Explore orbit/remove lesion | 27.95 | NA | NA | 16.46 | 17.90 | 2.24 | NA | NA | 46.65 | 48.09 | 090
61334 |  | A | Explore orbit/remove object | 18.27 | NA | NA | 11.80 | 12.83 | 3.02 | NA | NA | 33.09 | 34.12 | 090
61340 |  | A | Relieve cranial pressure | 18.66 | NA | NA | 11.49 | 12.63 | 3.66 | NA | NA | 33.81 | 34.95 | 090
61343 |  | A | Incise skull (press relief) | 29.77 | NA | NA | 17.69 | 21.42 | 6.04 | NA | NA | 53.50 | 57.23 | 090
61345 |  | A | Relieve cranial pressure | 27.20 | NA | NA | 16.30 | 17.43 | 5.23 | NA | NA | 48.73 | 49.86 | 090
61440 |  | A | Incise skull for surgery | 26.63 | NA | NA | 16.08 | 17.69 | 5.57 | NA | NA | 48.28 | 49.89 | 090
61450 |  | A | Incise skull for surgery | 25.95 | NA | NA | 14.62 | 16.51 | 5.11 | NA | NA | 45.68 | 47.57 | 090
61458 |  | A | Incise skull for brain wound | 27.29 | NA | NA | 15.66 | 19.15 | 5.28 | NA | NA | 48.23 | 51.72 | 090
61460 |  | A | Incise skull for surgery | 28.39 | NA | NA | 16.67 | 19.30 | 5.13 | NA | NA | 50.19 | 52.82 | 090
61470 |  | A | Incise skull for surgery | 26.06 | NA | NA | 14.09 | 14.33 | 4.65 | NA | NA | 44.80 | 45.04 | 090
61480 |  | A | Incise skull for surgery | 26.49 | NA | NA | 13.98 | 14.57 | 5.54 | NA | NA | 46.01 | 46.60 | 090
61490 |  | A | Incise skull for surgery | 25.66 | NA | NA | 14.93 | 14.38 | 5.37 | NA | NA | 45.96 | 45.41 | 090
61500 |  | A | Removal of skull lesion | 17.92 | NA | NA | 10.93 | 13.55 | 3.26 | NA | NA | 32.11 | 34.73 | 090
61501 |  | A | Remove infected skull bone | 14.84 | NA | NA | 9.13 | 11.28 | 2.63 | NA | NA | 26.60 | 28.75 | 090
61510 |  | A | Removal of brain lesion | 28.45 | NA | NA | 16.32 | 19.58 | 5.77 | NA | NA | 50.54 | 53.80 | 090
61512 |  | A | Remove brain lining lesion | 35.09 | NA | NA | 19.84 | 22.75 | 7.14 | NA | NA | 62.07 | 64.98 | 090
61514 |  | A | Removal of brain abscess | 25.26 | NA | NA | 14.53 | 17.82 | 5.12 | NA | NA | 44.91 | 48.20 | 090
61516 |  | A | Removal of brain lesion | 24.61 | NA | NA | 14.70 | 18.21 | 4.94 | NA | NA | 44.25 | 47.76 | 090
61518 |  | A | Removal of brain lesion | 37.32 | NA | NA | 21.97 | 24.62 | 7.53 | NA | NA | 66.82 | 69.47 | 090
61519 |  | A | Remove brain lining lesion | 41.39 | NA | NA | 23.83 | 26.34 | 8.15 | NA | NA | 73.37 | 75.88 | 090
61520 |  | A | Removal of brain lesion | 54.84 | NA | NA | 31.48 | 32.80 | 10.10 | NA | NA | 96.42 | 97.74 | 090
61521 |  | A | Removal of brain lesion | 44.48 | NA | NA | 25.81 | 28.30 | 8.85 | NA | NA | 79.14 | 81.63 | 090
61522 |  | A | Removal of brain abscess | 29.45 | NA | NA | 16.95 | 18.13 | 5.30 | NA | NA | 51.70 | 52.88 | 090
61524 |  | A | Removal of brain lesion | 27.86 | NA | NA | 16.43 | 19.77 | 5.01 | NA | NA | 49.30 | 52.64 | 090
61526 |  | A | Removal of brain lesion | 52.17 | NA | NA | 30.05 | 31.77 | 6.72 | NA | NA | 88.94 | 90.66 | 090
61530 |  | A | Removal of brain lesion | 43.86 | NA | NA | 26.95 | 29.44 | 6.17 | NA | NA | 76.98 | 79.47 | 090
61531 |  | A | Implant brain electrodes | 14.63 | NA | NA | 9.16 | 10.94 | 2.84 | NA | NA | 26.63 | 28.41 | 090
61533 |  | A | Implant brain electrodes | 19.71 | NA | NA | 11.98 | 13.60 | 3.80 | NA | NA | 35.49 | 37.11 | 090
61534 |  | A | Removal of brain lesion | 20.97 | NA | NA | 12.97 | 11.46 | 4.15 | NA | NA | 38.09 | 36.58 | 090
61535 |  | A | Remove brain electrodes | 11.63 | NA | NA | 7.75 | 7.89 | 2.29 | NA | NA | 21.67 | 21.81 | 090
61536 |  | A | Removal of brain lesion | 35.52 | NA | NA | 20.35 | 21.22 | 6.68 | NA | NA | 62.55 | 63.42 | 090
61538 |  | A | Removal of brain tissue | 26.81 | NA | NA | 16.00 | 19.89 | 5.38 | NA | NA | 48.19 | 52.08 | 090
61539 |  | A | Removal of brain tissue | 32.08 | NA | NA | 18.89 | 20.40 | 6.62 | NA | NA | 57.59 | 59.10 | 090
61541 |  | A | Incision of brain tissue | 28.85 | NA | NA | 16.34 | 17.63 | 5.50 | NA | NA | 50.69 | 51.98 | 090
61542 |  | A | Removal of brain tissue | 31.02 | NA | NA | 18.75 | 19.47 | 6.49 | NA | NA | 56.26 | 56.98 | 090
61543 |  | A | Removal of brain tissue | 29.22 | NA | NA | 17.80 | 18.03 | 6.11 | NA | NA | 53.13 | 53.36 | 090
61544 |  | A | Remove & treat brain lesion | 25.50 | NA | NA | 12.17 | 16.74 | 4.91 | NA | NA | 42.58 | 47.15 | 090
61545 |  | A | Excision of brain tumor | 43.80 | NA | NA | 24.52 | 25.35 | 8.88 | NA | NA | 77.20 | 78.03 | 090
61546 |  | A | Removal of pituitary gland | 31.30 | NA | NA | 18.13 | 20.93 | 6.06 | NA | NA | 55.49 | 58.29 | 090
61548 |  | A | Removal of pituitary gland | 21.53 | NA | NA | 13.47 | 16.53 | 3.63 | NA | NA | 38.63 | 41.69 | 090
61550 |  | A | Release of skull seams | 14.65 | NA | NA | 7.52 | 8.85 | 1.14 | NA | NA | 23.31 | 24.64 | 090
61552 |  | A | Release of skull seams | 19.56 | NA | NA | 10.70 | 11.78 | 0.88 | NA | NA | 31.14 | 32.22 | 090
61556 |  | A | Incise skull/sutures | 22.26 | NA | NA | 12.44 | 13.54 | 3.57 | NA | NA | 38.27 | 39.37 | 090
61557 |  | A | Incise skull/sutures | 22.38 | NA | NA | 12.84 | 13.87 | 4.68 | NA | NA | 39.90 | 40.93 | 090
61558 |  | A | Excision of skull/sutures | 25.58 | NA | NA | 12.59 | 14.26 | 2.61 | NA | NA | 40.78 | 42.45 | 090
61559 |  | A | Excision of skull/sutures | 32.79 | NA | NA | 18.98 | 20.48 | 6.86 | NA | NA | 58.63 | 60.13 | 090
61563 |  | A | Excision of skull tumor | 26.83 | NA | NA | 15.92 | 17.04 | 4.46 | NA | NA | 47.21 | 48.33 | 090
61564 |  | A | Excision of skull tumor | 33.83 | NA | NA | 19.23 | 20.86 | 7.08 | NA | NA | 60.14 | 61.77 | 090
61570 |  | A | Remove foreign body, brain | 24.60 | NA | NA | 13.38 | 14.51 | 4.60 | NA | NA | 42.58 | 43.71 | 090
61571 |  | A | Incise skull for brain wound | 26.39 | NA | NA | 14.97 | 16.20 | 5.23 | NA | NA | 46.59 | 47.82 | 090
61575 |  | A | Skull base/brainstem surgery | 34.36 | NA | NA | 20.91 | 24.63 | 5.02 | NA | NA | 60.29 | 64.01 | 090
61576 |  | A | Skull base/brainstem surgery | 52.43 | NA | NA | 29.71 | 29.94 | 4.68 | NA | NA | 86.82 | 87.05 | 090
61580 |  | A | Craniofacial approach, skull | 30.35 | NA | NA | 19.34 | 20.21 | 2.75 | NA | NA | 52.44 | 53.31 | 090
61581 |  | A | Craniofacial approach, skull | 34.60 | NA | NA | 21.58 | 22.65 | 3.37 | NA | NA | 59.55 | 60.62 | 090
61582 |  | A | Craniofacial approach, skull | 31.66 | NA | NA | 19.27 | 20.33 | 6.30 | NA | NA | 57.23 | 58.29 | 090
61583 |  | A | Craniofacial approach, skull | 36.21 | NA | NA | 22.22 | 23.37 | 6.94 | NA | NA | 65.37 | 66.52 | 090
61584 |  | A | Orbitocranial approach/skull | 34.65 | NA | NA | 20.79 | 22.08 | 6.53 | NA | NA | 61.97 | 63.26 | 090
61585 |  | A | Orbitocranial approach/skull | 38.61 | NA | NA | 22.70 | 24.28 | 6.19 | NA | NA | 67.50 | 69.08 | 090
61586 |  | A | Resect nasopharynx, skull | 25.10 | NA | NA | 15.96 | 17.77 | 3.52 | NA | NA | 44.58 | 46.39 | 090
61590 |  | A | Infratemporal approach/skull | 41.78 | NA | NA | 25.53 | 27.04 | 4.28 | NA | NA | 71.59 | 73.10 | 090
61591 |  | A | Infratemporal approach/skull | 43.68 | NA | NA | 26.58 | 28.22 | 5.26 | NA | NA | 75.52 | 77.16 | 090
61592 |  | A | Orbitocranial approach/skull | 39.64 | NA | NA | 23.29 | 24.98 | 7.55 | NA | NA | 70.48 | 72.17 | 090
61595 |  | A | Transtemporal approach/skull | 29.57 | NA | NA | 19.23 | 19.97 | 3.05 | NA | NA | 51.85 | 52.59 | 090
61596 |  | A | Transcochlear approach/skull | 35.63 | NA | NA | 22.03 | 23.26 | 4.25 | NA | NA | 61.91 | 63.14 | 090
61597 |  | A | Transcondylar approach/skull | 37.96 | NA | NA | 21.88 | 23.54 | 6.65 | NA | NA | 66.49 | 68.15 | 090
61598 |  | A | Transpetrosal approach/skull | 33.41 | NA | NA | 20.63 | 21.75 | 4.60 | NA | NA | 58.64 | 59.76 | 090
61600 |  | A | Resect/excise cranial lesion | 25.85 | NA | NA | 16.56 | 17.23 | 3.12 | NA | NA | 45.53 | 46.20 | 090
61601 |  | A | Resect/excise cranial lesion | 27.89 | NA | NA | 17.07 | 17.97 | 5.29 | NA | NA | 50.25 | 51.15 | 090
61605 |  | A | Resect/excise cranial lesion | 29.33 | NA | NA | 18.45 | 19.29 | 2.51 | NA | NA | 50.29 | 51.13 | 090
61606 |  | A | Resect/excise cranial lesion | 38.83 | NA | NA | 23.10 | 24.62 | 6.81 | NA | NA | 68.74 | 70.26 | 090
61607 |  | A | Resect/excise cranial lesion | 36.27 | NA | NA | 21.76 | 23.14 | 5.69 | NA | NA | 63.72 | 65.10 | 090
61608 |  | A | Resect/excise cranial lesion | 42.10 | NA | NA | 24.41 | 26.24 | 8.31 | NA | NA | 74.82 | 76.65 | 090
61609 |  | A | Transect artery, sinus | 9.89 | NA | NA | 4.60 | 5.40 | 2.07 | NA | NA | 16.56 | 17.36 | ZZZ
61610 |  | A | Transect artery, sinus | 29.67 | NA | NA | 12.44 | 15.18 | 3.52 | NA | NA | 45.63 | 48.37 | ZZZ
61611 |  | A | Transect artery, sinus | 7.42 | NA | NA | 2.97 | 3.69 | 1.55 | NA | NA | 11.94 | 12.66 | ZZZ
61612 |  | A | Transect artery, sinus | 27.88 | NA | NA | 14.40 | 16.30 | 3.55 | NA | NA | 45.83 | 47.73 | ZZZ
61613 |  | A | Remove aneurysm, sinus | 40.86 | NA | NA | 23.85 | 25.67 | 8.32 | NA | NA | 73.03 | 74.85 | 090
61615 |  | A | Resect/excise lesion, skull | 32.07 | NA | NA | 20.34 | 21.24 | 4.64 | NA | NA | 57.05 | 57.95 | 090
61616 |  | A | Resect/excise lesion, skull | 43.33 | NA | NA | 26.84 | 28.28 | 7.02 | NA | NA | 77.19 | 78.63 | 090
61618 |  | A | Repair dura | 16.99 | NA | NA | 11.19 | 11.47 | 2.92 | NA | NA | 31.10 | 31.38 | 090
61619 |  | A | Repair dura | 20.71 | NA | NA | 13.21 | 13.76 | 3.42 | NA | NA | 37.34 | 37.89 | 090
61624 |  | A | Occlusion/embolization cath | 20.15 | NA | NA | 7.37 | 9.67 | 1.15 | NA | NA | 28.67 | 30.97 | 000
61626 |  | A | Occlusion/embolization cath | 16.62 | NA | NA | 5.97 | 7.90 | 0.84 | NA | NA | 23.43 | 25.36 | 000
61680 |  | A | Intracranial vessel surgery | 30.71 | NA | NA | 18.38 | 22.21 | 6.04 | NA | NA | 55.13 | 58.96 | 090
61682 |  | A | Intracranial vessel surgery | 61.57 | NA | NA | 33.79 | 34.92 | 12.69 | NA | NA | 108.05 | 109.18 | 090
61684 |  | A | Intracranial vessel surgery | 39.81 | NA | NA | 21.84 | 24.46 | 7.87 | NA | NA | 69.52 | 72.14 | 090
61686 |  | A | Intracranial vessel surgery | 64.49 | NA | NA | 35.92 | 36.70 | 13.20 | NA | NA | 113.61 | 114.39 | 090
61690 |  | A | Intracranial vessel surgery | 29.31 | NA | NA | 17.53 | 20.60 | 5.51 | NA | NA | 52.35 | 55.42 | 090
61692 |  | A | Intracranial vessel surgery | 51.87 | NA | NA | 29.08 | 29.62 | 10.17 | NA | NA | 91.12 | 91.66 | 090
61697 |  | A | Brain aneurysm repr, complx | 50.52 | NA | NA | 27.76 | 27.76 | 9.57 | NA | NA | 87.85 | 87.85 | 090
61698 |  | A | Brain aneurysm repr, complx | 48.41 | NA | NA | 26.87 | 26.87 | 9.28 | NA | NA | 84.56 | 84.56 | 090
61700 |  | A | Brain aneurysm repr , simple | 50.52 | NA | NA | 27.76 | 29.42 | 10.18 | NA | NA | 88.46 | 90.12 | 090
61702 |  | A | Inner skull vessel surgery | 48.41 | NA | NA | 26.87 | 30.01 | 9.75 | NA | NA | 85.03 | 88.17 | 090
61703 |  | A | Clamp neck artery | 17.47 | NA | NA | 10.99 | 11.56 | 3.62 | NA | NA | 32.08 | 32.65 | 090
61705 |  | A | Revise circulation to head | 36.20 | NA | NA | 20.20 | 23.40 | 6.67 | NA | NA | 63.07 | 66.27 | 090
61708 |  | A | Revise circulation to head | 35.30 | NA | NA | 16.08 | 18.90 | 2.18 | NA | NA | 53.56 | 56.38 | 090
61710 |  | A | Revise circulation to head | 29.67 | NA | NA | 14.40 | 15.31 | 2.42 | NA | NA | 46.49 | 47.40 | 090
61711 |  | A | Fusion of skull arteries | 36.33 | NA | NA | 20.00 | 23.97 | 7.39 | NA | NA | 63.72 | 67.69 | 090
61720 |  | A | Incise skull/brain surgery | 16.77 | NA | NA | 10.72 | 13.05 | 3.51 | NA | NA | 31.00 | 33.33 | 090
61735 |  | A | Incise skull/brain surgery | 20.43 | NA | NA | 12.60 | 12.97 | 4.16 | NA | NA | 37.19 | 37.56 | 090
61750 |  | A | Incise skull/brain biopsy | 18.20 | NA | NA | 11.02 | 11.94 | 3.71 | NA | NA | 32.93 | 33.85 | 090
61751 |  | A | Brain biopsy w/ ct/mr guide | 17.62 | NA | NA | 10.75 | 13.32 | 3.57 | NA | NA | 31.94 | 34.51 | 090
61760 |  | A | Implant brain electrodes | 22.27 | NA | NA | 13.16 | 13.94 | 4.59 | NA | NA | 40.02 | 40.80 | 090
61770 |  | A | Incise skull for treatment | 21.44 | NA | NA | 12.79 | 14.85 | 4.09 | NA | NA | 38.32 | 40.38 | 090
61790 |  | A | Treat trigeminal nerve | 10.86 | NA | NA | 6.12 | 7.83 | 1.82 | NA | NA | 18.80 | 20.51 | 090
61791 |  | A | Treat trigeminal tract | 14.61 | NA | NA | 9.28 | 9.61 | 3.03 | NA | NA | 26.92 | 27.25 | 090
61793 |  | A | Focus radiation beam | 17.24 | NA | NA | 10.87 | 13.30 | 3.51 | NA | NA | 31.62 | 34.05 | 090
61795 |  | A | Brain surgery using computer | 4.04 | NA | NA | 2.09 | 2.77 | 0.81 | NA | NA | 6.94 | 7.62 | ZZZ
61850 |  | A | Implant neuroelectrodes | 12.39 | NA | NA | 7.94 | 9.11 | 2.23 | NA | NA | 22.56 | 23.73 | 090
61860 |  | A | Implant neuroelectrodes | 20.87 | NA | NA | 12.74 | 11.76 | 4.04 | NA | NA | 37.65 | 36.67 | 090
61862 |  | A | Implant neurostimul, subcort | 19.34 | NA | NA | 11.99 | 11.99 | 3.97 | NA | NA | 35.30 | 35.30 | 090
61870 |  | A | Implant neuroelectrodes | 14.94 | NA | NA | 11.36 | 9.66 | 1.70 | NA | NA | 28.00 | 26.30 | 090
61875 |  | A | Implant neuroelectrodes | 15.06 | NA | NA | 10.00 | 9.32 | 2.42 | NA | NA | 27.48 | 26.80 | 090
61880 |  | A | Revise/remove neuroelectrode | 6.29 | NA | NA | 5.24 | 5.23 | 1.31 | NA | NA | 12.84 | 12.83 | 090
61885 |  | A | Implant neurostim one array | 5.85 | NA | NA | 4.29 | 3.75 | 1.22 | NA | NA | 11.36 | 10.82 | 090
61886 |  | A | Implant neurostim arrays | 8.00 | NA | NA | 6.09 | 6.09 | 1.64 | NA | NA | 15.73 | 15.73 | 090
61888 |  | A | Revise/remove neuroreceiver | 5.07 | NA | NA | 3.88 | 3.52 | 1.04 | NA | NA | 9.99 | 9.63 | 010
62000 |  | A | Treat skull fracture | 12.53 | NA | NA | 5.41 | 5.61 | 0.87 | NA | NA | 18.81 | 19.01 | 090
62005 |  | A | Treat skull fracture | 16.17 | NA | NA | 8.93 | 9.70 | 2.33 | NA | NA | 27.43 | 28.20 | 090
62010 |  | A | Treatment of head injury | 19.81 | NA | NA | 11.61 | 13.92 | 4.05 | NA | NA | 35.47 | 37.78 | 090
62100 |  | A | Repair brain fluid leakage | 22.03 | NA | NA | 13.94 | 16.32 | 4.07 | NA | NA | 40.04 | 42.42 | 090
62115 |  | A | Reduction of skull defect | 21.66 | NA | NA | 10.63 | 12.18 | 4.53 | NA | NA | 36.82 | 38.37 | 090
62116 |  | A | Reduction of skull defect | 23.59 | NA | NA | 13.78 | 14.94 | 4.85 | NA | NA | 42.22 | 43.38 | 090
62117 |  | A | Reduction of skull defect | 26.60 | NA | NA | 15.18 | 16.60 | 5.56 | NA | NA | 47.34 | 48.76 | 090
62120 |  | A | Repair skull cavity lesion | 23.35 | NA | NA | 14.18 | 15.22 | 3.07 | NA | NA | 40.60 | 41.64 | 090
62121 |  | A | Incise skull repair | 21.58 | NA | NA | 13.78 | 15.09 | 2.47 | NA | NA | 37.83 | 39.14 | 090
62140 |  | A | Repair of skull defect | 13.51 | NA | NA | 8.54 | 10.05 | 2.60 | NA | NA | 24.65 | 26.16 | 090
62141 |  | A | Repair of skull defect | 14.91 | NA | NA | 9.70 | 11.73 | 2.85 | NA | NA | 27.46 | 29.49 | 090
62142 |  | A | Remove skull plate/flap | 10.79 | NA | NA | 7.20 | 8.62 | 2.10 | NA | NA | 20.09 | 21.51 | 090
62143 |  | A | Replace skull plate/flap | 13.05 | NA | NA | 8.67 | 8.99 | 2.55 | NA | NA | 24.27 | 24.59 | 090
62145 |  | A | Repair of skull & brain | 18.82 | NA | NA | 11.29 | 12.04 | 3.81 | NA | NA | 33.92 | 34.67 | 090
62146 |  | A | Repair of skull with graft | 16.12 | NA | NA | 10.39 | 10.78 | 2.94 | NA | NA | 29.45 | 29.84 | 090
62147 |  | A | Repair of skull with graft | 19.34 | NA | NA | 12.21 | 12.73 | 3.64 | NA | NA | 35.19 | 35.71 | 090
62180 |  | A | Establish brain cavity shunt | 21.06 | NA | NA | 12.86 | 13.50 | 4.32 | NA | NA | 38.24 | 38.88 | 090
62190 |  | A | Establish brain cavity shunt | 11.07 | NA | NA | 7.65 | 9.04 | 2.18 | NA | NA | 20.90 | 22.29 | 090
62192 |  | A | Establish brain cavity shunt | 12.25 | NA | NA | 8.21 | 9.82 | 2.46 | NA | NA | 22.92 | 24.53 | 090
62194 |  | A | Replace/irrigate catheter | 5.03 | NA | NA | 2.08 | 2.07 | 0.50 | NA | NA | 7.61 | 7.60 | 010
62200 |  | A | Establish brain cavity shunt | 18.32 | NA | NA | 11.41 | 13.16 | 3.70 | NA | NA | 33.43 | 35.18 | 090
62201 |  | A | Establish brain cavity shunt | 14.86 | NA | NA | 9.18 | 9.27 | 2.52 | NA | NA | 26.56 | 26.65 | 090
62220 |  | A | Establish brain cavity shunt | 13.00 | NA | NA | 8.63 | 10.35 | 2.53 | NA | NA | 24.16 | 25.88 | 090
62223 |  | A | Establish brain cavity shunt | 12.87 | NA | NA | 8.45 | 10.18 | 2.58 | NA | NA | 23.90 | 25.63 | 090
62225 |  | A | Replace/irrigate catheter | 5.41 | NA | NA | 4.06 | 4.35 | 1.09 | NA | NA | 10.56 | 10.85 | 090
62230 |  | A | Replace/revise brain shunt | 10.54 | NA | NA | 6.59 | 7.61 | 2.10 | NA | NA | 19.23 | 20.25 | 090
62252 |  | A | Csf shunt reprogram | 0.74 | 1.40 | 1.40 | 1.40 | 1.40 | 0.04 | 2.18 | 2.18 | 2.18 | 2.18 | XXX
62252 | 26 | A | Csf shunt reprogram | 0.74 | 0.30 | 0.30 | 0.30 | 0.30 | 0.02 | 1.06 | 1.06 | 1.06 | 1.06 | XXX
62252 | TC | A | Csf shunt reprogram | 0.00 | 1.10 | 1.10 | NA | NA | 0.02 | 1.12 | 1.12 | NA | NA | XXX
62256 |  | A | Remove brain cavity shunt | 6.60 | NA | NA | 5.34 | 5.74 | 1.34 | NA | NA | 13.28 | 13.68 | 090
62258 |  | A | Replace brain cavity shunt | 14.54 | NA | NA | 8.65 | 10.50 | 2.91 | NA | NA | 26.10 | 27.95 | 090
62263 |  | A | Lysis epidural adhesions | 6.14 | 5.70 | 5.70 | 2.29 | 2.29 | 0.42 | 12.26 | 12.26 | 8.85 | 8.85 | 010
62268 |  | A | Drain spinal cord cyst | 4.74 | NA | NA | 2.71 | 2.84 | 0.29 | NA | NA | 7.74 | 7.87 | 000
62269 |  | A | Needle biopsy, spinal cord | 5.02 | NA | NA | 2.33 | 2.22 | 0.29 | NA | NA | 7.64 | 7.53 | 000
62270 |  | A | Spinal fluid tap, diagnostic | 1.13 | 3.49 | 2.81 | 0.46 | 0.54 | 0.06 | 4.68 | 4.00 | 1.65 | 1.73 | 000
62272 |  | A | Drain spinal fluid | 1.35 | 3.00 | 2.53 | 0.61 | 0.73 | 0.13 | 4.48 | 4.01 | 2.09 | 2.21 | 000
62273 |  | A | Treat epidural spine lesion | 2.15 | 1.31 | 1.29 | 1.25 | 1.24 | 0.14 | 3.60 | 3.58 | 3.54 | 3.53 | 000
62280 |  | A | Treat spinal cord lesion | 2.63 | 3.44 | 2.77 | 0.70 | 0.72 | 0.17 | 6.24 | 5.57 | 3.50 | 3.52 | 010
62281 |  | A | Treat spinal cord lesion | 2.66 | 3.76 | 3.06 | 0.61 | 0.69 | 0.16 | 6.58 | 5.88 | 3.43 | 3.51 | 010
62282 |  | A | Treat spinal canal lesion | 2.33 | 5.24 | 4.39 | 0.61 | 0.92 | 0.14 | 7.71 | 6.86 | 3.08 | 3.39 | 010
62284 |  | A | Injection for myelogram | 1.54 | 4.04 | 3.57 | 0.70 | 0.98 | 0.10 | 5.68 | 5.21 | 2.34 | 2.62 | 000
62287 |  | A | Percutaneous diskectomy | 8.08 | NA | NA | 4.70 | 5.41 | 0.66 | NA | NA | 13.44 | 14.15 | 090
62290 |  | A | Inject for spine disk x-ray | 3.00 | 5.20 | 4.41 | 1.27 | 1.46 | 0.20 | 8.40 | 7.61 | 4.47 | 4.66 | 000
62291 |  | A | Inject for spine disk x-ray | 2.91 | 5.29 | 4.45 | 1.16 | 1.35 | 0.17 | 8.37 | 7.53 | 4.24 | 4.43 | 000
62292 |  | A | Injection into disk lesion | 7.86 | NA | NA | 4.74 | 5.90 | 0.65 | NA | NA | 13.25 | 14.41 | 090
62294 |  | A | Injection into spinal artery | 11.83 | NA | NA | 6.08 | 6.15 | 0.85 | NA | NA | 18.76 | 18.83 | 090
62310 |  | A | Inject spine c/t | 1.91 | 3.60 | 3.60 | 0.43 | 0.43 | 0.11 | 5.62 | 5.62 | 2.45 | 2.45 | 000
62311 |  | A | Inject spine l/s (cd) | 1.54 | 3.88 | 3.88 | 0.37 | 0.37 | 0.09 | 5.51 | 5.51 | 2.00 | 2.00 | 000
62318 |  | A | Inject spine w/cath, c/t | 2.04 | 3.66 | 3.66 | 0.46 | 0.46 | 0.12 | 5.82 | 5.82 | 2.62 | 2.62 | 000
62319 |  | A | Inject spine w/cath l/s (cd) | 1.87 | 3.14 | 3.14 | 0.39 | 0.39 | 0.11 | 5.12 | 5.12 | 2.37 | 2.37 | 000
62350 |  | A | Implant spinal canal cath | 6.87 | NA | NA | 3.66 | 3.69 | 0.64 | NA | NA | 11.17 | 11.20 | 090
62351 |  | A | Implant spinal canal cath | 10.00 | NA | NA | 6.78 | 6.49 | 1.79 | NA | NA | 18.57 | 18.28 | 090
62355 |  | A | Remove spinal canal catheter | 5.45 | NA | NA | 2.77 | 3.03 | 0.47 | NA | NA | 8.69 | 8.95 | 090
62360 |  | A | Insert spine infusion device | 2.62 | NA | NA | 2.19 | 1.95 | 0.21 | NA | NA | 5.02 | 4.78 | 090
62361 |  | A | Implant spine infusion pump | 5.42 | NA | NA | 3.53 | 3.38 | 0.50 | NA | NA | 9.45 | 9.30 | 090
62362 |  | A | Implant spine infusion pump | 7.04 | NA | NA | 4.07 | 4.01 | 0.86 | NA | NA | 11.97 | 11.91 | 090
62365 |  | A | Remove spine infusion device | 5.42 | NA | NA | 3.04 | 3.22 | 0.58 | NA | NA | 9.04 | 9.22 | 090
62367 |  | C | Analyze spine infusion pump | 0.00 | 0.00 | 0.00 | 0.00 | 0.00 | 0.00 | 0.00 | 0.00 | 0.00 | 0.00 | XXX
62367 | 26 | A | Analyze spine infusion pump | 0.48 | 0.14 | 0.20 | 0.14 | 0.20 | 0.03 | 0.65 | 0.71 | 0.65 | 0.71 | XXX
62367 | TC | C | Analyze spine infusion pump | 0.00 | 0.00 | 0.00 | 0.00 | 0.00 | 0.00 | 0.00 | 0.00 | 0.00 | 0.00 | XXX
62368 |  | C | Analyze spine infusion pump | 0.00 | 0.00 | 0.00 | 0.00 | 0.00 | 0.00 | 0.00 | 0.00 | 0.00 | 0.00 | XXX
62368 | 26 | A | Analyze spine infusion pump | 0.75 | 0.20 | 0.30 | 0.20 | 0.30 | 0.05 | 1.00 | 1.10 | 1.00 | 1.10 | XXX
62368 | TC | C | Analyze spine infusion pump | 0.00 | 0.00 | 0.00 | 0.00 | 0.00 | 0.00 | 0.00 | 0.00 | 0.00 | 0.00 | XXX
63001 |  | A | Removal of spinal lamina | 15.82 | NA | NA | 11.50 | 13.35 | 3.03 | NA | NA | 30.35 | 32.20 | 090
63003 |  | A | Removal of spinal lamina | 15.95 | NA | NA | 11.65 | 13.50 | 2.98 | NA | NA | 30.58 | 32.43 | 090
63005 |  | A | Removal of spinal lamina | 14.92 | NA | NA | 11.12 | 12.79 | 2.62 | NA | NA | 28.66 | 30.33 | 090
63011 |  | A | Removal of spinal lamina | 14.52 | NA | NA | 9.27 | 9.66 | 1.43 | NA | NA | 25.22 | 25.61 | 090
63012 |  | A | Removal of spinal lamina | 15.40 | NA | NA | 10.09 | 12.16 | 2.71 | NA | NA | 28.20 | 30.27 | 090
63015 |  | A | Removal of spinal lamina | 19.35 | NA | NA | 13.36 | 15.78 | 3.84 | NA | NA | 36.55 | 38.97 | 090
63016 |  | A | Removal of spinal lamina | 19.20 | NA | NA | 13.34 | 15.74 | 3.62 | NA | NA | 36.16 | 38.56 | 090
63017 |  | A | Removal of spinal lamina | 15.94 | NA | NA | 11.64 | 13.49 | 2.91 | NA | NA | 30.49 | 32.34 | 090
63020 |  | A | Neck spine disk surgery | 14.81 | NA | NA | 11.05 | 12.64 | 2.89 | NA | NA | 28.75 | 30.34 | 090
63030 |  | A | Low back disk surgery | 12.00 | NA | NA | 9.62 | 10.80 | 2.21 | NA | NA | 23.83 | 25.01 | 090
63035 |  | A | Spinal disk surgery add-on | 3.15 | NA | NA | 1.64 | 2.17 | 0.57 | NA | NA | 5.36 | 5.89 | ZZZ
63040 |  | A | Laminotomy, single cervical | 18.81 | NA | NA | 12.98 | 15.35 | 3.36 | NA | NA | 35.15 | 37.52 | 090
63042 |  | A | Laminotomy, single lumbar | 17.47 | NA | NA | 12.60 | 14.67 | 3.11 | NA | NA | 33.18 | 35.25 | 090
63043 |  | B | Laminotomy, addl cervical | 0.00 | 0.00 | 0.00 | 0.00 | 0.00 | 0.00 | 0.00 | 0.00 | 0.00 | 0.00 | ZZZ
63044 |  | B | Laminotomy, addl lumbar | 0.00 | 0.00 | 0.00 | 0.00 | 0.00 | 0.00 | 0.00 | 0.00 | 0.00 | 0.00 | ZZZ
63045 |  | A | Removal of spinal lamina | 16.50 | NA | NA | 11.95 | 13.89 | 3.19 | NA | NA | 31.64 | 33.58 | 090
63046 |  | A | Removal of spinal lamina | 15.80 | NA | NA | 11.60 | 13.42 | 2.89 | NA | NA | 30.29 | 32.11 | 090
63047 |  | A | Removal of spinal lamina | 14.61 | NA | NA | 11.05 | 12.65 | 2.61 | NA | NA | 28.27 | 29.87 | 090
63048 |  | A | Remove spinal lamina add-on | 3.26 | NA | NA | 1.73 | 2.27 | 0.58 | NA | NA | 5.57 | 6.11 | ZZZ
63055 |  | A | Decompress spinal cord | 21.99 | NA | NA | 14.74 | 17.49 | 4.09 | NA | NA | 40.82 | 43.57 | 090
63056 |  | A | Decompress spinal cord | 20.36 | NA | NA | 14.01 | 16.43 | 3.34 | NA | NA | 37.71 | 40.13 | 090
63057 |  | A | Decompress spine cord add-on | 5.26 | NA | NA | 2.66 | 3.04 | 0.81 | NA | NA | 8.73 | 9.11 | ZZZ
63064 |  | A | Decompress spinal cord | 24.61 | NA | NA | 16.68 | 18.98 | 4.72 | NA | NA | 46.01 | 48.31 | 090
63066 |  | A | Decompress spine cord add-on | 3.26 | NA | NA | 1.74 | 1.98 | 0.63 | NA | NA | 5.63 | 5.87 | ZZZ
63075 |  | A | Neck spine disk surgery | 19.41 | NA | NA | 13.50 | 14.89 | 3.73 | NA | NA | 36.64 | 38.03 | 090
63076 |  | A | Neck spine disk surgery | 4.05 | NA | NA | 2.13 | 2.81 | 0.78 | NA | NA | 6.96 | 7.64 | ZZZ
63077 |  | A | Spine disk surgery, thorax | 21.44 | NA | NA | 15.13 | 16.35 | 3.44 | NA | NA | 40.01 | 41.23 | 090
63078 |  | A | Spine disk surgery, thorax | 3.28 | NA | NA | 1.70 | 1.98 | 0.50 | NA | NA | 5.48 | 5.76 | ZZZ
63081 |  | A | Removal of vertebral body | 23.73 | NA | NA | 16.33 | 19.33 | 4.46 | NA | NA | 44.52 | 47.52 | 090
63082 |  | A | Remove vertebral body add-on | 4.37 | NA | NA | 2.31 | 3.04 | 0.82 | NA | NA | 7.50 | 8.23 | ZZZ
63085 |  | A | Removal of vertebral body | 26.92 | NA | NA | 18.32 | 21.17 | 4.70 | NA | NA | 49.94 | 52.79 | 090
63086 |  | A | Remove vertebral body add-on | 3.19 | NA | NA | 1.66 | 2.20 | 0.55 | NA | NA | 5.40 | 5.94 | ZZZ
63087 |  | A | Removal of vertebral body | 35.57 | NA | NA | 22.20 | 24.32 | 5.87 | NA | NA | 63.64 | 65.76 | 090
63088 |  | A | Remove vertebral body add-on | 4.33 | NA | NA | 2.28 | 3.00 | 0.77 | NA | NA | 7.38 | 8.10 | ZZZ
63090 |  | A | Removal of vertebral body | 28.16 | NA | NA | 18.11 | 21.51 | 4.27 | NA | NA | 50.54 | 53.94 | 090
63091 |  | A | Remove vertebral body add-on | 3.03 | NA | NA | 1.53 | 1.89 | 0.45 | NA | NA | 5.01 | 5.37 | ZZZ
63170 |  | A | Incise spinal cord tract(s) | 19.83 | NA | NA | 13.58 | 15.31 | 3.89 | NA | NA | 37.30 | 39.03 | 090
63172 |  | A | Drainage of spinal cyst | 17.66 | NA | NA | 13.03 | 15.05 | 3.46 | NA | NA | 34.15 | 36.17 | 090
63173 |  | A | Drainage of spinal cyst | 21.99 | NA | NA | 14.78 | 15.28 | 4.14 | NA | NA | 40.91 | 41.41 | 090
63180 |  | A | Revise spinal cord ligaments | 18.27 | NA | NA | 12.42 | 12.47 | 3.83 | NA | NA | 34.52 | 34.57 | 090
63182 |  | A | Revise spinal cord ligaments | 20.50 | NA | NA | 12.87 | 14.11 | 3.48 | NA | NA | 36.85 | 38.09 | 090
63185 |  | A | Incise spinal column/nerves | 15.04 | NA | NA | 9.73 | 11.52 | 2.08 | NA | NA | 26.85 | 28.64 | 090
63190 |  | A | Incise spinal column/nerves | 17.45 | NA | NA | 12.03 | 14.23 | 2.88 | NA | NA | 32.36 | 34.56 | 090
63191 |  | A | Incise spinal column/nerves | 17.54 | NA | NA | 12.37 | 12.82 | 3.50 | NA | NA | 33.41 | 33.86 | 090
63194 |  | A | Incise spinal column & cord | 19.19 | NA | NA | 13.11 | 13.37 | 4.01 | NA | NA | 36.31 | 36.57 | 090
63195 |  | A | Incise spinal column & cord | 18.84 | NA | NA | 12.13 | 12.86 | 3.44 | NA | NA | 34.41 | 35.14 | 090
63196 |  | A | Incise spinal column & cord | 22.30 | NA | NA | 12.37 | 13.51 | 4.66 | NA | NA | 39.33 | 40.47 | 090
63197 |  | A | Incise spinal column & cord | 21.11 | NA | NA | 13.71 | 14.18 | 4.42 | NA | NA | 39.24 | 39.71 | 090
63198 |  | A | Incise spinal column & cord | 25.38 | NA | NA | 13.60 | 14.63 | 5.31 | NA | NA | 44.29 | 45.32 | 090
63199 |  | A | Incise spinal column & cord | 26.89 | NA | NA | 14.20 | 16.46 | 5.62 | NA | NA | 46.71 | 48.97 | 090
63200 |  | A | Release of spinal cord | 19.18 | NA | NA | 13.09 | 13.21 | 3.61 | NA | NA | 35.88 | 36.00 | 090
63250 |  | A | Revise spinal cord vessels | 40.76 | NA | NA | 20.95 | 23.31 | 7.65 | NA | NA | 69.36 | 71.72 | 090
63251 |  | A | Revise spinal cord vessels | 41.20 | NA | NA | 23.04 | 23.45 | 7.98 | NA | NA | 72.22 | 72.63 | 090
63252 |  | A | Revise spinal cord vessels | 41.19 | NA | NA | 22.40 | 24.47 | 7.75 | NA | NA | 71.34 | 73.41 | 090
63265 |  | A | Excise intraspinal lesion | 21.56 | NA | NA | 13.17 | 15.85 | 4.29 | NA | NA | 39.02 | 41.70 | 090
63266 |  | A | Excise intraspinal lesion | 22.30 | NA | NA | 13.51 | 16.79 | 4.47 | NA | NA | 40.28 | 43.56 | 090
63267 |  | A | Excise intraspinal lesion | 17.95 | NA | NA | 11.32 | 13.85 | 3.50 | NA | NA | 32.77 | 35.30 | 090
63268 |  | A | Excise intraspinal lesion | 18.52 | NA | NA | 10.83 | 11.53 | 3.18 | NA | NA | 32.53 | 33.23 | 090
63270 |  | A | Excise intraspinal lesion | 26.80 | NA | NA | 15.90 | 16.85 | 5.41 | NA | NA | 48.11 | 49.06 | 090
63271 |  | A | Excise intraspinal lesion | 26.92 | NA | NA | 16.01 | 19.23 | 5.56 | NA | NA | 48.49 | 51.71 | 090
63272 |  | A | Excise intraspinal lesion | 25.32 | NA | NA | 15.17 | 17.66 | 5.07 | NA | NA | 45.56 | 48.05 | 090
63273 |  | A | Excise intraspinal lesion | 24.29 | NA | NA | 14.60 | 15.72 | 5.08 | NA | NA | 43.97 | 45.09 | 090
63275 |  | A | Biopsy/excise spinal tumor | 23.68 | NA | NA | 14.12 | 17.66 | 4.68 | NA | NA | 42.48 | 46.02 | 090
63276 |  | A | Biopsy/excise spinal tumor | 23.45 | NA | NA | 14.04 | 17.40 | 4.63 | NA | NA | 42.12 | 45.48 | 090
63277 |  | A | Biopsy/excise spinal tumor | 20.83 | NA | NA | 12.82 | 15.83 | 4.03 | NA | NA | 37.68 | 40.69 | 090
63278 |  | A | Biopsy/excise spinal tumor | 20.56 | NA | NA | 12.48 | 15.50 | 4.02 | NA | NA | 37.06 | 40.08 | 090
63280 |  | A | Biopsy/excise spinal tumor | 28.35 | NA | NA | 16.64 | 20.10 | 5.80 | NA | NA | 50.79 | 54.25 | 090
63281 |  | A | Biopsy/excise spinal tumor | 28.05 | NA | NA | 16.39 | 19.80 | 5.67 | NA | NA | 50.11 | 53.52 | 090
63282 |  | A | Biopsy/excise spinal tumor | 26.39 | NA | NA | 15.60 | 18.24 | 5.33 | NA | NA | 47.32 | 49.96 | 090
63283 |  | A | Biopsy/excise spinal tumor | 25.00 | NA | NA | 14.83 | 16.22 | 5.12 | NA | NA | 44.95 | 46.34 | 090
63285 |  | A | Biopsy/excise spinal tumor | 36.00 | NA | NA | 20.26 | 21.84 | 7.31 | NA | NA | 63.57 | 65.15 | 090
63286 |  | A | Biopsy/excise spinal tumor | 35.63 | NA | NA | 20.36 | 23.07 | 7.07 | NA | NA | 63.06 | 65.77 | 090
63287 |  | A | Biopsy/excise spinal tumor | 36.70 | NA | NA | 20.74 | 22.53 | 7.48 | NA | NA | 64.92 | 66.71 | 090
63290 |  | A | Biopsy/excise spinal tumor | 37.38 | NA | NA | 21.36 | 23.39 | 7.65 | NA | NA | 66.39 | 68.42 | 090
63300 |  | A | Removal of vertebral body | 24.43 | NA | NA | 14.84 | 15.82 | 4.78 | NA | NA | 44.05 | 45.03 | 090
63301 |  | A | Removal of vertebral body | 27.60 | NA | NA | 16.07 | 17.06 | 5.03 | NA | NA | 48.70 | 49.69 | 090
63302 |  | A | Removal of vertebral body | 27.81 | NA | NA | 16.16 | 17.92 | 5.25 | NA | NA | 49.22 | 50.98 | 090
63303 |  | A | Removal of vertebral body | 30.50 | NA | NA | 17.50 | 18.15 | 5.21 | NA | NA | 53.21 | 53.86 | 090
63304 |  | A | Removal of vertebral body | 30.33 | NA | NA | 16.19 | 17.93 | 4.72 | NA | NA | 51.24 | 52.98 | 090
63305 |  | A | Removal of vertebral body | 32.03 | NA | NA | 19.10 | 20.43 | 5.39 | NA | NA | 56.52 | 57.85 | 090
63306 |  | A | Removal of vertebral body | 32.22 | NA | NA | 16.63 | 18.65 | 2.39 | NA | NA | 51.24 | 53.26 | 090
63307 |  | A | Removal of vertebral body | 31.63 | NA | NA | 18.42 | 20.44 | 4.23 | NA | NA | 54.28 | 56.30 | 090
63308 |  | A | Remove vertebral body add-on | 5.25 | NA | NA | 2.74 | 3.16 | 1.01 | NA | NA | 9.00 | 9.42 | ZZZ
63600 |  | A | Remove spinal cord lesion | 14.02 | NA | NA | 5.90 | 7.33 | 1.22 | NA | NA | 21.14 | 22.57 | 090
63610 |  | A | Stimulation of spinal cord | 8.73 | NA | NA | 5.09 | 5.64 | 0.43 | NA | NA | 14.25 | 14.80 | 000
63615 |  | A | Remove lesion of spinal cord | 16.28 | NA | NA | 10.42 | 10.95 | 2.85 | NA | NA | 29.55 | 30.08 | 090
63650 |  | A | Implant neuroelectrodes | 6.74 | NA | NA | 2.99 | 4.25 | 0.48 | NA | NA | 10.21 | 11.47 | 090
63655 |  | A | Implant neuroelectrodes | 10.29 | NA | NA | 7.12 | 8.41 | 1.85 | NA | NA | 19.26 | 20.55 | 090
63660 |  | A | Revise/remove neuroelectrode | 6.16 | NA | NA | 3.63 | 4.56 | 0.65 | NA | NA | 10.44 | 11.37 | 090
63685 |  | A | Implant neuroreceiver | 7.04 | NA | NA | 4.41 | 5.32 | 0.96 | NA | NA | 12.41 | 13.32 | 090
63688 |  | A | Revise/remove neuroreceiver | 5.39 | NA | NA | 3.67 | 4.36 | 0.70 | NA | NA | 9.76 | 10.45 | 090
63700 |  | A | Repair of spinal herniation | 16.53 | NA | NA | 10.39 | 10.87 | 2.69 | NA | NA | 29.61 | 30.09 | 090
63702 |  | A | Repair of spinal herniation | 18.48 | NA | NA | 10.46 | 11.31 | 1.36 | NA | NA | 30.30 | 31.15 | 090
63704 |  | A | Repair of spinal herniation | 21.18 | NA | NA | 12.22 | 13.02 | 3.84 | NA | NA | 37.24 | 38.04 | 090
63706 |  | A | Repair of spinal herniation | 24.11 | NA | NA | 13.91 | 14.86 | 4.73 | NA | NA | 42.75 | 43.70 | 090
63707 |  | A | Repair spinal fluid leakage | 11.26 | NA | NA | 7.85 | 9.25 | 1.96 | NA | NA | 21.07 | 22.47 | 090
63709 |  | A | Repair spinal fluid leakage | 14.32 | NA | NA | 9.61 | 11.48 | 2.49 | NA | NA | 26.42 | 28.29 | 090
63710 |  | A | Graft repair of spine defect | 14.07 | NA | NA | 9.34 | 9.65 | 2.61 | NA | NA | 26.02 | 26.33 | 090
63740 |  | A | Install spinal shunt | 11.36 | NA | NA | 7.54 | 9.05 | 2.15 | NA | NA | 21.05 | 22.56 | 090
63741 |  | A | Install spinal shunt | 8.25 | NA | NA | 4.70 | 5.99 | 1.05 | NA | NA | 14.00 | 15.29 | 090
63744 |  | A | Revision of spinal shunt | 8.10 | NA | NA | 5.48 | 6.32 | 1.51 | NA | NA | 15.09 | 15.93 | 090
63746 |  | A | Removal of spinal shunt | 6.43 | NA | NA | 4.55 | 4.91 | 1.15 | NA | NA | 12.13 | 12.49 | 090
64400 |  | A | Injection for nerve block | 1.11 | 2.71 | 2.16 | 0.27 | 0.27 | 0.06 | 3.88 | 3.33 | 1.44 | 1.44 | 000
64402 |  | A | Injection for nerve block | 1.25 | 3.91 | 3.10 | 0.45 | 0.51 | 0.07 | 5.23 | 4.42 | 1.77 | 1.83 | 000
64405 |  | A | Injection for nerve block | 1.32 | 2.52 | 2.06 | 0.31 | 0.32 | 0.08 | 3.92 | 3.46 | 1.71 | 1.72 | 000
64408 |  | A | Injection for nerve block | 1.41 | 2.94 | 2.49 | 0.69 | 0.66 | 0.09 | 4.44 | 3.99 | 2.19 | 2.16 | 000
64410 |  | A | Injection for nerve block | 1.43 | 2.53 | 2.09 | 0.30 | 0.42 | 0.08 | 4.04 | 3.60 | 1.81 | 1.93 | 000
64412 |  | A | Injection for nerve block | 1.18 | 2.67 | 2.17 | 0.27 | 0.29 | 0.08 | 3.93 | 3.43 | 1.53 | 1.55 | 000
64413 |  | A | Injection for nerve block | 1.40 | 2.85 | 2.34 | 0.36 | 0.37 | 0.09 | 4.34 | 3.83 | 1.85 | 1.86 | 000
64415 |  | A | Injection for nerve block | 1.48 | 2.64 | 2.05 | 0.31 | 0.30 | 0.08 | 4.20 | 3.61 | 1.87 | 1.86 | 000
64417 |  | A | Injection for nerve block | 1.44 | 2.68 | 2.18 | 0.33 | 0.42 | 0.09 | 4.21 | 3.71 | 1.86 | 1.95 | 000
64418 |  | A | Injection for nerve block | 1.32 | 2.46 | 2.08 | 0.29 | 0.33 | 0.07 | 3.85 | 3.47 | 1.68 | 1.72 | 000
64420 |  | A | Injection for nerve block | 1.18 | 2.46 | 2.02 | 0.27 | 0.38 | 0.07 | 3.71 | 3.27 | 1.52 | 1.63 | 000
64421 |  | A | Injection for nerve block | 1.68 | 2.86 | 2.37 | 0.39 | 0.52 | 0.10 | 4.64 | 4.15 | 2.17 | 2.30 | 000
64425 |  | A | Injection for nerve block | 1.75 | 2.40 | 1.96 | 0.40 | 0.46 | 0.11 | 4.26 | 3.82 | 2.26 | 2.32 | 000
64430 |  | A | Injection for nerve block | 1.46 | 2.66 | 2.19 | 0.43 | 0.51 | 0.11 | 4.23 | 3.76 | 2.00 | 2.08 | 000
64435 |  | A | Injection for nerve block | 1.45 | 2.94 | 2.33 | 0.54 | 0.47 | 0.15 | 4.54 | 3.93 | 2.14 | 2.07 | 000
64445 |  | A | Injection for nerve block | 1.48 | 3.41 | 2.69 | 0.34 | 0.32 | 0.08 | 4.97 | 4.25 | 1.90 | 1.88 | 000
64450 |  | A | Injection for nerve block | 1.27 | 1.69 | 1.41 | 0.33 | 0.32 | 0.08 | 3.04 | 2.76 | 1.68 | 1.67 | 000
64470 |  | A | Inj paravertebral c/t | 1.85 | 3.94 | 3.94 | 0.50 | 0.50 | 0.12 | 5.91 | 5.91 | 2.47 | 2.47 | 000
64472 |  | A | Inj paravertebral c/t add-on | 1.29 | 3.63 | 3.63 | 0.35 | 0.35 | 0.09 | 5.01 | 5.01 | 1.73 | 1.73 | ZZZ
64475 |  | A | Inj paravertebral l/s | 1.41 | 3.77 | 3.77 | 0.38 | 0.38 | 0.09 | 5.27 | 5.27 | 1.88 | 1.88 | 000
64476 |  | A | Inj paravertebral l/s add-on | 0.98 | 4.16 | 4.16 | 0.26 | 0.26 | 0.06 | 5.20 | 5.20 | 1.30 | 1.30 | ZZZ
64479 |  | A | Inj foramen epidural c/t | 2.20 | 4.04 | 4.04 | 0.62 | 0.62 | 0.14 | 6.38 | 6.38 | 2.96 | 2.96 | 000
64480 |  | A | Inj foramen epidural add-on | 1.54 | 4.23 | 4.23 | 0.43 | 0.43 | 0.09 | 5.86 | 5.86 | 2.06 | 2.06 | ZZZ
64483 |  | A | Inj foramen epidural l/s | 1.90 | 3.92 | 3.92 | 0.54 | 0.54 | 0.12 | 5.94 | 5.94 | 2.56 | 2.56 | 000
64484 |  | A | Inj foramen epidural add-on | 1.33 | 4.15 | 4.15 | 0.37 | 0.37 | 0.08 | 5.56 | 5.56 | 1.78 | 1.78 | ZZZ
64505 |  | A | Injection for nerve block | 1.36 | 2.40 | 1.97 | 0.35 | 0.35 | 0.08 | 3.84 | 3.41 | 1.79 | 1.79 | 000
64508 |  | A | Injection for nerve block | 1.12 | 2.94 | 2.49 | 0.39 | 0.44 | 0.06 | 4.12 | 3.67 | 1.57 | 1.62 | 000
64510 |  | A | Injection for nerve block | 1.22 | 2.63 | 2.17 | 0.26 | 0.39 | 0.07 | 3.92 | 3.46 | 1.55 | 1.68 | 000
64520 |  | A | Injection for nerve block | 1.35 | 3.51 | 2.83 | 0.29 | 0.41 | 0.08 | 4.94 | 4.26 | 1.72 | 1.84 | 000
64530 |  | A | Injection for nerve block | 1.58 | 3.23 | 2.74 | 0.36 | 0.59 | 0.09 | 4.90 | 4.41 | 2.03 | 2.26 | 000
64550 |  | A | Apply neurostimulator | 0.18 | 0.52 | 0.51 | 0.05 | 0.10 | 0.01 | 0.71 | 0.70 | 0.24 | 0.29 | 000
64553 |  | A | Implant neuroelectrodes | 2.31 | 4.85 | 3.92 | 1.27 | 1.09 | 0.17 | 7.33 | 6.40 | 3.75 | 3.57 | 010
64555 |  | A | Implant neuroelectrodes | 2.27 | 2.40 | 1.92 | 0.71 | 0.59 | 0.11 | 4.78 | 4.30 | 3.09 | 2.97 | 010
64560 |  | A | Implant neuroelectrodes | 2.36 | 2.42 | 2.21 | 0.87 | 0.85 | 0.17 | 4.95 | 4.74 | 3.40 | 3.38 | 010
64565 |  | A | Implant neuroelectrodes | 1.76 | 3.06 | 2.50 | 0.63 | 0.58 | 0.08 | 4.90 | 4.34 | 2.47 | 2.42 | 010
64573 |  | A | Implant neuroelectrodes | 7.50 | NA | NA | 5.46 | 4.95 | 1.48 | NA | NA | 14.44 | 13.93 | 090
64575 |  | A | Implant neuroelectrodes | 4.35 | NA | NA | 3.15 | 3.20 | 0.37 | NA | NA | 7.87 | 7.92 | 090
64577 |  | A | Implant neuroelectrodes | 4.62 | NA | NA | 3.56 | 3.42 | 0.50 | NA | NA | 8.68 | 8.54 | 090
64580 |  | A | Implant neuroelectrodes | 4.12 | NA | NA | 4.21 | 3.95 | 0.21 | NA | NA | 8.54 | 8.28 | 090
64585 |  | A | Revise/remove neuroelectrode | 2.06 | 2.82 | 2.38 | 2.18 | 1.90 | 0.29 | 5.17 | 4.73 | 4.53 | 4.25 | 010
64590 |  | A | Implant neuroreceiver | 2.40 | NA | NA | 2.37 | 2.28 | 0.40 | NA | NA | 5.17 | 5.08 | 010
64595 |  | A | Revise/remove neuroreceiver | 1.73 | NA | NA | 2.06 | 1.85 | 0.22 | NA | NA | 4.01 | 3.80 | 010
64600 |  | A | Injection treatment of nerve | 3.45 | 3.11 | 2.79 | 2.05 | 2.00 | 0.28 | 6.84 | 6.52 | 5.78 | 5.73 | 010
64605 |  | A | Injection treatment of nerve | 5.61 | 4.18 | 3.56 | 2.78 | 2.51 | 0.53 | 10.32 | 9.70 | 8.92 | 8.65 | 010
64610 |  | A | Injection treatment of nerve | 7.16 | NA | NA | 3.77 | 4.80 | 1.12 | NA | NA | 12.05 | 13.08 | 010
64612 |  | A | Destroy nerve, face muscle | 1.96 | 2.95 | 2.61 | 1.65 | 1.44 | 0.09 | 5.00 | 4.66 | 3.70 | 3.49 | 010
64613 |  | A | Destroy nerve, spine muscle | 1.96 | 1.61 | 1.60 | 1.37 | 1.23 | 0.10 | 3.67 | 3.66 | 3.43 | 3.29 | 010
64614 |  | A | Destroy nerve, extrem musc | 2.20 | 3.37 | 3.37 | 0.81 | 0.81 | 0.16 | 5.73 | 5.73 | 3.17 | 3.17 | 010
64620 |  | A | Injection treatment of nerve | 2.84 | 3.10 | 2.60 | 0.70 | 0.80 | 0.17 | 6.11 | 5.61 | 3.71 | 3.81 | 010
64622 |  | A | Destr paravertebrl nerve l/s | 3.00 | 4.47 | 3.85 | 0.73 | 1.04 | 0.17 | 7.64 | 7.02 | 3.90 | 4.21 | 010
64623 |  | A | Destr paravertebral n add-on | 0.99 | 3.54 | 2.89 | 0.24 | 0.41 | 0.06 | 4.59 | 3.94 | 1.29 | 1.46 | ZZZ
64626 |  | A | Destr paravertebrl nerve c/t | 3.28 | 3.95 | 3.95 | 0.88 | 0.88 | 0.22 | 7.45 | 7.45 | 4.38 | 4.38 | 010
64627 |  | A | Destr paravertebral n add-on | 1.16 | 3.30 | 3.30 | 0.31 | 0.31 | 0.08 | 4.54 | 4.54 | 1.55 | 1.55 | ZZZ
64630 |  | A | Injection treatment of nerve | 3.00 | 3.54 | 3.13 | 0.81 | 1.08 | 0.16 | 6.70 | 6.29 | 3.97 | 4.24 | 010
64640 |  | A | Injection treatment of nerve | 2.76 | 5.75 | 4.56 | 1.02 | 1.02 | 0.11 | 8.62 | 7.43 | 3.89 | 3.89 | 010
64680 |  | A | Injection treatment of nerve | 2.62 | 2.99 | 2.66 | 0.66 | 0.92 | 0.15 | 5.76 | 5.43 | 3.43 | 3.69 | 010
64702 |  | A | Revise finger/toe nerve | 4.23 | NA | NA | 3.76 | 3.97 | 0.51 | NA | NA | 8.50 | 8.71 | 090
64704 |  | A | Revise hand/foot nerve | 4.57 | NA | NA | 3.13 | 3.71 | 0.59 | NA | NA | 8.29 | 8.87 | 090
64708 |  | A | Revise arm/leg nerve | 6.12 | NA | NA | 4.92 | 5.52 | 0.82 | NA | NA | 11.86 | 12.46 | 090
64712 |  | A | Revision of sciatic nerve | 7.75 | NA | NA | 4.96 | 6.04 | 0.54 | NA | NA | 13.25 | 14.33 | 090
64713 |  | A | Revision of arm nerve(s) | 11.00 | NA | NA | 5.90 | 6.98 | 1.01 | NA | NA | 17.91 | 18.99 | 090
64714 |  | A | Revise low back nerve(s) | 10.33 | NA | NA | 3.92 | 4.60 | 0.64 | NA | NA | 14.89 | 15.57 | 090
64716 |  | A | Revision of cranial nerve | 6.31 | NA | NA | 5.02 | 5.08 | 0.59 | NA | NA | 11.92 | 11.98 | 090
64718 |  | A | Revise ulnar nerve at elbow | 5.99 | NA | NA | 5.01 | 5.55 | 0.87 | NA | NA | 11.87 | 12.41 | 090
64719 |  | A | Revise ulnar nerve at wrist | 4.85 | NA | NA | 4.50 | 4.72 | 0.63 | NA | NA | 9.98 | 10.20 | 090
64721 |  | A | Carpal tunnel surgery | 4.29 | 5.93 | 5.73 | 5.62 | 5.50 | 0.59 | 10.81 | 10.61 | 10.50 | 10.38 | 090
64722 |  | A | Relieve pressure on nerve(s) | 4.70 | NA | NA | 2.97 | 3.63 | 0.32 | NA | NA | 7.99 | 8.65 | 090
64726 |  | A | Release foot/toe nerve | 4.18 | NA | NA | 3.03 | 2.47 | 0.57 | NA | NA | 7.78 | 7.22 | 090
64727 |  | A | Internal nerve revision | 3.10 | NA | NA | 1.62 | 2.10 | 0.40 | NA | NA | 5.12 | 5.60 | ZZZ
64732 |  | A | Incision of brow nerve | 4.41 | NA | NA | 3.49 | 3.79 | 0.77 | NA | NA | 8.67 | 8.97 | 090
64734 |  | A | Incision of cheek nerve | 4.92 | NA | NA | 3.54 | 3.91 | 0.83 | NA | NA | 9.29 | 9.66 | 090
64736 |  | A | Incision of chin nerve | 4.60 | NA | NA | 2.99 | 3.45 | 0.71 | NA | NA | 8.30 | 8.76 | 090
64738 |  | A | Incision of jaw nerve | 5.73 | NA | NA | 3.64 | 4.11 | 0.84 | NA | NA | 10.21 | 10.68 | 090
64740 |  | A | Incision of tongue nerve | 5.59 | NA | NA | 4.09 | 4.47 | 0.43 | NA | NA | 10.11 | 10.49 | 090
64742 |  | A | Incision of facial nerve | 6.22 | NA | NA | 4.91 | 5.04 | 0.69 | NA | NA | 11.82 | 11.95 | 090
64744 |  | A | Incise nerve, back of head | 5.24 | NA | NA | 3.93 | 4.51 | 0.98 | NA | NA | 10.15 | 10.73 | 090
64746 |  | A | Incise diaphragm nerve | 5.93 | NA | NA | 5.78 | 5.36 | 0.75 | NA | NA | 12.46 | 12.04 | 090
64752 |  | A | Incision of vagus nerve | 7.06 | NA | NA | 5.34 | 5.07 | 0.83 | NA | NA | 13.23 | 12.96 | 090
64755 |  | A | Incision of stomach nerves | 13.52 | NA | NA | 6.35 | 7.60 | 1.16 | NA | NA | 21.03 | 22.28 | 090
64760 |  | A | Incision of vagus nerve | 6.96 | NA | NA | 4.04 | 4.84 | 0.51 | NA | NA | 11.51 | 12.31 | 090
64761 |  | A | Incision of pelvis nerve | 6.41 | NA | NA | 3.14 | 3.62 | 0.26 | NA | NA | 9.81 | 10.29 | 090
64763 |  | A | Incise hip/thigh nerve | 6.93 | NA | NA | 6.23 | 5.98 | 0.77 | NA | NA | 13.93 | 13.68 | 090
64766 |  | A | Incise hip/thigh nerve | 8.67 | NA | NA | 6.14 | 6.42 | 0.99 | NA | NA | 15.80 | 16.08 | 090
64771 |  | A | Sever cranial nerve | 7.35 | NA | NA | 5.56 | 5.91 | 1.32 | NA | NA | 14.23 | 14.58 | 090
64772 |  | A | Incision of spinal nerve | 7.21 | NA | NA | 5.01 | 5.60 | 1.20 | NA | NA | 13.42 | 14.01 | 090
64774 |  | A | Remove skin nerve lesion | 5.17 | NA | NA | 3.67 | 3.50 | 0.60 | NA | NA | 9.44 | 9.27 | 090
64776 |  | A | Remove digit nerve lesion | 5.12 | NA | NA | 3.78 | 3.59 | 0.63 | NA | NA | 9.53 | 9.34 | 090
64778 |  | A | Digit nerve surgery add-on | 3.11 | NA | NA | 1.51 | 1.87 | 0.38 | NA | NA | 5.00 | 5.36 | ZZZ
64782 |  | A | Remove limb nerve lesion | 6.23 | NA | NA | 3.63 | 4.00 | 0.79 | NA | NA | 10.65 | 11.02 | 090
64783 |  | A | Limb nerve surgery add-on | 3.72 | NA | NA | 2.02 | 2.40 | 0.48 | NA | NA | 6.22 | 6.60 | ZZZ
64784 |  | A | Remove nerve lesion | 9.82 | NA | NA | 6.40 | 6.33 | 1.17 | NA | NA | 17.39 | 17.32 | 090
64786 |  | A | Remove sciatic nerve lesion | 15.46 | NA | NA | 10.34 | 11.19 | 2.22 | NA | NA | 28.02 | 28.87 | 090
64787 |  | A | Implant nerve end | 4.30 | NA | NA | 2.21 | 2.60 | 0.56 | NA | NA | 7.07 | 7.46 | ZZZ
64788 |  | A | Remove skin nerve lesion | 4.61 | NA | NA | 3.32 | 3.48 | 0.54 | NA | NA | 8.47 | 8.63 | 090
64790 |  | A | Removal of nerve lesion | 11.31 | NA | NA | 7.17 | 7.31 | 1.68 | NA | NA | 20.16 | 20.30 | 090
64792 |  | A | Removal of nerve lesion | 14.92 | NA | NA | 9.13 | 9.29 | 1.88 | NA | NA | 25.93 | 26.09 | 090
64795 |  | A | Biopsy of nerve | 3.01 | NA | NA | 1.86 | 2.04 | 0.40 | NA | NA | 5.27 | 5.45 | 000
64802 |  | A | Remove sympathetic nerves | 9.15 | NA | NA | 5.72 | 5.76 | 0.87 | NA | NA | 15.74 | 15.78 | 090
64804 |  | A | Remove sympathetic nerves | 14.64 | NA | NA | 8.75 | 10.03 | 1.79 | NA | NA | 25.18 | 26.46 | 090
64809 |  | A | Remove sympathetic nerves | 13.67 | NA | NA | 5.41 | 6.92 | 0.96 | NA | NA | 20.04 | 21.55 | 090
64818 |  | A | Remove sympathetic nerves | 10.30 | NA | NA | 6.28 | 7.04 | 1.08 | NA | NA | 17.66 | 18.42 | 090
64820 |  | A | Remove sympathetic nerves | 10.37 | NA | NA | 7.81 | 7.83 | 1.17 | NA | NA | 19.35 | 19.37 | 090
64831 |  | A | Repair of digit nerve | 9.44 | NA | NA | 7.11 | 6.25 | 1.14 | NA | NA | 17.69 | 16.83 | 090
64832 |  | A | Repair nerve add-on | 5.66 | NA | NA | 3.13 | 2.73 | 0.68 | NA | NA | 9.47 | 9.07 | ZZZ
64834 |  | A | Repair of hand or foot nerve | 10.19 | NA | NA | 7.16 | 6.32 | 1.23 | NA | NA | 18.58 | 17.74 | 090
64835 |  | A | Repair of hand or foot nerve | 10.94 | NA | NA | 7.77 | 7.45 | 1.36 | NA | NA | 20.07 | 19.75 | 090
64836 |  | A | Repair of hand or foot nerve | 10.94 | NA | NA | 7.67 | 7.57 | 1.32 | NA | NA | 19.93 | 19.83 | 090
64837 |  | A | Repair nerve add-on | 6.26 | NA | NA | 3.40 | 3.76 | 0.80 | NA | NA | 10.46 | 10.82 | ZZZ
64840 |  | A | Repair of leg nerve | 13.02 | NA | NA | 9.27 | 9.76 | 0.86 | NA | NA | 23.15 | 23.64 | 090
64856 |  | A | Repair/transpose nerve | 13.80 | NA | NA | 9.34 | 9.23 | 1.71 | NA | NA | 24.85 | 24.74 | 090
64857 |  | A | Repair arm/leg nerve | 14.49 | NA | NA | 9.71 | 9.87 | 1.76 | NA | NA | 25.96 | 26.12 | 090
64858 |  | A | Repair sciatic nerve | 16.49 | NA | NA | 10.28 | 10.69 | 2.78 | NA | NA | 29.55 | 29.96 | 090
64859 |  | A | Nerve surgery | 4.26 | NA | NA | 2.32 | 2.69 | 0.50 | NA | NA | 7.08 | 7.45 | ZZZ
64861 |  | A | Repair of arm nerves | 19.24 | NA | NA | 13.02 | 13.41 | 2.45 | NA | NA | 34.71 | 35.10 | 090
64862 |  | A | Repair of low back nerves | 19.44 | NA | NA | 9.71 | 13.13 | 2.47 | NA | NA | 31.62 | 35.04 | 090
64864 |  | A | Repair of facial nerve | 12.55 | NA | NA | 8.69 | 8.65 | 1.13 | NA | NA | 22.37 | 22.33 | 090
64865 |  | A | Repair of facial nerve | 15.24 | NA | NA | 9.97 | 10.83 | 1.37 | NA | NA | 26.58 | 27.44 | 090
64866 |  | A | Fusion of facial/other nerve | 15.74 | NA | NA | 9.80 | 10.39 | 1.06 | NA | NA | 26.60 | 27.19 | 090
64868 |  | A | Fusion of facial/other nerve | 14.04 | NA | NA | 9.38 | 10.07 | 1.40 | NA | NA | 24.82 | 25.51 | 090
64870 |  | A | Fusion of facial/other nerve | 15.99 | NA | NA | 8.04 | 9.81 | 1.08 | NA | NA | 25.11 | 26.88 | 090
64872 |  | A | Subsequent repair of nerve | 1.99 | NA | NA | 1.10 | 1.22 | 0.24 | NA | NA | 3.33 | 3.45 | ZZZ
64874 |  | A | Repair & revise nerve add-on | 2.98 | NA | NA | 1.58 | 1.78 | 0.34 | NA | NA | 4.90 | 5.10 | ZZZ
64876 |  | A | Repair nerve/shorten bone | 3.38 | NA | NA | 1.35 | 1.68 | 0.39 | NA | NA | 5.12 | 5.45 | ZZZ
64885 |  | A | Nerve graft, head or neck | 17.53 | NA | NA | 11.18 | 11.83 | 1.51 | NA | NA | 30.22 | 30.87 | 090
64886 |  | A | Nerve graft, head or neck | 20.75 | NA | NA | 13.03 | 13.88 | 1.73 | NA | NA | 35.51 | 36.36 | 090
64890 |  | A | Nerve graft, hand or foot | 15.15 | NA | NA | 10.09 | 10.90 | 1.74 | NA | NA | 26.98 | 27.79 | 090
64891 |  | A | Nerve graft, hand or foot | 16.14 | NA | NA | 7.51 | 8.46 | 1.38 | NA | NA | 25.03 | 25.98 | 090
64892 |  | A | Nerve graft, arm or leg | 14.65 | NA | NA | 8.75 | 9.56 | 1.65 | NA | NA | 25.05 | 25.86 | 090
64893 |  | A | Nerve graft, arm or leg | 15.60 | NA | NA | 10.29 | 11.50 | 1.77 | NA | NA | 27.66 | 28.87 | 090
64895 |  | A | Nerve graft, hand or foot | 19.25 | NA | NA | 11.20 | 11.97 | 2.04 | NA | NA | 32.49 | 33.26 | 090
64896 |  | A | Nerve graft, hand or foot | 20.49 | NA | NA | 9.31 | 11.74 | 1.85 | NA | NA | 31.65 | 34.08 | 090
64897 |  | A | Nerve graft, arm or leg | 18.24 | NA | NA | 11.13 | 11.78 | 2.64 | NA | NA | 32.01 | 32.66 | 090
64898 |  | A | Nerve graft, arm or leg | 19.50 | NA | NA | 12.26 | 13.10 | 2.71 | NA | NA | 34.47 | 35.31 | 090
64901 |  | A | Nerve graft add-on | 10.22 | NA | NA | 5.36 | 6.78 | 0.99 | NA | NA | 16.57 | 17.99 | ZZZ
64902 |  | A | Nerve graft add-on | 11.83 | NA | NA | 5.98 | 7.72 | 1.10 | NA | NA | 18.91 | 20.65 | ZZZ
64905 |  | A | Nerve pedicle transfer | 14.02 | NA | NA | 8.60 | 9.00 | 1.52 | NA | NA | 24.14 | 24.54 | 090
64907 |  | A | Nerve pedicle transfer | 18.83 | NA | NA | 11.65 | 12.27 | 1.79 | NA | NA | 32.27 | 32.89 | 090
64999 |  | C | Nervous system surgery | 0.00 | 0.00 | 0.00 | 0.00 | 0.00 | 0.00 | 0.00 | 0.00 | 0.00 | 0.00 | YYY
65091 |  | A | Revise eye | 6.46 | NA | NA | 9.55 | 9.09 | 0.26 | NA | NA | 16.27 | 15.81 | 090
65093 |  | A | Revise eye with implant | 6.87 | NA | NA | 9.76 | 9.37 | 0.28 | NA | NA | 16.91 | 16.52 | 090
65101 |  | A | Removal of eye | 7.03 | NA | NA | 9.61 | 9.31 | 0.28 | NA | NA | 16.92 | 16.62 | 090
65103 |  | A | Remove eye/insert implant | 7.57 | NA | NA | 9.97 | 9.74 | 0.30 | NA | NA | 17.84 | 17.61 | 090
65105 |  | A | Remove eye/attach implant | 8.49 | NA | NA | 10.51 | 10.42 | 0.34 | NA | NA | 19.34 | 19.25 | 090
65110 |  | A | Removal of eye | 13.95 | NA | NA | 14.10 | 14.74 | 0.68 | NA | NA | 28.73 | 29.37 | 090
65112 |  | A | Remove eye/revise socket | 16.38 | NA | NA | 17.24 | 16.23 | 0.96 | NA | NA | 34.58 | 33.57 | 090
65114 |  | A | Remove eye/revise socket | 17.53 | NA | NA | 16.37 | 15.82 | 0.94 | NA | NA | 34.84 | 34.29 | 090
65125 |  | A | Revise ocular implant | 3.12 | 4.92 | 4.36 | 1.53 | 1.82 | 0.15 | 8.19 | 7.63 | 4.80 | 5.09 | 090
65130 |  | A | Insert ocular implant | 7.15 | NA | NA | 9.68 | 9.40 | 0.28 | NA | NA | 17.11 | 16.83 | 090
65135 |  | A | Insert ocular implant | 7.33 | NA | NA | 9.45 | 8.56 | 0.29 | NA | NA | 17.07 | 16.18 | 090
65140 |  | A | Attach ocular implant | 8.02 | NA | NA | 9.88 | 9.10 | 0.31 | NA | NA | 18.21 | 17.43 | 090
65150 |  | A | Revise ocular implant | 6.26 | NA | NA | 9.12 | 8.71 | 0.25 | NA | NA | 15.63 | 15.22 | 090
65155 |  | A | Reinsert ocular implant | 8.66 | NA | NA | 11.19 | 10.98 | 0.40 | NA | NA | 20.25 | 20.04 | 090
65175 |  | A | Removal of ocular implant | 6.28 | NA | NA | 9.12 | 8.72 | 0.26 | NA | NA | 15.66 | 15.26 | 090
65205 |  | A | Remove foreign body from eye | 0.71 | 5.07 | 3.90 | 0.20 | 0.20 | 0.03 | 5.81 | 4.64 | 0.94 | 0.94 | 000
65210 |  | A | Remove foreign body from eye | 0.84 | 5.26 | 4.07 | 0.31 | 0.30 | 0.03 | 6.13 | 4.94 | 1.18 | 1.17 | 000
65220 |  | A | Remove foreign body from eye | 0.71 | 6.55 | 5.05 | 0.19 | 0.21 | 0.05 | 7.31 | 5.81 | 0.95 | 0.97 | 000
65222 |  | A | Remove foreign body from eye | 0.93 | 5.20 | 4.06 | 0.28 | 0.29 | 0.04 | 6.17 | 5.03 | 1.25 | 1.26 | 000
65235 |  | A | Remove foreign body from eye | 7.57 | NA | NA | 6.82 | 6.64 | 0.30 | NA | NA | 14.69 | 14.51 | 090
65260 |  | A | Remove foreign body from eye | 10.96 | NA | NA | 11.80 | 11.19 | 0.43 | NA | NA | 23.19 | 22.58 | 090
65265 |  | A | Remove foreign body from eye | 12.59 | NA | NA | 13.36 | 12.75 | 0.50 | NA | NA | 26.45 | 25.84 | 090
65270 |  | A | Repair of eye wound | 1.90 | 3.60 | 3.02 | 2.01 | 1.83 | 0.08 | 5.58 | 5.00 | 3.99 | 3.81 | 010
65272 |  | A | Repair of eye wound | 3.82 | 5.00 | 4.20 | 3.86 | 3.34 | 0.16 | 8.98 | 8.18 | 7.84 | 7.32 | 090
65273 |  | A | Repair of eye wound | 4.36 | NA | NA | 4.34 | 4.13 | 0.17 | NA | NA | 8.87 | 8.66 | 090
65275 |  | A | Repair of eye wound | 5.34 | 5.04 | 3.96 | 4.66 | 3.68 | 0.27 | 10.65 | 9.57 | 10.27 | 9.29 | 090
65280 |  | A | Repair of eye wound | 7.66 | NA | NA | 7.28 | 7.75 | 0.30 | NA | NA | 15.24 | 15.71 | 090
65285 |  | A | Repair of eye wound | 12.90 | NA | NA | 13.37 | 13.36 | 0.51 | NA | NA | 26.78 | 26.77 | 090
65286 |  | A | Repair of eye wound | 5.51 | 7.90 | 7.23 | 6.73 | 5.70 | 0.21 | 13.62 | 12.95 | 12.45 | 11.42 | 090
65290 |  | A | Repair of eye socket wound | 5.41 | NA | NA | 6.78 | 6.70 | 0.26 | NA | NA | 12.45 | 12.37 | 090
65400 |  | A | Removal of eye lesion | 6.06 | 7.91 | 7.69 | 6.51 | 6.64 | 0.24 | 14.21 | 13.99 | 12.81 | 12.94 | 090
65410 |  | A | Biopsy of cornea | 1.47 | 1.69 | 1.70 | 0.67 | 0.94 | 0.06 | 3.22 | 3.23 | 2.20 | 2.47 | 000
65420 |  | A | Removal of eye lesion | 4.17 | 7.06 | 6.46 | 6.04 | 5.69 | 0.17 | 11.40 | 10.80 | 10.38 | 10.03 | 090
65426 |  | A | Removal of eye lesion | 5.25 | 7.28 | 7.03 | 6.11 | 6.15 | 0.20 | 12.73 | 12.48 | 11.56 | 11.60 | 090
65430 |  | A | Corneal smear | 1.47 | 5.79 | 4.49 | 0.72 | 0.62 | 0.06 | 7.32 | 6.02 | 2.25 | 2.15 | 000
65435 |  | A | Curette/treat cornea | 0.92 | 1.33 | 1.21 | 0.42 | 0.42 | 0.04 | 2.29 | 2.17 | 1.38 | 1.38 | 000
65436 |  | A | Curette/treat cornea | 4.19 | 5.23 | 4.34 | 4.32 | 3.45 | 0.17 | 9.59 | 8.70 | 8.68 | 7.81 | 090
65450 |  | A | Treatment of corneal lesion | 3.27 | 6.80 | 5.99 | 5.62 | 5.11 | 0.13 | 10.20 | 9.39 | 9.02 | 8.51 | 090
65600 |  | A | Revision of cornea | 3.40 | 4.77 | 4.29 | 1.49 | 1.47 | 0.14 | 8.31 | 7.83 | 5.03 | 5.01 | 090
65710 |  | A | Corneal transplant | 12.35 | NA | NA | 12.84 | 13.01 | 0.49 | NA | NA | 25.68 | 25.85 | 090
65730 |  | A | Corneal transplant | 14.25 | NA | NA | 12.30 | 13.33 | 0.56 | NA | NA | 27.11 | 28.14 | 090
65750 |  | A | Corneal transplant | 15.00 | NA | NA | 14.14 | 14.97 | 0.59 | NA | NA | 29.73 | 30.56 | 090
65755 |  | A | Corneal transplant | 14.89 | NA | NA | 14.05 | 14.91 | 0.58 | NA | NA | 29.52 | 30.38 | 090
65760 |  | N | Revision of cornea | 0.00 | 0.00 | 0.00 | 0.00 | 0.00 | 0.00 | 0.00 | 0.00 | 0.00 | 0.00 | XXX
65765 |  | N | Revision of cornea | 0.00 | 0.00 | 0.00 | 0.00 | 0.00 | 0.00 | 0.00 | 0.00 | 0.00 | 0.00 | XXX
65767 |  | N | Corneal tissue transplant | 0.00 | 0.00 | 0.00 | 0.00 | 0.00 | 0.00 | 0.00 | 0.00 | 0.00 | 0.00 | XXX
65770 |  | A | Revise cornea with implant | 17.56 | NA | NA | 15.10 | 15.07 | 0.69 | NA | NA | 33.35 | 33.32 | 090
65771 |  | N | Radial keratotomy | 0.00 | 0.00 | 0.00 | 0.00 | 0.00 | 0.00 | 0.00 | 0.00 | 0.00 | 0.00 | XXX
65772 |  | A | Correction of astigmatism | 4.29 | 6.30 | 6.01 | 5.34 | 4.65 | 0.17 | 10.76 | 10.47 | 9.80 | 9.11 | 090
65775 |  | A | Correction of astigmatism | 5.79 | NA | NA | 8.26 | 7.92 | 0.22 | NA | NA | 14.27 | 13.93 | 090
65800 |  | A | Drainage of eye | 1.91 | 2.21 | 2.13 | 1.40 | 1.52 | 0.08 | 4.20 | 4.12 | 3.39 | 3.51 | 000
65805 |  | A | Drainage of eye | 1.91 | 2.21 | 2.15 | 1.41 | 1.30 | 0.08 | 4.20 | 4.14 | 3.40 | 3.29 | 000
65810 |  | A | Drainage of eye | 4.87 | NA | NA | 7.41 | 7.01 | 0.19 | NA | NA | 12.47 | 12.07 | 090
65815 |  | A | Drainage of eye | 5.05 | 8.10 | 7.29 | 6.94 | 6.42 | 0.20 | 13.35 | 12.54 | 12.19 | 11.67 | 090
65820 |  | A | Relieve inner eye pressure | 8.13 | NA | NA | 9.29 | 9.56 | 0.32 | NA | NA | 17.74 | 18.01 | 090
65850 |  | A | Incision of eye | 10.52 | NA | NA | 9.63 | 10.36 | 0.41 | NA | NA | 20.56 | 21.29 | 090
65855 |  | A | Laser surgery of eye | 4.30 | 5.15 | 5.49 | 3.86 | 3.71 | 0.17 | 9.62 | 9.96 | 8.33 | 8.18 | 090
65860 |  | A | Incise inner eye adhesions | 3.55 | 3.80 | 3.91 | 3.01 | 2.79 | 0.14 | 7.49 | 7.60 | 6.70 | 6.48 | 090
65865 |  | A | Incise inner eye adhesions | 5.60 | NA | NA | 6.26 | 6.37 | 0.22 | NA | NA | 12.08 | 12.19 | 090
65870 |  | A | Incise inner eye adhesions | 6.27 | NA | NA | 6.61 | 6.55 | 0.24 | NA | NA | 13.12 | 13.06 | 090
65875 |  | A | Incise inner eye adhesions | 6.54 | NA | NA | 6.73 | 6.75 | 0.25 | NA | NA | 13.52 | 13.54 | 090
65880 |  | A | Incise inner eye adhesions | 7.09 | NA | NA | 6.97 | 7.09 | 0.28 | NA | NA | 14.34 | 14.46 | 090
65900 |  | A | Remove eye lesion | 10.93 | NA | NA | 12.07 | 11.20 | 0.46 | NA | NA | 23.46 | 22.59 | 090
65920 |  | A | Remove implant from eye | 8.40 | NA | NA | 7.65 | 8.01 | 0.33 | NA | NA | 16.38 | 16.74 | 090
65930 |  | A | Remove blood clot from eye | 7.44 | NA | NA | 8.08 | 8.14 | 0.29 | NA | NA | 15.81 | 15.87 | 090
66020 |  | A | Injection treatment of eye | 1.59 | 2.28 | 2.19 | 1.49 | 1.59 | 0.07 | 3.94 | 3.85 | 3.15 | 3.25 | 010
66030 |  | A | Injection treatment of eye | 1.25 | 2.12 | 1.74 | 1.32 | 1.07 | 0.05 | 3.42 | 3.04 | 2.62 | 2.37 | 010
66130 |  | A | Remove eye lesion | 7.69 | 6.91 | 6.62 | 6.05 | 5.97 | 0.31 | 14.91 | 14.62 | 14.05 | 13.97 | 090
66150 |  | A | Glaucoma surgery | 8.30 | NA | NA | 10.25 | 10.17 | 0.33 | NA | NA | 18.88 | 18.80 | 090
66155 |  | A | Glaucoma surgery | 8.29 | NA | NA | 10.21 | 10.13 | 0.32 | NA | NA | 18.82 | 18.74 | 090
66160 |  | A | Glaucoma surgery | 10.17 | NA | NA | 11.16 | 11.29 | 0.41 | NA | NA | 21.74 | 21.87 | 090
66165 |  | A | Glaucoma surgery | 8.01 | NA | NA | 10.18 | 10.03 | 0.31 | NA | NA | 18.50 | 18.35 | 090
66170 |  | A | Glaucoma surgery | 12.16 | NA | NA | 12.17 | 12.43 | 0.48 | NA | NA | 24.81 | 25.07 | 090
66172 |  | A | Incision of eye | 15.04 | NA | NA | 15.09 | 14.62 | 0.59 | NA | NA | 30.72 | 30.25 | 090
66180 |  | A | Implant eye shunt | 14.55 | NA | NA | 12.32 | 13.58 | 0.57 | NA | NA | 27.44 | 28.70 | 090
66185 |  | A | Revise eye shunt | 8.14 | NA | NA | 8.40 | 8.73 | 0.32 | NA | NA | 16.86 | 17.19 | 090
66220 |  | A | Repair eye lesion | 7.77 | NA | NA | 10.01 | 9.12 | 0.32 | NA | NA | 18.10 | 17.21 | 090
66225 |  | A | Repair/graft eye lesion | 11.05 | NA | NA | 9.73 | 10.60 | 0.44 | NA | NA | 21.22 | 22.09 | 090
66250 |  | A | Follow-up surgery of eye | 5.98 | 7.92 | 7.73 | 6.47 | 6.64 | 0.23 | 14.13 | 13.94 | 12.68 | 12.85 | 090
66500 |  | A | Incision of iris | 3.71 | NA | NA | 4.08 | 4.17 | 0.15 | NA | NA | 7.94 | 8.03 | 090
66505 |  | A | Incision of iris | 4.08 | NA | NA | 4.29 | 4.11 | 0.17 | NA | NA | 8.54 | 8.36 | 090
66600 |  | A | Remove iris and lesion | 8.68 | NA | NA | 9.28 | 9.50 | 0.34 | NA | NA | 18.30 | 18.52 | 090
66605 |  | A | Removal of iris | 12.79 | NA | NA | 12.61 | 12.68 | 0.61 | NA | NA | 26.01 | 26.08 | 090
66625 |  | A | Removal of iris | 5.13 | 7.97 | 7.51 | 6.99 | 6.77 | 0.20 | 13.30 | 12.84 | 12.32 | 12.10 | 090
66630 |  | A | Removal of iris | 6.16 | NA | NA | 8.04 | 7.87 | 0.24 | NA | NA | 14.44 | 14.27 | 090
66635 |  | A | Removal of iris | 6.25 | NA | NA | 6.59 | 6.81 | 0.24 | NA | NA | 13.08 | 13.30 | 090
66680 |  | A | Repair iris & ciliary body | 5.44 | NA | NA | 6.18 | 6.26 | 0.21 | NA | NA | 11.83 | 11.91 | 090
66682 |  | A | Repair iris & ciliary body | 6.21 | NA | NA | 8.08 | 7.91 | 0.24 | NA | NA | 14.53 | 14.36 | 090
66700 |  | A | Destruction, ciliary body | 4.78 | 7.67 | 7.18 | 6.35 | 6.19 | 0.19 | 12.64 | 12.15 | 11.32 | 11.16 | 090
66710 |  | A | Destruction, ciliary body | 4.78 | 7.64 | 7.16 | 6.37 | 6.21 | 0.18 | 12.60 | 12.12 | 11.33 | 11.17 | 090
66720 |  | A | Destruction, ciliary body | 4.78 | 7.46 | 7.02 | 6.32 | 6.17 | 0.19 | 12.43 | 11.99 | 11.29 | 11.14 | 090
66740 |  | A | Destruction, ciliary body | 4.78 | NA | NA | 5.87 | 5.83 | 0.18 | NA | NA | 10.83 | 10.79 | 090
66761 |  | A | Revision of iris | 4.07 | 5.23 | 5.14 | 4.12 | 3.70 | 0.16 | 9.46 | 9.37 | 8.35 | 7.93 | 090
66762 |  | A | Revision of iris | 4.58 | 5.37 | 5.40 | 4.30 | 3.91 | 0.18 | 10.13 | 10.16 | 9.06 | 8.67 | 090
66770 |  | A | Removal of inner eye lesion | 5.18 | 5.68 | 5.81 | 4.55 | 4.19 | 0.20 | 11.06 | 11.19 | 9.93 | 9.57 | 090
66820 |  | A | Incision, secondary cataract | 3.89 | NA | NA | 6.97 | 6.39 | 0.16 | NA | NA | 11.02 | 10.44 | 090
66821 |  | A | After cataract laser surgery | 2.35 | 3.56 | 3.37 | 3.17 | 3.08 | 0.10 | 6.01 | 5.82 | 5.62 | 5.53 | 090
66825 |  | A | Reposition intraocular lens | 8.23 | NA | NA | 9.04 | 8.77 | 0.32 | NA | NA | 17.59 | 17.32 | 090
66830 |  | A | Removal of lens lesion | 8.20 | NA | NA | 6.80 | 7.18 | 0.32 | NA | NA | 15.32 | 15.70 | 090
66840 |  | A | Removal of lens material | 7.91 | NA | NA | 6.76 | 7.43 | 0.31 | NA | NA | 14.98 | 15.65 | 090
66850 |  | A | Removal of lens material | 9.11 | NA | NA | 7.30 | 8.19 | 0.36 | NA | NA | 16.77 | 17.66 | 090
66852 |  | A | Removal of lens material | 9.97 | NA | NA | 7.79 | 8.82 | 0.39 | NA | NA | 18.15 | 19.18 | 090
66920 |  | A | Extraction of lens | 8.86 | NA | NA | 7.26 | 8.09 | 0.35 | NA | NA | 16.47 | 17.30 | 090
66930 |  | A | Extraction of lens | 10.18 | NA | NA | 8.76 | 9.42 | 0.41 | NA | NA | 19.35 | 20.01 | 090
66940 |  | A | Extraction of lens | 8.93 | NA | NA | 8.16 | 8.79 | 0.35 | NA | NA | 17.44 | 18.07 | 090
66982 |  | A | Cataract surgery, complex | 13.50 | NA | NA | 9.09 | 9.09 | 0.55 | NA | NA | 23.14 | 23.14 | 090
66983 |  | A | Cataract surg w/iol, 1 stage | 8.99 | NA | NA | 5.69 | 6.95 | 0.37 | NA | NA | 15.05 | 16.31 | 090
66984 |  | A | Cataract surg w/iol, i stage | 10.23 | NA | NA | 7.60 | 8.77 | 0.41 | NA | NA | 18.24 | 19.41 | 090
66985 |  | A | Insert lens prosthesis | 8.39 | NA | NA | 6.75 | 7.57 | 0.33 | NA | NA | 15.47 | 16.29 | 090
66986 |  | A | Exchange lens prosthesis | 12.28 | NA | NA | 8.89 | 9.98 | 0.49 | NA | NA | 21.66 | 22.75 | 090
66999 |  | C | Eye surgery procedure | 0.00 | 0.00 | 0.00 | 0.00 | 0.00 | 0.00 | 0.00 | 0.00 | 0.00 | 0.00 | YYY
67005 |  | A | Partial removal of eye fluid | 5.70 | NA | NA | 2.80 | 3.80 | 0.22 | NA | NA | 8.72 | 9.72 | 090
67010 |  | A | Partial removal of eye fluid | 6.87 | NA | NA | 3.41 | 4.61 | 0.27 | NA | NA | 10.55 | 11.75 | 090
67015 |  | A | Release of eye fluid | 6.92 | NA | NA | 7.78 | 7.59 | 0.27 | NA | NA | 14.97 | 14.78 | 090
67025 |  | A | Replace eye fluid | 6.84 | 14.70 | 12.86 | 7.25 | 7.27 | 0.27 | 21.81 | 19.97 | 14.36 | 14.38 | 090
67027 |  | A | Implant eye drug system | 10.85 | 16.42 | 14.77 | 8.56 | 8.87 | 0.46 | 27.73 | 26.08 | 19.87 | 20.18 | 090
67028 |  | A | Injection eye drug | 2.52 | 8.04 | 6.90 | 1.24 | 1.68 | 0.11 | 10.67 | 9.53 | 3.87 | 4.31 | 000
67030 |  | A | Incise inner eye strands | 4.84 | NA | NA | 6.32 | 6.18 | 0.19 | NA | NA | 11.35 | 11.21 | 090
67031 |  | A | Laser surgery, eye strands | 3.67 | 3.89 | 4.01 | 3.08 | 2.86 | 0.15 | 7.71 | 7.83 | 6.90 | 6.68 | 090
67036 |  | A | Removal of inner eye fluid | 11.89 | NA | NA | 9.05 | 10.34 | 0.47 | NA | NA | 21.41 | 22.70 | 090
67038 |  | A | Strip retinal membrane | 21.24 | NA | NA | 15.54 | 17.99 | 0.84 | NA | NA | 37.62 | 40.07 | 090
67039 |  | A | Laser treatment of retina | 14.52 | NA | NA | 12.20 | 13.48 | 0.57 | NA | NA | 27.29 | 28.57 | 090
67040 |  | A | Laser treatment of retina | 17.23 | NA | NA | 13.57 | 15.32 | 0.68 | NA | NA | 31.48 | 33.23 | 090
67101 |  | A | Repair detached retina | 7.53 | 10.69 | 10.27 | 8.67 | 7.63 | 0.29 | 18.51 | 18.09 | 16.49 | 15.45 | 090
67105 |  | A | Repair detached retina | 7.41 | 7.41 | 8.04 | 5.62 | 5.46 | 0.29 | 15.11 | 15.74 | 13.32 | 13.16 | 090
67107 |  | A | Repair detached retina | 14.84 | NA | NA | 13.10 | 14.25 | 0.58 | NA | NA | 28.52 | 29.67 | 090
67108 |  | A | Repair detached retina | 20.82 | NA | NA | 17.42 | 19.28 | 0.82 | NA | NA | 39.06 | 40.92 | 090
67110 |  | A | Repair detached retina | 8.81 | 18.19 | 16.27 | 10.08 | 10.19 | 0.35 | 27.35 | 25.43 | 19.24 | 19.35 | 090
67112 |  | A | Rerepair detached retina | 16.86 | NA | NA | 15.43 | 16.05 | 0.66 | NA | NA | 32.95 | 33.57 | 090
67115 |  | A | Release encircling material | 4.99 | NA | NA | 6.42 | 6.31 | 0.19 | NA | NA | 11.60 | 11.49 | 090
67120 |  | A | Remove eye implant material | 5.98 | 14.09 | 12.35 | 6.82 | 6.90 | 0.23 | 20.30 | 18.56 | 13.03 | 13.11 | 090
67121 |  | A | Remove eye implant material | 10.67 | NA | NA | 11.60 | 11.26 | 0.42 | NA | NA | 22.69 | 22.35 | 090
67141 |  | A | Treatment of retina | 5.20 | 7.62 | 7.27 | 6.58 | 5.71 | 0.20 | 13.02 | 12.67 | 11.98 | 11.11 | 090
67145 |  | A | Treatment of retina | 5.37 | 5.21 | 5.67 | 4.21 | 4.04 | 0.21 | 10.79 | 11.25 | 9.79 | 9.62 | 090
67208 |  | A | Treatment of retinal lesion | 6.70 | 8.02 | 8.02 | 6.75 | 6.06 | 0.26 | 14.98 | 14.98 | 13.71 | 13.02 | 090
67210 |  | A | Treatment of retinal lesion | 8.82 | 7.24 | 7.88 | 5.87 | 5.63 | 0.35 | 16.41 | 17.05 | 15.04 | 14.80 | 090
67218 |  | A | Treatment of retinal lesion | 13.52 | NA | NA | 13.04 | 13.39 | 0.53 | NA | NA | 27.09 | 27.44 | 090
67220 |  | A | Treatment of choroid lesion | 13.13 | 11.21 | 11.21 | 10.05 | 10.05 | 0.51 | 24.85 | 24.85 | 23.69 | 23.69 | 090
67221 |  | A | Ocular photodynamic ther | 4.01 | 4.40 | 4.40 | 2.00 | 2.00 | 0.50 | 8.91 | 8.91 | 6.51 | 6.51 | 000
67227 |  | A | Treatment of retinal lesion | 6.58 | 8.60 | 8.42 | 6.87 | 7.12 | 0.26 | 15.44 | 15.26 | 13.71 | 13.96 | 090
67228 |  | A | Treatment of retinal lesion | 12.74 | 9.89 | 9.97 | 7.47 | 6.88 | 0.50 | 23.13 | 23.21 | 20.71 | 20.12 | 090
67250 |  | A | Reinforce eye wall | 8.66 | NA | NA | 10.22 | 9.56 | 0.36 | NA | NA | 19.24 | 18.58 | 090
67255 |  | A | Reinforce/graft eye wall | 8.90 | NA | NA | 10.31 | 10.39 | 0.35 | NA | NA | 19.56 | 19.64 | 090
67299 |  | C | Eye surgery procedure | 0.00 | 0.00 | 0.00 | 0.00 | 0.00 | 0.00 | 0.00 | 0.00 | 0.00 | 0.00 | YYY
67311 |  | A | Revise eye muscle | 6.65 | NA | NA | 6.37 | 6.76 | 0.27 | NA | NA | 13.29 | 13.68 | 090
67312 |  | A | Revise two eye muscles | 8.54 | NA | NA | 7.38 | 8.08 | 0.35 | NA | NA | 16.27 | 16.97 | 090
67314 |  | A | Revise eye muscle | 7.52 | NA | NA | 6.86 | 7.39 | 0.30 | NA | NA | 14.68 | 15.21 | 090
67316 |  | A | Revise two eye muscles | 9.66 | NA | NA | 7.88 | 8.70 | 0.40 | NA | NA | 17.94 | 18.76 | 090
67318 |  | A | Revise eye muscle(s) | 7.85 | NA | NA | 7.31 | 7.17 | 0.31 | NA | NA | 15.47 | 15.33 | 090
67320 |  | A | Revise eye muscle(s) add-on | 4.33 | NA | NA | 6.87 | 7.74 | 0.17 | NA | NA | 11.37 | 12.24 | ZZZ
67331 |  | A | Eye surgery follow-up add-on | 4.06 | NA | NA | 5.26 | 6.37 | 0.17 | NA | NA | 9.49 | 10.60 | ZZZ
67332 |  | A | Rerevise eye muscles add-on | 4.49 | NA | NA | 5.93 | 7.13 | 0.18 | NA | NA | 10.60 | 11.80 | ZZZ
67334 |  | A | Revise eye muscle w/suture | 3.98 | NA | NA | 5.43 | 5.78 | 0.16 | NA | NA | 9.57 | 9.92 | ZZZ
67335 |  | A | Eye suture during surgery | 2.49 | NA | NA | 1.22 | 1.66 | 0.10 | NA | NA | 3.81 | 4.25 | ZZZ
67340 |  | A | Revise eye muscle add-on | 4.93 | NA | NA | 7.20 | 7.54 | 0.19 | NA | NA | 12.32 | 12.66 | ZZZ
67343 |  | A | Release eye tissue | 7.35 | NA | NA | 7.25 | 7.02 | 0.30 | NA | NA | 14.90 | 14.67 | 090
67345 |  | A | Destroy nerve of eye muscle | 2.96 | 4.22 | 3.77 | 1.43 | 1.38 | 0.13 | 7.31 | 6.86 | 4.52 | 4.47 | 010
67350 |  | A | Biopsy eye muscle | 2.87 | NA | NA | 2.46 | 2.49 | 0.13 | NA | NA | 5.46 | 5.49 | 000
67399 |  | C | Eye muscle surgery procedure | 0.00 | 0.00 | 0.00 | 0.00 | 0.00 | 0.00 | 0.00 | 0.00 | 0.00 | 0.00 | YYY
67400 |  | A | Explore/biopsy eye socket | 9.76 | NA | NA | 11.86 | 11.81 | 0.43 | NA | NA | 22.05 | 22.00 | 090
67405 |  | A | Explore/drain eye socket | 7.93 | NA | NA | 10.65 | 10.35 | 0.36 | NA | NA | 18.94 | 18.64 | 090
67412 |  | A | Explore/treat eye socket | 9.50 | NA | NA | 13.04 | 12.62 | 0.41 | NA | NA | 22.95 | 22.53 | 090
67413 |  | A | Explore/treat eye socket | 10.00 | NA | NA | 11.47 | 10.80 | 0.43 | NA | NA | 21.90 | 21.23 | 090
67414 |  | A | Explr/decompress eye socket | 11.13 | NA | NA | 13.69 | 12.55 | 0.48 | NA | NA | 25.30 | 24.16 | 090
67415 |  | A | Aspiration, orbital contents | 1.76 | NA | NA | 0.85 | 1.17 | 0.09 | NA | NA | 2.70 | 3.02 | 000
67420 |  | A | Explore/treat eye socket | 20.06 | NA | NA | 17.54 | 17.71 | 0.84 | NA | NA | 38.44 | 38.61 | 090
67430 |  | A | Explore/treat eye socket | 13.39 | NA | NA | 18.61 | 16.85 | 0.97 | NA | NA | 32.97 | 31.21 | 090
67440 |  | A | Explore/drain eye socket | 13.09 | NA | NA | 14.36 | 14.68 | 0.58 | NA | NA | 28.03 | 28.35 | 090
67445 |  | A | Explr/decompress eye socket | 14.42 | NA | NA | 15.68 | 14.78 | 0.63 | NA | NA | 30.73 | 29.83 | 090
67450 |  | A | Explore/biopsy eye socket | 13.51 | NA | NA | 14.19 | 14.68 | 0.56 | NA | NA | 28.26 | 28.75 | 090
67500 |  | A | Inject/treat eye socket | 0.79 | 2.29 | 1.92 | 0.20 | 0.35 | 0.04 | 3.12 | 2.75 | 1.03 | 1.18 | 000
67505 |  | A | Inject/treat eye socket | 0.82 | 0.92 | 0.97 | 0.21 | 0.28 | 0.04 | 1.78 | 1.83 | 1.07 | 1.14 | 000
67515 |  | A | Inject/treat eye socket | 0.61 | 0.81 | 0.76 | 0.30 | 0.30 | 0.02 | 1.44 | 1.39 | 0.93 | 0.93 | 000
67550 |  | A | Insert eye socket implant | 10.19 | NA | NA | 11.90 | 11.54 | 0.50 | NA | NA | 22.59 | 22.23 | 090
67560 |  | A | Revise eye socket implant | 10.60 | NA | NA | 11.57 | 10.93 | 0.47 | NA | NA | 22.64 | 22.00 | 090
67570 |  | A | Decompress optic nerve | 13.58 | NA | NA | 14.86 | 13.20 | 0.69 | NA | NA | 29.13 | 27.47 | 090
67599 |  | C | Orbit surgery procedure | 0.00 | 0.00 | 0.00 | 0.00 | 0.00 | 0.00 | 0.00 | 0.00 | 0.00 | 0.00 | YYY
67700 |  | A | Drainage of eyelid abscess | 1.35 | 5.31 | 4.12 | 0.62 | 0.53 | 0.06 | 6.72 | 5.53 | 2.03 | 1.94 | 010
67710 |  | A | Incision of eyelid | 1.02 | 5.48 | 4.39 | 0.51 | 0.52 | 0.04 | 6.54 | 5.45 | 1.57 | 1.58 | 010
67715 |  | A | Incision of eyelid fold | 1.22 | NA | NA | 0.61 | 0.82 | 0.05 | NA | NA | 1.88 | 2.09 | 010
67800 |  | A | Remove eyelid lesion | 1.38 | 2.26 | 1.95 | 0.68 | 0.64 | 0.06 | 3.70 | 3.39 | 2.12 | 2.08 | 010
67801 |  | A | Remove eyelid lesions | 1.88 | 5.70 | 4.65 | 0.93 | 0.89 | 0.08 | 7.66 | 6.61 | 2.89 | 2.85 | 010
67805 |  | A | Remove eyelid lesions | 2.22 | 5.90 | 4.80 | 1.10 | 1.01 | 0.09 | 8.21 | 7.11 | 3.41 | 3.32 | 010
67808 |  | A | Remove eyelid lesion(s) | 3.80 | NA | NA | 3.86 | 3.47 | 0.17 | NA | NA | 7.83 | 7.44 | 090
67810 |  | A | Biopsy of eyelid | 1.48 | 4.41 | 3.53 | 0.73 | 0.66 | 0.06 | 5.95 | 5.07 | 2.27 | 2.20 | 000
67820 |  | A | Revise eyelashes | 0.89 | 1.56 | 1.27 | 0.38 | 0.34 | 0.04 | 2.49 | 2.20 | 1.31 | 1.27 | 000
67825 |  | A | Revise eyelashes | 1.38 | 6.95 | 5.46 | 1.68 | 1.38 | 0.06 | 8.39 | 6.90 | 3.12 | 2.82 | 010
67830 |  | A | Revise eyelashes | 1.70 | 8.17 | 6.70 | 1.90 | 1.93 | 0.07 | 9.94 | 8.47 | 3.67 | 3.70 | 010
67835 |  | A | Revise eyelashes | 5.56 | NA | NA | 4.64 | 5.14 | 0.22 | NA | NA | 10.42 | 10.92 | 090
67840 |  | A | Remove eyelid lesion | 2.04 | 5.77 | 4.66 | 1.01 | 0.92 | 0.08 | 7.89 | 6.78 | 3.13 | 3.04 | 010
67850 |  | A | Treat eyelid lesion | 1.69 | 7.01 | 5.48 | 1.78 | 1.45 | 0.07 | 8.77 | 7.24 | 3.54 | 3.21 | 010
67875 |  | A | Closure of eyelid by suture | 1.35 | 8.33 | 6.72 | 1.84 | 1.79 | 0.06 | 9.74 | 8.13 | 3.25 | 3.20 | 000
67880 |  | A | Revision of eyelid | 3.80 | 9.26 | 8.02 | 2.96 | 3.29 | 0.16 | 13.22 | 11.98 | 6.92 | 7.25 | 090
67882 |  | A | Revision of eyelid | 5.07 | 12.04 | 10.55 | 4.44 | 4.85 | 0.21 | 17.32 | 15.83 | 9.72 | 10.13 | 090
67900 |  | A | Repair brow defect | 6.14 | 10.06 | 8.57 | 6.31 | 5.76 | 0.30 | 16.50 | 15.01 | 12.75 | 12.20 | 090
67901 |  | A | Repair eyelid defect | 6.97 | NA | NA | 6.55 | 6.99 | 0.32 | NA | NA | 13.84 | 14.28 | 090
67902 |  | A | Repair eyelid defect | 7.03 | NA | NA | 6.64 | 7.08 | 0.34 | NA | NA | 14.01 | 14.45 | 090
67903 |  | A | Repair eyelid defect | 6.37 | 11.55 | 10.57 | 7.12 | 7.24 | 0.39 | 18.31 | 17.33 | 13.88 | 14.00 | 090
67904 |  | A | Repair eyelid defect | 6.26 | 12.65 | 11.36 | 7.45 | 7.46 | 0.26 | 19.17 | 17.88 | 13.97 | 13.98 | 090
67906 |  | A | Repair eyelid defect | 6.79 | 7.32 | 6.97 | 6.35 | 6.25 | 0.42 | 14.53 | 14.18 | 13.56 | 13.46 | 090
67908 |  | A | Repair eyelid defect | 5.13 | 8.40 | 7.83 | 5.93 | 5.98 | 0.20 | 13.73 | 13.16 | 11.26 | 11.31 | 090
67909 |  | A | Revise eyelid defect | 5.40 | 9.39 | 8.66 | 6.51 | 6.50 | 0.25 | 15.04 | 14.31 | 12.16 | 12.15 | 090
67911 |  | A | Revise eyelid defect | 5.27 | NA | NA | 6.37 | 6.35 | 0.23 | NA | NA | 11.87 | 11.85 | 090
67914 |  | A | Repair eyelid defect | 3.68 | 9.75 | 8.41 | 3.36 | 3.62 | 0.16 | 13.59 | 12.25 | 7.20 | 7.46 | 090
67915 |  | A | Repair eyelid defect | 3.18 | 8.51 | 6.72 | 1.60 | 1.37 | 0.13 | 11.82 | 10.03 | 4.91 | 4.68 | 090
67916 |  | A | Repair eyelid defect | 5.31 | 13.00 | 11.34 | 5.07 | 5.39 | 0.22 | 18.53 | 16.87 | 10.60 | 10.92 | 090
67917 |  | A | Repair eyelid defect | 6.02 | 9.39 | 8.84 | 6.44 | 6.63 | 0.25 | 15.66 | 15.11 | 12.71 | 12.90 | 090
67921 |  | A | Repair eyelid defect | 3.40 | 9.40 | 8.07 | 3.12 | 3.36 | 0.14 | 12.94 | 11.61 | 6.66 | 6.90 | 090
67922 |  | A | Repair eyelid defect | 3.06 | 8.46 | 6.67 | 2.94 | 2.37 | 0.13 | 11.65 | 9.86 | 6.13 | 5.56 | 090
67923 |  | A | Repair eyelid defect | 5.88 | 12.99 | 11.50 | 5.24 | 5.69 | 0.24 | 19.11 | 17.62 | 11.36 | 11.81 | 090
67924 |  | A | Repair eyelid defect | 5.79 | 8.77 | 8.31 | 5.79 | 6.07 | 0.23 | 14.79 | 14.33 | 11.81 | 12.09 | 090
67930 |  | A | Repair eyelid wound | 3.61 | 9.24 | 7.28 | 2.92 | 2.36 | 0.17 | 13.02 | 11.06 | 6.70 | 6.14 | 010
67935 |  | A | Repair eyelid wound | 6.22 | 13.75 | 11.34 | 5.23 | 4.95 | 0.29 | 20.26 | 17.85 | 11.74 | 11.46 | 090
67938 |  | A | Remove eyelid foreign body | 1.33 | 6.56 | 5.06 | 0.54 | 0.48 | 0.06 | 7.95 | 6.45 | 1.93 | 1.87 | 010
67950 |  | A | Revision of eyelid | 5.82 | 8.38 | 8.02 | 7.07 | 7.04 | 0.30 | 14.50 | 14.14 | 13.19 | 13.16 | 090
67961 |  | A | Revision of eyelid | 5.69 | 8.77 | 8.28 | 5.99 | 6.19 | 0.26 | 14.72 | 14.23 | 11.94 | 12.14 | 090
67966 |  | A | Revision of eyelid | 6.57 | 8.49 | 8.33 | 6.19 | 6.61 | 0.33 | 15.39 | 15.23 | 13.09 | 13.51 | 090
67971 |  | A | Reconstruction of eyelid | 9.79 | NA | NA | 7.91 | 8.83 | 0.42 | NA | NA | 18.12 | 19.04 | 090
67973 |  | A | Reconstruction of eyelid | 12.87 | NA | NA | 10.06 | 11.22 | 0.59 | NA | NA | 23.52 | 24.68 | 090
67974 |  | A | Reconstruction of eyelid | 12.84 | NA | NA | 10.00 | 11.32 | 0.54 | NA | NA | 23.38 | 24.70 | 090
67975 |  | A | Reconstruction of eyelid | 9.13 | NA | NA | 7.56 | 6.80 | 0.38 | NA | NA | 17.07 | 16.31 | 090
67999 |  | C | Revision of eyelid | 0.00 | 0.00 | 0.00 | 0.00 | 0.00 | 0.00 | 0.00 | 0.00 | 0.00 | 0.00 | YYY
68020 |  | A | Incise/drain eyelid lining | 1.37 | 5.27 | 4.09 | 0.68 | 0.58 | 0.06 | 6.70 | 5.52 | 2.11 | 2.01 | 010
68040 |  | A | Treatment of eyelid lesions | 0.85 | 5.14 | 3.98 | 0.42 | 0.38 | 0.03 | 6.02 | 4.86 | 1.30 | 1.26 | 000
68100 |  | A | Biopsy of eyelid lining | 1.35 | 5.61 | 4.48 | 0.66 | 0.63 | 0.06 | 7.02 | 5.89 | 2.07 | 2.04 | 000
68110 |  | A | Remove eyelid lining lesion | 1.77 | 6.37 | 5.12 | 1.39 | 1.21 | 0.07 | 8.21 | 6.96 | 3.23 | 3.05 | 010
68115 |  | A | Remove eyelid lining lesion | 2.36 | 5.93 | 4.97 | 1.16 | 1.39 | 0.10 | 8.39 | 7.43 | 3.62 | 3.85 | 010
68130 |  | A | Remove eyelid lining lesion | 4.93 | NA | NA | 2.44 | 2.94 | 0.19 | NA | NA | 7.56 | 8.06 | 090
68135 |  | A | Remove eyelid lining lesion | 1.84 | 5.67 | 4.45 | 0.91 | 0.78 | 0.07 | 7.58 | 6.36 | 2.82 | 2.69 | 010
68200 |  | A | Treat eyelid by injection | 0.49 | 5.23 | 4.06 | 0.24 | 0.25 | 0.02 | 5.74 | 4.57 | 0.75 | 0.76 | 000
68320 |  | A | Revise/graft eyelid lining | 5.37 | 5.30 | 5.58 | 5.30 | 5.58 | 0.21 | 10.88 | 11.16 | 10.88 | 11.16 | 090
68325 |  | A | Revise/graft eyelid lining | 7.36 | NA | NA | 6.42 | 7.01 | 0.30 | NA | NA | 14.08 | 14.67 | 090
68326 |  | A | Revise/graft eyelid lining | 7.15 | NA | NA | 6.32 | 6.88 | 0.30 | NA | NA | 13.77 | 14.33 | 090
68328 |  | A | Revise/graft eyelid lining | 8.18 | NA | NA | 7.06 | 7.74 | 0.40 | NA | NA | 15.64 | 16.32 | 090
68330 |  | A | Revise eyelid lining | 4.83 | 6.79 | 6.53 | 5.10 | 5.27 | 0.19 | 11.81 | 11.55 | 10.12 | 10.29 | 090
68335 |  | A | Revise/graft eyelid lining | 7.19 | NA | NA | 5.29 | 6.11 | 0.29 | NA | NA | 12.77 | 13.59 | 090
68340 |  | A | Separate eyelid adhesions | 4.17 | 11.81 | 9.71 | 3.96 | 3.82 | 0.17 | 16.15 | 14.05 | 8.30 | 8.16 | 090
68360 |  | A | Revise eyelid lining | 4.37 | 6.09 | 5.87 | 4.87 | 4.96 | 0.17 | 10.63 | 10.41 | 9.41 | 9.50 | 090
68362 |  | A | Revise eyelid lining | 7.34 | NA | NA | 7.58 | 7.86 | 0.29 | NA | NA | 15.21 | 15.49 | 090
68399 |  | C | Eyelid lining surgery | 0.00 | 0.00 | 0.00 | 0.00 | 0.00 | 0.00 | 0.00 | 0.00 | 0.00 | 0.00 | YYY
68400 |  | A | Incise/drain tear gland | 1.69 | 8.26 | 6.47 | 1.89 | 1.56 | 0.07 | 10.02 | 8.23 | 3.65 | 3.32 | 010
68420 |  | A | Incise/drain tear sac | 2.30 | 8.41 | 6.59 | 2.20 | 1.79 | 0.10 | 10.81 | 8.99 | 4.60 | 4.19 | 010
68440 |  | A | Incise tear duct opening | 0.94 | 5.27 | 4.16 | 0.47 | 0.46 | 0.04 | 6.25 | 5.14 | 1.45 | 1.44 | 010
68500 |  | A | Removal of tear gland | 11.02 | NA | NA | 10.08 | 9.63 | 0.60 | NA | NA | 21.70 | 21.25 | 090
68505 |  | A | Partial removal, tear gland | 10.94 | NA | NA | 10.35 | 10.12 | 0.57 | NA | NA | 21.86 | 21.63 | 090
68510 |  | A | Biopsy of tear gland | 4.61 | 9.91 | 8.43 | 2.24 | 2.68 | 0.19 | 14.71 | 13.23 | 7.04 | 7.48 | 000
68520 |  | A | Removal of tear sac | 7.51 | NA | NA | 6.82 | 7.36 | 0.33 | NA | NA | 14.66 | 15.20 | 090
68525 |  | A | Biopsy of tear sac | 4.43 | NA | NA | 2.20 | 2.65 | 0.18 | NA | NA | 6.81 | 7.26 | 000
68530 |  | A | Clearance of tear duct | 3.66 | 11.04 | 9.05 | 2.83 | 2.51 | 0.16 | 14.86 | 12.87 | 6.65 | 6.33 | 010
68540 |  | A | Remove tear gland lesion | 10.60 | NA | NA | 8.50 | 8.63 | 0.46 | NA | NA | 19.56 | 19.69 | 090
68550 |  | A | Remove tear gland lesion | 13.26 | NA | NA | 10.41 | 10.89 | 0.66 | NA | NA | 24.33 | 24.81 | 090
68700 |  | A | Repair tear ducts | 6.60 | NA | NA | 6.21 | 5.39 | 0.27 | NA | NA | 13.08 | 12.26 | 090
68705 |  | A | Revise tear duct opening | 2.06 | 5.92 | 4.72 | 1.02 | 0.91 | 0.08 | 8.06 | 6.86 | 3.16 | 3.05 | 010
68720 |  | A | Create tear sac drain | 8.96 | NA | NA | 7.37 | 8.20 | 0.38 | NA | NA | 16.71 | 17.54 | 090
68745 |  | A | Create tear duct drain | 8.63 | NA | NA | 7.32 | 7.27 | 0.38 | NA | NA | 16.33 | 16.28 | 090
68750 |  | A | Create tear duct drain | 8.66 | NA | NA | 7.79 | 8.43 | 0.37 | NA | NA | 16.82 | 17.46 | 090
68760 |  | A | Close tear duct opening | 1.73 | 5.54 | 4.41 | 0.85 | 0.76 | 0.07 | 7.34 | 6.21 | 2.65 | 2.56 | 010
68761 |  | A | Close tear duct opening | 1.36 | 6.29 | 4.97 | 0.65 | 0.61 | 0.06 | 7.71 | 6.39 | 2.07 | 2.03 | 010
68770 |  | A | Close tear system fistula | 7.02 | 13.61 | 11.36 | 5.67 | 4.83 | 0.28 | 20.91 | 18.66 | 12.97 | 12.13 | 090
68801 |  | A | Dilate tear duct opening | 0.94 | 6.39 | 4.91 | 0.45 | 0.40 | 0.04 | 7.37 | 5.89 | 1.43 | 1.38 | 010
68810 |  | A | Probe nasolacrimal duct | 1.90 | 8.09 | 6.22 | 1.92 | 1.52 | 0.08 | 10.07 | 8.20 | 3.90 | 3.50 | 010
68811 |  | A | Probe nasolacrimal duct | 2.35 | NA | NA | 2.18 | 2.04 | 0.10 | NA | NA | 4.63 | 4.49 | 010
68815 |  | A | Probe nasolacrimal duct | 3.20 | 9.94 | 7.98 | 2.66 | 2.26 | 0.14 | 13.28 | 11.32 | 6.00 | 5.60 | 010
68840 |  | A | Explore/irrigate tear ducts | 1.25 | 7.01 | 5.39 | 0.61 | 0.53 | 0.05 | 8.31 | 6.69 | 1.91 | 1.83 | 010
68850 |  | A | Injection for tear sac x-ray | 0.80 | 12.26 | 9.33 | 0.32 | 0.38 | 0.03 | 13.09 | 10.16 | 1.15 | 1.21 | 000
68899 |  | C | Tear duct system surgery | 0.00 | 0.00 | 0.00 | 0.00 | 0.00 | 0.00 | 0.00 | 0.00 | 0.00 | 0.00 | YYY
69000 |  | A | Drain external ear lesion | 1.45 | 2.04 | 1.63 | 0.58 | 0.48 | 0.10 | 3.59 | 3.18 | 2.13 | 2.03 | 010
69005 |  | A | Drain external ear lesion | 2.11 | 2.46 | 2.16 | 2.06 | 1.70 | 0.16 | 4.73 | 4.43 | 4.33 | 3.97 | 010
69020 |  | A | Drain outer ear canal lesion | 1.48 | 2.14 | 1.73 | 0.74 | 0.62 | 0.11 | 3.73 | 3.32 | 2.33 | 2.21 | 010
69090 |  | N | Pierce earlobes | 0.00 | 0.00 | 0.00 | 0.00 | 0.00 | 0.00 | 0.00 | 0.00 | 0.00 | 0.00 | XXX
69100 |  | A | Biopsy of external ear | 0.81 | 1.48 | 1.29 | 0.41 | 0.40 | 0.04 | 2.33 | 2.14 | 1.26 | 1.25 | 000
69105 |  | A | Biopsy of external ear canal | 0.85 | 1.46 | 1.31 | 0.97 | 0.84 | 0.06 | 2.37 | 2.22 | 1.88 | 1.75 | 000
69110 |  | A | Remove external ear, partial | 3.44 | 3.44 | 3.29 | 2.77 | 2.79 | 0.24 | 7.12 | 6.97 | 6.45 | 6.47 | 090
69120 |  | A | Removal of external ear | 4.05 | NA | NA | 4.38 | 3.50 | 0.31 | NA | NA | 8.74 | 7.86 | 090
69140 |  | A | Remove ear canal lesion(s) | 7.97 | NA | NA | 7.92 | 8.11 | 0.56 | NA | NA | 16.45 | 16.64 | 090
69145 |  | A | Remove ear canal lesion(s) | 2.62 | 3.27 | 3.13 | 2.45 | 2.52 | 0.18 | 6.07 | 5.93 | 5.25 | 5.32 | 090
69150 |  | A | Extensive ear canal surgery | 13.43 | NA | NA | 11.09 | 11.16 | 1.07 | NA | NA | 25.59 | 25.66 | 090
69155 |  | A | Extensive ear/neck surgery | 20.80 | NA | NA | 15.15 | 15.68 | 1.51 | NA | NA | 37.46 | 37.99 | 090
69200 |  | A | Clear outer ear canal | 0.77 | 1.39 | 1.16 | 0.73 | 0.61 | 0.05 | 2.21 | 1.98 | 1.55 | 1.43 | 000
69205 |  | A | Clear outer ear canal | 1.20 | NA | NA | 1.52 | 1.43 | 0.09 | NA | NA | 2.81 | 2.72 | 010
69210 |  | A | Remove impacted ear wax | 0.61 | 1.26 | 1.01 | 0.24 | 0.21 | 0.04 | 1.91 | 1.66 | 0.89 | 0.86 | 000
69220 |  | A | Clean out mastoid cavity | 0.83 | 1.46 | 1.23 | 0.42 | 0.38 | 0.06 | 2.35 | 2.12 | 1.31 | 1.27 | 000
69222 |  | A | Clean out mastoid cavity | 1.40 | 2.14 | 1.81 | 1.65 | 1.34 | 0.10 | 3.64 | 3.31 | 3.15 | 2.84 | 010
69300 |  | R | Revise external ear | 6.36 | NA | NA | 4.35 | 4.70 | 0.43 | NA | NA | 11.14 | 11.49 | YYY
69310 |  | A | Rebuild outer ear canal | 10.79 | NA | NA | 9.46 | 9.77 | 0.77 | NA | NA | 21.02 | 21.33 | 090
69320 |  | A | Rebuild outer ear canal | 16.96 | NA | NA | 13.64 | 14.21 | 1.17 | NA | NA | 31.77 | 32.34 | 090
69399 |  | C | Outer ear surgery procedure | 0.00 | 0.00 | 0.00 | 0.00 | 0.00 | 0.00 | 0.00 | 0.00 | 0.00 | 0.00 | YYY
69400 |  | A | Inflate middle ear canal | 0.83 | 1.45 | 1.21 | 0.45 | 0.40 | 0.06 | 2.34 | 2.10 | 1.34 | 1.29 | 000
69401 |  | A | Inflate middle ear canal | 0.63 | 1.35 | 1.08 | 0.36 | 0.31 | 0.04 | 2.02 | 1.75 | 1.03 | 0.98 | 000
69405 |  | A | Catheterize middle ear canal | 2.63 | 2.98 | 2.37 | 1.47 | 1.17 | 0.18 | 5.79 | 5.18 | 4.28 | 3.98 | 010
69410 |  | A | Inset middle ear (baffle) | 0.33 | 1.39 | 1.21 | 0.16 | 0.20 | 0.02 | 1.74 | 1.56 | 0.51 | 0.55 | 000
69420 |  | A | Incision of eardrum | 1.33 | 2.24 | 1.87 | 0.71 | 0.63 | 0.10 | 3.67 | 3.30 | 2.14 | 2.06 | 010
69421 |  | A | Incision of eardrum | 1.73 | 2.50 | 2.19 | 1.85 | 1.70 | 0.13 | 4.36 | 4.05 | 3.71 | 3.56 | 010
69424 |  | A | Remove ventilating tube | 0.85 | 1.60 | 1.36 | 0.89 | 0.75 | 0.06 | 2.51 | 2.27 | 1.80 | 1.66 | 000
69433 |  | A | Create eardrum opening | 1.52 | 2.22 | 2.03 | 0.85 | 0.82 | 0.11 | 3.85 | 3.66 | 2.48 | 2.45 | 010
69436 |  | A | Create eardrum opening | 1.96 | NA | NA | 1.98 | 2.06 | 0.14 | NA | NA | 4.08 | 4.16 | 010
69440 |  | A | Exploration of middle ear | 7.57 | NA | NA | 7.12 | 7.60 | 0.53 | NA | NA | 15.22 | 15.70 | 090
69450 |  | A | Eardrum revision | 5.57 | NA | NA | 5.93 | 6.11 | 0.39 | NA | NA | 11.89 | 12.07 | 090
69501 |  | A | Mastoidectomy | 9.07 | NA | NA | 7.90 | 8.63 | 0.65 | NA | NA | 17.62 | 18.35 | 090
69502 |  | A | Mastoidectomy | 12.38 | NA | NA | 10.47 | 11.48 | 0.86 | NA | NA | 23.71 | 24.72 | 090
69505 |  | A | Remove mastoid structures | 12.99 | NA | NA | 10.64 | 11.86 | 0.92 | NA | NA | 24.55 | 25.77 | 090
69511 |  | A | Extensive mastoid surgery | 13.52 | NA | NA | 11.02 | 12.30 | 0.96 | NA | NA | 25.50 | 26.78 | 090
69530 |  | A | Extensive mastoid surgery | 19.19 | NA | NA | 14.59 | 15.48 | 1.32 | NA | NA | 35.10 | 35.99 | 090
69535 |  | A | Remove part of temporal bone | 36.14 | NA | NA | 24.08 | 24.92 | 2.59 | NA | NA | 62.81 | 63.65 | 090
69540 |  | A | Remove ear lesion | 1.20 | 2.15 | 1.96 | 1.54 | 1.33 | 0.09 | 3.44 | 3.25 | 2.83 | 2.62 | 010
69550 |  | A | Remove ear lesion | 10.99 | NA | NA | 9.68 | 10.54 | 0.80 | NA | NA | 21.47 | 22.33 | 090
69552 |  | A | Remove ear lesion | 19.46 | NA | NA | 14.24 | 15.22 | 1.36 | NA | NA | 35.06 | 36.04 | 090
69554 |  | A | Remove ear lesion | 33.16 | NA | NA | 21.65 | 22.44 | 2.32 | NA | NA | 57.13 | 57.92 | 090
69601 |  | A | Mastoid surgery revision | 13.24 | NA | NA | 11.61 | 12.51 | 0.92 | NA | NA | 25.77 | 26.67 | 090
69602 |  | A | Mastoid surgery revision | 13.58 | NA | NA | 11.16 | 12.42 | 0.94 | NA | NA | 25.68 | 26.94 | 090
69603 |  | A | Mastoid surgery revision | 14.02 | NA | NA | 11.44 | 12.76 | 1.00 | NA | NA | 26.46 | 27.78 | 090
69604 |  | A | Mastoid surgery revision | 14.02 | NA | NA | 11.24 | 12.61 | 0.98 | NA | NA | 26.24 | 27.61 | 090
69605 |  | A | Mastoid surgery revision | 18.49 | NA | NA | 13.92 | 14.50 | 1.29 | NA | NA | 33.70 | 34.28 | 090
69610 |  | A | Repair of eardrum | 4.43 | 4.09 | 3.32 | 3.37 | 2.66 | 0.31 | 8.83 | 8.06 | 8.11 | 7.40 | 010
69620 |  | A | Repair of eardrum | 5.89 | 6.64 | 6.74 | 2.91 | 3.94 | 0.40 | 12.93 | 13.03 | 9.20 | 10.23 | 090
69631 |  | A | Repair eardrum structures | 9.86 | NA | NA | 9.05 | 9.73 | 0.69 | NA | NA | 19.60 | 20.28 | 090
69632 |  | A | Rebuild eardrum structures | 12.75 | NA | NA | 11.28 | 12.27 | 0.89 | NA | NA | 24.92 | 25.91 | 090
69633 |  | A | Rebuild eardrum structures | 12.10 | NA | NA | 10.92 | 11.80 | 0.84 | NA | NA | 23.86 | 24.74 | 090
69635 |  | A | Repair eardrum structures | 13.33 | NA | NA | 9.40 | 11.03 | 0.87 | NA | NA | 23.60 | 25.23 | 090
69636 |  | A | Rebuild eardrum structures | 15.22 | NA | NA | 12.78 | 14.13 | 1.07 | NA | NA | 29.07 | 30.42 | 090
69637 |  | A | Rebuild eardrum structures | 15.11 | NA | NA | 12.72 | 14.05 | 1.06 | NA | NA | 28.89 | 30.22 | 090
69641 |  | A | Revise middle ear & mastoid | 12.71 | NA | NA | 10.62 | 11.76 | 0.89 | NA | NA | 24.22 | 25.36 | 090
69642 |  | A | Revise middle ear & mastoid | 16.84 | NA | NA | 13.63 | 15.25 | 1.18 | NA | NA | 31.65 | 33.27 | 090
69643 |  | A | Revise middle ear & mastoid | 15.32 | NA | NA | 12.77 | 14.15 | 1.08 | NA | NA | 29.17 | 30.55 | 090
69644 |  | A | Revise middle ear & mastoid | 16.97 | NA | NA | 13.71 | 15.35 | 1.19 | NA | NA | 31.87 | 33.51 | 090
69645 |  | A | Revise middle ear & mastoid | 16.38 | NA | NA | 13.34 | 14.90 | 1.16 | NA | NA | 30.88 | 32.44 | 090
69646 |  | A | Revise middle ear & mastoid | 17.99 | NA | NA | 14.29 | 16.09 | 1.26 | NA | NA | 33.54 | 35.34 | 090
69650 |  | A | Release middle ear bone | 9.66 | NA | NA | 8.28 | 9.10 | 0.68 | NA | NA | 18.62 | 19.44 | 090
69660 |  | A | Revise middle ear bone | 11.90 | NA | NA | 9.51 | 10.69 | 0.84 | NA | NA | 22.25 | 23.43 | 090
69661 |  | A | Revise middle ear bone | 15.74 | NA | NA | 12.28 | 13.91 | 1.10 | NA | NA | 29.12 | 30.75 | 090
69662 |  | A | Revise middle ear bone | 15.44 | NA | NA | 12.14 | 13.71 | 1.08 | NA | NA | 28.66 | 30.23 | 090
69666 |  | A | Repair middle ear structures | 9.75 | NA | NA | 8.33 | 9.16 | 0.68 | NA | NA | 18.76 | 19.59 | 090
69667 |  | A | Repair middle ear structures | 9.76 | NA | NA | 8.28 | 9.13 | 0.72 | NA | NA | 18.76 | 19.61 | 090
69670 |  | A | Remove mastoid air cells | 11.51 | NA | NA | 9.93 | 10.21 | 0.78 | NA | NA | 22.22 | 22.50 | 090
69676 |  | A | Remove middle ear nerve | 9.52 | NA | NA | 8.64 | 8.80 | 0.69 | NA | NA | 18.85 | 19.01 | 090
69700 |  | A | Close mastoid fistula | 8.23 | NA | NA | 5.24 | 6.06 | 0.55 | NA | NA | 14.02 | 14.84 | 090
69710 |  | N | Implant/replace hearing aid | 0.00 | 0.00 | 0.00 | 0.00 | 0.00 | 0.00 | 0.00 | 0.00 | 0.00 | 0.00 | XXX
69711 |  | A | Remove/repair hearing aid | 10.44 | NA | NA | 9.42 | 9.36 | 0.62 | NA | NA | 20.48 | 20.42 | 090
69714 |  | A | Implant temple bone w/stimul | 14.00 | NA | NA | 8.71 | 8.71 | 0.97 | NA | NA | 23.68 | 23.68 | 090
69715 |  | A | Temple bne implnt w/stimulat | 18.25 | NA | NA | 10.49 | 10.49 | 1.25 | NA | NA | 29.99 | 29.99 | 090
69717 |  | A | Temple bone implant revision | 14.98 | NA | NA | 8.37 | 8.37 | 1.04 | NA | NA | 24.39 | 24.39 | 090
69718 |  | A | Revise temple bone implant | 18.50 | NA | NA | 10.58 | 10.58 | 1.27 | NA | NA | 30.35 | 30.35 | 090
69720 |  | A | Release facial nerve | 14.38 | NA | NA | 12.04 | 13.32 | 1.03 | NA | NA | 27.45 | 28.73 | 090
69725 |  | A | Release facial nerve | 25.38 | NA | NA | 18.07 | 17.53 | 1.78 | NA | NA | 45.23 | 44.69 | 090
69740 |  | A | Repair facial nerve | 15.96 | NA | NA | 11.48 | 11.82 | 1.13 | NA | NA | 28.57 | 28.91 | 090
69745 |  | A | Repair facial nerve | 16.69 | NA | NA | 12.11 | 13.41 | 1.00 | NA | NA | 29.80 | 31.10 | 090
69799 |  | C | Middle ear surgery procedure | 0.00 | 0.00 | 0.00 | 0.00 | 0.00 | 0.00 | 0.00 | 0.00 | 0.00 | 0.00 | YYY
69801 |  | A | Incise inner ear | 8.56 | NA | NA | 7.68 | 8.32 | 0.60 | NA | NA | 16.84 | 17.48 | 090
69802 |  | A | Incise inner ear | 13.10 | NA | NA | 10.95 | 11.26 | 0.91 | NA | NA | 24.96 | 25.27 | 090
69805 |  | A | Explore inner ear | 13.82 | NA | NA | 10.69 | 11.58 | 0.97 | NA | NA | 25.48 | 26.37 | 090
69806 |  | A | Explore inner ear | 12.35 | NA | NA | 10.49 | 11.56 | 0.86 | NA | NA | 23.70 | 24.77 | 090
69820 |  | A | Establish inner ear window | 10.34 | NA | NA | 9.08 | 9.21 | 0.66 | NA | NA | 20.08 | 20.21 | 090
69840 |  | A | Revise inner ear window | 10.26 | NA | NA | 10.00 | 9.80 | 0.64 | NA | NA | 20.90 | 20.70 | 090
69905 |  | A | Remove inner ear | 11.10 | NA | NA | 9.33 | 10.31 | 0.77 | NA | NA | 21.20 | 22.18 | 090
69910 |  | A | Remove inner ear & mastoid | 13.63 | NA | NA | 10.96 | 12.29 | 0.94 | NA | NA | 25.53 | 26.86 | 090
69915 |  | A | Incise inner ear nerve | 21.23 | NA | NA | 15.22 | 16.22 | 1.54 | NA | NA | 37.99 | 38.99 | 090
69930 |  | A | Implant cochlear device | 16.81 | NA | NA | 12.44 | 14.35 | 1.19 | NA | NA | 30.44 | 32.35 | 090
69949 |  | C | Inner ear surgery procedure | 0.00 | 0.00 | 0.00 | 0.00 | 0.00 | 0.00 | 0.00 | 0.00 | 0.00 | 0.00 | YYY
69950 |  | A | Incise inner ear nerve | 25.64 | NA | NA | 16.01 | 16.89 | 2.90 | NA | NA | 44.55 | 45.43 | 090
69955 |  | A | Release facial nerve | 27.04 | NA | NA | 18.34 | 19.26 | 1.89 | NA | NA | 47.27 | 48.19 | 090
69960 |  | A | Release inner ear canal | 27.04 | NA | NA | 17.85 | 18.23 | 2.43 | NA | NA | 47.32 | 47.70 | 090
69970 |  | A | Remove inner ear lesion | 30.04 | NA | NA | 19.00 | 19.59 | 2.34 | NA | NA | 51.38 | 51.97 | 090
69979 |  | C | Temporal bone surgery | 0.00 | 0.00 | 0.00 | 0.00 | 0.00 | 0.00 | 0.00 | 0.00 | 0.00 | 0.00 | YYY
69990 |  | R | Microsurgery add-on | 3.47 | NA | NA | 1.86 | 1.86 | 0.56 | NA | NA | 5.89 | 5.89 | ZZZ
70010 |  | A | Contrast x-ray of brain | 1.19 | 4.73 | 4.81 | 4.73 | 4.81 | 0.24 | 6.16 | 6.24 | 6.16 | 6.24 | XXX
70010 | 26 | A | Contrast x-ray of brain | 1.19 | 0.43 | 0.46 | 0.43 | 0.46 | 0.06 | 1.68 | 1.71 | 1.68 | 1.71 | XXX
70010 | TC | A | Contrast x-ray of brain | 0.00 | 4.30 | 4.35 | NA | NA | 0.18 | 4.48 | 4.53 | NA | NA | XXX
70015 |  | A | Contrast x-ray of brain | 1.19 | 1.79 | 1.83 | 1.79 | 1.83 | 0.12 | 3.10 | 3.14 | 3.10 | 3.14 | XXX
70015 | 26 | A | Contrast x-ray of brain | 1.19 | 0.44 | 0.47 | 0.44 | 0.47 | 0.05 | 1.68 | 1.71 | 1.68 | 1.71 | XXX
70015 | TC | A | Contrast x-ray of brain | 0.00 | 1.35 | 1.36 | NA | NA | 0.07 | 1.42 | 1.43 | NA | NA | XXX
70030 |  | A | X-ray eye for foreign body | 0.17 | 0.47 | 0.49 | 0.47 | 0.49 | 0.03 | 0.67 | 0.69 | 0.67 | 0.69 | XXX
70030 | 26 | A | X-ray eye for foreign body | 0.17 | 0.06 | 0.07 | 0.06 | 0.07 | 0.01 | 0.24 | 0.25 | 0.24 | 0.25 | XXX
70030 | TC | A | X-ray eye for foreign body | 0.00 | 0.41 | 0.42 | NA | NA | 0.02 | 0.43 | 0.44 | NA | NA | XXX
70100 |  | A | X-ray exam of jaw | 0.18 | 0.58 | 0.60 | 0.58 | 0.60 | 0.03 | 0.79 | 0.81 | 0.79 | 0.81 | XXX
70100 | 26 | A | X-ray exam of jaw | 0.18 | 0.06 | 0.07 | 0.06 | 0.07 | 0.01 | 0.25 | 0.26 | 0.25 | 0.26 | XXX
70100 | TC | A | X-ray exam of jaw | 0.00 | 0.52 | 0.53 | NA | NA | 0.02 | 0.54 | 0.55 | NA | NA | XXX
70110 |  | A | X-ray exam of jaw | 0.25 | 0.70 | 0.72 | 0.70 | 0.72 | 0.04 | 0.99 | 1.01 | 0.99 | 1.01 | XXX
70110 | 26 | A | X-ray exam of jaw | 0.25 | 0.09 | 0.10 | 0.09 | 0.10 | 0.01 | 0.35 | 0.36 | 0.35 | 0.36 | XXX
70110 | TC | A | X-ray exam of jaw | 0.00 | 0.61 | 0.62 | NA | NA | 0.03 | 0.64 | 0.65 | NA | NA | XXX
70120 |  | A | X-ray exam of mastoids | 0.18 | 0.67 | 0.69 | 0.67 | 0.69 | 0.04 | 0.89 | 0.91 | 0.89 | 0.91 | XXX
70120 | 26 | A | X-ray exam of mastoids | 0.18 | 0.06 | 0.07 | 0.06 | 0.07 | 0.01 | 0.25 | 0.26 | 0.25 | 0.26 | XXX
70120 | TC | A | X-ray exam of mastoids | 0.00 | 0.61 | 0.62 | NA | NA | 0.03 | 0.64 | 0.65 | NA | NA | XXX
70130 |  | A | X-ray exam of mastoids | 0.34 | 0.90 | 0.92 | 0.90 | 0.92 | 0.05 | 1.29 | 1.31 | 1.29 | 1.31 | XXX
70130 | 26 | A | X-ray exam of mastoids | 0.34 | 0.12 | 0.13 | 0.12 | 0.13 | 0.01 | 0.47 | 0.48 | 0.47 | 0.48 | XXX
70130 | TC | A | X-ray exam of mastoids | 0.00 | 0.78 | 0.79 | NA | NA | 0.04 | 0.82 | 0.83 | NA | NA | XXX
70134 |  | A | X-ray exam of middle ear | 0.34 | 0.85 | 0.87 | 0.85 | 0.87 | 0.05 | 1.24 | 1.26 | 1.24 | 1.26 | XXX
70134 | 26 | A | X-ray exam of middle ear | 0.34 | 0.12 | 0.13 | 0.12 | 0.13 | 0.01 | 0.47 | 0.48 | 0.47 | 0.48 | XXX
70134 | TC | A | X-ray exam of middle ear | 0.00 | 0.73 | 0.74 | NA | NA | 0.04 | 0.77 | 0.78 | NA | NA | XXX
70140 |  | A | X-ray exam of facial bones | 0.19 | 0.68 | 0.70 | 0.68 | 0.70 | 0.04 | 0.91 | 0.93 | 0.91 | 0.93 | XXX
70140 | 26 | A | X-ray exam of facial bones | 0.19 | 0.07 | 0.08 | 0.07 | 0.08 | 0.01 | 0.27 | 0.28 | 0.27 | 0.28 | XXX
70140 | TC | A | X-ray exam of facial bones | 0.00 | 0.61 | 0.62 | NA | NA | 0.03 | 0.64 | 0.65 | NA | NA | XXX
70150 |  | A | X-ray exam of facial bones | 0.26 | 0.87 | 0.89 | 0.87 | 0.89 | 0.05 | 1.18 | 1.20 | 1.18 | 1.20 | XXX
70150 | 26 | A | X-ray exam of facial bones | 0.26 | 0.09 | 0.10 | 0.09 | 0.10 | 0.01 | 0.36 | 0.37 | 0.36 | 0.37 | XXX
70150 | TC | A | X-ray exam of facial bones | 0.00 | 0.78 | 0.79 | NA | NA | 0.04 | 0.82 | 0.83 | NA | NA | XXX
70160 |  | A | X-ray exam of nasal bones | 0.17 | 0.58 | 0.60 | 0.58 | 0.60 | 0.03 | 0.78 | 0.80 | 0.78 | 0.80 | XXX
70160 | 26 | A | X-ray exam of nasal bones | 0.17 | 0.06 | 0.07 | 0.06 | 0.07 | 0.01 | 0.24 | 0.25 | 0.24 | 0.25 | XXX
70160 | TC | A | X-ray exam of nasal bones | 0.00 | 0.52 | 0.53 | NA | NA | 0.02 | 0.54 | 0.55 | NA | NA | XXX
70170 |  | A | X-ray exam of tear duct | 0.30 | 1.05 | 1.07 | 1.05 | 1.07 | 0.06 | 1.41 | 1.43 | 1.41 | 1.43 | XXX
70170 | 26 | A | X-ray exam of tear duct | 0.30 | 0.11 | 0.12 | 0.11 | 0.12 | 0.01 | 0.42 | 0.43 | 0.42 | 0.43 | XXX
70170 | TC | A | X-ray exam of tear duct | 0.00 | 0.94 | 0.95 | NA | NA | 0.05 | 0.99 | 1.00 | NA | NA | XXX
70190 |  | A | X-ray exam of eye sockets | 0.21 | 0.68 | 0.70 | 0.68 | 0.70 | 0.04 | 0.93 | 0.95 | 0.93 | 0.95 | XXX
70190 | 26 | A | X-ray exam of eye sockets | 0.21 | 0.07 | 0.08 | 0.07 | 0.08 | 0.01 | 0.29 | 0.30 | 0.29 | 0.30 | XXX
70190 | TC | A | X-ray exam of eye sockets | 0.00 | 0.61 | 0.62 | NA | NA | 0.03 | 0.64 | 0.65 | NA | NA | XXX
70200 |  | A | X-ray exam of eye sockets | 0.28 | 0.88 | 0.90 | 0.88 | 0.90 | 0.05 | 1.21 | 1.23 | 1.21 | 1.23 | XXX
70200 | 26 | A | X-ray exam of eye sockets | 0.28 | 0.10 | 0.11 | 0.10 | 0.11 | 0.01 | 0.39 | 0.40 | 0.39 | 0.40 | XXX
70200 | TC | A | X-ray exam of eye sockets | 0.00 | 0.78 | 0.79 | NA | NA | 0.04 | 0.82 | 0.83 | NA | NA | XXX
70210 |  | A | X-ray exam of sinuses | 0.17 | 0.67 | 0.69 | 0.67 | 0.69 | 0.04 | 0.88 | 0.90 | 0.88 | 0.90 | XXX
70210 | 26 | A | X-ray exam of sinuses | 0.17 | 0.06 | 0.07 | 0.06 | 0.07 | 0.01 | 0.24 | 0.25 | 0.24 | 0.25 | XXX
70210 | TC | A | X-ray exam of sinuses | 0.00 | 0.61 | 0.62 | NA | NA | 0.03 | 0.64 | 0.65 | NA | NA | XXX
70220 |  | A | X-ray exam of sinuses | 0.25 | 0.87 | 0.89 | 0.87 | 0.89 | 0.05 | 1.17 | 1.19 | 1.17 | 1.19 | XXX
70220 | 26 | A | X-ray exam of sinuses | 0.25 | 0.09 | 0.10 | 0.09 | 0.10 | 0.01 | 0.35 | 0.36 | 0.35 | 0.36 | XXX
70220 | TC | A | X-ray exam of sinuses | 0.00 | 0.78 | 0.79 | NA | NA | 0.04 | 0.82 | 0.83 | NA | NA | XXX
70240 |  | A | X-ray exam, pituitary saddle | 0.19 | 0.48 | 0.50 | 0.48 | 0.50 | 0.03 | 0.70 | 0.72 | 0.70 | 0.72 | XXX
70240 | 26 | A | X-ray exam, pituitary saddle | 0.19 | 0.07 | 0.08 | 0.07 | 0.08 | 0.01 | 0.27 | 0.28 | 0.27 | 0.28 | XXX
70240 | TC | A | X-ray exam, pituitary saddle | 0.00 | 0.41 | 0.42 | NA | NA | 0.02 | 0.43 | 0.44 | NA | NA | XXX
70250 |  | A | X-ray exam of skull | 0.24 | 0.70 | 0.72 | 0.70 | 0.72 | 0.04 | 0.98 | 1.00 | 0.98 | 1.00 | XXX
70250 | 26 | A | X-ray exam of skull | 0.24 | 0.09 | 0.10 | 0.09 | 0.10 | 0.01 | 0.34 | 0.35 | 0.34 | 0.35 | XXX
70250 | TC | A | X-ray exam of skull | 0.00 | 0.61 | 0.62 | NA | NA | 0.03 | 0.64 | 0.65 | NA | NA | XXX
70260 |  | A | X-ray exam of skull | 0.34 | 1.00 | 1.02 | 1.00 | 1.02 | 0.06 | 1.40 | 1.42 | 1.40 | 1.42 | XXX
70260 | 26 | A | X-ray exam of skull | 0.34 | 0.12 | 0.13 | 0.12 | 0.13 | 0.01 | 0.47 | 0.48 | 0.47 | 0.48 | XXX
70260 | TC | A | X-ray exam of skull | 0.00 | 0.88 | 0.89 | NA | NA | 0.05 | 0.93 | 0.94 | NA | NA | XXX
70300 |  | A | X-ray exam of teeth | 0.10 | 0.30 | 0.30 | 0.30 | 0.30 | 0.03 | 0.43 | 0.43 | 0.43 | 0.43 | XXX
70300 | 26 | A | X-ray exam of teeth | 0.10 | 0.04 | 0.04 | 0.04 | 0.04 | 0.01 | 0.15 | 0.15 | 0.15 | 0.15 | XXX
70300 | TC | A | X-ray exam of teeth | 0.00 | 0.26 | 0.26 | NA | NA | 0.02 | 0.28 | 0.28 | NA | NA | XXX
70310 |  | A | X-ray exam of teeth | 0.16 | 0.47 | 0.49 | 0.47 | 0.49 | 0.03 | 0.66 | 0.68 | 0.66 | 0.68 | XXX
70310 | 26 | A | X-ray exam of teeth | 0.16 | 0.06 | 0.07 | 0.06 | 0.07 | 0.01 | 0.23 | 0.24 | 0.23 | 0.24 | XXX
70310 | TC | A | X-ray exam of teeth | 0.00 | 0.41 | 0.42 | NA | NA | 0.02 | 0.43 | 0.44 | NA | NA | XXX
70320 |  | A | Full mouth x-ray of teeth | 0.22 | 0.86 | 0.88 | 0.86 | 0.88 | 0.05 | 1.13 | 1.15 | 1.13 | 1.15 | XXX
70320 | 26 | A | Full mouth x-ray of teeth | 0.22 | 0.08 | 0.09 | 0.08 | 0.09 | 0.01 | 0.31 | 0.32 | 0.31 | 0.32 | XXX
70320 | TC | A | Full mouth x-ray of teeth | 0.00 | 0.78 | 0.79 | NA | NA | 0.04 | 0.82 | 0.83 | NA | NA | XXX
70328 |  | A | X-ray exam of jaw joint | 0.18 | 0.55 | 0.57 | 0.55 | 0.57 | 0.03 | 0.76 | 0.78 | 0.76 | 0.78 | XXX
70328 | 26 | A | X-ray exam of jaw joint | 0.18 | 0.06 | 0.07 | 0.06 | 0.07 | 0.01 | 0.25 | 0.26 | 0.25 | 0.26 | XXX
70328 | TC | A | X-ray exam of jaw joint | 0.00 | 0.49 | 0.50 | NA | NA | 0.02 | 0.51 | 0.52 | NA | NA | XXX
70330 |  | A | X-ray exam of jaw joints | 0.24 | 0.93 | 0.95 | 0.93 | 0.95 | 0.05 | 1.22 | 1.24 | 1.22 | 1.24 | XXX
70330 | 26 | A | X-ray exam of jaw joints | 0.24 | 0.09 | 0.10 | 0.09 | 0.10 | 0.01 | 0.34 | 0.35 | 0.34 | 0.35 | XXX
70330 | TC | A | X-ray exam of jaw joints | 0.00 | 0.84 | 0.85 | NA | NA | 0.04 | 0.88 | 0.89 | NA | NA | XXX
70332 |  | A | X-ray exam of jaw joint | 0.54 | 2.28 | 2.32 | 2.28 | 2.32 | 0.12 | 2.94 | 2.98 | 2.94 | 2.98 | XXX
70332 | 26 | A | X-ray exam of jaw joint | 0.54 | 0.20 | 0.22 | 0.20 | 0.22 | 0.02 | 0.76 | 0.78 | 0.76 | 0.78 | XXX
70332 | TC | A | X-ray exam of jaw joint | 0.00 | 2.08 | 2.10 | NA | NA | 0.10 | 2.18 | 2.20 | NA | NA | XXX
70336 |  | A | Magnetic image, jaw joint | 1.48 | 11.66 | 11.77 | 11.66 | 11.77 | 0.56 | 13.70 | 13.81 | 13.70 | 13.81 | XXX
70336 | 26 | A | Magnetic image, jaw joint | 1.48 | 0.53 | 0.52 | 0.53 | 0.52 | 0.07 | 2.08 | 2.07 | 2.08 | 2.07 | XXX
70336 | TC | A | Magnetic image, jaw joint | 0.00 | 11.13 | 11.25 | NA | NA | 0.49 | 11.62 | 11.74 | NA | NA | XXX
70350 |  | A | X-ray head for orthodontia | 0.17 | 0.43 | 0.45 | 0.43 | 0.45 | 0.03 | 0.63 | 0.65 | 0.63 | 0.65 | XXX
70350 | 26 | A | X-ray head for orthodontia | 0.17 | 0.06 | 0.07 | 0.06 | 0.07 | 0.01 | 0.24 | 0.25 | 0.24 | 0.25 | XXX
70350 | TC | A | X-ray head for orthodontia | 0.00 | 0.37 | 0.38 | NA | NA | 0.02 | 0.39 | 0.40 | NA | NA | XXX
70355 |  | A | Panoramic x-ray of jaws | 0.20 | 0.64 | 0.66 | 0.64 | 0.66 | 0.04 | 0.88 | 0.90 | 0.88 | 0.90 | XXX
70355 | 26 | A | Panoramic x-ray of jaws | 0.20 | 0.07 | 0.08 | 0.07 | 0.08 | 0.01 | 0.28 | 0.29 | 0.28 | 0.29 | XXX
70355 | TC | A | Panoramic x-ray of jaws | 0.00 | 0.57 | 0.58 | NA | NA | 0.03 | 0.60 | 0.61 | NA | NA | XXX
70360 |  | A | X-ray exam of neck | 0.17 | 0.47 | 0.49 | 0.47 | 0.49 | 0.03 | 0.67 | 0.69 | 0.67 | 0.69 | XXX
70360 | 26 | A | X-ray exam of neck | 0.17 | 0.06 | 0.07 | 0.06 | 0.07 | 0.01 | 0.24 | 0.25 | 0.24 | 0.25 | XXX
70360 | TC | A | X-ray exam of neck | 0.00 | 0.41 | 0.42 | NA | NA | 0.02 | 0.43 | 0.44 | NA | NA | XXX
70370 |  | A | Throat x-ray & fluoroscopy | 0.32 | 1.41 | 1.43 | 1.41 | 1.43 | 0.07 | 1.80 | 1.82 | 1.80 | 1.82 | XXX
70370 | 26 | A | Throat x-ray & fluoroscopy | 0.32 | 0.11 | 0.12 | 0.11 | 0.12 | 0.01 | 0.44 | 0.45 | 0.44 | 0.45 | XXX
70370 | TC | A | Throat x-ray & fluoroscopy | 0.00 | 1.30 | 1.31 | NA | NA | 0.06 | 1.36 | 1.37 | NA | NA | XXX
70371 |  | A | Speech evaluation, complex | 0.84 | 2.38 | 2.43 | 2.38 | 2.43 | 0.14 | 3.36 | 3.41 | 3.36 | 3.41 | XXX
70371 | 26 | A | Speech evaluation, complex | 0.84 | 0.30 | 0.33 | 0.30 | 0.33 | 0.04 | 1.18 | 1.21 | 1.18 | 1.21 | XXX
70371 | TC | A | Speech evaluation, complex | 0.00 | 2.08 | 2.10 | NA | NA | 0.10 | 2.18 | 2.20 | NA | NA | XXX
70373 |  | A | Contrast x-ray of larynx | 0.44 | 1.93 | 1.97 | 1.93 | 1.97 | 0.11 | 2.48 | 2.52 | 2.48 | 2.52 | XXX
70373 | 26 | A | Contrast x-ray of larynx | 0.44 | 0.16 | 0.18 | 0.16 | 0.18 | 0.02 | 0.62 | 0.64 | 0.62 | 0.64 | XXX
70373 | TC | A | Contrast x-ray of larynx | 0.00 | 1.77 | 1.79 | NA | NA | 0.09 | 1.86 | 1.88 | NA | NA | XXX
70380 |  | A | X-ray exam of salivary gland | 0.17 | 0.72 | 0.74 | 0.72 | 0.74 | 0.04 | 0.93 | 0.95 | 0.93 | 0.95 | XXX
70380 | 26 | A | X-ray exam of salivary gland | 0.17 | 0.06 | 0.07 | 0.06 | 0.07 | 0.01 | 0.24 | 0.25 | 0.24 | 0.25 | XXX
70380 | TC | A | X-ray exam of salivary gland | 0.00 | 0.66 | 0.67 | NA | NA | 0.03 | 0.69 | 0.70 | NA | NA | XXX
70390 |  | A | X-ray exam of salivary duct | 0.38 | 1.90 | 1.93 | 1.90 | 1.93 | 0.11 | 2.39 | 2.42 | 2.39 | 2.42 | XXX
70390 | 26 | A | X-ray exam of salivary duct | 0.38 | 0.13 | 0.14 | 0.13 | 0.14 | 0.02 | 0.53 | 0.54 | 0.53 | 0.54 | XXX
70390 | TC | A | X-ray exam of salivary duct | 0.00 | 1.77 | 1.79 | NA | NA | 0.09 | 1.86 | 1.88 | NA | NA | XXX
70450 |  | A | Ct head/brain w/o dye | 0.85 | 4.99 | 5.07 | 4.99 | 5.07 | 0.25 | 6.09 | 6.17 | 6.09 | 6.17 | XXX
70450 | 26 | A | Ct head/brain w/o dye | 0.85 | 0.30 | 0.33 | 0.30 | 0.33 | 0.04 | 1.19 | 1.22 | 1.19 | 1.22 | XXX
70450 | TC | A | Ct head/brain w/o dye | 0.00 | 4.69 | 4.74 | NA | NA | 0.21 | 4.90 | 4.95 | NA | NA | XXX
70460 |  | A | Ct head/brain w/dye | 1.13 | 6.01 | 6.11 | 6.01 | 6.11 | 0.30 | 7.44 | 7.54 | 7.44 | 7.54 | XXX
70460 | 26 | A | Ct head/brain w/dye | 1.13 | 0.40 | 0.44 | 0.40 | 0.44 | 0.05 | 1.58 | 1.62 | 1.58 | 1.62 | XXX
70460 | TC | A | Ct head/brain w/dye | 0.00 | 5.61 | 5.67 | NA | NA | 0.25 | 5.86 | 5.92 | NA | NA | XXX
70470 |  | A | Ct head/brain w/o&w dye | 1.27 | 7.46 | 7.58 | 7.46 | 7.58 | 0.37 | 9.10 | 9.22 | 9.10 | 9.22 | XXX
70470 | 26 | A | Ct head/brain w/o&w dye | 1.27 | 0.45 | 0.49 | 0.45 | 0.49 | 0.06 | 1.78 | 1.82 | 1.78 | 1.82 | XXX
70470 | TC | A | Ct head/brain w/o&w dye | 0.00 | 7.01 | 7.09 | NA | NA | 0.31 | 7.32 | 7.40 | NA | NA | XXX
70480 |  | A | Ct orbit/ear/fossa w/o dye | 1.28 | 5.14 | 5.23 | 5.14 | 5.23 | 0.27 | 6.69 | 6.78 | 6.69 | 6.78 | XXX
70480 | 26 | A | Ct orbit/ear/fossa w/o dye | 1.28 | 0.45 | 0.49 | 0.45 | 0.49 | 0.06 | 1.79 | 1.83 | 1.79 | 1.83 | XXX
70480 | TC | A | Ct orbit/ear/fossa w/o dye | 0.00 | 4.69 | 4.74 | NA | NA | 0.21 | 4.90 | 4.95 | NA | NA | XXX
70481 |  | A | Ct orbit/ear/fossa w/dye | 1.38 | 6.10 | 6.20 | 6.10 | 6.20 | 0.31 | 7.79 | 7.89 | 7.79 | 7.89 | XXX
70481 | 26 | A | Ct orbit/ear/fossa w/dye | 1.38 | 0.49 | 0.53 | 0.49 | 0.53 | 0.06 | 1.93 | 1.97 | 1.93 | 1.97 | XXX
70481 | TC | A | Ct orbit/ear/fossa w/dye | 0.00 | 5.61 | 5.67 | NA | NA | 0.25 | 5.86 | 5.92 | NA | NA | XXX
70482 |  | A | Ct orbit/ear/fossa w/o&w dye | 1.45 | 7.53 | 7.65 | 7.53 | 7.65 | 0.37 | 9.35 | 9.47 | 9.35 | 9.47 | XXX
70482 | 26 | A | Ct orbit/ear/fossa w/o&w dye | 1.45 | 0.52 | 0.56 | 0.52 | 0.56 | 0.06 | 2.03 | 2.07 | 2.03 | 2.07 | XXX
70482 | TC | A | Ct orbit/ear/fossa w/o&w dye | 0.00 | 7.01 | 7.09 | NA | NA | 0.31 | 7.32 | 7.40 | NA | NA | XXX
70486 |  | A | Ct maxillofacial w/o dye | 1.14 | 5.10 | 5.18 | 5.10 | 5.18 | 0.26 | 6.50 | 6.58 | 6.50 | 6.58 | XXX
70486 | 26 | A | Ct maxillofacial w/o dye | 1.14 | 0.41 | 0.44 | 0.41 | 0.44 | 0.05 | 1.60 | 1.63 | 1.60 | 1.63 | XXX
70486 | TC | A | Ct maxillofacial w/o dye | 0.00 | 4.69 | 4.74 | NA | NA | 0.21 | 4.90 | 4.95 | NA | NA | XXX
70487 |  | A | Ct maxillofacial w/dye | 1.30 | 6.07 | 6.17 | 6.07 | 6.17 | 0.31 | 7.68 | 7.78 | 7.68 | 7.78 | XXX
70487 | 26 | A | Ct maxillofacial w/dye | 1.30 | 0.46 | 0.50 | 0.46 | 0.50 | 0.06 | 1.82 | 1.86 | 1.82 | 1.86 | XXX
70487 | TC | A | Ct maxillofacial w/dye | 0.00 | 5.61 | 5.67 | NA | NA | 0.25 | 5.86 | 5.92 | NA | NA | XXX
70488 |  | A | Ct maxillofacial w/o&w dye | 1.42 | 7.51 | 7.64 | 7.51 | 7.64 | 0.37 | 9.30 | 9.43 | 9.30 | 9.43 | XXX
70488 | 26 | A | Ct maxillofacial w/o&w dye | 1.42 | 0.50 | 0.55 | 0.50 | 0.55 | 0.06 | 1.98 | 2.03 | 1.98 | 2.03 | XXX
70488 | TC | A | Ct maxillofacial w/o&w dye | 0.00 | 7.01 | 7.09 | NA | NA | 0.31 | 7.32 | 7.40 | NA | NA | XXX
70490 |  | A | Ct soft tissue neck w/o dye | 1.28 | 5.14 | 5.23 | 5.14 | 5.23 | 0.27 | 6.69 | 6.78 | 6.69 | 6.78 | XXX
70490 | 26 | A | Ct soft tissue neck w/o dye | 1.28 | 0.45 | 0.49 | 0.45 | 0.49 | 0.06 | 1.79 | 1.83 | 1.79 | 1.83 | XXX
70490 | TC | A | Ct soft tissue neck w/o dye | 0.00 | 4.69 | 4.74 | NA | NA | 0.21 | 4.90 | 4.95 | NA | NA | XXX
70491 |  | A | Ct soft tissue neck w/dye | 1.38 | 6.10 | 6.20 | 6.10 | 6.20 | 0.31 | 7.79 | 7.89 | 7.79 | 7.89 | XXX
70491 | 26 | A | Ct soft tissue neck w/dye | 1.38 | 0.49 | 0.53 | 0.49 | 0.53 | 0.06 | 1.93 | 1.97 | 1.93 | 1.97 | XXX
70491 | TC | A | Ct soft tissue neck w/dye | 0.00 | 5.61 | 5.67 | NA | NA | 0.25 | 5.86 | 5.92 | NA | NA | XXX
70492 |  | A | Ct sft tsue nck w/o & w/dye | 1.45 | 7.53 | 7.65 | 7.53 | 7.65 | 0.37 | 9.35 | 9.47 | 9.35 | 9.47 | XXX
70492 | 26 | A | Ct sft tsue nck w/o & w/dye | 1.45 | 0.52 | 0.56 | 0.52 | 0.56 | 0.06 | 2.03 | 2.07 | 2.03 | 2.07 | XXX
70492 | TC | A | Ct sft tsue nck w/o & w/dye | 0.00 | 7.01 | 7.09 | NA | NA | 0.31 | 7.32 | 7.40 | NA | NA | XXX
70496 |  | A | Ct angiography, head | 1.75 | 7.71 | 7.71 | 7.71 | 7.71 | 0.54 | 10.00 | 10.00 | 10.00 | 10.00 | XXX
70496 | 26 | A | Ct angiography, head | 1.75 | 0.70 | 0.70 | 0.70 | 0.70 | 0.06 | 2.51 | 2.51 | 2.51 | 2.51 | XXX
70496 | TC | A | Ct angiography, head | 0.00 | 7.01 | 7.01 | NA | NA | 0.48 | 7.49 | 7.49 | NA | NA | XXX
70498 |  | A | Ct angiography, neck | 1.75 | 7.71 | 7.71 | 7.71 | 7.71 | 0.54 | 10.00 | 10.00 | 10.00 | 10.00 | XXX
70498 | 26 | A | Ct angiography, neck | 1.75 | 0.70 | 0.70 | 0.70 | 0.70 | 0.06 | 2.51 | 2.51 | 2.51 | 2.51 | XXX
70498 | TC | A | Ct angiography, neck | 0.00 | 7.01 | 7.01 | NA | NA | 0.48 | 7.49 | 7.49 | NA | NA | XXX
70540 |  | A | Mri orbit/face/neck w/o dye | 0.98 | 11.48 | 11.69 | 11.48 | 11.69 | 0.36 | 12.82 | 13.03 | 12.82 | 13.03 | XXX
70540 | 26 | A | Mri orbit/face/neck w/o dye | 0.98 | 0.35 | 0.44 | 0.35 | 0.44 | 0.04 | 1.37 | 1.46 | 1.37 | 1.46 | XXX
70540 | TC | A | Mri orbit/face/neck w/o dye | 0.00 | 11.13 | 11.25 | NA | NA | 0.32 | 11.45 | 11.57 | NA | NA | XXX
70541 |  | D | Magnetic image, head (MRA) | 0.00 | 0.00 | 0.00 | 0.00 | 0.00 | 0.00 | 0.00 | 0.00 | 0.00 | 0.00 | XXX
70541 | 26 | D | Magnetic image, head (MRA) | 0.00 | 0.00 | 0.00 | 0.00 | 0.00 | 0.00 | 0.00 | 0.00 | 0.00 | 0.00 | XXX
70541 | TC | D | Magnetic image, head (MRA) | 0.00 | 0.00 | 0.00 | NA | NA | 0.00 | 0.00 | 0.00 | NA | NA | XXX
70542 |  | A | Mri orbit/face/neck w/dye | 1.17 | 13.76 | 13.76 | 13.76 | 13.76 | 0.43 | 15.36 | 15.36 | 15.36 | 15.36 | XXX
70542 | 26 | A | Mri orbit/face/neck w/dye | 1.17 | 0.42 | 0.42 | 0.42 | 0.42 | 0.04 | 1.63 | 1.63 | 1.63 | 1.63 | XXX
70542 | TC | A | Mri orbit/face/neck w/dye | 0.00 | 13.34 | 13.34 | NA | NA | 0.39 | 13.73 | 13.73 | NA | NA | XXX
70543 |  | A | Mri orbt/fac/nck w/o&w dye | 1.56 | 25.27 | 25.27 | 25.27 | 25.27 | 0.78 | 27.61 | 27.61 | 27.61 | 27.61 | XXX
70543 | 26 | A | Mri orbt/fac/nck w/o&w dye | 1.56 | 0.56 | 0.56 | 0.56 | 0.56 | 0.08 | 2.20 | 2.20 | 2.20 | 2.20 | XXX
70543 | TC | A | Mri orbt/fac/nck w/o&w dye | 0.00 | 24.71 | 24.71 | NA | NA | 0.70 | 25.41 | 25.41 | NA | NA | XXX
70544 |  | A | Mr angiography head w/o dye | 1.20 | 11.56 | 11.56 | 11.56 | 11.56 | 0.56 | 13.32 | 13.32 | 13.32 | 13.32 | XXX
70544 | 26 | A | Mr angiography head w/o dye | 1.20 | 0.43 | 0.43 | 0.43 | 0.43 | 0.07 | 1.70 | 1.70 | 1.70 | 1.70 | XXX
70544 | TC | A | Mr angiography head w/o dye | 0.00 | 11.13 | 11.13 | NA | NA | 0.49 | 11.62 | 11.62 | NA | NA | XXX
70545 |  | A | Mr angiography head w/dye | 1.20 | 11.56 | 11.56 | 11.56 | 11.56 | 0.56 | 13.32 | 13.32 | 13.32 | 13.32 | XXX
70545 | 26 | A | Mr angiography head w/dye | 1.20 | 0.43 | 0.43 | 0.43 | 0.43 | 0.07 | 1.70 | 1.70 | 1.70 | 1.70 | XXX
70545 | TC | A | Mr angiography head w/dye | 0.00 | 11.13 | 11.13 | NA | NA | 0.49 | 11.62 | 11.62 | NA | NA | XXX
70546 |  | A | Mr angiograph head w/o&w dye | 1.80 | 22.89 | 22.89 | 22.89 | 22.89 | 0.56 | 25.25 | 25.25 | 25.25 | 25.25 | XXX
70546 | 26 | A | Mr angiograph head w/o&w dye | 1.80 | 0.64 | 0.64 | 0.64 | 0.64 | 0.07 | 2.51 | 2.51 | 2.51 | 2.51 | XXX
70546 | TC | A | Mr angiograph head w/o&w dye | 0.00 | 22.25 | 22.25 | NA | NA | 0.49 | 22.74 | 22.74 | NA | NA | XXX
70547 |  | A | Mr angiography neck w/o dye | 1.20 | 11.56 | 11.56 | 11.56 | 11.56 | 0.56 | 13.32 | 13.32 | 13.32 | 13.32 | XXX
70547 | 26 | A | Mr angiography neck w/o dye | 1.20 | 0.43 | 0.43 | 0.43 | 0.43 | 0.07 | 1.70 | 1.70 | 1.70 | 1.70 | XXX
70547 | TC | A | Mr angiography neck w/o dye | 0.00 | 11.13 | 11.13 | NA | NA | 0.49 | 11.62 | 11.62 | NA | NA | XXX
70548 |  | A | Mr angiography neck w/dye | 1.20 | 11.56 | 11.56 | 11.56 | 11.56 | 0.56 | 13.32 | 13.32 | 13.32 | 13.32 | XXX
70548 | 26 | A | Mr angiography neck w/dye | 1.20 | 0.43 | 0.43 | 0.43 | 0.43 | 0.07 | 1.70 | 1.70 | 1.70 | 1.70 | XXX
70548 | TC | A | Mr angiography neck w/dye | 0.00 | 11.13 | 11.13 | NA | NA | 0.49 | 11.62 | 11.62 | NA | NA | XXX
70549 |  | A | Mr angiograph neck w/o&w dye | 1.80 | 22.89 | 22.89 | 22.89 | 22.89 | 0.56 | 25.25 | 25.25 | 25.25 | 25.25 | XXX
70549 | 26 | A | Mr angiograph neck w/o&w dye | 1.80 | 0.64 | 0.64 | 0.64 | 0.64 | 0.07 | 2.51 | 2.51 | 2.51 | 2.51 | XXX
70549 | TC | A | Mr angiograph neck w/o&w dye | 0.00 | 22.25 | 22.25 | NA | NA | 0.49 | 22.74 | 22.74 | NA | NA | XXX
70551 |  | A | Mri brain w/o dye | 1.48 | 11.66 | 11.83 | 11.66 | 11.83 | 0.56 | 13.70 | 13.87 | 13.70 | 13.87 | XXX
70551 | 26 | A | Mri brain w/o dye | 1.48 | 0.53 | 0.58 | 0.53 | 0.58 | 0.07 | 2.08 | 2.13 | 2.08 | 2.13 | XXX
70551 | TC | A | Mri brain w/o dye | 0.00 | 11.13 | 11.25 | NA | NA | 0.49 | 11.62 | 11.74 | NA | NA | XXX
70552 |  | A | Mri brain w/dye | 1.78 | 13.98 | 14.18 | 13.98 | 14.18 | 0.66 | 16.42 | 16.62 | 16.42 | 16.62 | XXX
70552 | 26 | A | Mri brain w/dye | 1.78 | 0.64 | 0.70 | 0.64 | 0.70 | 0.08 | 2.50 | 2.56 | 2.50 | 2.56 | XXX
70552 | TC | A | Mri brain w/dye | 0.00 | 13.34 | 13.48 | NA | NA | 0.58 | 13.92 | 14.06 | NA | NA | XXX
70553 |  | A | Mri brain w/o&w dye | 2.36 | 25.55 | 25.89 | 25.55 | 25.89 | 1.19 | 29.10 | 29.44 | 29.10 | 29.44 | XXX
70553 | 26 | A | Mri brain w/o&w dye | 2.36 | 0.84 | 0.92 | 0.84 | 0.92 | 0.10 | 3.30 | 3.38 | 3.30 | 3.38 | XXX
70553 | TC | A | Mri brain w/o&w dye | 0.00 | 24.71 | 24.97 | NA | NA | 1.09 | 25.80 | 26.06 | NA | NA | XXX
71010 |  | A | Chest x-ray | 0.18 | 0.53 | 0.55 | 0.53 | 0.55 | 0.03 | 0.74 | 0.76 | 0.74 | 0.76 | XXX
71010 | 26 | A | Chest x-ray | 0.18 | 0.06 | 0.07 | 0.06 | 0.07 | 0.01 | 0.25 | 0.26 | 0.25 | 0.26 | XXX
71010 | TC | A | Chest x-ray | 0.00 | 0.47 | 0.48 | NA | NA | 0.02 | 0.49 | 0.50 | NA | NA | XXX
71015 |  | A | Chest x-ray | 0.21 | 0.60 | 0.62 | 0.60 | 0.62 | 0.03 | 0.84 | 0.86 | 0.84 | 0.86 | XXX
71015 | 26 | A | Chest x-ray | 0.21 | 0.08 | 0.09 | 0.08 | 0.09 | 0.01 | 0.30 | 0.31 | 0.30 | 0.31 | XXX
71015 | TC | A | Chest x-ray | 0.00 | 0.52 | 0.53 | NA | NA | 0.02 | 0.54 | 0.55 | NA | NA | XXX
71020 |  | A | Chest x-ray | 0.22 | 0.69 | 0.71 | 0.69 | 0.71 | 0.04 | 0.95 | 0.97 | 0.95 | 0.97 | XXX
71020 | 26 | A | Chest x-ray | 0.22 | 0.08 | 0.09 | 0.08 | 0.09 | 0.01 | 0.31 | 0.32 | 0.31 | 0.32 | XXX
71020 | TC | A | Chest x-ray | 0.00 | 0.61 | 0.62 | NA | NA | 0.03 | 0.64 | 0.65 | NA | NA | XXX
71021 |  | A | Chest x-ray | 0.27 | 0.83 | 0.85 | 0.83 | 0.85 | 0.05 | 1.15 | 1.17 | 1.15 | 1.17 | XXX
71021 | 26 | A | Chest x-ray | 0.27 | 0.10 | 0.11 | 0.10 | 0.11 | 0.01 | 0.38 | 0.39 | 0.38 | 0.39 | XXX
71021 | TC | A | Chest x-ray | 0.00 | 0.73 | 0.74 | NA | NA | 0.04 | 0.77 | 0.78 | NA | NA | XXX
71022 |  | A | Chest x-ray | 0.31 | 0.84 | 0.86 | 0.84 | 0.86 | 0.06 | 1.21 | 1.23 | 1.21 | 1.23 | XXX
71022 | 26 | A | Chest x-ray | 0.31 | 0.11 | 0.12 | 0.11 | 0.12 | 0.02 | 0.44 | 0.45 | 0.44 | 0.45 | XXX
71022 | TC | A | Chest x-ray | 0.00 | 0.73 | 0.74 | NA | NA | 0.04 | 0.77 | 0.78 | NA | NA | XXX
71023 |  | A | Chest x-ray and fluoroscopy | 0.38 | 0.92 | 0.94 | 0.92 | 0.94 | 0.06 | 1.36 | 1.38 | 1.36 | 1.38 | XXX
71023 | 26 | A | Chest x-ray and fluoroscopy | 0.38 | 0.14 | 0.15 | 0.14 | 0.15 | 0.02 | 0.54 | 0.55 | 0.54 | 0.55 | XXX
71023 | TC | A | Chest x-ray and fluoroscopy | 0.00 | 0.78 | 0.79 | NA | NA | 0.04 | 0.82 | 0.83 | NA | NA | XXX
71030 |  | A | Chest x-ray | 0.31 | 0.89 | 0.91 | 0.89 | 0.91 | 0.05 | 1.25 | 1.27 | 1.25 | 1.27 | XXX
71030 | 26 | A | Chest x-ray | 0.31 | 0.11 | 0.12 | 0.11 | 0.12 | 0.01 | 0.43 | 0.44 | 0.43 | 0.44 | XXX
71030 | TC | A | Chest x-ray | 0.00 | 0.78 | 0.79 | NA | NA | 0.04 | 0.82 | 0.83 | NA | NA | XXX
71034 |  | A | Chest x-ray and fluoroscopy | 0.46 | 1.61 | 1.64 | 1.61 | 1.64 | 0.09 | 2.16 | 2.19 | 2.16 | 2.19 | XXX
71034 | 26 | A | Chest x-ray and fluoroscopy | 0.46 | 0.18 | 0.19 | 0.18 | 0.19 | 0.02 | 0.66 | 0.67 | 0.66 | 0.67 | XXX
71034 | TC | A | Chest x-ray and fluoroscopy | 0.00 | 1.43 | 1.45 | NA | NA | 0.07 | 1.50 | 1.52 | NA | NA | XXX
71035 |  | A | Chest x-ray | 0.18 | 0.58 | 0.60 | 0.58 | 0.60 | 0.03 | 0.79 | 0.81 | 0.79 | 0.81 | XXX
71035 | 26 | A | Chest x-ray | 0.18 | 0.06 | 0.07 | 0.06 | 0.07 | 0.01 | 0.25 | 0.26 | 0.25 | 0.26 | XXX
71035 | TC | A | Chest x-ray | 0.00 | 0.52 | 0.53 | NA | NA | 0.02 | 0.54 | 0.55 | NA | NA | XXX
71036 |  | D | X-ray guidance for biopsy | 0.00 | 0.00 | 0.00 | 0.00 | 0.00 | 0.00 | 0.00 | 0.00 | 0.00 | 0.00 | XXX
71036 | 26 | D | X-ray guidance for biopsy | 0.00 | 0.00 | 0.00 | 0.00 | 0.00 | 0.00 | 0.00 | 0.00 | 0.00 | 0.00 | XXX
71036 | TC | D | X-ray guidance for biopsy | 0.00 | 0.00 | 0.00 | NA | NA | 0.00 | 0.00 | 0.00 | NA | NA | XXX
71040 |  | A | Contrast x-ray of bronchi | 0.58 | 1.66 | 1.70 | 1.66 | 1.70 | 0.10 | 2.34 | 2.38 | 2.34 | 2.38 | XXX
71040 | 26 | A | Contrast x-ray of bronchi | 0.58 | 0.21 | 0.23 | 0.21 | 0.23 | 0.03 | 0.82 | 0.84 | 0.82 | 0.84 | XXX
71040 | TC | A | Contrast x-ray of bronchi | 0.00 | 1.45 | 1.47 | NA | NA | 0.07 | 1.52 | 1.54 | NA | NA | XXX
71060 |  | A | Contrast x-ray of bronchi | 0.74 | 2.45 | 2.50 | 2.45 | 2.50 | 0.14 | 3.33 | 3.38 | 3.33 | 3.38 | XXX
71060 | 26 | A | Contrast x-ray of bronchi | 0.74 | 0.26 | 0.29 | 0.26 | 0.29 | 0.03 | 1.03 | 1.06 | 1.03 | 1.06 | XXX
71060 | TC | A | Contrast x-ray of bronchi | 0.00 | 2.19 | 2.21 | NA | NA | 0.11 | 2.30 | 2.32 | NA | NA | XXX
71090 |  | A | X-ray & pacemaker insertion | 0.54 | 1.90 | 1.93 | 1.90 | 1.93 | 0.11 | 2.55 | 2.58 | 2.55 | 2.58 | XXX
71090 | 26 | A | X-ray & pacemaker insertion | 0.54 | 0.23 | 0.24 | 0.23 | 0.24 | 0.02 | 0.79 | 0.80 | 0.79 | 0.80 | XXX
71090 | TC | A | X-ray & pacemaker insertion | 0.00 | 1.67 | 1.69 | NA | NA | 0.09 | 1.76 | 1.78 | NA | NA | XXX
71100 |  | A | X-ray exam of ribs | 0.22 | 0.65 | 0.67 | 0.65 | 0.67 | 0.04 | 0.91 | 0.93 | 0.91 | 0.93 | XXX
71100 | 26 | A | X-ray exam of ribs | 0.22 | 0.08 | 0.09 | 0.08 | 0.09 | 0.01 | 0.31 | 0.32 | 0.31 | 0.32 | XXX
71100 | TC | A | X-ray exam of ribs | 0.00 | 0.57 | 0.58 | NA | NA | 0.03 | 0.60 | 0.61 | NA | NA | XXX
71101 |  | A | X-ray exam of ribs/chest | 0.27 | 0.76 | 0.78 | 0.76 | 0.78 | 0.04 | 1.07 | 1.09 | 1.07 | 1.09 | XXX
71101 | 26 | A | X-ray exam of ribs/chest | 0.27 | 0.10 | 0.11 | 0.10 | 0.11 | 0.01 | 0.38 | 0.39 | 0.38 | 0.39 | XXX
71101 | TC | A | X-ray exam of ribs/chest | 0.00 | 0.66 | 0.67 | NA | NA | 0.03 | 0.69 | 0.70 | NA | NA | XXX
71110 |  | A | X-ray exam of ribs | 0.27 | 0.88 | 0.90 | 0.88 | 0.90 | 0.05 | 1.20 | 1.22 | 1.20 | 1.22 | XXX
71110 | 26 | A | X-ray exam of ribs | 0.27 | 0.10 | 0.11 | 0.10 | 0.11 | 0.01 | 0.38 | 0.39 | 0.38 | 0.39 | XXX
71110 | TC | A | X-ray exam of ribs | 0.00 | 0.78 | 0.79 | NA | NA | 0.04 | 0.82 | 0.83 | NA | NA | XXX
71111 |  | A | X-ray exam of ribs/ chest | 0.32 | 0.99 | 1.01 | 0.99 | 1.01 | 0.06 | 1.37 | 1.39 | 1.37 | 1.39 | XXX
71111 | 26 | A | X-ray exam of ribs/ chest | 0.32 | 0.11 | 0.12 | 0.11 | 0.12 | 0.01 | 0.44 | 0.45 | 0.44 | 0.45 | XXX
71111 | TC | A | X-ray exam of ribs/ chest | 0.00 | 0.88 | 0.89 | NA | NA | 0.05 | 0.93 | 0.94 | NA | NA | XXX
71120 |  | A | X-ray exam of breastbone | 0.20 | 0.71 | 0.73 | 0.71 | 0.73 | 0.04 | 0.95 | 0.97 | 0.95 | 0.97 | XXX
71120 | 26 | A | X-ray exam of breastbone | 0.20 | 0.07 | 0.08 | 0.07 | 0.08 | 0.01 | 0.28 | 0.29 | 0.28 | 0.29 | XXX
71120 | TC | A | X-ray exam of breastbone | 0.00 | 0.64 | 0.65 | NA | NA | 0.03 | 0.67 | 0.68 | NA | NA | XXX
71130 |  | A | X-ray exam of breastbone | 0.22 | 0.78 | 0.80 | 0.78 | 0.80 | 0.04 | 1.04 | 1.06 | 1.04 | 1.06 | XXX
71130 | 26 | A | X-ray exam of breastbone | 0.22 | 0.08 | 0.09 | 0.08 | 0.09 | 0.01 | 0.31 | 0.32 | 0.31 | 0.32 | XXX
71130 | TC | A | X-ray exam of breastbone | 0.00 | 0.70 | 0.71 | NA | NA | 0.03 | 0.73 | 0.74 | NA | NA | XXX
71250 |  | A | Ct thorax w/o dye | 1.16 | 6.27 | 6.37 | 6.27 | 6.37 | 0.31 | 7.74 | 7.84 | 7.74 | 7.84 | XXX
71250 | 26 | A | Ct thorax w/o dye | 1.16 | 0.41 | 0.45 | 0.41 | 0.45 | 0.05 | 1.62 | 1.66 | 1.62 | 1.66 | XXX
71250 | TC | A | Ct thorax w/o dye | 0.00 | 5.86 | 5.92 | NA | NA | 0.26 | 6.12 | 6.18 | NA | NA | XXX
71260 |  | A | Ct thorax w/dye | 1.24 | 7.45 | 7.57 | 7.45 | 7.57 | 0.36 | 9.05 | 9.17 | 9.05 | 9.17 | XXX
71260 | 26 | A | Ct thorax w/dye | 1.24 | 0.44 | 0.48 | 0.44 | 0.48 | 0.05 | 1.73 | 1.77 | 1.73 | 1.77 | XXX
71260 | TC | A | Ct thorax w/dye | 0.00 | 7.01 | 7.09 | NA | NA | 0.31 | 7.32 | 7.40 | NA | NA | XXX
71270 |  | A | Ct thorax w/o&w dye | 1.38 | 9.27 | 9.40 | 9.27 | 9.40 | 0.44 | 11.09 | 11.22 | 11.09 | 11.22 | XXX
71270 | 26 | A | Ct thorax w/o&w dye | 1.38 | 0.49 | 0.53 | 0.49 | 0.53 | 0.06 | 1.93 | 1.97 | 1.93 | 1.97 | XXX
71270 | TC | A | Ct thorax w/o&w dye | 0.00 | 8.78 | 8.87 | NA | NA | 0.38 | 9.16 | 9.25 | NA | NA | XXX
71275 |  | A | Ct angiography, chest | 1.20 | 9.26 | 9.26 | 9.26 | 9.26 | 0.37 | 10.83 | 10.83 | 10.83 | 10.83 | XXX
71275 | 26 | A | Ct angiography, chest | 1.20 | 0.48 | 0.48 | 0.48 | 0.48 | 0.05 | 1.73 | 1.73 | 1.73 | 1.73 | XXX
71275 | TC | A | Ct angiography, chest | 0.00 | 8.78 | 8.78 | NA | NA | 0.32 | 9.10 | 9.10 | NA | NA | XXX
71550 |  | A | Mri chest w/o dye | 1.10 | 11.52 | 11.74 | 11.52 | 11.74 | 0.41 | 13.03 | 13.25 | 13.03 | 13.25 | XXX
71550 | 26 | A | Mri chest w/o dye | 1.10 | 0.39 | 0.49 | 0.39 | 0.49 | 0.04 | 1.53 | 1.63 | 1.53 | 1.63 | XXX
71550 | TC | A | Mri chest w/o dye | 0.00 | 11.13 | 11.25 | NA | NA | 0.37 | 11.50 | 11.62 | NA | NA | XXX
71551 |  | A | Mri chest w/dye | 1.30 | 13.80 | 13.80 | 13.80 | 13.80 | 0.48 | 15.58 | 15.58 | 15.58 | 15.58 | XXX
71551 | 26 | A | Mri chest w/dye | 1.30 | 0.46 | 0.46 | 0.46 | 0.46 | 0.05 | 1.81 | 1.81 | 1.81 | 1.81 | XXX
71551 | TC | A | Mri chest w/dye | 0.00 | 13.34 | 13.34 | NA | NA | 0.43 | 13.77 | 13.77 | NA | NA | XXX
71552 |  | A | Mri chest w/o&w dye | 1.70 | 25.31 | 25.31 | 25.31 | 25.31 | 0.63 | 27.64 | 27.64 | 27.64 | 27.64 | XXX
71552 | 26 | A | Mri chest w/o&w dye | 1.70 | 0.60 | 0.60 | 0.60 | 0.60 | 0.07 | 2.37 | 2.37 | 2.37 | 2.37 | XXX
71552 | TC | A | Mri chest w/o&w dye | 0.00 | 24.71 | 24.71 | NA | NA | 0.56 | 25.27 | 25.27 | NA | NA | XXX
71555 |  | R | Mri angio chest w or w/o dye | 1.81 | 11.78 | 11.93 | 11.78 | 11.93 | 0.57 | 14.16 | 14.31 | 14.16 | 14.31 | XXX
71555 | 26 | R | Mri angio chest w or w/o dye | 1.81 | 0.65 | 0.68 | 0.65 | 0.68 | 0.08 | 2.54 | 2.57 | 2.54 | 2.57 | XXX
71555 | TC | R | Mri angio chest w or w/o dye | 0.00 | 11.13 | 11.25 | NA | NA | 0.49 | 11.62 | 11.74 | NA | NA | XXX
72010 |  | A | X-ray exam of spine | 0.45 | 1.18 | 1.21 | 1.18 | 1.21 | 0.08 | 1.71 | 1.74 | 1.71 | 1.74 | XXX
72010 | 26 | A | X-ray exam of spine | 0.45 | 0.16 | 0.18 | 0.16 | 0.18 | 0.03 | 0.64 | 0.66 | 0.64 | 0.66 | XXX
72010 | TC | A | X-ray exam of spine | 0.00 | 1.02 | 1.03 | NA | NA | 0.05 | 1.07 | 1.08 | NA | NA | XXX
72020 |  | A | X-ray exam of spine | 0.15 | 0.46 | 0.48 | 0.46 | 0.48 | 0.03 | 0.64 | 0.66 | 0.64 | 0.66 | XXX
72020 | 26 | A | X-ray exam of spine | 0.15 | 0.05 | 0.06 | 0.05 | 0.06 | 0.01 | 0.21 | 0.22 | 0.21 | 0.22 | XXX
72020 | TC | A | X-ray exam of spine | 0.00 | 0.41 | 0.42 | NA | NA | 0.02 | 0.43 | 0.44 | NA | NA | XXX
72040 |  | A | X-ray exam of neck spine | 0.22 | 0.68 | 0.70 | 0.68 | 0.70 | 0.04 | 0.94 | 0.96 | 0.94 | 0.96 | XXX
72040 | 26 | A | X-ray exam of neck spine | 0.22 | 0.08 | 0.09 | 0.08 | 0.09 | 0.01 | 0.31 | 0.32 | 0.31 | 0.32 | XXX
72040 | TC | A | X-ray exam of neck spine | 0.00 | 0.60 | 0.61 | NA | NA | 0.03 | 0.63 | 0.64 | NA | NA | XXX
72050 |  | A | X-ray exam of neck spine | 0.31 | 0.99 | 1.01 | 0.99 | 1.01 | 0.07 | 1.37 | 1.39 | 1.37 | 1.39 | XXX
72050 | 26 | A | X-ray exam of neck spine | 0.31 | 0.11 | 0.12 | 0.11 | 0.12 | 0.02 | 0.44 | 0.45 | 0.44 | 0.45 | XXX
72050 | TC | A | X-ray exam of neck spine | 0.00 | 0.88 | 0.89 | NA | NA | 0.05 | 0.93 | 0.94 | NA | NA | XXX
72052 |  | A | X-ray exam of neck spine | 0.36 | 1.25 | 1.27 | 1.25 | 1.27 | 0.07 | 1.68 | 1.70 | 1.68 | 1.70 | XXX
72052 | 26 | A | X-ray exam of neck spine | 0.36 | 0.13 | 0.14 | 0.13 | 0.14 | 0.02 | 0.51 | 0.52 | 0.51 | 0.52 | XXX
72052 | TC | A | X-ray exam of neck spine | 0.00 | 1.12 | 1.13 | NA | NA | 0.05 | 1.17 | 1.18 | NA | NA | XXX
72069 |  | A | X-ray exam of trunk spine | 0.22 | 0.57 | 0.59 | 0.57 | 0.59 | 0.04 | 0.83 | 0.85 | 0.83 | 0.85 | XXX
72069 | 26 | A | X-ray exam of trunk spine | 0.22 | 0.08 | 0.09 | 0.08 | 0.09 | 0.02 | 0.32 | 0.33 | 0.32 | 0.33 | XXX
72069 | TC | A | X-ray exam of trunk spine | 0.00 | 0.49 | 0.50 | NA | NA | 0.02 | 0.51 | 0.52 | NA | NA | XXX
72070 |  | A | X-ray exam of thoracic spine | 0.22 | 0.72 | 0.74 | 0.72 | 0.74 | 0.04 | 0.98 | 1.00 | 0.98 | 1.00 | XXX
72070 | 26 | A | X-ray exam of thoracic spine | 0.22 | 0.08 | 0.09 | 0.08 | 0.09 | 0.01 | 0.31 | 0.32 | 0.31 | 0.32 | XXX
72070 | TC | A | X-ray exam of thoracic spine | 0.00 | 0.64 | 0.65 | NA | NA | 0.03 | 0.67 | 0.68 | NA | NA | XXX
72072 |  | A | X-ray exam of thoracic spine | 0.22 | 0.81 | 0.83 | 0.81 | 0.83 | 0.05 | 1.08 | 1.10 | 1.08 | 1.10 | XXX
72072 | 26 | A | X-ray exam of thoracic spine | 0.22 | 0.08 | 0.09 | 0.08 | 0.09 | 0.01 | 0.31 | 0.32 | 0.31 | 0.32 | XXX
72072 | TC | A | X-ray exam of thoracic spine | 0.00 | 0.73 | 0.74 | NA | NA | 0.04 | 0.77 | 0.78 | NA | NA | XXX
72074 |  | A | X-ray exam of thoracic spine | 0.22 | 0.98 | 1.00 | 0.98 | 1.00 | 0.06 | 1.26 | 1.28 | 1.26 | 1.28 | XXX
72074 | 26 | A | X-ray exam of thoracic spine | 0.22 | 0.08 | 0.09 | 0.08 | 0.09 | 0.01 | 0.31 | 0.32 | 0.31 | 0.32 | XXX
72074 | TC | A | X-ray exam of thoracic spine | 0.00 | 0.90 | 0.91 | NA | NA | 0.05 | 0.95 | 0.96 | NA | NA | XXX
72080 |  | A | X-ray exam of trunk spine | 0.22 | 0.74 | 0.76 | 0.74 | 0.76 | 0.05 | 1.01 | 1.03 | 1.01 | 1.03 | XXX
72080 | 26 | A | X-ray exam of trunk spine | 0.22 | 0.08 | 0.09 | 0.08 | 0.09 | 0.02 | 0.32 | 0.33 | 0.32 | 0.33 | XXX
72080 | TC | A | X-ray exam of trunk spine | 0.00 | 0.66 | 0.67 | NA | NA | 0.03 | 0.69 | 0.70 | NA | NA | XXX
72090 |  | A | X-ray exam of trunk spine | 0.28 | 0.76 | 0.78 | 0.76 | 0.78 | 0.05 | 1.09 | 1.11 | 1.09 | 1.11 | XXX
72090 | 26 | A | X-ray exam of trunk spine | 0.28 | 0.10 | 0.11 | 0.10 | 0.11 | 0.02 | 0.40 | 0.41 | 0.40 | 0.41 | XXX
72090 | TC | A | X-ray exam of trunk spine | 0.00 | 0.66 | 0.67 | NA | NA | 0.03 | 0.69 | 0.70 | NA | NA | XXX
72100 |  | A | X-ray exam of lower spine | 0.22 | 0.74 | 0.76 | 0.74 | 0.76 | 0.05 | 1.01 | 1.03 | 1.01 | 1.03 | XXX
72100 | 26 | A | X-ray exam of lower spine | 0.22 | 0.08 | 0.09 | 0.08 | 0.09 | 0.02 | 0.32 | 0.33 | 0.32 | 0.33 | XXX
72100 | TC | A | X-ray exam of lower spine | 0.00 | 0.66 | 0.67 | NA | NA | 0.03 | 0.69 | 0.70 | NA | NA | XXX
72110 |  | A | X-ray exam of lower spine | 0.31 | 1.01 | 1.03 | 1.01 | 1.03 | 0.07 | 1.39 | 1.41 | 1.39 | 1.41 | XXX
72110 | 26 | A | X-ray exam of lower spine | 0.31 | 0.11 | 0.12 | 0.11 | 0.12 | 0.02 | 0.44 | 0.45 | 0.44 | 0.45 | XXX
72110 | TC | A | X-ray exam of lower spine | 0.00 | 0.90 | 0.91 | NA | NA | 0.05 | 0.95 | 0.96 | NA | NA | XXX
72114 |  | A | X-ray exam of lower spine | 0.36 | 1.31 | 1.33 | 1.31 | 1.33 | 0.08 | 1.75 | 1.77 | 1.75 | 1.77 | XXX
72114 | 26 | A | X-ray exam of lower spine | 0.36 | 0.13 | 0.14 | 0.13 | 0.14 | 0.03 | 0.52 | 0.53 | 0.52 | 0.53 | XXX
72114 | TC | A | X-ray exam of lower spine | 0.00 | 1.18 | 1.19 | NA | NA | 0.05 | 1.23 | 1.24 | NA | NA | XXX
72120 |  | A | X-ray exam of lower spine | 0.22 | 0.96 | 0.98 | 0.96 | 0.98 | 0.07 | 1.25 | 1.27 | 1.25 | 1.27 | XXX
72120 | 26 | A | X-ray exam of lower spine | 0.22 | 0.08 | 0.09 | 0.08 | 0.09 | 0.02 | 0.32 | 0.33 | 0.32 | 0.33 | XXX
72120 | TC | A | X-ray exam of lower spine | 0.00 | 0.88 | 0.89 | NA | NA | 0.05 | 0.93 | 0.94 | NA | NA | XXX
72125 |  | A | Ct neck spine w/o dye | 1.16 | 6.27 | 6.37 | 6.27 | 6.37 | 0.31 | 7.74 | 7.84 | 7.74 | 7.84 | XXX
72125 | 26 | A | Ct neck spine w/o dye | 1.16 | 0.41 | 0.45 | 0.41 | 0.45 | 0.05 | 1.62 | 1.66 | 1.62 | 1.66 | XXX
72125 | TC | A | Ct neck spine w/o dye | 0.00 | 5.86 | 5.92 | NA | NA | 0.26 | 6.12 | 6.18 | NA | NA | XXX
72126 |  | A | Ct neck spine w/dye | 1.22 | 7.44 | 7.56 | 7.44 | 7.56 | 0.36 | 9.02 | 9.14 | 9.02 | 9.14 | XXX
72126 | 26 | A | Ct neck spine w/dye | 1.22 | 0.43 | 0.47 | 0.43 | 0.47 | 0.05 | 1.70 | 1.74 | 1.70 | 1.74 | XXX
72126 | TC | A | Ct neck spine w/dye | 0.00 | 7.01 | 7.09 | NA | NA | 0.31 | 7.32 | 7.40 | NA | NA | XXX
72127 |  | A | Ct neck spine w/o&w dye | 1.27 | 9.23 | 9.36 | 9.23 | 9.36 | 0.44 | 10.94 | 11.07 | 10.94 | 11.07 | XXX
72127 | 26 | A | Ct neck spine w/o&w dye | 1.27 | 0.45 | 0.49 | 0.45 | 0.49 | 0.06 | 1.78 | 1.82 | 1.78 | 1.82 | XXX
72127 | TC | A | Ct neck spine w/o&w dye | 0.00 | 8.78 | 8.87 | NA | NA | 0.38 | 9.16 | 9.25 | NA | NA | XXX
72128 |  | A | Ct chest spine w/o dye | 1.16 | 6.27 | 6.37 | 6.27 | 6.37 | 0.31 | 7.74 | 7.84 | 7.74 | 7.84 | XXX
72128 | 26 | A | Ct chest spine w/o dye | 1.16 | 0.41 | 0.45 | 0.41 | 0.45 | 0.05 | 1.62 | 1.66 | 1.62 | 1.66 | XXX
72128 | TC | A | Ct chest spine w/o dye | 0.00 | 5.86 | 5.92 | NA | NA | 0.26 | 6.12 | 6.18 | NA | NA | XXX
72129 |  | A | Ct chest spine w/dye | 1.22 | 7.44 | 7.56 | 7.44 | 7.56 | 0.36 | 9.02 | 9.14 | 9.02 | 9.14 | XXX
72129 | 26 | A | Ct chest spine w/dye | 1.22 | 0.43 | 0.47 | 0.43 | 0.47 | 0.05 | 1.70 | 1.74 | 1.70 | 1.74 | XXX
72129 | TC | A | Ct chest spine w/dye | 0.00 | 7.01 | 7.09 | NA | NA | 0.31 | 7.32 | 7.40 | NA | NA | XXX
72130 |  | A | Ct chest spine w/o&w dye | 1.27 | 9.23 | 9.36 | 9.23 | 9.36 | 0.44 | 10.94 | 11.07 | 10.94 | 11.07 | XXX
72130 | 26 | A | Ct chest spine w/o&w dye | 1.27 | 0.45 | 0.49 | 0.45 | 0.49 | 0.06 | 1.78 | 1.82 | 1.78 | 1.82 | XXX
72130 | TC | A | Ct chest spine w/o&w dye | 0.00 | 8.78 | 8.87 | NA | NA | 0.38 | 9.16 | 9.25 | NA | NA | XXX
72131 |  | A | Ct lumbar spine w/o dye | 1.16 | 6.27 | 6.37 | 6.27 | 6.37 | 0.31 | 7.74 | 7.84 | 7.74 | 7.84 | XXX
72131 | 26 | A | Ct lumbar spine w/o dye | 1.16 | 0.41 | 0.45 | 0.41 | 0.45 | 0.05 | 1.62 | 1.66 | 1.62 | 1.66 | XXX
72131 | TC | A | Ct lumbar spine w/o dye | 0.00 | 5.86 | 5.92 | NA | NA | 0.26 | 6.12 | 6.18 | NA | NA | XXX
72132 |  | A | Ct lumbar spine w/dye | 1.22 | 7.44 | 7.56 | 7.44 | 7.56 | 0.37 | 9.03 | 9.15 | 9.03 | 9.15 | XXX
72132 | 26 | A | Ct lumbar spine w/dye | 1.22 | 0.43 | 0.47 | 0.43 | 0.47 | 0.06 | 1.71 | 1.75 | 1.71 | 1.75 | XXX
72132 | TC | A | Ct lumbar spine w/dye | 0.00 | 7.01 | 7.09 | NA | NA | 0.31 | 7.32 | 7.40 | NA | NA | XXX
72133 |  | A | Ct lumbar spine w/o&w dye | 1.27 | 9.24 | 9.37 | 9.24 | 9.37 | 0.44 | 10.95 | 11.08 | 10.95 | 11.08 | XXX
72133 | 26 | A | Ct lumbar spine w/o&w dye | 1.27 | 0.46 | 0.50 | 0.46 | 0.50 | 0.06 | 1.79 | 1.83 | 1.79 | 1.83 | XXX
72133 | TC | A | Ct lumbar spine w/o&w dye | 0.00 | 8.78 | 8.87 | NA | NA | 0.38 | 9.16 | 9.25 | NA | NA | XXX
72141 |  | A | Mri neck spine w/o dye | 1.60 | 11.70 | 11.87 | 11.70 | 11.87 | 0.56 | 13.86 | 14.03 | 13.86 | 14.03 | XXX
72141 | 26 | A | Mri neck spine w/o dye | 1.60 | 0.57 | 0.62 | 0.57 | 0.62 | 0.07 | 2.24 | 2.29 | 2.24 | 2.29 | XXX
72141 | TC | A | Mri neck spine w/o dye | 0.00 | 11.13 | 11.25 | NA | NA | 0.49 | 11.62 | 11.74 | NA | NA | XXX
72142 |  | A | Mri neck spine w/dye | 1.92 | 14.04 | 14.24 | 14.04 | 14.24 | 0.67 | 16.63 | 16.83 | 16.63 | 16.83 | XXX
72142 | 26 | A | Mri neck spine w/dye | 1.92 | 0.70 | 0.76 | 0.70 | 0.76 | 0.09 | 2.71 | 2.77 | 2.71 | 2.77 | XXX
72142 | TC | A | Mri neck spine w/dye | 0.00 | 13.34 | 13.48 | NA | NA | 0.58 | 13.92 | 14.06 | NA | NA | XXX
72146 |  | A | Mri chest spine w/o dye | 1.60 | 12.93 | 13.11 | 12.93 | 13.11 | 0.60 | 15.13 | 15.31 | 15.13 | 15.31 | XXX
72146 | 26 | A | Mri chest spine w/o dye | 1.60 | 0.57 | 0.62 | 0.57 | 0.62 | 0.07 | 2.24 | 2.29 | 2.24 | 2.29 | XXX
72146 | TC | A | Mri chest spine w/o dye | 0.00 | 12.36 | 12.49 | NA | NA | 0.53 | 12.89 | 13.02 | NA | NA | XXX
72147 |  | A | Mri chest spine w/dye | 1.92 | 14.03 | 14.23 | 14.03 | 14.23 | 0.67 | 16.62 | 16.82 | 16.62 | 16.82 | XXX
72147 | 26 | A | Mri chest spine w/dye | 1.92 | 0.69 | 0.75 | 0.69 | 0.75 | 0.09 | 2.70 | 2.76 | 2.70 | 2.76 | XXX
72147 | TC | A | Mri chest spine w/dye | 0.00 | 13.34 | 13.48 | NA | NA | 0.58 | 13.92 | 14.06 | NA | NA | XXX
72148 |  | A | Mri lumbar spine w/o dye | 1.48 | 12.89 | 13.07 | 12.89 | 13.07 | 0.60 | 14.97 | 15.15 | 14.97 | 15.15 | XXX
72148 | 26 | A | Mri lumbar spine w/o dye | 1.48 | 0.53 | 0.58 | 0.53 | 0.58 | 0.07 | 2.08 | 2.13 | 2.08 | 2.13 | XXX
72148 | TC | A | Mri lumbar spine w/o dye | 0.00 | 12.36 | 12.49 | NA | NA | 0.53 | 12.89 | 13.02 | NA | NA | XXX
72149 |  | A | Mri lumbar spine w/dye | 1.78 | 13.99 | 14.19 | 13.99 | 14.19 | 0.67 | 16.44 | 16.64 | 16.44 | 16.64 | XXX
72149 | 26 | A | Mri lumbar spine w/dye | 1.78 | 0.65 | 0.71 | 0.65 | 0.71 | 0.09 | 2.52 | 2.58 | 2.52 | 2.58 | XXX
72149 | TC | A | Mri lumbar spine w/dye | 0.00 | 13.34 | 13.48 | NA | NA | 0.58 | 13.92 | 14.06 | NA | NA | XXX
72156 |  | A | Mri neck spine w/o&w dye | 2.57 | 25.63 | 25.97 | 25.63 | 25.97 | 1.20 | 29.40 | 29.74 | 29.40 | 29.74 | XXX
72156 | 26 | A | Mri neck spine w/o&w dye | 2.57 | 0.92 | 1.00 | 0.92 | 1.00 | 0.11 | 3.60 | 3.68 | 3.60 | 3.68 | XXX
72156 | TC | A | Mri neck spine w/o&w dye | 0.00 | 24.71 | 24.97 | NA | NA | 1.09 | 25.80 | 26.06 | NA | NA | XXX
72157 |  | A | Mri chest spine w/o&w dye | 2.57 | 25.63 | 25.97 | 25.63 | 25.97 | 1.20 | 29.40 | 29.74 | 29.40 | 29.74 | XXX
72157 | 26 | A | Mri chest spine w/o&w dye | 2.57 | 0.92 | 1.00 | 0.92 | 1.00 | 0.11 | 3.60 | 3.68 | 3.60 | 3.68 | XXX
72157 | TC | A | Mri chest spine w/o&w dye | 0.00 | 24.71 | 24.97 | NA | NA | 1.09 | 25.80 | 26.06 | NA | NA | XXX
72158 |  | A | Mri lumbar spine w/o&w dye | 2.36 | 25.55 | 25.89 | 25.55 | 25.89 | 1.20 | 29.11 | 29.45 | 29.11 | 29.45 | XXX
72158 | 26 | A | Mri lumbar spine w/o&w dye | 2.36 | 0.84 | 0.92 | 0.84 | 0.92 | 0.11 | 3.31 | 3.39 | 3.31 | 3.39 | XXX
72158 | TC | A | Mri lumbar spine w/o&w dye | 0.00 | 24.71 | 24.97 | NA | NA | 1.09 | 25.80 | 26.06 | NA | NA | XXX
72159 |  | N | Mr angio spine w/o&w dye | +1.80 | 13.08 | 13.21 | 13.08 | 13.21 | 0.61 | 15.49 | 15.62 | 15.49 | 15.62 | XXX
72159 | 26 | N | Mr angio spine w/o&w dye | +1.80 | 0.72 | 0.72 | 0.72 | 0.72 | 0.08 | 2.60 | 2.60 | 2.60 | 2.60 | XXX
72159 | TC | N | Mr angio spine w/o&w dye | +0.00 | 12.36 | 12.49 | NA | NA | 0.53 | 12.89 | 13.02 | NA | NA | XXX
72170 |  | A | X-ray exam of pelvis | 0.17 | 0.58 | 0.60 | 0.58 | 0.60 | 0.03 | 0.78 | 0.80 | 0.78 | 0.80 | XXX
72170 | 26 | A | X-ray exam of pelvis | 0.17 | 0.06 | 0.07 | 0.06 | 0.07 | 0.01 | 0.24 | 0.25 | 0.24 | 0.25 | XXX
72170 | TC | A | X-ray exam of pelvis | 0.00 | 0.52 | 0.53 | NA | NA | 0.02 | 0.54 | 0.55 | NA | NA | XXX
72190 |  | A | X-ray exam of pelvis | 0.21 | 0.74 | 0.76 | 0.74 | 0.76 | 0.04 | 0.99 | 1.01 | 0.99 | 1.01 | XXX
72190 | 26 | A | X-ray exam of pelvis | 0.21 | 0.08 | 0.09 | 0.08 | 0.09 | 0.01 | 0.30 | 0.31 | 0.30 | 0.31 | XXX
72190 | TC | A | X-ray exam of pelvis | 0.00 | 0.66 | 0.67 | NA | NA | 0.03 | 0.69 | 0.70 | NA | NA | XXX
72191 |  | A | Ct angiograph pelv w/o&w dye | 1.20 | 8.91 | 8.91 | 8.91 | 8.91 | 0.37 | 10.48 | 10.48 | 10.48 | 10.48 | XXX
72191 | 26 | A | Ct angiograph pelv w/o&w dye | 1.20 | 0.48 | 0.48 | 0.48 | 0.48 | 0.05 | 1.73 | 1.73 | 1.73 | 1.73 | XXX
72191 | TC | A | Ct angiograph pelv w/o&w dye | 0.00 | 8.43 | 8.43 | NA | NA | 0.32 | 8.75 | 8.75 | NA | NA | XXX
72192 |  | A | Ct pelvis w/o dye | 1.09 | 6.25 | 6.34 | 6.25 | 6.34 | 0.31 | 7.65 | 7.74 | 7.65 | 7.74 | XXX
72192 | 26 | A | Ct pelvis w/o dye | 1.09 | 0.39 | 0.42 | 0.39 | 0.42 | 0.05 | 1.53 | 1.56 | 1.53 | 1.56 | XXX
72192 | TC | A | Ct pelvis w/o dye | 0.00 | 5.86 | 5.92 | NA | NA | 0.26 | 6.12 | 6.18 | NA | NA | XXX
72193 |  | A | Ct pelvis w/dye | 1.16 | 7.20 | 7.31 | 7.20 | 7.31 | 0.35 | 8.71 | 8.82 | 8.71 | 8.82 | XXX
72193 | 26 | A | Ct pelvis w/dye | 1.16 | 0.41 | 0.45 | 0.41 | 0.45 | 0.05 | 1.62 | 1.66 | 1.62 | 1.66 | XXX
72193 | TC | A | Ct pelvis w/dye | 0.00 | 6.79 | 6.86 | NA | NA | 0.30 | 7.09 | 7.16 | NA | NA | XXX
72194 |  | A | Ct pelvis w/o&w dye | 1.22 | 8.86 | 8.99 | 8.86 | 8.99 | 0.41 | 10.49 | 10.62 | 10.49 | 10.62 | XXX
72194 | 26 | A | Ct pelvis w/o&w dye | 1.22 | 0.43 | 0.47 | 0.43 | 0.47 | 0.05 | 1.70 | 1.74 | 1.70 | 1.74 | XXX
72194 | TC | A | Ct pelvis w/o&w dye | 0.00 | 8.43 | 8.52 | NA | NA | 0.36 | 8.79 | 8.88 | NA | NA | XXX
72195 |  | A | Mri pelvis w/o dye | 1.10 | 11.52 | 11.52 | 11.52 | 11.52 | 0.41 | 13.03 | 13.03 | 13.03 | 13.03 | XXX
72195 | 26 | A | Mri pelvis w/o dye | 1.10 | 0.39 | 0.39 | 0.39 | 0.39 | 0.04 | 1.53 | 1.53 | 1.53 | 1.53 | XXX
72195 | TC | A | Mri pelvis w/o dye | 0.00 | 11.13 | 11.13 | NA | NA | 0.37 | 11.50 | 11.50 | NA | NA | XXX
72196 |  | A | Mri pelvis w/dye | 1.30 | 13.80 | 13.44 | 13.80 | 13.44 | 0.48 | 15.58 | 15.22 | 15.58 | 15.22 | XXX
72196 | 26 | A | Mri pelvis w/dye | 1.30 | 0.46 | 0.54 | 0.46 | 0.54 | 0.05 | 1.81 | 1.89 | 1.81 | 1.89 | XXX
72196 | TC | A | Mri pelvis w/dye | 0.00 | 13.34 | 12.90 | NA | NA | 0.43 | 13.77 | 13.33 | NA | NA | XXX
72197 |  | A | Mri pelvis w/o & w dye | 1.70 | 25.31 | 25.31 | 25.31 | 25.31 | 0.85 | 27.86 | 27.86 | 27.86 | 27.86 | XXX
72197 | 26 | A | Mri pelvis w/o & w dye | 1.70 | 0.60 | 0.60 | 0.60 | 0.60 | 0.09 | 2.39 | 2.39 | 2.39 | 2.39 | XXX
72197 | TC | A | Mri pelvis w/o & w dye | 0.00 | 24.71 | 24.71 | NA | NA | 0.76 | 25.47 | 25.47 | NA | NA | XXX
72198 |  | N | Mr angio pelvis w/o&w dye | +1.80 | 11.85 | 11.99 | 11.85 | 11.99 | 0.57 | 14.22 | 14.36 | 14.22 | 14.36 | XXX
72198 | 26 | N | Mr angio pelvis w/o&w dye | +1.80 | 0.72 | 0.74 | 0.72 | 0.74 | 0.08 | 2.60 | 2.62 | 2.60 | 2.62 | XXX
72198 | TC | N | Mr angio pelvis w/o&w dye | +0.00 | 11.13 | 11.25 | NA | NA | 0.49 | 11.62 | 11.74 | NA | NA | XXX
72200 |  | A | X-ray exam sacroiliac joints | 0.17 | 0.58 | 0.60 | 0.58 | 0.60 | 0.03 | 0.78 | 0.80 | 0.78 | 0.80 | XXX
72200 | 26 | A | X-ray exam sacroiliac joints | 0.17 | 0.06 | 0.07 | 0.06 | 0.07 | 0.01 | 0.24 | 0.25 | 0.24 | 0.25 | XXX
72200 | TC | A | X-ray exam sacroiliac joints | 0.00 | 0.52 | 0.53 | NA | NA | 0.02 | 0.54 | 0.55 | NA | NA | XXX
72202 |  | A | X-ray exam sacroiliac joints | 0.19 | 0.68 | 0.70 | 0.68 | 0.70 | 0.04 | 0.91 | 0.93 | 0.91 | 0.93 | XXX
72202 | 26 | A | X-ray exam sacroiliac joints | 0.19 | 0.07 | 0.08 | 0.07 | 0.08 | 0.01 | 0.27 | 0.28 | 0.27 | 0.28 | XXX
72202 | TC | A | X-ray exam sacroiliac joints | 0.00 | 0.61 | 0.62 | NA | NA | 0.03 | 0.64 | 0.65 | NA | NA | XXX
72220 |  | A | X-ray exam of tailbone | 0.17 | 0.63 | 0.65 | 0.63 | 0.65 | 0.04 | 0.84 | 0.86 | 0.84 | 0.86 | XXX
72220 | 26 | A | X-ray exam of tailbone | 0.17 | 0.06 | 0.07 | 0.06 | 0.07 | 0.01 | 0.24 | 0.25 | 0.24 | 0.25 | XXX
72220 | TC | A | X-ray exam of tailbone | 0.00 | 0.57 | 0.58 | NA | NA | 0.03 | 0.60 | 0.61 | NA | NA | XXX
72240 |  | A | Contrast x-ray of neck spine | 0.91 | 5.03 | 5.11 | 5.03 | 5.11 | 0.25 | 6.19 | 6.27 | 6.19 | 6.27 | XXX
72240 | 26 | A | Contrast x-ray of neck spine | 0.91 | 0.31 | 0.34 | 0.31 | 0.34 | 0.04 | 1.26 | 1.29 | 1.26 | 1.29 | XXX
72240 | TC | A | Contrast x-ray of neck spine | 0.00 | 4.72 | 4.77 | NA | NA | 0.21 | 4.93 | 4.98 | NA | NA | XXX
72255 |  | A | Contrast x-ray, thorax spine | 0.91 | 4.59 | 4.68 | 4.59 | 4.68 | 0.22 | 5.72 | 5.81 | 5.72 | 5.81 | XXX
72255 | 26 | A | Contrast x-ray, thorax spine | 0.91 | 0.29 | 0.33 | 0.29 | 0.33 | 0.04 | 1.24 | 1.28 | 1.24 | 1.28 | XXX
72255 | TC | A | Contrast x-ray, thorax spine | 0.00 | 4.30 | 4.35 | NA | NA | 0.18 | 4.48 | 4.53 | NA | NA | XXX
72265 |  | A | Contrast x-ray, lower spine | 0.83 | 4.31 | 4.39 | 4.31 | 4.39 | 0.22 | 5.36 | 5.44 | 5.36 | 5.44 | XXX
72265 | 26 | A | Contrast x-ray, lower spine | 0.83 | 0.27 | 0.31 | 0.27 | 0.31 | 0.04 | 1.14 | 1.18 | 1.14 | 1.18 | XXX
72265 | TC | A | Contrast x-ray, lower spine | 0.00 | 4.04 | 4.08 | NA | NA | 0.18 | 4.22 | 4.26 | NA | NA | XXX
72270 |  | A | Contrast x-ray of spine | 1.33 | 6.49 | 6.61 | 6.49 | 6.61 | 0.34 | 8.16 | 8.28 | 8.16 | 8.28 | XXX
72270 | 26 | A | Contrast x-ray of spine | 1.33 | 0.44 | 0.49 | 0.44 | 0.49 | 0.07 | 1.84 | 1.89 | 1.84 | 1.89 | XXX
72270 | TC | A | Contrast x-ray of spine | 0.00 | 6.05 | 6.12 | NA | NA | 0.27 | 6.32 | 6.39 | NA | NA | XXX
72275 |  | A | Epidurography | 0.76 | 2.33 | 2.33 | 2.33 | 2.33 | 0.21 | 3.30 | 3.30 | 3.30 | 3.30 | XXX
72275 | 26 | A | Epidurography | 0.76 | 0.25 | 0.25 | 0.25 | 0.25 | 0.03 | 1.04 | 1.04 | 1.04 | 1.04 | XXX
72275 | TC | A | Epidurography | 0.00 | 2.08 | 2.08 | NA | NA | 0.18 | 2.26 | 2.26 | NA | NA | XXX
72285 |  | A | X-ray c/t spine disk | 1.16 | 8.71 | 8.81 | 8.71 | 8.81 | 0.42 | 10.29 | 10.39 | 10.29 | 10.39 | XXX
72285 | 26 | A | X-ray c/t spine disk | 1.16 | 0.39 | 0.40 | 0.39 | 0.40 | 0.06 | 1.61 | 1.62 | 1.61 | 1.62 | XXX
72285 | TC | A | X-ray c/t spine disk | 0.00 | 8.32 | 8.41 | NA | NA | 0.36 | 8.68 | 8.77 | NA | NA | XXX
72295 |  | A | X-ray of lower spine disk | 0.83 | 8.09 | 8.20 | 8.09 | 8.20 | 0.37 | 9.29 | 9.40 | 9.29 | 9.40 | XXX
72295 | 26 | A | X-ray of lower spine disk | 0.83 | 0.29 | 0.32 | 0.29 | 0.32 | 0.04 | 1.16 | 1.19 | 1.16 | 1.19 | XXX
72295 | TC | A | X-ray of lower spine disk | 0.00 | 7.80 | 7.88 | NA | NA | 0.33 | 8.13 | 8.21 | NA | NA | XXX
73000 |  | A | X-ray exam of collar bone | 0.16 | 0.58 | 0.60 | 0.58 | 0.60 | 0.03 | 0.77 | 0.79 | 0.77 | 0.79 | XXX
73000 | 26 | A | X-ray exam of collar bone | 0.16 | 0.06 | 0.07 | 0.06 | 0.07 | 0.01 | 0.23 | 0.24 | 0.23 | 0.24 | XXX
73000 | TC | A | X-ray exam of collar bone | 0.00 | 0.52 | 0.53 | NA | NA | 0.02 | 0.54 | 0.55 | NA | NA | XXX
73010 |  | A | X-ray exam of shoulder blade | 0.17 | 0.58 | 0.60 | 0.58 | 0.60 | 0.03 | 0.78 | 0.80 | 0.78 | 0.80 | XXX
73010 | 26 | A | X-ray exam of shoulder blade | 0.17 | 0.06 | 0.07 | 0.06 | 0.07 | 0.01 | 0.24 | 0.25 | 0.24 | 0.25 | XXX
73010 | TC | A | X-ray exam of shoulder blade | 0.00 | 0.52 | 0.53 | NA | NA | 0.02 | 0.54 | 0.55 | NA | NA | XXX
73020 |  | A | X-ray exam of shoulder | 0.15 | 0.52 | 0.54 | 0.52 | 0.54 | 0.03 | 0.70 | 0.72 | 0.70 | 0.72 | XXX
73020 | 26 | A | X-ray exam of shoulder | 0.15 | 0.05 | 0.06 | 0.05 | 0.06 | 0.01 | 0.21 | 0.22 | 0.21 | 0.22 | XXX
73020 | TC | A | X-ray exam of shoulder | 0.00 | 0.47 | 0.48 | NA | NA | 0.02 | 0.49 | 0.50 | NA | NA | XXX
73030 |  | A | X-ray exam of shoulder | 0.18 | 0.63 | 0.65 | 0.63 | 0.65 | 0.04 | 0.85 | 0.87 | 0.85 | 0.87 | XXX
73030 | 26 | A | X-ray exam of shoulder | 0.18 | 0.06 | 0.07 | 0.06 | 0.07 | 0.01 | 0.25 | 0.26 | 0.25 | 0.26 | XXX
73030 | TC | A | X-ray exam of shoulder | 0.00 | 0.57 | 0.58 | NA | NA | 0.03 | 0.60 | 0.61 | NA | NA | XXX
73040 |  | A | Contrast x-ray of shoulder | 0.54 | 2.27 | 2.31 | 2.27 | 2.31 | 0.13 | 2.94 | 2.98 | 2.94 | 2.98 | XXX
73040 | 26 | A | Contrast x-ray of shoulder | 0.54 | 0.19 | 0.21 | 0.19 | 0.21 | 0.03 | 0.76 | 0.78 | 0.76 | 0.78 | XXX
73040 | TC | A | Contrast x-ray of shoulder | 0.00 | 2.08 | 2.10 | NA | NA | 0.10 | 2.18 | 2.20 | NA | NA | XXX
73050 |  | A | X-ray exam of shoulders | 0.20 | 0.73 | 0.75 | 0.73 | 0.75 | 0.05 | 0.98 | 1.00 | 0.98 | 1.00 | XXX
73050 | 26 | A | X-ray exam of shoulders | 0.20 | 0.07 | 0.08 | 0.07 | 0.08 | 0.02 | 0.29 | 0.30 | 0.29 | 0.30 | XXX
73050 | TC | A | X-ray exam of shoulders | 0.00 | 0.66 | 0.67 | NA | NA | 0.03 | 0.69 | 0.70 | NA | NA | XXX
73060 |  | A | X-ray exam of humerus | 0.17 | 0.63 | 0.65 | 0.63 | 0.65 | 0.04 | 0.84 | 0.86 | 0.84 | 0.86 | XXX
73060 | 26 | A | X-ray exam of humerus | 0.17 | 0.06 | 0.07 | 0.06 | 0.07 | 0.01 | 0.24 | 0.25 | 0.24 | 0.25 | XXX
73060 | TC | A | X-ray exam of humerus | 0.00 | 0.57 | 0.58 | NA | NA | 0.03 | 0.60 | 0.61 | NA | NA | XXX
73070 |  | A | X-ray exam of elbow | 0.15 | 0.57 | 0.59 | 0.57 | 0.59 | 0.03 | 0.75 | 0.77 | 0.75 | 0.77 | XXX
73070 | 26 | A | X-ray exam of elbow | 0.15 | 0.05 | 0.06 | 0.05 | 0.06 | 0.01 | 0.21 | 0.22 | 0.21 | 0.22 | XXX
73070 | TC | A | X-ray exam of elbow | 0.00 | 0.52 | 0.53 | NA | NA | 0.02 | 0.54 | 0.55 | NA | NA | XXX
73080 |  | A | X-ray exam of elbow | 0.17 | 0.63 | 0.65 | 0.63 | 0.65 | 0.04 | 0.84 | 0.86 | 0.84 | 0.86 | XXX
73080 | 26 | A | X-ray exam of elbow | 0.17 | 0.06 | 0.07 | 0.06 | 0.07 | 0.01 | 0.24 | 0.25 | 0.24 | 0.25 | XXX
73080 | TC | A | X-ray exam of elbow | 0.00 | 0.57 | 0.58 | NA | NA | 0.03 | 0.60 | 0.61 | NA | NA | XXX
73085 |  | A | Contrast x-ray of elbow | 0.54 | 2.28 | 2.32 | 2.28 | 2.32 | 0.13 | 2.95 | 2.99 | 2.95 | 2.99 | XXX
73085 | 26 | A | Contrast x-ray of elbow | 0.54 | 0.20 | 0.22 | 0.20 | 0.22 | 0.03 | 0.77 | 0.79 | 0.77 | 0.79 | XXX
73085 | TC | A | Contrast x-ray of elbow | 0.00 | 2.08 | 2.10 | NA | NA | 0.10 | 2.18 | 2.20 | NA | NA | XXX
73090 |  | A | X-ray exam of forearm | 0.16 | 0.58 | 0.60 | 0.58 | 0.60 | 0.03 | 0.77 | 0.79 | 0.77 | 0.79 | XXX
73090 | 26 | A | X-ray exam of forearm | 0.16 | 0.06 | 0.07 | 0.06 | 0.07 | 0.01 | 0.23 | 0.24 | 0.23 | 0.24 | XXX
73090 | TC | A | X-ray exam of forearm | 0.00 | 0.52 | 0.53 | NA | NA | 0.02 | 0.54 | 0.55 | NA | NA | XXX
73092 |  | A | X-ray exam of arm, infant | 0.16 | 0.55 | 0.57 | 0.55 | 0.57 | 0.03 | 0.74 | 0.76 | 0.74 | 0.76 | XXX
73092 | 26 | A | X-ray exam of arm, infant | 0.16 | 0.06 | 0.07 | 0.06 | 0.07 | 0.01 | 0.23 | 0.24 | 0.23 | 0.24 | XXX
73092 | TC | A | X-ray exam of arm, infant | 0.00 | 0.49 | 0.50 | NA | NA | 0.02 | 0.51 | 0.52 | NA | NA | XXX
73100 |  | A | X-ray exam of wrist | 0.16 | 0.55 | 0.57 | 0.55 | 0.57 | 0.04 | 0.75 | 0.77 | 0.75 | 0.77 | XXX
73100 | 26 | A | X-ray exam of wrist | 0.16 | 0.06 | 0.07 | 0.06 | 0.07 | 0.02 | 0.24 | 0.25 | 0.24 | 0.25 | XXX
73100 | TC | A | X-ray exam of wrist | 0.00 | 0.49 | 0.50 | NA | NA | 0.02 | 0.51 | 0.52 | NA | NA | XXX
73110 |  | A | X-ray exam of wrist | 0.17 | 0.59 | 0.61 | 0.59 | 0.61 | 0.03 | 0.79 | 0.81 | 0.79 | 0.81 | XXX
73110 | 26 | A | X-ray exam of wrist | 0.17 | 0.06 | 0.07 | 0.06 | 0.07 | 0.01 | 0.24 | 0.25 | 0.24 | 0.25 | XXX
73110 | TC | A | X-ray exam of wrist | 0.00 | 0.53 | 0.54 | NA | NA | 0.02 | 0.55 | 0.56 | NA | NA | XXX
73115 |  | A | Contrast x-ray of wrist | 0.54 | 1.77 | 1.81 | 1.77 | 1.81 | 0.11 | 2.42 | 2.46 | 2.42 | 2.46 | XXX
73115 | 26 | A | Contrast x-ray of wrist | 0.54 | 0.20 | 0.22 | 0.20 | 0.22 | 0.03 | 0.77 | 0.79 | 0.77 | 0.79 | XXX
73115 | TC | A | Contrast x-ray of wrist | 0.00 | 1.57 | 1.59 | NA | NA | 0.08 | 1.65 | 1.67 | NA | NA | XXX
73120 |  | A | X-ray exam of hand | 0.16 | 0.55 | 0.57 | 0.55 | 0.57 | 0.03 | 0.74 | 0.76 | 0.74 | 0.76 | XXX
73120 | 26 | A | X-ray exam of hand | 0.16 | 0.06 | 0.07 | 0.06 | 0.07 | 0.01 | 0.23 | 0.24 | 0.23 | 0.24 | XXX
73120 | TC | A | X-ray exam of hand | 0.00 | 0.49 | 0.50 | NA | NA | 0.02 | 0.51 | 0.52 | NA | NA | XXX
73130 |  | A | X-ray exam of hand | 0.17 | 0.59 | 0.61 | 0.59 | 0.61 | 0.03 | 0.79 | 0.81 | 0.79 | 0.81 | XXX
73130 | 26 | A | X-ray exam of hand | 0.17 | 0.06 | 0.07 | 0.06 | 0.07 | 0.01 | 0.24 | 0.25 | 0.24 | 0.25 | XXX
73130 | TC | A | X-ray exam of hand | 0.00 | 0.53 | 0.54 | NA | NA | 0.02 | 0.55 | 0.56 | NA | NA | XXX
73140 |  | A | X-ray exam of finger(s) | 0.13 | 0.46 | 0.48 | 0.46 | 0.48 | 0.03 | 0.62 | 0.64 | 0.62 | 0.64 | XXX
73140 | 26 | A | X-ray exam of finger(s) | 0.13 | 0.05 | 0.06 | 0.05 | 0.06 | 0.01 | 0.19 | 0.20 | 0.19 | 0.20 | XXX
73140 | TC | A | X-ray exam of finger(s) | 0.00 | 0.41 | 0.42 | NA | NA | 0.02 | 0.43 | 0.44 | NA | NA | XXX
73200 |  | A | Ct upper extremity w/o dye | 1.09 | 5.32 | 5.40 | 5.32 | 5.40 | 0.26 | 6.67 | 6.75 | 6.67 | 6.75 | XXX
73200 | 26 | A | Ct upper extremity w/o dye | 1.09 | 0.39 | 0.42 | 0.39 | 0.42 | 0.05 | 1.53 | 1.56 | 1.53 | 1.56 | XXX
73200 | TC | A | Ct upper extremity w/o dye | 0.00 | 4.93 | 4.98 | NA | NA | 0.21 | 5.14 | 5.19 | NA | NA | XXX
73201 |  | A | Ct upper extremity w/dye | 1.16 | 6.27 | 6.37 | 6.27 | 6.37 | 0.31 | 7.74 | 7.84 | 7.74 | 7.84 | XXX
73201 | 26 | A | Ct upper extremity w/dye | 1.16 | 0.41 | 0.45 | 0.41 | 0.45 | 0.05 | 1.62 | 1.66 | 1.62 | 1.66 | XXX
73201 | TC | A | Ct upper extremity w/dye | 0.00 | 5.86 | 5.92 | NA | NA | 0.26 | 6.12 | 6.18 | NA | NA | XXX
73202 |  | A | Ct uppr extremity w/o&w dye | 1.22 | 7.81 | 7.93 | 7.81 | 7.93 | 0.38 | 9.41 | 9.53 | 9.41 | 9.53 | XXX
73202 | 26 | A | Ct uppr extremity w/o&w dye | 1.22 | 0.44 | 0.48 | 0.44 | 0.48 | 0.06 | 1.72 | 1.76 | 1.72 | 1.76 | XXX
73202 | TC | A | Ct uppr extremity w/o&w dye | 0.00 | 7.37 | 7.45 | NA | NA | 0.32 | 7.69 | 7.77 | NA | NA | XXX
73206 |  | A | Ct angio upr extrm w/o&w dye | 1.20 | 7.85 | 7.85 | 7.85 | 7.85 | 0.37 | 9.42 | 9.42 | 9.42 | 9.42 | XXX
73206 | 26 | A | Ct angio upr extrm w/o&w dye | 1.20 | 0.48 | 0.48 | 0.48 | 0.48 | 0.05 | 1.73 | 1.73 | 1.73 | 1.73 | XXX
73206 | TC | A | Ct angio upr extrm w/o&w dye | 0.00 | 7.37 | 7.37 | NA | NA | 0.32 | 7.69 | 7.69 | NA | NA | XXX
73218 |  | A | Mri upper extremity w/o dye | 0.98 | 11.48 | 11.48 | 11.48 | 11.48 | 0.36 | 12.82 | 12.82 | 12.82 | 12.82 | XXX
73218 | 26 | A | Mri upper extremity w/o dye | 0.98 | 0.35 | 0.35 | 0.35 | 0.35 | 0.04 | 1.37 | 1.37 | 1.37 | 1.37 | XXX
73218 | TC | A | Mri upper extremity w/o dye | 0.00 | 11.13 | 11.13 | NA | NA | 0.32 | 11.45 | 11.45 | NA | NA | XXX
73219 |  | A | Mri upper extremity w/dye | 1.17 | 13.76 | 13.76 | 13.76 | 13.76 | 0.43 | 15.36 | 15.36 | 15.36 | 15.36 | XXX
73219 | 26 | A | Mri upper extremity w/dye | 1.17 | 0.42 | 0.42 | 0.42 | 0.42 | 0.04 | 1.63 | 1.63 | 1.63 | 1.63 | XXX
73219 | TC | A | Mri upper extremity w/dye | 0.00 | 13.34 | 13.34 | NA | NA | 0.39 | 13.73 | 13.73 | NA | NA | XXX
73220 |  | A | Mri uppr extremity w/o&w dye | 1.56 | 25.27 | 22.03 | 25.27 | 22.03 | 0.78 | 27.61 | 24.37 | 27.61 | 24.37 | XXX
73220 | 26 | A | Mri uppr extremity w/o&w dye | 1.56 | 0.56 | 0.60 | 0.56 | 0.60 | 0.08 | 2.20 | 2.24 | 2.20 | 2.24 | XXX
73220 | TC | A | Mri uppr extremity w/o&w dye | 0.00 | 24.71 | 21.43 | NA | NA | 0.70 | 25.41 | 22.13 | NA | NA | XXX
73221 |  | A | Mri joint upr extrem w/o dye | 0.98 | 11.48 | 11.63 | 11.48 | 11.63 | 0.36 | 12.82 | 12.97 | 12.82 | 12.97 | XXX
73221 | 26 | A | Mri joint upr extrem w/o dye | 0.98 | 0.35 | 0.38 | 0.35 | 0.38 | 0.04 | 1.37 | 1.40 | 1.37 | 1.40 | XXX
73221 | TC | A | Mri joint upr extrem w/o dye | 0.00 | 11.13 | 11.25 | NA | NA | 0.32 | 11.45 | 11.57 | NA | NA | XXX
73222 |  | A | Mri joint upr extrem w/ dye | 1.17 | 13.76 | 13.76 | 13.76 | 13.76 | 0.43 | 15.36 | 15.36 | 15.36 | 15.36 | XXX
73222 | 26 | A | Mri joint upr extrem w/ dye | 1.17 | 0.42 | 0.42 | 0.42 | 0.42 | 0.04 | 1.63 | 1.63 | 1.63 | 1.63 | XXX
73222 | TC | A | Mri joint upr extrem w/ dye | 0.00 | 13.34 | 13.34 | NA | NA | 0.39 | 13.73 | 13.73 | NA | NA | XXX
73223 |  | A | Mri joint upr extr w/o&w dye | 1.56 | 25.27 | 25.27 | 25.27 | 25.27 | 0.78 | 27.61 | 27.61 | 27.61 | 27.61 | XXX
73223 | 26 | A | Mri joint upr extr w/o&w dye | 1.56 | 0.56 | 0.56 | 0.56 | 0.56 | 0.08 | 2.20 | 2.20 | 2.20 | 2.20 | XXX
73223 | TC | A | Mri joint upr extr w/o&w dye | 0.00 | 24.71 | 24.71 | NA | NA | 0.70 | 25.41 | 25.41 | NA | NA | XXX
73225 |  | N | Mr angio upr extr w/o&w dye | +1.73 | 11.82 | 11.95 | 11.82 | 11.95 | 0.57 | 14.12 | 14.25 | 14.12 | 14.25 | XXX
73225 | 26 | N | Mr angio upr extr w/o&w dye | +1.73 | 0.69 | 0.70 | 0.69 | 0.70 | 0.08 | 2.50 | 2.51 | 2.50 | 2.51 | XXX
73225 | TC | N | Mr angio upr extr w/o&w dye | +0.00 | 11.13 | 11.25 | NA | NA | 0.49 | 11.62 | 11.74 | NA | NA | XXX
73500 |  | A | X-ray exam of hip | 0.17 | 0.53 | 0.55 | 0.53 | 0.55 | 0.03 | 0.73 | 0.75 | 0.73 | 0.75 | XXX
73500 | 26 | A | X-ray exam of hip | 0.17 | 0.06 | 0.07 | 0.06 | 0.07 | 0.01 | 0.24 | 0.25 | 0.24 | 0.25 | XXX
73500 | TC | A | X-ray exam of hip | 0.00 | 0.47 | 0.48 | NA | NA | 0.02 | 0.49 | 0.50 | NA | NA | XXX
73510 |  | A | X-ray exam of hip | 0.21 | 0.65 | 0.67 | 0.65 | 0.67 | 0.05 | 0.91 | 0.93 | 0.91 | 0.93 | XXX
73510 | 26 | A | X-ray exam of hip | 0.21 | 0.08 | 0.09 | 0.08 | 0.09 | 0.02 | 0.31 | 0.32 | 0.31 | 0.32 | XXX
73510 | TC | A | X-ray exam of hip | 0.00 | 0.57 | 0.58 | NA | NA | 0.03 | 0.60 | 0.61 | NA | NA | XXX
73520 |  | A | X-ray exam of hips | 0.26 | 0.75 | 0.77 | 0.75 | 0.77 | 0.05 | 1.06 | 1.08 | 1.06 | 1.08 | XXX
73520 | 26 | A | X-ray exam of hips | 0.26 | 0.09 | 0.10 | 0.09 | 0.10 | 0.02 | 0.37 | 0.38 | 0.37 | 0.38 | XXX
73520 | TC | A | X-ray exam of hips | 0.00 | 0.66 | 0.67 | NA | NA | 0.03 | 0.69 | 0.70 | NA | NA | XXX
73525 |  | A | Contrast x-ray of hip | 0.54 | 2.27 | 2.31 | 2.27 | 2.31 | 0.13 | 2.94 | 2.98 | 2.94 | 2.98 | XXX
73525 | 26 | A | Contrast x-ray of hip | 0.54 | 0.19 | 0.21 | 0.19 | 0.21 | 0.03 | 0.76 | 0.78 | 0.76 | 0.78 | XXX
73525 | TC | A | Contrast x-ray of hip | 0.00 | 2.08 | 2.10 | NA | NA | 0.10 | 2.18 | 2.20 | NA | NA | XXX
73530 |  | A | X-ray exam of hip | 0.29 | 0.62 | 0.64 | 0.62 | 0.64 | 0.03 | 0.94 | 0.96 | 0.94 | 0.96 | XXX
73530 | 26 | A | X-ray exam of hip | 0.29 | 0.10 | 0.11 | 0.10 | 0.11 | 0.01 | 0.40 | 0.41 | 0.40 | 0.41 | XXX
73530 | TC | A | X-ray exam of hip | 0.00 | 0.52 | 0.53 | NA | NA | 0.02 | 0.54 | 0.55 | NA | NA | XXX
73540 |  | A | X-ray exam of pelvis & hips | 0.20 | 0.64 | 0.66 | 0.64 | 0.66 | 0.05 | 0.89 | 0.91 | 0.89 | 0.91 | XXX
73540 | 26 | A | X-ray exam of pelvis & hips | 0.20 | 0.07 | 0.08 | 0.07 | 0.08 | 0.02 | 0.29 | 0.30 | 0.29 | 0.30 | XXX
73540 | TC | A | X-ray exam of pelvis & hips | 0.00 | 0.57 | 0.58 | NA | NA | 0.03 | 0.60 | 0.61 | NA | NA | XXX
73542 |  | A | X-ray exam, sacroiliac joint | 0.59 | 2.29 | 2.29 | 2.29 | 2.29 | 0.13 | 3.01 | 3.01 | 3.01 | 3.01 | XXX
73542 | 26 | A | X-ray exam, sacroiliac joint | 0.59 | 0.21 | 0.21 | 0.21 | 0.21 | 0.03 | 0.83 | 0.83 | 0.83 | 0.83 | XXX
73542 | TC | A | X-ray exam, sacroiliac joint | 0.00 | 2.08 | 2.08 | NA | NA | 0.10 | 2.18 | 2.18 | NA | NA | XXX
73550 |  | A | X-ray exam of thigh | 0.17 | 0.63 | 0.65 | 0.63 | 0.65 | 0.04 | 0.84 | 0.86 | 0.84 | 0.86 | XXX
73550 | 26 | A | X-ray exam of thigh | 0.17 | 0.06 | 0.07 | 0.06 | 0.07 | 0.01 | 0.24 | 0.25 | 0.24 | 0.25 | XXX
73550 | TC | A | X-ray exam of thigh | 0.00 | 0.57 | 0.58 | NA | NA | 0.03 | 0.60 | 0.61 | NA | NA | XXX
73560 |  | A | X-ray exam of knee, 1 or 2 | 0.17 | 0.58 | 0.60 | 0.58 | 0.60 | 0.04 | 0.79 | 0.81 | 0.79 | 0.81 | XXX
73560 | 26 | A | X-ray exam of knee, 1 or 2 | 0.17 | 0.06 | 0.07 | 0.06 | 0.07 | 0.02 | 0.25 | 0.26 | 0.25 | 0.26 | XXX
73560 | TC | A | X-ray exam of knee, 1 or 2 | 0.00 | 0.52 | 0.53 | NA | NA | 0.02 | 0.54 | 0.55 | NA | NA | XXX
73562 |  | A | X-ray exam of knee, 3 | 0.18 | 0.64 | 0.66 | 0.64 | 0.66 | 0.05 | 0.87 | 0.89 | 0.87 | 0.89 | XXX
73562 | 26 | A | X-ray exam of knee, 3 | 0.18 | 0.07 | 0.08 | 0.07 | 0.08 | 0.02 | 0.27 | 0.28 | 0.27 | 0.28 | XXX
73562 | TC | A | X-ray exam of knee, 3 | 0.00 | 0.57 | 0.58 | NA | NA | 0.03 | 0.60 | 0.61 | NA | NA | XXX
73564 |  | A | X-ray exam, knee, 4 or more | 0.22 | 0.69 | 0.71 | 0.69 | 0.71 | 0.05 | 0.96 | 0.98 | 0.96 | 0.98 | XXX
73564 | 26 | A | X-ray exam, knee, 4 or more | 0.22 | 0.08 | 0.09 | 0.08 | 0.09 | 0.02 | 0.32 | 0.33 | 0.32 | 0.33 | XXX
73564 | TC | A | X-ray exam, knee, 4 or more | 0.00 | 0.61 | 0.62 | NA | NA | 0.03 | 0.64 | 0.65 | NA | NA | XXX
73565 |  | A | X-ray exam of knees | 0.17 | 0.56 | 0.57 | 0.56 | 0.57 | 0.04 | 0.77 | 0.78 | 0.77 | 0.78 | XXX
73565 | 26 | A | X-ray exam of knees | 0.17 | 0.07 | 0.07 | 0.07 | 0.07 | 0.02 | 0.26 | 0.26 | 0.26 | 0.26 | XXX
73565 | TC | A | X-ray exam of knees | 0.00 | 0.49 | 0.50 | NA | NA | 0.02 | 0.51 | 0.52 | NA | NA | XXX
73580 |  | A | Contrast x-ray of knee joint | 0.54 | 2.79 | 2.84 | 2.79 | 2.84 | 0.15 | 3.48 | 3.53 | 3.48 | 3.53 | XXX
73580 | 26 | A | Contrast x-ray of knee joint | 0.54 | 0.19 | 0.21 | 0.19 | 0.21 | 0.03 | 0.76 | 0.78 | 0.76 | 0.78 | XXX
73580 | TC | A | Contrast x-ray of knee joint | 0.00 | 2.60 | 2.63 | NA | NA | 0.12 | 2.72 | 2.75 | NA | NA | XXX
73590 |  | A | X-ray exam of lower leg | 0.17 | 0.58 | 0.60 | 0.58 | 0.60 | 0.03 | 0.78 | 0.80 | 0.78 | 0.80 | XXX
73590 | 26 | A | X-ray exam of lower leg | 0.17 | 0.06 | 0.07 | 0.06 | 0.07 | 0.01 | 0.24 | 0.25 | 0.24 | 0.25 | XXX
73590 | TC | A | X-ray exam of lower leg | 0.00 | 0.52 | 0.53 | NA | NA | 0.02 | 0.54 | 0.55 | NA | NA | XXX
73592 |  | A | X-ray exam of leg, infant | 0.16 | 0.55 | 0.57 | 0.55 | 0.57 | 0.03 | 0.74 | 0.76 | 0.74 | 0.76 | XXX
73592 | 26 | A | X-ray exam of leg, infant | 0.16 | 0.06 | 0.07 | 0.06 | 0.07 | 0.01 | 0.23 | 0.24 | 0.23 | 0.24 | XXX
73592 | TC | A | X-ray exam of leg, infant | 0.00 | 0.49 | 0.50 | NA | NA | 0.02 | 0.51 | 0.52 | NA | NA | XXX
73600 |  | A | X-ray exam of ankle | 0.16 | 0.55 | 0.57 | 0.55 | 0.57 | 0.03 | 0.74 | 0.76 | 0.74 | 0.76 | XXX
73600 | 26 | A | X-ray exam of ankle | 0.16 | 0.06 | 0.07 | 0.06 | 0.07 | 0.01 | 0.23 | 0.24 | 0.23 | 0.24 | XXX
73600 | TC | A | X-ray exam of ankle | 0.00 | 0.49 | 0.50 | NA | NA | 0.02 | 0.51 | 0.52 | NA | NA | XXX
73610 |  | A | X-ray exam of ankle | 0.17 | 0.59 | 0.61 | 0.59 | 0.61 | 0.03 | 0.79 | 0.81 | 0.79 | 0.81 | XXX
73610 | 26 | A | X-ray exam of ankle | 0.17 | 0.06 | 0.07 | 0.06 | 0.07 | 0.01 | 0.24 | 0.25 | 0.24 | 0.25 | XXX
73610 | TC | A | X-ray exam of ankle | 0.00 | 0.53 | 0.54 | NA | NA | 0.02 | 0.55 | 0.56 | NA | NA | XXX
73615 |  | A | Contrast x-ray of ankle | 0.54 | 2.28 | 2.32 | 2.28 | 2.32 | 0.13 | 2.95 | 2.99 | 2.95 | 2.99 | XXX
73615 | 26 | A | Contrast x-ray of ankle | 0.54 | 0.20 | 0.22 | 0.20 | 0.22 | 0.03 | 0.77 | 0.79 | 0.77 | 0.79 | XXX
73615 | TC | A | Contrast x-ray of ankle | 0.00 | 2.08 | 2.10 | NA | NA | 0.10 | 2.18 | 2.20 | NA | NA | XXX
73620 |  | A | X-ray exam of foot | 0.16 | 0.55 | 0.57 | 0.55 | 0.57 | 0.03 | 0.74 | 0.76 | 0.74 | 0.76 | XXX
73620 | 26 | A | X-ray exam of foot | 0.16 | 0.06 | 0.07 | 0.06 | 0.07 | 0.01 | 0.23 | 0.24 | 0.23 | 0.24 | XXX
73620 | TC | A | X-ray exam of foot | 0.00 | 0.49 | 0.50 | NA | NA | 0.02 | 0.51 | 0.52 | NA | NA | XXX
73630 |  | A | X-ray exam of foot | 0.17 | 0.59 | 0.61 | 0.59 | 0.61 | 0.03 | 0.79 | 0.81 | 0.79 | 0.81 | XXX
73630 | 26 | A | X-ray exam of foot | 0.17 | 0.06 | 0.07 | 0.06 | 0.07 | 0.01 | 0.24 | 0.25 | 0.24 | 0.25 | XXX
73630 | TC | A | X-ray exam of foot | 0.00 | 0.53 | 0.54 | NA | NA | 0.02 | 0.55 | 0.56 | NA | NA | XXX
73650 |  | A | X-ray exam of heel | 0.16 | 0.53 | 0.55 | 0.53 | 0.55 | 0.03 | 0.72 | 0.74 | 0.72 | 0.74 | XXX
73650 | 26 | A | X-ray exam of heel | 0.16 | 0.06 | 0.07 | 0.06 | 0.07 | 0.01 | 0.23 | 0.24 | 0.23 | 0.24 | XXX
73650 | TC | A | X-ray exam of heel | 0.00 | 0.47 | 0.48 | NA | NA | 0.02 | 0.49 | 0.50 | NA | NA | XXX
73660 |  | A | X-ray exam of toe(s) | 0.13 | 0.46 | 0.48 | 0.46 | 0.48 | 0.03 | 0.62 | 0.64 | 0.62 | 0.64 | XXX
73660 | 26 | A | X-ray exam of toe(s) | 0.13 | 0.05 | 0.06 | 0.05 | 0.06 | 0.01 | 0.19 | 0.20 | 0.19 | 0.20 | XXX
73660 | TC | A | X-ray exam of toe(s) | 0.00 | 0.41 | 0.42 | NA | NA | 0.02 | 0.43 | 0.44 | NA | NA | XXX
73700 |  | A | Ct lower extremity w/o dye | 1.09 | 5.32 | 5.40 | 5.32 | 5.40 | 0.26 | 6.67 | 6.75 | 6.67 | 6.75 | XXX
73700 | 26 | A | Ct lower extremity w/o dye | 1.09 | 0.39 | 0.42 | 0.39 | 0.42 | 0.05 | 1.53 | 1.56 | 1.53 | 1.56 | XXX
73700 | TC | A | Ct lower extremity w/o dye | 0.00 | 4.93 | 4.98 | NA | NA | 0.21 | 5.14 | 5.19 | NA | NA | XXX
73701 |  | A | Ct lower extremity w/dye | 1.16 | 6.27 | 6.37 | 6.27 | 6.37 | 0.31 | 7.74 | 7.84 | 7.74 | 7.84 | XXX
73701 | 26 | A | Ct lower extremity w/dye | 1.16 | 0.41 | 0.45 | 0.41 | 0.45 | 0.05 | 1.62 | 1.66 | 1.62 | 1.66 | XXX
73701 | TC | A | Ct lower extremity w/dye | 0.00 | 5.86 | 5.92 | NA | NA | 0.26 | 6.12 | 6.18 | NA | NA | XXX
73702 |  | A | Ct lwr extremity w/o&w dye | 1.22 | 7.80 | 7.92 | 7.80 | 7.92 | 0.37 | 9.39 | 9.51 | 9.39 | 9.51 | XXX
73702 | 26 | A | Ct lwr extremity w/o&w dye | 1.22 | 0.43 | 0.47 | 0.43 | 0.47 | 0.05 | 1.70 | 1.74 | 1.70 | 1.74 | XXX
73702 | TC | A | Ct lwr extremity w/o&w dye | 0.00 | 7.37 | 7.45 | NA | NA | 0.32 | 7.69 | 7.77 | NA | NA | XXX
73706 |  | A | Ct angio lwr extr w/o&w dye | 1.20 | 7.85 | 7.85 | 7.85 | 7.85 | 0.37 | 9.42 | 9.42 | 9.42 | 9.42 | XXX
73706 | 26 | A | Ct angio lwr extr w/o&w dye | 1.20 | 0.48 | 0.48 | 0.48 | 0.48 | 0.05 | 1.73 | 1.73 | 1.73 | 1.73 | XXX
73706 | TC | A | Ct angio lwr extr w/o&w dye | 0.00 | 7.37 | 7.37 | NA | NA | 0.32 | 7.69 | 7.69 | NA | NA | XXX
73718 |  | A | Mri lower extremity w/o dye | 0.98 | 11.48 | 11.48 | 11.48 | 11.48 | 0.36 | 12.82 | 12.82 | 12.82 | 12.82 | XXX
73718 | 26 | A | Mri lower extremity w/o dye | 0.98 | 0.35 | 0.35 | 0.35 | 0.35 | 0.04 | 1.37 | 1.37 | 1.37 | 1.37 | XXX
73718 | TC | A | Mri lower extremity w/o dye | 0.00 | 11.13 | 11.13 | NA | NA | 0.32 | 11.45 | 11.45 | NA | NA | XXX
73719 |  | A | Mri lower extremity w/dye | 1.17 | 13.76 | 13.76 | 13.76 | 13.76 | 0.43 | 15.36 | 15.36 | 15.36 | 15.36 | XXX
73719 | 26 | A | Mri lower extremity w/dye | 1.17 | 0.42 | 0.42 | 0.42 | 0.42 | 0.04 | 1.63 | 1.63 | 1.63 | 1.63 | XXX
73719 | TC | A | Mri lower extremity w/dye | 0.00 | 13.34 | 13.34 | NA | NA | 0.39 | 13.73 | 13.73 | NA | NA | XXX
73720 |  | A | Mri lwr extremity w/o&w dye | 1.56 | 25.26 | 22.02 | 25.26 | 22.02 | 0.78 | 27.60 | 24.36 | 27.60 | 24.36 | XXX
73720 | 26 | A | Mri lwr extremity w/o&w dye | 1.56 | 0.55 | 0.59 | 0.55 | 0.59 | 0.08 | 2.19 | 2.23 | 2.19 | 2.23 | XXX
73720 | TC | A | Mri lwr extremity w/o&w dye | 0.00 | 24.71 | 21.43 | NA | NA | 0.70 | 25.41 | 22.13 | NA | NA | XXX
73721 |  | A | Mri joint of lwr extre w/o d | 0.98 | 11.48 | 11.63 | 11.48 | 11.63 | 0.36 | 12.82 | 12.97 | 12.82 | 12.97 | XXX
73721 | 26 | A | Mri joint of lwr extre w/o d | 0.98 | 0.35 | 0.38 | 0.35 | 0.38 | 0.04 | 1.37 | 1.40 | 1.37 | 1.40 | XXX
73721 | TC | A | Mri joint of lwr extre w/o d | 0.00 | 11.13 | 11.25 | NA | NA | 0.32 | 11.45 | 11.57 | NA | NA | XXX
73722 |  | A | Mri joint of lwr extr w/dye | 1.17 | 13.76 | 13.76 | 13.76 | 13.76 | 0.43 | 15.36 | 15.36 | 15.36 | 15.36 | XXX
73722 | 26 | A | Mri joint of lwr extr w/dye | 1.17 | 0.42 | 0.42 | 0.42 | 0.42 | 0.04 | 1.63 | 1.63 | 1.63 | 1.63 | XXX
73722 | TC | A | Mri joint of lwr extr w/dye | 0.00 | 13.34 | 13.34 | NA | NA | 0.39 | 13.73 | 13.73 | NA | NA | XXX
73723 |  | A | Mri joint lwr extr w/o&w dye | 1.56 | 25.27 | 25.27 | 25.27 | 25.27 | 0.78 | 27.61 | 27.61 | 27.61 | 27.61 | XXX
73723 | 26 | A | Mri joint lwr extr w/o&w dye | 1.56 | 0.56 | 0.56 | 0.56 | 0.56 | 0.08 | 2.20 | 2.20 | 2.20 | 2.20 | XXX
73723 | TC | A | Mri joint lwr extr w/o&w dye | 0.00 | 24.71 | 24.71 | NA | NA | 0.70 | 25.41 | 25.41 | NA | NA | XXX
73725 |  | R | Mr ang lwr ext w or w/o dye | 1.82 | 11.78 | 11.92 | 11.78 | 11.92 | 0.57 | 14.17 | 14.31 | 14.17 | 14.31 | XXX
73725 | 26 | R | Mr ang lwr ext w or w/o dye | 1.82 | 0.65 | 0.67 | 0.65 | 0.67 | 0.08 | 2.55 | 2.57 | 2.55 | 2.57 | XXX
73725 | TC | R | Mr ang lwr ext w or w/o dye | 0.00 | 11.13 | 11.25 | NA | NA | 0.49 | 11.62 | 11.74 | NA | NA | XXX
74000 |  | A | X-ray exam of abdomen | 0.18 | 0.58 | 0.60 | 0.58 | 0.60 | 0.03 | 0.79 | 0.81 | 0.79 | 0.81 | XXX
74000 | 26 | A | X-ray exam of abdomen | 0.18 | 0.06 | 0.07 | 0.06 | 0.07 | 0.01 | 0.25 | 0.26 | 0.25 | 0.26 | XXX
74000 | TC | A | X-ray exam of abdomen | 0.00 | 0.52 | 0.53 | NA | NA | 0.02 | 0.54 | 0.55 | NA | NA | XXX
74010 |  | A | X-ray exam of abdomen | 0.23 | 0.65 | 0.67 | 0.65 | 0.67 | 0.04 | 0.92 | 0.94 | 0.92 | 0.94 | XXX
74010 | 26 | A | X-ray exam of abdomen | 0.23 | 0.08 | 0.09 | 0.08 | 0.09 | 0.01 | 0.32 | 0.33 | 0.32 | 0.33 | XXX
74010 | TC | A | X-ray exam of abdomen | 0.00 | 0.57 | 0.58 | NA | NA | 0.03 | 0.60 | 0.61 | NA | NA | XXX
74020 |  | A | X-ray exam of abdomen | 0.27 | 0.71 | 0.73 | 0.71 | 0.73 | 0.04 | 1.02 | 1.04 | 1.02 | 1.04 | XXX
74020 | 26 | A | X-ray exam of abdomen | 0.27 | 0.10 | 0.11 | 0.10 | 0.11 | 0.01 | 0.38 | 0.39 | 0.38 | 0.39 | XXX
74020 | TC | A | X-ray exam of abdomen | 0.00 | 0.61 | 0.62 | NA | NA | 0.03 | 0.64 | 0.65 | NA | NA | XXX
74022 |  | A | X-ray exam series, abdomen | 0.32 | 0.84 | 0.86 | 0.84 | 0.86 | 0.05 | 1.21 | 1.23 | 1.21 | 1.23 | XXX
74022 | 26 | A | X-ray exam series, abdomen | 0.32 | 0.11 | 0.12 | 0.11 | 0.12 | 0.01 | 0.44 | 0.45 | 0.44 | 0.45 | XXX
74022 | TC | A | X-ray exam series, abdomen | 0.00 | 0.73 | 0.74 | NA | NA | 0.04 | 0.77 | 0.78 | NA | NA | XXX
74150 |  | A | Ct abdomen w/o dye | 1.19 | 6.03 | 6.13 | 6.03 | 6.13 | 0.30 | 7.52 | 7.62 | 7.52 | 7.62 | XXX
74150 | 26 | A | Ct abdomen w/o dye | 1.19 | 0.42 | 0.46 | 0.42 | 0.46 | 0.05 | 1.66 | 1.70 | 1.66 | 1.70 | XXX
74150 | TC | A | Ct abdomen w/o dye | 0.00 | 5.61 | 5.67 | NA | NA | 0.25 | 5.86 | 5.92 | NA | NA | XXX
74160 |  | A | Ct abdomen w/dye | 1.27 | 7.24 | 7.35 | 7.24 | 7.35 | 0.36 | 8.87 | 8.98 | 8.87 | 8.98 | XXX
74160 | 26 | A | Ct abdomen w/dye | 1.27 | 0.45 | 0.49 | 0.45 | 0.49 | 0.06 | 1.78 | 1.82 | 1.78 | 1.82 | XXX
74160 | TC | A | Ct abdomen w/dye | 0.00 | 6.79 | 6.86 | NA | NA | 0.30 | 7.09 | 7.16 | NA | NA | XXX
74170 |  | A | Ct abdomen w/o&w dye | 1.40 | 8.93 | 9.06 | 8.93 | 9.06 | 0.42 | 10.75 | 10.88 | 10.75 | 10.88 | XXX
74170 | 26 | A | Ct abdomen w/o&w dye | 1.40 | 0.50 | 0.54 | 0.50 | 0.54 | 0.06 | 1.96 | 2.00 | 1.96 | 2.00 | XXX
74170 | TC | A | Ct abdomen w/o&w dye | 0.00 | 8.43 | 8.52 | NA | NA | 0.36 | 8.79 | 8.88 | NA | NA | XXX
74175 |  | A | Ct angio abdom w/o&w dye | 1.20 | 8.91 | 8.91 | 8.91 | 8.91 | 0.37 | 10.48 | 10.48 | 10.48 | 10.48 | XXX
74175 | 26 | A | Ct angio abdom w/o&w dye | 1.20 | 0.48 | 0.48 | 0.48 | 0.48 | 0.05 | 1.73 | 1.73 | 1.73 | 1.73 | XXX
74175 | TC | A | Ct angio abdom w/o&w dye | 0.00 | 8.43 | 8.43 | NA | NA | 0.32 | 8.75 | 8.75 | NA | NA | XXX
74181 |  | A | Mri abdomen w/o dye | 1.10 | 11.52 | 11.74 | 11.52 | 11.74 | 0.41 | 13.03 | 13.25 | 13.03 | 13.25 | XXX
74181 | 26 | A | Mri abdomen w/o dye | 1.10 | 0.39 | 0.49 | 0.39 | 0.49 | 0.04 | 1.53 | 1.63 | 1.53 | 1.63 | XXX
74181 | TC | A | Mri abdomen w/o dye | 0.00 | 11.13 | 11.25 | NA | NA | 0.37 | 11.50 | 11.62 | NA | NA | XXX
74182 |  | A | Mri abdomen w/dye | 1.30 | 13.80 | 13.80 | 13.80 | 13.80 | 0.48 | 15.58 | 15.58 | 15.58 | 15.58 | XXX
74182 | 26 | A | Mri abdomen w/dye | 1.30 | 0.46 | 0.46 | 0.46 | 0.46 | 0.05 | 1.81 | 1.81 | 1.81 | 1.81 | XXX
74182 | TC | A | Mri abdomen w/dye | 0.00 | 13.34 | 13.34 | NA | NA | 0.43 | 13.77 | 13.77 | NA | NA | XXX
74183 |  | A | Mri abdomen w/o&w dye | 1.70 | 25.31 | 25.31 | 25.31 | 25.31 | 0.85 | 27.86 | 27.86 | 27.86 | 27.86 | XXX
74183 | 26 | A | Mri abdomen w/o&w dye | 1.70 | 0.60 | 0.60 | 0.60 | 0.60 | 0.09 | 2.39 | 2.39 | 2.39 | 2.39 | XXX
74183 | TC | A | Mri abdomen w/o&w dye | 0.00 | 24.71 | 24.71 | NA | NA | 0.76 | 25.47 | 25.47 | NA | NA | XXX
74185 |  | R | Mri angio, abdom w or w/o dy | 1.80 | 11.77 | 11.93 | 11.77 | 11.93 | 0.57 | 14.14 | 14.30 | 14.14 | 14.30 | XXX
74185 | 26 | R | Mri angio, abdom w or w/o dy | 1.80 | 0.64 | 0.68 | 0.64 | 0.68 | 0.08 | 2.52 | 2.56 | 2.52 | 2.56 | XXX
74185 | TC | R | Mri angio, abdom w or w/o dy | 0.00 | 11.13 | 11.25 | NA | NA | 0.49 | 11.62 | 11.74 | NA | NA | XXX
74190 |  | A | X-ray exam of peritoneum | 0.48 | 1.47 | 1.47 | 1.47 | 1.47 | 0.08 | 2.03 | 2.03 | 2.03 | 2.03 | XXX
74190 | 26 | A | X-ray exam of peritoneum | 0.48 | 0.17 | 0.16 | 0.17 | 0.16 | 0.02 | 0.67 | 0.66 | 0.67 | 0.66 | XXX
74190 | TC | A | X-ray exam of peritoneum | 0.00 | 1.30 | 1.31 | NA | NA | 0.06 | 1.36 | 1.37 | NA | NA | XXX
74210 |  | A | Contrst x-ray exam of throat | 0.36 | 1.31 | 1.33 | 1.31 | 1.33 | 0.07 | 1.74 | 1.76 | 1.74 | 1.76 | XXX
74210 | 26 | A | Contrst x-ray exam of throat | 0.36 | 0.13 | 0.14 | 0.13 | 0.14 | 0.02 | 0.51 | 0.52 | 0.51 | 0.52 | XXX
74210 | TC | A | Contrst x-ray exam of throat | 0.00 | 1.18 | 1.19 | NA | NA | 0.05 | 1.23 | 1.24 | NA | NA | XXX
74220 |  | A | Contrast x-ray, esophagus | 0.46 | 1.34 | 1.37 | 1.34 | 1.37 | 0.07 | 1.87 | 1.90 | 1.87 | 1.90 | XXX
74220 | 26 | A | Contrast x-ray, esophagus | 0.46 | 0.16 | 0.18 | 0.16 | 0.18 | 0.02 | 0.64 | 0.66 | 0.64 | 0.66 | XXX
74220 | TC | A | Contrast x-ray, esophagus | 0.00 | 1.18 | 1.19 | NA | NA | 0.05 | 1.23 | 1.24 | NA | NA | XXX
74230 |  | A | Cinema x-ray, throat/esoph | 0.53 | 1.49 | 1.52 | 1.49 | 1.52 | 0.08 | 2.10 | 2.13 | 2.10 | 2.13 | XXX
74230 | 26 | A | Cinema x-ray, throat/esoph | 0.53 | 0.19 | 0.21 | 0.19 | 0.21 | 0.02 | 0.74 | 0.76 | 0.74 | 0.76 | XXX
74230 | TC | A | Cinema x-ray, throat/esoph | 0.00 | 1.30 | 1.31 | NA | NA | 0.06 | 1.36 | 1.37 | NA | NA | XXX
74235 |  | A | Remove esophagus obstruction | 1.19 | 3.02 | 3.09 | 3.02 | 3.09 | 0.17 | 4.38 | 4.45 | 4.38 | 4.45 | XXX
74235 | 26 | A | Remove esophagus obstruction | 1.19 | 0.42 | 0.46 | 0.42 | 0.46 | 0.05 | 1.66 | 1.70 | 1.66 | 1.70 | XXX
74235 | TC | A | Remove esophagus obstruction | 0.00 | 2.60 | 2.63 | NA | NA | 0.12 | 2.72 | 2.75 | NA | NA | XXX
74240 |  | A | X-ray exam, upper gi tract | 0.69 | 1.69 | 1.74 | 1.69 | 1.74 | 0.10 | 2.48 | 2.53 | 2.48 | 2.53 | XXX
74240 | 26 | A | X-ray exam, upper gi tract | 0.69 | 0.24 | 0.27 | 0.24 | 0.27 | 0.03 | 0.96 | 0.99 | 0.96 | 0.99 | XXX
74240 | TC | A | X-ray exam, upper gi tract | 0.00 | 1.45 | 1.47 | NA | NA | 0.07 | 1.52 | 1.54 | NA | NA | XXX
74241 |  | A | X-ray exam, upper gi tract | 0.69 | 1.72 | 1.77 | 1.72 | 1.77 | 0.10 | 2.51 | 2.56 | 2.51 | 2.56 | XXX
74241 | 26 | A | X-ray exam, upper gi tract | 0.69 | 0.24 | 0.27 | 0.24 | 0.27 | 0.03 | 0.96 | 0.99 | 0.96 | 0.99 | XXX
74241 | TC | A | X-ray exam, upper gi tract | 0.00 | 1.48 | 1.50 | NA | NA | 0.07 | 1.55 | 1.57 | NA | NA | XXX
74245 |  | A | X-ray exam, upper gi tract | 0.91 | 2.68 | 2.74 | 2.68 | 2.74 | 0.15 | 3.74 | 3.80 | 3.74 | 3.80 | XXX
74245 | 26 | A | X-ray exam, upper gi tract | 0.91 | 0.32 | 0.35 | 0.32 | 0.35 | 0.04 | 1.27 | 1.30 | 1.27 | 1.30 | XXX
74245 | TC | A | X-ray exam, upper gi tract | 0.00 | 2.36 | 2.39 | NA | NA | 0.11 | 2.47 | 2.50 | NA | NA | XXX
74246 |  | A | Contrst x-ray uppr gi tract | 0.69 | 1.87 | 1.92 | 1.87 | 1.92 | 0.11 | 2.67 | 2.72 | 2.67 | 2.72 | XXX
74246 | 26 | A | Contrst x-ray uppr gi tract | 0.69 | 0.24 | 0.27 | 0.24 | 0.27 | 0.03 | 0.96 | 0.99 | 0.96 | 0.99 | XXX
74246 | TC | A | Contrst x-ray uppr gi tract | 0.00 | 1.63 | 1.65 | NA | NA | 0.08 | 1.71 | 1.73 | NA | NA | XXX
74247 |  | A | Contrst x-ray uppr gi tract | 0.69 | 1.92 | 1.97 | 1.92 | 1.97 | 0.12 | 2.73 | 2.78 | 2.73 | 2.78 | XXX
74247 | 26 | A | Contrst x-ray uppr gi tract | 0.69 | 0.25 | 0.28 | 0.25 | 0.28 | 0.03 | 0.97 | 1.00 | 0.97 | 1.00 | XXX
74247 | TC | A | Contrst x-ray uppr gi tract | 0.00 | 1.67 | 1.69 | NA | NA | 0.09 | 1.76 | 1.78 | NA | NA | XXX
74249 |  | A | Contrst x-ray uppr gi tract | 0.91 | 2.88 | 2.94 | 2.88 | 2.94 | 0.16 | 3.95 | 4.01 | 3.95 | 4.01 | XXX
74249 | 26 | A | Contrst x-ray uppr gi tract | 0.91 | 0.32 | 0.35 | 0.32 | 0.35 | 0.04 | 1.27 | 1.30 | 1.27 | 1.30 | XXX
74249 | TC | A | Contrst x-ray uppr gi tract | 0.00 | 2.56 | 2.59 | NA | NA | 0.12 | 2.68 | 2.71 | NA | NA | XXX
74250 |  | A | X-ray exam of small bowel | 0.47 | 1.47 | 1.50 | 1.47 | 1.50 | 0.08 | 2.02 | 2.05 | 2.02 | 2.05 | XXX
74250 | 26 | A | X-ray exam of small bowel | 0.47 | 0.17 | 0.19 | 0.17 | 0.19 | 0.02 | 0.66 | 0.68 | 0.66 | 0.68 | XXX
74250 | TC | A | X-ray exam of small bowel | 0.00 | 1.30 | 1.31 | NA | NA | 0.06 | 1.36 | 1.37 | NA | NA | XXX
74251 |  | A | X-ray exam of small bowel | 0.69 | 1.54 | 1.55 | 1.54 | 1.55 | 0.09 | 2.32 | 2.33 | 2.32 | 2.33 | XXX
74251 | 26 | A | X-ray exam of small bowel | 0.69 | 0.24 | 0.24 | 0.24 | 0.24 | 0.03 | 0.96 | 0.96 | 0.96 | 0.96 | XXX
74251 | TC | A | X-ray exam of small bowel | 0.00 | 1.30 | 1.31 | NA | NA | 0.06 | 1.36 | 1.37 | NA | NA | XXX
74260 |  | A | X-ray exam of small bowel | 0.50 | 1.66 | 1.70 | 1.66 | 1.70 | 0.09 | 2.25 | 2.29 | 2.25 | 2.29 | XXX
74260 | 26 | A | X-ray exam of small bowel | 0.50 | 0.18 | 0.20 | 0.18 | 0.20 | 0.02 | 0.70 | 0.72 | 0.70 | 0.72 | XXX
74260 | TC | A | X-ray exam of small bowel | 0.00 | 1.48 | 1.50 | NA | NA | 0.07 | 1.55 | 1.57 | NA | NA | XXX
74270 |  | A | Contrast x-ray exam of colon | 0.69 | 1.93 | 1.98 | 1.93 | 1.98 | 0.12 | 2.74 | 2.79 | 2.74 | 2.79 | XXX
74270 | 26 | A | Contrast x-ray exam of colon | 0.69 | 0.24 | 0.27 | 0.24 | 0.27 | 0.03 | 0.96 | 0.99 | 0.96 | 0.99 | XXX
74270 | TC | A | Contrast x-ray exam of colon | 0.00 | 1.69 | 1.71 | NA | NA | 0.09 | 1.78 | 1.80 | NA | NA | XXX
74280 |  | A | Contrast x-ray exam of colon | 0.99 | 2.57 | 2.63 | 2.57 | 2.63 | 0.15 | 3.71 | 3.77 | 3.71 | 3.77 | XXX
74280 | 26 | A | Contrast x-ray exam of colon | 0.99 | 0.35 | 0.39 | 0.35 | 0.39 | 0.04 | 1.38 | 1.42 | 1.38 | 1.42 | XXX
74280 | TC | A | Contrast x-ray exam of colon | 0.00 | 2.22 | 2.24 | NA | NA | 0.11 | 2.33 | 2.35 | NA | NA | XXX
74283 |  | A | Contrast x-ray exam of colon | 2.02 | 3.27 | 3.37 | 3.27 | 3.37 | 0.21 | 5.50 | 5.60 | 5.50 | 5.60 | XXX
74283 | 26 | A | Contrast x-ray exam of colon | 2.02 | 0.72 | 0.79 | 0.72 | 0.79 | 0.09 | 2.83 | 2.90 | 2.83 | 2.90 | XXX
74283 | TC | A | Contrast x-ray exam of colon | 0.00 | 2.55 | 2.58 | NA | NA | 0.12 | 2.67 | 2.70 | NA | NA | XXX
74290 |  | A | Contrast x-ray, gallbladder | 0.32 | 0.84 | 0.86 | 0.84 | 0.86 | 0.05 | 1.21 | 1.23 | 1.21 | 1.23 | XXX
74290 | 26 | A | Contrast x-ray, gallbladder | 0.32 | 0.11 | 0.12 | 0.11 | 0.12 | 0.01 | 0.44 | 0.45 | 0.44 | 0.45 | XXX
74290 | TC | A | Contrast x-ray, gallbladder | 0.00 | 0.73 | 0.74 | NA | NA | 0.04 | 0.77 | 0.78 | NA | NA | XXX
74291 |  | A | Contrast x-rays, gallbladder | 0.20 | 0.48 | 0.50 | 0.48 | 0.50 | 0.03 | 0.71 | 0.73 | 0.71 | 0.73 | XXX
74291 | 26 | A | Contrast x-rays, gallbladder | 0.20 | 0.07 | 0.08 | 0.07 | 0.08 | 0.01 | 0.28 | 0.29 | 0.28 | 0.29 | XXX
74291 | TC | A | Contrast x-rays, gallbladder | 0.00 | 0.41 | 0.42 | NA | NA | 0.02 | 0.43 | 0.44 | NA | NA | XXX
74300 |  | C | X-ray bile ducts/pancreas | 0.00 | 0.00 | 0.00 | 0.00 | 0.00 | 0.00 | 0.00 | 0.00 | 0.00 | 0.00 | XXX
74300 | 26 | A | X-ray bile ducts/pancreas | 0.36 | 0.13 | 0.14 | 0.13 | 0.14 | 0.02 | 0.51 | 0.52 | 0.51 | 0.52 | XXX
74300 | TC | C | X-ray bile ducts/pancreas | 0.00 | 0.00 | 0.00 | 0.00 | 0.00 | 0.00 | 0.00 | 0.00 | 0.00 | 0.00 | XXX
74301 |  | C | X-rays at surgery add-on | 0.00 | 0.00 | 0.00 | 0.00 | 0.00 | 0.00 | 0.00 | 0.00 | 0.00 | 0.00 | ZZZ
74301 | 26 | A | X-rays at surgery add-on | 0.21 | 0.07 | 0.08 | 0.07 | 0.08 | 0.01 | 0.29 | 0.30 | 0.29 | 0.30 | ZZZ
74301 | TC | C | X-rays at surgery add-on | 0.00 | 0.00 | 0.00 | 0.00 | 0.00 | 0.00 | 0.00 | 0.00 | 0.00 | 0.00 | ZZZ
74305 |  | A | X-ray bile ducts/pancreas | 0.42 | 0.93 | 0.96 | 0.93 | 0.96 | 0.06 | 1.41 | 1.44 | 1.41 | 1.44 | XXX
74305 | 26 | A | X-ray bile ducts/pancreas | 0.42 | 0.15 | 0.17 | 0.15 | 0.17 | 0.02 | 0.59 | 0.61 | 0.59 | 0.61 | XXX
74305 | TC | A | X-ray bile ducts/pancreas | 0.00 | 0.78 | 0.79 | NA | NA | 0.04 | 0.82 | 0.83 | NA | NA | XXX
74320 |  | A | Contrast x-ray of bile ducts | 0.54 | 3.32 | 3.37 | 3.32 | 3.37 | 0.16 | 4.02 | 4.07 | 4.02 | 4.07 | XXX
74320 | 26 | A | Contrast x-ray of bile ducts | 0.54 | 0.19 | 0.21 | 0.19 | 0.21 | 0.02 | 0.75 | 0.77 | 0.75 | 0.77 | XXX
74320 | TC | A | Contrast x-ray of bile ducts | 0.00 | 3.13 | 3.16 | NA | NA | 0.14 | 3.27 | 3.30 | NA | NA | XXX
74327 |  | A | X-ray bile stone removal | 0.70 | 2.00 | 2.05 | 2.00 | 2.05 | 0.12 | 2.82 | 2.87 | 2.82 | 2.87 | XXX
74327 | 26 | A | X-ray bile stone removal | 0.70 | 0.25 | 0.28 | 0.25 | 0.28 | 0.03 | 0.98 | 1.01 | 0.98 | 1.01 | XXX
74327 | TC | A | X-ray bile stone removal | 0.00 | 1.75 | 1.77 | NA | NA | 0.09 | 1.84 | 1.86 | NA | NA | XXX
74328 |  | A | Xray bile duct endoscopy | 0.70 | 3.38 | 3.44 | 3.38 | 3.44 | 0.17 | 4.25 | 4.31 | 4.25 | 4.31 | XXX
74328 | 26 | A | Xray bile duct endoscopy | 0.70 | 0.25 | 0.28 | 0.25 | 0.28 | 0.03 | 0.98 | 1.01 | 0.98 | 1.01 | XXX
74328 | TC | A | Xray bile duct endoscopy | 0.00 | 3.13 | 3.16 | NA | NA | 0.14 | 3.27 | 3.30 | NA | NA | XXX
74329 |  | A | X-ray for pancreas endoscopy | 0.70 | 3.38 | 3.44 | 3.38 | 3.44 | 0.17 | 4.25 | 4.31 | 4.25 | 4.31 | XXX
74329 | 26 | A | X-ray for pancreas endoscopy | 0.70 | 0.25 | 0.28 | 0.25 | 0.28 | 0.03 | 0.98 | 1.01 | 0.98 | 1.01 | XXX
74329 | TC | A | X-ray for pancreas endoscopy | 0.00 | 3.13 | 3.16 | NA | NA | 0.14 | 3.27 | 3.30 | NA | NA | XXX
74330 |  | A | X-ray bile/panc endoscopy | 0.90 | 3.45 | 3.49 | 3.45 | 3.49 | 0.18 | 4.53 | 4.57 | 4.53 | 4.57 | XXX
74330 | 26 | A | X-ray bile/panc endoscopy | 0.90 | 0.32 | 0.33 | 0.32 | 0.33 | 0.04 | 1.26 | 1.27 | 1.26 | 1.27 | XXX
74330 | TC | A | X-ray bile/panc endoscopy | 0.00 | 3.13 | 3.16 | NA | NA | 0.14 | 3.27 | 3.30 | NA | NA | XXX
74340 |  | A | X-ray guide for GI tube | 0.54 | 2.79 | 2.84 | 2.79 | 2.84 | 0.14 | 3.47 | 3.52 | 3.47 | 3.52 | XXX
74340 | 26 | A | X-ray guide for GI tube | 0.54 | 0.19 | 0.21 | 0.19 | 0.21 | 0.02 | 0.75 | 0.77 | 0.75 | 0.77 | XXX
74340 | TC | A | X-ray guide for GI tube | 0.00 | 2.60 | 2.63 | NA | NA | 0.12 | 2.72 | 2.75 | NA | NA | XXX
74350 |  | A | X-ray guide, stomach tube | 0.76 | 3.40 | 3.46 | 3.40 | 3.46 | 0.17 | 4.33 | 4.39 | 4.33 | 4.39 | XXX
74350 | 26 | A | X-ray guide, stomach tube | 0.76 | 0.27 | 0.30 | 0.27 | 0.30 | 0.03 | 1.06 | 1.09 | 1.06 | 1.09 | XXX
74350 | TC | A | X-ray guide, stomach tube | 0.00 | 3.13 | 3.16 | NA | NA | 0.14 | 3.27 | 3.30 | NA | NA | XXX
74355 |  | A | X-ray guide, intestinal tube | 0.76 | 2.87 | 2.93 | 2.87 | 2.93 | 0.15 | 3.78 | 3.84 | 3.78 | 3.84 | XXX
74355 | 26 | A | X-ray guide, intestinal tube | 0.76 | 0.27 | 0.30 | 0.27 | 0.30 | 0.03 | 1.06 | 1.09 | 1.06 | 1.09 | XXX
74355 | TC | A | X-ray guide, intestinal tube | 0.00 | 2.60 | 2.63 | NA | NA | 0.12 | 2.72 | 2.75 | NA | NA | XXX
74360 |  | A | X-ray guide, GI dilation | 0.54 | 3.32 | 3.37 | 3.32 | 3.37 | 0.16 | 4.02 | 4.07 | 4.02 | 4.07 | XXX
74360 | 26 | A | X-ray guide, GI dilation | 0.54 | 0.19 | 0.21 | 0.19 | 0.21 | 0.02 | 0.75 | 0.77 | 0.75 | 0.77 | XXX
74360 | TC | A | X-ray guide, GI dilation | 0.00 | 3.13 | 3.16 | NA | NA | 0.14 | 3.27 | 3.30 | NA | NA | XXX
74363 |  | A | X-ray, bile duct dilation | 0.88 | 6.36 | 6.46 | 6.36 | 6.46 | 0.31 | 7.55 | 7.65 | 7.55 | 7.65 | XXX
74363 | 26 | A | X-ray, bile duct dilation | 0.88 | 0.31 | 0.34 | 0.31 | 0.34 | 0.04 | 1.23 | 1.26 | 1.23 | 1.26 | XXX
74363 | TC | A | X-ray, bile duct dilation | 0.00 | 6.05 | 6.12 | NA | NA | 0.27 | 6.32 | 6.39 | NA | NA | XXX
74400 |  | A | Contrst x-ray, urinary tract | 0.49 | 1.84 | 1.88 | 1.84 | 1.88 | 0.11 | 2.44 | 2.48 | 2.44 | 2.48 | XXX
74400 | 26 | A | Contrst x-ray, urinary tract | 0.49 | 0.17 | 0.19 | 0.17 | 0.19 | 0.02 | 0.68 | 0.70 | 0.68 | 0.70 | XXX
74400 | TC | A | Contrst x-ray, urinary tract | 0.00 | 1.67 | 1.69 | NA | NA | 0.09 | 1.76 | 1.78 | NA | NA | XXX
74410 |  | A | Contrst x-ray, urinary tract | 0.49 | 2.11 | 2.15 | 2.11 | 2.15 | 0.11 | 2.71 | 2.75 | 2.71 | 2.75 | XXX
74410 | 26 | A | Contrst x-ray, urinary tract | 0.49 | 0.17 | 0.19 | 0.17 | 0.19 | 0.02 | 0.68 | 0.70 | 0.68 | 0.70 | XXX
74410 | TC | A | Contrst x-ray, urinary tract | 0.00 | 1.94 | 1.96 | NA | NA | 0.09 | 2.03 | 2.05 | NA | NA | XXX
74415 |  | A | Contrst x-ray, urinary tract | 0.49 | 2.27 | 2.31 | 2.27 | 2.31 | 0.12 | 2.88 | 2.92 | 2.88 | 2.92 | XXX
74415 | 26 | A | Contrst x-ray, urinary tract | 0.49 | 0.17 | 0.19 | 0.17 | 0.19 | 0.02 | 0.68 | 0.70 | 0.68 | 0.70 | XXX
74415 | TC | A | Contrst x-ray, urinary tract | 0.00 | 2.10 | 2.12 | NA | NA | 0.10 | 2.20 | 2.22 | NA | NA | XXX
74420 |  | A | Contrst x-ray, urinary tract | 0.36 | 2.73 | 2.77 | 2.73 | 2.77 | 0.14 | 3.23 | 3.27 | 3.23 | 3.27 | XXX
74420 | 26 | A | Contrst x-ray, urinary tract | 0.36 | 0.13 | 0.14 | 0.13 | 0.14 | 0.02 | 0.51 | 0.52 | 0.51 | 0.52 | XXX
74420 | TC | A | Contrst x-ray, urinary tract | 0.00 | 2.60 | 2.63 | NA | NA | 0.12 | 2.72 | 2.75 | NA | NA | XXX
74425 |  | A | Contrst x-ray, urinary tract | 0.36 | 1.43 | 1.45 | 1.43 | 1.45 | 0.08 | 1.87 | 1.89 | 1.87 | 1.89 | XXX
74425 | 26 | A | Contrst x-ray, urinary tract | 0.36 | 0.13 | 0.14 | 0.13 | 0.14 | 0.02 | 0.51 | 0.52 | 0.51 | 0.52 | XXX
74425 | TC | A | Contrst x-ray, urinary tract | 0.00 | 1.30 | 1.31 | NA | NA | 0.06 | 1.36 | 1.37 | NA | NA | XXX
74430 |  | A | Contrast x-ray, bladder | 0.32 | 1.16 | 1.18 | 1.16 | 1.18 | 0.07 | 1.55 | 1.57 | 1.55 | 1.57 | XXX
74430 | 26 | A | Contrast x-ray, bladder | 0.32 | 0.11 | 0.12 | 0.11 | 0.12 | 0.02 | 0.45 | 0.46 | 0.45 | 0.46 | XXX
74430 | TC | A | Contrast x-ray, bladder | 0.00 | 1.05 | 1.06 | NA | NA | 0.05 | 1.10 | 1.11 | NA | NA | XXX
74440 |  | A | X-ray, male genital tract | 0.38 | 1.25 | 1.27 | 1.25 | 1.27 | 0.07 | 1.70 | 1.72 | 1.70 | 1.72 | XXX
74440 | 26 | A | X-ray, male genital tract | 0.38 | 0.13 | 0.14 | 0.13 | 0.14 | 0.02 | 0.53 | 0.54 | 0.53 | 0.54 | XXX
74440 | TC | A | X-ray, male genital tract | 0.00 | 1.12 | 1.13 | NA | NA | 0.05 | 1.17 | 1.18 | NA | NA | XXX
74445 |  | A | X-ray exam of penis | 1.14 | 1.52 | 1.57 | 1.52 | 1.57 | 0.10 | 2.76 | 2.81 | 2.76 | 2.81 | XXX
74445 | 26 | A | X-ray exam of penis | 1.14 | 0.40 | 0.44 | 0.40 | 0.44 | 0.05 | 1.59 | 1.63 | 1.59 | 1.63 | XXX
74445 | TC | A | X-ray exam of penis | 0.00 | 1.12 | 1.13 | NA | NA | 0.05 | 1.17 | 1.18 | NA | NA | XXX
74450 |  | A | X-ray, urethra/bladder | 0.33 | 1.57 | 1.60 | 1.57 | 1.60 | 0.09 | 1.99 | 2.02 | 1.99 | 2.02 | XXX
74450 | 26 | A | X-ray, urethra/bladder | 0.33 | 0.12 | 0.13 | 0.12 | 0.13 | 0.02 | 0.47 | 0.48 | 0.47 | 0.48 | XXX
74450 | TC | A | X-ray, urethra/bladder | 0.00 | 1.45 | 1.47 | NA | NA | 0.07 | 1.52 | 1.54 | NA | NA | XXX
74455 |  | A | X-ray, urethra/bladder | 0.33 | 1.69 | 1.72 | 1.69 | 1.72 | 0.10 | 2.12 | 2.15 | 2.12 | 2.15 | XXX
74455 | 26 | A | X-ray, urethra/bladder | 0.33 | 0.12 | 0.13 | 0.12 | 0.13 | 0.02 | 0.47 | 0.48 | 0.47 | 0.48 | XXX
74455 | TC | A | X-ray, urethra/bladder | 0.00 | 1.57 | 1.59 | NA | NA | 0.08 | 1.65 | 1.67 | NA | NA | XXX
74470 |  | A | X-ray exam of kidney lesion | 0.54 | 1.43 | 1.46 | 1.43 | 1.46 | 0.08 | 2.05 | 2.08 | 2.05 | 2.08 | XXX
74470 | 26 | A | X-ray exam of kidney lesion | 0.54 | 0.19 | 0.21 | 0.19 | 0.21 | 0.02 | 0.75 | 0.77 | 0.75 | 0.77 | XXX
74470 | TC | A | X-ray exam of kidney lesion | 0.00 | 1.24 | 1.25 | NA | NA | 0.06 | 1.30 | 1.31 | NA | NA | XXX
74475 |  | A | X-ray control, cath insert | 0.54 | 4.23 | 4.29 | 4.23 | 4.29 | 0.20 | 4.97 | 5.03 | 4.97 | 5.03 | XXX
74475 | 26 | A | X-ray control, cath insert | 0.54 | 0.19 | 0.21 | 0.19 | 0.21 | 0.02 | 0.75 | 0.77 | 0.75 | 0.77 | XXX
74475 | TC | A | X-ray control, cath insert | 0.00 | 4.04 | 4.08 | NA | NA | 0.18 | 4.22 | 4.26 | NA | NA | XXX
74480 |  | A | X-ray control, cath insert | 0.54 | 4.23 | 4.29 | 4.23 | 4.29 | 0.20 | 4.97 | 5.03 | 4.97 | 5.03 | XXX
74480 | 26 | A | X-ray control, cath insert | 0.54 | 0.19 | 0.21 | 0.19 | 0.21 | 0.02 | 0.75 | 0.77 | 0.75 | 0.77 | XXX
74480 | TC | A | X-ray control, cath insert | 0.00 | 4.04 | 4.08 | NA | NA | 0.18 | 4.22 | 4.26 | NA | NA | XXX
74485 |  | A | X-ray guide, GU dilation | 0.54 | 3.32 | 3.37 | 3.32 | 3.37 | 0.17 | 4.03 | 4.08 | 4.03 | 4.08 | XXX
74485 | 26 | A | X-ray guide, GU dilation | 0.54 | 0.19 | 0.21 | 0.19 | 0.21 | 0.03 | 0.76 | 0.78 | 0.76 | 0.78 | XXX
74485 | TC | A | X-ray guide, GU dilation | 0.00 | 3.13 | 3.16 | NA | NA | 0.14 | 3.27 | 3.30 | NA | NA | XXX
74710 |  | A | X-ray measurement of pelvis | 0.34 | 1.17 | 1.19 | 1.17 | 1.19 | 0.07 | 1.58 | 1.60 | 1.58 | 1.60 | XXX
74710 | 26 | A | X-ray measurement of pelvis | 0.34 | 0.12 | 0.13 | 0.12 | 0.13 | 0.02 | 0.48 | 0.49 | 0.48 | 0.49 | XXX
74710 | TC | A | X-ray measurement of pelvis | 0.00 | 1.05 | 1.06 | NA | NA | 0.05 | 1.10 | 1.11 | NA | NA | XXX
74740 |  | A | X-ray, female genital tract | 0.38 | 1.44 | 1.46 | 1.44 | 1.46 | 0.08 | 1.90 | 1.92 | 1.90 | 1.92 | XXX
74740 | 26 | A | X-ray, female genital tract | 0.38 | 0.14 | 0.15 | 0.14 | 0.15 | 0.02 | 0.54 | 0.55 | 0.54 | 0.55 | XXX
74740 | TC | A | X-ray, female genital tract | 0.00 | 1.30 | 1.31 | NA | NA | 0.06 | 1.36 | 1.37 | NA | NA | XXX
74742 |  | A | X-ray, fallopian tube | 0.61 | 3.36 | 3.40 | 3.36 | 3.40 | 0.16 | 4.13 | 4.17 | 4.13 | 4.17 | XXX
74742 | 26 | A | X-ray, fallopian tube | 0.61 | 0.23 | 0.24 | 0.23 | 0.24 | 0.02 | 0.86 | 0.87 | 0.86 | 0.87 | XXX
74742 | TC | A | X-ray, fallopian tube | 0.00 | 3.13 | 3.16 | NA | NA | 0.14 | 3.27 | 3.30 | NA | NA | XXX
74775 |  | A | X-ray exam of perineum | 0.62 | 1.67 | 1.71 | 1.67 | 1.71 | 0.10 | 2.39 | 2.43 | 2.39 | 2.43 | XXX
74775 | 26 | A | X-ray exam of perineum | 0.62 | 0.22 | 0.24 | 0.22 | 0.24 | 0.03 | 0.87 | 0.89 | 0.87 | 0.89 | XXX
74775 | TC | A | X-ray exam of perineum | 0.00 | 1.45 | 1.47 | NA | NA | 0.07 | 1.52 | 1.54 | NA | NA | XXX
75552 |  | A | Heart mri for morph w/o dye | 1.60 | 11.70 | 11.87 | 11.70 | 11.87 | 0.56 | 13.86 | 14.03 | 13.86 | 14.03 | XXX
75552 | 26 | A | Heart mri for morph w/o dye | 1.60 | 0.57 | 0.62 | 0.57 | 0.62 | 0.07 | 2.24 | 2.29 | 2.24 | 2.29 | XXX
75552 | TC | A | Heart mri for morph w/o dye | 0.00 | 11.13 | 11.25 | NA | NA | 0.49 | 11.62 | 11.74 | NA | NA | XXX
75553 |  | A | Heart mri for morph w/dye | 2.00 | 11.84 | 11.98 | 11.84 | 11.98 | 0.58 | 14.42 | 14.56 | 14.42 | 14.56 | XXX
75553 | 26 | A | Heart mri for morph w/dye | 2.00 | 0.71 | 0.73 | 0.71 | 0.73 | 0.09 | 2.80 | 2.82 | 2.80 | 2.82 | XXX
75553 | TC | A | Heart mri for morph w/dye | 0.00 | 11.13 | 11.25 | NA | NA | 0.49 | 11.62 | 11.74 | NA | NA | XXX
75554 |  | A | Cardiac MRI/function | 1.83 | 11.84 | 11.98 | 11.84 | 11.98 | 0.56 | 14.23 | 14.37 | 14.23 | 14.37 | XXX
75554 | 26 | A | Cardiac MRI/function | 1.83 | 0.71 | 0.73 | 0.71 | 0.73 | 0.07 | 2.61 | 2.63 | 2.61 | 2.63 | XXX
75554 | TC | A | Cardiac MRI/function | 0.00 | 11.13 | 11.25 | NA | NA | 0.49 | 11.62 | 11.74 | NA | NA | XXX
75555 |  | A | Cardiac MRI/limited study | 1.74 | 11.82 | 11.96 | 11.82 | 11.96 | 0.56 | 14.12 | 14.26 | 14.12 | 14.26 | XXX
75555 | 26 | A | Cardiac MRI/limited study | 1.74 | 0.69 | 0.71 | 0.69 | 0.71 | 0.07 | 2.50 | 2.52 | 2.50 | 2.52 | XXX
75555 | TC | A | Cardiac MRI/limited study | 0.00 | 11.13 | 11.25 | NA | NA | 0.49 | 11.62 | 11.74 | NA | NA | XXX
75556 |  | N | Cardiac MRI/flow mapping | 0.00 | 0.00 | 0.00 | 0.00 | 0.00 | 0.00 | 0.00 | 0.00 | 0.00 | 0.00 | XXX
75600 |  | A | Contrast x-ray exam of aorta | 0.49 | 12.72 | 12.86 | 12.72 | 12.86 | 0.56 | 13.77 | 13.91 | 13.77 | 13.91 | XXX
75600 | 26 | A | Contrast x-ray exam of aorta | 0.49 | 0.21 | 0.22 | 0.21 | 0.22 | 0.02 | 0.72 | 0.73 | 0.72 | 0.73 | XXX
75600 | TC | A | Contrast x-ray exam of aorta | 0.00 | 12.51 | 12.64 | NA | NA | 0.54 | 13.05 | 13.18 | NA | NA | XXX
75605 |  | A | Contrast x-ray exam of aorta | 1.14 | 12.95 | 13.11 | 12.95 | 13.11 | 0.59 | 14.68 | 14.84 | 14.68 | 14.84 | XXX
75605 | 26 | A | Contrast x-ray exam of aorta | 1.14 | 0.44 | 0.47 | 0.44 | 0.47 | 0.05 | 1.63 | 1.66 | 1.63 | 1.66 | XXX
75605 | TC | A | Contrast x-ray exam of aorta | 0.00 | 12.51 | 12.64 | NA | NA | 0.54 | 13.05 | 13.18 | NA | NA | XXX
75625 |  | A | Contrast x-ray exam of aorta | 1.14 | 12.92 | 13.08 | 12.92 | 13.08 | 0.59 | 14.65 | 14.81 | 14.65 | 14.81 | XXX
75625 | 26 | A | Contrast x-ray exam of aorta | 1.14 | 0.41 | 0.44 | 0.41 | 0.44 | 0.05 | 1.60 | 1.63 | 1.60 | 1.63 | XXX
75625 | TC | A | Contrast x-ray exam of aorta | 0.00 | 12.51 | 12.64 | NA | NA | 0.54 | 13.05 | 13.18 | NA | NA | XXX
75630 |  | A | X-ray aorta, leg arteries | 1.79 | 13.72 | 13.85 | 13.72 | 13.85 | 0.65 | 16.16 | 16.29 | 16.16 | 16.29 | XXX
75630 | 26 | A | X-ray aorta, leg arteries | 1.79 | 0.68 | 0.67 | 0.68 | 0.67 | 0.08 | 2.55 | 2.54 | 2.55 | 2.54 | XXX
75630 | TC | A | X-ray aorta, leg arteries | 0.00 | 13.04 | 13.18 | NA | NA | 0.57 | 13.61 | 13.75 | NA | NA | XXX
75635 |  | A | Ct angio abdominal arteries | 1.89 | 9.19 | 9.19 | 9.19 | 9.19 | 0.37 | 11.45 | 11.45 | 11.45 | 11.45 | XXX
75635 | 26 | A | Ct angio abdominal arteries | 1.89 | 0.76 | 0.76 | 0.76 | 0.76 | 0.05 | 2.70 | 2.70 | 2.70 | 2.70 | XXX
75635 | TC | A | Ct angio abdominal arteries | 0.00 | 8.43 | 8.43 | NA | NA | 0.32 | 8.75 | 8.75 | NA | NA | XXX
75650 |  | A | Artery x-rays, head & neck | 1.49 | 13.04 | 13.22 | 13.04 | 13.22 | 0.61 | 15.14 | 15.32 | 15.14 | 15.32 | XXX
75650 | 26 | A | Artery x-rays, head & neck | 1.49 | 0.53 | 0.58 | 0.53 | 0.58 | 0.07 | 2.09 | 2.14 | 2.09 | 2.14 | XXX
75650 | TC | A | Artery x-rays, head & neck | 0.00 | 12.51 | 12.64 | NA | NA | 0.54 | 13.05 | 13.18 | NA | NA | XXX
75658 |  | A | Artery x-rays, arm | 1.31 | 13.04 | 13.20 | 13.04 | 13.20 | 0.60 | 14.95 | 15.11 | 14.95 | 15.11 | XXX
75658 | 26 | A | Artery x-rays, arm | 1.31 | 0.53 | 0.56 | 0.53 | 0.56 | 0.06 | 1.90 | 1.93 | 1.90 | 1.93 | XXX
75658 | TC | A | Artery x-rays, arm | 0.00 | 12.51 | 12.64 | NA | NA | 0.54 | 13.05 | 13.18 | NA | NA | XXX
75660 |  | A | Artery x-rays, head & neck | 1.31 | 13.00 | 13.17 | 13.00 | 13.17 | 0.60 | 14.91 | 15.08 | 14.91 | 15.08 | XXX
75660 | 26 | A | Artery x-rays, head & neck | 1.31 | 0.49 | 0.53 | 0.49 | 0.53 | 0.06 | 1.86 | 1.90 | 1.86 | 1.90 | XXX
75660 | TC | A | Artery x-rays, head & neck | 0.00 | 12.51 | 12.64 | NA | NA | 0.54 | 13.05 | 13.18 | NA | NA | XXX
75662 |  | A | Artery x-rays, head & neck | 1.66 | 13.16 | 13.33 | 13.16 | 13.33 | 0.62 | 15.44 | 15.61 | 15.44 | 15.61 | XXX
75662 | 26 | A | Artery x-rays, head & neck | 1.66 | 0.65 | 0.69 | 0.65 | 0.69 | 0.08 | 2.39 | 2.43 | 2.39 | 2.43 | XXX
75662 | TC | A | Artery x-rays, head & neck | 0.00 | 12.51 | 12.64 | NA | NA | 0.54 | 13.05 | 13.18 | NA | NA | XXX
75665 |  | A | Artery x-rays, head & neck | 1.31 | 12.99 | 13.16 | 12.99 | 13.16 | 0.61 | 14.91 | 15.08 | 14.91 | 15.08 | XXX
75665 | 26 | A | Artery x-rays, head & neck | 1.31 | 0.48 | 0.52 | 0.48 | 0.52 | 0.07 | 1.86 | 1.90 | 1.86 | 1.90 | XXX
75665 | TC | A | Artery x-rays, head & neck | 0.00 | 12.51 | 12.64 | NA | NA | 0.54 | 13.05 | 13.18 | NA | NA | XXX
75671 |  | A | Artery x-rays, head & neck | 1.66 | 13.11 | 13.29 | 13.11 | 13.29 | 0.62 | 15.39 | 15.57 | 15.39 | 15.57 | XXX
75671 | 26 | A | Artery x-rays, head & neck | 1.66 | 0.60 | 0.65 | 0.60 | 0.65 | 0.08 | 2.34 | 2.39 | 2.34 | 2.39 | XXX
75671 | TC | A | Artery x-rays, head & neck | 0.00 | 12.51 | 12.64 | NA | NA | 0.54 | 13.05 | 13.18 | NA | NA | XXX
75676 |  | A | Artery x-rays, neck | 1.31 | 12.99 | 13.16 | 12.99 | 13.16 | 0.61 | 14.91 | 15.08 | 14.91 | 15.08 | XXX
75676 | 26 | A | Artery x-rays, neck | 1.31 | 0.48 | 0.52 | 0.48 | 0.52 | 0.07 | 1.86 | 1.90 | 1.86 | 1.90 | XXX
75676 | TC | A | Artery x-rays, neck | 0.00 | 12.51 | 12.64 | NA | NA | 0.54 | 13.05 | 13.18 | NA | NA | XXX
75680 |  | A | Artery x-rays, neck | 1.66 | 13.11 | 13.29 | 13.11 | 13.29 | 0.62 | 15.39 | 15.57 | 15.39 | 15.57 | XXX
75680 | 26 | A | Artery x-rays, neck | 1.66 | 0.60 | 0.65 | 0.60 | 0.65 | 0.08 | 2.34 | 2.39 | 2.34 | 2.39 | XXX
75680 | TC | A | Artery x-rays, neck | 0.00 | 12.51 | 12.64 | NA | NA | 0.54 | 13.05 | 13.18 | NA | NA | XXX
75685 |  | A | Artery x-rays, spine | 1.31 | 12.98 | 13.15 | 12.98 | 13.15 | 0.60 | 14.89 | 15.06 | 14.89 | 15.06 | XXX
75685 | 26 | A | Artery x-rays, spine | 1.31 | 0.47 | 0.51 | 0.47 | 0.51 | 0.06 | 1.84 | 1.88 | 1.84 | 1.88 | XXX
75685 | TC | A | Artery x-rays, spine | 0.00 | 12.51 | 12.64 | NA | NA | 0.54 | 13.05 | 13.18 | NA | NA | XXX
75705 |  | A | Artery x-rays, spine | 2.18 | 13.29 | 13.49 | 13.29 | 13.49 | 0.65 | 16.12 | 16.32 | 16.12 | 16.32 | XXX
75705 | 26 | A | Artery x-rays, spine | 2.18 | 0.78 | 0.85 | 0.78 | 0.85 | 0.11 | 3.07 | 3.14 | 3.07 | 3.14 | XXX
75705 | TC | A | Artery x-rays, spine | 0.00 | 12.51 | 12.64 | NA | NA | 0.54 | 13.05 | 13.18 | NA | NA | XXX
75710 |  | A | Artery x-rays, arm/leg | 1.14 | 12.93 | 13.09 | 12.93 | 13.09 | 0.60 | 14.67 | 14.83 | 14.67 | 14.83 | XXX
75710 | 26 | A | Artery x-rays, arm/leg | 1.14 | 0.42 | 0.45 | 0.42 | 0.45 | 0.06 | 1.62 | 1.65 | 1.62 | 1.65 | XXX
75710 | TC | A | Artery x-rays, arm/leg | 0.00 | 12.51 | 12.64 | NA | NA | 0.54 | 13.05 | 13.18 | NA | NA | XXX
75716 |  | A | Artery x-rays, arms/legs | 1.31 | 12.98 | 13.15 | 12.98 | 13.15 | 0.60 | 14.89 | 15.06 | 14.89 | 15.06 | XXX
75716 | 26 | A | Artery x-rays, arms/legs | 1.31 | 0.47 | 0.51 | 0.47 | 0.51 | 0.06 | 1.84 | 1.88 | 1.84 | 1.88 | XXX
75716 | TC | A | Artery x-rays, arms/legs | 0.00 | 12.51 | 12.64 | NA | NA | 0.54 | 13.05 | 13.18 | NA | NA | XXX
75722 |  | A | Artery x-rays, kidney | 1.14 | 12.95 | 13.11 | 12.95 | 13.11 | 0.59 | 14.68 | 14.84 | 14.68 | 14.84 | XXX
75722 | 26 | A | Artery x-rays, kidney | 1.14 | 0.44 | 0.47 | 0.44 | 0.47 | 0.05 | 1.63 | 1.66 | 1.63 | 1.66 | XXX
75722 | TC | A | Artery x-rays, kidney | 0.00 | 12.51 | 12.64 | NA | NA | 0.54 | 13.05 | 13.18 | NA | NA | XXX
75724 |  | A | Artery x-rays, kidneys | 1.49 | 13.13 | 13.29 | 13.13 | 13.29 | 0.59 | 15.21 | 15.37 | 15.21 | 15.37 | XXX
75724 | 26 | A | Artery x-rays, kidneys | 1.49 | 0.62 | 0.65 | 0.62 | 0.65 | 0.05 | 2.16 | 2.19 | 2.16 | 2.19 | XXX
75724 | TC | A | Artery x-rays, kidneys | 0.00 | 12.51 | 12.64 | NA | NA | 0.54 | 13.05 | 13.18 | NA | NA | XXX
75726 |  | A | Artery x-rays, abdomen | 1.14 | 12.92 | 13.08 | 12.92 | 13.08 | 0.59 | 14.65 | 14.81 | 14.65 | 14.81 | XXX
75726 | 26 | A | Artery x-rays, abdomen | 1.14 | 0.41 | 0.44 | 0.41 | 0.44 | 0.05 | 1.60 | 1.63 | 1.60 | 1.63 | XXX
75726 | TC | A | Artery x-rays, abdomen | 0.00 | 12.51 | 12.64 | NA | NA | 0.54 | 13.05 | 13.18 | NA | NA | XXX
75731 |  | A | Artery x-rays, adrenal gland | 1.14 | 12.92 | 13.08 | 12.92 | 13.08 | 0.59 | 14.65 | 14.81 | 14.65 | 14.81 | XXX
75731 | 26 | A | Artery x-rays, adrenal gland | 1.14 | 0.41 | 0.44 | 0.41 | 0.44 | 0.05 | 1.60 | 1.63 | 1.60 | 1.63 | XXX
75731 | TC | A | Artery x-rays, adrenal gland | 0.00 | 12.51 | 12.64 | NA | NA | 0.54 | 13.05 | 13.18 | NA | NA | XXX
75733 |  | A | Artery x-rays, adrenals | 1.31 | 12.99 | 13.16 | 12.99 | 13.16 | 0.60 | 14.90 | 15.07 | 14.90 | 15.07 | XXX
75733 | 26 | A | Artery x-rays, adrenals | 1.31 | 0.48 | 0.52 | 0.48 | 0.52 | 0.06 | 1.85 | 1.89 | 1.85 | 1.89 | XXX
75733 | TC | A | Artery x-rays, adrenals | 0.00 | 12.51 | 12.64 | NA | NA | 0.54 | 13.05 | 13.18 | NA | NA | XXX
75736 |  | A | Artery x-rays, pelvis | 1.14 | 12.92 | 13.08 | 12.92 | 13.08 | 0.59 | 14.65 | 14.81 | 14.65 | 14.81 | XXX
75736 | 26 | A | Artery x-rays, pelvis | 1.14 | 0.41 | 0.44 | 0.41 | 0.44 | 0.05 | 1.60 | 1.63 | 1.60 | 1.63 | XXX
75736 | TC | A | Artery x-rays, pelvis | 0.00 | 12.51 | 12.64 | NA | NA | 0.54 | 13.05 | 13.18 | NA | NA | XXX
75741 |  | A | Artery x-rays, lung | 1.31 | 12.98 | 13.15 | 12.98 | 13.15 | 0.60 | 14.89 | 15.06 | 14.89 | 15.06 | XXX
75741 | 26 | A | Artery x-rays, lung | 1.31 | 0.47 | 0.51 | 0.47 | 0.51 | 0.06 | 1.84 | 1.88 | 1.84 | 1.88 | XXX
75741 | TC | A | Artery x-rays, lung | 0.00 | 12.51 | 12.64 | NA | NA | 0.54 | 13.05 | 13.18 | NA | NA | XXX
75743 |  | A | Artery x-rays, lungs | 1.66 | 13.10 | 13.28 | 13.10 | 13.28 | 0.61 | 15.37 | 15.55 | 15.37 | 15.55 | XXX
75743 | 26 | A | Artery x-rays, lungs | 1.66 | 0.59 | 0.64 | 0.59 | 0.64 | 0.07 | 2.32 | 2.37 | 2.32 | 2.37 | XXX
75743 | TC | A | Artery x-rays, lungs | 0.00 | 12.51 | 12.64 | NA | NA | 0.54 | 13.05 | 13.18 | NA | NA | XXX
75746 |  | A | Artery x-rays, lung | 1.14 | 12.92 | 13.08 | 12.92 | 13.08 | 0.59 | 14.65 | 14.81 | 14.65 | 14.81 | XXX
75746 | 26 | A | Artery x-rays, lung | 1.14 | 0.41 | 0.44 | 0.41 | 0.44 | 0.05 | 1.60 | 1.63 | 1.60 | 1.63 | XXX
75746 | TC | A | Artery x-rays, lung | 0.00 | 12.51 | 12.64 | NA | NA | 0.54 | 13.05 | 13.18 | NA | NA | XXX
75756 |  | A | Artery x-rays, chest | 1.14 | 13.00 | 13.14 | 13.00 | 13.14 | 0.58 | 14.72 | 14.86 | 14.72 | 14.86 | XXX
75756 | 26 | A | Artery x-rays, chest | 1.14 | 0.49 | 0.50 | 0.49 | 0.50 | 0.04 | 1.67 | 1.68 | 1.67 | 1.68 | XXX
75756 | TC | A | Artery x-rays, chest | 0.00 | 12.51 | 12.64 | NA | NA | 0.54 | 13.05 | 13.18 | NA | NA | XXX
75774 |  | A | Artery x-ray, each vessel | 0.36 | 12.65 | 12.79 | 12.65 | 12.79 | 0.56 | 13.57 | 13.71 | 13.57 | 13.71 | ZZZ
75774 | 26 | A | Artery x-ray, each vessel | 0.36 | 0.14 | 0.15 | 0.14 | 0.15 | 0.02 | 0.52 | 0.53 | 0.52 | 0.53 | ZZZ
75774 | TC | A | Artery x-ray, each vessel | 0.00 | 12.51 | 12.64 | NA | NA | 0.54 | 13.05 | 13.18 | NA | NA | ZZZ
75790 |  | A | Visualize A-V shunt | 1.84 | 2.00 | 2.07 | 2.00 | 2.07 | 0.16 | 4.00 | 4.07 | 4.00 | 4.07 | XXX
75790 | 26 | A | Visualize A-V shunt | 1.84 | 0.65 | 0.71 | 0.65 | 0.71 | 0.09 | 2.58 | 2.64 | 2.58 | 2.64 | XXX
75790 | TC | A | Visualize A-V shunt | 0.00 | 1.35 | 1.36 | NA | NA | 0.07 | 1.42 | 1.43 | NA | NA | XXX
75801 |  | A | Lymph vessel x-ray, arm/leg | 0.81 | 5.66 | 5.75 | 5.66 | 5.75 | 0.29 | 6.76 | 6.85 | 6.76 | 6.85 | XXX
75801 | 26 | A | Lymph vessel x-ray, arm/leg | 0.81 | 0.29 | 0.32 | 0.29 | 0.32 | 0.05 | 1.15 | 1.18 | 1.15 | 1.18 | XXX
75801 | TC | A | Lymph vessel x-ray, arm/leg | 0.00 | 5.37 | 5.43 | NA | NA | 0.24 | 5.61 | 5.67 | NA | NA | XXX
75803 |  | A | Lymph vessel x-ray,arms/legs | 1.17 | 5.79 | 5.88 | 5.79 | 5.88 | 0.29 | 7.25 | 7.34 | 7.25 | 7.34 | XXX
75803 | 26 | A | Lymph vessel x-ray,arms/legs | 1.17 | 0.42 | 0.45 | 0.42 | 0.45 | 0.05 | 1.64 | 1.67 | 1.64 | 1.67 | XXX
75803 | TC | A | Lymph vessel x-ray,arms/legs | 0.00 | 5.37 | 5.43 | NA | NA | 0.24 | 5.61 | 5.67 | NA | NA | XXX
75805 |  | A | Lymph vessel x-ray, trunk | 0.81 | 6.34 | 6.44 | 6.34 | 6.44 | 0.31 | 7.46 | 7.56 | 7.46 | 7.56 | XXX
75805 | 26 | A | Lymph vessel x-ray, trunk | 0.81 | 0.29 | 0.32 | 0.29 | 0.32 | 0.04 | 1.14 | 1.17 | 1.14 | 1.17 | XXX
75805 | TC | A | Lymph vessel x-ray, trunk | 0.00 | 6.05 | 6.12 | NA | NA | 0.27 | 6.32 | 6.39 | NA | NA | XXX
75807 |  | A | Lymph vessel x-ray, trunk | 1.17 | 6.47 | 6.57 | 6.47 | 6.57 | 0.32 | 7.96 | 8.06 | 7.96 | 8.06 | XXX
75807 | 26 | A | Lymph vessel x-ray, trunk | 1.17 | 0.42 | 0.45 | 0.42 | 0.45 | 0.05 | 1.64 | 1.67 | 1.64 | 1.67 | XXX
75807 | TC | A | Lymph vessel x-ray, trunk | 0.00 | 6.05 | 6.12 | NA | NA | 0.27 | 6.32 | 6.39 | NA | NA | XXX
75809 |  | A | Nonvascular shunt, x-ray | 0.47 | 0.95 | 0.97 | 0.95 | 0.97 | 0.06 | 1.48 | 1.50 | 1.48 | 1.50 | XXX
75809 | 26 | A | Nonvascular shunt, x-ray | 0.47 | 0.17 | 0.18 | 0.17 | 0.18 | 0.02 | 0.66 | 0.67 | 0.66 | 0.67 | XXX
75809 | TC | A | Nonvascular shunt, x-ray | 0.00 | 0.78 | 0.79 | NA | NA | 0.04 | 0.82 | 0.83 | NA | NA | XXX
75810 |  | A | Vein x-ray, spleen/liver | 1.14 | 12.91 | 13.08 | 12.91 | 13.08 | 0.60 | 14.65 | 14.82 | 14.65 | 14.82 | XXX
75810 | 26 | A | Vein x-ray, spleen/liver | 1.14 | 0.40 | 0.44 | 0.40 | 0.44 | 0.06 | 1.60 | 1.64 | 1.60 | 1.64 | XXX
75810 | TC | A | Vein x-ray, spleen/liver | 0.00 | 12.51 | 12.64 | NA | NA | 0.54 | 13.05 | 13.18 | NA | NA | XXX
75820 |  | A | Vein x-ray, arm/leg | 0.70 | 1.19 | 1.23 | 1.19 | 1.23 | 0.08 | 1.97 | 2.01 | 1.97 | 2.01 | XXX
75820 | 26 | A | Vein x-ray, arm/leg | 0.70 | 0.25 | 0.28 | 0.25 | 0.28 | 0.03 | 0.98 | 1.01 | 0.98 | 1.01 | XXX
75820 | TC | A | Vein x-ray, arm/leg | 0.00 | 0.94 | 0.95 | NA | NA | 0.05 | 0.99 | 1.00 | NA | NA | XXX
75822 |  | A | Vein x-ray, arms/legs | 1.06 | 1.85 | 1.90 | 1.85 | 1.90 | 0.12 | 3.03 | 3.08 | 3.03 | 3.08 | XXX
75822 | 26 | A | Vein x-ray, arms/legs | 1.06 | 0.38 | 0.41 | 0.38 | 0.41 | 0.05 | 1.49 | 1.52 | 1.49 | 1.52 | XXX
75822 | TC | A | Vein x-ray, arms/legs | 0.00 | 1.47 | 1.49 | NA | NA | 0.07 | 1.54 | 1.56 | NA | NA | XXX
75825 |  | A | Vein x-ray, trunk | 1.14 | 12.92 | 13.08 | 12.92 | 13.08 | 0.60 | 14.66 | 14.82 | 14.66 | 14.82 | XXX
75825 | 26 | A | Vein x-ray, trunk | 1.14 | 0.41 | 0.44 | 0.41 | 0.44 | 0.06 | 1.61 | 1.64 | 1.61 | 1.64 | XXX
75825 | TC | A | Vein x-ray, trunk | 0.00 | 12.51 | 12.64 | NA | NA | 0.54 | 13.05 | 13.18 | NA | NA | XXX
75827 |  | A | Vein x-ray, chest | 1.14 | 12.91 | 13.08 | 12.91 | 13.08 | 0.59 | 14.64 | 14.81 | 14.64 | 14.81 | XXX
75827 | 26 | A | Vein x-ray, chest | 1.14 | 0.40 | 0.44 | 0.40 | 0.44 | 0.05 | 1.59 | 1.63 | 1.59 | 1.63 | XXX
75827 | TC | A | Vein x-ray, chest | 0.00 | 12.51 | 12.64 | NA | NA | 0.54 | 13.05 | 13.18 | NA | NA | XXX
75831 |  | A | Vein x-ray, kidney | 1.14 | 12.91 | 13.08 | 12.91 | 13.08 | 0.59 | 14.64 | 14.81 | 14.64 | 14.81 | XXX
75831 | 26 | A | Vein x-ray, kidney | 1.14 | 0.40 | 0.44 | 0.40 | 0.44 | 0.05 | 1.59 | 1.63 | 1.59 | 1.63 | XXX
75831 | TC | A | Vein x-ray, kidney | 0.00 | 12.51 | 12.64 | NA | NA | 0.54 | 13.05 | 13.18 | NA | NA | XXX
75833 |  | A | Vein x-ray, kidneys | 1.49 | 13.04 | 13.22 | 13.04 | 13.22 | 0.61 | 15.14 | 15.32 | 15.14 | 15.32 | XXX
75833 | 26 | A | Vein x-ray, kidneys | 1.49 | 0.53 | 0.58 | 0.53 | 0.58 | 0.07 | 2.09 | 2.14 | 2.09 | 2.14 | XXX
75833 | TC | A | Vein x-ray, kidneys | 0.00 | 12.51 | 12.64 | NA | NA | 0.54 | 13.05 | 13.18 | NA | NA | XXX
75840 |  | A | Vein x-ray, adrenal gland | 1.14 | 12.92 | 13.08 | 12.92 | 13.08 | 0.61 | 14.67 | 14.83 | 14.67 | 14.83 | XXX
75840 | 26 | A | Vein x-ray, adrenal gland | 1.14 | 0.41 | 0.44 | 0.41 | 0.44 | 0.07 | 1.62 | 1.65 | 1.62 | 1.65 | XXX
75840 | TC | A | Vein x-ray, adrenal gland | 0.00 | 12.51 | 12.64 | NA | NA | 0.54 | 13.05 | 13.18 | NA | NA | XXX
75842 |  | A | Vein x-ray, adrenal glands | 1.49 | 13.03 | 13.21 | 13.03 | 13.21 | 0.61 | 15.13 | 15.31 | 15.13 | 15.31 | XXX
75842 | 26 | A | Vein x-ray, adrenal glands | 1.49 | 0.52 | 0.57 | 0.52 | 0.57 | 0.07 | 2.08 | 2.13 | 2.08 | 2.13 | XXX
75842 | TC | A | Vein x-ray, adrenal glands | 0.00 | 12.51 | 12.64 | NA | NA | 0.54 | 13.05 | 13.18 | NA | NA | XXX
75860 |  | A | Vein x-ray, neck | 1.14 | 12.94 | 13.10 | 12.94 | 13.10 | 0.60 | 14.68 | 14.84 | 14.68 | 14.84 | XXX
75860 | 26 | A | Vein x-ray, neck | 1.14 | 0.43 | 0.46 | 0.43 | 0.46 | 0.06 | 1.63 | 1.66 | 1.63 | 1.66 | XXX
75860 | TC | A | Vein x-ray, neck | 0.00 | 12.51 | 12.64 | NA | NA | 0.54 | 13.05 | 13.18 | NA | NA | XXX
75870 |  | A | Vein x-ray, skull | 1.14 | 12.93 | 13.09 | 12.93 | 13.09 | 0.60 | 14.67 | 14.83 | 14.67 | 14.83 | XXX
75870 | 26 | A | Vein x-ray, skull | 1.14 | 0.42 | 0.45 | 0.42 | 0.45 | 0.06 | 1.62 | 1.65 | 1.62 | 1.65 | XXX
75870 | TC | A | Vein x-ray, skull | 0.00 | 12.51 | 12.64 | NA | NA | 0.54 | 13.05 | 13.18 | NA | NA | XXX
75872 |  | A | Vein x-ray, skull | 1.14 | 12.91 | 13.08 | 12.91 | 13.08 | 0.59 | 14.64 | 14.81 | 14.64 | 14.81 | XXX
75872 | 26 | A | Vein x-ray, skull | 1.14 | 0.40 | 0.44 | 0.40 | 0.44 | 0.05 | 1.59 | 1.63 | 1.59 | 1.63 | XXX
75872 | TC | A | Vein x-ray, skull | 0.00 | 12.51 | 12.64 | NA | NA | 0.54 | 13.05 | 13.18 | NA | NA | XXX
75880 |  | A | Vein x-ray, eye socket | 0.70 | 1.19 | 1.23 | 1.19 | 1.23 | 0.08 | 1.97 | 2.01 | 1.97 | 2.01 | XXX
75880 | 26 | A | Vein x-ray, eye socket | 0.70 | 0.25 | 0.28 | 0.25 | 0.28 | 0.03 | 0.98 | 1.01 | 0.98 | 1.01 | XXX
75880 | TC | A | Vein x-ray, eye socket | 0.00 | 0.94 | 0.95 | NA | NA | 0.05 | 0.99 | 1.00 | NA | NA | XXX
75885 |  | A | Vein x-ray, liver | 1.44 | 13.02 | 13.20 | 13.02 | 13.20 | 0.60 | 15.06 | 15.24 | 15.06 | 15.24 | XXX
75885 | 26 | A | Vein x-ray, liver | 1.44 | 0.51 | 0.56 | 0.51 | 0.56 | 0.06 | 2.01 | 2.06 | 2.01 | 2.06 | XXX
75885 | TC | A | Vein x-ray, liver | 0.00 | 12.51 | 12.64 | NA | NA | 0.54 | 13.05 | 13.18 | NA | NA | XXX
75887 |  | A | Vein x-ray, liver | 1.44 | 13.02 | 13.20 | 13.02 | 13.20 | 0.60 | 15.06 | 15.24 | 15.06 | 15.24 | XXX
75887 | 26 | A | Vein x-ray, liver | 1.44 | 0.51 | 0.56 | 0.51 | 0.56 | 0.06 | 2.01 | 2.06 | 2.01 | 2.06 | XXX
75887 | TC | A | Vein x-ray, liver | 0.00 | 12.51 | 12.64 | NA | NA | 0.54 | 13.05 | 13.18 | NA | NA | XXX
75889 |  | A | Vein x-ray, liver | 1.14 | 12.91 | 13.08 | 12.91 | 13.08 | 0.59 | 14.64 | 14.81 | 14.64 | 14.81 | XXX
75889 | 26 | A | Vein x-ray, liver | 1.14 | 0.40 | 0.44 | 0.40 | 0.44 | 0.05 | 1.59 | 1.63 | 1.59 | 1.63 | XXX
75889 | TC | A | Vein x-ray, liver | 0.00 | 12.51 | 12.64 | NA | NA | 0.54 | 13.05 | 13.18 | NA | NA | XXX
75891 |  | A | Vein x-ray, liver | 1.14 | 12.91 | 13.08 | 12.91 | 13.08 | 0.59 | 14.64 | 14.81 | 14.64 | 14.81 | XXX
75891 | 26 | A | Vein x-ray, liver | 1.14 | 0.40 | 0.44 | 0.40 | 0.44 | 0.05 | 1.59 | 1.63 | 1.59 | 1.63 | XXX
75891 | TC | A | Vein x-ray, liver | 0.00 | 12.51 | 12.64 | NA | NA | 0.54 | 13.05 | 13.18 | NA | NA | XXX
75893 |  | A | Venous sampling by catheter | 0.54 | 12.70 | 12.85 | 12.70 | 12.85 | 0.56 | 13.80 | 13.95 | 13.80 | 13.95 | XXX
75893 | 26 | A | Venous sampling by catheter | 0.54 | 0.19 | 0.21 | 0.19 | 0.21 | 0.02 | 0.75 | 0.77 | 0.75 | 0.77 | XXX
75893 | TC | A | Venous sampling by catheter | 0.00 | 12.51 | 12.64 | NA | NA | 0.54 | 13.05 | 13.18 | NA | NA | XXX
75894 |  | A | X-rays, transcath therapy | 1.31 | 24.43 | 24.72 | 24.43 | 24.72 | 1.12 | 26.86 | 27.15 | 26.86 | 27.15 | XXX
75894 | 26 | A | X-rays, transcath therapy | 1.31 | 0.47 | 0.51 | 0.47 | 0.51 | 0.07 | 1.85 | 1.89 | 1.85 | 1.89 | XXX
75894 | TC | A | X-rays, transcath therapy | 0.00 | 23.96 | 24.21 | NA | NA | 1.05 | 25.01 | 25.26 | NA | NA | XXX
75896 |  | A | X-rays, transcath therapy | 1.31 | 21.32 | 21.58 | 21.32 | 21.58 | 0.97 | 23.60 | 23.86 | 23.60 | 23.86 | XXX
75896 | 26 | A | X-rays, transcath therapy | 1.31 | 0.48 | 0.52 | 0.48 | 0.52 | 0.06 | 1.85 | 1.89 | 1.85 | 1.89 | XXX
75896 | TC | A | X-rays, transcath therapy | 0.00 | 20.84 | 21.06 | NA | NA | 0.91 | 21.75 | 21.97 | NA | NA | XXX
75898 |  | A | Follow-up angiogram | 1.65 | 1.65 | 1.71 | 1.65 | 1.71 | 0.12 | 3.42 | 3.48 | 3.42 | 3.48 | XXX
75898 | 26 | A | Follow-up angiogram | 1.65 | 0.60 | 0.65 | 0.60 | 0.65 | 0.07 | 2.32 | 2.37 | 2.32 | 2.37 | XXX
75898 | TC | A | Follow-up angiogram | 0.00 | 1.05 | 1.06 | NA | NA | 0.05 | 1.10 | 1.11 | NA | NA | XXX
75900 |  | A | Arterial catheter exchange | 0.49 | 21.00 | 21.24 | 21.00 | 21.24 | 0.94 | 22.43 | 22.67 | 22.43 | 22.67 | XXX
75900 | 26 | A | Arterial catheter exchange | 0.49 | 0.18 | 0.20 | 0.18 | 0.20 | 0.02 | 0.69 | 0.71 | 0.69 | 0.71 | XXX
75900 | TC | A | Arterial catheter exchange | 0.00 | 20.82 | 21.04 | NA | NA | 0.92 | 21.74 | 21.96 | NA | NA | XXX
75940 |  | A | X-ray placement, vein filter | 0.54 | 12.70 | 12.85 | 12.70 | 12.85 | 0.57 | 13.81 | 13.96 | 13.81 | 13.96 | XXX
75940 | 26 | A | X-ray placement, vein filter | 0.54 | 0.19 | 0.21 | 0.19 | 0.21 | 0.03 | 0.76 | 0.78 | 0.76 | 0.78 | XXX
75940 | TC | A | X-ray placement, vein filter | 0.00 | 12.51 | 12.64 | NA | NA | 0.54 | 13.05 | 13.18 | NA | NA | XXX
75945 |  | A | Intravascular us | 0.40 | 4.68 | 4.75 | 4.68 | 4.75 | 0.23 | 5.31 | 5.38 | 5.31 | 5.38 | XXX
75945 | 26 | A | Intravascular us | 0.40 | 0.15 | 0.17 | 0.15 | 0.17 | 0.03 | 0.58 | 0.60 | 0.58 | 0.60 | XXX
75945 | TC | A | Intravascular us | 0.00 | 4.53 | 4.58 | NA | NA | 0.20 | 4.73 | 4.78 | NA | NA | XXX
75946 |  | A | Intravascular us add-on | 0.40 | 2.43 | 2.47 | 2.43 | 2.47 | 0.14 | 2.97 | 3.01 | 2.97 | 3.01 | ZZZ
75946 | 26 | A | Intravascular us add-on | 0.40 | 0.15 | 0.17 | 0.15 | 0.17 | 0.03 | 0.58 | 0.60 | 0.58 | 0.60 | ZZZ
75946 | TC | A | Intravascular us add-on | 0.00 | 2.28 | 2.30 | NA | NA | 0.11 | 2.39 | 2.41 | NA | NA | ZZZ
75952 |  | A | Endovasc repair abdom aorta | 4.00 | 1.60 | 1.60 | 1.60 | 1.60 | 0.68 | 6.28 | 6.28 | 6.28 | 6.28 | XXX
75953 |  | A | Abdom aneurysm endovas rpr | 1.36 | 0.54 | 0.54 | 0.54 | 0.54 | 0.68 | 2.58 | 2.58 | 2.58 | 2.58 | XXX
75960 |  | A | Transcatheter intro, stent | 0.82 | 15.11 | 15.28 | 15.11 | 15.28 | 0.68 | 16.61 | 16.78 | 16.61 | 16.78 | XXX
75960 | 26 | A | Transcatheter intro, stent | 0.82 | 0.31 | 0.33 | 0.31 | 0.33 | 0.04 | 1.17 | 1.19 | 1.17 | 1.19 | XXX
75960 | TC | A | Transcatheter intro, stent | 0.00 | 14.80 | 14.95 | NA | NA | 0.64 | 15.44 | 15.59 | NA | NA | XXX
75961 |  | A | Retrieval, broken catheter | 4.25 | 11.94 | 12.19 | 11.94 | 12.19 | 0.64 | 16.83 | 17.08 | 16.83 | 17.08 | XXX
75961 | 26 | A | Retrieval, broken catheter | 4.25 | 1.52 | 1.66 | 1.52 | 1.66 | 0.18 | 5.95 | 6.09 | 5.95 | 6.09 | XXX
75961 | TC | A | Retrieval, broken catheter | 0.00 | 10.42 | 10.53 | NA | NA | 0.46 | 10.88 | 10.99 | NA | NA | XXX
75962 |  | A | Repair arterial blockage | 0.54 | 15.82 | 16.01 | 15.82 | 16.01 | 0.72 | 17.08 | 17.27 | 17.08 | 17.27 | XXX
75962 | 26 | A | Repair arterial blockage | 0.54 | 0.20 | 0.22 | 0.20 | 0.22 | 0.03 | 0.77 | 0.79 | 0.77 | 0.79 | XXX
75962 | TC | A | Repair arterial blockage | 0.00 | 15.62 | 15.79 | NA | NA | 0.69 | 16.31 | 16.48 | NA | NA | XXX
75964 |  | A | Repair artery blockage, each | 0.36 | 8.46 | 8.56 | 8.46 | 8.56 | 0.38 | 9.20 | 9.30 | 9.20 | 9.30 | ZZZ
75964 | 26 | A | Repair artery blockage, each | 0.36 | 0.13 | 0.14 | 0.13 | 0.14 | 0.02 | 0.51 | 0.52 | 0.51 | 0.52 | ZZZ
75964 | TC | A | Repair artery blockage, each | 0.00 | 8.33 | 8.42 | NA | NA | 0.36 | 8.69 | 8.78 | NA | NA | ZZZ
75966 |  | A | Repair arterial blockage | 1.31 | 16.13 | 16.33 | 16.13 | 16.33 | 0.75 | 18.19 | 18.39 | 18.19 | 18.39 | XXX
75966 | 26 | A | Repair arterial blockage | 1.31 | 0.51 | 0.54 | 0.51 | 0.54 | 0.06 | 1.88 | 1.91 | 1.88 | 1.91 | XXX
75966 | TC | A | Repair arterial blockage | 0.00 | 15.62 | 15.79 | NA | NA | 0.69 | 16.31 | 16.48 | NA | NA | XXX
75968 |  | A | Repair artery blockage, each | 0.36 | 8.47 | 8.57 | 8.47 | 8.57 | 0.37 | 9.20 | 9.30 | 9.20 | 9.30 | ZZZ
75968 | 26 | A | Repair artery blockage, each | 0.36 | 0.14 | 0.15 | 0.14 | 0.15 | 0.01 | 0.51 | 0.52 | 0.51 | 0.52 | ZZZ
75968 | TC | A | Repair artery blockage, each | 0.00 | 8.33 | 8.42 | NA | NA | 0.36 | 8.69 | 8.78 | NA | NA | ZZZ
75970 |  | A | Vascular biopsy | 0.83 | 11.76 | 11.91 | 11.76 | 11.91 | 0.54 | 13.13 | 13.28 | 13.13 | 13.28 | XXX
75970 | 26 | A | Vascular biopsy | 0.83 | 0.30 | 0.33 | 0.30 | 0.33 | 0.04 | 1.17 | 1.20 | 1.17 | 1.20 | XXX
75970 | TC | A | Vascular biopsy | 0.00 | 11.46 | 11.58 | NA | NA | 0.50 | 11.96 | 12.08 | NA | NA | XXX
75978 |  | A | Repair venous blockage | 0.54 | 15.81 | 16.06 | 15.81 | 16.06 | 0.71 | 17.06 | 17.31 | 17.06 | 17.31 | XXX
75978 | 26 | A | Repair venous blockage | 0.54 | 0.19 | 0.27 | 0.19 | 0.27 | 0.02 | 0.75 | 0.83 | 0.75 | 0.83 | XXX
75978 | TC | A | Repair venous blockage | 0.00 | 15.62 | 15.79 | NA | NA | 0.69 | 16.31 | 16.48 | NA | NA | XXX
75980 |  | A | Contrast xray exam bile duct | 1.44 | 5.88 | 5.99 | 5.88 | 5.99 | 0.30 | 7.62 | 7.73 | 7.62 | 7.73 | XXX
75980 | 26 | A | Contrast xray exam bile duct | 1.44 | 0.51 | 0.56 | 0.51 | 0.56 | 0.06 | 2.01 | 2.06 | 2.01 | 2.06 | XXX
75980 | TC | A | Contrast xray exam bile duct | 0.00 | 5.37 | 5.43 | NA | NA | 0.24 | 5.61 | 5.67 | NA | NA | XXX
75982 |  | A | Contrast xray exam bile duct | 1.44 | 6.56 | 6.68 | 6.56 | 6.68 | 0.33 | 8.33 | 8.45 | 8.33 | 8.45 | XXX
75982 | 26 | A | Contrast xray exam bile duct | 1.44 | 0.51 | 0.56 | 0.51 | 0.56 | 0.06 | 2.01 | 2.06 | 2.01 | 2.06 | XXX
75982 | TC | A | Contrast xray exam bile duct | 0.00 | 6.05 | 6.12 | NA | NA | 0.27 | 6.32 | 6.39 | NA | NA | XXX
75984 |  | A | Xray control catheter change | 0.72 | 2.19 | 2.24 | 2.19 | 2.24 | 0.12 | 3.03 | 3.08 | 3.03 | 3.08 | XXX
75984 | 26 | A | Xray control catheter change | 0.72 | 0.25 | 0.28 | 0.25 | 0.28 | 0.03 | 1.00 | 1.03 | 1.00 | 1.03 | XXX
75984 | TC | A | Xray control catheter change | 0.00 | 1.94 | 1.96 | NA | NA | 0.09 | 2.03 | 2.05 | NA | NA | XXX
75989 |  | A | Abscess drainage under x-ray | 1.19 | 3.55 | 3.62 | 3.55 | 3.62 | 0.19 | 4.93 | 5.00 | 4.93 | 5.00 | XXX
75989 | 26 | A | Abscess drainage under x-ray | 1.19 | 0.42 | 0.46 | 0.42 | 0.46 | 0.05 | 1.66 | 1.70 | 1.66 | 1.70 | XXX
75989 | TC | A | Abscess drainage under x-ray | 0.00 | 3.13 | 3.16 | NA | NA | 0.14 | 3.27 | 3.30 | NA | NA | XXX
75992 |  | A | Atherectomy, x-ray exam | 0.54 | 15.83 | 16.02 | 15.83 | 16.02 | 0.71 | 17.08 | 17.27 | 17.08 | 17.27 | XXX
75992 | 26 | A | Atherectomy, x-ray exam | 0.54 | 0.21 | 0.23 | 0.21 | 0.23 | 0.02 | 0.77 | 0.79 | 0.77 | 0.79 | XXX
75992 | TC | A | Atherectomy, x-ray exam | 0.00 | 15.62 | 15.79 | NA | NA | 0.69 | 16.31 | 16.48 | NA | NA | XXX
75993 |  | A | Atherectomy, x-ray exam | 0.36 | 8.48 | 8.58 | 8.48 | 8.58 | 0.37 | 9.21 | 9.31 | 9.21 | 9.31 | ZZZ
75993 | 26 | A | Atherectomy, x-ray exam | 0.36 | 0.15 | 0.16 | 0.15 | 0.16 | 0.01 | 0.52 | 0.53 | 0.52 | 0.53 | ZZZ
75993 | TC | A | Atherectomy, x-ray exam | 0.00 | 8.33 | 8.42 | NA | NA | 0.36 | 8.69 | 8.78 | NA | NA | ZZZ
75994 |  | A | Atherectomy, x-ray exam | 1.31 | 16.13 | 16.33 | 16.13 | 16.33 | 0.75 | 18.19 | 18.39 | 18.19 | 18.39 | XXX
75994 | 26 | A | Atherectomy, x-ray exam | 1.31 | 0.51 | 0.54 | 0.51 | 0.54 | 0.06 | 1.88 | 1.91 | 1.88 | 1.91 | XXX
75994 | TC | A | Atherectomy, x-ray exam | 0.00 | 15.62 | 15.79 | NA | NA | 0.69 | 16.31 | 16.48 | NA | NA | XXX
75995 |  | A | Atherectomy, x-ray exam | 1.31 | 16.08 | 16.29 | 16.08 | 16.29 | 0.75 | 18.14 | 18.35 | 18.14 | 18.35 | XXX
75995 | 26 | A | Atherectomy, x-ray exam | 1.31 | 0.46 | 0.50 | 0.46 | 0.50 | 0.06 | 1.83 | 1.87 | 1.83 | 1.87 | XXX
75995 | TC | A | Atherectomy, x-ray exam | 0.00 | 15.62 | 15.79 | NA | NA | 0.69 | 16.31 | 16.48 | NA | NA | XXX
75996 |  | A | Atherectomy, x-ray exam | 0.36 | 8.47 | 8.57 | 8.47 | 8.57 | 0.37 | 9.20 | 9.30 | 9.20 | 9.30 | ZZZ
75996 | 26 | A | Atherectomy, x-ray exam | 0.36 | 0.14 | 0.15 | 0.14 | 0.15 | 0.01 | 0.51 | 0.52 | 0.51 | 0.52 | ZZZ
75996 | TC | A | Atherectomy, x-ray exam | 0.00 | 8.33 | 8.42 | NA | NA | 0.36 | 8.69 | 8.78 | NA | NA | ZZZ
76000 |  | A | Fluoroscope examination | 0.17 | 1.35 | 1.37 | 1.35 | 1.37 | 0.07 | 1.59 | 1.61 | 1.59 | 1.61 | XXX
76000 | 26 | A | Fluoroscope examination | 0.17 | 0.05 | 0.06 | 0.05 | 0.06 | 0.01 | 0.23 | 0.24 | 0.23 | 0.24 | XXX
76000 | TC | A | Fluoroscope examination | 0.00 | 1.30 | 1.31 | NA | NA | 0.06 | 1.36 | 1.37 | NA | NA | XXX
76001 |  | A | Fluoroscope exam, extensive | 0.67 | 2.84 | 2.90 | 2.84 | 2.90 | 0.15 | 3.66 | 3.72 | 3.66 | 3.72 | XXX
76001 | 26 | A | Fluoroscope exam, extensive | 0.67 | 0.24 | 0.27 | 0.24 | 0.27 | 0.03 | 0.94 | 0.97 | 0.94 | 0.97 | XXX
76001 | TC | A | Fluoroscope exam, extensive | 0.00 | 2.60 | 2.63 | NA | NA | 0.12 | 2.72 | 2.75 | NA | NA | XXX
76003 |  | A | Needle localization by x-ray | 0.54 | 1.48 | 1.51 | 1.48 | 1.51 | 0.09 | 2.11 | 2.14 | 2.11 | 2.14 | XXX
76003 | 26 | A | Needle localization by x-ray | 0.54 | 0.18 | 0.20 | 0.18 | 0.20 | 0.03 | 0.75 | 0.77 | 0.75 | 0.77 | XXX
76003 | TC | A | Needle localization by x-ray | 0.00 | 1.30 | 1.31 | NA | NA | 0.06 | 1.36 | 1.37 | NA | NA | XXX
76005 |  | A | Fluoroguide for spine inject | 0.60 | 1.49 | 1.49 | 1.49 | 1.49 | 0.09 | 2.18 | 2.18 | 2.18 | 2.18 | XXX
76005 | 26 | A | Fluoroguide for spine inject | 0.60 | 0.19 | 0.19 | 0.19 | 0.19 | 0.03 | 0.82 | 0.82 | 0.82 | 0.82 | XXX
76005 | TC | A | Fluoroguide for spine inject | 0.00 | 1.30 | 1.30 | NA | NA | 0.06 | 1.36 | 1.36 | NA | NA | XXX
76006 |  | A | X-ray stress view | 0.41 | 0.19 | 0.19 | 0.19 | 0.19 | 0.04 | 0.64 | 0.64 | 0.64 | 0.64 | XXX
76010 |  | A | X-ray, nose to rectum | 0.18 | 0.58 | 0.60 | 0.58 | 0.60 | 0.03 | 0.79 | 0.81 | 0.79 | 0.81 | XXX
76010 | 26 | A | X-ray, nose to rectum | 0.18 | 0.06 | 0.07 | 0.06 | 0.07 | 0.01 | 0.25 | 0.26 | 0.25 | 0.26 | XXX
76010 | TC | A | X-ray, nose to rectum | 0.00 | 0.52 | 0.53 | NA | NA | 0.02 | 0.54 | 0.55 | NA | NA | XXX
76012 |  | A | Percut vertebroplasty fluor | 1.31 | 0.49 | 0.49 | 0.49 | 0.49 | 1.10 | 2.90 | 2.90 | 2.90 | 2.90 | XXX
76013 |  | A | Percut vertebroplasty, ct | 1.38 | 0.52 | 0.52 | 0.52 | 0.52 | 0.48 | 2.38 | 2.38 | 2.38 | 2.38 | XXX
76020 |  | A | X-rays for bone age | 0.19 | 0.59 | 0.61 | 0.59 | 0.61 | 0.03 | 0.81 | 0.83 | 0.81 | 0.83 | XXX
76020 | 26 | A | X-rays for bone age | 0.19 | 0.07 | 0.08 | 0.07 | 0.08 | 0.01 | 0.27 | 0.28 | 0.27 | 0.28 | XXX
76020 | TC | A | X-rays for bone age | 0.00 | 0.52 | 0.53 | NA | NA | 0.02 | 0.54 | 0.55 | NA | NA | XXX
76040 |  | A | X-rays, bone evaluation | 0.27 | 0.88 | 0.90 | 0.88 | 0.90 | 0.07 | 1.22 | 1.24 | 1.22 | 1.24 | XXX
76040 | 26 | A | X-rays, bone evaluation | 0.27 | 0.10 | 0.11 | 0.10 | 0.11 | 0.03 | 0.40 | 0.41 | 0.40 | 0.41 | XXX
76040 | TC | A | X-rays, bone evaluation | 0.00 | 0.78 | 0.79 | NA | NA | 0.04 | 0.82 | 0.83 | NA | NA | XXX
76061 |  | A | X-rays, bone survey | 0.45 | 1.15 | 1.18 | 1.15 | 1.18 | 0.07 | 1.67 | 1.70 | 1.67 | 1.70 | XXX
76061 | 26 | A | X-rays, bone survey | 0.45 | 0.16 | 0.18 | 0.16 | 0.18 | 0.02 | 0.63 | 0.65 | 0.63 | 0.65 | XXX
76061 | TC | A | X-rays, bone survey | 0.00 | 0.99 | 1.00 | NA | NA | 0.05 | 1.04 | 1.05 | NA | NA | XXX
76062 |  | A | X-rays, bone survey | 0.54 | 1.62 | 1.66 | 1.62 | 1.66 | 0.09 | 2.25 | 2.29 | 2.25 | 2.29 | XXX
76062 | 26 | A | X-rays, bone survey | 0.54 | 0.19 | 0.21 | 0.19 | 0.21 | 0.02 | 0.75 | 0.77 | 0.75 | 0.77 | XXX
76062 | TC | A | X-rays, bone survey | 0.00 | 1.43 | 1.45 | NA | NA | 0.07 | 1.50 | 1.52 | NA | NA | XXX
76065 |  | A | X-rays, bone evaluation | 0.28 | 0.83 | 0.85 | 0.83 | 0.85 | 0.05 | 1.16 | 1.18 | 1.16 | 1.18 | XXX
76065 | 26 | A | X-rays, bone evaluation | 0.28 | 0.10 | 0.11 | 0.10 | 0.11 | 0.01 | 0.39 | 0.40 | 0.39 | 0.40 | XXX
76065 | TC | A | X-rays, bone evaluation | 0.00 | 0.73 | 0.74 | NA | NA | 0.04 | 0.77 | 0.78 | NA | NA | XXX
76066 |  | A | Joint(s) survey, single film | 0.31 | 1.21 | 1.23 | 1.21 | 1.23 | 0.07 | 1.59 | 1.61 | 1.59 | 1.61 | XXX
76066 | 26 | A | Joint(s) survey, single film | 0.31 | 0.11 | 0.12 | 0.11 | 0.12 | 0.02 | 0.44 | 0.45 | 0.44 | 0.45 | XXX
76066 | TC | A | Joint(s) survey, single film | 0.00 | 1.10 | 1.11 | NA | NA | 0.05 | 1.15 | 1.16 | NA | NA | XXX
76070 |  | I | CT scan, bone density study | +0.25 | 3.03 | 3.07 | 3.03 | 3.07 | 0.14 | 3.42 | 3.46 | 3.42 | 3.46 | XXX
76070 | 26 | I | CT scan, bone density study | +0.25 | 0.10 | 0.11 | 0.10 | 0.11 | 0.01 | 0.36 | 0.37 | 0.36 | 0.37 | XXX
76070 | TC | I | CT scan, bone density study | +0.00 | 2.93 | 2.96 | NA | NA | 0.13 | 3.06 | 3.09 | NA | NA | XXX
76075 |  | A | Dual energy x-ray study | 0.30 | 3.18 | 3.22 | 3.18 | 3.22 | 0.15 | 3.63 | 3.67 | 3.63 | 3.67 | XXX
76075 | 26 | A | Dual energy x-ray study | 0.30 | 0.11 | 0.12 | 0.11 | 0.12 | 0.01 | 0.42 | 0.43 | 0.42 | 0.43 | XXX
76075 | TC | A | Dual energy x-ray study | 0.00 | 3.07 | 3.10 | NA | NA | 0.14 | 3.21 | 3.24 | NA | NA | XXX
76076 |  | A | Dual energy x-ray study | 0.22 | 0.83 | 0.85 | 0.83 | 0.85 | 0.05 | 1.10 | 1.12 | 1.10 | 1.12 | XXX
76076 | 26 | A | Dual energy x-ray study | 0.22 | 0.08 | 0.09 | 0.08 | 0.09 | 0.01 | 0.31 | 0.32 | 0.31 | 0.32 | XXX
76076 | TC | A | Dual energy x-ray study | 0.00 | 0.75 | 0.76 | NA | NA | 0.04 | 0.79 | 0.80 | NA | NA | XXX
76078 |  | A | Photodensitometry | 0.20 | 0.83 | 0.85 | 0.83 | 0.85 | 0.05 | 1.08 | 1.10 | 1.08 | 1.10 | XXX
76078 | 26 | A | Photodensitometry | 0.20 | 0.08 | 0.09 | 0.08 | 0.09 | 0.01 | 0.29 | 0.30 | 0.29 | 0.30 | XXX
76078 | TC | A | Photodensitometry | 0.00 | 0.75 | 0.76 | NA | NA | 0.04 | 0.79 | 0.80 | NA | NA | XXX
76080 |  | A | X-ray exam of fistula | 0.54 | 1.24 | 1.27 | 1.24 | 1.27 | 0.07 | 1.85 | 1.88 | 1.85 | 1.88 | XXX
76080 | 26 | A | X-ray exam of fistula | 0.54 | 0.19 | 0.21 | 0.19 | 0.21 | 0.02 | 0.75 | 0.77 | 0.75 | 0.77 | XXX
76080 | TC | A | X-ray exam of fistula | 0.00 | 1.05 | 1.06 | NA | NA | 0.05 | 1.10 | 1.11 | NA | NA | XXX
76086 |  | A | X-ray of mammary duct | 0.36 | 2.73 | 2.77 | 2.73 | 2.77 | 0.14 | 3.23 | 3.27 | 3.23 | 3.27 | XXX
76086 | 26 | A | X-ray of mammary duct | 0.36 | 0.13 | 0.14 | 0.13 | 0.14 | 0.02 | 0.51 | 0.52 | 0.51 | 0.52 | XXX
76086 | TC | A | X-ray of mammary duct | 0.00 | 2.60 | 2.63 | NA | NA | 0.12 | 2.72 | 2.75 | NA | NA | XXX
76088 |  | A | X-ray of mammary ducts | 0.45 | 3.80 | 3.86 | 3.80 | 3.86 | 0.18 | 4.43 | 4.49 | 4.43 | 4.49 | XXX
76088 | 26 | A | X-ray of mammary ducts | 0.45 | 0.16 | 0.18 | 0.16 | 0.18 | 0.02 | 0.63 | 0.65 | 0.63 | 0.65 | XXX
76088 | TC | A | X-ray of mammary ducts | 0.00 | 3.64 | 3.68 | NA | NA | 0.16 | 3.80 | 3.84 | NA | NA | XXX
76090 |  | A | Mammogram, one breast | 0.58 | 1.26 | 1.25 | 1.26 | 1.25 | 0.08 | 1.92 | 1.91 | 1.92 | 1.91 | XXX
76090 | 26 | A | Mammogram, one breast | 0.58 | 0.21 | 0.19 | 0.21 | 0.19 | 0.03 | 0.82 | 0.80 | 0.82 | 0.80 | XXX
76090 | TC | A | Mammogram, one breast | 0.00 | 1.05 | 1.06 | NA | NA | 0.05 | 1.10 | 1.11 | NA | NA | XXX
76091 |  | A | Mammogram, both breasts | 0.69 | 1.55 | 1.55 | 1.55 | 1.55 | 0.09 | 2.33 | 2.33 | 2.33 | 2.33 | XXX
76091 | 26 | A | Mammogram, both breasts | 0.69 | 0.25 | 0.24 | 0.25 | 0.24 | 0.03 | 0.97 | 0.96 | 0.97 | 0.96 | XXX
76091 | TC | A | Mammogram, both breasts | 0.00 | 1.30 | 1.31 | NA | NA | 0.06 | 1.36 | 1.37 | NA | NA | XXX
76092 |  | X | Mammogram, screening | 0.00 | 0.00 | 0.00 | 0.00 | 0.00 | 0.00 | 0.00 | 0.00 | 0.00 | 0.00 | XXX
76093 |  | A | Magnetic image, breast | 1.63 | 18.07 | 18.31 | 18.07 | 18.31 | 0.83 | 20.53 | 20.77 | 20.53 | 20.77 | XXX
76093 | 26 | A | Magnetic image, breast | 1.63 | 0.58 | 0.63 | 0.58 | 0.63 | 0.07 | 2.28 | 2.33 | 2.28 | 2.33 | XXX
76093 | TC | A | Magnetic image, breast | 0.00 | 17.49 | 17.68 | NA | NA | 0.76 | 18.25 | 18.44 | NA | NA | XXX
76094 |  | A | Magnetic image, both breasts | 1.63 | 24.32 | 24.62 | 24.32 | 24.62 | 1.10 | 27.05 | 27.35 | 27.05 | 27.35 | XXX
76094 | 26 | A | Magnetic image, both breasts | 1.63 | 0.58 | 0.63 | 0.58 | 0.63 | 0.07 | 2.28 | 2.33 | 2.28 | 2.33 | XXX
76094 | TC | A | Magnetic image, both breasts | 0.00 | 23.74 | 23.99 | NA | NA | 1.03 | 24.77 | 25.02 | NA | NA | XXX
76095 |  | A | Stereotactic breast biopsy | 1.59 | 7.68 | 7.81 | 7.68 | 7.81 | 0.40 | 9.67 | 9.80 | 9.67 | 9.80 | XXX
76095 | 26 | A | Stereotactic breast biopsy | 1.59 | 0.57 | 0.62 | 0.57 | 0.62 | 0.09 | 2.25 | 2.30 | 2.25 | 2.30 | XXX
76095 | TC | A | Stereotactic breast biopsy | 0.00 | 7.11 | 7.19 | NA | NA | 0.31 | 7.42 | 7.50 | NA | NA | XXX
76096 |  | A | X-ray of needle wire, breast | 0.56 | 1.50 | 1.53 | 1.50 | 1.53 | 0.09 | 2.15 | 2.18 | 2.15 | 2.18 | XXX
76096 | 26 | A | X-ray of needle wire, breast | 0.56 | 0.20 | 0.22 | 0.20 | 0.22 | 0.03 | 0.79 | 0.81 | 0.79 | 0.81 | XXX
76096 | TC | A | X-ray of needle wire, breast | 0.00 | 1.30 | 1.31 | NA | NA | 0.06 | 1.36 | 1.37 | NA | NA | XXX
76098 |  | A | X-ray exam, breast specimen | 0.16 | 0.47 | 0.49 | 0.47 | 0.49 | 0.03 | 0.66 | 0.68 | 0.66 | 0.68 | XXX
76098 | 26 | A | X-ray exam, breast specimen | 0.16 | 0.06 | 0.07 | 0.06 | 0.07 | 0.01 | 0.23 | 0.24 | 0.23 | 0.24 | XXX
76098 | TC | A | X-ray exam, breast specimen | 0.00 | 0.41 | 0.42 | NA | NA | 0.02 | 0.43 | 0.44 | NA | NA | XXX
76100 |  | A | X-ray exam of body section | 0.58 | 1.45 | 1.48 | 1.45 | 1.48 | 0.09 | 2.12 | 2.15 | 2.12 | 2.15 | XXX
76100 | 26 | A | X-ray exam of body section | 0.58 | 0.21 | 0.23 | 0.21 | 0.23 | 0.03 | 0.82 | 0.84 | 0.82 | 0.84 | XXX
76100 | TC | A | X-ray exam of body section | 0.00 | 1.24 | 1.25 | NA | NA | 0.06 | 1.30 | 1.31 | NA | NA | XXX
76101 |  | A | Complex body section x-ray | 0.58 | 1.62 | 1.66 | 1.62 | 1.66 | 0.10 | 2.30 | 2.34 | 2.30 | 2.34 | XXX
76101 | 26 | A | Complex body section x-ray | 0.58 | 0.21 | 0.23 | 0.21 | 0.23 | 0.03 | 0.82 | 0.84 | 0.82 | 0.84 | XXX
76101 | TC | A | Complex body section x-ray | 0.00 | 1.41 | 1.43 | NA | NA | 0.07 | 1.48 | 1.50 | NA | NA | XXX
76102 |  | A | Complex body section x-rays | 0.58 | 1.93 | 1.97 | 1.93 | 1.97 | 0.12 | 2.63 | 2.67 | 2.63 | 2.67 | XXX
76102 | 26 | A | Complex body section x-rays | 0.58 | 0.21 | 0.23 | 0.21 | 0.23 | 0.03 | 0.82 | 0.84 | 0.82 | 0.84 | XXX
76102 | TC | A | Complex body section x-rays | 0.00 | 1.72 | 1.74 | NA | NA | 0.09 | 1.81 | 1.83 | NA | NA | XXX
76120 |  | A | Cinematic x-rays | 0.38 | 1.19 | 1.21 | 1.19 | 1.21 | 0.07 | 1.64 | 1.66 | 1.64 | 1.66 | XXX
76120 | 26 | A | Cinematic x-rays | 0.38 | 0.14 | 0.15 | 0.14 | 0.15 | 0.02 | 0.54 | 0.55 | 0.54 | 0.55 | XXX
76120 | TC | A | Cinematic x-rays | 0.00 | 1.05 | 1.06 | NA | NA | 0.05 | 1.10 | 1.11 | NA | NA | XXX
76125 |  | A | Cinematic x-rays add-on | 0.27 | 0.88 | 0.90 | 0.88 | 0.90 | 0.05 | 1.20 | 1.22 | 1.20 | 1.22 | ZZZ
76125 | 26 | A | Cinematic x-rays add-on | 0.27 | 0.10 | 0.11 | 0.10 | 0.11 | 0.01 | 0.38 | 0.39 | 0.38 | 0.39 | ZZZ
76125 | TC | A | Cinematic x-rays add-on | 0.00 | 0.78 | 0.79 | NA | NA | 0.04 | 0.82 | 0.83 | NA | NA | ZZZ
76140 |  | I | X-ray consultation | 0.00 | 0.00 | 0.00 | 0.00 | 0.00 | 0.00 | 0.00 | 0.00 | 0.00 | 0.00 | XXX
76150 |  | A | X-ray exam, dry process | 0.00 | 0.41 | 0.42 | NA | NA | 0.02 | 0.43 | 0.44 | NA | NA | XXX
76350 |  | C | Special x-ray contrast study | 0.00 | 0.00 | 0.00 | 0.00 | 0.00 | 0.00 | 0.00 | 0.00 | 0.00 | 0.00 | XXX
76355 |  | A | CAT scan for localization | 1.21 | 8.62 | 8.75 | 8.62 | 8.75 | 0.41 | 10.24 | 10.37 | 10.24 | 10.37 | XXX
76355 | 26 | A | CAT scan for localization | 1.21 | 0.43 | 0.47 | 0.43 | 0.47 | 0.06 | 1.70 | 1.74 | 1.70 | 1.74 | XXX
76355 | TC | A | CAT scan for localization | 0.00 | 8.19 | 8.28 | NA | NA | 0.35 | 8.54 | 8.63 | NA | NA | XXX
76360 |  | A | CAT scan for needle biopsy | 1.16 | 8.60 | 8.72 | 8.60 | 8.72 | 0.40 | 10.16 | 10.28 | 10.16 | 10.28 | XXX
76360 | 26 | A | CAT scan for needle biopsy | 1.16 | 0.41 | 0.44 | 0.41 | 0.44 | 0.05 | 1.62 | 1.65 | 1.62 | 1.65 | XXX
76360 | TC | A | CAT scan for needle biopsy | 0.00 | 8.19 | 8.28 | NA | NA | 0.35 | 8.54 | 8.63 | NA | NA | XXX
76365 |  | D | CAT scan for cyst aspiration | 0.00 | 0.00 | 0.00 | 0.00 | 0.00 | 0.00 | 0.00 | 0.00 | 0.00 | 0.00 | XXX
76365 | 26 | D | CAT scan for cyst aspiration | 0.00 | 0.00 | 0.00 | 0.00 | 0.00 | 0.00 | 0.00 | 0.00 | 0.00 | 0.00 | XXX
76365 | TC | D | CAT scan for cyst aspiration | 0.00 | 0.00 | 0.00 | NA | NA | 0.00 | 0.00 | 0.00 | NA | NA | XXX
76370 |  | A | CAT scan for therapy guide | 0.85 | 3.23 | 3.29 | 3.23 | 3.29 | 0.17 | 4.25 | 4.31 | 4.25 | 4.31 | XXX
76370 | 26 | A | CAT scan for therapy guide | 0.85 | 0.30 | 0.33 | 0.30 | 0.33 | 0.04 | 1.19 | 1.22 | 1.19 | 1.22 | XXX
76370 | TC | A | CAT scan for therapy guide | 0.00 | 2.93 | 2.96 | NA | NA | 0.13 | 3.06 | 3.09 | NA | NA | XXX
76375 |  | A | 3d/holograph reconstr add-on | 0.16 | 3.58 | 3.63 | 3.58 | 3.63 | 0.16 | 3.90 | 3.95 | 3.90 | 3.95 | XXX
76375 | 26 | A | 3d/holograph reconstr add-on | 0.16 | 0.06 | 0.07 | 0.06 | 0.07 | 0.01 | 0.23 | 0.24 | 0.23 | 0.24 | XXX
76375 | TC | A | 3d/holograph reconstr add-on | 0.00 | 3.52 | 3.56 | NA | NA | 0.15 | 3.67 | 3.71 | NA | NA | XXX
76380 |  | A | CAT scan follow-up study | 0.98 | 3.83 | 3.90 | 3.83 | 3.90 | 0.19 | 5.00 | 5.07 | 5.00 | 5.07 | XXX
76380 | 26 | A | CAT scan follow-up study | 0.98 | 0.35 | 0.38 | 0.35 | 0.38 | 0.04 | 1.37 | 1.40 | 1.37 | 1.40 | XXX
76380 | TC | A | CAT scan follow-up study | 0.00 | 3.48 | 3.52 | NA | NA | 0.15 | 3.63 | 3.67 | NA | NA | XXX
76390 |  | A | Mr spectroscopy | 1.40 | 11.63 | 11.81 | 11.63 | 11.81 | 0.55 | 13.58 | 13.76 | 13.58 | 13.76 | XXX
76390 | 26 | A | Mr spectroscopy | 1.40 | 0.50 | 0.56 | 0.50 | 0.56 | 0.06 | 1.96 | 2.02 | 1.96 | 2.02 | XXX
76390 | TC | A | Mr spectroscopy | 0.00 | 11.13 | 11.25 | NA | NA | 0.49 | 11.62 | 11.74 | NA | NA | XXX
76393 |  | A | Mr guidance for needle place | 1.50 | 11.66 | 11.66 | 11.66 | 11.66 | 0.52 | 13.68 | 13.68 | 13.68 | 13.68 | XXX
76393 | 26 | A | Mr guidance for needle place | 1.50 | 0.53 | 0.53 | 0.53 | 0.53 | 0.06 | 2.09 | 2.09 | 2.09 | 2.09 | XXX
76393 | TC | A | Mr guidance for needle place | 0.00 | 11.13 | 11.13 | NA | NA | 0.46 | 11.59 | 11.59 | NA | NA | XXX
76400 |  | A | Magnetic image, bone marrow | 1.60 | 11.70 | 11.87 | 11.70 | 11.87 | 0.56 | 13.86 | 14.03 | 13.86 | 14.03 | XXX
76400 | 26 | A | Magnetic image, bone marrow | 1.60 | 0.57 | 0.62 | 0.57 | 0.62 | 0.07 | 2.24 | 2.29 | 2.24 | 2.29 | XXX
76400 | TC | A | Magnetic image, bone marrow | 0.00 | 11.13 | 11.25 | NA | NA | 0.49 | 11.62 | 11.74 | NA | NA | XXX
76499 |  | C | Radiographic procedure | 0.00 | 0.00 | 0.00 | 0.00 | 0.00 | 0.00 | 0.00 | 0.00 | 0.00 | 0.00 | XXX
76499 | 26 | C | Radiographic procedure | 0.00 | 0.00 | 0.00 | 0.00 | 0.00 | 0.00 | 0.00 | 0.00 | 0.00 | 0.00 | XXX
76499 | TC | C | Radiographic procedure | 0.00 | 0.00 | 0.00 | 0.00 | 0.00 | 0.00 | 0.00 | 0.00 | 0.00 | 0.00 | XXX
76506 |  | A | Echo exam of head | 0.63 | 1.67 | 1.70 | 1.67 | 1.70 | 0.10 | 2.40 | 2.43 | 2.40 | 2.43 | XXX
76506 | 26 | A | Echo exam of head | 0.63 | 0.26 | 0.27 | 0.26 | 0.27 | 0.03 | 0.92 | 0.93 | 0.92 | 0.93 | XXX
76506 | TC | A | Echo exam of head | 0.00 | 1.41 | 1.43 | NA | NA | 0.07 | 1.48 | 1.50 | NA | NA | XXX
76511 |  | A | Echo exam of eye | 0.94 | 1.78 | 1.73 | 1.78 | 1.73 | 0.08 | 2.80 | 2.75 | 2.80 | 2.75 | XXX
76511 | 26 | A | Echo exam of eye | 0.94 | 0.44 | 0.40 | 0.44 | 0.40 | 0.02 | 1.40 | 1.36 | 1.40 | 1.36 | XXX
76511 | TC | A | Echo exam of eye | 0.00 | 1.34 | 1.33 | NA | NA | 0.06 | 1.40 | 1.39 | NA | NA | XXX
76512 |  | A | Echo exam of eye | 0.66 | 1.86 | 1.87 | 1.86 | 1.87 | 0.09 | 2.61 | 2.62 | 2.61 | 2.62 | XXX
76512 | 26 | A | Echo exam of eye | 0.66 | 0.32 | 0.32 | 0.32 | 0.32 | 0.01 | 0.99 | 0.99 | 0.99 | 0.99 | XXX
76512 | TC | A | Echo exam of eye | 0.00 | 1.54 | 1.55 | NA | NA | 0.08 | 1.62 | 1.63 | NA | NA | XXX
76513 |  | A | Echo exam of eye, water bath | 0.66 | 2.28 | 2.19 | 2.28 | 2.19 | 0.09 | 3.03 | 2.94 | 3.03 | 2.94 | XXX
76513 | 26 | A | Echo exam of eye, water bath | 0.66 | 0.33 | 0.33 | 0.33 | 0.33 | 0.01 | 1.00 | 1.00 | 1.00 | 1.00 | XXX
76513 | TC | A | Echo exam of eye, water bath | 0.00 | 1.95 | 1.86 | NA | NA | 0.08 | 2.03 | 1.94 | NA | NA | XXX
76516 |  | A | Echo exam of eye | 0.54 | 1.36 | 1.41 | 1.36 | 1.41 | 0.07 | 1.97 | 2.02 | 1.97 | 2.02 | XXX
76516 | 26 | A | Echo exam of eye | 0.54 | 0.27 | 0.27 | 0.27 | 0.27 | 0.01 | 0.82 | 0.82 | 0.82 | 0.82 | XXX
76516 | TC | A | Echo exam of eye | 0.00 | 1.09 | 1.14 | NA | NA | 0.06 | 1.15 | 1.20 | NA | NA | XXX
76519 |  | A | Echo exam of eye | 0.54 | 1.51 | 1.52 | 1.51 | 1.52 | 0.07 | 2.12 | 2.13 | 2.12 | 2.13 | XXX
76519 | 26 | A | Echo exam of eye | 0.54 | 0.27 | 0.27 | 0.27 | 0.27 | 0.01 | 0.82 | 0.82 | 0.82 | 0.82 | XXX
76519 | TC | A | Echo exam of eye | 0.00 | 1.24 | 1.25 | NA | NA | 0.06 | 1.30 | 1.31 | NA | NA | XXX
76529 |  | A | Echo exam of eye | 0.57 | 2.04 | 1.95 | 2.04 | 1.95 | 0.08 | 2.69 | 2.60 | 2.69 | 2.60 | XXX
76529 | 26 | A | Echo exam of eye | 0.57 | 0.27 | 0.27 | 0.27 | 0.27 | 0.01 | 0.85 | 0.85 | 0.85 | 0.85 | XXX
76529 | TC | A | Echo exam of eye | 0.00 | 1.77 | 1.68 | NA | NA | 0.07 | 1.84 | 1.75 | NA | NA | XXX
76536 |  | A | Echo exam of head and neck | 0.56 | 1.61 | 1.65 | 1.61 | 1.65 | 0.09 | 2.26 | 2.30 | 2.26 | 2.30 | XXX
76536 | 26 | A | Echo exam of head and neck | 0.56 | 0.20 | 0.22 | 0.20 | 0.22 | 0.02 | 0.78 | 0.80 | 0.78 | 0.80 | XXX
76536 | TC | A | Echo exam of head and neck | 0.00 | 1.41 | 1.43 | NA | NA | 0.07 | 1.48 | 1.50 | NA | NA | XXX
76604 |  | A | Echo exam of chest | 0.55 | 1.50 | 1.53 | 1.50 | 1.53 | 0.08 | 2.13 | 2.16 | 2.13 | 2.16 | XXX
76604 | 26 | A | Echo exam of chest | 0.55 | 0.20 | 0.22 | 0.20 | 0.22 | 0.02 | 0.77 | 0.79 | 0.77 | 0.79 | XXX
76604 | TC | A | Echo exam of chest | 0.00 | 1.30 | 1.31 | NA | NA | 0.06 | 1.36 | 1.37 | NA | NA | XXX
76645 |  | A | Echo exam of breast(s) | 0.54 | 1.24 | 1.27 | 1.24 | 1.27 | 0.08 | 1.86 | 1.89 | 1.86 | 1.89 | XXX
76645 | 26 | A | Echo exam of breast(s) | 0.54 | 0.19 | 0.21 | 0.19 | 0.21 | 0.03 | 0.76 | 0.78 | 0.76 | 0.78 | XXX
76645 | TC | A | Echo exam of breast(s) | 0.00 | 1.05 | 1.06 | NA | NA | 0.05 | 1.10 | 1.11 | NA | NA | XXX
76700 |  | A | Echo exam of abdomen | 0.81 | 2.25 | 2.30 | 2.25 | 2.30 | 0.13 | 3.19 | 3.24 | 3.19 | 3.24 | XXX
76700 | 26 | A | Echo exam of abdomen | 0.81 | 0.29 | 0.32 | 0.29 | 0.32 | 0.04 | 1.14 | 1.17 | 1.14 | 1.17 | XXX
76700 | TC | A | Echo exam of abdomen | 0.00 | 1.96 | 1.98 | NA | NA | 0.09 | 2.05 | 2.07 | NA | NA | XXX
76705 |  | A | Echo exam of abdomen | 0.59 | 1.62 | 1.66 | 1.62 | 1.66 | 0.10 | 2.31 | 2.35 | 2.31 | 2.35 | XXX
76705 | 26 | A | Echo exam of abdomen | 0.59 | 0.21 | 0.23 | 0.21 | 0.23 | 0.03 | 0.83 | 0.85 | 0.83 | 0.85 | XXX
76705 | TC | A | Echo exam of abdomen | 0.00 | 1.41 | 1.43 | NA | NA | 0.07 | 1.48 | 1.50 | NA | NA | XXX
76770 |  | A | Echo exam abdomen back wall | 0.74 | 2.22 | 2.27 | 2.22 | 2.27 | 0.12 | 3.08 | 3.13 | 3.08 | 3.13 | XXX
76770 | 26 | A | Echo exam abdomen back wall | 0.74 | 0.26 | 0.29 | 0.26 | 0.29 | 0.03 | 1.03 | 1.06 | 1.03 | 1.06 | XXX
76770 | TC | A | Echo exam abdomen back wall | 0.00 | 1.96 | 1.98 | NA | NA | 0.09 | 2.05 | 2.07 | NA | NA | XXX
76775 |  | A | Echo exam abdomen back wall | 0.58 | 1.62 | 1.66 | 1.62 | 1.66 | 0.10 | 2.30 | 2.34 | 2.30 | 2.34 | XXX
76775 | 26 | A | Echo exam abdomen back wall | 0.58 | 0.21 | 0.23 | 0.21 | 0.23 | 0.03 | 0.82 | 0.84 | 0.82 | 0.84 | XXX
76775 | TC | A | Echo exam abdomen back wall | 0.00 | 1.41 | 1.43 | NA | NA | 0.07 | 1.48 | 1.50 | NA | NA | XXX
76778 |  | A | Echo exam kidney transplant | 0.74 | 2.22 | 2.27 | 2.22 | 2.27 | 0.12 | 3.08 | 3.13 | 3.08 | 3.13 | XXX
76778 | 26 | A | Echo exam kidney transplant | 0.74 | 0.26 | 0.29 | 0.26 | 0.29 | 0.03 | 1.03 | 1.06 | 1.03 | 1.06 | XXX
76778 | TC | A | Echo exam kidney transplant | 0.00 | 1.96 | 1.98 | NA | NA | 0.09 | 2.05 | 2.07 | NA | NA | XXX
76800 |  | A | Echo exam spinal canal | 1.13 | 1.74 | 1.81 | 1.74 | 1.81 | 0.11 | 2.98 | 3.05 | 2.98 | 3.05 | XXX
76800 | 26 | A | Echo exam spinal canal | 1.13 | 0.33 | 0.38 | 0.33 | 0.38 | 0.04 | 1.50 | 1.55 | 1.50 | 1.55 | XXX
76800 | TC | A | Echo exam spinal canal | 0.00 | 1.41 | 1.43 | NA | NA | 0.07 | 1.48 | 1.50 | NA | NA | XXX
76805 |  | A | Echo exam of pregnant uterus | 0.99 | 2.44 | 2.49 | 2.44 | 2.49 | 0.14 | 3.57 | 3.62 | 3.57 | 3.62 | XXX
76805 | 26 | A | Echo exam of pregnant uterus | 0.99 | 0.36 | 0.39 | 0.36 | 0.39 | 0.04 | 1.39 | 1.42 | 1.39 | 1.42 | XXX
76805 | TC | A | Echo exam of pregnant uterus | 0.00 | 2.08 | 2.10 | NA | NA | 0.10 | 2.18 | 2.20 | NA | NA | XXX
76810 |  | A | Echo exam of pregnant uterus | 1.97 | 4.90 | 5.00 | 4.90 | 5.00 | 0.25 | 7.12 | 7.22 | 7.12 | 7.22 | XXX
76810 | 26 | A | Echo exam of pregnant uterus | 1.97 | 0.73 | 0.79 | 0.73 | 0.79 | 0.07 | 2.77 | 2.83 | 2.77 | 2.83 | XXX
76810 | TC | A | Echo exam of pregnant uterus | 0.00 | 4.17 | 4.21 | NA | NA | 0.18 | 4.35 | 4.39 | NA | NA | XXX
76815 |  | A | Echo exam of pregnant uterus | 0.65 | 1.65 | 1.69 | 1.65 | 1.69 | 0.09 | 2.39 | 2.43 | 2.39 | 2.43 | XXX
76815 | 26 | A | Echo exam of pregnant uterus | 0.65 | 0.24 | 0.26 | 0.24 | 0.26 | 0.02 | 0.91 | 0.93 | 0.91 | 0.93 | XXX
76815 | TC | A | Echo exam of pregnant uterus | 0.00 | 1.41 | 1.43 | NA | NA | 0.07 | 1.48 | 1.50 | NA | NA | XXX
76816 |  | A | Echo exam follow-up/repeat | 0.57 | 1.32 | 1.35 | 1.32 | 1.35 | 0.07 | 1.96 | 1.99 | 1.96 | 1.99 | XXX
76816 | 26 | A | Echo exam follow-up/repeat | 0.57 | 0.22 | 0.24 | 0.22 | 0.24 | 0.02 | 0.81 | 0.83 | 0.81 | 0.83 | XXX
76816 | TC | A | Echo exam follow-up/repeat | 0.00 | 1.10 | 1.11 | NA | NA | 0.05 | 1.15 | 1.16 | NA | NA | XXX
76818 |  | A | Fetl biophys profil w/stress | 0.86 | 1.93 | 1.96 | 1.93 | 1.96 | 0.12 | 2.91 | 2.94 | 2.91 | 2.94 | XXX
76818 | 26 | A | Fetl biophys profil w/stress | 0.86 | 0.33 | 0.34 | 0.33 | 0.34 | 0.04 | 1.23 | 1.24 | 1.23 | 1.24 | XXX
76818 | TC | A | Fetl biophys profil w/stress | 0.00 | 1.60 | 1.62 | NA | NA | 0.08 | 1.68 | 1.70 | NA | NA | XXX
76819 |  | A | Fetl biophys profil w/o strs | 0.63 | 1.84 | 1.84 | 1.84 | 1.84 | 0.11 | 2.58 | 2.58 | 2.58 | 2.58 | XXX
76819 | 26 | A | Fetl biophys profil w/o strs | 0.63 | 0.24 | 0.24 | 0.24 | 0.24 | 0.03 | 0.90 | 0.90 | 0.90 | 0.90 | XXX
76819 | TC | A | Fetl biophys profil w/o strs | 0.00 | 1.60 | 1.60 | NA | NA | 0.08 | 1.68 | 1.68 | NA | NA | XXX
76825 |  | A | Echo exam of fetal heart | 1.67 | 2.57 | 2.53 | 2.57 | 2.53 | 0.15 | 4.39 | 4.35 | 4.39 | 4.35 | XXX
76825 | 26 | A | Echo exam of fetal heart | 1.67 | 0.61 | 0.55 | 0.61 | 0.55 | 0.06 | 2.34 | 2.28 | 2.34 | 2.28 | XXX
76825 | TC | A | Echo exam of fetal heart | 0.00 | 1.96 | 1.98 | NA | NA | 0.09 | 2.05 | 2.07 | NA | NA | XXX
76826 |  | A | Echo exam of fetal heart | 0.83 | 1.00 | 1.12 | 1.00 | 1.12 | 0.07 | 1.90 | 2.02 | 1.90 | 2.02 | XXX
76826 | 26 | A | Echo exam of fetal heart | 0.83 | 0.30 | 0.41 | 0.30 | 0.41 | 0.03 | 1.16 | 1.27 | 1.16 | 1.27 | XXX
76826 | TC | A | Echo exam of fetal heart | 0.00 | 0.70 | 0.71 | NA | NA | 0.04 | 0.74 | 0.75 | NA | NA | XXX
76827 |  | A | Echo exam of fetal heart | 0.58 | 1.93 | 2.07 | 1.93 | 2.07 | 0.12 | 2.63 | 2.77 | 2.63 | 2.77 | XXX
76827 | 26 | A | Echo exam of fetal heart | 0.58 | 0.22 | 0.34 | 0.22 | 0.34 | 0.02 | 0.82 | 0.94 | 0.82 | 0.94 | XXX
76827 | TC | A | Echo exam of fetal heart | 0.00 | 1.71 | 1.73 | NA | NA | 0.10 | 1.81 | 1.83 | NA | NA | XXX
76828 |  | A | Echo exam of fetal heart | 0.56 | 1.32 | 1.35 | 1.32 | 1.35 | 0.09 | 1.97 | 2.00 | 1.97 | 2.00 | XXX
76828 | 26 | A | Echo exam of fetal heart | 0.56 | 0.22 | 0.24 | 0.22 | 0.24 | 0.02 | 0.80 | 0.82 | 0.80 | 0.82 | XXX
76828 | TC | A | Echo exam of fetal heart | 0.00 | 1.10 | 1.11 | NA | NA | 0.07 | 1.17 | 1.18 | NA | NA | XXX
76830 |  | A | Echo exam, transvaginal | 0.69 | 1.76 | 1.81 | 1.76 | 1.81 | 0.11 | 2.56 | 2.61 | 2.56 | 2.61 | XXX
76830 | 26 | A | Echo exam, transvaginal | 0.69 | 0.25 | 0.28 | 0.25 | 0.28 | 0.03 | 0.97 | 1.00 | 0.97 | 1.00 | XXX
76830 | TC | A | Echo exam, transvaginal | 0.00 | 1.51 | 1.53 | NA | NA | 0.08 | 1.59 | 1.61 | NA | NA | XXX
76831 |  | A | Echo exam, uterus | 0.72 | 1.78 | 1.82 | 1.78 | 1.82 | 0.10 | 2.60 | 2.64 | 2.60 | 2.64 | XXX
76831 | 26 | A | Echo exam, uterus | 0.72 | 0.27 | 0.29 | 0.27 | 0.29 | 0.02 | 1.01 | 1.03 | 1.01 | 1.03 | XXX
76831 | TC | A | Echo exam, uterus | 0.00 | 1.51 | 1.53 | NA | NA | 0.08 | 1.59 | 1.61 | NA | NA | XXX
76856 |  | A | Echo exam of pelvis | 0.69 | 1.76 | 1.81 | 1.76 | 1.81 | 0.11 | 2.56 | 2.61 | 2.56 | 2.61 | XXX
76856 | 26 | A | Echo exam of pelvis | 0.69 | 0.25 | 0.28 | 0.25 | 0.28 | 0.03 | 0.97 | 1.00 | 0.97 | 1.00 | XXX
76856 | TC | A | Echo exam of pelvis | 0.00 | 1.51 | 1.53 | NA | NA | 0.08 | 1.59 | 1.61 | NA | NA | XXX
76857 |  | A | Echo exam of pelvis | 0.38 | 1.18 | 1.20 | 1.18 | 1.20 | 0.07 | 1.63 | 1.65 | 1.63 | 1.65 | XXX
76857 | 26 | A | Echo exam of pelvis | 0.38 | 0.13 | 0.14 | 0.13 | 0.14 | 0.02 | 0.53 | 0.54 | 0.53 | 0.54 | XXX
76857 | TC | A | Echo exam of pelvis | 0.00 | 1.05 | 1.06 | NA | NA | 0.05 | 1.10 | 1.11 | NA | NA | XXX
76870 |  | A | Echo exam of scrotum | 0.64 | 1.74 | 1.78 | 1.74 | 1.78 | 0.11 | 2.49 | 2.53 | 2.49 | 2.53 | XXX
76870 | 26 | A | Echo exam of scrotum | 0.64 | 0.23 | 0.25 | 0.23 | 0.25 | 0.03 | 0.90 | 0.92 | 0.90 | 0.92 | XXX
76870 | TC | A | Echo exam of scrotum | 0.00 | 1.51 | 1.53 | NA | NA | 0.08 | 1.59 | 1.61 | NA | NA | XXX
76872 |  | A | Echo exam, transrectal | 0.69 | 1.75 | 1.80 | 1.75 | 1.80 | 0.12 | 2.56 | 2.61 | 2.56 | 2.61 | XXX
76872 | 26 | A | Echo exam, transrectal | 0.69 | 0.24 | 0.27 | 0.24 | 0.27 | 0.04 | 0.97 | 1.00 | 0.97 | 1.00 | XXX
76872 | TC | A | Echo exam, transrectal | 0.00 | 1.51 | 1.53 | NA | NA | 0.08 | 1.59 | 1.61 | NA | NA | XXX
76873 |  | A | Echograp trans r, pros study | 1.55 | 2.61 | 2.61 | 2.61 | 2.61 | 0.21 | 4.37 | 4.37 | 4.37 | 4.37 | XXX
76873 | 26 | A | Echograp trans r, pros study | 1.55 | 0.53 | 0.53 | 0.53 | 0.53 | 0.08 | 2.16 | 2.16 | 2.16 | 2.16 | XXX
76873 | TC | A | Echograp trans r, pros study | 0.00 | 2.08 | 2.08 | NA | NA | 0.13 | 2.21 | 2.21 | NA | NA | XXX
76880 |  | A | Echo exam of extremity | 0.59 | 1.62 | 1.66 | 1.62 | 1.66 | 0.10 | 2.31 | 2.35 | 2.31 | 2.35 | XXX
76880 | 26 | A | Echo exam of extremity | 0.59 | 0.21 | 0.23 | 0.21 | 0.23 | 0.03 | 0.83 | 0.85 | 0.83 | 0.85 | XXX
76880 | TC | A | Echo exam of extremity | 0.00 | 1.41 | 1.43 | NA | NA | 0.07 | 1.48 | 1.50 | NA | NA | XXX
76885 |  | A | Echo exam, infant hips | 0.74 | 1.77 | 1.81 | 1.77 | 1.81 | 0.11 | 2.62 | 2.66 | 2.62 | 2.66 | XXX
76885 | 26 | A | Echo exam, infant hips | 0.74 | 0.26 | 0.28 | 0.26 | 0.28 | 0.03 | 1.03 | 1.05 | 1.03 | 1.05 | XXX
76885 | TC | A | Echo exam, infant hips | 0.00 | 1.51 | 1.53 | NA | NA | 0.08 | 1.59 | 1.61 | NA | NA | XXX
76886 |  | A | Echo exam, infant hips | 0.62 | 1.63 | 1.67 | 1.63 | 1.67 | 0.10 | 2.35 | 2.39 | 2.35 | 2.39 | XXX
76886 | 26 | A | Echo exam, infant hips | 0.62 | 0.22 | 0.24 | 0.22 | 0.24 | 0.03 | 0.87 | 0.89 | 0.87 | 0.89 | XXX
76886 | TC | A | Echo exam, infant hips | 0.00 | 1.41 | 1.43 | NA | NA | 0.07 | 1.48 | 1.50 | NA | NA | XXX
76930 |  | A | Echo guide, cardiocentesis | 0.67 | 1.79 | 1.83 | 1.79 | 1.83 | 0.10 | 2.56 | 2.60 | 2.56 | 2.60 | XXX
76930 | 26 | A | Echo guide, cardiocentesis | 0.67 | 0.28 | 0.30 | 0.28 | 0.30 | 0.02 | 0.97 | 0.99 | 0.97 | 0.99 | XXX
76930 | TC | A | Echo guide, cardiocentesis | 0.00 | 1.51 | 1.53 | NA | NA | 0.08 | 1.59 | 1.61 | NA | NA | XXX
76932 |  | A | Echo guide for heart biopsy | 0.67 | 1.79 | 1.83 | 1.79 | 1.83 | 0.10 | 2.56 | 2.60 | 2.56 | 2.60 | XXX
76932 | 26 | A | Echo guide for heart biopsy | 0.67 | 0.28 | 0.30 | 0.28 | 0.30 | 0.02 | 0.97 | 0.99 | 0.97 | 0.99 | XXX
76932 | TC | A | Echo guide for heart biopsy | 0.00 | 1.51 | 1.53 | NA | NA | 0.08 | 1.59 | 1.61 | NA | NA | XXX
76934 |  | A | Echo guide for chest tap | 0.67 | 1.75 | 1.80 | 1.75 | 1.80 | 0.11 | 2.53 | 2.58 | 2.53 | 2.58 | XXX
76934 | 26 | A | Echo guide for chest tap | 0.67 | 0.24 | 0.27 | 0.24 | 0.27 | 0.03 | 0.94 | 0.97 | 0.94 | 0.97 | XXX
76934 | TC | A | Echo guide for chest tap | 0.00 | 1.51 | 1.53 | NA | NA | 0.08 | 1.59 | 1.61 | NA | NA | XXX
76936 |  | A | Echo guide for artery repair | 1.99 | 6.96 | 7.19 | 6.96 | 7.19 | 0.39 | 9.34 | 9.57 | 9.34 | 9.57 | XXX
76936 | 26 | A | Echo guide for artery repair | 1.99 | 0.72 | 0.88 | 0.72 | 0.88 | 0.11 | 2.82 | 2.98 | 2.82 | 2.98 | XXX
76936 | TC | A | Echo guide for artery repair | 0.00 | 6.24 | 6.31 | NA | NA | 0.28 | 6.52 | 6.59 | NA | NA | XXX
76938 |  | A | Echo exam for drainage | 0.67 | 1.75 | 1.80 | 1.75 | 1.80 | 0.12 | 2.54 | 2.59 | 2.54 | 2.59 | XXX
76938 | 26 | A | Echo exam for drainage | 0.67 | 0.24 | 0.27 | 0.24 | 0.27 | 0.04 | 0.95 | 0.98 | 0.95 | 0.98 | XXX
76938 | TC | A | Echo exam for drainage | 0.00 | 1.51 | 1.53 | NA | NA | 0.08 | 1.59 | 1.61 | NA | NA | XXX
76941 |  | A | Echo guide for transfusion | 1.34 | 2.02 | 2.08 | 2.02 | 2.08 | 0.13 | 3.49 | 3.55 | 3.49 | 3.55 | XXX
76941 | 26 | A | Echo guide for transfusion | 1.34 | 0.50 | 0.54 | 0.50 | 0.54 | 0.06 | 1.90 | 1.94 | 1.90 | 1.94 | XXX
76941 | TC | A | Echo guide for transfusion | 0.00 | 1.52 | 1.54 | NA | NA | 0.07 | 1.59 | 1.61 | NA | NA | XXX
76942 |  | A | Echo guide for biopsy | 0.67 | 1.74 | 1.79 | 1.74 | 1.79 | 0.12 | 2.53 | 2.58 | 2.53 | 2.58 | XXX
76942 | 26 | A | Echo guide for biopsy | 0.67 | 0.23 | 0.26 | 0.23 | 0.26 | 0.04 | 0.94 | 0.97 | 0.94 | 0.97 | XXX
76942 | TC | A | Echo guide for biopsy | 0.00 | 1.51 | 1.53 | NA | NA | 0.08 | 1.59 | 1.61 | NA | NA | XXX
76945 |  | A | Echo guide, villus sampling | 0.67 | 1.76 | 1.89 | 1.76 | 1.89 | 0.10 | 2.53 | 2.66 | 2.53 | 2.66 | XXX
76945 | 26 | A | Echo guide, villus sampling | 0.67 | 0.24 | 0.35 | 0.24 | 0.35 | 0.03 | 0.94 | 1.05 | 0.94 | 1.05 | XXX
76945 | TC | A | Echo guide, villus sampling | 0.00 | 1.52 | 1.54 | NA | NA | 0.07 | 1.59 | 1.61 | NA | NA | XXX
76946 |  | A | Echo guide for amniocentesis | 0.38 | 1.65 | 1.68 | 1.65 | 1.68 | 0.09 | 2.12 | 2.15 | 2.12 | 2.15 | XXX
76946 | 26 | A | Echo guide for amniocentesis | 0.38 | 0.14 | 0.15 | 0.14 | 0.15 | 0.01 | 0.53 | 0.54 | 0.53 | 0.54 | XXX
76946 | TC | A | Echo guide for amniocentesis | 0.00 | 1.51 | 1.53 | NA | NA | 0.08 | 1.59 | 1.61 | NA | NA | XXX
76948 |  | A | Echo guide, ova aspiration | 0.38 | 1.65 | 1.68 | 1.65 | 1.68 | 0.10 | 2.13 | 2.16 | 2.13 | 2.16 | XXX
76948 | 26 | A | Echo guide, ova aspiration | 0.38 | 0.14 | 0.15 | 0.14 | 0.15 | 0.02 | 0.54 | 0.55 | 0.54 | 0.55 | XXX
76948 | TC | A | Echo guide, ova aspiration | 0.00 | 1.51 | 1.53 | NA | NA | 0.08 | 1.59 | 1.61 | NA | NA | XXX
76950 |  | A | Echo guidance radiotherapy | 0.58 | 1.50 | 1.53 | 1.50 | 1.53 | 0.09 | 2.17 | 2.20 | 2.17 | 2.20 | XXX
76950 | 26 | A | Echo guidance radiotherapy | 0.58 | 0.20 | 0.22 | 0.20 | 0.22 | 0.03 | 0.81 | 0.83 | 0.81 | 0.83 | XXX
76950 | TC | A | Echo guidance radiotherapy | 0.00 | 1.30 | 1.31 | NA | NA | 0.06 | 1.36 | 1.37 | NA | NA | XXX
76960 |  | A | Echo guidance radiotherapy | 0.58 | 1.50 | 1.53 | 1.50 | 1.53 | 0.09 | 2.17 | 2.20 | 2.17 | 2.20 | XXX
76960 | 26 | A | Echo guidance radiotherapy | 0.58 | 0.20 | 0.22 | 0.20 | 0.22 | 0.03 | 0.81 | 0.83 | 0.81 | 0.83 | XXX
76960 | TC | A | Echo guidance radiotherapy | 0.00 | 1.30 | 1.31 | NA | NA | 0.06 | 1.36 | 1.37 | NA | NA | XXX
76965 |  | A | Echo guidance radiotherapy | 1.34 | 5.97 | 6.32 | 5.97 | 6.32 | 0.31 | 7.62 | 7.97 | 7.62 | 7.97 | XXX
76965 | 26 | A | Echo guidance radiotherapy | 1.34 | 0.45 | 0.74 | 0.45 | 0.74 | 0.07 | 1.86 | 2.15 | 1.86 | 2.15 | XXX
76965 | TC | A | Echo guidance radiotherapy | 0.00 | 5.52 | 5.58 | NA | NA | 0.24 | 5.76 | 5.82 | NA | NA | XXX
76970 |  | A | Ultrasound exam follow-up | 0.40 | 1.19 | 1.22 | 1.19 | 1.22 | 0.07 | 1.66 | 1.69 | 1.66 | 1.69 | XXX
76970 | 26 | A | Ultrasound exam follow-up | 0.40 | 0.14 | 0.16 | 0.14 | 0.16 | 0.02 | 0.56 | 0.58 | 0.56 | 0.58 | XXX
76970 | TC | A | Ultrasound exam follow-up | 0.00 | 1.05 | 1.06 | NA | NA | 0.05 | 1.10 | 1.11 | NA | NA | XXX
76975 |  | A | GI endoscopic ultrasound | 0.81 | 1.80 | 1.84 | 1.80 | 1.84 | 0.11 | 2.72 | 2.76 | 2.72 | 2.76 | XXX
76975 | 26 | A | GI endoscopic ultrasound | 0.81 | 0.29 | 0.31 | 0.29 | 0.31 | 0.03 | 1.13 | 1.15 | 1.13 | 1.15 | XXX
76975 | TC | A | GI endoscopic ultrasound | 0.00 | 1.51 | 1.53 | NA | NA | 0.08 | 1.59 | 1.61 | NA | NA | XXX
76977 |  | A | Us bone density measure | 0.05 | 1.43 | 1.43 | 1.43 | 1.43 | 0.05 | 1.53 | 1.53 | 1.53 | 1.53 | XXX
76977 | 26 | A | Us bone density measure | 0.05 | 0.02 | 0.02 | 0.02 | 0.02 | 0.01 | 0.08 | 0.08 | 0.08 | 0.08 | XXX
76977 | TC | A | Us bone density measure | 0.00 | 1.41 | 1.41 | NA | NA | 0.04 | 1.45 | 1.45 | NA | NA | XXX
76986 |  | A | Ultrasound guide intraoper | 1.20 | 3.03 | 3.10 | 3.03 | 3.10 | 0.19 | 4.42 | 4.49 | 4.42 | 4.49 | XXX
76986 | 26 | A | Ultrasound guide intraoper | 1.20 | 0.43 | 0.47 | 0.43 | 0.47 | 0.07 | 1.70 | 1.74 | 1.70 | 1.74 | XXX
76986 | TC | A | Ultrasound guide intraoper | 0.00 | 2.60 | 2.63 | NA | NA | 0.12 | 2.72 | 2.75 | NA | NA | XXX
76999 |  | C | Echo examination procedure | 0.00 | 0.00 | 0.00 | 0.00 | 0.00 | 0.00 | 0.00 | 0.00 | 0.00 | 0.00 | XXX
76999 | 26 | C | Echo examination procedure | 0.00 | 0.00 | 0.00 | 0.00 | 0.00 | 0.00 | 0.00 | 0.00 | 0.00 | 0.00 | XXX
76999 | TC | C | Echo examination procedure | 0.00 | 0.00 | 0.00 | 0.00 | 0.00 | 0.00 | 0.00 | 0.00 | 0.00 | 0.00 | XXX
77261 |  | A | Radiation therapy planning | 1.39 | 0.55 | 0.58 | 0.55 | 0.58 | 0.06 | 2.00 | 2.03 | 2.00 | 2.03 | XXX
77262 |  | A | Radiation therapy planning | 2.11 | 0.82 | 0.87 | 0.82 | 0.87 | 0.09 | 3.02 | 3.07 | 3.02 | 3.07 | XXX
77263 |  | A | Radiation therapy planning | 3.14 | 1.21 | 1.29 | 1.21 | 1.29 | 0.13 | 4.48 | 4.56 | 4.48 | 4.56 | XXX
77280 |  | A | Set radiation therapy field | 0.70 | 3.70 | 3.77 | 3.70 | 3.77 | 0.18 | 4.58 | 4.65 | 4.58 | 4.65 | XXX
77280 | 26 | A | Set radiation therapy field | 0.70 | 0.25 | 0.28 | 0.25 | 0.28 | 0.03 | 0.98 | 1.01 | 0.98 | 1.01 | XXX
77280 | TC | A | Set radiation therapy field | 0.00 | 3.45 | 3.49 | NA | NA | 0.15 | 3.60 | 3.64 | NA | NA | XXX
77285 |  | A | Set radiation therapy field | 1.05 | 5.89 | 5.98 | 5.89 | 5.98 | 0.29 | 7.23 | 7.32 | 7.23 | 7.32 | XXX
77285 | 26 | A | Set radiation therapy field | 1.05 | 0.37 | 0.40 | 0.37 | 0.40 | 0.04 | 1.46 | 1.49 | 1.46 | 1.49 | XXX
77285 | TC | A | Set radiation therapy field | 0.00 | 5.52 | 5.58 | NA | NA | 0.25 | 5.77 | 5.83 | NA | NA | XXX
77290 |  | A | Set radiation therapy field | 1.56 | 7.01 | 7.13 | 7.01 | 7.13 | 0.35 | 8.92 | 9.04 | 8.92 | 9.04 | XXX
77290 | 26 | A | Set radiation therapy field | 1.56 | 0.55 | 0.60 | 0.55 | 0.60 | 0.06 | 2.17 | 2.22 | 2.17 | 2.22 | XXX
77290 | TC | A | Set radiation therapy field | 0.00 | 6.46 | 6.53 | NA | NA | 0.29 | 6.75 | 6.82 | NA | NA | XXX
77295 |  | A | Set radiation therapy field | 4.57 | 29.34 | 29.79 | 29.34 | 29.79 | 1.41 | 35.32 | 35.77 | 35.32 | 35.77 | XXX
77295 | 26 | A | Set radiation therapy field | 4.57 | 1.61 | 1.77 | 1.61 | 1.77 | 0.18 | 6.36 | 6.52 | 6.36 | 6.52 | XXX
77295 | TC | A | Set radiation therapy field | 0.00 | 27.73 | 28.02 | NA | NA | 1.23 | 28.96 | 29.25 | NA | NA | XXX
77299 |  | C | Radiation therapy planning | 0.00 | 0.00 | 0.00 | 0.00 | 0.00 | 0.00 | 0.00 | 0.00 | 0.00 | 0.00 | XXX
77299 | 26 | C | Radiation therapy planning | 0.00 | 0.00 | 0.00 | 0.00 | 0.00 | 0.00 | 0.00 | 0.00 | 0.00 | 0.00 | XXX
77299 | TC | C | Radiation therapy planning | 0.00 | 0.00 | 0.00 | 0.00 | 0.00 | 0.00 | 0.00 | 0.00 | 0.00 | 0.00 | XXX
77300 |  | A | Radiation therapy dose plan | 0.62 | 1.56 | 1.59 | 1.56 | 1.59 | 0.09 | 2.27 | 2.30 | 2.27 | 2.30 | XXX
77300 | 26 | A | Radiation therapy dose plan | 0.62 | 0.22 | 0.24 | 0.22 | 0.24 | 0.03 | 0.87 | 0.89 | 0.87 | 0.89 | XXX
77300 | TC | A | Radiation therapy dose plan | 0.00 | 1.34 | 1.35 | NA | NA | 0.06 | 1.40 | 1.41 | NA | NA | XXX
77305 |  | A | Radiation therapy dose plan | 0.70 | 2.09 | 2.14 | 2.09 | 2.14 | 0.12 | 2.91 | 2.96 | 2.91 | 2.96 | XXX
77305 | 26 | A | Radiation therapy dose plan | 0.70 | 0.25 | 0.28 | 0.25 | 0.28 | 0.03 | 0.98 | 1.01 | 0.98 | 1.01 | XXX
77305 | TC | A | Radiation therapy dose plan | 0.00 | 1.84 | 1.86 | NA | NA | 0.09 | 1.93 | 1.95 | NA | NA | XXX
77310 |  | A | Radiation therapy dose plan | 1.05 | 2.69 | 2.74 | 2.69 | 2.74 | 0.15 | 3.89 | 3.94 | 3.89 | 3.94 | XXX
77310 | 26 | A | Radiation therapy dose plan | 1.05 | 0.37 | 0.40 | 0.37 | 0.40 | 0.04 | 1.46 | 1.49 | 1.46 | 1.49 | XXX
77310 | TC | A | Radiation therapy dose plan | 0.00 | 2.32 | 2.34 | NA | NA | 0.11 | 2.43 | 2.45 | NA | NA | XXX
77315 |  | A | Radiation therapy dose plan | 1.56 | 3.19 | 3.27 | 3.19 | 3.27 | 0.18 | 4.93 | 5.01 | 4.93 | 5.01 | XXX
77315 | 26 | A | Radiation therapy dose plan | 1.56 | 0.55 | 0.60 | 0.55 | 0.60 | 0.06 | 2.17 | 2.22 | 2.17 | 2.22 | XXX
77315 | TC | A | Radiation therapy dose plan | 0.00 | 2.64 | 2.67 | NA | NA | 0.12 | 2.76 | 2.79 | NA | NA | XXX
77321 |  | A | Radiation therapy port plan | 0.95 | 4.35 | 4.43 | 4.35 | 4.43 | 0.21 | 5.51 | 5.59 | 5.51 | 5.59 | XXX
77321 | 26 | A | Radiation therapy port plan | 0.95 | 0.33 | 0.37 | 0.33 | 0.37 | 0.04 | 1.32 | 1.36 | 1.32 | 1.36 | XXX
77321 | TC | A | Radiation therapy port plan | 0.00 | 4.02 | 4.06 | NA | NA | 0.17 | 4.19 | 4.23 | NA | NA | XXX
77326 |  | A | Radiation therapy dose plan | 0.93 | 2.67 | 2.73 | 2.67 | 2.73 | 0.15 | 3.75 | 3.81 | 3.75 | 3.81 | XXX
77326 | 26 | A | Radiation therapy dose plan | 0.93 | 0.33 | 0.36 | 0.33 | 0.36 | 0.04 | 1.30 | 1.33 | 1.30 | 1.33 | XXX
77326 | TC | A | Radiation therapy dose plan | 0.00 | 2.34 | 2.37 | NA | NA | 0.11 | 2.45 | 2.48 | NA | NA | XXX
77327 |  | A | Radiation therapy dose plan | 1.39 | 3.94 | 4.03 | 3.94 | 4.03 | 0.21 | 5.54 | 5.63 | 5.54 | 5.63 | XXX
77327 | 26 | A | Radiation therapy dose plan | 1.39 | 0.49 | 0.54 | 0.49 | 0.54 | 0.06 | 1.94 | 1.99 | 1.94 | 1.99 | XXX
77327 | TC | A | Radiation therapy dose plan | 0.00 | 3.45 | 3.49 | NA | NA | 0.15 | 3.60 | 3.64 | NA | NA | XXX
77328 |  | A | Radiation therapy dose plan | 2.09 | 5.67 | 5.79 | 5.67 | 5.79 | 0.30 | 8.06 | 8.18 | 8.06 | 8.18 | XXX
77328 | 26 | A | Radiation therapy dose plan | 2.09 | 0.74 | 0.81 | 0.74 | 0.81 | 0.09 | 2.92 | 2.99 | 2.92 | 2.99 | XXX
77328 | TC | A | Radiation therapy dose plan | 0.00 | 4.93 | 4.98 | NA | NA | 0.21 | 5.14 | 5.19 | NA | NA | XXX
77331 |  | A | Special radiation dosimetry | 0.87 | 0.81 | 0.85 | 0.81 | 0.85 | 0.06 | 1.74 | 1.78 | 1.74 | 1.78 | XXX
77331 | 26 | A | Special radiation dosimetry | 0.87 | 0.31 | 0.34 | 0.31 | 0.34 | 0.04 | 1.22 | 1.25 | 1.22 | 1.25 | XXX
77331 | TC | A | Special radiation dosimetry | 0.00 | 0.50 | 0.51 | NA | NA | 0.02 | 0.52 | 0.53 | NA | NA | XXX
77332 |  | A | Radiation treatment aid(s) | 0.54 | 1.53 | 1.56 | 1.53 | 1.56 | 0.08 | 2.15 | 2.18 | 2.15 | 2.18 | XXX
77332 | 26 | A | Radiation treatment aid(s) | 0.54 | 0.19 | 0.21 | 0.19 | 0.21 | 0.02 | 0.75 | 0.77 | 0.75 | 0.77 | XXX
77332 | TC | A | Radiation treatment aid(s) | 0.00 | 1.34 | 1.35 | NA | NA | 0.06 | 1.40 | 1.41 | NA | NA | XXX
77333 |  | A | Radiation treatment aid(s) | 0.84 | 2.18 | 2.23 | 2.18 | 2.23 | 0.13 | 3.15 | 3.20 | 3.15 | 3.20 | XXX
77333 | 26 | A | Radiation treatment aid(s) | 0.84 | 0.30 | 0.33 | 0.30 | 0.33 | 0.04 | 1.18 | 1.21 | 1.18 | 1.21 | XXX
77333 | TC | A | Radiation treatment aid(s) | 0.00 | 1.88 | 1.90 | NA | NA | 0.09 | 1.97 | 1.99 | NA | NA | XXX
77334 |  | A | Radiation treatment aid(s) | 1.24 | 3.67 | 3.74 | 3.67 | 3.74 | 0.19 | 5.10 | 5.17 | 5.10 | 5.17 | XXX
77334 | 26 | A | Radiation treatment aid(s) | 1.24 | 0.44 | 0.48 | 0.44 | 0.48 | 0.05 | 1.73 | 1.77 | 1.73 | 1.77 | XXX
77334 | TC | A | Radiation treatment aid(s) | 0.00 | 3.23 | 3.26 | NA | NA | 0.14 | 3.37 | 3.40 | NA | NA | XXX
77336 |  | A | Radiation physics consult | 0.00 | 2.96 | 2.99 | NA | NA | 0.13 | 3.09 | 3.12 | NA | NA | XXX
77370 |  | A | Radiation physics consult | 0.00 | 3.47 | 3.51 | NA | NA | 0.15 | 3.62 | 3.66 | NA | NA | XXX
77399 |  | C | External radiation dosimetry | 0.00 | 0.00 | 0.00 | 0.00 | 0.00 | 0.00 | 0.00 | 0.00 | 0.00 | 0.00 | XXX
77399 | 26 | C | External radiation dosimetry | 0.00 | 0.00 | 0.00 | 0.00 | 0.00 | 0.00 | 0.00 | 0.00 | 0.00 | 0.00 | XXX
77399 | TC | C | External radiation dosimetry | 0.00 | 0.00 | 0.00 | 0.00 | 0.00 | 0.00 | 0.00 | 0.00 | 0.00 | 0.00 | XXX
77401 |  | A | Radiation treatment delivery | 0.00 | 1.76 | 1.78 | NA | NA | 0.09 | 1.85 | 1.87 | NA | NA | XXX
77402 |  | A | Radiation treatment delivery | 0.00 | 1.76 | 1.78 | NA | NA | 0.09 | 1.85 | 1.87 | NA | NA | XXX
77403 |  | A | Radiation treatment delivery | 0.00 | 1.76 | 1.78 | NA | NA | 0.09 | 1.85 | 1.87 | NA | NA | XXX
77404 |  | A | Radiation treatment delivery | 0.00 | 1.76 | 1.78 | NA | NA | 0.09 | 1.85 | 1.87 | NA | NA | XXX
77406 |  | A | Radiation treatment delivery | 0.00 | 1.76 | 1.78 | NA | NA | 0.09 | 1.85 | 1.87 | NA | NA | XXX
77407 |  | A | Radiation treatment delivery | 0.00 | 2.08 | 2.10 | NA | NA | 0.10 | 2.18 | 2.20 | NA | NA | XXX
77408 |  | A | Radiation treatment delivery | 0.00 | 2.08 | 2.10 | NA | NA | 0.10 | 2.18 | 2.20 | NA | NA | XXX
77409 |  | A | Radiation treatment delivery | 0.00 | 2.08 | 2.10 | NA | NA | 0.10 | 2.18 | 2.20 | NA | NA | XXX
77411 |  | A | Radiation treatment delivery | 0.00 | 2.08 | 2.10 | NA | NA | 0.10 | 2.18 | 2.20 | NA | NA | XXX
77412 |  | A | Radiation treatment delivery | 0.00 | 2.32 | 2.34 | NA | NA | 0.11 | 2.43 | 2.45 | NA | NA | XXX
77413 |  | A | Radiation treatment delivery | 0.00 | 2.32 | 2.34 | NA | NA | 0.11 | 2.43 | 2.45 | NA | NA | XXX
77414 |  | A | Radiation treatment delivery | 0.00 | 2.32 | 2.34 | NA | NA | 0.11 | 2.43 | 2.45 | NA | NA | XXX
77416 |  | A | Radiation treatment delivery | 0.00 | 2.32 | 2.34 | NA | NA | 0.11 | 2.43 | 2.45 | NA | NA | XXX
77417 |  | A | Radiology port film(s) | 0.00 | 0.59 | 0.60 | NA | NA | 0.03 | 0.62 | 0.63 | NA | NA | XXX
77427 |  | A | Radiation tx management, x5 | 3.31 | 1.17 | 1.17 | 1.17 | 1.17 | 0.14 | 4.62 | 4.62 | 4.62 | 4.62 | XXX
77431 |  | A | Radiation therapy management | 1.81 | 0.73 | 0.77 | 0.73 | 0.77 | 0.07 | 2.61 | 2.65 | 2.61 | 2.65 | XXX
77432 |  | A | Stereotactic radiation trmt | 7.93 | 3.21 | 3.75 | 3.21 | 3.75 | 0.33 | 11.47 | 12.01 | 11.47 | 12.01 | XXX
77470 |  | A | Special radiation treatment | 2.09 | 11.80 | 11.99 | 11.80 | 11.99 | 0.58 | 14.47 | 14.66 | 14.47 | 14.66 | XXX
77470 | 26 | A | Special radiation treatment | 2.09 | 0.73 | 0.80 | 0.73 | 0.80 | 0.09 | 2.91 | 2.98 | 2.91 | 2.98 | XXX
77470 | TC | A | Special radiation treatment | 0.00 | 11.07 | 11.19 | NA | NA | 0.49 | 11.56 | 11.68 | NA | NA | XXX
77499 |  | C | Radiation therapy management | 0.00 | 0.00 | 0.00 | 0.00 | 0.00 | 0.00 | 0.00 | 0.00 | 0.00 | 0.00 | XXX
77499 | 26 | C | Radiation therapy management | 0.00 | 0.00 | 0.00 | 0.00 | 0.00 | 0.00 | 0.00 | 0.00 | 0.00 | 0.00 | XXX
77499 | TC | C | Radiation therapy management | 0.00 | 0.00 | 0.00 | 0.00 | 0.00 | 0.00 | 0.00 | 0.00 | 0.00 | 0.00 | XXX
77520 |  | C | Proton trmt, simple w/o comp | 0.00 | 0.00 | 0.00 | 0.00 | 0.00 | 0.00 | 0.00 | 0.00 | 0.00 | 0.00 | XXX
77522 |  | C | Proton trmt, simple w/comp | 0.00 | 0.00 | 0.00 | 0.00 | 0.00 | 0.00 | 0.00 | 0.00 | 0.00 | 0.00 | XXX
77523 |  | C | Proton trmt, intermediate | 0.00 | 0.00 | 0.00 | 0.00 | 0.00 | 0.00 | 0.00 | 0.00 | 0.00 | 0.00 | XXX
77525 |  | C | Proton treatment, complex | 0.00 | 0.00 | 0.00 | 0.00 | 0.00 | 0.00 | 0.00 | 0.00 | 0.00 | 0.00 | XXX
77600 |  | R | Hyperthermia treatment | 1.56 | 3.58 | 3.66 | 3.58 | 3.66 | 0.21 | 5.35 | 5.43 | 5.35 | 5.43 | XXX
77600 | 26 | R | Hyperthermia treatment | 1.56 | 0.55 | 0.60 | 0.55 | 0.60 | 0.08 | 2.19 | 2.24 | 2.19 | 2.24 | XXX
77600 | TC | R | Hyperthermia treatment | 0.00 | 3.03 | 3.06 | NA | NA | 0.13 | 3.16 | 3.19 | NA | NA | XXX
77605 |  | R | Hyperthermia treatment | 2.09 | 4.77 | 4.88 | 4.77 | 4.88 | 0.31 | 7.17 | 7.28 | 7.17 | 7.28 | XXX
77605 | 26 | R | Hyperthermia treatment | 2.09 | 0.73 | 0.80 | 0.73 | 0.80 | 0.13 | 2.95 | 3.02 | 2.95 | 3.02 | XXX
77605 | TC | R | Hyperthermia treatment | 0.00 | 4.04 | 4.08 | NA | NA | 0.18 | 4.22 | 4.26 | NA | NA | XXX
77610 |  | R | Hyperthermia treatment | 1.56 | 3.58 | 3.66 | 3.58 | 3.66 | 0.20 | 5.34 | 5.42 | 5.34 | 5.42 | XXX
77610 | 26 | R | Hyperthermia treatment | 1.56 | 0.55 | 0.60 | 0.55 | 0.60 | 0.07 | 2.18 | 2.23 | 2.18 | 2.23 | XXX
77610 | TC | R | Hyperthermia treatment | 0.00 | 3.03 | 3.06 | NA | NA | 0.13 | 3.16 | 3.19 | NA | NA | XXX
77615 |  | R | Hyperthermia treatment | 2.09 | 4.77 | 4.88 | 4.77 | 4.88 | 0.27 | 7.13 | 7.24 | 7.13 | 7.24 | XXX
77615 | 26 | R | Hyperthermia treatment | 2.09 | 0.73 | 0.80 | 0.73 | 0.80 | 0.09 | 2.91 | 2.98 | 2.91 | 2.98 | XXX
77615 | TC | R | Hyperthermia treatment | 0.00 | 4.04 | 4.08 | NA | NA | 0.18 | 4.22 | 4.26 | NA | NA | XXX
77620 |  | R | Hyperthermia treatment | 1.56 | 3.60 | 3.68 | 3.60 | 3.68 | 0.19 | 5.35 | 5.43 | 5.35 | 5.43 | XXX
77620 | 26 | R | Hyperthermia treatment | 1.56 | 0.57 | 0.62 | 0.57 | 0.62 | 0.06 | 2.19 | 2.24 | 2.19 | 2.24 | XXX
77620 | TC | R | Hyperthermia treatment | 0.00 | 3.03 | 3.06 | NA | NA | 0.13 | 3.16 | 3.19 | NA | NA | XXX
77750 |  | A | Infuse radioactive materials | 4.91 | 3.06 | 3.19 | 3.06 | 3.19 | 0.23 | 8.20 | 8.33 | 8.20 | 8.33 | 090
77750 | 26 | A | Infuse radioactive materials | 4.91 | 1.73 | 1.85 | 1.73 | 1.85 | 0.17 | 6.81 | 6.93 | 6.81 | 6.93 | 090
77750 | TC | A | Infuse radioactive materials | 0.00 | 1.33 | 1.34 | NA | NA | 0.06 | 1.39 | 1.40 | NA | NA | 090
77761 |  | A | Apply intrcav radiat simple | 3.81 | 3.74 | 3.89 | 3.74 | 3.89 | 0.28 | 7.83 | 7.98 | 7.83 | 7.98 | 090
77761 | 26 | A | Apply intrcav radiat simple | 3.81 | 1.25 | 1.37 | 1.25 | 1.37 | 0.16 | 5.22 | 5.34 | 5.22 | 5.34 | 090
77761 | TC | A | Apply intrcav radiat simple | 0.00 | 2.49 | 2.52 | NA | NA | 0.12 | 2.61 | 2.64 | NA | NA | 090
77762 |  | A | Apply intrcav radiat interm | 5.72 | 5.62 | 5.80 | 5.62 | 5.80 | 0.38 | 11.72 | 11.90 | 11.72 | 11.90 | 090
77762 | 26 | A | Apply intrcav radiat interm | 5.72 | 2.04 | 2.18 | 2.04 | 2.18 | 0.22 | 7.98 | 8.12 | 7.98 | 8.12 | 090
77762 | TC | A | Apply intrcav radiat interm | 0.00 | 3.58 | 3.62 | NA | NA | 0.16 | 3.74 | 3.78 | NA | NA | 090
77763 |  | A | Apply intrcav radiat compl | 8.57 | 7.49 | 7.76 | 7.49 | 7.76 | 0.53 | 16.59 | 16.86 | 16.59 | 16.86 | 090
77763 | 26 | A | Apply intrcav radiat compl | 8.57 | 3.03 | 3.25 | 3.03 | 3.25 | 0.34 | 11.94 | 12.16 | 11.94 | 12.16 | 090
77763 | TC | A | Apply intrcav radiat compl | 0.00 | 4.46 | 4.51 | NA | NA | 0.19 | 4.65 | 4.70 | NA | NA | 090
77776 |  | A | Apply interstit radiat simpl | 4.66 | 3.30 | 3.60 | 3.30 | 3.60 | 0.35 | 8.31 | 8.61 | 8.31 | 8.61 | XXX
77776 | 26 | A | Apply interstit radiat simpl | 4.66 | 1.14 | 1.42 | 1.14 | 1.42 | 0.24 | 6.04 | 6.32 | 6.04 | 6.32 | XXX
77776 | TC | A | Apply interstit radiat simpl | 0.00 | 2.16 | 2.18 | NA | NA | 0.11 | 2.27 | 2.29 | NA | NA | XXX
77777 |  | A | Apply interstit radiat inter | 7.48 | 6.86 | 7.09 | 6.86 | 7.09 | 0.50 | 14.84 | 15.07 | 14.84 | 15.07 | 090
77777 | 26 | A | Apply interstit radiat inter | 7.48 | 2.65 | 2.84 | 2.65 | 2.84 | 0.32 | 10.45 | 10.64 | 10.45 | 10.64 | 090
77777 | TC | A | Apply interstit radiat inter | 0.00 | 4.21 | 4.25 | NA | NA | 0.18 | 4.39 | 4.43 | NA | NA | 090
77778 |  | A | Apply iterstit radiat compl | 11.19 | 9.01 | 9.36 | 9.01 | 9.36 | 0.69 | 20.89 | 21.24 | 20.89 | 21.24 | 090
77778 | 26 | A | Apply iterstit radiat compl | 11.19 | 3.91 | 4.21 | 3.91 | 4.21 | 0.47 | 15.57 | 15.87 | 15.57 | 15.87 | 090
77778 | TC | A | Apply iterstit radiat compl | 0.00 | 5.10 | 5.15 | NA | NA | 0.22 | 5.32 | 5.37 | NA | NA | 090
77781 |  | A | High intensity brachytherapy | 1.66 | 20.75 | 21.00 | 20.75 | 21.00 | 0.95 | 23.36 | 23.61 | 23.36 | 23.61 | 090
77781 | 26 | A | High intensity brachytherapy | 1.66 | 0.59 | 0.63 | 0.59 | 0.63 | 0.07 | 2.32 | 2.36 | 2.32 | 2.36 | 090
77781 | TC | A | High intensity brachytherapy | 0.00 | 20.16 | 20.37 | NA | NA | 0.88 | 21.04 | 21.25 | NA | NA | 090
77782 |  | A | High intensity brachytherapy | 2.49 | 21.04 | 21.32 | 21.04 | 21.32 | 0.98 | 24.51 | 24.79 | 24.51 | 24.79 | 090
77782 | 26 | A | High intensity brachytherapy | 2.49 | 0.88 | 0.95 | 0.88 | 0.95 | 0.10 | 3.47 | 3.54 | 3.47 | 3.54 | 090
77782 | TC | A | High intensity brachytherapy | 0.00 | 20.16 | 20.37 | NA | NA | 0.88 | 21.04 | 21.25 | NA | NA | 090
77783 |  | A | High intensity brachytherapy | 3.73 | 21.47 | 21.77 | 21.47 | 21.77 | 1.03 | 26.23 | 26.53 | 26.23 | 26.53 | 090
77783 | 26 | A | High intensity brachytherapy | 3.73 | 1.31 | 1.40 | 1.31 | 1.40 | 0.15 | 5.19 | 5.28 | 5.19 | 5.28 | 090
77783 | TC | A | High intensity brachytherapy | 0.00 | 20.16 | 20.37 | NA | NA | 0.88 | 21.04 | 21.25 | NA | NA | 090
77784 |  | A | High intensity brachytherapy | 5.61 | 22.13 | 22.48 | 22.13 | 22.48 | 1.10 | 28.84 | 29.19 | 28.84 | 29.19 | 090
77784 | 26 | A | High intensity brachytherapy | 5.61 | 1.97 | 2.11 | 1.97 | 2.11 | 0.22 | 7.80 | 7.94 | 7.80 | 7.94 | 090
77784 | TC | A | High intensity brachytherapy | 0.00 | 20.16 | 20.37 | NA | NA | 0.88 | 21.04 | 21.25 | NA | NA | 090
77789 |  | A | Apply surface radiation | 1.12 | 0.85 | 0.89 | 0.85 | 0.89 | 0.05 | 2.02 | 2.06 | 2.02 | 2.06 | 090
77789 | 26 | A | Apply surface radiation | 1.12 | 0.40 | 0.43 | 0.40 | 0.43 | 0.03 | 1.55 | 1.58 | 1.55 | 1.58 | 090
77789 | TC | A | Apply surface radiation | 0.00 | 0.45 | 0.46 | NA | NA | 0.02 | 0.47 | 0.48 | NA | NA | 090
77790 |  | A | Radiation handling | 1.05 | 0.87 | 0.91 | 0.87 | 0.91 | 0.06 | 1.98 | 2.02 | 1.98 | 2.02 | XXX
77790 | 26 | A | Radiation handling | 1.05 | 0.37 | 0.40 | 0.37 | 0.40 | 0.04 | 1.46 | 1.49 | 1.46 | 1.49 | XXX
77790 | TC | A | Radiation handling | 0.00 | 0.50 | 0.51 | NA | NA | 0.02 | 0.52 | 0.53 | NA | NA | XXX
77799 |  | C | Radium/radioisotope therapy | 0.00 | 0.00 | 0.00 | 0.00 | 0.00 | 0.00 | 0.00 | 0.00 | 0.00 | 0.00 | XXX
77799 | 26 | C | Radium/radioisotope therapy | 0.00 | 0.00 | 0.00 | 0.00 | 0.00 | 0.00 | 0.00 | 0.00 | 0.00 | 0.00 | XXX
77799 | TC | C | Radium/radioisotope therapy | 0.00 | 0.00 | 0.00 | 0.00 | 0.00 | 0.00 | 0.00 | 0.00 | 0.00 | 0.00 | XXX
78000 |  | A | Thyroid, single uptake | 0.19 | 1.03 | 1.05 | 1.03 | 1.05 | 0.06 | 1.28 | 1.30 | 1.28 | 1.30 | XXX
78000 | 26 | A | Thyroid, single uptake | 0.19 | 0.07 | 0.08 | 0.07 | 0.08 | 0.01 | 0.27 | 0.28 | 0.27 | 0.28 | XXX
78000 | TC | A | Thyroid, single uptake | 0.00 | 0.96 | 0.97 | NA | NA | 0.05 | 1.01 | 1.02 | NA | NA | XXX
78001 |  | A | Thyroid, multiple uptakes | 0.26 | 1.40 | 1.42 | 1.40 | 1.42 | 0.07 | 1.73 | 1.75 | 1.73 | 1.75 | XXX
78001 | 26 | A | Thyroid, multiple uptakes | 0.26 | 0.10 | 0.11 | 0.10 | 0.11 | 0.01 | 0.37 | 0.38 | 0.37 | 0.38 | XXX
78001 | TC | A | Thyroid, multiple uptakes | 0.00 | 1.30 | 1.31 | NA | NA | 0.06 | 1.36 | 1.37 | NA | NA | XXX
78003 |  | A | Thyroid suppress/stimul | 0.33 | 1.08 | 1.10 | 1.08 | 1.10 | 0.06 | 1.47 | 1.49 | 1.47 | 1.49 | XXX
78003 | 26 | A | Thyroid suppress/stimul | 0.33 | 0.12 | 0.13 | 0.12 | 0.13 | 0.01 | 0.46 | 0.47 | 0.46 | 0.47 | XXX
78003 | TC | A | Thyroid suppress/stimul | 0.00 | 0.96 | 0.97 | NA | NA | 0.05 | 1.01 | 1.02 | NA | NA | XXX
78006 |  | A | Thyroid imaging with uptake | 0.49 | 2.54 | 2.59 | 2.54 | 2.59 | 0.13 | 3.16 | 3.21 | 3.16 | 3.21 | XXX
78006 | 26 | A | Thyroid imaging with uptake | 0.49 | 0.18 | 0.20 | 0.18 | 0.20 | 0.02 | 0.69 | 0.71 | 0.69 | 0.71 | XXX
78006 | TC | A | Thyroid imaging with uptake | 0.00 | 2.36 | 2.39 | NA | NA | 0.11 | 2.47 | 2.50 | NA | NA | XXX
78007 |  | A | Thyroid image, mult uptakes | 0.50 | 2.74 | 2.79 | 2.74 | 2.79 | 0.14 | 3.38 | 3.43 | 3.38 | 3.43 | XXX
78007 | 26 | A | Thyroid image, mult uptakes | 0.50 | 0.18 | 0.20 | 0.18 | 0.20 | 0.02 | 0.70 | 0.72 | 0.70 | 0.72 | XXX
78007 | TC | A | Thyroid image, mult uptakes | 0.00 | 2.56 | 2.59 | NA | NA | 0.12 | 2.68 | 2.71 | NA | NA | XXX
78010 |  | A | Thyroid imaging | 0.39 | 1.95 | 1.98 | 1.95 | 1.98 | 0.11 | 2.45 | 2.48 | 2.45 | 2.48 | XXX
78010 | 26 | A | Thyroid imaging | 0.39 | 0.14 | 0.15 | 0.14 | 0.15 | 0.02 | 0.55 | 0.56 | 0.55 | 0.56 | XXX
78010 | TC | A | Thyroid imaging | 0.00 | 1.81 | 1.83 | NA | NA | 0.09 | 1.90 | 1.92 | NA | NA | XXX
78011 |  | A | Thyroid imaging with flow | 0.45 | 2.56 | 2.61 | 2.56 | 2.61 | 0.13 | 3.14 | 3.19 | 3.14 | 3.19 | XXX
78011 | 26 | A | Thyroid imaging with flow | 0.45 | 0.17 | 0.19 | 0.17 | 0.19 | 0.02 | 0.64 | 0.66 | 0.64 | 0.66 | XXX
78011 | TC | A | Thyroid imaging with flow | 0.00 | 2.39 | 2.42 | NA | NA | 0.11 | 2.50 | 2.53 | NA | NA | XXX
78015 |  | A | Thyroid met imaging | 0.67 | 2.80 | 2.86 | 2.80 | 2.86 | 0.15 | 3.62 | 3.68 | 3.62 | 3.68 | XXX
78015 | 26 | A | Thyroid met imaging | 0.67 | 0.24 | 0.27 | 0.24 | 0.27 | 0.03 | 0.94 | 0.97 | 0.94 | 0.97 | XXX
78015 | TC | A | Thyroid met imaging | 0.00 | 2.56 | 2.59 | NA | NA | 0.12 | 2.68 | 2.71 | NA | NA | XXX
78016 |  | A | Thyroid met imaging/studies | 0.82 | 3.77 | 3.84 | 3.77 | 3.84 | 0.18 | 4.77 | 4.84 | 4.77 | 4.84 | XXX
78016 | 26 | A | Thyroid met imaging/studies | 0.82 | 0.31 | 0.34 | 0.31 | 0.34 | 0.03 | 1.16 | 1.19 | 1.16 | 1.19 | XXX
78016 | TC | A | Thyroid met imaging/studies | 0.00 | 3.46 | 3.50 | NA | NA | 0.15 | 3.61 | 3.65 | NA | NA | XXX
78018 |  | A | Thyroid met imaging, body | 0.86 | 5.70 | 5.80 | 5.70 | 5.80 | 0.27 | 6.83 | 6.93 | 6.83 | 6.93 | XXX
78018 | 26 | A | Thyroid met imaging, body | 0.86 | 0.32 | 0.36 | 0.32 | 0.36 | 0.03 | 1.21 | 1.25 | 1.21 | 1.25 | XXX
78018 | TC | A | Thyroid met imaging, body | 0.00 | 5.38 | 5.44 | NA | NA | 0.24 | 5.62 | 5.68 | NA | NA | XXX
78020 |  | A | Thyroid met uptake | 0.60 | 1.53 | 1.53 | 1.53 | 1.53 | 0.14 | 2.27 | 2.27 | 2.27 | 2.27 | ZZZ
78020 | 26 | A | Thyroid met uptake | 0.60 | 0.23 | 0.23 | 0.23 | 0.23 | 0.02 | 0.85 | 0.85 | 0.85 | 0.85 | ZZZ
78020 | TC | A | Thyroid met uptake | 0.00 | 1.30 | 1.30 | NA | NA | 0.12 | 1.42 | 1.42 | NA | NA | ZZZ
78070 |  | A | Parathyroid nuclear imaging | 0.82 | 2.11 | 2.12 | 2.11 | 2.12 | 0.12 | 3.05 | 3.06 | 3.05 | 3.06 | XXX
78070 | 26 | A | Parathyroid nuclear imaging | 0.82 | 0.30 | 0.29 | 0.30 | 0.29 | 0.03 | 1.15 | 1.14 | 1.15 | 1.14 | XXX
78070 | TC | A | Parathyroid nuclear imaging | 0.00 | 1.81 | 1.83 | NA | NA | 0.09 | 1.90 | 1.92 | NA | NA | XXX
78075 |  | A | Adrenal nuclear imaging | 0.74 | 5.66 | 5.74 | 5.66 | 5.74 | 0.27 | 6.67 | 6.75 | 6.67 | 6.75 | XXX
78075 | 26 | A | Adrenal nuclear imaging | 0.74 | 0.28 | 0.30 | 0.28 | 0.30 | 0.03 | 1.05 | 1.07 | 1.05 | 1.07 | XXX
78075 | TC | A | Adrenal nuclear imaging | 0.00 | 5.38 | 5.44 | NA | NA | 0.24 | 5.62 | 5.68 | NA | NA | XXX
78099 |  | C | Endocrine nuclear procedure | 0.00 | 0.00 | 0.00 | 0.00 | 0.00 | 0.00 | 0.00 | 0.00 | 0.00 | 0.00 | XXX
78099 | 26 | C | Endocrine nuclear procedure | 0.00 | 0.00 | 0.00 | 0.00 | 0.00 | 0.00 | 0.00 | 0.00 | 0.00 | 0.00 | XXX
78099 | TC | C | Endocrine nuclear procedure | 0.00 | 0.00 | 0.00 | 0.00 | 0.00 | 0.00 | 0.00 | 0.00 | 0.00 | 0.00 | XXX
78102 |  | A | Bone marrow imaging, ltd | 0.55 | 2.24 | 2.28 | 2.24 | 2.28 | 0.12 | 2.91 | 2.95 | 2.91 | 2.95 | XXX
78102 | 26 | A | Bone marrow imaging, ltd | 0.55 | 0.21 | 0.23 | 0.21 | 0.23 | 0.02 | 0.78 | 0.80 | 0.78 | 0.80 | XXX
78102 | TC | A | Bone marrow imaging, ltd | 0.00 | 2.03 | 2.05 | NA | NA | 0.10 | 2.13 | 2.15 | NA | NA | XXX
78103 |  | A | Bone marrow imaging, mult | 0.75 | 3.43 | 3.48 | 3.43 | 3.48 | 0.17 | 4.35 | 4.40 | 4.35 | 4.40 | XXX
78103 | 26 | A | Bone marrow imaging, mult | 0.75 | 0.28 | 0.30 | 0.28 | 0.30 | 0.03 | 1.06 | 1.08 | 1.06 | 1.08 | XXX
78103 | TC | A | Bone marrow imaging, mult | 0.00 | 3.15 | 3.18 | NA | NA | 0.14 | 3.29 | 3.32 | NA | NA | XXX
78104 |  | A | Bone marrow imaging, body | 0.80 | 4.33 | 4.40 | 4.33 | 4.40 | 0.21 | 5.34 | 5.41 | 5.34 | 5.41 | XXX
78104 | 26 | A | Bone marrow imaging, body | 0.80 | 0.29 | 0.32 | 0.29 | 0.32 | 0.03 | 1.12 | 1.15 | 1.12 | 1.15 | XXX
78104 | TC | A | Bone marrow imaging, body | 0.00 | 4.04 | 4.08 | NA | NA | 0.18 | 4.22 | 4.26 | NA | NA | XXX
78110 |  | A | Plasma volume, single | 0.19 | 1.02 | 1.04 | 1.02 | 1.04 | 0.06 | 1.27 | 1.29 | 1.27 | 1.29 | XXX
78110 | 26 | A | Plasma volume, single | 0.19 | 0.08 | 0.09 | 0.08 | 0.09 | 0.01 | 0.28 | 0.29 | 0.28 | 0.29 | XXX
78110 | TC | A | Plasma volume, single | 0.00 | 0.94 | 0.95 | NA | NA | 0.05 | 0.99 | 1.00 | NA | NA | XXX
78111 |  | A | Plasma volume, multiple | 0.22 | 2.64 | 2.68 | 2.64 | 2.68 | 0.13 | 2.99 | 3.03 | 2.99 | 3.03 | XXX
78111 | 26 | A | Plasma volume, multiple | 0.22 | 0.08 | 0.09 | 0.08 | 0.09 | 0.01 | 0.31 | 0.32 | 0.31 | 0.32 | XXX
78111 | TC | A | Plasma volume, multiple | 0.00 | 2.56 | 2.59 | NA | NA | 0.12 | 2.68 | 2.71 | NA | NA | XXX
78120 |  | A | Red cell mass, single | 0.23 | 1.81 | 1.84 | 1.81 | 1.84 | 0.10 | 2.14 | 2.17 | 2.14 | 2.17 | XXX
78120 | 26 | A | Red cell mass, single | 0.23 | 0.09 | 0.10 | 0.09 | 0.10 | 0.01 | 0.33 | 0.34 | 0.33 | 0.34 | XXX
78120 | TC | A | Red cell mass, single | 0.00 | 1.72 | 1.74 | NA | NA | 0.09 | 1.81 | 1.83 | NA | NA | XXX
78121 |  | A | Red cell mass, multiple | 0.32 | 3.01 | 3.05 | 3.01 | 3.05 | 0.13 | 3.46 | 3.50 | 3.46 | 3.50 | XXX
78121 | 26 | A | Red cell mass, multiple | 0.32 | 0.12 | 0.13 | 0.12 | 0.13 | 0.01 | 0.45 | 0.46 | 0.45 | 0.46 | XXX
78121 | TC | A | Red cell mass, multiple | 0.00 | 2.89 | 2.92 | NA | NA | 0.12 | 3.01 | 3.04 | NA | NA | XXX
78122 |  | A | Blood volume | 0.45 | 4.74 | 4.80 | 4.74 | 4.80 | 0.22 | 5.41 | 5.47 | 5.41 | 5.47 | XXX
78122 | 26 | A | Blood volume | 0.45 | 0.17 | 0.18 | 0.17 | 0.18 | 0.02 | 0.64 | 0.65 | 0.64 | 0.65 | XXX
78122 | TC | A | Blood volume | 0.00 | 4.57 | 4.62 | NA | NA | 0.20 | 4.77 | 4.82 | NA | NA | XXX
78130 |  | A | Red cell survival study | 0.61 | 3.06 | 3.11 | 3.06 | 3.11 | 0.15 | 3.82 | 3.87 | 3.82 | 3.87 | XXX
78130 | 26 | A | Red cell survival study | 0.61 | 0.23 | 0.25 | 0.23 | 0.25 | 0.03 | 0.87 | 0.89 | 0.87 | 0.89 | XXX
78130 | TC | A | Red cell survival study | 0.00 | 2.83 | 2.86 | NA | NA | 0.12 | 2.95 | 2.98 | NA | NA | XXX
78135 |  | A | Red cell survival kinetics | 0.64 | 5.07 | 5.14 | 5.07 | 5.14 | 0.24 | 5.95 | 6.02 | 5.95 | 6.02 | XXX
78135 | 26 | A | Red cell survival kinetics | 0.64 | 0.23 | 0.25 | 0.23 | 0.25 | 0.03 | 0.90 | 0.92 | 0.90 | 0.92 | XXX
78135 | TC | A | Red cell survival kinetics | 0.00 | 4.84 | 4.89 | NA | NA | 0.21 | 5.05 | 5.10 | NA | NA | XXX
78140 |  | A | Red cell sequestration | 0.61 | 4.13 | 4.19 | 4.13 | 4.19 | 0.20 | 4.94 | 5.00 | 4.94 | 5.00 | XXX
78140 | 26 | A | Red cell sequestration | 0.61 | 0.22 | 0.24 | 0.22 | 0.24 | 0.03 | 0.86 | 0.88 | 0.86 | 0.88 | XXX
78140 | TC | A | Red cell sequestration | 0.00 | 3.91 | 3.95 | NA | NA | 0.17 | 4.08 | 4.12 | NA | NA | XXX
78160 |  | A | Plasma iron turnover | 0.33 | 3.79 | 3.83 | 3.79 | 3.83 | 0.19 | 4.31 | 4.35 | 4.31 | 4.35 | XXX
78160 | 26 | A | Plasma iron turnover | 0.33 | 0.15 | 0.15 | 0.15 | 0.15 | 0.03 | 0.51 | 0.51 | 0.51 | 0.51 | XXX
78160 | TC | A | Plasma iron turnover | 0.00 | 3.64 | 3.68 | NA | NA | 0.16 | 3.80 | 3.84 | NA | NA | XXX
78162 |  | A | Iron absorption exam | 0.45 | 3.36 | 3.40 | 3.36 | 3.40 | 0.15 | 3.96 | 4.00 | 3.96 | 4.00 | XXX
78162 | 26 | A | Iron absorption exam | 0.45 | 0.18 | 0.19 | 0.18 | 0.19 | 0.01 | 0.64 | 0.65 | 0.64 | 0.65 | XXX
78162 | TC | A | Iron absorption exam | 0.00 | 3.18 | 3.21 | NA | NA | 0.14 | 3.32 | 3.35 | NA | NA | XXX
78170 |  | A | Red cell iron utilization | 0.41 | 5.41 | 5.48 | 5.41 | 5.48 | 0.27 | 6.09 | 6.16 | 6.09 | 6.16 | XXX
78170 | 26 | A | Red cell iron utilization | 0.41 | 0.15 | 0.16 | 0.15 | 0.16 | 0.04 | 0.60 | 0.61 | 0.60 | 0.61 | XXX
78170 | TC | A | Red cell iron utilization | 0.00 | 5.26 | 5.32 | NA | NA | 0.23 | 5.49 | 5.55 | NA | NA | XXX
78172 |  | C | Total body iron estimation | 0.00 | 0.00 | 0.00 | 0.00 | 0.00 | 0.00 | 0.00 | 0.00 | 0.00 | 0.00 | XXX
78172 | 26 | A | Total body iron estimation | 0.53 | 0.19 | 0.21 | 0.19 | 0.21 | 0.02 | 0.74 | 0.76 | 0.74 | 0.76 | XXX
78172 | TC | C | Total body iron estimation | 0.00 | 0.00 | 0.00 | 0.00 | 0.00 | 0.00 | 0.00 | 0.00 | 0.00 | 0.00 | XXX
78185 |  | A | Spleen imaging | 0.40 | 2.48 | 2.53 | 2.48 | 2.53 | 0.13 | 3.01 | 3.06 | 3.01 | 3.06 | XXX
78185 | 26 | A | Spleen imaging | 0.40 | 0.14 | 0.16 | 0.14 | 0.16 | 0.02 | 0.56 | 0.58 | 0.56 | 0.58 | XXX
78185 | TC | A | Spleen imaging | 0.00 | 2.34 | 2.37 | NA | NA | 0.11 | 2.45 | 2.48 | NA | NA | XXX
78190 |  | A | Platelet survival, kinetics | 1.09 | 6.06 | 6.15 | 6.06 | 6.15 | 0.31 | 7.46 | 7.55 | 7.46 | 7.55 | XXX
78190 | 26 | A | Platelet survival, kinetics | 1.09 | 0.39 | 0.42 | 0.39 | 0.42 | 0.06 | 1.54 | 1.57 | 1.54 | 1.57 | XXX
78190 | TC | A | Platelet survival, kinetics | 0.00 | 5.67 | 5.73 | NA | NA | 0.25 | 5.92 | 5.98 | NA | NA | XXX
78191 |  | A | Platelet survival | 0.61 | 7.50 | 7.60 | 7.50 | 7.60 | 0.34 | 8.45 | 8.55 | 8.45 | 8.55 | XXX
78191 | 26 | A | Platelet survival | 0.61 | 0.22 | 0.24 | 0.22 | 0.24 | 0.03 | 0.86 | 0.88 | 0.86 | 0.88 | XXX
78191 | TC | A | Platelet survival | 0.00 | 7.28 | 7.36 | NA | NA | 0.31 | 7.59 | 7.67 | NA | NA | XXX
78195 |  | A | Lymph system imaging | 1.20 | 4.48 | 4.50 | 4.48 | 4.50 | 0.23 | 5.91 | 5.93 | 5.91 | 5.93 | XXX
78195 | 26 | A | Lymph system imaging | 1.20 | 0.44 | 0.42 | 0.44 | 0.42 | 0.05 | 1.69 | 1.67 | 1.69 | 1.67 | XXX
78195 | TC | A | Lymph system imaging | 0.00 | 4.04 | 4.08 | NA | NA | 0.18 | 4.22 | 4.26 | NA | NA | XXX
78199 |  | C | Blood/lymph nuclear exam | 0.00 | 0.00 | 0.00 | 0.00 | 0.00 | 0.00 | 0.00 | 0.00 | 0.00 | 0.00 | XXX
78199 | 26 | C | Blood/lymph nuclear exam | 0.00 | 0.00 | 0.00 | 0.00 | 0.00 | 0.00 | 0.00 | 0.00 | 0.00 | 0.00 | XXX
78199 | TC | C | Blood/lymph nuclear exam | 0.00 | 0.00 | 0.00 | 0.00 | 0.00 | 0.00 | 0.00 | 0.00 | 0.00 | 0.00 | XXX
78201 |  | A | Liver imaging | 0.44 | 2.50 | 2.54 | 2.50 | 2.54 | 0.13 | 3.07 | 3.11 | 3.07 | 3.11 | XXX
78201 | 26 | A | Liver imaging | 0.44 | 0.16 | 0.17 | 0.16 | 0.17 | 0.02 | 0.62 | 0.63 | 0.62 | 0.63 | XXX
78201 | TC | A | Liver imaging | 0.00 | 2.34 | 2.37 | NA | NA | 0.11 | 2.45 | 2.48 | NA | NA | XXX
78202 |  | A | Liver imaging with flow | 0.51 | 3.05 | 3.10 | 3.05 | 3.10 | 0.14 | 3.70 | 3.75 | 3.70 | 3.75 | XXX
78202 | 26 | A | Liver imaging with flow | 0.51 | 0.19 | 0.21 | 0.19 | 0.21 | 0.02 | 0.72 | 0.74 | 0.72 | 0.74 | XXX
78202 | TC | A | Liver imaging with flow | 0.00 | 2.86 | 2.89 | NA | NA | 0.12 | 2.98 | 3.01 | NA | NA | XXX
78205 |  | A | Liver imaging (3D) | 0.71 | 6.12 | 6.21 | 6.12 | 6.21 | 0.29 | 7.12 | 7.21 | 7.12 | 7.21 | XXX
78205 | 26 | A | Liver imaging (3D) | 0.71 | 0.26 | 0.29 | 0.26 | 0.29 | 0.03 | 1.00 | 1.03 | 1.00 | 1.03 | XXX
78205 | TC | A | Liver imaging (3D) | 0.00 | 5.86 | 5.92 | NA | NA | 0.26 | 6.12 | 6.18 | NA | NA | XXX
78206 |  | A | Liver image (3d) w/flow | 0.96 | 6.22 | 6.22 | 6.22 | 6.22 | 0.13 | 7.31 | 7.31 | 7.31 | 7.31 | XXX
78206 | 26 | A | Liver image (3d) w/flow | 0.96 | 0.36 | 0.36 | 0.36 | 0.36 | 0.04 | 1.36 | 1.36 | 1.36 | 1.36 | XXX
78206 | TC | A | Liver image (3d) w/flow | 0.00 | 5.86 | 5.86 | NA | NA | 0.09 | 5.95 | 5.95 | NA | NA | XXX
78215 |  | A | Liver and spleen imaging | 0.49 | 3.10 | 3.15 | 3.10 | 3.15 | 0.14 | 3.73 | 3.78 | 3.73 | 3.78 | XXX
78215 | 26 | A | Liver and spleen imaging | 0.49 | 0.18 | 0.20 | 0.18 | 0.20 | 0.02 | 0.69 | 0.71 | 0.69 | 0.71 | XXX
78215 | TC | A | Liver and spleen imaging | 0.00 | 2.92 | 2.95 | NA | NA | 0.12 | 3.04 | 3.07 | NA | NA | XXX
78216 |  | A | Liver & spleen image/flow | 0.57 | 3.67 | 3.73 | 3.67 | 3.73 | 0.17 | 4.41 | 4.47 | 4.41 | 4.47 | XXX
78216 | 26 | A | Liver & spleen image/flow | 0.57 | 0.21 | 0.23 | 0.21 | 0.23 | 0.02 | 0.80 | 0.82 | 0.80 | 0.82 | XXX
78216 | TC | A | Liver & spleen image/flow | 0.00 | 3.46 | 3.50 | NA | NA | 0.15 | 3.61 | 3.65 | NA | NA | XXX
78220 |  | A | Liver function study | 0.49 | 3.88 | 3.94 | 3.88 | 3.94 | 0.18 | 4.55 | 4.61 | 4.55 | 4.61 | XXX
78220 | 26 | A | Liver function study | 0.49 | 0.18 | 0.20 | 0.18 | 0.20 | 0.02 | 0.69 | 0.71 | 0.69 | 0.71 | XXX
78220 | TC | A | Liver function study | 0.00 | 3.70 | 3.74 | NA | NA | 0.16 | 3.86 | 3.90 | NA | NA | XXX
78223 |  | A | Hepatobiliary imaging | 0.84 | 3.94 | 4.01 | 3.94 | 4.01 | 0.20 | 4.98 | 5.05 | 4.98 | 5.05 | XXX
78223 | 26 | A | Hepatobiliary imaging | 0.84 | 0.30 | 0.33 | 0.30 | 0.33 | 0.04 | 1.18 | 1.21 | 1.18 | 1.21 | XXX
78223 | TC | A | Hepatobiliary imaging | 0.00 | 3.64 | 3.68 | NA | NA | 0.16 | 3.80 | 3.84 | NA | NA | XXX
78230 |  | A | Salivary gland imaging | 0.45 | 2.32 | 2.36 | 2.32 | 2.36 | 0.13 | 2.90 | 2.94 | 2.90 | 2.94 | XXX
78230 | 26 | A | Salivary gland imaging | 0.45 | 0.16 | 0.18 | 0.16 | 0.18 | 0.02 | 0.63 | 0.65 | 0.63 | 0.65 | XXX
78230 | TC | A | Salivary gland imaging | 0.00 | 2.16 | 2.18 | NA | NA | 0.11 | 2.27 | 2.29 | NA | NA | XXX
78231 |  | A | Serial salivary imaging | 0.52 | 3.35 | 3.40 | 3.35 | 3.40 | 0.16 | 4.03 | 4.08 | 4.03 | 4.08 | XXX
78231 | 26 | A | Serial salivary imaging | 0.52 | 0.20 | 0.22 | 0.20 | 0.22 | 0.02 | 0.74 | 0.76 | 0.74 | 0.76 | XXX
78231 | TC | A | Serial salivary imaging | 0.00 | 3.15 | 3.18 | NA | NA | 0.14 | 3.29 | 3.32 | NA | NA | XXX
78232 |  | A | Salivary gland function exam | 0.47 | 3.70 | 3.76 | 3.70 | 3.76 | 0.16 | 4.33 | 4.39 | 4.33 | 4.39 | XXX
78232 | 26 | A | Salivary gland function exam | 0.47 | 0.18 | 0.20 | 0.18 | 0.20 | 0.01 | 0.66 | 0.68 | 0.66 | 0.68 | XXX
78232 | TC | A | Salivary gland function exam | 0.00 | 3.52 | 3.56 | NA | NA | 0.15 | 3.67 | 3.71 | NA | NA | XXX
78258 |  | A | Esophageal motility study | 0.74 | 3.13 | 3.19 | 3.13 | 3.19 | 0.15 | 4.02 | 4.08 | 4.02 | 4.08 | XXX
78258 | 26 | A | Esophageal motility study | 0.74 | 0.27 | 0.30 | 0.27 | 0.30 | 0.03 | 1.04 | 1.07 | 1.04 | 1.07 | XXX
78258 | TC | A | Esophageal motility study | 0.00 | 2.86 | 2.89 | NA | NA | 0.12 | 2.98 | 3.01 | NA | NA | XXX
78261 |  | A | Gastric mucosa imaging | 0.69 | 4.34 | 4.40 | 4.34 | 4.40 | 0.21 | 5.24 | 5.30 | 5.24 | 5.30 | XXX
78261 | 26 | A | Gastric mucosa imaging | 0.69 | 0.27 | 0.29 | 0.27 | 0.29 | 0.03 | 0.99 | 1.01 | 0.99 | 1.01 | XXX
78261 | TC | A | Gastric mucosa imaging | 0.00 | 4.07 | 4.11 | NA | NA | 0.18 | 4.25 | 4.29 | NA | NA | XXX
78262 |  | A | Gastroesophageal reflux exam | 0.68 | 4.49 | 4.55 | 4.49 | 4.55 | 0.21 | 5.38 | 5.44 | 5.38 | 5.44 | XXX
78262 | 26 | A | Gastroesophageal reflux exam | 0.68 | 0.26 | 0.28 | 0.26 | 0.28 | 0.03 | 0.97 | 0.99 | 0.97 | 0.99 | XXX
78262 | TC | A | Gastroesophageal reflux exam | 0.00 | 4.23 | 4.27 | NA | NA | 0.18 | 4.41 | 4.45 | NA | NA | XXX
78264 |  | A | Gastric emptying study | 0.78 | 4.38 | 4.45 | 4.38 | 4.45 | 0.21 | 5.37 | 5.44 | 5.37 | 5.44 | XXX
78264 | 26 | A | Gastric emptying study | 0.78 | 0.28 | 0.31 | 0.28 | 0.31 | 0.03 | 1.09 | 1.12 | 1.09 | 1.12 | XXX
78264 | TC | A | Gastric emptying study | 0.00 | 4.10 | 4.14 | NA | NA | 0.18 | 4.28 | 4.32 | NA | NA | XXX
78267 |  | X | Breath tst attain/anal c-14 | 0.00 | 0.00 | 0.00 | 0.00 | 0.00 | 0.00 | 0.00 | 0.00 | 0.00 | 0.00 | XXX
78268 |  | X | Breath test analysis, c-14 | 0.00 | 0.00 | 0.00 | 0.00 | 0.00 | 0.00 | 0.00 | 0.00 | 0.00 | 0.00 | XXX
78270 |  | A | Vit B-12 absorption exam | 0.20 | 1.61 | 1.64 | 1.61 | 1.64 | 0.09 | 1.90 | 1.93 | 1.90 | 1.93 | XXX
78270 | 26 | A | Vit B-12 absorption exam | 0.20 | 0.07 | 0.08 | 0.07 | 0.08 | 0.01 | 0.28 | 0.29 | 0.28 | 0.29 | XXX
78270 | TC | A | Vit B-12 absorption exam | 0.00 | 1.54 | 1.56 | NA | NA | 0.08 | 1.62 | 1.64 | NA | NA | XXX
78271 |  | A | Vit B-12 absorp exam, IF | 0.20 | 1.70 | 1.73 | 1.70 | 1.73 | 0.09 | 1.99 | 2.02 | 1.99 | 2.02 | XXX
78271 | 26 | A | Vit B-12 absorp exam, IF | 0.20 | 0.07 | 0.08 | 0.07 | 0.08 | 0.01 | 0.28 | 0.29 | 0.28 | 0.29 | XXX
78271 | TC | A | Vit B-12 absorp exam, IF | 0.00 | 1.63 | 1.65 | NA | NA | 0.08 | 1.71 | 1.73 | NA | NA | XXX
78272 |  | A | Vit B-12 absorp, combined | 0.27 | 2.41 | 2.44 | 2.41 | 2.44 | 0.12 | 2.80 | 2.83 | 2.80 | 2.83 | XXX
78272 | 26 | A | Vit B-12 absorp, combined | 0.27 | 0.10 | 0.11 | 0.10 | 0.11 | 0.01 | 0.38 | 0.39 | 0.38 | 0.39 | XXX
78272 | TC | A | Vit B-12 absorp, combined | 0.00 | 2.31 | 2.33 | NA | NA | 0.11 | 2.42 | 2.44 | NA | NA | XXX
78278 |  | A | Acute GI blood loss imaging | 0.99 | 5.20 | 5.28 | 5.20 | 5.28 | 0.25 | 6.44 | 6.52 | 6.44 | 6.52 | XXX
78278 | 26 | A | Acute GI blood loss imaging | 0.99 | 0.36 | 0.39 | 0.36 | 0.39 | 0.04 | 1.39 | 1.42 | 1.39 | 1.42 | XXX
78278 | TC | A | Acute GI blood loss imaging | 0.00 | 4.84 | 4.89 | NA | NA | 0.21 | 5.05 | 5.10 | NA | NA | XXX
78282 |  | C | GI protein loss exam | 0.00 | 0.00 | 0.00 | 0.00 | 0.00 | 0.00 | 0.00 | 0.00 | 0.00 | 0.00 | XXX
78282 | 26 | A | GI protein loss exam | 0.38 | 0.14 | 0.15 | 0.14 | 0.15 | 0.02 | 0.54 | 0.55 | 0.54 | 0.55 | XXX
78282 | TC | C | GI protein loss exam | 0.00 | 0.00 | 0.00 | 0.00 | 0.00 | 0.00 | 0.00 | 0.00 | 0.00 | 0.00 | XXX
78290 |  | A | Meckel's divert exam | 0.68 | 3.27 | 3.33 | 3.27 | 3.33 | 0.16 | 4.11 | 4.17 | 4.11 | 4.17 | XXX
78290 | 26 | A | Meckel's divert exam | 0.68 | 0.24 | 0.27 | 0.24 | 0.27 | 0.03 | 0.95 | 0.98 | 0.95 | 0.98 | XXX
78290 | TC | A | Meckel's divert exam | 0.00 | 3.03 | 3.06 | NA | NA | 0.13 | 3.16 | 3.19 | NA | NA | XXX
78291 |  | A | Leveen/shunt patency exam | 0.88 | 3.37 | 3.43 | 3.37 | 3.43 | 0.17 | 4.42 | 4.48 | 4.42 | 4.48 | XXX
78291 | 26 | A | Leveen/shunt patency exam | 0.88 | 0.32 | 0.35 | 0.32 | 0.35 | 0.04 | 1.24 | 1.27 | 1.24 | 1.27 | XXX
78291 | TC | A | Leveen/shunt patency exam | 0.00 | 3.05 | 3.08 | NA | NA | 0.13 | 3.18 | 3.21 | NA | NA | XXX
78299 |  | C | GI nuclear procedure | 0.00 | 0.00 | 0.00 | 0.00 | 0.00 | 0.00 | 0.00 | 0.00 | 0.00 | 0.00 | XXX
78299 | 26 | C | GI nuclear procedure | 0.00 | 0.00 | 0.00 | 0.00 | 0.00 | 0.00 | 0.00 | 0.00 | 0.00 | 0.00 | XXX
78299 | TC | C | GI nuclear procedure | 0.00 | 0.00 | 0.00 | 0.00 | 0.00 | 0.00 | 0.00 | 0.00 | 0.00 | 0.00 | XXX
78300 |  | A | Bone imaging, limited area | 0.62 | 2.69 | 2.74 | 2.69 | 2.74 | 0.15 | 3.46 | 3.51 | 3.46 | 3.51 | XXX
78300 | 26 | A | Bone imaging, limited area | 0.62 | 0.22 | 0.24 | 0.22 | 0.24 | 0.03 | 0.87 | 0.89 | 0.87 | 0.89 | XXX
78300 | TC | A | Bone imaging, limited area | 0.00 | 2.47 | 2.50 | NA | NA | 0.12 | 2.59 | 2.62 | NA | NA | XXX
78305 |  | A | Bone imaging, multiple areas | 0.83 | 3.94 | 4.01 | 3.94 | 4.01 | 0.19 | 4.96 | 5.03 | 4.96 | 5.03 | XXX
78305 | 26 | A | Bone imaging, multiple areas | 0.83 | 0.30 | 0.33 | 0.30 | 0.33 | 0.03 | 1.16 | 1.19 | 1.16 | 1.19 | XXX
78305 | TC | A | Bone imaging, multiple areas | 0.00 | 3.64 | 3.68 | NA | NA | 0.16 | 3.80 | 3.84 | NA | NA | XXX
78306 |  | A | Bone imaging, whole body | 0.86 | 4.56 | 4.63 | 4.56 | 4.63 | 0.22 | 5.64 | 5.71 | 5.64 | 5.71 | XXX
78306 | 26 | A | Bone imaging, whole body | 0.86 | 0.31 | 0.34 | 0.31 | 0.34 | 0.04 | 1.21 | 1.24 | 1.21 | 1.24 | XXX
78306 | TC | A | Bone imaging, whole body | 0.00 | 4.25 | 4.29 | NA | NA | 0.18 | 4.43 | 4.47 | NA | NA | XXX
78315 |  | A | Bone imaging, 3 phase | 1.02 | 5.12 | 5.20 | 5.12 | 5.20 | 0.25 | 6.39 | 6.47 | 6.39 | 6.47 | XXX
78315 | 26 | A | Bone imaging, 3 phase | 1.02 | 0.37 | 0.40 | 0.37 | 0.40 | 0.04 | 1.43 | 1.46 | 1.43 | 1.46 | XXX
78315 | TC | A | Bone imaging, 3 phase | 0.00 | 4.75 | 4.80 | NA | NA | 0.21 | 4.96 | 5.01 | NA | NA | XXX
78320 |  | A | Bone imaging (3D) | 1.04 | 6.25 | 6.34 | 6.25 | 6.34 | 0.30 | 7.59 | 7.68 | 7.59 | 7.68 | XXX
78320 | 26 | A | Bone imaging (3D) | 1.04 | 0.39 | 0.42 | 0.39 | 0.42 | 0.04 | 1.47 | 1.50 | 1.47 | 1.50 | XXX
78320 | TC | A | Bone imaging (3D) | 0.00 | 5.86 | 5.92 | NA | NA | 0.26 | 6.12 | 6.18 | NA | NA | XXX
78350 |  | A | Bone mineral, single photon | 0.22 | 0.83 | 0.85 | 0.83 | 0.85 | 0.05 | 1.10 | 1.12 | 1.10 | 1.12 | XXX
78350 | 26 | A | Bone mineral, single photon | 0.22 | 0.08 | 0.09 | 0.08 | 0.09 | 0.01 | 0.31 | 0.32 | 0.31 | 0.32 | XXX
78350 | TC | A | Bone mineral, single photon | 0.00 | 0.75 | 0.76 | NA | NA | 0.04 | 0.79 | 0.80 | NA | NA | XXX
78351 |  | N | Bone mineral, dual photon | +0.30 | 1.55 | 1.22 | 0.12 | 0.14 | 0.01 | 1.86 | 1.53 | 0.43 | 0.45 | XXX
78399 |  | C | Musculoskeletal nuclear exam | 0.00 | 0.00 | 0.00 | 0.00 | 0.00 | 0.00 | 0.00 | 0.00 | 0.00 | 0.00 | XXX
78399 | 26 | C | Musculoskeletal nuclear exam | 0.00 | 0.00 | 0.00 | 0.00 | 0.00 | 0.00 | 0.00 | 0.00 | 0.00 | 0.00 | XXX
78399 | TC | C | Musculoskeletal nuclear exam | 0.00 | 0.00 | 0.00 | 0.00 | 0.00 | 0.00 | 0.00 | 0.00 | 0.00 | 0.00 | XXX
78414 |  | C | Non-imaging heart function | 0.00 | 0.00 | 0.00 | 0.00 | 0.00 | 0.00 | 0.00 | 0.00 | 0.00 | 0.00 | XXX
78414 | 26 | A | Non-imaging heart function | 0.45 | 0.17 | 0.18 | 0.17 | 0.18 | 0.02 | 0.64 | 0.65 | 0.64 | 0.65 | XXX
78414 | TC | C | Non-imaging heart function | 0.00 | 0.00 | 0.00 | 0.00 | 0.00 | 0.00 | 0.00 | 0.00 | 0.00 | 0.00 | XXX
78428 |  | A | Cardiac shunt imaging | 0.78 | 2.57 | 2.61 | 2.57 | 2.61 | 0.14 | 3.49 | 3.53 | 3.49 | 3.53 | XXX
78428 | 26 | A | Cardiac shunt imaging | 0.78 | 0.33 | 0.35 | 0.33 | 0.35 | 0.03 | 1.14 | 1.16 | 1.14 | 1.16 | XXX
78428 | TC | A | Cardiac shunt imaging | 0.00 | 2.24 | 2.26 | NA | NA | 0.11 | 2.35 | 2.37 | NA | NA | XXX
78445 |  | A | Vascular flow imaging | 0.49 | 2.02 | 2.06 | 2.02 | 2.06 | 0.11 | 2.62 | 2.66 | 2.62 | 2.66 | XXX
78445 | 26 | A | Vascular flow imaging | 0.49 | 0.18 | 0.20 | 0.18 | 0.20 | 0.02 | 0.69 | 0.71 | 0.69 | 0.71 | XXX
78445 | TC | A | Vascular flow imaging | 0.00 | 1.84 | 1.86 | NA | NA | 0.09 | 1.93 | 1.95 | NA | NA | XXX
78455 |  | A | Venous thrombosis study | 0.73 | 4.23 | 4.29 | 4.23 | 4.29 | 0.20 | 5.16 | 5.22 | 5.16 | 5.22 | XXX
78455 | 26 | A | Venous thrombosis study | 0.73 | 0.27 | 0.29 | 0.27 | 0.29 | 0.03 | 1.03 | 1.05 | 1.03 | 1.05 | XXX
78455 | TC | A | Venous thrombosis study | 0.00 | 3.96 | 4.00 | NA | NA | 0.17 | 4.13 | 4.17 | NA | NA | XXX
78456 |  | A | Acute venous thrombus image | 1.00 | 4.33 | 4.33 | 4.33 | 4.33 | 0.28 | 5.61 | 5.61 | 5.61 | 5.61 | XXX
78456 | 26 | A | Acute venous thrombus image | 1.00 | 0.37 | 0.37 | 0.37 | 0.37 | 0.04 | 1.41 | 1.41 | 1.41 | 1.41 | XXX
78456 | TC | A | Acute venous thrombus image | 0.00 | 3.96 | 3.96 | NA | NA | 0.24 | 4.20 | 4.20 | NA | NA | XXX
78457 |  | A | Venous thrombosis imaging | 0.77 | 2.92 | 2.98 | 2.92 | 2.98 | 0.15 | 3.84 | 3.90 | 3.84 | 3.90 | XXX
78457 | 26 | A | Venous thrombosis imaging | 0.77 | 0.28 | 0.31 | 0.28 | 0.31 | 0.03 | 1.08 | 1.11 | 1.08 | 1.11 | XXX
78457 | TC | A | Venous thrombosis imaging | 0.00 | 2.64 | 2.67 | NA | NA | 0.12 | 2.76 | 2.79 | NA | NA | XXX
78458 |  | A | Ven thrombosis images, bilat | 0.90 | 4.34 | 4.40 | 4.34 | 4.40 | 0.20 | 5.44 | 5.50 | 5.44 | 5.50 | XXX
78458 | 26 | A | Ven thrombosis images, bilat | 0.90 | 0.34 | 0.36 | 0.34 | 0.36 | 0.03 | 1.27 | 1.29 | 1.27 | 1.29 | XXX
78458 | TC | A | Ven thrombosis images, bilat | 0.00 | 4.00 | 4.04 | NA | NA | 0.17 | 4.17 | 4.21 | NA | NA | XXX
78459 |  | I | Heart muscle imaging (PET) | 0.00 | 0.00 | 0.00 | 0.00 | 0.00 | 0.00 | 0.00 | 0.00 | 0.00 | 0.00 | XXX
78459 | 26 | I | Heart muscle imaging (PET) | +1.88 | 0.75 | 0.93 | 0.75 | 0.93 | 0.08 | 2.71 | 2.89 | 2.71 | 2.89 | XXX
78459 | TC | I | Heart muscle imaging (PET) | 0.00 | 0.00 | 0.00 | 0.00 | 0.00 | 0.00 | 0.00 | 0.00 | 0.00 | 0.00 | XXX
78460 |  | A | Heart muscle blood, single | 0.86 | 2.66 | 2.72 | 2.66 | 2.72 | 0.14 | 3.66 | 3.72 | 3.66 | 3.72 | XXX
78460 | 26 | A | Heart muscle blood, single | 0.86 | 0.32 | 0.35 | 0.32 | 0.35 | 0.03 | 1.21 | 1.24 | 1.21 | 1.24 | XXX
78460 | TC | A | Heart muscle blood, single | 0.00 | 2.34 | 2.37 | NA | NA | 0.11 | 2.45 | 2.48 | NA | NA | XXX
78461 |  | A | Heart muscle blood, multiple | 1.23 | 5.16 | 5.24 | 5.16 | 5.24 | 0.26 | 6.65 | 6.73 | 6.65 | 6.73 | XXX
78461 | 26 | A | Heart muscle blood, multiple | 1.23 | 0.47 | 0.50 | 0.47 | 0.50 | 0.05 | 1.75 | 1.78 | 1.75 | 1.78 | XXX
78461 | TC | A | Heart muscle blood, multiple | 0.00 | 4.69 | 4.74 | NA | NA | 0.21 | 4.90 | 4.95 | NA | NA | XXX
78464 |  | A | Heart image (3d), single | 1.09 | 7.42 | 7.53 | 7.42 | 7.53 | 0.35 | 8.86 | 8.97 | 8.86 | 8.97 | XXX
78464 | 26 | A | Heart image (3d), single | 1.09 | 0.41 | 0.44 | 0.41 | 0.44 | 0.04 | 1.54 | 1.57 | 1.54 | 1.57 | XXX
78464 | TC | A | Heart image (3d), single | 0.00 | 7.01 | 7.09 | NA | NA | 0.31 | 7.32 | 7.40 | NA | NA | XXX
78465 |  | A | Heart image (3d), multiple | 1.46 | 12.28 | 12.44 | 12.28 | 12.44 | 0.56 | 14.30 | 14.46 | 14.30 | 14.46 | XXX
78465 | 26 | A | Heart image (3d), multiple | 1.46 | 0.57 | 0.61 | 0.57 | 0.61 | 0.05 | 2.08 | 2.12 | 2.08 | 2.12 | XXX
78465 | TC | A | Heart image (3d), multiple | 0.00 | 11.71 | 11.83 | NA | NA | 0.51 | 12.22 | 12.34 | NA | NA | XXX
78466 |  | A | Heart infarct image | 0.69 | 2.87 | 2.92 | 2.87 | 2.92 | 0.15 | 3.71 | 3.76 | 3.71 | 3.76 | XXX
78466 | 26 | A | Heart infarct image | 0.69 | 0.27 | 0.29 | 0.27 | 0.29 | 0.03 | 0.99 | 1.01 | 0.99 | 1.01 | XXX
78466 | TC | A | Heart infarct image | 0.00 | 2.60 | 2.63 | NA | NA | 0.12 | 2.72 | 2.75 | NA | NA | XXX
78468 |  | A | Heart infarct image (ef) | 0.80 | 3.94 | 4.00 | 3.94 | 4.00 | 0.19 | 4.93 | 4.99 | 4.93 | 4.99 | XXX
78468 | 26 | A | Heart infarct image (ef) | 0.80 | 0.30 | 0.32 | 0.30 | 0.32 | 0.03 | 1.13 | 1.15 | 1.13 | 1.15 | XXX
78468 | TC | A | Heart infarct image (ef) | 0.00 | 3.64 | 3.68 | NA | NA | 0.16 | 3.80 | 3.84 | NA | NA | XXX
78469 |  | A | Heart infarct image (3D) | 0.92 | 5.53 | 5.61 | 5.53 | 5.61 | 0.26 | 6.71 | 6.79 | 6.71 | 6.79 | XXX
78469 | 26 | A | Heart infarct image (3D) | 0.92 | 0.34 | 0.37 | 0.34 | 0.37 | 0.03 | 1.29 | 1.32 | 1.29 | 1.32 | XXX
78469 | TC | A | Heart infarct image (3D) | 0.00 | 5.19 | 5.24 | NA | NA | 0.23 | 5.42 | 5.47 | NA | NA | XXX
78472 |  | A | Gated heart, planar, single | 0.98 | 5.84 | 5.93 | 5.84 | 5.93 | 0.29 | 7.11 | 7.20 | 7.11 | 7.20 | XXX
78472 | 26 | A | Gated heart, planar, single | 0.98 | 0.37 | 0.40 | 0.37 | 0.40 | 0.04 | 1.39 | 1.42 | 1.39 | 1.42 | XXX
78472 | TC | A | Gated heart, planar, single | 0.00 | 5.47 | 5.53 | NA | NA | 0.25 | 5.72 | 5.78 | NA | NA | XXX
78473 |  | A | Gated heart, multiple | 1.47 | 8.75 | 8.88 | 8.75 | 8.88 | 0.40 | 10.62 | 10.75 | 10.62 | 10.75 | XXX
78473 | 26 | A | Gated heart, multiple | 1.47 | 0.56 | 0.60 | 0.56 | 0.60 | 0.05 | 2.08 | 2.12 | 2.08 | 2.12 | XXX
78473 | TC | A | Gated heart, multiple | 0.00 | 8.19 | 8.28 | NA | NA | 0.35 | 8.54 | 8.63 | NA | NA | XXX
78478 |  | A | Heart wall motion add-on | 0.62 | 1.80 | 1.83 | 1.80 | 1.83 | 0.10 | 2.52 | 2.55 | 2.52 | 2.55 | ZZZ
78478 | 26 | A | Heart wall motion add-on | 0.62 | 0.25 | 0.26 | 0.25 | 0.26 | 0.02 | 0.89 | 0.90 | 0.89 | 0.90 | ZZZ
78478 | TC | A | Heart wall motion add-on | 0.00 | 1.55 | 1.57 | NA | NA | 0.08 | 1.63 | 1.65 | NA | NA | ZZZ
78480 |  | A | Heart function add-on | 0.62 | 1.80 | 1.83 | 1.80 | 1.83 | 0.10 | 2.52 | 2.55 | 2.52 | 2.55 | ZZZ
78480 | 26 | A | Heart function add-on | 0.62 | 0.25 | 0.26 | 0.25 | 0.26 | 0.02 | 0.89 | 0.90 | 0.89 | 0.90 | ZZZ
78480 | TC | A | Heart function add-on | 0.00 | 1.55 | 1.57 | NA | NA | 0.08 | 1.63 | 1.65 | NA | NA | ZZZ
78481 |  | A | Heart first pass, single | 0.98 | 5.59 | 5.66 | 5.59 | 5.66 | 0.26 | 6.83 | 6.90 | 6.83 | 6.90 | XXX
78481 | 26 | A | Heart first pass, single | 0.98 | 0.40 | 0.42 | 0.40 | 0.42 | 0.03 | 1.41 | 1.43 | 1.41 | 1.43 | XXX
78481 | TC | A | Heart first pass, single | 0.00 | 5.19 | 5.24 | NA | NA | 0.23 | 5.42 | 5.47 | NA | NA | XXX
78483 |  | A | Heart first pass, multiple | 1.47 | 8.40 | 8.51 | 8.40 | 8.51 | 0.39 | 10.26 | 10.37 | 10.26 | 10.37 | XXX
78483 | 26 | A | Heart first pass, multiple | 1.47 | 0.59 | 0.62 | 0.59 | 0.62 | 0.05 | 2.11 | 2.14 | 2.11 | 2.14 | XXX
78483 | TC | A | Heart first pass, multiple | 0.00 | 7.81 | 7.89 | NA | NA | 0.34 | 8.15 | 8.23 | NA | NA | XXX
78491 |  | I | Heart image (pet), single | 0.00 | 0.00 | 0.00 | 0.00 | 0.00 | 0.00 | 0.00 | 0.00 | 0.00 | 0.00 | XXX
78491 | 26 | I | Heart image (pet), single | +1.50 | 0.60 | 0.81 | 0.60 | 0.81 | 0.05 | 2.15 | 2.36 | 2.15 | 2.36 | XXX
78491 | TC | I | Heart image (pet), single | 0.00 | 0.00 | 0.00 | 0.00 | 0.00 | 0.00 | 0.00 | 0.00 | 0.00 | 0.00 | XXX
78492 |  | I | Heart image (pet), multiple | 0.00 | 0.00 | 0.00 | 0.00 | 0.00 | 0.00 | 0.00 | 0.00 | 0.00 | 0.00 | XXX
78492 | 26 | I | Heart image (pet), multiple | +1.87 | 0.75 | 0.93 | 0.75 | 0.93 | 0.06 | 2.68 | 2.86 | 2.68 | 2.86 | XXX
78492 | TC | I | Heart image (pet), multiple | 0.00 | 0.00 | 0.00 | 0.00 | 0.00 | 0.00 | 0.00 | 0.00 | 0.00 | 0.00 | XXX
78494 |  | A | Heart image, spect | 1.19 | 7.46 | 7.46 | 7.46 | 7.46 | 0.29 | 8.94 | 8.94 | 8.94 | 8.94 | XXX
78494 | 26 | A | Heart image, spect | 1.19 | 0.45 | 0.45 | 0.45 | 0.45 | 0.04 | 1.68 | 1.68 | 1.68 | 1.68 | XXX
78494 | TC | A | Heart image, spect | 0.00 | 7.01 | 7.01 | NA | NA | 0.25 | 7.26 | 7.26 | NA | NA | XXX
78496 |  | A | Heart first pass add-on | 0.50 | 7.21 | 7.21 | 7.21 | 7.21 | 0.27 | 7.98 | 7.98 | 7.98 | 7.98 | ZZZ
78496 | 26 | A | Heart first pass add-on | 0.50 | 0.20 | 0.20 | 0.20 | 0.20 | 0.02 | 0.72 | 0.72 | 0.72 | 0.72 | ZZZ
78496 | TC | A | Heart first pass add-on | 0.00 | 7.01 | 7.01 | NA | NA | 0.25 | 7.26 | 7.26 | NA | NA | ZZZ
78499 |  | C | Cardiovascular nuclear exam | 0.00 | 0.00 | 0.00 | 0.00 | 0.00 | 0.00 | 0.00 | 0.00 | 0.00 | 0.00 | XXX
78499 | 26 | C | Cardiovascular nuclear exam | 0.00 | 0.00 | 0.00 | 0.00 | 0.00 | 0.00 | 0.00 | 0.00 | 0.00 | 0.00 | XXX
78499 | TC | C | Cardiovascular nuclear exam | 0.00 | 0.00 | 0.00 | 0.00 | 0.00 | 0.00 | 0.00 | 0.00 | 0.00 | 0.00 | XXX
78580 |  | A | Lung perfusion imaging | 0.74 | 3.68 | 3.75 | 3.68 | 3.75 | 0.18 | 4.60 | 4.67 | 4.60 | 4.67 | XXX
78580 | 26 | A | Lung perfusion imaging | 0.74 | 0.27 | 0.30 | 0.27 | 0.30 | 0.03 | 1.04 | 1.07 | 1.04 | 1.07 | XXX
78580 | TC | A | Lung perfusion imaging | 0.00 | 3.41 | 3.45 | NA | NA | 0.15 | 3.56 | 3.60 | NA | NA | XXX
78584 |  | A | Lung V/Q image single breath | 0.99 | 3.53 | 3.60 | 3.53 | 3.60 | 0.18 | 4.70 | 4.77 | 4.70 | 4.77 | XXX
78584 | 26 | A | Lung V/Q image single breath | 0.99 | 0.35 | 0.39 | 0.35 | 0.39 | 0.04 | 1.38 | 1.42 | 1.38 | 1.42 | XXX
78584 | TC | A | Lung V/Q image single breath | 0.00 | 3.18 | 3.21 | NA | NA | 0.14 | 3.32 | 3.35 | NA | NA | XXX
78585 |  | A | Lung V/Q imaging | 1.09 | 5.98 | 6.07 | 5.98 | 6.07 | 0.30 | 7.37 | 7.46 | 7.37 | 7.46 | XXX
78585 | 26 | A | Lung V/Q imaging | 1.09 | 0.39 | 0.42 | 0.39 | 0.42 | 0.05 | 1.53 | 1.56 | 1.53 | 1.56 | XXX
78585 | TC | A | Lung V/Q imaging | 0.00 | 5.59 | 5.65 | NA | NA | 0.25 | 5.84 | 5.90 | NA | NA | XXX
78586 |  | A | Aerosol lung image, single | 0.40 | 2.71 | 2.76 | 2.71 | 2.76 | 0.14 | 3.25 | 3.30 | 3.25 | 3.30 | XXX
78586 | 26 | A | Aerosol lung image, single | 0.40 | 0.14 | 0.16 | 0.14 | 0.16 | 0.02 | 0.56 | 0.58 | 0.56 | 0.58 | XXX
78586 | TC | A | Aerosol lung image, single | 0.00 | 2.57 | 2.60 | NA | NA | 0.12 | 2.69 | 2.72 | NA | NA | XXX
78587 |  | A | Aerosol lung image, multiple | 0.49 | 2.97 | 3.02 | 2.97 | 3.02 | 0.14 | 3.60 | 3.65 | 3.60 | 3.65 | XXX
78587 | 26 | A | Aerosol lung image, multiple | 0.49 | 0.18 | 0.20 | 0.18 | 0.20 | 0.02 | 0.69 | 0.71 | 0.69 | 0.71 | XXX
78587 | TC | A | Aerosol lung image, multiple | 0.00 | 2.79 | 2.82 | NA | NA | 0.12 | 2.91 | 2.94 | NA | NA | XXX
78588 |  | A | Perfusion lung image | 1.09 | 3.58 | 3.58 | 3.58 | 3.58 | 0.20 | 4.87 | 4.87 | 4.87 | 4.87 | XXX
78588 | 26 | A | Perfusion lung image | 1.09 | 0.40 | 0.40 | 0.40 | 0.40 | 0.05 | 1.54 | 1.54 | 1.54 | 1.54 | XXX
78588 | TC | A | Perfusion lung image | 0.00 | 3.18 | 3.18 | NA | NA | 0.15 | 3.33 | 3.33 | NA | NA | XXX
78591 |  | A | Vent image, 1 breath, 1 proj | 0.40 | 2.97 | 3.02 | 2.97 | 3.02 | 0.14 | 3.51 | 3.56 | 3.51 | 3.56 | XXX
78591 | 26 | A | Vent image, 1 breath, 1 proj | 0.40 | 0.14 | 0.16 | 0.14 | 0.16 | 0.02 | 0.56 | 0.58 | 0.56 | 0.58 | XXX
78591 | TC | A | Vent image, 1 breath, 1 proj | 0.00 | 2.83 | 2.86 | NA | NA | 0.12 | 2.95 | 2.98 | NA | NA | XXX
78593 |  | A | Vent image, 1 proj, gas | 0.49 | 3.61 | 3.67 | 3.61 | 3.67 | 0.17 | 4.27 | 4.33 | 4.27 | 4.33 | XXX
78593 | 26 | A | Vent image, 1 proj, gas | 0.49 | 0.18 | 0.20 | 0.18 | 0.20 | 0.02 | 0.69 | 0.71 | 0.69 | 0.71 | XXX
78593 | TC | A | Vent image, 1 proj, gas | 0.00 | 3.43 | 3.47 | NA | NA | 0.15 | 3.58 | 3.62 | NA | NA | XXX
78594 |  | A | Vent image, mult proj, gas | 0.53 | 5.14 | 5.21 | 5.14 | 5.21 | 0.23 | 5.90 | 5.97 | 5.90 | 5.97 | XXX
78594 | 26 | A | Vent image, mult proj, gas | 0.53 | 0.19 | 0.21 | 0.19 | 0.21 | 0.02 | 0.74 | 0.76 | 0.74 | 0.76 | XXX
78594 | TC | A | Vent image, mult proj, gas | 0.00 | 4.95 | 5.00 | NA | NA | 0.21 | 5.16 | 5.21 | NA | NA | XXX
78596 |  | A | Lung differential function | 1.27 | 7.47 | 7.59 | 7.47 | 7.59 | 0.36 | 9.10 | 9.22 | 9.10 | 9.22 | XXX
78596 | 26 | A | Lung differential function | 1.27 | 0.46 | 0.50 | 0.46 | 0.50 | 0.05 | 1.78 | 1.82 | 1.78 | 1.82 | XXX
78596 | TC | A | Lung differential function | 0.00 | 7.01 | 7.09 | NA | NA | 0.31 | 7.32 | 7.40 | NA | NA | XXX
78599 |  | C | Respiratory nuclear exam | 0.00 | 0.00 | 0.00 | 0.00 | 0.00 | 0.00 | 0.00 | 0.00 | 0.00 | 0.00 | XXX
78599 | 26 | C | Respiratory nuclear exam | 0.00 | 0.00 | 0.00 | 0.00 | 0.00 | 0.00 | 0.00 | 0.00 | 0.00 | 0.00 | XXX
78599 | TC | C | Respiratory nuclear exam | 0.00 | 0.00 | 0.00 | 0.00 | 0.00 | 0.00 | 0.00 | 0.00 | 0.00 | 0.00 | XXX
78600 |  | A | Brain imaging, ltd static | 0.44 | 3.02 | 3.07 | 3.02 | 3.07 | 0.14 | 3.60 | 3.65 | 3.60 | 3.65 | XXX
78600 | 26 | A | Brain imaging, ltd static | 0.44 | 0.16 | 0.18 | 0.16 | 0.18 | 0.02 | 0.62 | 0.64 | 0.62 | 0.64 | XXX
78600 | TC | A | Brain imaging, ltd static | 0.00 | 2.86 | 2.89 | NA | NA | 0.12 | 2.98 | 3.01 | NA | NA | XXX
78601 |  | A | Brain imaging, ltd w/ flow | 0.51 | 3.57 | 3.63 | 3.57 | 3.63 | 0.17 | 4.25 | 4.31 | 4.25 | 4.31 | XXX
78601 | 26 | A | Brain imaging, ltd w/ flow | 0.51 | 0.19 | 0.21 | 0.19 | 0.21 | 0.02 | 0.72 | 0.74 | 0.72 | 0.74 | XXX
78601 | TC | A | Brain imaging, ltd w/ flow | 0.00 | 3.38 | 3.42 | NA | NA | 0.15 | 3.53 | 3.57 | NA | NA | XXX
78605 |  | A | Brain imaging, complete | 0.53 | 3.58 | 3.64 | 3.58 | 3.64 | 0.17 | 4.28 | 4.34 | 4.28 | 4.34 | XXX
78605 | 26 | A | Brain imaging, complete | 0.53 | 0.20 | 0.22 | 0.20 | 0.22 | 0.02 | 0.75 | 0.77 | 0.75 | 0.77 | XXX
78605 | TC | A | Brain imaging, complete | 0.00 | 3.38 | 3.42 | NA | NA | 0.15 | 3.53 | 3.57 | NA | NA | XXX
78606 |  | A | Brain imaging, compl w/flow | 0.64 | 4.07 | 4.13 | 4.07 | 4.13 | 0.20 | 4.91 | 4.97 | 4.91 | 4.97 | XXX
78606 | 26 | A | Brain imaging, compl w/flow | 0.64 | 0.23 | 0.25 | 0.23 | 0.25 | 0.03 | 0.90 | 0.92 | 0.90 | 0.92 | XXX
78606 | TC | A | Brain imaging, compl w/flow | 0.00 | 3.84 | 3.88 | NA | NA | 0.17 | 4.01 | 4.05 | NA | NA | XXX
78607 |  | A | Brain imaging (3D) | 1.23 | 6.96 | 7.06 | 6.96 | 7.06 | 0.34 | 8.53 | 8.63 | 8.53 | 8.63 | XXX
78607 | 26 | A | Brain imaging (3D) | 1.23 | 0.46 | 0.49 | 0.46 | 0.49 | 0.05 | 1.74 | 1.77 | 1.74 | 1.77 | XXX
78607 | TC | A | Brain imaging (3D) | 0.00 | 6.50 | 6.57 | NA | NA | 0.29 | 6.79 | 6.86 | NA | NA | XXX
78608 |  | N | Brain imaging (PET) | 0.00 | 0.00 | 0.00 | 0.00 | 0.00 | 0.00 | 0.00 | 0.00 | 0.00 | 0.00 | XXX
78609 |  | N | Brain imaging (PET) | 0.00 | 0.00 | 0.00 | 0.00 | 0.00 | 0.00 | 0.00 | 0.00 | 0.00 | 0.00 | XXX
78610 |  | A | Brain flow imaging only | 0.30 | 1.68 | 1.71 | 1.68 | 1.71 | 0.09 | 2.07 | 2.10 | 2.07 | 2.10 | XXX
78610 | 26 | A | Brain flow imaging only | 0.30 | 0.11 | 0.12 | 0.11 | 0.12 | 0.01 | 0.42 | 0.43 | 0.42 | 0.43 | XXX
78610 | TC | A | Brain flow imaging only | 0.00 | 1.57 | 1.59 | NA | NA | 0.08 | 1.65 | 1.67 | NA | NA | XXX
78615 |  | A | Cerebral blood flow imaging | 0.42 | 3.98 | 4.03 | 3.98 | 4.03 | 0.19 | 4.59 | 4.64 | 4.59 | 4.64 | XXX
78615 | 26 | A | Cerebral blood flow imaging | 0.42 | 0.16 | 0.17 | 0.16 | 0.17 | 0.02 | 0.60 | 0.61 | 0.60 | 0.61 | XXX
78615 | TC | A | Cerebral blood flow imaging | 0.00 | 3.82 | 3.86 | NA | NA | 0.17 | 3.99 | 4.03 | NA | NA | XXX
78630 |  | A | Cerebrospinal fluid scan | 0.68 | 5.26 | 5.33 | 5.26 | 5.33 | 0.25 | 6.19 | 6.26 | 6.19 | 6.26 | XXX
78630 | 26 | A | Cerebrospinal fluid scan | 0.68 | 0.25 | 0.27 | 0.25 | 0.27 | 0.03 | 0.96 | 0.98 | 0.96 | 0.98 | XXX
78630 | TC | A | Cerebrospinal fluid scan | 0.00 | 5.01 | 5.06 | NA | NA | 0.22 | 5.23 | 5.28 | NA | NA | XXX
78635 |  | A | CSF ventriculography | 0.61 | 2.78 | 2.82 | 2.78 | 2.82 | 0.14 | 3.53 | 3.57 | 3.53 | 3.57 | XXX
78635 | 26 | A | CSF ventriculography | 0.61 | 0.25 | 0.26 | 0.25 | 0.26 | 0.02 | 0.88 | 0.89 | 0.88 | 0.89 | XXX
78635 | TC | A | CSF ventriculography | 0.00 | 2.53 | 2.56 | NA | NA | 0.12 | 2.65 | 2.68 | NA | NA | XXX
78645 |  | A | CSF shunt evaluation | 0.57 | 3.62 | 3.68 | 3.62 | 3.68 | 0.17 | 4.36 | 4.42 | 4.36 | 4.42 | XXX
78645 | 26 | A | CSF shunt evaluation | 0.57 | 0.21 | 0.23 | 0.21 | 0.23 | 0.02 | 0.80 | 0.82 | 0.80 | 0.82 | XXX
78645 | TC | A | CSF shunt evaluation | 0.00 | 3.41 | 3.45 | NA | NA | 0.15 | 3.56 | 3.60 | NA | NA | XXX
78647 |  | A | Cerebrospinal fluid scan | 0.90 | 6.21 | 6.29 | 6.21 | 6.29 | 0.29 | 7.40 | 7.48 | 7.40 | 7.48 | XXX
78647 | 26 | A | Cerebrospinal fluid scan | 0.90 | 0.35 | 0.37 | 0.35 | 0.37 | 0.03 | 1.28 | 1.30 | 1.28 | 1.30 | XXX
78647 | TC | A | Cerebrospinal fluid scan | 0.00 | 5.86 | 5.92 | NA | NA | 0.26 | 6.12 | 6.18 | NA | NA | XXX
78650 |  | A | CSF leakage imaging | 0.61 | 4.84 | 4.91 | 4.84 | 4.91 | 0.22 | 5.67 | 5.74 | 5.67 | 5.74 | XXX
78650 | 26 | A | CSF leakage imaging | 0.61 | 0.23 | 0.25 | 0.23 | 0.25 | 0.02 | 0.86 | 0.88 | 0.86 | 0.88 | XXX
78650 | TC | A | CSF leakage imaging | 0.00 | 4.61 | 4.66 | NA | NA | 0.20 | 4.81 | 4.86 | NA | NA | XXX
78660 |  | A | Nuclear exam of tear flow | 0.53 | 2.29 | 2.33 | 2.29 | 2.33 | 0.12 | 2.94 | 2.98 | 2.94 | 2.98 | XXX
78660 | 26 | A | Nuclear exam of tear flow | 0.53 | 0.19 | 0.21 | 0.19 | 0.21 | 0.02 | 0.74 | 0.76 | 0.74 | 0.76 | XXX
78660 | TC | A | Nuclear exam of tear flow | 0.00 | 2.10 | 2.12 | NA | NA | 0.10 | 2.20 | 2.22 | NA | NA | XXX
78699 |  | C | Nervous system nuclear exam | 0.00 | 0.00 | 0.00 | 0.00 | 0.00 | 0.00 | 0.00 | 0.00 | 0.00 | 0.00 | XXX
78699 | 26 | C | Nervous system nuclear exam | 0.00 | 0.00 | 0.00 | 0.00 | 0.00 | 0.00 | 0.00 | 0.00 | 0.00 | 0.00 | XXX
78699 | TC | C | Nervous system nuclear exam | 0.00 | 0.00 | 0.00 | 0.00 | 0.00 | 0.00 | 0.00 | 0.00 | 0.00 | 0.00 | XXX
78700 |  | A | Kidney imaging, static | 0.45 | 3.19 | 3.24 | 3.19 | 3.24 | 0.15 | 3.79 | 3.84 | 3.79 | 3.84 | XXX
78700 | 26 | A | Kidney imaging, static | 0.45 | 0.16 | 0.18 | 0.16 | 0.18 | 0.02 | 0.63 | 0.65 | 0.63 | 0.65 | XXX
78700 | TC | A | Kidney imaging, static | 0.00 | 3.03 | 3.06 | NA | NA | 0.13 | 3.16 | 3.19 | NA | NA | XXX
78701 |  | A | Kidney imaging with flow | 0.49 | 3.72 | 3.78 | 3.72 | 3.78 | 0.17 | 4.38 | 4.44 | 4.38 | 4.44 | XXX
78701 | 26 | A | Kidney imaging with flow | 0.49 | 0.18 | 0.20 | 0.18 | 0.20 | 0.02 | 0.69 | 0.71 | 0.69 | 0.71 | XXX
78701 | TC | A | Kidney imaging with flow | 0.00 | 3.54 | 3.58 | NA | NA | 0.15 | 3.69 | 3.73 | NA | NA | XXX
78704 |  | A | Imaging renogram | 0.74 | 4.20 | 4.27 | 4.20 | 4.27 | 0.20 | 5.14 | 5.21 | 5.14 | 5.21 | XXX
78704 | 26 | A | Imaging renogram | 0.74 | 0.27 | 0.30 | 0.27 | 0.30 | 0.03 | 1.04 | 1.07 | 1.04 | 1.07 | XXX
78704 | TC | A | Imaging renogram | 0.00 | 3.93 | 3.97 | NA | NA | 0.17 | 4.10 | 4.14 | NA | NA | XXX
78707 |  | A | Kidney flow/function image | 0.96 | 4.79 | 4.87 | 4.79 | 4.87 | 0.23 | 5.98 | 6.06 | 5.98 | 6.06 | XXX
78707 | 26 | A | Kidney flow/function image | 0.96 | 0.35 | 0.38 | 0.35 | 0.38 | 0.04 | 1.35 | 1.38 | 1.35 | 1.38 | XXX
78707 | TC | A | Kidney flow/function image | 0.00 | 4.44 | 4.49 | NA | NA | 0.19 | 4.63 | 4.68 | NA | NA | XXX
78708 |  | A | Kidney flow/function image | 1.21 | 4.88 | 4.94 | 4.88 | 4.94 | 0.24 | 6.33 | 6.39 | 6.33 | 6.39 | XXX
78708 | 26 | A | Kidney flow/function image | 1.21 | 0.44 | 0.45 | 0.44 | 0.45 | 0.05 | 1.70 | 1.71 | 1.70 | 1.71 | XXX
78708 | TC | A | Kidney flow/function image | 0.00 | 4.44 | 4.49 | NA | NA | 0.19 | 4.63 | 4.68 | NA | NA | XXX
78709 |  | A | Kidney flow/function image | 1.41 | 4.95 | 4.99 | 4.95 | 4.99 | 0.25 | 6.61 | 6.65 | 6.61 | 6.65 | XXX
78709 | 26 | A | Kidney flow/function image | 1.41 | 0.51 | 0.50 | 0.51 | 0.50 | 0.06 | 1.98 | 1.97 | 1.98 | 1.97 | XXX
78709 | TC | A | Kidney flow/function image | 0.00 | 4.44 | 4.49 | NA | NA | 0.19 | 4.63 | 4.68 | NA | NA | XXX
78710 |  | A | Kidney imaging (3D) | 0.66 | 6.10 | 6.18 | 6.10 | 6.18 | 0.29 | 7.05 | 7.13 | 7.05 | 7.13 | XXX
78710 | 26 | A | Kidney imaging (3D) | 0.66 | 0.24 | 0.26 | 0.24 | 0.26 | 0.03 | 0.93 | 0.95 | 0.93 | 0.95 | XXX
78710 | TC | A | Kidney imaging (3D) | 0.00 | 5.86 | 5.92 | NA | NA | 0.26 | 6.12 | 6.18 | NA | NA | XXX
78715 |  | A | Renal vascular flow exam | 0.30 | 1.69 | 1.72 | 1.69 | 1.72 | 0.09 | 2.08 | 2.11 | 2.08 | 2.11 | XXX
78715 | 26 | A | Renal vascular flow exam | 0.30 | 0.12 | 0.13 | 0.12 | 0.13 | 0.01 | 0.43 | 0.44 | 0.43 | 0.44 | XXX
78715 | TC | A | Renal vascular flow exam | 0.00 | 1.57 | 1.59 | NA | NA | 0.08 | 1.65 | 1.67 | NA | NA | XXX
78725 |  | A | Kidney function study | 0.38 | 1.91 | 1.94 | 1.91 | 1.94 | 0.10 | 2.39 | 2.42 | 2.39 | 2.42 | XXX
78725 | 26 | A | Kidney function study | 0.38 | 0.14 | 0.15 | 0.14 | 0.15 | 0.01 | 0.53 | 0.54 | 0.53 | 0.54 | XXX
78725 | TC | A | Kidney function study | 0.00 | 1.77 | 1.79 | NA | NA | 0.09 | 1.86 | 1.88 | NA | NA | XXX
78730 |  | A | Urinary bladder retention | 0.36 | 1.58 | 1.61 | 1.58 | 1.61 | 0.09 | 2.03 | 2.06 | 2.03 | 2.06 | XXX
78730 | 26 | A | Urinary bladder retention | 0.36 | 0.13 | 0.14 | 0.13 | 0.14 | 0.02 | 0.51 | 0.52 | 0.51 | 0.52 | XXX
78730 | TC | A | Urinary bladder retention | 0.00 | 1.45 | 1.47 | NA | NA | 0.07 | 1.52 | 1.54 | NA | NA | XXX
78740 |  | A | Ureteral reflux study | 0.57 | 2.30 | 2.34 | 2.30 | 2.34 | 0.12 | 2.99 | 3.03 | 2.99 | 3.03 | XXX
78740 | 26 | A | Ureteral reflux study | 0.57 | 0.20 | 0.22 | 0.20 | 0.22 | 0.02 | 0.79 | 0.81 | 0.79 | 0.81 | XXX
78740 | TC | A | Ureteral reflux study | 0.00 | 2.10 | 2.12 | NA | NA | 0.10 | 2.20 | 2.22 | NA | NA | XXX
78760 |  | A | Testicular imaging | 0.66 | 2.90 | 2.95 | 2.90 | 2.95 | 0.15 | 3.71 | 3.76 | 3.71 | 3.76 | XXX
78760 | 26 | A | Testicular imaging | 0.66 | 0.24 | 0.26 | 0.24 | 0.26 | 0.03 | 0.93 | 0.95 | 0.93 | 0.95 | XXX
78760 | TC | A | Testicular imaging | 0.00 | 2.66 | 2.69 | NA | NA | 0.12 | 2.78 | 2.81 | NA | NA | XXX
78761 |  | A | Testicular imaging/flow | 0.71 | 3.44 | 3.50 | 3.44 | 3.50 | 0.17 | 4.32 | 4.38 | 4.32 | 4.38 | XXX
78761 | 26 | A | Testicular imaging/flow | 0.71 | 0.26 | 0.29 | 0.26 | 0.29 | 0.03 | 1.00 | 1.03 | 1.00 | 1.03 | XXX
78761 | TC | A | Testicular imaging/flow | 0.00 | 3.18 | 3.21 | NA | NA | 0.14 | 3.32 | 3.35 | NA | NA | XXX
78799 |  | C | Genitourinary nuclear exam | 0.00 | 0.00 | 0.00 | 0.00 | 0.00 | 0.00 | 0.00 | 0.00 | 0.00 | 0.00 | XXX
78799 | 26 | C | Genitourinary nuclear exam | 0.00 | 0.00 | 0.00 | 0.00 | 0.00 | 0.00 | 0.00 | 0.00 | 0.00 | 0.00 | XXX
78799 | TC | C | Genitourinary nuclear exam | 0.00 | 0.00 | 0.00 | 0.00 | 0.00 | 0.00 | 0.00 | 0.00 | 0.00 | 0.00 | XXX
78800 |  | A | Tumor imaging, limited area | 0.66 | 3.62 | 3.68 | 3.62 | 3.68 | 0.18 | 4.46 | 4.52 | 4.46 | 4.52 | XXX
78800 | 26 | A | Tumor imaging, limited area | 0.66 | 0.24 | 0.26 | 0.24 | 0.26 | 0.03 | 0.93 | 0.95 | 0.93 | 0.95 | XXX
78800 | TC | A | Tumor imaging, limited area | 0.00 | 3.38 | 3.42 | NA | NA | 0.15 | 3.53 | 3.57 | NA | NA | XXX
78801 |  | A | Tumor imaging, mult areas | 0.79 | 4.49 | 4.56 | 4.49 | 4.56 | 0.21 | 5.49 | 5.56 | 5.49 | 5.56 | XXX
78801 | 26 | A | Tumor imaging, mult areas | 0.79 | 0.29 | 0.32 | 0.29 | 0.32 | 0.03 | 1.11 | 1.14 | 1.11 | 1.14 | XXX
78801 | TC | A | Tumor imaging, mult areas | 0.00 | 4.20 | 4.24 | NA | NA | 0.18 | 4.38 | 4.42 | NA | NA | XXX
78802 |  | A | Tumor imaging, whole body | 0.86 | 5.81 | 5.90 | 5.81 | 5.90 | 0.28 | 6.95 | 7.04 | 6.95 | 7.04 | XXX
78802 | 26 | A | Tumor imaging, whole body | 0.86 | 0.32 | 0.35 | 0.32 | 0.35 | 0.03 | 1.21 | 1.24 | 1.21 | 1.24 | XXX
78802 | TC | A | Tumor imaging, whole body | 0.00 | 5.49 | 5.55 | NA | NA | 0.25 | 5.74 | 5.80 | NA | NA | XXX
78803 |  | A | Tumor imaging (3D) | 1.09 | 6.91 | 7.01 | 6.91 | 7.01 | 0.33 | 8.33 | 8.43 | 8.33 | 8.43 | XXX
78803 | 26 | A | Tumor imaging (3D) | 1.09 | 0.41 | 0.44 | 0.41 | 0.44 | 0.04 | 1.54 | 1.57 | 1.54 | 1.57 | XXX
78803 | TC | A | Tumor imaging (3D) | 0.00 | 6.50 | 6.57 | NA | NA | 0.29 | 6.79 | 6.86 | NA | NA | XXX
78805 |  | A | Abscess imaging, ltd area | 0.73 | 3.65 | 3.71 | 3.65 | 3.71 | 0.18 | 4.56 | 4.62 | 4.56 | 4.62 | XXX
78805 | 26 | A | Abscess imaging, ltd area | 0.73 | 0.27 | 0.29 | 0.27 | 0.29 | 0.03 | 1.03 | 1.05 | 1.03 | 1.05 | XXX
78805 | TC | A | Abscess imaging, ltd area | 0.00 | 3.38 | 3.42 | NA | NA | 0.15 | 3.53 | 3.57 | NA | NA | XXX
78806 |  | A | Abscess imaging, whole body | 0.86 | 6.70 | 6.79 | 6.70 | 6.79 | 0.32 | 7.88 | 7.97 | 7.88 | 7.97 | XXX
78806 | 26 | A | Abscess imaging, whole body | 0.86 | 0.32 | 0.34 | 0.32 | 0.34 | 0.03 | 1.21 | 1.23 | 1.21 | 1.23 | XXX
78806 | TC | A | Abscess imaging, whole body | 0.00 | 6.38 | 6.45 | NA | NA | 0.29 | 6.67 | 6.74 | NA | NA | XXX
78807 |  | A | Nuclear localization/abscess | 1.09 | 6.92 | 7.02 | 6.92 | 7.02 | 0.33 | 8.34 | 8.44 | 8.34 | 8.44 | XXX
78807 | 26 | A | Nuclear localization/abscess | 1.09 | 0.42 | 0.45 | 0.42 | 0.45 | 0.04 | 1.55 | 1.58 | 1.55 | 1.58 | XXX
78807 | TC | A | Nuclear localization/abscess | 0.00 | 6.50 | 6.57 | NA | NA | 0.29 | 6.79 | 6.86 | NA | NA | XXX
78810 |  | N | Tumor imaging (PET) | 0.00 | 0.00 | 0.00 | 0.00 | 0.00 | 0.00 | 0.00 | 0.00 | 0.00 | 0.00 | XXX
78810 | 26 | N | Tumor imaging (PET) | +1.93 | 0.77 | 0.95 | 0.77 | 0.95 | 0.09 | 2.79 | 2.97 | 2.79 | 2.97 | XXX
78810 | TC | N | Tumor imaging (PET) | 0.00 | 0.00 | 0.00 | 0.00 | 0.00 | 0.00 | 0.00 | 0.00 | 0.00 | 0.00 | XXX
78890 |  | B | Nuclear medicine data proc | +0.05 | 1.32 | 1.33 | 1.32 | 1.33 | 0.06 | 1.43 | 1.44 | 1.43 | 1.44 | XXX
78890 | 26 | B | Nuclear medicine data proc | +0.05 | 0.02 | 0.02 | 0.02 | 0.02 | 0.01 | 0.08 | 0.08 | 0.08 | 0.08 | XXX
78890 | TC | B | Nuclear medicine data proc | +0.00 | 1.30 | 1.31 | NA | NA | 0.05 | 1.35 | 1.36 | NA | NA | XXX
78891 |  | B | Nuclear med data proc | +0.10 | 2.64 | 2.67 | 2.64 | 2.67 | 0.12 | 2.86 | 2.89 | 2.86 | 2.89 | XXX
78891 | 26 | B | Nuclear med data proc | +0.10 | 0.04 | 0.04 | 0.04 | 0.04 | 0.01 | 0.15 | 0.15 | 0.15 | 0.15 | XXX
78891 | TC | B | Nuclear med data proc | +0.00 | 2.60 | 2.63 | NA | NA | 0.11 | 2.71 | 2.74 | NA | NA | XXX
78990 |  | I | Provide diag radionuclide(s) | 0.00 | 0.00 | 0.00 | 0.00 | 0.00 | 0.00 | 0.00 | 0.00 | 0.00 | 0.00 | XXX
78999 |  | C | Nuclear diagnostic exam | 0.00 | 0.00 | 0.00 | 0.00 | 0.00 | 0.00 | 0.00 | 0.00 | 0.00 | 0.00 | XXX
78999 | 26 | C | Nuclear diagnostic exam | 0.00 | 0.00 | 0.00 | 0.00 | 0.00 | 0.00 | 0.00 | 0.00 | 0.00 | 0.00 | XXX
78999 | TC | C | Nuclear diagnostic exam | 0.00 | 0.00 | 0.00 | 0.00 | 0.00 | 0.00 | 0.00 | 0.00 | 0.00 | 0.00 | XXX
79000 |  | A | Init hyperthyroid therapy | 1.80 | 3.25 | 3.34 | 3.25 | 3.34 | 0.19 | 5.24 | 5.33 | 5.24 | 5.33 | XXX
79000 | 26 | A | Init hyperthyroid therapy | 1.80 | 0.65 | 0.71 | 0.65 | 0.71 | 0.07 | 2.52 | 2.58 | 2.52 | 2.58 | XXX
79000 | TC | A | Init hyperthyroid therapy | 0.00 | 2.60 | 2.63 | NA | NA | 0.12 | 2.72 | 2.75 | NA | NA | XXX
79001 |  | A | Repeat hyperthyroid therapy | 1.05 | 1.68 | 1.72 | 1.68 | 1.72 | 0.10 | 2.83 | 2.87 | 2.83 | 2.87 | XXX
79001 | 26 | A | Repeat hyperthyroid therapy | 1.05 | 0.38 | 0.41 | 0.38 | 0.41 | 0.04 | 1.47 | 1.50 | 1.47 | 1.50 | XXX
79001 | TC | A | Repeat hyperthyroid therapy | 0.00 | 1.30 | 1.31 | NA | NA | 0.06 | 1.36 | 1.37 | NA | NA | XXX
79020 |  | A | Thyroid ablation | 1.81 | 3.24 | 3.33 | 3.24 | 3.33 | 0.19 | 5.24 | 5.33 | 5.24 | 5.33 | XXX
79020 | 26 | A | Thyroid ablation | 1.81 | 0.64 | 0.70 | 0.64 | 0.70 | 0.07 | 2.52 | 2.58 | 2.52 | 2.58 | XXX
79020 | TC | A | Thyroid ablation | 0.00 | 2.60 | 2.63 | NA | NA | 0.12 | 2.72 | 2.75 | NA | NA | XXX
79030 |  | A | Thyroid ablation, carcinoma | 2.10 | 3.37 | 3.46 | 3.37 | 3.46 | 0.20 | 5.67 | 5.76 | 5.67 | 5.76 | XXX
79030 | 26 | A | Thyroid ablation, carcinoma | 2.10 | 0.77 | 0.83 | 0.77 | 0.83 | 0.08 | 2.95 | 3.01 | 2.95 | 3.01 | XXX
79030 | TC | A | Thyroid ablation, carcinoma | 0.00 | 2.60 | 2.63 | NA | NA | 0.12 | 2.72 | 2.75 | NA | NA | XXX
79035 |  | A | Thyroid metastatic therapy | 2.52 | 3.54 | 3.64 | 3.54 | 3.64 | 0.21 | 6.27 | 6.37 | 6.27 | 6.37 | XXX
79035 | 26 | A | Thyroid metastatic therapy | 2.52 | 0.94 | 1.01 | 0.94 | 1.01 | 0.09 | 3.55 | 3.62 | 3.55 | 3.62 | XXX
79035 | TC | A | Thyroid metastatic therapy | 0.00 | 2.60 | 2.63 | NA | NA | 0.12 | 2.72 | 2.75 | NA | NA | XXX
79100 |  | A | Hematopoetic nuclear therapy | 1.32 | 3.09 | 3.16 | 3.09 | 3.16 | 0.17 | 4.58 | 4.65 | 4.58 | 4.65 | XXX
79100 | 26 | A | Hematopoetic nuclear therapy | 1.32 | 0.49 | 0.53 | 0.49 | 0.53 | 0.05 | 1.86 | 1.90 | 1.86 | 1.90 | XXX
79100 | TC | A | Hematopoetic nuclear therapy | 0.00 | 2.60 | 2.63 | NA | NA | 0.12 | 2.72 | 2.75 | NA | NA | XXX
79200 |  | A | Intracavitary nuclear trmt | 1.99 | 3.35 | 3.44 | 3.35 | 3.44 | 0.19 | 5.53 | 5.62 | 5.53 | 5.62 | XXX
79200 | 26 | A | Intracavitary nuclear trmt | 1.99 | 0.75 | 0.81 | 0.75 | 0.81 | 0.07 | 2.81 | 2.87 | 2.81 | 2.87 | XXX
79200 | TC | A | Intracavitary nuclear trmt | 0.00 | 2.60 | 2.63 | NA | NA | 0.12 | 2.72 | 2.75 | NA | NA | XXX
79300 |  | C | Interstitial nuclear therapy | 0.00 | 0.00 | 0.00 | 0.00 | 0.00 | 0.00 | 0.00 | 0.00 | 0.00 | 0.00 | XXX
79300 | 26 | A | Interstitial nuclear therapy | 1.60 | 0.58 | 0.63 | 0.58 | 0.63 | 0.07 | 2.25 | 2.30 | 2.25 | 2.30 | XXX
79300 | TC | C | Interstitial nuclear therapy | 0.00 | 0.00 | 0.00 | 0.00 | 0.00 | 0.00 | 0.00 | 0.00 | 0.00 | 0.00 | XXX
79400 |  | A | Nonhemato nuclear therapy | 1.96 | 3.33 | 3.41 | 3.33 | 3.41 | 0.20 | 5.49 | 5.57 | 5.49 | 5.57 | XXX
79400 | 26 | A | Nonhemato nuclear therapy | 1.96 | 0.73 | 0.78 | 0.73 | 0.78 | 0.08 | 2.77 | 2.82 | 2.77 | 2.82 | XXX
79400 | TC | A | Nonhemato nuclear therapy | 0.00 | 2.60 | 2.63 | NA | NA | 0.12 | 2.72 | 2.75 | NA | NA | XXX
79420 |  | C | Intravascular nuclear ther | 0.00 | 0.00 | 0.00 | 0.00 | 0.00 | 0.00 | 0.00 | 0.00 | 0.00 | 0.00 | XXX
79420 | 26 | A | Intravascular nuclear ther | 1.51 | 0.54 | 0.59 | 0.54 | 0.59 | 0.06 | 2.11 | 2.16 | 2.11 | 2.16 | XXX
79420 | TC | C | Intravascular nuclear ther | 0.00 | 0.00 | 0.00 | 0.00 | 0.00 | 0.00 | 0.00 | 0.00 | 0.00 | 0.00 | XXX
79440 |  | A | Nuclear joint therapy | 1.99 | 3.40 | 3.47 | 3.40 | 3.47 | 0.20 | 5.59 | 5.66 | 5.59 | 5.66 | XXX
79440 | 26 | A | Nuclear joint therapy | 1.99 | 0.80 | 0.84 | 0.80 | 0.84 | 0.08 | 2.87 | 2.91 | 2.87 | 2.91 | XXX
79440 | TC | A | Nuclear joint therapy | 0.00 | 2.60 | 2.63 | NA | NA | 0.12 | 2.72 | 2.75 | NA | NA | XXX
79900 |  | C | Provide ther radiopharm(s) | 0.00 | 0.00 | 0.00 | 0.00 | 0.00 | 0.00 | 0.00 | 0.00 | 0.00 | 0.00 | XXX
79999 |  | C | Nuclear medicine therapy | 0.00 | 0.00 | 0.00 | 0.00 | 0.00 | 0.00 | 0.00 | 0.00 | 0.00 | 0.00 | XXX
79999 | 26 | C | Nuclear medicine therapy | 0.00 | 0.00 | 0.00 | 0.00 | 0.00 | 0.00 | 0.00 | 0.00 | 0.00 | 0.00 | XXX
79999 | TC | C | Nuclear medicine therapy | 0.00 | 0.00 | 0.00 | 0.00 | 0.00 | 0.00 | 0.00 | 0.00 | 0.00 | 0.00 | XXX
80048 |  | X | Basic metabolic panel | 0.00 | 0.00 | 0.00 | 0.00 | 0.00 | 0.00 | 0.00 | 0.00 | 0.00 | 0.00 | XXX
80050 |  | N | General health panel | 0.00 | 0.00 | 0.00 | 0.00 | 0.00 | 0.00 | 0.00 | 0.00 | 0.00 | 0.00 | XXX
80051 |  | X | Electrolyte panel | 0.00 | 0.00 | 0.00 | 0.00 | 0.00 | 0.00 | 0.00 | 0.00 | 0.00 | 0.00 | XXX
80053 |  | X | Comprehen metabolic panel | 0.00 | 0.00 | 0.00 | 0.00 | 0.00 | 0.00 | 0.00 | 0.00 | 0.00 | 0.00 | XXX
80055 |  | I | Obstetric panel | 0.00 | 0.00 | 0.00 | 0.00 | 0.00 | 0.00 | 0.00 | 0.00 | 0.00 | 0.00 | XXX
80061 |  | X | Lipid panel | 0.00 | 0.00 | 0.00 | 0.00 | 0.00 | 0.00 | 0.00 | 0.00 | 0.00 | 0.00 | XXX
80069 |  | X | Renal function panel | 0.00 | 0.00 | 0.00 | 0.00 | 0.00 | 0.00 | 0.00 | 0.00 | 0.00 | 0.00 | XXX
80072 |  | X | Arthritis panel | 0.00 | 0.00 | 0.00 | 0.00 | 0.00 | 0.00 | 0.00 | 0.00 | 0.00 | 0.00 | XXX
80074 |  | X | Acute hepatitis panel | 0.00 | 0.00 | 0.00 | 0.00 | 0.00 | 0.00 | 0.00 | 0.00 | 0.00 | 0.00 | XXX
80076 |  | X | Hepatic function panel | 0.00 | 0.00 | 0.00 | 0.00 | 0.00 | 0.00 | 0.00 | 0.00 | 0.00 | 0.00 | XXX
80090 |  | X | Torch antibody panel | 0.00 | 0.00 | 0.00 | 0.00 | 0.00 | 0.00 | 0.00 | 0.00 | 0.00 | 0.00 | XXX
80100 |  | X | Drug screen, qualitate/multi | 0.00 | 0.00 | 0.00 | 0.00 | 0.00 | 0.00 | 0.00 | 0.00 | 0.00 | 0.00 | XXX
80101 |  | X | Drug screen, single | 0.00 | 0.00 | 0.00 | 0.00 | 0.00 | 0.00 | 0.00 | 0.00 | 0.00 | 0.00 | XXX
80102 |  | X | Drug confirmation | 0.00 | 0.00 | 0.00 | 0.00 | 0.00 | 0.00 | 0.00 | 0.00 | 0.00 | 0.00 | XXX
80103 |  | X | Drug analysis, tissue prep | 0.00 | 0.00 | 0.00 | 0.00 | 0.00 | 0.00 | 0.00 | 0.00 | 0.00 | 0.00 | XXX
80150 |  | X | Assay of amikacin | 0.00 | 0.00 | 0.00 | 0.00 | 0.00 | 0.00 | 0.00 | 0.00 | 0.00 | 0.00 | XXX
80152 |  | X | Assay of amitriptyline | 0.00 | 0.00 | 0.00 | 0.00 | 0.00 | 0.00 | 0.00 | 0.00 | 0.00 | 0.00 | XXX
80154 |  | X | Assay of benzodiazepines | 0.00 | 0.00 | 0.00 | 0.00 | 0.00 | 0.00 | 0.00 | 0.00 | 0.00 | 0.00 | XXX
80156 |  | X | Assay, carbamazepine, total | 0.00 | 0.00 | 0.00 | 0.00 | 0.00 | 0.00 | 0.00 | 0.00 | 0.00 | 0.00 | XXX
80157 |  | X | Assay, carbamazepine, free | 0.00 | 0.00 | 0.00 | 0.00 | 0.00 | 0.00 | 0.00 | 0.00 | 0.00 | 0.00 | XXX
80158 |  | X | Assay of cyclosporine | 0.00 | 0.00 | 0.00 | 0.00 | 0.00 | 0.00 | 0.00 | 0.00 | 0.00 | 0.00 | XXX
80160 |  | X | Assay of desipramine | 0.00 | 0.00 | 0.00 | 0.00 | 0.00 | 0.00 | 0.00 | 0.00 | 0.00 | 0.00 | XXX
80162 |  | X | Assay of digoxin | 0.00 | 0.00 | 0.00 | 0.00 | 0.00 | 0.00 | 0.00 | 0.00 | 0.00 | 0.00 | XXX
80164 |  | X | Assay, dipropylacetic acid | 0.00 | 0.00 | 0.00 | 0.00 | 0.00 | 0.00 | 0.00 | 0.00 | 0.00 | 0.00 | XXX
80166 |  | X | Assay of doxepin | 0.00 | 0.00 | 0.00 | 0.00 | 0.00 | 0.00 | 0.00 | 0.00 | 0.00 | 0.00 | XXX
80168 |  | X | Assay of ethosuximide | 0.00 | 0.00 | 0.00 | 0.00 | 0.00 | 0.00 | 0.00 | 0.00 | 0.00 | 0.00 | XXX
80170 |  | X | Assay of gentamicin | 0.00 | 0.00 | 0.00 | 0.00 | 0.00 | 0.00 | 0.00 | 0.00 | 0.00 | 0.00 | XXX
80172 |  | X | Assay of gold | 0.00 | 0.00 | 0.00 | 0.00 | 0.00 | 0.00 | 0.00 | 0.00 | 0.00 | 0.00 | XXX
80173 |  | X | Assay of haloperidol | 0.00 | 0.00 | 0.00 | 0.00 | 0.00 | 0.00 | 0.00 | 0.00 | 0.00 | 0.00 | XXX
80174 |  | X | Assay of imipramine | 0.00 | 0.00 | 0.00 | 0.00 | 0.00 | 0.00 | 0.00 | 0.00 | 0.00 | 0.00 | XXX
80176 |  | X | Assay of lidocaine | 0.00 | 0.00 | 0.00 | 0.00 | 0.00 | 0.00 | 0.00 | 0.00 | 0.00 | 0.00 | XXX
80178 |  | X | Assay of lithium | 0.00 | 0.00 | 0.00 | 0.00 | 0.00 | 0.00 | 0.00 | 0.00 | 0.00 | 0.00 | XXX
80182 |  | X | Assay of nortriptyline | 0.00 | 0.00 | 0.00 | 0.00 | 0.00 | 0.00 | 0.00 | 0.00 | 0.00 | 0.00 | XXX
80184 |  | X | Assay of phenobarbital | 0.00 | 0.00 | 0.00 | 0.00 | 0.00 | 0.00 | 0.00 | 0.00 | 0.00 | 0.00 | XXX
80185 |  | X | Assay of phenytoin, total | 0.00 | 0.00 | 0.00 | 0.00 | 0.00 | 0.00 | 0.00 | 0.00 | 0.00 | 0.00 | XXX
80186 |  | X | Assay of phenytoin, free | 0.00 | 0.00 | 0.00 | 0.00 | 0.00 | 0.00 | 0.00 | 0.00 | 0.00 | 0.00 | XXX
80188 |  | X | Assay of primidone | 0.00 | 0.00 | 0.00 | 0.00 | 0.00 | 0.00 | 0.00 | 0.00 | 0.00 | 0.00 | XXX
80190 |  | X | Assay of procainamide | 0.00 | 0.00 | 0.00 | 0.00 | 0.00 | 0.00 | 0.00 | 0.00 | 0.00 | 0.00 | XXX
80192 |  | X | Assay of procainamide | 0.00 | 0.00 | 0.00 | 0.00 | 0.00 | 0.00 | 0.00 | 0.00 | 0.00 | 0.00 | XXX
80194 |  | X | Assay of quinidine | 0.00 | 0.00 | 0.00 | 0.00 | 0.00 | 0.00 | 0.00 | 0.00 | 0.00 | 0.00 | XXX
80196 |  | X | Assay of salicylate | 0.00 | 0.00 | 0.00 | 0.00 | 0.00 | 0.00 | 0.00 | 0.00 | 0.00 | 0.00 | XXX
80197 |  | X | Assay of tacrolimus | 0.00 | 0.00 | 0.00 | 0.00 | 0.00 | 0.00 | 0.00 | 0.00 | 0.00 | 0.00 | XXX
80198 |  | X | Assay of theophylline | 0.00 | 0.00 | 0.00 | 0.00 | 0.00 | 0.00 | 0.00 | 0.00 | 0.00 | 0.00 | XXX
80200 |  | X | Assay of tobramycin | 0.00 | 0.00 | 0.00 | 0.00 | 0.00 | 0.00 | 0.00 | 0.00 | 0.00 | 0.00 | XXX
80201 |  | X | Assay of topiramate | 0.00 | 0.00 | 0.00 | 0.00 | 0.00 | 0.00 | 0.00 | 0.00 | 0.00 | 0.00 | XXX
80202 |  | X | Assay of vancomycin | 0.00 | 0.00 | 0.00 | 0.00 | 0.00 | 0.00 | 0.00 | 0.00 | 0.00 | 0.00 | XXX
80299 |  | X | Quantitative assay, drug | 0.00 | 0.00 | 0.00 | 0.00 | 0.00 | 0.00 | 0.00 | 0.00 | 0.00 | 0.00 | XXX
80400 |  | X | Acth stimulation panel | 0.00 | 0.00 | 0.00 | 0.00 | 0.00 | 0.00 | 0.00 | 0.00 | 0.00 | 0.00 | XXX
80402 |  | X | Acth stimulation panel | 0.00 | 0.00 | 0.00 | 0.00 | 0.00 | 0.00 | 0.00 | 0.00 | 0.00 | 0.00 | XXX
80406 |  | X | Acth stimulation panel | 0.00 | 0.00 | 0.00 | 0.00 | 0.00 | 0.00 | 0.00 | 0.00 | 0.00 | 0.00 | XXX
80408 |  | X | Aldosterone suppression eval | 0.00 | 0.00 | 0.00 | 0.00 | 0.00 | 0.00 | 0.00 | 0.00 | 0.00 | 0.00 | XXX
80410 |  | X | Calcitonin stimul panel | 0.00 | 0.00 | 0.00 | 0.00 | 0.00 | 0.00 | 0.00 | 0.00 | 0.00 | 0.00 | XXX
80412 |  | X | CRH stimulation panel | 0.00 | 0.00 | 0.00 | 0.00 | 0.00 | 0.00 | 0.00 | 0.00 | 0.00 | 0.00 | XXX
80414 |  | X | Testosterone response | 0.00 | 0.00 | 0.00 | 0.00 | 0.00 | 0.00 | 0.00 | 0.00 | 0.00 | 0.00 | XXX
80415 |  | X | Estradiol response panel | 0.00 | 0.00 | 0.00 | 0.00 | 0.00 | 0.00 | 0.00 | 0.00 | 0.00 | 0.00 | XXX
80416 |  | X | Renin stimulation panel | 0.00 | 0.00 | 0.00 | 0.00 | 0.00 | 0.00 | 0.00 | 0.00 | 0.00 | 0.00 | XXX
80417 |  | X | Renin stimulation panel | 0.00 | 0.00 | 0.00 | 0.00 | 0.00 | 0.00 | 0.00 | 0.00 | 0.00 | 0.00 | XXX
80418 |  | X | Pituitary evaluation panel | 0.00 | 0.00 | 0.00 | 0.00 | 0.00 | 0.00 | 0.00 | 0.00 | 0.00 | 0.00 | XXX
80420 |  | X | Dexamethasone panel | 0.00 | 0.00 | 0.00 | 0.00 | 0.00 | 0.00 | 0.00 | 0.00 | 0.00 | 0.00 | XXX
80422 |  | X | Glucagon tolerance panel | 0.00 | 0.00 | 0.00 | 0.00 | 0.00 | 0.00 | 0.00 | 0.00 | 0.00 | 0.00 | XXX
80424 |  | X | Glucagon tolerance panel | 0.00 | 0.00 | 0.00 | 0.00 | 0.00 | 0.00 | 0.00 | 0.00 | 0.00 | 0.00 | XXX
80426 |  | X | Gonadotropin hormone panel | 0.00 | 0.00 | 0.00 | 0.00 | 0.00 | 0.00 | 0.00 | 0.00 | 0.00 | 0.00 | XXX
80428 |  | X | Growth hormone panel | 0.00 | 0.00 | 0.00 | 0.00 | 0.00 | 0.00 | 0.00 | 0.00 | 0.00 | 0.00 | XXX
80430 |  | X | Growth hormone panel | 0.00 | 0.00 | 0.00 | 0.00 | 0.00 | 0.00 | 0.00 | 0.00 | 0.00 | 0.00 | XXX
80432 |  | X | Insulin suppression panel | 0.00 | 0.00 | 0.00 | 0.00 | 0.00 | 0.00 | 0.00 | 0.00 | 0.00 | 0.00 | XXX
80434 |  | X | Insulin tolerance panel | 0.00 | 0.00 | 0.00 | 0.00 | 0.00 | 0.00 | 0.00 | 0.00 | 0.00 | 0.00 | XXX
80435 |  | X | Insulin tolerance panel | 0.00 | 0.00 | 0.00 | 0.00 | 0.00 | 0.00 | 0.00 | 0.00 | 0.00 | 0.00 | XXX
80436 |  | X | Metyrapone panel | 0.00 | 0.00 | 0.00 | 0.00 | 0.00 | 0.00 | 0.00 | 0.00 | 0.00 | 0.00 | XXX
80438 |  | X | TRH stimulation panel | 0.00 | 0.00 | 0.00 | 0.00 | 0.00 | 0.00 | 0.00 | 0.00 | 0.00 | 0.00 | XXX
80439 |  | X | TRH stimulation panel | 0.00 | 0.00 | 0.00 | 0.00 | 0.00 | 0.00 | 0.00 | 0.00 | 0.00 | 0.00 | XXX
80440 |  | X | TRH stimulation panel | 0.00 | 0.00 | 0.00 | 0.00 | 0.00 | 0.00 | 0.00 | 0.00 | 0.00 | 0.00 | XXX
80500 |  | A | Lab pathology consultation | 0.37 | 0.18 | 0.19 | 0.16 | 0.18 | 0.01 | 0.56 | 0.57 | 0.54 | 0.56 | XXX
80502 |  | A | Lab pathology consultation | 1.33 | 0.63 | 0.56 | 0.58 | 0.53 | 0.05 | 2.01 | 1.94 | 1.96 | 1.91 | XXX
81000 |  | X | Urinalysis, nonauto w/scope | 0.00 | 0.00 | 0.00 | 0.00 | 0.00 | 0.00 | 0.00 | 0.00 | 0.00 | 0.00 | XXX
81001 |  | X | Urinalysis, auto w/scope | 0.00 | 0.00 | 0.00 | 0.00 | 0.00 | 0.00 | 0.00 | 0.00 | 0.00 | 0.00 | XXX
81002 |  | X | Urinalysis nonauto w/o scope | 0.00 | 0.00 | 0.00 | 0.00 | 0.00 | 0.00 | 0.00 | 0.00 | 0.00 | 0.00 | XXX
81003 |  | X | Urinalysis, auto, w/o scope | 0.00 | 0.00 | 0.00 | 0.00 | 0.00 | 0.00 | 0.00 | 0.00 | 0.00 | 0.00 | XXX
81005 |  | X | Urinalysis | 0.00 | 0.00 | 0.00 | 0.00 | 0.00 | 0.00 | 0.00 | 0.00 | 0.00 | 0.00 | XXX
81007 |  | X | Urine screen for bacteria | 0.00 | 0.00 | 0.00 | 0.00 | 0.00 | 0.00 | 0.00 | 0.00 | 0.00 | 0.00 | XXX
81015 |  | X | Microscopic exam of urine | 0.00 | 0.00 | 0.00 | 0.00 | 0.00 | 0.00 | 0.00 | 0.00 | 0.00 | 0.00 | XXX
81020 |  | X | Urinalysis, glass test | 0.00 | 0.00 | 0.00 | 0.00 | 0.00 | 0.00 | 0.00 | 0.00 | 0.00 | 0.00 | XXX
81025 |  | X | Urine pregnancy test | 0.00 | 0.00 | 0.00 | 0.00 | 0.00 | 0.00 | 0.00 | 0.00 | 0.00 | 0.00 | XXX
81050 |  | X | Urinalysis, volume measure | 0.00 | 0.00 | 0.00 | 0.00 | 0.00 | 0.00 | 0.00 | 0.00 | 0.00 | 0.00 | XXX
81099 |  | X | Urinalysis test procedure | 0.00 | 0.00 | 0.00 | 0.00 | 0.00 | 0.00 | 0.00 | 0.00 | 0.00 | 0.00 | XXX
82000 |  | X | Assay of blood acetaldehyde | 0.00 | 0.00 | 0.00 | 0.00 | 0.00 | 0.00 | 0.00 | 0.00 | 0.00 | 0.00 | XXX
82003 |  | X | Assay of acetaminophen | 0.00 | 0.00 | 0.00 | 0.00 | 0.00 | 0.00 | 0.00 | 0.00 | 0.00 | 0.00 | XXX
82009 |  | X | Test for acetone/ketones | 0.00 | 0.00 | 0.00 | 0.00 | 0.00 | 0.00 | 0.00 | 0.00 | 0.00 | 0.00 | XXX
82010 |  | X | Acetone assay | 0.00 | 0.00 | 0.00 | 0.00 | 0.00 | 0.00 | 0.00 | 0.00 | 0.00 | 0.00 | XXX
82013 |  | X | Acetylcholinesterase assay | 0.00 | 0.00 | 0.00 | 0.00 | 0.00 | 0.00 | 0.00 | 0.00 | 0.00 | 0.00 | XXX
82016 |  | X | Acylcarnitines, qual | 0.00 | 0.00 | 0.00 | 0.00 | 0.00 | 0.00 | 0.00 | 0.00 | 0.00 | 0.00 | XXX
82017 |  | X | Acylcarnitines, quant | 0.00 | 0.00 | 0.00 | 0.00 | 0.00 | 0.00 | 0.00 | 0.00 | 0.00 | 0.00 | XXX
82024 |  | X | Assay of acth | 0.00 | 0.00 | 0.00 | 0.00 | 0.00 | 0.00 | 0.00 | 0.00 | 0.00 | 0.00 | XXX
82030 |  | X | Assay of adp & amp | 0.00 | 0.00 | 0.00 | 0.00 | 0.00 | 0.00 | 0.00 | 0.00 | 0.00 | 0.00 | XXX
82040 |  | X | Assay of serum albumin | 0.00 | 0.00 | 0.00 | 0.00 | 0.00 | 0.00 | 0.00 | 0.00 | 0.00 | 0.00 | XXX
82042 |  | X | Assay of urine albumin | 0.00 | 0.00 | 0.00 | 0.00 | 0.00 | 0.00 | 0.00 | 0.00 | 0.00 | 0.00 | XXX
82043 |  | X | Microalbumin, quantitative | 0.00 | 0.00 | 0.00 | 0.00 | 0.00 | 0.00 | 0.00 | 0.00 | 0.00 | 0.00 | XXX
82044 |  | X | Microalbumin, semiquant | 0.00 | 0.00 | 0.00 | 0.00 | 0.00 | 0.00 | 0.00 | 0.00 | 0.00 | 0.00 | XXX
82055 |  | X | Assay of ethanol | 0.00 | 0.00 | 0.00 | 0.00 | 0.00 | 0.00 | 0.00 | 0.00 | 0.00 | 0.00 | XXX
82075 |  | X | Assay of breath ethanol | 0.00 | 0.00 | 0.00 | 0.00 | 0.00 | 0.00 | 0.00 | 0.00 | 0.00 | 0.00 | XXX
82085 |  | X | Assay of aldolase | 0.00 | 0.00 | 0.00 | 0.00 | 0.00 | 0.00 | 0.00 | 0.00 | 0.00 | 0.00 | XXX
82088 |  | X | Assay of aldosterone | 0.00 | 0.00 | 0.00 | 0.00 | 0.00 | 0.00 | 0.00 | 0.00 | 0.00 | 0.00 | XXX
82101 |  | X | Assay of urine alkaloids | 0.00 | 0.00 | 0.00 | 0.00 | 0.00 | 0.00 | 0.00 | 0.00 | 0.00 | 0.00 | XXX
82103 |  | X | Alpha-1-antitrypsin, total | 0.00 | 0.00 | 0.00 | 0.00 | 0.00 | 0.00 | 0.00 | 0.00 | 0.00 | 0.00 | XXX
82104 |  | X | Alpha-1-antitrypsin, pheno | 0.00 | 0.00 | 0.00 | 0.00 | 0.00 | 0.00 | 0.00 | 0.00 | 0.00 | 0.00 | XXX
82105 |  | X | Alpha-fetoprotein, serum | 0.00 | 0.00 | 0.00 | 0.00 | 0.00 | 0.00 | 0.00 | 0.00 | 0.00 | 0.00 | XXX
82106 |  | X | Alpha-fetoprotein, amniotic | 0.00 | 0.00 | 0.00 | 0.00 | 0.00 | 0.00 | 0.00 | 0.00 | 0.00 | 0.00 | XXX
82108 |  | X | Assay of aluminum | 0.00 | 0.00 | 0.00 | 0.00 | 0.00 | 0.00 | 0.00 | 0.00 | 0.00 | 0.00 | XXX
82120 |  | X | Amines, vaginal fluid qual | 0.00 | 0.00 | 0.00 | 0.00 | 0.00 | 0.00 | 0.00 | 0.00 | 0.00 | 0.00 | XXX
82127 |  | X | Amino acid, single qual | 0.00 | 0.00 | 0.00 | 0.00 | 0.00 | 0.00 | 0.00 | 0.00 | 0.00 | 0.00 | XXX
82128 |  | X | Amino acids, mult qual | 0.00 | 0.00 | 0.00 | 0.00 | 0.00 | 0.00 | 0.00 | 0.00 | 0.00 | 0.00 | XXX
82131 |  | X | Amino acids, single quant | 0.00 | 0.00 | 0.00 | 0.00 | 0.00 | 0.00 | 0.00 | 0.00 | 0.00 | 0.00 | XXX
82135 |  | X | Assay, aminolevulinic acid | 0.00 | 0.00 | 0.00 | 0.00 | 0.00 | 0.00 | 0.00 | 0.00 | 0.00 | 0.00 | XXX
82136 |  | X | Amino acids, quant, 2-5 | 0.00 | 0.00 | 0.00 | 0.00 | 0.00 | 0.00 | 0.00 | 0.00 | 0.00 | 0.00 | XXX
82139 |  | X | Amino acids, quan, 6 or more | 0.00 | 0.00 | 0.00 | 0.00 | 0.00 | 0.00 | 0.00 | 0.00 | 0.00 | 0.00 | XXX
82140 |  | X | Assay of ammonia | 0.00 | 0.00 | 0.00 | 0.00 | 0.00 | 0.00 | 0.00 | 0.00 | 0.00 | 0.00 | XXX
82143 |  | X | Amniotic fluid scan | 0.00 | 0.00 | 0.00 | 0.00 | 0.00 | 0.00 | 0.00 | 0.00 | 0.00 | 0.00 | XXX
82145 |  | X | Assay of amphetamines | 0.00 | 0.00 | 0.00 | 0.00 | 0.00 | 0.00 | 0.00 | 0.00 | 0.00 | 0.00 | XXX
82150 |  | X | Assay of amylase | 0.00 | 0.00 | 0.00 | 0.00 | 0.00 | 0.00 | 0.00 | 0.00 | 0.00 | 0.00 | XXX
82154 |  | X | Androstanediol glucuronide | 0.00 | 0.00 | 0.00 | 0.00 | 0.00 | 0.00 | 0.00 | 0.00 | 0.00 | 0.00 | XXX
82157 |  | X | Assay of androstenedione | 0.00 | 0.00 | 0.00 | 0.00 | 0.00 | 0.00 | 0.00 | 0.00 | 0.00 | 0.00 | XXX
82160 |  | X | Assay of androsterone | 0.00 | 0.00 | 0.00 | 0.00 | 0.00 | 0.00 | 0.00 | 0.00 | 0.00 | 0.00 | XXX
82163 |  | X | Assay of angiotensin II | 0.00 | 0.00 | 0.00 | 0.00 | 0.00 | 0.00 | 0.00 | 0.00 | 0.00 | 0.00 | XXX
82164 |  | X | Angiotensin I enzyme test | 0.00 | 0.00 | 0.00 | 0.00 | 0.00 | 0.00 | 0.00 | 0.00 | 0.00 | 0.00 | XXX
82172 |  | X | Assay of apolipoprotein | 0.00 | 0.00 | 0.00 | 0.00 | 0.00 | 0.00 | 0.00 | 0.00 | 0.00 | 0.00 | XXX
82175 |  | X | Assay of arsenic | 0.00 | 0.00 | 0.00 | 0.00 | 0.00 | 0.00 | 0.00 | 0.00 | 0.00 | 0.00 | XXX
82180 |  | X | Assay of ascorbic acid | 0.00 | 0.00 | 0.00 | 0.00 | 0.00 | 0.00 | 0.00 | 0.00 | 0.00 | 0.00 | XXX
82190 |  | X | Atomic absorption | 0.00 | 0.00 | 0.00 | 0.00 | 0.00 | 0.00 | 0.00 | 0.00 | 0.00 | 0.00 | XXX
82205 |  | X | Assay of barbiturates | 0.00 | 0.00 | 0.00 | 0.00 | 0.00 | 0.00 | 0.00 | 0.00 | 0.00 | 0.00 | XXX
82232 |  | X | Assay of beta-2 protein | 0.00 | 0.00 | 0.00 | 0.00 | 0.00 | 0.00 | 0.00 | 0.00 | 0.00 | 0.00 | XXX
82239 |  | X | Bile acids, total | 0.00 | 0.00 | 0.00 | 0.00 | 0.00 | 0.00 | 0.00 | 0.00 | 0.00 | 0.00 | XXX
82240 |  | X | Bile acids, cholylglycine | 0.00 | 0.00 | 0.00 | 0.00 | 0.00 | 0.00 | 0.00 | 0.00 | 0.00 | 0.00 | XXX
82247 |  | X | Bilirubin, total | 0.00 | 0.00 | 0.00 | 0.00 | 0.00 | 0.00 | 0.00 | 0.00 | 0.00 | 0.00 | XXX
82248 |  | X | Bilirubin, direct | 0.00 | 0.00 | 0.00 | 0.00 | 0.00 | 0.00 | 0.00 | 0.00 | 0.00 | 0.00 | XXX
82251 |  | D | Assay of bilirubin | 0.00 | 0.00 | 0.00 | 0.00 | 0.00 | 0.00 | 0.00 | 0.00 | 0.00 | 0.00 | XXX
82252 |  | X | Fecal bilirubin test | 0.00 | 0.00 | 0.00 | 0.00 | 0.00 | 0.00 | 0.00 | 0.00 | 0.00 | 0.00 | XXX
82261 |  | X | Assay of biotinidase | 0.00 | 0.00 | 0.00 | 0.00 | 0.00 | 0.00 | 0.00 | 0.00 | 0.00 | 0.00 | XXX
82270 |  | X | Test for blood, feces | 0.00 | 0.00 | 0.00 | 0.00 | 0.00 | 0.00 | 0.00 | 0.00 | 0.00 | 0.00 | XXX
82273 |  | X | Test for blood, other source | 0.00 | 0.00 | 0.00 | 0.00 | 0.00 | 0.00 | 0.00 | 0.00 | 0.00 | 0.00 | XXX
82286 |  | X | Assay of bradykinin | 0.00 | 0.00 | 0.00 | 0.00 | 0.00 | 0.00 | 0.00 | 0.00 | 0.00 | 0.00 | XXX
82300 |  | X | Assay of cadmium | 0.00 | 0.00 | 0.00 | 0.00 | 0.00 | 0.00 | 0.00 | 0.00 | 0.00 | 0.00 | XXX
82306 |  | X | Assay of vitamin D | 0.00 | 0.00 | 0.00 | 0.00 | 0.00 | 0.00 | 0.00 | 0.00 | 0.00 | 0.00 | XXX
82307 |  | X | Assay of vitamin D | 0.00 | 0.00 | 0.00 | 0.00 | 0.00 | 0.00 | 0.00 | 0.00 | 0.00 | 0.00 | XXX
82308 |  | X | Assay of calcitonin | 0.00 | 0.00 | 0.00 | 0.00 | 0.00 | 0.00 | 0.00 | 0.00 | 0.00 | 0.00 | XXX
82310 |  | X | Assay of calcium | 0.00 | 0.00 | 0.00 | 0.00 | 0.00 | 0.00 | 0.00 | 0.00 | 0.00 | 0.00 | XXX
82330 |  | X | Assay of calcium | 0.00 | 0.00 | 0.00 | 0.00 | 0.00 | 0.00 | 0.00 | 0.00 | 0.00 | 0.00 | XXX
82331 |  | X | Calcium infusion test | 0.00 | 0.00 | 0.00 | 0.00 | 0.00 | 0.00 | 0.00 | 0.00 | 0.00 | 0.00 | XXX
82340 |  | X | Assay of calcium in urine | 0.00 | 0.00 | 0.00 | 0.00 | 0.00 | 0.00 | 0.00 | 0.00 | 0.00 | 0.00 | XXX
82355 |  | X | Calculus (stone) analysis | 0.00 | 0.00 | 0.00 | 0.00 | 0.00 | 0.00 | 0.00 | 0.00 | 0.00 | 0.00 | XXX
82360 |  | X | Calculus (stone) assay | 0.00 | 0.00 | 0.00 | 0.00 | 0.00 | 0.00 | 0.00 | 0.00 | 0.00 | 0.00 | XXX
82365 |  | X | Calculus (stone) assay | 0.00 | 0.00 | 0.00 | 0.00 | 0.00 | 0.00 | 0.00 | 0.00 | 0.00 | 0.00 | XXX
82370 |  | X | X-ray assay, calculus | 0.00 | 0.00 | 0.00 | 0.00 | 0.00 | 0.00 | 0.00 | 0.00 | 0.00 | 0.00 | XXX
82373 |  | X | Assay, c-d transfer measure | 0.00 | 0.00 | 0.00 | 0.00 | 0.00 | 0.00 | 0.00 | 0.00 | 0.00 | 0.00 | XXX
82374 |  | X | Assay, blood carbon dioxide | 0.00 | 0.00 | 0.00 | 0.00 | 0.00 | 0.00 | 0.00 | 0.00 | 0.00 | 0.00 | XXX
82375 |  | X | Assay, blood carbon monoxide | 0.00 | 0.00 | 0.00 | 0.00 | 0.00 | 0.00 | 0.00 | 0.00 | 0.00 | 0.00 | XXX
82376 |  | X | Test for carbon monoxide | 0.00 | 0.00 | 0.00 | 0.00 | 0.00 | 0.00 | 0.00 | 0.00 | 0.00 | 0.00 | XXX
82378 |  | X | Carcinoembryonic antigen | 0.00 | 0.00 | 0.00 | 0.00 | 0.00 | 0.00 | 0.00 | 0.00 | 0.00 | 0.00 | XXX
82379 |  | X | Assay of carnitine | 0.00 | 0.00 | 0.00 | 0.00 | 0.00 | 0.00 | 0.00 | 0.00 | 0.00 | 0.00 | XXX
82380 |  | X | Assay of carotene | 0.00 | 0.00 | 0.00 | 0.00 | 0.00 | 0.00 | 0.00 | 0.00 | 0.00 | 0.00 | XXX
82382 |  | X | Assay, urine catecholamines | 0.00 | 0.00 | 0.00 | 0.00 | 0.00 | 0.00 | 0.00 | 0.00 | 0.00 | 0.00 | XXX
82383 |  | X | Assay, blood catecholamines | 0.00 | 0.00 | 0.00 | 0.00 | 0.00 | 0.00 | 0.00 | 0.00 | 0.00 | 0.00 | XXX
82384 |  | X | Assay, three catecholamines | 0.00 | 0.00 | 0.00 | 0.00 | 0.00 | 0.00 | 0.00 | 0.00 | 0.00 | 0.00 | XXX
82387 |  | X | Assay of cathepsin-d | 0.00 | 0.00 | 0.00 | 0.00 | 0.00 | 0.00 | 0.00 | 0.00 | 0.00 | 0.00 | XXX
82390 |  | X | Assay of ceruloplasmin | 0.00 | 0.00 | 0.00 | 0.00 | 0.00 | 0.00 | 0.00 | 0.00 | 0.00 | 0.00 | XXX
82397 |  | X | Chemiluminescent assay | 0.00 | 0.00 | 0.00 | 0.00 | 0.00 | 0.00 | 0.00 | 0.00 | 0.00 | 0.00 | XXX
82415 |  | X | Assay of chloramphenicol | 0.00 | 0.00 | 0.00 | 0.00 | 0.00 | 0.00 | 0.00 | 0.00 | 0.00 | 0.00 | XXX
82435 |  | X | Assay of blood chloride | 0.00 | 0.00 | 0.00 | 0.00 | 0.00 | 0.00 | 0.00 | 0.00 | 0.00 | 0.00 | XXX
82436 |  | X | Assay of urine chloride | 0.00 | 0.00 | 0.00 | 0.00 | 0.00 | 0.00 | 0.00 | 0.00 | 0.00 | 0.00 | XXX
82438 |  | X | Assay, other fluid chlorides | 0.00 | 0.00 | 0.00 | 0.00 | 0.00 | 0.00 | 0.00 | 0.00 | 0.00 | 0.00 | XXX
82441 |  | X | Test for chlorohydrocarbons | 0.00 | 0.00 | 0.00 | 0.00 | 0.00 | 0.00 | 0.00 | 0.00 | 0.00 | 0.00 | XXX
82465 |  | X | Assay, bld/serum cholesterol | 0.00 | 0.00 | 0.00 | 0.00 | 0.00 | 0.00 | 0.00 | 0.00 | 0.00 | 0.00 | XXX
82480 |  | X | Assay, serum cholinesterase | 0.00 | 0.00 | 0.00 | 0.00 | 0.00 | 0.00 | 0.00 | 0.00 | 0.00 | 0.00 | XXX
82482 |  | X | Assay, rbc cholinesterase | 0.00 | 0.00 | 0.00 | 0.00 | 0.00 | 0.00 | 0.00 | 0.00 | 0.00 | 0.00 | XXX
82485 |  | X | Assay, chondroitin sulfate | 0.00 | 0.00 | 0.00 | 0.00 | 0.00 | 0.00 | 0.00 | 0.00 | 0.00 | 0.00 | XXX
82486 |  | X | Gas/liquid chromatography | 0.00 | 0.00 | 0.00 | 0.00 | 0.00 | 0.00 | 0.00 | 0.00 | 0.00 | 0.00 | XXX
82487 |  | X | Paper chromatography | 0.00 | 0.00 | 0.00 | 0.00 | 0.00 | 0.00 | 0.00 | 0.00 | 0.00 | 0.00 | XXX
82488 |  | X | Paper chromatography | 0.00 | 0.00 | 0.00 | 0.00 | 0.00 | 0.00 | 0.00 | 0.00 | 0.00 | 0.00 | XXX
82489 |  | X | Thin layer chromatography | 0.00 | 0.00 | 0.00 | 0.00 | 0.00 | 0.00 | 0.00 | 0.00 | 0.00 | 0.00 | XXX
82491 |  | X | Chromotography, quant, sing | 0.00 | 0.00 | 0.00 | 0.00 | 0.00 | 0.00 | 0.00 | 0.00 | 0.00 | 0.00 | XXX
82492 |  | X | Chromotography, quant, mult | 0.00 | 0.00 | 0.00 | 0.00 | 0.00 | 0.00 | 0.00 | 0.00 | 0.00 | 0.00 | XXX
82495 |  | X | Assay of chromium | 0.00 | 0.00 | 0.00 | 0.00 | 0.00 | 0.00 | 0.00 | 0.00 | 0.00 | 0.00 | XXX
82507 |  | X | Assay of citrate | 0.00 | 0.00 | 0.00 | 0.00 | 0.00 | 0.00 | 0.00 | 0.00 | 0.00 | 0.00 | XXX
82520 |  | X | Assay of cocaine | 0.00 | 0.00 | 0.00 | 0.00 | 0.00 | 0.00 | 0.00 | 0.00 | 0.00 | 0.00 | XXX
82523 |  | X | Collagen crosslinks | 0.00 | 0.00 | 0.00 | 0.00 | 0.00 | 0.00 | 0.00 | 0.00 | 0.00 | 0.00 | XXX
82525 |  | X | Assay of copper | 0.00 | 0.00 | 0.00 | 0.00 | 0.00 | 0.00 | 0.00 | 0.00 | 0.00 | 0.00 | XXX
82528 |  | X | Assay of corticosterone | 0.00 | 0.00 | 0.00 | 0.00 | 0.00 | 0.00 | 0.00 | 0.00 | 0.00 | 0.00 | XXX
82530 |  | X | Cortisol, free | 0.00 | 0.00 | 0.00 | 0.00 | 0.00 | 0.00 | 0.00 | 0.00 | 0.00 | 0.00 | XXX
82533 |  | X | Total cortisol | 0.00 | 0.00 | 0.00 | 0.00 | 0.00 | 0.00 | 0.00 | 0.00 | 0.00 | 0.00 | XXX
82540 |  | X | Assay of creatine | 0.00 | 0.00 | 0.00 | 0.00 | 0.00 | 0.00 | 0.00 | 0.00 | 0.00 | 0.00 | XXX
82541 |  | X | Column chromotography, qual | 0.00 | 0.00 | 0.00 | 0.00 | 0.00 | 0.00 | 0.00 | 0.00 | 0.00 | 0.00 | XXX
82542 |  | X | Column chromotography, quant | 0.00 | 0.00 | 0.00 | 0.00 | 0.00 | 0.00 | 0.00 | 0.00 | 0.00 | 0.00 | XXX
82543 |  | X | Column chromotograph/isotope | 0.00 | 0.00 | 0.00 | 0.00 | 0.00 | 0.00 | 0.00 | 0.00 | 0.00 | 0.00 | XXX
82544 |  | X | Column chromotograph/isotope | 0.00 | 0.00 | 0.00 | 0.00 | 0.00 | 0.00 | 0.00 | 0.00 | 0.00 | 0.00 | XXX
82550 |  | X | Assay of ck (cpk) | 0.00 | 0.00 | 0.00 | 0.00 | 0.00 | 0.00 | 0.00 | 0.00 | 0.00 | 0.00 | XXX
82552 |  | X | Assay of cpk in blood | 0.00 | 0.00 | 0.00 | 0.00 | 0.00 | 0.00 | 0.00 | 0.00 | 0.00 | 0.00 | XXX
82553 |  | X | Creatine, MB fraction | 0.00 | 0.00 | 0.00 | 0.00 | 0.00 | 0.00 | 0.00 | 0.00 | 0.00 | 0.00 | XXX
82554 |  | X | Creatine, isoforms | 0.00 | 0.00 | 0.00 | 0.00 | 0.00 | 0.00 | 0.00 | 0.00 | 0.00 | 0.00 | XXX
82565 |  | X | Assay of creatinine | 0.00 | 0.00 | 0.00 | 0.00 | 0.00 | 0.00 | 0.00 | 0.00 | 0.00 | 0.00 | XXX
82570 |  | X | Assay of urine creatinine | 0.00 | 0.00 | 0.00 | 0.00 | 0.00 | 0.00 | 0.00 | 0.00 | 0.00 | 0.00 | XXX
82575 |  | X | Creatinine clearance test | 0.00 | 0.00 | 0.00 | 0.00 | 0.00 | 0.00 | 0.00 | 0.00 | 0.00 | 0.00 | XXX
82585 |  | X | Assay of cryofibrinogen | 0.00 | 0.00 | 0.00 | 0.00 | 0.00 | 0.00 | 0.00 | 0.00 | 0.00 | 0.00 | XXX
82595 |  | X | Assay of cryoglobulin | 0.00 | 0.00 | 0.00 | 0.00 | 0.00 | 0.00 | 0.00 | 0.00 | 0.00 | 0.00 | XXX
82600 |  | X | Assay of cyanide | 0.00 | 0.00 | 0.00 | 0.00 | 0.00 | 0.00 | 0.00 | 0.00 | 0.00 | 0.00 | XXX
82607 |  | X | Vitamin B-12 | 0.00 | 0.00 | 0.00 | 0.00 | 0.00 | 0.00 | 0.00 | 0.00 | 0.00 | 0.00 | XXX
82608 |  | X | B-12 binding capacity | 0.00 | 0.00 | 0.00 | 0.00 | 0.00 | 0.00 | 0.00 | 0.00 | 0.00 | 0.00 | XXX
82615 |  | X | Test for urine cystines | 0.00 | 0.00 | 0.00 | 0.00 | 0.00 | 0.00 | 0.00 | 0.00 | 0.00 | 0.00 | XXX
82626 |  | X | Dehydroepiandrosterone | 0.00 | 0.00 | 0.00 | 0.00 | 0.00 | 0.00 | 0.00 | 0.00 | 0.00 | 0.00 | XXX
82627 |  | X | Dehydroepiandrosterone | 0.00 | 0.00 | 0.00 | 0.00 | 0.00 | 0.00 | 0.00 | 0.00 | 0.00 | 0.00 | XXX
82633 |  | X | Desoxycorticosterone | 0.00 | 0.00 | 0.00 | 0.00 | 0.00 | 0.00 | 0.00 | 0.00 | 0.00 | 0.00 | XXX
82634 |  | X | Deoxycortisol | 0.00 | 0.00 | 0.00 | 0.00 | 0.00 | 0.00 | 0.00 | 0.00 | 0.00 | 0.00 | XXX
82638 |  | X | Assay of dibucaine number | 0.00 | 0.00 | 0.00 | 0.00 | 0.00 | 0.00 | 0.00 | 0.00 | 0.00 | 0.00 | XXX
82646 |  | X | Assay of dihydrocodeinone | 0.00 | 0.00 | 0.00 | 0.00 | 0.00 | 0.00 | 0.00 | 0.00 | 0.00 | 0.00 | XXX
82649 |  | X | Assay of dihydromorphinone | 0.00 | 0.00 | 0.00 | 0.00 | 0.00 | 0.00 | 0.00 | 0.00 | 0.00 | 0.00 | XXX
82651 |  | X | Assay of dihydrotestosterone | 0.00 | 0.00 | 0.00 | 0.00 | 0.00 | 0.00 | 0.00 | 0.00 | 0.00 | 0.00 | XXX
82652 |  | X | Assay of dihydroxyvitamin d | 0.00 | 0.00 | 0.00 | 0.00 | 0.00 | 0.00 | 0.00 | 0.00 | 0.00 | 0.00 | XXX
82654 |  | X | Assay of dimethadione | 0.00 | 0.00 | 0.00 | 0.00 | 0.00 | 0.00 | 0.00 | 0.00 | 0.00 | 0.00 | XXX
82657 |  | X | Enzyme cell activity | 0.00 | 0.00 | 0.00 | 0.00 | 0.00 | 0.00 | 0.00 | 0.00 | 0.00 | 0.00 | XXX
82658 |  | X | Enzyme cell activity, ra | 0.00 | 0.00 | 0.00 | 0.00 | 0.00 | 0.00 | 0.00 | 0.00 | 0.00 | 0.00 | XXX
82664 |  | X | Electrophoretic test | 0.00 | 0.00 | 0.00 | 0.00 | 0.00 | 0.00 | 0.00 | 0.00 | 0.00 | 0.00 | XXX
82666 |  | X | Assay of epiandrosterone | 0.00 | 0.00 | 0.00 | 0.00 | 0.00 | 0.00 | 0.00 | 0.00 | 0.00 | 0.00 | XXX
82668 |  | X | Assay of erythropoietin | 0.00 | 0.00 | 0.00 | 0.00 | 0.00 | 0.00 | 0.00 | 0.00 | 0.00 | 0.00 | XXX
82670 |  | X | Assay of estradiol | 0.00 | 0.00 | 0.00 | 0.00 | 0.00 | 0.00 | 0.00 | 0.00 | 0.00 | 0.00 | XXX
82671 |  | X | Assay of estrogens | 0.00 | 0.00 | 0.00 | 0.00 | 0.00 | 0.00 | 0.00 | 0.00 | 0.00 | 0.00 | XXX
82672 |  | X | Assay of estrogen | 0.00 | 0.00 | 0.00 | 0.00 | 0.00 | 0.00 | 0.00 | 0.00 | 0.00 | 0.00 | XXX
82677 |  | X | Assay of estriol | 0.00 | 0.00 | 0.00 | 0.00 | 0.00 | 0.00 | 0.00 | 0.00 | 0.00 | 0.00 | XXX
82679 |  | X | Assay of estrone | 0.00 | 0.00 | 0.00 | 0.00 | 0.00 | 0.00 | 0.00 | 0.00 | 0.00 | 0.00 | XXX
82690 |  | X | Assay of ethchlorvynol | 0.00 | 0.00 | 0.00 | 0.00 | 0.00 | 0.00 | 0.00 | 0.00 | 0.00 | 0.00 | XXX
82693 |  | X | Assay of ethylene glycol | 0.00 | 0.00 | 0.00 | 0.00 | 0.00 | 0.00 | 0.00 | 0.00 | 0.00 | 0.00 | XXX
82696 |  | X | Assay of etiocholanolone | 0.00 | 0.00 | 0.00 | 0.00 | 0.00 | 0.00 | 0.00 | 0.00 | 0.00 | 0.00 | XXX
82705 |  | X | Fats/lipids, feces, qual | 0.00 | 0.00 | 0.00 | 0.00 | 0.00 | 0.00 | 0.00 | 0.00 | 0.00 | 0.00 | XXX
82710 |  | X | Fats/lipids, feces, quant | 0.00 | 0.00 | 0.00 | 0.00 | 0.00 | 0.00 | 0.00 | 0.00 | 0.00 | 0.00 | XXX
82715 |  | X | Assay of fecal fat | 0.00 | 0.00 | 0.00 | 0.00 | 0.00 | 0.00 | 0.00 | 0.00 | 0.00 | 0.00 | XXX
82725 |  | X | Assay of blood fatty acids | 0.00 | 0.00 | 0.00 | 0.00 | 0.00 | 0.00 | 0.00 | 0.00 | 0.00 | 0.00 | XXX
82726 |  | X | Long chain fatty acids | 0.00 | 0.00 | 0.00 | 0.00 | 0.00 | 0.00 | 0.00 | 0.00 | 0.00 | 0.00 | XXX
82728 |  | X | Assay of ferritin | 0.00 | 0.00 | 0.00 | 0.00 | 0.00 | 0.00 | 0.00 | 0.00 | 0.00 | 0.00 | XXX
82731 |  | X | Assay of fetal fibronectin | 0.00 | 0.00 | 0.00 | 0.00 | 0.00 | 0.00 | 0.00 | 0.00 | 0.00 | 0.00 | XXX
82735 |  | X | Assay of fluoride | 0.00 | 0.00 | 0.00 | 0.00 | 0.00 | 0.00 | 0.00 | 0.00 | 0.00 | 0.00 | XXX
82742 |  | X | Assay of flurazepam | 0.00 | 0.00 | 0.00 | 0.00 | 0.00 | 0.00 | 0.00 | 0.00 | 0.00 | 0.00 | XXX
82746 |  | X | Blood folic acid serum | 0.00 | 0.00 | 0.00 | 0.00 | 0.00 | 0.00 | 0.00 | 0.00 | 0.00 | 0.00 | XXX
82747 |  | X | Assay of folic acid, rbc | 0.00 | 0.00 | 0.00 | 0.00 | 0.00 | 0.00 | 0.00 | 0.00 | 0.00 | 0.00 | XXX
82757 |  | X | Assay of semen fructose | 0.00 | 0.00 | 0.00 | 0.00 | 0.00 | 0.00 | 0.00 | 0.00 | 0.00 | 0.00 | XXX
82759 |  | X | Assay of rbc galactokinase | 0.00 | 0.00 | 0.00 | 0.00 | 0.00 | 0.00 | 0.00 | 0.00 | 0.00 | 0.00 | XXX
82760 |  | X | Assay of galactose | 0.00 | 0.00 | 0.00 | 0.00 | 0.00 | 0.00 | 0.00 | 0.00 | 0.00 | 0.00 | XXX
82775 |  | X | Assay galactose transferase | 0.00 | 0.00 | 0.00 | 0.00 | 0.00 | 0.00 | 0.00 | 0.00 | 0.00 | 0.00 | XXX
82776 |  | X | Galactose transferase test | 0.00 | 0.00 | 0.00 | 0.00 | 0.00 | 0.00 | 0.00 | 0.00 | 0.00 | 0.00 | XXX
82784 |  | X | Assay of gammaglobulin igm | 0.00 | 0.00 | 0.00 | 0.00 | 0.00 | 0.00 | 0.00 | 0.00 | 0.00 | 0.00 | XXX
82785 |  | X | Assay of gammaglobulin ige | 0.00 | 0.00 | 0.00 | 0.00 | 0.00 | 0.00 | 0.00 | 0.00 | 0.00 | 0.00 | XXX
82787 |  | X | Igg 1, 2, 3 or 4, each | 0.00 | 0.00 | 0.00 | 0.00 | 0.00 | 0.00 | 0.00 | 0.00 | 0.00 | 0.00 | XXX
82800 |  | X | Blood pH | 0.00 | 0.00 | 0.00 | 0.00 | 0.00 | 0.00 | 0.00 | 0.00 | 0.00 | 0.00 | XXX
82803 |  | X | Blood gases: pH, pO2 & pCO2 | 0.00 | 0.00 | 0.00 | 0.00 | 0.00 | 0.00 | 0.00 | 0.00 | 0.00 | 0.00 | XXX
82805 |  | X | Blood gases W/02 saturation | 0.00 | 0.00 | 0.00 | 0.00 | 0.00 | 0.00 | 0.00 | 0.00 | 0.00 | 0.00 | XXX
82810 |  | X | Blood gases, O2 sat only | 0.00 | 0.00 | 0.00 | 0.00 | 0.00 | 0.00 | 0.00 | 0.00 | 0.00 | 0.00 | XXX
82820 |  | X | Hemoglobin-oxygen affinity | 0.00 | 0.00 | 0.00 | 0.00 | 0.00 | 0.00 | 0.00 | 0.00 | 0.00 | 0.00 | XXX
82926 |  | X | Assay of gastric acid | 0.00 | 0.00 | 0.00 | 0.00 | 0.00 | 0.00 | 0.00 | 0.00 | 0.00 | 0.00 | XXX
82928 |  | X | Assay of gastric acid | 0.00 | 0.00 | 0.00 | 0.00 | 0.00 | 0.00 | 0.00 | 0.00 | 0.00 | 0.00 | XXX
82938 |  | X | Gastrin test | 0.00 | 0.00 | 0.00 | 0.00 | 0.00 | 0.00 | 0.00 | 0.00 | 0.00 | 0.00 | XXX
82941 |  | X | Assay of gastrin | 0.00 | 0.00 | 0.00 | 0.00 | 0.00 | 0.00 | 0.00 | 0.00 | 0.00 | 0.00 | XXX
82943 |  | X | Assay of glucagon | 0.00 | 0.00 | 0.00 | 0.00 | 0.00 | 0.00 | 0.00 | 0.00 | 0.00 | 0.00 | XXX
82945 |  | X | Glucose other fluid | 0.00 | 0.00 | 0.00 | 0.00 | 0.00 | 0.00 | 0.00 | 0.00 | 0.00 | 0.00 | XXX
82946 |  | X | Glucagon tolerance test | 0.00 | 0.00 | 0.00 | 0.00 | 0.00 | 0.00 | 0.00 | 0.00 | 0.00 | 0.00 | XXX
82947 |  | X | Assay, glucose, blood quant | 0.00 | 0.00 | 0.00 | 0.00 | 0.00 | 0.00 | 0.00 | 0.00 | 0.00 | 0.00 | XXX
82948 |  | X | Reagent strip/blood glucose | 0.00 | 0.00 | 0.00 | 0.00 | 0.00 | 0.00 | 0.00 | 0.00 | 0.00 | 0.00 | XXX
82950 |  | X | Glucose test | 0.00 | 0.00 | 0.00 | 0.00 | 0.00 | 0.00 | 0.00 | 0.00 | 0.00 | 0.00 | XXX
82951 |  | X | Glucose tolerance test (GTT) | 0.00 | 0.00 | 0.00 | 0.00 | 0.00 | 0.00 | 0.00 | 0.00 | 0.00 | 0.00 | XXX
82952 |  | X | GTT-added samples | 0.00 | 0.00 | 0.00 | 0.00 | 0.00 | 0.00 | 0.00 | 0.00 | 0.00 | 0.00 | XXX
82953 |  | X | Glucose-tolbutamide test | 0.00 | 0.00 | 0.00 | 0.00 | 0.00 | 0.00 | 0.00 | 0.00 | 0.00 | 0.00 | XXX
82955 |  | X | Assay of g6pd enzyme | 0.00 | 0.00 | 0.00 | 0.00 | 0.00 | 0.00 | 0.00 | 0.00 | 0.00 | 0.00 | XXX
82960 |  | X | Test for G6PD enzyme | 0.00 | 0.00 | 0.00 | 0.00 | 0.00 | 0.00 | 0.00 | 0.00 | 0.00 | 0.00 | XXX
82962 |  | X | Glucose blood test | 0.00 | 0.00 | 0.00 | 0.00 | 0.00 | 0.00 | 0.00 | 0.00 | 0.00 | 0.00 | XXX
82963 |  | X | Assay of glucosidase | 0.00 | 0.00 | 0.00 | 0.00 | 0.00 | 0.00 | 0.00 | 0.00 | 0.00 | 0.00 | XXX
82965 |  | X | Assay of gdh enzyme | 0.00 | 0.00 | 0.00 | 0.00 | 0.00 | 0.00 | 0.00 | 0.00 | 0.00 | 0.00 | XXX
82975 |  | X | Assay of glutamine | 0.00 | 0.00 | 0.00 | 0.00 | 0.00 | 0.00 | 0.00 | 0.00 | 0.00 | 0.00 | XXX
82977 |  | X | Assay of GGT | 0.00 | 0.00 | 0.00 | 0.00 | 0.00 | 0.00 | 0.00 | 0.00 | 0.00 | 0.00 | XXX
82978 |  | X | Assay of glutathione | 0.00 | 0.00 | 0.00 | 0.00 | 0.00 | 0.00 | 0.00 | 0.00 | 0.00 | 0.00 | XXX
82979 |  | X | Assay, rbc glutathione | 0.00 | 0.00 | 0.00 | 0.00 | 0.00 | 0.00 | 0.00 | 0.00 | 0.00 | 0.00 | XXX
82980 |  | X | Assay of glutethimide | 0.00 | 0.00 | 0.00 | 0.00 | 0.00 | 0.00 | 0.00 | 0.00 | 0.00 | 0.00 | XXX
82985 |  | X | Glycated protein | 0.00 | 0.00 | 0.00 | 0.00 | 0.00 | 0.00 | 0.00 | 0.00 | 0.00 | 0.00 | XXX
83001 |  | X | Gonadotropin (FSH) | 0.00 | 0.00 | 0.00 | 0.00 | 0.00 | 0.00 | 0.00 | 0.00 | 0.00 | 0.00 | XXX
83002 |  | X | Gonadotropin (LH) | 0.00 | 0.00 | 0.00 | 0.00 | 0.00 | 0.00 | 0.00 | 0.00 | 0.00 | 0.00 | XXX
83003 |  | X | Assay, growth hormone (hgh) | 0.00 | 0.00 | 0.00 | 0.00 | 0.00 | 0.00 | 0.00 | 0.00 | 0.00 | 0.00 | XXX
83008 |  | X | Assay of guanosine | 0.00 | 0.00 | 0.00 | 0.00 | 0.00 | 0.00 | 0.00 | 0.00 | 0.00 | 0.00 | XXX
83010 |  | X | Assay of haptoglobin, quant | 0.00 | 0.00 | 0.00 | 0.00 | 0.00 | 0.00 | 0.00 | 0.00 | 0.00 | 0.00 | XXX
83012 |  | X | Assay of haptoglobins | 0.00 | 0.00 | 0.00 | 0.00 | 0.00 | 0.00 | 0.00 | 0.00 | 0.00 | 0.00 | XXX
83013 |  | X | H pylori analysis | 0.00 | 0.00 | 0.00 | 0.00 | 0.00 | 0.00 | 0.00 | 0.00 | 0.00 | 0.00 | XXX
83014 |  | X | H pylori drug admin/collect | 0.00 | 0.00 | 0.00 | 0.00 | 0.00 | 0.00 | 0.00 | 0.00 | 0.00 | 0.00 | XXX
83015 |  | X | Heavy metal screen | 0.00 | 0.00 | 0.00 | 0.00 | 0.00 | 0.00 | 0.00 | 0.00 | 0.00 | 0.00 | XXX
83018 |  | X | Quantitative screen, metals | 0.00 | 0.00 | 0.00 | 0.00 | 0.00 | 0.00 | 0.00 | 0.00 | 0.00 | 0.00 | XXX
83020 |  | X | Hemoglobin electrophoresis | 0.00 | 0.00 | 0.00 | 0.00 | 0.00 | 0.00 | 0.00 | 0.00 | 0.00 | 0.00 | XXX
83020 | 26 | A | Hemoglobin electrophoresis | 0.37 | 0.16 | 0.18 | 0.16 | 0.18 | 0.01 | 0.54 | 0.56 | 0.54 | 0.56 | XXX
83021 |  | X | Hemoglobin chromotography | 0.00 | 0.00 | 0.00 | 0.00 | 0.00 | 0.00 | 0.00 | 0.00 | 0.00 | 0.00 | XXX
83026 |  | X | Hemoglobin, copper sulfate | 0.00 | 0.00 | 0.00 | 0.00 | 0.00 | 0.00 | 0.00 | 0.00 | 0.00 | 0.00 | XXX
83030 |  | X | Fetal hemoglobin, chemical | 0.00 | 0.00 | 0.00 | 0.00 | 0.00 | 0.00 | 0.00 | 0.00 | 0.00 | 0.00 | XXX
83033 |  | X | Fetal hemoglobin assay, qual | 0.00 | 0.00 | 0.00 | 0.00 | 0.00 | 0.00 | 0.00 | 0.00 | 0.00 | 0.00 | XXX
83036 |  | X | Glycated hemoglobin test | 0.00 | 0.00 | 0.00 | 0.00 | 0.00 | 0.00 | 0.00 | 0.00 | 0.00 | 0.00 | XXX
83045 |  | X | Blood methemoglobin test | 0.00 | 0.00 | 0.00 | 0.00 | 0.00 | 0.00 | 0.00 | 0.00 | 0.00 | 0.00 | XXX
83050 |  | X | Blood methemoglobin assay | 0.00 | 0.00 | 0.00 | 0.00 | 0.00 | 0.00 | 0.00 | 0.00 | 0.00 | 0.00 | XXX
83051 |  | X | Assay of plasma hemoglobin | 0.00 | 0.00 | 0.00 | 0.00 | 0.00 | 0.00 | 0.00 | 0.00 | 0.00 | 0.00 | XXX
83055 |  | X | Blood sulfhemoglobin test | 0.00 | 0.00 | 0.00 | 0.00 | 0.00 | 0.00 | 0.00 | 0.00 | 0.00 | 0.00 | XXX
83060 |  | X | Blood sulfhemoglobin assay | 0.00 | 0.00 | 0.00 | 0.00 | 0.00 | 0.00 | 0.00 | 0.00 | 0.00 | 0.00 | XXX
83065 |  | X | Assay of hemoglobin heat | 0.00 | 0.00 | 0.00 | 0.00 | 0.00 | 0.00 | 0.00 | 0.00 | 0.00 | 0.00 | XXX
83068 |  | X | Hemoglobin stability screen | 0.00 | 0.00 | 0.00 | 0.00 | 0.00 | 0.00 | 0.00 | 0.00 | 0.00 | 0.00 | XXX
83069 |  | X | Assay of urine hemoglobin | 0.00 | 0.00 | 0.00 | 0.00 | 0.00 | 0.00 | 0.00 | 0.00 | 0.00 | 0.00 | XXX
83070 |  | X | Assay of hemosiderin, qual | 0.00 | 0.00 | 0.00 | 0.00 | 0.00 | 0.00 | 0.00 | 0.00 | 0.00 | 0.00 | XXX
83071 |  | X | Assay of hemosiderin, quant | 0.00 | 0.00 | 0.00 | 0.00 | 0.00 | 0.00 | 0.00 | 0.00 | 0.00 | 0.00 | XXX
83080 |  | X | Assay of b hexosaminidase | 0.00 | 0.00 | 0.00 | 0.00 | 0.00 | 0.00 | 0.00 | 0.00 | 0.00 | 0.00 | XXX
83088 |  | X | Assay of histamine | 0.00 | 0.00 | 0.00 | 0.00 | 0.00 | 0.00 | 0.00 | 0.00 | 0.00 | 0.00 | XXX
83090 |  | X | Assay of homocystine | 0.00 | 0.00 | 0.00 | 0.00 | 0.00 | 0.00 | 0.00 | 0.00 | 0.00 | 0.00 | XXX
83150 |  | X | Assay of for hva | 0.00 | 0.00 | 0.00 | 0.00 | 0.00 | 0.00 | 0.00 | 0.00 | 0.00 | 0.00 | XXX
83491 |  | X | Assay of corticosteroids | 0.00 | 0.00 | 0.00 | 0.00 | 0.00 | 0.00 | 0.00 | 0.00 | 0.00 | 0.00 | XXX
83497 |  | X | Assay of 5-hiaa | 0.00 | 0.00 | 0.00 | 0.00 | 0.00 | 0.00 | 0.00 | 0.00 | 0.00 | 0.00 | XXX
83498 |  | X | Assay of progesterone | 0.00 | 0.00 | 0.00 | 0.00 | 0.00 | 0.00 | 0.00 | 0.00 | 0.00 | 0.00 | XXX
83499 |  | X | Assay of progesterone | 0.00 | 0.00 | 0.00 | 0.00 | 0.00 | 0.00 | 0.00 | 0.00 | 0.00 | 0.00 | XXX
83500 |  | X | Assay, free hydroxyproline | 0.00 | 0.00 | 0.00 | 0.00 | 0.00 | 0.00 | 0.00 | 0.00 | 0.00 | 0.00 | XXX
83505 |  | X | Assay, total hydroxyproline | 0.00 | 0.00 | 0.00 | 0.00 | 0.00 | 0.00 | 0.00 | 0.00 | 0.00 | 0.00 | XXX
83516 |  | X | Immunoassay, nonantibody | 0.00 | 0.00 | 0.00 | 0.00 | 0.00 | 0.00 | 0.00 | 0.00 | 0.00 | 0.00 | XXX
83518 |  | X | Immunoassay, dipstick | 0.00 | 0.00 | 0.00 | 0.00 | 0.00 | 0.00 | 0.00 | 0.00 | 0.00 | 0.00 | XXX
83519 |  | X | Immunoassay, nonantibody | 0.00 | 0.00 | 0.00 | 0.00 | 0.00 | 0.00 | 0.00 | 0.00 | 0.00 | 0.00 | XXX
83520 |  | X | Immunoassay, RIA | 0.00 | 0.00 | 0.00 | 0.00 | 0.00 | 0.00 | 0.00 | 0.00 | 0.00 | 0.00 | XXX
83525 |  | X | Assay of insulin | 0.00 | 0.00 | 0.00 | 0.00 | 0.00 | 0.00 | 0.00 | 0.00 | 0.00 | 0.00 | XXX
83527 |  | X | Assay of insulin | 0.00 | 0.00 | 0.00 | 0.00 | 0.00 | 0.00 | 0.00 | 0.00 | 0.00 | 0.00 | XXX
83528 |  | X | Assay of intrinsic factor | 0.00 | 0.00 | 0.00 | 0.00 | 0.00 | 0.00 | 0.00 | 0.00 | 0.00 | 0.00 | XXX
83540 |  | X | Assay of iron | 0.00 | 0.00 | 0.00 | 0.00 | 0.00 | 0.00 | 0.00 | 0.00 | 0.00 | 0.00 | XXX
83550 |  | X | Iron binding test | 0.00 | 0.00 | 0.00 | 0.00 | 0.00 | 0.00 | 0.00 | 0.00 | 0.00 | 0.00 | XXX
83570 |  | X | Assay of idh enzyme | 0.00 | 0.00 | 0.00 | 0.00 | 0.00 | 0.00 | 0.00 | 0.00 | 0.00 | 0.00 | XXX
83582 |  | X | Assay of ketogenic steroids | 0.00 | 0.00 | 0.00 | 0.00 | 0.00 | 0.00 | 0.00 | 0.00 | 0.00 | 0.00 | XXX
83586 |  | X | Assay 17- ketosteroids | 0.00 | 0.00 | 0.00 | 0.00 | 0.00 | 0.00 | 0.00 | 0.00 | 0.00 | 0.00 | XXX
83593 |  | X | Fractionation, ketosteroids | 0.00 | 0.00 | 0.00 | 0.00 | 0.00 | 0.00 | 0.00 | 0.00 | 0.00 | 0.00 | XXX
83605 |  | X | Assay of lactic acid | 0.00 | 0.00 | 0.00 | 0.00 | 0.00 | 0.00 | 0.00 | 0.00 | 0.00 | 0.00 | XXX
83615 |  | X | Lactate (LD) (LDH) enzyme | 0.00 | 0.00 | 0.00 | 0.00 | 0.00 | 0.00 | 0.00 | 0.00 | 0.00 | 0.00 | XXX
83625 |  | X | Assay of ldh enzymes | 0.00 | 0.00 | 0.00 | 0.00 | 0.00 | 0.00 | 0.00 | 0.00 | 0.00 | 0.00 | XXX
83632 |  | X | Placental lactogen | 0.00 | 0.00 | 0.00 | 0.00 | 0.00 | 0.00 | 0.00 | 0.00 | 0.00 | 0.00 | XXX
83633 |  | X | Test urine for lactose | 0.00 | 0.00 | 0.00 | 0.00 | 0.00 | 0.00 | 0.00 | 0.00 | 0.00 | 0.00 | XXX
83634 |  | X | Assay of urine for lactose | 0.00 | 0.00 | 0.00 | 0.00 | 0.00 | 0.00 | 0.00 | 0.00 | 0.00 | 0.00 | XXX
83655 |  | X | Assay of lead | 0.00 | 0.00 | 0.00 | 0.00 | 0.00 | 0.00 | 0.00 | 0.00 | 0.00 | 0.00 | XXX
83661 |  | X | L/s ratio, fetal lung | 0.00 | 0.00 | 0.00 | 0.00 | 0.00 | 0.00 | 0.00 | 0.00 | 0.00 | 0.00 | XXX
83662 |  | X | Foam stability, fetal lung | 0.00 | 0.00 | 0.00 | 0.00 | 0.00 | 0.00 | 0.00 | 0.00 | 0.00 | 0.00 | XXX
83663 |  | X | Fluoro polarize, fetal lung | 0.00 | 0.00 | 0.00 | 0.00 | 0.00 | 0.00 | 0.00 | 0.00 | 0.00 | 0.00 | XXX
83664 |  | X | Lamellar bdy, fetal lung | 0.00 | 0.00 | 0.00 | 0.00 | 0.00 | 0.00 | 0.00 | 0.00 | 0.00 | 0.00 | XXX
83670 |  | X | Assay of lap enzyme | 0.00 | 0.00 | 0.00 | 0.00 | 0.00 | 0.00 | 0.00 | 0.00 | 0.00 | 0.00 | XXX
83690 |  | X | Assay of lipase | 0.00 | 0.00 | 0.00 | 0.00 | 0.00 | 0.00 | 0.00 | 0.00 | 0.00 | 0.00 | XXX
83715 |  | X | Assay of blood lipoproteins | 0.00 | 0.00 | 0.00 | 0.00 | 0.00 | 0.00 | 0.00 | 0.00 | 0.00 | 0.00 | XXX
83716 |  | X | Assay of blood lipoproteins | 0.00 | 0.00 | 0.00 | 0.00 | 0.00 | 0.00 | 0.00 | 0.00 | 0.00 | 0.00 | XXX
83718 |  | X | Assay of lipoprotein | 0.00 | 0.00 | 0.00 | 0.00 | 0.00 | 0.00 | 0.00 | 0.00 | 0.00 | 0.00 | XXX
83719 |  | X | Assay of blood lipoprotein | 0.00 | 0.00 | 0.00 | 0.00 | 0.00 | 0.00 | 0.00 | 0.00 | 0.00 | 0.00 | XXX
83721 |  | X | Assay of blood lipoprotein | 0.00 | 0.00 | 0.00 | 0.00 | 0.00 | 0.00 | 0.00 | 0.00 | 0.00 | 0.00 | XXX
83727 |  | X | Assay of lrh hormone | 0.00 | 0.00 | 0.00 | 0.00 | 0.00 | 0.00 | 0.00 | 0.00 | 0.00 | 0.00 | XXX
83735 |  | X | Assay of magnesium | 0.00 | 0.00 | 0.00 | 0.00 | 0.00 | 0.00 | 0.00 | 0.00 | 0.00 | 0.00 | XXX
83775 |  | X | Assay of md enzyme | 0.00 | 0.00 | 0.00 | 0.00 | 0.00 | 0.00 | 0.00 | 0.00 | 0.00 | 0.00 | XXX
83785 |  | X | Assay of manganese | 0.00 | 0.00 | 0.00 | 0.00 | 0.00 | 0.00 | 0.00 | 0.00 | 0.00 | 0.00 | XXX
83788 |  | X | Mass spectrometry qual | 0.00 | 0.00 | 0.00 | 0.00 | 0.00 | 0.00 | 0.00 | 0.00 | 0.00 | 0.00 | XXX
83789 |  | X | Mass spectrometry quant | 0.00 | 0.00 | 0.00 | 0.00 | 0.00 | 0.00 | 0.00 | 0.00 | 0.00 | 0.00 | XXX
83805 |  | X | Assay of meprobamate | 0.00 | 0.00 | 0.00 | 0.00 | 0.00 | 0.00 | 0.00 | 0.00 | 0.00 | 0.00 | XXX
83825 |  | X | Assay of mercury | 0.00 | 0.00 | 0.00 | 0.00 | 0.00 | 0.00 | 0.00 | 0.00 | 0.00 | 0.00 | XXX
83835 |  | X | Assay of metanephrines | 0.00 | 0.00 | 0.00 | 0.00 | 0.00 | 0.00 | 0.00 | 0.00 | 0.00 | 0.00 | XXX
83840 |  | X | Assay of methadone | 0.00 | 0.00 | 0.00 | 0.00 | 0.00 | 0.00 | 0.00 | 0.00 | 0.00 | 0.00 | XXX
83857 |  | X | Assay of methemalbumin | 0.00 | 0.00 | 0.00 | 0.00 | 0.00 | 0.00 | 0.00 | 0.00 | 0.00 | 0.00 | XXX
83858 |  | X | Assay of methsuximide | 0.00 | 0.00 | 0.00 | 0.00 | 0.00 | 0.00 | 0.00 | 0.00 | 0.00 | 0.00 | XXX
83864 |  | X | Mucopolysaccharides | 0.00 | 0.00 | 0.00 | 0.00 | 0.00 | 0.00 | 0.00 | 0.00 | 0.00 | 0.00 | XXX
83866 |  | X | Mucopolysaccharides screen | 0.00 | 0.00 | 0.00 | 0.00 | 0.00 | 0.00 | 0.00 | 0.00 | 0.00 | 0.00 | XXX
83872 |  | X | Assay synovial fluid mucin | 0.00 | 0.00 | 0.00 | 0.00 | 0.00 | 0.00 | 0.00 | 0.00 | 0.00 | 0.00 | XXX
83873 |  | X | Assay of csf protein | 0.00 | 0.00 | 0.00 | 0.00 | 0.00 | 0.00 | 0.00 | 0.00 | 0.00 | 0.00 | XXX
83874 |  | X | Assay of myoglobin | 0.00 | 0.00 | 0.00 | 0.00 | 0.00 | 0.00 | 0.00 | 0.00 | 0.00 | 0.00 | XXX
83883 |  | X | Assay, nephelometry not spec | 0.00 | 0.00 | 0.00 | 0.00 | 0.00 | 0.00 | 0.00 | 0.00 | 0.00 | 0.00 | XXX
83885 |  | X | Assay of nickel | 0.00 | 0.00 | 0.00 | 0.00 | 0.00 | 0.00 | 0.00 | 0.00 | 0.00 | 0.00 | XXX
83887 |  | X | Assay of nicotine | 0.00 | 0.00 | 0.00 | 0.00 | 0.00 | 0.00 | 0.00 | 0.00 | 0.00 | 0.00 | XXX
83890 |  | X | Molecule isolate | 0.00 | 0.00 | 0.00 | 0.00 | 0.00 | 0.00 | 0.00 | 0.00 | 0.00 | 0.00 | XXX
83891 |  | X | Molecule isolate nucleic | 0.00 | 0.00 | 0.00 | 0.00 | 0.00 | 0.00 | 0.00 | 0.00 | 0.00 | 0.00 | XXX
83892 |  | X | Molecular diagnostics | 0.00 | 0.00 | 0.00 | 0.00 | 0.00 | 0.00 | 0.00 | 0.00 | 0.00 | 0.00 | XXX
83893 |  | X | Molecule dot/slot/blot | 0.00 | 0.00 | 0.00 | 0.00 | 0.00 | 0.00 | 0.00 | 0.00 | 0.00 | 0.00 | XXX
83894 |  | X | Molecule gel electrophor | 0.00 | 0.00 | 0.00 | 0.00 | 0.00 | 0.00 | 0.00 | 0.00 | 0.00 | 0.00 | XXX
83896 |  | X | Molecular diagnostics | 0.00 | 0.00 | 0.00 | 0.00 | 0.00 | 0.00 | 0.00 | 0.00 | 0.00 | 0.00 | XXX
83897 |  | X | Molecule nucleic transfer | 0.00 | 0.00 | 0.00 | 0.00 | 0.00 | 0.00 | 0.00 | 0.00 | 0.00 | 0.00 | XXX
83898 |  | X | Molecule nucleic ampli | 0.00 | 0.00 | 0.00 | 0.00 | 0.00 | 0.00 | 0.00 | 0.00 | 0.00 | 0.00 | XXX
83901 |  | X | Molecule nucleic ampli | 0.00 | 0.00 | 0.00 | 0.00 | 0.00 | 0.00 | 0.00 | 0.00 | 0.00 | 0.00 | XXX
83902 |  | X | Molecular diagnostics | 0.00 | 0.00 | 0.00 | 0.00 | 0.00 | 0.00 | 0.00 | 0.00 | 0.00 | 0.00 | XXX
83903 |  | X | Molecule mutation scan | 0.00 | 0.00 | 0.00 | 0.00 | 0.00 | 0.00 | 0.00 | 0.00 | 0.00 | 0.00 | XXX
83904 |  | X | Molecule mutation identify | 0.00 | 0.00 | 0.00 | 0.00 | 0.00 | 0.00 | 0.00 | 0.00 | 0.00 | 0.00 | XXX
83905 |  | X | Molecule mutation identify | 0.00 | 0.00 | 0.00 | 0.00 | 0.00 | 0.00 | 0.00 | 0.00 | 0.00 | 0.00 | XXX
83906 |  | X | Molecule mutation identify | 0.00 | 0.00 | 0.00 | 0.00 | 0.00 | 0.00 | 0.00 | 0.00 | 0.00 | 0.00 | XXX
83912 |  | X | Genetic examination | 0.00 | 0.00 | 0.00 | 0.00 | 0.00 | 0.00 | 0.00 | 0.00 | 0.00 | 0.00 | XXX
83912 | 26 | A | Genetic examination | 0.37 | 0.16 | 0.18 | 0.16 | 0.18 | 0.01 | 0.54 | 0.56 | 0.54 | 0.56 | XXX
83915 |  | X | Assay of nucleotidase | 0.00 | 0.00 | 0.00 | 0.00 | 0.00 | 0.00 | 0.00 | 0.00 | 0.00 | 0.00 | XXX
83916 |  | X | Oligoclonal bands | 0.00 | 0.00 | 0.00 | 0.00 | 0.00 | 0.00 | 0.00 | 0.00 | 0.00 | 0.00 | XXX
83918 |  | X | Organic acids, total, quant | 0.00 | 0.00 | 0.00 | 0.00 | 0.00 | 0.00 | 0.00 | 0.00 | 0.00 | 0.00 | XXX
83919 |  | X | Organic acids, qual, each | 0.00 | 0.00 | 0.00 | 0.00 | 0.00 | 0.00 | 0.00 | 0.00 | 0.00 | 0.00 | XXX
83921 |  | X | Organic acid, single, quant | 0.00 | 0.00 | 0.00 | 0.00 | 0.00 | 0.00 | 0.00 | 0.00 | 0.00 | 0.00 | XXX
83925 |  | X | Assay of opiates | 0.00 | 0.00 | 0.00 | 0.00 | 0.00 | 0.00 | 0.00 | 0.00 | 0.00 | 0.00 | XXX
83930 |  | X | Assay of blood osmolality | 0.00 | 0.00 | 0.00 | 0.00 | 0.00 | 0.00 | 0.00 | 0.00 | 0.00 | 0.00 | XXX
83935 |  | X | Assay of urine osmolality | 0.00 | 0.00 | 0.00 | 0.00 | 0.00 | 0.00 | 0.00 | 0.00 | 0.00 | 0.00 | XXX
83937 |  | X | Assay of osteocalcin | 0.00 | 0.00 | 0.00 | 0.00 | 0.00 | 0.00 | 0.00 | 0.00 | 0.00 | 0.00 | XXX
83945 |  | X | Assay of oxalate | 0.00 | 0.00 | 0.00 | 0.00 | 0.00 | 0.00 | 0.00 | 0.00 | 0.00 | 0.00 | XXX
83970 |  | X | Assay of parathormone | 0.00 | 0.00 | 0.00 | 0.00 | 0.00 | 0.00 | 0.00 | 0.00 | 0.00 | 0.00 | XXX
83986 |  | X | Assay of body fluid acidity | 0.00 | 0.00 | 0.00 | 0.00 | 0.00 | 0.00 | 0.00 | 0.00 | 0.00 | 0.00 | XXX
83992 |  | X | Assay for phencyclidine | 0.00 | 0.00 | 0.00 | 0.00 | 0.00 | 0.00 | 0.00 | 0.00 | 0.00 | 0.00 | XXX
84022 |  | X | Assay of phenothiazine | 0.00 | 0.00 | 0.00 | 0.00 | 0.00 | 0.00 | 0.00 | 0.00 | 0.00 | 0.00 | XXX
84030 |  | X | Assay of blood pku | 0.00 | 0.00 | 0.00 | 0.00 | 0.00 | 0.00 | 0.00 | 0.00 | 0.00 | 0.00 | XXX
84035 |  | X | Assay of phenylketones | 0.00 | 0.00 | 0.00 | 0.00 | 0.00 | 0.00 | 0.00 | 0.00 | 0.00 | 0.00 | XXX
84060 |  | X | Assay acid phosphatase | 0.00 | 0.00 | 0.00 | 0.00 | 0.00 | 0.00 | 0.00 | 0.00 | 0.00 | 0.00 | XXX
84061 |  | X | Phosphatase, forensic exam | 0.00 | 0.00 | 0.00 | 0.00 | 0.00 | 0.00 | 0.00 | 0.00 | 0.00 | 0.00 | XXX
84066 |  | X | Assay prostate phosphatase | 0.00 | 0.00 | 0.00 | 0.00 | 0.00 | 0.00 | 0.00 | 0.00 | 0.00 | 0.00 | XXX
84075 |  | X | Assay alkaline phosphatase | 0.00 | 0.00 | 0.00 | 0.00 | 0.00 | 0.00 | 0.00 | 0.00 | 0.00 | 0.00 | XXX
84078 |  | X | Assay alkaline phosphatase | 0.00 | 0.00 | 0.00 | 0.00 | 0.00 | 0.00 | 0.00 | 0.00 | 0.00 | 0.00 | XXX
84080 |  | X | Assay alkaline phosphatases | 0.00 | 0.00 | 0.00 | 0.00 | 0.00 | 0.00 | 0.00 | 0.00 | 0.00 | 0.00 | XXX
84081 |  | X | Amniotic fluid enzyme test | 0.00 | 0.00 | 0.00 | 0.00 | 0.00 | 0.00 | 0.00 | 0.00 | 0.00 | 0.00 | XXX
84085 |  | X | Assay of rbc pg6d enzyme | 0.00 | 0.00 | 0.00 | 0.00 | 0.00 | 0.00 | 0.00 | 0.00 | 0.00 | 0.00 | XXX
84087 |  | X | Assay phosphohexose enzymes | 0.00 | 0.00 | 0.00 | 0.00 | 0.00 | 0.00 | 0.00 | 0.00 | 0.00 | 0.00 | XXX
84100 |  | X | Assay of phosphorus | 0.00 | 0.00 | 0.00 | 0.00 | 0.00 | 0.00 | 0.00 | 0.00 | 0.00 | 0.00 | XXX
84105 |  | X | Assay of urine phosphorus | 0.00 | 0.00 | 0.00 | 0.00 | 0.00 | 0.00 | 0.00 | 0.00 | 0.00 | 0.00 | XXX
84106 |  | X | Test for porphobilinogen | 0.00 | 0.00 | 0.00 | 0.00 | 0.00 | 0.00 | 0.00 | 0.00 | 0.00 | 0.00 | XXX
84110 |  | X | Assay of porphobilinogen | 0.00 | 0.00 | 0.00 | 0.00 | 0.00 | 0.00 | 0.00 | 0.00 | 0.00 | 0.00 | XXX
84119 |  | X | Test urine for porphyrins | 0.00 | 0.00 | 0.00 | 0.00 | 0.00 | 0.00 | 0.00 | 0.00 | 0.00 | 0.00 | XXX
84120 |  | X | Assay of urine porphyrins | 0.00 | 0.00 | 0.00 | 0.00 | 0.00 | 0.00 | 0.00 | 0.00 | 0.00 | 0.00 | XXX
84126 |  | X | Assay of feces porphyrins | 0.00 | 0.00 | 0.00 | 0.00 | 0.00 | 0.00 | 0.00 | 0.00 | 0.00 | 0.00 | XXX
84127 |  | X | Assay of feces porphyrins | 0.00 | 0.00 | 0.00 | 0.00 | 0.00 | 0.00 | 0.00 | 0.00 | 0.00 | 0.00 | XXX
84132 |  | X | Assay of serum potassium | 0.00 | 0.00 | 0.00 | 0.00 | 0.00 | 0.00 | 0.00 | 0.00 | 0.00 | 0.00 | XXX
84133 |  | X | Assay of urine potassium | 0.00 | 0.00 | 0.00 | 0.00 | 0.00 | 0.00 | 0.00 | 0.00 | 0.00 | 0.00 | XXX
84134 |  | X | Assay of prealbumin | 0.00 | 0.00 | 0.00 | 0.00 | 0.00 | 0.00 | 0.00 | 0.00 | 0.00 | 0.00 | XXX
84135 |  | X | Assay of pregnanediol | 0.00 | 0.00 | 0.00 | 0.00 | 0.00 | 0.00 | 0.00 | 0.00 | 0.00 | 0.00 | XXX
84138 |  | X | Assay of pregnanetriol | 0.00 | 0.00 | 0.00 | 0.00 | 0.00 | 0.00 | 0.00 | 0.00 | 0.00 | 0.00 | XXX
84140 |  | X | Assay of pregnenolone | 0.00 | 0.00 | 0.00 | 0.00 | 0.00 | 0.00 | 0.00 | 0.00 | 0.00 | 0.00 | XXX
84143 |  | X | Assay of 17-hydroxypregneno | 0.00 | 0.00 | 0.00 | 0.00 | 0.00 | 0.00 | 0.00 | 0.00 | 0.00 | 0.00 | XXX
84144 |  | X | Assay of progesterone | 0.00 | 0.00 | 0.00 | 0.00 | 0.00 | 0.00 | 0.00 | 0.00 | 0.00 | 0.00 | XXX
84146 |  | X | Assay of prolactin | 0.00 | 0.00 | 0.00 | 0.00 | 0.00 | 0.00 | 0.00 | 0.00 | 0.00 | 0.00 | XXX
84150 |  | X | Assay of prostaglandin | 0.00 | 0.00 | 0.00 | 0.00 | 0.00 | 0.00 | 0.00 | 0.00 | 0.00 | 0.00 | XXX
84152 |  | X | Assay of psa, complexed | 0.00 | 0.00 | 0.00 | 0.00 | 0.00 | 0.00 | 0.00 | 0.00 | 0.00 | 0.00 | XXX
84153 |  | X | Assay of psa, total | 0.00 | 0.00 | 0.00 | 0.00 | 0.00 | 0.00 | 0.00 | 0.00 | 0.00 | 0.00 | XXX
84154 |  | X | Assay of psa, free | 0.00 | 0.00 | 0.00 | 0.00 | 0.00 | 0.00 | 0.00 | 0.00 | 0.00 | 0.00 | XXX
84155 |  | X | Assay of protein | 0.00 | 0.00 | 0.00 | 0.00 | 0.00 | 0.00 | 0.00 | 0.00 | 0.00 | 0.00 | XXX
84160 |  | X | Assay of serum protein | 0.00 | 0.00 | 0.00 | 0.00 | 0.00 | 0.00 | 0.00 | 0.00 | 0.00 | 0.00 | XXX
84165 |  | X | Assay of serum proteins | 0.00 | 0.00 | 0.00 | 0.00 | 0.00 | 0.00 | 0.00 | 0.00 | 0.00 | 0.00 | XXX
84165 | 26 | A | Assay of serum proteins | 0.37 | 0.16 | 0.18 | 0.16 | 0.18 | 0.01 | 0.54 | 0.56 | 0.54 | 0.56 | XXX
84181 |  | X | Western blot test | 0.00 | 0.00 | 0.00 | 0.00 | 0.00 | 0.00 | 0.00 | 0.00 | 0.00 | 0.00 | XXX
84181 | 26 | A | Western blot test | 0.37 | 0.14 | 0.16 | 0.14 | 0.16 | 0.01 | 0.52 | 0.54 | 0.52 | 0.54 | XXX
84182 |  | X | Protein, western blot test | 0.00 | 0.00 | 0.00 | 0.00 | 0.00 | 0.00 | 0.00 | 0.00 | 0.00 | 0.00 | XXX
84182 | 26 | A | Protein, western blot test | 0.37 | 0.16 | 0.18 | 0.16 | 0.18 | 0.01 | 0.54 | 0.56 | 0.54 | 0.56 | XXX
84202 |  | X | Assay RBC protoporphyrin | 0.00 | 0.00 | 0.00 | 0.00 | 0.00 | 0.00 | 0.00 | 0.00 | 0.00 | 0.00 | XXX
84203 |  | X | Test RBC protoporphyrin | 0.00 | 0.00 | 0.00 | 0.00 | 0.00 | 0.00 | 0.00 | 0.00 | 0.00 | 0.00 | XXX
84206 |  | X | Assay of proinsulin | 0.00 | 0.00 | 0.00 | 0.00 | 0.00 | 0.00 | 0.00 | 0.00 | 0.00 | 0.00 | XXX
84207 |  | X | Assay of vitamin b-6 | 0.00 | 0.00 | 0.00 | 0.00 | 0.00 | 0.00 | 0.00 | 0.00 | 0.00 | 0.00 | XXX
84210 |  | X | Assay of pyruvate | 0.00 | 0.00 | 0.00 | 0.00 | 0.00 | 0.00 | 0.00 | 0.00 | 0.00 | 0.00 | XXX
84220 |  | X | Assay of pyruvate kinase | 0.00 | 0.00 | 0.00 | 0.00 | 0.00 | 0.00 | 0.00 | 0.00 | 0.00 | 0.00 | XXX
84228 |  | X | Assay of quinine | 0.00 | 0.00 | 0.00 | 0.00 | 0.00 | 0.00 | 0.00 | 0.00 | 0.00 | 0.00 | XXX
84233 |  | X | Assay of estrogen | 0.00 | 0.00 | 0.00 | 0.00 | 0.00 | 0.00 | 0.00 | 0.00 | 0.00 | 0.00 | XXX
84234 |  | X | Assay of progesterone | 0.00 | 0.00 | 0.00 | 0.00 | 0.00 | 0.00 | 0.00 | 0.00 | 0.00 | 0.00 | XXX
84235 |  | X | Assay of endocrine hormone | 0.00 | 0.00 | 0.00 | 0.00 | 0.00 | 0.00 | 0.00 | 0.00 | 0.00 | 0.00 | XXX
84238 |  | X | Assay, nonendocrine receptor | 0.00 | 0.00 | 0.00 | 0.00 | 0.00 | 0.00 | 0.00 | 0.00 | 0.00 | 0.00 | XXX
84244 |  | X | Assay of renin | 0.00 | 0.00 | 0.00 | 0.00 | 0.00 | 0.00 | 0.00 | 0.00 | 0.00 | 0.00 | XXX
84252 |  | X | Assay of vitamin b-2 | 0.00 | 0.00 | 0.00 | 0.00 | 0.00 | 0.00 | 0.00 | 0.00 | 0.00 | 0.00 | XXX
84255 |  | X | Assay of selenium | 0.00 | 0.00 | 0.00 | 0.00 | 0.00 | 0.00 | 0.00 | 0.00 | 0.00 | 0.00 | XXX
84260 |  | X | Assay of serotonin | 0.00 | 0.00 | 0.00 | 0.00 | 0.00 | 0.00 | 0.00 | 0.00 | 0.00 | 0.00 | XXX
84270 |  | X | Assay of sex hormone globul | 0.00 | 0.00 | 0.00 | 0.00 | 0.00 | 0.00 | 0.00 | 0.00 | 0.00 | 0.00 | XXX
84275 |  | X | Assay of sialic acid | 0.00 | 0.00 | 0.00 | 0.00 | 0.00 | 0.00 | 0.00 | 0.00 | 0.00 | 0.00 | XXX
84285 |  | X | Assay of silica | 0.00 | 0.00 | 0.00 | 0.00 | 0.00 | 0.00 | 0.00 | 0.00 | 0.00 | 0.00 | XXX
84295 |  | X | Assay of serum sodium | 0.00 | 0.00 | 0.00 | 0.00 | 0.00 | 0.00 | 0.00 | 0.00 | 0.00 | 0.00 | XXX
84300 |  | X | Assay of urine sodium | 0.00 | 0.00 | 0.00 | 0.00 | 0.00 | 0.00 | 0.00 | 0.00 | 0.00 | 0.00 | XXX
84305 |  | X | Assay of somatomedin | 0.00 | 0.00 | 0.00 | 0.00 | 0.00 | 0.00 | 0.00 | 0.00 | 0.00 | 0.00 | XXX
84307 |  | X | Assay of somatostatin | 0.00 | 0.00 | 0.00 | 0.00 | 0.00 | 0.00 | 0.00 | 0.00 | 0.00 | 0.00 | XXX
84311 |  | X | Spectrophotometry | 0.00 | 0.00 | 0.00 | 0.00 | 0.00 | 0.00 | 0.00 | 0.00 | 0.00 | 0.00 | XXX
84315 |  | X | Body fluid specific gravity | 0.00 | 0.00 | 0.00 | 0.00 | 0.00 | 0.00 | 0.00 | 0.00 | 0.00 | 0.00 | XXX
84375 |  | X | Chromatogram assay, sugars | 0.00 | 0.00 | 0.00 | 0.00 | 0.00 | 0.00 | 0.00 | 0.00 | 0.00 | 0.00 | XXX
84376 |  | X | Sugars, single, qual | 0.00 | 0.00 | 0.00 | 0.00 | 0.00 | 0.00 | 0.00 | 0.00 | 0.00 | 0.00 | XXX
84377 |  | X | Sugars, multiple, qual | 0.00 | 0.00 | 0.00 | 0.00 | 0.00 | 0.00 | 0.00 | 0.00 | 0.00 | 0.00 | XXX
84378 |  | X | Sugars single quant | 0.00 | 0.00 | 0.00 | 0.00 | 0.00 | 0.00 | 0.00 | 0.00 | 0.00 | 0.00 | XXX
84379 |  | X | Sugars multiple quant | 0.00 | 0.00 | 0.00 | 0.00 | 0.00 | 0.00 | 0.00 | 0.00 | 0.00 | 0.00 | XXX
84392 |  | X | Assay of urine sulfate | 0.00 | 0.00 | 0.00 | 0.00 | 0.00 | 0.00 | 0.00 | 0.00 | 0.00 | 0.00 | XXX
84402 |  | X | Assay of testosterone | 0.00 | 0.00 | 0.00 | 0.00 | 0.00 | 0.00 | 0.00 | 0.00 | 0.00 | 0.00 | XXX
84403 |  | X | Assay of total testosterone | 0.00 | 0.00 | 0.00 | 0.00 | 0.00 | 0.00 | 0.00 | 0.00 | 0.00 | 0.00 | XXX
84425 |  | X | Assay of vitamin b-1 | 0.00 | 0.00 | 0.00 | 0.00 | 0.00 | 0.00 | 0.00 | 0.00 | 0.00 | 0.00 | XXX
84430 |  | X | Assay of thiocyanate | 0.00 | 0.00 | 0.00 | 0.00 | 0.00 | 0.00 | 0.00 | 0.00 | 0.00 | 0.00 | XXX
84432 |  | X | Assay of thyroglobulin | 0.00 | 0.00 | 0.00 | 0.00 | 0.00 | 0.00 | 0.00 | 0.00 | 0.00 | 0.00 | XXX
84436 |  | X | Assay of total thyroxine | 0.00 | 0.00 | 0.00 | 0.00 | 0.00 | 0.00 | 0.00 | 0.00 | 0.00 | 0.00 | XXX
84437 |  | X | Assay of neonatal thyroxine | 0.00 | 0.00 | 0.00 | 0.00 | 0.00 | 0.00 | 0.00 | 0.00 | 0.00 | 0.00 | XXX
84439 |  | X | Assay of free thyroxine | 0.00 | 0.00 | 0.00 | 0.00 | 0.00 | 0.00 | 0.00 | 0.00 | 0.00 | 0.00 | XXX
84442 |  | X | Assay of thyroid activity | 0.00 | 0.00 | 0.00 | 0.00 | 0.00 | 0.00 | 0.00 | 0.00 | 0.00 | 0.00 | XXX
84443 |  | X | Assay thyroid stim hormone | 0.00 | 0.00 | 0.00 | 0.00 | 0.00 | 0.00 | 0.00 | 0.00 | 0.00 | 0.00 | XXX
84445 |  | X | Assay of tsi | 0.00 | 0.00 | 0.00 | 0.00 | 0.00 | 0.00 | 0.00 | 0.00 | 0.00 | 0.00 | XXX
84446 |  | X | Assay of vitamin e | 0.00 | 0.00 | 0.00 | 0.00 | 0.00 | 0.00 | 0.00 | 0.00 | 0.00 | 0.00 | XXX
84449 |  | X | Assay of transcortin | 0.00 | 0.00 | 0.00 | 0.00 | 0.00 | 0.00 | 0.00 | 0.00 | 0.00 | 0.00 | XXX
84450 |  | X | Transferase (AST) (SGOT) | 0.00 | 0.00 | 0.00 | 0.00 | 0.00 | 0.00 | 0.00 | 0.00 | 0.00 | 0.00 | XXX
84460 |  | X | Alanine amino (ALT) (SGPT) | 0.00 | 0.00 | 0.00 | 0.00 | 0.00 | 0.00 | 0.00 | 0.00 | 0.00 | 0.00 | XXX
84466 |  | X | Assay of transferrin | 0.00 | 0.00 | 0.00 | 0.00 | 0.00 | 0.00 | 0.00 | 0.00 | 0.00 | 0.00 | XXX
84478 |  | X | Assay of triglycerides | 0.00 | 0.00 | 0.00 | 0.00 | 0.00 | 0.00 | 0.00 | 0.00 | 0.00 | 0.00 | XXX
84479 |  | X | Assay of thyroid (t3 or t4) | 0.00 | 0.00 | 0.00 | 0.00 | 0.00 | 0.00 | 0.00 | 0.00 | 0.00 | 0.00 | XXX
84480 |  | X | Assay, triiodothyronine (t3) | 0.00 | 0.00 | 0.00 | 0.00 | 0.00 | 0.00 | 0.00 | 0.00 | 0.00 | 0.00 | XXX
84481 |  | X | Free assay (FT-3) | 0.00 | 0.00 | 0.00 | 0.00 | 0.00 | 0.00 | 0.00 | 0.00 | 0.00 | 0.00 | XXX
84482 |  | X | T3 reverse | 0.00 | 0.00 | 0.00 | 0.00 | 0.00 | 0.00 | 0.00 | 0.00 | 0.00 | 0.00 | XXX
84484 |  | X | Assay of troponin, quant | 0.00 | 0.00 | 0.00 | 0.00 | 0.00 | 0.00 | 0.00 | 0.00 | 0.00 | 0.00 | XXX
84485 |  | X | Assay duodenal fluid trypsin | 0.00 | 0.00 | 0.00 | 0.00 | 0.00 | 0.00 | 0.00 | 0.00 | 0.00 | 0.00 | XXX
84488 |  | X | Test feces for trypsin | 0.00 | 0.00 | 0.00 | 0.00 | 0.00 | 0.00 | 0.00 | 0.00 | 0.00 | 0.00 | XXX
84490 |  | X | Assay of feces for trypsin | 0.00 | 0.00 | 0.00 | 0.00 | 0.00 | 0.00 | 0.00 | 0.00 | 0.00 | 0.00 | XXX
84510 |  | X | Assay of tyrosine | 0.00 | 0.00 | 0.00 | 0.00 | 0.00 | 0.00 | 0.00 | 0.00 | 0.00 | 0.00 | XXX
84512 |  | X | Assay of troponin, qual | 0.00 | 0.00 | 0.00 | 0.00 | 0.00 | 0.00 | 0.00 | 0.00 | 0.00 | 0.00 | XXX
84520 |  | X | Assay of urea nitrogen | 0.00 | 0.00 | 0.00 | 0.00 | 0.00 | 0.00 | 0.00 | 0.00 | 0.00 | 0.00 | XXX
84525 |  | X | Urea nitrogen semi-quant | 0.00 | 0.00 | 0.00 | 0.00 | 0.00 | 0.00 | 0.00 | 0.00 | 0.00 | 0.00 | XXX
84540 |  | X | Assay of urine/urea-n | 0.00 | 0.00 | 0.00 | 0.00 | 0.00 | 0.00 | 0.00 | 0.00 | 0.00 | 0.00 | XXX
84545 |  | X | Urea-N clearance test | 0.00 | 0.00 | 0.00 | 0.00 | 0.00 | 0.00 | 0.00 | 0.00 | 0.00 | 0.00 | XXX
84550 |  | X | Assay of blood/uric acid | 0.00 | 0.00 | 0.00 | 0.00 | 0.00 | 0.00 | 0.00 | 0.00 | 0.00 | 0.00 | XXX
84560 |  | X | Assay of urine/uric acid | 0.00 | 0.00 | 0.00 | 0.00 | 0.00 | 0.00 | 0.00 | 0.00 | 0.00 | 0.00 | XXX
84577 |  | X | Assay of feces/urobilinogen | 0.00 | 0.00 | 0.00 | 0.00 | 0.00 | 0.00 | 0.00 | 0.00 | 0.00 | 0.00 | XXX
84578 |  | X | Test urine urobilinogen | 0.00 | 0.00 | 0.00 | 0.00 | 0.00 | 0.00 | 0.00 | 0.00 | 0.00 | 0.00 | XXX
84580 |  | X | Assay of urine urobilinogen | 0.00 | 0.00 | 0.00 | 0.00 | 0.00 | 0.00 | 0.00 | 0.00 | 0.00 | 0.00 | XXX
84583 |  | X | Assay of urine urobilinogen | 0.00 | 0.00 | 0.00 | 0.00 | 0.00 | 0.00 | 0.00 | 0.00 | 0.00 | 0.00 | XXX
84585 |  | X | Assay of urine vma | 0.00 | 0.00 | 0.00 | 0.00 | 0.00 | 0.00 | 0.00 | 0.00 | 0.00 | 0.00 | XXX
84586 |  | X | Assay of vip | 0.00 | 0.00 | 0.00 | 0.00 | 0.00 | 0.00 | 0.00 | 0.00 | 0.00 | 0.00 | XXX
84588 |  | X | Assay of vasopressin | 0.00 | 0.00 | 0.00 | 0.00 | 0.00 | 0.00 | 0.00 | 0.00 | 0.00 | 0.00 | XXX
84590 |  | X | Assay of vitamin a | 0.00 | 0.00 | 0.00 | 0.00 | 0.00 | 0.00 | 0.00 | 0.00 | 0.00 | 0.00 | XXX
84591 |  | X | Assay of nos vitamin | 0.00 | 0.00 | 0.00 | 0.00 | 0.00 | 0.00 | 0.00 | 0.00 | 0.00 | 0.00 | XXX
84597 |  | X | Assay of vitamin k | 0.00 | 0.00 | 0.00 | 0.00 | 0.00 | 0.00 | 0.00 | 0.00 | 0.00 | 0.00 | XXX
84600 |  | X | Assay of volatiles | 0.00 | 0.00 | 0.00 | 0.00 | 0.00 | 0.00 | 0.00 | 0.00 | 0.00 | 0.00 | XXX
84620 |  | X | Xylose tolerance test | 0.00 | 0.00 | 0.00 | 0.00 | 0.00 | 0.00 | 0.00 | 0.00 | 0.00 | 0.00 | XXX
84630 |  | X | Assay of zinc | 0.00 | 0.00 | 0.00 | 0.00 | 0.00 | 0.00 | 0.00 | 0.00 | 0.00 | 0.00 | XXX
84681 |  | X | Assay of c-peptide | 0.00 | 0.00 | 0.00 | 0.00 | 0.00 | 0.00 | 0.00 | 0.00 | 0.00 | 0.00 | XXX
84702 |  | X | Chorionic gonadotropin test | 0.00 | 0.00 | 0.00 | 0.00 | 0.00 | 0.00 | 0.00 | 0.00 | 0.00 | 0.00 | XXX
84703 |  | X | Chorionic gonadotropin assay | 0.00 | 0.00 | 0.00 | 0.00 | 0.00 | 0.00 | 0.00 | 0.00 | 0.00 | 0.00 | XXX
84830 |  | X | Ovulation tests | 0.00 | 0.00 | 0.00 | 0.00 | 0.00 | 0.00 | 0.00 | 0.00 | 0.00 | 0.00 | XXX
84999 |  | X | Clinical chemistry test | 0.00 | 0.00 | 0.00 | 0.00 | 0.00 | 0.00 | 0.00 | 0.00 | 0.00 | 0.00 | XXX
85002 |  | X | Bleeding time test | 0.00 | 0.00 | 0.00 | 0.00 | 0.00 | 0.00 | 0.00 | 0.00 | 0.00 | 0.00 | XXX
85007 |  | X | Differential WBC count | 0.00 | 0.00 | 0.00 | 0.00 | 0.00 | 0.00 | 0.00 | 0.00 | 0.00 | 0.00 | XXX
85008 |  | X | Nondifferential WBC count | 0.00 | 0.00 | 0.00 | 0.00 | 0.00 | 0.00 | 0.00 | 0.00 | 0.00 | 0.00 | XXX
85009 |  | X | Differential WBC count | 0.00 | 0.00 | 0.00 | 0.00 | 0.00 | 0.00 | 0.00 | 0.00 | 0.00 | 0.00 | XXX
85013 |  | X | Hematocrit | 0.00 | 0.00 | 0.00 | 0.00 | 0.00 | 0.00 | 0.00 | 0.00 | 0.00 | 0.00 | XXX
85014 |  | X | Hematocrit | 0.00 | 0.00 | 0.00 | 0.00 | 0.00 | 0.00 | 0.00 | 0.00 | 0.00 | 0.00 | XXX
85018 |  | X | Hemoglobin | 0.00 | 0.00 | 0.00 | 0.00 | 0.00 | 0.00 | 0.00 | 0.00 | 0.00 | 0.00 | XXX
85021 |  | X | Automated hemogram | 0.00 | 0.00 | 0.00 | 0.00 | 0.00 | 0.00 | 0.00 | 0.00 | 0.00 | 0.00 | XXX
85022 |  | X | Automated hemogram | 0.00 | 0.00 | 0.00 | 0.00 | 0.00 | 0.00 | 0.00 | 0.00 | 0.00 | 0.00 | XXX
85023 |  | X | Automated hemogram | 0.00 | 0.00 | 0.00 | 0.00 | 0.00 | 0.00 | 0.00 | 0.00 | 0.00 | 0.00 | XXX
85024 |  | X | Automated hemogram | 0.00 | 0.00 | 0.00 | 0.00 | 0.00 | 0.00 | 0.00 | 0.00 | 0.00 | 0.00 | XXX
85025 |  | X | Automated hemogram | 0.00 | 0.00 | 0.00 | 0.00 | 0.00 | 0.00 | 0.00 | 0.00 | 0.00 | 0.00 | XXX
85027 |  | X | Automated hemogram | 0.00 | 0.00 | 0.00 | 0.00 | 0.00 | 0.00 | 0.00 | 0.00 | 0.00 | 0.00 | XXX
85031 |  | X | Manual hemogram, cbc | 0.00 | 0.00 | 0.00 | 0.00 | 0.00 | 0.00 | 0.00 | 0.00 | 0.00 | 0.00 | XXX
85041 |  | X | Red blood cell (RBC) count | 0.00 | 0.00 | 0.00 | 0.00 | 0.00 | 0.00 | 0.00 | 0.00 | 0.00 | 0.00 | XXX
85044 |  | X | Reticulocyte count | 0.00 | 0.00 | 0.00 | 0.00 | 0.00 | 0.00 | 0.00 | 0.00 | 0.00 | 0.00 | XXX
85045 |  | X | Reticulocyte count | 0.00 | 0.00 | 0.00 | 0.00 | 0.00 | 0.00 | 0.00 | 0.00 | 0.00 | 0.00 | XXX
85046 |  | X | Reticyte/hgb concentrate | 0.00 | 0.00 | 0.00 | 0.00 | 0.00 | 0.00 | 0.00 | 0.00 | 0.00 | 0.00 | XXX
85048 |  | X | White blood cell (WBC) count | 0.00 | 0.00 | 0.00 | 0.00 | 0.00 | 0.00 | 0.00 | 0.00 | 0.00 | 0.00 | XXX
85060 |  | A | Blood smear interpretation | 0.45 | 0.19 | 0.20 | 0.19 | 0.20 | 0.02 | 0.66 | 0.67 | 0.66 | 0.67 | XXX
85095 |  | A | Bone marrow aspiration | 1.08 | 4.47 | 3.54 | 0.43 | 0.51 | 0.03 | 5.58 | 4.65 | 1.54 | 1.62 | XXX
85097 |  | A | Bone marrow interpretation | 0.94 | 1.80 | 1.48 | 0.40 | 0.43 | 0.03 | 2.77 | 2.45 | 1.37 | 1.40 | XXX
85102 |  | A | Bone marrow biopsy | 1.37 | 4.59 | 3.66 | 0.55 | 0.63 | 0.04 | 6.00 | 5.07 | 1.96 | 2.04 | XXX
85130 |  | X | Chromogenic substrate assay | 0.00 | 0.00 | 0.00 | 0.00 | 0.00 | 0.00 | 0.00 | 0.00 | 0.00 | 0.00 | XXX
85170 |  | X | Blood clot retraction | 0.00 | 0.00 | 0.00 | 0.00 | 0.00 | 0.00 | 0.00 | 0.00 | 0.00 | 0.00 | XXX
85175 |  | X | Blood clot lysis time | 0.00 | 0.00 | 0.00 | 0.00 | 0.00 | 0.00 | 0.00 | 0.00 | 0.00 | 0.00 | XXX
85210 |  | X | Blood clot factor II test | 0.00 | 0.00 | 0.00 | 0.00 | 0.00 | 0.00 | 0.00 | 0.00 | 0.00 | 0.00 | XXX
85220 |  | X | Blood clot factor V test | 0.00 | 0.00 | 0.00 | 0.00 | 0.00 | 0.00 | 0.00 | 0.00 | 0.00 | 0.00 | XXX
85230 |  | X | Blood clot factor VII test | 0.00 | 0.00 | 0.00 | 0.00 | 0.00 | 0.00 | 0.00 | 0.00 | 0.00 | 0.00 | XXX
85240 |  | X | Blood clot factor VIII test | 0.00 | 0.00 | 0.00 | 0.00 | 0.00 | 0.00 | 0.00 | 0.00 | 0.00 | 0.00 | XXX
85244 |  | X | Blood clot factor VIII test | 0.00 | 0.00 | 0.00 | 0.00 | 0.00 | 0.00 | 0.00 | 0.00 | 0.00 | 0.00 | XXX
85245 |  | X | Blood clot factor VIII test | 0.00 | 0.00 | 0.00 | 0.00 | 0.00 | 0.00 | 0.00 | 0.00 | 0.00 | 0.00 | XXX
85246 |  | X | Blood clot factor VIII test | 0.00 | 0.00 | 0.00 | 0.00 | 0.00 | 0.00 | 0.00 | 0.00 | 0.00 | 0.00 | XXX
85247 |  | X | Blood clot factor VIII test | 0.00 | 0.00 | 0.00 | 0.00 | 0.00 | 0.00 | 0.00 | 0.00 | 0.00 | 0.00 | XXX
85250 |  | X | Blood clot factor IX test | 0.00 | 0.00 | 0.00 | 0.00 | 0.00 | 0.00 | 0.00 | 0.00 | 0.00 | 0.00 | XXX
85260 |  | X | Blood clot factor X test | 0.00 | 0.00 | 0.00 | 0.00 | 0.00 | 0.00 | 0.00 | 0.00 | 0.00 | 0.00 | XXX
85270 |  | X | Blood clot factor XI test | 0.00 | 0.00 | 0.00 | 0.00 | 0.00 | 0.00 | 0.00 | 0.00 | 0.00 | 0.00 | XXX
85280 |  | X | Blood clot factor XII test | 0.00 | 0.00 | 0.00 | 0.00 | 0.00 | 0.00 | 0.00 | 0.00 | 0.00 | 0.00 | XXX
85290 |  | X | Blood clot factor XIII test | 0.00 | 0.00 | 0.00 | 0.00 | 0.00 | 0.00 | 0.00 | 0.00 | 0.00 | 0.00 | XXX
85291 |  | X | Blood clot factor XIII test | 0.00 | 0.00 | 0.00 | 0.00 | 0.00 | 0.00 | 0.00 | 0.00 | 0.00 | 0.00 | XXX
85292 |  | X | Blood clot factor assay | 0.00 | 0.00 | 0.00 | 0.00 | 0.00 | 0.00 | 0.00 | 0.00 | 0.00 | 0.00 | XXX
85293 |  | X | Blood clot factor assay | 0.00 | 0.00 | 0.00 | 0.00 | 0.00 | 0.00 | 0.00 | 0.00 | 0.00 | 0.00 | XXX
85300 |  | X | Antithrombin III test | 0.00 | 0.00 | 0.00 | 0.00 | 0.00 | 0.00 | 0.00 | 0.00 | 0.00 | 0.00 | XXX
85301 |  | X | Antithrombin III test | 0.00 | 0.00 | 0.00 | 0.00 | 0.00 | 0.00 | 0.00 | 0.00 | 0.00 | 0.00 | XXX
85302 |  | X | Blood clot inhibitor antigen | 0.00 | 0.00 | 0.00 | 0.00 | 0.00 | 0.00 | 0.00 | 0.00 | 0.00 | 0.00 | XXX
85303 |  | X | Blood clot inhibitor test | 0.00 | 0.00 | 0.00 | 0.00 | 0.00 | 0.00 | 0.00 | 0.00 | 0.00 | 0.00 | XXX
85305 |  | X | Blood clot inhibitor assay | 0.00 | 0.00 | 0.00 | 0.00 | 0.00 | 0.00 | 0.00 | 0.00 | 0.00 | 0.00 | XXX
85306 |  | X | Blood clot inhibitor test | 0.00 | 0.00 | 0.00 | 0.00 | 0.00 | 0.00 | 0.00 | 0.00 | 0.00 | 0.00 | XXX
85307 |  | X | Assay activated protein c | 0.00 | 0.00 | 0.00 | 0.00 | 0.00 | 0.00 | 0.00 | 0.00 | 0.00 | 0.00 | XXX
85335 |  | X | Factor inhibitor test | 0.00 | 0.00 | 0.00 | 0.00 | 0.00 | 0.00 | 0.00 | 0.00 | 0.00 | 0.00 | XXX
85337 |  | X | Thrombomodulin | 0.00 | 0.00 | 0.00 | 0.00 | 0.00 | 0.00 | 0.00 | 0.00 | 0.00 | 0.00 | XXX
85345 |  | X | Coagulation time | 0.00 | 0.00 | 0.00 | 0.00 | 0.00 | 0.00 | 0.00 | 0.00 | 0.00 | 0.00 | XXX
85347 |  | X | Coagulation time | 0.00 | 0.00 | 0.00 | 0.00 | 0.00 | 0.00 | 0.00 | 0.00 | 0.00 | 0.00 | XXX
85348 |  | X | Coagulation time | 0.00 | 0.00 | 0.00 | 0.00 | 0.00 | 0.00 | 0.00 | 0.00 | 0.00 | 0.00 | XXX
85360 |  | X | Euglobulin lysis | 0.00 | 0.00 | 0.00 | 0.00 | 0.00 | 0.00 | 0.00 | 0.00 | 0.00 | 0.00 | XXX
85362 |  | X | Fibrin degradation products | 0.00 | 0.00 | 0.00 | 0.00 | 0.00 | 0.00 | 0.00 | 0.00 | 0.00 | 0.00 | XXX
85366 |  | X | Fibrinogen test | 0.00 | 0.00 | 0.00 | 0.00 | 0.00 | 0.00 | 0.00 | 0.00 | 0.00 | 0.00 | XXX
85370 |  | X | Fibrinogen test | 0.00 | 0.00 | 0.00 | 0.00 | 0.00 | 0.00 | 0.00 | 0.00 | 0.00 | 0.00 | XXX
85378 |  | X | Fibrin degradation | 0.00 | 0.00 | 0.00 | 0.00 | 0.00 | 0.00 | 0.00 | 0.00 | 0.00 | 0.00 | XXX
85379 |  | X | Fibrin degradation | 0.00 | 0.00 | 0.00 | 0.00 | 0.00 | 0.00 | 0.00 | 0.00 | 0.00 | 0.00 | XXX
85384 |  | X | Fibrinogen | 0.00 | 0.00 | 0.00 | 0.00 | 0.00 | 0.00 | 0.00 | 0.00 | 0.00 | 0.00 | XXX
85385 |  | X | Fibrinogen | 0.00 | 0.00 | 0.00 | 0.00 | 0.00 | 0.00 | 0.00 | 0.00 | 0.00 | 0.00 | XXX
85390 |  | X | Fibrinolysins screen | 0.00 | 0.00 | 0.00 | 0.00 | 0.00 | 0.00 | 0.00 | 0.00 | 0.00 | 0.00 | XXX
85390 | 26 | A | Fibrinolysins screen | 0.37 | 0.13 | 0.15 | 0.13 | 0.15 | 0.01 | 0.51 | 0.53 | 0.51 | 0.53 | XXX
85400 |  | X | Fibrinolytic plasmin | 0.00 | 0.00 | 0.00 | 0.00 | 0.00 | 0.00 | 0.00 | 0.00 | 0.00 | 0.00 | XXX
85410 |  | X | Fibrinolytic antiplasmin | 0.00 | 0.00 | 0.00 | 0.00 | 0.00 | 0.00 | 0.00 | 0.00 | 0.00 | 0.00 | XXX
85415 |  | X | Fibrinolytic plasminogen | 0.00 | 0.00 | 0.00 | 0.00 | 0.00 | 0.00 | 0.00 | 0.00 | 0.00 | 0.00 | XXX
85420 |  | X | Fibrinolytic plasminogen | 0.00 | 0.00 | 0.00 | 0.00 | 0.00 | 0.00 | 0.00 | 0.00 | 0.00 | 0.00 | XXX
85421 |  | X | Fibrinolytic plasminogen | 0.00 | 0.00 | 0.00 | 0.00 | 0.00 | 0.00 | 0.00 | 0.00 | 0.00 | 0.00 | XXX
85441 |  | X | Heinz bodies, direct | 0.00 | 0.00 | 0.00 | 0.00 | 0.00 | 0.00 | 0.00 | 0.00 | 0.00 | 0.00 | XXX
85445 |  | X | Heinz bodies, induced | 0.00 | 0.00 | 0.00 | 0.00 | 0.00 | 0.00 | 0.00 | 0.00 | 0.00 | 0.00 | XXX
85460 |  | X | Hemoglobin, fetal | 0.00 | 0.00 | 0.00 | 0.00 | 0.00 | 0.00 | 0.00 | 0.00 | 0.00 | 0.00 | XXX
85461 |  | X | Hemoglobin, fetal | 0.00 | 0.00 | 0.00 | 0.00 | 0.00 | 0.00 | 0.00 | 0.00 | 0.00 | 0.00 | XXX
85475 |  | X | Hemolysin | 0.00 | 0.00 | 0.00 | 0.00 | 0.00 | 0.00 | 0.00 | 0.00 | 0.00 | 0.00 | XXX
85520 |  | X | Heparin assay | 0.00 | 0.00 | 0.00 | 0.00 | 0.00 | 0.00 | 0.00 | 0.00 | 0.00 | 0.00 | XXX
85525 |  | X | Heparin | 0.00 | 0.00 | 0.00 | 0.00 | 0.00 | 0.00 | 0.00 | 0.00 | 0.00 | 0.00 | XXX
85530 |  | X | Heparin-protamine tolerance | 0.00 | 0.00 | 0.00 | 0.00 | 0.00 | 0.00 | 0.00 | 0.00 | 0.00 | 0.00 | XXX
85535 |  | X | Iron stain, blood cells | 0.00 | 0.00 | 0.00 | 0.00 | 0.00 | 0.00 | 0.00 | 0.00 | 0.00 | 0.00 | XXX
85536 |  | X | Iron stain peripheral blood | 0.00 | 0.00 | 0.00 | 0.00 | 0.00 | 0.00 | 0.00 | 0.00 | 0.00 | 0.00 | XXX
85540 |  | X | Wbc alkaline phosphatase | 0.00 | 0.00 | 0.00 | 0.00 | 0.00 | 0.00 | 0.00 | 0.00 | 0.00 | 0.00 | XXX
85547 |  | X | RBC mechanical fragility | 0.00 | 0.00 | 0.00 | 0.00 | 0.00 | 0.00 | 0.00 | 0.00 | 0.00 | 0.00 | XXX
85549 |  | X | Muramidase | 0.00 | 0.00 | 0.00 | 0.00 | 0.00 | 0.00 | 0.00 | 0.00 | 0.00 | 0.00 | XXX
85555 |  | X | RBC osmotic fragility | 0.00 | 0.00 | 0.00 | 0.00 | 0.00 | 0.00 | 0.00 | 0.00 | 0.00 | 0.00 | XXX
85557 |  | X | RBC osmotic fragility | 0.00 | 0.00 | 0.00 | 0.00 | 0.00 | 0.00 | 0.00 | 0.00 | 0.00 | 0.00 | XXX
85576 |  | X | Blood platelet aggregation | 0.00 | 0.00 | 0.00 | 0.00 | 0.00 | 0.00 | 0.00 | 0.00 | 0.00 | 0.00 | XXX
85576 | 26 | A | Blood platelet aggregation | 0.37 | 0.16 | 0.18 | 0.15 | 0.17 | 0.01 | 0.54 | 0.56 | 0.53 | 0.55 | XXX
85585 |  | X | Blood platelet estimation | 0.00 | 0.00 | 0.00 | 0.00 | 0.00 | 0.00 | 0.00 | 0.00 | 0.00 | 0.00 | XXX
85590 |  | X | Platelet count, manual | 0.00 | 0.00 | 0.00 | 0.00 | 0.00 | 0.00 | 0.00 | 0.00 | 0.00 | 0.00 | XXX
85595 |  | X | Platelet count, automated | 0.00 | 0.00 | 0.00 | 0.00 | 0.00 | 0.00 | 0.00 | 0.00 | 0.00 | 0.00 | XXX
85597 |  | X | Platelet neutralization | 0.00 | 0.00 | 0.00 | 0.00 | 0.00 | 0.00 | 0.00 | 0.00 | 0.00 | 0.00 | XXX
85610 |  | X | Prothrombin time | 0.00 | 0.00 | 0.00 | 0.00 | 0.00 | 0.00 | 0.00 | 0.00 | 0.00 | 0.00 | XXX
85611 |  | X | Prothrombin test | 0.00 | 0.00 | 0.00 | 0.00 | 0.00 | 0.00 | 0.00 | 0.00 | 0.00 | 0.00 | XXX
85612 |  | X | Viper venom prothrombin time | 0.00 | 0.00 | 0.00 | 0.00 | 0.00 | 0.00 | 0.00 | 0.00 | 0.00 | 0.00 | XXX
85613 |  | X | Russell viper venom, diluted | 0.00 | 0.00 | 0.00 | 0.00 | 0.00 | 0.00 | 0.00 | 0.00 | 0.00 | 0.00 | XXX
85635 |  | X | Reptilase test | 0.00 | 0.00 | 0.00 | 0.00 | 0.00 | 0.00 | 0.00 | 0.00 | 0.00 | 0.00 | XXX
85651 |  | X | Rbc sed rate, nonautomated | 0.00 | 0.00 | 0.00 | 0.00 | 0.00 | 0.00 | 0.00 | 0.00 | 0.00 | 0.00 | XXX
85652 |  | X | Rbc sed rate, automated | 0.00 | 0.00 | 0.00 | 0.00 | 0.00 | 0.00 | 0.00 | 0.00 | 0.00 | 0.00 | XXX
85660 |  | X | RBC sickle cell test | 0.00 | 0.00 | 0.00 | 0.00 | 0.00 | 0.00 | 0.00 | 0.00 | 0.00 | 0.00 | XXX
85670 |  | X | Thrombin time, plasma | 0.00 | 0.00 | 0.00 | 0.00 | 0.00 | 0.00 | 0.00 | 0.00 | 0.00 | 0.00 | XXX
85675 |  | X | Thrombin time, titer | 0.00 | 0.00 | 0.00 | 0.00 | 0.00 | 0.00 | 0.00 | 0.00 | 0.00 | 0.00 | XXX
85705 |  | X | Thromboplastin inhibition | 0.00 | 0.00 | 0.00 | 0.00 | 0.00 | 0.00 | 0.00 | 0.00 | 0.00 | 0.00 | XXX
85730 |  | X | Thromboplastin time, partial | 0.00 | 0.00 | 0.00 | 0.00 | 0.00 | 0.00 | 0.00 | 0.00 | 0.00 | 0.00 | XXX
85732 |  | X | Thromboplastin time, partial | 0.00 | 0.00 | 0.00 | 0.00 | 0.00 | 0.00 | 0.00 | 0.00 | 0.00 | 0.00 | XXX
85810 |  | X | Blood viscosity examination | 0.00 | 0.00 | 0.00 | 0.00 | 0.00 | 0.00 | 0.00 | 0.00 | 0.00 | 0.00 | XXX
85999 |  | X | Hematology procedure | 0.00 | 0.00 | 0.00 | 0.00 | 0.00 | 0.00 | 0.00 | 0.00 | 0.00 | 0.00 | XXX
86000 |  | X | Agglutinins, febrile | 0.00 | 0.00 | 0.00 | 0.00 | 0.00 | 0.00 | 0.00 | 0.00 | 0.00 | 0.00 | XXX
86001 |  | X | Allergen specific igg | 0.00 | 0.00 | 0.00 | 0.00 | 0.00 | 0.00 | 0.00 | 0.00 | 0.00 | 0.00 | XXX
86003 |  | X | Allergen specific IgE | 0.00 | 0.00 | 0.00 | 0.00 | 0.00 | 0.00 | 0.00 | 0.00 | 0.00 | 0.00 | XXX
86005 |  | X | Allergen specific IgE | 0.00 | 0.00 | 0.00 | 0.00 | 0.00 | 0.00 | 0.00 | 0.00 | 0.00 | 0.00 | XXX
86021 |  | X | WBC antibody identification | 0.00 | 0.00 | 0.00 | 0.00 | 0.00 | 0.00 | 0.00 | 0.00 | 0.00 | 0.00 | XXX
86022 |  | X | Platelet antibodies | 0.00 | 0.00 | 0.00 | 0.00 | 0.00 | 0.00 | 0.00 | 0.00 | 0.00 | 0.00 | XXX
86023 |  | X | Immunoglobulin assay | 0.00 | 0.00 | 0.00 | 0.00 | 0.00 | 0.00 | 0.00 | 0.00 | 0.00 | 0.00 | XXX
86038 |  | X | Antinuclear antibodies | 0.00 | 0.00 | 0.00 | 0.00 | 0.00 | 0.00 | 0.00 | 0.00 | 0.00 | 0.00 | XXX
86039 |  | X | Antinuclear antibodies (ANA) | 0.00 | 0.00 | 0.00 | 0.00 | 0.00 | 0.00 | 0.00 | 0.00 | 0.00 | 0.00 | XXX
86060 |  | X | Antistreptolysin o, titer | 0.00 | 0.00 | 0.00 | 0.00 | 0.00 | 0.00 | 0.00 | 0.00 | 0.00 | 0.00 | XXX
86063 |  | X | Antistreptolysin o, screen | 0.00 | 0.00 | 0.00 | 0.00 | 0.00 | 0.00 | 0.00 | 0.00 | 0.00 | 0.00 | XXX
86077 |  | A | Physician blood bank service | 0.94 | 0.48 | 0.44 | 0.40 | 0.38 | 0.03 | 1.45 | 1.41 | 1.37 | 1.35 | XXX
86078 |  | A | Physician blood bank service | 0.94 | 0.50 | 0.47 | 0.40 | 0.39 | 0.03 | 1.47 | 1.44 | 1.37 | 1.36 | XXX
86079 |  | A | Physician blood bank service | 0.94 | 0.50 | 0.47 | 0.41 | 0.40 | 0.03 | 1.47 | 1.44 | 1.38 | 1.37 | XXX
86140 |  | X | C-reactive protein | 0.00 | 0.00 | 0.00 | 0.00 | 0.00 | 0.00 | 0.00 | 0.00 | 0.00 | 0.00 | XXX
86146 |  | X | Glycoprotein antibody | 0.00 | 0.00 | 0.00 | 0.00 | 0.00 | 0.00 | 0.00 | 0.00 | 0.00 | 0.00 | XXX
86147 |  | X | Cardiolipin antibody | 0.00 | 0.00 | 0.00 | 0.00 | 0.00 | 0.00 | 0.00 | 0.00 | 0.00 | 0.00 | XXX
86148 |  | X | Phospholipid antibody | 0.00 | 0.00 | 0.00 | 0.00 | 0.00 | 0.00 | 0.00 | 0.00 | 0.00 | 0.00 | XXX
86155 |  | X | Chemotaxis assay | 0.00 | 0.00 | 0.00 | 0.00 | 0.00 | 0.00 | 0.00 | 0.00 | 0.00 | 0.00 | XXX
86156 |  | X | Cold agglutinin, screen | 0.00 | 0.00 | 0.00 | 0.00 | 0.00 | 0.00 | 0.00 | 0.00 | 0.00 | 0.00 | XXX
86157 |  | X | Cold agglutinin, titer | 0.00 | 0.00 | 0.00 | 0.00 | 0.00 | 0.00 | 0.00 | 0.00 | 0.00 | 0.00 | XXX
86160 |  | X | Complement, antigen | 0.00 | 0.00 | 0.00 | 0.00 | 0.00 | 0.00 | 0.00 | 0.00 | 0.00 | 0.00 | XXX
86161 |  | X | Complement/function activity | 0.00 | 0.00 | 0.00 | 0.00 | 0.00 | 0.00 | 0.00 | 0.00 | 0.00 | 0.00 | XXX
86162 |  | X | Complement, total (CH50) | 0.00 | 0.00 | 0.00 | 0.00 | 0.00 | 0.00 | 0.00 | 0.00 | 0.00 | 0.00 | XXX
86171 |  | X | Complement fixation, each | 0.00 | 0.00 | 0.00 | 0.00 | 0.00 | 0.00 | 0.00 | 0.00 | 0.00 | 0.00 | XXX
86185 |  | X | Counterimmunoelectrophoresis | 0.00 | 0.00 | 0.00 | 0.00 | 0.00 | 0.00 | 0.00 | 0.00 | 0.00 | 0.00 | XXX
86215 |  | X | Deoxyribonuclease, antibody | 0.00 | 0.00 | 0.00 | 0.00 | 0.00 | 0.00 | 0.00 | 0.00 | 0.00 | 0.00 | XXX
86225 |  | X | DNA antibody | 0.00 | 0.00 | 0.00 | 0.00 | 0.00 | 0.00 | 0.00 | 0.00 | 0.00 | 0.00 | XXX
86226 |  | X | DNA antibody, single strand | 0.00 | 0.00 | 0.00 | 0.00 | 0.00 | 0.00 | 0.00 | 0.00 | 0.00 | 0.00 | XXX
86235 |  | X | Nuclear antigen antibody | 0.00 | 0.00 | 0.00 | 0.00 | 0.00 | 0.00 | 0.00 | 0.00 | 0.00 | 0.00 | XXX
86243 |  | X | Fc receptor | 0.00 | 0.00 | 0.00 | 0.00 | 0.00 | 0.00 | 0.00 | 0.00 | 0.00 | 0.00 | XXX
86255 |  | X | Fluorescent antibody, screen | 0.00 | 0.00 | 0.00 | 0.00 | 0.00 | 0.00 | 0.00 | 0.00 | 0.00 | 0.00 | XXX
86255 | 26 | A | Fluorescent antibody, screen | 0.37 | 0.16 | 0.18 | 0.16 | 0.18 | 0.01 | 0.54 | 0.56 | 0.54 | 0.56 | XXX
86256 |  | X | Fluorescent antibody, titer | 0.00 | 0.00 | 0.00 | 0.00 | 0.00 | 0.00 | 0.00 | 0.00 | 0.00 | 0.00 | XXX
86256 | 26 | A | Fluorescent antibody, titer | 0.37 | 0.16 | 0.18 | 0.16 | 0.18 | 0.01 | 0.54 | 0.56 | 0.54 | 0.56 | XXX
86277 |  | X | Growth hormone antibody | 0.00 | 0.00 | 0.00 | 0.00 | 0.00 | 0.00 | 0.00 | 0.00 | 0.00 | 0.00 | XXX
86280 |  | X | Hemagglutination inhibition | 0.00 | 0.00 | 0.00 | 0.00 | 0.00 | 0.00 | 0.00 | 0.00 | 0.00 | 0.00 | XXX
86294 |  | X | Immunoassay, tumor qual | 0.00 | 0.00 | 0.00 | 0.00 | 0.00 | 0.00 | 0.00 | 0.00 | 0.00 | 0.00 | XXX
86300 |  | X | Immunoassay, tumor ca 15-3 | 0.00 | 0.00 | 0.00 | 0.00 | 0.00 | 0.00 | 0.00 | 0.00 | 0.00 | 0.00 | XXX
86301 |  | X | Immunoassay, tumor, ca 19-9 | 0.00 | 0.00 | 0.00 | 0.00 | 0.00 | 0.00 | 0.00 | 0.00 | 0.00 | 0.00 | XXX
86304 |  | X | Immunoassay, tumor ca 125 | 0.00 | 0.00 | 0.00 | 0.00 | 0.00 | 0.00 | 0.00 | 0.00 | 0.00 | 0.00 | XXX
86308 |  | X | Heterophile antibodies | 0.00 | 0.00 | 0.00 | 0.00 | 0.00 | 0.00 | 0.00 | 0.00 | 0.00 | 0.00 | XXX
86309 |  | X | Heterophile antibodies | 0.00 | 0.00 | 0.00 | 0.00 | 0.00 | 0.00 | 0.00 | 0.00 | 0.00 | 0.00 | XXX
86310 |  | X | Heterophile antibodies | 0.00 | 0.00 | 0.00 | 0.00 | 0.00 | 0.00 | 0.00 | 0.00 | 0.00 | 0.00 | XXX
86316 |  | X | Immunoassay, tumor other | 0.00 | 0.00 | 0.00 | 0.00 | 0.00 | 0.00 | 0.00 | 0.00 | 0.00 | 0.00 | XXX
86317 |  | X | Immunoassay,infectious agent | 0.00 | 0.00 | 0.00 | 0.00 | 0.00 | 0.00 | 0.00 | 0.00 | 0.00 | 0.00 | XXX
86318 |  | X | Immunoassay,infectious agent | 0.00 | 0.00 | 0.00 | 0.00 | 0.00 | 0.00 | 0.00 | 0.00 | 0.00 | 0.00 | XXX
86320 |  | X | Serum immunoelectrophoresis | 0.00 | 0.00 | 0.00 | 0.00 | 0.00 | 0.00 | 0.00 | 0.00 | 0.00 | 0.00 | XXX
86320 | 26 | A | Serum immunoelectrophoresis | 0.37 | 0.16 | 0.18 | 0.16 | 0.18 | 0.01 | 0.54 | 0.56 | 0.54 | 0.56 | XXX
86325 |  | X | Other immunoelectrophoresis | 0.00 | 0.00 | 0.00 | 0.00 | 0.00 | 0.00 | 0.00 | 0.00 | 0.00 | 0.00 | XXX
86325 | 26 | A | Other immunoelectrophoresis | 0.37 | 0.16 | 0.18 | 0.16 | 0.18 | 0.01 | 0.54 | 0.56 | 0.54 | 0.56 | XXX
86327 |  | X | Immunoelectrophoresis assay | 0.00 | 0.00 | 0.00 | 0.00 | 0.00 | 0.00 | 0.00 | 0.00 | 0.00 | 0.00 | XXX
86327 | 26 | A | Immunoelectrophoresis assay | 0.42 | 0.18 | 0.19 | 0.18 | 0.19 | 0.01 | 0.61 | 0.62 | 0.61 | 0.62 | XXX
86329 |  | X | Immunodiffusion | 0.00 | 0.00 | 0.00 | 0.00 | 0.00 | 0.00 | 0.00 | 0.00 | 0.00 | 0.00 | XXX
86331 |  | X | Immunodiffusion ouchterlony | 0.00 | 0.00 | 0.00 | 0.00 | 0.00 | 0.00 | 0.00 | 0.00 | 0.00 | 0.00 | XXX
86332 |  | X | Immune complex assay | 0.00 | 0.00 | 0.00 | 0.00 | 0.00 | 0.00 | 0.00 | 0.00 | 0.00 | 0.00 | XXX
86334 |  | X | Immunofixation procedure | 0.00 | 0.00 | 0.00 | 0.00 | 0.00 | 0.00 | 0.00 | 0.00 | 0.00 | 0.00 | XXX
86334 | 26 | A | Immunofixation procedure | 0.37 | 0.16 | 0.18 | 0.16 | 0.18 | 0.01 | 0.54 | 0.56 | 0.54 | 0.56 | XXX
86337 |  | X | Insulin antibodies | 0.00 | 0.00 | 0.00 | 0.00 | 0.00 | 0.00 | 0.00 | 0.00 | 0.00 | 0.00 | XXX
86340 |  | X | Intrinsic factor antibody | 0.00 | 0.00 | 0.00 | 0.00 | 0.00 | 0.00 | 0.00 | 0.00 | 0.00 | 0.00 | XXX
86341 |  | X | Islet cell antibody | 0.00 | 0.00 | 0.00 | 0.00 | 0.00 | 0.00 | 0.00 | 0.00 | 0.00 | 0.00 | XXX
86343 |  | X | Leukocyte histamine release | 0.00 | 0.00 | 0.00 | 0.00 | 0.00 | 0.00 | 0.00 | 0.00 | 0.00 | 0.00 | XXX
86344 |  | X | Leukocyte phagocytosis | 0.00 | 0.00 | 0.00 | 0.00 | 0.00 | 0.00 | 0.00 | 0.00 | 0.00 | 0.00 | XXX
86353 |  | X | Lymphocyte transformation | 0.00 | 0.00 | 0.00 | 0.00 | 0.00 | 0.00 | 0.00 | 0.00 | 0.00 | 0.00 | XXX
86359 |  | X | T cells, total count | 0.00 | 0.00 | 0.00 | 0.00 | 0.00 | 0.00 | 0.00 | 0.00 | 0.00 | 0.00 | XXX
86360 |  | X | T cell, absolute count/ratio | 0.00 | 0.00 | 0.00 | 0.00 | 0.00 | 0.00 | 0.00 | 0.00 | 0.00 | 0.00 | XXX
86361 |  | X | T cell, absolute count | 0.00 | 0.00 | 0.00 | 0.00 | 0.00 | 0.00 | 0.00 | 0.00 | 0.00 | 0.00 | XXX
86376 |  | X | Microsomal antibody | 0.00 | 0.00 | 0.00 | 0.00 | 0.00 | 0.00 | 0.00 | 0.00 | 0.00 | 0.00 | XXX
86378 |  | X | Migration inhibitory factor | 0.00 | 0.00 | 0.00 | 0.00 | 0.00 | 0.00 | 0.00 | 0.00 | 0.00 | 0.00 | XXX
86382 |  | X | Neutralization test, viral | 0.00 | 0.00 | 0.00 | 0.00 | 0.00 | 0.00 | 0.00 | 0.00 | 0.00 | 0.00 | XXX
86384 |  | X | Nitroblue tetrazolium dye | 0.00 | 0.00 | 0.00 | 0.00 | 0.00 | 0.00 | 0.00 | 0.00 | 0.00 | 0.00 | XXX
86403 |  | X | Particle agglutination test | 0.00 | 0.00 | 0.00 | 0.00 | 0.00 | 0.00 | 0.00 | 0.00 | 0.00 | 0.00 | XXX
86406 |  | X | Particle agglutination test | 0.00 | 0.00 | 0.00 | 0.00 | 0.00 | 0.00 | 0.00 | 0.00 | 0.00 | 0.00 | XXX
86430 |  | X | Rheumatoid factor test | 0.00 | 0.00 | 0.00 | 0.00 | 0.00 | 0.00 | 0.00 | 0.00 | 0.00 | 0.00 | XXX
86431 |  | X | Rheumatoid factor, quant | 0.00 | 0.00 | 0.00 | 0.00 | 0.00 | 0.00 | 0.00 | 0.00 | 0.00 | 0.00 | XXX
86485 |  | C | Skin test, candida | 0.00 | 0.00 | 0.00 | 0.00 | 0.00 | 0.00 | 0.00 | 0.00 | 0.00 | 0.00 | XXX
86490 |  | A | Coccidioidomycosis skin test | 0.00 | 0.29 | 0.29 | NA | NA | 0.02 | 0.31 | 0.31 | NA | NA | XXX
86510 |  | A | Histoplasmosis skin test | 0.00 | 0.32 | 0.32 | NA | NA | 0.02 | 0.34 | 0.34 | NA | NA | XXX
86580 |  | A | TB intradermal test | 0.00 | 0.25 | 0.25 | NA | NA | 0.02 | 0.27 | 0.27 | NA | NA | XXX
86585 |  | A | TB tine test | 0.00 | 0.20 | 0.20 | NA | NA | 0.01 | 0.21 | 0.21 | NA | NA | XXX
86586 |  | C | Skin test, unlisted | 0.00 | 0.00 | 0.00 | 0.00 | 0.00 | 0.00 | 0.00 | 0.00 | 0.00 | 0.00 | XXX
86590 |  | X | Streptokinase, antibody | 0.00 | 0.00 | 0.00 | 0.00 | 0.00 | 0.00 | 0.00 | 0.00 | 0.00 | 0.00 | XXX
86592 |  | X | Blood serology, qualitative | 0.00 | 0.00 | 0.00 | 0.00 | 0.00 | 0.00 | 0.00 | 0.00 | 0.00 | 0.00 | XXX
86593 |  | X | Blood serology, quantitative | 0.00 | 0.00 | 0.00 | 0.00 | 0.00 | 0.00 | 0.00 | 0.00 | 0.00 | 0.00 | XXX
86602 |  | X | Antinomyces antibody | 0.00 | 0.00 | 0.00 | 0.00 | 0.00 | 0.00 | 0.00 | 0.00 | 0.00 | 0.00 | XXX
86603 |  | X | Adenovirus antibody | 0.00 | 0.00 | 0.00 | 0.00 | 0.00 | 0.00 | 0.00 | 0.00 | 0.00 | 0.00 | XXX
86606 |  | X | Aspergillus antibody | 0.00 | 0.00 | 0.00 | 0.00 | 0.00 | 0.00 | 0.00 | 0.00 | 0.00 | 0.00 | XXX
86609 |  | X | Bacterium antibody | 0.00 | 0.00 | 0.00 | 0.00 | 0.00 | 0.00 | 0.00 | 0.00 | 0.00 | 0.00 | XXX
86611 |  | X | Bartonella antibody | 0.00 | 0.00 | 0.00 | 0.00 | 0.00 | 0.00 | 0.00 | 0.00 | 0.00 | 0.00 | XXX
86612 |  | X | Blastomyces antibody | 0.00 | 0.00 | 0.00 | 0.00 | 0.00 | 0.00 | 0.00 | 0.00 | 0.00 | 0.00 | XXX
86615 |  | X | Bordetella antibody | 0.00 | 0.00 | 0.00 | 0.00 | 0.00 | 0.00 | 0.00 | 0.00 | 0.00 | 0.00 | XXX
86617 |  | X | Lyme disease antibody | 0.00 | 0.00 | 0.00 | 0.00 | 0.00 | 0.00 | 0.00 | 0.00 | 0.00 | 0.00 | XXX
86618 |  | X | Lyme disease antibody | 0.00 | 0.00 | 0.00 | 0.00 | 0.00 | 0.00 | 0.00 | 0.00 | 0.00 | 0.00 | XXX
86619 |  | X | Borrelia antibody | 0.00 | 0.00 | 0.00 | 0.00 | 0.00 | 0.00 | 0.00 | 0.00 | 0.00 | 0.00 | XXX
86622 |  | X | Brucella antibody | 0.00 | 0.00 | 0.00 | 0.00 | 0.00 | 0.00 | 0.00 | 0.00 | 0.00 | 0.00 | XXX
86625 |  | X | Campylobacter antibody | 0.00 | 0.00 | 0.00 | 0.00 | 0.00 | 0.00 | 0.00 | 0.00 | 0.00 | 0.00 | XXX
86628 |  | X | Candida antibody | 0.00 | 0.00 | 0.00 | 0.00 | 0.00 | 0.00 | 0.00 | 0.00 | 0.00 | 0.00 | XXX
86631 |  | X | Chlamydia antibody | 0.00 | 0.00 | 0.00 | 0.00 | 0.00 | 0.00 | 0.00 | 0.00 | 0.00 | 0.00 | XXX
86632 |  | X | Chlamydia igm antibody | 0.00 | 0.00 | 0.00 | 0.00 | 0.00 | 0.00 | 0.00 | 0.00 | 0.00 | 0.00 | XXX
86635 |  | X | Coccidioides antibody | 0.00 | 0.00 | 0.00 | 0.00 | 0.00 | 0.00 | 0.00 | 0.00 | 0.00 | 0.00 | XXX
86638 |  | X | Q fever antibody | 0.00 | 0.00 | 0.00 | 0.00 | 0.00 | 0.00 | 0.00 | 0.00 | 0.00 | 0.00 | XXX
86641 |  | X | Cryptococcus antibody | 0.00 | 0.00 | 0.00 | 0.00 | 0.00 | 0.00 | 0.00 | 0.00 | 0.00 | 0.00 | XXX
86644 |  | X | CMV antibody | 0.00 | 0.00 | 0.00 | 0.00 | 0.00 | 0.00 | 0.00 | 0.00 | 0.00 | 0.00 | XXX
86645 |  | X | CMV antibody, IgM | 0.00 | 0.00 | 0.00 | 0.00 | 0.00 | 0.00 | 0.00 | 0.00 | 0.00 | 0.00 | XXX
86648 |  | X | Diphtheria antibody | 0.00 | 0.00 | 0.00 | 0.00 | 0.00 | 0.00 | 0.00 | 0.00 | 0.00 | 0.00 | XXX
86651 |  | X | Encephalitis antibody | 0.00 | 0.00 | 0.00 | 0.00 | 0.00 | 0.00 | 0.00 | 0.00 | 0.00 | 0.00 | XXX
86652 |  | X | Encephalitis antibody | 0.00 | 0.00 | 0.00 | 0.00 | 0.00 | 0.00 | 0.00 | 0.00 | 0.00 | 0.00 | XXX
86653 |  | X | Encephalitis antibody | 0.00 | 0.00 | 0.00 | 0.00 | 0.00 | 0.00 | 0.00 | 0.00 | 0.00 | 0.00 | XXX
86654 |  | X | Encephalitis antibody | 0.00 | 0.00 | 0.00 | 0.00 | 0.00 | 0.00 | 0.00 | 0.00 | 0.00 | 0.00 | XXX
86658 |  | X | Enterovirus antibody | 0.00 | 0.00 | 0.00 | 0.00 | 0.00 | 0.00 | 0.00 | 0.00 | 0.00 | 0.00 | XXX
86663 |  | X | Epstein-barr antibody | 0.00 | 0.00 | 0.00 | 0.00 | 0.00 | 0.00 | 0.00 | 0.00 | 0.00 | 0.00 | XXX
86664 |  | X | Epstein-barr antibody | 0.00 | 0.00 | 0.00 | 0.00 | 0.00 | 0.00 | 0.00 | 0.00 | 0.00 | 0.00 | XXX
86665 |  | X | Epstein-barr antibody | 0.00 | 0.00 | 0.00 | 0.00 | 0.00 | 0.00 | 0.00 | 0.00 | 0.00 | 0.00 | XXX
86666 |  | X | Ehrlichia antibody | 0.00 | 0.00 | 0.00 | 0.00 | 0.00 | 0.00 | 0.00 | 0.00 | 0.00 | 0.00 | XXX
86668 |  | X | Francisella tularensis | 0.00 | 0.00 | 0.00 | 0.00 | 0.00 | 0.00 | 0.00 | 0.00 | 0.00 | 0.00 | XXX
86671 |  | X | Fungus antibody | 0.00 | 0.00 | 0.00 | 0.00 | 0.00 | 0.00 | 0.00 | 0.00 | 0.00 | 0.00 | XXX
86674 |  | X | Giardia lamblia antibody | 0.00 | 0.00 | 0.00 | 0.00 | 0.00 | 0.00 | 0.00 | 0.00 | 0.00 | 0.00 | XXX
86677 |  | X | Helicobacter pylori | 0.00 | 0.00 | 0.00 | 0.00 | 0.00 | 0.00 | 0.00 | 0.00 | 0.00 | 0.00 | XXX
86682 |  | X | Helminth antibody | 0.00 | 0.00 | 0.00 | 0.00 | 0.00 | 0.00 | 0.00 | 0.00 | 0.00 | 0.00 | XXX
86683 |  | X | Hemoglobin, fecal antibody | 0.00 | 0.00 | 0.00 | 0.00 | 0.00 | 0.00 | 0.00 | 0.00 | 0.00 | 0.00 | XXX
86684 |  | X | Hemophilus influenza | 0.00 | 0.00 | 0.00 | 0.00 | 0.00 | 0.00 | 0.00 | 0.00 | 0.00 | 0.00 | XXX
86687 |  | X | Htlv-i antibody | 0.00 | 0.00 | 0.00 | 0.00 | 0.00 | 0.00 | 0.00 | 0.00 | 0.00 | 0.00 | XXX
86688 |  | X | Htlv-ii antibody | 0.00 | 0.00 | 0.00 | 0.00 | 0.00 | 0.00 | 0.00 | 0.00 | 0.00 | 0.00 | XXX
86689 |  | X | HTLV/HIV confirmatory test | 0.00 | 0.00 | 0.00 | 0.00 | 0.00 | 0.00 | 0.00 | 0.00 | 0.00 | 0.00 | XXX
86692 |  | X | Hepatitis, delta agent | 0.00 | 0.00 | 0.00 | 0.00 | 0.00 | 0.00 | 0.00 | 0.00 | 0.00 | 0.00 | XXX
86694 |  | X | Herpes simplex test | 0.00 | 0.00 | 0.00 | 0.00 | 0.00 | 0.00 | 0.00 | 0.00 | 0.00 | 0.00 | XXX
86695 |  | X | Herpes simplex test | 0.00 | 0.00 | 0.00 | 0.00 | 0.00 | 0.00 | 0.00 | 0.00 | 0.00 | 0.00 | XXX
86696 |  | X | Herpes simplex type 2 | 0.00 | 0.00 | 0.00 | 0.00 | 0.00 | 0.00 | 0.00 | 0.00 | 0.00 | 0.00 | XXX
86698 |  | X | Histoplasma | 0.00 | 0.00 | 0.00 | 0.00 | 0.00 | 0.00 | 0.00 | 0.00 | 0.00 | 0.00 | XXX
86701 |  | X | HIV-1 | 0.00 | 0.00 | 0.00 | 0.00 | 0.00 | 0.00 | 0.00 | 0.00 | 0.00 | 0.00 | XXX
86702 |  | X | HIV-2 | 0.00 | 0.00 | 0.00 | 0.00 | 0.00 | 0.00 | 0.00 | 0.00 | 0.00 | 0.00 | XXX
86703 |  | X | HIV-1/HIV-2, single assay | 0.00 | 0.00 | 0.00 | 0.00 | 0.00 | 0.00 | 0.00 | 0.00 | 0.00 | 0.00 | XXX
86704 |  | X | Hep b core antibody, total | 0.00 | 0.00 | 0.00 | 0.00 | 0.00 | 0.00 | 0.00 | 0.00 | 0.00 | 0.00 | XXX
86705 |  | X | Hep b core antibody, igm | 0.00 | 0.00 | 0.00 | 0.00 | 0.00 | 0.00 | 0.00 | 0.00 | 0.00 | 0.00 | XXX
86706 |  | X | Hep b surface antibody | 0.00 | 0.00 | 0.00 | 0.00 | 0.00 | 0.00 | 0.00 | 0.00 | 0.00 | 0.00 | XXX
86707 |  | X | Hep be antibody | 0.00 | 0.00 | 0.00 | 0.00 | 0.00 | 0.00 | 0.00 | 0.00 | 0.00 | 0.00 | XXX
86708 |  | X | Hep a antibody, total | 0.00 | 0.00 | 0.00 | 0.00 | 0.00 | 0.00 | 0.00 | 0.00 | 0.00 | 0.00 | XXX
86709 |  | X | Hep a antibody, igm | 0.00 | 0.00 | 0.00 | 0.00 | 0.00 | 0.00 | 0.00 | 0.00 | 0.00 | 0.00 | XXX
86710 |  | X | Influenza virus antibody | 0.00 | 0.00 | 0.00 | 0.00 | 0.00 | 0.00 | 0.00 | 0.00 | 0.00 | 0.00 | XXX
86713 |  | X | Legionella antibody | 0.00 | 0.00 | 0.00 | 0.00 | 0.00 | 0.00 | 0.00 | 0.00 | 0.00 | 0.00 | XXX
86717 |  | X | Leishmania antibody | 0.00 | 0.00 | 0.00 | 0.00 | 0.00 | 0.00 | 0.00 | 0.00 | 0.00 | 0.00 | XXX
86720 |  | X | Leptospira antibody | 0.00 | 0.00 | 0.00 | 0.00 | 0.00 | 0.00 | 0.00 | 0.00 | 0.00 | 0.00 | XXX
86723 |  | X | Listeria monocytogenes ab | 0.00 | 0.00 | 0.00 | 0.00 | 0.00 | 0.00 | 0.00 | 0.00 | 0.00 | 0.00 | XXX
86727 |  | X | Lymph choriomeningitis ab | 0.00 | 0.00 | 0.00 | 0.00 | 0.00 | 0.00 | 0.00 | 0.00 | 0.00 | 0.00 | XXX
86729 |  | X | Lympho venereum antibody | 0.00 | 0.00 | 0.00 | 0.00 | 0.00 | 0.00 | 0.00 | 0.00 | 0.00 | 0.00 | XXX
86732 |  | X | Mucormycosis antibody | 0.00 | 0.00 | 0.00 | 0.00 | 0.00 | 0.00 | 0.00 | 0.00 | 0.00 | 0.00 | XXX
86735 |  | X | Mumps antibody | 0.00 | 0.00 | 0.00 | 0.00 | 0.00 | 0.00 | 0.00 | 0.00 | 0.00 | 0.00 | XXX
86738 |  | X | Mycoplasma antibody | 0.00 | 0.00 | 0.00 | 0.00 | 0.00 | 0.00 | 0.00 | 0.00 | 0.00 | 0.00 | XXX
86741 |  | X | Neisseria meningitidis | 0.00 | 0.00 | 0.00 | 0.00 | 0.00 | 0.00 | 0.00 | 0.00 | 0.00 | 0.00 | XXX
86744 |  | X | Nocardia antibody | 0.00 | 0.00 | 0.00 | 0.00 | 0.00 | 0.00 | 0.00 | 0.00 | 0.00 | 0.00 | XXX
86747 |  | X | Parvovirus antibody | 0.00 | 0.00 | 0.00 | 0.00 | 0.00 | 0.00 | 0.00 | 0.00 | 0.00 | 0.00 | XXX
86750 |  | X | Malaria antibody | 0.00 | 0.00 | 0.00 | 0.00 | 0.00 | 0.00 | 0.00 | 0.00 | 0.00 | 0.00 | XXX
86753 |  | X | Protozoa antibody nos | 0.00 | 0.00 | 0.00 | 0.00 | 0.00 | 0.00 | 0.00 | 0.00 | 0.00 | 0.00 | XXX
86756 |  | X | Respiratory virus antibody | 0.00 | 0.00 | 0.00 | 0.00 | 0.00 | 0.00 | 0.00 | 0.00 | 0.00 | 0.00 | XXX
86757 |  | X | Rickettsia antibody | 0.00 | 0.00 | 0.00 | 0.00 | 0.00 | 0.00 | 0.00 | 0.00 | 0.00 | 0.00 | XXX
86759 |  | X | Rotavirus antibody | 0.00 | 0.00 | 0.00 | 0.00 | 0.00 | 0.00 | 0.00 | 0.00 | 0.00 | 0.00 | XXX
86762 |  | X | Rubella antibody | 0.00 | 0.00 | 0.00 | 0.00 | 0.00 | 0.00 | 0.00 | 0.00 | 0.00 | 0.00 | XXX
86765 |  | X | Rubeola antibody | 0.00 | 0.00 | 0.00 | 0.00 | 0.00 | 0.00 | 0.00 | 0.00 | 0.00 | 0.00 | XXX
86768 |  | X | Salmonella antibody | 0.00 | 0.00 | 0.00 | 0.00 | 0.00 | 0.00 | 0.00 | 0.00 | 0.00 | 0.00 | XXX
86771 |  | X | Shigella antibody | 0.00 | 0.00 | 0.00 | 0.00 | 0.00 | 0.00 | 0.00 | 0.00 | 0.00 | 0.00 | XXX
86774 |  | X | Tetanus antibody | 0.00 | 0.00 | 0.00 | 0.00 | 0.00 | 0.00 | 0.00 | 0.00 | 0.00 | 0.00 | XXX
86777 |  | X | Toxoplasma antibody | 0.00 | 0.00 | 0.00 | 0.00 | 0.00 | 0.00 | 0.00 | 0.00 | 0.00 | 0.00 | XXX
86778 |  | X | Toxoplasma antibody, igm | 0.00 | 0.00 | 0.00 | 0.00 | 0.00 | 0.00 | 0.00 | 0.00 | 0.00 | 0.00 | XXX
86781 |  | X | Treponema pallidum, confirm | 0.00 | 0.00 | 0.00 | 0.00 | 0.00 | 0.00 | 0.00 | 0.00 | 0.00 | 0.00 | XXX
86784 |  | X | Trichinella antibody | 0.00 | 0.00 | 0.00 | 0.00 | 0.00 | 0.00 | 0.00 | 0.00 | 0.00 | 0.00 | XXX
86787 |  | X | Varicella-zoster antibody | 0.00 | 0.00 | 0.00 | 0.00 | 0.00 | 0.00 | 0.00 | 0.00 | 0.00 | 0.00 | XXX
86790 |  | X | Virus antibody nos | 0.00 | 0.00 | 0.00 | 0.00 | 0.00 | 0.00 | 0.00 | 0.00 | 0.00 | 0.00 | XXX
86793 |  | X | Yersinia antibody | 0.00 | 0.00 | 0.00 | 0.00 | 0.00 | 0.00 | 0.00 | 0.00 | 0.00 | 0.00 | XXX
86800 |  | X | Thyroglobulin antibody | 0.00 | 0.00 | 0.00 | 0.00 | 0.00 | 0.00 | 0.00 | 0.00 | 0.00 | 0.00 | XXX
86803 |  | X | Hepatitis c ab test | 0.00 | 0.00 | 0.00 | 0.00 | 0.00 | 0.00 | 0.00 | 0.00 | 0.00 | 0.00 | XXX
86804 |  | X | Hep c ab test, confirm | 0.00 | 0.00 | 0.00 | 0.00 | 0.00 | 0.00 | 0.00 | 0.00 | 0.00 | 0.00 | XXX
86805 |  | X | Lymphocytotoxicity assay | 0.00 | 0.00 | 0.00 | 0.00 | 0.00 | 0.00 | 0.00 | 0.00 | 0.00 | 0.00 | XXX
86806 |  | X | Lymphocytotoxicity assay | 0.00 | 0.00 | 0.00 | 0.00 | 0.00 | 0.00 | 0.00 | 0.00 | 0.00 | 0.00 | XXX
86807 |  | X | Cytotoxic antibody screening | 0.00 | 0.00 | 0.00 | 0.00 | 0.00 | 0.00 | 0.00 | 0.00 | 0.00 | 0.00 | XXX
86808 |  | X | Cytotoxic antibody screening | 0.00 | 0.00 | 0.00 | 0.00 | 0.00 | 0.00 | 0.00 | 0.00 | 0.00 | 0.00 | XXX
86812 |  | X | HLA typing, A, B, or C | 0.00 | 0.00 | 0.00 | 0.00 | 0.00 | 0.00 | 0.00 | 0.00 | 0.00 | 0.00 | XXX
86813 |  | X | HLA typing, A, B, or C | 0.00 | 0.00 | 0.00 | 0.00 | 0.00 | 0.00 | 0.00 | 0.00 | 0.00 | 0.00 | XXX
86816 |  | X | HLA typing, DR/DQ | 0.00 | 0.00 | 0.00 | 0.00 | 0.00 | 0.00 | 0.00 | 0.00 | 0.00 | 0.00 | XXX
86817 |  | X | HLA typing, DR/DQ | 0.00 | 0.00 | 0.00 | 0.00 | 0.00 | 0.00 | 0.00 | 0.00 | 0.00 | 0.00 | XXX
86821 |  | X | Lymphocyte culture, mixed | 0.00 | 0.00 | 0.00 | 0.00 | 0.00 | 0.00 | 0.00 | 0.00 | 0.00 | 0.00 | XXX
86822 |  | X | Lymphocyte culture, primed | 0.00 | 0.00 | 0.00 | 0.00 | 0.00 | 0.00 | 0.00 | 0.00 | 0.00 | 0.00 | XXX
86849 |  | X | Immunology procedure | 0.00 | 0.00 | 0.00 | 0.00 | 0.00 | 0.00 | 0.00 | 0.00 | 0.00 | 0.00 | XXX
86850 |  | X | RBC antibody screen | 0.00 | 0.00 | 0.00 | 0.00 | 0.00 | 0.00 | 0.00 | 0.00 | 0.00 | 0.00 | XXX
86860 |  | X | RBC antibody elution | 0.00 | 0.00 | 0.00 | 0.00 | 0.00 | 0.00 | 0.00 | 0.00 | 0.00 | 0.00 | XXX
86870 |  | X | RBC antibody identification | 0.00 | 0.00 | 0.00 | 0.00 | 0.00 | 0.00 | 0.00 | 0.00 | 0.00 | 0.00 | XXX
86880 |  | X | Coombs test | 0.00 | 0.00 | 0.00 | 0.00 | 0.00 | 0.00 | 0.00 | 0.00 | 0.00 | 0.00 | XXX
86885 |  | X | Coombs test | 0.00 | 0.00 | 0.00 | 0.00 | 0.00 | 0.00 | 0.00 | 0.00 | 0.00 | 0.00 | XXX
86886 |  | X | Coombs test | 0.00 | 0.00 | 0.00 | 0.00 | 0.00 | 0.00 | 0.00 | 0.00 | 0.00 | 0.00 | XXX
86890 |  | X | Autologous blood process | 0.00 | 0.00 | 0.00 | 0.00 | 0.00 | 0.00 | 0.00 | 0.00 | 0.00 | 0.00 | XXX
86891 |  | X | Autologous blood, op salvage | 0.00 | 0.00 | 0.00 | 0.00 | 0.00 | 0.00 | 0.00 | 0.00 | 0.00 | 0.00 | XXX
86900 |  | X | Blood typing, ABO | 0.00 | 0.00 | 0.00 | 0.00 | 0.00 | 0.00 | 0.00 | 0.00 | 0.00 | 0.00 | XXX
86901 |  | X | Blood typing, Rh (D) | 0.00 | 0.00 | 0.00 | 0.00 | 0.00 | 0.00 | 0.00 | 0.00 | 0.00 | 0.00 | XXX
86903 |  | X | Blood typing, antigen screen | 0.00 | 0.00 | 0.00 | 0.00 | 0.00 | 0.00 | 0.00 | 0.00 | 0.00 | 0.00 | XXX
86904 |  | X | Blood typing, patient serum | 0.00 | 0.00 | 0.00 | 0.00 | 0.00 | 0.00 | 0.00 | 0.00 | 0.00 | 0.00 | XXX
86905 |  | X | Blood typing, RBC antigens | 0.00 | 0.00 | 0.00 | 0.00 | 0.00 | 0.00 | 0.00 | 0.00 | 0.00 | 0.00 | XXX
86906 |  | X | Blood typing, Rh phenotype | 0.00 | 0.00 | 0.00 | 0.00 | 0.00 | 0.00 | 0.00 | 0.00 | 0.00 | 0.00 | XXX
86910 |  | N | Blood typing, paternity test | 0.00 | 0.00 | 0.00 | 0.00 | 0.00 | 0.00 | 0.00 | 0.00 | 0.00 | 0.00 | XXX
86911 |  | N | Blood typing, antigen system | 0.00 | 0.00 | 0.00 | 0.00 | 0.00 | 0.00 | 0.00 | 0.00 | 0.00 | 0.00 | XXX
86915 |  | X | Bone marrow/stem cell prep | 0.00 | 0.00 | 0.00 | 0.00 | 0.00 | 0.00 | 0.00 | 0.00 | 0.00 | 0.00 | XXX
86920 |  | X | Compatibility test | 0.00 | 0.00 | 0.00 | 0.00 | 0.00 | 0.00 | 0.00 | 0.00 | 0.00 | 0.00 | XXX
86921 |  | X | Compatibility test | 0.00 | 0.00 | 0.00 | 0.00 | 0.00 | 0.00 | 0.00 | 0.00 | 0.00 | 0.00 | XXX
86922 |  | X | Compatibility test | 0.00 | 0.00 | 0.00 | 0.00 | 0.00 | 0.00 | 0.00 | 0.00 | 0.00 | 0.00 | XXX
86927 |  | X | Plasma, fresh frozen | 0.00 | 0.00 | 0.00 | 0.00 | 0.00 | 0.00 | 0.00 | 0.00 | 0.00 | 0.00 | XXX
86930 |  | X | Frozen blood prep | 0.00 | 0.00 | 0.00 | 0.00 | 0.00 | 0.00 | 0.00 | 0.00 | 0.00 | 0.00 | XXX
86931 |  | X | Frozen blood thaw | 0.00 | 0.00 | 0.00 | 0.00 | 0.00 | 0.00 | 0.00 | 0.00 | 0.00 | 0.00 | XXX
86932 |  | X | Frozen blood freeze/thaw | 0.00 | 0.00 | 0.00 | 0.00 | 0.00 | 0.00 | 0.00 | 0.00 | 0.00 | 0.00 | XXX
86940 |  | X | Hemolysins/agglutinins, auto | 0.00 | 0.00 | 0.00 | 0.00 | 0.00 | 0.00 | 0.00 | 0.00 | 0.00 | 0.00 | XXX
86941 |  | X | Hemolysins/agglutinins | 0.00 | 0.00 | 0.00 | 0.00 | 0.00 | 0.00 | 0.00 | 0.00 | 0.00 | 0.00 | XXX
86945 |  | X | Blood product/irradiation | 0.00 | 0.00 | 0.00 | 0.00 | 0.00 | 0.00 | 0.00 | 0.00 | 0.00 | 0.00 | XXX
86950 |  | X | Leukacyte transfusion | 0.00 | 0.00 | 0.00 | 0.00 | 0.00 | 0.00 | 0.00 | 0.00 | 0.00 | 0.00 | XXX
86965 |  | X | Pooling blood platelets | 0.00 | 0.00 | 0.00 | 0.00 | 0.00 | 0.00 | 0.00 | 0.00 | 0.00 | 0.00 | XXX
86970 |  | X | RBC pretreatment | 0.00 | 0.00 | 0.00 | 0.00 | 0.00 | 0.00 | 0.00 | 0.00 | 0.00 | 0.00 | XXX
86971 |  | X | RBC pretreatment | 0.00 | 0.00 | 0.00 | 0.00 | 0.00 | 0.00 | 0.00 | 0.00 | 0.00 | 0.00 | XXX
86972 |  | X | RBC pretreatment | 0.00 | 0.00 | 0.00 | 0.00 | 0.00 | 0.00 | 0.00 | 0.00 | 0.00 | 0.00 | XXX
86975 |  | X | RBC pretreatment, serum | 0.00 | 0.00 | 0.00 | 0.00 | 0.00 | 0.00 | 0.00 | 0.00 | 0.00 | 0.00 | XXX
86976 |  | X | RBC pretreatment, serum | 0.00 | 0.00 | 0.00 | 0.00 | 0.00 | 0.00 | 0.00 | 0.00 | 0.00 | 0.00 | XXX
86977 |  | X | RBC pretreatment, serum | 0.00 | 0.00 | 0.00 | 0.00 | 0.00 | 0.00 | 0.00 | 0.00 | 0.00 | 0.00 | XXX
86978 |  | X | RBC pretreatment, serum | 0.00 | 0.00 | 0.00 | 0.00 | 0.00 | 0.00 | 0.00 | 0.00 | 0.00 | 0.00 | XXX
86985 |  | X | Split blood or products | 0.00 | 0.00 | 0.00 | 0.00 | 0.00 | 0.00 | 0.00 | 0.00 | 0.00 | 0.00 | XXX
86999 |  | X | Transfusion procedure | 0.00 | 0.00 | 0.00 | 0.00 | 0.00 | 0.00 | 0.00 | 0.00 | 0.00 | 0.00 | XXX
87001 |  | X | Small animal inoculation | 0.00 | 0.00 | 0.00 | 0.00 | 0.00 | 0.00 | 0.00 | 0.00 | 0.00 | 0.00 | XXX
87003 |  | X | Small animal inoculation | 0.00 | 0.00 | 0.00 | 0.00 | 0.00 | 0.00 | 0.00 | 0.00 | 0.00 | 0.00 | XXX
87015 |  | X | Specimen concentration | 0.00 | 0.00 | 0.00 | 0.00 | 0.00 | 0.00 | 0.00 | 0.00 | 0.00 | 0.00 | XXX
87040 |  | X | Blood culture for bacteria | 0.00 | 0.00 | 0.00 | 0.00 | 0.00 | 0.00 | 0.00 | 0.00 | 0.00 | 0.00 | XXX
87045 |  | X | Stool culture, bacteria | 0.00 | 0.00 | 0.00 | 0.00 | 0.00 | 0.00 | 0.00 | 0.00 | 0.00 | 0.00 | XXX
87046 |  | X | Stool cultr, bacteria, each | 0.00 | 0.00 | 0.00 | 0.00 | 0.00 | 0.00 | 0.00 | 0.00 | 0.00 | 0.00 | XXX
87060 |  | D | Nose/throat culture, bact | 0.00 | 0.00 | 0.00 | 0.00 | 0.00 | 0.00 | 0.00 | 0.00 | 0.00 | 0.00 | XXX
87070 |  | X | Culture, bacteria, other | 0.00 | 0.00 | 0.00 | 0.00 | 0.00 | 0.00 | 0.00 | 0.00 | 0.00 | 0.00 | XXX
87071 |  | X | Culture bacteri aerobic othr | 0.00 | 0.00 | 0.00 | 0.00 | 0.00 | 0.00 | 0.00 | 0.00 | 0.00 | 0.00 | XXX
87072 |  | D | Culture of specimen by kit | 0.00 | 0.00 | 0.00 | 0.00 | 0.00 | 0.00 | 0.00 | 0.00 | 0.00 | 0.00 | XXX
87073 |  | X | Culture bacteria anaerobic | 0.00 | 0.00 | 0.00 | 0.00 | 0.00 | 0.00 | 0.00 | 0.00 | 0.00 | 0.00 | XXX
87075 |  | X | Culture bacteria anaerobic | 0.00 | 0.00 | 0.00 | 0.00 | 0.00 | 0.00 | 0.00 | 0.00 | 0.00 | 0.00 | XXX
87076 |  | X | Culture anaerobe ident, each | 0.00 | 0.00 | 0.00 | 0.00 | 0.00 | 0.00 | 0.00 | 0.00 | 0.00 | 0.00 | XXX
87077 |  | X | Culture aerobic identify | 0.00 | 0.00 | 0.00 | 0.00 | 0.00 | 0.00 | 0.00 | 0.00 | 0.00 | 0.00 | XXX
87081 |  | X | Culture screen only | 0.00 | 0.00 | 0.00 | 0.00 | 0.00 | 0.00 | 0.00 | 0.00 | 0.00 | 0.00 | XXX
87082 |  | D | Culture of specimen by kit | 0.00 | 0.00 | 0.00 | 0.00 | 0.00 | 0.00 | 0.00 | 0.00 | 0.00 | 0.00 | XXX
87083 |  | D | Culture of specimen by kit | 0.00 | 0.00 | 0.00 | 0.00 | 0.00 | 0.00 | 0.00 | 0.00 | 0.00 | 0.00 | XXX
87084 |  | X | Culture of specimen by kit | 0.00 | 0.00 | 0.00 | 0.00 | 0.00 | 0.00 | 0.00 | 0.00 | 0.00 | 0.00 | XXX
87085 |  | D | Culture of specimen by kit | 0.00 | 0.00 | 0.00 | 0.00 | 0.00 | 0.00 | 0.00 | 0.00 | 0.00 | 0.00 | XXX
87086 |  | X | Urine culture/colony count | 0.00 | 0.00 | 0.00 | 0.00 | 0.00 | 0.00 | 0.00 | 0.00 | 0.00 | 0.00 | XXX
87087 |  | D | Urine bacteria culture | 0.00 | 0.00 | 0.00 | 0.00 | 0.00 | 0.00 | 0.00 | 0.00 | 0.00 | 0.00 | XXX
87088 |  | X | Urine bacteria culture | 0.00 | 0.00 | 0.00 | 0.00 | 0.00 | 0.00 | 0.00 | 0.00 | 0.00 | 0.00 | XXX
87101 |  | X | Skin fungi culture | 0.00 | 0.00 | 0.00 | 0.00 | 0.00 | 0.00 | 0.00 | 0.00 | 0.00 | 0.00 | XXX
87102 |  | X | Fungus isolation culture | 0.00 | 0.00 | 0.00 | 0.00 | 0.00 | 0.00 | 0.00 | 0.00 | 0.00 | 0.00 | XXX
87103 |  | X | Blood fungus culture | 0.00 | 0.00 | 0.00 | 0.00 | 0.00 | 0.00 | 0.00 | 0.00 | 0.00 | 0.00 | XXX
87106 |  | X | Fungi identification, yeast | 0.00 | 0.00 | 0.00 | 0.00 | 0.00 | 0.00 | 0.00 | 0.00 | 0.00 | 0.00 | XXX
87107 |  | X | Fungi identification, mold | 0.00 | 0.00 | 0.00 | 0.00 | 0.00 | 0.00 | 0.00 | 0.00 | 0.00 | 0.00 | XXX
87109 |  | X | Mycoplasma | 0.00 | 0.00 | 0.00 | 0.00 | 0.00 | 0.00 | 0.00 | 0.00 | 0.00 | 0.00 | XXX
87110 |  | X | Chlamydia culture | 0.00 | 0.00 | 0.00 | 0.00 | 0.00 | 0.00 | 0.00 | 0.00 | 0.00 | 0.00 | XXX
87116 |  | X | Mycobacteria culture | 0.00 | 0.00 | 0.00 | 0.00 | 0.00 | 0.00 | 0.00 | 0.00 | 0.00 | 0.00 | XXX
87117 |  | D | Mycobacteria culture | 0.00 | 0.00 | 0.00 | 0.00 | 0.00 | 0.00 | 0.00 | 0.00 | 0.00 | 0.00 | XXX
87118 |  | X | Mycobacteric identification | 0.00 | 0.00 | 0.00 | 0.00 | 0.00 | 0.00 | 0.00 | 0.00 | 0.00 | 0.00 | XXX
87140 |  | X | Cultur type immunofluoresc | 0.00 | 0.00 | 0.00 | 0.00 | 0.00 | 0.00 | 0.00 | 0.00 | 0.00 | 0.00 | XXX
87143 |  | X | Culture typing, glc/hplc | 0.00 | 0.00 | 0.00 | 0.00 | 0.00 | 0.00 | 0.00 | 0.00 | 0.00 | 0.00 | XXX
87145 |  | X | Culture typing, phage method | 0.00 | 0.00 | 0.00 | 0.00 | 0.00 | 0.00 | 0.00 | 0.00 | 0.00 | 0.00 | XXX
87147 |  | X | Culture type, immunologic | 0.00 | 0.00 | 0.00 | 0.00 | 0.00 | 0.00 | 0.00 | 0.00 | 0.00 | 0.00 | XXX
87149 |  | X | Culture type, nucleic acid | 0.00 | 0.00 | 0.00 | 0.00 | 0.00 | 0.00 | 0.00 | 0.00 | 0.00 | 0.00 | XXX
87151 |  | D | Culture typing, serologic | 0.00 | 0.00 | 0.00 | 0.00 | 0.00 | 0.00 | 0.00 | 0.00 | 0.00 | 0.00 | XXX
87152 |  | X | Culture type pulse field gel | 0.00 | 0.00 | 0.00 | 0.00 | 0.00 | 0.00 | 0.00 | 0.00 | 0.00 | 0.00 | XXX
87155 |  | D | Culture typing, precipitin | 0.00 | 0.00 | 0.00 | 0.00 | 0.00 | 0.00 | 0.00 | 0.00 | 0.00 | 0.00 | XXX
87158 |  | X | Culture typing, added method | 0.00 | 0.00 | 0.00 | 0.00 | 0.00 | 0.00 | 0.00 | 0.00 | 0.00 | 0.00 | XXX
87163 |  | D | Special microbiology culture | 0.00 | 0.00 | 0.00 | 0.00 | 0.00 | 0.00 | 0.00 | 0.00 | 0.00 | 0.00 | XXX
87164 |  | X | Dark field examination | 0.00 | 0.00 | 0.00 | 0.00 | 0.00 | 0.00 | 0.00 | 0.00 | 0.00 | 0.00 | XXX
87164 | 26 | A | Dark field examination | 0.37 | 0.17 | 0.18 | 0.16 | 0.18 | 0.01 | 0.55 | 0.56 | 0.54 | 0.56 | XXX
87166 |  | X | Dark field examination | 0.00 | 0.00 | 0.00 | 0.00 | 0.00 | 0.00 | 0.00 | 0.00 | 0.00 | 0.00 | XXX
87168 |  | X | Macroscopic exam arthropod | 0.00 | 0.00 | 0.00 | 0.00 | 0.00 | 0.00 | 0.00 | 0.00 | 0.00 | 0.00 | XXX
87169 |  | X | Macacroscopic exam parasite | 0.00 | 0.00 | 0.00 | 0.00 | 0.00 | 0.00 | 0.00 | 0.00 | 0.00 | 0.00 | XXX
87172 |  | X | Pinworm exam | 0.00 | 0.00 | 0.00 | 0.00 | 0.00 | 0.00 | 0.00 | 0.00 | 0.00 | 0.00 | XXX
87174 |  | D | Endotoxin, bacterial | 0.00 | 0.00 | 0.00 | 0.00 | 0.00 | 0.00 | 0.00 | 0.00 | 0.00 | 0.00 | XXX
87175 |  | D | Assay, endotoxin, bacterial | 0.00 | 0.00 | 0.00 | 0.00 | 0.00 | 0.00 | 0.00 | 0.00 | 0.00 | 0.00 | XXX
87176 |  | X | Tissue homogenization, cultr | 0.00 | 0.00 | 0.00 | 0.00 | 0.00 | 0.00 | 0.00 | 0.00 | 0.00 | 0.00 | XXX
87177 |  | X | Ova and parasites smears | 0.00 | 0.00 | 0.00 | 0.00 | 0.00 | 0.00 | 0.00 | 0.00 | 0.00 | 0.00 | XXX
87181 |  | X | Microbe susceptible, diffuse | 0.00 | 0.00 | 0.00 | 0.00 | 0.00 | 0.00 | 0.00 | 0.00 | 0.00 | 0.00 | XXX
87184 |  | X | Microbe susceptible, disk | 0.00 | 0.00 | 0.00 | 0.00 | 0.00 | 0.00 | 0.00 | 0.00 | 0.00 | 0.00 | XXX
87185 |  | X | Microbe susceptible, enzyme | 0.00 | 0.00 | 0.00 | 0.00 | 0.00 | 0.00 | 0.00 | 0.00 | 0.00 | 0.00 | XXX
87186 |  | X | Microbe susceptible, mic | 0.00 | 0.00 | 0.00 | 0.00 | 0.00 | 0.00 | 0.00 | 0.00 | 0.00 | 0.00 | XXX
87187 |  | X | Microbe susceptible, mlc | 0.00 | 0.00 | 0.00 | 0.00 | 0.00 | 0.00 | 0.00 | 0.00 | 0.00 | 0.00 | XXX
87188 |  | X | Microbe suscept, macrobroth | 0.00 | 0.00 | 0.00 | 0.00 | 0.00 | 0.00 | 0.00 | 0.00 | 0.00 | 0.00 | XXX
87190 |  | X | Microbe suscept, mycobacteri | 0.00 | 0.00 | 0.00 | 0.00 | 0.00 | 0.00 | 0.00 | 0.00 | 0.00 | 0.00 | XXX
87192 |  | D | Antibiotic sensitivity, each | 0.00 | 0.00 | 0.00 | 0.00 | 0.00 | 0.00 | 0.00 | 0.00 | 0.00 | 0.00 | XXX
87197 |  | X | Bactericidal level, serum | 0.00 | 0.00 | 0.00 | 0.00 | 0.00 | 0.00 | 0.00 | 0.00 | 0.00 | 0.00 | XXX
87205 |  | X | Smear, gram stain | 0.00 | 0.00 | 0.00 | 0.00 | 0.00 | 0.00 | 0.00 | 0.00 | 0.00 | 0.00 | XXX
87206 |  | X | Smear, fluorescent/acid stai | 0.00 | 0.00 | 0.00 | 0.00 | 0.00 | 0.00 | 0.00 | 0.00 | 0.00 | 0.00 | XXX
87207 |  | X | Smear, special stain | 0.00 | 0.00 | 0.00 | 0.00 | 0.00 | 0.00 | 0.00 | 0.00 | 0.00 | 0.00 | XXX
87207 | 26 | A | Smear, special stain | 0.37 | 0.16 | 0.18 | 0.16 | 0.18 | 0.01 | 0.54 | 0.56 | 0.54 | 0.56 | XXX
87208 |  | X | Smear, stain & interpret | 0.00 | 0.00 | 0.00 | 0.00 | 0.00 | 0.00 | 0.00 | 0.00 | 0.00 | 0.00 | XXX
87210 |  | X | Smear, wet mount, saline/ink | 0.00 | 0.00 | 0.00 | 0.00 | 0.00 | 0.00 | 0.00 | 0.00 | 0.00 | 0.00 | XXX
87211 |  | D | Smear, stain & interpret | 0.00 | 0.00 | 0.00 | 0.00 | 0.00 | 0.00 | 0.00 | 0.00 | 0.00 | 0.00 | XXX
87220 |  | X | Tissue exam for fungi | 0.00 | 0.00 | 0.00 | 0.00 | 0.00 | 0.00 | 0.00 | 0.00 | 0.00 | 0.00 | XXX
87230 |  | X | Assay, toxin or antitoxin | 0.00 | 0.00 | 0.00 | 0.00 | 0.00 | 0.00 | 0.00 | 0.00 | 0.00 | 0.00 | XXX
87250 |  | X | Virus inoculate, eggs/animal | 0.00 | 0.00 | 0.00 | 0.00 | 0.00 | 0.00 | 0.00 | 0.00 | 0.00 | 0.00 | XXX
87252 |  | X | Virus inoculation, tissue | 0.00 | 0.00 | 0.00 | 0.00 | 0.00 | 0.00 | 0.00 | 0.00 | 0.00 | 0.00 | XXX
87253 |  | X | Virus inoculate tissue, addl | 0.00 | 0.00 | 0.00 | 0.00 | 0.00 | 0.00 | 0.00 | 0.00 | 0.00 | 0.00 | XXX
87254 |  | X | Virus inoculation, shell via | 0.00 | 0.00 | 0.00 | 0.00 | 0.00 | 0.00 | 0.00 | 0.00 | 0.00 | 0.00 | XXX
87260 |  | X | Adenovirus ag, if | 0.00 | 0.00 | 0.00 | 0.00 | 0.00 | 0.00 | 0.00 | 0.00 | 0.00 | 0.00 | XXX
87265 |  | X | Pertussis ag, if | 0.00 | 0.00 | 0.00 | 0.00 | 0.00 | 0.00 | 0.00 | 0.00 | 0.00 | 0.00 | XXX
87270 |  | X | Chlamydia trachomatis ag, if | 0.00 | 0.00 | 0.00 | 0.00 | 0.00 | 0.00 | 0.00 | 0.00 | 0.00 | 0.00 | XXX
87272 |  | X | Cryptosporidum/gardia ag, if | 0.00 | 0.00 | 0.00 | 0.00 | 0.00 | 0.00 | 0.00 | 0.00 | 0.00 | 0.00 | XXX
87273 |  | X | Herpes simplex 2, ag, if | 0.00 | 0.00 | 0.00 | 0.00 | 0.00 | 0.00 | 0.00 | 0.00 | 0.00 | 0.00 | XXX
87274 |  | X | Herpes simplex 1, ag, if | 0.00 | 0.00 | 0.00 | 0.00 | 0.00 | 0.00 | 0.00 | 0.00 | 0.00 | 0.00 | XXX
87275 |  | X | Influenza b, ag, if | 0.00 | 0.00 | 0.00 | 0.00 | 0.00 | 0.00 | 0.00 | 0.00 | 0.00 | 0.00 | XXX
87276 |  | X | Influenza a, ag, if | 0.00 | 0.00 | 0.00 | 0.00 | 0.00 | 0.00 | 0.00 | 0.00 | 0.00 | 0.00 | XXX
87277 |  | X | Legionella micdadei, ag, if | 0.00 | 0.00 | 0.00 | 0.00 | 0.00 | 0.00 | 0.00 | 0.00 | 0.00 | 0.00 | XXX
87278 |  | X | Legion pneumophilia ag, if | 0.00 | 0.00 | 0.00 | 0.00 | 0.00 | 0.00 | 0.00 | 0.00 | 0.00 | 0.00 | XXX
87279 |  | X | Parainfluenza, ag, if | 0.00 | 0.00 | 0.00 | 0.00 | 0.00 | 0.00 | 0.00 | 0.00 | 0.00 | 0.00 | XXX
87280 |  | X | Respiratory syncytial ag, if | 0.00 | 0.00 | 0.00 | 0.00 | 0.00 | 0.00 | 0.00 | 0.00 | 0.00 | 0.00 | XXX
87281 |  | X | Pneumocystis carinii, ag, if | 0.00 | 0.00 | 0.00 | 0.00 | 0.00 | 0.00 | 0.00 | 0.00 | 0.00 | 0.00 | XXX
87283 |  | X | Rubeola, ag, if | 0.00 | 0.00 | 0.00 | 0.00 | 0.00 | 0.00 | 0.00 | 0.00 | 0.00 | 0.00 | XXX
87285 |  | X | Treponema pallidum, ag, if | 0.00 | 0.00 | 0.00 | 0.00 | 0.00 | 0.00 | 0.00 | 0.00 | 0.00 | 0.00 | XXX
87290 |  | X | Varicella zoster, ag, if | 0.00 | 0.00 | 0.00 | 0.00 | 0.00 | 0.00 | 0.00 | 0.00 | 0.00 | 0.00 | XXX
87299 |  | X | Antibody detection, nos, if | 0.00 | 0.00 | 0.00 | 0.00 | 0.00 | 0.00 | 0.00 | 0.00 | 0.00 | 0.00 | XXX
87300 |  | X | Ag detection, polyval, if | 0.00 | 0.00 | 0.00 | 0.00 | 0.00 | 0.00 | 0.00 | 0.00 | 0.00 | 0.00 | XXX
87301 |  | X | Adenovirus ag, eia | 0.00 | 0.00 | 0.00 | 0.00 | 0.00 | 0.00 | 0.00 | 0.00 | 0.00 | 0.00 | XXX
87320 |  | X | Chylmd trach ag, eia | 0.00 | 0.00 | 0.00 | 0.00 | 0.00 | 0.00 | 0.00 | 0.00 | 0.00 | 0.00 | XXX
87324 |  | X | Clostridium ag, eia | 0.00 | 0.00 | 0.00 | 0.00 | 0.00 | 0.00 | 0.00 | 0.00 | 0.00 | 0.00 | XXX
87327 |  | X | Cryptococcus neoform ag, eia | 0.00 | 0.00 | 0.00 | 0.00 | 0.00 | 0.00 | 0.00 | 0.00 | 0.00 | 0.00 | XXX
87328 |  | X | Cryptospor ag, eia | 0.00 | 0.00 | 0.00 | 0.00 | 0.00 | 0.00 | 0.00 | 0.00 | 0.00 | 0.00 | XXX
87332 |  | X | Cytomegalovirus ag, eia | 0.00 | 0.00 | 0.00 | 0.00 | 0.00 | 0.00 | 0.00 | 0.00 | 0.00 | 0.00 | XXX
87335 |  | X | E coli 0157 ag, eia | 0.00 | 0.00 | 0.00 | 0.00 | 0.00 | 0.00 | 0.00 | 0.00 | 0.00 | 0.00 | XXX
87336 |  | X | Entamoeb hist dispr, ag, eia | 0.00 | 0.00 | 0.00 | 0.00 | 0.00 | 0.00 | 0.00 | 0.00 | 0.00 | 0.00 | XXX
87337 |  | X | Entamoeb hist group, ag, eia | 0.00 | 0.00 | 0.00 | 0.00 | 0.00 | 0.00 | 0.00 | 0.00 | 0.00 | 0.00 | XXX
87338 |  | X | Hpylori, stool, eia | 0.00 | 0.00 | 0.00 | 0.00 | 0.00 | 0.00 | 0.00 | 0.00 | 0.00 | 0.00 | XXX
87339 |  | X | Hpylori ag, eia | 0.00 | 0.00 | 0.00 | 0.00 | 0.00 | 0.00 | 0.00 | 0.00 | 0.00 | 0.00 | XXX
87340 |  | X | Hepatitis b surface ag, eia | 0.00 | 0.00 | 0.00 | 0.00 | 0.00 | 0.00 | 0.00 | 0.00 | 0.00 | 0.00 | XXX
87341 |  | X | Hepatitis b surface, ag, eia | 0.00 | 0.00 | 0.00 | 0.00 | 0.00 | 0.00 | 0.00 | 0.00 | 0.00 | 0.00 | XXX
87350 |  | X | Hepatitis be ag, eia | 0.00 | 0.00 | 0.00 | 0.00 | 0.00 | 0.00 | 0.00 | 0.00 | 0.00 | 0.00 | XXX
87380 |  | X | Hepatitis delta ag, eia | 0.00 | 0.00 | 0.00 | 0.00 | 0.00 | 0.00 | 0.00 | 0.00 | 0.00 | 0.00 | XXX
87385 |  | X | Histoplasma capsul ag, eia | 0.00 | 0.00 | 0.00 | 0.00 | 0.00 | 0.00 | 0.00 | 0.00 | 0.00 | 0.00 | XXX
87390 |  | X | Hiv-1 ag, eia | 0.00 | 0.00 | 0.00 | 0.00 | 0.00 | 0.00 | 0.00 | 0.00 | 0.00 | 0.00 | XXX
87391 |  | X | Hiv-2 ag, eia | 0.00 | 0.00 | 0.00 | 0.00 | 0.00 | 0.00 | 0.00 | 0.00 | 0.00 | 0.00 | XXX
87400 |  | X | Influenza a/b, ag, eia | 0.00 | 0.00 | 0.00 | 0.00 | 0.00 | 0.00 | 0.00 | 0.00 | 0.00 | 0.00 | XXX
87420 |  | X | Resp syncytial ag, eia | 0.00 | 0.00 | 0.00 | 0.00 | 0.00 | 0.00 | 0.00 | 0.00 | 0.00 | 0.00 | XXX
87425 |  | X | Rotavirus ag, eia | 0.00 | 0.00 | 0.00 | 0.00 | 0.00 | 0.00 | 0.00 | 0.00 | 0.00 | 0.00 | XXX
87427 |  | X | Shiga-like toxin ag, eia | 0.00 | 0.00 | 0.00 | 0.00 | 0.00 | 0.00 | 0.00 | 0.00 | 0.00 | 0.00 | XXX
87430 |  | X | Strep a ag, eia | 0.00 | 0.00 | 0.00 | 0.00 | 0.00 | 0.00 | 0.00 | 0.00 | 0.00 | 0.00 | XXX
87449 |  | X | Ag detect nos, eia, mult | 0.00 | 0.00 | 0.00 | 0.00 | 0.00 | 0.00 | 0.00 | 0.00 | 0.00 | 0.00 | XXX
87450 |  | X | Ag detect nos, eia, single | 0.00 | 0.00 | 0.00 | 0.00 | 0.00 | 0.00 | 0.00 | 0.00 | 0.00 | 0.00 | XXX
87451 |  | X | Ag detect polyval, eia, mult | 0.00 | 0.00 | 0.00 | 0.00 | 0.00 | 0.00 | 0.00 | 0.00 | 0.00 | 0.00 | XXX
87470 |  | X | Bartonella, dna, dir probe | 0.00 | 0.00 | 0.00 | 0.00 | 0.00 | 0.00 | 0.00 | 0.00 | 0.00 | 0.00 | XXX
87471 |  | X | Bartonella, dna, amp probe | 0.00 | 0.00 | 0.00 | 0.00 | 0.00 | 0.00 | 0.00 | 0.00 | 0.00 | 0.00 | XXX
87472 |  | X | Bartonella, dna, quant | 0.00 | 0.00 | 0.00 | 0.00 | 0.00 | 0.00 | 0.00 | 0.00 | 0.00 | 0.00 | XXX
87475 |  | X | Lyme dis, dna, dir probe | 0.00 | 0.00 | 0.00 | 0.00 | 0.00 | 0.00 | 0.00 | 0.00 | 0.00 | 0.00 | XXX
87476 |  | X | Lyme dis, dna, amp probe | 0.00 | 0.00 | 0.00 | 0.00 | 0.00 | 0.00 | 0.00 | 0.00 | 0.00 | 0.00 | XXX
87477 |  | X | Lyme dis, dna, quant | 0.00 | 0.00 | 0.00 | 0.00 | 0.00 | 0.00 | 0.00 | 0.00 | 0.00 | 0.00 | XXX
87480 |  | X | Candida, dna, dir probe | 0.00 | 0.00 | 0.00 | 0.00 | 0.00 | 0.00 | 0.00 | 0.00 | 0.00 | 0.00 | XXX
87481 |  | X | Candida, dna, amp probe | 0.00 | 0.00 | 0.00 | 0.00 | 0.00 | 0.00 | 0.00 | 0.00 | 0.00 | 0.00 | XXX
87482 |  | X | Candida, dna, quant | 0.00 | 0.00 | 0.00 | 0.00 | 0.00 | 0.00 | 0.00 | 0.00 | 0.00 | 0.00 | XXX
87485 |  | X | Chylmd pneum, dna, dir probe | 0.00 | 0.00 | 0.00 | 0.00 | 0.00 | 0.00 | 0.00 | 0.00 | 0.00 | 0.00 | XXX
87486 |  | X | Chylmd pneum, dna, amp probe | 0.00 | 0.00 | 0.00 | 0.00 | 0.00 | 0.00 | 0.00 | 0.00 | 0.00 | 0.00 | XXX
87487 |  | X | Chylmd pneum, dna, quant | 0.00 | 0.00 | 0.00 | 0.00 | 0.00 | 0.00 | 0.00 | 0.00 | 0.00 | 0.00 | XXX
87490 |  | X | Chylmd trach, dna, dir probe | 0.00 | 0.00 | 0.00 | 0.00 | 0.00 | 0.00 | 0.00 | 0.00 | 0.00 | 0.00 | XXX
87491 |  | X | Chylmd trach, dna, amp probe | 0.00 | 0.00 | 0.00 | 0.00 | 0.00 | 0.00 | 0.00 | 0.00 | 0.00 | 0.00 | XXX
87492 |  | X | Chylmd trach, dna, quant | 0.00 | 0.00 | 0.00 | 0.00 | 0.00 | 0.00 | 0.00 | 0.00 | 0.00 | 0.00 | XXX
87495 |  | X | Cytomeg, dna, dir probe | 0.00 | 0.00 | 0.00 | 0.00 | 0.00 | 0.00 | 0.00 | 0.00 | 0.00 | 0.00 | XXX
87496 |  | X | Cytomeg, dna, amp probe | 0.00 | 0.00 | 0.00 | 0.00 | 0.00 | 0.00 | 0.00 | 0.00 | 0.00 | 0.00 | XXX
87497 |  | X | Cytomeg, dna, quant | 0.00 | 0.00 | 0.00 | 0.00 | 0.00 | 0.00 | 0.00 | 0.00 | 0.00 | 0.00 | XXX
87510 |  | X | Gardner vag, dna, dir probe | 0.00 | 0.00 | 0.00 | 0.00 | 0.00 | 0.00 | 0.00 | 0.00 | 0.00 | 0.00 | XXX
87511 |  | X | Gardner vag, dna, amp probe | 0.00 | 0.00 | 0.00 | 0.00 | 0.00 | 0.00 | 0.00 | 0.00 | 0.00 | 0.00 | XXX
87512 |  | X | Gardner vag, dna, quant | 0.00 | 0.00 | 0.00 | 0.00 | 0.00 | 0.00 | 0.00 | 0.00 | 0.00 | 0.00 | XXX
87515 |  | X | Hepatitis b, dna, dir probe | 0.00 | 0.00 | 0.00 | 0.00 | 0.00 | 0.00 | 0.00 | 0.00 | 0.00 | 0.00 | XXX
87516 |  | X | Hepatitis b , dna, amp probe | 0.00 | 0.00 | 0.00 | 0.00 | 0.00 | 0.00 | 0.00 | 0.00 | 0.00 | 0.00 | XXX
87517 |  | X | Hepatitis b , dna, quant | 0.00 | 0.00 | 0.00 | 0.00 | 0.00 | 0.00 | 0.00 | 0.00 | 0.00 | 0.00 | XXX
87520 |  | X | Hepatitis c , rna, dir probe | 0.00 | 0.00 | 0.00 | 0.00 | 0.00 | 0.00 | 0.00 | 0.00 | 0.00 | 0.00 | XXX
87521 |  | X | Hepatitis c , rna, amp probe | 0.00 | 0.00 | 0.00 | 0.00 | 0.00 | 0.00 | 0.00 | 0.00 | 0.00 | 0.00 | XXX
87522 |  | X | Hepatitis c, rna, quant | 0.00 | 0.00 | 0.00 | 0.00 | 0.00 | 0.00 | 0.00 | 0.00 | 0.00 | 0.00 | XXX
87525 |  | X | Hepatitis g , dna, dir probe | 0.00 | 0.00 | 0.00 | 0.00 | 0.00 | 0.00 | 0.00 | 0.00 | 0.00 | 0.00 | XXX
87526 |  | X | Hepatitis g, dna, amp probe | 0.00 | 0.00 | 0.00 | 0.00 | 0.00 | 0.00 | 0.00 | 0.00 | 0.00 | 0.00 | XXX
87527 |  | X | Hepatitis g, dna, quant | 0.00 | 0.00 | 0.00 | 0.00 | 0.00 | 0.00 | 0.00 | 0.00 | 0.00 | 0.00 | XXX
87528 |  | X | Hsv, dna, dir probe | 0.00 | 0.00 | 0.00 | 0.00 | 0.00 | 0.00 | 0.00 | 0.00 | 0.00 | 0.00 | XXX
87529 |  | X | Hsv, dna, amp probe | 0.00 | 0.00 | 0.00 | 0.00 | 0.00 | 0.00 | 0.00 | 0.00 | 0.00 | 0.00 | XXX
87530 |  | X | Hsv, dna, quant | 0.00 | 0.00 | 0.00 | 0.00 | 0.00 | 0.00 | 0.00 | 0.00 | 0.00 | 0.00 | XXX
87531 |  | X | Hhv-6, dna, dir probe | 0.00 | 0.00 | 0.00 | 0.00 | 0.00 | 0.00 | 0.00 | 0.00 | 0.00 | 0.00 | XXX
87532 |  | X | Hhv-6, dna, amp probe | 0.00 | 0.00 | 0.00 | 0.00 | 0.00 | 0.00 | 0.00 | 0.00 | 0.00 | 0.00 | XXX
87533 |  | X | Hhv-6, dna, quant | 0.00 | 0.00 | 0.00 | 0.00 | 0.00 | 0.00 | 0.00 | 0.00 | 0.00 | 0.00 | XXX
87534 |  | X | Hiv-1, dna, dir probe | 0.00 | 0.00 | 0.00 | 0.00 | 0.00 | 0.00 | 0.00 | 0.00 | 0.00 | 0.00 | XXX
87535 |  | X | Hiv-1, dna, amp probe | 0.00 | 0.00 | 0.00 | 0.00 | 0.00 | 0.00 | 0.00 | 0.00 | 0.00 | 0.00 | XXX
87536 |  | X | Hiv-1, dna, quant | 0.00 | 0.00 | 0.00 | 0.00 | 0.00 | 0.00 | 0.00 | 0.00 | 0.00 | 0.00 | XXX
87537 |  | X | Hiv-2, dna, dir probe | 0.00 | 0.00 | 0.00 | 0.00 | 0.00 | 0.00 | 0.00 | 0.00 | 0.00 | 0.00 | XXX
87538 |  | X | Hiv-2, dna, amp probe | 0.00 | 0.00 | 0.00 | 0.00 | 0.00 | 0.00 | 0.00 | 0.00 | 0.00 | 0.00 | XXX
87539 |  | X | Hiv-2, dna, quant | 0.00 | 0.00 | 0.00 | 0.00 | 0.00 | 0.00 | 0.00 | 0.00 | 0.00 | 0.00 | XXX
87540 |  | X | Legion pneumo, dna, dir prob | 0.00 | 0.00 | 0.00 | 0.00 | 0.00 | 0.00 | 0.00 | 0.00 | 0.00 | 0.00 | XXX
87541 |  | X | Legion pneumo, dna, amp prob | 0.00 | 0.00 | 0.00 | 0.00 | 0.00 | 0.00 | 0.00 | 0.00 | 0.00 | 0.00 | XXX
87542 |  | X | Legion pneumo, dna, quant | 0.00 | 0.00 | 0.00 | 0.00 | 0.00 | 0.00 | 0.00 | 0.00 | 0.00 | 0.00 | XXX
87550 |  | X | Mycobacteria, dna, dir probe | 0.00 | 0.00 | 0.00 | 0.00 | 0.00 | 0.00 | 0.00 | 0.00 | 0.00 | 0.00 | XXX
87551 |  | X | Mycobacteria, dna, amp probe | 0.00 | 0.00 | 0.00 | 0.00 | 0.00 | 0.00 | 0.00 | 0.00 | 0.00 | 0.00 | XXX
87552 |  | X | Mycobacteria, dna, quant | 0.00 | 0.00 | 0.00 | 0.00 | 0.00 | 0.00 | 0.00 | 0.00 | 0.00 | 0.00 | XXX
87555 |  | X | M.tuberculo, dna, dir probe | 0.00 | 0.00 | 0.00 | 0.00 | 0.00 | 0.00 | 0.00 | 0.00 | 0.00 | 0.00 | XXX
87556 |  | X | M.tuberculo, dna, amp probe | 0.00 | 0.00 | 0.00 | 0.00 | 0.00 | 0.00 | 0.00 | 0.00 | 0.00 | 0.00 | XXX
87557 |  | X | M.tuberculo, dna, quant | 0.00 | 0.00 | 0.00 | 0.00 | 0.00 | 0.00 | 0.00 | 0.00 | 0.00 | 0.00 | XXX
87560 |  | X | M.avium-intra, dna, dir prob | 0.00 | 0.00 | 0.00 | 0.00 | 0.00 | 0.00 | 0.00 | 0.00 | 0.00 | 0.00 | XXX
87561 |  | X | M.avium-intra, dna, amp prob | 0.00 | 0.00 | 0.00 | 0.00 | 0.00 | 0.00 | 0.00 | 0.00 | 0.00 | 0.00 | XXX
87562 |  | X | M.avium-intra, dna, quant | 0.00 | 0.00 | 0.00 | 0.00 | 0.00 | 0.00 | 0.00 | 0.00 | 0.00 | 0.00 | XXX
87580 |  | X | M.pneumon, dna, dir probe | 0.00 | 0.00 | 0.00 | 0.00 | 0.00 | 0.00 | 0.00 | 0.00 | 0.00 | 0.00 | XXX
87581 |  | X | M.pneumon, dna, amp probe | 0.00 | 0.00 | 0.00 | 0.00 | 0.00 | 0.00 | 0.00 | 0.00 | 0.00 | 0.00 | XXX
87582 |  | X | M.pneumon, dna, quant | 0.00 | 0.00 | 0.00 | 0.00 | 0.00 | 0.00 | 0.00 | 0.00 | 0.00 | 0.00 | XXX
87590 |  | X | N.gonorrhoeae, dna, dir prob | 0.00 | 0.00 | 0.00 | 0.00 | 0.00 | 0.00 | 0.00 | 0.00 | 0.00 | 0.00 | XXX
87591 |  | X | N.gonorrhoeae, dna, amp prob | 0.00 | 0.00 | 0.00 | 0.00 | 0.00 | 0.00 | 0.00 | 0.00 | 0.00 | 0.00 | XXX
87592 |  | X | N.gonorrhoeae, dna, quant | 0.00 | 0.00 | 0.00 | 0.00 | 0.00 | 0.00 | 0.00 | 0.00 | 0.00 | 0.00 | XXX
87620 |  | X | Hpv, dna, dir probe | 0.00 | 0.00 | 0.00 | 0.00 | 0.00 | 0.00 | 0.00 | 0.00 | 0.00 | 0.00 | XXX
87621 |  | X | Hpv, dna, amp probe | 0.00 | 0.00 | 0.00 | 0.00 | 0.00 | 0.00 | 0.00 | 0.00 | 0.00 | 0.00 | XXX
87622 |  | X | Hpv, dna, quant | 0.00 | 0.00 | 0.00 | 0.00 | 0.00 | 0.00 | 0.00 | 0.00 | 0.00 | 0.00 | XXX
87650 |  | X | Strep a, dna, dir probe | 0.00 | 0.00 | 0.00 | 0.00 | 0.00 | 0.00 | 0.00 | 0.00 | 0.00 | 0.00 | XXX
87651 |  | X | Strep a, dna, amp probe | 0.00 | 0.00 | 0.00 | 0.00 | 0.00 | 0.00 | 0.00 | 0.00 | 0.00 | 0.00 | XXX
87652 |  | X | Strep a, dna, quant | 0.00 | 0.00 | 0.00 | 0.00 | 0.00 | 0.00 | 0.00 | 0.00 | 0.00 | 0.00 | XXX
87797 |  | X | Detect agent nos, dna, dir | 0.00 | 0.00 | 0.00 | 0.00 | 0.00 | 0.00 | 0.00 | 0.00 | 0.00 | 0.00 | XXX
87798 |  | X | Detect agent nos, dna, amp | 0.00 | 0.00 | 0.00 | 0.00 | 0.00 | 0.00 | 0.00 | 0.00 | 0.00 | 0.00 | XXX
87799 |  | X | Detect agent nos, dna, quant | 0.00 | 0.00 | 0.00 | 0.00 | 0.00 | 0.00 | 0.00 | 0.00 | 0.00 | 0.00 | XXX
87800 |  | X | Detect agnt mult, dna, direc | 0.00 | 0.00 | 0.00 | 0.00 | 0.00 | 0.00 | 0.00 | 0.00 | 0.00 | 0.00 | XXX
87801 |  | X | Detect agnt mult, dna, ampli | 0.00 | 0.00 | 0.00 | 0.00 | 0.00 | 0.00 | 0.00 | 0.00 | 0.00 | 0.00 | XXX
87810 |  | X | Chylmd trach assay w/optic | 0.00 | 0.00 | 0.00 | 0.00 | 0.00 | 0.00 | 0.00 | 0.00 | 0.00 | 0.00 | XXX
87850 |  | X | N. gonorrhoeae assay w/optic | 0.00 | 0.00 | 0.00 | 0.00 | 0.00 | 0.00 | 0.00 | 0.00 | 0.00 | 0.00 | XXX
87880 |  | X | Strep a assay w/optic | 0.00 | 0.00 | 0.00 | 0.00 | 0.00 | 0.00 | 0.00 | 0.00 | 0.00 | 0.00 | XXX
87899 |  | X | Agent nos assay w/optic | 0.00 | 0.00 | 0.00 | 0.00 | 0.00 | 0.00 | 0.00 | 0.00 | 0.00 | 0.00 | XXX
87901 |  | X | Genotype, dna, hiv reverse t | 0.00 | 0.00 | 0.00 | 0.00 | 0.00 | 0.00 | 0.00 | 0.00 | 0.00 | 0.00 | XXX
87903 |  | X | Phenotype, dna hiv w/culture | 0.00 | 0.00 | 0.00 | 0.00 | 0.00 | 0.00 | 0.00 | 0.00 | 0.00 | 0.00 | XXX
87904 |  | X | Phenotype, dna hiv w/clt add | 0.00 | 0.00 | 0.00 | 0.00 | 0.00 | 0.00 | 0.00 | 0.00 | 0.00 | 0.00 | XXX
87999 |  | X | Microbiology procedure | 0.00 | 0.00 | 0.00 | 0.00 | 0.00 | 0.00 | 0.00 | 0.00 | 0.00 | 0.00 | XXX
88000 |  | N | Autopsy (necropsy), gross | 0.00 | 0.00 | 0.00 | 0.00 | 0.00 | 0.00 | 0.00 | 0.00 | 0.00 | 0.00 | XXX
88005 |  | N | Autopsy (necropsy), gross | 0.00 | 0.00 | 0.00 | 0.00 | 0.00 | 0.00 | 0.00 | 0.00 | 0.00 | 0.00 | XXX
88007 |  | N | Autopsy (necropsy), gross | 0.00 | 0.00 | 0.00 | 0.00 | 0.00 | 0.00 | 0.00 | 0.00 | 0.00 | 0.00 | XXX
88012 |  | N | Autopsy (necropsy), gross | 0.00 | 0.00 | 0.00 | 0.00 | 0.00 | 0.00 | 0.00 | 0.00 | 0.00 | 0.00 | XXX
88014 |  | N | Autopsy (necropsy), gross | 0.00 | 0.00 | 0.00 | 0.00 | 0.00 | 0.00 | 0.00 | 0.00 | 0.00 | 0.00 | XXX
88016 |  | N | Autopsy (necropsy), gross | 0.00 | 0.00 | 0.00 | 0.00 | 0.00 | 0.00 | 0.00 | 0.00 | 0.00 | 0.00 | XXX
88020 |  | N | Autopsy (necropsy), complete | 0.00 | 0.00 | 0.00 | 0.00 | 0.00 | 0.00 | 0.00 | 0.00 | 0.00 | 0.00 | XXX
88025 |  | N | Autopsy (necropsy), complete | 0.00 | 0.00 | 0.00 | 0.00 | 0.00 | 0.00 | 0.00 | 0.00 | 0.00 | 0.00 | XXX
88027 |  | N | Autopsy (necropsy), complete | 0.00 | 0.00 | 0.00 | 0.00 | 0.00 | 0.00 | 0.00 | 0.00 | 0.00 | 0.00 | XXX
88028 |  | N | Autopsy (necropsy), complete | 0.00 | 0.00 | 0.00 | 0.00 | 0.00 | 0.00 | 0.00 | 0.00 | 0.00 | 0.00 | XXX
88029 |  | N | Autopsy (necropsy), complete | 0.00 | 0.00 | 0.00 | 0.00 | 0.00 | 0.00 | 0.00 | 0.00 | 0.00 | 0.00 | XXX
88036 |  | N | Limited autopsy | 0.00 | 0.00 | 0.00 | 0.00 | 0.00 | 0.00 | 0.00 | 0.00 | 0.00 | 0.00 | XXX
88037 |  | N | Limited autopsy | 0.00 | 0.00 | 0.00 | 0.00 | 0.00 | 0.00 | 0.00 | 0.00 | 0.00 | 0.00 | XXX
88040 |  | N | Forensic autopsy (necropsy) | 0.00 | 0.00 | 0.00 | 0.00 | 0.00 | 0.00 | 0.00 | 0.00 | 0.00 | 0.00 | XXX
88045 |  | N | Coroner's autopsy (necropsy) | 0.00 | 0.00 | 0.00 | 0.00 | 0.00 | 0.00 | 0.00 | 0.00 | 0.00 | 0.00 | XXX
88099 |  | N | Necropsy (autopsy) procedure | 0.00 | 0.00 | 0.00 | 0.00 | 0.00 | 0.00 | 0.00 | 0.00 | 0.00 | 0.00 | XXX
88104 |  | A | Cytopathology, fluids | 0.56 | 0.79 | 0.71 | 0.79 | 0.71 | 0.04 | 1.39 | 1.31 | 1.39 | 1.31 | XXX
88104 | 26 | A | Cytopathology, fluids | 0.56 | 0.24 | 0.24 | 0.24 | 0.24 | 0.02 | 0.82 | 0.82 | 0.82 | 0.82 | XXX
88104 | TC | A | Cytopathology, fluids | 0.00 | 0.55 | 0.47 | NA | NA | 0.02 | 0.57 | 0.49 | NA | NA | XXX
88106 |  | A | Cytopathology, fluids | 0.56 | 0.54 | 0.51 | 0.54 | 0.51 | 0.04 | 1.14 | 1.11 | 1.14 | 1.11 | XXX
88106 | 26 | A | Cytopathology, fluids | 0.56 | 0.24 | 0.24 | 0.24 | 0.24 | 0.02 | 0.82 | 0.82 | 0.82 | 0.82 | XXX
88106 | TC | A | Cytopathology, fluids | 0.00 | 0.30 | 0.27 | NA | NA | 0.02 | 0.32 | 0.29 | NA | NA | XXX
88107 |  | A | Cytopathology, fluids | 0.76 | 0.87 | 0.78 | 0.87 | 0.78 | 0.05 | 1.68 | 1.59 | 1.68 | 1.59 | XXX
88107 | 26 | A | Cytopathology, fluids | 0.76 | 0.33 | 0.31 | 0.33 | 0.31 | 0.03 | 1.12 | 1.10 | 1.12 | 1.10 | XXX
88107 | TC | A | Cytopathology, fluids | 0.00 | 0.54 | 0.47 | NA | NA | 0.02 | 0.56 | 0.49 | NA | NA | XXX
88108 |  | A | Cytopath, concentrate tech | 0.56 | 0.70 | 0.66 | 0.70 | 0.66 | 0.04 | 1.30 | 1.26 | 1.30 | 1.26 | XXX
88108 | 26 | A | Cytopath, concentrate tech | 0.56 | 0.24 | 0.25 | 0.24 | 0.25 | 0.02 | 0.82 | 0.83 | 0.82 | 0.83 | XXX
88108 | TC | A | Cytopath, concentrate tech | 0.00 | 0.46 | 0.41 | NA | NA | 0.02 | 0.48 | 0.43 | NA | NA | XXX
88125 |  | A | Forensic cytopathology | 0.26 | 0.32 | 0.27 | 0.32 | 0.27 | 0.02 | 0.60 | 0.55 | 0.60 | 0.55 | XXX
88125 | 26 | A | Forensic cytopathology | 0.26 | 0.11 | 0.10 | 0.11 | 0.10 | 0.01 | 0.38 | 0.37 | 0.38 | 0.37 | XXX
88125 | TC | A | Forensic cytopathology | 0.00 | 0.21 | 0.17 | NA | NA | 0.01 | 0.22 | 0.18 | NA | NA | XXX
88130 |  | X | Sex chromatin identification | 0.00 | 0.00 | 0.00 | 0.00 | 0.00 | 0.00 | 0.00 | 0.00 | 0.00 | 0.00 | XXX
88140 |  | X | Sex chromatin identification | 0.00 | 0.00 | 0.00 | 0.00 | 0.00 | 0.00 | 0.00 | 0.00 | 0.00 | 0.00 | XXX
88141 |  | A | Cytopath, c/v, interpret | 0.42 | 0.18 | 0.22 | 0.18 | 0.22 | 0.01 | 0.61 | 0.65 | 0.61 | 0.65 | XXX
88142 |  | X | Cytopath, c/v, thin layer | 0.00 | 0.00 | 0.00 | 0.00 | 0.00 | 0.00 | 0.00 | 0.00 | 0.00 | 0.00 | XXX
88143 |  | X | Cytopath c/v thin layer redo | 0.00 | 0.00 | 0.00 | 0.00 | 0.00 | 0.00 | 0.00 | 0.00 | 0.00 | 0.00 | XXX
88144 |  | X | Cytopath, c/v thin lyr redo | 0.00 | 0.00 | 0.00 | 0.00 | 0.00 | 0.00 | 0.00 | 0.00 | 0.00 | 0.00 | XXX
88145 |  | X | Cytopath, c/v thin lyr sel | 0.00 | 0.00 | 0.00 | 0.00 | 0.00 | 0.00 | 0.00 | 0.00 | 0.00 | 0.00 | XXX
88147 |  | X | Cytopath, c/v, automated | 0.00 | 0.00 | 0.00 | 0.00 | 0.00 | 0.00 | 0.00 | 0.00 | 0.00 | 0.00 | XXX
88148 |  | X | Cytopath, c/v, auto rescreen | 0.00 | 0.00 | 0.00 | 0.00 | 0.00 | 0.00 | 0.00 | 0.00 | 0.00 | 0.00 | XXX
88150 |  | X | Cytopath, c/v, manual | 0.00 | 0.00 | 0.00 | 0.00 | 0.00 | 0.00 | 0.00 | 0.00 | 0.00 | 0.00 | XXX
88152 |  | X | Cytopath, c/v, auto redo | 0.00 | 0.00 | 0.00 | 0.00 | 0.00 | 0.00 | 0.00 | 0.00 | 0.00 | 0.00 | XXX
88153 |  | X | Cytopath, c/v, redo | 0.00 | 0.00 | 0.00 | 0.00 | 0.00 | 0.00 | 0.00 | 0.00 | 0.00 | 0.00 | XXX
88154 |  | X | Cytopath, c/v, select | 0.00 | 0.00 | 0.00 | 0.00 | 0.00 | 0.00 | 0.00 | 0.00 | 0.00 | 0.00 | XXX
88155 |  | X | Cytopath, c/v, index add-on | 0.00 | 0.00 | 0.00 | 0.00 | 0.00 | 0.00 | 0.00 | 0.00 | 0.00 | 0.00 | XXX
88160 |  | A | Cytopath smear, other source | 0.50 | 0.98 | 0.82 | 0.98 | 0.82 | 0.04 | 1.52 | 1.36 | 1.52 | 1.36 | XXX
88160 | 26 | A | Cytopath smear, other source | 0.50 | 0.22 | 0.21 | 0.22 | 0.21 | 0.02 | 0.74 | 0.73 | 0.74 | 0.73 | XXX
88160 | TC | A | Cytopath smear, other source | 0.00 | 0.76 | 0.61 | NA | NA | 0.02 | 0.78 | 0.63 | NA | NA | XXX
88161 |  | A | Cytopath smear, other source | 0.50 | 0.97 | 0.83 | 0.97 | 0.83 | 0.04 | 1.51 | 1.37 | 1.51 | 1.37 | XXX
88161 | 26 | A | Cytopath smear, other source | 0.50 | 0.21 | 0.21 | 0.21 | 0.21 | 0.02 | 0.73 | 0.73 | 0.73 | 0.73 | XXX
88161 | TC | A | Cytopath smear, other source | 0.00 | 0.76 | 0.62 | NA | NA | 0.02 | 0.78 | 0.64 | NA | NA | XXX
88162 |  | A | Cytopath smear, other source | 0.76 | 0.84 | 0.85 | 0.84 | 0.85 | 0.05 | 1.65 | 1.66 | 1.65 | 1.66 | XXX
88162 | 26 | A | Cytopath smear, other source | 0.76 | 0.33 | 0.36 | 0.33 | 0.36 | 0.03 | 1.12 | 1.15 | 1.12 | 1.15 | XXX
88162 | TC | A | Cytopath smear, other source | 0.00 | 0.51 | 0.49 | NA | NA | 0.02 | 0.53 | 0.51 | NA | NA | XXX
88164 |  | X | Cytopath tbs, c/v, manual | 0.00 | 0.00 | 0.00 | 0.00 | 0.00 | 0.00 | 0.00 | 0.00 | 0.00 | 0.00 | XXX
88165 |  | X | Cytopath tbs, c/v, redo | 0.00 | 0.00 | 0.00 | 0.00 | 0.00 | 0.00 | 0.00 | 0.00 | 0.00 | 0.00 | XXX
88166 |  | X | Cytopath tbs, c/v, auto redo | 0.00 | 0.00 | 0.00 | 0.00 | 0.00 | 0.00 | 0.00 | 0.00 | 0.00 | 0.00 | XXX
88167 |  | X | Cytopath tbs, c/v, select | 0.00 | 0.00 | 0.00 | 0.00 | 0.00 | 0.00 | 0.00 | 0.00 | 0.00 | 0.00 | XXX
88170 |  | A | Fine needle aspiration | 1.27 | 0.86 | 0.92 | 0.86 | 0.92 | 0.10 | 2.23 | 2.29 | 2.23 | 2.29 | XXX
88170 | 26 | A | Fine needle aspiration | 1.27 | 0.53 | 0.54 | 0.53 | 0.54 | 0.07 | 1.87 | 1.88 | 1.87 | 1.88 | XXX
88170 | TC | A | Fine needle aspiration | 0.00 | 0.33 | 0.38 | NA | NA | 0.03 | 0.36 | 0.41 | NA | NA | XXX
88171 |  | A | Fine needle aspiration | 1.27 | 0.72 | 0.91 | 0.72 | 0.91 | 0.08 | 2.07 | 2.26 | 2.07 | 2.26 | XXX
88171 | 26 | A | Fine needle aspiration | 1.27 | 0.49 | 0.56 | 0.49 | 0.56 | 0.05 | 1.81 | 1.88 | 1.81 | 1.88 | XXX
88171 | TC | A | Fine needle aspiration | 0.00 | 0.23 | 0.35 | NA | NA | 0.03 | 0.26 | 0.38 | NA | NA | XXX
88172 |  | A | Cytopathology eval of fna | 0.60 | 1.09 | 1.01 | 1.09 | 1.01 | 0.04 | 1.73 | 1.65 | 1.73 | 1.65 | XXX
88172 | 26 | A | Cytopathology eval of fna | 0.60 | 0.26 | 0.29 | 0.26 | 0.29 | 0.02 | 0.88 | 0.91 | 0.88 | 0.91 | XXX
88172 | TC | A | Cytopathology eval of fna | 0.00 | 0.83 | 0.72 | NA | NA | 0.02 | 0.85 | 0.74 | NA | NA | XXX
88173 |  | A | Cytopath eval, fna, report | 1.39 | 1.31 | 1.22 | 1.31 | 1.22 | 0.07 | 2.77 | 2.68 | 2.77 | 2.68 | XXX
88173 | 26 | A | Cytopath eval, fna, report | 1.39 | 0.60 | 0.57 | 0.60 | 0.57 | 0.05 | 2.04 | 2.01 | 2.04 | 2.01 | XXX
88173 | TC | A | Cytopath eval, fna, report | 0.00 | 0.71 | 0.65 | NA | NA | 0.02 | 0.73 | 0.67 | NA | NA | XXX
88180 |  | A | Cell marker study | 0.36 | 0.65 | 0.58 | 0.65 | 0.58 | 0.03 | 1.04 | 0.97 | 1.04 | 0.97 | XXX
88180 | 26 | A | Cell marker study | 0.36 | 0.15 | 0.16 | 0.15 | 0.16 | 0.01 | 0.52 | 0.53 | 0.52 | 0.53 | XXX
88180 | TC | A | Cell marker study | 0.00 | 0.50 | 0.42 | NA | NA | 0.02 | 0.52 | 0.44 | NA | NA | XXX
88182 |  | A | Cell marker study | 0.77 | 1.69 | 1.51 | 1.69 | 1.51 | 0.06 | 2.52 | 2.34 | 2.52 | 2.34 | XXX
88182 | 26 | A | Cell marker study | 0.77 | 0.33 | 0.37 | 0.33 | 0.37 | 0.03 | 1.13 | 1.17 | 1.13 | 1.17 | XXX
88182 | TC | A | Cell marker study | 0.00 | 1.36 | 1.14 | NA | NA | 0.03 | 1.39 | 1.17 | NA | NA | XXX
88199 |  | C | Cytopathology procedure | 0.00 | 0.00 | 0.00 | 0.00 | 0.00 | 0.00 | 0.00 | 0.00 | 0.00 | 0.00 | XXX
88199 | 26 | C | Cytopathology procedure | 0.00 | 0.00 | 0.00 | 0.00 | 0.00 | 0.00 | 0.00 | 0.00 | 0.00 | 0.00 | XXX
88199 | TC | C | Cytopathology procedure | 0.00 | 0.00 | 0.00 | 0.00 | 0.00 | 0.00 | 0.00 | 0.00 | 0.00 | 0.00 | XXX
88230 |  | X | Tissue culture, lymphocyte | 0.00 | 0.00 | 0.00 | 0.00 | 0.00 | 0.00 | 0.00 | 0.00 | 0.00 | 0.00 | XXX
88233 |  | X | Tissue culture, skin/biopsy | 0.00 | 0.00 | 0.00 | 0.00 | 0.00 | 0.00 | 0.00 | 0.00 | 0.00 | 0.00 | XXX
88235 |  | X | Tissue culture, placenta | 0.00 | 0.00 | 0.00 | 0.00 | 0.00 | 0.00 | 0.00 | 0.00 | 0.00 | 0.00 | XXX
88237 |  | X | Tissue culture, bone marrow | 0.00 | 0.00 | 0.00 | 0.00 | 0.00 | 0.00 | 0.00 | 0.00 | 0.00 | 0.00 | XXX
88239 |  | X | Tissue culture, tumor | 0.00 | 0.00 | 0.00 | 0.00 | 0.00 | 0.00 | 0.00 | 0.00 | 0.00 | 0.00 | XXX
88240 |  | X | Cell cryopreserve/storage | 0.00 | 0.00 | 0.00 | 0.00 | 0.00 | 0.00 | 0.00 | 0.00 | 0.00 | 0.00 | XXX
88241 |  | X | Frozen cell preparation | 0.00 | 0.00 | 0.00 | 0.00 | 0.00 | 0.00 | 0.00 | 0.00 | 0.00 | 0.00 | XXX
88245 |  | X | Chromosome analysis, 20-25 | 0.00 | 0.00 | 0.00 | 0.00 | 0.00 | 0.00 | 0.00 | 0.00 | 0.00 | 0.00 | XXX
88248 |  | X | Chromosome analysis, 50-100 | 0.00 | 0.00 | 0.00 | 0.00 | 0.00 | 0.00 | 0.00 | 0.00 | 0.00 | 0.00 | XXX
88249 |  | X | Chromosome analysis, 100 | 0.00 | 0.00 | 0.00 | 0.00 | 0.00 | 0.00 | 0.00 | 0.00 | 0.00 | 0.00 | XXX
88261 |  | X | Chromosome analysis, 5 | 0.00 | 0.00 | 0.00 | 0.00 | 0.00 | 0.00 | 0.00 | 0.00 | 0.00 | 0.00 | XXX
88262 |  | X | Chromosome analysis, 15-20 | 0.00 | 0.00 | 0.00 | 0.00 | 0.00 | 0.00 | 0.00 | 0.00 | 0.00 | 0.00 | XXX
88263 |  | X | Chromosome analysis, 45 | 0.00 | 0.00 | 0.00 | 0.00 | 0.00 | 0.00 | 0.00 | 0.00 | 0.00 | 0.00 | XXX
88264 |  | X | Chromosome analysis, 20-25 | 0.00 | 0.00 | 0.00 | 0.00 | 0.00 | 0.00 | 0.00 | 0.00 | 0.00 | 0.00 | XXX
88267 |  | X | Chromosome analys, placenta | 0.00 | 0.00 | 0.00 | 0.00 | 0.00 | 0.00 | 0.00 | 0.00 | 0.00 | 0.00 | XXX
88269 |  | X | Chromosome analys, amniotic | 0.00 | 0.00 | 0.00 | 0.00 | 0.00 | 0.00 | 0.00 | 0.00 | 0.00 | 0.00 | XXX
88271 |  | X | Cytogenetics, dna probe | 0.00 | 0.00 | 0.00 | 0.00 | 0.00 | 0.00 | 0.00 | 0.00 | 0.00 | 0.00 | XXX
88272 |  | X | Cytogenetics, 3-5 | 0.00 | 0.00 | 0.00 | 0.00 | 0.00 | 0.00 | 0.00 | 0.00 | 0.00 | 0.00 | XXX
88273 |  | X | Cytogenetics, 10-30 | 0.00 | 0.00 | 0.00 | 0.00 | 0.00 | 0.00 | 0.00 | 0.00 | 0.00 | 0.00 | XXX
88274 |  | X | Cytogenetics, 25-99 | 0.00 | 0.00 | 0.00 | 0.00 | 0.00 | 0.00 | 0.00 | 0.00 | 0.00 | 0.00 | XXX
88275 |  | X | Cytogenetics, 100-300 | 0.00 | 0.00 | 0.00 | 0.00 | 0.00 | 0.00 | 0.00 | 0.00 | 0.00 | 0.00 | XXX
88280 |  | X | Chromosome karyotype study | 0.00 | 0.00 | 0.00 | 0.00 | 0.00 | 0.00 | 0.00 | 0.00 | 0.00 | 0.00 | XXX
88283 |  | X | Chromosome banding study | 0.00 | 0.00 | 0.00 | 0.00 | 0.00 | 0.00 | 0.00 | 0.00 | 0.00 | 0.00 | XXX
88285 |  | X | Chromosome count, additional | 0.00 | 0.00 | 0.00 | 0.00 | 0.00 | 0.00 | 0.00 | 0.00 | 0.00 | 0.00 | XXX
88289 |  | X | Chromosome study, additional | 0.00 | 0.00 | 0.00 | 0.00 | 0.00 | 0.00 | 0.00 | 0.00 | 0.00 | 0.00 | XXX
88291 |  | A | Cyto/molecular report | 0.52 | 0.22 | 0.22 | 0.22 | 0.22 | 0.02 | 0.76 | 0.76 | 0.76 | 0.76 | XXX
88299 |  | C | Cytogenetic study | 0.00 | 0.00 | 0.00 | 0.00 | 0.00 | 0.00 | 0.00 | 0.00 | 0.00 | 0.00 | XXX
88300 |  | A | Surgical path, gross | 0.08 | 0.42 | 0.37 | 0.42 | 0.37 | 0.02 | 0.52 | 0.47 | 0.52 | 0.47 | XXX
88300 | 26 | A | Surgical path, gross | 0.08 | 0.03 | 0.05 | 0.03 | 0.05 | 0.01 | 0.12 | 0.14 | 0.12 | 0.14 | XXX
88300 | TC | A | Surgical path, gross | 0.00 | 0.39 | 0.32 | NA | NA | 0.01 | 0.40 | 0.33 | NA | NA | XXX
88302 |  | A | Tissue exam by pathologist | 0.13 | 1.11 | 0.94 | 1.11 | 0.94 | 0.03 | 1.27 | 1.10 | 1.27 | 1.10 | XXX
88302 | 26 | A | Tissue exam by pathologist | 0.13 | 0.06 | 0.09 | 0.06 | 0.09 | 0.01 | 0.20 | 0.23 | 0.20 | 0.23 | XXX
88302 | TC | A | Tissue exam by pathologist | 0.00 | 1.05 | 0.85 | NA | NA | 0.02 | 1.07 | 0.87 | NA | NA | XXX
88304 |  | A | Tissue exam by pathologist | 0.22 | 0.89 | 0.82 | 0.89 | 0.82 | 0.03 | 1.14 | 1.07 | 1.14 | 1.07 | XXX
88304 | 26 | A | Tissue exam by pathologist | 0.22 | 0.10 | 0.14 | 0.10 | 0.14 | 0.01 | 0.33 | 0.37 | 0.33 | 0.37 | XXX
88304 | TC | A | Tissue exam by pathologist | 0.00 | 0.79 | 0.68 | NA | NA | 0.02 | 0.81 | 0.70 | NA | NA | XXX
88305 |  | A | Tissue exam by pathologist | 0.75 | 1.64 | 1.51 | 1.64 | 1.51 | 0.05 | 2.44 | 2.31 | 2.44 | 2.31 | XXX
88305 | 26 | A | Tissue exam by pathologist | 0.75 | 0.33 | 0.39 | 0.33 | 0.39 | 0.02 | 1.10 | 1.16 | 1.10 | 1.16 | XXX
88305 | TC | A | Tissue exam by pathologist | 0.00 | 1.31 | 1.12 | NA | NA | 0.03 | 1.34 | 1.15 | NA | NA | XXX
88307 |  | A | Tissue exam by pathologist | 1.59 | 2.45 | 2.25 | 2.45 | 2.25 | 0.11 | 4.15 | 3.95 | 4.15 | 3.95 | XXX
88307 | 26 | A | Tissue exam by pathologist | 1.59 | 0.69 | 0.73 | 0.69 | 0.73 | 0.06 | 2.34 | 2.38 | 2.34 | 2.38 | XXX
88307 | TC | A | Tissue exam by pathologist | 0.00 | 1.76 | 1.52 | NA | NA | 0.05 | 1.81 | 1.57 | NA | NA | XXX
88309 |  | A | Tissue exam by pathologist | 2.28 | 3.46 | 3.12 | 3.46 | 3.12 | 0.13 | 5.87 | 5.53 | 5.87 | 5.53 | XXX
88309 | 26 | A | Tissue exam by pathologist | 2.28 | 0.99 | 1.01 | 0.99 | 1.01 | 0.08 | 3.35 | 3.37 | 3.35 | 3.37 | XXX
88309 | TC | A | Tissue exam by pathologist | 0.00 | 2.47 | 2.11 | NA | NA | 0.05 | 2.52 | 2.16 | NA | NA | XXX
88311 |  | A | Decalcify tissue | 0.24 | 0.18 | 0.20 | 0.18 | 0.20 | 0.02 | 0.44 | 0.46 | 0.44 | 0.46 | XXX
88311 | 26 | A | Decalcify tissue | 0.24 | 0.10 | 0.11 | 0.10 | 0.11 | 0.01 | 0.35 | 0.36 | 0.35 | 0.36 | XXX
88311 | TC | A | Decalcify tissue | 0.00 | 0.08 | 0.09 | NA | NA | 0.01 | 0.09 | 0.10 | NA | NA | XXX
88312 |  | A | Special stains | 0.54 | 1.59 | 1.26 | 1.59 | 1.26 | 0.03 | 2.16 | 1.83 | 2.16 | 1.83 | XXX
88312 | 26 | A | Special stains | 0.54 | 0.23 | 0.21 | 0.23 | 0.21 | 0.02 | 0.79 | 0.77 | 0.79 | 0.77 | XXX
88312 | TC | A | Special stains | 0.00 | 1.36 | 1.05 | NA | NA | 0.01 | 1.37 | 1.06 | NA | NA | XXX
88313 |  | A | Special stains | 0.24 | 1.10 | 0.89 | 1.10 | 0.89 | 0.02 | 1.36 | 1.15 | 1.36 | 1.15 | XXX
88313 | 26 | A | Special stains | 0.24 | 0.10 | 0.11 | 0.10 | 0.11 | 0.01 | 0.35 | 0.36 | 0.35 | 0.36 | XXX
88313 | TC | A | Special stains | 0.00 | 1.00 | 0.78 | NA | NA | 0.01 | 1.01 | 0.79 | NA | NA | XXX
88314 |  | A | Histochemical stain | 0.45 | 1.04 | 0.95 | 1.04 | 0.95 | 0.04 | 1.53 | 1.44 | 1.53 | 1.44 | XXX
88314 | 26 | A | Histochemical stain | 0.45 | 0.19 | 0.24 | 0.19 | 0.24 | 0.02 | 0.66 | 0.71 | 0.66 | 0.71 | XXX
88314 | TC | A | Histochemical stain | 0.00 | 0.85 | 0.71 | NA | NA | 0.02 | 0.87 | 0.73 | NA | NA | XXX
88318 |  | A | Chemical histochemistry | 0.42 | 1.72 | 1.36 | 1.72 | 1.36 | 0.02 | 2.16 | 1.80 | 2.16 | 1.80 | XXX
88318 | 26 | A | Chemical histochemistry | 0.42 | 0.18 | 0.17 | 0.18 | 0.17 | 0.01 | 0.61 | 0.60 | 0.61 | 0.60 | XXX
88318 | TC | A | Chemical histochemistry | 0.00 | 1.54 | 1.19 | NA | NA | 0.01 | 1.55 | 1.20 | NA | NA | XXX
88319 |  | A | Enzyme histochemistry | 0.53 | 1.68 | 1.39 | 1.68 | 1.39 | 0.04 | 2.25 | 1.96 | 2.25 | 1.96 | XXX
88319 | 26 | A | Enzyme histochemistry | 0.53 | 0.23 | 0.24 | 0.23 | 0.24 | 0.02 | 0.78 | 0.79 | 0.78 | 0.79 | XXX
88319 | TC | A | Enzyme histochemistry | 0.00 | 1.45 | 1.15 | NA | NA | 0.02 | 1.47 | 1.17 | NA | NA | XXX
88321 |  | A | Microslide consultation | 1.30 | 0.61 | 0.57 | 0.56 | 0.53 | 0.04 | 1.95 | 1.91 | 1.90 | 1.87 | XXX
88323 |  | A | Microslide consultation | 1.35 | 2.19 | 1.84 | 2.19 | 1.84 | 0.07 | 3.61 | 3.26 | 3.61 | 3.26 | XXX
88323 | 26 | A | Microslide consultation | 1.35 | 0.59 | 0.55 | 0.59 | 0.55 | 0.05 | 1.99 | 1.95 | 1.99 | 1.95 | XXX
88323 | TC | A | Microslide consultation | 0.00 | 1.60 | 1.29 | NA | NA | 0.02 | 1.62 | 1.31 | NA | NA | XXX
88325 |  | A | Comprehensive review of data | 2.22 | 0.94 | 0.83 | 0.94 | 0.83 | 0.08 | 3.24 | 3.13 | 3.24 | 3.13 | XXX
88329 |  | A | Path consult introp | 0.67 | 0.39 | 0.39 | 0.29 | 0.32 | 0.02 | 1.08 | 1.08 | 0.98 | 1.01 | XXX
88331 |  | A | Path consult intraop, 1 bloc | 1.19 | 0.81 | 0.91 | 0.81 | 0.91 | 0.07 | 2.07 | 2.17 | 2.07 | 2.17 | XXX
88331 | 26 | A | Path consult intraop, 1 bloc | 1.19 | 0.52 | 0.54 | 0.52 | 0.54 | 0.04 | 1.75 | 1.77 | 1.75 | 1.77 | XXX
88331 | TC | A | Path consult intraop, 1 bloc | 0.00 | 0.29 | 0.37 | NA | NA | 0.03 | 0.32 | 0.40 | NA | NA | XXX
88332 |  | A | Path consult intraop, addl | 0.59 | 0.44 | 0.48 | 0.44 | 0.48 | 0.04 | 1.07 | 1.11 | 1.07 | 1.11 | XXX
88332 | 26 | A | Path consult intraop, addl | 0.59 | 0.26 | 0.27 | 0.26 | 0.27 | 0.02 | 0.87 | 0.88 | 0.87 | 0.88 | XXX
88332 | TC | A | Path consult intraop, addl | 0.00 | 0.18 | 0.21 | NA | NA | 0.02 | 0.20 | 0.23 | NA | NA | XXX
88342 |  | A | Immunocytochemistry | 0.85 | 1.31 | 1.16 | 1.31 | 1.16 | 0.05 | 2.21 | 2.06 | 2.21 | 2.06 | XXX
88342 | 26 | A | Immunocytochemistry | 0.85 | 0.37 | 0.37 | 0.37 | 0.37 | 0.03 | 1.25 | 1.25 | 1.25 | 1.25 | XXX
88342 | TC | A | Immunocytochemistry | 0.00 | 0.94 | 0.79 | NA | NA | 0.02 | 0.96 | 0.81 | NA | NA | XXX
88346 |  | A | Immunofluorescent study | 0.86 | 1.31 | 1.14 | 1.31 | 1.14 | 0.05 | 2.22 | 2.05 | 2.22 | 2.05 | XXX
88346 | 26 | A | Immunofluorescent study | 0.86 | 0.37 | 0.36 | 0.37 | 0.36 | 0.03 | 1.26 | 1.25 | 1.26 | 1.25 | XXX
88346 | TC | A | Immunofluorescent study | 0.00 | 0.94 | 0.78 | NA | NA | 0.02 | 0.96 | 0.80 | NA | NA | XXX
88347 |  | A | Immunofluorescent study | 0.86 | 1.82 | 1.48 | 1.82 | 1.48 | 0.05 | 2.73 | 2.39 | 2.73 | 2.39 | XXX
88347 | 26 | A | Immunofluorescent study | 0.86 | 0.37 | 0.32 | 0.37 | 0.32 | 0.03 | 1.26 | 1.21 | 1.26 | 1.21 | XXX
88347 | TC | A | Immunofluorescent study | 0.00 | 1.45 | 1.16 | NA | NA | 0.02 | 1.47 | 1.18 | NA | NA | XXX
88348 |  | A | Electron microscopy | 1.51 | 6.22 | 5.28 | 6.22 | 5.28 | 0.11 | 7.84 | 6.90 | 7.84 | 6.90 | XXX
88348 | 26 | A | Electron microscopy | 1.51 | 0.65 | 0.81 | 0.65 | 0.81 | 0.05 | 2.21 | 2.37 | 2.21 | 2.37 | XXX
88348 | TC | A | Electron microscopy | 0.00 | 5.57 | 4.47 | NA | NA | 0.06 | 5.63 | 4.53 | NA | NA | XXX
88349 |  | A | Scanning electron microscopy | 0.76 | 7.77 | 6.25 | 7.77 | 6.25 | 0.08 | 8.61 | 7.09 | 8.61 | 7.09 | XXX
88349 | 26 | A | Scanning electron microscopy | 0.76 | 0.33 | 0.46 | 0.33 | 0.46 | 0.03 | 1.12 | 1.25 | 1.12 | 1.25 | XXX
88349 | TC | A | Scanning electron microscopy | 0.00 | 7.44 | 5.79 | NA | NA | 0.05 | 7.49 | 5.84 | NA | NA | XXX
88355 |  | A | Analysis, skeletal muscle | 1.85 | 3.92 | 3.41 | 3.92 | 3.41 | 0.12 | 5.89 | 5.38 | 5.89 | 5.38 | XXX
88355 | 26 | A | Analysis, skeletal muscle | 1.85 | 0.80 | 0.85 | 0.80 | 0.85 | 0.07 | 2.72 | 2.77 | 2.72 | 2.77 | XXX
88355 | TC | A | Analysis, skeletal muscle | 0.00 | 3.12 | 2.56 | NA | NA | 0.05 | 3.17 | 2.61 | NA | NA | XXX
88356 |  | A | Analysis, nerve | 3.02 | 4.42 | 4.04 | 4.42 | 4.04 | 0.16 | 7.60 | 7.22 | 7.60 | 7.22 | XXX
88356 | 26 | A | Analysis, nerve | 3.02 | 1.30 | 1.35 | 1.30 | 1.35 | 0.10 | 4.42 | 4.47 | 4.42 | 4.47 | XXX
88356 | TC | A | Analysis, nerve | 0.00 | 3.12 | 2.69 | NA | NA | 0.06 | 3.18 | 2.75 | NA | NA | XXX
88358 |  | A | Analysis, tumor | 2.82 | 1.67 | 1.88 | 1.67 | 1.88 | 0.16 | 4.65 | 4.86 | 4.65 | 4.86 | XXX
88358 | 26 | A | Analysis, tumor | 2.82 | 1.22 | 1.23 | 1.22 | 1.23 | 0.10 | 4.14 | 4.15 | 4.14 | 4.15 | XXX
88358 | TC | A | Analysis, tumor | 0.00 | 0.45 | 0.65 | NA | NA | 0.06 | 0.51 | 0.71 | NA | NA | XXX
88362 |  | A | Nerve teasing preparations | 2.17 | 2.71 | 2.57 | 2.71 | 2.57 | 0.12 | 5.00 | 4.86 | 5.00 | 4.86 | XXX
88362 | 26 | A | Nerve teasing preparations | 2.17 | 0.93 | 0.97 | 0.93 | 0.97 | 0.07 | 3.17 | 3.21 | 3.17 | 3.21 | XXX
88362 | TC | A | Nerve teasing preparations | 0.00 | 1.78 | 1.60 | NA | NA | 0.05 | 1.83 | 1.65 | NA | NA | XXX
88365 |  | A | Tissue hybridization | 0.93 | 1.60 | 1.41 | 1.60 | 1.41 | 0.05 | 2.58 | 2.39 | 2.58 | 2.39 | XXX
88365 | 26 | A | Tissue hybridization | 0.93 | 0.39 | 0.40 | 0.39 | 0.40 | 0.03 | 1.35 | 1.36 | 1.35 | 1.36 | XXX
88365 | TC | A | Tissue hybridization | 0.00 | 1.21 | 1.01 | NA | NA | 0.02 | 1.23 | 1.03 | NA | NA | XXX
88371 |  | X | Protein, western blot tissue | 0.00 | 0.00 | 0.00 | 0.00 | 0.00 | 0.00 | 0.00 | 0.00 | 0.00 | 0.00 | XXX
88371 | 26 | A | Protein, western blot tissue | 0.37 | 0.14 | 0.16 | 0.14 | 0.16 | 0.01 | 0.52 | 0.54 | 0.52 | 0.54 | XXX
88372 |  | X | Protein analysis w/probe | 0.00 | 0.00 | 0.00 | 0.00 | 0.00 | 0.00 | 0.00 | 0.00 | 0.00 | 0.00 | XXX
88372 | 26 | A | Protein analysis w/probe | 0.37 | 0.15 | 0.17 | 0.15 | 0.17 | 0.01 | 0.53 | 0.55 | 0.53 | 0.55 | XXX
88399 |  | C | Surgical pathology procedure | 0.00 | 0.00 | 0.00 | 0.00 | 0.00 | 0.00 | 0.00 | 0.00 | 0.00 | 0.00 | XXX
88399 | 26 | C | Surgical pathology procedure | 0.00 | 0.00 | 0.00 | 0.00 | 0.00 | 0.00 | 0.00 | 0.00 | 0.00 | 0.00 | XXX
88399 | TC | C | Surgical pathology procedure | 0.00 | 0.00 | 0.00 | 0.00 | 0.00 | 0.00 | 0.00 | 0.00 | 0.00 | 0.00 | XXX
88400 |  | X | Bilirubin total transcut | 0.00 | 0.00 | 0.00 | 0.00 | 0.00 | 0.00 | 0.00 | 0.00 | 0.00 | 0.00 | XXX
89050 |  | X | Body fluid cell count | 0.00 | 0.00 | 0.00 | 0.00 | 0.00 | 0.00 | 0.00 | 0.00 | 0.00 | 0.00 | XXX
89051 |  | X | Body fluid cell count | 0.00 | 0.00 | 0.00 | 0.00 | 0.00 | 0.00 | 0.00 | 0.00 | 0.00 | 0.00 | XXX
89060 |  | X | Exam,synovial fluid crystals | 0.00 | 0.00 | 0.00 | 0.00 | 0.00 | 0.00 | 0.00 | 0.00 | 0.00 | 0.00 | XXX
89060 | 26 | A | Exam,synovial fluid crystals | 0.37 | 0.17 | 0.18 | 0.16 | 0.18 | 0.01 | 0.55 | 0.56 | 0.54 | 0.56 | XXX
89100 |  | A | Sample intestinal contents | 0.60 | 1.88 | 1.53 | 0.22 | 0.28 | 0.02 | 2.50 | 2.15 | 0.84 | 0.90 | XXX
89105 |  | A | Sample intestinal contents | 0.50 | 2.16 | 1.73 | 0.18 | 0.24 | 0.02 | 2.68 | 2.25 | 0.70 | 0.76 | XXX
89125 |  | X | Specimen fat stain | 0.00 | 0.00 | 0.00 | 0.00 | 0.00 | 0.00 | 0.00 | 0.00 | 0.00 | 0.00 | XXX
89130 |  | A | Sample stomach contents | 0.45 | 1.72 | 1.40 | 0.12 | 0.20 | 0.02 | 2.19 | 1.87 | 0.59 | 0.67 | XXX
89132 |  | A | Sample stomach contents | 0.19 | 1.79 | 1.40 | 0.08 | 0.11 | 0.01 | 1.99 | 1.60 | 0.28 | 0.31 | XXX
89135 |  | A | Sample stomach contents | 0.79 | 1.83 | 1.53 | 0.28 | 0.37 | 0.03 | 2.65 | 2.35 | 1.10 | 1.19 | XXX
89136 |  | A | Sample stomach contents | 0.21 | 1.38 | 1.10 | 0.08 | 0.12 | 0.01 | 1.60 | 1.32 | 0.30 | 0.34 | XXX
89140 |  | A | Sample stomach contents | 0.94 | 2.20 | 1.87 | 0.27 | 0.42 | 0.03 | 3.17 | 2.84 | 1.24 | 1.39 | XXX
89141 |  | A | Sample stomach contents | 0.85 | 2.67 | 2.20 | 0.34 | 0.45 | 0.03 | 3.55 | 3.08 | 1.22 | 1.33 | XXX
89160 |  | X | Exam feces for meat fibers | 0.00 | 0.00 | 0.00 | 0.00 | 0.00 | 0.00 | 0.00 | 0.00 | 0.00 | 0.00 | XXX
89190 |  | X | Nasal smear for eosinophils | 0.00 | 0.00 | 0.00 | 0.00 | 0.00 | 0.00 | 0.00 | 0.00 | 0.00 | 0.00 | XXX
89250 |  | X | Fertilization of oocyte | 0.00 | 0.00 | 0.00 | 0.00 | 0.00 | 0.00 | 0.00 | 0.00 | 0.00 | 0.00 | XXX
89251 |  | X | Culture oocyte w/embryos | 0.00 | 0.00 | 0.00 | 0.00 | 0.00 | 0.00 | 0.00 | 0.00 | 0.00 | 0.00 | XXX
89252 |  | X | Assist oocyte fertilization | 0.00 | 0.00 | 0.00 | 0.00 | 0.00 | 0.00 | 0.00 | 0.00 | 0.00 | 0.00 | XXX
89253 |  | X | Embryo hatching | 0.00 | 0.00 | 0.00 | 0.00 | 0.00 | 0.00 | 0.00 | 0.00 | 0.00 | 0.00 | XXX
89254 |  | X | Oocyte identification | 0.00 | 0.00 | 0.00 | 0.00 | 0.00 | 0.00 | 0.00 | 0.00 | 0.00 | 0.00 | XXX
89255 |  | X | Prepare embryo for transfer | 0.00 | 0.00 | 0.00 | 0.00 | 0.00 | 0.00 | 0.00 | 0.00 | 0.00 | 0.00 | XXX
89256 |  | X | Prepare cryopreserved embryo | 0.00 | 0.00 | 0.00 | 0.00 | 0.00 | 0.00 | 0.00 | 0.00 | 0.00 | 0.00 | XXX
89257 |  | X | Sperm identification | 0.00 | 0.00 | 0.00 | 0.00 | 0.00 | 0.00 | 0.00 | 0.00 | 0.00 | 0.00 | XXX
89258 |  | X | Cryopreservation, embryo | 0.00 | 0.00 | 0.00 | 0.00 | 0.00 | 0.00 | 0.00 | 0.00 | 0.00 | 0.00 | XXX
89259 |  | X | Cryopreservation, sperm | 0.00 | 0.00 | 0.00 | 0.00 | 0.00 | 0.00 | 0.00 | 0.00 | 0.00 | 0.00 | XXX
89260 |  | X | Sperm isolation, simple | 0.00 | 0.00 | 0.00 | 0.00 | 0.00 | 0.00 | 0.00 | 0.00 | 0.00 | 0.00 | XXX
89261 |  | X | Sperm isolation, complex | 0.00 | 0.00 | 0.00 | 0.00 | 0.00 | 0.00 | 0.00 | 0.00 | 0.00 | 0.00 | XXX
89264 |  | X | Identify sperm tissue | 0.00 | 0.00 | 0.00 | 0.00 | 0.00 | 0.00 | 0.00 | 0.00 | 0.00 | 0.00 | XXX
89300 |  | X | Semen analysis | 0.00 | 0.00 | 0.00 | 0.00 | 0.00 | 0.00 | 0.00 | 0.00 | 0.00 | 0.00 | XXX
89310 |  | X | Semen analysis | 0.00 | 0.00 | 0.00 | 0.00 | 0.00 | 0.00 | 0.00 | 0.00 | 0.00 | 0.00 | XXX
89320 |  | X | Semen analysis | 0.00 | 0.00 | 0.00 | 0.00 | 0.00 | 0.00 | 0.00 | 0.00 | 0.00 | 0.00 | XXX
89321 |  | X | Semen analysis | 0.00 | 0.00 | 0.00 | 0.00 | 0.00 | 0.00 | 0.00 | 0.00 | 0.00 | 0.00 | XXX
89325 |  | X | Sperm antibody test | 0.00 | 0.00 | 0.00 | 0.00 | 0.00 | 0.00 | 0.00 | 0.00 | 0.00 | 0.00 | XXX
89329 |  | X | Sperm evaluation test | 0.00 | 0.00 | 0.00 | 0.00 | 0.00 | 0.00 | 0.00 | 0.00 | 0.00 | 0.00 | XXX
89330 |  | X | Evaluation, cervical mucus | 0.00 | 0.00 | 0.00 | 0.00 | 0.00 | 0.00 | 0.00 | 0.00 | 0.00 | 0.00 | XXX
89350 |  | A | Sputum specimen collection | 0.00 | 0.40 | 0.41 | NA | NA | 0.02 | 0.42 | 0.43 | NA | NA | XXX
89355 |  | X | Exam feces for starch | 0.00 | 0.00 | 0.00 | 0.00 | 0.00 | 0.00 | 0.00 | 0.00 | 0.00 | 0.00 | XXX
89360 |  | A | Collect sweat for test | 0.00 | 0.45 | 0.46 | NA | NA | 0.02 | 0.47 | 0.48 | NA | NA | XXX
89365 |  | X | Water load test | 0.00 | 0.00 | 0.00 | 0.00 | 0.00 | 0.00 | 0.00 | 0.00 | 0.00 | 0.00 | XXX
89399 |  | C | Pathology lab procedure | 0.00 | 0.00 | 0.00 | 0.00 | 0.00 | 0.00 | 0.00 | 0.00 | 0.00 | 0.00 | XXX
89399 | 26 | C | Pathology lab procedure | 0.00 | 0.00 | 0.00 | 0.00 | 0.00 | 0.00 | 0.00 | 0.00 | 0.00 | 0.00 | XXX
89399 | TC | C | Pathology lab procedure | 0.00 | 0.00 | 0.00 | 0.00 | 0.00 | 0.00 | 0.00 | 0.00 | 0.00 | 0.00 | XXX
90281 |  | I | Human ig, im | 0.00 | 0.00 | 0.00 | 0.00 | 0.00 | 0.00 | 0.00 | 0.00 | 0.00 | 0.00 | XXX
90283 |  | I | Human ig, iv | 0.00 | 0.00 | 0.00 | 0.00 | 0.00 | 0.00 | 0.00 | 0.00 | 0.00 | 0.00 | XXX
90287 |  | I | Botulinum antitoxin | 0.00 | 0.00 | 0.00 | 0.00 | 0.00 | 0.00 | 0.00 | 0.00 | 0.00 | 0.00 | XXX
90288 |  | I | Botulism ig, iv | 0.00 | 0.00 | 0.00 | 0.00 | 0.00 | 0.00 | 0.00 | 0.00 | 0.00 | 0.00 | XXX
90291 |  | I | Cmv ig, iv | 0.00 | 0.00 | 0.00 | 0.00 | 0.00 | 0.00 | 0.00 | 0.00 | 0.00 | 0.00 | XXX
90296 |  | E | Diphtheria antitoxin | 0.00 | 0.00 | 0.00 | 0.00 | 0.00 | 0.00 | 0.00 | 0.00 | 0.00 | 0.00 | XXX
90371 |  | E | Hep b ig, im | 0.00 | 0.00 | 0.00 | 0.00 | 0.00 | 0.00 | 0.00 | 0.00 | 0.00 | 0.00 | XXX
90375 |  | E | Rabies ig, im/sc | 0.00 | 0.00 | 0.00 | 0.00 | 0.00 | 0.00 | 0.00 | 0.00 | 0.00 | 0.00 | XXX
90376 |  | E | Rabies ig, heat treated | 0.00 | 0.00 | 0.00 | 0.00 | 0.00 | 0.00 | 0.00 | 0.00 | 0.00 | 0.00 | XXX
90378 |  | X | Rsv ig, im, 50mg | 0.00 | 0.00 | 0.00 | 0.00 | 0.00 | 0.00 | 0.00 | 0.00 | 0.00 | 0.00 | XXX
90379 |  | E | Rsv ig, iv | 0.00 | 0.00 | 0.00 | 0.00 | 0.00 | 0.00 | 0.00 | 0.00 | 0.00 | 0.00 | XXX
90384 |  | I | Rh ig, full-dose, im | 0.00 | 0.00 | 0.00 | 0.00 | 0.00 | 0.00 | 0.00 | 0.00 | 0.00 | 0.00 | XXX
90385 |  | E | Rh ig, minidose, im | 0.00 | 0.00 | 0.00 | 0.00 | 0.00 | 0.00 | 0.00 | 0.00 | 0.00 | 0.00 | XXX
90386 |  | I | Rh ig, iv | 0.00 | 0.00 | 0.00 | 0.00 | 0.00 | 0.00 | 0.00 | 0.00 | 0.00 | 0.00 | XXX
90389 |  | E | Tetanus ig, im | 0.00 | 0.00 | 0.00 | 0.00 | 0.00 | 0.00 | 0.00 | 0.00 | 0.00 | 0.00 | XXX
90393 |  | E | Vaccina ig, im | 0.00 | 0.00 | 0.00 | 0.00 | 0.00 | 0.00 | 0.00 | 0.00 | 0.00 | 0.00 | XXX
90396 |  | E | Varicella-zoster ig, im | 0.00 | 0.00 | 0.00 | 0.00 | 0.00 | 0.00 | 0.00 | 0.00 | 0.00 | 0.00 | XXX
90399 |  | I | Immune globulin | 0.00 | 0.00 | 0.00 | 0.00 | 0.00 | 0.00 | 0.00 | 0.00 | 0.00 | 0.00 | XXX
90471 |  | N | Immunization admin | 0.00 | 0.00 | 0.00 | 0.00 | 0.00 | 0.01 | 0.01 | 0.01 | 0.01 | 0.01 | XXX
90472 |  | N | Immunization admin, each add | 0.00 | 0.00 | 0.00 | 0.00 | 0.00 | 0.01 | 0.01 | 0.01 | 0.01 | 0.01 | XXX
90476 |  | E | Adenovirus vaccine, type 4 | 0.00 | 0.00 | 0.00 | 0.00 | 0.00 | 0.00 | 0.00 | 0.00 | 0.00 | 0.00 | XXX
90477 |  | E | Adenovirus vaccine, type 7 | 0.00 | 0.00 | 0.00 | 0.00 | 0.00 | 0.00 | 0.00 | 0.00 | 0.00 | 0.00 | XXX
90581 |  | E | Anthrax vaccine, sc | 0.00 | 0.00 | 0.00 | 0.00 | 0.00 | 0.00 | 0.00 | 0.00 | 0.00 | 0.00 | XXX
90585 |  | E | Bcg vaccine, percut | 0.00 | 0.00 | 0.00 | 0.00 | 0.00 | 0.00 | 0.00 | 0.00 | 0.00 | 0.00 | XXX
90586 |  | E | Bcg vaccine, intravesical | 0.00 | 0.00 | 0.00 | 0.00 | 0.00 | 0.00 | 0.00 | 0.00 | 0.00 | 0.00 | XXX
90632 |  | E | Hep a vaccine, adult im | 0.00 | 0.00 | 0.00 | 0.00 | 0.00 | 0.00 | 0.00 | 0.00 | 0.00 | 0.00 | XXX
90633 |  | E | Hep a vacc, ped/adol, 2 dose | 0.00 | 0.00 | 0.00 | 0.00 | 0.00 | 0.00 | 0.00 | 0.00 | 0.00 | 0.00 | XXX
90634 |  | E | Hep a vacc, ped/adol, 3 dose | 0.00 | 0.00 | 0.00 | 0.00 | 0.00 | 0.00 | 0.00 | 0.00 | 0.00 | 0.00 | XXX
90636 |  | E | Hep a/hep b vacc, adult im | 0.00 | 0.00 | 0.00 | 0.00 | 0.00 | 0.00 | 0.00 | 0.00 | 0.00 | 0.00 | XXX
90645 |  | E | Hib vaccine, hboc, im | 0.00 | 0.00 | 0.00 | 0.00 | 0.00 | 0.00 | 0.00 | 0.00 | 0.00 | 0.00 | XXX
90646 |  | E | Hib vaccine, prp-d, im | 0.00 | 0.00 | 0.00 | 0.00 | 0.00 | 0.00 | 0.00 | 0.00 | 0.00 | 0.00 | XXX
90647 |  | E | Hib vaccine, prp-omp, im | 0.00 | 0.00 | 0.00 | 0.00 | 0.00 | 0.00 | 0.00 | 0.00 | 0.00 | 0.00 | XXX
90648 |  | E | Hib vaccine, prp-t, im | 0.00 | 0.00 | 0.00 | 0.00 | 0.00 | 0.00 | 0.00 | 0.00 | 0.00 | 0.00 | XXX
90657 |  | X | Flu vaccine, 6-35 mo, im | 0.00 | 0.00 | 0.00 | 0.00 | 0.00 | 0.00 | 0.00 | 0.00 | 0.00 | 0.00 | XXX
90658 |  | X | Flu vaccine, 3 yrs, im | 0.00 | 0.00 | 0.00 | 0.00 | 0.00 | 0.00 | 0.00 | 0.00 | 0.00 | 0.00 | XXX
90659 |  | X | Flu vaccine, whole, im | 0.00 | 0.00 | 0.00 | 0.00 | 0.00 | 0.00 | 0.00 | 0.00 | 0.00 | 0.00 | XXX
90660 |  | X | Flu vaccine, nasal | 0.00 | 0.00 | 0.00 | 0.00 | 0.00 | 0.00 | 0.00 | 0.00 | 0.00 | 0.00 | XXX
90665 |  | E | Lyme disease vaccine, im | 0.00 | 0.00 | 0.00 | 0.00 | 0.00 | 0.00 | 0.00 | 0.00 | 0.00 | 0.00 | XXX
90669 |  | N | Pneumococcal vacc, ped<5 | 0.00 | 0.00 | 0.00 | 0.00 | 0.00 | 0.00 | 0.00 | 0.00 | 0.00 | 0.00 | XXX
90675 |  | E | Rabies vaccine, im | 0.00 | 0.00 | 0.00 | 0.00 | 0.00 | 0.00 | 0.00 | 0.00 | 0.00 | 0.00 | XXX
90676 |  | E | Rabies vaccine, id | 0.00 | 0.00 | 0.00 | 0.00 | 0.00 | 0.00 | 0.00 | 0.00 | 0.00 | 0.00 | XXX
90680 |  | E | Rotovirus vaccine, oral | 0.00 | 0.00 | 0.00 | 0.00 | 0.00 | 0.00 | 0.00 | 0.00 | 0.00 | 0.00 | XXX
90690 |  | E | Typhoid vaccine, oral | 0.00 | 0.00 | 0.00 | 0.00 | 0.00 | 0.00 | 0.00 | 0.00 | 0.00 | 0.00 | XXX
90691 |  | E | Typhoid vaccine, im | 0.00 | 0.00 | 0.00 | 0.00 | 0.00 | 0.00 | 0.00 | 0.00 | 0.00 | 0.00 | XXX
90692 |  | E | Typhoid vaccine, h-p, sc/id | 0.00 | 0.00 | 0.00 | 0.00 | 0.00 | 0.00 | 0.00 | 0.00 | 0.00 | 0.00 | XXX
90693 |  | E | Typhoid vaccine, akd, sc | 0.00 | 0.00 | 0.00 | 0.00 | 0.00 | 0.00 | 0.00 | 0.00 | 0.00 | 0.00 | XXX
90700 |  | E | Dtap vaccine, im | 0.00 | 0.00 | 0.00 | 0.00 | 0.00 | 0.00 | 0.00 | 0.00 | 0.00 | 0.00 | XXX
90701 |  | E | Dtp vaccine, im | 0.00 | 0.00 | 0.00 | 0.00 | 0.00 | 0.00 | 0.00 | 0.00 | 0.00 | 0.00 | XXX
90702 |  | E | Dt vaccine < 7, im | 0.00 | 0.00 | 0.00 | 0.00 | 0.00 | 0.00 | 0.00 | 0.00 | 0.00 | 0.00 | XXX
90703 |  | E | Tetanus vaccine, im | 0.00 | 0.00 | 0.00 | 0.00 | 0.00 | 0.00 | 0.00 | 0.00 | 0.00 | 0.00 | XXX
90704 |  | E | Mumps vaccine, sc | 0.00 | 0.00 | 0.00 | 0.00 | 0.00 | 0.00 | 0.00 | 0.00 | 0.00 | 0.00 | XXX
90705 |  | E | Measles vaccine, sc | 0.00 | 0.00 | 0.00 | 0.00 | 0.00 | 0.00 | 0.00 | 0.00 | 0.00 | 0.00 | XXX
90706 |  | E | Rubella vaccine, sc | 0.00 | 0.00 | 0.00 | 0.00 | 0.00 | 0.00 | 0.00 | 0.00 | 0.00 | 0.00 | XXX
90707 |  | E | Mmr vaccine, sc | 0.00 | 0.00 | 0.00 | 0.00 | 0.00 | 0.00 | 0.00 | 0.00 | 0.00 | 0.00 | XXX
90708 |  | E | Measles-rubella vaccine, sc | 0.00 | 0.00 | 0.00 | 0.00 | 0.00 | 0.00 | 0.00 | 0.00 | 0.00 | 0.00 | XXX
90709 |  | E | Rubella & mumps vaccine, sc | 0.00 | 0.00 | 0.00 | 0.00 | 0.00 | 0.00 | 0.00 | 0.00 | 0.00 | 0.00 | XXX
90710 |  | E | Mmrv vaccine, sc | 0.00 | 0.00 | 0.00 | 0.00 | 0.00 | 0.00 | 0.00 | 0.00 | 0.00 | 0.00 | XXX
90712 |  | E | Oral poliovirus vaccine | 0.00 | 0.00 | 0.00 | 0.00 | 0.00 | 0.00 | 0.00 | 0.00 | 0.00 | 0.00 | XXX
90713 |  | E | Poliovirus, ipv, sc | 0.00 | 0.00 | 0.00 | 0.00 | 0.00 | 0.00 | 0.00 | 0.00 | 0.00 | 0.00 | XXX
90716 |  | E | Chicken pox vaccine, sc | 0.00 | 0.00 | 0.00 | 0.00 | 0.00 | 0.00 | 0.00 | 0.00 | 0.00 | 0.00 | XXX
90717 |  | E | Yellow fever vaccine, sc | 0.00 | 0.00 | 0.00 | 0.00 | 0.00 | 0.00 | 0.00 | 0.00 | 0.00 | 0.00 | XXX
90718 |  | E | Td vaccine > 7, im | 0.00 | 0.00 | 0.00 | 0.00 | 0.00 | 0.00 | 0.00 | 0.00 | 0.00 | 0.00 | XXX
90719 |  | E | Diphtheria vaccine, im | 0.00 | 0.00 | 0.00 | 0.00 | 0.00 | 0.00 | 0.00 | 0.00 | 0.00 | 0.00 | XXX
90720 |  | E | Dtp/hib vaccine, im | 0.00 | 0.00 | 0.00 | 0.00 | 0.00 | 0.00 | 0.00 | 0.00 | 0.00 | 0.00 | XXX
90721 |  | E | Dtap/hib vaccine, im | 0.00 | 0.00 | 0.00 | 0.00 | 0.00 | 0.00 | 0.00 | 0.00 | 0.00 | 0.00 | XXX
90723 |  | X | Dtap-hep b-ipv vaccine, im | 0.00 | 0.00 | 0.00 | 0.00 | 0.00 | 0.00 | 0.00 | 0.00 | 0.00 | 0.00 | XXX
90725 |  | E | Cholera vaccine, injectable | 0.00 | 0.00 | 0.00 | 0.00 | 0.00 | 0.00 | 0.00 | 0.00 | 0.00 | 0.00 | XXX
90727 |  | E | Plague vaccine, im | 0.00 | 0.00 | 0.00 | 0.00 | 0.00 | 0.00 | 0.00 | 0.00 | 0.00 | 0.00 | XXX
90732 |  | X | Pneumococcal vacc, adult/ill | 0.00 | 0.00 | 0.00 | 0.00 | 0.00 | 0.00 | 0.00 | 0.00 | 0.00 | 0.00 | XXX
90733 |  | E | Meningococcal vaccine, sc | 0.00 | 0.00 | 0.00 | 0.00 | 0.00 | 0.00 | 0.00 | 0.00 | 0.00 | 0.00 | XXX
90735 |  | E | Encephalitis vaccine, sc | 0.00 | 0.00 | 0.00 | 0.00 | 0.00 | 0.00 | 0.00 | 0.00 | 0.00 | 0.00 | XXX
90740 |  | X | Hepb vacc, ill pat 3 dose im | 0.00 | 0.00 | 0.00 | 0.00 | 0.00 | 0.00 | 0.00 | 0.00 | 0.00 | 0.00 | XXX
90743 |  | X | Hep b vacc, adol, 2 dose, im | 0.00 | 0.00 | 0.00 | 0.00 | 0.00 | 0.00 | 0.00 | 0.00 | 0.00 | 0.00 | XXX
90744 |  | X | Hepb vacc ped/adol 3 dose im | 0.00 | 0.00 | 0.00 | 0.00 | 0.00 | 0.00 | 0.00 | 0.00 | 0.00 | 0.00 | XXX
90746 |  | X | Hep b vaccine, adult, im | 0.00 | 0.00 | 0.00 | 0.00 | 0.00 | 0.00 | 0.00 | 0.00 | 0.00 | 0.00 | XXX
90747 |  | X | Hepb vacc, ill pat 4 dose im | 0.00 | 0.00 | 0.00 | 0.00 | 0.00 | 0.00 | 0.00 | 0.00 | 0.00 | 0.00 | XXX
90748 |  | E | Hep b/hib vaccine, im | 0.00 | 0.00 | 0.00 | 0.00 | 0.00 | 0.00 | 0.00 | 0.00 | 0.00 | 0.00 | XXX
90749 |  | E | Vaccine toxoid | 0.00 | 0.00 | 0.00 | 0.00 | 0.00 | 0.00 | 0.00 | 0.00 | 0.00 | 0.00 | XXX
90780 |  | A | IV infusion therapy, 1 hour | 0.00 | 1.10 | 1.11 | 1.10 | 1.11 | 0.06 | 1.16 | 1.17 | 1.16 | 1.17 | XXX
90781 |  | A | IV infusion, additional hour | 0.00 | 0.56 | 0.57 | 0.56 | 0.57 | 0.03 | 0.59 | 0.60 | 0.59 | 0.60 | ZZZ
90782 |  | T | Injection, sc/im | 0.00 | 0.11 | 0.11 | 0.11 | 0.11 | 0.01 | 0.12 | 0.12 | 0.12 | 0.12 | XXX
90783 |  | T | Injection, ia | 0.00 | 0.40 | 0.41 | 0.40 | 0.41 | 0.02 | 0.42 | 0.43 | 0.42 | 0.43 | XXX
90784 |  | T | Injection, iv | 0.00 | 0.47 | 0.48 | 0.47 | 0.48 | 0.03 | 0.50 | 0.51 | 0.50 | 0.51 | XXX
90788 |  | T | Injection of antibiotic | 0.00 | 0.12 | 0.12 | 0.12 | 0.12 | 0.01 | 0.13 | 0.13 | 0.13 | 0.13 | XXX
90799 |  | C | Ther/prophylactic/dx inject | 0.00 | 0.00 | 0.00 | 0.00 | 0.00 | 0.00 | 0.00 | 0.00 | 0.00 | 0.00 | XXX
90801 |  | A | Psy dx interview | 2.80 | 1.16 | 1.05 | 0.93 | 0.88 | 0.06 | 4.02 | 3.91 | 3.79 | 3.74 | XXX
90802 |  | A | Intac psy dx interview | 3.01 | 1.17 | 0.98 | 0.99 | 0.85 | 0.07 | 4.25 | 4.06 | 4.07 | 3.93 | XXX
90804 |  | A | Psytx, office, 20-30 min | 1.21 | 0.54 | 0.50 | 0.40 | 0.40 | 0.03 | 1.78 | 1.74 | 1.64 | 1.64 | XXX
90805 |  | A | Psytx, off, 20-30 min w/e&m | 1.37 | 0.60 | 0.55 | 0.44 | 0.43 | 0.03 | 2.00 | 1.95 | 1.84 | 1.83 | XXX
90806 |  | A | Psytx, off, 45-50 min | 1.86 | 0.77 | 0.73 | 0.62 | 0.61 | 0.04 | 2.67 | 2.63 | 2.52 | 2.51 | XXX
90807 |  | A | Psytx, off, 45-50 min w/e&m | 2.02 | 0.80 | 0.75 | 0.66 | 0.64 | 0.05 | 2.87 | 2.82 | 2.73 | 2.71 | XXX
90808 |  | A | Psytx, office, 75-80 min | 2.79 | 1.09 | 1.10 | 0.93 | 0.98 | 0.07 | 3.95 | 3.96 | 3.79 | 3.84 | XXX
90809 |  | A | Psytx, off, 75-80, w/e&m | 2.95 | 1.13 | 1.13 | 0.96 | 1.01 | 0.07 | 4.15 | 4.15 | 3.98 | 4.03 | XXX
90810 |  | A | Intac psytx, off, 20-30 min | 1.32 | 0.56 | 0.58 | 0.44 | 0.49 | 0.03 | 1.91 | 1.93 | 1.79 | 1.84 | XXX
90811 |  | A | Intac psytx, 20-30, w/e&m | 1.48 | 0.64 | 0.64 | 0.48 | 0.52 | 0.03 | 2.15 | 2.15 | 1.99 | 2.03 | XXX
90812 |  | A | Intac psytx, off, 45-50 min | 1.97 | 0.83 | 0.78 | 0.65 | 0.65 | 0.05 | 2.85 | 2.80 | 2.67 | 2.67 | XXX
90813 |  | A | Intac psytx, 45-50 min w/e&m | 2.13 | 0.87 | 0.81 | 0.70 | 0.69 | 0.05 | 3.05 | 2.99 | 2.88 | 2.87 | XXX
90814 |  | A | Intac psytx, off, 75-80 min | 2.90 | 1.20 | 1.06 | 1.14 | 1.02 | 0.07 | 4.17 | 4.03 | 4.11 | 3.99 | XXX
90815 |  | A | Intac psytx, 75-80 w/e&m | 3.06 | 1.21 | 1.07 | 0.98 | 0.90 | 0.07 | 4.34 | 4.20 | 4.11 | 4.03 | XXX
90816 |  | A | Psytx, hosp, 20-30 min | 1.25 | 0.58 | 0.53 | 0.43 | 0.42 | 0.03 | 1.86 | 1.81 | 1.71 | 1.70 | XXX
90817 |  | A | Psytx, hosp, 20-30 min w/e&m | 1.41 | 0.63 | 0.57 | 0.46 | 0.44 | 0.03 | 2.07 | 2.01 | 1.90 | 1.88 | XXX
90818 |  | A | Psytx, hosp, 45-50 min | 1.89 | 0.82 | 0.76 | 0.65 | 0.64 | 0.04 | 2.75 | 2.69 | 2.58 | 2.57 | XXX
90819 |  | A | Psytx, hosp, 45-50 min w/e&m | 2.05 | 0.83 | 0.77 | 0.66 | 0.64 | 0.05 | 2.93 | 2.87 | 2.76 | 2.74 | XXX
90821 |  | A | Psytx, hosp, 75-80 min | 2.83 | 1.14 | 1.14 | 0.97 | 1.01 | 0.06 | 4.03 | 4.03 | 3.86 | 3.90 | XXX
90822 |  | A | Psytx, hosp, 75-80 min w/e&m | 2.99 | 1.13 | 1.13 | 0.97 | 1.01 | 0.07 | 4.19 | 4.19 | 4.03 | 4.07 | XXX
90823 |  | A | Intac psytx, hosp, 20-30 min | 1.36 | 0.68 | 0.67 | 0.45 | 0.50 | 0.03 | 2.07 | 2.06 | 1.84 | 1.89 | XXX
90824 |  | A | Intac psytx, hsp 20-30 w/e&m | 1.52 | 0.72 | 0.70 | 0.49 | 0.53 | 0.03 | 2.27 | 2.25 | 2.04 | 2.08 | XXX
90826 |  | A | Intac psytx, hosp, 45-50 min | 2.01 | 0.91 | 0.84 | 0.69 | 0.68 | 0.04 | 2.96 | 2.89 | 2.74 | 2.73 | XXX
90827 |  | A | Intac psytx, hsp 45-50 w/e&m | 2.16 | 0.94 | 0.87 | 0.69 | 0.68 | 0.05 | 3.15 | 3.08 | 2.90 | 2.89 | XXX
90828 |  | A | Intac psytx, hosp, 75-80 min | 2.94 | 1.23 | 1.08 | 1.02 | 0.93 | 0.07 | 4.24 | 4.09 | 4.03 | 3.94 | XXX
90829 |  | A | Intac psytx, hsp 75-80 w/e&m | 3.10 | 1.26 | 1.11 | 1.00 | 0.91 | 0.07 | 4.43 | 4.28 | 4.17 | 4.08 | XXX
90845 |  | A | Psychoanalysis | 1.79 | 0.70 | 0.64 | 0.59 | 0.55 | 0.04 | 2.53 | 2.47 | 2.42 | 2.38 | XXX
90846 |  | R | Family psytx w/o patient | 1.83 | 0.74 | 0.72 | 0.62 | 0.63 | 0.04 | 2.61 | 2.59 | 2.49 | 2.50 | XXX
90847 |  | R | Family psytx w/patient | 2.21 | 0.87 | 0.81 | 0.75 | 0.72 | 0.05 | 3.13 | 3.07 | 3.01 | 2.98 | XXX
90849 |  | R | Multiple family group psytx | 0.59 | 0.37 | 0.35 | 0.20 | 0.22 | 0.01 | 0.97 | 0.95 | 0.80 | 0.82 | XXX
90853 |  | A | Group psychotherapy | 0.59 | 0.35 | 0.33 | 0.20 | 0.22 | 0.01 | 0.95 | 0.93 | 0.80 | 0.82 | XXX
90857 |  | A | Intac group psytx | 0.63 | 0.38 | 0.33 | 0.23 | 0.21 | 0.02 | 1.03 | 0.98 | 0.88 | 0.86 | XXX
90862 |  | A | Medication management | 0.95 | 0.44 | 0.43 | 0.31 | 0.33 | 0.02 | 1.41 | 1.40 | 1.28 | 1.30 | XXX
90865 |  | A | Narcosynthesis | 2.84 | 1.63 | 1.36 | 0.93 | 0.83 | 0.07 | 4.54 | 4.27 | 3.84 | 3.74 | XXX
90870 |  | A | Electroconvulsive therapy | 1.88 | 0.75 | 0.71 | 0.75 | 0.71 | 0.04 | 2.67 | 2.63 | 2.67 | 2.63 | 000
90871 |  | A | Electroconvulsive therapy | 2.72 | NA | NA | 1.03 | 1.00 | 0.06 | NA | NA | 3.81 | 3.78 | 000
90875 |  | N | Psychophysiological therapy | +1.20 | 0.88 | 0.88 | 0.48 | 0.48 | 0.03 | 2.11 | 2.11 | 1.71 | 1.71 | XXX
90876 |  | N | Psychophysiological therapy | +1.90 | 1.16 | 1.16 | 0.76 | 0.76 | 0.04 | 3.10 | 3.10 | 2.70 | 2.70 | XXX
90880 |  | A | Hypnotherapy | 2.19 | 0.89 | 0.84 | 0.71 | 0.71 | 0.05 | 3.13 | 3.08 | 2.95 | 2.95 | XXX
90882 |  | N | Environmental manipulation | 0.00 | 0.00 | 0.00 | 0.00 | 0.00 | 0.00 | 0.00 | 0.00 | 0.00 | 0.00 | XXX
90885 |  | B | Psy evaluation of records | +0.97 | 0.39 | 0.38 | 0.39 | 0.38 | 0.02 | 1.38 | 1.37 | 1.38 | 1.37 | XXX
90887 |  | B | Consultation with family | +1.48 | 0.82 | 0.71 | 0.59 | 0.53 | 0.03 | 2.33 | 2.22 | 2.10 | 2.04 | XXX
90889 |  | B | Preparation of report | 0.00 | 0.00 | 0.00 | 0.00 | 0.00 | 0.00 | 0.00 | 0.00 | 0.00 | 0.00 | XXX
90899 |  | C | Psychiatric service/therapy | 0.00 | 0.00 | 0.00 | 0.00 | 0.00 | 0.00 | 0.00 | 0.00 | 0.00 | 0.00 | XXX
90901 |  | A | Biofeedback train, any meth | 0.41 | 0.72 | 0.80 | 0.18 | 0.40 | 0.02 | 1.15 | 1.23 | 0.61 | 0.83 | 000
90911 |  | A | Biofeedback peri/uro/rectal | 0.89 | 0.87 | 0.96 | 0.37 | 0.59 | 0.04 | 1.80 | 1.89 | 1.30 | 1.52 | 000
90918 |  | A | ESRD related services, month | 11.18 | 5.30 | 4.57 | 5.30 | 4.57 | 0.30 | 16.78 | 16.05 | 16.78 | 16.05 | XXX
90919 |  | A | ESRD related services, month | 8.54 | 4.32 | 3.84 | 4.32 | 3.84 | 0.24 | 13.10 | 12.62 | 13.10 | 12.62 | XXX
90920 |  | A | ESRD related services, month | 7.27 | 3.77 | 3.42 | 3.77 | 3.42 | 0.19 | 11.23 | 10.88 | 11.23 | 10.88 | XXX
90921 |  | A | ESRD related services, month | 4.47 | 2.70 | 2.62 | 2.70 | 2.62 | 0.12 | 7.29 | 7.21 | 7.29 | 7.21 | XXX
90922 |  | A | ESRD related services, day | 0.37 | 0.16 | 0.14 | 0.16 | 0.14 | 0.01 | 0.54 | 0.52 | 0.54 | 0.52 | XXX
90923 |  | A | Esrd related services, day | 0.28 | 0.14 | 0.13 | 0.14 | 0.13 | 0.01 | 0.43 | 0.42 | 0.43 | 0.42 | XXX
90924 |  | A | Esrd related services, day | 0.24 | 0.12 | 0.11 | 0.12 | 0.11 | 0.01 | 0.37 | 0.36 | 0.37 | 0.36 | XXX
90925 |  | A | Esrd related services, day | 0.15 | 0.09 | 0.09 | 0.09 | 0.09 | 0.01 | 0.25 | 0.25 | 0.25 | 0.25 | XXX
90935 |  | A | Hemodialysis, one evaluation | 1.22 | NA | NA | 0.78 | 0.95 | 0.03 | NA | NA | 2.03 | 2.20 | 000
90937 |  | A | Hemodialysis, repeated eval | 2.11 | NA | NA | 1.10 | 1.46 | 0.06 | NA | NA | 3.27 | 3.63 | 000
90940 |  | X | Hemodialysis access study | 0.00 | 0.00 | 0.00 | 0.00 | 0.00 | 0.00 | 0.00 | 0.00 | 0.00 | 0.00 | XXX
90945 |  | A | Dialysis, one evaluation | 1.28 | NA | NA | 0.81 | 0.95 | 0.04 | NA | NA | 2.13 | 2.27 | 000
90947 |  | A | Dialysis, repeated eval | 2.16 | NA | NA | 1.12 | 1.41 | 0.06 | NA | NA | 3.34 | 3.63 | 000
90989 |  | X | Dialysis training, complete | 0.00 | 0.00 | 0.00 | 0.00 | 0.00 | 0.00 | 0.00 | 0.00 | 0.00 | 0.00 | XXX
90993 |  | X | Dialysis training, incompl | 0.00 | 0.00 | 0.00 | 0.00 | 0.00 | 0.00 | 0.00 | 0.00 | 0.00 | 0.00 | XXX
90997 |  | A | Hemoperfusion | 1.84 | NA | NA | 1.01 | 1.31 | 0.05 | NA | NA | 2.90 | 3.20 | 000
90999 |  | C | Dialysis procedure | 0.00 | 0.00 | 0.00 | 0.00 | 0.00 | 0.00 | 0.00 | 0.00 | 0.00 | 0.00 | XXX
91000 |  | A | Esophageal intubation | 0.73 | 0.35 | 0.44 | 0.35 | 0.44 | 0.04 | 1.12 | 1.21 | 1.12 | 1.21 | 000
91000 | 26 | A | Esophageal intubation | 0.73 | 0.27 | 0.36 | 0.27 | 0.36 | 0.03 | 1.03 | 1.12 | 1.03 | 1.12 | 000
91000 | TC | A | Esophageal intubation | 0.00 | 0.08 | 0.08 | NA | NA | 0.01 | 0.09 | 0.09 | NA | NA | 000
91010 |  | A | Esophagus motility study | 1.25 | 1.27 | 1.54 | 1.27 | 1.54 | 0.10 | 2.62 | 2.89 | 2.62 | 2.89 | 000
91010 | 26 | A | Esophagus motility study | 1.25 | 0.45 | 0.71 | 0.45 | 0.71 | 0.05 | 1.75 | 2.01 | 1.75 | 2.01 | 000
91010 | TC | A | Esophagus motility study | 0.00 | 0.82 | 0.83 | NA | NA | 0.05 | 0.87 | 0.88 | NA | NA | 000
91011 |  | A | Esophagus motility study | 1.50 | 1.57 | 1.89 | 1.57 | 1.89 | 0.10 | 3.17 | 3.49 | 3.17 | 3.49 | 000
91011 | 26 | A | Esophagus motility study | 1.50 | 0.55 | 0.86 | 0.55 | 0.86 | 0.05 | 2.10 | 2.41 | 2.10 | 2.41 | 000
91011 | TC | A | Esophagus motility study | 0.00 | 1.02 | 1.03 | NA | NA | 0.05 | 1.07 | 1.08 | NA | NA | 000
91012 |  | A | Esophagus motility study | 1.46 | 1.67 | 1.99 | 1.67 | 1.99 | 0.12 | 3.25 | 3.57 | 3.25 | 3.57 | 000
91012 | 26 | A | Esophagus motility study | 1.46 | 0.53 | 0.84 | 0.53 | 0.84 | 0.06 | 2.05 | 2.36 | 2.05 | 2.36 | 000
91012 | TC | A | Esophagus motility study | 0.00 | 1.14 | 1.15 | NA | NA | 0.06 | 1.20 | 1.21 | NA | NA | 000
91020 |  | A | Gastric motility | 1.44 | 1.26 | 1.57 | 1.26 | 1.57 | 0.11 | 2.81 | 3.12 | 2.81 | 3.12 | 000
91020 | 26 | A | Gastric motility | 1.44 | 0.50 | 0.80 | 0.50 | 0.80 | 0.06 | 2.00 | 2.30 | 2.00 | 2.30 | 000
91020 | TC | A | Gastric motility | 0.00 | 0.76 | 0.77 | NA | NA | 0.05 | 0.81 | 0.82 | NA | NA | 000
91030 |  | A | Acid perfusion of esophagus | 0.91 | 0.55 | 0.56 | 0.55 | 0.56 | 0.05 | 1.51 | 1.52 | 1.51 | 1.52 | 000
91030 | 26 | A | Acid perfusion of esophagus | 0.91 | 0.33 | 0.34 | 0.33 | 0.34 | 0.03 | 1.27 | 1.28 | 1.27 | 1.28 | 000
91030 | TC | A | Acid perfusion of esophagus | 0.00 | 0.22 | 0.22 | NA | NA | 0.02 | 0.24 | 0.24 | NA | NA | 000
91032 |  | A | Esophagus, acid reflux test | 1.21 | 1.17 | 1.41 | 1.17 | 1.41 | 0.10 | 2.48 | 2.72 | 2.48 | 2.72 | 000
91032 | 26 | A | Esophagus, acid reflux test | 1.21 | 0.43 | 0.66 | 0.43 | 0.66 | 0.05 | 1.69 | 1.92 | 1.69 | 1.92 | 000
91032 | TC | A | Esophagus, acid reflux test | 0.00 | 0.74 | 0.75 | NA | NA | 0.05 | 0.79 | 0.80 | NA | NA | 000
91033 |  | A | Prolonged acid reflux test | 1.30 | 1.81 | 2.09 | 1.81 | 2.09 | 0.14 | 3.25 | 3.53 | 3.25 | 3.53 | 000
91033 | 26 | A | Prolonged acid reflux test | 1.30 | 0.47 | 0.74 | 0.47 | 0.74 | 0.05 | 1.82 | 2.09 | 1.82 | 2.09 | 000
91033 | TC | A | Prolonged acid reflux test | 0.00 | 1.34 | 1.35 | NA | NA | 0.09 | 1.43 | 1.44 | NA | NA | 000
91052 |  | A | Gastric analysis test | 0.79 | 0.62 | 0.69 | 0.62 | 0.69 | 0.05 | 1.46 | 1.53 | 1.46 | 1.53 | 000
91052 | 26 | A | Gastric analysis test | 0.79 | 0.28 | 0.35 | 0.28 | 0.35 | 0.03 | 1.10 | 1.17 | 1.10 | 1.17 | 000
91052 | TC | A | Gastric analysis test | 0.00 | 0.34 | 0.34 | NA | NA | 0.02 | 0.36 | 0.36 | NA | NA | 000
91055 |  | A | Gastric intubation for smear | 0.94 | 0.58 | 0.65 | 0.58 | 0.65 | 0.06 | 1.58 | 1.65 | 1.58 | 1.65 | 000
91055 | 26 | A | Gastric intubation for smear | 0.94 | 0.28 | 0.35 | 0.28 | 0.35 | 0.04 | 1.26 | 1.33 | 1.26 | 1.33 | 000
91055 | TC | A | Gastric intubation for smear | 0.00 | 0.30 | 0.30 | NA | NA | 0.02 | 0.32 | 0.32 | NA | NA | 000
91060 |  | A | Gastric saline load test | 0.45 | 0.35 | 0.45 | 0.35 | 0.45 | 0.04 | 0.84 | 0.94 | 0.84 | 0.94 | 000
91060 | 26 | A | Gastric saline load test | 0.45 | 0.13 | 0.23 | 0.13 | 0.23 | 0.02 | 0.60 | 0.70 | 0.60 | 0.70 | 000
91060 | TC | A | Gastric saline load test | 0.00 | 0.22 | 0.22 | NA | NA | 0.02 | 0.24 | 0.24 | NA | NA | 000
91065 |  | A | Breath hydrogen test | 0.20 | 0.43 | 0.47 | 0.43 | 0.47 | 0.03 | 0.66 | 0.70 | 0.66 | 0.70 | 000
91065 | 26 | A | Breath hydrogen test | 0.20 | 0.07 | 0.11 | 0.07 | 0.11 | 0.01 | 0.28 | 0.32 | 0.28 | 0.32 | 000
91065 | TC | A | Breath hydrogen test | 0.00 | 0.36 | 0.36 | NA | NA | 0.02 | 0.38 | 0.38 | NA | NA | 000
91100 |  | A | Pass intestine bleeding tube | 1.08 | NA | NA | 0.46 | 0.50 | 0.06 | NA | NA | 1.60 | 1.64 | 000
91105 |  | A | Gastric intubation treatment | 0.37 | NA | NA | 0.20 | 0.26 | 0.02 | NA | NA | 0.59 | 0.65 | 000
91122 |  | A | Anal pressure record | 1.77 | 1.35 | 1.49 | 1.35 | 1.49 | 0.17 | 3.29 | 3.43 | 3.29 | 3.43 | 000
91122 | 26 | A | Anal pressure record | 1.77 | 0.65 | 0.78 | 0.65 | 0.78 | 0.10 | 2.52 | 2.65 | 2.52 | 2.65 | 000
91122 | TC | A | Anal pressure record | 0.00 | 0.70 | 0.71 | NA | NA | 0.07 | 0.77 | 0.78 | NA | NA | 000
91132 |  | C | Electrogastrography | 0.00 | 0.00 | 0.00 | 0.00 | 0.00 | 0.00 | 0.00 | 0.00 | 0.00 | 0.00 | XXX
91132 | 26 | C | Electrogastrography | 0.00 | 0.00 | 0.00 | 0.00 | 0.00 | 0.00 | 0.00 | 0.00 | 0.00 | 0.00 | XXX
91132 | TC | C | Electrogastrography | 0.00 | 0.00 | 0.00 | 0.00 | 0.00 | 0.00 | 0.00 | 0.00 | 0.00 | 0.00 | XXX
91133 |  | C | Electrogastrography w/test | 0.00 | 0.00 | 0.00 | 0.00 | 0.00 | 0.00 | 0.00 | 0.00 | 0.00 | 0.00 | XXX
91133 | 26 | C | Electrogastrography w/test | 0.00 | 0.00 | 0.00 | 0.00 | 0.00 | 0.00 | 0.00 | 0.00 | 0.00 | 0.00 | XXX
91133 | TC | C | Electrogastrography w/test | 0.00 | 0.00 | 0.00 | 0.00 | 0.00 | 0.00 | 0.00 | 0.00 | 0.00 | 0.00 | XXX
91299 |  | C | Gastroenterology procedure | 0.00 | 0.00 | 0.00 | 0.00 | 0.00 | 0.00 | 0.00 | 0.00 | 0.00 | 0.00 | XXX
91299 | 26 | C | Gastroenterology procedure | 0.00 | 0.00 | 0.00 | 0.00 | 0.00 | 0.00 | 0.00 | 0.00 | 0.00 | 0.00 | XXX
91299 | TC | C | Gastroenterology procedure | 0.00 | 0.00 | 0.00 | 0.00 | 0.00 | 0.00 | 0.00 | 0.00 | 0.00 | 0.00 | XXX
92002 |  | A | Eye exam, new patient | 0.88 | 1.10 | 0.96 | 0.36 | 0.34 | 0.02 | 2.00 | 1.86 | 1.26 | 1.24 | XXX
92004 |  | A | Eye exam, new patient | 1.67 | 1.73 | 1.45 | 0.72 | 0.62 | 0.03 | 3.43 | 3.15 | 2.42 | 2.32 | XXX
92012 |  | A | Eye exam established pat | 0.67 | 1.05 | 0.91 | 0.31 | 0.29 | 0.01 | 1.73 | 1.59 | 0.99 | 0.97 | XXX
92014 |  | A | Eye exam & treatment | 1.10 | 1.36 | 1.17 | 0.51 | 0.46 | 0.02 | 2.48 | 2.29 | 1.63 | 1.58 | XXX
92015 |  | N | Refraction | +0.38 | 1.40 | 1.14 | 0.15 | 0.20 | 0.01 | 1.79 | 1.53 | 0.54 | 0.59 | XXX
92018 |  | A | New eye exam & treatment | 1.51 | NA | NA | 0.72 | 0.67 | 0.03 | NA | NA | 2.26 | 2.21 | XXX
92019 |  | A | Eye exam & treatment | 1.31 | NA | NA | 0.62 | 0.53 | 0.03 | NA | NA | 1.96 | 1.87 | XXX
92020 |  | A | Special eye evaluation | 0.37 | 0.70 | 0.60 | 0.17 | 0.17 | 0.01 | 1.08 | 0.98 | 0.55 | 0.55 | XXX
92060 |  | A | Special eye evaluation | 0.69 | 1.53 | 1.25 | 1.53 | 1.25 | 0.02 | 2.24 | 1.96 | 2.24 | 1.96 | XXX
92060 | 26 | A | Special eye evaluation | 0.69 | 0.30 | 0.28 | 0.30 | 0.28 | 0.01 | 1.00 | 0.98 | 1.00 | 0.98 | XXX
92060 | TC | A | Special eye evaluation | 0.00 | 1.23 | 0.97 | NA | NA | 0.01 | 1.24 | 0.98 | NA | NA | XXX
92065 |  | A | Orthoptic/pleoptic training | 0.37 | 0.80 | 0.70 | 0.80 | 0.70 | 0.02 | 1.19 | 1.09 | 1.19 | 1.09 | XXX
92065 | 26 | A | Orthoptic/pleoptic training | 0.37 | 0.16 | 0.18 | 0.16 | 0.18 | 0.01 | 0.54 | 0.56 | 0.54 | 0.56 | XXX
92065 | TC | A | Orthoptic/pleoptic training | 0.00 | 0.64 | 0.52 | NA | NA | 0.01 | 0.65 | 0.53 | NA | NA | XXX
92070 |  | A | Fitting of contact lens | 0.70 | 1.03 | 1.10 | 0.34 | 0.42 | 0.01 | 1.74 | 1.81 | 1.05 | 1.13 | XXX
92081 |  | A | Visual field examination(s) | 0.36 | 1.42 | 1.16 | 1.42 | 1.16 | 0.02 | 1.80 | 1.54 | 1.80 | 1.54 | XXX
92081 | 26 | A | Visual field examination(s) | 0.36 | 0.16 | 0.17 | 0.16 | 0.17 | 0.01 | 0.53 | 0.54 | 0.53 | 0.54 | XXX
92081 | TC | A | Visual field examination(s) | 0.00 | 1.26 | 0.99 | NA | NA | 0.01 | 1.27 | 1.00 | NA | NA | XXX
92082 |  | A | Visual field examination(s) | 0.44 | 1.25 | 1.07 | 1.25 | 1.07 | 0.02 | 1.71 | 1.53 | 1.71 | 1.53 | XXX
92082 | 26 | A | Visual field examination(s) | 0.44 | 0.20 | 0.23 | 0.20 | 0.23 | 0.01 | 0.65 | 0.68 | 0.65 | 0.68 | XXX
92082 | TC | A | Visual field examination(s) | 0.00 | 1.05 | 0.84 | NA | NA | 0.01 | 1.06 | 0.85 | NA | NA | XXX
92083 |  | A | Visual field examination(s) | 0.50 | 1.23 | 1.15 | 1.23 | 1.15 | 0.02 | 1.75 | 1.67 | 1.75 | 1.67 | XXX
92083 | 26 | A | Visual field examination(s) | 0.50 | 0.23 | 0.32 | 0.23 | 0.32 | 0.01 | 0.74 | 0.83 | 0.74 | 0.83 | XXX
92083 | TC | A | Visual field examination(s) | 0.00 | 1.00 | 0.83 | NA | NA | 0.01 | 1.01 | 0.84 | NA | NA | XXX
92100 |  | A | Serial tonometry exam(s) | 0.92 | 0.79 | 0.66 | 0.40 | 0.34 | 0.02 | 1.73 | 1.60 | 1.34 | 1.28 | XXX
92120 |  | A | Tonography & eye evaluation | 0.81 | 0.77 | 0.66 | 0.32 | 0.28 | 0.02 | 1.60 | 1.49 | 1.15 | 1.11 | XXX
92130 |  | A | Water provocation tonography | 0.81 | 0.87 | 0.79 | 0.40 | 0.37 | 0.02 | 1.70 | 1.62 | 1.23 | 1.20 | XXX
92135 |  | A | Opthalmic dx imaging | 0.35 | 1.19 | 1.19 | 1.19 | 1.19 | 0.02 | 1.56 | 1.56 | 1.56 | 1.56 | XXX
92135 | 26 | A | Opthalmic dx imaging | 0.35 | 0.16 | 0.16 | 0.16 | 0.16 | 0.01 | 0.52 | 0.52 | 0.52 | 0.52 | XXX
92135 | TC | A | Opthalmic dx imaging | 0.00 | 1.03 | 1.03 | NA | NA | 0.01 | 1.04 | 1.04 | NA | NA | XXX
92140 |  | A | Glaucoma provocative tests | 0.50 | 0.95 | 0.80 | 0.22 | 0.21 | 0.01 | 1.46 | 1.31 | 0.73 | 0.72 | XXX
92225 |  | A | Special eye exam, initial | 0.38 | 1.64 | 1.35 | 0.16 | 0.18 | 0.01 | 2.03 | 1.74 | 0.55 | 0.57 | XXX
92226 |  | A | Special eye exam, subsequent | 0.33 | 1.73 | 1.41 | 0.15 | 0.17 | 0.01 | 2.07 | 1.75 | 0.49 | 0.51 | XXX
92230 |  | A | Eye exam with photos | 0.60 | 1.28 | 1.15 | 0.19 | 0.24 | 0.02 | 1.90 | 1.77 | 0.81 | 0.86 | XXX
92235 |  | A | Eye exam with photos | 0.81 | 2.31 | 2.16 | 2.31 | 2.16 | 0.07 | 3.19 | 3.04 | 3.19 | 3.04 | XXX
92235 | 26 | A | Eye exam with photos | 0.81 | 0.40 | 0.46 | 0.40 | 0.46 | 0.02 | 1.23 | 1.29 | 1.23 | 1.29 | XXX
92235 | TC | A | Eye exam with photos | 0.00 | 1.91 | 1.70 | NA | NA | 0.05 | 1.96 | 1.75 | NA | NA | XXX
92240 |  | A | Icg angiography | 1.10 | 2.75 | 2.49 | 2.75 | 2.49 | 0.07 | 3.92 | 3.66 | 3.92 | 3.66 | XXX
92240 | 26 | A | Icg angiography | 1.10 | 0.53 | 0.56 | 0.53 | 0.56 | 0.02 | 1.65 | 1.68 | 1.65 | 1.68 | XXX
92240 | TC | A | Icg angiography | 0.00 | 2.22 | 1.93 | NA | NA | 0.05 | 2.27 | 1.98 | NA | NA | XXX
92250 |  | A | Eye exam with photos | 0.44 | 1.75 | 1.43 | 1.75 | 1.43 | 0.02 | 2.21 | 1.89 | 2.21 | 1.89 | XXX
92250 | 26 | A | Eye exam with photos | 0.44 | 0.21 | 0.23 | 0.21 | 0.23 | 0.01 | 0.66 | 0.68 | 0.66 | 0.68 | XXX
92250 | TC | A | Eye exam with photos | 0.00 | 1.54 | 1.20 | NA | NA | 0.01 | 1.55 | 1.21 | NA | NA | XXX
92260 |  | A | Ophthalmoscopy/dynamometry | 0.20 | 0.22 | 0.31 | 0.10 | 0.15 | 0.01 | 0.43 | 0.52 | 0.31 | 0.36 | XXX
92265 |  | A | Eye muscle evaluation | 0.81 | 1.27 | 1.04 | 1.27 | 1.04 | 0.04 | 2.12 | 1.89 | 2.12 | 1.89 | XXX
92265 | 26 | A | Eye muscle evaluation | 0.81 | 0.33 | 0.27 | 0.33 | 0.27 | 0.02 | 1.16 | 1.10 | 1.16 | 1.10 | XXX
92265 | TC | A | Eye muscle evaluation | 0.00 | 0.94 | 0.77 | NA | NA | 0.02 | 0.96 | 0.79 | NA | NA | XXX
92270 |  | A | Electro-oculography | 0.81 | 1.03 | 0.95 | 1.03 | 0.95 | 0.05 | 1.89 | 1.81 | 1.89 | 1.81 | XXX
92270 | 26 | A | Electro-oculography | 0.81 | 0.35 | 0.36 | 0.35 | 0.36 | 0.03 | 1.19 | 1.20 | 1.19 | 1.20 | XXX
92270 | TC | A | Electro-oculography | 0.00 | 0.68 | 0.59 | NA | NA | 0.02 | 0.70 | 0.61 | NA | NA | XXX
92275 |  | A | Electroretinography | 1.01 | 1.17 | 1.13 | 1.17 | 1.13 | 0.04 | 2.22 | 2.18 | 2.22 | 2.18 | XXX
92275 | 26 | A | Electroretinography | 1.01 | 0.45 | 0.48 | 0.45 | 0.48 | 0.02 | 1.48 | 1.51 | 1.48 | 1.51 | XXX
92275 | TC | A | Electroretinography | 0.00 | 0.72 | 0.65 | NA | NA | 0.02 | 0.74 | 0.67 | NA | NA | XXX
92283 |  | A | Color vision examination | 0.17 | 0.65 | 0.57 | 0.65 | 0.57 | 0.02 | 0.84 | 0.76 | 0.84 | 0.76 | XXX
92283 | 26 | A | Color vision examination | 0.17 | 0.07 | 0.10 | 0.07 | 0.10 | 0.01 | 0.25 | 0.28 | 0.25 | 0.28 | XXX
92283 | TC | A | Color vision examination | 0.00 | 0.58 | 0.47 | NA | NA | 0.01 | 0.59 | 0.48 | NA | NA | XXX
92284 |  | A | Dark adaptation eye exam | 0.24 | 1.98 | 1.61 | 1.98 | 1.61 | 0.02 | 2.24 | 1.87 | 2.24 | 1.87 | XXX
92284 | 26 | A | Dark adaptation eye exam | 0.24 | 0.08 | 0.14 | 0.08 | 0.14 | 0.01 | 0.33 | 0.39 | 0.33 | 0.39 | XXX
92284 | TC | A | Dark adaptation eye exam | 0.00 | 1.90 | 1.47 | NA | NA | 0.01 | 1.91 | 1.48 | NA | NA | XXX
92285 |  | A | Eye photography | 0.20 | 1.90 | 1.51 | 1.90 | 1.51 | 0.02 | 2.12 | 1.73 | 2.12 | 1.73 | XXX
92285 | 26 | A | Eye photography | 0.20 | 0.09 | 0.12 | 0.09 | 0.12 | 0.01 | 0.30 | 0.33 | 0.30 | 0.33 | XXX
92285 | TC | A | Eye photography | 0.00 | 1.81 | 1.39 | NA | NA | 0.01 | 1.82 | 1.40 | NA | NA | XXX
92286 |  | A | Internal eye photography | 0.66 | 2.07 | 1.89 | 2.07 | 1.89 | 0.03 | 2.76 | 2.58 | 2.76 | 2.58 | XXX
92286 | 26 | A | Internal eye photography | 0.66 | 0.32 | 0.47 | 0.32 | 0.47 | 0.01 | 0.99 | 1.14 | 0.99 | 1.14 | XXX
92286 | TC | A | Internal eye photography | 0.00 | 1.75 | 1.42 | NA | NA | 0.02 | 1.77 | 1.44 | NA | NA | XXX
92287 |  | A | Internal eye photography | 0.81 | 1.96 | 1.88 | 0.30 | 0.43 | 0.02 | 2.79 | 2.71 | 1.13 | 1.26 | XXX
92310 |  | N | Contact lens fitting | +1.17 | 1.08 | 1.16 | 0.47 | 0.70 | 0.00 | 2.25 | 2.33 | 1.64 | 1.87 | XXX
92311 |  | A | Contact lens fitting | 1.08 | 1.05 | 1.03 | 0.40 | 0.42 | 0.03 | 2.16 | 2.14 | 1.51 | 1.53 | XXX
92312 |  | A | Contact lens fitting | 1.26 | 1.03 | 1.09 | 0.46 | 0.50 | 0.03 | 2.32 | 2.38 | 1.75 | 1.79 | XXX
92313 |  | A | Contact lens fitting | 0.92 | 1.06 | 1.04 | 0.32 | 0.36 | 0.02 | 2.00 | 1.98 | 1.26 | 1.30 | XXX
92314 |  | N | Prescription of contact lens | +0.69 | 0.88 | 0.87 | 0.28 | 0.42 | 0.00 | 1.57 | 1.56 | 0.97 | 1.11 | XXX
92315 |  | A | Prescription of contact lens | 0.45 | 0.77 | 0.76 | 0.18 | 0.23 | 0.01 | 1.23 | 1.22 | 0.64 | 0.69 | XXX
92316 |  | A | Prescription of contact lens | 0.68 | 0.85 | 0.90 | 0.27 | 0.33 | 0.01 | 1.54 | 1.59 | 0.96 | 1.02 | XXX
92317 |  | A | Prescription of contact lens | 0.45 | 0.93 | 0.80 | 0.19 | 0.20 | 0.01 | 1.39 | 1.26 | 0.65 | 0.66 | XXX
92325 |  | A | Modification of contact lens | 0.00 | 0.39 | 0.40 | 0.39 | 0.40 | 0.01 | 0.40 | 0.41 | 0.40 | 0.41 | XXX
92326 |  | A | Replacement of contact lens | 0.00 | 1.62 | 1.64 | 1.62 | 1.64 | 0.05 | 1.67 | 1.69 | 1.67 | 1.69 | XXX
92330 |  | A | Fitting of artificial eye | 1.08 | 1.02 | 1.07 | 0.41 | 0.46 | 0.04 | 2.14 | 2.19 | 1.53 | 1.58 | XXX
92335 |  | A | Fitting of artificial eye | 0.45 | 0.83 | 1.16 | 0.18 | 0.40 | 0.01 | 1.29 | 1.62 | 0.64 | 0.86 | XXX
92340 |  | N | Fitting of spectacles | +0.37 | 0.66 | 0.61 | 0.15 | 0.22 | 0.00 | 1.03 | 0.98 | 0.52 | 0.59 | XXX
92341 |  | N | Fitting of spectacles | +0.47 | 0.69 | 0.66 | 0.19 | 0.28 | 0.00 | 1.16 | 1.13 | 0.66 | 0.75 | XXX
92342 |  | N | Fitting of spectacles | +0.53 | 0.72 | 0.70 | 0.21 | 0.32 | 0.00 | 1.25 | 1.23 | 0.74 | 0.85 | XXX
92352 |  | B | Special spectacles fitting | +0.37 | 0.66 | 0.58 | 0.15 | 0.20 | 0.01 | 1.04 | 0.96 | 0.53 | 0.58 | XXX
92353 |  | B | Special spectacles fitting | +0.50 | 0.71 | 0.64 | 0.20 | 0.26 | 0.02 | 1.23 | 1.16 | 0.72 | 0.78 | XXX
92354 |  | B | Special spectacles fitting | +0.00 | 8.79 | 8.88 | 8.79 | 8.88 | 0.08 | 8.87 | 8.96 | 8.87 | 8.96 | XXX
92355 |  | B | Special spectacles fitting | +0.00 | 4.30 | 4.35 | 4.30 | 4.35 | 0.01 | 4.31 | 4.36 | 4.31 | 4.36 | XXX
92358 |  | B | Eye prosthesis service | +0.00 | 0.96 | 0.97 | 0.96 | 0.97 | 0.04 | 1.00 | 1.01 | 1.00 | 1.01 | XXX
92370 |  | N | Repair & adjust spectacles | +0.32 | 0.50 | 0.47 | 0.13 | 0.19 | 0.00 | 0.82 | 0.79 | 0.45 | 0.51 | XXX
92371 |  | B | Repair & adjust spectacles | +0.00 | 0.61 | 0.62 | 0.61 | 0.62 | 0.02 | 0.63 | 0.64 | 0.63 | 0.64 | XXX
92390 |  | N | Supply of spectacles | 0.00 | 0.00 | 0.00 | 0.00 | 0.00 | 0.00 | 0.00 | 0.00 | 0.00 | 0.00 | XXX
92391 |  | N | Supply of contact lenses | 0.00 | 0.00 | 0.00 | 0.00 | 0.00 | 0.00 | 0.00 | 0.00 | 0.00 | 0.00 | XXX
92392 |  | I | Supply of low vision aids | +0.00 | 4.02 | 4.06 | 4.02 | 4.06 | 0.02 | 4.04 | 4.08 | 4.04 | 4.08 | XXX
92393 |  | I | Supply of artificial eye | +0.00 | 12.46 | 12.59 | 12.46 | 12.59 | 0.47 | 12.93 | 13.06 | 12.93 | 13.06 | XXX
92395 |  | I | Supply of spectacles | +0.00 | 1.36 | 1.38 | 1.36 | 1.38 | 0.08 | 1.44 | 1.46 | 1.44 | 1.46 | XXX
92396 |  | I | Supply of contact lenses | +0.00 | 2.29 | 2.31 | 2.29 | 2.31 | 0.06 | 2.35 | 2.37 | 2.35 | 2.37 | XXX
92499 |  | C | Eye service or procedure | 0.00 | 0.00 | 0.00 | 0.00 | 0.00 | 0.00 | 0.00 | 0.00 | 0.00 | 0.00 | XXX
92499 | 26 | C | Eye service or procedure | 0.00 | 0.00 | 0.00 | 0.00 | 0.00 | 0.00 | 0.00 | 0.00 | 0.00 | 0.00 | XXX
92499 | TC | C | Eye service or procedure | 0.00 | 0.00 | 0.00 | 0.00 | 0.00 | 0.00 | 0.00 | 0.00 | 0.00 | 0.00 | XXX
92502 |  | A | Ear and throat examination | 1.51 | NA | NA | 1.33 | 1.30 | 0.06 | NA | NA | 2.90 | 2.87 | 000
92504 |  | A | Ear microscopy examination | 0.18 | 1.04 | 0.85 | 0.09 | 0.10 | 0.01 | 1.23 | 1.04 | 0.28 | 0.29 | XXX
92506 |  | A | Speech/hearing evaluation | 0.86 | 1.47 | 1.24 | 0.45 | 0.41 | 0.04 | 2.37 | 2.14 | 1.35 | 1.31 | XXX
92507 |  | A | Speech/hearing therapy | 0.52 | 1.34 | 1.10 | 0.28 | 0.26 | 0.02 | 1.88 | 1.64 | 0.82 | 0.80 | XXX
92508 |  | A | Speech/hearing therapy | 0.26 | 0.97 | 0.78 | 0.15 | 0.14 | 0.01 | 1.24 | 1.05 | 0.42 | 0.41 | XXX
92510 |  | A | Rehab for ear implant | 1.50 | 1.94 | 1.83 | 0.85 | 0.82 | 0.06 | 3.50 | 3.39 | 2.41 | 2.38 | XXX
92511 |  | A | Nasopharyngoscopy | 0.84 | 1.28 | 1.19 | 0.42 | 0.43 | 0.03 | 2.15 | 2.06 | 1.29 | 1.30 | 000
92512 |  | A | Nasal function studies | 0.55 | 1.09 | 0.95 | 0.20 | 0.22 | 0.02 | 1.66 | 1.52 | 0.77 | 0.79 | XXX
92516 |  | A | Facial nerve function test | 0.43 | 0.91 | 0.79 | 0.23 | 0.23 | 0.02 | 1.36 | 1.24 | 0.68 | 0.68 | XXX
92520 |  | A | Laryngeal function studies | 0.76 | 0.56 | 0.57 | 0.36 | 0.34 | 0.03 | 1.35 | 1.36 | 1.15 | 1.13 | XXX
92525 |  | N | Oral function evaluation | +1.50 | 1.55 | 1.44 | 0.60 | 0.59 | 0.07 | 3.12 | 3.01 | 2.17 | 2.16 | XXX
92526 |  | A | Oral function therapy | 0.55 | 1.45 | 1.22 | 0.25 | 0.25 | 0.02 | 2.02 | 1.79 | 0.82 | 0.82 | XXX
92531 |  | B | Spontaneous nystagmus study | 0.00 | 0.00 | 0.00 | 0.00 | 0.00 | 0.00 | 0.00 | 0.00 | 0.00 | 0.00 | XXX
92532 |  | B | Positional nystagmus study | 0.00 | 0.00 | 0.00 | 0.00 | 0.00 | 0.00 | 0.00 | 0.00 | 0.00 | 0.00 | XXX
92533 |  | B | Caloric vestibular test | 0.00 | 0.00 | 0.00 | 0.00 | 0.00 | 0.00 | 0.00 | 0.00 | 0.00 | 0.00 | XXX
92534 |  | B | Optokinetic nystagmus | 0.00 | 0.00 | 0.00 | 0.00 | 0.00 | 0.00 | 0.00 | 0.00 | 0.00 | 0.00 | XXX
92541 |  | A | Spontaneous nystagmus test | 0.40 | 0.43 | 0.50 | 0.43 | 0.50 | 0.04 | 0.87 | 0.94 | 0.87 | 0.94 | XXX
92541 | 26 | A | Spontaneous nystagmus test | 0.40 | 0.20 | 0.27 | 0.20 | 0.27 | 0.02 | 0.62 | 0.69 | 0.62 | 0.69 | XXX
92541 | TC | A | Spontaneous nystagmus test | 0.00 | 0.23 | 0.23 | NA | NA | 0.02 | 0.25 | 0.25 | NA | NA | XXX
92542 |  | A | Positional nystagmus test | 0.33 | 0.42 | 0.48 | 0.42 | 0.48 | 0.03 | 0.78 | 0.84 | 0.78 | 0.84 | XXX
92542 | 26 | A | Positional nystagmus test | 0.33 | 0.16 | 0.22 | 0.16 | 0.22 | 0.01 | 0.50 | 0.56 | 0.50 | 0.56 | XXX
92542 | TC | A | Positional nystagmus test | 0.00 | 0.26 | 0.26 | NA | NA | 0.02 | 0.28 | 0.28 | NA | NA | XXX
92543 |  | A | Caloric vestibular test | 0.10 | 0.16 | 0.18 | 0.16 | 0.18 | 0.02 | 0.28 | 0.30 | 0.28 | 0.30 | XXX
92543 | 26 | A | Caloric vestibular test | 0.10 | 0.05 | 0.07 | 0.05 | 0.07 | 0.01 | 0.16 | 0.18 | 0.16 | 0.18 | XXX
92543 | TC | A | Caloric vestibular test | 0.00 | 0.11 | 0.11 | NA | NA | 0.01 | 0.12 | 0.12 | NA | NA | XXX
92544 |  | A | Optokinetic nystagmus test | 0.26 | 0.34 | 0.38 | 0.34 | 0.38 | 0.03 | 0.63 | 0.67 | 0.63 | 0.67 | XXX
92544 | 26 | A | Optokinetic nystagmus test | 0.26 | 0.13 | 0.17 | 0.13 | 0.17 | 0.01 | 0.40 | 0.44 | 0.40 | 0.44 | XXX
92544 | TC | A | Optokinetic nystagmus test | 0.00 | 0.21 | 0.21 | NA | NA | 0.02 | 0.23 | 0.23 | NA | NA | XXX
92545 |  | A | Oscillating tracking test | 0.23 | 0.32 | 0.35 | 0.32 | 0.35 | 0.03 | 0.58 | 0.61 | 0.58 | 0.61 | XXX
92545 | 26 | A | Oscillating tracking test | 0.23 | 0.11 | 0.14 | 0.11 | 0.14 | 0.01 | 0.35 | 0.38 | 0.35 | 0.38 | XXX
92545 | TC | A | Oscillating tracking test | 0.00 | 0.21 | 0.21 | NA | NA | 0.02 | 0.23 | 0.23 | NA | NA | XXX
92546 |  | A | Sinusoidal rotational test | 0.29 | 0.38 | 0.43 | 0.38 | 0.43 | 0.03 | 0.70 | 0.75 | 0.70 | 0.75 | XXX
92546 | 26 | A | Sinusoidal rotational test | 0.29 | 0.14 | 0.19 | 0.14 | 0.19 | 0.01 | 0.44 | 0.49 | 0.44 | 0.49 | XXX
92546 | TC | A | Sinusoidal rotational test | 0.00 | 0.24 | 0.24 | NA | NA | 0.02 | 0.26 | 0.26 | NA | NA | XXX
92547 |  | A | Supplemental electrical test | 0.00 | 0.56 | 0.57 | NA | NA | 0.05 | 0.61 | 0.62 | NA | NA | ZZZ
92548 |  | A | Posturography | 0.50 | 1.72 | 1.80 | 1.72 | 1.80 | 0.13 | 2.35 | 2.43 | 2.35 | 2.43 | XXX
92548 | 26 | A | Posturography | 0.50 | 0.26 | 0.32 | 0.26 | 0.32 | 0.02 | 0.78 | 0.84 | 0.78 | 0.84 | XXX
92548 | TC | A | Posturography | 0.00 | 1.46 | 1.48 | NA | NA | 0.11 | 1.57 | 1.59 | NA | NA | XXX
92551 |  | N | Pure tone hearing test, air | 0.00 | 0.00 | 0.00 | 0.00 | 0.00 | 0.00 | 0.00 | 0.00 | 0.00 | 0.00 | XXX
92552 |  | A | Pure tone audiometry, air | 0.00 | 0.44 | 0.45 | NA | NA | 0.03 | 0.47 | 0.48 | NA | NA | XXX
92553 |  | A | Audiometry, air & bone | 0.00 | 0.65 | 0.66 | NA | NA | 0.05 | 0.70 | 0.71 | NA | NA | XXX
92555 |  | A | Speech threshold audiometry | 0.00 | 0.37 | 0.38 | NA | NA | 0.03 | 0.40 | 0.41 | NA | NA | XXX
92556 |  | A | Speech audiometry, complete | 0.00 | 0.57 | 0.58 | NA | NA | 0.05 | 0.62 | 0.63 | NA | NA | XXX
92557 |  | A | Comprehensive hearing test | 0.00 | 1.18 | 1.19 | NA | NA | 0.10 | 1.28 | 1.29 | NA | NA | XXX
92559 |  | N | Group audiometric testing | 0.00 | 0.00 | 0.00 | 0.00 | 0.00 | 0.00 | 0.00 | 0.00 | 0.00 | 0.00 | XXX
92560 |  | N | Bekesy audiometry, screen | 0.00 | 0.00 | 0.00 | 0.00 | 0.00 | 0.00 | 0.00 | 0.00 | 0.00 | 0.00 | XXX
92561 |  | A | Bekesy audiometry, diagnosis | 0.00 | 0.71 | 0.72 | NA | NA | 0.05 | 0.76 | 0.77 | NA | NA | XXX
92562 |  | A | Loudness balance test | 0.00 | 0.40 | 0.41 | NA | NA | 0.03 | 0.43 | 0.44 | NA | NA | XXX
92563 |  | A | Tone decay hearing test | 0.00 | 0.37 | 0.38 | NA | NA | 0.03 | 0.40 | 0.41 | NA | NA | XXX
92564 |  | A | Sisi hearing test | 0.00 | 0.47 | 0.48 | NA | NA | 0.04 | 0.51 | 0.52 | NA | NA | XXX
92565 |  | A | Stenger test, pure tone | 0.00 | 0.39 | 0.40 | NA | NA | 0.03 | 0.42 | 0.43 | NA | NA | XXX
92567 |  | A | Tympanometry | 0.00 | 0.52 | 0.53 | NA | NA | 0.05 | 0.57 | 0.58 | NA | NA | XXX
92568 |  | A | Acoustic reflex testing | 0.00 | 0.37 | 0.38 | NA | NA | 0.03 | 0.40 | 0.41 | NA | NA | XXX
92569 |  | A | Acoustic reflex decay test | 0.00 | 0.40 | 0.41 | NA | NA | 0.03 | 0.43 | 0.44 | NA | NA | XXX
92571 |  | A | Filtered speech hearing test | 0.00 | 0.38 | 0.39 | NA | NA | 0.03 | 0.41 | 0.42 | NA | NA | XXX
92572 |  | A | Staggered spondaic word test | 0.00 | 0.09 | 0.09 | NA | NA | 0.01 | 0.10 | 0.10 | NA | NA | XXX
92573 |  | A | Lombard test | 0.00 | 0.35 | 0.35 | NA | NA | 0.03 | 0.38 | 0.38 | NA | NA | XXX
92575 |  | A | Sensorineural acuity test | 0.00 | 0.30 | 0.30 | NA | NA | 0.02 | 0.32 | 0.32 | NA | NA | XXX
92576 |  | A | Synthetic sentence test | 0.00 | 0.44 | 0.45 | NA | NA | 0.04 | 0.48 | 0.49 | NA | NA | XXX
92577 |  | A | Stenger test, speech | 0.00 | 0.71 | 0.72 | NA | NA | 0.06 | 0.77 | 0.78 | NA | NA | XXX
92579 |  | A | Visual audiometry (vra) | 0.00 | 0.72 | 0.73 | NA | NA | 0.05 | 0.77 | 0.78 | NA | NA | XXX
92582 |  | A | Conditioning play audiometry | 0.00 | 0.72 | 0.73 | NA | NA | 0.05 | 0.77 | 0.78 | NA | NA | XXX
92583 |  | A | Select picture audiometry | 0.00 | 0.88 | 0.89 | NA | NA | 0.07 | 0.95 | 0.96 | NA | NA | XXX
92584 |  | A | Electrocochleography | 0.00 | 2.46 | 2.49 | NA | NA | 0.17 | 2.63 | 2.66 | NA | NA | XXX
92585 |  | A | Auditor evoke potent, compre | 0.50 | 2.06 | 2.43 | 2.06 | 2.43 | 0.14 | 2.70 | 3.07 | 2.70 | 3.07 | XXX
92585 | 26 | A | Auditor evoke potent, compre | 0.50 | 0.22 | 0.57 | 0.22 | 0.57 | 0.02 | 0.74 | 1.09 | 0.74 | 1.09 | XXX
92585 | TC | A | Auditor evoke potent, compre | 0.00 | 1.84 | 1.86 | NA | NA | 0.12 | 1.96 | 1.98 | NA | NA | XXX
92586 |  | A | Auditor evoke potent, limit | 0.00 | 1.84 | 1.84 | NA | NA | 0.12 | 1.96 | 1.96 | NA | NA | XXX
92587 |  | A | Evoked auditory test | 0.13 | 1.37 | 1.39 | 1.37 | 1.39 | 0.10 | 1.60 | 1.62 | 1.60 | 1.62 | XXX
92587 | 26 | A | Evoked auditory test | 0.13 | 0.07 | 0.08 | 0.07 | 0.08 | 0.01 | 0.21 | 0.22 | 0.21 | 0.22 | XXX
92587 | TC | A | Evoked auditory test | 0.00 | 1.30 | 1.31 | NA | NA | 0.09 | 1.39 | 1.40 | NA | NA | XXX
92588 |  | A | Evoked auditory test | 0.36 | 1.63 | 1.69 | 1.63 | 1.69 | 0.12 | 2.11 | 2.17 | 2.11 | 2.17 | XXX
92588 | 26 | A | Evoked auditory test | 0.36 | 0.17 | 0.21 | 0.17 | 0.21 | 0.01 | 0.54 | 0.58 | 0.54 | 0.58 | XXX
92588 | TC | A | Evoked auditory test | 0.00 | 1.46 | 1.48 | NA | NA | 0.11 | 1.57 | 1.59 | NA | NA | XXX
92589 |  | A | Auditory function test(s) | 0.00 | 0.53 | 0.54 | NA | NA | 0.05 | 0.58 | 0.59 | NA | NA | XXX
92590 |  | N | Hearing aid exam, one ear | 0.00 | 0.00 | 0.00 | 0.00 | 0.00 | 0.00 | 0.00 | 0.00 | 0.00 | 0.00 | XXX
92591 |  | N | Hearing aid exam, both ears | 0.00 | 0.00 | 0.00 | 0.00 | 0.00 | 0.00 | 0.00 | 0.00 | 0.00 | 0.00 | XXX
92592 |  | N | Hearing aid check, one ear | 0.00 | 0.00 | 0.00 | 0.00 | 0.00 | 0.00 | 0.00 | 0.00 | 0.00 | 0.00 | XXX
92593 |  | N | Hearing aid check, both ears | 0.00 | 0.00 | 0.00 | 0.00 | 0.00 | 0.00 | 0.00 | 0.00 | 0.00 | 0.00 | XXX
92594 |  | N | Electro hearng aid test, one | 0.00 | 0.00 | 0.00 | 0.00 | 0.00 | 0.00 | 0.00 | 0.00 | 0.00 | 0.00 | XXX
92595 |  | N | Electro hearng aid tst, both | 0.00 | 0.00 | 0.00 | 0.00 | 0.00 | 0.00 | 0.00 | 0.00 | 0.00 | 0.00 | XXX
92596 |  | A | Ear protector evaluation | 0.00 | 0.59 | 0.60 | NA | NA | 0.05 | 0.64 | 0.65 | NA | NA | XXX
92597 |  | N | Oral speech device eval | +1.35 | 1.49 | 1.39 | 0.54 | 0.68 | 0.05 | 2.89 | 2.79 | 1.94 | 2.08 | XXX
92598 |  | N | Modify oral speech device | +0.99 | 0.76 | 0.75 | 0.40 | 0.48 | 0.04 | 1.79 | 1.78 | 1.43 | 1.51 | XXX
92599 |  | C | ENT procedure/service | 0.00 | 0.00 | 0.00 | 0.00 | 0.00 | 0.00 | 0.00 | 0.00 | 0.00 | 0.00 | XXX
92599 | 26 | C | ENT procedure/service | 0.00 | 0.00 | 0.00 | 0.00 | 0.00 | 0.00 | 0.00 | 0.00 | 0.00 | 0.00 | XXX
92599 | TC | C | ENT procedure/service | 0.00 | 0.00 | 0.00 | 0.00 | 0.00 | 0.00 | 0.00 | 0.00 | 0.00 | 0.00 | XXX
92950 |  | A | Heart/lung resuscitation cpr | 3.80 | 1.38 | 1.65 | 1.17 | 1.49 | 0.21 | 5.39 | 5.66 | 5.18 | 5.50 | 000
92953 |  | A | Temporary external pacing | 0.23 | NA | NA | 0.24 | 0.25 | 0.01 | NA | NA | 0.48 | 0.49 | 000
92960 |  | A | Cardioversion electric, ext | 2.25 | 2.19 | 2.15 | 0.93 | 1.21 | 0.08 | 4.52 | 4.48 | 3.26 | 3.54 | 000
92961 |  | A | Cardioversion, electric, int | 4.60 | NA | NA | 1.96 | 1.96 | 0.17 | NA | NA | 6.73 | 6.73 | 000
92970 |  | A | Cardioassist, internal | 3.52 | NA | NA | 1.06 | 1.74 | 0.17 | NA | NA | 4.75 | 5.43 | 000
92971 |  | A | Cardioassist, external | 1.77 | NA | NA | 0.92 | 0.99 | 0.06 | NA | NA | 2.75 | 2.82 | 000
92975 |  | A | Dissolve clot, heart vessel | 7.25 | NA | NA | 3.16 | 3.92 | 0.22 | NA | NA | 10.63 | 11.39 | 000
92977 |  | A | Dissolve clot, heart vessel | 0.00 | 7.99 | 8.08 | 7.99 | 8.08 | 0.38 | 8.37 | 8.46 | 8.37 | 8.46 | XXX
92978 |  | A | Intravasc us, heart add-on | 1.80 | 5.31 | 5.45 | 5.31 | 5.45 | 0.26 | 7.37 | 7.51 | 7.37 | 7.51 | ZZZ
92978 | 26 | A | Intravasc us, heart add-on | 1.80 | 0.78 | 0.87 | 0.78 | 0.87 | 0.06 | 2.64 | 2.73 | 2.64 | 2.73 | ZZZ
92978 | TC | A | Intravasc us, heart add-on | 0.00 | 4.53 | 4.58 | NA | NA | 0.20 | 4.73 | 4.78 | NA | NA | ZZZ
92979 |  | A | Intravasc us, heart add-on | 1.44 | 2.91 | 3.00 | 2.91 | 3.00 | 0.15 | 4.50 | 4.59 | 4.50 | 4.59 | ZZZ
92979 | 26 | A | Intravasc us, heart add-on | 1.44 | 0.63 | 0.70 | 0.63 | 0.70 | 0.04 | 2.11 | 2.18 | 2.11 | 2.18 | ZZZ
92979 | TC | A | Intravasc us, heart add-on | 0.00 | 2.28 | 2.30 | NA | NA | 0.11 | 2.39 | 2.41 | NA | NA | ZZZ
92980 |  | A | Insert intracoronary stent | 14.84 | NA | NA | 6.47 | 9.28 | 0.78 | NA | NA | 22.09 | 24.90 | 000
92981 |  | A | Insert intracoronary stent | 4.17 | NA | NA | 1.81 | 2.60 | 0.21 | NA | NA | 6.19 | 6.98 | ZZZ
92982 |  | A | Coronary artery dilation | 10.98 | NA | NA | 4.81 | 6.89 | 0.57 | NA | NA | 16.36 | 18.44 | 000
92984 |  | A | Coronary artery dilation | 2.97 | NA | NA | 1.29 | 1.86 | 0.16 | NA | NA | 4.42 | 4.99 | ZZZ
92986 |  | A | Revision of aortic valve | 21.80 | NA | NA | 11.22 | 11.68 | 1.14 | NA | NA | 34.16 | 34.62 | 090
92987 |  | A | Revision of mitral valve | 22.70 | NA | NA | 11.62 | 12.03 | 1.18 | NA | NA | 35.50 | 35.91 | 090
92990 |  | A | Revision of pulmonary valve | 17.34 | NA | NA | 9.38 | 9.64 | 0.90 | NA | NA | 27.62 | 27.88 | 090
92992 |  | C | Revision of heart chamber | 0.00 | 0.00 | 0.00 | 0.00 | 0.00 | 0.00 | 0.00 | 0.00 | 0.00 | 0.00 | 090
92993 |  | C | Revision of heart chamber | 0.00 | 0.00 | 0.00 | 0.00 | 0.00 | 0.00 | 0.00 | 0.00 | 0.00 | 0.00 | 090
92995 |  | A | Coronary atherectomy | 12.09 | NA | NA | 5.27 | 7.56 | 0.63 | NA | NA | 17.99 | 20.28 | 000
92996 |  | A | Coronary atherectomy add-on | 3.26 | NA | NA | 1.45 | 2.06 | 0.17 | NA | NA | 4.88 | 5.49 | ZZZ
92997 |  | A | Pul art balloon repr, percut | 12.00 | NA | NA | 5.06 | 7.38 | 0.63 | NA | NA | 17.69 | 20.01 | 000
92998 |  | A | Pul art balloon repr, percut | 6.00 | NA | NA | 2.45 | 2.87 | 0.31 | NA | NA | 8.76 | 9.18 | ZZZ
93000 |  | A | Electrocardiogram, complete | 0.17 | 0.52 | 0.56 | NA | NA | 0.03 | 0.72 | 0.76 | NA | NA | XXX
93005 |  | A | Electrocardiogram, tracing | 0.00 | 0.45 | 0.46 | NA | NA | 0.02 | 0.47 | 0.48 | NA | NA | XXX
93010 |  | A | Electrocardiogram report | 0.17 | 0.07 | 0.10 | 0.07 | 0.10 | 0.01 | 0.25 | 0.28 | 0.25 | 0.28 | XXX
93012 |  | A | Transmission of ecg | 0.00 | 2.34 | 2.37 | NA | NA | 0.15 | 2.49 | 2.52 | NA | NA | XXX
93014 |  | A | Report on transmitted ecg | 0.52 | 0.20 | 0.26 | 0.20 | 0.26 | 0.02 | 0.74 | 0.80 | 0.74 | 0.80 | XXX
93015 |  | A | Cardiovascular stress test | 0.75 | 1.98 | 2.12 | NA | NA | 0.11 | 2.84 | 2.98 | NA | NA | XXX
93016 |  | A | Cardiovascular stress test | 0.45 | 0.19 | 0.25 | 0.19 | 0.25 | 0.01 | 0.65 | 0.71 | 0.65 | 0.71 | XXX
93017 |  | A | Cardiovascular stress test | 0.00 | 1.67 | 1.69 | NA | NA | 0.09 | 1.76 | 1.78 | NA | NA | XXX
93018 |  | A | Cardiovascular stress test | 0.30 | 0.12 | 0.18 | 0.12 | 0.18 | 0.01 | 0.43 | 0.49 | 0.43 | 0.49 | XXX
93024 |  | A | Cardiac drug stress test | 1.17 | 1.60 | 1.84 | 1.60 | 1.84 | 0.11 | 2.88 | 3.12 | 2.88 | 3.12 | XXX
93024 | 26 | A | Cardiac drug stress test | 1.17 | 0.49 | 0.72 | 0.49 | 0.72 | 0.04 | 1.70 | 1.93 | 1.70 | 1.93 | XXX
93024 | TC | A | Cardiac drug stress test | 0.00 | 1.11 | 1.12 | NA | NA | 0.07 | 1.18 | 1.19 | NA | NA | XXX
93040 |  | A | Rhythm ECG with report | 0.16 | 0.19 | 0.21 | NA | NA | 0.02 | 0.37 | 0.39 | NA | NA | XXX
93041 |  | A | Rhythm ECG, tracing | 0.00 | 0.14 | 0.14 | NA | NA | 0.01 | 0.15 | 0.15 | NA | NA | XXX
93042 |  | A | Rhythm ECG, report | 0.16 | 0.05 | 0.07 | 0.05 | 0.07 | 0.01 | 0.22 | 0.24 | 0.22 | 0.24 | XXX
93224 |  | A | ECG monitor/report, 24 hrs | 0.52 | 3.61 | 3.74 | NA | NA | 0.21 | 4.34 | 4.47 | NA | NA | XXX
93225 |  | A | ECG monitor/record, 24 hrs | 0.00 | 1.23 | 1.24 | NA | NA | 0.07 | 1.30 | 1.31 | NA | NA | XXX
93226 |  | A | ECG monitor/report, 24 hrs | 0.00 | 2.17 | 2.19 | NA | NA | 0.12 | 2.29 | 2.31 | NA | NA | XXX
93227 |  | A | ECG monitor/review, 24 hrs | 0.52 | 0.21 | 0.31 | 0.21 | 0.31 | 0.02 | 0.75 | 0.85 | 0.75 | 0.85 | XXX
93230 |  | A | ECG monitor/report, 24 hrs | 0.52 | 3.88 | 4.02 | NA | NA | 0.22 | 4.62 | 4.76 | NA | NA | XXX
93231 |  | A | Ecg monitor/record, 24 hrs | 0.00 | 1.51 | 1.53 | NA | NA | 0.09 | 1.60 | 1.62 | NA | NA | XXX
93232 |  | A | ECG monitor/report, 24 hrs | 0.00 | 2.16 | 2.18 | NA | NA | 0.11 | 2.27 | 2.29 | NA | NA | XXX
93233 |  | A | ECG monitor/review, 24 hrs | 0.52 | 0.21 | 0.31 | 0.21 | 0.31 | 0.02 | 0.75 | 0.85 | 0.75 | 0.85 | XXX
93235 |  | A | ECG monitor/report, 24 hrs | 0.45 | 2.78 | 2.90 | NA | NA | 0.13 | 3.36 | 3.48 | NA | NA | XXX
93236 |  | A | ECG monitor/report, 24 hrs | 0.00 | 2.60 | 2.63 | NA | NA | 0.12 | 2.72 | 2.75 | NA | NA | XXX
93237 |  | A | ECG monitor/review, 24 hrs | 0.45 | 0.18 | 0.27 | 0.18 | 0.27 | 0.01 | 0.64 | 0.73 | 0.64 | 0.73 | XXX
93268 |  | A | ECG record/review | 0.52 | 3.77 | 3.87 | NA | NA | 0.24 | 4.53 | 4.63 | NA | NA | XXX
93270 |  | A | ECG recording | 0.00 | 1.23 | 1.24 | NA | NA | 0.07 | 1.30 | 1.31 | NA | NA | XXX
93271 |  | A | Ecg/monitoring and analysis | 0.00 | 2.34 | 2.37 | NA | NA | 0.15 | 2.49 | 2.52 | NA | NA | XXX
93272 |  | A | Ecg/review, interpret only | 0.52 | 0.20 | 0.26 | 0.20 | 0.26 | 0.02 | 0.74 | 0.80 | 0.74 | 0.80 | XXX
93278 |  | A | ECG/signal-averaged | 0.25 | 1.25 | 1.31 | 1.25 | 1.31 | 0.10 | 1.60 | 1.66 | 1.60 | 1.66 | XXX
93278 | 26 | A | ECG/signal-averaged | 0.25 | 0.11 | 0.16 | 0.11 | 0.16 | 0.01 | 0.37 | 0.42 | 0.37 | 0.42 | XXX
93278 | TC | A | ECG/signal-averaged | 0.00 | 1.14 | 1.15 | NA | NA | 0.09 | 1.23 | 1.24 | NA | NA | XXX
93303 |  | A | Echo transthoracic | 1.30 | 4.33 | 4.52 | 4.33 | 4.52 | 0.23 | 5.86 | 6.05 | 5.86 | 6.05 | XXX
93303 | 26 | A | Echo transthoracic | 1.30 | 0.50 | 0.65 | 0.50 | 0.65 | 0.04 | 1.84 | 1.99 | 1.84 | 1.99 | XXX
93303 | TC | A | Echo transthoracic | 0.00 | 3.83 | 3.87 | NA | NA | 0.19 | 4.02 | 4.06 | NA | NA | XXX
93304 |  | A | Echo transthoracic | 0.75 | 2.24 | 2.37 | 2.24 | 2.37 | 0.13 | 3.12 | 3.25 | 3.12 | 3.25 | XXX
93304 | 26 | A | Echo transthoracic | 0.75 | 0.31 | 0.42 | 0.31 | 0.42 | 0.02 | 1.08 | 1.19 | 1.08 | 1.19 | XXX
93304 | TC | A | Echo transthoracic | 0.00 | 1.93 | 1.95 | NA | NA | 0.11 | 2.04 | 2.06 | NA | NA | XXX
93307 |  | A | Echo exam of heart | 0.92 | 4.22 | 4.44 | 4.22 | 4.44 | 0.22 | 5.36 | 5.58 | 5.36 | 5.58 | XXX
93307 | 26 | A | Echo exam of heart | 0.92 | 0.39 | 0.57 | 0.39 | 0.57 | 0.03 | 1.34 | 1.52 | 1.34 | 1.52 | XXX
93307 | TC | A | Echo exam of heart | 0.00 | 3.83 | 3.87 | NA | NA | 0.19 | 4.02 | 4.06 | NA | NA | XXX
93308 |  | A | Echo exam of heart | 0.53 | 2.15 | 2.27 | 2.15 | 2.27 | 0.13 | 2.81 | 2.93 | 2.81 | 2.93 | XXX
93308 | 26 | A | Echo exam of heart | 0.53 | 0.22 | 0.32 | 0.22 | 0.32 | 0.02 | 0.77 | 0.87 | 0.77 | 0.87 | XXX
93308 | TC | A | Echo exam of heart | 0.00 | 1.93 | 1.95 | NA | NA | 0.11 | 2.04 | 2.06 | NA | NA | XXX
93312 |  | A | Echo transesophageal | 2.20 | 4.65 | 4.84 | 4.65 | 4.84 | 0.32 | 7.17 | 7.36 | 7.17 | 7.36 | XXX
93312 | 26 | A | Echo transesophageal | 2.20 | 0.89 | 1.04 | 0.89 | 1.04 | 0.08 | 3.17 | 3.32 | 3.17 | 3.32 | XXX
93312 | TC | A | Echo transesophageal | 0.00 | 3.76 | 3.80 | NA | NA | 0.24 | 4.00 | 4.04 | NA | NA | XXX
93313 |  | A | Echo transesophageal | 0.95 | 4.30 | 3.41 | 0.22 | 0.35 | 0.05 | 5.30 | 4.41 | 1.22 | 1.35 | XXX
93314 |  | A | Echo transesophageal | 1.25 | 4.28 | 4.37 | 4.28 | 4.37 | 0.28 | 5.81 | 5.90 | 5.81 | 5.90 | XXX
93314 | 26 | A | Echo transesophageal | 1.25 | 0.52 | 0.57 | 0.52 | 0.57 | 0.04 | 1.81 | 1.86 | 1.81 | 1.86 | XXX
93314 | TC | A | Echo transesophageal | 0.00 | 3.76 | 3.80 | NA | NA | 0.24 | 4.00 | 4.04 | NA | NA | XXX
93315 |  | A | Echo transesophageal | 2.78 | 4.86 | 4.99 | 4.86 | 4.99 | 0.34 | 7.98 | 8.11 | 7.98 | 8.11 | XXX
93315 | 26 | A | Echo transesophageal | 2.78 | 1.10 | 1.19 | 1.10 | 1.19 | 0.10 | 3.98 | 4.07 | 3.98 | 4.07 | XXX
93315 | TC | A | Echo transesophageal | 0.00 | 3.76 | 3.80 | NA | NA | 0.24 | 4.00 | 4.04 | NA | NA | XXX
93316 |  | A | Echo transesophageal | 0.95 | 3.09 | 2.50 | 0.23 | 0.36 | 0.05 | 4.09 | 3.50 | 1.23 | 1.36 | XXX
93317 |  | A | Echo transesophageal | 1.83 | 4.52 | 4.55 | 4.52 | 4.55 | 0.30 | 6.65 | 6.68 | 6.65 | 6.68 | XXX
93317 | 26 | A | Echo transesophageal | 1.83 | 0.76 | 0.75 | 0.76 | 0.75 | 0.06 | 2.65 | 2.64 | 2.65 | 2.64 | XXX
93317 | TC | A | Echo transesophageal | 0.00 | 3.76 | 3.80 | NA | NA | 0.24 | 4.00 | 4.04 | NA | NA | XXX
93318 |  | C | Echo transesophageal intraop | 0.00 | 0.00 | 0.00 | 0.00 | 0.00 | 0.00 | 0.00 | 0.00 | 0.00 | 0.00 | XXX
93318 | 26 | C | Echo transesophageal intraop | 0.00 | 0.00 | 0.00 | 0.00 | 0.00 | 0.00 | 0.00 | 0.00 | 0.00 | 0.00 | XXX
93318 | TC | C | Echo transesophageal intraop | 0.00 | 0.00 | 0.00 | 0.00 | 0.00 | 0.00 | 0.00 | 0.00 | 0.00 | 0.00 | XXX
93320 |  | A | Doppler echo exam, heart | 0.38 | 1.86 | 1.96 | 1.86 | 1.96 | 0.11 | 2.35 | 2.45 | 2.35 | 2.45 | ZZZ
93320 | 26 | A | Doppler echo exam, heart | 0.38 | 0.16 | 0.24 | 0.16 | 0.24 | 0.01 | 0.55 | 0.63 | 0.55 | 0.63 | ZZZ
93320 | TC | A | Doppler echo exam, heart | 0.00 | 1.70 | 1.72 | NA | NA | 0.10 | 1.80 | 1.82 | NA | NA | ZZZ
93321 |  | A | Doppler echo exam, heart | 0.15 | 1.16 | 1.20 | 1.16 | 1.20 | 0.08 | 1.39 | 1.43 | 1.39 | 1.43 | ZZZ
93321 | 26 | A | Doppler echo exam, heart | 0.15 | 0.06 | 0.09 | 0.06 | 0.09 | 0.01 | 0.22 | 0.25 | 0.22 | 0.25 | ZZZ
93321 | TC | A | Doppler echo exam, heart | 0.00 | 1.10 | 1.11 | NA | NA | 0.07 | 1.17 | 1.18 | NA | NA | ZZZ
93325 |  | A | Doppler color flow add-on | 0.07 | 2.91 | 2.94 | 2.91 | 2.94 | 0.18 | 3.16 | 3.19 | 3.16 | 3.19 | ZZZ
93325 | 26 | A | Doppler color flow add-on | 0.07 | 0.03 | 0.03 | 0.03 | 0.03 | 0.01 | 0.11 | 0.11 | 0.11 | 0.11 | ZZZ
93325 | TC | A | Doppler color flow add-on | 0.00 | 2.88 | 2.91 | NA | NA | 0.17 | 3.05 | 3.08 | NA | NA | ZZZ
93350 |  | A | Echo transthoracic | 0.78 | 2.08 | 2.25 | 2.08 | 2.25 | 0.13 | 2.99 | 3.16 | 2.99 | 3.16 | XXX
93350 | 26 | A | Echo transthoracic | 0.78 | 0.33 | 0.48 | 0.33 | 0.48 | 0.02 | 1.13 | 1.28 | 1.13 | 1.28 | XXX
93350 | TC | A | Echo transthoracic | 0.00 | 1.75 | 1.77 | NA | NA | 0.11 | 1.86 | 1.88 | NA | NA | XXX
93501 |  | A | Right heart catheterization | 3.02 | 17.59 | 18.46 | 17.59 | 18.46 | 1.03 | 21.64 | 22.51 | 21.64 | 22.51 | 000
93501 | 26 | A | Right heart catheterization | 3.02 | 1.27 | 1.85 | 1.27 | 1.85 | 0.16 | 4.45 | 5.03 | 4.45 | 5.03 | 000
93501 | TC | A | Right heart catheterization | 0.00 | 16.32 | 16.61 | NA | NA | 0.87 | 17.19 | 17.48 | NA | NA | 000
93503 |  | A | Insert/place heart catheter | 2.91 | NA | NA | 0.75 | 1.21 | 0.16 | NA | NA | 3.82 | 4.28 | 000
93505 |  | A | Biopsy of heart lining | 4.38 | 3.78 | 4.18 | 3.78 | 4.18 | 0.36 | 8.52 | 8.92 | 8.52 | 8.92 | 000
93505 | 26 | A | Biopsy of heart lining | 4.38 | 1.87 | 2.23 | 1.87 | 2.23 | 0.23 | 6.48 | 6.84 | 6.48 | 6.84 | 000
93505 | TC | A | Biopsy of heart lining | 0.00 | 1.91 | 1.95 | NA | NA | 0.13 | 2.04 | 2.08 | NA | NA | 000
93508 |  | A | Cath placement, angiography | 4.10 | 13.94 | 14.47 | 13.94 | 14.47 | 0.75 | 18.79 | 19.32 | 18.79 | 19.32 | 000
93508 | 26 | A | Cath placement, angiography | 4.10 | 1.77 | 2.08 | 1.77 | 2.08 | 0.21 | 6.08 | 6.39 | 6.08 | 6.39 | 000
93508 | TC | A | Cath placement, angiography | 0.00 | 12.17 | 12.39 | NA | NA | 0.54 | 12.71 | 12.93 | NA | NA | 000
93510 |  | A | Left heart catheterization | 4.33 | 37.54 | 38.54 | 37.54 | 38.54 | 2.13 | 44.00 | 45.00 | 44.00 | 45.00 | 000
93510 | 26 | A | Left heart catheterization | 4.33 | 1.88 | 2.24 | 1.88 | 2.24 | 0.22 | 6.43 | 6.79 | 6.43 | 6.79 | 000
93510 | TC | A | Left heart catheterization | 0.00 | 35.66 | 36.30 | NA | NA | 1.91 | 37.57 | 38.21 | NA | NA | 000
93511 |  | A | Left heart catheterization | 5.03 | 36.89 | 37.69 | 36.89 | 37.69 | 2.11 | 44.03 | 44.83 | 44.03 | 44.83 | 000
93511 | 26 | A | Left heart catheterization | 5.03 | 2.18 | 2.35 | 2.18 | 2.35 | 0.26 | 7.47 | 7.64 | 7.47 | 7.64 | 000
93511 | TC | A | Left heart catheterization | 0.00 | 34.71 | 35.34 | NA | NA | 1.85 | 36.56 | 37.19 | NA | NA | 000
93514 |  | A | Left heart catheterization | 7.05 | 37.49 | 38.66 | 37.49 | 38.66 | 2.22 | 46.76 | 47.93 | 46.76 | 47.93 | 000
93514 | 26 | A | Left heart catheterization | 7.05 | 2.78 | 3.32 | 2.78 | 3.32 | 0.37 | 10.20 | 10.74 | 10.20 | 10.74 | 000
93514 | TC | A | Left heart catheterization | 0.00 | 34.71 | 35.34 | NA | NA | 1.85 | 36.56 | 37.19 | NA | NA | 000
93524 |  | A | Left heart catheterization | 6.95 | 48.31 | 49.66 | 48.31 | 49.66 | 2.79 | 58.05 | 59.40 | 58.05 | 59.40 | 000
93524 | 26 | A | Left heart catheterization | 6.95 | 2.95 | 3.48 | 2.95 | 3.48 | 0.36 | 10.26 | 10.79 | 10.26 | 10.79 | 000
93524 | TC | A | Left heart catheterization | 0.00 | 45.36 | 46.18 | NA | NA | 2.43 | 47.79 | 48.61 | NA | NA | 000
93526 |  | A | Rt & Lt heart catheters | 5.99 | 49.20 | 50.87 | 49.20 | 50.87 | 2.81 | 58.00 | 59.67 | 58.00 | 59.67 | 000
93526 | 26 | A | Rt & Lt heart catheters | 5.99 | 2.59 | 3.42 | 2.59 | 3.42 | 0.31 | 8.89 | 9.72 | 8.89 | 9.72 | 000
93526 | TC | A | Rt & Lt heart catheters | 0.00 | 46.61 | 47.45 | NA | NA | 2.50 | 49.11 | 49.95 | NA | NA | 000
93527 |  | A | Rt & Lt heart catheters | 7.28 | 48.50 | 50.47 | 48.50 | 50.47 | 2.81 | 58.59 | 60.56 | 58.59 | 60.56 | 000
93527 | 26 | A | Rt & Lt heart catheters | 7.28 | 3.14 | 4.29 | 3.14 | 4.29 | 0.38 | 10.80 | 11.95 | 10.80 | 11.95 | 000
93527 | TC | A | Rt & Lt heart catheters | 0.00 | 45.36 | 46.18 | NA | NA | 2.43 | 47.79 | 48.61 | NA | NA | 000
93528 |  | A | Rt & Lt heart catheters | 9.00 | 49.31 | 50.35 | 49.31 | 50.35 | 2.90 | 61.21 | 62.25 | 61.21 | 62.25 | 000
93528 | 26 | A | Rt & Lt heart catheters | 9.00 | 3.95 | 4.17 | 3.95 | 4.17 | 0.47 | 13.42 | 13.64 | 13.42 | 13.64 | 000
93528 | TC | A | Rt & Lt heart catheters | 0.00 | 45.36 | 46.18 | NA | NA | 2.43 | 47.79 | 48.61 | NA | NA | 000
93529 |  | A | Rt, Lt heart catheterization | 4.80 | 47.42 | 48.52 | 47.42 | 48.52 | 2.68 | 54.90 | 56.00 | 54.90 | 56.00 | 000
93529 | 26 | A | Rt, Lt heart catheterization | 4.80 | 2.06 | 2.34 | 2.06 | 2.34 | 0.25 | 7.11 | 7.39 | 7.11 | 7.39 | 000
93529 | TC | A | Rt, Lt heart catheterization | 0.00 | 45.36 | 46.18 | NA | NA | 2.43 | 47.79 | 48.61 | NA | NA | 000
93530 |  | A | Rt heart cath, congenital | 4.23 | 17.91 | 18.78 | 17.91 | 18.78 | 1.11 | 23.25 | 24.12 | 23.25 | 24.12 | 000
93530 | 26 | A | Rt heart cath, congenital | 4.23 | 1.59 | 2.17 | 1.59 | 2.17 | 0.24 | 6.06 | 6.64 | 6.06 | 6.64 | 000
93530 | TC | A | Rt heart cath, congenital | 0.00 | 16.32 | 16.61 | NA | NA | 0.87 | 17.19 | 17.48 | NA | NA | 000
93531 |  | A | R & l heart cath, congenital | 8.35 | 49.98 | 51.46 | 49.98 | 51.46 | 2.96 | 61.29 | 62.77 | 61.29 | 62.77 | 000
93531 | 26 | A | R & l heart cath, congenital | 8.35 | 3.37 | 4.01 | 3.37 | 4.01 | 0.46 | 12.18 | 12.82 | 12.18 | 12.82 | 000
93531 | TC | A | R & l heart cath, congenital | 0.00 | 46.61 | 47.45 | NA | NA | 2.50 | 49.11 | 49.95 | NA | NA | 000
93532 |  | A | R & l heart cath, congenital | 10.00 | 49.37 | 51.13 | 49.37 | 51.13 | 2.95 | 62.32 | 64.08 | 62.32 | 64.08 | 000
93532 | 26 | A | R & l heart cath, congenital | 10.00 | 4.01 | 4.95 | 4.01 | 4.95 | 0.52 | 14.53 | 15.47 | 14.53 | 15.47 | 000
93532 | TC | A | R & l heart cath, congenital | 0.00 | 45.36 | 46.18 | NA | NA | 2.43 | 47.79 | 48.61 | NA | NA | 000
93533 |  | A | R & l heart cath, congenital | 6.70 | 47.90 | 48.88 | 47.90 | 48.88 | 2.86 | 57.46 | 58.44 | 57.46 | 58.44 | 000
93533 | 26 | A | R & l heart cath, congenital | 6.70 | 2.54 | 2.70 | 2.54 | 2.70 | 0.43 | 9.67 | 9.83 | 9.67 | 9.83 | 000
93533 | TC | A | R & l heart cath, congenital | 0.00 | 45.36 | 46.18 | NA | NA | 2.43 | 47.79 | 48.61 | NA | NA | 000
93536 |  | A | Insert circulation assi | 4.85 | NA | NA | 2.12 | 3.04 | 0.27 | NA | NA | 7.24 | 8.16 | 000
93539 |  | A | Injection, cardiac cath | 0.40 | 0.83 | 0.86 | 0.17 | 0.25 | 0.01 | 1.24 | 1.27 | 0.58 | 0.66 | 000
93540 |  | A | Injection, cardiac cath | 0.43 | 0.84 | 0.87 | 0.19 | 0.27 | 0.01 | 1.28 | 1.31 | 0.63 | 0.71 | 000
93541 |  | A | Injection for lung angiogram | 0.29 | NA | NA | 0.13 | 0.19 | 0.01 | NA | NA | 0.43 | 0.49 | 000
93542 |  | A | Injection for heart x-rays | 0.29 | NA | NA | 0.12 | 0.18 | 0.01 | NA | NA | 0.42 | 0.48 | 000
93543 |  | A | Injection for heart x-rays | 0.29 | 0.53 | 0.55 | 0.13 | 0.19 | 0.01 | 0.83 | 0.85 | 0.43 | 0.49 | 000
93544 |  | A | Injection for aortography | 0.25 | 0.52 | 0.55 | 0.11 | 0.16 | 0.01 | 0.78 | 0.81 | 0.37 | 0.42 | 000
93545 |  | A | Inject for coronary x-rays | 0.40 | 0.83 | 0.74 | 0.17 | 0.25 | 0.01 | 1.24 | 1.15 | 0.58 | 0.66 | 000
93555 |  | A | Imaging, cardiac cath | 0.81 | 6.40 | 6.50 | 6.40 | 6.50 | 0.31 | 7.52 | 7.62 | 7.52 | 7.62 | XXX
93555 | 26 | A | Imaging, cardiac cath | 0.81 | 0.35 | 0.34 | 0.35 | 0.34 | 0.03 | 1.19 | 1.18 | 1.19 | 1.18 | XXX
93555 | TC | A | Imaging, cardiac cath | 0.00 | 6.05 | 6.16 | NA | NA | 0.28 | 6.33 | 6.44 | NA | NA | XXX
93556 |  | A | Imaging, cardiac cath | 0.83 | 9.91 | 10.11 | 9.91 | 10.11 | 0.45 | 11.19 | 11.39 | 11.19 | 11.39 | XXX
93556 | 26 | A | Imaging, cardiac cath | 0.83 | 0.36 | 0.39 | 0.36 | 0.39 | 0.03 | 1.22 | 1.25 | 1.22 | 1.25 | XXX
93556 | TC | A | Imaging, cardiac cath | 0.00 | 9.55 | 9.72 | NA | NA | 0.42 | 9.97 | 10.14 | NA | NA | XXX
93561 |  | A | Cardiac output measurement | 0.50 | 0.69 | 0.81 | 0.69 | 0.81 | 0.07 | 1.26 | 1.38 | 1.26 | 1.38 | 000
93561 | 26 | A | Cardiac output measurement | 0.50 | 0.17 | 0.28 | 0.17 | 0.28 | 0.02 | 0.69 | 0.80 | 0.69 | 0.80 | 000
93561 | TC | A | Cardiac output measurement | 0.00 | 0.52 | 0.53 | NA | NA | 0.05 | 0.57 | 0.58 | NA | NA | 000
93562 |  | A | Cardiac output measurement | 0.16 | 0.35 | 0.40 | 0.35 | 0.40 | 0.04 | 0.55 | 0.60 | 0.55 | 0.60 | 000
93562 | 26 | A | Cardiac output measurement | 0.16 | 0.05 | 0.09 | 0.05 | 0.09 | 0.01 | 0.22 | 0.26 | 0.22 | 0.26 | 000
93562 | TC | A | Cardiac output measurement | 0.00 | 0.30 | 0.31 | NA | NA | 0.03 | 0.33 | 0.34 | NA | NA | 000
93571 |  | A | Heart flow reserve measure | 1.80 | 5.29 | 5.29 | 5.29 | 5.29 | 0.31 | 7.40 | 7.40 | 7.40 | 7.40 | ZZZ
93571 | 26 | A | Heart flow reserve measure | 1.80 | 0.76 | 0.76 | 0.76 | 0.76 | 0.11 | 2.67 | 2.67 | 2.67 | 2.67 | ZZZ
93571 | TC | A | Heart flow reserve measure | 0.00 | 4.53 | 4.53 | NA | NA | 0.20 | 4.73 | 4.73 | NA | NA | ZZZ
93572 |  | A | Heart flow reserve measure | 1.44 | 2.88 | 2.88 | 2.88 | 2.88 | 0.28 | 4.60 | 4.60 | 4.60 | 4.60 | ZZZ
93572 | 26 | A | Heart flow reserve measure | 1.44 | 0.60 | 0.60 | 0.60 | 0.60 | 0.17 | 2.21 | 2.21 | 2.21 | 2.21 | ZZZ
93572 | TC | A | Heart flow reserve measure | 0.00 | 2.28 | 2.28 | NA | NA | 0.11 | 2.39 | 2.39 | NA | NA | ZZZ
93600 |  | A | Bundle of His recording | 2.12 | 2.85 | 3.28 | 2.85 | 3.28 | 0.22 | 5.19 | 5.62 | 5.19 | 5.62 | 000
93600 | 26 | A | Bundle of His recording | 2.12 | 0.91 | 1.32 | 0.91 | 1.32 | 0.11 | 3.14 | 3.55 | 3.14 | 3.55 | 000
93600 | TC | A | Bundle of His recording | 0.00 | 1.94 | 1.96 | NA | NA | 0.11 | 2.05 | 2.07 | NA | NA | 000
93602 |  | A | Intra-atrial recording | 2.12 | 2.02 | 2.28 | 2.02 | 2.28 | 0.18 | 4.32 | 4.58 | 4.32 | 4.58 | 000
93602 | 26 | A | Intra-atrial recording | 2.12 | 0.92 | 1.17 | 0.92 | 1.17 | 0.12 | 3.16 | 3.41 | 3.16 | 3.41 | 000
93602 | TC | A | Intra-atrial recording | 0.00 | 1.10 | 1.11 | NA | NA | 0.06 | 1.16 | 1.17 | NA | NA | 000
93603 |  | A | Right ventricular recording | 2.12 | 2.59 | 2.98 | 2.59 | 2.98 | 0.20 | 4.91 | 5.30 | 4.91 | 5.30 | 000
93603 | 26 | A | Right ventricular recording | 2.12 | 0.92 | 1.29 | 0.92 | 1.29 | 0.11 | 3.15 | 3.52 | 3.15 | 3.52 | 000
93603 | TC | A | Right ventricular recording | 0.00 | 1.67 | 1.69 | NA | NA | 0.09 | 1.76 | 1.78 | NA | NA | 000
93607 |  | A | Left ventricular recording | 3.26 | 2.91 | 3.17 | 2.91 | 3.17 | 0.26 | 6.43 | 6.69 | 6.43 | 6.69 | 000
93607 | 26 | A | Left ventricular recording | 3.26 | 1.43 | 1.67 | 1.43 | 1.67 | 0.17 | 4.86 | 5.10 | 4.86 | 5.10 | 000
93607 | TC | A | Left ventricular recording | 0.00 | 1.48 | 1.50 | NA | NA | 0.09 | 1.57 | 1.59 | NA | NA | 000
93609 |  | A | Mapping of tachycardia | 10.07 | 7.04 | 7.03 | 7.04 | 7.03 | 0.66 | 17.77 | 17.76 | 17.77 | 17.76 | 000
93609 | 26 | A | Mapping of tachycardia | 10.07 | 4.34 | 4.30 | 4.34 | 4.30 | 0.52 | 14.93 | 14.89 | 14.93 | 14.89 | 000
93609 | TC | A | Mapping of tachycardia | 0.00 | 2.70 | 2.73 | NA | NA | 0.14 | 2.84 | 2.87 | NA | NA | 000
93610 |  | A | Intra-atrial pacing | 3.02 | 2.64 | 2.96 | 2.64 | 2.96 | 0.25 | 5.91 | 6.23 | 5.91 | 6.23 | 000
93610 | 26 | A | Intra-atrial pacing | 3.02 | 1.29 | 1.60 | 1.29 | 1.60 | 0.17 | 4.48 | 4.79 | 4.48 | 4.79 | 000
93610 | TC | A | Intra-atrial pacing | 0.00 | 1.35 | 1.36 | NA | NA | 0.08 | 1.43 | 1.44 | NA | NA | 000
93612 |  | A | Intraventricular pacing | 3.02 | 2.90 | 3.23 | 2.90 | 3.23 | 0.26 | 6.18 | 6.51 | 6.18 | 6.51 | 000
93612 | 26 | A | Intraventricular pacing | 3.02 | 1.30 | 1.61 | 1.30 | 1.61 | 0.17 | 4.49 | 4.80 | 4.49 | 4.80 | 000
93612 | TC | A | Intraventricular pacing | 0.00 | 1.60 | 1.62 | NA | NA | 0.09 | 1.69 | 1.71 | NA | NA | 000
93615 |  | A | Esophageal recording | 0.99 | 0.72 | 0.72 | 0.72 | 0.72 | 0.05 | 1.76 | 1.76 | 1.76 | 1.76 | 000
93615 | 26 | A | Esophageal recording | 0.99 | 0.40 | 0.40 | 0.40 | 0.40 | 0.03 | 1.42 | 1.42 | 1.42 | 1.42 | 000
93615 | TC | A | Esophageal recording | 0.00 | 0.32 | 0.32 | NA | NA | 0.02 | 0.34 | 0.34 | NA | NA | 000
93616 |  | A | Esophageal recording | 1.49 | 0.82 | 1.07 | 0.82 | 1.07 | 0.08 | 2.39 | 2.64 | 2.39 | 2.64 | 000
93616 | 26 | A | Esophageal recording | 1.49 | 0.50 | 0.75 | 0.50 | 0.75 | 0.06 | 2.05 | 2.30 | 2.05 | 2.30 | 000
93616 | TC | A | Esophageal recording | 0.00 | 0.32 | 0.32 | NA | NA | 0.02 | 0.34 | 0.34 | NA | NA | 000
93618 |  | A | Heart rhythm pacing | 4.26 | 5.78 | 6.63 | 5.78 | 6.63 | 0.42 | 10.46 | 11.31 | 10.46 | 11.31 | 000
93618 | 26 | A | Heart rhythm pacing | 4.26 | 1.84 | 2.65 | 1.84 | 2.65 | 0.22 | 6.32 | 7.13 | 6.32 | 7.13 | 000
93618 | TC | A | Heart rhythm pacing | 0.00 | 3.94 | 3.98 | NA | NA | 0.20 | 4.14 | 4.18 | NA | NA | 000
93619 |  | A | Electrophysiology evaluation | 7.32 | 10.80 | 12.28 | 10.80 | 12.28 | 0.77 | 18.89 | 20.37 | 18.89 | 20.37 | 000
93619 | 26 | A | Electrophysiology evaluation | 7.32 | 3.15 | 4.55 | 3.15 | 4.55 | 0.38 | 10.85 | 12.25 | 10.85 | 12.25 | 000
93619 | TC | A | Electrophysiology evaluation | 0.00 | 7.65 | 7.73 | NA | NA | 0.39 | 8.04 | 8.12 | NA | NA | 000
93620 |  | A | Electrophysiology evaluation | 11.59 | 13.91 | 16.21 | 13.91 | 16.21 | 1.04 | 26.54 | 28.84 | 26.54 | 28.84 | 000
93620 | 26 | A | Electrophysiology evaluation | 11.59 | 5.01 | 7.22 | 5.01 | 7.22 | 0.60 | 17.20 | 19.41 | 17.20 | 19.41 | 000
93620 | TC | A | Electrophysiology evaluation | 0.00 | 8.90 | 8.99 | NA | NA | 0.44 | 9.34 | 9.43 | NA | NA | 000
93621 |  | C | Electrophysiology evaluation | 0.00 | 0.00 | 0.00 | 0.00 | 0.00 | 0.00 | 0.00 | 0.00 | 0.00 | 0.00 | 000
93621 | 26 | A | Electrophysiology evaluation | 12.66 | 5.47 | 7.88 | 5.47 | 7.88 | 0.66 | 18.79 | 21.20 | 18.79 | 21.20 | 000
93621 | TC | C | Electrophysiology evaluation | 0.00 | 0.00 | 0.00 | 0.00 | 0.00 | 0.00 | 0.00 | 0.00 | 0.00 | 0.00 | 000
93622 |  | C | Electrophysiology evaluation | 0.00 | 0.00 | 0.00 | 0.00 | 0.00 | 0.00 | 0.00 | 0.00 | 0.00 | 0.00 | 000
93622 | 26 | A | Electrophysiology evaluation | 12.74 | 5.48 | 7.91 | 5.48 | 7.91 | 0.67 | 18.89 | 21.32 | 18.89 | 21.32 | 000
93622 | TC | C | Electrophysiology evaluation | 0.00 | 0.00 | 0.00 | 0.00 | 0.00 | 0.00 | 0.00 | 0.00 | 0.00 | 0.00 | 000
93623 |  | C | Stimulation, pacing heart | 0.00 | 0.00 | 0.00 | 0.00 | 0.00 | 0.00 | 0.00 | 0.00 | 0.00 | 0.00 | ZZZ
93623 | 26 | A | Stimulation, pacing heart | 2.85 | 1.23 | 1.68 | 1.23 | 1.68 | 0.15 | 4.23 | 4.68 | 4.23 | 4.68 | ZZZ
93623 | TC | C | Stimulation, pacing heart | 0.00 | 0.00 | 0.00 | 0.00 | 0.00 | 0.00 | 0.00 | 0.00 | 0.00 | 0.00 | ZZZ
93624 |  | A | Electrophysiologic study | 4.81 | 4.03 | 4.35 | 4.03 | 4.35 | 0.36 | 9.20 | 9.52 | 9.20 | 9.52 | 000
93624 | 26 | A | Electrophysiologic study | 4.81 | 2.06 | 2.36 | 2.06 | 2.36 | 0.25 | 7.12 | 7.42 | 7.12 | 7.42 | 000
93624 | TC | A | Electrophysiologic study | 0.00 | 1.97 | 1.99 | NA | NA | 0.11 | 2.08 | 2.10 | NA | NA | 000
93631 |  | A | Heart pacing, mapping | 7.60 | 9.30 | 10.13 | 9.30 | 10.13 | 1.17 | 18.07 | 18.90 | 18.07 | 18.90 | 000
93631 | 26 | A | Heart pacing, mapping | 7.60 | 3.20 | 3.96 | 3.20 | 3.96 | 0.66 | 11.46 | 12.22 | 11.46 | 12.22 | 000
93631 | TC | A | Heart pacing, mapping | 0.00 | 6.10 | 6.17 | NA | NA | 0.51 | 6.61 | 6.68 | NA | NA | 000
93640 |  | A | Evaluation heart device | 3.52 | 8.59 | 9.35 | 8.59 | 9.35 | 0.53 | 12.64 | 13.40 | 12.64 | 13.40 | 000
93640 | 26 | A | Evaluation heart device | 3.52 | 1.47 | 2.15 | 1.47 | 2.15 | 0.18 | 5.17 | 5.85 | 5.17 | 5.85 | 000
93640 | TC | A | Evaluation heart device | 0.00 | 7.12 | 7.20 | NA | NA | 0.35 | 7.47 | 7.55 | NA | NA | 000
93641 |  | A | Electrophysiology evaluation | 5.93 | 9.68 | 10.89 | 9.68 | 10.89 | 0.66 | 16.27 | 17.48 | 16.27 | 17.48 | 000
93641 | 26 | A | Electrophysiology evaluation | 5.93 | 2.56 | 3.69 | 2.56 | 3.69 | 0.31 | 8.80 | 9.93 | 8.80 | 9.93 | 000
93641 | TC | A | Electrophysiology evaluation | 0.00 | 7.12 | 7.20 | NA | NA | 0.35 | 7.47 | 7.55 | NA | NA | 000
93642 |  | A | Electrophysiology evaluation | 4.89 | 9.17 | 10.20 | 9.17 | 10.20 | 0.51 | 14.57 | 15.60 | 14.57 | 15.60 | 000
93642 | 26 | A | Electrophysiology evaluation | 4.89 | 2.05 | 3.00 | 2.05 | 3.00 | 0.16 | 7.10 | 8.05 | 7.10 | 8.05 | 000
93642 | TC | A | Electrophysiology evaluation | 0.00 | 7.12 | 7.20 | NA | NA | 0.35 | 7.47 | 7.55 | NA | NA | 000
93650 |  | A | Ablate heart dysrhythm focus | 10.51 | NA | NA | 4.61 | 6.60 | 0.55 | NA | NA | 15.67 | 17.66 | 000
93651 |  | A | Ablate heart dysrhythm focus | 16.25 | NA | NA | 7.06 | 10.13 | 0.85 | NA | NA | 24.16 | 27.23 | 000
93652 |  | A | Ablate heart dysrhythm focus | 17.68 | NA | NA | 7.66 | 10.58 | 0.92 | NA | NA | 26.26 | 29.18 | 000
93660 |  | A | Tilt table evaluation | 1.89 | 2.49 | 2.68 | 2.49 | 2.68 | 0.08 | 4.46 | 4.65 | 4.46 | 4.65 | 000
93660 | 26 | A | Tilt table evaluation | 1.89 | 0.82 | 1.01 | 0.82 | 1.01 | 0.06 | 2.77 | 2.96 | 2.77 | 2.96 | 000
93660 | TC | A | Tilt table evaluation | 0.00 | 1.67 | 1.67 | NA | NA | 0.02 | 1.69 | 1.69 | NA | NA | 000
93662 |  | A | Intracardiac ecg (ice) | 2.80 | 4.98 | 4.98 | 4.98 | 4.98 | 0.41 | 8.19 | 8.19 | 8.19 | 8.19 | ZZZ
93662 | 26 | A | Intracardiac ecg (ice) | 2.80 | 1.22 | 1.22 | 1.22 | 1.22 | 0.11 | 4.13 | 4.13 | 4.13 | 4.13 | ZZZ
93662 | TC | A | Intracardiac ecg (ice) | 0.00 | 3.76 | 3.76 | NA | NA | 0.30 | 4.06 | 4.06 | NA | NA | ZZZ
93668 |  | N | Peripheral vascular rehab | 0.00 | 0.00 | 0.00 | 0.00 | 0.00 | 0.01 | 0.01 | 0.01 | 0.01 | 0.01 | XXX
93720 |  | A | Total body plethysmography | 0.17 | 0.75 | 0.81 | NA | NA | 0.06 | 0.98 | 1.04 | NA | NA | XXX
93721 |  | A | Plethysmography tracing | 0.00 | 0.70 | 0.71 | NA | NA | 0.05 | 0.75 | 0.76 | NA | NA | XXX
93722 |  | A | Plethysmography report | 0.17 | 0.05 | 0.10 | 0.05 | 0.09 | 0.01 | 0.23 | 0.28 | 0.23 | 0.27 | XXX
93724 |  | A | Analyze pacemaker system | 4.89 | 6.08 | 6.37 | 6.08 | 6.37 | 0.38 | 11.35 | 11.64 | 11.35 | 11.64 | 000
93724 | 26 | A | Analyze pacemaker system | 4.89 | 2.14 | 2.39 | 2.14 | 2.39 | 0.18 | 7.21 | 7.46 | 7.21 | 7.46 | 000
93724 | TC | A | Analyze pacemaker system | 0.00 | 3.94 | 3.98 | NA | NA | 0.20 | 4.14 | 4.18 | NA | NA | 000
93727 |  | A | Analyze ilr system | 0.52 | 0.22 | 0.22 | 0.22 | 0.22 | 0.05 | 0.79 | 0.79 | 0.79 | 0.79 | XXX
93731 |  | A | Analyze pacemaker system | 0.45 | 0.68 | 0.73 | 0.68 | 0.73 | 0.05 | 1.18 | 1.23 | 1.18 | 1.23 | XXX
93731 | 26 | A | Analyze pacemaker system | 0.45 | 0.19 | 0.23 | 0.19 | 0.23 | 0.02 | 0.66 | 0.70 | 0.66 | 0.70 | XXX
93731 | TC | A | Analyze pacemaker system | 0.00 | 0.49 | 0.50 | NA | NA | 0.03 | 0.52 | 0.53 | NA | NA | XXX
93732 |  | A | Analyze pacemaker system | 0.92 | 0.90 | 0.93 | 0.90 | 0.93 | 0.06 | 1.88 | 1.91 | 1.88 | 1.91 | XXX
93732 | 26 | A | Analyze pacemaker system | 0.92 | 0.39 | 0.41 | 0.39 | 0.41 | 0.03 | 1.34 | 1.36 | 1.34 | 1.36 | XXX
93732 | TC | A | Analyze pacemaker system | 0.00 | 0.51 | 0.52 | NA | NA | 0.03 | 0.54 | 0.55 | NA | NA | XXX
93733 |  | A | Telephone analy, pacemaker | 0.17 | 0.79 | 0.84 | 0.79 | 0.84 | 0.06 | 1.02 | 1.07 | 1.02 | 1.07 | XXX
93733 | 26 | A | Telephone analy, pacemaker | 0.17 | 0.07 | 0.11 | 0.07 | 0.11 | 0.01 | 0.25 | 0.29 | 0.25 | 0.29 | XXX
93733 | TC | A | Telephone analy, pacemaker | 0.00 | 0.72 | 0.73 | NA | NA | 0.05 | 0.77 | 0.78 | NA | NA | XXX
93734 |  | A | Analyze pacemaker system | 0.38 | 0.51 | 0.56 | 0.51 | 0.56 | 0.03 | 0.92 | 0.97 | 0.92 | 0.97 | XXX
93734 | 26 | A | Analyze pacemaker system | 0.38 | 0.16 | 0.21 | 0.16 | 0.21 | 0.01 | 0.55 | 0.60 | 0.55 | 0.60 | XXX
93734 | TC | A | Analyze pacemaker system | 0.00 | 0.35 | 0.35 | NA | NA | 0.02 | 0.37 | 0.37 | NA | NA | XXX
93735 |  | A | Analyze pacemaker system | 0.74 | 0.76 | 0.81 | 0.76 | 0.81 | 0.06 | 1.56 | 1.61 | 1.56 | 1.61 | XXX
93735 | 26 | A | Analyze pacemaker system | 0.74 | 0.32 | 0.36 | 0.32 | 0.36 | 0.03 | 1.09 | 1.13 | 1.09 | 1.13 | XXX
93735 | TC | A | Analyze pacemaker system | 0.00 | 0.44 | 0.45 | NA | NA | 0.03 | 0.47 | 0.48 | NA | NA | XXX
93736 |  | A | Telephone analy, pacemaker | 0.15 | 0.69 | 0.73 | 0.69 | 0.73 | 0.06 | 0.90 | 0.94 | 0.90 | 0.94 | XXX
93736 | 26 | A | Telephone analy, pacemaker | 0.15 | 0.07 | 0.10 | 0.07 | 0.10 | 0.01 | 0.23 | 0.26 | 0.23 | 0.26 | XXX
93736 | TC | A | Telephone analy, pacemaker | 0.00 | 0.62 | 0.63 | NA | NA | 0.05 | 0.67 | 0.68 | NA | NA | XXX
93737 |  | A | Analyze cardio/defibrillator | 0.45 | 0.68 | 0.72 | 0.68 | 0.72 | 0.04 | 1.17 | 1.21 | 1.17 | 1.21 | XXX
93737 | 26 | A | Analyze cardio/defibrillator | 0.45 | 0.19 | 0.22 | 0.19 | 0.22 | 0.01 | 0.65 | 0.68 | 0.65 | 0.68 | XXX
93737 | TC | A | Analyze cardio/defibrillator | 0.00 | 0.49 | 0.50 | NA | NA | 0.03 | 0.52 | 0.53 | NA | NA | XXX
93738 |  | A | Analyze cardio/defibrillator | 0.92 | 0.90 | 0.92 | 0.90 | 0.92 | 0.06 | 1.88 | 1.90 | 1.88 | 1.90 | XXX
93738 | 26 | A | Analyze cardio/defibrillator | 0.92 | 0.39 | 0.40 | 0.39 | 0.40 | 0.03 | 1.34 | 1.35 | 1.34 | 1.35 | XXX
93738 | TC | A | Analyze cardio/defibrillator | 0.00 | 0.51 | 0.52 | NA | NA | 0.03 | 0.54 | 0.55 | NA | NA | XXX
93740 |  | B | Temperature gradient studies | +0.16 | 0.21 | 0.28 | 0.21 | 0.28 | 0.02 | 0.39 | 0.46 | 0.39 | 0.46 | XXX
93740 | 26 | B | Temperature gradient studies | +0.16 | 0.06 | 0.13 | 0.06 | 0.13 | 0.01 | 0.23 | 0.30 | 0.23 | 0.30 | XXX
93740 | TC | B | Temperature gradient studies | +0.00 | 0.15 | 0.15 | NA | NA | 0.01 | 0.16 | 0.16 | NA | NA | XXX
93741 |  | A | Analyze ht pace device sngl | 0.80 | 0.98 | 0.98 | 0.98 | 0.98 | 0.05 | 1.83 | 1.83 | 1.83 | 1.83 | XXX
93741 | 26 | A | Analyze ht pace device sngl | 0.80 | 0.32 | 0.32 | 0.32 | 0.32 | 0.02 | 1.14 | 1.14 | 1.14 | 1.14 | XXX
93741 | TC | A | Analyze ht pace device sngl | 0.00 | 0.66 | 0.66 | NA | NA | 0.03 | 0.69 | 0.69 | NA | NA | XXX
93742 |  | A | Analyze ht pace device sngl | 0.91 | 1.02 | 1.02 | 1.02 | 1.02 | 0.05 | 1.98 | 1.98 | 1.98 | 1.98 | XXX
93742 | 26 | A | Analyze ht pace device sngl | 0.91 | 0.36 | 0.36 | 0.36 | 0.36 | 0.02 | 1.29 | 1.29 | 1.29 | 1.29 | XXX
93742 | TC | A | Analyze ht pace device sngl | 0.00 | 0.66 | 0.66 | NA | NA | 0.03 | 0.69 | 0.69 | NA | NA | XXX
93743 |  | A | Analyze ht pace device dual | 1.03 | 1.14 | 1.14 | 1.14 | 1.14 | 0.06 | 2.23 | 2.23 | 2.23 | 2.23 | XXX
93743 | 26 | A | Analyze ht pace device dual | 1.03 | 0.41 | 0.41 | 0.41 | 0.41 | 0.03 | 1.47 | 1.47 | 1.47 | 1.47 | XXX
93743 | TC | A | Analyze ht pace device dual | 0.00 | 0.73 | 0.73 | NA | NA | 0.03 | 0.76 | 0.76 | NA | NA | XXX
93744 |  | A | Analyze ht pace device dual | 1.18 | 1.13 | 1.13 | 1.13 | 1.13 | 0.06 | 2.37 | 2.37 | 2.37 | 2.37 | XXX
93744 | 26 | A | Analyze ht pace device dual | 1.18 | 0.47 | 0.47 | 0.47 | 0.47 | 0.03 | 1.68 | 1.68 | 1.68 | 1.68 | XXX
93744 | TC | A | Analyze ht pace device dual | 0.00 | 0.66 | 0.66 | NA | NA | 0.03 | 0.69 | 0.69 | NA | NA | XXX
93760 |  | N | Cephalic thermogram | 0.00 | 0.00 | 0.00 | 0.00 | 0.00 | 0.00 | 0.00 | 0.00 | 0.00 | 0.00 | XXX
93762 |  | N | Peripheral thermogram | 0.00 | 0.00 | 0.00 | 0.00 | 0.00 | 0.00 | 0.00 | 0.00 | 0.00 | 0.00 | XXX
93770 |  | B | Measure venous pressure | +0.16 | 0.09 | 0.12 | 0.09 | 0.12 | 0.02 | 0.27 | 0.30 | 0.27 | 0.30 | XXX
93770 | 26 | B | Measure venous pressure | +0.16 | 0.06 | 0.09 | 0.06 | 0.09 | 0.01 | 0.23 | 0.26 | 0.23 | 0.26 | XXX
93770 | TC | B | Measure venous pressure | +0.00 | 0.03 | 0.03 | NA | NA | 0.01 | 0.04 | 0.04 | NA | NA | XXX
93784 |  | N | Ambulatory BP monitoring | 0.00 | 0.00 | 0.00 | 0.00 | 0.00 | 0.00 | 0.00 | 0.00 | 0.00 | 0.00 | XXX
93786 |  | N | Ambulatory BP recording | 0.00 | 0.00 | 0.00 | 0.00 | 0.00 | 0.00 | 0.00 | 0.00 | 0.00 | 0.00 | XXX
93788 |  | N | Ambulatory BP analysis | 0.00 | 0.00 | 0.00 | 0.00 | 0.00 | 0.00 | 0.00 | 0.00 | 0.00 | 0.00 | XXX
93790 |  | N | Review/report BP recording | 0.00 | 0.00 | 0.00 | 0.00 | 0.00 | 0.00 | 0.00 | 0.00 | 0.00 | 0.00 | XXX
93797 |  | A | Cardiac rehab | 0.18 | 0.40 | 0.36 | 0.07 | 0.08 | 0.01 | 0.59 | 0.55 | 0.26 | 0.27 | 000
93798 |  | A | Cardiac rehab/monitor | 0.28 | 0.47 | 0.48 | 0.12 | 0.16 | 0.01 | 0.76 | 0.77 | 0.41 | 0.45 | 000
93799 |  | C | Cardiovascular procedure | 0.00 | 0.00 | 0.00 | 0.00 | 0.00 | 0.00 | 0.00 | 0.00 | 0.00 | 0.00 | XXX
93799 | 26 | C | Cardiovascular procedure | 0.00 | 0.00 | 0.00 | 0.00 | 0.00 | 0.00 | 0.00 | 0.00 | 0.00 | 0.00 | XXX
93799 | TC | C | Cardiovascular procedure | 0.00 | 0.00 | 0.00 | 0.00 | 0.00 | 0.00 | 0.00 | 0.00 | 0.00 | 0.00 | XXX
93875 |  | A | Extracranial study | 0.22 | 1.18 | 1.24 | 1.18 | 1.24 | 0.10 | 1.50 | 1.56 | 1.50 | 1.56 | XXX
93875 | 26 | A | Extracranial study | 0.22 | 0.08 | 0.13 | 0.08 | 0.13 | 0.01 | 0.31 | 0.36 | 0.31 | 0.36 | XXX
93875 | TC | A | Extracranial study | 0.00 | 1.10 | 1.11 | NA | NA | 0.09 | 1.19 | 1.20 | NA | NA | XXX
93880 |  | A | Extracranial study | 0.60 | 3.92 | 4.01 | 3.92 | 4.01 | 0.33 | 4.85 | 4.94 | 4.85 | 4.94 | XXX
93880 | 26 | A | Extracranial study | 0.60 | 0.22 | 0.27 | 0.22 | 0.27 | 0.04 | 0.86 | 0.91 | 0.86 | 0.91 | XXX
93880 | TC | A | Extracranial study | 0.00 | 3.70 | 3.74 | NA | NA | 0.29 | 3.99 | 4.03 | NA | NA | XXX
93882 |  | A | Extracranial study | 0.40 | 2.61 | 2.67 | 2.61 | 2.67 | 0.22 | 3.23 | 3.29 | 3.23 | 3.29 | XXX
93882 | 26 | A | Extracranial study | 0.40 | 0.15 | 0.18 | 0.15 | 0.18 | 0.04 | 0.59 | 0.62 | 0.59 | 0.62 | XXX
93882 | TC | A | Extracranial study | 0.00 | 2.46 | 2.49 | NA | NA | 0.18 | 2.64 | 2.67 | NA | NA | XXX
93886 |  | A | Intracranial study | 0.94 | 4.58 | 4.64 | 4.58 | 4.64 | 0.37 | 5.89 | 5.95 | 5.89 | 5.95 | XXX
93886 | 26 | A | Intracranial study | 0.94 | 0.39 | 0.41 | 0.39 | 0.41 | 0.05 | 1.38 | 1.40 | 1.38 | 1.40 | XXX
93886 | TC | A | Intracranial study | 0.00 | 4.19 | 4.23 | NA | NA | 0.32 | 4.51 | 4.55 | NA | NA | XXX
93888 |  | A | Intracranial study | 0.62 | 3.04 | 3.09 | 3.04 | 3.09 | 0.26 | 3.92 | 3.97 | 3.92 | 3.97 | XXX
93888 | 26 | A | Intracranial study | 0.62 | 0.24 | 0.26 | 0.24 | 0.26 | 0.04 | 0.90 | 0.92 | 0.90 | 0.92 | XXX
93888 | TC | A | Intracranial study | 0.00 | 2.80 | 2.83 | NA | NA | 0.22 | 3.02 | 3.05 | NA | NA | XXX
93922 |  | A | Extremity study | 0.25 | 1.23 | 1.29 | 1.23 | 1.29 | 0.13 | 1.61 | 1.67 | 1.61 | 1.67 | XXX
93922 | 26 | A | Extremity study | 0.25 | 0.09 | 0.14 | 0.09 | 0.14 | 0.02 | 0.36 | 0.41 | 0.36 | 0.41 | XXX
93922 | TC | A | Extremity study | 0.00 | 1.14 | 1.15 | NA | NA | 0.11 | 1.25 | 1.26 | NA | NA | XXX
93923 |  | A | Extremity study | 0.45 | 2.34 | 2.45 | 2.34 | 2.45 | 0.22 | 3.01 | 3.12 | 3.01 | 3.12 | XXX
93923 | 26 | A | Extremity study | 0.45 | 0.17 | 0.26 | 0.17 | 0.26 | 0.04 | 0.66 | 0.75 | 0.66 | 0.75 | XXX
93923 | TC | A | Extremity study | 0.00 | 2.17 | 2.19 | NA | NA | 0.18 | 2.35 | 2.37 | NA | NA | XXX
93924 |  | A | Extremity study | 0.50 | 2.54 | 2.67 | 2.54 | 2.67 | 0.26 | 3.30 | 3.43 | 3.30 | 3.43 | XXX
93924 | 26 | A | Extremity study | 0.50 | 0.19 | 0.29 | 0.19 | 0.29 | 0.05 | 0.74 | 0.84 | 0.74 | 0.84 | XXX
93924 | TC | A | Extremity study | 0.00 | 2.35 | 2.38 | NA | NA | 0.21 | 2.56 | 2.59 | NA | NA | XXX
93925 |  | A | Lower extremity study | 0.58 | 3.93 | 4.02 | 3.93 | 4.02 | 0.33 | 4.84 | 4.93 | 4.84 | 4.93 | XXX
93925 | 26 | A | Lower extremity study | 0.58 | 0.21 | 0.26 | 0.21 | 0.26 | 0.04 | 0.83 | 0.88 | 0.83 | 0.88 | XXX
93925 | TC | A | Lower extremity study | 0.00 | 3.72 | 3.76 | NA | NA | 0.29 | 4.01 | 4.05 | NA | NA | XXX
93926 |  | A | Lower extremity study | 0.39 | 2.62 | 2.69 | 2.62 | 2.69 | 0.22 | 3.23 | 3.30 | 3.23 | 3.30 | XXX
93926 | 26 | A | Lower extremity study | 0.39 | 0.14 | 0.18 | 0.14 | 0.18 | 0.03 | 0.56 | 0.60 | 0.56 | 0.60 | XXX
93926 | TC | A | Lower extremity study | 0.00 | 2.48 | 2.51 | NA | NA | 0.19 | 2.67 | 2.70 | NA | NA | XXX
93930 |  | A | Upper extremity study | 0.46 | 4.12 | 4.22 | 4.12 | 4.22 | 0.34 | 4.92 | 5.02 | 4.92 | 5.02 | XXX
93930 | 26 | A | Upper extremity study | 0.46 | 0.17 | 0.23 | 0.17 | 0.23 | 0.03 | 0.66 | 0.72 | 0.66 | 0.72 | XXX
93930 | TC | A | Upper extremity study | 0.00 | 3.95 | 3.99 | NA | NA | 0.31 | 4.26 | 4.30 | NA | NA | XXX
93931 |  | A | Upper extremity study | 0.31 | 2.73 | 2.80 | 2.73 | 2.80 | 0.22 | 3.26 | 3.33 | 3.26 | 3.33 | XXX
93931 | 26 | A | Upper extremity study | 0.31 | 0.11 | 0.15 | 0.11 | 0.15 | 0.02 | 0.44 | 0.48 | 0.44 | 0.48 | XXX
93931 | TC | A | Upper extremity study | 0.00 | 2.62 | 2.65 | NA | NA | 0.20 | 2.82 | 2.85 | NA | NA | XXX
93965 |  | A | Extremity study | 0.35 | 1.22 | 1.30 | 1.22 | 1.30 | 0.12 | 1.69 | 1.77 | 1.69 | 1.77 | XXX
93965 | 26 | A | Extremity study | 0.35 | 0.13 | 0.20 | 0.13 | 0.20 | 0.02 | 0.50 | 0.57 | 0.50 | 0.57 | XXX
93965 | TC | A | Extremity study | 0.00 | 1.09 | 1.10 | NA | NA | 0.10 | 1.19 | 1.20 | NA | NA | XXX
93970 |  | A | Extremity study | 0.68 | 4.35 | 4.44 | 4.35 | 4.44 | 0.38 | 5.41 | 5.50 | 5.41 | 5.50 | XXX
93970 | 26 | A | Extremity study | 0.68 | 0.25 | 0.30 | 0.25 | 0.30 | 0.05 | 0.98 | 1.03 | 0.98 | 1.03 | XXX
93970 | TC | A | Extremity study | 0.00 | 4.10 | 4.14 | NA | NA | 0.33 | 4.43 | 4.47 | NA | NA | XXX
93971 |  | A | Extremity study | 0.45 | 2.89 | 2.95 | 2.89 | 2.95 | 0.25 | 3.59 | 3.65 | 3.59 | 3.65 | XXX
93971 | 26 | A | Extremity study | 0.45 | 0.16 | 0.19 | 0.16 | 0.19 | 0.03 | 0.64 | 0.67 | 0.64 | 0.67 | XXX
93971 | TC | A | Extremity study | 0.00 | 2.73 | 2.76 | NA | NA | 0.22 | 2.95 | 2.98 | NA | NA | XXX
93975 |  | A | Vascular study | 1.80 | 5.32 | 5.32 | 5.32 | 5.32 | 0.47 | 7.59 | 7.59 | 7.59 | 7.59 | XXX
93975 | 26 | A | Vascular study | 1.80 | 0.65 | 0.60 | 0.65 | 0.60 | 0.11 | 2.56 | 2.51 | 2.56 | 2.51 | XXX
93975 | TC | A | Vascular study | 0.00 | 4.67 | 4.72 | NA | NA | 0.36 | 5.03 | 5.08 | NA | NA | XXX
93976 |  | A | Vascular study | 1.21 | 3.54 | 3.54 | 3.54 | 3.54 | 0.31 | 5.06 | 5.06 | 5.06 | 5.06 | XXX
93976 | 26 | A | Vascular study | 1.21 | 0.43 | 0.40 | 0.43 | 0.40 | 0.06 | 1.70 | 1.67 | 1.70 | 1.67 | XXX
93976 | TC | A | Vascular study | 0.00 | 3.11 | 3.14 | NA | NA | 0.25 | 3.36 | 3.39 | NA | NA | XXX
93978 |  | A | Vascular study | 0.65 | 4.06 | 4.15 | 4.06 | 4.15 | 0.36 | 5.07 | 5.16 | 5.07 | 5.16 | XXX
93978 | 26 | A | Vascular study | 0.65 | 0.24 | 0.29 | 0.24 | 0.29 | 0.05 | 0.94 | 0.99 | 0.94 | 0.99 | XXX
93978 | TC | A | Vascular study | 0.00 | 3.82 | 3.86 | NA | NA | 0.31 | 4.13 | 4.17 | NA | NA | XXX
93979 |  | A | Vascular study | 0.44 | 2.71 | 2.77 | 2.71 | 2.77 | 0.24 | 3.39 | 3.45 | 3.39 | 3.45 | XXX
93979 | 26 | A | Vascular study | 0.44 | 0.16 | 0.19 | 0.16 | 0.19 | 0.04 | 0.64 | 0.67 | 0.64 | 0.67 | XXX
93979 | TC | A | Vascular study | 0.00 | 2.55 | 2.58 | NA | NA | 0.20 | 2.75 | 2.78 | NA | NA | XXX
93980 |  | A | Penile vascular study | 1.25 | 3.92 | 4.07 | 3.92 | 4.07 | 0.35 | 5.52 | 5.67 | 5.52 | 5.67 | XXX
93980 | 26 | A | Penile vascular study | 1.25 | 0.45 | 0.56 | 0.45 | 0.56 | 0.07 | 1.77 | 1.88 | 1.77 | 1.88 | XXX
93980 | TC | A | Penile vascular study | 0.00 | 3.47 | 3.51 | NA | NA | 0.28 | 3.75 | 3.79 | NA | NA | XXX
93981 |  | A | Penile vascular study | 0.44 | 3.36 | 3.46 | 3.36 | 3.46 | 0.28 | 4.08 | 4.18 | 4.08 | 4.18 | XXX
93981 | 26 | A | Penile vascular study | 0.44 | 0.16 | 0.23 | 0.16 | 0.23 | 0.02 | 0.62 | 0.69 | 0.62 | 0.69 | XXX
93981 | TC | A | Penile vascular study | 0.00 | 3.20 | 3.23 | NA | NA | 0.26 | 3.46 | 3.49 | NA | NA | XXX
93990 |  | A | Doppler flow testing | 0.25 | 2.58 | 2.64 | 2.58 | 2.64 | 0.21 | 3.04 | 3.10 | 3.04 | 3.10 | XXX
93990 | 26 | A | Doppler flow testing | 0.25 | 0.10 | 0.13 | 0.10 | 0.13 | 0.02 | 0.37 | 0.40 | 0.37 | 0.40 | XXX
93990 | TC | A | Doppler flow testing | 0.00 | 2.48 | 2.51 | NA | NA | 0.19 | 2.67 | 2.70 | NA | NA | XXX
94010 |  | A | Breathing capacity test | 0.17 | 0.79 | 0.77 | 0.79 | 0.77 | 0.03 | 0.99 | 0.97 | 0.99 | 0.97 | XXX
94010 | 26 | A | Breathing capacity test | 0.17 | 0.05 | 0.11 | 0.05 | 0.11 | 0.01 | 0.23 | 0.29 | 0.23 | 0.29 | XXX
94010 | TC | A | Breathing capacity test | 0.00 | 0.74 | 0.66 | NA | NA | 0.02 | 0.76 | 0.68 | NA | NA | XXX
94014 |  | A | Patient recorded spirometry | 0.52 | 0.51 | 0.51 | NA | NA | 0.03 | 1.06 | 1.06 | NA | NA | XXX
94015 |  | A | Patient recorded spirometry | 0.00 | 0.34 | 0.34 | NA | NA | 0.01 | 0.35 | 0.35 | NA | NA | XXX
94016 |  | A | Review patient spirometry | 0.52 | 0.17 | 0.17 | 0.17 | 0.17 | 0.02 | 0.71 | 0.71 | 0.71 | 0.71 | XXX
94060 |  | A | Evaluation of wheezing | 0.31 | 1.18 | 1.22 | 1.18 | 1.22 | 0.06 | 1.55 | 1.59 | 1.55 | 1.59 | XXX
94060 | 26 | A | Evaluation of wheezing | 0.31 | 0.10 | 0.17 | 0.10 | 0.17 | 0.01 | 0.42 | 0.49 | 0.42 | 0.49 | XXX
94060 | TC | A | Evaluation of wheezing | 0.00 | 1.08 | 1.05 | NA | NA | 0.05 | 1.13 | 1.10 | NA | NA | XXX
94070 |  | A | Evaluation of wheezing | 0.60 | 3.75 | 3.30 | 3.75 | 3.30 | 0.10 | 4.45 | 4.00 | 4.45 | 4.00 | XXX
94070 | 26 | A | Evaluation of wheezing | 0.60 | 0.18 | 0.24 | 0.18 | 0.24 | 0.02 | 0.80 | 0.86 | 0.80 | 0.86 | XXX
94070 | TC | A | Evaluation of wheezing | 0.00 | 3.57 | 3.06 | NA | NA | 0.08 | 3.65 | 3.14 | NA | NA | XXX
94150 |  | B | Vital capacity test | +0.07 | 0.61 | 0.51 | 0.61 | 0.51 | 0.02 | 0.70 | 0.60 | 0.70 | 0.60 | XXX
94150 | 26 | B | Vital capacity test | +0.07 | 0.03 | 0.05 | 0.03 | 0.05 | 0.01 | 0.11 | 0.13 | 0.11 | 0.13 | XXX
94150 | TC | B | Vital capacity test | +0.00 | 0.58 | 0.46 | NA | NA | 0.01 | 0.59 | 0.47 | NA | NA | XXX
94200 |  | A | Lung function test (MBC/MVV) | 0.11 | 0.31 | 0.34 | 0.31 | 0.34 | 0.03 | 0.45 | 0.48 | 0.45 | 0.48 | XXX
94200 | 26 | A | Lung function test (MBC/MVV) | 0.11 | 0.03 | 0.06 | 0.03 | 0.06 | 0.01 | 0.15 | 0.18 | 0.15 | 0.18 | XXX
94200 | TC | A | Lung function test (MBC/MVV) | 0.00 | 0.28 | 0.28 | NA | NA | 0.02 | 0.30 | 0.30 | NA | NA | XXX
94240 |  | A | Residual lung capacity | 0.26 | 1.37 | 1.27 | 1.37 | 1.27 | 0.05 | 1.68 | 1.58 | 1.68 | 1.58 | XXX
94240 | 26 | A | Residual lung capacity | 0.26 | 0.08 | 0.12 | 0.08 | 0.12 | 0.01 | 0.35 | 0.39 | 0.35 | 0.39 | XXX
94240 | TC | A | Residual lung capacity | 0.00 | 1.29 | 1.15 | NA | NA | 0.04 | 1.33 | 1.19 | NA | NA | XXX
94250 |  | A | Expired gas collection | 0.11 | 0.63 | 0.55 | 0.63 | 0.55 | 0.02 | 0.76 | 0.68 | 0.76 | 0.68 | XXX
94250 | 26 | A | Expired gas collection | 0.11 | 0.03 | 0.06 | 0.03 | 0.06 | 0.01 | 0.15 | 0.18 | 0.15 | 0.18 | XXX
94250 | TC | A | Expired gas collection | 0.00 | 0.60 | 0.49 | NA | NA | 0.01 | 0.61 | 0.50 | NA | NA | XXX
94260 |  | A | Thoracic gas volume | 0.13 | 0.39 | 0.47 | 0.39 | 0.47 | 0.04 | 0.56 | 0.64 | 0.56 | 0.64 | XXX
94260 | 26 | A | Thoracic gas volume | 0.13 | 0.04 | 0.07 | 0.04 | 0.07 | 0.01 | 0.18 | 0.21 | 0.18 | 0.21 | XXX
94260 | TC | A | Thoracic gas volume | 0.00 | 0.35 | 0.40 | NA | NA | 0.03 | 0.38 | 0.43 | NA | NA | XXX
94350 |  | A | Lung nitrogen washout curve | 0.26 | 1.17 | 1.08 | 1.17 | 1.08 | 0.04 | 1.47 | 1.38 | 1.47 | 1.38 | XXX
94350 | 26 | A | Lung nitrogen washout curve | 0.26 | 0.08 | 0.12 | 0.08 | 0.12 | 0.01 | 0.35 | 0.39 | 0.35 | 0.39 | XXX
94350 | TC | A | Lung nitrogen washout curve | 0.00 | 1.09 | 0.96 | NA | NA | 0.03 | 1.12 | 0.99 | NA | NA | XXX
94360 |  | A | Measure airflow resistance | 0.26 | 0.64 | 0.78 | 0.64 | 0.78 | 0.06 | 0.96 | 1.10 | 0.96 | 1.10 | XXX
94360 | 26 | A | Measure airflow resistance | 0.26 | 0.08 | 0.11 | 0.08 | 0.11 | 0.01 | 0.35 | 0.38 | 0.35 | 0.38 | XXX
94360 | TC | A | Measure airflow resistance | 0.00 | 0.56 | 0.67 | NA | NA | 0.05 | 0.61 | 0.72 | NA | NA | XXX
94370 |  | A | Breath airway closing volume | 0.26 | 2.48 | 1.97 | 2.48 | 1.97 | 0.03 | 2.77 | 2.26 | 2.77 | 2.26 | XXX
94370 | 26 | A | Breath airway closing volume | 0.26 | 0.08 | 0.10 | 0.08 | 0.10 | 0.01 | 0.35 | 0.37 | 0.35 | 0.37 | XXX
94370 | TC | A | Breath airway closing volume | 0.00 | 2.40 | 1.87 | NA | NA | 0.02 | 2.42 | 1.89 | NA | NA | XXX
94375 |  | A | Respiratory flow volume loop | 0.31 | 0.45 | 0.53 | 0.45 | 0.53 | 0.03 | 0.79 | 0.87 | 0.79 | 0.87 | XXX
94375 | 26 | A | Respiratory flow volume loop | 0.31 | 0.09 | 0.13 | 0.09 | 0.13 | 0.01 | 0.41 | 0.45 | 0.41 | 0.45 | XXX
94375 | TC | A | Respiratory flow volume loop | 0.00 | 0.36 | 0.40 | NA | NA | 0.02 | 0.38 | 0.42 | NA | NA | XXX
94400 |  | A | CO2 breathing response curve | 0.40 | 0.84 | 0.85 | 0.84 | 0.85 | 0.06 | 1.30 | 1.31 | 1.30 | 1.31 | XXX
94400 | 26 | A | CO2 breathing response curve | 0.40 | 0.13 | 0.23 | 0.13 | 0.23 | 0.01 | 0.54 | 0.64 | 0.54 | 0.64 | XXX
94400 | TC | A | CO2 breathing response curve | 0.00 | 0.71 | 0.62 | NA | NA | 0.05 | 0.76 | 0.67 | NA | NA | XXX
94450 |  | A | Hypoxia response curve | 0.40 | 0.81 | 0.77 | 0.81 | 0.77 | 0.04 | 1.25 | 1.21 | 1.25 | 1.21 | XXX
94450 | 26 | A | Hypoxia response curve | 0.40 | 0.10 | 0.14 | 0.10 | 0.14 | 0.02 | 0.52 | 0.56 | 0.52 | 0.56 | XXX
94450 | TC | A | Hypoxia response curve | 0.00 | 0.71 | 0.63 | NA | NA | 0.02 | 0.73 | 0.65 | NA | NA | XXX
94620 |  | A | Pulmonary stress test/simple | 0.64 | 2.29 | 2.28 | 2.29 | 2.28 | 0.10 | 3.03 | 3.02 | 3.03 | 3.02 | XXX
94620 | 26 | A | Pulmonary stress test/simple | 0.64 | 0.20 | 0.34 | 0.20 | 0.34 | 0.02 | 0.86 | 1.00 | 0.86 | 1.00 | XXX
94620 | TC | A | Pulmonary stress test/simple | 0.00 | 2.09 | 1.94 | NA | NA | 0.08 | 2.17 | 2.02 | NA | NA | XXX
94621 |  | A | Pulm stress test/complex | 1.42 | 2.12 | 2.15 | 2.12 | 2.15 | 0.13 | 3.67 | 3.70 | 3.67 | 3.70 | XXX
94621 | 26 | A | Pulm stress test/complex | 1.42 | 0.44 | 0.52 | 0.44 | 0.52 | 0.05 | 1.91 | 1.99 | 1.91 | 1.99 | XXX
94621 | TC | A | Pulm stress test/complex | 0.00 | 1.68 | 1.63 | NA | NA | 0.08 | 1.76 | 1.71 | NA | NA | XXX
94640 |  | A | Airway inhalation treatment | 0.00 | 0.67 | 0.61 | 0.22 | 0.27 | 0.02 | 0.69 | 0.63 | 0.24 | 0.29 | XXX
94642 |  | C | Aerosol inhalation treatment | 0.00 | 0.00 | 0.00 | 0.00 | 0.00 | 0.00 | 0.00 | 0.00 | 0.00 | 0.00 | XXX
94650 |  | A | Pressure breathing (IPPB) | 0.00 | 0.64 | 0.58 | 0.20 | 0.25 | 0.02 | 0.66 | 0.60 | 0.22 | 0.27 | XXX
94651 |  | A | Pressure breathing (IPPB) | 0.00 | 0.59 | 0.54 | 0.19 | 0.24 | 0.02 | 0.61 | 0.56 | 0.21 | 0.26 | XXX
94652 |  | A | Pressure breathing (IPPB) | 0.00 | 0.72 | 0.65 | 0.22 | 0.28 | 0.06 | 0.78 | 0.71 | 0.28 | 0.34 | XXX
94656 |  | A | Initial ventilator mgmt | 1.22 | NA | NA | 0.32 | 0.55 | 0.06 | NA | NA | 1.60 | 1.83 | XXX
94657 |  | A | Continued ventilator mgmt | 0.83 | NA | NA | 0.25 | 0.36 | 0.03 | NA | NA | 1.11 | 1.22 | XXX
94660 |  | A | Pos airway pressure, CPAP | 0.76 | 0.66 | 0.69 | 0.23 | 0.37 | 0.03 | 1.45 | 1.48 | 1.02 | 1.16 | XXX
94662 |  | A | Neg press ventilation, cnp | 0.76 | NA | NA | 0.24 | 0.26 | 0.02 | NA | NA | 1.02 | 1.04 | XXX
94664 |  | A | Aerosol or vapor inhalations | 0.00 | 0.50 | 0.51 | 0.16 | 0.26 | 0.03 | 0.53 | 0.54 | 0.19 | 0.29 | XXX
94665 |  | A | Aerosol or vapor inhalations | 0.00 | 0.51 | 0.51 | 0.16 | 0.25 | 0.04 | 0.55 | 0.55 | 0.20 | 0.29 | XXX
94667 |  | A | Chest wall manipulation | 0.00 | 0.81 | 0.76 | 0.26 | 0.35 | 0.04 | 0.85 | 0.80 | 0.30 | 0.39 | XXX
94668 |  | A | Chest wall manipulation | 0.00 | 0.69 | 0.61 | 0.22 | 0.26 | 0.02 | 0.71 | 0.63 | 0.24 | 0.28 | XXX
94680 |  | A | Exhaled air analysis, o2 | 0.26 | 0.81 | 0.82 | 0.81 | 0.82 | 0.06 | 1.13 | 1.14 | 1.13 | 1.14 | XXX
94680 | 26 | A | Exhaled air analysis, o2 | 0.26 | 0.09 | 0.15 | 0.09 | 0.15 | 0.01 | 0.36 | 0.42 | 0.36 | 0.42 | XXX
94680 | TC | A | Exhaled air analysis, o2 | 0.00 | 0.72 | 0.67 | NA | NA | 0.05 | 0.77 | 0.72 | NA | NA | XXX
94681 |  | A | Exhaled air analysis, o2/co2 | 0.20 | 1.71 | 1.70 | 1.71 | 1.70 | 0.11 | 2.02 | 2.01 | 2.02 | 2.01 | XXX
94681 | 26 | A | Exhaled air analysis, o2/co2 | 0.20 | 0.07 | 0.11 | 0.07 | 0.11 | 0.01 | 0.28 | 0.32 | 0.28 | 0.32 | XXX
94681 | TC | A | Exhaled air analysis, o2/co2 | 0.00 | 1.64 | 1.59 | NA | NA | 0.10 | 1.74 | 1.69 | NA | NA | XXX
94690 |  | A | Exhaled air analysis | 0.07 | 0.56 | 0.57 | 0.56 | 0.57 | 0.04 | 0.67 | 0.68 | 0.67 | 0.68 | XXX
94690 | 26 | A | Exhaled air analysis | 0.07 | 0.02 | 0.03 | 0.02 | 0.03 | 0.01 | 0.10 | 0.11 | 0.10 | 0.11 | XXX
94690 | TC | A | Exhaled air analysis | 0.00 | 0.54 | 0.54 | NA | NA | 0.03 | 0.57 | 0.57 | NA | NA | XXX
94720 |  | A | Monoxide diffusing capacity | 0.26 | 1.39 | 1.32 | 1.39 | 1.32 | 0.06 | 1.71 | 1.64 | 1.71 | 1.64 | XXX
94720 | 26 | A | Monoxide diffusing capacity | 0.26 | 0.08 | 0.12 | 0.08 | 0.12 | 0.01 | 0.35 | 0.39 | 0.35 | 0.39 | XXX
94720 | TC | A | Monoxide diffusing capacity | 0.00 | 1.31 | 1.20 | NA | NA | 0.05 | 1.36 | 1.25 | NA | NA | XXX
94725 |  | A | Membrane diffusion capacity | 0.26 | 0.82 | 1.12 | 0.82 | 1.12 | 0.11 | 1.19 | 1.49 | 1.19 | 1.49 | XXX
94725 | 26 | A | Membrane diffusion capacity | 0.26 | 0.08 | 0.11 | 0.08 | 0.11 | 0.01 | 0.35 | 0.38 | 0.35 | 0.38 | XXX
94725 | TC | A | Membrane diffusion capacity | 0.00 | 0.74 | 1.01 | NA | NA | 0.10 | 0.84 | 1.11 | NA | NA | XXX
94750 |  | A | Pulmonary compliance study | 0.23 | 3.58 | 2.90 | 3.58 | 2.90 | 0.04 | 3.85 | 3.17 | 3.85 | 3.17 | XXX
94750 | 26 | A | Pulmonary compliance study | 0.23 | 0.07 | 0.12 | 0.07 | 0.12 | 0.01 | 0.31 | 0.36 | 0.31 | 0.36 | XXX
94750 | TC | A | Pulmonary compliance study | 0.00 | 3.51 | 2.78 | NA | NA | 0.03 | 3.54 | 2.81 | NA | NA | XXX
94760 |  | T | Measure blood oxygen level | 0.00 | 0.09 | 0.14 | NA | NA | 0.02 | 0.11 | 0.16 | NA | NA | XXX
94761 |  | T | Measure blood oxygen level | 0.00 | 0.17 | 0.30 | NA | NA | 0.05 | 0.22 | 0.35 | NA | NA | XXX
94762 |  | A | Measure blood oxygen level | 0.00 | 0.11 | 0.38 | NA | NA | 0.08 | 0.19 | 0.46 | NA | NA | XXX
94770 |  | A | Exhaled carbon dioxide test | 0.15 | 0.76 | 0.68 | 0.76 | 0.68 | 0.07 | 0.98 | 0.90 | 0.98 | 0.90 | XXX
94770 | 26 | A | Exhaled carbon dioxide test | 0.15 | 0.04 | 0.06 | 0.04 | 0.06 | 0.01 | 0.20 | 0.22 | 0.20 | 0.22 | XXX
94770 | TC | A | Exhaled carbon dioxide test | 0.00 | 0.72 | 0.62 | NA | NA | 0.06 | 0.78 | 0.68 | NA | NA | XXX
94772 |  | C | Breath recording, infant | 0.00 | 0.00 | 0.00 | 0.00 | 0.00 | 0.00 | 0.00 | 0.00 | 0.00 | 0.00 | XXX
94772 | 26 | C | Breath recording, infant | 0.00 | 0.00 | 0.00 | 0.00 | 0.00 | 0.00 | 0.00 | 0.00 | 0.00 | 0.00 | XXX
94772 | TC | C | Breath recording, infant | 0.00 | 0.00 | 0.00 | 0.00 | 0.00 | 0.00 | 0.00 | 0.00 | 0.00 | 0.00 | XXX
94799 |  | C | Pulmonary service/procedure | 0.00 | 0.00 | 0.00 | 0.00 | 0.00 | 0.00 | 0.00 | 0.00 | 0.00 | 0.00 | XXX
94799 | 26 | C | Pulmonary service/procedure | 0.00 | 0.00 | 0.00 | 0.00 | 0.00 | 0.00 | 0.00 | 0.00 | 0.00 | 0.00 | XXX
94799 | TC | C | Pulmonary service/procedure | 0.00 | 0.00 | 0.00 | 0.00 | 0.00 | 0.00 | 0.00 | 0.00 | 0.00 | 0.00 | XXX
95004 |  | A | Allergy skin tests | 0.00 | 0.10 | 0.10 | 0.10 | 0.10 | 0.01 | 0.11 | 0.11 | 0.11 | 0.11 | XXX
95010 |  | A | Sensitivity skin tests | 0.15 | 0.45 | 0.37 | 0.07 | 0.07 | 0.01 | 0.61 | 0.53 | 0.23 | 0.23 | XXX
95015 |  | A | Sensitivity skin tests | 0.15 | 0.49 | 0.40 | 0.07 | 0.07 | 0.01 | 0.65 | 0.56 | 0.23 | 0.23 | XXX
95024 |  | A | Allergy skin tests | 0.00 | 0.14 | 0.14 | 0.14 | 0.14 | 0.01 | 0.15 | 0.15 | 0.15 | 0.15 | XXX
95027 |  | A | Skin end point titration | 0.00 | 0.14 | 0.14 | NA | NA | 0.01 | 0.15 | 0.15 | NA | NA | XXX
95028 |  | A | Allergy skin tests | 0.00 | 0.23 | 0.23 | NA | NA | 0.01 | 0.24 | 0.24 | NA | NA | XXX
95044 |  | A | Allergy patch tests | 0.00 | 0.20 | 0.20 | 0.20 | 0.20 | 0.01 | 0.21 | 0.21 | 0.21 | 0.21 | XXX
95052 |  | A | Photo patch test | 0.00 | 0.25 | 0.25 | 0.25 | 0.25 | 0.01 | 0.26 | 0.26 | 0.26 | 0.26 | XXX
95056 |  | A | Photosensitivity tests | 0.00 | 0.17 | 0.17 | 0.17 | 0.15 | 0.01 | 0.18 | 0.18 | 0.18 | 0.16 | XXX
95060 |  | A | Eye allergy tests | 0.00 | 0.35 | 0.35 | NA | NA | 0.02 | 0.37 | 0.37 | NA | NA | XXX
95065 |  | A | Nose allergy test | 0.00 | 0.20 | 0.20 | NA | NA | 0.01 | 0.21 | 0.21 | NA | NA | XXX
95070 |  | A | Bronchial allergy tests | 0.00 | 2.27 | 2.29 | NA | NA | 0.02 | 2.29 | 2.31 | NA | NA | XXX
95071 |  | A | Bronchial allergy tests | 0.00 | 2.90 | 2.93 | NA | NA | 0.02 | 2.92 | 2.95 | NA | NA | XXX
95075 |  | A | Ingestion challenge test | 0.95 | 0.89 | 1.20 | 0.43 | 0.59 | 0.03 | 1.87 | 2.18 | 1.41 | 1.57 | XXX
95078 |  | A | Provocative testing | 0.00 | 0.25 | 0.25 | NA | NA | 0.02 | 0.27 | 0.27 | NA | NA | XXX
95115 |  | A | Immunotherapy, one injection | 0.00 | 0.38 | 0.39 | 0.38 | 0.39 | 0.02 | 0.40 | 0.41 | 0.40 | 0.41 | 000
95117 |  | A | Immunotherapy injections | 0.00 | 0.50 | 0.51 | 0.50 | 0.51 | 0.02 | 0.52 | 0.53 | 0.52 | 0.53 | 000
95120 |  | I | Immunotherapy, one injection | 0.00 | 0.00 | 0.00 | 0.00 | 0.00 | 0.00 | 0.00 | 0.00 | 0.00 | 0.00 | XXX
95125 |  | I | Immunotherapy, many antigens | 0.00 | 0.00 | 0.00 | 0.00 | 0.00 | 0.00 | 0.00 | 0.00 | 0.00 | 0.00 | XXX
95130 |  | I | Immunotherapy, insect venom | 0.00 | 0.00 | 0.00 | 0.00 | 0.00 | 0.00 | 0.00 | 0.00 | 0.00 | 0.00 | XXX
95131 |  | I | Immunotherapy, insect venoms | 0.00 | 0.00 | 0.00 | 0.00 | 0.00 | 0.00 | 0.00 | 0.00 | 0.00 | 0.00 | XXX
95132 |  | I | Immunotherapy, insect venoms | 0.00 | 0.00 | 0.00 | 0.00 | 0.00 | 0.00 | 0.00 | 0.00 | 0.00 | 0.00 | XXX
95133 |  | I | Immunotherapy, insect venoms | 0.00 | 0.00 | 0.00 | 0.00 | 0.00 | 0.00 | 0.00 | 0.00 | 0.00 | 0.00 | XXX
95134 |  | I | Immunotherapy, insect venoms | 0.00 | 0.00 | 0.00 | 0.00 | 0.00 | 0.00 | 0.00 | 0.00 | 0.00 | 0.00 | XXX
95144 |  | A | Antigen therapy services | 0.06 | 0.25 | 0.22 | 0.03 | 0.04 | 0.01 | 0.32 | 0.29 | 0.10 | 0.11 | 000
95145 |  | A | Antigen therapy services | 0.06 | 0.50 | 0.47 | 0.03 | 0.07 | 0.01 | 0.57 | 0.54 | 0.10 | 0.14 | 000
95146 |  | A | Antigen therapy services | 0.06 | 0.60 | 0.62 | 0.02 | 0.10 | 0.01 | 0.67 | 0.69 | 0.09 | 0.17 | 000
95147 |  | A | Antigen therapy services | 0.06 | 0.86 | 0.89 | 0.02 | 0.14 | 0.01 | 0.93 | 0.96 | 0.09 | 0.21 | 000
95148 |  | A | Antigen therapy services | 0.06 | 0.83 | 0.87 | 0.03 | 0.15 | 0.01 | 0.90 | 0.94 | 0.10 | 0.22 | 000
95149 |  | A | Antigen therapy services | 0.06 | 1.03 | 1.08 | 0.02 | 0.17 | 0.01 | 1.10 | 1.15 | 0.09 | 0.24 | 000
95165 |  | A | Antigen therapy services | 0.06 | 0.20 | 0.18 | 0.02 | 0.03 | 0.01 | 0.27 | 0.25 | 0.09 | 0.10 | 000
95170 |  | A | Antigen therapy services | 0.06 | 0.27 | 0.30 | 0.02 | 0.06 | 0.01 | 0.34 | 0.37 | 0.09 | 0.13 | 000
95180 |  | A | Rapid desensitization | 2.01 | 1.71 | 1.32 | 0.86 | 0.67 | 0.04 | 3.76 | 3.37 | 2.91 | 2.72 | 000
95199 |  | C | Allergy immunology services | 0.00 | 0.00 | 0.00 | 0.00 | 0.00 | 0.00 | 0.00 | 0.00 | 0.00 | 0.00 | 000
95805 |  | A | Multiple sleep latency test | 1.88 | 7.66 | 7.25 | 7.66 | 7.25 | 0.34 | 9.88 | 9.47 | 9.88 | 9.47 | XXX
95805 | 26 | A | Multiple sleep latency test | 1.88 | 0.67 | 0.66 | 0.67 | 0.66 | 0.06 | 2.61 | 2.60 | 2.61 | 2.60 | XXX
95805 | TC | A | Multiple sleep latency test | 0.00 | 6.99 | 6.59 | NA | NA | 0.28 | 7.27 | 6.87 | NA | NA | XXX
95806 |  | A | Sleep study, unattended | 1.66 | 1.73 | 3.25 | 1.73 | 3.08 | 0.32 | 3.71 | 5.23 | 3.71 | 5.06 | XXX
95806 | 26 | A | Sleep study, unattended | 1.66 | 0.54 | 1.07 | 0.54 | 0.90 | 0.06 | 2.26 | 2.79 | 2.26 | 2.62 | XXX
95806 | TC | A | Sleep study, unattended | 0.00 | 1.19 | 2.18 | NA | NA | 0.26 | 1.45 | 2.44 | NA | NA | XXX
95807 |  | A | Sleep study, attended | 1.66 | 10.83 | 10.34 | 10.83 | 10.34 | 0.40 | 12.89 | 12.40 | 12.89 | 12.40 | XXX
95807 | 26 | A | Sleep study, attended | 1.66 | 0.53 | 0.90 | 0.53 | 0.90 | 0.05 | 2.24 | 2.61 | 2.24 | 2.61 | XXX
95807 | TC | A | Sleep study, attended | 0.00 | 10.30 | 9.44 | NA | NA | 0.35 | 10.65 | 9.79 | NA | NA | XXX
95808 |  | A | Polysomnography, 1-3 | 2.65 | 17.52 | 15.51 | 17.52 | 15.51 | 0.44 | 20.61 | 18.60 | 20.61 | 18.60 | XXX
95808 | 26 | A | Polysomnography, 1-3 | 2.65 | 0.93 | 1.36 | 0.93 | 1.36 | 0.09 | 3.67 | 4.10 | 3.67 | 4.10 | XXX
95808 | TC | A | Polysomnography, 1-3 | 0.00 | 16.59 | 14.15 | NA | NA | 0.35 | 16.94 | 14.50 | NA | NA | XXX
95810 |  | A | Polysomnography, 4 or more | 3.53 | 15.27 | 13.83 | 15.27 | 13.83 | 0.47 | 19.27 | 17.83 | 19.27 | 17.83 | XXX
95810 | 26 | A | Polysomnography, 4 or more | 3.53 | 1.20 | 1.57 | 1.20 | 1.57 | 0.12 | 4.85 | 5.22 | 4.85 | 5.22 | XXX
95810 | TC | A | Polysomnography, 4 or more | 0.00 | 14.07 | 12.26 | NA | NA | 0.35 | 14.42 | 12.61 | NA | NA | XXX
95811 |  | A | Polysomnography w/cpap | 3.80 | 14.06 | 13.04 | 14.06 | 13.04 | 0.49 | 18.35 | 17.33 | 18.35 | 17.33 | XXX
95811 | 26 | A | Polysomnography w/cpap | 3.80 | 1.28 | 1.66 | 1.28 | 1.66 | 0.13 | 5.21 | 5.59 | 5.21 | 5.59 | XXX
95811 | TC | A | Polysomnography w/cpap | 0.00 | 12.78 | 11.38 | NA | NA | 0.36 | 13.14 | 11.74 | NA | NA | XXX
95812 |  | A | Electroencephalogram (EEG) | 1.08 | 3.39 | 3.05 | 3.39 | 3.05 | 0.13 | 4.60 | 4.26 | 4.60 | 4.26 | XXX
95812 | 26 | A | Electroencephalogram (EEG) | 1.08 | 0.46 | 0.48 | 0.46 | 0.48 | 0.04 | 1.58 | 1.60 | 1.58 | 1.60 | XXX
95812 | TC | A | Electroencephalogram (EEG) | 0.00 | 2.93 | 2.57 | NA | NA | 0.09 | 3.02 | 2.66 | NA | NA | XXX
95813 |  | A | Electroencephalogram (EEG) | 1.73 | 4.59 | 3.95 | 4.59 | 3.95 | 0.15 | 6.47 | 5.83 | 6.47 | 5.83 | XXX
95813 | 26 | A | Electroencephalogram (EEG) | 1.73 | 0.71 | 0.67 | 0.71 | 0.67 | 0.06 | 2.50 | 2.46 | 2.50 | 2.46 | XXX
95813 | TC | A | Electroencephalogram (EEG) | 0.00 | 3.88 | 3.28 | NA | NA | 0.09 | 3.97 | 3.37 | NA | NA | XXX
95816 |  | A | Electroencephalogram (EEG) | 1.08 | 3.15 | 2.78 | 3.15 | 2.78 | 0.12 | 4.35 | 3.98 | 4.35 | 3.98 | XXX
95816 | 26 | A | Electroencephalogram (EEG) | 1.08 | 0.47 | 0.43 | 0.47 | 0.43 | 0.04 | 1.59 | 1.55 | 1.59 | 1.55 | XXX
95816 | TC | A | Electroencephalogram (EEG) | 0.00 | 2.68 | 2.35 | NA | NA | 0.08 | 2.76 | 2.43 | NA | NA | XXX
95819 |  | A | Electroencephalogram (EEG) | 1.08 | 3.63 | 3.21 | 3.63 | 3.21 | 0.12 | 4.83 | 4.41 | 4.83 | 4.41 | XXX
95819 | 26 | A | Electroencephalogram (EEG) | 1.08 | 0.47 | 0.49 | 0.47 | 0.49 | 0.04 | 1.59 | 1.61 | 1.59 | 1.61 | XXX
95819 | TC | A | Electroencephalogram (EEG) | 0.00 | 3.16 | 2.72 | NA | NA | 0.08 | 3.24 | 2.80 | NA | NA | XXX
95822 |  | A | Sleep electroencephalogram | 1.08 | 2.44 | 2.46 | 2.44 | 2.46 | 0.15 | 3.67 | 3.69 | 3.67 | 3.69 | XXX
95822 | 26 | A | Sleep electroencephalogram | 1.08 | 0.47 | 0.51 | 0.47 | 0.51 | 0.04 | 1.59 | 1.63 | 1.59 | 1.63 | XXX
95822 | TC | A | Sleep electroencephalogram | 0.00 | 1.97 | 1.95 | NA | NA | 0.11 | 2.08 | 2.06 | NA | NA | XXX
95824 |  | A | Electroencephalography | 0.74 | 0.71 | 0.80 | 0.71 | 0.80 | 0.05 | 1.50 | 1.59 | 1.50 | 1.59 | XXX
95824 | 26 | H | Electroencephalography | 0.00 | 0.00 | 0.00 | 0.00 | 0.00 | 0.00 | 0.00 | 0.00 | 0.00 | 0.00 | XXX
95824 | TC | H | Electroencephalography | 0.00 | 0.00 | 0.00 | NA | NA | 0.00 | 0.00 | 0.00 | NA | NA | XXX
95827 |  | A | Night electroencephalogram | 1.08 | 2.70 | 2.86 | 2.70 | 2.86 | 0.15 | 3.93 | 4.09 | 3.93 | 4.09 | XXX
95827 | 26 | A | Night electroencephalogram | 1.08 | 0.42 | 0.56 | 0.42 | 0.56 | 0.03 | 1.53 | 1.67 | 1.53 | 1.67 | XXX
95827 | TC | A | Night electroencephalogram | 0.00 | 2.28 | 2.30 | NA | NA | 0.12 | 2.40 | 2.42 | NA | NA | XXX
95829 |  | A | Surgery electrocorticogram | 6.21 | 28.41 | 21.47 | 28.41 | 21.47 | 0.33 | 34.95 | 28.01 | 34.95 | 28.01 | XXX
95829 | 26 | A | Surgery electrocorticogram | 6.21 | 2.01 | 1.63 | 2.01 | 1.63 | 0.31 | 8.53 | 8.15 | 8.53 | 8.15 | XXX
95829 | TC | A | Surgery electrocorticogram | 0.00 | 26.40 | 19.84 | NA | NA | 0.02 | 26.42 | 19.86 | NA | NA | XXX
95830 |  | A | Insert electrodes for EEG | 1.70 | 3.25 | 2.65 | 0.75 | 0.78 | 0.07 | 5.02 | 4.42 | 2.52 | 2.55 | XXX
95831 |  | A | Limb muscle testing, manual | 0.28 | 0.47 | 0.43 | 0.13 | 0.14 | 0.01 | 0.76 | 0.72 | 0.42 | 0.43 | XXX
95832 |  | A | Hand muscle testing, manual | 0.29 | 0.43 | 0.39 | 0.11 | 0.12 | 0.01 | 0.73 | 0.69 | 0.41 | 0.42 | XXX
95833 |  | A | Body muscle testing, manual | 0.47 | 0.55 | 0.52 | 0.24 | 0.23 | 0.01 | 1.03 | 1.00 | 0.72 | 0.71 | XXX
95834 |  | A | Body muscle testing, manual | 0.60 | 0.62 | 0.63 | 0.29 | 0.30 | 0.02 | 1.24 | 1.25 | 0.91 | 0.92 | XXX
95851 |  | A | Range of motion measurements | 0.16 | 0.52 | 0.46 | 0.08 | 0.09 | 0.01 | 0.69 | 0.63 | 0.25 | 0.26 | XXX
95852 |  | A | Range of motion measurements | 0.11 | 0.42 | 0.36 | 0.05 | 0.06 | 0.01 | 0.54 | 0.48 | 0.17 | 0.18 | XXX
95857 |  | A | Tensilon test | 0.53 | 0.62 | 0.60 | 0.24 | 0.25 | 0.02 | 1.17 | 1.15 | 0.79 | 0.80 | XXX
95858 |  | A | Tensilon test & myogram | 1.56 | 1.10 | 1.11 | 1.10 | 1.11 | 0.07 | 2.73 | 2.74 | 2.73 | 2.74 | XXX
95858 | 26 | A | Tensilon test & myogram | 1.56 | 0.71 | 0.71 | 0.71 | 0.71 | 0.04 | 2.31 | 2.31 | 2.31 | 2.31 | XXX
95858 | TC | A | Tensilon test & myogram | 0.00 | 0.39 | 0.40 | NA | NA | 0.03 | 0.42 | 0.43 | NA | NA | XXX
95860 |  | A | Muscle test, one limb | 0.96 | 1.12 | 1.14 | 1.12 | 1.14 | 0.05 | 2.13 | 2.15 | 2.13 | 2.15 | XXX
95860 | 26 | A | Muscle test, one limb | 0.96 | 0.44 | 0.53 | 0.44 | 0.53 | 0.03 | 1.43 | 1.52 | 1.43 | 1.52 | XXX
95860 | TC | A | Muscle test, one limb | 0.00 | 0.68 | 0.61 | NA | NA | 0.02 | 0.70 | 0.63 | NA | NA | XXX
95861 |  | A | Muscle test, two limbs | 1.54 | 1.44 | 1.62 | 1.44 | 1.62 | 0.10 | 3.08 | 3.26 | 3.08 | 3.26 | XXX
95861 | 26 | A | Muscle test, two limbs | 1.54 | 0.71 | 0.88 | 0.71 | 0.88 | 0.05 | 2.30 | 2.47 | 2.30 | 2.47 | XXX
95861 | TC | A | Muscle test, two limbs | 0.00 | 0.73 | 0.74 | NA | NA | 0.05 | 0.78 | 0.79 | NA | NA | XXX
95863 |  | A | Muscle test, 3 limbs | 1.87 | 1.77 | 1.95 | 1.77 | 1.95 | 0.11 | 3.75 | 3.93 | 3.75 | 3.93 | XXX
95863 | 26 | A | Muscle test, 3 limbs | 1.87 | 0.84 | 1.01 | 0.84 | 1.01 | 0.06 | 2.77 | 2.94 | 2.77 | 2.94 | XXX
95863 | TC | A | Muscle test, 3 limbs | 0.00 | 0.93 | 0.94 | NA | NA | 0.05 | 0.98 | 0.99 | NA | NA | XXX
95864 |  | A | Muscle test, 4 limbs | 1.99 | 2.68 | 2.95 | 2.68 | 2.95 | 0.16 | 4.83 | 5.10 | 4.83 | 5.10 | XXX
95864 | 26 | A | Muscle test, 4 limbs | 1.99 | 0.91 | 1.16 | 0.91 | 1.16 | 0.06 | 2.96 | 3.21 | 2.96 | 3.21 | XXX
95864 | TC | A | Muscle test, 4 limbs | 0.00 | 1.77 | 1.79 | NA | NA | 0.10 | 1.87 | 1.89 | NA | NA | XXX
95867 |  | A | Muscle test, head or neck | 0.79 | 0.94 | 1.02 | 0.94 | 1.02 | 0.06 | 1.79 | 1.87 | 1.79 | 1.87 | XXX
95867 | 26 | A | Muscle test, head or neck | 0.79 | 0.36 | 0.43 | 0.36 | 0.43 | 0.03 | 1.18 | 1.25 | 1.18 | 1.25 | XXX
95867 | TC | A | Muscle test, head or neck | 0.00 | 0.58 | 0.59 | NA | NA | 0.03 | 0.61 | 0.62 | NA | NA | XXX
95868 |  | A | Muscle test, head or neck | 1.18 | 1.22 | 1.44 | 1.22 | 1.44 | 0.08 | 2.48 | 2.70 | 2.48 | 2.70 | XXX
95868 | 26 | A | Muscle test, head or neck | 1.18 | 0.53 | 0.74 | 0.53 | 0.74 | 0.04 | 1.75 | 1.96 | 1.75 | 1.96 | XXX
95868 | TC | A | Muscle test, head or neck | 0.00 | 0.69 | 0.70 | NA | NA | 0.04 | 0.73 | 0.74 | NA | NA | XXX
95869 |  | A | Muscle test, thor paraspinal | 0.37 | 0.38 | 0.43 | 0.38 | 0.43 | 0.03 | 0.78 | 0.83 | 0.78 | 0.83 | XXX
95869 | 26 | A | Muscle test, thor paraspinal | 0.37 | 0.17 | 0.22 | 0.17 | 0.22 | 0.01 | 0.55 | 0.60 | 0.55 | 0.60 | XXX
95869 | TC | A | Muscle test, thor paraspinal | 0.00 | 0.21 | 0.21 | NA | NA | 0.02 | 0.23 | 0.23 | NA | NA | XXX
95870 |  | A | Muscle test, nonparaspinal | 0.37 | 0.37 | 0.42 | 0.37 | 0.42 | 0.03 | 0.77 | 0.82 | 0.77 | 0.82 | XXX
95870 | 26 | A | Muscle test, nonparaspinal | 0.37 | 0.16 | 0.21 | 0.16 | 0.21 | 0.01 | 0.54 | 0.59 | 0.54 | 0.59 | XXX
95870 | TC | A | Muscle test, nonparaspinal | 0.00 | 0.21 | 0.21 | NA | NA | 0.02 | 0.23 | 0.23 | NA | NA | XXX
95872 |  | A | Muscle test, one fiber | 1.50 | 1.26 | 1.29 | 1.26 | 1.29 | 0.08 | 2.84 | 2.87 | 2.84 | 2.87 | XXX
95872 | 26 | A | Muscle test, one fiber | 1.50 | 0.66 | 0.68 | 0.66 | 0.68 | 0.04 | 2.20 | 2.22 | 2.20 | 2.22 | XXX
95872 | TC | A | Muscle test, one fiber | 0.00 | 0.60 | 0.61 | NA | NA | 0.04 | 0.64 | 0.65 | NA | NA | XXX
95875 |  | A | Limb exercise test | 1.34 | 1.32 | 1.15 | 1.32 | 1.15 | 0.09 | 2.75 | 2.58 | 2.75 | 2.58 | XXX
95875 | 26 | A | Limb exercise test | 1.34 | 0.56 | 0.48 | 0.56 | 0.48 | 0.04 | 1.94 | 1.86 | 1.94 | 1.86 | XXX
95875 | TC | A | Limb exercise test | 0.00 | 0.76 | 0.67 | NA | NA | 0.05 | 0.81 | 0.72 | NA | NA | XXX
95900 |  | A | Motor nerve conduction test | 0.42 | 0.70 | 0.70 | 0.70 | 0.70 | 0.03 | 1.15 | 1.15 | 1.15 | 1.15 | XXX
95900 | 26 | A | Motor nerve conduction test | 0.42 | 0.19 | 0.24 | 0.19 | 0.24 | 0.01 | 0.62 | 0.67 | 0.62 | 0.67 | XXX
95900 | TC | A | Motor nerve conduction test | 0.00 | 0.51 | 0.46 | NA | NA | 0.02 | 0.53 | 0.48 | NA | NA | XXX
95903 |  | A | Motor nerve conduction test | 0.60 | 0.52 | 0.55 | 0.52 | 0.55 | 0.04 | 1.16 | 1.19 | 1.16 | 1.19 | XXX
95903 | 26 | A | Motor nerve conduction test | 0.60 | 0.27 | 0.30 | 0.27 | 0.30 | 0.02 | 0.89 | 0.92 | 0.89 | 0.92 | XXX
95903 | TC | A | Motor nerve conduction test | 0.00 | 0.25 | 0.25 | NA | NA | 0.02 | 0.27 | 0.27 | NA | NA | XXX
95904 |  | A | Sense/mixed n conduction tst | 0.34 | 0.62 | 0.62 | 0.62 | 0.62 | 0.03 | 0.99 | 0.99 | 0.99 | 0.99 | XXX
95904 | 26 | A | Sense/mixed n conduction tst | 0.34 | 0.15 | 0.21 | 0.15 | 0.21 | 0.01 | 0.50 | 0.56 | 0.50 | 0.56 | XXX
95904 | TC | A | Sense/mixed n conduction tst | 0.00 | 0.47 | 0.41 | NA | NA | 0.02 | 0.49 | 0.43 | NA | NA | XXX
95920 |  | A | Intraop nerve test add-on | 2.11 | 2.26 | 2.42 | 2.26 | 2.42 | 0.20 | 4.57 | 4.73 | 4.57 | 4.73 | ZZZ
95920 | 26 | A | Intraop nerve test add-on | 2.11 | 0.96 | 1.11 | 0.96 | 1.11 | 0.14 | 3.21 | 3.36 | 3.21 | 3.36 | ZZZ
95920 | TC | A | Intraop nerve test add-on | 0.00 | 1.30 | 1.31 | NA | NA | 0.06 | 1.36 | 1.37 | NA | NA | ZZZ
95921 |  | A | Autonomic nerv function test | 0.90 | 0.71 | 0.72 | 0.71 | 0.72 | 0.05 | 1.66 | 1.67 | 1.66 | 1.67 | XXX
95921 | 26 | A | Autonomic nerv function test | 0.90 | 0.34 | 0.34 | 0.34 | 0.34 | 0.03 | 1.27 | 1.27 | 1.27 | 1.27 | XXX
95921 | TC | A | Autonomic nerv function test | 0.00 | 0.37 | 0.38 | NA | NA | 0.02 | 0.39 | 0.40 | NA | NA | XXX
95922 |  | A | Autonomic nerv function test | 0.96 | 0.79 | 0.79 | 0.79 | 0.79 | 0.05 | 1.80 | 1.80 | 1.80 | 1.80 | XXX
95922 | 26 | A | Autonomic nerv function test | 0.96 | 0.42 | 0.41 | 0.42 | 0.41 | 0.03 | 1.41 | 1.40 | 1.41 | 1.40 | XXX
95922 | TC | A | Autonomic nerv function test | 0.00 | 0.37 | 0.38 | NA | NA | 0.02 | 0.39 | 0.40 | NA | NA | XXX
95923 |  | A | Autonomic nerv function test | 0.90 | 2.60 | 2.14 | 2.60 | 2.14 | 0.05 | 3.55 | 3.09 | 3.55 | 3.09 | XXX
95923 | 26 | A | Autonomic nerv function test | 0.90 | 0.39 | 0.38 | 0.39 | 0.38 | 0.03 | 1.32 | 1.31 | 1.32 | 1.31 | XXX
95923 | TC | A | Autonomic nerv function test | 0.00 | 2.21 | 1.76 | NA | NA | 0.02 | 2.23 | 1.78 | NA | NA | XXX
95925 |  | A | Somatosensory testing | 0.54 | 1.13 | 1.26 | 1.13 | 1.26 | 0.07 | 1.74 | 1.87 | 1.74 | 1.87 | XXX
95925 | 26 | A | Somatosensory testing | 0.54 | 0.23 | 0.35 | 0.23 | 0.35 | 0.02 | 0.79 | 0.91 | 0.79 | 0.91 | XXX
95925 | TC | A | Somatosensory testing | 0.00 | 0.90 | 0.91 | NA | NA | 0.05 | 0.95 | 0.96 | NA | NA | XXX
95926 |  | A | Somatosensory testing | 0.54 | 1.14 | 1.26 | 1.14 | 1.26 | 0.07 | 1.75 | 1.87 | 1.75 | 1.87 | XXX
95926 | 26 | A | Somatosensory testing | 0.54 | 0.24 | 0.35 | 0.24 | 0.35 | 0.02 | 0.80 | 0.91 | 0.80 | 0.91 | XXX
95926 | TC | A | Somatosensory testing | 0.00 | 0.90 | 0.91 | NA | NA | 0.05 | 0.95 | 0.96 | NA | NA | XXX
95927 |  | A | Somatosensory testing | 0.54 | 1.16 | 1.28 | 1.16 | 1.28 | 0.08 | 1.78 | 1.90 | 1.78 | 1.90 | XXX
95927 | 26 | A | Somatosensory testing | 0.54 | 0.26 | 0.37 | 0.26 | 0.37 | 0.03 | 0.83 | 0.94 | 0.83 | 0.94 | XXX
95927 | TC | A | Somatosensory testing | 0.00 | 0.90 | 0.91 | NA | NA | 0.05 | 0.95 | 0.96 | NA | NA | XXX
95930 |  | A | Visual evoked potential test | 0.35 | 0.70 | 0.75 | 0.70 | 0.75 | 0.02 | 1.07 | 1.12 | 1.07 | 1.12 | XXX
95930 | 26 | A | Visual evoked potential test | 0.35 | 0.15 | 0.27 | 0.15 | 0.27 | 0.01 | 0.51 | 0.63 | 0.51 | 0.63 | XXX
95930 | TC | A | Visual evoked potential test | 0.00 | 0.55 | 0.48 | NA | NA | 0.01 | 0.56 | 0.49 | NA | NA | XXX
95933 |  | A | Blink reflex test | 0.59 | 1.02 | 1.11 | 1.02 | 1.11 | 0.07 | 1.68 | 1.77 | 1.68 | 1.77 | XXX
95933 | 26 | A | Blink reflex test | 0.59 | 0.24 | 0.32 | 0.24 | 0.32 | 0.02 | 0.85 | 0.93 | 0.85 | 0.93 | XXX
95933 | TC | A | Blink reflex test | 0.00 | 0.78 | 0.79 | NA | NA | 0.05 | 0.83 | 0.84 | NA | NA | XXX
95934 |  | A | H-reflex test | 0.51 | 0.44 | 0.48 | 0.44 | 0.48 | 0.04 | 0.99 | 1.03 | 0.99 | 1.03 | XXX
95934 | 26 | A | H-reflex test | 0.51 | 0.23 | 0.27 | 0.23 | 0.27 | 0.02 | 0.76 | 0.80 | 0.76 | 0.80 | XXX
95934 | TC | A | H-reflex test | 0.00 | 0.21 | 0.21 | NA | NA | 0.02 | 0.23 | 0.23 | NA | NA | XXX
95936 |  | A | H-reflex test | 0.55 | 0.46 | 0.49 | 0.46 | 0.49 | 0.04 | 1.05 | 1.08 | 1.05 | 1.08 | XXX
95936 | 26 | A | H-reflex test | 0.55 | 0.25 | 0.28 | 0.25 | 0.28 | 0.02 | 0.82 | 0.85 | 0.82 | 0.85 | XXX
95936 | TC | A | H-reflex test | 0.00 | 0.21 | 0.21 | NA | NA | 0.02 | 0.23 | 0.23 | NA | NA | XXX
95937 |  | A | Neuromuscular junction test | 0.65 | 0.62 | 0.67 | 0.62 | 0.67 | 0.04 | 1.31 | 1.36 | 1.31 | 1.36 | XXX
95937 | 26 | A | Neuromuscular junction test | 0.65 | 0.28 | 0.33 | 0.28 | 0.33 | 0.02 | 0.95 | 1.00 | 0.95 | 1.00 | XXX
95937 | TC | A | Neuromuscular junction test | 0.00 | 0.34 | 0.34 | NA | NA | 0.02 | 0.36 | 0.36 | NA | NA | XXX
95950 |  | A | Ambulatory eeg monitoring | 1.51 | 3.79 | 4.81 | 3.79 | 4.81 | 0.44 | 5.74 | 6.76 | 5.74 | 6.76 | XXX
95950 | 26 | A | Ambulatory eeg monitoring | 1.51 | 0.67 | 0.83 | 0.67 | 0.83 | 0.08 | 2.26 | 2.42 | 2.26 | 2.42 | XXX
95950 | TC | A | Ambulatory eeg monitoring | 0.00 | 3.12 | 3.98 | NA | NA | 0.36 | 3.48 | 4.34 | NA | NA | XXX
95951 |  | A | EEG monitoring/videorecord | 6.00 | 23.52 | 20.04 | 23.52 | 20.04 | 0.58 | 30.10 | 26.62 | 30.10 | 26.62 | XXX
95951 | 26 | A | EEG monitoring/videorecord | 6.00 | 2.61 | 2.37 | 2.61 | 2.37 | 0.20 | 8.81 | 8.57 | 8.81 | 8.57 | XXX
95951 | TC | A | EEG monitoring/videorecord | 0.00 | 20.91 | 17.67 | NA | NA | 0.38 | 21.29 | 18.05 | NA | NA | XXX
95953 |  | A | EEG monitoring/computer | 3.08 | 7.61 | 7.68 | 7.61 | 7.68 | 0.46 | 11.15 | 11.22 | 11.15 | 11.22 | XXX
95953 | 26 | A | EEG monitoring/computer | 3.08 | 1.33 | 1.33 | 1.33 | 1.33 | 0.10 | 4.51 | 4.51 | 4.51 | 4.51 | XXX
95953 | TC | A | EEG monitoring/computer | 0.00 | 6.28 | 6.35 | NA | NA | 0.36 | 6.64 | 6.71 | NA | NA | XXX
95954 |  | A | EEG monitoring/giving drugs | 2.45 | 4.33 | 3.88 | 4.33 | 3.88 | 0.15 | 6.93 | 6.48 | 6.93 | 6.48 | XXX
95954 | 26 | A | EEG monitoring/giving drugs | 2.45 | 1.06 | 1.30 | 1.06 | 1.30 | 0.10 | 3.61 | 3.85 | 3.61 | 3.85 | XXX
95954 | TC | A | EEG monitoring/giving drugs | 0.00 | 3.27 | 2.58 | NA | NA | 0.05 | 3.32 | 2.63 | NA | NA | XXX
95955 |  | A | EEG during surgery | 1.01 | 2.30 | 2.51 | 2.30 | 2.51 | 0.19 | 3.50 | 3.71 | 3.50 | 3.71 | XXX
95955 | 26 | A | EEG during surgery | 1.01 | 0.35 | 0.54 | 0.35 | 0.54 | 0.05 | 1.41 | 1.60 | 1.41 | 1.60 | XXX
95955 | TC | A | EEG during surgery | 0.00 | 1.95 | 1.97 | NA | NA | 0.14 | 2.09 | 2.11 | NA | NA | XXX
95956 |  | A | Eeg monitoring, cable/radio | 3.08 | 31.25 | 25.48 | 31.25 | 25.48 | 0.47 | 34.80 | 29.03 | 34.80 | 29.03 | XXX
95956 | 26 | A | Eeg monitoring, cable/radio | 3.08 | 1.34 | 1.41 | 1.34 | 1.41 | 0.11 | 4.53 | 4.60 | 4.53 | 4.60 | XXX
95956 | TC | A | Eeg monitoring, cable/radio | 0.00 | 29.91 | 24.07 | NA | NA | 0.36 | 30.27 | 24.43 | NA | NA | XXX
95957 |  | A | EEG digital analysis | 1.98 | 2.56 | 2.53 | 2.56 | 2.53 | 0.17 | 4.71 | 4.68 | 4.71 | 4.68 | XXX
95957 | 26 | A | EEG digital analysis | 1.98 | 0.87 | 0.82 | 0.87 | 0.82 | 0.07 | 2.92 | 2.87 | 2.92 | 2.87 | XXX
95957 | TC | A | EEG digital analysis | 0.00 | 1.69 | 1.71 | NA | NA | 0.10 | 1.79 | 1.81 | NA | NA | XXX
95958 |  | A | EEG monitoring/function test | 4.25 | 3.53 | 3.98 | 3.53 | 3.98 | 0.29 | 8.07 | 8.52 | 8.07 | 8.52 | XXX
95958 | 26 | A | EEG monitoring/function test | 4.25 | 1.80 | 2.23 | 1.80 | 2.23 | 0.18 | 6.23 | 6.66 | 6.23 | 6.66 | XXX
95958 | TC | A | EEG monitoring/function test | 0.00 | 1.73 | 1.75 | NA | NA | 0.11 | 1.84 | 1.86 | NA | NA | XXX
95961 |  | A | Electrode stimulation, brain | 2.97 | 2.63 | 2.70 | 2.63 | 2.70 | 0.24 | 5.84 | 5.91 | 5.84 | 5.91 | XXX
95961 | 26 | A | Electrode stimulation, brain | 2.97 | 1.33 | 1.39 | 1.33 | 1.39 | 0.18 | 4.48 | 4.54 | 4.48 | 4.54 | XXX
95961 | TC | A | Electrode stimulation, brain | 0.00 | 1.30 | 1.31 | NA | NA | 0.06 | 1.36 | 1.37 | NA | NA | XXX
95962 |  | A | Electrode stim, brain add-on | 3.21 | 2.71 | 2.76 | 2.71 | 2.76 | 0.23 | 6.15 | 6.20 | 6.15 | 6.20 | ZZZ
95962 | 26 | A | Electrode stim, brain add-on | 3.21 | 1.41 | 1.45 | 1.41 | 1.45 | 0.17 | 4.79 | 4.83 | 4.79 | 4.83 | ZZZ
95962 | TC | A | Electrode stim, brain add-on | 0.00 | 1.30 | 1.31 | NA | NA | 0.06 | 1.36 | 1.37 | NA | NA | ZZZ
95970 |  | A | Analyze neurostim, no prog | 0.45 | 0.17 | 0.17 | 0.14 | 0.14 | 0.03 | 0.65 | 0.65 | 0.62 | 0.62 | XXX
95971 |  | A | Analyze neurostim, simple | 0.78 | 0.29 | 0.29 | 0.23 | 0.23 | 0.06 | 1.13 | 1.13 | 1.07 | 1.07 | XXX
95972 |  | A | Analyze neurostim, complex | 1.50 | 0.63 | 0.63 | 0.55 | 0.55 | 0.17 | 2.30 | 2.30 | 2.22 | 2.22 | XXX
95973 |  | A | Analyze neurostim, complex | 0.92 | 0.40 | 0.40 | 0.37 | 0.37 | 0.07 | 1.39 | 1.39 | 1.36 | 1.36 | ZZZ
95974 |  | A | Cranial neurostim, complex | 3.00 | 1.32 | 1.32 | 1.32 | 1.32 | 0.15 | 4.47 | 4.47 | 4.47 | 4.47 | XXX
95975 |  | A | Cranial neurostim, complex | 1.70 | 0.74 | 0.74 | 0.73 | 0.73 | 0.07 | 2.51 | 2.51 | 2.50 | 2.50 | ZZZ
95999 |  | C | Neurological procedure | 0.00 | 0.00 | 0.00 | 0.00 | 0.00 | 0.00 | 0.00 | 0.00 | 0.00 | 0.00 | XXX
96100 |  | A | Psychological testing | 0.00 | 1.75 | 1.77 | 1.75 | 1.77 | 0.15 | 1.90 | 1.92 | 1.90 | 1.92 | XXX
96105 |  | A | Assessment of aphasia | 0.00 | 1.75 | 1.77 | 1.75 | 1.77 | 0.15 | 1.90 | 1.92 | 1.90 | 1.92 | XXX
96110 |  | C | Developmental test, lim | 0.00 | 0.00 | 0.00 | 0.00 | 0.00 | 0.00 | 0.00 | 0.00 | 0.00 | 0.00 | XXX
96111 |  | A | Developmental test, extend | 0.00 | 1.75 | 1.77 | 1.75 | 1.77 | 0.15 | 1.90 | 1.92 | 1.90 | 1.92 | XXX
96115 |  | A | Neurobehavior status exam | 0.00 | 1.75 | 1.77 | 1.75 | 1.77 | 0.15 | 1.90 | 1.92 | 1.90 | 1.92 | XXX
96117 |  | A | Neuropsych test battery | 0.00 | 1.75 | 1.77 | 1.75 | 1.77 | 0.15 | 1.90 | 1.92 | 1.90 | 1.92 | XXX
96400 |  | A | Chemotherapy, sc/im | 0.00 | 0.13 | 0.13 | 0.13 | 0.13 | 0.01 | 0.14 | 0.14 | 0.14 | 0.14 | XXX
96405 |  | A | Intralesional chemo admin | 0.52 | 1.82 | 1.47 | 0.25 | 0.24 | 0.02 | 2.36 | 2.01 | 0.79 | 0.78 | 000
96406 |  | A | Intralesional chemo admin | 0.80 | 2.53 | 2.05 | 0.31 | 0.31 | 0.02 | 3.35 | 2.87 | 1.13 | 1.13 | 000
96408 |  | A | Chemotherapy, push technique | 0.00 | 0.96 | 0.97 | 0.96 | 0.97 | 0.05 | 1.01 | 1.02 | 1.01 | 1.02 | XXX
96410 |  | A | Chemotherapy,infusion method | 0.00 | 1.54 | 1.56 | 1.54 | 1.56 | 0.07 | 1.61 | 1.63 | 1.61 | 1.63 | XXX
96412 |  | A | Chemo, infuse method add-on | 0.00 | 1.14 | 1.15 | 1.14 | 1.15 | 0.06 | 1.20 | 1.21 | 1.20 | 1.21 | ZZZ
96414 |  | A | Chemo, infuse method add-on | 0.00 | 1.33 | 1.34 | 1.33 | 1.34 | 0.07 | 1.40 | 1.41 | 1.40 | 1.41 | XXX
96420 |  | A | Chemotherapy, push technique | 0.00 | 1.24 | 1.25 | 1.24 | 1.25 | 0.07 | 1.31 | 1.32 | 1.31 | 1.32 | XXX
96422 |  | A | Chemotherapy,infusion method | 0.00 | 1.22 | 1.23 | 1.22 | 1.23 | 0.07 | 1.29 | 1.30 | 1.29 | 1.30 | XXX
96423 |  | A | Chemo, infuse method add-on | 0.00 | 0.48 | 0.49 | 0.48 | 0.49 | 0.02 | 0.50 | 0.51 | 0.50 | 0.51 | ZZZ
96425 |  | A | Chemotherapy,infusion method | 0.00 | 1.42 | 1.44 | 1.42 | 1.44 | 0.07 | 1.49 | 1.51 | 1.49 | 1.51 | XXX
96440 |  | A | Chemotherapy, intracavitary | 2.37 | 7.97 | 6.20 | 1.12 | 1.06 | 0.12 | 10.46 | 8.69 | 3.61 | 3.55 | 000
96445 |  | A | Chemotherapy, intracavitary | 2.20 | 8.33 | 6.51 | 1.04 | 0.91 | 0.07 | 10.60 | 8.78 | 3.31 | 3.18 | 000
96450 |  | A | Chemotherapy, into CNS | 1.89 | 6.73 | 5.28 | 0.90 | 0.79 | 0.06 | 8.68 | 7.23 | 2.85 | 2.74 | 000
96520 |  | A | Pump refilling, maintenance | 0.00 | 0.88 | 0.89 | 0.88 | 0.89 | 0.05 | 0.93 | 0.94 | 0.93 | 0.94 | XXX
96530 |  | A | Pump refilling, maintenance | 0.00 | 1.06 | 1.07 | 1.06 | 1.07 | 0.05 | 1.11 | 1.12 | 1.11 | 1.12 | XXX
96542 |  | A | Chemotherapy injection | 1.42 | 4.02 | 3.31 | 0.57 | 0.58 | 0.05 | 5.49 | 4.78 | 2.04 | 2.05 | XXX
96545 |  | B | Provide chemotherapy agent | 0.00 | 0.00 | 0.00 | 0.00 | 0.00 | 0.00 | 0.00 | 0.00 | 0.00 | 0.00 | XXX
96549 |  | C | Chemotherapy, unspecified | 0.00 | 0.00 | 0.00 | 0.00 | 0.00 | 0.00 | 0.00 | 0.00 | 0.00 | 0.00 | XXX
96570 |  | A | Photodynamic tx, 30 min | 1.10 | 0.44 | 0.44 | 0.44 | 0.44 | 0.04 | 1.58 | 1.58 | 1.58 | 1.58 | ZZZ
96571 |  | A | Photodynamic tx, addl 15 min | 0.55 | 0.22 | 0.22 | 0.22 | 0.22 | 0.02 | 0.79 | 0.79 | 0.79 | 0.79 | ZZZ
96900 |  | A | Ultraviolet light therapy | 0.00 | 0.39 | 0.40 | 0.39 | 0.40 | 0.02 | 0.41 | 0.42 | 0.41 | 0.42 | XXX
96902 |  | B | Trichogram | +0.41 | 0.25 | 0.27 | 0.16 | 0.20 | 0.01 | 0.67 | 0.69 | 0.58 | 0.62 | XXX
96910 |  | A | Photochemotherapy with UV-B | 0.00 | 0.58 | 0.59 | 0.58 | 0.59 | 0.03 | 0.61 | 0.62 | 0.61 | 0.62 | XXX
96912 |  | A | Photochemotherapy with UV-A | 0.00 | 0.65 | 0.66 | 0.65 | 0.66 | 0.04 | 0.69 | 0.70 | 0.69 | 0.70 | XXX
96913 |  | A | Photochemotherapy, UV-A or B | 0.00 | 1.35 | 1.36 | 1.35 | 1.36 | 0.08 | 1.43 | 1.44 | 1.43 | 1.44 | XXX
96999 |  | C | Dermatological procedure | 0.00 | 0.00 | 0.00 | 0.00 | 0.00 | 0.00 | 0.00 | 0.00 | 0.00 | 0.00 | XXX
97001 |  | A | Pt evaluation | 1.20 | 0.56 | 0.52 | 0.48 | 0.46 | 0.10 | 1.86 | 1.82 | 1.78 | 1.76 | XXX
97002 |  | A | Pt re-evaluation | 0.60 | 0.35 | 0.27 | 0.26 | 0.21 | 0.04 | 0.99 | 0.91 | 0.90 | 0.85 | XXX
97003 |  | A | Ot evaluation | 1.20 | 0.67 | 0.60 | 0.32 | 0.34 | 0.05 | 1.92 | 1.85 | 1.57 | 1.59 | XXX
97004 |  | A | Ot re-evaluation | 0.60 | 0.43 | 0.33 | 0.13 | 0.11 | 0.02 | 1.05 | 0.95 | 0.75 | 0.73 | XXX
97010 |  | B | Hot or cold packs therapy | +0.06 | 0.24 | 0.24 | 0.01 | 0.07 | 0.01 | 0.31 | 0.31 | 0.08 | 0.14 | XXX
97012 |  | A | Mechanical traction therapy | 0.25 | 0.27 | 0.26 | 0.05 | 0.09 | 0.01 | 0.53 | 0.52 | 0.31 | 0.35 | XXX
97014 |  | A | Electric stimulation therapy | 0.18 | 0.25 | 0.24 | 0.03 | 0.08 | 0.01 | 0.44 | 0.43 | 0.22 | 0.27 | XXX
97016 |  | A | Vasopneumatic device therapy | 0.18 | 0.25 | 0.26 | 0.03 | 0.09 | 0.01 | 0.44 | 0.45 | 0.22 | 0.28 | XXX
97018 |  | A | Paraffin bath therapy | 0.06 | 0.22 | 0.23 | 0.01 | 0.07 | 0.01 | 0.29 | 0.30 | 0.08 | 0.14 | XXX
97020 |  | A | Microwave therapy | 0.06 | 0.23 | 0.23 | 0.01 | 0.06 | 0.01 | 0.30 | 0.30 | 0.08 | 0.13 | XXX
97022 |  | A | Whirlpool therapy | 0.17 | 0.43 | 0.38 | 0.03 | 0.08 | 0.01 | 0.61 | 0.56 | 0.21 | 0.26 | XXX
97024 |  | A | Diathermy treatment | 0.06 | 0.24 | 0.24 | 0.01 | 0.07 | 0.01 | 0.31 | 0.31 | 0.08 | 0.14 | XXX
97026 |  | A | Infrared therapy | 0.06 | 0.22 | 0.22 | 0.01 | 0.06 | 0.01 | 0.29 | 0.29 | 0.08 | 0.13 | XXX
97028 |  | A | Ultraviolet therapy | 0.08 | 0.22 | 0.22 | 0.01 | 0.06 | 0.01 | 0.31 | 0.31 | 0.10 | 0.15 | XXX
97032 |  | A | Electrical stimulation | 0.25 | 0.28 | 0.25 | 0.05 | 0.08 | 0.01 | 0.54 | 0.51 | 0.31 | 0.34 | XXX
97033 |  | A | Electric current therapy | 0.26 | 0.31 | 0.27 | 0.05 | 0.08 | 0.02 | 0.59 | 0.55 | 0.33 | 0.36 | XXX
97034 |  | A | Contrast bath therapy | 0.21 | 0.27 | 0.23 | 0.04 | 0.06 | 0.01 | 0.49 | 0.45 | 0.26 | 0.28 | XXX
97035 |  | A | Ultrasound therapy | 0.21 | 0.17 | 0.16 | 0.04 | 0.06 | 0.01 | 0.39 | 0.38 | 0.26 | 0.28 | XXX
97036 |  | A | Hydrotherapy | 0.28 | 0.36 | 0.33 | 0.05 | 0.10 | 0.01 | 0.65 | 0.62 | 0.34 | 0.39 | XXX
97039 |  | A | Physical therapy treatment | 0.20 | 0.27 | 0.27 | 0.04 | 0.10 | 0.01 | 0.48 | 0.48 | 0.25 | 0.31 | XXX
97110 |  | A | Therapeutic exercises | 0.45 | 0.19 | 0.18 | 0.08 | 0.10 | 0.03 | 0.67 | 0.66 | 0.56 | 0.58 | XXX
97112 |  | A | Neuromuscular reeducation | 0.45 | 0.30 | 0.26 | 0.08 | 0.10 | 0.02 | 0.77 | 0.73 | 0.55 | 0.57 | XXX
97113 |  | A | Aquatic therapy/exercises | 0.44 | 0.32 | 0.30 | 0.08 | 0.12 | 0.03 | 0.79 | 0.77 | 0.55 | 0.59 | XXX
97116 |  | A | Gait training therapy | 0.40 | 0.30 | 0.26 | 0.07 | 0.08 | 0.02 | 0.72 | 0.68 | 0.49 | 0.50 | XXX
97124 |  | A | Massage therapy | 0.35 | 0.28 | 0.24 | 0.06 | 0.08 | 0.01 | 0.64 | 0.60 | 0.42 | 0.44 | XXX
97139 |  | A | Physical medicine procedure | 0.21 | 0.25 | 0.23 | 0.04 | 0.07 | 0.01 | 0.47 | 0.45 | 0.26 | 0.29 | XXX
97140 |  | A | Manual therapy | 0.43 | 0.31 | 0.31 | 0.08 | 0.08 | 0.02 | 0.76 | 0.76 | 0.53 | 0.53 | XXX
97150 |  | A | Group therapeutic procedures | 0.27 | 0.27 | 0.26 | 0.05 | 0.09 | 0.02 | 0.56 | 0.55 | 0.34 | 0.38 | XXX
97504 |  | A | Orthotic training | 0.45 | 0.30 | 0.26 | 0.08 | 0.10 | 0.03 | 0.78 | 0.74 | 0.56 | 0.58 | XXX
97520 |  | A | Prosthetic training | 0.45 | 0.30 | 0.27 | 0.08 | 0.10 | 0.02 | 0.77 | 0.74 | 0.55 | 0.57 | XXX
97530 |  | A | Therapeutic activities | 0.44 | 0.18 | 0.18 | 0.08 | 0.11 | 0.02 | 0.64 | 0.64 | 0.54 | 0.57 | XXX
97532 |  | A | Cognitive skills development | 0.44 | 0.23 | 0.23 | 0.08 | 0.08 | 0.01 | 0.68 | 0.68 | 0.53 | 0.53 | XXX
97533 |  | A | Sensory integration | 0.44 | 0.29 | 0.29 | 0.08 | 0.08 | 0.01 | 0.74 | 0.74 | 0.53 | 0.53 | XXX
97535 |  | A | Self care mngment training | 0.45 | 0.30 | 0.27 | 0.08 | 0.11 | 0.02 | 0.77 | 0.74 | 0.55 | 0.58 | XXX
97537 |  | A | Community/work reintegration | 0.45 | 0.30 | 0.27 | 0.08 | 0.11 | 0.01 | 0.76 | 0.73 | 0.54 | 0.57 | XXX
97542 |  | A | Wheelchair mngment training | 0.25 | 0.26 | 0.24 | 0.05 | 0.08 | 0.01 | 0.52 | 0.50 | 0.31 | 0.34 | XXX
97545 |  | R | Work hardening | 0.00 | 0.00 | 0.00 | 0.00 | 0.00 | 0.00 | 0.00 | 0.00 | 0.00 | 0.00 | XXX
97546 |  | R | Work hardening add-on | 0.00 | 0.00 | 0.00 | 0.00 | 0.00 | 0.00 | 0.00 | 0.00 | 0.00 | 0.00 | ZZZ
97601 |  | A | Wound care selective | 0.50 | 0.49 | 0.49 | 0.09 | 0.09 | 0.04 | 1.03 | 1.03 | 0.63 | 0.63 | XXX
97602 |  | B | Wound care non-selective | 0.00 | 0.00 | 0.00 | 0.00 | 0.00 | 0.00 | 0.00 | 0.00 | 0.00 | 0.00 | XXX
97703 |  | A | Prosthetic checkout | 0.25 | 0.15 | 0.16 | 0.05 | 0.09 | 0.02 | 0.42 | 0.43 | 0.32 | 0.36 | XXX
97750 |  | A | Physical performance test | 0.45 | 0.24 | 0.25 | 0.08 | 0.13 | 0.02 | 0.71 | 0.72 | 0.55 | 0.60 | XXX
97770 |  | D | Cognitive skills development | 0.00 | 0.00 | 0.00 | 0.00 | 0.00 | 0.00 | 0.00 | 0.00 | 0.00 | 0.00 | XXX
97780 |  | N | Acupuncture w/o stimul | 0.00 | 0.00 | 0.00 | 0.00 | 0.00 | 0.00 | 0.00 | 0.00 | 0.00 | 0.00 | XXX
97781 |  | N | Acupuncture w/stimul | 0.00 | 0.00 | 0.00 | 0.00 | 0.00 | 0.00 | 0.00 | 0.00 | 0.00 | 0.00 | XXX
97799 |  | C | Physical medicine procedure | 0.00 | 0.00 | 0.00 | 0.00 | 0.00 | 0.00 | 0.00 | 0.00 | 0.00 | 0.00 | XXX
97802 |  | N | Medical nutrition, indiv, in | 0.00 | 0.00 | 0.00 | 0.00 | 0.00 | 0.00 | 0.00 | 0.00 | 0.00 | 0.00 | XXX
97803 |  | N | Med nutrition, indiv, subseq | 0.00 | 0.00 | 0.00 | 0.00 | 0.00 | 0.00 | 0.00 | 0.00 | 0.00 | 0.00 | XXX
97804 |  | N | Medical nutrition, group | 0.00 | 0.00 | 0.00 | 0.00 | 0.00 | 0.00 | 0.00 | 0.00 | 0.00 | 0.00 | XXX
98925 |  | A | Osteopathic manipulation | 0.45 | 0.39 | 0.36 | 0.15 | 0.18 | 0.01 | 0.85 | 0.82 | 0.61 | 0.64 | 000
98926 |  | A | Osteopathic manipulation | 0.65 | 0.45 | 0.45 | 0.26 | 0.30 | 0.02 | 1.12 | 1.12 | 0.93 | 0.97 | 000
98927 |  | A | Osteopathic manipulation | 0.87 | 0.52 | 0.49 | 0.31 | 0.34 | 0.03 | 1.42 | 1.39 | 1.21 | 1.24 | 000
98928 |  | A | Osteopathic manipulation | 1.03 | 0.60 | 0.57 | 0.36 | 0.39 | 0.03 | 1.66 | 1.63 | 1.42 | 1.45 | 000
98929 |  | A | Osteopathic manipulation | 1.19 | 0.66 | 0.60 | 0.38 | 0.39 | 0.04 | 1.89 | 1.83 | 1.61 | 1.62 | 000
98940 |  | A | Chiropractic manipulation | 0.45 | 0.25 | 0.27 | 0.13 | 0.14 | 0.01 | 0.71 | 0.73 | 0.59 | 0.60 | 000
98941 |  | A | Chiropractic manipulation | 0.65 | 0.31 | 0.31 | 0.18 | 0.18 | 0.02 | 0.98 | 0.98 | 0.85 | 0.85 | 000
98942 |  | A | Chiropractic manipulation | 0.87 | 0.37 | 0.36 | 0.25 | 0.23 | 0.03 | 1.27 | 1.26 | 1.15 | 1.13 | 000
98943 |  | N | Chiropractic manipulation | +0.40 | 0.36 | 0.35 | 0.16 | 0.20 | 0.01 | 0.77 | 0.76 | 0.57 | 0.61 | XXX
99000 |  | B | Specimen handling | 0.00 | 0.00 | 0.00 | 0.00 | 0.00 | 0.00 | 0.00 | 0.00 | 0.00 | 0.00 | XXX
99001 |  | B | Specimen handling | 0.00 | 0.00 | 0.00 | 0.00 | 0.00 | 0.00 | 0.00 | 0.00 | 0.00 | 0.00 | XXX
99002 |  | B | Device handling | 0.00 | 0.00 | 0.00 | 0.00 | 0.00 | 0.00 | 0.00 | 0.00 | 0.00 | 0.00 | XXX
99024 |  | B | Postop follow-up visit | 0.00 | 0.00 | 0.00 | 0.00 | 0.00 | 0.00 | 0.00 | 0.00 | 0.00 | 0.00 | XXX
99025 |  | B | Initial surgical evaluation | 0.00 | 0.00 | 0.00 | 0.00 | 0.00 | 0.00 | 0.00 | 0.00 | 0.00 | 0.00 | XXX
99050 |  | B | Medical services after hrs | 0.00 | 0.00 | 0.00 | 0.00 | 0.00 | 0.00 | 0.00 | 0.00 | 0.00 | 0.00 | XXX
99052 |  | B | Medical services at night | 0.00 | 0.00 | 0.00 | 0.00 | 0.00 | 0.00 | 0.00 | 0.00 | 0.00 | 0.00 | XXX
99054 |  | B | Medical servcs, unusual hrs | 0.00 | 0.00 | 0.00 | 0.00 | 0.00 | 0.00 | 0.00 | 0.00 | 0.00 | 0.00 | XXX
99056 |  | B | Non-office medical services | 0.00 | 0.00 | 0.00 | 0.00 | 0.00 | 0.00 | 0.00 | 0.00 | 0.00 | 0.00 | XXX
99058 |  | B | Office emergency care | 0.00 | 0.00 | 0.00 | 0.00 | 0.00 | 0.00 | 0.00 | 0.00 | 0.00 | 0.00 | XXX
99070 |  | B | Special supplies | 0.00 | 0.00 | 0.00 | 0.00 | 0.00 | 0.00 | 0.00 | 0.00 | 0.00 | 0.00 | XXX
99071 |  | B | Patient education materials | 0.00 | 0.00 | 0.00 | 0.00 | 0.00 | 0.00 | 0.00 | 0.00 | 0.00 | 0.00 | XXX
99075 |  | N | Medical testimony | 0.00 | 0.00 | 0.00 | 0.00 | 0.00 | 0.00 | 0.00 | 0.00 | 0.00 | 0.00 | XXX
99078 |  | B | Group health education | 0.00 | 0.00 | 0.00 | 0.00 | 0.00 | 0.00 | 0.00 | 0.00 | 0.00 | 0.00 | XXX
99080 |  | B | Special reports or forms | 0.00 | 0.00 | 0.00 | 0.00 | 0.00 | 0.00 | 0.00 | 0.00 | 0.00 | 0.00 | XXX
99082 |  | C | Unusual physician travel | 0.00 | 0.00 | 0.00 | 0.00 | 0.00 | 0.00 | 0.00 | 0.00 | 0.00 | 0.00 | XXX
99090 |  | B | Computer data analysis | 0.00 | 0.00 | 0.00 | 0.00 | 0.00 | 0.00 | 0.00 | 0.00 | 0.00 | 0.00 | XXX
99100 |  | B | Special anesthesia service | 0.00 | 0.00 | 0.00 | 0.00 | 0.00 | 0.00 | 0.00 | 0.00 | 0.00 | 0.00 | ZZZ
99116 |  | B | Anesthesia with hypothermia | 0.00 | 0.00 | 0.00 | 0.00 | 0.00 | 0.00 | 0.00 | 0.00 | 0.00 | 0.00 | ZZZ
99135 |  | B | Special anesthesia procedure | 0.00 | 0.00 | 0.00 | 0.00 | 0.00 | 0.00 | 0.00 | 0.00 | 0.00 | 0.00 | ZZZ
99140 |  | B | Emergency anesthesia | 0.00 | 0.00 | 0.00 | 0.00 | 0.00 | 0.00 | 0.00 | 0.00 | 0.00 | 0.00 | ZZZ
99141 |  | B | Sedation, iv/im or inhalant | +0.80 | 2.00 | 1.73 | 0.39 | 0.52 | 0.04 | 2.84 | 2.57 | 1.23 | 1.36 | XXX
99142 |  | B | Sedation, oral/rectal/nasal | +0.60 | 1.17 | 1.05 | 0.31 | 0.40 | 0.03 | 1.80 | 1.68 | 0.94 | 1.03 | XXX
99170 |  | A | Anogenital exam, child | 1.75 | 1.87 | 1.87 | 0.70 | 0.70 | 0.07 | 3.69 | 3.69 | 2.52 | 2.52 | 000
99172 |  | N | Ocular function screen | 0.00 | 0.00 | 0.00 | 0.00 | 0.00 | 0.00 | 0.00 | 0.00 | 0.00 | 0.00 | XXX
99173 |  | N | Visual acuity screen | 0.00 | 0.00 | 0.00 | 0.00 | 0.00 | 0.00 | 0.00 | 0.00 | 0.00 | 0.00 | XXX
99175 |  | A | Induction of vomiting | 0.00 | 1.38 | 1.40 | 1.38 | 1.40 | 0.08 | 1.46 | 1.48 | 1.46 | 1.48 | XXX
99183 |  | A | Hyperbaric oxygen therapy | 2.34 | NA | NA | 0.76 | 1.02 | 0.12 | NA | NA | 3.22 | 3.48 | XXX
99185 |  | A | Regional hypothermia | 0.00 | 0.63 | 0.64 | 0.63 | 0.64 | 0.03 | 0.66 | 0.67 | 0.66 | 0.67 | XXX
99186 |  | A | Total body hypothermia | 0.00 | 1.77 | 1.79 | 1.77 | 1.79 | 0.37 | 2.14 | 2.16 | 2.14 | 2.16 | XXX
99190 |  | X | Special pump services | 0.00 | 0.00 | 0.00 | 0.00 | 0.00 | 0.00 | 0.00 | 0.00 | 0.00 | 0.00 | XXX
99191 |  | X | Special pump services | 0.00 | 0.00 | 0.00 | 0.00 | 0.00 | 0.00 | 0.00 | 0.00 | 0.00 | 0.00 | XXX
99192 |  | X | Special pump services | 0.00 | 0.00 | 0.00 | 0.00 | 0.00 | 0.00 | 0.00 | 0.00 | 0.00 | 0.00 | XXX
99195 |  | A | Phlebotomy | 0.00 | 0.44 | 0.45 | 0.44 | 0.45 | 0.02 | 0.46 | 0.47 | 0.46 | 0.47 | XXX
99199 |  | C | Special service/proc/report | 0.00 | 0.00 | 0.00 | 0.00 | 0.00 | 0.00 | 0.00 | 0.00 | 0.00 | 0.00 | XXX
99201 |  | A | Office/outpatient visit, new | 0.45 | 0.46 | 0.46 | 0.16 | 0.17 | 0.02 | 0.93 | 0.93 | 0.63 | 0.64 | XXX
99202 |  | A | Office/outpatient visit, new | 0.88 | 0.74 | 0.69 | 0.33 | 0.31 | 0.05 | 1.67 | 1.62 | 1.26 | 1.24 | XXX
99203 |  | A | Office/outpatient visit, new | 1.34 | 1.08 | 0.97 | 0.50 | 0.45 | 0.08 | 2.50 | 2.39 | 1.92 | 1.87 | XXX
99204 |  | A | Office/outpatient visit, new | 2.00 | 1.50 | 1.37 | 0.74 | 0.66 | 0.10 | 3.60 | 3.47 | 2.84 | 2.76 | XXX
99205 |  | A | Office/outpatient visit, new | 2.67 | 1.77 | 1.59 | 0.97 | 0.84 | 0.12 | 4.56 | 4.38 | 3.76 | 3.63 | XXX
99211 |  | A | Office/outpatient visit, est | 0.17 | 0.37 | 0.34 | 0.06 | 0.07 | 0.01 | 0.55 | 0.52 | 0.24 | 0.25 | XXX
99212 |  | A | Office/outpatient visit, est | 0.45 | 0.51 | 0.47 | 0.17 | 0.17 | 0.02 | 0.98 | 0.94 | 0.64 | 0.64 | XXX
99213 |  | A | Office/outpatient visit, est | 0.67 | 0.67 | 0.62 | 0.24 | 0.23 | 0.03 | 1.37 | 1.32 | 0.94 | 0.93 | XXX
99214 |  | A | Office/outpatient visit, est | 1.10 | 1.02 | 0.92 | 0.40 | 0.37 | 0.04 | 2.16 | 2.06 | 1.54 | 1.51 | XXX
99215 |  | A | Office/outpatient visit, est | 1.77 | 1.32 | 1.22 | 0.65 | 0.59 | 0.07 | 3.16 | 3.06 | 2.49 | 2.43 | XXX
99217 |  | A | Observation care discharge | 1.28 | NA | NA | 0.45 | 0.48 | 0.05 | NA | NA | 1.78 | 1.81 | XXX
99218 |  | A | Observation care | 1.28 | NA | NA | 0.45 | 0.52 | 0.05 | NA | NA | 1.78 | 1.85 | XXX
99219 |  | A | Observation care | 2.14 | NA | NA | 0.74 | 0.84 | 0.08 | NA | NA | 2.96 | 3.06 | XXX
99220 |  | A | Observation care | 2.99 | NA | NA | 1.05 | 1.10 | 0.11 | NA | NA | 4.15 | 4.20 | XXX
99221 |  | A | Initial hospital care | 1.28 | NA | NA | 0.47 | 0.54 | 0.05 | NA | NA | 1.80 | 1.87 | XXX
99222 |  | A | Initial hospital care | 2.14 | NA | NA | 0.76 | 0.85 | 0.08 | NA | NA | 2.98 | 3.07 | XXX
99223 |  | A | Initial hospital care | 2.99 | NA | NA | 1.07 | 1.11 | 0.10 | NA | NA | 4.16 | 4.20 | XXX
99231 |  | A | Subsequent hospital care | 0.64 | NA | NA | 0.24 | 0.28 | 0.02 | NA | NA | 0.90 | 0.94 | XXX
99232 |  | A | Subsequent hospital care | 1.06 | NA | NA | 0.38 | 0.41 | 0.03 | NA | NA | 1.47 | 1.50 | XXX
99233 |  | A | Subsequent hospital care | 1.51 | NA | NA | 0.54 | 0.57 | 0.05 | NA | NA | 2.10 | 2.13 | XXX
99234 |  | A | Observ/hosp same date | 1.95 | NA | NA | 0.70 | 0.71 | 0.11 | NA | NA | 2.76 | 2.77 | XXX
99235 |  | A | Observ/hosp same date | 2.81 | NA | NA | 0.03 | 1.03 | 0.13 | NA | NA | 3.93 | 4.74 | XXX
99236 |  | A | Observ/hosp same date | 3.66 | NA | NA | 1.25 | 1.25 | 0.17 | NA | NA | 5.08 | 5.85 | XXX
99238 |  | A | Hospital discharge day | 1.28 | NA | NA | 0.45 | 0.48 | 0.04 | NA | NA | 1.77 | 1.80 | XXX
99239 |  | A | Hospital discharge day | 1.75 | NA | NA | 0.62 | 0.60 | 0.05 | NA | NA | 2.42 | 2.40 | XXX
99241 |  | A | Office consultation | 0.64 | 0.60 | 0.62 | 0.23 | 0.26 | 0.04 | 1.28 | 1.30 | 0.91 | 0.94 | XXX
99242 |  | A | Office consultation | 1.29 | 1.00 | 0.96 | 0.49 | 0.47 | 0.09 | 2.38 | 2.34 | 1.87 | 1.85 | XXX
99243 |  | A | Office consultation | 1.72 | 1.34 | 1.27 | 0.67 | 0.64 | 0.10 | 3.16 | 3.09 | 2.49 | 2.46 | XXX
99244 |  | A | Office consultation | 2.58 | 1.78 | 1.67 | 0.97 | 0.90 | 0.13 | 4.49 | 4.38 | 3.68 | 3.61 | XXX
99245 |  | A | Office consultation | 3.43 | 2.24 | 2.14 | 1.29 | 1.20 | 0.16 | 5.83 | 5.73 | 4.88 | 4.79 | XXX
99251 |  | A | Initial inpatient consult | 0.66 | NA | NA | 0.30 | 0.41 | 0.04 | NA | NA | 1.00 | 1.11 | XXX
99252 |  | A | Initial inpatient consult | 1.32 | NA | NA | 0.57 | 0.63 | 0.08 | NA | NA | 1.97 | 2.03 | XXX
99253 |  | A | Initial inpatient consult | 1.82 | NA | NA | 0.76 | 0.83 | 0.09 | NA | NA | 2.67 | 2.74 | XXX
99254 |  | A | Initial inpatient consult | 2.64 | NA | NA | 1.07 | 1.13 | 0.11 | NA | NA | 3.82 | 3.88 | XXX
99255 |  | A | Initial inpatient consult | 3.65 | NA | NA | 1.44 | 1.51 | 0.15 | NA | NA | 5.24 | 5.31 | XXX
99261 |  | A | Follow-up inpatient consult | 0.42 | NA | NA | 0.21 | 0.25 | 0.02 | NA | NA | 0.65 | 0.69 | XXX
99262 |  | A | Follow-up inpatient consult | 0.85 | NA | NA | 0.37 | 0.40 | 0.03 | NA | NA | 1.25 | 1.28 | XXX
99263 |  | A | Follow-up inpatient consult | 1.27 | NA | NA | 0.52 | 0.57 | 0.04 | NA | NA | 1.83 | 1.88 | XXX
99271 |  | A | Confirmatory consultation | 0.45 | 0.64 | 0.64 | 0.21 | 0.24 | 0.03 | 1.12 | 1.12 | 0.69 | 0.72 | XXX
99272 |  | A | Confirmatory consultation | 0.84 | 0.87 | 0.85 | 0.37 | 0.38 | 0.06 | 1.77 | 1.75 | 1.27 | 1.28 | XXX
99273 |  | A | Confirmatory consultation | 1.19 | 1.09 | 1.10 | 0.51 | 0.52 | 0.07 | 2.35 | 2.36 | 1.77 | 1.78 | XXX
99274 |  | A | Confirmatory consultation | 1.73 | 1.41 | 1.39 | 0.73 | 0.71 | 0.09 | 3.23 | 3.21 | 2.55 | 2.53 | XXX
99275 |  | A | Confirmatory consultation | 2.31 | 1.64 | 1.70 | 0.91 | 1.16 | 0.10 | 4.05 | 4.11 | 3.32 | 3.57 | XXX
99281 |  | A | Emergency dept visit | 0.33 | NA | NA | 0.09 | 0.14 | 0.02 | NA | NA | 0.44 | 0.49 | XXX
99282 |  | A | Emergency dept visit | 0.55 | NA | NA | 0.15 | 0.22 | 0.03 | NA | NA | 0.73 | 0.80 | XXX
99283 |  | A | Emergency dept visit | 1.24 | NA | NA | 0.32 | 0.37 | 0.08 | NA | NA | 1.64 | 1.69 | XXX
99284 |  | A | Emergency dept visit | 1.95 | NA | NA | 0.49 | 0.56 | 0.12 | NA | NA | 2.56 | 2.63 | XXX
99285 |  | A | Emergency dept visit | 3.06 | NA | NA | 0.74 | 0.86 | 0.19 | NA | NA | 3.99 | 4.11 | XXX
99288 |  | B | Direct advanced life support | 0.00 | 0.00 | 0.00 | 0.00 | 0.00 | 0.00 | 0.00 | 0.00 | 0.00 | 0.00 | XXX
99291 |  | A | Critical care, first hour | 4.00 | 1.57 | 1.57 | 1.32 | 1.38 | 0.14 | 5.71 | 5.71 | 5.46 | 5.52 | XXX
99292 |  | A | Critical care, addl 30 min | 2.00 | 0.85 | 0.81 | 0.65 | 0.66 | 0.07 | 2.92 | 2.88 | 2.72 | 2.73 | ZZZ
99295 |  | A | Neonatal critical care | 16.00 | NA | NA | 4.86 | 5.02 | 0.70 | NA | NA | 21.56 | 21.72 | XXX
99296 |  | A | Neonatal critical care | 8.00 | NA | NA | 2.61 | 2.63 | 0.23 | NA | NA | 10.84 | 10.86 | XXX
99297 |  | A | Neonatal critical care | 4.00 | NA | NA | 1.32 | 1.32 | 0.12 | NA | NA | 5.44 | 5.44 | XXX
99298 |  | A | Neonatal critical care | 2.75 | NA | NA | 0.96 | 0.96 | 0.10 | NA | NA | 3.81 | 3.81 | XXX
99301 |  | A | Nursing facility care | 1.20 | NA | NA | 0.42 | 0.44 | 0.04 | NA | NA | 1.66 | 1.68 | XXX
99302 |  | A | Nursing facility care | 1.61 | NA | NA | 0.56 | 0.56 | 0.05 | NA | NA | 2.22 | 2.22 | XXX
99303 |  | A | Nursing facility care | 2.01 | NA | NA | 0.69 | 0.78 | 0.06 | NA | NA | 2.76 | 2.85 | XXX
99311 |  | A | Nursing fac care, subseq | 0.60 | NA | NA | 0.21 | 0.25 | 0.02 | NA | NA | 0.83 | 0.87 | XXX
99312 |  | A | Nursing fac care, subseq | 1.00 | NA | NA | 0.34 | 0.37 | 0.03 | NA | NA | 1.37 | 1.40 | XXX
99313 |  | A | Nursing fac care, subseq | 1.42 | NA | NA | 0.49 | 0.49 | 0.04 | NA | NA | 1.95 | 1.95 | XXX
99315 |  | A | Nursing fac discharge day | 1.13 | NA | NA | 0.39 | 0.43 | 0.04 | NA | NA | 1.56 | 1.60 | XXX
99316 |  | A | Nursing fac discharge day | 1.50 | NA | NA | 0.52 | 0.53 | 0.05 | NA | NA | 2.07 | 2.08 | XXX
99321 |  | A | Rest home visit, new patient | 0.71 | 0.43 | 0.42 | 0.35 | 0.36 | 0.02 | 1.16 | 1.15 | 1.08 | 1.09 | XXX
99322 |  | A | Rest home visit, new patient | 1.01 | 0.68 | 0.65 | 0.45 | 0.48 | 0.03 | 1.72 | 1.69 | 1.49 | 1.52 | XXX
99323 |  | A | Rest home visit, new patient | 1.28 | 0.93 | 0.90 | 0.56 | 0.62 | 0.04 | 2.25 | 2.22 | 1.88 | 1.94 | XXX
99331 |  | A | Rest home visit, est pat | 0.60 | 0.47 | 0.43 | 0.31 | 0.31 | 0.02 | 1.09 | 1.05 | 0.93 | 0.93 | XXX
99332 |  | A | Rest home visit, est pat | 0.80 | 0.59 | 0.54 | 0.38 | 0.38 | 0.03 | 1.42 | 1.37 | 1.21 | 1.21 | XXX
99333 |  | A | Rest home visit, est pat | 1.00 | 0.72 | 0.66 | 0.45 | 0.46 | 0.03 | 1.75 | 1.69 | 1.48 | 1.49 | XXX
99341 |  | A | Home visit, new patient | 1.01 | 0.54 | 0.55 | 0.48 | 0.51 | 0.05 | 1.60 | 1.61 | 1.54 | 1.57 | XXX
99342 |  | A | Home visit, new patient | 1.52 | 0.84 | 0.79 | 0.68 | 0.67 | 0.05 | 2.41 | 2.36 | 2.25 | 2.24 | XXX
99343 |  | A | Home visit, new patient | 2.27 | 1.30 | 1.19 | 1.28 | 1.17 | 0.07 | 3.64 | 3.53 | 3.62 | 3.51 | XXX
99344 |  | A | Home visit, new patient | 3.03 | 1.60 | 1.43 | 1.30 | 1.21 | 0.10 | 4.73 | 4.56 | 4.43 | 4.34 | XXX
99345 |  | A | Home visit, new patient | 3.79 | 1.85 | 1.62 | 1.36 | 1.25 | 0.12 | 5.76 | 5.53 | 5.27 | 5.16 | XXX
99347 |  | A | Home visit, est patient | 0.76 | 0.47 | 0.48 | 0.36 | 0.39 | 0.03 | 1.26 | 1.27 | 1.15 | 1.18 | XXX
99348 |  | A | Home visit, est patient | 1.26 | 0.72 | 0.69 | 0.53 | 0.54 | 0.04 | 2.02 | 1.99 | 1.83 | 1.84 | XXX
99349 |  | A | Home visit, est patient | 2.02 | 1.07 | 0.97 | 0.80 | 0.77 | 0.06 | 3.15 | 3.05 | 2.88 | 2.85 | XXX
99350 |  | A | Home visit, est patient | 3.03 | 1.48 | 1.32 | 1.16 | 1.08 | 0.10 | 4.61 | 4.45 | 4.29 | 4.21 | XXX
99354 |  | A | Prolonged service, office | 1.77 | 1.43 | 1.28 | 0.63 | 0.58 | 0.06 | 3.26 | 3.11 | 2.46 | 2.41 | ZZZ
99355 |  | A | Prolonged service, office | 1.77 | 1.23 | 1.13 | 0.62 | 0.57 | 0.06 | 3.06 | 2.96 | 2.45 | 2.40 | ZZZ
99356 |  | A | Prolonged service, inpatient | 1.71 | NA | NA | 0.60 | 0.68 | 0.06 | NA | NA | 2.37 | 2.45 | ZZZ
99357 |  | A | Prolonged service, inpatient | 1.71 | NA | NA | 0.62 | 0.70 | 0.06 | NA | NA | 2.39 | 2.47 | ZZZ
99358 |  | B | Prolonged serv, w/o contact | 0.00 | 0.00 | 0.00 | 0.00 | 0.00 | 0.00 | 0.00 | 0.00 | 0.00 | 0.00 | ZZZ
99359 |  | B | Prolonged serv, w/o contact | 0.00 | 0.00 | 0.00 | 0.00 | 0.00 | 0.00 | 0.00 | 0.00 | 0.00 | 0.00 | ZZZ
99360 |  | X | Physician standby services | 0.00 | 0.00 | 0.00 | 0.00 | 0.00 | 0.00 | 0.00 | 0.00 | 0.00 | 0.00 | XXX
99361 |  | B | Physician/team conference | 0.00 | 0.00 | 0.00 | 0.00 | 0.00 | 0.00 | 0.00 | 0.00 | 0.00 | 0.00 | XXX
99362 |  | B | Physician/team conference | 0.00 | 0.00 | 0.00 | 0.00 | 0.00 | 0.00 | 0.00 | 0.00 | 0.00 | 0.00 | XXX
99371 |  | B | Physician phone consultation | 0.00 | 0.00 | 0.00 | 0.00 | 0.00 | 0.00 | 0.00 | 0.00 | 0.00 | 0.00 | XXX
99372 |  | B | Physician phone consultation | 0.00 | 0.00 | 0.00 | 0.00 | 0.00 | 0.00 | 0.00 | 0.00 | 0.00 | 0.00 | XXX
99373 |  | B | Physician phone consultation | 0.00 | 0.00 | 0.00 | 0.00 | 0.00 | 0.00 | 0.00 | 0.00 | 0.00 | 0.00 | XXX
99374 |  | B | Home health care supervision | +1.10 | 1.42 | 1.20 | 0.44 | 0.47 | 0.04 | 2.56 | 2.34 | 1.58 | 1.61 | XXX
99375 |  | N | Home health care supervision | 0.00 | 0.00 | 0.00 | 0.00 | 0.00 | 0.00 | 0.00 | 0.00 | 0.00 | 0.00 | XXX
99377 |  | B | Hospice care supervision | +1.10 | 1.42 | 1.20 | 0.44 | 0.47 | 0.04 | 2.56 | 2.34 | 1.58 | 1.61 | XXX
99378 |  | N | Hospice care supervision | 0.00 | 0.00 | 0.00 | 0.00 | 0.00 | 0.00 | 0.00 | 0.00 | 0.00 | 0.00 | XXX
99379 |  | B | Nursing fac care supervision | +1.10 | 1.42 | 1.20 | 0.44 | 0.47 | 0.03 | 2.55 | 2.33 | 1.57 | 1.60 | XXX
99380 |  | B | Nursing fac care supervision | +1.73 | 1.67 | 1.39 | 0.69 | 0.66 | 0.05 | 3.45 | 3.17 | 2.47 | 2.44 | XXX
99381 |  | N | Prev visit, new, infant | +1.19 | 1.46 | 1.43 | 0.48 | 0.69 | 0.04 | 2.69 | 2.66 | 1.71 | 1.92 | XXX
99382 |  | N | Prev visit, new, age 1-4 | +1.36 | 1.50 | 1.51 | 0.54 | 0.79 | 0.04 | 2.90 | 2.91 | 1.94 | 2.19 | XXX
99383 |  | N | Prev visit, new, age 5-11 | +1.36 | 1.44 | 1.46 | 0.54 | 0.79 | 0.04 | 2.84 | 2.86 | 1.94 | 2.19 | XXX
99384 |  | N | Prev visit, new, age 12-17 | +1.53 | 1.52 | 1.57 | 0.61 | 0.89 | 0.05 | 3.10 | 3.15 | 2.19 | 2.47 | XXX
99385 |  | N | Prev visit, new, age 18-39 | +1.53 | 1.52 | 1.52 | 0.61 | 0.84 | 0.05 | 3.10 | 3.10 | 2.19 | 2.42 | XXX
99386 |  | N | Prev visit, new, age 40-64 | +1.88 | 1.71 | 1.75 | 0.75 | 1.03 | 0.06 | 3.65 | 3.69 | 2.69 | 2.97 | XXX
99387 |  | N | Prev visit, new, 65 & over | +2.06 | 1.83 | 1.88 | 0.82 | 1.13 | 0.06 | 3.95 | 4.00 | 2.94 | 3.25 | XXX
99391 |  | N | Prev visit, est, infant | +1.02 | 0.99 | 1.03 | 0.41 | 0.60 | 0.03 | 2.04 | 2.08 | 1.46 | 1.65 | XXX
99392 |  | N | Prev visit, est, age 1-4 | +1.19 | 1.06 | 1.13 | 0.48 | 0.69 | 0.04 | 2.29 | 2.36 | 1.71 | 1.92 | XXX
99393 |  | N | Prev visit, est, age 5-11 | +1.19 | 1.03 | 1.11 | 0.48 | 0.69 | 0.04 | 2.26 | 2.34 | 1.71 | 1.92 | XXX
99394 |  | N | Prev visit, est, age 12-17 | +1.36 | 1.11 | 1.22 | 0.54 | 0.79 | 0.04 | 2.51 | 2.62 | 1.94 | 2.19 | XXX
99395 |  | N | Prev visit, est, age 18-39 | +1.36 | 1.14 | 1.20 | 0.54 | 0.75 | 0.04 | 2.54 | 2.60 | 1.94 | 2.15 | XXX
99396 |  | N | Prev visit, est, age 40-64 | +1.53 | 1.23 | 1.30 | 0.61 | 0.84 | 0.05 | 2.81 | 2.88 | 2.19 | 2.42 | XXX
99397 |  | N | Prev visit, est, 65 & over | +1.71 | 1.34 | 1.43 | 0.68 | 0.93 | 0.05 | 3.10 | 3.19 | 2.44 | 2.69 | XXX
99401 |  | N | Preventive counseling, indiv | +0.48 | 0.59 | 0.57 | 0.19 | 0.27 | 0.01 | 1.08 | 1.06 | 0.68 | 0.76 | XXX
99402 |  | N | Preventive counseling, indiv | +0.98 | 0.84 | 0.87 | 0.39 | 0.54 | 0.02 | 1.84 | 1.87 | 1.39 | 1.54 | XXX
99403 |  | N | Preventive counseling, indiv | +1.46 | 1.08 | 1.17 | 0.58 | 0.80 | 0.03 | 2.57 | 2.66 | 2.07 | 2.29 | XXX
99404 |  | N | Preventive counseling, indiv | +1.95 | 1.32 | 1.47 | 0.78 | 1.07 | 0.04 | 3.31 | 3.46 | 2.77 | 3.06 | XXX
99411 |  | N | Preventive counseling, group | +0.15 | 0.17 | 0.17 | 0.06 | 0.08 | 0.01 | 0.33 | 0.33 | 0.22 | 0.24 | XXX
99412 |  | N | Preventive counseling, group | +0.25 | 0.24 | 0.24 | 0.10 | 0.14 | 0.01 | 0.50 | 0.50 | 0.36 | 0.40 | XXX
99420 |  | N | Health risk assessment test | 0.00 | 0.00 | 0.00 | 0.00 | 0.00 | 0.00 | 0.00 | 0.00 | 0.00 | 0.00 | XXX
99429 |  | N | Unlisted preventive service | 0.00 | 0.00 | 0.00 | 0.00 | 0.00 | 0.00 | 0.00 | 0.00 | 0.00 | 0.00 | XXX
99431 |  | A | Initial care, normal newborn | 1.17 | NA | NA | 0.36 | 0.60 | 0.04 | NA | NA | 1.57 | 1.81 | XXX
99432 |  | A | Newborn care, not in hosp | 1.26 | 1.14 | 1.21 | 0.33 | 0.60 | 0.06 | 2.46 | 2.53 | 1.65 | 1.92 | XXX
99433 |  | A | Normal newborn care/hospital | 0.62 | NA | NA | 0.20 | 0.32 | 0.02 | NA | NA | 0.84 | 0.96 | XXX
99435 |  | A | Newborn discharge day hosp | 1.50 | NA | NA | 0.57 | 0.85 | 0.05 | NA | NA | 2.12 | 2.40 | XXX
99436 |  | A | Attendance, birth | 1.50 | 0.60 | 0.87 | 0.46 | 0.77 | 0.05 | 2.15 | 2.42 | 2.01 | 2.32 | XXX
99440 |  | A | Newborn resuscitation | 2.93 | NA | NA | 0.86 | 1.47 | 0.11 | NA | NA | 3.90 | 4.51 | XXX
99450 |  | N | Life/disability evaluation | 0.00 | 0.00 | 0.00 | 0.00 | 0.00 | 0.00 | 0.00 | 0.00 | 0.00 | 0.00 | XXX
99455 |  | R | Disability examination | 0.00 | 0.00 | 0.00 | 0.00 | 0.00 | 0.00 | 0.00 | 0.00 | 0.00 | 0.00 | XXX
99456 |  | R | Disability examination | 0.00 | 0.00 | 0.00 | 0.00 | 0.00 | 0.00 | 0.00 | 0.00 | 0.00 | 0.00 | XXX
99499 |  | C | Unlisted e&m service | 0.00 | 0.00 | 0.00 | 0.00 | 0.00 | 0.00 | 0.00 | 0.00 | 0.00 | 0.00 | XXX
A0021 |  | I | Outside state ambulance serv | 0.00 | 0.00 | 0.00 | 0.00 | 0.00 | 0.00 | 0.00 | 0.00 | 0.00 | 0.00 | XXX
A0030 |  | D | Air ambulance service | 0.00 | 0.00 | 0.00 | 0.00 | 0.00 | 0.00 | 0.00 | 0.00 | 0.00 | 0.00 | XXX
A0040 |  | D | Helicopter ambulance service | 0.00 | 0.00 | 0.00 | 0.00 | 0.00 | 0.00 | 0.00 | 0.00 | 0.00 | 0.00 | XXX
A0050 |  | D | Water amb service emergency | 0.00 | 0.00 | 0.00 | 0.00 | 0.00 | 0.00 | 0.00 | 0.00 | 0.00 | 0.00 | XXX
A0080 |  | I | Noninterest escort in non er | 0.00 | 0.00 | 0.00 | 0.00 | 0.00 | 0.00 | 0.00 | 0.00 | 0.00 | 0.00 | XXX
A0090 |  | I | Interest escort in non er | 0.00 | 0.00 | 0.00 | 0.00 | 0.00 | 0.00 | 0.00 | 0.00 | 0.00 | 0.00 | XXX
A0100 |  | I | Nonemergency transport taxi | 0.00 | 0.00 | 0.00 | 0.00 | 0.00 | 0.00 | 0.00 | 0.00 | 0.00 | 0.00 | XXX
A0110 |  | I | Nonemergency transport bus | 0.00 | 0.00 | 0.00 | 0.00 | 0.00 | 0.00 | 0.00 | 0.00 | 0.00 | 0.00 | XXX
A0120 |  | I | Noner transport mini-bus | 0.00 | 0.00 | 0.00 | 0.00 | 0.00 | 0.00 | 0.00 | 0.00 | 0.00 | 0.00 | XXX
A0130 |  | I | Noner transport wheelch van | 0.00 | 0.00 | 0.00 | 0.00 | 0.00 | 0.00 | 0.00 | 0.00 | 0.00 | 0.00 | XXX
A0140 |  | I | Nonemergency transport air | 0.00 | 0.00 | 0.00 | 0.00 | 0.00 | 0.00 | 0.00 | 0.00 | 0.00 | 0.00 | XXX
A0160 |  | I | Noner transport case worker | 0.00 | 0.00 | 0.00 | 0.00 | 0.00 | 0.00 | 0.00 | 0.00 | 0.00 | 0.00 | XXX
A0170 |  | I | Noner transport parking fees | 0.00 | 0.00 | 0.00 | 0.00 | 0.00 | 0.00 | 0.00 | 0.00 | 0.00 | 0.00 | XXX
A0180 |  | I | Noner transport lodgng recip | 0.00 | 0.00 | 0.00 | 0.00 | 0.00 | 0.00 | 0.00 | 0.00 | 0.00 | 0.00 | XXX
A0190 |  | I | Noner transport meals recip | 0.00 | 0.00 | 0.00 | 0.00 | 0.00 | 0.00 | 0.00 | 0.00 | 0.00 | 0.00 | XXX
A0200 |  | I | Noner transport lodgng escrt | 0.00 | 0.00 | 0.00 | 0.00 | 0.00 | 0.00 | 0.00 | 0.00 | 0.00 | 0.00 | XXX
A0210 |  | I | Noner transport meals escort | 0.00 | 0.00 | 0.00 | 0.00 | 0.00 | 0.00 | 0.00 | 0.00 | 0.00 | 0.00 | XXX
A0225 |  | X | Neonatal emergency transport | 0.00 | 0.00 | 0.00 | 0.00 | 0.00 | 0.00 | 0.00 | 0.00 | 0.00 | 0.00 | XXX
A0300 |  | D | Ambulance basic non-emer all | 0.00 | 0.00 | 0.00 | 0.00 | 0.00 | 0.00 | 0.00 | 0.00 | 0.00 | 0.00 | XXX
A0302 |  | D | Ambulance basic emergeny all | 0.00 | 0.00 | 0.00 | 0.00 | 0.00 | 0.00 | 0.00 | 0.00 | 0.00 | 0.00 | XXX
A0304 |  | D | Amb adv non-er no serv all | 0.00 | 0.00 | 0.00 | 0.00 | 0.00 | 0.00 | 0.00 | 0.00 | 0.00 | 0.00 | XXX
A0306 |  | D | Amb adv non-er spec serv all | 0.00 | 0.00 | 0.00 | 0.00 | 0.00 | 0.00 | 0.00 | 0.00 | 0.00 | 0.00 | XXX
A0308 |  | D | Amb adv er no spec serv all | 0.00 | 0.00 | 0.00 | 0.00 | 0.00 | 0.00 | 0.00 | 0.00 | 0.00 | 0.00 | XXX
A0310 |  | D | Amb adv er spec serv all | 0.00 | 0.00 | 0.00 | 0.00 | 0.00 | 0.00 | 0.00 | 0.00 | 0.00 | 0.00 | XXX
A0320 |  | D | Amb basic non-er + supplies | 0.00 | 0.00 | 0.00 | 0.00 | 0.00 | 0.00 | 0.00 | 0.00 | 0.00 | 0.00 | XXX
A0322 |  | D | Amb basic emerg + supplies | 0.00 | 0.00 | 0.00 | 0.00 | 0.00 | 0.00 | 0.00 | 0.00 | 0.00 | 0.00 | XXX
A0324 |  | D | Adv non-er serv sep mileage | 0.00 | 0.00 | 0.00 | 0.00 | 0.00 | 0.00 | 0.00 | 0.00 | 0.00 | 0.00 | XXX
A0326 |  | D | Adv non-er no serv sep mile | 0.00 | 0.00 | 0.00 | 0.00 | 0.00 | 0.00 | 0.00 | 0.00 | 0.00 | 0.00 | XXX
A0328 |  | D | Adv er no serv sep mileage | 0.00 | 0.00 | 0.00 | 0.00 | 0.00 | 0.00 | 0.00 | 0.00 | 0.00 | 0.00 | XXX
A0330 |  | D | Adv er spec serv sep mile | 0.00 | 0.00 | 0.00 | 0.00 | 0.00 | 0.00 | 0.00 | 0.00 | 0.00 | 0.00 | XXX
A0340 |  | D | Amb basic non-er + mileage | 0.00 | 0.00 | 0.00 | 0.00 | 0.00 | 0.00 | 0.00 | 0.00 | 0.00 | 0.00 | XXX
A0342 |  | D | Ambul basic emer + mileage | 0.00 | 0.00 | 0.00 | 0.00 | 0.00 | 0.00 | 0.00 | 0.00 | 0.00 | 0.00 | XXX
A0344 |  | D | Amb adv non-er no serv +mile | 0.00 | 0.00 | 0.00 | 0.00 | 0.00 | 0.00 | 0.00 | 0.00 | 0.00 | 0.00 | XXX
A0346 |  | D | Amb adv non-er serv + mile | 0.00 | 0.00 | 0.00 | 0.00 | 0.00 | 0.00 | 0.00 | 0.00 | 0.00 | 0.00 | XXX
A0348 |  | D | Adv emer no spec serv + mile | 0.00 | 0.00 | 0.00 | 0.00 | 0.00 | 0.00 | 0.00 | 0.00 | 0.00 | 0.00 | XXX
A0350 |  | D | Adv emer spec serv + mileage | 0.00 | 0.00 | 0.00 | 0.00 | 0.00 | 0.00 | 0.00 | 0.00 | 0.00 | 0.00 | XXX
A0360 |  | D | Basic non-er sep mile & supp | 0.00 | 0.00 | 0.00 | 0.00 | 0.00 | 0.00 | 0.00 | 0.00 | 0.00 | 0.00 | XXX
A0362 |  | D | Basic emer sep mile & supply | 0.00 | 0.00 | 0.00 | 0.00 | 0.00 | 0.00 | 0.00 | 0.00 | 0.00 | 0.00 | XXX
A0364 |  | D | Adv non-er no serv sep mi&su | 0.00 | 0.00 | 0.00 | 0.00 | 0.00 | 0.00 | 0.00 | 0.00 | 0.00 | 0.00 | XXX
A0366 |  | D | Adv non-er serv sep mil&supp | 0.00 | 0.00 | 0.00 | 0.00 | 0.00 | 0.00 | 0.00 | 0.00 | 0.00 | 0.00 | XXX
A0368 |  | X | Adv er no serv sep mile&supp | 0.00 | 0.00 | 0.00 | 0.00 | 0.00 | 0.00 | 0.00 | 0.00 | 0.00 | 0.00 | XXX
A0370 |  | D | Adv er spec serv sep mi&supp | 0.00 | 0.00 | 0.00 | 0.00 | 0.00 | 0.00 | 0.00 | 0.00 | 0.00 | 0.00 | XXX
A0380 |  | D | Basic life support mileage | 0.00 | 0.00 | 0.00 | 0.00 | 0.00 | 0.00 | 0.00 | 0.00 | 0.00 | 0.00 | XXX
A0382 |  | X | Basic support routine suppls | 0.00 | 0.00 | 0.00 | 0.00 | 0.00 | 0.00 | 0.00 | 0.00 | 0.00 | 0.00 | XXX
A0384 |  | X | Bls defibrillation supplies | 0.00 | 0.00 | 0.00 | 0.00 | 0.00 | 0.00 | 0.00 | 0.00 | 0.00 | 0.00 | XXX
A0390 |  | D | Advanced life support mileag | 0.00 | 0.00 | 0.00 | 0.00 | 0.00 | 0.00 | 0.00 | 0.00 | 0.00 | 0.00 | XXX
A0392 |  | X | Als defibrillation supplies | 0.00 | 0.00 | 0.00 | 0.00 | 0.00 | 0.00 | 0.00 | 0.00 | 0.00 | 0.00 | XXX
A0394 |  | X | Als IV drug therapy supplies | 0.00 | 0.00 | 0.00 | 0.00 | 0.00 | 0.00 | 0.00 | 0.00 | 0.00 | 0.00 | XXX
A0396 |  | X | Als esophageal intub suppls | 0.00 | 0.00 | 0.00 | 0.00 | 0.00 | 0.00 | 0.00 | 0.00 | 0.00 | 0.00 | XXX
A0398 |  | X | Als routine disposble suppls | 0.00 | 0.00 | 0.00 | 0.00 | 0.00 | 0.00 | 0.00 | 0.00 | 0.00 | 0.00 | XXX
A0420 |  | X | Ambulance waiting 1/2 hr | 0.00 | 0.00 | 0.00 | 0.00 | 0.00 | 0.00 | 0.00 | 0.00 | 0.00 | 0.00 | XXX
A0422 |  | X | Ambulance 02 life sustaining | 0.00 | 0.00 | 0.00 | 0.00 | 0.00 | 0.00 | 0.00 | 0.00 | 0.00 | 0.00 | XXX
A0424 |  | X | Extra ambulance attendant | 0.00 | 0.00 | 0.00 | 0.00 | 0.00 | 0.00 | 0.00 | 0.00 | 0.00 | 0.00 | XXX
A0425 |  | X | Ground mileage | 0.00 | 0.00 | 0.00 | 0.00 | 0.00 | 0.00 | 0.00 | 0.00 | 0.00 | 0.00 | XXX
A0426 |  | X | Als 1 | 0.00 | 0.00 | 0.00 | 0.00 | 0.00 | 0.00 | 0.00 | 0.00 | 0.00 | 0.00 | XXX
A0427 |  | X | ALS1-emergency | 0.00 | 0.00 | 0.00 | 0.00 | 0.00 | 0.00 | 0.00 | 0.00 | 0.00 | 0.00 | XXX
A0428 |  | X | bls | 0.00 | 0.00 | 0.00 | 0.00 | 0.00 | 0.00 | 0.00 | 0.00 | 0.00 | 0.00 | XXX
A0429 |  | X | BLS-emergency | 0.00 | 0.00 | 0.00 | 0.00 | 0.00 | 0.00 | 0.00 | 0.00 | 0.00 | 0.00 | XXX
A0430 |  | X | Fixed wing air transport | 0.00 | 0.00 | 0.00 | 0.00 | 0.00 | 0.00 | 0.00 | 0.00 | 0.00 | 0.00 | XXX
A0431 |  | X | Rotary wing air transport | 0.00 | 0.00 | 0.00 | 0.00 | 0.00 | 0.00 | 0.00 | 0.00 | 0.00 | 0.00 | XXX
A0432 |  | X | PI volunteer ambulance co | 0.00 | 0.00 | 0.00 | 0.00 | 0.00 | 0.00 | 0.00 | 0.00 | 0.00 | 0.00 | XXX
A0433 |  | X | als 2 | 0.00 | 0.00 | 0.00 | 0.00 | 0.00 | 0.00 | 0.00 | 0.00 | 0.00 | 0.00 | XXX
A0434 |  | X | Specialty care transport | 0.00 | 0.00 | 0.00 | 0.00 | 0.00 | 0.00 | 0.00 | 0.00 | 0.00 | 0.00 | XXX
A0435 |  | X | Fixed wing air mileage | 0.00 | 0.00 | 0.00 | 0.00 | 0.00 | 0.00 | 0.00 | 0.00 | 0.00 | 0.00 | XXX
A0436 |  | X | Rotary wing air mileage | 0.00 | 0.00 | 0.00 | 0.00 | 0.00 | 0.00 | 0.00 | 0.00 | 0.00 | 0.00 | XXX
A0888 |  | N | Noncovered ambulance mileage | 0.00 | 0.00 | 0.00 | 0.00 | 0.00 | 0.00 | 0.00 | 0.00 | 0.00 | 0.00 | XXX
A0999 |  | X | Unlisted ambulance service | 0.00 | 0.00 | 0.00 | 0.00 | 0.00 | 0.00 | 0.00 | 0.00 | 0.00 | 0.00 | XXX
A4206 |  | I | 1 CC sterile syringe&needle | 0.00 | 0.00 | 0.00 | 0.00 | 0.00 | 0.00 | 0.00 | 0.00 | 0.00 | 0.00 | XXX
A4207 |  | I | 2 CC sterile syringe&needle | 0.00 | 0.00 | 0.00 | 0.00 | 0.00 | 0.00 | 0.00 | 0.00 | 0.00 | 0.00 | XXX
A4208 |  | I | 3 CC sterile syringe&needle | 0.00 | 0.00 | 0.00 | 0.00 | 0.00 | 0.00 | 0.00 | 0.00 | 0.00 | 0.00 | XXX
A4209 |  | I | 5+ CC sterile syringe&needle | 0.00 | 0.00 | 0.00 | 0.00 | 0.00 | 0.00 | 0.00 | 0.00 | 0.00 | 0.00 | XXX
A4210 |  | N | Nonneedle injection device | 0.00 | 0.00 | 0.00 | 0.00 | 0.00 | 0.00 | 0.00 | 0.00 | 0.00 | 0.00 | XXX
A4211 |  | P | Supp for self-adm injections | 0.00 | 0.00 | 0.00 | 0.00 | 0.00 | 0.00 | 0.00 | 0.00 | 0.00 | 0.00 | XXX
A4212 |  | P | Non coring needle or stylet | 0.00 | 0.00 | 0.00 | 0.00 | 0.00 | 0.00 | 0.00 | 0.00 | 0.00 | 0.00 | XXX
A4213 |  | I | 20+ CC syringe only | 0.00 | 0.00 | 0.00 | 0.00 | 0.00 | 0.00 | 0.00 | 0.00 | 0.00 | 0.00 | XXX
A4214 |  | P | 30 CC sterile water/saline | 0.00 | 0.00 | 0.00 | 0.00 | 0.00 | 0.00 | 0.00 | 0.00 | 0.00 | 0.00 | XXX
A4215 |  | I | Sterile needle | 0.00 | 0.00 | 0.00 | 0.00 | 0.00 | 0.00 | 0.00 | 0.00 | 0.00 | 0.00 | XXX
A4220 |  | P | Infusion pump refill kit | 0.00 | 0.00 | 0.00 | 0.00 | 0.00 | 0.00 | 0.00 | 0.00 | 0.00 | 0.00 | XXX
A4221 |  | X | Maint drug infus cath per wk | 0.00 | 0.00 | 0.00 | 0.00 | 0.00 | 0.00 | 0.00 | 0.00 | 0.00 | 0.00 | XXX
A4222 |  | X | Drug infusion pump supplies | 0.00 | 0.00 | 0.00 | 0.00 | 0.00 | 0.00 | 0.00 | 0.00 | 0.00 | 0.00 | XXX
A4230 |  | X | Infus insulin pump non needl | 0.00 | 0.00 | 0.00 | 0.00 | 0.00 | 0.00 | 0.00 | 0.00 | 0.00 | 0.00 | XXX
A4231 |  | X | Infusion insulin pump needle | 0.00 | 0.00 | 0.00 | 0.00 | 0.00 | 0.00 | 0.00 | 0.00 | 0.00 | 0.00 | XXX
A4232 |  | X | Syringe w/needle insulin 3cc | 0.00 | 0.00 | 0.00 | 0.00 | 0.00 | 0.00 | 0.00 | 0.00 | 0.00 | 0.00 | XXX
A4244 |  | I | Alcohol or peroxide per pint | 0.00 | 0.00 | 0.00 | 0.00 | 0.00 | 0.00 | 0.00 | 0.00 | 0.00 | 0.00 | XXX
A4245 |  | I | Alcohol wipes per box | 0.00 | 0.00 | 0.00 | 0.00 | 0.00 | 0.00 | 0.00 | 0.00 | 0.00 | 0.00 | XXX
A4246 |  | I | Betadine/phisohex solution | 0.00 | 0.00 | 0.00 | 0.00 | 0.00 | 0.00 | 0.00 | 0.00 | 0.00 | 0.00 | XXX
A4247 |  | I | Betadine/iodine swabs/wipes | 0.00 | 0.00 | 0.00 | 0.00 | 0.00 | 0.00 | 0.00 | 0.00 | 0.00 | 0.00 | XXX
A4250 |  | N | Urine reagent strips/tablets | 0.00 | 0.00 | 0.00 | 0.00 | 0.00 | 0.00 | 0.00 | 0.00 | 0.00 | 0.00 | XXX
A4253 |  | P | Blood glucose/reagent strips | 0.00 | 0.00 | 0.00 | 0.00 | 0.00 | 0.00 | 0.00 | 0.00 | 0.00 | 0.00 | XXX
A4254 |  | X | Battery for glucose monitor | 0.00 | 0.00 | 0.00 | 0.00 | 0.00 | 0.00 | 0.00 | 0.00 | 0.00 | 0.00 | XXX
A4255 |  | X | Glucose monitor platforms | 0.00 | 0.00 | 0.00 | 0.00 | 0.00 | 0.00 | 0.00 | 0.00 | 0.00 | 0.00 | XXX
A4256 |  | P | Calibrator solution/chips | 0.00 | 0.00 | 0.00 | 0.00 | 0.00 | 0.00 | 0.00 | 0.00 | 0.00 | 0.00 | XXX
A4258 |  | P | Lancet device each | 0.00 | 0.00 | 0.00 | 0.00 | 0.00 | 0.00 | 0.00 | 0.00 | 0.00 | 0.00 | XXX
A4259 |  | P | Lancets per box | 0.00 | 0.00 | 0.00 | 0.00 | 0.00 | 0.00 | 0.00 | 0.00 | 0.00 | 0.00 | XXX
A4260 |  | N | Levonorgestrel implant | 0.00 | 0.00 | 0.00 | 0.00 | 0.00 | 0.00 | 0.00 | 0.00 | 0.00 | 0.00 | XXX
A4261 |  | N | Cervical cap contraceptive | 0.00 | 0.00 | 0.00 | 0.00 | 0.00 | 0.00 | 0.00 | 0.00 | 0.00 | 0.00 | XXX
A4262 |  | B | Temporary tear duct plug | 0.00 | 0.00 | 0.00 | 0.00 | 0.00 | 0.00 | 0.00 | 0.00 | 0.00 | 0.00 | XXX
A4263 |  | A | Permanent tear duct plug | 0.00 | 0.00 | 0.26 | 0.00 | 0.26 | 0.00 | 0.00 | 0.26 | 0.00 | 0.26 | XXX
A4265 |  | P | Paraffin | 0.00 | 0.00 | 0.00 | 0.00 | 0.00 | 0.00 | 0.00 | 0.00 | 0.00 | 0.00 | XXX
A4270 |  | B | Disposable endoscope sheath | 0.00 | 0.00 | 0.00 | 0.00 | 0.00 | 0.00 | 0.00 | 0.00 | 0.00 | 0.00 | XXX
A4280 |  | X | Brst prsths adhsv attchmnt | 0.00 | 0.00 | 0.00 | 0.00 | 0.00 | 0.00 | 0.00 | 0.00 | 0.00 | 0.00 | XXX
A4290 |  | X | Sacral nerve stim test lead | 0.00 | 0.00 | 0.00 | 0.00 | 0.00 | 0.00 | 0.00 | 0.00 | 0.00 | 0.00 | XXX
A4300 |  | A | Cath impl vasc access portal | 0.00 | 0.00 | 0.26 | 0.00 | 0.26 | 0.00 | 0.00 | 0.26 | 0.00 | 0.26 | XXX
A4301 |  | P | Implantable access syst perc | 0.00 | 0.00 | 0.00 | 0.00 | 0.00 | 0.00 | 0.00 | 0.00 | 0.00 | 0.00 | XXX
A4305 |  | P | Drug delivery system >=50 ML | 0.00 | 0.00 | 0.00 | 0.00 | 0.00 | 0.00 | 0.00 | 0.00 | 0.00 | 0.00 | XXX
A4306 |  | P | Drug delivery system <=5 ML | 0.00 | 0.00 | 0.00 | 0.00 | 0.00 | 0.00 | 0.00 | 0.00 | 0.00 | 0.00 | XXX
A4310 |  | P | Insert tray w/o bag/cath | 0.00 | 0.00 | 0.00 | 0.00 | 0.00 | 0.00 | 0.00 | 0.00 | 0.00 | 0.00 | XXX
A4311 |  | P | Catheter w/o bag 2-way latex | 0.00 | 0.00 | 0.00 | 0.00 | 0.00 | 0.00 | 0.00 | 0.00 | 0.00 | 0.00 | XXX
A4312 |  | P | Cath w/o bag 2-way silicone | 0.00 | 0.00 | 0.00 | 0.00 | 0.00 | 0.00 | 0.00 | 0.00 | 0.00 | 0.00 | XXX
A4313 |  | P | Catheter w/bag 3-way | 0.00 | 0.00 | 0.00 | 0.00 | 0.00 | 0.00 | 0.00 | 0.00 | 0.00 | 0.00 | XXX
A4314 |  | P | Cath w/drainage 2-way latex | 0.00 | 0.00 | 0.00 | 0.00 | 0.00 | 0.00 | 0.00 | 0.00 | 0.00 | 0.00 | XXX
A4315 |  | P | Cath w/drainage 2-way silcne | 0.00 | 0.00 | 0.00 | 0.00 | 0.00 | 0.00 | 0.00 | 0.00 | 0.00 | 0.00 | XXX
A4316 |  | P | Cath w/drainage 3-way | 0.00 | 0.00 | 0.00 | 0.00 | 0.00 | 0.00 | 0.00 | 0.00 | 0.00 | 0.00 | XXX
A4319 |  | X | Sterile H2O irrigation solut | 0.00 | 0.00 | 0.00 | 0.00 | 0.00 | 0.00 | 0.00 | 0.00 | 0.00 | 0.00 | XXX
A4320 |  | P | Irrigation tray | 0.00 | 0.00 | 0.00 | 0.00 | 0.00 | 0.00 | 0.00 | 0.00 | 0.00 | 0.00 | XXX
A4321 |  | X | Cath therapeutic irrig agent | 0.00 | 0.00 | 0.00 | 0.00 | 0.00 | 0.00 | 0.00 | 0.00 | 0.00 | 0.00 | XXX
A4322 |  | P | Irrigation syringe | 0.00 | 0.00 | 0.00 | 0.00 | 0.00 | 0.00 | 0.00 | 0.00 | 0.00 | 0.00 | XXX
A4323 |  | P | Saline irrigation solution | 0.00 | 0.00 | 0.00 | 0.00 | 0.00 | 0.00 | 0.00 | 0.00 | 0.00 | 0.00 | XXX
A4324 |  | X | Male ext cath w/adh coating | 0.00 | 0.00 | 0.00 | 0.00 | 0.00 | 0.00 | 0.00 | 0.00 | 0.00 | 0.00 | XXX
A4325 |  | X | Male ext cath w/adh strip | 0.00 | 0.00 | 0.00 | 0.00 | 0.00 | 0.00 | 0.00 | 0.00 | 0.00 | 0.00 | XXX
A4326 |  | P | Male external catheter | 0.00 | 0.00 | 0.00 | 0.00 | 0.00 | 0.00 | 0.00 | 0.00 | 0.00 | 0.00 | XXX
A4327 |  | P | Fem urinary collect dev cup | 0.00 | 0.00 | 0.00 | 0.00 | 0.00 | 0.00 | 0.00 | 0.00 | 0.00 | 0.00 | XXX
A4328 |  | P | Fem urinary collect pouch | 0.00 | 0.00 | 0.00 | 0.00 | 0.00 | 0.00 | 0.00 | 0.00 | 0.00 | 0.00 | XXX
A4329 |  | P | External catheter start set | 0.00 | 0.00 | 0.00 | 0.00 | 0.00 | 0.00 | 0.00 | 0.00 | 0.00 | 0.00 | XXX
A4330 |  | P | Stool collection pouch | 0.00 | 0.00 | 0.00 | 0.00 | 0.00 | 0.00 | 0.00 | 0.00 | 0.00 | 0.00 | XXX
A4331 |  | X | Extension drainage tubing | 0.00 | 0.00 | 0.00 | 0.00 | 0.00 | 0.00 | 0.00 | 0.00 | 0.00 | 0.00 | XXX
A4332 |  | X | Lubricant for cath insertion | 0.00 | 0.00 | 0.00 | 0.00 | 0.00 | 0.00 | 0.00 | 0.00 | 0.00 | 0.00 | XXX
A4333 |  | X | Urinary cath anchor device | 0.00 | 0.00 | 0.00 | 0.00 | 0.00 | 0.00 | 0.00 | 0.00 | 0.00 | 0.00 | XXX
A4334 |  | X | Urinary cath leg strap | 0.00 | 0.00 | 0.00 | 0.00 | 0.00 | 0.00 | 0.00 | 0.00 | 0.00 | 0.00 | XXX
A4335 |  | P | Incontinence supply | 0.00 | 0.00 | 0.00 | 0.00 | 0.00 | 0.00 | 0.00 | 0.00 | 0.00 | 0.00 | XXX
A4338 |  | P | Indwelling catheter latex | 0.00 | 0.00 | 0.00 | 0.00 | 0.00 | 0.00 | 0.00 | 0.00 | 0.00 | 0.00 | XXX
A4340 |  | P | Indwelling catheter special | 0.00 | 0.00 | 0.00 | 0.00 | 0.00 | 0.00 | 0.00 | 0.00 | 0.00 | 0.00 | XXX
A4344 |  | P | Cath indw foley 2 way silicn | 0.00 | 0.00 | 0.00 | 0.00 | 0.00 | 0.00 | 0.00 | 0.00 | 0.00 | 0.00 | XXX
A4346 |  | P | Cath indw foley 3 way | 0.00 | 0.00 | 0.00 | 0.00 | 0.00 | 0.00 | 0.00 | 0.00 | 0.00 | 0.00 | XXX
A4347 |  | P | Male external catheter | 0.00 | 0.00 | 0.00 | 0.00 | 0.00 | 0.00 | 0.00 | 0.00 | 0.00 | 0.00 | XXX
A4348 |  | X | Male ext cath extended wear | 0.00 | 0.00 | 0.00 | 0.00 | 0.00 | 0.00 | 0.00 | 0.00 | 0.00 | 0.00 | XXX
A4351 |  | P | Straight tip urine catheter | 0.00 | 0.00 | 0.00 | 0.00 | 0.00 | 0.00 | 0.00 | 0.00 | 0.00 | 0.00 | XXX
A4352 |  | P | Coude tip urinary catheter | 0.00 | 0.00 | 0.00 | 0.00 | 0.00 | 0.00 | 0.00 | 0.00 | 0.00 | 0.00 | XXX
A4353 |  | X | Intermittent urinary cath | 0.00 | 0.00 | 0.00 | 0.00 | 0.00 | 0.00 | 0.00 | 0.00 | 0.00 | 0.00 | XXX
A4354 |  | P | Cath insertion tray w/bag | 0.00 | 0.00 | 0.00 | 0.00 | 0.00 | 0.00 | 0.00 | 0.00 | 0.00 | 0.00 | XXX
A4355 |  | P | Bladder irrigation tubing | 0.00 | 0.00 | 0.00 | 0.00 | 0.00 | 0.00 | 0.00 | 0.00 | 0.00 | 0.00 | XXX
A4356 |  | P | Ext ureth clmp or compr dvc | 0.00 | 0.00 | 0.00 | 0.00 | 0.00 | 0.00 | 0.00 | 0.00 | 0.00 | 0.00 | XXX
A4357 |  | P | Bedside drainage bag | 0.00 | 0.00 | 0.00 | 0.00 | 0.00 | 0.00 | 0.00 | 0.00 | 0.00 | 0.00 | XXX
A4358 |  | P | Urinary leg bag | 0.00 | 0.00 | 0.00 | 0.00 | 0.00 | 0.00 | 0.00 | 0.00 | 0.00 | 0.00 | XXX
A4359 |  | P | Urinary suspensory w/o leg b | 0.00 | 0.00 | 0.00 | 0.00 | 0.00 | 0.00 | 0.00 | 0.00 | 0.00 | 0.00 | XXX
A4361 |  | P | Ostomy face plate | 0.00 | 0.00 | 0.00 | 0.00 | 0.00 | 0.00 | 0.00 | 0.00 | 0.00 | 0.00 | XXX
A4362 |  | P | Solid skin barrier | 0.00 | 0.00 | 0.00 | 0.00 | 0.00 | 0.00 | 0.00 | 0.00 | 0.00 | 0.00 | XXX
A4364 |  | P | Liq adhes for facial prosth | 0.00 | 0.00 | 0.00 | 0.00 | 0.00 | 0.00 | 0.00 | 0.00 | 0.00 | 0.00 | XXX
A4365 |  | X | Adhesive remover wipes | 0.00 | 0.00 | 0.00 | 0.00 | 0.00 | 0.00 | 0.00 | 0.00 | 0.00 | 0.00 | XXX
A4367 |  | P | Ostomy belt | 0.00 | 0.00 | 0.00 | 0.00 | 0.00 | 0.00 | 0.00 | 0.00 | 0.00 | 0.00 | XXX
A4368 |  | X | Ostomy filter | 0.00 | 0.00 | 0.00 | 0.00 | 0.00 | 0.00 | 0.00 | 0.00 | 0.00 | 0.00 | XXX
A4369 |  | X | Skin barrier liquid per oz | 0.00 | 0.00 | 0.00 | 0.00 | 0.00 | 0.00 | 0.00 | 0.00 | 0.00 | 0.00 | XXX
A4370 |  | X | Skin barrier paste per oz | 0.00 | 0.00 | 0.00 | 0.00 | 0.00 | 0.00 | 0.00 | 0.00 | 0.00 | 0.00 | XXX
A4371 |  | X | Skin barrier powder per oz | 0.00 | 0.00 | 0.00 | 0.00 | 0.00 | 0.00 | 0.00 | 0.00 | 0.00 | 0.00 | XXX
A4372 |  | X | Skin barrier solid 4x4 equiv | 0.00 | 0.00 | 0.00 | 0.00 | 0.00 | 0.00 | 0.00 | 0.00 | 0.00 | 0.00 | XXX
A4373 |  | X | Skin barrier with flange | 0.00 | 0.00 | 0.00 | 0.00 | 0.00 | 0.00 | 0.00 | 0.00 | 0.00 | 0.00 | XXX
A4374 |  | X | Skin barrier extended wear | 0.00 | 0.00 | 0.00 | 0.00 | 0.00 | 0.00 | 0.00 | 0.00 | 0.00 | 0.00 | XXX
A4375 |  | X | Drainable plastic pch w fcpl | 0.00 | 0.00 | 0.00 | 0.00 | 0.00 | 0.00 | 0.00 | 0.00 | 0.00 | 0.00 | XXX
A4376 |  | X | Drainable rubber pch w fcplt | 0.00 | 0.00 | 0.00 | 0.00 | 0.00 | 0.00 | 0.00 | 0.00 | 0.00 | 0.00 | XXX
A4377 |  | X | Drainable plstic pch w/o fp | 0.00 | 0.00 | 0.00 | 0.00 | 0.00 | 0.00 | 0.00 | 0.00 | 0.00 | 0.00 | XXX
A4378 |  | X | Drainable rubber pch w/o fp | 0.00 | 0.00 | 0.00 | 0.00 | 0.00 | 0.00 | 0.00 | 0.00 | 0.00 | 0.00 | XXX
A4379 |  | X | Urinary plastic pouch w fcpl | 0.00 | 0.00 | 0.00 | 0.00 | 0.00 | 0.00 | 0.00 | 0.00 | 0.00 | 0.00 | XXX
A4380 |  | X | Urinary rubber pouch w fcplt | 0.00 | 0.00 | 0.00 | 0.00 | 0.00 | 0.00 | 0.00 | 0.00 | 0.00 | 0.00 | XXX
A4381 |  | X | Urinary plastic pouch w/o fp | 0.00 | 0.00 | 0.00 | 0.00 | 0.00 | 0.00 | 0.00 | 0.00 | 0.00 | 0.00 | XXX
A4382 |  | X | Urinary hvy plstc pch w/o fp | 0.00 | 0.00 | 0.00 | 0.00 | 0.00 | 0.00 | 0.00 | 0.00 | 0.00 | 0.00 | XXX
A4383 |  | X | Urinary rubber pouch w/o fp | 0.00 | 0.00 | 0.00 | 0.00 | 0.00 | 0.00 | 0.00 | 0.00 | 0.00 | 0.00 | XXX
A4384 |  | X | Ostomy faceplt/silicone ring | 0.00 | 0.00 | 0.00 | 0.00 | 0.00 | 0.00 | 0.00 | 0.00 | 0.00 | 0.00 | XXX
A4385 |  | X | Ost skn barrier sld ext wear | 0.00 | 0.00 | 0.00 | 0.00 | 0.00 | 0.00 | 0.00 | 0.00 | 0.00 | 0.00 | XXX
A4386 |  | X | Ost skn barrier w flng ex wr | 0.00 | 0.00 | 0.00 | 0.00 | 0.00 | 0.00 | 0.00 | 0.00 | 0.00 | 0.00 | XXX
A4387 |  | X | Ost clsd pouch w att st barr | 0.00 | 0.00 | 0.00 | 0.00 | 0.00 | 0.00 | 0.00 | 0.00 | 0.00 | 0.00 | XXX
A4388 |  | X | Drainable pch w ex wear barr | 0.00 | 0.00 | 0.00 | 0.00 | 0.00 | 0.00 | 0.00 | 0.00 | 0.00 | 0.00 | XXX
A4389 |  | X | Drainable pch w st wear barr | 0.00 | 0.00 | 0.00 | 0.00 | 0.00 | 0.00 | 0.00 | 0.00 | 0.00 | 0.00 | XXX
A4390 |  | X | Drainable pch ex wear convex | 0.00 | 0.00 | 0.00 | 0.00 | 0.00 | 0.00 | 0.00 | 0.00 | 0.00 | 0.00 | XXX
A4391 |  | X | Urinary pouch w ex wear barr | 0.00 | 0.00 | 0.00 | 0.00 | 0.00 | 0.00 | 0.00 | 0.00 | 0.00 | 0.00 | XXX
A4392 |  | X | Urinary pouch w st wear barr | 0.00 | 0.00 | 0.00 | 0.00 | 0.00 | 0.00 | 0.00 | 0.00 | 0.00 | 0.00 | XXX
A4393 |  | X | Urine pch w ex wear bar conv | 0.00 | 0.00 | 0.00 | 0.00 | 0.00 | 0.00 | 0.00 | 0.00 | 0.00 | 0.00 | XXX
A4394 |  | X | Ostomy pouch liq deodorant | 0.00 | 0.00 | 0.00 | 0.00 | 0.00 | 0.00 | 0.00 | 0.00 | 0.00 | 0.00 | XXX
A4395 |  | X | Ostomy pouch solid deodorant | 0.00 | 0.00 | 0.00 | 0.00 | 0.00 | 0.00 | 0.00 | 0.00 | 0.00 | 0.00 | XXX
A4396 |  | X | Peristomal hernia supprt blt | 0.00 | 0.00 | 0.00 | 0.00 | 0.00 | 0.00 | 0.00 | 0.00 | 0.00 | 0.00 | XXX
A4397 |  | P | Irrigation supply sleeve | 0.00 | 0.00 | 0.00 | 0.00 | 0.00 | 0.00 | 0.00 | 0.00 | 0.00 | 0.00 | XXX
A4398 |  | P | Ostomy irrigation bag | 0.00 | 0.00 | 0.00 | 0.00 | 0.00 | 0.00 | 0.00 | 0.00 | 0.00 | 0.00 | XXX
A4399 |  | P | Ostomy irrig cone/cath w brs | 0.00 | 0.00 | 0.00 | 0.00 | 0.00 | 0.00 | 0.00 | 0.00 | 0.00 | 0.00 | XXX
A4400 |  | P | Ostomy irrigation set | 0.00 | 0.00 | 0.00 | 0.00 | 0.00 | 0.00 | 0.00 | 0.00 | 0.00 | 0.00 | XXX
A4402 |  | P | Lubricant per ounce | 0.00 | 0.00 | 0.00 | 0.00 | 0.00 | 0.00 | 0.00 | 0.00 | 0.00 | 0.00 | XXX
A4404 |  | P | Ostomy ring each | 0.00 | 0.00 | 0.00 | 0.00 | 0.00 | 0.00 | 0.00 | 0.00 | 0.00 | 0.00 | XXX
A4421 |  | P | Ostomy supply misc | 0.00 | 0.00 | 0.00 | 0.00 | 0.00 | 0.00 | 0.00 | 0.00 | 0.00 | 0.00 | XXX
A4454 |  | P | Tape all types all sizes | 0.00 | 0.00 | 0.00 | 0.00 | 0.00 | 0.00 | 0.00 | 0.00 | 0.00 | 0.00 | XXX
A4455 |  | P | Adhesive remover per ounce | 0.00 | 0.00 | 0.00 | 0.00 | 0.00 | 0.00 | 0.00 | 0.00 | 0.00 | 0.00 | XXX
A4460 |  | P | Elastic compression bandage | 0.00 | 0.00 | 0.00 | 0.00 | 0.00 | 0.00 | 0.00 | 0.00 | 0.00 | 0.00 | XXX
A4462 |  | X | Abdmnl drssng holder/binder | 0.00 | 0.00 | 0.00 | 0.00 | 0.00 | 0.00 | 0.00 | 0.00 | 0.00 | 0.00 | XXX
A4464 |  | N | Joint support device/garment | 0.00 | 0.00 | 0.00 | 0.00 | 0.00 | 0.00 | 0.00 | 0.00 | 0.00 | 0.00 | XXX
A4465 |  | P | Non-elastic extremity binder | 0.00 | 0.00 | 0.00 | 0.00 | 0.00 | 0.00 | 0.00 | 0.00 | 0.00 | 0.00 | XXX
A4470 |  | P | Gravlee jet washer | 0.00 | 0.00 | 0.00 | 0.00 | 0.00 | 0.00 | 0.00 | 0.00 | 0.00 | 0.00 | XXX
A4480 |  | P | Vabra aspirator | 0.00 | 0.00 | 0.00 | 0.00 | 0.00 | 0.00 | 0.00 | 0.00 | 0.00 | 0.00 | XXX
A4481 |  | X | Tracheostoma filter | 0.00 | 0.00 | 0.00 | 0.00 | 0.00 | 0.00 | 0.00 | 0.00 | 0.00 | 0.00 | XXX
A4483 |  | X | Moisture exchanger | 0.00 | 0.00 | 0.00 | 0.00 | 0.00 | 0.00 | 0.00 | 0.00 | 0.00 | 0.00 | XXX
A4490 |  | N | Above knee surgical stocking | 0.00 | 0.00 | 0.00 | 0.00 | 0.00 | 0.00 | 0.00 | 0.00 | 0.00 | 0.00 | XXX
A4495 |  | N | Thigh length surg stocking | 0.00 | 0.00 | 0.00 | 0.00 | 0.00 | 0.00 | 0.00 | 0.00 | 0.00 | 0.00 | XXX
A4500 |  | N | Below knee surgical stocking | 0.00 | 0.00 | 0.00 | 0.00 | 0.00 | 0.00 | 0.00 | 0.00 | 0.00 | 0.00 | XXX
A4510 |  | N | Full length surg stocking | 0.00 | 0.00 | 0.00 | 0.00 | 0.00 | 0.00 | 0.00 | 0.00 | 0.00 | 0.00 | XXX
A4550 |  | A | Surgical trays | 0.00 | 0.00 | 0.26 | 0.00 | 0.26 | 0.00 | 0.00 | 0.26 | 0.00 | 0.26 | XXX
A4554 |  | N | Disposable underpads | 0.00 | 0.00 | 0.00 | 0.00 | 0.00 | 0.00 | 0.00 | 0.00 | 0.00 | 0.00 | XXX
A4556 |  | P | Electrodes, pair | 0.00 | 0.00 | 0.00 | 0.00 | 0.00 | 0.00 | 0.00 | 0.00 | 0.00 | 0.00 | XXX
A4557 |  | P | Lead wires, pair | 0.00 | 0.00 | 0.00 | 0.00 | 0.00 | 0.00 | 0.00 | 0.00 | 0.00 | 0.00 | XXX
A4558 |  | P | Conductive paste or gel | 0.00 | 0.00 | 0.00 | 0.00 | 0.00 | 0.00 | 0.00 | 0.00 | 0.00 | 0.00 | XXX
A4560 |  | D | Pessary | 0.00 | 0.00 | 0.00 | 0.00 | 0.00 | 0.00 | 0.00 | 0.00 | 0.00 | 0.00 | XXX
A4561 |  | X | Pessary rubber, any type | 0.00 | 0.00 | 0.00 | 0.00 | 0.00 | 0.00 | 0.00 | 0.00 | 0.00 | 0.00 | XXX
A4562 |  | X | Pessary, non rubber,any type | 0.00 | 0.00 | 0.00 | 0.00 | 0.00 | 0.00 | 0.00 | 0.00 | 0.00 | 0.00 | XXX
A4565 |  | X | Slings | 0.00 | 0.00 | 0.00 | 0.00 | 0.00 | 0.00 | 0.00 | 0.00 | 0.00 | 0.00 | XXX
A4570 |  | X | Splint | 0.00 | 0.00 | 0.00 | 0.00 | 0.00 | 0.00 | 0.00 | 0.00 | 0.00 | 0.00 | XXX
A4572 |  | X | Rib belt | 0.00 | 0.00 | 0.00 | 0.00 | 0.00 | 0.00 | 0.00 | 0.00 | 0.00 | 0.00 | XXX
A4575 |  | N | Hyperbaric o2 chamber disps | 0.00 | 0.00 | 0.00 | 0.00 | 0.00 | 0.00 | 0.00 | 0.00 | 0.00 | 0.00 | XXX
A4580 |  | X | Cast supplies (plaster) | 0.00 | 0.00 | 0.00 | 0.00 | 0.00 | 0.00 | 0.00 | 0.00 | 0.00 | 0.00 | XXX
A4590 |  | X | Special casting material | 0.00 | 0.00 | 0.00 | 0.00 | 0.00 | 0.00 | 0.00 | 0.00 | 0.00 | 0.00 | XXX
A4595 |  | X | TENS suppl 2 lead per month | 0.00 | 0.00 | 0.00 | 0.00 | 0.00 | 0.00 | 0.00 | 0.00 | 0.00 | 0.00 | XXX
A4608 |  | X | Transtracheal oxygen cath | 0.00 | 0.00 | 0.00 | 0.00 | 0.00 | 0.00 | 0.00 | 0.00 | 0.00 | 0.00 | XXX
A4611 |  | X | Heavy duty battery | 0.00 | 0.00 | 0.00 | 0.00 | 0.00 | 0.00 | 0.00 | 0.00 | 0.00 | 0.00 | XXX
A4612 |  | X | Battery cables | 0.00 | 0.00 | 0.00 | 0.00 | 0.00 | 0.00 | 0.00 | 0.00 | 0.00 | 0.00 | XXX
A4613 |  | X | Battery charger | 0.00 | 0.00 | 0.00 | 0.00 | 0.00 | 0.00 | 0.00 | 0.00 | 0.00 | 0.00 | XXX
A4614 |  | X | Hand-held PEFR meter | 0.00 | 0.00 | 0.00 | 0.00 | 0.00 | 0.00 | 0.00 | 0.00 | 0.00 | 0.00 | XXX
A4615 |  | X | Cannula nasal | 0.00 | 0.00 | 0.00 | 0.00 | 0.00 | 0.00 | 0.00 | 0.00 | 0.00 | 0.00 | XXX
A4616 |  | X | Tubing (oxygen) per foot | 0.00 | 0.00 | 0.00 | 0.00 | 0.00 | 0.00 | 0.00 | 0.00 | 0.00 | 0.00 | XXX
A4617 |  | X | Mouth piece | 0.00 | 0.00 | 0.00 | 0.00 | 0.00 | 0.00 | 0.00 | 0.00 | 0.00 | 0.00 | XXX
A4618 |  | X | Breathing circuits | 0.00 | 0.00 | 0.00 | 0.00 | 0.00 | 0.00 | 0.00 | 0.00 | 0.00 | 0.00 | XXX
A4619 |  | X | Face tent | 0.00 | 0.00 | 0.00 | 0.00 | 0.00 | 0.00 | 0.00 | 0.00 | 0.00 | 0.00 | XXX
A4620 |  | X | Variable concentration mask | 0.00 | 0.00 | 0.00 | 0.00 | 0.00 | 0.00 | 0.00 | 0.00 | 0.00 | 0.00 | XXX
A4621 |  | X | Tracheotomy mask or collar | 0.00 | 0.00 | 0.00 | 0.00 | 0.00 | 0.00 | 0.00 | 0.00 | 0.00 | 0.00 | XXX
A4622 |  | X | Tracheostomy or larngectomy | 0.00 | 0.00 | 0.00 | 0.00 | 0.00 | 0.00 | 0.00 | 0.00 | 0.00 | 0.00 | XXX
A4623 |  | X | Tracheostomy inner cannula | 0.00 | 0.00 | 0.00 | 0.00 | 0.00 | 0.00 | 0.00 | 0.00 | 0.00 | 0.00 | XXX
A4624 |  | X | Tracheal suction tube | 0.00 | 0.00 | 0.00 | 0.00 | 0.00 | 0.00 | 0.00 | 0.00 | 0.00 | 0.00 | XXX
A4625 |  | X | Trach care kit for new trach | 0.00 | 0.00 | 0.00 | 0.00 | 0.00 | 0.00 | 0.00 | 0.00 | 0.00 | 0.00 | XXX
A4626 |  | X | Tracheostomy cleaning brush | 0.00 | 0.00 | 0.00 | 0.00 | 0.00 | 0.00 | 0.00 | 0.00 | 0.00 | 0.00 | XXX
A4627 |  | N | Spacer bag/reservoir | 0.00 | 0.00 | 0.00 | 0.00 | 0.00 | 0.00 | 0.00 | 0.00 | 0.00 | 0.00 | XXX
A4628 |  | X | Oropharyngeal suction cath | 0.00 | 0.00 | 0.00 | 0.00 | 0.00 | 0.00 | 0.00 | 0.00 | 0.00 | 0.00 | XXX
A4629 |  | X | Tracheostomy care kit | 0.00 | 0.00 | 0.00 | 0.00 | 0.00 | 0.00 | 0.00 | 0.00 | 0.00 | 0.00 | XXX
A4630 |  | X | Repl bat t.e.n.s. own by pt | 0.00 | 0.00 | 0.00 | 0.00 | 0.00 | 0.00 | 0.00 | 0.00 | 0.00 | 0.00 | XXX
A4631 |  | X | Wheelchair battery | 0.00 | 0.00 | 0.00 | 0.00 | 0.00 | 0.00 | 0.00 | 0.00 | 0.00 | 0.00 | XXX
A4635 |  | X | Underarm crutch pad | 0.00 | 0.00 | 0.00 | 0.00 | 0.00 | 0.00 | 0.00 | 0.00 | 0.00 | 0.00 | XXX
A4636 |  | X | Handgrip for cane etc | 0.00 | 0.00 | 0.00 | 0.00 | 0.00 | 0.00 | 0.00 | 0.00 | 0.00 | 0.00 | XXX
A4637 |  | X | Repl tip cane/crutch/walker | 0.00 | 0.00 | 0.00 | 0.00 | 0.00 | 0.00 | 0.00 | 0.00 | 0.00 | 0.00 | XXX
A4640 |  | X | Alternating pressure pad | 0.00 | 0.00 | 0.00 | 0.00 | 0.00 | 0.00 | 0.00 | 0.00 | 0.00 | 0.00 | XXX
A4641 |  | E | Diagnostic imaging agent | 0.00 | 0.00 | 0.00 | 0.00 | 0.00 | 0.00 | 0.00 | 0.00 | 0.00 | 0.00 | XXX
A4642 |  | E | Satumomab pendetide per dose | 0.00 | 0.00 | 0.00 | 0.00 | 0.00 | 0.00 | 0.00 | 0.00 | 0.00 | 0.00 | XXX
A4643 |  | E | High dose contrast MRI | 0.00 | 0.00 | 0.00 | 0.00 | 0.00 | 0.00 | 0.00 | 0.00 | 0.00 | 0.00 | XXX
A4644 |  | E | Contrast 100-199 MGs iodine | 0.00 | 0.00 | 0.00 | 0.00 | 0.00 | 0.00 | 0.00 | 0.00 | 0.00 | 0.00 | XXX
A4645 |  | E | Contrast 200-299 MGs iodine | 0.00 | 0.00 | 0.00 | 0.00 | 0.00 | 0.00 | 0.00 | 0.00 | 0.00 | 0.00 | XXX
A4646 |  | E | Contrast 300-399 MGs iodine | 0.00 | 0.00 | 0.00 | 0.00 | 0.00 | 0.00 | 0.00 | 0.00 | 0.00 | 0.00 | XXX
A4647 |  | B | Supp- paramagnetic contr mat | 0.00 | 0.00 | 0.00 | 0.00 | 0.00 | 0.00 | 0.00 | 0.00 | 0.00 | 0.00 | XXX
A4649 |  | P | Surgical supplies | 0.00 | 0.00 | 0.00 | 0.00 | 0.00 | 0.00 | 0.00 | 0.00 | 0.00 | 0.00 | XXX
A4650 |  | X | Supp esrd centrifuge | 0.00 | 0.00 | 0.00 | 0.00 | 0.00 | 0.00 | 0.00 | 0.00 | 0.00 | 0.00 | XXX
A4655 |  | X | Esrd syringe/needle | 0.00 | 0.00 | 0.00 | 0.00 | 0.00 | 0.00 | 0.00 | 0.00 | 0.00 | 0.00 | XXX
A4660 |  | X | Esrd blood pressure device | 0.00 | 0.00 | 0.00 | 0.00 | 0.00 | 0.00 | 0.00 | 0.00 | 0.00 | 0.00 | XXX
A4663 |  | X | Esrd blood pressure cuff | 0.00 | 0.00 | 0.00 | 0.00 | 0.00 | 0.00 | 0.00 | 0.00 | 0.00 | 0.00 | XXX
A4670 |  | N | Auto blood pressure monitor | 0.00 | 0.00 | 0.00 | 0.00 | 0.00 | 0.00 | 0.00 | 0.00 | 0.00 | 0.00 | XXX
A4680 |  | X | Activated carbon filters | 0.00 | 0.00 | 0.00 | 0.00 | 0.00 | 0.00 | 0.00 | 0.00 | 0.00 | 0.00 | XXX
A4690 |  | X | Dialyzers | 0.00 | 0.00 | 0.00 | 0.00 | 0.00 | 0.00 | 0.00 | 0.00 | 0.00 | 0.00 | XXX
A4700 |  | X | Standard dialysate solution | 0.00 | 0.00 | 0.00 | 0.00 | 0.00 | 0.00 | 0.00 | 0.00 | 0.00 | 0.00 | XXX
A4705 |  | X | Bicarb dialysate solution | 0.00 | 0.00 | 0.00 | 0.00 | 0.00 | 0.00 | 0.00 | 0.00 | 0.00 | 0.00 | XXX
A4712 |  | X | Sterile water | 0.00 | 0.00 | 0.00 | 0.00 | 0.00 | 0.00 | 0.00 | 0.00 | 0.00 | 0.00 | XXX
A4714 |  | X | Treated water for dialysis | 0.00 | 0.00 | 0.00 | 0.00 | 0.00 | 0.00 | 0.00 | 0.00 | 0.00 | 0.00 | XXX
A4730 |  | X | Fistula cannulation set dial | 0.00 | 0.00 | 0.00 | 0.00 | 0.00 | 0.00 | 0.00 | 0.00 | 0.00 | 0.00 | XXX
A4735 |  | X | Local/topical anesthetics | 0.00 | 0.00 | 0.00 | 0.00 | 0.00 | 0.00 | 0.00 | 0.00 | 0.00 | 0.00 | XXX
A4740 |  | X | Esrd shunt accessory | 0.00 | 0.00 | 0.00 | 0.00 | 0.00 | 0.00 | 0.00 | 0.00 | 0.00 | 0.00 | XXX
A4750 |  | X | Arterial or venous tubing | 0.00 | 0.00 | 0.00 | 0.00 | 0.00 | 0.00 | 0.00 | 0.00 | 0.00 | 0.00 | XXX
A4755 |  | X | Arterial and venous tubing | 0.00 | 0.00 | 0.00 | 0.00 | 0.00 | 0.00 | 0.00 | 0.00 | 0.00 | 0.00 | XXX
A4760 |  | X | Standard testing solution | 0.00 | 0.00 | 0.00 | 0.00 | 0.00 | 0.00 | 0.00 | 0.00 | 0.00 | 0.00 | XXX
A4765 |  | X | Dialysate concentrate | 0.00 | 0.00 | 0.00 | 0.00 | 0.00 | 0.00 | 0.00 | 0.00 | 0.00 | 0.00 | XXX
A4770 |  | X | Blood testing supplies | 0.00 | 0.00 | 0.00 | 0.00 | 0.00 | 0.00 | 0.00 | 0.00 | 0.00 | 0.00 | XXX
A4771 |  | X | Blood clotting time tube | 0.00 | 0.00 | 0.00 | 0.00 | 0.00 | 0.00 | 0.00 | 0.00 | 0.00 | 0.00 | XXX
A4772 |  | X | Dextrostick/glucose strips | 0.00 | 0.00 | 0.00 | 0.00 | 0.00 | 0.00 | 0.00 | 0.00 | 0.00 | 0.00 | XXX
A4773 |  | X | Hemostix | 0.00 | 0.00 | 0.00 | 0.00 | 0.00 | 0.00 | 0.00 | 0.00 | 0.00 | 0.00 | XXX
A4774 |  | X | Ammonia test paper | 0.00 | 0.00 | 0.00 | 0.00 | 0.00 | 0.00 | 0.00 | 0.00 | 0.00 | 0.00 | XXX
A4780 |  | X | Esrd sterilizing agent | 0.00 | 0.00 | 0.00 | 0.00 | 0.00 | 0.00 | 0.00 | 0.00 | 0.00 | 0.00 | XXX
A4790 |  | X | Esrd cleansing agents | 0.00 | 0.00 | 0.00 | 0.00 | 0.00 | 0.00 | 0.00 | 0.00 | 0.00 | 0.00 | XXX
A4800 |  | X | Heparin/antidote dialysis | 0.00 | 0.00 | 0.00 | 0.00 | 0.00 | 0.00 | 0.00 | 0.00 | 0.00 | 0.00 | XXX
A4820 |  | X | Supplies hemodialysis kit | 0.00 | 0.00 | 0.00 | 0.00 | 0.00 | 0.00 | 0.00 | 0.00 | 0.00 | 0.00 | XXX
A4850 |  | X | Rubber tipped hemostats | 0.00 | 0.00 | 0.00 | 0.00 | 0.00 | 0.00 | 0.00 | 0.00 | 0.00 | 0.00 | XXX
A4860 |  | X | Disposable catheter caps | 0.00 | 0.00 | 0.00 | 0.00 | 0.00 | 0.00 | 0.00 | 0.00 | 0.00 | 0.00 | XXX
A4870 |  | X | Plumbing/electrical work | 0.00 | 0.00 | 0.00 | 0.00 | 0.00 | 0.00 | 0.00 | 0.00 | 0.00 | 0.00 | XXX
A4880 |  | X | Water storage tanks | 0.00 | 0.00 | 0.00 | 0.00 | 0.00 | 0.00 | 0.00 | 0.00 | 0.00 | 0.00 | XXX
A4890 |  | R | Contracts/repair/maintenance | 0.00 | 0.00 | 0.00 | 0.00 | 0.00 | 0.00 | 0.00 | 0.00 | 0.00 | 0.00 | XXX
A4900 |  | X | Capd supply kit | 0.00 | 0.00 | 0.00 | 0.00 | 0.00 | 0.00 | 0.00 | 0.00 | 0.00 | 0.00 | XXX
A4901 |  | X | Ccpd supply kit | 0.00 | 0.00 | 0.00 | 0.00 | 0.00 | 0.00 | 0.00 | 0.00 | 0.00 | 0.00 | XXX
A4905 |  | X | Ipd supply kit | 0.00 | 0.00 | 0.00 | 0.00 | 0.00 | 0.00 | 0.00 | 0.00 | 0.00 | 0.00 | XXX
A4910 |  | X | Esrd nonmedical supplies | 0.00 | 0.00 | 0.00 | 0.00 | 0.00 | 0.00 | 0.00 | 0.00 | 0.00 | 0.00 | XXX
A4912 |  | X | Gomco drain bottle | 0.00 | 0.00 | 0.00 | 0.00 | 0.00 | 0.00 | 0.00 | 0.00 | 0.00 | 0.00 | XXX
A4913 |  | X | Esrd supply | 0.00 | 0.00 | 0.00 | 0.00 | 0.00 | 0.00 | 0.00 | 0.00 | 0.00 | 0.00 | XXX
A4914 |  | X | Preparation kit | 0.00 | 0.00 | 0.00 | 0.00 | 0.00 | 0.00 | 0.00 | 0.00 | 0.00 | 0.00 | XXX
A4918 |  | X | Venous pressure clamp | 0.00 | 0.00 | 0.00 | 0.00 | 0.00 | 0.00 | 0.00 | 0.00 | 0.00 | 0.00 | XXX
A4919 |  | X | Supp dialysis dialyzer holde | 0.00 | 0.00 | 0.00 | 0.00 | 0.00 | 0.00 | 0.00 | 0.00 | 0.00 | 0.00 | XXX
A4920 |  | X | Harvard pressure clamp | 0.00 | 0.00 | 0.00 | 0.00 | 0.00 | 0.00 | 0.00 | 0.00 | 0.00 | 0.00 | XXX
A4921 |  | X | Measuring cylinder | 0.00 | 0.00 | 0.00 | 0.00 | 0.00 | 0.00 | 0.00 | 0.00 | 0.00 | 0.00 | XXX
A4927 |  | X | Gloves | 0.00 | 0.00 | 0.00 | 0.00 | 0.00 | 0.00 | 0.00 | 0.00 | 0.00 | 0.00 | XXX
A5051 |  | P | Pouch clsd w barr attached | 0.00 | 0.00 | 0.00 | 0.00 | 0.00 | 0.00 | 0.00 | 0.00 | 0.00 | 0.00 | XXX
A5052 |  | P | Clsd ostomy pouch w/o barr | 0.00 | 0.00 | 0.00 | 0.00 | 0.00 | 0.00 | 0.00 | 0.00 | 0.00 | 0.00 | XXX
A5053 |  | P | Clsd ostomy pouch faceplate | 0.00 | 0.00 | 0.00 | 0.00 | 0.00 | 0.00 | 0.00 | 0.00 | 0.00 | 0.00 | XXX
A5054 |  | P | Clsd ostomy pouch w/flange | 0.00 | 0.00 | 0.00 | 0.00 | 0.00 | 0.00 | 0.00 | 0.00 | 0.00 | 0.00 | XXX
A5055 |  | P | Stoma cap | 0.00 | 0.00 | 0.00 | 0.00 | 0.00 | 0.00 | 0.00 | 0.00 | 0.00 | 0.00 | XXX
A5061 |  | P | Pouch drainable w barrier at | 0.00 | 0.00 | 0.00 | 0.00 | 0.00 | 0.00 | 0.00 | 0.00 | 0.00 | 0.00 | XXX
A5062 |  | P | Drnble ostomy pouch w/o barr | 0.00 | 0.00 | 0.00 | 0.00 | 0.00 | 0.00 | 0.00 | 0.00 | 0.00 | 0.00 | XXX
A5063 |  | P | Drain ostomy pouch w/flange | 0.00 | 0.00 | 0.00 | 0.00 | 0.00 | 0.00 | 0.00 | 0.00 | 0.00 | 0.00 | XXX
A5064 |  | I | Drain ostomy pouch w/fceplte | 0.00 | 0.00 | 0.00 | 0.00 | 0.00 | 0.00 | 0.00 | 0.00 | 0.00 | 0.00 | XXX
A5065 |  | D | Drain ostomy pouch on fcplte | 0.00 | 0.00 | 0.00 | 0.00 | 0.00 | 0.00 | 0.00 | 0.00 | 0.00 | 0.00 | XXX
A5071 |  | P | Urinary pouch w/barrier | 0.00 | 0.00 | 0.00 | 0.00 | 0.00 | 0.00 | 0.00 | 0.00 | 0.00 | 0.00 | XXX
A5072 |  | P | Urinary pouch w/o barrier | 0.00 | 0.00 | 0.00 | 0.00 | 0.00 | 0.00 | 0.00 | 0.00 | 0.00 | 0.00 | XXX
A5073 |  | P | Urinary pouch on barr w/flng | 0.00 | 0.00 | 0.00 | 0.00 | 0.00 | 0.00 | 0.00 | 0.00 | 0.00 | 0.00 | XXX
A5074 |  | I | Urinary pouch w/faceplate | 0.00 | 0.00 | 0.00 | 0.00 | 0.00 | 0.00 | 0.00 | 0.00 | 0.00 | 0.00 | XXX
A5075 |  | I | Urinary pouch on faceplate | 0.00 | 0.00 | 0.00 | 0.00 | 0.00 | 0.00 | 0.00 | 0.00 | 0.00 | 0.00 | XXX
A5081 |  | P | Continent stoma plug | 0.00 | 0.00 | 0.00 | 0.00 | 0.00 | 0.00 | 0.00 | 0.00 | 0.00 | 0.00 | XXX
A5082 |  | P | Continent stoma catheter | 0.00 | 0.00 | 0.00 | 0.00 | 0.00 | 0.00 | 0.00 | 0.00 | 0.00 | 0.00 | XXX
A5093 |  | P | Ostomy accessory convex inse | 0.00 | 0.00 | 0.00 | 0.00 | 0.00 | 0.00 | 0.00 | 0.00 | 0.00 | 0.00 | XXX
A5102 |  | P | Bedside drain btl w/wo tube | 0.00 | 0.00 | 0.00 | 0.00 | 0.00 | 0.00 | 0.00 | 0.00 | 0.00 | 0.00 | XXX
A5105 |  | P | Urinary suspensory | 0.00 | 0.00 | 0.00 | 0.00 | 0.00 | 0.00 | 0.00 | 0.00 | 0.00 | 0.00 | XXX
A5112 |  | P | Urinary leg bag | 0.00 | 0.00 | 0.00 | 0.00 | 0.00 | 0.00 | 0.00 | 0.00 | 0.00 | 0.00 | XXX
A5113 |  | P | Latex leg strap | 0.00 | 0.00 | 0.00 | 0.00 | 0.00 | 0.00 | 0.00 | 0.00 | 0.00 | 0.00 | XXX
A5114 |  | P | Foam/fabric leg strap | 0.00 | 0.00 | 0.00 | 0.00 | 0.00 | 0.00 | 0.00 | 0.00 | 0.00 | 0.00 | XXX
A5119 |  | P | Skin barrier wipes box pr 50 | 0.00 | 0.00 | 0.00 | 0.00 | 0.00 | 0.00 | 0.00 | 0.00 | 0.00 | 0.00 | XXX
A5121 |  | P | Solid skin barrier 6x6 | 0.00 | 0.00 | 0.00 | 0.00 | 0.00 | 0.00 | 0.00 | 0.00 | 0.00 | 0.00 | XXX
A5122 |  | P | Solid skin barrier 8x8 | 0.00 | 0.00 | 0.00 | 0.00 | 0.00 | 0.00 | 0.00 | 0.00 | 0.00 | 0.00 | XXX
A5123 |  | P | Skin barrier with flange | 0.00 | 0.00 | 0.00 | 0.00 | 0.00 | 0.00 | 0.00 | 0.00 | 0.00 | 0.00 | XXX
A5126 |  | P | Disk/foam pad +or- adhesive | 0.00 | 0.00 | 0.00 | 0.00 | 0.00 | 0.00 | 0.00 | 0.00 | 0.00 | 0.00 | XXX
A5131 |  | P | Appliance cleaner | 0.00 | 0.00 | 0.00 | 0.00 | 0.00 | 0.00 | 0.00 | 0.00 | 0.00 | 0.00 | XXX
A5149 |  | D | Incontinence/ostomy supply | 0.00 | 0.00 | 0.00 | 0.00 | 0.00 | 0.00 | 0.00 | 0.00 | 0.00 | 0.00 | XXX
A5200 |  | X | Percutaneous catheter anchor | 0.00 | 0.00 | 0.00 | 0.00 | 0.00 | 0.00 | 0.00 | 0.00 | 0.00 | 0.00 | XXX
A5500 |  | X | Diab shoe for density insert | 0.00 | 0.00 | 0.00 | 0.00 | 0.00 | 0.00 | 0.00 | 0.00 | 0.00 | 0.00 | XXX
A5501 |  | X | Diabetic custom molded shoe | 0.00 | 0.00 | 0.00 | 0.00 | 0.00 | 0.00 | 0.00 | 0.00 | 0.00 | 0.00 | XXX
A5502 |  | X | Diabetic shoe density insert | 0.00 | 0.00 | 0.00 | 0.00 | 0.00 | 0.00 | 0.00 | 0.00 | 0.00 | 0.00 | XXX
A5503 |  | X | Diabetic shoe w/roller/rockr | 0.00 | 0.00 | 0.00 | 0.00 | 0.00 | 0.00 | 0.00 | 0.00 | 0.00 | 0.00 | XXX
A5504 |  | X | Diabetic shoe with wedge | 0.00 | 0.00 | 0.00 | 0.00 | 0.00 | 0.00 | 0.00 | 0.00 | 0.00 | 0.00 | XXX
A5505 |  | X | Diab shoe w/metatarsal bar | 0.00 | 0.00 | 0.00 | 0.00 | 0.00 | 0.00 | 0.00 | 0.00 | 0.00 | 0.00 | XXX
A5506 |  | X | Diabetic shoe w/off set heel | 0.00 | 0.00 | 0.00 | 0.00 | 0.00 | 0.00 | 0.00 | 0.00 | 0.00 | 0.00 | XXX
A5507 |  | X | Modification diabetic shoe | 0.00 | 0.00 | 0.00 | 0.00 | 0.00 | 0.00 | 0.00 | 0.00 | 0.00 | 0.00 | XXX
A5508 |  | X | Diabetic deluxe shoe | 0.00 | 0.00 | 0.00 | 0.00 | 0.00 | 0.00 | 0.00 | 0.00 | 0.00 | 0.00 | XXX
A6020 |  | P | Collagen wound dressing | 0.00 | 0.00 | 0.00 | 0.00 | 0.00 | 0.00 | 0.00 | 0.00 | 0.00 | 0.00 | XXX
A6021 |  | X | Collagen dressing <=16 sq in | 0.00 | 0.00 | 0.00 | 0.00 | 0.00 | 0.00 | 0.00 | 0.00 | 0.00 | 0.00 | XXX
A6022 |  | X | Collagen drsg>6<=48 sq in | 0.00 | 0.00 | 0.00 | 0.00 | 0.00 | 0.00 | 0.00 | 0.00 | 0.00 | 0.00 | XXX
A6023 |  | X | Collagen dressing >48 sq in | 0.00 | 0.00 | 0.00 | 0.00 | 0.00 | 0.00 | 0.00 | 0.00 | 0.00 | 0.00 | XXX
A6024 |  | X | Collagen dsg wound filler | 0.00 | 0.00 | 0.00 | 0.00 | 0.00 | 0.00 | 0.00 | 0.00 | 0.00 | 0.00 | XXX
A6025 |  | I | Silicone gel sheet, each | 0.00 | 0.00 | 0.00 | 0.00 | 0.00 | 0.00 | 0.00 | 0.00 | 0.00 | 0.00 | XXX
A6154 |  | P | Wound pouch each | 0.00 | 0.00 | 0.00 | 0.00 | 0.00 | 0.00 | 0.00 | 0.00 | 0.00 | 0.00 | XXX
A6196 |  | P | Alginate dressing <=16 sq in | 0.00 | 0.00 | 0.00 | 0.00 | 0.00 | 0.00 | 0.00 | 0.00 | 0.00 | 0.00 | XXX
A6197 |  | P | Alginate drsg >16 <=48 sq in | 0.00 | 0.00 | 0.00 | 0.00 | 0.00 | 0.00 | 0.00 | 0.00 | 0.00 | 0.00 | XXX
A6198 |  | P | alginate dressing > 48 sq in | 0.00 | 0.00 | 0.00 | 0.00 | 0.00 | 0.00 | 0.00 | 0.00 | 0.00 | 0.00 | XXX
A6199 |  | P | Alginate drsg wound filler | 0.00 | 0.00 | 0.00 | 0.00 | 0.00 | 0.00 | 0.00 | 0.00 | 0.00 | 0.00 | XXX
A6200 |  | X | Compos drsg <=16 no border | 0.00 | 0.00 | 0.00 | 0.00 | 0.00 | 0.00 | 0.00 | 0.00 | 0.00 | 0.00 | XXX
A6201 |  | X | Compos drsg >16<=48 no bdr | 0.00 | 0.00 | 0.00 | 0.00 | 0.00 | 0.00 | 0.00 | 0.00 | 0.00 | 0.00 | XXX
A6202 |  | X | Compos drsg >48 no border | 0.00 | 0.00 | 0.00 | 0.00 | 0.00 | 0.00 | 0.00 | 0.00 | 0.00 | 0.00 | XXX
A6203 |  | P | Composite drsg <= 16 sq in | 0.00 | 0.00 | 0.00 | 0.00 | 0.00 | 0.00 | 0.00 | 0.00 | 0.00 | 0.00 | XXX
A6204 |  | P | Composite drsg >16<=48 sq in | 0.00 | 0.00 | 0.00 | 0.00 | 0.00 | 0.00 | 0.00 | 0.00 | 0.00 | 0.00 | XXX
A6205 |  | P | Composite drsg > 48 sq in | 0.00 | 0.00 | 0.00 | 0.00 | 0.00 | 0.00 | 0.00 | 0.00 | 0.00 | 0.00 | XXX
A6206 |  | P | Contact layer <= 16 sq in | 0.00 | 0.00 | 0.00 | 0.00 | 0.00 | 0.00 | 0.00 | 0.00 | 0.00 | 0.00 | XXX
A6207 |  | P | Contact layer >16<= 48 sq in | 0.00 | 0.00 | 0.00 | 0.00 | 0.00 | 0.00 | 0.00 | 0.00 | 0.00 | 0.00 | XXX
A6208 |  | P | Contact layer > 48 sq in | 0.00 | 0.00 | 0.00 | 0.00 | 0.00 | 0.00 | 0.00 | 0.00 | 0.00 | 0.00 | XXX
A6209 |  | P | Foam drsg <=16 sq in w/o bdr | 0.00 | 0.00 | 0.00 | 0.00 | 0.00 | 0.00 | 0.00 | 0.00 | 0.00 | 0.00 | XXX
A6210 |  | P | Foam drg >16<=48 sq in w/o b | 0.00 | 0.00 | 0.00 | 0.00 | 0.00 | 0.00 | 0.00 | 0.00 | 0.00 | 0.00 | XXX
A6211 |  | P | Foam drg > 48 sq in w/o brdr | 0.00 | 0.00 | 0.00 | 0.00 | 0.00 | 0.00 | 0.00 | 0.00 | 0.00 | 0.00 | XXX
A6212 |  | P | Foam drg <=16 sq in w/border | 0.00 | 0.00 | 0.00 | 0.00 | 0.00 | 0.00 | 0.00 | 0.00 | 0.00 | 0.00 | XXX
A6213 |  | P | Foam drg >16<=48 sq in w/bdr | 0.00 | 0.00 | 0.00 | 0.00 | 0.00 | 0.00 | 0.00 | 0.00 | 0.00 | 0.00 | XXX
A6214 |  | P | Foam drg > 48 sq in w/border | 0.00 | 0.00 | 0.00 | 0.00 | 0.00 | 0.00 | 0.00 | 0.00 | 0.00 | 0.00 | XXX
A6215 |  | P | Foam dressing wound filler | 0.00 | 0.00 | 0.00 | 0.00 | 0.00 | 0.00 | 0.00 | 0.00 | 0.00 | 0.00 | XXX
A6216 |  | P | Non-sterile gauze<=16 sq in | 0.00 | 0.00 | 0.00 | 0.00 | 0.00 | 0.00 | 0.00 | 0.00 | 0.00 | 0.00 | XXX
A6217 |  | P | Non-sterile gauze>16<=48 sq | 0.00 | 0.00 | 0.00 | 0.00 | 0.00 | 0.00 | 0.00 | 0.00 | 0.00 | 0.00 | XXX
A6218 |  | P | Non-sterile gauze > 48 sq in | 0.00 | 0.00 | 0.00 | 0.00 | 0.00 | 0.00 | 0.00 | 0.00 | 0.00 | 0.00 | XXX
A6219 |  | P | Gauze <= 16 sq in w/border | 0.00 | 0.00 | 0.00 | 0.00 | 0.00 | 0.00 | 0.00 | 0.00 | 0.00 | 0.00 | XXX
A6220 |  | P | Gauze >16 <=48 sq in w/bordr | 0.00 | 0.00 | 0.00 | 0.00 | 0.00 | 0.00 | 0.00 | 0.00 | 0.00 | 0.00 | XXX
A6221 |  | P | Gauze > 48 sq in w/border | 0.00 | 0.00 | 0.00 | 0.00 | 0.00 | 0.00 | 0.00 | 0.00 | 0.00 | 0.00 | XXX
A6222 |  | P | Gauze <=16 in no w/sal w/o b | 0.00 | 0.00 | 0.00 | 0.00 | 0.00 | 0.00 | 0.00 | 0.00 | 0.00 | 0.00 | XXX
A6223 |  | P | Gauze >16<=48 no w/sal w/o b | 0.00 | 0.00 | 0.00 | 0.00 | 0.00 | 0.00 | 0.00 | 0.00 | 0.00 | 0.00 | XXX
A6224 |  | P | Gauze > 48 in no w/sal w/o b | 0.00 | 0.00 | 0.00 | 0.00 | 0.00 | 0.00 | 0.00 | 0.00 | 0.00 | 0.00 | XXX
A6228 |  | P | Gauze <= 16 sq in water/sal | 0.00 | 0.00 | 0.00 | 0.00 | 0.00 | 0.00 | 0.00 | 0.00 | 0.00 | 0.00 | XXX
A6229 |  | P | Gauze >16<=48 sq in watr/sal | 0.00 | 0.00 | 0.00 | 0.00 | 0.00 | 0.00 | 0.00 | 0.00 | 0.00 | 0.00 | XXX
A6230 |  | P | Gauze > 48 sq in water/salne | 0.00 | 0.00 | 0.00 | 0.00 | 0.00 | 0.00 | 0.00 | 0.00 | 0.00 | 0.00 | XXX
A6231 |  | X | Hydrogel dsg<=16 sq in | 0.00 | 0.00 | 0.00 | 0.00 | 0.00 | 0.00 | 0.00 | 0.00 | 0.00 | 0.00 | XXX
A6232 |  | X | Hydrogel dsg>16<=48 sq in | 0.00 | 0.00 | 0.00 | 0.00 | 0.00 | 0.00 | 0.00 | 0.00 | 0.00 | 0.00 | XXX
A6233 |  | X | Hydrogel dressing >48 sq in | 0.00 | 0.00 | 0.00 | 0.00 | 0.00 | 0.00 | 0.00 | 0.00 | 0.00 | 0.00 | XXX
A6234 |  | P | Hydrocolld drg <=16 w/o bdr | 0.00 | 0.00 | 0.00 | 0.00 | 0.00 | 0.00 | 0.00 | 0.00 | 0.00 | 0.00 | XXX
A6235 |  | P | Hydrocolld drg >16<=48 w/o b | 0.00 | 0.00 | 0.00 | 0.00 | 0.00 | 0.00 | 0.00 | 0.00 | 0.00 | 0.00 | XXX
A6236 |  | P | Hydrocolld drg > 48 in w/o b | 0.00 | 0.00 | 0.00 | 0.00 | 0.00 | 0.00 | 0.00 | 0.00 | 0.00 | 0.00 | XXX
A6237 |  | P | Hydrocolld drg <=16 in w/bdr | 0.00 | 0.00 | 0.00 | 0.00 | 0.00 | 0.00 | 0.00 | 0.00 | 0.00 | 0.00 | XXX
A6238 |  | P | Hydrocolld drg >16<=48 w/bdr | 0.00 | 0.00 | 0.00 | 0.00 | 0.00 | 0.00 | 0.00 | 0.00 | 0.00 | 0.00 | XXX
A6239 |  | P | Hydrocolld drg > 48 in w/bdr | 0.00 | 0.00 | 0.00 | 0.00 | 0.00 | 0.00 | 0.00 | 0.00 | 0.00 | 0.00 | XXX
A6240 |  | P | Hydrocolld drg filler paste | 0.00 | 0.00 | 0.00 | 0.00 | 0.00 | 0.00 | 0.00 | 0.00 | 0.00 | 0.00 | XXX
A6241 |  | P | Hydrocolloid drg filler dry | 0.00 | 0.00 | 0.00 | 0.00 | 0.00 | 0.00 | 0.00 | 0.00 | 0.00 | 0.00 | XXX
A6242 |  | P | Hydrogel drg <=16 in w/o bdr | 0.00 | 0.00 | 0.00 | 0.00 | 0.00 | 0.00 | 0.00 | 0.00 | 0.00 | 0.00 | XXX
A6243 |  | P | Hydrogel drg >16<=48 w/o bdr | 0.00 | 0.00 | 0.00 | 0.00 | 0.00 | 0.00 | 0.00 | 0.00 | 0.00 | 0.00 | XXX
A6244 |  | P | Hydrogel drg >48 in w/o bdr | 0.00 | 0.00 | 0.00 | 0.00 | 0.00 | 0.00 | 0.00 | 0.00 | 0.00 | 0.00 | XXX
A6245 |  | P | Hydrogel drg <= 16 in w/bdr | 0.00 | 0.00 | 0.00 | 0.00 | 0.00 | 0.00 | 0.00 | 0.00 | 0.00 | 0.00 | XXX
A6246 |  | P | Hydrogel drg >16<=48 in w/b | 0.00 | 0.00 | 0.00 | 0.00 | 0.00 | 0.00 | 0.00 | 0.00 | 0.00 | 0.00 | XXX
A6247 |  | P | Hydrogel drg > 48 sq in w/b | 0.00 | 0.00 | 0.00 | 0.00 | 0.00 | 0.00 | 0.00 | 0.00 | 0.00 | 0.00 | XXX
A6248 |  | P | Hydrogel drsg gel filler | 0.00 | 0.00 | 0.00 | 0.00 | 0.00 | 0.00 | 0.00 | 0.00 | 0.00 | 0.00 | XXX
A6250 |  | P | Skin seal protect moisturizr | 0.00 | 0.00 | 0.00 | 0.00 | 0.00 | 0.00 | 0.00 | 0.00 | 0.00 | 0.00 | XXX
A6251 |  | P | Absorpt drg <=16 sq in w/o b | 0.00 | 0.00 | 0.00 | 0.00 | 0.00 | 0.00 | 0.00 | 0.00 | 0.00 | 0.00 | XXX
A6252 |  | P | Absorpt drg >16 <=48 w/o bdr | 0.00 | 0.00 | 0.00 | 0.00 | 0.00 | 0.00 | 0.00 | 0.00 | 0.00 | 0.00 | XXX
A6253 |  | P | Absorpt drg > 48 sq in w/o b | 0.00 | 0.00 | 0.00 | 0.00 | 0.00 | 0.00 | 0.00 | 0.00 | 0.00 | 0.00 | XXX
A6254 |  | P | Absorpt drg <=16 sq in w/bdr | 0.00 | 0.00 | 0.00 | 0.00 | 0.00 | 0.00 | 0.00 | 0.00 | 0.00 | 0.00 | XXX
A6255 |  | P | Absorpt drg >16<=48 in w/bdr | 0.00 | 0.00 | 0.00 | 0.00 | 0.00 | 0.00 | 0.00 | 0.00 | 0.00 | 0.00 | XXX
A6256 |  | P | Absorpt drg > 48 sq in w/bdr | 0.00 | 0.00 | 0.00 | 0.00 | 0.00 | 0.00 | 0.00 | 0.00 | 0.00 | 0.00 | XXX
A6257 |  | P | Transparent film <= 16 sq in | 0.00 | 0.00 | 0.00 | 0.00 | 0.00 | 0.00 | 0.00 | 0.00 | 0.00 | 0.00 | XXX
A6258 |  | P | Transparent film >16<=48 in | 0.00 | 0.00 | 0.00 | 0.00 | 0.00 | 0.00 | 0.00 | 0.00 | 0.00 | 0.00 | XXX
A6259 |  | P | Transparent film > 48 sq in | 0.00 | 0.00 | 0.00 | 0.00 | 0.00 | 0.00 | 0.00 | 0.00 | 0.00 | 0.00 | XXX
A6260 |  | P | Wound cleanser any type/size | 0.00 | 0.00 | 0.00 | 0.00 | 0.00 | 0.00 | 0.00 | 0.00 | 0.00 | 0.00 | XXX
A6261 |  | P | Wound filler gel/paste /oz | 0.00 | 0.00 | 0.00 | 0.00 | 0.00 | 0.00 | 0.00 | 0.00 | 0.00 | 0.00 | XXX
A6262 |  | P | Wound filler dry form / gram | 0.00 | 0.00 | 0.00 | 0.00 | 0.00 | 0.00 | 0.00 | 0.00 | 0.00 | 0.00 | XXX
A6263 |  | P | Non-sterile elastic gauze/yd | 0.00 | 0.00 | 0.00 | 0.00 | 0.00 | 0.00 | 0.00 | 0.00 | 0.00 | 0.00 | XXX
A6264 |  | P | Non-sterile no elastic gauze | 0.00 | 0.00 | 0.00 | 0.00 | 0.00 | 0.00 | 0.00 | 0.00 | 0.00 | 0.00 | XXX
A6265 |  | P | Tape per 18 sq inches | 0.00 | 0.00 | 0.00 | 0.00 | 0.00 | 0.00 | 0.00 | 0.00 | 0.00 | 0.00 | XXX
A6266 |  | P | Impreg gauze no h20/sal/yard | 0.00 | 0.00 | 0.00 | 0.00 | 0.00 | 0.00 | 0.00 | 0.00 | 0.00 | 0.00 | XXX
A6402 |  | P | Sterile gauze <= 16 sq in | 0.00 | 0.00 | 0.00 | 0.00 | 0.00 | 0.00 | 0.00 | 0.00 | 0.00 | 0.00 | XXX
A6403 |  | P | Sterile gauze>16 <= 48 sq in | 0.00 | 0.00 | 0.00 | 0.00 | 0.00 | 0.00 | 0.00 | 0.00 | 0.00 | 0.00 | XXX
A6404 |  | P | Sterile gauze > 48 sq in | 0.00 | 0.00 | 0.00 | 0.00 | 0.00 | 0.00 | 0.00 | 0.00 | 0.00 | 0.00 | XXX
A6405 |  | P | Sterile elastic gauze /yd | 0.00 | 0.00 | 0.00 | 0.00 | 0.00 | 0.00 | 0.00 | 0.00 | 0.00 | 0.00 | XXX
A6406 |  | P | Sterile non-elastic gauze/yd | 0.00 | 0.00 | 0.00 | 0.00 | 0.00 | 0.00 | 0.00 | 0.00 | 0.00 | 0.00 | XXX
A7000 |  | X | Disposable canister for pump | 0.00 | 0.00 | 0.00 | 0.00 | 0.00 | 0.00 | 0.00 | 0.00 | 0.00 | 0.00 | XXX
A7001 |  | X | Nondisposable pump canister | 0.00 | 0.00 | 0.00 | 0.00 | 0.00 | 0.00 | 0.00 | 0.00 | 0.00 | 0.00 | XXX
A7002 |  | X | Tubing used w suction pump | 0.00 | 0.00 | 0.00 | 0.00 | 0.00 | 0.00 | 0.00 | 0.00 | 0.00 | 0.00 | XXX
A7003 |  | X | Nebulizer administration set | 0.00 | 0.00 | 0.00 | 0.00 | 0.00 | 0.00 | 0.00 | 0.00 | 0.00 | 0.00 | XXX
A7004 |  | X | Disposable nebulizer sml vol | 0.00 | 0.00 | 0.00 | 0.00 | 0.00 | 0.00 | 0.00 | 0.00 | 0.00 | 0.00 | XXX
A7005 |  | X | Nondisposable nebulizer set | 0.00 | 0.00 | 0.00 | 0.00 | 0.00 | 0.00 | 0.00 | 0.00 | 0.00 | 0.00 | XXX
A7006 |  | X | Filtered nebulizer admin set | 0.00 | 0.00 | 0.00 | 0.00 | 0.00 | 0.00 | 0.00 | 0.00 | 0.00 | 0.00 | XXX
A7007 |  | X | Lg vol nebulizer disposable | 0.00 | 0.00 | 0.00 | 0.00 | 0.00 | 0.00 | 0.00 | 0.00 | 0.00 | 0.00 | XXX
A7008 |  | X | Disposable nebulizer prefill | 0.00 | 0.00 | 0.00 | 0.00 | 0.00 | 0.00 | 0.00 | 0.00 | 0.00 | 0.00 | XXX
A7009 |  | X | Nebulizer reservoir bottle | 0.00 | 0.00 | 0.00 | 0.00 | 0.00 | 0.00 | 0.00 | 0.00 | 0.00 | 0.00 | XXX
A7010 |  | X | Disposable corrugated tubing | 0.00 | 0.00 | 0.00 | 0.00 | 0.00 | 0.00 | 0.00 | 0.00 | 0.00 | 0.00 | XXX
A7011 |  | X | Nondispos corrugated tubing | 0.00 | 0.00 | 0.00 | 0.00 | 0.00 | 0.00 | 0.00 | 0.00 | 0.00 | 0.00 | XXX
A7012 |  | X | Nebulizer water collec devic | 0.00 | 0.00 | 0.00 | 0.00 | 0.00 | 0.00 | 0.00 | 0.00 | 0.00 | 0.00 | XXX
A7013 |  | X | Disposable compressor filter | 0.00 | 0.00 | 0.00 | 0.00 | 0.00 | 0.00 | 0.00 | 0.00 | 0.00 | 0.00 | XXX
A7014 |  | X | Compressor nondispos filter | 0.00 | 0.00 | 0.00 | 0.00 | 0.00 | 0.00 | 0.00 | 0.00 | 0.00 | 0.00 | XXX
A7015 |  | X | Aerosol mask used w nebulize | 0.00 | 0.00 | 0.00 | 0.00 | 0.00 | 0.00 | 0.00 | 0.00 | 0.00 | 0.00 | XXX
A7016 |  | X | Nebulizer dome & mouthpiece | 0.00 | 0.00 | 0.00 | 0.00 | 0.00 | 0.00 | 0.00 | 0.00 | 0.00 | 0.00 | XXX
A7017 |  | X | Nebulizer not used w oxygen | 0.00 | 0.00 | 0.00 | 0.00 | 0.00 | 0.00 | 0.00 | 0.00 | 0.00 | 0.00 | XXX
A7018 |  | X | Water distilled w/nebulizer | 0.00 | 0.00 | 0.00 | 0.00 | 0.00 | 0.00 | 0.00 | 0.00 | 0.00 | 0.00 | XXX
A7019 |  | X | Saline solution dispenser | 0.00 | 0.00 | 0.00 | 0.00 | 0.00 | 0.00 | 0.00 | 0.00 | 0.00 | 0.00 | XXX
A7020 |  | X | Sterile H2O or NSS w lgv neb | 0.00 | 0.00 | 0.00 | 0.00 | 0.00 | 0.00 | 0.00 | 0.00 | 0.00 | 0.00 | XXX
A7501 |  | X | Tracheostoma valve w diaphra | 0.00 | 0.00 | 0.00 | 0.00 | 0.00 | 0.00 | 0.00 | 0.00 | 0.00 | 0.00 | XXX
A7502 |  | X | Replacement diaphragm/fplate | 0.00 | 0.00 | 0.00 | 0.00 | 0.00 | 0.00 | 0.00 | 0.00 | 0.00 | 0.00 | XXX
A7503 |  | X | HMES filter holder or cap | 0.00 | 0.00 | 0.00 | 0.00 | 0.00 | 0.00 | 0.00 | 0.00 | 0.00 | 0.00 | XXX
A7504 |  | X | Tracheostoma HMES filter | 0.00 | 0.00 | 0.00 | 0.00 | 0.00 | 0.00 | 0.00 | 0.00 | 0.00 | 0.00 | XXX
A7505 |  | X | HMES or trach valve housing | 0.00 | 0.00 | 0.00 | 0.00 | 0.00 | 0.00 | 0.00 | 0.00 | 0.00 | 0.00 | XXX
A7506 |  | X | HMES/trachvalve adhesivedisk | 0.00 | 0.00 | 0.00 | 0.00 | 0.00 | 0.00 | 0.00 | 0.00 | 0.00 | 0.00 | XXX
A7507 |  | X | Integrated filter & holder | 0.00 | 0.00 | 0.00 | 0.00 | 0.00 | 0.00 | 0.00 | 0.00 | 0.00 | 0.00 | XXX
A7508 |  | X | Housing & Integrated Adhesiv | 0.00 | 0.00 | 0.00 | 0.00 | 0.00 | 0.00 | 0.00 | 0.00 | 0.00 | 0.00 | XXX
A7509 |  | X | Heat & moisture exchange sys | 0.00 | 0.00 | 0.00 | 0.00 | 0.00 | 0.00 | 0.00 | 0.00 | 0.00 | 0.00 | XXX
A9150 |  | E | Misc/exper non-prescript dru | 0.00 | 0.00 | 0.00 | 0.00 | 0.00 | 0.00 | 0.00 | 0.00 | 0.00 | 0.00 | XXX
A9160 |  | N | Podiatrist non-covered servi | 0.00 | 0.00 | 0.00 | 0.00 | 0.00 | 0.00 | 0.00 | 0.00 | 0.00 | 0.00 | XXX
A9170 |  | N | Chiropractor non-covered ser | 0.00 | 0.00 | 0.00 | 0.00 | 0.00 | 0.00 | 0.00 | 0.00 | 0.00 | 0.00 | XXX
A9190 |  | N | Misc/expe personal comfort i | 0.00 | 0.00 | 0.00 | 0.00 | 0.00 | 0.00 | 0.00 | 0.00 | 0.00 | 0.00 | XXX
A9270 |  | N | Non-covered item or service | 0.00 | 0.00 | 0.00 | 0.00 | 0.00 | 0.00 | 0.00 | 0.00 | 0.00 | 0.00 | XXX
A9300 |  | N | Exercise equipment | 0.00 | 0.00 | 0.00 | 0.00 | 0.00 | 0.00 | 0.00 | 0.00 | 0.00 | 0.00 | XXX
A9500 |  | E | Technetium TC 99m sestamibi | 0.00 | 0.00 | 0.00 | 0.00 | 0.00 | 0.00 | 0.00 | 0.00 | 0.00 | 0.00 | XXX
A9502 |  | X | Technetium TC99M tetrofosmin | 0.00 | 0.00 | 0.00 | 0.00 | 0.00 | 0.00 | 0.00 | 0.00 | 0.00 | 0.00 | XXX
A9503 |  | E | Technetium TC 99m medronate | 0.00 | 0.00 | 0.00 | 0.00 | 0.00 | 0.00 | 0.00 | 0.00 | 0.00 | 0.00 | XXX
A9504 |  | X | Technetium tc 99m apcitide | 0.00 | 0.00 | 0.00 | 0.00 | 0.00 | 0.00 | 0.00 | 0.00 | 0.00 | 0.00 | XXX
A9505 |  | E | Thallous chloride TL 201/mci | 0.00 | 0.00 | 0.00 | 0.00 | 0.00 | 0.00 | 0.00 | 0.00 | 0.00 | 0.00 | XXX
A9507 |  | X | Indium/111 capromab pendetid | 0.00 | 0.00 | 0.00 | 0.00 | 0.00 | 0.00 | 0.00 | 0.00 | 0.00 | 0.00 | XXX
A9508 |  | X | Iobenguane sulfate I-131 | 0.00 | 0.00 | 0.00 | 0.00 | 0.00 | 0.00 | 0.00 | 0.00 | 0.00 | 0.00 | XXX
A9510 |  | X | Technetium TC99m Disofenin | 0.00 | 0.00 | 0.00 | 0.00 | 0.00 | 0.00 | 0.00 | 0.00 | 0.00 | 0.00 | XXX
A9600 |  | X | Strontium-89 chloride | 0.00 | 0.00 | 0.00 | 0.00 | 0.00 | 0.00 | 0.00 | 0.00 | 0.00 | 0.00 | XXX
A9605 |  | X | Samarium sm153 lexidronamm | 0.00 | 0.00 | 0.00 | 0.00 | 0.00 | 0.00 | 0.00 | 0.00 | 0.00 | 0.00 | XXX
A9700 |  | X | Echocardiography Contrast | 0.00 | 0.00 | 0.00 | 0.00 | 0.00 | 0.00 | 0.00 | 0.00 | 0.00 | 0.00 | XXX
A9900 |  | X | Supply/accessory/service | 0.00 | 0.00 | 0.00 | 0.00 | 0.00 | 0.00 | 0.00 | 0.00 | 0.00 | 0.00 | XXX
A9901 |  | X | Delivery/set up/dispensing | 0.00 | 0.00 | 0.00 | 0.00 | 0.00 | 0.00 | 0.00 | 0.00 | 0.00 | 0.00 | XXX
D0120 |  | N | Periodic oral evaluation | 0.00 | 0.00 | 0.00 | 0.00 | 0.00 | 0.00 | 0.00 | 0.00 | 0.00 | 0.00 | XXX
D0140 |  | N | Limit oral eval problm focus | 0.00 | 0.00 | 0.00 | 0.00 | 0.00 | 0.00 | 0.00 | 0.00 | 0.00 | 0.00 | XXX
D0150 |  | R | Comprehensve oral evaluation | 0.00 | 0.00 | 0.00 | 0.00 | 0.00 | 0.00 | 0.00 | 0.00 | 0.00 | 0.00 | YYY
D0160 |  | N | Extensv oral eval prob focus | 0.00 | 0.00 | 0.00 | 0.00 | 0.00 | 0.00 | 0.00 | 0.00 | 0.00 | 0.00 | XXX
D0170 |  | N | Re-eval,est pt,problem focus | 0.00 | 0.00 | 0.00 | 0.00 | 0.00 | 0.00 | 0.00 | 0.00 | 0.00 | 0.00 | XXX
D0210 |  | I | Intraor complete film series | 0.00 | 0.00 | 0.00 | 0.00 | 0.00 | 0.00 | 0.00 | 0.00 | 0.00 | 0.00 | XXX
D0220 |  | I | Intraoral periapical first f | 0.00 | 0.00 | 0.00 | 0.00 | 0.00 | 0.00 | 0.00 | 0.00 | 0.00 | 0.00 | XXX
D0230 |  | I | Intraoral periapical ea add | 0.00 | 0.00 | 0.00 | 0.00 | 0.00 | 0.00 | 0.00 | 0.00 | 0.00 | 0.00 | XXX
D0240 |  | R | Intraoral occlusal film | 0.00 | 0.00 | 0.00 | 0.00 | 0.00 | 0.00 | 0.00 | 0.00 | 0.00 | 0.00 | YYY
D0250 |  | R | Extraoral first film | 0.00 | 0.00 | 0.00 | 0.00 | 0.00 | 0.00 | 0.00 | 0.00 | 0.00 | 0.00 | YYY
D0260 |  | R | Extraoral ea additional film | 0.00 | 0.00 | 0.00 | 0.00 | 0.00 | 0.00 | 0.00 | 0.00 | 0.00 | 0.00 | YYY
D0270 |  | R | Dental bitewing single film | 0.00 | 0.00 | 0.00 | 0.00 | 0.00 | 0.00 | 0.00 | 0.00 | 0.00 | 0.00 | YYY
D0272 |  | R | Dental bitewings two films | 0.00 | 0.00 | 0.00 | 0.00 | 0.00 | 0.00 | 0.00 | 0.00 | 0.00 | 0.00 | YYY
D0274 |  | R | Dental bitewings four films | 0.00 | 0.00 | 0.00 | 0.00 | 0.00 | 0.00 | 0.00 | 0.00 | 0.00 | 0.00 | YYY
D0277 |  | R | Vert bitewings-sev to eight | 0.00 | 0.00 | 0.00 | 0.00 | 0.00 | 0.00 | 0.00 | 0.00 | 0.00 | 0.00 | XXX
D0290 |  | I | Dental film skull/facial bon | 0.00 | 0.00 | 0.00 | 0.00 | 0.00 | 0.00 | 0.00 | 0.00 | 0.00 | 0.00 | XXX
D0310 |  | I | Dental saliography | 0.00 | 0.00 | 0.00 | 0.00 | 0.00 | 0.00 | 0.00 | 0.00 | 0.00 | 0.00 | XXX
D0320 |  | I | Dental tmj arthrogram incl i | 0.00 | 0.00 | 0.00 | 0.00 | 0.00 | 0.00 | 0.00 | 0.00 | 0.00 | 0.00 | XXX
D0321 |  | I | Dental other tmj films | 0.00 | 0.00 | 0.00 | 0.00 | 0.00 | 0.00 | 0.00 | 0.00 | 0.00 | 0.00 | XXX
D0322 |  | I | Dental tomographic survey | 0.00 | 0.00 | 0.00 | 0.00 | 0.00 | 0.00 | 0.00 | 0.00 | 0.00 | 0.00 | XXX
D0330 |  | I | Dental panoramic film | 0.00 | 0.00 | 0.00 | 0.00 | 0.00 | 0.00 | 0.00 | 0.00 | 0.00 | 0.00 | XXX
D0340 |  | I | Dental cephalometric film | 0.00 | 0.00 | 0.00 | 0.00 | 0.00 | 0.00 | 0.00 | 0.00 | 0.00 | 0.00 | XXX
D0350 |  | I | Oral/facial images | 0.00 | 0.00 | 0.00 | 0.00 | 0.00 | 0.00 | 0.00 | 0.00 | 0.00 | 0.00 | XXX
D0415 |  | N | Bacteriologic study | 0.00 | 0.00 | 0.00 | 0.00 | 0.00 | 0.00 | 0.00 | 0.00 | 0.00 | 0.00 | XXX
D0425 |  | N | Caries susceptibility test | 0.00 | 0.00 | 0.00 | 0.00 | 0.00 | 0.00 | 0.00 | 0.00 | 0.00 | 0.00 | XXX
D0460 |  | R | Pulp vitality test | 0.00 | 0.00 | 0.00 | 0.00 | 0.00 | 0.00 | 0.00 | 0.00 | 0.00 | 0.00 | YYY
D0470 |  | N | Diagnostic casts | 0.00 | 0.00 | 0.00 | 0.00 | 0.00 | 0.00 | 0.00 | 0.00 | 0.00 | 0.00 | XXX
D0472 |  | R | Gross exam, prep & report | 0.00 | 0.00 | 0.00 | 0.00 | 0.00 | 0.00 | 0.00 | 0.00 | 0.00 | 0.00 | XXX
D0473 |  | R | Micro exam, prep & report | 0.00 | 0.00 | 0.00 | 0.00 | 0.00 | 0.00 | 0.00 | 0.00 | 0.00 | 0.00 | XXX
D0474 |  | R | Micro w exam of surg margins | 0.00 | 0.00 | 0.00 | 0.00 | 0.00 | 0.00 | 0.00 | 0.00 | 0.00 | 0.00 | XXX
D0480 |  | R | Cytopath smear prep & report | 0.00 | 0.00 | 0.00 | 0.00 | 0.00 | 0.00 | 0.00 | 0.00 | 0.00 | 0.00 | XXX
D0501 |  | R | Histopathologic examinations | 0.00 | 0.00 | 0.00 | 0.00 | 0.00 | 0.00 | 0.00 | 0.00 | 0.00 | 0.00 | YYY
D0502 |  | R | Other oral pathology procedu | 0.00 | 0.00 | 0.00 | 0.00 | 0.00 | 0.00 | 0.00 | 0.00 | 0.00 | 0.00 | YYY
D0999 |  | R | Unspecified diagnostic proce | 0.00 | 0.00 | 0.00 | 0.00 | 0.00 | 0.00 | 0.00 | 0.00 | 0.00 | 0.00 | YYY
D1110 |  | N | Dental prophylaxis adult | 0.00 | 0.00 | 0.00 | 0.00 | 0.00 | 0.00 | 0.00 | 0.00 | 0.00 | 0.00 | XXX
D1120 |  | N | Dental prophylaxis child | 0.00 | 0.00 | 0.00 | 0.00 | 0.00 | 0.00 | 0.00 | 0.00 | 0.00 | 0.00 | XXX
D1201 |  | N | Topical fluor w prophy child | 0.00 | 0.00 | 0.00 | 0.00 | 0.00 | 0.00 | 0.00 | 0.00 | 0.00 | 0.00 | XXX
D1203 |  | N | Topical fluor w/o prophy chi | 0.00 | 0.00 | 0.00 | 0.00 | 0.00 | 0.00 | 0.00 | 0.00 | 0.00 | 0.00 | XXX
D1204 |  | N | Topical fluor w/o prophy adu | 0.00 | 0.00 | 0.00 | 0.00 | 0.00 | 0.00 | 0.00 | 0.00 | 0.00 | 0.00 | XXX
D1205 |  | N | Topical fluoride w/ prophy a | 0.00 | 0.00 | 0.00 | 0.00 | 0.00 | 0.00 | 0.00 | 0.00 | 0.00 | 0.00 | XXX
D1310 |  | N | Nutri counsel-control caries | 0.00 | 0.00 | 0.00 | 0.00 | 0.00 | 0.00 | 0.00 | 0.00 | 0.00 | 0.00 | XXX
D1320 |  | N | Tobacco counseling | 0.00 | 0.00 | 0.00 | 0.00 | 0.00 | 0.00 | 0.00 | 0.00 | 0.00 | 0.00 | XXX
D1330 |  | N | Oral hygiene instruction | 0.00 | 0.00 | 0.00 | 0.00 | 0.00 | 0.00 | 0.00 | 0.00 | 0.00 | 0.00 | XXX
D1351 |  | N | Dental sealant per tooth | 0.00 | 0.00 | 0.00 | 0.00 | 0.00 | 0.00 | 0.00 | 0.00 | 0.00 | 0.00 | XXX
D1510 |  | R | Space maintainer fxd unilat | 0.00 | 0.00 | 0.00 | 0.00 | 0.00 | 0.00 | 0.00 | 0.00 | 0.00 | 0.00 | YYY
D1515 |  | R | Fixed bilat space maintainer | 0.00 | 0.00 | 0.00 | 0.00 | 0.00 | 0.00 | 0.00 | 0.00 | 0.00 | 0.00 | YYY
D1520 |  | R | Remove unilat space maintain | 0.00 | 0.00 | 0.00 | 0.00 | 0.00 | 0.00 | 0.00 | 0.00 | 0.00 | 0.00 | YYY
D1525 |  | R | Remove bilat space maintain | 0.00 | 0.00 | 0.00 | 0.00 | 0.00 | 0.00 | 0.00 | 0.00 | 0.00 | 0.00 | YYY
D1550 |  | R | Recement space maintainer | 0.00 | 0.00 | 0.00 | 0.00 | 0.00 | 0.00 | 0.00 | 0.00 | 0.00 | 0.00 | YYY
D2110 |  | N | Amalgam one surface primary | 0.00 | 0.00 | 0.00 | 0.00 | 0.00 | 0.00 | 0.00 | 0.00 | 0.00 | 0.00 | XXX
D2120 |  | N | Amalgam two surfaces primary | 0.00 | 0.00 | 0.00 | 0.00 | 0.00 | 0.00 | 0.00 | 0.00 | 0.00 | 0.00 | XXX
D2130 |  | N | Amalgam three surfaces prima | 0.00 | 0.00 | 0.00 | 0.00 | 0.00 | 0.00 | 0.00 | 0.00 | 0.00 | 0.00 | XXX
D2131 |  | N | Amalgam four/more surf prima | 0.00 | 0.00 | 0.00 | 0.00 | 0.00 | 0.00 | 0.00 | 0.00 | 0.00 | 0.00 | XXX
D2140 |  | N | Amalgam one surface permanen | 0.00 | 0.00 | 0.00 | 0.00 | 0.00 | 0.00 | 0.00 | 0.00 | 0.00 | 0.00 | XXX
D2150 |  | N | Amalgam two surfaces permane | 0.00 | 0.00 | 0.00 | 0.00 | 0.00 | 0.00 | 0.00 | 0.00 | 0.00 | 0.00 | XXX
D2160 |  | N | Amalgam three surfaces perma | 0.00 | 0.00 | 0.00 | 0.00 | 0.00 | 0.00 | 0.00 | 0.00 | 0.00 | 0.00 | XXX
D2161 |  | N | Amalgam 4 or > surfaces perm | 0.00 | 0.00 | 0.00 | 0.00 | 0.00 | 0.00 | 0.00 | 0.00 | 0.00 | 0.00 | XXX
D2330 |  | N | Resin one surface-anterior | 0.00 | 0.00 | 0.00 | 0.00 | 0.00 | 0.00 | 0.00 | 0.00 | 0.00 | 0.00 | XXX
D2331 |  | N | Resin two surfaces-anterior | 0.00 | 0.00 | 0.00 | 0.00 | 0.00 | 0.00 | 0.00 | 0.00 | 0.00 | 0.00 | XXX
D2332 |  | N | Resin three surfaces-anterio | 0.00 | 0.00 | 0.00 | 0.00 | 0.00 | 0.00 | 0.00 | 0.00 | 0.00 | 0.00 | XXX
D2335 |  | N | Resin 4/> surf or w incis an | 0.00 | 0.00 | 0.00 | 0.00 | 0.00 | 0.00 | 0.00 | 0.00 | 0.00 | 0.00 | XXX
D2336 |  | N | Composite resin crown | 0.00 | 0.00 | 0.00 | 0.00 | 0.00 | 0.00 | 0.00 | 0.00 | 0.00 | 0.00 | XXX
D2337 |  | N | Compo resin crown ant-perm | 0.00 | 0.00 | 0.00 | 0.00 | 0.00 | 0.00 | 0.00 | 0.00 | 0.00 | 0.00 | XXX
D2380 |  | N | Resin one surf poster primar | 0.00 | 0.00 | 0.00 | 0.00 | 0.00 | 0.00 | 0.00 | 0.00 | 0.00 | 0.00 | XXX
D2381 |  | N | Resin two surf poster primar | 0.00 | 0.00 | 0.00 | 0.00 | 0.00 | 0.00 | 0.00 | 0.00 | 0.00 | 0.00 | XXX
D2382 |  | N | Resin three/more surf post p | 0.00 | 0.00 | 0.00 | 0.00 | 0.00 | 0.00 | 0.00 | 0.00 | 0.00 | 0.00 | XXX
D2385 |  | N | Resin one surf poster perman | 0.00 | 0.00 | 0.00 | 0.00 | 0.00 | 0.00 | 0.00 | 0.00 | 0.00 | 0.00 | XXX
D2386 |  | N | Resin two surf poster perman | 0.00 | 0.00 | 0.00 | 0.00 | 0.00 | 0.00 | 0.00 | 0.00 | 0.00 | 0.00 | XXX
D2387 |  | N | Resin three/more surf post p | 0.00 | 0.00 | 0.00 | 0.00 | 0.00 | 0.00 | 0.00 | 0.00 | 0.00 | 0.00 | XXX
D2388 |  | N | Resin four/more, post perm | 0.00 | 0.00 | 0.00 | 0.00 | 0.00 | 0.00 | 0.00 | 0.00 | 0.00 | 0.00 | XXX
D2410 |  | N | Dental gold foil one surface | 0.00 | 0.00 | 0.00 | 0.00 | 0.00 | 0.00 | 0.00 | 0.00 | 0.00 | 0.00 | XXX
D2420 |  | N | Dental gold foil two surface | 0.00 | 0.00 | 0.00 | 0.00 | 0.00 | 0.00 | 0.00 | 0.00 | 0.00 | 0.00 | XXX
D2430 |  | N | Dental gold foil three surfa | 0.00 | 0.00 | 0.00 | 0.00 | 0.00 | 0.00 | 0.00 | 0.00 | 0.00 | 0.00 | XXX
D2510 |  | N | Dental inlay metalic 1 surf | 0.00 | 0.00 | 0.00 | 0.00 | 0.00 | 0.00 | 0.00 | 0.00 | 0.00 | 0.00 | XXX
D2520 |  | N | Dental inlay metallic 2 surf | 0.00 | 0.00 | 0.00 | 0.00 | 0.00 | 0.00 | 0.00 | 0.00 | 0.00 | 0.00 | XXX
D2530 |  | N | Dental inlay metl 3/more sur | 0.00 | 0.00 | 0.00 | 0.00 | 0.00 | 0.00 | 0.00 | 0.00 | 0.00 | 0.00 | XXX
D2542 |  | N | Dental onlay metallic 2 surf | 0.00 | 0.00 | 0.00 | 0.00 | 0.00 | 0.00 | 0.00 | 0.00 | 0.00 | 0.00 | XXX
D2543 |  | N | Dental onlay metallic 3 surf | 0.00 | 0.00 | 0.00 | 0.00 | 0.00 | 0.00 | 0.00 | 0.00 | 0.00 | 0.00 | XXX
D2544 |  | N | Dental onlay metl 4/more sur | 0.00 | 0.00 | 0.00 | 0.00 | 0.00 | 0.00 | 0.00 | 0.00 | 0.00 | 0.00 | XXX
D2610 |  | N | Inlay porcelain/ceramic 1 su | 0.00 | 0.00 | 0.00 | 0.00 | 0.00 | 0.00 | 0.00 | 0.00 | 0.00 | 0.00 | XXX
D2620 |  | N | Inlay porcelain/ceramic 2 su | 0.00 | 0.00 | 0.00 | 0.00 | 0.00 | 0.00 | 0.00 | 0.00 | 0.00 | 0.00 | XXX
D2630 |  | N | Dental onlay porc 3/more sur | 0.00 | 0.00 | 0.00 | 0.00 | 0.00 | 0.00 | 0.00 | 0.00 | 0.00 | 0.00 | XXX
D2642 |  | N | Dental onlay porcelin 2 surf | 0.00 | 0.00 | 0.00 | 0.00 | 0.00 | 0.00 | 0.00 | 0.00 | 0.00 | 0.00 | XXX
D2643 |  | N | Dental onlay porcelin 3 surf | 0.00 | 0.00 | 0.00 | 0.00 | 0.00 | 0.00 | 0.00 | 0.00 | 0.00 | 0.00 | XXX
D2644 |  | N | Dental onlay porc 4/more sur | 0.00 | 0.00 | 0.00 | 0.00 | 0.00 | 0.00 | 0.00 | 0.00 | 0.00 | 0.00 | XXX
D2650 |  | N | Inlay composite/resin one su | 0.00 | 0.00 | 0.00 | 0.00 | 0.00 | 0.00 | 0.00 | 0.00 | 0.00 | 0.00 | XXX
D2651 |  | N | Inlay composite/resin two su | 0.00 | 0.00 | 0.00 | 0.00 | 0.00 | 0.00 | 0.00 | 0.00 | 0.00 | 0.00 | XXX
D2652 |  | N | Dental inlay resin 3/mre sur | 0.00 | 0.00 | 0.00 | 0.00 | 0.00 | 0.00 | 0.00 | 0.00 | 0.00 | 0.00 | XXX
D2662 |  | N | Dental onlay resin 2 surface | 0.00 | 0.00 | 0.00 | 0.00 | 0.00 | 0.00 | 0.00 | 0.00 | 0.00 | 0.00 | XXX
D2663 |  | N | Dental onlay resin 3 surface | 0.00 | 0.00 | 0.00 | 0.00 | 0.00 | 0.00 | 0.00 | 0.00 | 0.00 | 0.00 | XXX
D2664 |  | N | Dental onlay resin 4/mre sur | 0.00 | 0.00 | 0.00 | 0.00 | 0.00 | 0.00 | 0.00 | 0.00 | 0.00 | 0.00 | XXX
D2710 |  | N | Crown resin laboratory | 0.00 | 0.00 | 0.00 | 0.00 | 0.00 | 0.00 | 0.00 | 0.00 | 0.00 | 0.00 | XXX
D2720 |  | N | Crown resin w/ high noble me | 0.00 | 0.00 | 0.00 | 0.00 | 0.00 | 0.00 | 0.00 | 0.00 | 0.00 | 0.00 | XXX
D2721 |  | N | Crown resin w/ base metal | 0.00 | 0.00 | 0.00 | 0.00 | 0.00 | 0.00 | 0.00 | 0.00 | 0.00 | 0.00 | XXX
D2722 |  | N | Crown resin w/ noble metal | 0.00 | 0.00 | 0.00 | 0.00 | 0.00 | 0.00 | 0.00 | 0.00 | 0.00 | 0.00 | XXX
D2740 |  | N | Crown porcelain/ceramic subs | 0.00 | 0.00 | 0.00 | 0.00 | 0.00 | 0.00 | 0.00 | 0.00 | 0.00 | 0.00 | XXX
D2750 |  | N | Crown porcelain w/ h noble m | 0.00 | 0.00 | 0.00 | 0.00 | 0.00 | 0.00 | 0.00 | 0.00 | 0.00 | 0.00 | XXX
D2751 |  | N | Crown porcelain fused base m | 0.00 | 0.00 | 0.00 | 0.00 | 0.00 | 0.00 | 0.00 | 0.00 | 0.00 | 0.00 | XXX
D2752 |  | N | Crown porcelain w/ noble met | 0.00 | 0.00 | 0.00 | 0.00 | 0.00 | 0.00 | 0.00 | 0.00 | 0.00 | 0.00 | XXX
D2780 |  | N | Crown 3/4 cast hi noble met | 0.00 | 0.00 | 0.00 | 0.00 | 0.00 | 0.00 | 0.00 | 0.00 | 0.00 | 0.00 | XXX
D2781 |  | N | Crown 3/4 cast base metal | 0.00 | 0.00 | 0.00 | 0.00 | 0.00 | 0.00 | 0.00 | 0.00 | 0.00 | 0.00 | XXX
D2782 |  | N | Crown 3/4 cast noble metal | 0.00 | 0.00 | 0.00 | 0.00 | 0.00 | 0.00 | 0.00 | 0.00 | 0.00 | 0.00 | XXX
D2783 |  | N | Crown 3/4 porcelain/ceramic | 0.00 | 0.00 | 0.00 | 0.00 | 0.00 | 0.00 | 0.00 | 0.00 | 0.00 | 0.00 | XXX
D2790 |  | N | Crown full cast high noble m | 0.00 | 0.00 | 0.00 | 0.00 | 0.00 | 0.00 | 0.00 | 0.00 | 0.00 | 0.00 | XXX
D2791 |  | N | Crown full cast base metal | 0.00 | 0.00 | 0.00 | 0.00 | 0.00 | 0.00 | 0.00 | 0.00 | 0.00 | 0.00 | XXX
D2792 |  | N | Crown full cast noble metal | 0.00 | 0.00 | 0.00 | 0.00 | 0.00 | 0.00 | 0.00 | 0.00 | 0.00 | 0.00 | XXX
D2799 |  | N | Provisional crown | 0.00 | 0.00 | 0.00 | 0.00 | 0.00 | 0.00 | 0.00 | 0.00 | 0.00 | 0.00 | XXX
D2910 |  | N | Dental recement inlay | 0.00 | 0.00 | 0.00 | 0.00 | 0.00 | 0.00 | 0.00 | 0.00 | 0.00 | 0.00 | XXX
D2920 |  | N | Dental recement crown | 0.00 | 0.00 | 0.00 | 0.00 | 0.00 | 0.00 | 0.00 | 0.00 | 0.00 | 0.00 | XXX
D2930 |  | N | Prefab stnlss steel crwn pri | 0.00 | 0.00 | 0.00 | 0.00 | 0.00 | 0.00 | 0.00 | 0.00 | 0.00 | 0.00 | XXX
D2931 |  | N | Prefab stnlss steel crown pe | 0.00 | 0.00 | 0.00 | 0.00 | 0.00 | 0.00 | 0.00 | 0.00 | 0.00 | 0.00 | XXX
D2932 |  | N | Prefabricated resin crown | 0.00 | 0.00 | 0.00 | 0.00 | 0.00 | 0.00 | 0.00 | 0.00 | 0.00 | 0.00 | XXX
D2933 |  | N | Prefab stainless steel crown | 0.00 | 0.00 | 0.00 | 0.00 | 0.00 | 0.00 | 0.00 | 0.00 | 0.00 | 0.00 | XXX
D2940 |  | N | Dental sedative filling | 0.00 | 0.00 | 0.00 | 0.00 | 0.00 | 0.00 | 0.00 | 0.00 | 0.00 | 0.00 | XXX
D2950 |  | N | Core build-up incl any pins | 0.00 | 0.00 | 0.00 | 0.00 | 0.00 | 0.00 | 0.00 | 0.00 | 0.00 | 0.00 | XXX
D2951 |  | N | Tooth pin retention | 0.00 | 0.00 | 0.00 | 0.00 | 0.00 | 0.00 | 0.00 | 0.00 | 0.00 | 0.00 | XXX
D2952 |  | N | Post and core cast + crown | 0.00 | 0.00 | 0.00 | 0.00 | 0.00 | 0.00 | 0.00 | 0.00 | 0.00 | 0.00 | XXX
D2953 |  | N | Each addtnl cast post | 0.00 | 0.00 | 0.00 | 0.00 | 0.00 | 0.00 | 0.00 | 0.00 | 0.00 | 0.00 | XXX
D2954 |  | N | Prefab post/core + crown | 0.00 | 0.00 | 0.00 | 0.00 | 0.00 | 0.00 | 0.00 | 0.00 | 0.00 | 0.00 | XXX
D2955 |  | N | Post removal | 0.00 | 0.00 | 0.00 | 0.00 | 0.00 | 0.00 | 0.00 | 0.00 | 0.00 | 0.00 | XXX
D2957 |  | N | Each addtnl prefab post | 0.00 | 0.00 | 0.00 | 0.00 | 0.00 | 0.00 | 0.00 | 0.00 | 0.00 | 0.00 | XXX
D2960 |  | N | Laminate labial veneer | 0.00 | 0.00 | 0.00 | 0.00 | 0.00 | 0.00 | 0.00 | 0.00 | 0.00 | 0.00 | XXX
D2961 |  | N | Lab labial veneer resin | 0.00 | 0.00 | 0.00 | 0.00 | 0.00 | 0.00 | 0.00 | 0.00 | 0.00 | 0.00 | XXX
D2962 |  | N | Lab labial veneer porcelain | 0.00 | 0.00 | 0.00 | 0.00 | 0.00 | 0.00 | 0.00 | 0.00 | 0.00 | 0.00 | XXX
D2970 |  | R | Temporary- fractured tooth | 0.00 | 0.00 | 0.00 | 0.00 | 0.00 | 0.00 | 0.00 | 0.00 | 0.00 | 0.00 | YYY
D2980 |  | N | Crown repair | 0.00 | 0.00 | 0.00 | 0.00 | 0.00 | 0.00 | 0.00 | 0.00 | 0.00 | 0.00 | XXX
D2999 |  | R | Dental unspec restorative pr | 0.00 | 0.00 | 0.00 | 0.00 | 0.00 | 0.00 | 0.00 | 0.00 | 0.00 | 0.00 | YYY
D3110 |  | N | Pulp cap direct | 0.00 | 0.00 | 0.00 | 0.00 | 0.00 | 0.00 | 0.00 | 0.00 | 0.00 | 0.00 | XXX
D3120 |  | N | Pulp cap indirect | 0.00 | 0.00 | 0.00 | 0.00 | 0.00 | 0.00 | 0.00 | 0.00 | 0.00 | 0.00 | XXX
D3220 |  | N | Therapeutic pulpotomy | 0.00 | 0.00 | 0.00 | 0.00 | 0.00 | 0.00 | 0.00 | 0.00 | 0.00 | 0.00 | XXX
D3221 |  | N | Gross pulpal debridement | 0.00 | 0.00 | 0.00 | 0.00 | 0.00 | 0.00 | 0.00 | 0.00 | 0.00 | 0.00 | XXX
D3230 |  | N | Pulpal therapy anterior prim | 0.00 | 0.00 | 0.00 | 0.00 | 0.00 | 0.00 | 0.00 | 0.00 | 0.00 | 0.00 | XXX
D3240 |  | N | Pulpal therapy posterior pri | 0.00 | 0.00 | 0.00 | 0.00 | 0.00 | 0.00 | 0.00 | 0.00 | 0.00 | 0.00 | XXX
D3310 |  | N | Anterior | 0.00 | 0.00 | 0.00 | 0.00 | 0.00 | 0.00 | 0.00 | 0.00 | 0.00 | 0.00 | XXX
D3320 |  | N | Root canal therapy 2 canals | 0.00 | 0.00 | 0.00 | 0.00 | 0.00 | 0.00 | 0.00 | 0.00 | 0.00 | 0.00 | XXX
D3330 |  | N | Root canal therapy 3 canals | 0.00 | 0.00 | 0.00 | 0.00 | 0.00 | 0.00 | 0.00 | 0.00 | 0.00 | 0.00 | XXX
D3331 |  | N | Non-surg tx root canal obs | 0.00 | 0.00 | 0.00 | 0.00 | 0.00 | 0.00 | 0.00 | 0.00 | 0.00 | 0.00 | XXX
D3332 |  | N | Incomplete endodontic tx | 0.00 | 0.00 | 0.00 | 0.00 | 0.00 | 0.00 | 0.00 | 0.00 | 0.00 | 0.00 | XXX
D3333 |  | N | Internal root repair | 0.00 | 0.00 | 0.00 | 0.00 | 0.00 | 0.00 | 0.00 | 0.00 | 0.00 | 0.00 | XXX
D3346 |  | N | Retreat root canal anterior | 0.00 | 0.00 | 0.00 | 0.00 | 0.00 | 0.00 | 0.00 | 0.00 | 0.00 | 0.00 | XXX
D3347 |  | N | Retreat root canal bicuspid | 0.00 | 0.00 | 0.00 | 0.00 | 0.00 | 0.00 | 0.00 | 0.00 | 0.00 | 0.00 | XXX
D3348 |  | N | Retreat root canal molar | 0.00 | 0.00 | 0.00 | 0.00 | 0.00 | 0.00 | 0.00 | 0.00 | 0.00 | 0.00 | XXX
D3351 |  | N | Apexification/recalc initial | 0.00 | 0.00 | 0.00 | 0.00 | 0.00 | 0.00 | 0.00 | 0.00 | 0.00 | 0.00 | XXX
D3352 |  | N | Apexification/recalc interim | 0.00 | 0.00 | 0.00 | 0.00 | 0.00 | 0.00 | 0.00 | 0.00 | 0.00 | 0.00 | XXX
D3353 |  | N | Apexification/recalc final | 0.00 | 0.00 | 0.00 | 0.00 | 0.00 | 0.00 | 0.00 | 0.00 | 0.00 | 0.00 | XXX
D3410 |  | N | Apicoect/perirad surg anter | 0.00 | 0.00 | 0.00 | 0.00 | 0.00 | 0.00 | 0.00 | 0.00 | 0.00 | 0.00 | XXX
D3421 |  | N | Root surgery bicuspid | 0.00 | 0.00 | 0.00 | 0.00 | 0.00 | 0.00 | 0.00 | 0.00 | 0.00 | 0.00 | XXX
D3425 |  | N | Root surgery molar | 0.00 | 0.00 | 0.00 | 0.00 | 0.00 | 0.00 | 0.00 | 0.00 | 0.00 | 0.00 | XXX
D3426 |  | N | Root surgery ea add root | 0.00 | 0.00 | 0.00 | 0.00 | 0.00 | 0.00 | 0.00 | 0.00 | 0.00 | 0.00 | XXX
D3430 |  | N | Retrograde filling | 0.00 | 0.00 | 0.00 | 0.00 | 0.00 | 0.00 | 0.00 | 0.00 | 0.00 | 0.00 | XXX
D3450 |  | N | Root amputation | 0.00 | 0.00 | 0.00 | 0.00 | 0.00 | 0.00 | 0.00 | 0.00 | 0.00 | 0.00 | XXX
D3460 |  | R | Endodontic endosseous implan | 0.00 | 0.00 | 0.00 | 0.00 | 0.00 | 0.00 | 0.00 | 0.00 | 0.00 | 0.00 | YYY
D3470 |  | N | Intentional replantation | 0.00 | 0.00 | 0.00 | 0.00 | 0.00 | 0.00 | 0.00 | 0.00 | 0.00 | 0.00 | XXX
D3910 |  | N | Isolation- tooth w rubb dam | 0.00 | 0.00 | 0.00 | 0.00 | 0.00 | 0.00 | 0.00 | 0.00 | 0.00 | 0.00 | XXX
D3920 |  | N | Tooth splitting | 0.00 | 0.00 | 0.00 | 0.00 | 0.00 | 0.00 | 0.00 | 0.00 | 0.00 | 0.00 | XXX
D3950 |  | N | Canal prep/fitting of dowel | 0.00 | 0.00 | 0.00 | 0.00 | 0.00 | 0.00 | 0.00 | 0.00 | 0.00 | 0.00 | XXX
D3999 |  | R | Endodontic procedure | 0.00 | 0.00 | 0.00 | 0.00 | 0.00 | 0.00 | 0.00 | 0.00 | 0.00 | 0.00 | YYY
D4210 |  | I | Gingivectomy/plasty per quad | 0.00 | 0.00 | 0.00 | 0.00 | 0.00 | 0.00 | 0.00 | 0.00 | 0.00 | 0.00 | XXX
D4211 |  | I | Gingivectomy/plasty per toot | 0.00 | 0.00 | 0.00 | 0.00 | 0.00 | 0.00 | 0.00 | 0.00 | 0.00 | 0.00 | XXX
D4220 |  | N | Gingival curettage per quadr | 0.00 | 0.00 | 0.00 | 0.00 | 0.00 | 0.00 | 0.00 | 0.00 | 0.00 | 0.00 | XXX
D4240 |  | N | Gingival flap proc w/ planin | 0.00 | 0.00 | 0.00 | 0.00 | 0.00 | 0.00 | 0.00 | 0.00 | 0.00 | 0.00 | XXX
D4245 |  | N | Apically positioned flap | 0.00 | 0.00 | 0.00 | 0.00 | 0.00 | 0.00 | 0.00 | 0.00 | 0.00 | 0.00 | XXX
D4249 |  | N | Crown lengthen hard tissue | 0.00 | 0.00 | 0.00 | 0.00 | 0.00 | 0.00 | 0.00 | 0.00 | 0.00 | 0.00 | XXX
D4260 |  | R | Osseous surgery per quadrant | 0.00 | 0.00 | 0.00 | 0.00 | 0.00 | 0.00 | 0.00 | 0.00 | 0.00 | 0.00 | YYY
D4263 |  | R | Bone replce graft first site | 0.00 | 0.00 | 0.00 | 0.00 | 0.00 | 0.00 | 0.00 | 0.00 | 0.00 | 0.00 | YYY
D4264 |  | R | Bone replce graft each add | 0.00 | 0.00 | 0.00 | 0.00 | 0.00 | 0.00 | 0.00 | 0.00 | 0.00 | 0.00 | YYY
D4266 |  | N | Guided tiss regen resorble | 0.00 | 0.00 | 0.00 | 0.00 | 0.00 | 0.00 | 0.00 | 0.00 | 0.00 | 0.00 | XXX
D4267 |  | N | Guided tiss regen nonresorb | 0.00 | 0.00 | 0.00 | 0.00 | 0.00 | 0.00 | 0.00 | 0.00 | 0.00 | 0.00 | XXX
D4268 |  | R | Surgical revision procedure | 0.00 | 0.00 | 0.00 | 0.00 | 0.00 | 0.00 | 0.00 | 0.00 | 0.00 | 0.00 | XXX
D4270 |  | R | Pedicle soft tissue graft pr | 0.00 | 0.00 | 0.00 | 0.00 | 0.00 | 0.00 | 0.00 | 0.00 | 0.00 | 0.00 | YYY
D4271 |  | R | Free soft tissue graft proc | 0.00 | 0.00 | 0.00 | 0.00 | 0.00 | 0.00 | 0.00 | 0.00 | 0.00 | 0.00 | YYY
D4273 |  | R | Subepithelial tissue graft | 0.00 | 0.00 | 0.00 | 0.00 | 0.00 | 0.00 | 0.00 | 0.00 | 0.00 | 0.00 | YYY
D4274 |  | N | Distal/proximal wedge proc | 0.00 | 0.00 | 0.00 | 0.00 | 0.00 | 0.00 | 0.00 | 0.00 | 0.00 | 0.00 | XXX
D4320 |  | N | Provision splnt intracoronal | 0.00 | 0.00 | 0.00 | 0.00 | 0.00 | 0.00 | 0.00 | 0.00 | 0.00 | 0.00 | XXX
D4321 |  | N | Provisional splint extracoro | 0.00 | 0.00 | 0.00 | 0.00 | 0.00 | 0.00 | 0.00 | 0.00 | 0.00 | 0.00 | XXX
D4341 |  | N | Periodontal scaling & root | 0.00 | 0.00 | 0.00 | 0.00 | 0.00 | 0.00 | 0.00 | 0.00 | 0.00 | 0.00 | XXX
D4355 |  | R | Full mouth debridement | 0.00 | 0.00 | 0.00 | 0.00 | 0.00 | 0.00 | 0.00 | 0.00 | 0.00 | 0.00 | YYY
D4381 |  | R | Localized chemo delivery | 0.00 | 0.00 | 0.00 | 0.00 | 0.00 | 0.00 | 0.00 | 0.00 | 0.00 | 0.00 | YYY
D4910 |  | N | Periodontal maint procedures | 0.00 | 0.00 | 0.00 | 0.00 | 0.00 | 0.00 | 0.00 | 0.00 | 0.00 | 0.00 | XXX
D4920 |  | N | Unscheduled dressing change | 0.00 | 0.00 | 0.00 | 0.00 | 0.00 | 0.00 | 0.00 | 0.00 | 0.00 | 0.00 | XXX
D4999 |  | N | Unspecified periodontal proc | 0.00 | 0.00 | 0.00 | 0.00 | 0.00 | 0.00 | 0.00 | 0.00 | 0.00 | 0.00 | XXX
D5110 |  | N | Dentures complete maxillary | 0.00 | 0.00 | 0.00 | 0.00 | 0.00 | 0.00 | 0.00 | 0.00 | 0.00 | 0.00 | XXX
D5120 |  | N | Dentures complete mandible | 0.00 | 0.00 | 0.00 | 0.00 | 0.00 | 0.00 | 0.00 | 0.00 | 0.00 | 0.00 | XXX
D5130 |  | N | Dentures immediat maxillary | 0.00 | 0.00 | 0.00 | 0.00 | 0.00 | 0.00 | 0.00 | 0.00 | 0.00 | 0.00 | XXX
D5140 |  | N | Dentures immediat mandible | 0.00 | 0.00 | 0.00 | 0.00 | 0.00 | 0.00 | 0.00 | 0.00 | 0.00 | 0.00 | XXX
D5211 |  | N | Dentures maxill part resin | 0.00 | 0.00 | 0.00 | 0.00 | 0.00 | 0.00 | 0.00 | 0.00 | 0.00 | 0.00 | XXX
D5212 |  | N | Dentures mand part resin | 0.00 | 0.00 | 0.00 | 0.00 | 0.00 | 0.00 | 0.00 | 0.00 | 0.00 | 0.00 | XXX
D5213 |  | N | Dentures maxill part metal | 0.00 | 0.00 | 0.00 | 0.00 | 0.00 | 0.00 | 0.00 | 0.00 | 0.00 | 0.00 | XXX
D5214 |  | N | Dentures mandibl part metal | 0.00 | 0.00 | 0.00 | 0.00 | 0.00 | 0.00 | 0.00 | 0.00 | 0.00 | 0.00 | XXX
D5281 |  | N | Removable partial denture | 0.00 | 0.00 | 0.00 | 0.00 | 0.00 | 0.00 | 0.00 | 0.00 | 0.00 | 0.00 | XXX
D5410 |  | N | Dentures adjust cmplt maxil | 0.00 | 0.00 | 0.00 | 0.00 | 0.00 | 0.00 | 0.00 | 0.00 | 0.00 | 0.00 | XXX
D5411 |  | N | Dentures adjust cmplt mand | 0.00 | 0.00 | 0.00 | 0.00 | 0.00 | 0.00 | 0.00 | 0.00 | 0.00 | 0.00 | XXX
D5421 |  | N | Dentures adjust part maxill | 0.00 | 0.00 | 0.00 | 0.00 | 0.00 | 0.00 | 0.00 | 0.00 | 0.00 | 0.00 | XXX
D5422 |  | N | Dentures adjust part mandbl | 0.00 | 0.00 | 0.00 | 0.00 | 0.00 | 0.00 | 0.00 | 0.00 | 0.00 | 0.00 | XXX
D5510 |  | N | Dentur repr broken compl bas | 0.00 | 0.00 | 0.00 | 0.00 | 0.00 | 0.00 | 0.00 | 0.00 | 0.00 | 0.00 | XXX
D5520 |  | N | Replace denture teeth complt | 0.00 | 0.00 | 0.00 | 0.00 | 0.00 | 0.00 | 0.00 | 0.00 | 0.00 | 0.00 | XXX
D5610 |  | N | Dentures repair resin base | 0.00 | 0.00 | 0.00 | 0.00 | 0.00 | 0.00 | 0.00 | 0.00 | 0.00 | 0.00 | XXX
D5620 |  | N | Rep part denture cast frame | 0.00 | 0.00 | 0.00 | 0.00 | 0.00 | 0.00 | 0.00 | 0.00 | 0.00 | 0.00 | XXX
D5630 |  | N | Rep partial denture clasp | 0.00 | 0.00 | 0.00 | 0.00 | 0.00 | 0.00 | 0.00 | 0.00 | 0.00 | 0.00 | XXX
D5640 |  | N | Replace part denture teeth | 0.00 | 0.00 | 0.00 | 0.00 | 0.00 | 0.00 | 0.00 | 0.00 | 0.00 | 0.00 | XXX
D5650 |  | N | Add tooth to partial denture | 0.00 | 0.00 | 0.00 | 0.00 | 0.00 | 0.00 | 0.00 | 0.00 | 0.00 | 0.00 | XXX
D5660 |  | N | Add clasp to partial denture | 0.00 | 0.00 | 0.00 | 0.00 | 0.00 | 0.00 | 0.00 | 0.00 | 0.00 | 0.00 | XXX
D5710 |  | N | Dentures rebase cmplt maxil | 0.00 | 0.00 | 0.00 | 0.00 | 0.00 | 0.00 | 0.00 | 0.00 | 0.00 | 0.00 | XXX
D5711 |  | N | Dentures rebase cmplt mand | 0.00 | 0.00 | 0.00 | 0.00 | 0.00 | 0.00 | 0.00 | 0.00 | 0.00 | 0.00 | XXX
D5720 |  | N | Dentures rebase part maxill | 0.00 | 0.00 | 0.00 | 0.00 | 0.00 | 0.00 | 0.00 | 0.00 | 0.00 | 0.00 | XXX
D5721 |  | N | Dentures rebase part mandbl | 0.00 | 0.00 | 0.00 | 0.00 | 0.00 | 0.00 | 0.00 | 0.00 | 0.00 | 0.00 | XXX
D5730 |  | N | Denture reln cmplt maxil ch | 0.00 | 0.00 | 0.00 | 0.00 | 0.00 | 0.00 | 0.00 | 0.00 | 0.00 | 0.00 | XXX
D5731 |  | N | Denture reln cmplt mand chr | 0.00 | 0.00 | 0.00 | 0.00 | 0.00 | 0.00 | 0.00 | 0.00 | 0.00 | 0.00 | XXX
D5740 |  | N | Denture reln part maxil chr | 0.00 | 0.00 | 0.00 | 0.00 | 0.00 | 0.00 | 0.00 | 0.00 | 0.00 | 0.00 | XXX
D5741 |  | N | Denture reln part mand chr | 0.00 | 0.00 | 0.00 | 0.00 | 0.00 | 0.00 | 0.00 | 0.00 | 0.00 | 0.00 | XXX
D5750 |  | N | Denture reln cmplt max lab | 0.00 | 0.00 | 0.00 | 0.00 | 0.00 | 0.00 | 0.00 | 0.00 | 0.00 | 0.00 | XXX
D5751 |  | N | Denture reln cmplt mand lab | 0.00 | 0.00 | 0.00 | 0.00 | 0.00 | 0.00 | 0.00 | 0.00 | 0.00 | 0.00 | XXX
D5760 |  | N | Denture reln part maxil lab | 0.00 | 0.00 | 0.00 | 0.00 | 0.00 | 0.00 | 0.00 | 0.00 | 0.00 | 0.00 | XXX
D5761 |  | N | Denture reln part mand lab | 0.00 | 0.00 | 0.00 | 0.00 | 0.00 | 0.00 | 0.00 | 0.00 | 0.00 | 0.00 | XXX
D5810 |  | N | Denture interm cmplt maxill | 0.00 | 0.00 | 0.00 | 0.00 | 0.00 | 0.00 | 0.00 | 0.00 | 0.00 | 0.00 | XXX
D5811 |  | N | Denture interm cmplt mandbl | 0.00 | 0.00 | 0.00 | 0.00 | 0.00 | 0.00 | 0.00 | 0.00 | 0.00 | 0.00 | XXX
D5820 |  | N | Denture interm part maxill | 0.00 | 0.00 | 0.00 | 0.00 | 0.00 | 0.00 | 0.00 | 0.00 | 0.00 | 0.00 | XXX
D5821 |  | N | Denture interm part mandbl | 0.00 | 0.00 | 0.00 | 0.00 | 0.00 | 0.00 | 0.00 | 0.00 | 0.00 | 0.00 | XXX
D5850 |  | N | Denture tiss conditn maxill | 0.00 | 0.00 | 0.00 | 0.00 | 0.00 | 0.00 | 0.00 | 0.00 | 0.00 | 0.00 | XXX
D5851 |  | N | Denture tiss condtin mandbl | 0.00 | 0.00 | 0.00 | 0.00 | 0.00 | 0.00 | 0.00 | 0.00 | 0.00 | 0.00 | XXX
D5860 |  | N | Overdenture complete | 0.00 | 0.00 | 0.00 | 0.00 | 0.00 | 0.00 | 0.00 | 0.00 | 0.00 | 0.00 | XXX
D5861 |  | N | Overdenture partial | 0.00 | 0.00 | 0.00 | 0.00 | 0.00 | 0.00 | 0.00 | 0.00 | 0.00 | 0.00 | XXX
D5862 |  | N | Precision attachment | 0.00 | 0.00 | 0.00 | 0.00 | 0.00 | 0.00 | 0.00 | 0.00 | 0.00 | 0.00 | XXX
D5867 |  | N | Replacement of precision att | 0.00 | 0.00 | 0.00 | 0.00 | 0.00 | 0.00 | 0.00 | 0.00 | 0.00 | 0.00 | XXX
D5875 |  | N | Prosthesis modification | 0.00 | 0.00 | 0.00 | 0.00 | 0.00 | 0.00 | 0.00 | 0.00 | 0.00 | 0.00 | XXX
D5899 |  | N | Removable prosthodontic proc | 0.00 | 0.00 | 0.00 | 0.00 | 0.00 | 0.00 | 0.00 | 0.00 | 0.00 | 0.00 | XXX
D5911 |  | R | Facial moulage sectional | 0.00 | 0.00 | 0.00 | 0.00 | 0.00 | 0.00 | 0.00 | 0.00 | 0.00 | 0.00 | YYY
D5912 |  | R | Facial moulage complete | 0.00 | 0.00 | 0.00 | 0.00 | 0.00 | 0.00 | 0.00 | 0.00 | 0.00 | 0.00 | YYY
D5913 |  | I | Nasal prosthesis | 0.00 | 0.00 | 0.00 | 0.00 | 0.00 | 0.00 | 0.00 | 0.00 | 0.00 | 0.00 | XXX
D5914 |  | I | Auricular prosthesis | 0.00 | 0.00 | 0.00 | 0.00 | 0.00 | 0.00 | 0.00 | 0.00 | 0.00 | 0.00 | XXX
D5915 |  | I | Orbital prosthesis | 0.00 | 0.00 | 0.00 | 0.00 | 0.00 | 0.00 | 0.00 | 0.00 | 0.00 | 0.00 | XXX
D5916 |  | I | Ocular prosthesis | 0.00 | 0.00 | 0.00 | 0.00 | 0.00 | 0.00 | 0.00 | 0.00 | 0.00 | 0.00 | XXX
D5919 |  | I | Facial prosthesis | 0.00 | 0.00 | 0.00 | 0.00 | 0.00 | 0.00 | 0.00 | 0.00 | 0.00 | 0.00 | XXX
D5922 |  | I | Nasal septal prosthesis | 0.00 | 0.00 | 0.00 | 0.00 | 0.00 | 0.00 | 0.00 | 0.00 | 0.00 | 0.00 | XXX
D5923 |  | I | Ocular prosthesis interim | 0.00 | 0.00 | 0.00 | 0.00 | 0.00 | 0.00 | 0.00 | 0.00 | 0.00 | 0.00 | XXX
D5924 |  | I | Cranial prosthesis | 0.00 | 0.00 | 0.00 | 0.00 | 0.00 | 0.00 | 0.00 | 0.00 | 0.00 | 0.00 | XXX
D5925 |  | I | Facial augmentation implant | 0.00 | 0.00 | 0.00 | 0.00 | 0.00 | 0.00 | 0.00 | 0.00 | 0.00 | 0.00 | XXX
D5926 |  | I | Replacement nasal prosthesis | 0.00 | 0.00 | 0.00 | 0.00 | 0.00 | 0.00 | 0.00 | 0.00 | 0.00 | 0.00 | XXX
D5927 |  | I | Auricular replacement | 0.00 | 0.00 | 0.00 | 0.00 | 0.00 | 0.00 | 0.00 | 0.00 | 0.00 | 0.00 | XXX
D5928 |  | I | Orbital replacement | 0.00 | 0.00 | 0.00 | 0.00 | 0.00 | 0.00 | 0.00 | 0.00 | 0.00 | 0.00 | XXX
D5929 |  | I | Facial replacement | 0.00 | 0.00 | 0.00 | 0.00 | 0.00 | 0.00 | 0.00 | 0.00 | 0.00 | 0.00 | XXX
D5931 |  | I | Surgical obturator | 0.00 | 0.00 | 0.00 | 0.00 | 0.00 | 0.00 | 0.00 | 0.00 | 0.00 | 0.00 | XXX
D5932 |  | I | Postsurgical obturator | 0.00 | 0.00 | 0.00 | 0.00 | 0.00 | 0.00 | 0.00 | 0.00 | 0.00 | 0.00 | XXX
D5933 |  | I | Refitting of obturator | 0.00 | 0.00 | 0.00 | 0.00 | 0.00 | 0.00 | 0.00 | 0.00 | 0.00 | 0.00 | XXX
D5934 |  | I | Mandibular flange prosthesis | 0.00 | 0.00 | 0.00 | 0.00 | 0.00 | 0.00 | 0.00 | 0.00 | 0.00 | 0.00 | XXX
D5935 |  | I | Mandibular denture prosth | 0.00 | 0.00 | 0.00 | 0.00 | 0.00 | 0.00 | 0.00 | 0.00 | 0.00 | 0.00 | XXX
D5936 |  | I | Temp obturator prosthesis | 0.00 | 0.00 | 0.00 | 0.00 | 0.00 | 0.00 | 0.00 | 0.00 | 0.00 | 0.00 | XXX
D5937 |  | I | Trismus appliance | 0.00 | 0.00 | 0.00 | 0.00 | 0.00 | 0.00 | 0.00 | 0.00 | 0.00 | 0.00 | XXX
D5951 |  | R | Feeding aid | 0.00 | 0.00 | 0.00 | 0.00 | 0.00 | 0.00 | 0.00 | 0.00 | 0.00 | 0.00 | YYY
D5952 |  | I | Pediatric speech aid | 0.00 | 0.00 | 0.00 | 0.00 | 0.00 | 0.00 | 0.00 | 0.00 | 0.00 | 0.00 | XXX
D5953 |  | I | Adult speech aid | 0.00 | 0.00 | 0.00 | 0.00 | 0.00 | 0.00 | 0.00 | 0.00 | 0.00 | 0.00 | XXX
D5954 |  | I | Superimposed prosthesis | 0.00 | 0.00 | 0.00 | 0.00 | 0.00 | 0.00 | 0.00 | 0.00 | 0.00 | 0.00 | XXX
D5955 |  | I | Palatal lift prosthesis | 0.00 | 0.00 | 0.00 | 0.00 | 0.00 | 0.00 | 0.00 | 0.00 | 0.00 | 0.00 | XXX
D5958 |  | I | Intraoral con def inter plt | 0.00 | 0.00 | 0.00 | 0.00 | 0.00 | 0.00 | 0.00 | 0.00 | 0.00 | 0.00 | XXX
D5959 |  | I | Intraoral con def mod palat | 0.00 | 0.00 | 0.00 | 0.00 | 0.00 | 0.00 | 0.00 | 0.00 | 0.00 | 0.00 | XXX
D5960 |  | I | Modify speech aid prosthesis | 0.00 | 0.00 | 0.00 | 0.00 | 0.00 | 0.00 | 0.00 | 0.00 | 0.00 | 0.00 | XXX
D5982 |  | I | Surgical stent | 0.00 | 0.00 | 0.00 | 0.00 | 0.00 | 0.00 | 0.00 | 0.00 | 0.00 | 0.00 | XXX
D5983 |  | R | Radiation applicator | 0.00 | 0.00 | 0.00 | 0.00 | 0.00 | 0.00 | 0.00 | 0.00 | 0.00 | 0.00 | YYY
D5984 |  | R | Radiation shield | 0.00 | 0.00 | 0.00 | 0.00 | 0.00 | 0.00 | 0.00 | 0.00 | 0.00 | 0.00 | YYY
D5985 |  | R | Radiation cone locator | 0.00 | 0.00 | 0.00 | 0.00 | 0.00 | 0.00 | 0.00 | 0.00 | 0.00 | 0.00 | YYY
D5986 |  | N | Fluoride applicator | 0.00 | 0.00 | 0.00 | 0.00 | 0.00 | 0.00 | 0.00 | 0.00 | 0.00 | 0.00 | XXX
D5987 |  | R | Commissure splint | 0.00 | 0.00 | 0.00 | 0.00 | 0.00 | 0.00 | 0.00 | 0.00 | 0.00 | 0.00 | YYY
D5988 |  | I | Surgical splint | 0.00 | 0.00 | 0.00 | 0.00 | 0.00 | 0.00 | 0.00 | 0.00 | 0.00 | 0.00 | XXX
D5999 |  | I | Maxillofacial prosthesis | 0.00 | 0.00 | 0.00 | 0.00 | 0.00 | 0.00 | 0.00 | 0.00 | 0.00 | 0.00 | XXX
D6010 |  | I | Odontics endosteal implant | 0.00 | 0.00 | 0.00 | 0.00 | 0.00 | 0.00 | 0.00 | 0.00 | 0.00 | 0.00 | XXX
D6020 |  | I | Odontics abutment placement | 0.00 | 0.00 | 0.00 | 0.00 | 0.00 | 0.00 | 0.00 | 0.00 | 0.00 | 0.00 | XXX
D6040 |  | I | Odontics eposteal implant | 0.00 | 0.00 | 0.00 | 0.00 | 0.00 | 0.00 | 0.00 | 0.00 | 0.00 | 0.00 | XXX
D6050 |  | I | Odontics transosteal implnt | 0.00 | 0.00 | 0.00 | 0.00 | 0.00 | 0.00 | 0.00 | 0.00 | 0.00 | 0.00 | XXX
D6055 |  | I | Implant connecting bar | 0.00 | 0.00 | 0.00 | 0.00 | 0.00 | 0.00 | 0.00 | 0.00 | 0.00 | 0.00 | XXX
D6056 |  | N | Prefabricated abutment | 0.00 | 0.00 | 0.00 | 0.00 | 0.00 | 0.00 | 0.00 | 0.00 | 0.00 | 0.00 | XXX
D6057 |  | N | Custom abutment | 0.00 | 0.00 | 0.00 | 0.00 | 0.00 | 0.00 | 0.00 | 0.00 | 0.00 | 0.00 | XXX
D6058 |  | N | Abutment supported crown | 0.00 | 0.00 | 0.00 | 0.00 | 0.00 | 0.00 | 0.00 | 0.00 | 0.00 | 0.00 | XXX
D6059 |  | N | Abutment supported mtl crown | 0.00 | 0.00 | 0.00 | 0.00 | 0.00 | 0.00 | 0.00 | 0.00 | 0.00 | 0.00 | XXX
D6060 |  | N | Abutment supported mtl crown | 0.00 | 0.00 | 0.00 | 0.00 | 0.00 | 0.00 | 0.00 | 0.00 | 0.00 | 0.00 | XXX
D6061 |  | N | Abutment supported mtl crown | 0.00 | 0.00 | 0.00 | 0.00 | 0.00 | 0.00 | 0.00 | 0.00 | 0.00 | 0.00 | XXX
D6062 |  | N | Abutment supported mtl crown | 0.00 | 0.00 | 0.00 | 0.00 | 0.00 | 0.00 | 0.00 | 0.00 | 0.00 | 0.00 | XXX
D6063 |  | N | Abutment supported mtl crown | 0.00 | 0.00 | 0.00 | 0.00 | 0.00 | 0.00 | 0.00 | 0.00 | 0.00 | 0.00 | XXX
D6064 |  | N | Abutment supported mtl crown | 0.00 | 0.00 | 0.00 | 0.00 | 0.00 | 0.00 | 0.00 | 0.00 | 0.00 | 0.00 | XXX
D6065 |  | N | Implant supported crown | 0.00 | 0.00 | 0.00 | 0.00 | 0.00 | 0.00 | 0.00 | 0.00 | 0.00 | 0.00 | XXX
D6066 |  | N | Implant supported mtl crown | 0.00 | 0.00 | 0.00 | 0.00 | 0.00 | 0.00 | 0.00 | 0.00 | 0.00 | 0.00 | XXX
D6067 |  | N | Implant supported mtl crown | 0.00 | 0.00 | 0.00 | 0.00 | 0.00 | 0.00 | 0.00 | 0.00 | 0.00 | 0.00 | XXX
D6068 |  | N | Abutment supported retainer | 0.00 | 0.00 | 0.00 | 0.00 | 0.00 | 0.00 | 0.00 | 0.00 | 0.00 | 0.00 | XXX
D6069 |  | N | Abutment supported retainer | 0.00 | 0.00 | 0.00 | 0.00 | 0.00 | 0.00 | 0.00 | 0.00 | 0.00 | 0.00 | XXX
D6070 |  | N | Abutment supported retainer | 0.00 | 0.00 | 0.00 | 0.00 | 0.00 | 0.00 | 0.00 | 0.00 | 0.00 | 0.00 | XXX
D6071 |  | N | Abutment supported retainer | 0.00 | 0.00 | 0.00 | 0.00 | 0.00 | 0.00 | 0.00 | 0.00 | 0.00 | 0.00 | XXX
D6072 |  | N | Abutment supported retainer | 0.00 | 0.00 | 0.00 | 0.00 | 0.00 | 0.00 | 0.00 | 0.00 | 0.00 | 0.00 | XXX
D6073 |  | N | Abutment supported retainer | 0.00 | 0.00 | 0.00 | 0.00 | 0.00 | 0.00 | 0.00 | 0.00 | 0.00 | 0.00 | XXX
D6074 |  | N | Abutment supported retainer | 0.00 | 0.00 | 0.00 | 0.00 | 0.00 | 0.00 | 0.00 | 0.00 | 0.00 | 0.00 | XXX
D6075 |  | N | Implant supported retainer | 0.00 | 0.00 | 0.00 | 0.00 | 0.00 | 0.00 | 0.00 | 0.00 | 0.00 | 0.00 | XXX
D6076 |  | N | Implant supported retainer | 0.00 | 0.00 | 0.00 | 0.00 | 0.00 | 0.00 | 0.00 | 0.00 | 0.00 | 0.00 | XXX
D6077 |  | N | Implant supported retainer | 0.00 | 0.00 | 0.00 | 0.00 | 0.00 | 0.00 | 0.00 | 0.00 | 0.00 | 0.00 | XXX
D6078 |  | N | Implnt/abut suprtd fixd dent | 0.00 | 0.00 | 0.00 | 0.00 | 0.00 | 0.00 | 0.00 | 0.00 | 0.00 | 0.00 | XXX
D6079 |  | N | Implnt/abut suprtd fixd dent | 0.00 | 0.00 | 0.00 | 0.00 | 0.00 | 0.00 | 0.00 | 0.00 | 0.00 | 0.00 | XXX
D6080 |  | I | Implant maintenance | 0.00 | 0.00 | 0.00 | 0.00 | 0.00 | 0.00 | 0.00 | 0.00 | 0.00 | 0.00 | XXX
D6090 |  | I | Repair implant | 0.00 | 0.00 | 0.00 | 0.00 | 0.00 | 0.00 | 0.00 | 0.00 | 0.00 | 0.00 | XXX
D6095 |  | I | Odontics repr abutment | 0.00 | 0.00 | 0.00 | 0.00 | 0.00 | 0.00 | 0.00 | 0.00 | 0.00 | 0.00 | XXX
D6100 |  | I | Removal of implant | 0.00 | 0.00 | 0.00 | 0.00 | 0.00 | 0.00 | 0.00 | 0.00 | 0.00 | 0.00 | XXX
D6199 |  | I | Implant procedure | 0.00 | 0.00 | 0.00 | 0.00 | 0.00 | 0.00 | 0.00 | 0.00 | 0.00 | 0.00 | XXX
D6210 |  | N | Prosthodont high noble metal | 0.00 | 0.00 | 0.00 | 0.00 | 0.00 | 0.00 | 0.00 | 0.00 | 0.00 | 0.00 | XXX
D6211 |  | N | Bridge base metal cast | 0.00 | 0.00 | 0.00 | 0.00 | 0.00 | 0.00 | 0.00 | 0.00 | 0.00 | 0.00 | XXX
D6212 |  | N | Bridge noble metal cast | 0.00 | 0.00 | 0.00 | 0.00 | 0.00 | 0.00 | 0.00 | 0.00 | 0.00 | 0.00 | XXX
D6240 |  | N | Bridge porcelain high noble | 0.00 | 0.00 | 0.00 | 0.00 | 0.00 | 0.00 | 0.00 | 0.00 | 0.00 | 0.00 | XXX
D6241 |  | N | Bridge porcelain base metal | 0.00 | 0.00 | 0.00 | 0.00 | 0.00 | 0.00 | 0.00 | 0.00 | 0.00 | 0.00 | XXX
D6242 |  | N | Bridge porcelain nobel metal | 0.00 | 0.00 | 0.00 | 0.00 | 0.00 | 0.00 | 0.00 | 0.00 | 0.00 | 0.00 | XXX
D6245 |  | N | Bridge porcelain/ceramic | 0.00 | 0.00 | 0.00 | 0.00 | 0.00 | 0.00 | 0.00 | 0.00 | 0.00 | 0.00 | XXX
D6250 |  | N | Bridge resin w/high noble | 0.00 | 0.00 | 0.00 | 0.00 | 0.00 | 0.00 | 0.00 | 0.00 | 0.00 | 0.00 | XXX
D6251 |  | N | Bridge resin base metal | 0.00 | 0.00 | 0.00 | 0.00 | 0.00 | 0.00 | 0.00 | 0.00 | 0.00 | 0.00 | XXX
D6252 |  | N | Bridge resin w/noble metal | 0.00 | 0.00 | 0.00 | 0.00 | 0.00 | 0.00 | 0.00 | 0.00 | 0.00 | 0.00 | XXX
D6519 |  | N | Inlay/onlay porce/ceramic | 0.00 | 0.00 | 0.00 | 0.00 | 0.00 | 0.00 | 0.00 | 0.00 | 0.00 | 0.00 | XXX
D6520 |  | N | Dental retainer two surfaces | 0.00 | 0.00 | 0.00 | 0.00 | 0.00 | 0.00 | 0.00 | 0.00 | 0.00 | 0.00 | XXX
D6530 |  | N | Retainer metallic 3+ surface | 0.00 | 0.00 | 0.00 | 0.00 | 0.00 | 0.00 | 0.00 | 0.00 | 0.00 | 0.00 | XXX
D6543 |  | N | Dental retainr onlay 3 surf | 0.00 | 0.00 | 0.00 | 0.00 | 0.00 | 0.00 | 0.00 | 0.00 | 0.00 | 0.00 | XXX
D6544 |  | N | Dental retainr onlay 4/more | 0.00 | 0.00 | 0.00 | 0.00 | 0.00 | 0.00 | 0.00 | 0.00 | 0.00 | 0.00 | XXX
D6545 |  | N | Dental retainr cast metl | 0.00 | 0.00 | 0.00 | 0.00 | 0.00 | 0.00 | 0.00 | 0.00 | 0.00 | 0.00 | XXX
D6548 |  | N | Porcelain/ceramic retainer | 0.00 | 0.00 | 0.00 | 0.00 | 0.00 | 0.00 | 0.00 | 0.00 | 0.00 | 0.00 | XXX
D6720 |  | N | Retain crown resin w hi nble | 0.00 | 0.00 | 0.00 | 0.00 | 0.00 | 0.00 | 0.00 | 0.00 | 0.00 | 0.00 | XXX
D6721 |  | N | Crown resin w/base metal | 0.00 | 0.00 | 0.00 | 0.00 | 0.00 | 0.00 | 0.00 | 0.00 | 0.00 | 0.00 | XXX
D6722 |  | N | Crown resin w/noble metal | 0.00 | 0.00 | 0.00 | 0.00 | 0.00 | 0.00 | 0.00 | 0.00 | 0.00 | 0.00 | XXX
D6740 |  | N | Crown porcelain/ceramic | 0.00 | 0.00 | 0.00 | 0.00 | 0.00 | 0.00 | 0.00 | 0.00 | 0.00 | 0.00 | XXX
D6750 |  | N | Crown porcelain high noble | 0.00 | 0.00 | 0.00 | 0.00 | 0.00 | 0.00 | 0.00 | 0.00 | 0.00 | 0.00 | XXX
D6751 |  | N | Crown porcelain base metal | 0.00 | 0.00 | 0.00 | 0.00 | 0.00 | 0.00 | 0.00 | 0.00 | 0.00 | 0.00 | XXX
D6752 |  | N | Crown porcelain noble metal | 0.00 | 0.00 | 0.00 | 0.00 | 0.00 | 0.00 | 0.00 | 0.00 | 0.00 | 0.00 | XXX
D6780 |  | N | Crown 3/4 high noble metal | 0.00 | 0.00 | 0.00 | 0.00 | 0.00 | 0.00 | 0.00 | 0.00 | 0.00 | 0.00 | XXX
D6781 |  | N | Crown 3/4 cast based metal | 0.00 | 0.00 | 0.00 | 0.00 | 0.00 | 0.00 | 0.00 | 0.00 | 0.00 | 0.00 | XXX
D6782 |  | N | Crown 3/4 cast noble metal | 0.00 | 0.00 | 0.00 | 0.00 | 0.00 | 0.00 | 0.00 | 0.00 | 0.00 | 0.00 | XXX
D6783 |  | N | Crown 3/4 porcelain/ceramic | 0.00 | 0.00 | 0.00 | 0.00 | 0.00 | 0.00 | 0.00 | 0.00 | 0.00 | 0.00 | XXX
D6790 |  | N | Crown full high noble metal | 0.00 | 0.00 | 0.00 | 0.00 | 0.00 | 0.00 | 0.00 | 0.00 | 0.00 | 0.00 | XXX
D6791 |  | N | Crown full base metal cast | 0.00 | 0.00 | 0.00 | 0.00 | 0.00 | 0.00 | 0.00 | 0.00 | 0.00 | 0.00 | XXX
D6792 |  | N | Crown full noble metal cast | 0.00 | 0.00 | 0.00 | 0.00 | 0.00 | 0.00 | 0.00 | 0.00 | 0.00 | 0.00 | XXX
D6920 |  | R | Dental connector bar | 0.00 | 0.00 | 0.00 | 0.00 | 0.00 | 0.00 | 0.00 | 0.00 | 0.00 | 0.00 | YYY
D6930 |  | N | Dental recement bridge | 0.00 | 0.00 | 0.00 | 0.00 | 0.00 | 0.00 | 0.00 | 0.00 | 0.00 | 0.00 | XXX
D6940 |  | N | Stress breaker | 0.00 | 0.00 | 0.00 | 0.00 | 0.00 | 0.00 | 0.00 | 0.00 | 0.00 | 0.00 | XXX
D6950 |  | N | Precision attachment | 0.00 | 0.00 | 0.00 | 0.00 | 0.00 | 0.00 | 0.00 | 0.00 | 0.00 | 0.00 | XXX
D6970 |  | N | Post & core plus retainer | 0.00 | 0.00 | 0.00 | 0.00 | 0.00 | 0.00 | 0.00 | 0.00 | 0.00 | 0.00 | XXX
D6971 |  | N | Cast post bridge retainer | 0.00 | 0.00 | 0.00 | 0.00 | 0.00 | 0.00 | 0.00 | 0.00 | 0.00 | 0.00 | XXX
D6972 |  | N | Prefab post & core plus reta | 0.00 | 0.00 | 0.00 | 0.00 | 0.00 | 0.00 | 0.00 | 0.00 | 0.00 | 0.00 | XXX
D6973 |  | N | Core build up for retainer | 0.00 | 0.00 | 0.00 | 0.00 | 0.00 | 0.00 | 0.00 | 0.00 | 0.00 | 0.00 | XXX
D6975 |  | N | Coping metal | 0.00 | 0.00 | 0.00 | 0.00 | 0.00 | 0.00 | 0.00 | 0.00 | 0.00 | 0.00 | XXX
D6976 |  | N | Each addtnl cast post | 0.00 | 0.00 | 0.00 | 0.00 | 0.00 | 0.00 | 0.00 | 0.00 | 0.00 | 0.00 | XXX
D6977 |  | N | Each addtl prefab post | 0.00 | 0.00 | 0.00 | 0.00 | 0.00 | 0.00 | 0.00 | 0.00 | 0.00 | 0.00 | XXX
D6980 |  | N | Bridge repair | 0.00 | 0.00 | 0.00 | 0.00 | 0.00 | 0.00 | 0.00 | 0.00 | 0.00 | 0.00 | XXX
D6999 |  | N | Fixed prosthodontic proc | 0.00 | 0.00 | 0.00 | 0.00 | 0.00 | 0.00 | 0.00 | 0.00 | 0.00 | 0.00 | XXX
D7110 |  | R | Oral surgery single tooth | 0.00 | 0.00 | 0.00 | 0.00 | 0.00 | 0.00 | 0.00 | 0.00 | 0.00 | 0.00 | YYY
D7120 |  | R | Each add tooth extraction | 0.00 | 0.00 | 0.00 | 0.00 | 0.00 | 0.00 | 0.00 | 0.00 | 0.00 | 0.00 | YYY
D7130 |  | R | Tooth root removal | 0.00 | 0.00 | 0.00 | 0.00 | 0.00 | 0.00 | 0.00 | 0.00 | 0.00 | 0.00 | YYY
D7210 |  | R | Rem imp tooth w mucoper flp | 0.00 | 0.00 | 0.00 | 0.00 | 0.00 | 0.00 | 0.00 | 0.00 | 0.00 | 0.00 | YYY
D7220 |  | R | Impact tooth remov soft tiss | 0.00 | 0.00 | 0.00 | 0.00 | 0.00 | 0.00 | 0.00 | 0.00 | 0.00 | 0.00 | YYY
D7230 |  | R | Impact tooth remov part bony | 0.00 | 0.00 | 0.00 | 0.00 | 0.00 | 0.00 | 0.00 | 0.00 | 0.00 | 0.00 | YYY
D7240 |  | R | Impact tooth remov comp bony | 0.00 | 0.00 | 0.00 | 0.00 | 0.00 | 0.00 | 0.00 | 0.00 | 0.00 | 0.00 | YYY
D7241 |  | R | Impact tooth rem bony w/comp | 0.00 | 0.00 | 0.00 | 0.00 | 0.00 | 0.00 | 0.00 | 0.00 | 0.00 | 0.00 | YYY
D7250 |  | R | Tooth root removal | 0.00 | 0.00 | 0.00 | 0.00 | 0.00 | 0.00 | 0.00 | 0.00 | 0.00 | 0.00 | YYY
D7260 |  | R | Oral antral fistula closure | 0.00 | 0.00 | 0.00 | 0.00 | 0.00 | 0.00 | 0.00 | 0.00 | 0.00 | 0.00 | YYY
D7270 |  | N | Tooth reimplantation | 0.00 | 0.00 | 0.00 | 0.00 | 0.00 | 0.00 | 0.00 | 0.00 | 0.00 | 0.00 | XXX
D7272 |  | N | Tooth transplantation | 0.00 | 0.00 | 0.00 | 0.00 | 0.00 | 0.00 | 0.00 | 0.00 | 0.00 | 0.00 | XXX
D7280 |  | N | Exposure impact tooth orthod | 0.00 | 0.00 | 0.00 | 0.00 | 0.00 | 0.00 | 0.00 | 0.00 | 0.00 | 0.00 | XXX
D7281 |  | N | Exposure tooth aid eruption | 0.00 | 0.00 | 0.00 | 0.00 | 0.00 | 0.00 | 0.00 | 0.00 | 0.00 | 0.00 | XXX
D7285 |  | I | Biopsy of oral tissue hard | 0.00 | 0.00 | 0.00 | 0.00 | 0.00 | 0.00 | 0.00 | 0.00 | 0.00 | 0.00 | XXX
D7286 |  | I | Biopsy of oral tissue soft | 0.00 | 0.00 | 0.00 | 0.00 | 0.00 | 0.00 | 0.00 | 0.00 | 0.00 | 0.00 | XXX
D7290 |  | N | Repositioning of teeth | 0.00 | 0.00 | 0.00 | 0.00 | 0.00 | 0.00 | 0.00 | 0.00 | 0.00 | 0.00 | XXX
D7291 |  | R | Transseptal fiberotomy | 0.00 | 0.00 | 0.00 | 0.00 | 0.00 | 0.00 | 0.00 | 0.00 | 0.00 | 0.00 | YYY
D7310 |  | I | Alveoplasty w/ extraction | 0.00 | 0.00 | 0.00 | 0.00 | 0.00 | 0.00 | 0.00 | 0.00 | 0.00 | 0.00 | XXX
D7320 |  | I | Alveoplasty w/o extraction | 0.00 | 0.00 | 0.00 | 0.00 | 0.00 | 0.00 | 0.00 | 0.00 | 0.00 | 0.00 | XXX
D7340 |  | I | Vestibuloplasty ridge extens | 0.00 | 0.00 | 0.00 | 0.00 | 0.00 | 0.00 | 0.00 | 0.00 | 0.00 | 0.00 | XXX
D7350 |  | I | Vestibuloplasty exten graft | 0.00 | 0.00 | 0.00 | 0.00 | 0.00 | 0.00 | 0.00 | 0.00 | 0.00 | 0.00 | XXX
D7410 |  | I | Rad exc lesion up to 1.25 cm | 0.00 | 0.00 | 0.00 | 0.00 | 0.00 | 0.00 | 0.00 | 0.00 | 0.00 | 0.00 | XXX
D7420 |  | I | Lesion > 1.25 cm | 0.00 | 0.00 | 0.00 | 0.00 | 0.00 | 0.00 | 0.00 | 0.00 | 0.00 | 0.00 | XXX
D7430 |  | I | Exc benign tumor to 1.25 cm | 0.00 | 0.00 | 0.00 | 0.00 | 0.00 | 0.00 | 0.00 | 0.00 | 0.00 | 0.00 | XXX
D7431 |  | I | Benign tumor exc > 1.25 cm | 0.00 | 0.00 | 0.00 | 0.00 | 0.00 | 0.00 | 0.00 | 0.00 | 0.00 | 0.00 | XXX
D7440 |  | I | Malig tumor exc to 1.25 cm | 0.00 | 0.00 | 0.00 | 0.00 | 0.00 | 0.00 | 0.00 | 0.00 | 0.00 | 0.00 | XXX
D7441 |  | I | Malig tumor > 1.25 cm | 0.00 | 0.00 | 0.00 | 0.00 | 0.00 | 0.00 | 0.00 | 0.00 | 0.00 | 0.00 | XXX
D7450 |  | I | Rem odontogen cyst to 1.25cm | 0.00 | 0.00 | 0.00 | 0.00 | 0.00 | 0.00 | 0.00 | 0.00 | 0.00 | 0.00 | XXX
D7451 |  | I | Rem odontogen cyst > 1.25 cm | 0.00 | 0.00 | 0.00 | 0.00 | 0.00 | 0.00 | 0.00 | 0.00 | 0.00 | 0.00 | XXX
D7460 |  | I | Rem nonodonto cyst to 1.25cm | 0.00 | 0.00 | 0.00 | 0.00 | 0.00 | 0.00 | 0.00 | 0.00 | 0.00 | 0.00 | XXX
D7461 |  | I | Rem nonodonto cyst > 1.25 cm | 0.00 | 0.00 | 0.00 | 0.00 | 0.00 | 0.00 | 0.00 | 0.00 | 0.00 | 0.00 | XXX
D7465 |  | I | Lesion destruction | 0.00 | 0.00 | 0.00 | 0.00 | 0.00 | 0.00 | 0.00 | 0.00 | 0.00 | 0.00 | XXX
D7471 |  | I | Rem exostosis any site | 0.00 | 0.00 | 0.00 | 0.00 | 0.00 | 0.00 | 0.00 | 0.00 | 0.00 | 0.00 | XXX
D7480 |  | I | Partial ostectomy | 0.00 | 0.00 | 0.00 | 0.00 | 0.00 | 0.00 | 0.00 | 0.00 | 0.00 | 0.00 | XXX
D7490 |  | I | Mandible resection | 0.00 | 0.00 | 0.00 | 0.00 | 0.00 | 0.00 | 0.00 | 0.00 | 0.00 | 0.00 | XXX
D7510 |  | I | I&d absc intraoral soft tiss | 0.00 | 0.00 | 0.00 | 0.00 | 0.00 | 0.00 | 0.00 | 0.00 | 0.00 | 0.00 | XXX
D7520 |  | I | I&d abscess extraoral | 0.00 | 0.00 | 0.00 | 0.00 | 0.00 | 0.00 | 0.00 | 0.00 | 0.00 | 0.00 | XXX
D7530 |  | I | Removal fb skin/areolar tiss | 0.00 | 0.00 | 0.00 | 0.00 | 0.00 | 0.00 | 0.00 | 0.00 | 0.00 | 0.00 | XXX
D7540 |  | I | Removal of fb reaction | 0.00 | 0.00 | 0.00 | 0.00 | 0.00 | 0.00 | 0.00 | 0.00 | 0.00 | 0.00 | XXX
D7550 |  | I | Removal of sloughed off bone | 0.00 | 0.00 | 0.00 | 0.00 | 0.00 | 0.00 | 0.00 | 0.00 | 0.00 | 0.00 | XXX
D7560 |  | I | Maxillary sinusotomy | 0.00 | 0.00 | 0.00 | 0.00 | 0.00 | 0.00 | 0.00 | 0.00 | 0.00 | 0.00 | XXX
D7610 |  | I | Maxilla open reduct simple | 0.00 | 0.00 | 0.00 | 0.00 | 0.00 | 0.00 | 0.00 | 0.00 | 0.00 | 0.00 | XXX
D7620 |  | I | Clsd reduct simpl maxilla fx | 0.00 | 0.00 | 0.00 | 0.00 | 0.00 | 0.00 | 0.00 | 0.00 | 0.00 | 0.00 | XXX
D7630 |  | I | Open red simpl mandible fx | 0.00 | 0.00 | 0.00 | 0.00 | 0.00 | 0.00 | 0.00 | 0.00 | 0.00 | 0.00 | XXX
D7640 |  | I | Clsd red simpl mandible fx | 0.00 | 0.00 | 0.00 | 0.00 | 0.00 | 0.00 | 0.00 | 0.00 | 0.00 | 0.00 | XXX
D7650 |  | I | Open red simp malar/zygom fx | 0.00 | 0.00 | 0.00 | 0.00 | 0.00 | 0.00 | 0.00 | 0.00 | 0.00 | 0.00 | XXX
D7660 |  | I | Clsd red simp malar/zygom fx | 0.00 | 0.00 | 0.00 | 0.00 | 0.00 | 0.00 | 0.00 | 0.00 | 0.00 | 0.00 | XXX
D7670 |  | I | Closd rductn splint alveolus | 0.00 | 0.00 | 0.00 | 0.00 | 0.00 | 0.00 | 0.00 | 0.00 | 0.00 | 0.00 | XXX
D7680 |  | I | Reduct simple facial bone fx | 0.00 | 0.00 | 0.00 | 0.00 | 0.00 | 0.00 | 0.00 | 0.00 | 0.00 | 0.00 | XXX
D7710 |  | I | Maxilla open reduct compound | 0.00 | 0.00 | 0.00 | 0.00 | 0.00 | 0.00 | 0.00 | 0.00 | 0.00 | 0.00 | XXX
D7720 |  | I | Clsd reduct compd maxilla fx | 0.00 | 0.00 | 0.00 | 0.00 | 0.00 | 0.00 | 0.00 | 0.00 | 0.00 | 0.00 | XXX
D7730 |  | I | Open reduct compd mandble fx | 0.00 | 0.00 | 0.00 | 0.00 | 0.00 | 0.00 | 0.00 | 0.00 | 0.00 | 0.00 | XXX
D7740 |  | I | Clsd reduct compd mandble fx | 0.00 | 0.00 | 0.00 | 0.00 | 0.00 | 0.00 | 0.00 | 0.00 | 0.00 | 0.00 | XXX
D7750 |  | I | Open red comp malar/zygma fx | 0.00 | 0.00 | 0.00 | 0.00 | 0.00 | 0.00 | 0.00 | 0.00 | 0.00 | 0.00 | XXX
D7760 |  | I | Clsd red comp malar/zygma fx | 0.00 | 0.00 | 0.00 | 0.00 | 0.00 | 0.00 | 0.00 | 0.00 | 0.00 | 0.00 | XXX
D7770 |  | I | Open reduc compd alveolus fx | 0.00 | 0.00 | 0.00 | 0.00 | 0.00 | 0.00 | 0.00 | 0.00 | 0.00 | 0.00 | XXX
D7780 |  | I | Reduct compnd facial bone fx | 0.00 | 0.00 | 0.00 | 0.00 | 0.00 | 0.00 | 0.00 | 0.00 | 0.00 | 0.00 | XXX
D7810 |  | I | Tmj open reduct-dislocation | 0.00 | 0.00 | 0.00 | 0.00 | 0.00 | 0.00 | 0.00 | 0.00 | 0.00 | 0.00 | XXX
D7820 |  | I | Closed tmp manipulation | 0.00 | 0.00 | 0.00 | 0.00 | 0.00 | 0.00 | 0.00 | 0.00 | 0.00 | 0.00 | XXX
D7830 |  | I | Tmj manipulation under anest | 0.00 | 0.00 | 0.00 | 0.00 | 0.00 | 0.00 | 0.00 | 0.00 | 0.00 | 0.00 | XXX
D7840 |  | I | Removal of tmj condyle | 0.00 | 0.00 | 0.00 | 0.00 | 0.00 | 0.00 | 0.00 | 0.00 | 0.00 | 0.00 | XXX
D7850 |  | I | Tmj meniscectomy | 0.00 | 0.00 | 0.00 | 0.00 | 0.00 | 0.00 | 0.00 | 0.00 | 0.00 | 0.00 | XXX
D7852 |  | I | Tmj repair of joint disc | 0.00 | 0.00 | 0.00 | 0.00 | 0.00 | 0.00 | 0.00 | 0.00 | 0.00 | 0.00 | XXX
D7854 |  | I | Tmj excisn of joint membrane | 0.00 | 0.00 | 0.00 | 0.00 | 0.00 | 0.00 | 0.00 | 0.00 | 0.00 | 0.00 | XXX
D7856 |  | I | Tmj cutting of a muscle | 0.00 | 0.00 | 0.00 | 0.00 | 0.00 | 0.00 | 0.00 | 0.00 | 0.00 | 0.00 | XXX
D7858 |  | I | Tmj reconstruction | 0.00 | 0.00 | 0.00 | 0.00 | 0.00 | 0.00 | 0.00 | 0.00 | 0.00 | 0.00 | XXX
D7860 |  | I | Tmj cutting into joint | 0.00 | 0.00 | 0.00 | 0.00 | 0.00 | 0.00 | 0.00 | 0.00 | 0.00 | 0.00 | XXX
D7865 |  | I | Tmj reshaping components | 0.00 | 0.00 | 0.00 | 0.00 | 0.00 | 0.00 | 0.00 | 0.00 | 0.00 | 0.00 | XXX
D7870 |  | I | Tmj aspiration joint fluid | 0.00 | 0.00 | 0.00 | 0.00 | 0.00 | 0.00 | 0.00 | 0.00 | 0.00 | 0.00 | XXX
D7871 |  | N | Lysis + lavage w catheters | 0.00 | 0.00 | 0.00 | 0.00 | 0.00 | 0.00 | 0.00 | 0.00 | 0.00 | 0.00 | XXX
D7872 |  | I | Tmj diagnostic arthroscopy | 0.00 | 0.00 | 0.00 | 0.00 | 0.00 | 0.00 | 0.00 | 0.00 | 0.00 | 0.00 | XXX
D7873 |  | I | Tmj arthroscopy lysis adhesn | 0.00 | 0.00 | 0.00 | 0.00 | 0.00 | 0.00 | 0.00 | 0.00 | 0.00 | 0.00 | XXX
D7874 |  | I | Tmj arthroscopy disc reposit | 0.00 | 0.00 | 0.00 | 0.00 | 0.00 | 0.00 | 0.00 | 0.00 | 0.00 | 0.00 | XXX
D7875 |  | I | Tmj arthroscopy synovectomy | 0.00 | 0.00 | 0.00 | 0.00 | 0.00 | 0.00 | 0.00 | 0.00 | 0.00 | 0.00 | XXX
D7876 |  | I | Tmj arthroscopy discectomy | 0.00 | 0.00 | 0.00 | 0.00 | 0.00 | 0.00 | 0.00 | 0.00 | 0.00 | 0.00 | XXX
D7877 |  | I | Tmj arthroscopy debridement | 0.00 | 0.00 | 0.00 | 0.00 | 0.00 | 0.00 | 0.00 | 0.00 | 0.00 | 0.00 | XXX
D7880 |  | I | Occlusal orthotic appliance | 0.00 | 0.00 | 0.00 | 0.00 | 0.00 | 0.00 | 0.00 | 0.00 | 0.00 | 0.00 | XXX
D7899 |  | I | Tmj unspecified therapy | 0.00 | 0.00 | 0.00 | 0.00 | 0.00 | 0.00 | 0.00 | 0.00 | 0.00 | 0.00 | XXX
D7910 |  | I | Dent sutur recent wnd to 5cm | 0.00 | 0.00 | 0.00 | 0.00 | 0.00 | 0.00 | 0.00 | 0.00 | 0.00 | 0.00 | XXX
D7911 |  | I | Dental suture wound to 5 cm | 0.00 | 0.00 | 0.00 | 0.00 | 0.00 | 0.00 | 0.00 | 0.00 | 0.00 | 0.00 | XXX
D7912 |  | I | Suture complicate wnd > 5 cm | 0.00 | 0.00 | 0.00 | 0.00 | 0.00 | 0.00 | 0.00 | 0.00 | 0.00 | 0.00 | XXX
D7920 |  | I | Dental skin graft | 0.00 | 0.00 | 0.00 | 0.00 | 0.00 | 0.00 | 0.00 | 0.00 | 0.00 | 0.00 | XXX
D7940 |  | R | Reshaping bone orthognathic | 0.00 | 0.00 | 0.00 | 0.00 | 0.00 | 0.00 | 0.00 | 0.00 | 0.00 | 0.00 | YYY
D7941 |  | I | Bone cutting ramus closed | 0.00 | 0.00 | 0.00 | 0.00 | 0.00 | 0.00 | 0.00 | 0.00 | 0.00 | 0.00 | XXX
D7943 |  | I | Cutting ramus open w/graft | 0.00 | 0.00 | 0.00 | 0.00 | 0.00 | 0.00 | 0.00 | 0.00 | 0.00 | 0.00 | XXX
D7944 |  | I | Bone cutting segmented | 0.00 | 0.00 | 0.00 | 0.00 | 0.00 | 0.00 | 0.00 | 0.00 | 0.00 | 0.00 | XXX
D7945 |  | I | Bone cutting body mandible | 0.00 | 0.00 | 0.00 | 0.00 | 0.00 | 0.00 | 0.00 | 0.00 | 0.00 | 0.00 | XXX
D7946 |  | I | Reconstruction maxilla total | 0.00 | 0.00 | 0.00 | 0.00 | 0.00 | 0.00 | 0.00 | 0.00 | 0.00 | 0.00 | XXX
D7947 |  | I | Reconstruct maxilla segment | 0.00 | 0.00 | 0.00 | 0.00 | 0.00 | 0.00 | 0.00 | 0.00 | 0.00 | 0.00 | XXX
D7948 |  | I | Reconstruct midface no graft | 0.00 | 0.00 | 0.00 | 0.00 | 0.00 | 0.00 | 0.00 | 0.00 | 0.00 | 0.00 | XXX
D7949 |  | I | Reconstruct midface w/graft | 0.00 | 0.00 | 0.00 | 0.00 | 0.00 | 0.00 | 0.00 | 0.00 | 0.00 | 0.00 | XXX
D7950 |  | I | Mandible graft | 0.00 | 0.00 | 0.00 | 0.00 | 0.00 | 0.00 | 0.00 | 0.00 | 0.00 | 0.00 | XXX
D7955 |  | I | Repair maxillofacial defects | 0.00 | 0.00 | 0.00 | 0.00 | 0.00 | 0.00 | 0.00 | 0.00 | 0.00 | 0.00 | XXX
D7960 |  | I | Frenulectomy/frenulotomy | 0.00 | 0.00 | 0.00 | 0.00 | 0.00 | 0.00 | 0.00 | 0.00 | 0.00 | 0.00 | XXX
D7970 |  | I | Excision hyperplastic tissue | 0.00 | 0.00 | 0.00 | 0.00 | 0.00 | 0.00 | 0.00 | 0.00 | 0.00 | 0.00 | XXX
D7971 |  | I | Excision pericoronal gingiva | 0.00 | 0.00 | 0.00 | 0.00 | 0.00 | 0.00 | 0.00 | 0.00 | 0.00 | 0.00 | XXX
D7980 |  | I | Sialolithotomy | 0.00 | 0.00 | 0.00 | 0.00 | 0.00 | 0.00 | 0.00 | 0.00 | 0.00 | 0.00 | XXX
D7981 |  | I | Excision of salivary gland | 0.00 | 0.00 | 0.00 | 0.00 | 0.00 | 0.00 | 0.00 | 0.00 | 0.00 | 0.00 | XXX
D7982 |  | I | Sialodochoplasty | 0.00 | 0.00 | 0.00 | 0.00 | 0.00 | 0.00 | 0.00 | 0.00 | 0.00 | 0.00 | XXX
D7983 |  | I | Closure of salivary fistula | 0.00 | 0.00 | 0.00 | 0.00 | 0.00 | 0.00 | 0.00 | 0.00 | 0.00 | 0.00 | XXX
D7990 |  | I | Emergency tracheotomy | 0.00 | 0.00 | 0.00 | 0.00 | 0.00 | 0.00 | 0.00 | 0.00 | 0.00 | 0.00 | XXX
D7991 |  | I | Dental coronoidectomy | 0.00 | 0.00 | 0.00 | 0.00 | 0.00 | 0.00 | 0.00 | 0.00 | 0.00 | 0.00 | XXX
D7995 |  | I | Synthetic graft facial bones | 0.00 | 0.00 | 0.00 | 0.00 | 0.00 | 0.00 | 0.00 | 0.00 | 0.00 | 0.00 | XXX
D7996 |  | I | Implant mandible for augment | 0.00 | 0.00 | 0.00 | 0.00 | 0.00 | 0.00 | 0.00 | 0.00 | 0.00 | 0.00 | XXX
D7997 |  | N | Appliance removal | 0.00 | 0.00 | 0.00 | 0.00 | 0.00 | 0.00 | 0.00 | 0.00 | 0.00 | 0.00 | XXX
D7999 |  | I | Oral surgery procedure | 0.00 | 0.00 | 0.00 | 0.00 | 0.00 | 0.00 | 0.00 | 0.00 | 0.00 | 0.00 | XXX
D8010 |  | N | Limited dental tx primary | 0.00 | 0.00 | 0.00 | 0.00 | 0.00 | 0.00 | 0.00 | 0.00 | 0.00 | 0.00 | XXX
D8020 |  | N | Limited dental tx transition | 0.00 | 0.00 | 0.00 | 0.00 | 0.00 | 0.00 | 0.00 | 0.00 | 0.00 | 0.00 | XXX
D8030 |  | N | Limited dental tx adolescent | 0.00 | 0.00 | 0.00 | 0.00 | 0.00 | 0.00 | 0.00 | 0.00 | 0.00 | 0.00 | XXX
D8040 |  | N | Limited dental tx adult | 0.00 | 0.00 | 0.00 | 0.00 | 0.00 | 0.00 | 0.00 | 0.00 | 0.00 | 0.00 | XXX
D8050 |  | N | Intercep dental tx primary | 0.00 | 0.00 | 0.00 | 0.00 | 0.00 | 0.00 | 0.00 | 0.00 | 0.00 | 0.00 | XXX
D8060 |  | N | Intercep dental tx transitn | 0.00 | 0.00 | 0.00 | 0.00 | 0.00 | 0.00 | 0.00 | 0.00 | 0.00 | 0.00 | XXX
D8070 |  | N | Compre dental tx transition | 0.00 | 0.00 | 0.00 | 0.00 | 0.00 | 0.00 | 0.00 | 0.00 | 0.00 | 0.00 | XXX
D8080 |  | N | Compre dental tx adolescent | 0.00 | 0.00 | 0.00 | 0.00 | 0.00 | 0.00 | 0.00 | 0.00 | 0.00 | 0.00 | XXX
D8090 |  | N | Compre dental tx adult | 0.00 | 0.00 | 0.00 | 0.00 | 0.00 | 0.00 | 0.00 | 0.00 | 0.00 | 0.00 | XXX
D8210 |  | N | Orthodontic rem appliance tx | 0.00 | 0.00 | 0.00 | 0.00 | 0.00 | 0.00 | 0.00 | 0.00 | 0.00 | 0.00 | XXX
D8220 |  | N | Fixed appliance therapy habt | 0.00 | 0.00 | 0.00 | 0.00 | 0.00 | 0.00 | 0.00 | 0.00 | 0.00 | 0.00 | XXX
D8660 |  | N | Preorthodontic tx visit | 0.00 | 0.00 | 0.00 | 0.00 | 0.00 | 0.00 | 0.00 | 0.00 | 0.00 | 0.00 | XXX
D8670 |  | N | Periodic orthodontc tx visit | 0.00 | 0.00 | 0.00 | 0.00 | 0.00 | 0.00 | 0.00 | 0.00 | 0.00 | 0.00 | XXX
D8680 |  | N | Orthodontic retention | 0.00 | 0.00 | 0.00 | 0.00 | 0.00 | 0.00 | 0.00 | 0.00 | 0.00 | 0.00 | XXX
D8690 |  | N | Orthodontic treatment | 0.00 | 0.00 | 0.00 | 0.00 | 0.00 | 0.00 | 0.00 | 0.00 | 0.00 | 0.00 | XXX
D8691 |  | N | Repair ortho appliance | 0.00 | 0.00 | 0.00 | 0.00 | 0.00 | 0.00 | 0.00 | 0.00 | 0.00 | 0.00 | XXX
D8692 |  | N | Replacement retainer | 0.00 | 0.00 | 0.00 | 0.00 | 0.00 | 0.00 | 0.00 | 0.00 | 0.00 | 0.00 | XXX
D8999 |  | N | Orthodontic procedure | 0.00 | 0.00 | 0.00 | 0.00 | 0.00 | 0.00 | 0.00 | 0.00 | 0.00 | 0.00 | XXX
D9110 |  | R | Tx dental pain minor proc | 0.00 | 0.00 | 0.00 | 0.00 | 0.00 | 0.00 | 0.00 | 0.00 | 0.00 | 0.00 | YYY
D9210 |  | I | Dent anesthesia w/o surgery | 0.00 | 0.00 | 0.00 | 0.00 | 0.00 | 0.00 | 0.00 | 0.00 | 0.00 | 0.00 | XXX
D9211 |  | I | Regional block anesthesia | 0.00 | 0.00 | 0.00 | 0.00 | 0.00 | 0.00 | 0.00 | 0.00 | 0.00 | 0.00 | XXX
D9212 |  | I | Trigeminal block anesthesia | 0.00 | 0.00 | 0.00 | 0.00 | 0.00 | 0.00 | 0.00 | 0.00 | 0.00 | 0.00 | XXX
D9215 |  | I | Local anesthesia | 0.00 | 0.00 | 0.00 | 0.00 | 0.00 | 0.00 | 0.00 | 0.00 | 0.00 | 0.00 | XXX
D9220 |  | I | General anesthesia | 0.00 | 0.00 | 0.00 | 0.00 | 0.00 | 0.00 | 0.00 | 0.00 | 0.00 | 0.00 | XXX
D9221 |  | I | General anesthesia ea ad 15m | 0.00 | 0.00 | 0.00 | 0.00 | 0.00 | 0.00 | 0.00 | 0.00 | 0.00 | 0.00 | XXX
D9230 |  | R | Analgesia | 0.00 | 0.00 | 0.00 | 0.00 | 0.00 | 0.00 | 0.00 | 0.00 | 0.00 | 0.00 | YYY
D9241 |  | I | Intravenous sedation | 0.00 | 0.00 | 0.00 | 0.00 | 0.00 | 0.00 | 0.00 | 0.00 | 0.00 | 0.00 | XXX
D9242 |  | I | IV sedation ea ad 30 m | 0.00 | 0.00 | 0.00 | 0.00 | 0.00 | 0.00 | 0.00 | 0.00 | 0.00 | 0.00 | XXX
D9248 |  | R | Sedation (non-iv) | 0.00 | 0.00 | 0.00 | 0.00 | 0.00 | 0.00 | 0.00 | 0.00 | 0.00 | 0.00 | XXX
D9310 |  | I | Dental consultation | 0.00 | 0.00 | 0.00 | 0.00 | 0.00 | 0.00 | 0.00 | 0.00 | 0.00 | 0.00 | XXX
D9410 |  | I | Dental house call | 0.00 | 0.00 | 0.00 | 0.00 | 0.00 | 0.00 | 0.00 | 0.00 | 0.00 | 0.00 | XXX
D9420 |  | I | Hospital call | 0.00 | 0.00 | 0.00 | 0.00 | 0.00 | 0.00 | 0.00 | 0.00 | 0.00 | 0.00 | XXX
D9430 |  | I | Office visit during hours | 0.00 | 0.00 | 0.00 | 0.00 | 0.00 | 0.00 | 0.00 | 0.00 | 0.00 | 0.00 | XXX
D9440 |  | I | Office visit after hours | 0.00 | 0.00 | 0.00 | 0.00 | 0.00 | 0.00 | 0.00 | 0.00 | 0.00 | 0.00 | XXX
D9610 |  | I | Dent therapeutic drug inject | 0.00 | 0.00 | 0.00 | 0.00 | 0.00 | 0.00 | 0.00 | 0.00 | 0.00 | 0.00 | XXX
D9630 |  | R | Other drugs/medicaments | 0.00 | 0.00 | 0.00 | 0.00 | 0.00 | 0.00 | 0.00 | 0.00 | 0.00 | 0.00 | YYY
D9910 |  | N | Dent appl desensitizing med | 0.00 | 0.00 | 0.00 | 0.00 | 0.00 | 0.00 | 0.00 | 0.00 | 0.00 | 0.00 | XXX
D9911 |  | N | Appl desensitizing resin | 0.00 | 0.00 | 0.00 | 0.00 | 0.00 | 0.00 | 0.00 | 0.00 | 0.00 | 0.00 | XXX
D9920 |  | N | Behavior management | 0.00 | 0.00 | 0.00 | 0.00 | 0.00 | 0.00 | 0.00 | 0.00 | 0.00 | 0.00 | XXX
D9930 |  | R | Treatment of complications | 0.00 | 0.00 | 0.00 | 0.00 | 0.00 | 0.00 | 0.00 | 0.00 | 0.00 | 0.00 | YYY
D9940 |  | R | Dental occlusal guard | 0.00 | 0.00 | 0.00 | 0.00 | 0.00 | 0.00 | 0.00 | 0.00 | 0.00 | 0.00 | YYY
D9941 |  | N | Fabrication athletic guard | 0.00 | 0.00 | 0.00 | 0.00 | 0.00 | 0.00 | 0.00 | 0.00 | 0.00 | 0.00 | XXX
D9950 |  | R | Occlusion analysis | 0.00 | 0.00 | 0.00 | 0.00 | 0.00 | 0.00 | 0.00 | 0.00 | 0.00 | 0.00 | YYY
D9951 |  | R | Limited occlusal adjustment | 0.00 | 0.00 | 0.00 | 0.00 | 0.00 | 0.00 | 0.00 | 0.00 | 0.00 | 0.00 | YYY
D9952 |  | R | Complete occlusal adjustment | 0.00 | 0.00 | 0.00 | 0.00 | 0.00 | 0.00 | 0.00 | 0.00 | 0.00 | 0.00 | YYY
D9970 |  | N | Enamel microabrasion | 0.00 | 0.00 | 0.00 | 0.00 | 0.00 | 0.00 | 0.00 | 0.00 | 0.00 | 0.00 | XXX
D9971 |  | N | Odontoplasty 1-2 teeth | 0.00 | 0.00 | 0.00 | 0.00 | 0.00 | 0.00 | 0.00 | 0.00 | 0.00 | 0.00 | XXX
D9972 |  | N | Extrnl bleaching per arch | 0.00 | 0.00 | 0.00 | 0.00 | 0.00 | 0.00 | 0.00 | 0.00 | 0.00 | 0.00 | XXX
D9973 |  | N | Extrnl bleaching per tooth | 0.00 | 0.00 | 0.00 | 0.00 | 0.00 | 0.00 | 0.00 | 0.00 | 0.00 | 0.00 | XXX
D9974 |  | N | Intrnl bleaching per tooth | 0.00 | 0.00 | 0.00 | 0.00 | 0.00 | 0.00 | 0.00 | 0.00 | 0.00 | 0.00 | XXX
D9999 |  | I | Adjunctive procedure | 0.00 | 0.00 | 0.00 | 0.00 | 0.00 | 0.00 | 0.00 | 0.00 | 0.00 | 0.00 | XXX
G0001 |  | X | Drawing blood for specimen | 0.00 | 0.00 | 0.00 | 0.00 | 0.00 | 0.00 | 0.00 | 0.00 | 0.00 | 0.00 | XXX
G0002 |  | A | Temporary urinary catheter | 0.50 | 3.00 | 2.44 | 0.17 | 0.32 | 0.03 | 3.53 | 2.97 | 0.70 | 0.85 | 000
G0004 |  | A | ECG transm phys review & int | 0.52 | 7.41 | 7.54 | NA | NA | 0.45 | 8.38 | 8.51 | NA | NA | XXX
G0005 |  | A | ECG 24 hour recording | 0.00 | 1.23 | 1.24 | NA | NA | 0.07 | 1.30 | 1.31 | NA | NA | XXX
G0006 |  | A | ECG transmission & analysis | 0.00 | 5.97 | 6.03 | NA | NA | 0.36 | 6.33 | 6.39 | NA | NA | XXX
G0007 |  | A | ECG phy review & interpret | 0.52 | 0.21 | 0.27 | 0.21 | 0.27 | 0.02 | 0.75 | 0.81 | 0.75 | 0.81 | XXX
G0008 |  | X | Admin influenza virus vac | 0.00 | 0.00 | 0.00 | 0.00 | 0.00 | 0.00 | 0.00 | 0.00 | 0.00 | 0.00 | XXX
G0009 |  | X | Admin pneumococcal vaccine | 0.00 | 0.00 | 0.00 | 0.00 | 0.00 | 0.00 | 0.00 | 0.00 | 0.00 | 0.00 | XXX
G0010 |  | X | Admin hepatitis b vaccine | 0.00 | 0.00 | 0.00 | 0.00 | 0.00 | 0.00 | 0.00 | 0.00 | 0.00 | 0.00 | XXX
G0015 |  | A | Post symptom ECG tracing | 0.00 | 5.97 | 6.03 | NA | NA | 0.36 | 6.33 | 6.39 | NA | NA | XXX
G0016 |  | A | Post symptom ECG md review | 0.52 | 0.23 | 0.28 | 0.23 | 0.28 | 0.02 | 0.77 | 0.82 | 0.77 | 0.82 | XXX
G0025 |  | A | Collagen skin test kit | 0.00 | 0.00 | 0.26 | 0.00 | 0.26 | 0.00 | 0.00 | 0.26 | 0.00 | 0.26 | XXX
G0026 |  | X | Fecal leukocyte examination | 0.00 | 0.00 | 0.00 | 0.00 | 0.00 | 0.00 | 0.00 | 0.00 | 0.00 | 0.00 | XXX
G0027 |  | X | Semen analysis | 0.00 | 0.00 | 0.00 | 0.00 | 0.00 | 0.00 | 0.00 | 0.00 | 0.00 | 0.00 | XXX
G0030 |  | C | PET imaging prev PET single | 0.00 | 0.00 | 0.00 | 0.00 | 0.00 | 0.00 | 0.00 | 0.00 | 0.00 | 0.00 | XXX
G0030 | 26 | A | PET imaging prev PET single | 1.50 | 0.52 | 0.52 | 0.52 | 0.52 | 0.04 | 2.06 | 2.06 | 2.06 | 2.06 | XXX
G0030 | TC | C | PET imaging prev PET single | 0.00 | 0.00 | 0.00 | 0.00 | 0.00 | 0.00 | 0.00 | 0.00 | 0.00 | 0.00 | XXX
G0031 |  | C | PET imaging prev PET multple | 0.00 | 0.00 | 0.00 | 0.00 | 0.00 | 0.00 | 0.00 | 0.00 | 0.00 | 0.00 | XXX
G0031 | 26 | A | PET imaging prev PET multple | 1.87 | 0.70 | 0.70 | 0.70 | 0.70 | 0.06 | 2.63 | 2.63 | 2.63 | 2.63 | XXX
G0031 | TC | C | PET imaging prev PET multple | 0.00 | 0.00 | 0.00 | 0.00 | 0.00 | 0.00 | 0.00 | 0.00 | 0.00 | 0.00 | XXX
G0032 |  | C | PET follow SPECT 78464 singl | 0.00 | 0.00 | 0.00 | 0.00 | 0.00 | 0.00 | 0.00 | 0.00 | 0.00 | 0.00 | XXX
G0032 | 26 | A | PET follow SPECT 78464 singl | 1.50 | 0.52 | 0.52 | 0.52 | 0.52 | 0.05 | 2.07 | 2.07 | 2.07 | 2.07 | XXX
G0032 | TC | C | PET follow SPECT 78464 singl | 0.00 | 0.00 | 0.00 | 0.00 | 0.00 | 0.00 | 0.00 | 0.00 | 0.00 | 0.00 | XXX
G0033 |  | C | PET follow SPECT 78464 mult | 0.00 | 0.00 | 0.00 | 0.00 | 0.00 | 0.00 | 0.00 | 0.00 | 0.00 | 0.00 | XXX
G0033 | 26 | A | PET follow SPECT 78464 mult | 1.87 | 0.70 | 0.70 | 0.70 | 0.70 | 0.06 | 2.63 | 2.63 | 2.63 | 2.63 | XXX
G0033 | TC | C | PET follow SPECT 78464 mult | 0.00 | 0.00 | 0.00 | 0.00 | 0.00 | 0.00 | 0.00 | 0.00 | 0.00 | 0.00 | XXX
G0034 |  | C | PET follow SPECT 76865 singl | 0.00 | 0.00 | 0.00 | 0.00 | 0.00 | 0.00 | 0.00 | 0.00 | 0.00 | 0.00 | XXX
G0034 | 26 | A | PET follow SPECT 76865 singl | 1.50 | 0.52 | 0.52 | 0.52 | 0.52 | 0.05 | 2.07 | 2.07 | 2.07 | 2.07 | XXX
G0034 | TC | C | PET follow SPECT 76865 singl | 0.00 | 0.00 | 0.00 | 0.00 | 0.00 | 0.00 | 0.00 | 0.00 | 0.00 | 0.00 | XXX
G0035 |  | C | PET follow SPECT 78465 mult | 0.00 | 0.00 | 0.00 | 0.00 | 0.00 | 0.00 | 0.00 | 0.00 | 0.00 | 0.00 | XXX
G0035 | 26 | A | PET follow SPECT 78465 mult | 1.87 | 0.70 | 0.70 | 0.70 | 0.70 | 0.06 | 2.63 | 2.63 | 2.63 | 2.63 | XXX
G0035 | TC | C | PET follow SPECT 78465 mult | 0.00 | 0.00 | 0.00 | 0.00 | 0.00 | 0.00 | 0.00 | 0.00 | 0.00 | 0.00 | XXX
G0036 |  | C | PET follow cornry angio sing | 0.00 | 0.00 | 0.00 | 0.00 | 0.00 | 0.00 | 0.00 | 0.00 | 0.00 | 0.00 | XXX
G0036 | 26 | A | PET follow cornry angio sing | 1.50 | 0.52 | 0.52 | 0.52 | 0.52 | 0.04 | 2.06 | 2.06 | 2.06 | 2.06 | XXX
G0036 | TC | C | PET follow cornry angio sing | 0.00 | 0.00 | 0.00 | 0.00 | 0.00 | 0.00 | 0.00 | 0.00 | 0.00 | 0.00 | XXX
G0037 |  | C | PET follow cornry angio mult | 0.00 | 0.00 | 0.00 | 0.00 | 0.00 | 0.00 | 0.00 | 0.00 | 0.00 | 0.00 | XXX
G0037 | 26 | A | PET follow cornry angio mult | 1.87 | 0.70 | 0.70 | 0.70 | 0.70 | 0.06 | 2.63 | 2.63 | 2.63 | 2.63 | XXX
G0037 | TC | C | PET follow cornry angio mult | 0.00 | 0.00 | 0.00 | 0.00 | 0.00 | 0.00 | 0.00 | 0.00 | 0.00 | 0.00 | XXX
G0038 |  | C | PET follow myocard perf sing | 0.00 | 0.00 | 0.00 | 0.00 | 0.00 | 0.00 | 0.00 | 0.00 | 0.00 | 0.00 | XXX
G0038 | 26 | A | PET follow myocard perf sing | 1.50 | 0.52 | 0.52 | 0.52 | 0.52 | 0.04 | 2.06 | 2.06 | 2.06 | 2.06 | XXX
G0038 | TC | C | PET follow myocard perf sing | 0.00 | 0.00 | 0.00 | 0.00 | 0.00 | 0.00 | 0.00 | 0.00 | 0.00 | 0.00 | XXX
G0039 |  | C | PET follow myocard perf mult | 0.00 | 0.00 | 0.00 | 0.00 | 0.00 | 0.00 | 0.00 | 0.00 | 0.00 | 0.00 | XXX
G0039 | 26 | A | PET follow myocard perf mult | 1.87 | 0.70 | 0.70 | 0.70 | 0.70 | 0.07 | 2.64 | 2.64 | 2.64 | 2.64 | XXX
G0039 | TC | C | PET follow myocard perf mult | 0.00 | 0.00 | 0.00 | 0.00 | 0.00 | 0.00 | 0.00 | 0.00 | 0.00 | 0.00 | XXX
G0040 |  | C | PET follow stress echo singl | 0.00 | 0.00 | 0.00 | 0.00 | 0.00 | 0.00 | 0.00 | 0.00 | 0.00 | 0.00 | XXX
G0040 | 26 | A | PET follow stress echo singl | 1.50 | 0.52 | 0.52 | 0.52 | 0.52 | 0.04 | 2.06 | 2.06 | 2.06 | 2.06 | XXX
G0040 | TC | C | PET follow stress echo singl | 0.00 | 0.00 | 0.00 | 0.00 | 0.00 | 0.00 | 0.00 | 0.00 | 0.00 | 0.00 | XXX
G0041 |  | C | PET follow stress echo mult | 0.00 | 0.00 | 0.00 | 0.00 | 0.00 | 0.00 | 0.00 | 0.00 | 0.00 | 0.00 | XXX
G0041 | 26 | A | PET follow stress echo mult | 1.87 | 0.70 | 0.70 | 0.70 | 0.70 | 0.05 | 2.62 | 2.62 | 2.62 | 2.62 | XXX
G0041 | TC | C | PET follow stress echo mult | 0.00 | 0.00 | 0.00 | 0.00 | 0.00 | 0.00 | 0.00 | 0.00 | 0.00 | 0.00 | XXX
G0042 |  | C | PET follow ventriculogm sing | 0.00 | 0.00 | 0.00 | 0.00 | 0.00 | 0.00 | 0.00 | 0.00 | 0.00 | 0.00 | XXX
G0042 | 26 | A | PET follow ventriculogm sing | 1.50 | 0.52 | 0.52 | 0.52 | 0.52 | 0.04 | 2.06 | 2.06 | 2.06 | 2.06 | XXX
G0042 | TC | C | PET follow ventriculogm sing | 0.00 | 0.00 | 0.00 | 0.00 | 0.00 | 0.00 | 0.00 | 0.00 | 0.00 | 0.00 | XXX
G0043 |  | C | PET follow ventriculogm mult | 0.00 | 0.00 | 0.00 | 0.00 | 0.00 | 0.00 | 0.00 | 0.00 | 0.00 | 0.00 | XXX
G0043 | 26 | A | PET follow ventriculogm mult | 1.87 | 0.70 | 0.70 | 0.70 | 0.70 | 0.06 | 2.63 | 2.63 | 2.63 | 2.63 | XXX
G0043 | TC | C | PET follow ventriculogm mult | 0.00 | 0.00 | 0.00 | 0.00 | 0.00 | 0.00 | 0.00 | 0.00 | 0.00 | 0.00 | XXX
G0044 |  | C | PET following rest ECG singl | 0.00 | 0.00 | 0.00 | 0.00 | 0.00 | 0.00 | 0.00 | 0.00 | 0.00 | 0.00 | XXX
G0044 | 26 | A | PET following rest ECG singl | 1.50 | 0.52 | 0.52 | 0.52 | 0.52 | 0.04 | 2.06 | 2.06 | 2.06 | 2.06 | XXX
G0044 | TC | C | PET following rest ECG singl | 0.00 | 0.00 | 0.00 | 0.00 | 0.00 | 0.00 | 0.00 | 0.00 | 0.00 | 0.00 | XXX
G0045 |  | C | PET following rest ECG mult | 0.00 | 0.00 | 0.00 | 0.00 | 0.00 | 0.00 | 0.00 | 0.00 | 0.00 | 0.00 | XXX
G0045 | 26 | A | PET following rest ECG mult | 1.87 | 0.70 | 0.70 | 0.70 | 0.70 | 0.06 | 2.63 | 2.63 | 2.63 | 2.63 | XXX
G0045 | TC | C | PET following rest ECG mult | 0.00 | 0.00 | 0.00 | 0.00 | 0.00 | 0.00 | 0.00 | 0.00 | 0.00 | 0.00 | XXX
G0046 |  | C | PET follow stress ECG singl | 0.00 | 0.00 | 0.00 | 0.00 | 0.00 | 0.00 | 0.00 | 0.00 | 0.00 | 0.00 | XXX
G0046 | 26 | A | PET follow stress ECG singl | 1.50 | 0.52 | 0.52 | 0.52 | 0.52 | 0.04 | 2.06 | 2.06 | 2.06 | 2.06 | XXX
G0046 | TC | C | PET follow stress ECG singl | 0.00 | 0.00 | 0.00 | 0.00 | 0.00 | 0.00 | 0.00 | 0.00 | 0.00 | 0.00 | XXX
G0047 |  | C | PET follow stress ECG mult | 0.00 | 0.00 | 0.00 | 0.00 | 0.00 | 0.00 | 0.00 | 0.00 | 0.00 | 0.00 | XXX
G0047 | 26 | A | PET follow stress ECG mult | 1.87 | 0.70 | 0.70 | 0.70 | 0.70 | 0.06 | 2.63 | 2.63 | 2.63 | 2.63 | XXX
G0047 | TC | C | PET follow stress ECG mult | 0.00 | 0.00 | 0.00 | 0.00 | 0.00 | 0.00 | 0.00 | 0.00 | 0.00 | 0.00 | XXX
G0050 |  | A | Residual urine by ultrasound | 0.00 | 0.85 | 0.86 | NA | NA | 0.04 | 0.89 | 0.90 | NA | NA | XXX
G0101 |  | A | CA screen;pelvic/breast exam | 0.45 | 0.66 | 0.57 | 0.17 | 0.20 | 0.01 | 1.12 | 1.03 | 0.63 | 0.66 | XXX
G0102 |  | A | Prostate ca screening; dre | 0.17 | 0.37 | 0.34 | 0.06 | 0.07 | 0.01 | 0.55 | 0.52 | 0.24 | 0.25 | XXX
G0103 |  | X | Psa, total screening | 0.00 | 0.00 | 0.00 | 0.00 | 0.00 | 0.00 | 0.00 | 0.00 | 0.00 | 0.00 | XXX
G0104 |  | A | CA screen;flexi sigmoidscope | 0.88 | 1.75 | 1.65 | 0.42 | 0.46 | 0.05 | 2.68 | 2.58 | 1.35 | 1.39 | 000
G0105 |  | A | Colorectal scrn; hi risk ind | 3.68 | 6.60 | 6.07 | 1.70 | 2.38 | 0.20 | 10.48 | 8.95 | 5.58 | 6.26 | 000
G0106 |  | A | Colon CA screen;barium enema | 0.99 | 2.57 | 2.63 | 2.57 | 2.63 | 0.15 | 3.71 | 3.77 | 3.71 | 3.77 | XXX
G0106 | 26 | A | Colon CA screen;barium enema | 0.99 | 0.35 | 0.39 | 0.35 | 0.39 | 0.04 | 1.38 | 1.42 | 1.38 | 1.42 | XXX
G0106 | TC | A | Colon CA screen;barium enema | 0.00 | 2.22 | 2.24 | NA | NA | 0.11 | 2.33 | 2.35 | NA | NA | XXX
G0107 |  | X | CA screen; fecal blood test | 0.00 | 0.00 | 0.00 | 0.00 | 0.00 | 0.00 | 0.00 | 0.00 | 0.00 | 0.00 | XXX
G0108 |  | A | Diab manage trn per indiv | 0.00 | 1.64 | 1.64 | NA | NA | 0.01 | 1.65 | 1.65 | NA | NA | XXX
G0109 |  | A | Diab manage trn ind/group | 0.00 | 0.96 | 0.96 | NA | NA | 0.01 | 0.97 | 0.97 | NA | NA | XXX
G0110 |  | R | Nett pulm-rehab educ; ind | 0.90 | 0.74 | 0.63 | 0.36 | 0.34 | 0.03 | 1.67 | 1.56 | 1.29 | 1.27 | XXX
G0111 |  | R | Nett pulm-rehab educ; group | 0.27 | 0.30 | 0.28 | 0.11 | 0.14 | 0.01 | 0.58 | 0.56 | 0.39 | 0.42 | XXX
G0112 |  | R | Nett;nutrition guid, initial | 1.72 | 1.44 | 1.34 | 0.69 | 0.78 | 0.05 | 3.21 | 3.11 | 2.46 | 2.55 | XXX
G0113 |  | R | Nett;nutrition guid,subseqnt | 1.29 | 1.11 | 1.04 | 0.52 | 0.60 | 0.04 | 2.44 | 2.37 | 1.85 | 1.93 | XXX
G0114 |  | R | Nett; psychosocial consult | 1.20 | 0.49 | 0.46 | 0.48 | 0.46 | 0.03 | 1.72 | 1.69 | 1.71 | 1.69 | XXX
G0115 |  | R | Nett; psychological testing | 1.20 | 0.67 | 0.60 | 0.38 | 0.38 | 0.04 | 1.91 | 1.84 | 1.62 | 1.62 | XXX
G0116 |  | R | Nett; psychosocial counsel | 1.11 | 1.20 | 1.00 | 0.44 | 0.43 | 0.04 | 2.35 | 2.15 | 1.59 | 1.58 | XXX
G0120 |  | A | Colon ca scrn; barium enema | 0.99 | 2.57 | 2.63 | 2.57 | 2.63 | 0.15 | 3.71 | 3.77 | 3.71 | 3.77 | XXX
G0120 | 26 | A | Colon ca scrn; barium enema | 0.99 | 0.35 | 0.39 | 0.35 | 0.39 | 0.04 | 1.38 | 1.42 | 1.38 | 1.42 | XXX
G0120 | TC | A | Colon ca scrn; barium enema | 0.00 | 2.22 | 2.24 | NA | NA | 0.11 | 2.33 | 2.35 | NA | NA | XXX
G0121 |  | N | Colon ca scrn not hi rsk ind | +3.70 | 6.51 | 6.00 | 1.48 | 2.22 | 0.14 | 10.35 | 9.84 | 5.32 | 6.06 | XXX
G0122 |  | N | Colon ca scrn; barium enema | +0.99 | 2.62 | 2.66 | 2.62 | 2.66 | 0.15 | 3.76 | 3.80 | 3.76 | 3.80 | XXX
G0122 | 26 | N | Colon ca scrn; barium enema | +0.99 | 0.40 | 0.42 | 0.40 | 0.42 | 0.04 | 1.43 | 1.45 | 1.43 | 1.45 | XXX
G0122 | TC | N | Colon ca scrn; barium enema | +0.00 | 2.22 | 2.24 | NA | NA | 0.11 | 2.33 | 2.35 | NA | NA | XXX
G0123 |  | X | Screen cerv/vag thin layer | 0.00 | 0.00 | 0.00 | 0.00 | 0.00 | 0.00 | 0.00 | 0.00 | 0.00 | 0.00 | XXX
G0124 |  | A | Screen c/v thin layer by MD | 0.42 | 0.18 | 0.22 | 0.18 | 0.22 | 0.01 | 0.61 | 0.65 | 0.61 | 0.65 | XXX
G0125 |  | A | Lung image (PET) | 1.50 | 56.10 | 56.11 | 56.10 | 56.11 | 2.00 | 59.60 | 59.61 | 59.60 | 59.61 | XXX
G0125 | 26 | A | Lung image (PET) | 1.50 | 0.52 | 0.52 | 0.52 | 0.52 | 0.05 | 2.07 | 2.07 | 2.07 | 2.07 | XXX
G0125 | TC | A | Lung image (PET) | 0.00 | 55.58 | 55.59 | NA | NA | 1.95 | 57.53 | 57.54 | NA | NA | XXX
G0126 |  | A | Lung image (PET) staging | 1.87 | 56.28 | 56.29 | 56.28 | 56.29 | 2.01 | 60.16 | 60.17 | 60.16 | 60.17 | XXX
G0126 | 26 | A | Lung image (PET) staging | 1.87 | 0.70 | 0.70 | 0.70 | 0.70 | 0.06 | 2.63 | 2.63 | 2.63 | 2.63 | XXX
G0126 | TC | A | Lung image (PET) staging | 0.00 | 55.58 | 55.59 | NA | NA | 1.95 | 57.53 | 57.54 | NA | NA | XXX
G0127 |  | R | Trim nail(s) | 0.11 | 0.49 | 0.43 | 0.04 | 0.06 | 0.01 | 0.61 | 0.55 | 0.16 | 0.18 | 000
G0128 |  | R | CORF skilled nursing service | 0.08 | 0.03 | 0.03 | 0.03 | 0.03 | 0.01 | 0.12 | 0.12 | 0.12 | 0.12 | XXX
G0130 |  | A | Single energy x-ray study | 0.22 | 0.90 | 0.90 | 0.90 | 0.90 | 0.05 | 1.17 | 1.17 | 1.17 | 1.17 | XXX
G0130 | 26 | A | Single energy x-ray study | 0.22 | 0.11 | 0.11 | 0.11 | 0.11 | 0.01 | 0.34 | 0.34 | 0.34 | 0.34 | XXX
G0130 | TC | A | Single energy x-ray study | 0.00 | 0.79 | 0.79 | NA | NA | 0.04 | 0.83 | 0.83 | NA | NA | XXX
G0131 |  | A | CT scan, bone density study | 0.25 | 3.18 | 3.18 | 3.18 | 3.18 | 0.14 | 3.57 | 3.57 | 3.57 | 3.57 | XXX
G0131 | 26 | A | CT scan, bone density study | 0.25 | 0.13 | 0.13 | 0.13 | 0.13 | 0.01 | 0.39 | 0.39 | 0.39 | 0.39 | XXX
G0131 | TC | A | CT scan, bone density study | 0.00 | 3.05 | 3.05 | NA | NA | 0.13 | 3.18 | 3.18 | NA | NA | XXX
G0132 |  | A | CT scan, bone density study | 0.22 | 0.90 | 0.90 | 0.90 | 0.90 | 0.05 | 1.17 | 1.17 | 1.17 | 1.17 | XXX
G0132 | 26 | A | CT scan, bone density study | 0.22 | 0.11 | 0.11 | 0.11 | 0.11 | 0.01 | 0.34 | 0.34 | 0.34 | 0.34 | XXX
G0132 | TC | A | CT scan, bone density study | 0.00 | 0.79 | 0.79 | NA | NA | 0.04 | 0.83 | 0.83 | NA | NA | XXX
G0141 |  | A | Scr c/v cyto,autosys and md | 0.42 | 0.18 | 0.22 | 0.18 | 0.22 | 0.01 | 0.61 | 0.65 | 0.61 | 0.65 | XXX
G0143 |  | X | Scr c/v cyto,thinlayer,rescr | 0.00 | 0.00 | 0.00 | 0.00 | 0.00 | 0.00 | 0.00 | 0.00 | 0.00 | 0.00 | XXX
G0144 |  | X | Scr c/v cyto,thinlayer,rescr | 0.00 | 0.00 | 0.00 | 0.00 | 0.00 | 0.00 | 0.00 | 0.00 | 0.00 | 0.00 | XXX
G0145 |  | X | Scr c/v cyto,thinlayer,rescr | 0.00 | 0.00 | 0.00 | 0.00 | 0.00 | 0.00 | 0.00 | 0.00 | 0.00 | 0.00 | XXX
G0147 |  | X | Scr c/v cyto, automated sys | 0.00 | 0.00 | 0.00 | 0.00 | 0.00 | 0.00 | 0.00 | 0.00 | 0.00 | 0.00 | XXX
G0148 |  | X | Scr c/v cyto, autosys, rescr | 0.00 | 0.00 | 0.00 | 0.00 | 0.00 | 0.00 | 0.00 | 0.00 | 0.00 | 0.00 | XXX
G0159 |  | D | Perc declot dialysis graft | 0.00 | 0.00 | 0.00 | 0.00 | 0.00 | 0.00 | 0.00 | 0.00 | 0.00 | 0.00 | XXX
G0160 |  | D | Cryo. ablation, prostate | 0.00 | 0.00 | 0.00 | 0.00 | 0.00 | 0.00 | 0.00 | 0.00 | 0.00 | 0.00 | 090
G0161 |  | D | Echo guide for cryo probes | 0.00 | 0.00 | 0.00 | 0.00 | 0.00 | 0.00 | 0.00 | 0.00 | 0.00 | 0.00 | XXX
G0161 | 26 | D | Echo guide for cryo probes | 0.00 | 0.00 | 0.00 | 0.00 | 0.00 | 0.00 | 0.00 | 0.00 | 0.00 | 0.00 | XXX
G0161 | TC | D | Echo guide for cryo probes | 0.00 | 0.00 | 0.00 | 0.00 | 0.00 | 0.00 | 0.00 | 0.00 | 0.00 | 0.00 | XXX
G0163 |  | A | Pet for rec of colorectal ca | 1.50 | 56.15 | 56.15 | 56.15 | 56.15 | 2.00 | 59.65 | 59.65 | 59.65 | 59.65 | XXX
G0163 | 26 | A | Pet for rec of colorectal ca | 1.50 | 0.57 | 0.57 | 0.57 | 0.57 | 0.05 | 2.12 | 2.12 | 2.12 | 2.12 | XXX
G0163 | TC | A | Pet for rec of colorectal ca | 0.00 | 55.58 | 55.58 | NA | NA | 1.95 | 57.53 | 57.53 | NA | NA | XXX
G0164 |  | A | Pet for lymphoma staging | 1.87 | 56.28 | 56.28 | 56.28 | 56.28 | 2.01 | 60.16 | 60.16 | 60.16 | 60.16 | XXX
G0164 | 26 | A | Pet for lymphoma staging | 1.87 | 0.70 | 0.70 | 0.70 | 0.70 | 0.06 | 2.63 | 2.63 | 2.63 | 2.63 | XXX
G0164 | TC | A | Pet for lymphoma staging | 0.00 | 55.58 | 55.58 | NA | NA | 1.95 | 57.53 | 57.53 | NA | NA | XXX
G0165 |  | A | Pet,rec of melanoma/met ca | 1.50 | 56.17 | 56.17 | 56.17 | 56.17 | 2.00 | 59.67 | 59.67 | 59.67 | 59.67 | XXX
G0165 | 26 | A | Pet,rec of melanoma/met ca | 1.50 | 0.59 | 0.59 | 0.59 | 0.59 | 0.05 | 2.14 | 2.14 | 2.14 | 2.14 | XXX
G0165 | TC | A | Pet,rec of melanoma/met ca | 0.00 | 55.58 | 55.58 | NA | NA | 1.95 | 57.53 | 57.53 | NA | NA | XXX
G0166 |  | A | Extrnl counterpulse, per tx | 0.07 | 3.68 | 3.68 | 0.03 | 0.03 | 0.01 | 3.76 | 3.76 | 0.11 | 0.11 | XXX
G0167 |  | C | Hyperbaric oz tx;no md reqrd | 0.00 | 0.00 | 0.00 | 0.00 | 0.00 | 0.00 | 0.00 | 0.00 | 0.00 | 0.00 | XXX
G0168 |  | A | Wound closure by adhesive | 0.45 | 1.79 | 1.79 | 0.25 | 0.25 | 0.01 | 2.25 | 2.25 | 0.71 | 0.71 | 000
G0169 |  | D | Removal tissue; no anesthsia | 0.00 | 0.00 | 0.00 | 0.00 | 0.00 | 0.00 | 0.00 | 0.00 | 0.00 | 0.00 | XXX
G0170 |  | D | Skin biograft | 0.00 | 0.00 | 0.00 | 0.00 | 0.00 | 0.00 | 0.00 | 0.00 | 0.00 | 0.00 | 010
G0171 |  | D | Skin biograft add-on | 0.00 | 0.00 | 0.00 | 0.00 | 0.00 | 0.00 | 0.00 | 0.00 | 0.00 | 0.00 | ZZZ
G0173 |  | X | Stereo radoisurgery,complete | 0.00 | 0.00 | 0.00 | 0.00 | 0.00 | 0.00 | 0.00 | 0.00 | 0.00 | 0.00 | XXX
G0174 |  | X | Intensitymodulatedradiation | 0.00 | 0.00 | 0.00 | 0.00 | 0.00 | 0.00 | 0.00 | 0.00 | 0.00 | 0.00 | XXX
G0175 |  | X | OPPS Service,sched team conf | 0.00 | 0.00 | 0.00 | 0.00 | 0.00 | 0.00 | 0.00 | 0.00 | 0.00 | 0.00 | XXX
G0176 |  | X | OPPS/PHP;activity therapy | 0.00 | 0.00 | 0.00 | 0.00 | 0.00 | 0.00 | 0.00 | 0.00 | 0.00 | 0.00 | XXX
G0177 |  | X | OPPS/PHP; train & educ serv | 0.00 | 0.00 | 0.00 | 0.00 | 0.00 | 0.00 | 0.00 | 0.00 | 0.00 | 0.00 | XXX
G0178 |  | X | Intensitymodulatedradiation | 0.00 | 0.00 | 0.00 | 0.00 | 0.00 | 0.00 | 0.00 | 0.00 | 0.00 | 0.00 | XXX
G0179 |  | A | Intensitymodulatedradiation | 0.45 | 1.09 | 1.09 | 0.18 | 0.18 | 0.06 | 1.60 | 1.60 | 0.69 | 0.69 | XXX
G0180 |  | A | MD certification HHA patient | 0.67 | 1.18 | 1.18 | 0.27 | 0.27 | 0.06 | 1.91 | 1.91 | 1.00 | 1.00 | XXX
G0181 |  | A | Home health care supervision | 1.73 | 1.40 | 1.40 | 0.63 | 0.63 | 0.06 | 3.19 | 3.19 | 2.42 | 2.42 | XXX
G0182 |  | A | Hospice care supervision | 1.73 | 1.73 | 1.73 | 0.60 | 0.60 | 0.06 | 3.52 | 3.52 | 2.39 | 2.39 | XXX
G0183 |  | X | Ocular photodynamic therapy | 0.00 | 0.00 | 0.00 | 0.00 | 0.00 | 0.00 | 0.00 | 0.00 | 0.00 | 0.00 | XXX
G0184 |  | A | Ocular photocoagulation | 0.47 | 0.23 | 0.23 | 0.23 | 0.23 | 0.50 | 1.20 | 1.20 | 1.20 | 1.20 | ZZZ
G0185 |  | C | Transpuppillary thermotx | 0.00 | 0.00 | 0.00 | 0.00 | 0.00 | 0.00 | 0.00 | 0.00 | 0.00 | 0.00 | YYY
G0186 |  | C | Dstry eye lesn,fdr vssl tech | 0.00 | 0.00 | 0.00 | 0.00 | 0.00 | 0.00 | 0.00 | 0.00 | 0.00 | 0.00 | YYY
G0187 |  | C | Dstry mclr drusen,photocoag | 0.00 | 0.00 | 0.00 | 0.00 | 0.00 | 0.00 | 0.00 | 0.00 | 0.00 | 0.00 | YYY
G0188 |  | C | Xray lwr extrmty-full lngth | 0.00 | 0.00 | 0.00 | 0.00 | 0.00 | 0.00 | 0.00 | 0.00 | 0.00 | 0.00 | XXX
G0188 | 26 | C | Xray lwr extrmty-full lngth | 0.00 | 0.00 | 0.00 | 0.00 | 0.00 | 0.00 | 0.00 | 0.00 | 0.00 | 0.00 | XXX
G0188 | TC | C | Xray lwr extrmty-full lngth | 0.00 | 0.00 | 0.00 | 0.00 | 0.00 | 0.00 | 0.00 | 0.00 | 0.00 | 0.00 | XXX
G0190 |  | X | MD recertification HHA patient | 0.00 | 0.00 | 0.00 | 0.00 | 0.00 | 0.00 | 0.00 | 0.00 | 0.00 | 0.00 | XXX
G0191 |  | X | Immunization admin,each add | 0.00 | 0.00 | 0.00 | 0.00 | 0.00 | 0.00 | 0.00 | 0.00 | 0.00 | 0.00 | XXX
G0192 |  | N | Immunization oral/intranasal | 0.00 | 0.00 | 0.00 | 0.00 | 0.00 | 0.00 | 0.00 | 0.00 | 0.00 | 0.00 | XXX
G0193 |  | C | Endoscopicstudyswallowfunctn | 0.00 | 0.00 | 0.00 | 0.00 | 0.00 | 0.00 | 0.00 | 0.00 | 0.00 | 0.00 | XXX
G0194 |  | C | Sensorytestingendoscopicstud | 0.00 | 0.00 | 0.00 | 0.00 | 0.00 | 0.00 | 0.00 | 0.00 | 0.00 | 0.00 | XXX
G0195 |  | C | Clinicalevalswallowingfunct | 0.00 | 0.00 | 0.00 | 0.00 | 0.00 | 0.00 | 0.00 | 0.00 | 0.00 | 0.00 | XXX
G0196 |  | C | Evalofswallowingwithradioopa | 0.00 | 0.00 | 0.00 | 0.00 | 0.00 | 0.00 | 0.00 | 0.00 | 0.00 | 0.00 | XXX
G0197 |  | A | Evalofptforprescipspeechdevi | 1.35 | 1.91 | 1.91 | 0.77 | 0.77 | 0.04 | 3.30 | 3.30 | 2.16 | 2.16 | XXX
G0198 |  | A | Patientadapation&trainforspe | 0.99 | 1.05 | 1.05 | 0.57 | 0.57 | 0.03 | 2.07 | 2.07 | 1.59 | 1.59 | XXX
G0199 |  | A | Reevaluationofpatientusespec | 1.01 | 1.72 | 1.72 | 0.58 | 0.58 | 0.03 | 2.76 | 2.76 | 1.62 | 1.62 | XXX
G0200 |  | A | Evalofpatientprescipofvoicep | 1.35 | 1.91 | 1.91 | 0.77 | 0.77 | 0.04 | 3.30 | 3.30 | 2.16 | 2.16 | XXX
G0201 |  | A | Modifortraininginusevoicepro | 0.99 | 1.05 | 1.05 | 0.57 | 0.57 | 0.03 | 2.07 | 2.07 | 1.59 | 1.59 | XXX
G9001 |  | X | MCCD, initial rate | 0.00 | 0.00 | 0.00 | 0.00 | 0.00 | 0.00 | 0.00 | 0.00 | 0.00 | 0.00 | XXX
G9002 |  | X | MCCD,maintenance rate | 0.00 | 0.00 | 0.00 | 0.00 | 0.00 | 0.00 | 0.00 | 0.00 | 0.00 | 0.00 | XXX
G9003 |  | X | MCCD, risk adj hi, initial | 0.00 | 0.00 | 0.00 | 0.00 | 0.00 | 0.00 | 0.00 | 0.00 | 0.00 | 0.00 | XXX
G9004 |  | X | MCCD, risk adj lo, initial | 0.00 | 0.00 | 0.00 | 0.00 | 0.00 | 0.00 | 0.00 | 0.00 | 0.00 | 0.00 | XXX
G9005 |  | X | MCCD, risk adj, maintenance | 0.00 | 0.00 | 0.00 | 0.00 | 0.00 | 0.00 | 0.00 | 0.00 | 0.00 | 0.00 | XXX
G9006 |  | X | MCCD, Home monitoring | 0.00 | 0.00 | 0.00 | 0.00 | 0.00 | 0.00 | 0.00 | 0.00 | 0.00 | 0.00 | XXX
G9007 |  | X | MCCD, sch team conf | 0.00 | 0.00 | 0.00 | 0.00 | 0.00 | 0.00 | 0.00 | 0.00 | 0.00 | 0.00 | XXX
G9008 |  | X | Mccd,phys coor-care ovrsght | 0.00 | 0.00 | 0.00 | 0.00 | 0.00 | 0.00 | 0.00 | 0.00 | 0.00 | 0.00 | XXX
G9016 |  | N | Demo-smoking cessation coun | 0.00 | 0.00 | 0.00 | 0.00 | 0.00 | 0.00 | 0.00 | 0.00 | 0.00 | 0.00 | XXX
H0001 |  | I | Alcohol and/or drug assess | 0.00 | 0.00 | 0.00 | 0.00 | 0.00 | 0.00 | 0.00 | 0.00 | 0.00 | 0.00 | XXX
H0002 |  | I | Alcohol and/or drug screenin | 0.00 | 0.00 | 0.00 | 0.00 | 0.00 | 0.00 | 0.00 | 0.00 | 0.00 | 0.00 | XXX
H0003 |  | I | Alcohol and/or drug screenin | 0.00 | 0.00 | 0.00 | 0.00 | 0.00 | 0.00 | 0.00 | 0.00 | 0.00 | 0.00 | XXX
H0004 |  | I | Alcohol and/or drug services | 0.00 | 0.00 | 0.00 | 0.00 | 0.00 | 0.00 | 0.00 | 0.00 | 0.00 | 0.00 | XXX
H0005 |  | I | Alcohol and/or drug services | 0.00 | 0.00 | 0.00 | 0.00 | 0.00 | 0.00 | 0.00 | 0.00 | 0.00 | 0.00 | XXX
H0006 |  | I | Alcohol and/or drug services | 0.00 | 0.00 | 0.00 | 0.00 | 0.00 | 0.00 | 0.00 | 0.00 | 0.00 | 0.00 | XXX
H0007 |  | I | Alcohol and/or drug services | 0.00 | 0.00 | 0.00 | 0.00 | 0.00 | 0.00 | 0.00 | 0.00 | 0.00 | 0.00 | XXX
H0008 |  | I | Alcohol and/or drug services | 0.00 | 0.00 | 0.00 | 0.00 | 0.00 | 0.00 | 0.00 | 0.00 | 0.00 | 0.00 | XXX
H0009 |  | I | Alcohol and/or drug services | 0.00 | 0.00 | 0.00 | 0.00 | 0.00 | 0.00 | 0.00 | 0.00 | 0.00 | 0.00 | XXX
H0010 |  | I | Alcohol and/or drug services | 0.00 | 0.00 | 0.00 | 0.00 | 0.00 | 0.00 | 0.00 | 0.00 | 0.00 | 0.00 | XXX
H0011 |  | I | Alcohol and/or drug services | 0.00 | 0.00 | 0.00 | 0.00 | 0.00 | 0.00 | 0.00 | 0.00 | 0.00 | 0.00 | XXX
H0012 |  | I | Alcohol and/or drug services | 0.00 | 0.00 | 0.00 | 0.00 | 0.00 | 0.00 | 0.00 | 0.00 | 0.00 | 0.00 | XXX
H0013 |  | I | Alcohol and/or drug services | 0.00 | 0.00 | 0.00 | 0.00 | 0.00 | 0.00 | 0.00 | 0.00 | 0.00 | 0.00 | XXX
H0014 |  | I | Alcohol and/or drug services | 0.00 | 0.00 | 0.00 | 0.00 | 0.00 | 0.00 | 0.00 | 0.00 | 0.00 | 0.00 | XXX
H0015 |  | I | Alcohol and/or drug services | 0.00 | 0.00 | 0.00 | 0.00 | 0.00 | 0.00 | 0.00 | 0.00 | 0.00 | 0.00 | XXX
H0016 |  | I | Alcohol and/or drug services | 0.00 | 0.00 | 0.00 | 0.00 | 0.00 | 0.00 | 0.00 | 0.00 | 0.00 | 0.00 | XXX
H0017 |  | I | Alcohol and/or drug services | 0.00 | 0.00 | 0.00 | 0.00 | 0.00 | 0.00 | 0.00 | 0.00 | 0.00 | 0.00 | XXX
H0018 |  | I | Alcohol and/or drug services | 0.00 | 0.00 | 0.00 | 0.00 | 0.00 | 0.00 | 0.00 | 0.00 | 0.00 | 0.00 | XXX
H0019 |  | I | Alcohol and/or drug services | 0.00 | 0.00 | 0.00 | 0.00 | 0.00 | 0.00 | 0.00 | 0.00 | 0.00 | 0.00 | XXX
H0020 |  | I | Alcohol and/or drug services | 0.00 | 0.00 | 0.00 | 0.00 | 0.00 | 0.00 | 0.00 | 0.00 | 0.00 | 0.00 | XXX
H0021 |  | I | Alcohol and/or drug training | 0.00 | 0.00 | 0.00 | 0.00 | 0.00 | 0.00 | 0.00 | 0.00 | 0.00 | 0.00 | XXX
H0022 |  | I | Alcohol and/or drug interven | 0.00 | 0.00 | 0.00 | 0.00 | 0.00 | 0.00 | 0.00 | 0.00 | 0.00 | 0.00 | XXX
H0023 |  | I | Alcohol and/or drug outreach | 0.00 | 0.00 | 0.00 | 0.00 | 0.00 | 0.00 | 0.00 | 0.00 | 0.00 | 0.00 | XXX
H0024 |  | I | Alcohol and/or drug preventi | 0.00 | 0.00 | 0.00 | 0.00 | 0.00 | 0.00 | 0.00 | 0.00 | 0.00 | 0.00 | XXX
H0025 |  | I | Alcohol and/or drug preventi | 0.00 | 0.00 | 0.00 | 0.00 | 0.00 | 0.00 | 0.00 | 0.00 | 0.00 | 0.00 | XXX
H0026 |  | I | Alcohol and/or drug preventi | 0.00 | 0.00 | 0.00 | 0.00 | 0.00 | 0.00 | 0.00 | 0.00 | 0.00 | 0.00 | XXX
H0027 |  | I | Alcohol and/or drug preventi | 0.00 | 0.00 | 0.00 | 0.00 | 0.00 | 0.00 | 0.00 | 0.00 | 0.00 | 0.00 | XXX
H0028 |  | I | Alcohol and/or drug preventi | 0.00 | 0.00 | 0.00 | 0.00 | 0.00 | 0.00 | 0.00 | 0.00 | 0.00 | 0.00 | XXX
H0029 |  | I | Alcohol and/or drug preventi | 0.00 | 0.00 | 0.00 | 0.00 | 0.00 | 0.00 | 0.00 | 0.00 | 0.00 | 0.00 | XXX
H0030 |  | I | Alcohol and/or drug hotline | 0.00 | 0.00 | 0.00 | 0.00 | 0.00 | 0.00 | 0.00 | 0.00 | 0.00 | 0.00 | XXX
J0120 |  | E | Tetracyclin injection | 0.00 | 0.00 | 0.00 | 0.00 | 0.00 | 0.00 | 0.00 | 0.00 | 0.00 | 0.00 | XXX
J0130 |  | E | Abciximab injection | 0.00 | 0.00 | 0.00 | 0.00 | 0.00 | 0.00 | 0.00 | 0.00 | 0.00 | 0.00 | XXX
J0150 |  | E | Injection adenosine 6 MG | 0.00 | 0.00 | 0.00 | 0.00 | 0.00 | 0.00 | 0.00 | 0.00 | 0.00 | 0.00 | XXX
J0151 |  | E | Adenosine injection | 0.00 | 0.00 | 0.00 | 0.00 | 0.00 | 0.00 | 0.00 | 0.00 | 0.00 | 0.00 | XXX
J0170 |  | E | Adrenalin epinephrin inject | 0.00 | 0.00 | 0.00 | 0.00 | 0.00 | 0.00 | 0.00 | 0.00 | 0.00 | 0.00 | XXX
J0190 |  | E | Inj biperiden lactate/5 mg | 0.00 | 0.00 | 0.00 | 0.00 | 0.00 | 0.00 | 0.00 | 0.00 | 0.00 | 0.00 | XXX
J0200 |  | E | Alatrofloxacin mesylate | 0.00 | 0.00 | 0.00 | 0.00 | 0.00 | 0.00 | 0.00 | 0.00 | 0.00 | 0.00 | XXX
J0205 |  | E | Alglucerase injection | 0.00 | 0.00 | 0.00 | 0.00 | 0.00 | 0.00 | 0.00 | 0.00 | 0.00 | 0.00 | XXX
J0207 |  | E | Amifostine | 0.00 | 0.00 | 0.00 | 0.00 | 0.00 | 0.00 | 0.00 | 0.00 | 0.00 | 0.00 | XXX
J0210 |  | E | Methyldopate hcl injection | 0.00 | 0.00 | 0.00 | 0.00 | 0.00 | 0.00 | 0.00 | 0.00 | 0.00 | 0.00 | XXX
J0256 |  | E | Alpha 1 proteinase inhibitor | 0.00 | 0.00 | 0.00 | 0.00 | 0.00 | 0.00 | 0.00 | 0.00 | 0.00 | 0.00 | XXX
J0270 |  | E | Alprostadil for injection | 0.00 | 0.00 | 0.00 | 0.00 | 0.00 | 0.00 | 0.00 | 0.00 | 0.00 | 0.00 | XXX
J0275 |  | E | Alprostadil urethral suppos | 0.00 | 0.00 | 0.00 | 0.00 | 0.00 | 0.00 | 0.00 | 0.00 | 0.00 | 0.00 | XXX
J0280 |  | E | Aminophyllin 250 MG inj | 0.00 | 0.00 | 0.00 | 0.00 | 0.00 | 0.00 | 0.00 | 0.00 | 0.00 | 0.00 | XXX
J0282 |  | E | Amiodarone HCl | 0.00 | 0.00 | 0.00 | 0.00 | 0.00 | 0.00 | 0.00 | 0.00 | 0.00 | 0.00 | XXX
J0285 |  | E | Amphotericin B | 0.00 | 0.00 | 0.00 | 0.00 | 0.00 | 0.00 | 0.00 | 0.00 | 0.00 | 0.00 | XXX
J0286 |  | E | Amphotericin B lipid complex | 0.00 | 0.00 | 0.00 | 0.00 | 0.00 | 0.00 | 0.00 | 0.00 | 0.00 | 0.00 | XXX
J0290 |  | E | Ampicillin 500 MG inj | 0.00 | 0.00 | 0.00 | 0.00 | 0.00 | 0.00 | 0.00 | 0.00 | 0.00 | 0.00 | XXX
J0295 |  | E | Ampicillin sodium per 1.5 gm | 0.00 | 0.00 | 0.00 | 0.00 | 0.00 | 0.00 | 0.00 | 0.00 | 0.00 | 0.00 | XXX
J0300 |  | E | Amobarbital 125 MG inj | 0.00 | 0.00 | 0.00 | 0.00 | 0.00 | 0.00 | 0.00 | 0.00 | 0.00 | 0.00 | XXX
J0330 |  | E | Succinycholine chloride inj | 0.00 | 0.00 | 0.00 | 0.00 | 0.00 | 0.00 | 0.00 | 0.00 | 0.00 | 0.00 | XXX
J0340 |  | E | Nandrolon phenpropionate inj | 0.00 | 0.00 | 0.00 | 0.00 | 0.00 | 0.00 | 0.00 | 0.00 | 0.00 | 0.00 | XXX
J0350 |  | E | Injection anistreplase 30 u | 0.00 | 0.00 | 0.00 | 0.00 | 0.00 | 0.00 | 0.00 | 0.00 | 0.00 | 0.00 | XXX
J0360 |  | E | Hydralazine hcl injection | 0.00 | 0.00 | 0.00 | 0.00 | 0.00 | 0.00 | 0.00 | 0.00 | 0.00 | 0.00 | XXX
J0380 |  | E | Inj metaraminol bitartrate | 0.00 | 0.00 | 0.00 | 0.00 | 0.00 | 0.00 | 0.00 | 0.00 | 0.00 | 0.00 | XXX
J0390 |  | E | Chloroquine injection | 0.00 | 0.00 | 0.00 | 0.00 | 0.00 | 0.00 | 0.00 | 0.00 | 0.00 | 0.00 | XXX
J0395 |  | E | Arbutamine HCl injection | 0.00 | 0.00 | 0.00 | 0.00 | 0.00 | 0.00 | 0.00 | 0.00 | 0.00 | 0.00 | XXX
J0400 |  | E | Inj trimethaphan camsylate | 0.00 | 0.00 | 0.00 | 0.00 | 0.00 | 0.00 | 0.00 | 0.00 | 0.00 | 0.00 | XXX
J0456 |  | E | Azithromycin | 0.00 | 0.00 | 0.00 | 0.00 | 0.00 | 0.00 | 0.00 | 0.00 | 0.00 | 0.00 | XXX
J0460 |  | E | Atropine sulfate injection | 0.00 | 0.00 | 0.00 | 0.00 | 0.00 | 0.00 | 0.00 | 0.00 | 0.00 | 0.00 | XXX
J0470 |  | E | Dimecaprol injection | 0.00 | 0.00 | 0.00 | 0.00 | 0.00 | 0.00 | 0.00 | 0.00 | 0.00 | 0.00 | XXX
J0475 |  | E | Baclofen 10 MG injection | 0.00 | 0.00 | 0.00 | 0.00 | 0.00 | 0.00 | 0.00 | 0.00 | 0.00 | 0.00 | XXX
J0476 |  | E | Baclofen intrathecal trial | 0.00 | 0.00 | 0.00 | 0.00 | 0.00 | 0.00 | 0.00 | 0.00 | 0.00 | 0.00 | XXX
J0500 |  | E | Dicyclomine injection | 0.00 | 0.00 | 0.00 | 0.00 | 0.00 | 0.00 | 0.00 | 0.00 | 0.00 | 0.00 | XXX
J0510 |  | E | Benzquinamide injection | 0.00 | 0.00 | 0.00 | 0.00 | 0.00 | 0.00 | 0.00 | 0.00 | 0.00 | 0.00 | XXX
J0515 |  | E | Inj benztropine mesylate | 0.00 | 0.00 | 0.00 | 0.00 | 0.00 | 0.00 | 0.00 | 0.00 | 0.00 | 0.00 | XXX
J0520 |  | E | Bethanechol chloride inject | 0.00 | 0.00 | 0.00 | 0.00 | 0.00 | 0.00 | 0.00 | 0.00 | 0.00 | 0.00 | XXX
J0530 |  | E | Penicillin g benzathine inj | 0.00 | 0.00 | 0.00 | 0.00 | 0.00 | 0.00 | 0.00 | 0.00 | 0.00 | 0.00 | XXX
J0540 |  | E | Penicillin g benzathine inj | 0.00 | 0.00 | 0.00 | 0.00 | 0.00 | 0.00 | 0.00 | 0.00 | 0.00 | 0.00 | XXX
J0550 |  | E | Penicillin g benzathine inj | 0.00 | 0.00 | 0.00 | 0.00 | 0.00 | 0.00 | 0.00 | 0.00 | 0.00 | 0.00 | XXX
J0560 |  | E | Penicillin g benzathine inj | 0.00 | 0.00 | 0.00 | 0.00 | 0.00 | 0.00 | 0.00 | 0.00 | 0.00 | 0.00 | XXX
J0570 |  | E | Penicillin g benzathine inj | 0.00 | 0.00 | 0.00 | 0.00 | 0.00 | 0.00 | 0.00 | 0.00 | 0.00 | 0.00 | XXX
J0580 |  | E | Penicillin g benzathine inj | 0.00 | 0.00 | 0.00 | 0.00 | 0.00 | 0.00 | 0.00 | 0.00 | 0.00 | 0.00 | XXX
J0585 |  | E | Botulinum toxin a per unit | 0.00 | 0.00 | 0.00 | 0.00 | 0.00 | 0.00 | 0.00 | 0.00 | 0.00 | 0.00 | XXX
J0590 |  | E | Ethylnorepinephrine hcl inj | 0.00 | 0.00 | 0.00 | 0.00 | 0.00 | 0.00 | 0.00 | 0.00 | 0.00 | 0.00 | XXX
J0600 |  | E | Edetate calcium disodium inj | 0.00 | 0.00 | 0.00 | 0.00 | 0.00 | 0.00 | 0.00 | 0.00 | 0.00 | 0.00 | XXX
J0610 |  | E | Calcium gluconate injection | 0.00 | 0.00 | 0.00 | 0.00 | 0.00 | 0.00 | 0.00 | 0.00 | 0.00 | 0.00 | XXX
J0620 |  | E | Calcium glycer & lact/10 ML | 0.00 | 0.00 | 0.00 | 0.00 | 0.00 | 0.00 | 0.00 | 0.00 | 0.00 | 0.00 | XXX
J0630 |  | E | Calcitonin salmon injection | 0.00 | 0.00 | 0.00 | 0.00 | 0.00 | 0.00 | 0.00 | 0.00 | 0.00 | 0.00 | XXX
J0635 |  | E | Calcitriol injection | 0.00 | 0.00 | 0.00 | 0.00 | 0.00 | 0.00 | 0.00 | 0.00 | 0.00 | 0.00 | XXX
J0640 |  | E | Leucovorin calcium injection | 0.00 | 0.00 | 0.00 | 0.00 | 0.00 | 0.00 | 0.00 | 0.00 | 0.00 | 0.00 | XXX
J0670 |  | E | Inj mepivacaine HCL/10 ml | 0.00 | 0.00 | 0.00 | 0.00 | 0.00 | 0.00 | 0.00 | 0.00 | 0.00 | 0.00 | XXX
J0690 |  | E | Cefazolin sodium injection | 0.00 | 0.00 | 0.00 | 0.00 | 0.00 | 0.00 | 0.00 | 0.00 | 0.00 | 0.00 | XXX
J0694 |  | E | Cefoxitin sodium injection | 0.00 | 0.00 | 0.00 | 0.00 | 0.00 | 0.00 | 0.00 | 0.00 | 0.00 | 0.00 | XXX
J0695 |  | E | Cefonocid sodium injection | 0.00 | 0.00 | 0.00 | 0.00 | 0.00 | 0.00 | 0.00 | 0.00 | 0.00 | 0.00 | XXX
J0696 |  | E | Ceftriaxone sodium injection | 0.00 | 0.00 | 0.00 | 0.00 | 0.00 | 0.00 | 0.00 | 0.00 | 0.00 | 0.00 | XXX
J0697 |  | E | Sterile cefuroxime injection | 0.00 | 0.00 | 0.00 | 0.00 | 0.00 | 0.00 | 0.00 | 0.00 | 0.00 | 0.00 | XXX
J0698 |  | E | Cefotaxime sodium injection | 0.00 | 0.00 | 0.00 | 0.00 | 0.00 | 0.00 | 0.00 | 0.00 | 0.00 | 0.00 | XXX
J0702 |  | E | Betamethasone acet&sod phosp | 0.00 | 0.00 | 0.00 | 0.00 | 0.00 | 0.00 | 0.00 | 0.00 | 0.00 | 0.00 | XXX
J0704 |  | E | Betamethasone sod phosp/4 MG | 0.00 | 0.00 | 0.00 | 0.00 | 0.00 | 0.00 | 0.00 | 0.00 | 0.00 | 0.00 | XXX
J0710 |  | E | Cephapirin sodium injection | 0.00 | 0.00 | 0.00 | 0.00 | 0.00 | 0.00 | 0.00 | 0.00 | 0.00 | 0.00 | XXX
J0713 |  | E | Inj ceftazidime per 500 mg | 0.00 | 0.00 | 0.00 | 0.00 | 0.00 | 0.00 | 0.00 | 0.00 | 0.00 | 0.00 | XXX
J0715 |  | E | Ceftizoxime sodium / 500 MG | 0.00 | 0.00 | 0.00 | 0.00 | 0.00 | 0.00 | 0.00 | 0.00 | 0.00 | 0.00 | XXX
J0720 |  | E | Chloramphenicol sodium injec | 0.00 | 0.00 | 0.00 | 0.00 | 0.00 | 0.00 | 0.00 | 0.00 | 0.00 | 0.00 | XXX
J0725 |  | E | Chorionic gonadotropin/1000u | 0.00 | 0.00 | 0.00 | 0.00 | 0.00 | 0.00 | 0.00 | 0.00 | 0.00 | 0.00 | XXX
J0730 |  | E | Chlorpheniramin maleate inj | 0.00 | 0.00 | 0.00 | 0.00 | 0.00 | 0.00 | 0.00 | 0.00 | 0.00 | 0.00 | XXX
J0735 |  | E | Clonidine hydrochloride | 0.00 | 0.00 | 0.00 | 0.00 | 0.00 | 0.00 | 0.00 | 0.00 | 0.00 | 0.00 | XXX
J0740 |  | E | Cidofovir injection | 0.00 | 0.00 | 0.00 | 0.00 | 0.00 | 0.00 | 0.00 | 0.00 | 0.00 | 0.00 | XXX
J0743 |  | E | Cilastatin sodium injection | 0.00 | 0.00 | 0.00 | 0.00 | 0.00 | 0.00 | 0.00 | 0.00 | 0.00 | 0.00 | XXX
J0745 |  | E | Inj codeine phosphate /30 MG | 0.00 | 0.00 | 0.00 | 0.00 | 0.00 | 0.00 | 0.00 | 0.00 | 0.00 | 0.00 | XXX
J0760 |  | E | Colchicine injection | 0.00 | 0.00 | 0.00 | 0.00 | 0.00 | 0.00 | 0.00 | 0.00 | 0.00 | 0.00 | XXX
J0770 |  | E | Colistimethate sodium inj | 0.00 | 0.00 | 0.00 | 0.00 | 0.00 | 0.00 | 0.00 | 0.00 | 0.00 | 0.00 | XXX
J0780 |  | E | Prochlorperazine injection | 0.00 | 0.00 | 0.00 | 0.00 | 0.00 | 0.00 | 0.00 | 0.00 | 0.00 | 0.00 | XXX
J0800 |  | E | Corticotropin injection | 0.00 | 0.00 | 0.00 | 0.00 | 0.00 | 0.00 | 0.00 | 0.00 | 0.00 | 0.00 | XXX
J0810 |  | E | Cortisone injection | 0.00 | 0.00 | 0.00 | 0.00 | 0.00 | 0.00 | 0.00 | 0.00 | 0.00 | 0.00 | XXX
J0835 |  | E | Inj cosyntropin per 0.25 MG | 0.00 | 0.00 | 0.00 | 0.00 | 0.00 | 0.00 | 0.00 | 0.00 | 0.00 | 0.00 | XXX
J0850 |  | E | Cytomegalovirus imm IV /vial | 0.00 | 0.00 | 0.00 | 0.00 | 0.00 | 0.00 | 0.00 | 0.00 | 0.00 | 0.00 | XXX
J0895 |  | E | Deferoxamine mesylate inj | 0.00 | 0.00 | 0.00 | 0.00 | 0.00 | 0.00 | 0.00 | 0.00 | 0.00 | 0.00 | XXX
J0900 |  | E | Testosterone enanthate inj | 0.00 | 0.00 | 0.00 | 0.00 | 0.00 | 0.00 | 0.00 | 0.00 | 0.00 | 0.00 | XXX
J0945 |  | E | Brompheniramine maleate inj | 0.00 | 0.00 | 0.00 | 0.00 | 0.00 | 0.00 | 0.00 | 0.00 | 0.00 | 0.00 | XXX
J0970 |  | E | Estradiol valerate injection | 0.00 | 0.00 | 0.00 | 0.00 | 0.00 | 0.00 | 0.00 | 0.00 | 0.00 | 0.00 | XXX
J1000 |  | E | Depo-estradiol cypionate inj | 0.00 | 0.00 | 0.00 | 0.00 | 0.00 | 0.00 | 0.00 | 0.00 | 0.00 | 0.00 | XXX
J1020 |  | E | Methylprednisolone 20 MG inj | 0.00 | 0.00 | 0.00 | 0.00 | 0.00 | 0.00 | 0.00 | 0.00 | 0.00 | 0.00 | XXX
J1030 |  | E | Methylprednisolone 40 MG inj | 0.00 | 0.00 | 0.00 | 0.00 | 0.00 | 0.00 | 0.00 | 0.00 | 0.00 | 0.00 | XXX
J1040 |  | E | Methylprednisolone 80 MG inj | 0.00 | 0.00 | 0.00 | 0.00 | 0.00 | 0.00 | 0.00 | 0.00 | 0.00 | 0.00 | XXX
J1050 |  | E | Medroxyprogesterone inj | 0.00 | 0.00 | 0.00 | 0.00 | 0.00 | 0.00 | 0.00 | 0.00 | 0.00 | 0.00 | XXX
J1055 |  | N | Medrxyprogester acetate inj | 0.00 | 0.00 | 0.00 | 0.00 | 0.00 | 0.00 | 0.00 | 0.00 | 0.00 | 0.00 | XXX
J1060 |  | E | Testosterone cypionate 1 ML | 0.00 | 0.00 | 0.00 | 0.00 | 0.00 | 0.00 | 0.00 | 0.00 | 0.00 | 0.00 | XXX
J1070 |  | E | Testosterone cypionat 100 MG | 0.00 | 0.00 | 0.00 | 0.00 | 0.00 | 0.00 | 0.00 | 0.00 | 0.00 | 0.00 | XXX
J1080 |  | E | Testosterone cypionat 200 MG | 0.00 | 0.00 | 0.00 | 0.00 | 0.00 | 0.00 | 0.00 | 0.00 | 0.00 | 0.00 | XXX
J1090 |  | E | Testosterone cypionate 50 MG | 0.00 | 0.00 | 0.00 | 0.00 | 0.00 | 0.00 | 0.00 | 0.00 | 0.00 | 0.00 | XXX
J1095 |  | E | Inj dexamethasone acetate | 0.00 | 0.00 | 0.00 | 0.00 | 0.00 | 0.00 | 0.00 | 0.00 | 0.00 | 0.00 | XXX
J1100 |  | E | Dexamethasone sodium phos | 0.00 | 0.00 | 0.00 | 0.00 | 0.00 | 0.00 | 0.00 | 0.00 | 0.00 | 0.00 | XXX
J1110 |  | E | Inj dihydroergotamine mesylt | 0.00 | 0.00 | 0.00 | 0.00 | 0.00 | 0.00 | 0.00 | 0.00 | 0.00 | 0.00 | XXX
J1120 |  | E | Acetazolamid sodium injectio | 0.00 | 0.00 | 0.00 | 0.00 | 0.00 | 0.00 | 0.00 | 0.00 | 0.00 | 0.00 | XXX
J1160 |  | E | Digoxin injection | 0.00 | 0.00 | 0.00 | 0.00 | 0.00 | 0.00 | 0.00 | 0.00 | 0.00 | 0.00 | XXX
J1165 |  | E | Phenytoin sodium injection | 0.00 | 0.00 | 0.00 | 0.00 | 0.00 | 0.00 | 0.00 | 0.00 | 0.00 | 0.00 | XXX
J1170 |  | E | Hydromorphone injection | 0.00 | 0.00 | 0.00 | 0.00 | 0.00 | 0.00 | 0.00 | 0.00 | 0.00 | 0.00 | XXX
J1180 |  | E | Dyphylline injection | 0.00 | 0.00 | 0.00 | 0.00 | 0.00 | 0.00 | 0.00 | 0.00 | 0.00 | 0.00 | XXX
J1190 |  | E | Dexrazoxane HCl injection | 0.00 | 0.00 | 0.00 | 0.00 | 0.00 | 0.00 | 0.00 | 0.00 | 0.00 | 0.00 | XXX
J1200 |  | E | Diphenhydramine hcl injectio | 0.00 | 0.00 | 0.00 | 0.00 | 0.00 | 0.00 | 0.00 | 0.00 | 0.00 | 0.00 | XXX
J1205 |  | E | Chlorothiazide sodium inj | 0.00 | 0.00 | 0.00 | 0.00 | 0.00 | 0.00 | 0.00 | 0.00 | 0.00 | 0.00 | XXX
J1212 |  | E | Dimethyl sulfoxide 50% 50 ML | 0.00 | 0.00 | 0.00 | 0.00 | 0.00 | 0.00 | 0.00 | 0.00 | 0.00 | 0.00 | XXX
J1230 |  | E | Methadone injection | 0.00 | 0.00 | 0.00 | 0.00 | 0.00 | 0.00 | 0.00 | 0.00 | 0.00 | 0.00 | XXX
J1240 |  | E | Dimenhydrinate injection | 0.00 | 0.00 | 0.00 | 0.00 | 0.00 | 0.00 | 0.00 | 0.00 | 0.00 | 0.00 | XXX
J1245 |  | E | Dipyridamole injection | 0.00 | 0.00 | 0.00 | 0.00 | 0.00 | 0.00 | 0.00 | 0.00 | 0.00 | 0.00 | XXX
J1250 |  | E | Inj dobutamine HCL/250 mg | 0.00 | 0.00 | 0.00 | 0.00 | 0.00 | 0.00 | 0.00 | 0.00 | 0.00 | 0.00 | XXX
J1260 |  | E | Dolasetron mesylate | 0.00 | 0.00 | 0.00 | 0.00 | 0.00 | 0.00 | 0.00 | 0.00 | 0.00 | 0.00 | XXX
J1320 |  | E | Amitriptyline injection | 0.00 | 0.00 | 0.00 | 0.00 | 0.00 | 0.00 | 0.00 | 0.00 | 0.00 | 0.00 | XXX
J1325 |  | E | Epoprostenol injection | 0.00 | 0.00 | 0.00 | 0.00 | 0.00 | 0.00 | 0.00 | 0.00 | 0.00 | 0.00 | XXX
J1327 |  | E | Eptifibatide injection | 0.00 | 0.00 | 0.00 | 0.00 | 0.00 | 0.00 | 0.00 | 0.00 | 0.00 | 0.00 | XXX
J1330 |  | E | Ergonovine maleate injection | 0.00 | 0.00 | 0.00 | 0.00 | 0.00 | 0.00 | 0.00 | 0.00 | 0.00 | 0.00 | XXX
J1362 |  | E | Erythromycin glucep / 250 MG | 0.00 | 0.00 | 0.00 | 0.00 | 0.00 | 0.00 | 0.00 | 0.00 | 0.00 | 0.00 | XXX
J1364 |  | E | Erythro lactobionate /500 MG | 0.00 | 0.00 | 0.00 | 0.00 | 0.00 | 0.00 | 0.00 | 0.00 | 0.00 | 0.00 | XXX
J1380 |  | E | Estradiol valerate 10 MG inj | 0.00 | 0.00 | 0.00 | 0.00 | 0.00 | 0.00 | 0.00 | 0.00 | 0.00 | 0.00 | XXX
J1390 |  | E | Estradiol valerate 20 MG inj | 0.00 | 0.00 | 0.00 | 0.00 | 0.00 | 0.00 | 0.00 | 0.00 | 0.00 | 0.00 | XXX
J1410 |  | E | Inj estrogen conjugate 25 MG | 0.00 | 0.00 | 0.00 | 0.00 | 0.00 | 0.00 | 0.00 | 0.00 | 0.00 | 0.00 | XXX
J1435 |  | E | Injection estrone per 1 MG | 0.00 | 0.00 | 0.00 | 0.00 | 0.00 | 0.00 | 0.00 | 0.00 | 0.00 | 0.00 | XXX
J1436 |  | E | Etidronate disodium inj | 0.00 | 0.00 | 0.00 | 0.00 | 0.00 | 0.00 | 0.00 | 0.00 | 0.00 | 0.00 | XXX
J1438 |  | E | Etanercept injection | 0.00 | 0.00 | 0.00 | 0.00 | 0.00 | 0.00 | 0.00 | 0.00 | 0.00 | 0.00 | XXX
J1440 |  | E | Filgrastim 300 mcg injeciton | 0.00 | 0.00 | 0.00 | 0.00 | 0.00 | 0.00 | 0.00 | 0.00 | 0.00 | 0.00 | XXX
J1441 |  | E | Filgrastim 480 mcg injection | 0.00 | 0.00 | 0.00 | 0.00 | 0.00 | 0.00 | 0.00 | 0.00 | 0.00 | 0.00 | XXX
J1450 |  | E | Fluconazole | 0.00 | 0.00 | 0.00 | 0.00 | 0.00 | 0.00 | 0.00 | 0.00 | 0.00 | 0.00 | XXX
J1452 |  | E | Intraocular Fomivirsen na | 0.00 | 0.00 | 0.00 | 0.00 | 0.00 | 0.00 | 0.00 | 0.00 | 0.00 | 0.00 | XXX
J1455 |  | E | Foscarnet sodium injection | 0.00 | 0.00 | 0.00 | 0.00 | 0.00 | 0.00 | 0.00 | 0.00 | 0.00 | 0.00 | XXX
J1460 |  | E | Gamma globulin 1 CC inj | 0.00 | 0.00 | 0.00 | 0.00 | 0.00 | 0.00 | 0.00 | 0.00 | 0.00 | 0.00 | XXX
J1470 |  | E | Gamma globulin 2 CC inj | 0.00 | 0.00 | 0.00 | 0.00 | 0.00 | 0.00 | 0.00 | 0.00 | 0.00 | 0.00 | XXX
J1480 |  | E | Gamma globulin 3 CC inj | 0.00 | 0.00 | 0.00 | 0.00 | 0.00 | 0.00 | 0.00 | 0.00 | 0.00 | 0.00 | XXX
J1490 |  | E | Gamma globulin 4 CC inj | 0.00 | 0.00 | 0.00 | 0.00 | 0.00 | 0.00 | 0.00 | 0.00 | 0.00 | 0.00 | XXX
J1500 |  | E | Gamma globulin 5 CC inj | 0.00 | 0.00 | 0.00 | 0.00 | 0.00 | 0.00 | 0.00 | 0.00 | 0.00 | 0.00 | XXX
J1510 |  | E | Gamma globulin 6 CC inj | 0.00 | 0.00 | 0.00 | 0.00 | 0.00 | 0.00 | 0.00 | 0.00 | 0.00 | 0.00 | XXX
J1520 |  | E | Gamma globulin 7 CC inj | 0.00 | 0.00 | 0.00 | 0.00 | 0.00 | 0.00 | 0.00 | 0.00 | 0.00 | 0.00 | XXX
J1530 |  | E | Gamma globulin 8 CC inj | 0.00 | 0.00 | 0.00 | 0.00 | 0.00 | 0.00 | 0.00 | 0.00 | 0.00 | 0.00 | XXX
J1540 |  | E | Gamma globulin 9 CC inj | 0.00 | 0.00 | 0.00 | 0.00 | 0.00 | 0.00 | 0.00 | 0.00 | 0.00 | 0.00 | XXX
J1550 |  | E | Gamma globulin 10 CC inj | 0.00 | 0.00 | 0.00 | 0.00 | 0.00 | 0.00 | 0.00 | 0.00 | 0.00 | 0.00 | XXX
J1560 |  | E | Gamma globulin > 10 CC inj | 0.00 | 0.00 | 0.00 | 0.00 | 0.00 | 0.00 | 0.00 | 0.00 | 0.00 | 0.00 | XXX
J1561 |  | E | Immune globulin 500 mg | 0.00 | 0.00 | 0.00 | 0.00 | 0.00 | 0.00 | 0.00 | 0.00 | 0.00 | 0.00 | XXX
J1562 |  | D | Immune globulin 5 gms | 0.00 | 0.00 | 0.00 | 0.00 | 0.00 | 0.00 | 0.00 | 0.00 | 0.00 | 0.00 | XXX
J1563 |  | E | IV immune globulin | 0.00 | 0.00 | 0.00 | 0.00 | 0.00 | 0.00 | 0.00 | 0.00 | 0.00 | 0.00 | XXX
J1565 |  | E | RSV-ivig | 0.00 | 0.00 | 0.00 | 0.00 | 0.00 | 0.00 | 0.00 | 0.00 | 0.00 | 0.00 | XXX
J1570 |  | E | Ganciclovir sodium injection | 0.00 | 0.00 | 0.00 | 0.00 | 0.00 | 0.00 | 0.00 | 0.00 | 0.00 | 0.00 | XXX
J1580 |  | E | Garamycin gentamicin inj | 0.00 | 0.00 | 0.00 | 0.00 | 0.00 | 0.00 | 0.00 | 0.00 | 0.00 | 0.00 | XXX
J1600 |  | E | Gold sodium thiomaleate inj | 0.00 | 0.00 | 0.00 | 0.00 | 0.00 | 0.00 | 0.00 | 0.00 | 0.00 | 0.00 | XXX
J1610 |  | E | Glucagon hydrochloride/1 MG | 0.00 | 0.00 | 0.00 | 0.00 | 0.00 | 0.00 | 0.00 | 0.00 | 0.00 | 0.00 | XXX
J1620 |  | E | Gonadorelin hydroch/ 100 mcg | 0.00 | 0.00 | 0.00 | 0.00 | 0.00 | 0.00 | 0.00 | 0.00 | 0.00 | 0.00 | XXX
J1626 |  | E | Granisetron HCl injection | 0.00 | 0.00 | 0.00 | 0.00 | 0.00 | 0.00 | 0.00 | 0.00 | 0.00 | 0.00 | XXX
J1630 |  | E | Haloperidol injection | 0.00 | 0.00 | 0.00 | 0.00 | 0.00 | 0.00 | 0.00 | 0.00 | 0.00 | 0.00 | XXX
J1631 |  | E | Haloperidol decanoate inj | 0.00 | 0.00 | 0.00 | 0.00 | 0.00 | 0.00 | 0.00 | 0.00 | 0.00 | 0.00 | XXX
J1642 |  | E | Inj heparin sodium per 10 u | 0.00 | 0.00 | 0.00 | 0.00 | 0.00 | 0.00 | 0.00 | 0.00 | 0.00 | 0.00 | XXX
J1644 |  | E | Inj heparin sodium per 1000u | 0.00 | 0.00 | 0.00 | 0.00 | 0.00 | 0.00 | 0.00 | 0.00 | 0.00 | 0.00 | XXX
J1645 |  | E | Dalteparin sodium | 0.00 | 0.00 | 0.00 | 0.00 | 0.00 | 0.00 | 0.00 | 0.00 | 0.00 | 0.00 | XXX
J1650 |  | E | Inj enoxaparin sodium | 0.00 | 0.00 | 0.00 | 0.00 | 0.00 | 0.00 | 0.00 | 0.00 | 0.00 | 0.00 | XXX
J1670 |  | E | Tetanus immune globulin inj | 0.00 | 0.00 | 0.00 | 0.00 | 0.00 | 0.00 | 0.00 | 0.00 | 0.00 | 0.00 | XXX
J1690 |  | E | Prednisolone tebutate inj | 0.00 | 0.00 | 0.00 | 0.00 | 0.00 | 0.00 | 0.00 | 0.00 | 0.00 | 0.00 | XXX
J1700 |  | E | Hydrocortisone acetate inj | 0.00 | 0.00 | 0.00 | 0.00 | 0.00 | 0.00 | 0.00 | 0.00 | 0.00 | 0.00 | XXX
J1710 |  | E | Hydrocortisone sodium ph inj | 0.00 | 0.00 | 0.00 | 0.00 | 0.00 | 0.00 | 0.00 | 0.00 | 0.00 | 0.00 | XXX
J1720 |  | E | Hydrocortisone sodium succ i | 0.00 | 0.00 | 0.00 | 0.00 | 0.00 | 0.00 | 0.00 | 0.00 | 0.00 | 0.00 | XXX
J1730 |  | E | Diazoxide injection | 0.00 | 0.00 | 0.00 | 0.00 | 0.00 | 0.00 | 0.00 | 0.00 | 0.00 | 0.00 | XXX
J1739 |  | E | Hydroxyprogesterone cap 125 | 0.00 | 0.00 | 0.00 | 0.00 | 0.00 | 0.00 | 0.00 | 0.00 | 0.00 | 0.00 | XXX
J1741 |  | E | Hydroxyprogesterone cap 250 | 0.00 | 0.00 | 0.00 | 0.00 | 0.00 | 0.00 | 0.00 | 0.00 | 0.00 | 0.00 | XXX
J1742 |  | E | Ibutilide fumarate injection | 0.00 | 0.00 | 0.00 | 0.00 | 0.00 | 0.00 | 0.00 | 0.00 | 0.00 | 0.00 | XXX
J1745 |  | E | Infliximab injection | 0.00 | 0.00 | 0.00 | 0.00 | 0.00 | 0.00 | 0.00 | 0.00 | 0.00 | 0.00 | XXX
J1750 |  | E | Iron dextran | 0.00 | 0.00 | 0.00 | 0.00 | 0.00 | 0.00 | 0.00 | 0.00 | 0.00 | 0.00 | XXX
J1785 |  | E | Injection imiglucerase /unit | 0.00 | 0.00 | 0.00 | 0.00 | 0.00 | 0.00 | 0.00 | 0.00 | 0.00 | 0.00 | XXX
J1790 |  | E | Droperidol injection | 0.00 | 0.00 | 0.00 | 0.00 | 0.00 | 0.00 | 0.00 | 0.00 | 0.00 | 0.00 | XXX
J1800 |  | E | Propranolol injection | 0.00 | 0.00 | 0.00 | 0.00 | 0.00 | 0.00 | 0.00 | 0.00 | 0.00 | 0.00 | XXX
J1810 |  | E | Droperidol/fentanyl inj | 0.00 | 0.00 | 0.00 | 0.00 | 0.00 | 0.00 | 0.00 | 0.00 | 0.00 | 0.00 | XXX
J1820 |  | E | Insulin injection | 0.00 | 0.00 | 0.00 | 0.00 | 0.00 | 0.00 | 0.00 | 0.00 | 0.00 | 0.00 | XXX
J1825 |  | E | Interferon beta-1a | 0.00 | 0.00 | 0.00 | 0.00 | 0.00 | 0.00 | 0.00 | 0.00 | 0.00 | 0.00 | XXX
J1830 |  | E | Interferon beta-1b / .25 MG | 0.00 | 0.00 | 0.00 | 0.00 | 0.00 | 0.00 | 0.00 | 0.00 | 0.00 | 0.00 | XXX
J1840 |  | E | Kanamycin sulfate 500 MG inj | 0.00 | 0.00 | 0.00 | 0.00 | 0.00 | 0.00 | 0.00 | 0.00 | 0.00 | 0.00 | XXX
J1850 |  | E | Kanamycin sulfate 75 MG inj | 0.00 | 0.00 | 0.00 | 0.00 | 0.00 | 0.00 | 0.00 | 0.00 | 0.00 | 0.00 | XXX
J1885 |  | E | Ketorolac tromethamine inj | 0.00 | 0.00 | 0.00 | 0.00 | 0.00 | 0.00 | 0.00 | 0.00 | 0.00 | 0.00 | XXX
J1890 |  | E | Cephalothin sodium injection | 0.00 | 0.00 | 0.00 | 0.00 | 0.00 | 0.00 | 0.00 | 0.00 | 0.00 | 0.00 | XXX
J1910 |  | E | Kutapressin injection | 0.00 | 0.00 | 0.00 | 0.00 | 0.00 | 0.00 | 0.00 | 0.00 | 0.00 | 0.00 | XXX
J1930 |  | E | Propiomazine injection | 0.00 | 0.00 | 0.00 | 0.00 | 0.00 | 0.00 | 0.00 | 0.00 | 0.00 | 0.00 | XXX
J1940 |  | E | Furosemide injection | 0.00 | 0.00 | 0.00 | 0.00 | 0.00 | 0.00 | 0.00 | 0.00 | 0.00 | 0.00 | XXX
J1950 |  | E | Leuprolide acetate /3.75 MG | 0.00 | 0.00 | 0.00 | 0.00 | 0.00 | 0.00 | 0.00 | 0.00 | 0.00 | 0.00 | XXX
J1955 |  | E | Inj levocarnitine per 1 gm | 0.00 | 0.00 | 0.00 | 0.00 | 0.00 | 0.00 | 0.00 | 0.00 | 0.00 | 0.00 | XXX
J1956 |  | E | Levofloxacin injection | 0.00 | 0.00 | 0.00 | 0.00 | 0.00 | 0.00 | 0.00 | 0.00 | 0.00 | 0.00 | XXX
J1960 |  | E | Levorphanol tartrate inj | 0.00 | 0.00 | 0.00 | 0.00 | 0.00 | 0.00 | 0.00 | 0.00 | 0.00 | 0.00 | XXX
J1970 |  | E | Methotrimeprazine injection | 0.00 | 0.00 | 0.00 | 0.00 | 0.00 | 0.00 | 0.00 | 0.00 | 0.00 | 0.00 | XXX
J1980 |  | E | Hyoscyamine sulfate inj | 0.00 | 0.00 | 0.00 | 0.00 | 0.00 | 0.00 | 0.00 | 0.00 | 0.00 | 0.00 | XXX
J1990 |  | E | Chlordiazepoxide injection | 0.00 | 0.00 | 0.00 | 0.00 | 0.00 | 0.00 | 0.00 | 0.00 | 0.00 | 0.00 | XXX
J2000 |  | E | Lidocaine injection | 0.00 | 0.00 | 0.00 | 0.00 | 0.00 | 0.00 | 0.00 | 0.00 | 0.00 | 0.00 | XXX
J2010 |  | E | Lincomycin injection | 0.00 | 0.00 | 0.00 | 0.00 | 0.00 | 0.00 | 0.00 | 0.00 | 0.00 | 0.00 | XXX
J2060 |  | E | Lorazepam injection | 0.00 | 0.00 | 0.00 | 0.00 | 0.00 | 0.00 | 0.00 | 0.00 | 0.00 | 0.00 | XXX
J2150 |  | E | Mannitol injection | 0.00 | 0.00 | 0.00 | 0.00 | 0.00 | 0.00 | 0.00 | 0.00 | 0.00 | 0.00 | XXX
J2175 |  | E | Meperidine hydrochl /100 MG | 0.00 | 0.00 | 0.00 | 0.00 | 0.00 | 0.00 | 0.00 | 0.00 | 0.00 | 0.00 | XXX
J2180 |  | E | Meperidine/promethazine inj | 0.00 | 0.00 | 0.00 | 0.00 | 0.00 | 0.00 | 0.00 | 0.00 | 0.00 | 0.00 | XXX
J2210 |  | E | Methylergonovin maleate inj | 0.00 | 0.00 | 0.00 | 0.00 | 0.00 | 0.00 | 0.00 | 0.00 | 0.00 | 0.00 | XXX
J2240 |  | E | Metocurine iodide injection | 0.00 | 0.00 | 0.00 | 0.00 | 0.00 | 0.00 | 0.00 | 0.00 | 0.00 | 0.00 | XXX
J2250 |  | E | Inj midazolam hydrochloride | 0.00 | 0.00 | 0.00 | 0.00 | 0.00 | 0.00 | 0.00 | 0.00 | 0.00 | 0.00 | XXX
J2260 |  | E | Inj milrinone lactate / 5 ML | 0.00 | 0.00 | 0.00 | 0.00 | 0.00 | 0.00 | 0.00 | 0.00 | 0.00 | 0.00 | XXX
J2270 |  | E | Morphine sulfate injection | 0.00 | 0.00 | 0.00 | 0.00 | 0.00 | 0.00 | 0.00 | 0.00 | 0.00 | 0.00 | XXX
J2271 |  | E | Morphine so4 injection 100mg | 0.00 | 0.00 | 0.00 | 0.00 | 0.00 | 0.00 | 0.00 | 0.00 | 0.00 | 0.00 | XXX
J2275 |  | E | Morphine sulfate injection | 0.00 | 0.00 | 0.00 | 0.00 | 0.00 | 0.00 | 0.00 | 0.00 | 0.00 | 0.00 | XXX
J2300 |  | E | Inj nalbuphine hydrochloride | 0.00 | 0.00 | 0.00 | 0.00 | 0.00 | 0.00 | 0.00 | 0.00 | 0.00 | 0.00 | XXX
J2310 |  | E | Inj naloxone hydrochloride | 0.00 | 0.00 | 0.00 | 0.00 | 0.00 | 0.00 | 0.00 | 0.00 | 0.00 | 0.00 | XXX
J2320 |  | E | Nandrolone decanoate 50 MG | 0.00 | 0.00 | 0.00 | 0.00 | 0.00 | 0.00 | 0.00 | 0.00 | 0.00 | 0.00 | XXX
J2321 |  | E | Nandrolone decanoate 100 MG | 0.00 | 0.00 | 0.00 | 0.00 | 0.00 | 0.00 | 0.00 | 0.00 | 0.00 | 0.00 | XXX
J2322 |  | E | Nandrolone decanoate 200 MG | 0.00 | 0.00 | 0.00 | 0.00 | 0.00 | 0.00 | 0.00 | 0.00 | 0.00 | 0.00 | XXX
J2330 |  | E | Thiothixene injection | 0.00 | 0.00 | 0.00 | 0.00 | 0.00 | 0.00 | 0.00 | 0.00 | 0.00 | 0.00 | XXX
J2350 |  | E | Niacinamide/niacin injection | 0.00 | 0.00 | 0.00 | 0.00 | 0.00 | 0.00 | 0.00 | 0.00 | 0.00 | 0.00 | XXX
J2352 |  | E | Octreotide acetate injection | 0.00 | 0.00 | 0.00 | 0.00 | 0.00 | 0.00 | 0.00 | 0.00 | 0.00 | 0.00 | XXX
J2355 |  | E | Oprelvekin injection | 0.00 | 0.00 | 0.00 | 0.00 | 0.00 | 0.00 | 0.00 | 0.00 | 0.00 | 0.00 | XXX
J2360 |  | E | Orphenadrine injection | 0.00 | 0.00 | 0.00 | 0.00 | 0.00 | 0.00 | 0.00 | 0.00 | 0.00 | 0.00 | XXX
J2370 |  | E | Phenylephrine hcl injection | 0.00 | 0.00 | 0.00 | 0.00 | 0.00 | 0.00 | 0.00 | 0.00 | 0.00 | 0.00 | XXX
J2400 |  | E | Chloroprocaine hcl injection | 0.00 | 0.00 | 0.00 | 0.00 | 0.00 | 0.00 | 0.00 | 0.00 | 0.00 | 0.00 | XXX
J2405 |  | E | Ondansetron hcl injection | 0.00 | 0.00 | 0.00 | 0.00 | 0.00 | 0.00 | 0.00 | 0.00 | 0.00 | 0.00 | XXX
J2410 |  | E | Oxymorphone hcl injection | 0.00 | 0.00 | 0.00 | 0.00 | 0.00 | 0.00 | 0.00 | 0.00 | 0.00 | 0.00 | XXX
J2430 |  | E | Pamidronate disodium /30 MG | 0.00 | 0.00 | 0.00 | 0.00 | 0.00 | 0.00 | 0.00 | 0.00 | 0.00 | 0.00 | XXX
J2440 |  | E | Papaverin hcl injection | 0.00 | 0.00 | 0.00 | 0.00 | 0.00 | 0.00 | 0.00 | 0.00 | 0.00 | 0.00 | XXX
J2460 |  | E | Oxytetracycline injection | 0.00 | 0.00 | 0.00 | 0.00 | 0.00 | 0.00 | 0.00 | 0.00 | 0.00 | 0.00 | XXX
J2480 |  | E | Hydrochlorides of opium inj | 0.00 | 0.00 | 0.00 | 0.00 | 0.00 | 0.00 | 0.00 | 0.00 | 0.00 | 0.00 | XXX
J2500 |  | E | Paricalcitol | 0.00 | 0.00 | 0.00 | 0.00 | 0.00 | 0.00 | 0.00 | 0.00 | 0.00 | 0.00 | XXX
J2510 |  | E | Penicillin g procaine inj | 0.00 | 0.00 | 0.00 | 0.00 | 0.00 | 0.00 | 0.00 | 0.00 | 0.00 | 0.00 | XXX
J2512 |  | E | Inj pentagastrin per 2 ML | 0.00 | 0.00 | 0.00 | 0.00 | 0.00 | 0.00 | 0.00 | 0.00 | 0.00 | 0.00 | XXX
J2515 |  | E | Pentobarbital sodium inj | 0.00 | 0.00 | 0.00 | 0.00 | 0.00 | 0.00 | 0.00 | 0.00 | 0.00 | 0.00 | XXX
J2540 |  | E | Penicillin g potassium inj | 0.00 | 0.00 | 0.00 | 0.00 | 0.00 | 0.00 | 0.00 | 0.00 | 0.00 | 0.00 | XXX
J2543 |  | E | Piperacillin/tazobactam | 0.00 | 0.00 | 0.00 | 0.00 | 0.00 | 0.00 | 0.00 | 0.00 | 0.00 | 0.00 | XXX
J2545 |  | E | Pentamidine isethionte/300mg | 0.00 | 0.00 | 0.00 | 0.00 | 0.00 | 0.00 | 0.00 | 0.00 | 0.00 | 0.00 | XXX
J2550 |  | E | Promethazine hcl injection | 0.00 | 0.00 | 0.00 | 0.00 | 0.00 | 0.00 | 0.00 | 0.00 | 0.00 | 0.00 | XXX
J2560 |  | E | Phenobarbital sodium inj | 0.00 | 0.00 | 0.00 | 0.00 | 0.00 | 0.00 | 0.00 | 0.00 | 0.00 | 0.00 | XXX
J2590 |  | E | Oxytocin injection | 0.00 | 0.00 | 0.00 | 0.00 | 0.00 | 0.00 | 0.00 | 0.00 | 0.00 | 0.00 | XXX
J2597 |  | E | Inj desmopressin acetate | 0.00 | 0.00 | 0.00 | 0.00 | 0.00 | 0.00 | 0.00 | 0.00 | 0.00 | 0.00 | XXX
J2640 |  | E | Prednisolone sodium ph inj | 0.00 | 0.00 | 0.00 | 0.00 | 0.00 | 0.00 | 0.00 | 0.00 | 0.00 | 0.00 | XXX
J2650 |  | E | Prednisolone acetate inj | 0.00 | 0.00 | 0.00 | 0.00 | 0.00 | 0.00 | 0.00 | 0.00 | 0.00 | 0.00 | XXX
J2670 |  | E | Totazoline hcl injection | 0.00 | 0.00 | 0.00 | 0.00 | 0.00 | 0.00 | 0.00 | 0.00 | 0.00 | 0.00 | XXX
J2675 |  | E | Inj progesterone per 50 MG | 0.00 | 0.00 | 0.00 | 0.00 | 0.00 | 0.00 | 0.00 | 0.00 | 0.00 | 0.00 | XXX
J2680 |  | E | Fluphenazine decanoate 25 MG | 0.00 | 0.00 | 0.00 | 0.00 | 0.00 | 0.00 | 0.00 | 0.00 | 0.00 | 0.00 | XXX
J2690 |  | E | Procainamide hcl injection | 0.00 | 0.00 | 0.00 | 0.00 | 0.00 | 0.00 | 0.00 | 0.00 | 0.00 | 0.00 | XXX
J2700 |  | E | Oxacillin sodium injeciton | 0.00 | 0.00 | 0.00 | 0.00 | 0.00 | 0.00 | 0.00 | 0.00 | 0.00 | 0.00 | XXX
J2710 |  | E | Neostigmine methylslfte inj | 0.00 | 0.00 | 0.00 | 0.00 | 0.00 | 0.00 | 0.00 | 0.00 | 0.00 | 0.00 | XXX
J2720 |  | E | Inj protamine sulfate/10 MG | 0.00 | 0.00 | 0.00 | 0.00 | 0.00 | 0.00 | 0.00 | 0.00 | 0.00 | 0.00 | XXX
J2725 |  | E | Inj protirelin per 250 mcg | 0.00 | 0.00 | 0.00 | 0.00 | 0.00 | 0.00 | 0.00 | 0.00 | 0.00 | 0.00 | XXX
J2730 |  | E | Pralidoxime chloride inj | 0.00 | 0.00 | 0.00 | 0.00 | 0.00 | 0.00 | 0.00 | 0.00 | 0.00 | 0.00 | XXX
J2760 |  | E | Phentolaine mesylate inj | 0.00 | 0.00 | 0.00 | 0.00 | 0.00 | 0.00 | 0.00 | 0.00 | 0.00 | 0.00 | XXX
J2765 |  | E | Metoclopramide hcl injection | 0.00 | 0.00 | 0.00 | 0.00 | 0.00 | 0.00 | 0.00 | 0.00 | 0.00 | 0.00 | XXX
J2770 |  | E | Quinupristin/dalfopristin | 0.00 | 0.00 | 0.00 | 0.00 | 0.00 | 0.00 | 0.00 | 0.00 | 0.00 | 0.00 | XXX
J2780 |  | E | Ranitidine hydrochloride inj | 0.00 | 0.00 | 0.00 | 0.00 | 0.00 | 0.00 | 0.00 | 0.00 | 0.00 | 0.00 | XXX
J2790 |  | E | Rho d immune globulin inj | 0.00 | 0.00 | 0.00 | 0.00 | 0.00 | 0.00 | 0.00 | 0.00 | 0.00 | 0.00 | XXX
J2792 |  | E | Rho(D) immune globulin h, sd | 0.00 | 0.00 | 0.00 | 0.00 | 0.00 | 0.00 | 0.00 | 0.00 | 0.00 | 0.00 | XXX
J2795 |  | E | Ropivacaine HCl injection | 0.00 | 0.00 | 0.00 | 0.00 | 0.00 | 0.00 | 0.00 | 0.00 | 0.00 | 0.00 | XXX
J2800 |  | E | Methocarbamol injection | 0.00 | 0.00 | 0.00 | 0.00 | 0.00 | 0.00 | 0.00 | 0.00 | 0.00 | 0.00 | XXX
J2810 |  | E | Inj theophylline per 40 MG | 0.00 | 0.00 | 0.00 | 0.00 | 0.00 | 0.00 | 0.00 | 0.00 | 0.00 | 0.00 | XXX
J2820 |  | E | Sargramostim injection | 0.00 | 0.00 | 0.00 | 0.00 | 0.00 | 0.00 | 0.00 | 0.00 | 0.00 | 0.00 | XXX
J2860 |  | E | Secobarbital sodium inj | 0.00 | 0.00 | 0.00 | 0.00 | 0.00 | 0.00 | 0.00 | 0.00 | 0.00 | 0.00 | XXX
J2910 |  | E | Aurothioglucose injeciton | 0.00 | 0.00 | 0.00 | 0.00 | 0.00 | 0.00 | 0.00 | 0.00 | 0.00 | 0.00 | XXX
J2912 |  | E | Sodium chloride injection | 0.00 | 0.00 | 0.00 | 0.00 | 0.00 | 0.00 | 0.00 | 0.00 | 0.00 | 0.00 | XXX
J2915 |  | E | NA Ferric Gluconate Complex | 0.00 | 0.00 | 0.00 | 0.00 | 0.00 | 0.00 | 0.00 | 0.00 | 0.00 | 0.00 | XXX
J2920 |  | E | Methylprednisolone injection | 0.00 | 0.00 | 0.00 | 0.00 | 0.00 | 0.00 | 0.00 | 0.00 | 0.00 | 0.00 | XXX
J2930 |  | E | Methylprednisolone injection | 0.00 | 0.00 | 0.00 | 0.00 | 0.00 | 0.00 | 0.00 | 0.00 | 0.00 | 0.00 | XXX
J2950 |  | E | Promazine hcl injeciton | 0.00 | 0.00 | 0.00 | 0.00 | 0.00 | 0.00 | 0.00 | 0.00 | 0.00 | 0.00 | XXX
J2970 |  | E | Methicillin sodium injection | 0.00 | 0.00 | 0.00 | 0.00 | 0.00 | 0.00 | 0.00 | 0.00 | 0.00 | 0.00 | XXX
J2993 |  | E | Reteplase injection | 0.00 | 0.00 | 0.00 | 0.00 | 0.00 | 0.00 | 0.00 | 0.00 | 0.00 | 0.00 | XXX
J2994 |  | D | Reteplase double bolus | 0.00 | 0.00 | 0.00 | 0.00 | 0.00 | 0.00 | 0.00 | 0.00 | 0.00 | 0.00 | XXX
J2995 |  | E | Inj streptokinase /250000 IU | 0.00 | 0.00 | 0.00 | 0.00 | 0.00 | 0.00 | 0.00 | 0.00 | 0.00 | 0.00 | XXX
J2996 |  | D | Alteplase recombinant inj | 0.00 | 0.00 | 0.00 | 0.00 | 0.00 | 0.00 | 0.00 | 0.00 | 0.00 | 0.00 | XXX
J2997 |  | E | Alteplase recombinant | 0.00 | 0.00 | 0.00 | 0.00 | 0.00 | 0.00 | 0.00 | 0.00 | 0.00 | 0.00 | XXX
J3000 |  | E | Streptomycin injection | 0.00 | 0.00 | 0.00 | 0.00 | 0.00 | 0.00 | 0.00 | 0.00 | 0.00 | 0.00 | XXX
J3010 |  | E | Fentanyl citrate injeciton | 0.00 | 0.00 | 0.00 | 0.00 | 0.00 | 0.00 | 0.00 | 0.00 | 0.00 | 0.00 | XXX
J3030 |  | E | Sumatriptan succinate / 6 MG | 0.00 | 0.00 | 0.00 | 0.00 | 0.00 | 0.00 | 0.00 | 0.00 | 0.00 | 0.00 | XXX
J3070 |  | E | Pentazocine hcl injeciton | 0.00 | 0.00 | 0.00 | 0.00 | 0.00 | 0.00 | 0.00 | 0.00 | 0.00 | 0.00 | XXX
J3080 |  | E | Chlorprothixene injection | 0.00 | 0.00 | 0.00 | 0.00 | 0.00 | 0.00 | 0.00 | 0.00 | 0.00 | 0.00 | XXX
J3105 |  | E | Terbutaline sulfate inj | 0.00 | 0.00 | 0.00 | 0.00 | 0.00 | 0.00 | 0.00 | 0.00 | 0.00 | 0.00 | XXX
J3120 |  | E | Testosterone enanthate inj | 0.00 | 0.00 | 0.00 | 0.00 | 0.00 | 0.00 | 0.00 | 0.00 | 0.00 | 0.00 | XXX
J3130 |  | E | Testosterone enanthate inj | 0.00 | 0.00 | 0.00 | 0.00 | 0.00 | 0.00 | 0.00 | 0.00 | 0.00 | 0.00 | XXX
J3140 |  | E | Testosterone suspension inj | 0.00 | 0.00 | 0.00 | 0.00 | 0.00 | 0.00 | 0.00 | 0.00 | 0.00 | 0.00 | XXX
J3150 |  | E | Testosteron propionate inj | 0.00 | 0.00 | 0.00 | 0.00 | 0.00 | 0.00 | 0.00 | 0.00 | 0.00 | 0.00 | XXX
J3230 |  | E | Chlorpromazine hcl injection | 0.00 | 0.00 | 0.00 | 0.00 | 0.00 | 0.00 | 0.00 | 0.00 | 0.00 | 0.00 | XXX
J3240 |  | E | Thyrotropin injection | 0.00 | 0.00 | 0.00 | 0.00 | 0.00 | 0.00 | 0.00 | 0.00 | 0.00 | 0.00 | XXX
J3245 |  | E | Tirofiban hydrochloride | 0.00 | 0.00 | 0.00 | 0.00 | 0.00 | 0.00 | 0.00 | 0.00 | 0.00 | 0.00 | XXX
J3250 |  | E | Trimethobenzamide hcl inj | 0.00 | 0.00 | 0.00 | 0.00 | 0.00 | 0.00 | 0.00 | 0.00 | 0.00 | 0.00 | XXX
J3260 |  | E | Tobramycin sulfate injection | 0.00 | 0.00 | 0.00 | 0.00 | 0.00 | 0.00 | 0.00 | 0.00 | 0.00 | 0.00 | XXX
J3265 |  | E | Injection torsemide 10 mg/ml | 0.00 | 0.00 | 0.00 | 0.00 | 0.00 | 0.00 | 0.00 | 0.00 | 0.00 | 0.00 | XXX
J3270 |  | E | Imipramine hcl injection | 0.00 | 0.00 | 0.00 | 0.00 | 0.00 | 0.00 | 0.00 | 0.00 | 0.00 | 0.00 | XXX
J3280 |  | E | Thiethylperazine maleate inj | 0.00 | 0.00 | 0.00 | 0.00 | 0.00 | 0.00 | 0.00 | 0.00 | 0.00 | 0.00 | XXX
J3301 |  | E | Triamcinolone acetonide inj | 0.00 | 0.00 | 0.00 | 0.00 | 0.00 | 0.00 | 0.00 | 0.00 | 0.00 | 0.00 | XXX
J3302 |  | E | Triamcinolone diacetate inj | 0.00 | 0.00 | 0.00 | 0.00 | 0.00 | 0.00 | 0.00 | 0.00 | 0.00 | 0.00 | XXX
J3303 |  | E | Triamcinolone hexacetonl inj | 0.00 | 0.00 | 0.00 | 0.00 | 0.00 | 0.00 | 0.00 | 0.00 | 0.00 | 0.00 | XXX
J3305 |  | E | Inj trimetrexate glucoronate | 0.00 | 0.00 | 0.00 | 0.00 | 0.00 | 0.00 | 0.00 | 0.00 | 0.00 | 0.00 | XXX
J3310 |  | E | Perphenazine injeciton | 0.00 | 0.00 | 0.00 | 0.00 | 0.00 | 0.00 | 0.00 | 0.00 | 0.00 | 0.00 | XXX
J3320 |  | E | Spectinomycn di-hcl inj | 0.00 | 0.00 | 0.00 | 0.00 | 0.00 | 0.00 | 0.00 | 0.00 | 0.00 | 0.00 | XXX
J3350 |  | E | Urea injection | 0.00 | 0.00 | 0.00 | 0.00 | 0.00 | 0.00 | 0.00 | 0.00 | 0.00 | 0.00 | XXX
J3360 |  | E | Diazepam injection | 0.00 | 0.00 | 0.00 | 0.00 | 0.00 | 0.00 | 0.00 | 0.00 | 0.00 | 0.00 | XXX
J3364 |  | E | Urokinase 5000 IU injection | 0.00 | 0.00 | 0.00 | 0.00 | 0.00 | 0.00 | 0.00 | 0.00 | 0.00 | 0.00 | XXX
J3365 |  | E | Urokinase 250,000 IU inj | 0.00 | 0.00 | 0.00 | 0.00 | 0.00 | 0.00 | 0.00 | 0.00 | 0.00 | 0.00 | XXX
J3370 |  | R | Vancomycin hcl injeciton | 0.00 | 0.00 | 0.00 | 0.00 | 0.00 | 0.00 | 0.00 | 0.00 | 0.00 | 0.00 | XXX
J3390 |  | E | Methoxamine injection | 0.00 | 0.00 | 0.00 | 0.00 | 0.00 | 0.00 | 0.00 | 0.00 | 0.00 | 0.00 | XXX
J3400 |  | E | Triflupromazine hcl inj | 0.00 | 0.00 | 0.00 | 0.00 | 0.00 | 0.00 | 0.00 | 0.00 | 0.00 | 0.00 | XXX
J3410 |  | E | Hydroxyzine hcl injeciton | 0.00 | 0.00 | 0.00 | 0.00 | 0.00 | 0.00 | 0.00 | 0.00 | 0.00 | 0.00 | XXX
J3420 |  | E | Vitamin b12 injection | 0.00 | 0.00 | 0.00 | 0.00 | 0.00 | 0.00 | 0.00 | 0.00 | 0.00 | 0.00 | XXX
J3430 |  | E | Vitamin k phytonadione inj | 0.00 | 0.00 | 0.00 | 0.00 | 0.00 | 0.00 | 0.00 | 0.00 | 0.00 | 0.00 | XXX
J3450 |  | E | Mephentermine sulfate inj | 0.00 | 0.00 | 0.00 | 0.00 | 0.00 | 0.00 | 0.00 | 0.00 | 0.00 | 0.00 | XXX
J3470 |  | E | Hyaluronidase injection | 0.00 | 0.00 | 0.00 | 0.00 | 0.00 | 0.00 | 0.00 | 0.00 | 0.00 | 0.00 | XXX
J3475 |  | E | Inj magnesium sulfate | 0.00 | 0.00 | 0.00 | 0.00 | 0.00 | 0.00 | 0.00 | 0.00 | 0.00 | 0.00 | XXX
J3480 |  | E | Inj potassium chloride | 0.00 | 0.00 | 0.00 | 0.00 | 0.00 | 0.00 | 0.00 | 0.00 | 0.00 | 0.00 | XXX
J3485 |  | E | Zidovudine | 0.00 | 0.00 | 0.00 | 0.00 | 0.00 | 0.00 | 0.00 | 0.00 | 0.00 | 0.00 | XXX
J3490 |  | E | Drugs unclassified injection | 0.00 | 0.00 | 0.00 | 0.00 | 0.00 | 0.00 | 0.00 | 0.00 | 0.00 | 0.00 | XXX
J3520 |  | N | Edetate disodium per 150 mg | 0.00 | 0.00 | 0.00 | 0.00 | 0.00 | 0.00 | 0.00 | 0.00 | 0.00 | 0.00 | XXX
J3530 |  | E | Nasal vaccine inhalation | 0.00 | 0.00 | 0.00 | 0.00 | 0.00 | 0.00 | 0.00 | 0.00 | 0.00 | 0.00 | XXX
J3535 |  | N | Metered dose inhaler drug | 0.00 | 0.00 | 0.00 | 0.00 | 0.00 | 0.00 | 0.00 | 0.00 | 0.00 | 0.00 | XXX
J3570 |  | N | Laetrile amygdalin vit B17 | 0.00 | 0.00 | 0.00 | 0.00 | 0.00 | 0.00 | 0.00 | 0.00 | 0.00 | 0.00 | XXX
J7030 |  | E | Normal saline solution infus | 0.00 | 0.00 | 0.00 | 0.00 | 0.00 | 0.00 | 0.00 | 0.00 | 0.00 | 0.00 | XXX
J7040 |  | E | Normal saline solution infus | 0.00 | 0.00 | 0.00 | 0.00 | 0.00 | 0.00 | 0.00 | 0.00 | 0.00 | 0.00 | XXX
J7042 |  | E | 5% dextrose/normal saline | 0.00 | 0.00 | 0.00 | 0.00 | 0.00 | 0.00 | 0.00 | 0.00 | 0.00 | 0.00 | XXX
J7050 |  | E | Normal saline solution infus | 0.00 | 0.00 | 0.00 | 0.00 | 0.00 | 0.00 | 0.00 | 0.00 | 0.00 | 0.00 | XXX
J7051 |  | E | Sterile saline/water | 0.00 | 0.00 | 0.00 | 0.00 | 0.00 | 0.00 | 0.00 | 0.00 | 0.00 | 0.00 | XXX
J7060 |  | E | 5% dextrose/water | 0.00 | 0.00 | 0.00 | 0.00 | 0.00 | 0.00 | 0.00 | 0.00 | 0.00 | 0.00 | XXX
J7070 |  | E | D5w infusion | 0.00 | 0.00 | 0.00 | 0.00 | 0.00 | 0.00 | 0.00 | 0.00 | 0.00 | 0.00 | XXX
J7100 |  | E | Dextran 40 infusion | 0.00 | 0.00 | 0.00 | 0.00 | 0.00 | 0.00 | 0.00 | 0.00 | 0.00 | 0.00 | XXX
J7110 |  | E | Dextran 75 infusion | 0.00 | 0.00 | 0.00 | 0.00 | 0.00 | 0.00 | 0.00 | 0.00 | 0.00 | 0.00 | XXX
J7120 |  | E | Ringers lactate infusion | 0.00 | 0.00 | 0.00 | 0.00 | 0.00 | 0.00 | 0.00 | 0.00 | 0.00 | 0.00 | XXX
J7130 |  | E | Hypertonic saline solution | 0.00 | 0.00 | 0.00 | 0.00 | 0.00 | 0.00 | 0.00 | 0.00 | 0.00 | 0.00 | XXX
J7190 |  | X | Factor viii | 0.00 | 0.00 | 0.00 | 0.00 | 0.00 | 0.00 | 0.00 | 0.00 | 0.00 | 0.00 | XXX
J7191 |  | X | Factor VIII (porcine) | 0.00 | 0.00 | 0.00 | 0.00 | 0.00 | 0.00 | 0.00 | 0.00 | 0.00 | 0.00 | XXX
J7192 |  | X | Factor viii recombinant | 0.00 | 0.00 | 0.00 | 0.00 | 0.00 | 0.00 | 0.00 | 0.00 | 0.00 | 0.00 | XXX
J7194 |  | X | Factor ix complex | 0.00 | 0.00 | 0.00 | 0.00 | 0.00 | 0.00 | 0.00 | 0.00 | 0.00 | 0.00 | XXX
J7197 |  | X | Antithrombin iii injection | 0.00 | 0.00 | 0.00 | 0.00 | 0.00 | 0.00 | 0.00 | 0.00 | 0.00 | 0.00 | XXX
J7198 |  | E | Anti-inhibitor | 0.00 | 0.00 | 0.00 | 0.00 | 0.00 | 0.00 | 0.00 | 0.00 | 0.00 | 0.00 | XXX
J7199 |  | E | Hemophilia clot factor noc | 0.00 | 0.00 | 0.00 | 0.00 | 0.00 | 0.00 | 0.00 | 0.00 | 0.00 | 0.00 | XXX
J7300 |  | N | Intraut copper contraceptive | 0.00 | 0.00 | 0.00 | 0.00 | 0.00 | 0.00 | 0.00 | 0.00 | 0.00 | 0.00 | XXX
J7310 |  | E | Ganciclovir long act implant | 0.00 | 0.00 | 0.00 | 0.00 | 0.00 | 0.00 | 0.00 | 0.00 | 0.00 | 0.00 | XXX
J7315 |  | E | Sodium hyaluronate injection | 0.00 | 0.00 | 0.00 | 0.00 | 0.00 | 0.00 | 0.00 | 0.00 | 0.00 | 0.00 | XXX
J7320 |  | E | Hylan G-F 20 injection | 0.00 | 0.00 | 0.00 | 0.00 | 0.00 | 0.00 | 0.00 | 0.00 | 0.00 | 0.00 | XXX
J7330 |  | E | Cultured chondrocytes implnt | 0.00 | 0.00 | 0.00 | 0.00 | 0.00 | 0.00 | 0.00 | 0.00 | 0.00 | 0.00 | XXX
J7500 |  | X | Azathioprine oral 50mg | 0.00 | 0.00 | 0.00 | 0.00 | 0.00 | 0.00 | 0.00 | 0.00 | 0.00 | 0.00 | XXX
J7501 |  | X | Azathioprine parenteral | 0.00 | 0.00 | 0.00 | 0.00 | 0.00 | 0.00 | 0.00 | 0.00 | 0.00 | 0.00 | XXX
J7502 |  | E | Cyclosporine oral 100 mg | 0.00 | 0.00 | 0.00 | 0.00 | 0.00 | 0.00 | 0.00 | 0.00 | 0.00 | 0.00 | XXX
J7504 |  | X | Lymphocyte immune globulin | 0.00 | 0.00 | 0.00 | 0.00 | 0.00 | 0.00 | 0.00 | 0.00 | 0.00 | 0.00 | XXX
J7505 |  | X | Monoclonal antibodies | 0.00 | 0.00 | 0.00 | 0.00 | 0.00 | 0.00 | 0.00 | 0.00 | 0.00 | 0.00 | XXX
J7506 |  | X | Prednisone oral | 0.00 | 0.00 | 0.00 | 0.00 | 0.00 | 0.00 | 0.00 | 0.00 | 0.00 | 0.00 | XXX
J7507 |  | E | Tacrolimus oral per 1 MG | 0.00 | 0.00 | 0.00 | 0.00 | 0.00 | 0.00 | 0.00 | 0.00 | 0.00 | 0.00 | XXX
J7508 |  | E | Tacrolimus oral per 5 MG | 0.00 | 0.00 | 0.00 | 0.00 | 0.00 | 0.00 | 0.00 | 0.00 | 0.00 | 0.00 | XXX
J7509 |  | X | Methylprednisolone oral | 0.00 | 0.00 | 0.00 | 0.00 | 0.00 | 0.00 | 0.00 | 0.00 | 0.00 | 0.00 | XXX
J7510 |  | X | Prednisolone oral per 5 mg | 0.00 | 0.00 | 0.00 | 0.00 | 0.00 | 0.00 | 0.00 | 0.00 | 0.00 | 0.00 | XXX
J7513 |  | E | Daclizumab, parenteral | 0.00 | 0.00 | 0.00 | 0.00 | 0.00 | 0.00 | 0.00 | 0.00 | 0.00 | 0.00 | XXX
J7515 |  | E | Cyclosporine oral 25 mg | 0.00 | 0.00 | 0.00 | 0.00 | 0.00 | 0.00 | 0.00 | 0.00 | 0.00 | 0.00 | XXX
J7516 |  | E | Cyclosporin parenteral 250mg | 0.00 | 0.00 | 0.00 | 0.00 | 0.00 | 0.00 | 0.00 | 0.00 | 0.00 | 0.00 | XXX
J7517 |  | E | Mycophenolate mofetil oral | 0.00 | 0.00 | 0.00 | 0.00 | 0.00 | 0.00 | 0.00 | 0.00 | 0.00 | 0.00 | XXX
J7520 |  | E | Sirolimus, oral | 0.00 | 0.00 | 0.00 | 0.00 | 0.00 | 0.00 | 0.00 | 0.00 | 0.00 | 0.00 | XXX
J7525 |  | E | Tacrolimus injection | 0.00 | 0.00 | 0.00 | 0.00 | 0.00 | 0.00 | 0.00 | 0.00 | 0.00 | 0.00 | XXX
J7599 |  | X | Immunosuppressive drug noc | 0.00 | 0.00 | 0.00 | 0.00 | 0.00 | 0.00 | 0.00 | 0.00 | 0.00 | 0.00 | XXX
J7608 |  | E | Acetylcysteine inh sol u d | 0.00 | 0.00 | 0.00 | 0.00 | 0.00 | 0.00 | 0.00 | 0.00 | 0.00 | 0.00 | XXX
J7610 |  | D | Acetylcysteine 10% injection | 0.00 | 0.00 | 0.00 | 0.00 | 0.00 | 0.00 | 0.00 | 0.00 | 0.00 | 0.00 | XXX
J7615 |  | D | Acetylcysteine 20% injection | 0.00 | 0.00 | 0.00 | 0.00 | 0.00 | 0.00 | 0.00 | 0.00 | 0.00 | 0.00 | XXX
J7618 |  | E | Albuterol inh sol con | 0.00 | 0.00 | 0.00 | 0.00 | 0.00 | 0.00 | 0.00 | 0.00 | 0.00 | 0.00 | XXX
J7619 |  | E | Albuterol inh sol u d | 0.00 | 0.00 | 0.00 | 0.00 | 0.00 | 0.00 | 0.00 | 0.00 | 0.00 | 0.00 | XXX
J7620 |  | D | Albuterol sulfate .083%/ml | 0.00 | 0.00 | 0.00 | 0.00 | 0.00 | 0.00 | 0.00 | 0.00 | 0.00 | 0.00 | XXX
J7625 |  | D | Albuterol sulfate .5% inj | 0.00 | 0.00 | 0.00 | 0.00 | 0.00 | 0.00 | 0.00 | 0.00 | 0.00 | 0.00 | XXX
J7627 |  | D | Bitolterolmesylate inhal sol | 0.00 | 0.00 | 0.00 | 0.00 | 0.00 | 0.00 | 0.00 | 0.00 | 0.00 | 0.00 | XXX
J7628 |  | E | Bitolterol mes inhal sol con | 0.00 | 0.00 | 0.00 | 0.00 | 0.00 | 0.00 | 0.00 | 0.00 | 0.00 | 0.00 | XXX
J7629 |  | E | Bitolterol mes inh sol u d | 0.00 | 0.00 | 0.00 | 0.00 | 0.00 | 0.00 | 0.00 | 0.00 | 0.00 | 0.00 | XXX
J7630 |  | D | Cromolyn sodium injeciton | 0.00 | 0.00 | 0.00 | 0.00 | 0.00 | 0.00 | 0.00 | 0.00 | 0.00 | 0.00 | XXX
J7631 |  | E | Cromolyn sodium inh sol u d | 0.00 | 0.00 | 0.00 | 0.00 | 0.00 | 0.00 | 0.00 | 0.00 | 0.00 | 0.00 | XXX
J7635 |  | E | Atropine inhal sol con | 0.00 | 0.00 | 0.00 | 0.00 | 0.00 | 0.00 | 0.00 | 0.00 | 0.00 | 0.00 | XXX
J7636 |  | E | Atropine inhal sol unit dose | 0.00 | 0.00 | 0.00 | 0.00 | 0.00 | 0.00 | 0.00 | 0.00 | 0.00 | 0.00 | XXX
J7637 |  | E | Dexamethasone inhal sol con | 0.00 | 0.00 | 0.00 | 0.00 | 0.00 | 0.00 | 0.00 | 0.00 | 0.00 | 0.00 | XXX
J7638 |  | E | Dexamethasone inhal sol u d | 0.00 | 0.00 | 0.00 | 0.00 | 0.00 | 0.00 | 0.00 | 0.00 | 0.00 | 0.00 | XXX
J7639 |  | E | Dornase alpha inhal sol u d | 0.00 | 0.00 | 0.00 | 0.00 | 0.00 | 0.00 | 0.00 | 0.00 | 0.00 | 0.00 | XXX
J7640 |  | D | Epinephrine injection | 0.00 | 0.00 | 0.00 | 0.00 | 0.00 | 0.00 | 0.00 | 0.00 | 0.00 | 0.00 | XXX
J7642 |  | E | Glycopyrrolate inhal sol con | 0.00 | 0.00 | 0.00 | 0.00 | 0.00 | 0.00 | 0.00 | 0.00 | 0.00 | 0.00 | XXX
J7643 |  | E | Glycopyrrolate inhal sol u d | 0.00 | 0.00 | 0.00 | 0.00 | 0.00 | 0.00 | 0.00 | 0.00 | 0.00 | 0.00 | XXX
J7644 |  | E | Ipratropium brom inh sol u d | 0.00 | 0.00 | 0.00 | 0.00 | 0.00 | 0.00 | 0.00 | 0.00 | 0.00 | 0.00 | XXX
J7645 |  | D | Ipratropium bromide .02%/ml | 0.00 | 0.00 | 0.00 | 0.00 | 0.00 | 0.00 | 0.00 | 0.00 | 0.00 | 0.00 | XXX
J7648 |  | E | Isoetharine hcl inh sol con | 0.00 | 0.00 | 0.00 | 0.00 | 0.00 | 0.00 | 0.00 | 0.00 | 0.00 | 0.00 | XXX
J7649 |  | E | Isoetharine hcl inh sol u d | 0.00 | 0.00 | 0.00 | 0.00 | 0.00 | 0.00 | 0.00 | 0.00 | 0.00 | 0.00 | XXX
J7650 |  | D | Isoetharine hcl .1% inj | 0.00 | 0.00 | 0.00 | 0.00 | 0.00 | 0.00 | 0.00 | 0.00 | 0.00 | 0.00 | XXX
J7651 |  | D | Isoetharine hcl .125% inj | 0.00 | 0.00 | 0.00 | 0.00 | 0.00 | 0.00 | 0.00 | 0.00 | 0.00 | 0.00 | XXX
J7652 |  | D | Isoetharine hcl .167% inj | 0.00 | 0.00 | 0.00 | 0.00 | 0.00 | 0.00 | 0.00 | 0.00 | 0.00 | 0.00 | XXX
J7653 |  | D | Isoetharine hcl .2%/ inj | 0.00 | 0.00 | 0.00 | 0.00 | 0.00 | 0.00 | 0.00 | 0.00 | 0.00 | 0.00 | XXX
J7654 |  | D | Isoetharine hcl .25% inj | 0.00 | 0.00 | 0.00 | 0.00 | 0.00 | 0.00 | 0.00 | 0.00 | 0.00 | 0.00 | XXX
J7655 |  | D | Isoetharine hcl 1% inj | 0.00 | 0.00 | 0.00 | 0.00 | 0.00 | 0.00 | 0.00 | 0.00 | 0.00 | 0.00 | XXX
J7658 |  | E | Isoproterenolhcl inh sol con | 0.00 | 0.00 | 0.00 | 0.00 | 0.00 | 0.00 | 0.00 | 0.00 | 0.00 | 0.00 | XXX
J7659 |  | E | Isoproterenol hcl inh sol ud | 0.00 | 0.00 | 0.00 | 0.00 | 0.00 | 0.00 | 0.00 | 0.00 | 0.00 | 0.00 | XXX
J7660 |  | D | Isoproterenol hcl .5% inj | 0.00 | 0.00 | 0.00 | 0.00 | 0.00 | 0.00 | 0.00 | 0.00 | 0.00 | 0.00 | XXX
J7665 |  | D | Isoproterenol hcl 1% inj | 0.00 | 0.00 | 0.00 | 0.00 | 0.00 | 0.00 | 0.00 | 0.00 | 0.00 | 0.00 | XXX
J7668 |  | E | Metaproterenol inh sol con | 0.00 | 0.00 | 0.00 | 0.00 | 0.00 | 0.00 | 0.00 | 0.00 | 0.00 | 0.00 | XXX
J7669 |  | E | Metaproterenol inh sol u d | 0.00 | 0.00 | 0.00 | 0.00 | 0.00 | 0.00 | 0.00 | 0.00 | 0.00 | 0.00 | XXX
J7670 |  | D | Metaproterenol sulfate .4% | 0.00 | 0.00 | 0.00 | 0.00 | 0.00 | 0.00 | 0.00 | 0.00 | 0.00 | 0.00 | XXX
J7672 |  | D | Metaproterenol sulfate .6% | 0.00 | 0.00 | 0.00 | 0.00 | 0.00 | 0.00 | 0.00 | 0.00 | 0.00 | 0.00 | XXX
J7675 |  | D | Metaproterenol sulfate 5% | 0.00 | 0.00 | 0.00 | 0.00 | 0.00 | 0.00 | 0.00 | 0.00 | 0.00 | 0.00 | XXX
J7680 |  | E | Terbutaline so4 inh sol con | 0.00 | 0.00 | 0.00 | 0.00 | 0.00 | 0.00 | 0.00 | 0.00 | 0.00 | 0.00 | XXX
J7681 |  | E | Terbutaline so4 inh sol u d | 0.00 | 0.00 | 0.00 | 0.00 | 0.00 | 0.00 | 0.00 | 0.00 | 0.00 | 0.00 | XXX
J7682 |  | E | Tobramycin inhalation sol | 0.00 | 0.00 | 0.00 | 0.00 | 0.00 | 0.00 | 0.00 | 0.00 | 0.00 | 0.00 | XXX
J7683 |  | E | Triamcinolone inh sol con | 0.00 | 0.00 | 0.00 | 0.00 | 0.00 | 0.00 | 0.00 | 0.00 | 0.00 | 0.00 | XXX
J7684 |  | E | Triamcinolone inh sol u d | 0.00 | 0.00 | 0.00 | 0.00 | 0.00 | 0.00 | 0.00 | 0.00 | 0.00 | 0.00 | XXX
J7699 |  | E | Inhalation solution for DME | 0.00 | 0.00 | 0.00 | 0.00 | 0.00 | 0.00 | 0.00 | 0.00 | 0.00 | 0.00 | XXX
J7799 |  | E | Non-inhalation drug for DME | 0.00 | 0.00 | 0.00 | 0.00 | 0.00 | 0.00 | 0.00 | 0.00 | 0.00 | 0.00 | XXX
J8499 |  | N | Oral prescrip drug non chemo | 0.00 | 0.00 | 0.00 | 0.00 | 0.00 | 0.00 | 0.00 | 0.00 | 0.00 | 0.00 | XXX
J8510 |  | E | Oral busulfan | 0.00 | 0.00 | 0.00 | 0.00 | 0.00 | 0.00 | 0.00 | 0.00 | 0.00 | 0.00 | XXX
J8520 |  | E | Capecitabine, oral, 150 mg | 0.00 | 0.00 | 0.00 | 0.00 | 0.00 | 0.00 | 0.00 | 0.00 | 0.00 | 0.00 | XXX
J8521 |  | E | Capecitabine, oral, 500 mg | 0.00 | 0.00 | 0.00 | 0.00 | 0.00 | 0.00 | 0.00 | 0.00 | 0.00 | 0.00 | XXX
J8530 |  | E | Cyclophosphamide oral 25 MG | 0.00 | 0.00 | 0.00 | 0.00 | 0.00 | 0.00 | 0.00 | 0.00 | 0.00 | 0.00 | XXX
J8560 |  | E | Etoposide oral 50 MG | 0.00 | 0.00 | 0.00 | 0.00 | 0.00 | 0.00 | 0.00 | 0.00 | 0.00 | 0.00 | XXX
J8600 |  | E | Melphalan oral 2 MG | 0.00 | 0.00 | 0.00 | 0.00 | 0.00 | 0.00 | 0.00 | 0.00 | 0.00 | 0.00 | XXX
J8610 |  | E | Methotrexate oral 2.5 MG | 0.00 | 0.00 | 0.00 | 0.00 | 0.00 | 0.00 | 0.00 | 0.00 | 0.00 | 0.00 | XXX
J8700 |  | E | Temozolmide | 0.00 | 0.00 | 0.00 | 0.00 | 0.00 | 0.00 | 0.00 | 0.00 | 0.00 | 0.00 | XXX
J8999 |  | E | Oral prescription drug chemo | 0.00 | 0.00 | 0.00 | 0.00 | 0.00 | 0.00 | 0.00 | 0.00 | 0.00 | 0.00 | XXX
J9000 |  | E | Doxorubic hcl 10 MG vl chemo | 0.00 | 0.00 | 0.00 | 0.00 | 0.00 | 0.00 | 0.00 | 0.00 | 0.00 | 0.00 | XXX
J9001 |  | E | Doxorubicin hcl liposome inj | 0.00 | 0.00 | 0.00 | 0.00 | 0.00 | 0.00 | 0.00 | 0.00 | 0.00 | 0.00 | XXX
J9015 |  | E | Aldesleukin/single use vial | 0.00 | 0.00 | 0.00 | 0.00 | 0.00 | 0.00 | 0.00 | 0.00 | 0.00 | 0.00 | XXX
J9020 |  | E | Asparaginase injection | 0.00 | 0.00 | 0.00 | 0.00 | 0.00 | 0.00 | 0.00 | 0.00 | 0.00 | 0.00 | XXX
J9031 |  | E | Bcg live intravesical vac | 0.00 | 0.00 | 0.00 | 0.00 | 0.00 | 0.00 | 0.00 | 0.00 | 0.00 | 0.00 | XXX
J9040 |  | E | Bleomycin sulfate injection | 0.00 | 0.00 | 0.00 | 0.00 | 0.00 | 0.00 | 0.00 | 0.00 | 0.00 | 0.00 | XXX
J9045 |  | E | Carboplatin injection | 0.00 | 0.00 | 0.00 | 0.00 | 0.00 | 0.00 | 0.00 | 0.00 | 0.00 | 0.00 | XXX
J9050 |  | E | Carmus bischl nitro inj | 0.00 | 0.00 | 0.00 | 0.00 | 0.00 | 0.00 | 0.00 | 0.00 | 0.00 | 0.00 | XXX
J9060 |  | E | Cisplatin 10 MG injeciton | 0.00 | 0.00 | 0.00 | 0.00 | 0.00 | 0.00 | 0.00 | 0.00 | 0.00 | 0.00 | XXX
J9062 |  | E | Cisplatin 50 MG injeciton | 0.00 | 0.00 | 0.00 | 0.00 | 0.00 | 0.00 | 0.00 | 0.00 | 0.00 | 0.00 | XXX
J9065 |  | E | Inj cladribine per 1 MG | 0.00 | 0.00 | 0.00 | 0.00 | 0.00 | 0.00 | 0.00 | 0.00 | 0.00 | 0.00 | XXX
J9070 |  | E | Cyclophosphamide 100 MG inj | 0.00 | 0.00 | 0.00 | 0.00 | 0.00 | 0.00 | 0.00 | 0.00 | 0.00 | 0.00 | XXX
J9080 |  | E | Cyclophosphamide 200 MG inj | 0.00 | 0.00 | 0.00 | 0.00 | 0.00 | 0.00 | 0.00 | 0.00 | 0.00 | 0.00 | XXX
J9090 |  | E | Cyclophosphamide 500 MG inj | 0.00 | 0.00 | 0.00 | 0.00 | 0.00 | 0.00 | 0.00 | 0.00 | 0.00 | 0.00 | XXX
J9091 |  | E | Cyclophosphamide 1.0 grm inj | 0.00 | 0.00 | 0.00 | 0.00 | 0.00 | 0.00 | 0.00 | 0.00 | 0.00 | 0.00 | XXX
J9092 |  | E | Cyclophosphamide 2.0 grm inj | 0.00 | 0.00 | 0.00 | 0.00 | 0.00 | 0.00 | 0.00 | 0.00 | 0.00 | 0.00 | XXX
J9093 |  | E | Cyclophosphamide lyophilized | 0.00 | 0.00 | 0.00 | 0.00 | 0.00 | 0.00 | 0.00 | 0.00 | 0.00 | 0.00 | XXX
J9094 |  | E | Cyclophosphamide lyophilized | 0.00 | 0.00 | 0.00 | 0.00 | 0.00 | 0.00 | 0.00 | 0.00 | 0.00 | 0.00 | XXX
J9095 |  | E | Cyclophosphamide lyophilized | 0.00 | 0.00 | 0.00 | 0.00 | 0.00 | 0.00 | 0.00 | 0.00 | 0.00 | 0.00 | XXX
J9096 |  | E | Cyclophosphamide lyophilized | 0.00 | 0.00 | 0.00 | 0.00 | 0.00 | 0.00 | 0.00 | 0.00 | 0.00 | 0.00 | XXX
J9097 |  | E | Cyclophosphamide lyophilized | 0.00 | 0.00 | 0.00 | 0.00 | 0.00 | 0.00 | 0.00 | 0.00 | 0.00 | 0.00 | XXX
J9100 |  | E | Cytarabine hcl 100 MG inj | 0.00 | 0.00 | 0.00 | 0.00 | 0.00 | 0.00 | 0.00 | 0.00 | 0.00 | 0.00 | XXX
J9110 |  | E | Cytarabine hcl 500 MG inj | 0.00 | 0.00 | 0.00 | 0.00 | 0.00 | 0.00 | 0.00 | 0.00 | 0.00 | 0.00 | XXX
J9120 |  | E | Dactinomycin actinomycin d | 0.00 | 0.00 | 0.00 | 0.00 | 0.00 | 0.00 | 0.00 | 0.00 | 0.00 | 0.00 | XXX
J9130 |  | E | Dacarbazine 10 MG inj | 0.00 | 0.00 | 0.00 | 0.00 | 0.00 | 0.00 | 0.00 | 0.00 | 0.00 | 0.00 | XXX
J9140 |  | E | Dacarbazine 200 MG inj | 0.00 | 0.00 | 0.00 | 0.00 | 0.00 | 0.00 | 0.00 | 0.00 | 0.00 | 0.00 | XXX
J9150 |  | E | Daunorubicin | 0.00 | 0.00 | 0.00 | 0.00 | 0.00 | 0.00 | 0.00 | 0.00 | 0.00 | 0.00 | XXX
J9151 |  | E | Daunorubicin citrate liposom | 0.00 | 0.00 | 0.00 | 0.00 | 0.00 | 0.00 | 0.00 | 0.00 | 0.00 | 0.00 | XXX
J9160 |  | E | Denileukin diftitox, 300 mcg | 0.00 | 0.00 | 0.00 | 0.00 | 0.00 | 0.00 | 0.00 | 0.00 | 0.00 | 0.00 | XXX
J9165 |  | E | Diethylstilbestrol injection | 0.00 | 0.00 | 0.00 | 0.00 | 0.00 | 0.00 | 0.00 | 0.00 | 0.00 | 0.00 | XXX
J9170 |  | E | Docetaxel | 0.00 | 0.00 | 0.00 | 0.00 | 0.00 | 0.00 | 0.00 | 0.00 | 0.00 | 0.00 | XXX
J9180 |  | E | Epirubicin HCl injection | 0.00 | 0.00 | 0.00 | 0.00 | 0.00 | 0.00 | 0.00 | 0.00 | 0.00 | 0.00 | XXX
J9181 |  | E | Etoposide 10 MG inj | 0.00 | 0.00 | 0.00 | 0.00 | 0.00 | 0.00 | 0.00 | 0.00 | 0.00 | 0.00 | XXX
J9182 |  | E | Etoposide 100 MG inj | 0.00 | 0.00 | 0.00 | 0.00 | 0.00 | 0.00 | 0.00 | 0.00 | 0.00 | 0.00 | XXX
J9185 |  | E | Fludarabine phosphate inj | 0.00 | 0.00 | 0.00 | 0.00 | 0.00 | 0.00 | 0.00 | 0.00 | 0.00 | 0.00 | XXX
J9190 |  | E | Fluorouracil injection | 0.00 | 0.00 | 0.00 | 0.00 | 0.00 | 0.00 | 0.00 | 0.00 | 0.00 | 0.00 | XXX
J9200 |  | E | Floxuridine injection | 0.00 | 0.00 | 0.00 | 0.00 | 0.00 | 0.00 | 0.00 | 0.00 | 0.00 | 0.00 | XXX
J9201 |  | E | Gemcitabine HCl | 0.00 | 0.00 | 0.00 | 0.00 | 0.00 | 0.00 | 0.00 | 0.00 | 0.00 | 0.00 | XXX
J9202 |  | E | Goserelin acetate implant | 0.00 | 0.00 | 0.00 | 0.00 | 0.00 | 0.00 | 0.00 | 0.00 | 0.00 | 0.00 | XXX
J9206 |  | E | Irinotecan injection | 0.00 | 0.00 | 0.00 | 0.00 | 0.00 | 0.00 | 0.00 | 0.00 | 0.00 | 0.00 | XXX
J9208 |  | E | Ifosfomide injection | 0.00 | 0.00 | 0.00 | 0.00 | 0.00 | 0.00 | 0.00 | 0.00 | 0.00 | 0.00 | XXX
J9209 |  | E | Mesna injection | 0.00 | 0.00 | 0.00 | 0.00 | 0.00 | 0.00 | 0.00 | 0.00 | 0.00 | 0.00 | XXX
J9211 |  | E | Idarubicin hcl injeciton | 0.00 | 0.00 | 0.00 | 0.00 | 0.00 | 0.00 | 0.00 | 0.00 | 0.00 | 0.00 | XXX
J9212 |  | E | Interferon alfacon-1 | 0.00 | 0.00 | 0.00 | 0.00 | 0.00 | 0.00 | 0.00 | 0.00 | 0.00 | 0.00 | XXX
J9213 |  | E | Interferon alfa-2a inj | 0.00 | 0.00 | 0.00 | 0.00 | 0.00 | 0.00 | 0.00 | 0.00 | 0.00 | 0.00 | XXX
J9214 |  | E | Interferon alfa-2b inj | 0.00 | 0.00 | 0.00 | 0.00 | 0.00 | 0.00 | 0.00 | 0.00 | 0.00 | 0.00 | XXX
J9215 |  | E | Interferon alfa-n3 inj | 0.00 | 0.00 | 0.00 | 0.00 | 0.00 | 0.00 | 0.00 | 0.00 | 0.00 | 0.00 | XXX
J9216 |  | E | Interferon gamma 1-b inj | 0.00 | 0.00 | 0.00 | 0.00 | 0.00 | 0.00 | 0.00 | 0.00 | 0.00 | 0.00 | XXX
J9217 |  | E | Leuprolide acetate suspnsion | 0.00 | 0.00 | 0.00 | 0.00 | 0.00 | 0.00 | 0.00 | 0.00 | 0.00 | 0.00 | XXX
J9218 |  | E | Leuprolide acetate injeciton | 0.00 | 0.00 | 0.00 | 0.00 | 0.00 | 0.00 | 0.00 | 0.00 | 0.00 | 0.00 | XXX
J9219 |  | E | Leuprolide acetate implant | 0.00 | 0.00 | 0.00 | 0.00 | 0.00 | 0.00 | 0.00 | 0.00 | 0.00 | 0.00 | XXX
J9230 |  | E | Mechlorethamine hcl inj | 0.00 | 0.00 | 0.00 | 0.00 | 0.00 | 0.00 | 0.00 | 0.00 | 0.00 | 0.00 | XXX
J9245 |  | E | Inj melphalan hydrochl 50 MG | 0.00 | 0.00 | 0.00 | 0.00 | 0.00 | 0.00 | 0.00 | 0.00 | 0.00 | 0.00 | XXX
J9250 |  | E | Methotrexate sodium inj | 0.00 | 0.00 | 0.00 | 0.00 | 0.00 | 0.00 | 0.00 | 0.00 | 0.00 | 0.00 | XXX
J9260 |  | E | Methotrexate sodium inj | 0.00 | 0.00 | 0.00 | 0.00 | 0.00 | 0.00 | 0.00 | 0.00 | 0.00 | 0.00 | XXX
J9265 |  | E | Paclitaxel injection | 0.00 | 0.00 | 0.00 | 0.00 | 0.00 | 0.00 | 0.00 | 0.00 | 0.00 | 0.00 | XXX
J9266 |  | E | Pegaspargase/singl dose vial | 0.00 | 0.00 | 0.00 | 0.00 | 0.00 | 0.00 | 0.00 | 0.00 | 0.00 | 0.00 | XXX
J9268 |  | E | Pentostatin injection | 0.00 | 0.00 | 0.00 | 0.00 | 0.00 | 0.00 | 0.00 | 0.00 | 0.00 | 0.00 | XXX
J9270 |  | E | Plicamycin (mithramycin) inj | 0.00 | 0.00 | 0.00 | 0.00 | 0.00 | 0.00 | 0.00 | 0.00 | 0.00 | 0.00 | XXX
J9280 |  | E | Mitomycin 5 MG inj | 0.00 | 0.00 | 0.00 | 0.00 | 0.00 | 0.00 | 0.00 | 0.00 | 0.00 | 0.00 | XXX
J9290 |  | E | Mitomycin 20 MG inj | 0.00 | 0.00 | 0.00 | 0.00 | 0.00 | 0.00 | 0.00 | 0.00 | 0.00 | 0.00 | XXX
J9291 |  | E | Mitomycin 40 MG inj | 0.00 | 0.00 | 0.00 | 0.00 | 0.00 | 0.00 | 0.00 | 0.00 | 0.00 | 0.00 | XXX
J9293 |  | E | Mitoxantrone hydrochl / 5 MG | 0.00 | 0.00 | 0.00 | 0.00 | 0.00 | 0.00 | 0.00 | 0.00 | 0.00 | 0.00 | XXX
J9310 |  | E | Rituximab cancer treatment | 0.00 | 0.00 | 0.00 | 0.00 | 0.00 | 0.00 | 0.00 | 0.00 | 0.00 | 0.00 | XXX
J9320 |  | E | Streptozocin injection | 0.00 | 0.00 | 0.00 | 0.00 | 0.00 | 0.00 | 0.00 | 0.00 | 0.00 | 0.00 | XXX
J9340 |  | E | Thiotepa injection | 0.00 | 0.00 | 0.00 | 0.00 | 0.00 | 0.00 | 0.00 | 0.00 | 0.00 | 0.00 | XXX
J9350 |  | E | Topotecan | 0.00 | 0.00 | 0.00 | 0.00 | 0.00 | 0.00 | 0.00 | 0.00 | 0.00 | 0.00 | XXX
J9355 |  | E | Trastuzumab | 0.00 | 0.00 | 0.00 | 0.00 | 0.00 | 0.00 | 0.00 | 0.00 | 0.00 | 0.00 | XXX
J9357 |  | E | Valrubicin, 200 mg | 0.00 | 0.00 | 0.00 | 0.00 | 0.00 | 0.00 | 0.00 | 0.00 | 0.00 | 0.00 | XXX
J9360 |  | E | Vinblastine sulfate inj | 0.00 | 0.00 | 0.00 | 0.00 | 0.00 | 0.00 | 0.00 | 0.00 | 0.00 | 0.00 | XXX
J9370 |  | E | Vincristine sulfate 1 MG inj | 0.00 | 0.00 | 0.00 | 0.00 | 0.00 | 0.00 | 0.00 | 0.00 | 0.00 | 0.00 | XXX
J9375 |  | E | Vincristine sulfate 2 MG inj | 0.00 | 0.00 | 0.00 | 0.00 | 0.00 | 0.00 | 0.00 | 0.00 | 0.00 | 0.00 | XXX
J9380 |  | E | Vincristine sulfate 5 MG inj | 0.00 | 0.00 | 0.00 | 0.00 | 0.00 | 0.00 | 0.00 | 0.00 | 0.00 | 0.00 | XXX
J9390 |  | E | Vinorelbine tartrate/10 mg | 0.00 | 0.00 | 0.00 | 0.00 | 0.00 | 0.00 | 0.00 | 0.00 | 0.00 | 0.00 | XXX
J9600 |  | E | Porfimer sodium | 0.00 | 0.00 | 0.00 | 0.00 | 0.00 | 0.00 | 0.00 | 0.00 | 0.00 | 0.00 | XXX
J9999 |  | E | Chemotherapy drug | 0.00 | 0.00 | 0.00 | 0.00 | 0.00 | 0.00 | 0.00 | 0.00 | 0.00 | 0.00 | XXX
M0064 |  | A | Visit for drug monitoring | 0.37 | 0.26 | 0.25 | 0.12 | 0.14 | 0.01 | 0.64 | 0.63 | 0.50 | 0.52 | XXX
M0075 |  | N | Cellular therapy | 0.00 | 0.00 | 0.00 | 0.00 | 0.00 | 0.00 | 0.00 | 0.00 | 0.00 | 0.00 | XXX
M0076 |  | N | Prolotherapy | 0.00 | 0.00 | 0.00 | 0.00 | 0.00 | 0.00 | 0.00 | 0.00 | 0.00 | 0.00 | XXX
M0100 |  | N | Intragastric hypothermia | 0.00 | 0.00 | 0.00 | 0.00 | 0.00 | 0.00 | 0.00 | 0.00 | 0.00 | 0.00 | XXX
M0300 |  | N | IV chelationtherapy | 0.00 | 0.00 | 0.00 | 0.00 | 0.00 | 0.00 | 0.00 | 0.00 | 0.00 | 0.00 | XXX
M0301 |  | N | Fabric wrapping of aneurysm | 0.00 | 0.00 | 0.00 | 0.00 | 0.00 | 0.00 | 0.00 | 0.00 | 0.00 | 0.00 | XXX
M0302 |  | A | Assessment of cardiac output | 0.17 | 0.88 | 0.88 | 0.88 | 0.88 | 0.02 | 1.07 | 1.07 | 1.07 | 1.07 | XXX
M0302 | 26 | A | Assessment of cardiac output | 0.17 | 0.08 | 0.08 | 0.08 | 0.08 | 0.01 | 0.26 | 0.26 | 0.26 | 0.26 | XXX
M0302 | TC | A | Assessment of cardiac output | 0.00 | 0.80 | 0.80 | NA | NA | 0.01 | 0.81 | 0.81 | NA | NA | XXX
P2028 |  | X | Cephalin floculation test | 0.00 | 0.00 | 0.00 | 0.00 | 0.00 | 0.00 | 0.00 | 0.00 | 0.00 | 0.00 | XXX
P2029 |  | X | Congo red blood test | 0.00 | 0.00 | 0.00 | 0.00 | 0.00 | 0.00 | 0.00 | 0.00 | 0.00 | 0.00 | XXX
P2031 |  | N | Hair analysis | 0.00 | 0.00 | 0.00 | 0.00 | 0.00 | 0.00 | 0.00 | 0.00 | 0.00 | 0.00 | XXX
P2033 |  | X | Blood thymol turbidity | 0.00 | 0.00 | 0.00 | 0.00 | 0.00 | 0.00 | 0.00 | 0.00 | 0.00 | 0.00 | XXX
P2038 |  | X | Blood mucoprotein | 0.00 | 0.00 | 0.00 | 0.00 | 0.00 | 0.00 | 0.00 | 0.00 | 0.00 | 0.00 | XXX
P3000 |  | X | Screen pap by tech w md supv | 0.00 | 0.00 | 0.00 | 0.00 | 0.00 | 0.00 | 0.00 | 0.00 | 0.00 | 0.00 | XXX
P3001 |  | A | Screening pap smear by phys | 0.42 | 0.18 | 0.22 | 0.18 | 0.22 | 0.01 | 0.61 | 0.65 | 0.61 | 0.65 | XXX
P7001 |  | I | Culture bacterial urine | 0.00 | 0.00 | 0.00 | 0.00 | 0.00 | 0.00 | 0.00 | 0.00 | 0.00 | 0.00 | XXX
P9010 |  | E | Whole blood for transfusion | 0.00 | 0.00 | 0.00 | 0.00 | 0.00 | 0.00 | 0.00 | 0.00 | 0.00 | 0.00 | XXX
P9011 |  | E | Blood split unit | 0.00 | 0.00 | 0.00 | 0.00 | 0.00 | 0.00 | 0.00 | 0.00 | 0.00 | 0.00 | XXX
P9012 |  | E | Cryoprecipitate each unit | 0.00 | 0.00 | 0.00 | 0.00 | 0.00 | 0.00 | 0.00 | 0.00 | 0.00 | 0.00 | XXX
P9013 |  | D | Unit/s blood fibrinogen | 0.00 | 0.00 | 0.00 | 0.00 | 0.00 | 0.00 | 0.00 | 0.00 | 0.00 | 0.00 | XXX
P9016 |  | E | RBC leukocytes reduced | 0.00 | 0.00 | 0.00 | 0.00 | 0.00 | 0.00 | 0.00 | 0.00 | 0.00 | 0.00 | XXX
P9017 |  | E | One donor fresh frozn plasma | 0.00 | 0.00 | 0.00 | 0.00 | 0.00 | 0.00 | 0.00 | 0.00 | 0.00 | 0.00 | XXX
P9018 |  | D | Plasma protein fract, unit | 0.00 | 0.00 | 0.00 | 0.00 | 0.00 | 0.00 | 0.00 | 0.00 | 0.00 | 0.00 | XXX
P9019 |  | E | Platelets, each unit | 0.00 | 0.00 | 0.00 | 0.00 | 0.00 | 0.00 | 0.00 | 0.00 | 0.00 | 0.00 | XXX
P9020 |  | E | Plaelet rich plasma unit | 0.00 | 0.00 | 0.00 | 0.00 | 0.00 | 0.00 | 0.00 | 0.00 | 0.00 | 0.00 | XXX
P9021 |  | E | Red blood cells unit | 0.00 | 0.00 | 0.00 | 0.00 | 0.00 | 0.00 | 0.00 | 0.00 | 0.00 | 0.00 | XXX
P9022 |  | E | Washed red blood cells unit | 0.00 | 0.00 | 0.00 | 0.00 | 0.00 | 0.00 | 0.00 | 0.00 | 0.00 | 0.00 | XXX
P9023 |  | X | Frozen plasma, pooled, sd | 0.00 | 0.00 | 0.00 | 0.00 | 0.00 | 0.00 | 0.00 | 0.00 | 0.00 | 0.00 | XXX
P9031 |  | X | Platelets leukocytes reduced | 0.00 | 0.00 | 0.00 | 0.00 | 0.00 | 0.00 | 0.00 | 0.00 | 0.00 | 0.00 | XXX
P9032 |  | X | Platelets, irradiated | 0.00 | 0.00 | 0.00 | 0.00 | 0.00 | 0.00 | 0.00 | 0.00 | 0.00 | 0.00 | XXX
P9033 |  | X | Platelets leukoreduced irrad | 0.00 | 0.00 | 0.00 | 0.00 | 0.00 | 0.00 | 0.00 | 0.00 | 0.00 | 0.00 | XXX
P9034 |  | X | Platelets, pheresis | 0.00 | 0.00 | 0.00 | 0.00 | 0.00 | 0.00 | 0.00 | 0.00 | 0.00 | 0.00 | XXX
P9035 |  | X | Platelet pheres leukoreduced | 0.00 | 0.00 | 0.00 | 0.00 | 0.00 | 0.00 | 0.00 | 0.00 | 0.00 | 0.00 | XXX
P9036 |  | X | Platelet pheresis irradiated | 0.00 | 0.00 | 0.00 | 0.00 | 0.00 | 0.00 | 0.00 | 0.00 | 0.00 | 0.00 | XXX
P9037 |  | X | Plate pheres leukoredu irrad | 0.00 | 0.00 | 0.00 | 0.00 | 0.00 | 0.00 | 0.00 | 0.00 | 0.00 | 0.00 | XXX
P9038 |  | X | RBC irradiated | 0.00 | 0.00 | 0.00 | 0.00 | 0.00 | 0.00 | 0.00 | 0.00 | 0.00 | 0.00 | XXX
P9039 |  | X | RBC deglycerolized | 0.00 | 0.00 | 0.00 | 0.00 | 0.00 | 0.00 | 0.00 | 0.00 | 0.00 | 0.00 | XXX
P9040 |  | X | RBC leukoreduced irradiated | 0.00 | 0.00 | 0.00 | 0.00 | 0.00 | 0.00 | 0.00 | 0.00 | 0.00 | 0.00 | XXX
P9041 |  | X | Albumin(human), 5% | 0.00 | 0.00 | 0.00 | 0.00 | 0.00 | 0.00 | 0.00 | 0.00 | 0.00 | 0.00 | XXX
P9042 |  | X | Albumin (human), 25% | 0.00 | 0.00 | 0.00 | 0.00 | 0.00 | 0.00 | 0.00 | 0.00 | 0.00 | 0.00 | XXX
P9043 |  | X | Plasma protein fraction | 0.00 | 0.00 | 0.00 | 0.00 | 0.00 | 0.00 | 0.00 | 0.00 | 0.00 | 0.00 | XXX
P9044 |  | X | Cryoprecipitatereducedplasma | 0.00 | 0.00 | 0.00 | 0.00 | 0.00 | 0.00 | 0.00 | 0.00 | 0.00 | 0.00 | XXX
P9603 |  | X | One-way allow prorated miles | 0.00 | 0.00 | 0.00 | 0.00 | 0.00 | 0.00 | 0.00 | 0.00 | 0.00 | 0.00 | XXX
P9604 |  | X | One-way allow prorated trip | 0.00 | 0.00 | 0.00 | 0.00 | 0.00 | 0.00 | 0.00 | 0.00 | 0.00 | 0.00 | XXX
P9612 |  | X | Catheterize for urine spec | 0.00 | 0.00 | 0.00 | 0.00 | 0.00 | 0.00 | 0.00 | 0.00 | 0.00 | 0.00 | XXX
P9615 |  | X | Urine specimen collect mult | 0.00 | 0.00 | 0.00 | 0.00 | 0.00 | 0.00 | 0.00 | 0.00 | 0.00 | 0.00 | XXX
Q0034 |  | D | Admin of influenza vaccine | 0.00 | 0.00 | 0.00 | 0.00 | 0.00 | 0.00 | 0.00 | 0.00 | 0.00 | 0.00 | XXX
Q0035 |  | A | Cardiokymography | 0.17 | 0.45 | 0.48 | 0.45 | 0.48 | 0.03 | 0.65 | 0.68 | 0.65 | 0.68 | XXX
Q0035 | 26 | A | Cardiokymography | 0.17 | 0.07 | 0.09 | 0.07 | 0.09 | 0.01 | 0.25 | 0.27 | 0.25 | 0.27 | XXX
Q0035 | TC | A | Cardiokymography | 0.00 | 0.38 | 0.39 | NA | NA | 0.02 | 0.40 | 0.41 | NA | NA | XXX
Q0091 |  | A | Obtaining screen pap smear | 0.37 | 0.72 | 0.62 | 0.14 | 0.18 | 0.01 | 1.10 | 1.00 | 0.52 | 0.56 | XXX
Q0092 |  | A | Set up port xray equipment | 0.00 | 0.32 | 0.32 | NA | NA | 0.01 | 0.33 | 0.33 | NA | NA | XXX
Q0111 |  | X | Wet mounts/ w preparations | 0.00 | 0.00 | 0.00 | 0.00 | 0.00 | 0.00 | 0.00 | 0.00 | 0.00 | 0.00 | XXX
Q0112 |  | X | Potassium hydroxide preps | 0.00 | 0.00 | 0.00 | 0.00 | 0.00 | 0.00 | 0.00 | 0.00 | 0.00 | 0.00 | XXX
Q0113 |  | X | Pinworm examinations | 0.00 | 0.00 | 0.00 | 0.00 | 0.00 | 0.00 | 0.00 | 0.00 | 0.00 | 0.00 | XXX
Q0114 |  | X | Fern test | 0.00 | 0.00 | 0.00 | 0.00 | 0.00 | 0.00 | 0.00 | 0.00 | 0.00 | 0.00 | XXX
Q0115 |  | X | Post-coital mucous exam | 0.00 | 0.00 | 0.00 | 0.00 | 0.00 | 0.00 | 0.00 | 0.00 | 0.00 | 0.00 | XXX
Q0136 |  | X | Non esrd epoetin alpha inj | 0.00 | 0.00 | 0.00 | 0.00 | 0.00 | 0.00 | 0.00 | 0.00 | 0.00 | 0.00 | XXX
Q0144 |  | N | Azithromycin dihydrate, oral | 0.00 | 0.00 | 0.00 | 0.00 | 0.00 | 0.00 | 0.00 | 0.00 | 0.00 | 0.00 | XXX
Q0156 |  | D | Human albumin 5% | 0.00 | 0.00 | 0.00 | 0.00 | 0.00 | 0.00 | 0.00 | 0.00 | 0.00 | 0.00 | XXX
Q0157 |  | D | Human albumin 25% | 0.00 | 0.00 | 0.00 | 0.00 | 0.00 | 0.00 | 0.00 | 0.00 | 0.00 | 0.00 | XXX
Q0160 |  | X | Factor IX non-recombinant | 0.00 | 0.00 | 0.00 | 0.00 | 0.00 | 0.00 | 0.00 | 0.00 | 0.00 | 0.00 | XXX
Q0161 |  | X | Factor IX recombinant | 0.00 | 0.00 | 0.00 | 0.00 | 0.00 | 0.00 | 0.00 | 0.00 | 0.00 | 0.00 | XXX
Q0163 |  | X | Diphenhydramine HCl 50mg | 0.00 | 0.00 | 0.00 | 0.00 | 0.00 | 0.00 | 0.00 | 0.00 | 0.00 | 0.00 | XXX
Q0164 |  | X | Prochlorperazine maleate 5mg | 0.00 | 0.00 | 0.00 | 0.00 | 0.00 | 0.00 | 0.00 | 0.00 | 0.00 | 0.00 | XXX
Q0165 |  | X | Prochlorperazine maleate10mg | 0.00 | 0.00 | 0.00 | 0.00 | 0.00 | 0.00 | 0.00 | 0.00 | 0.00 | 0.00 | XXX
Q0166 |  | X | Granisetron HCl 1 mg oral | 0.00 | 0.00 | 0.00 | 0.00 | 0.00 | 0.00 | 0.00 | 0.00 | 0.00 | 0.00 | XXX
Q0167 |  | X | Dronabinol 2.5mg oral | 0.00 | 0.00 | 0.00 | 0.00 | 0.00 | 0.00 | 0.00 | 0.00 | 0.00 | 0.00 | XXX
Q0168 |  | X | Dronabinol 5mg oral | 0.00 | 0.00 | 0.00 | 0.00 | 0.00 | 0.00 | 0.00 | 0.00 | 0.00 | 0.00 | XXX
Q0169 |  | X | Promethazine HCl 12.5mg oral | 0.00 | 0.00 | 0.00 | 0.00 | 0.00 | 0.00 | 0.00 | 0.00 | 0.00 | 0.00 | XXX
Q0170 |  | X | Promethazine HCl 25 mg oral | 0.00 | 0.00 | 0.00 | 0.00 | 0.00 | 0.00 | 0.00 | 0.00 | 0.00 | 0.00 | XXX
Q0171 |  | X | Chlorpromazine HCl 10mg oral | 0.00 | 0.00 | 0.00 | 0.00 | 0.00 | 0.00 | 0.00 | 0.00 | 0.00 | 0.00 | XXX
Q0172 |  | X | Chlorpromazine HCl 25mg oral | 0.00 | 0.00 | 0.00 | 0.00 | 0.00 | 0.00 | 0.00 | 0.00 | 0.00 | 0.00 | XXX
Q0173 |  | X | Trimethobenzamide HCl 250mg | 0.00 | 0.00 | 0.00 | 0.00 | 0.00 | 0.00 | 0.00 | 0.00 | 0.00 | 0.00 | XXX
Q0174 |  | X | Thiethylperazine maleate10mg | 0.00 | 0.00 | 0.00 | 0.00 | 0.00 | 0.00 | 0.00 | 0.00 | 0.00 | 0.00 | XXX
Q0175 |  | X | Perphenazine 4mg oral | 0.00 | 0.00 | 0.00 | 0.00 | 0.00 | 0.00 | 0.00 | 0.00 | 0.00 | 0.00 | XXX
Q0176 |  | X | Perphenazine 8mg oral | 0.00 | 0.00 | 0.00 | 0.00 | 0.00 | 0.00 | 0.00 | 0.00 | 0.00 | 0.00 | XXX
Q0177 |  | X | Hydroxyzine pamoate 25mg | 0.00 | 0.00 | 0.00 | 0.00 | 0.00 | 0.00 | 0.00 | 0.00 | 0.00 | 0.00 | XXX
Q0178 |  | X | Hydroxyzine pamoate 50mg | 0.00 | 0.00 | 0.00 | 0.00 | 0.00 | 0.00 | 0.00 | 0.00 | 0.00 | 0.00 | XXX
Q0179 |  | X | Ondansetron HCl 8mg oral | 0.00 | 0.00 | 0.00 | 0.00 | 0.00 | 0.00 | 0.00 | 0.00 | 0.00 | 0.00 | XXX
Q0180 |  | X | Dolasetron mesylate oral | 0.00 | 0.00 | 0.00 | 0.00 | 0.00 | 0.00 | 0.00 | 0.00 | 0.00 | 0.00 | XXX
Q0181 |  | X | Unspecified oral anti-emetic | 0.00 | 0.00 | 0.00 | 0.00 | 0.00 | 0.00 | 0.00 | 0.00 | 0.00 | 0.00 | XXX
Q0183 |  | X | Nonmetabolic active tissue | 0.00 | 0.00 | 0.00 | 0.00 | 0.00 | 0.00 | 0.00 | 0.00 | 0.00 | 0.00 | XXX
Q0184 |  | X | Metabolically active tissue | 0.00 | 0.00 | 0.00 | 0.00 | 0.00 | 0.00 | 0.00 | 0.00 | 0.00 | 0.00 | XXX
Q0185 |  | X | Metabolic active D/E tissue | 0.00 | 0.00 | 0.00 | 0.00 | 0.00 | 0.00 | 0.00 | 0.00 | 0.00 | 0.00 | XXX
Q0186 |  | D | Paramedic intercept, rural | 0.00 | 0.00 | 0.00 | 0.00 | 0.00 | 0.00 | 0.00 | 0.00 | 0.00 | 0.00 | XXX
Q0187 |  | E | Factor viia recombinant | 0.00 | 0.00 | 0.00 | 0.00 | 0.00 | 0.00 | 0.00 | 0.00 | 0.00 | 0.00 | XXX
Q1001 |  | X | Ntiol category 1 | 0.00 | 0.00 | 0.00 | 0.00 | 0.00 | 0.00 | 0.00 | 0.00 | 0.00 | 0.00 | XXX
Q1002 |  | X | Ntiol category 2 | 0.00 | 0.00 | 0.00 | 0.00 | 0.00 | 0.00 | 0.00 | 0.00 | 0.00 | 0.00 | XXX
Q1003 |  | X | Ntiol category 3 | 0.00 | 0.00 | 0.00 | 0.00 | 0.00 | 0.00 | 0.00 | 0.00 | 0.00 | 0.00 | XXX
Q1004 |  | X | Ntiol category 4 | 0.00 | 0.00 | 0.00 | 0.00 | 0.00 | 0.00 | 0.00 | 0.00 | 0.00 | 0.00 | XXX
Q1005 |  | X | Ntiol category 5 | 0.00 | 0.00 | 0.00 | 0.00 | 0.00 | 0.00 | 0.00 | 0.00 | 0.00 | 0.00 | XXX
Q2001 |  | N | Oral cabergoline 0.5 mg | 0.00 | 0.00 | 0.00 | 0.00 | 0.00 | 0.00 | 0.00 | 0.00 | 0.00 | 0.00 | XXX
Q2002 |  | E | Elliotts b solution per ml | 0.00 | 0.00 | 0.00 | 0.00 | 0.00 | 0.00 | 0.00 | 0.00 | 0.00 | 0.00 | XXX
Q2003 |  | E | Aprotinin, 10,000 kiu | 0.00 | 0.00 | 0.00 | 0.00 | 0.00 | 0.00 | 0.00 | 0.00 | 0.00 | 0.00 | XXX
Q2004 |  | E | Bladder calculi irrig sol | 0.00 | 0.00 | 0.00 | 0.00 | 0.00 | 0.00 | 0.00 | 0.00 | 0.00 | 0.00 | XXX
Q2005 |  | E | Corticorelin ovine triflutat | 0.00 | 0.00 | 0.00 | 0.00 | 0.00 | 0.00 | 0.00 | 0.00 | 0.00 | 0.00 | XXX
Q2006 |  | E | Digoxin immune fab (ovine) | 0.00 | 0.00 | 0.00 | 0.00 | 0.00 | 0.00 | 0.00 | 0.00 | 0.00 | 0.00 | XXX
Q2007 |  | E | Ethanolamine oleate 100 mg | 0.00 | 0.00 | 0.00 | 0.00 | 0.00 | 0.00 | 0.00 | 0.00 | 0.00 | 0.00 | XXX
Q2008 |  | E | Fomepizole, 1.5 mg | 0.00 | 0.00 | 0.00 | 0.00 | 0.00 | 0.00 | 0.00 | 0.00 | 0.00 | 0.00 | XXX
Q2009 |  | E | Fosphenytoin, 50 mg | 0.00 | 0.00 | 0.00 | 0.00 | 0.00 | 0.00 | 0.00 | 0.00 | 0.00 | 0.00 | XXX
Q2010 |  | E | Glatiramer acetate, per dose | 0.00 | 0.00 | 0.00 | 0.00 | 0.00 | 0.00 | 0.00 | 0.00 | 0.00 | 0.00 | XXX
Q2011 |  | E | Hemin, per 1 mg | 0.00 | 0.00 | 0.00 | 0.00 | 0.00 | 0.00 | 0.00 | 0.00 | 0.00 | 0.00 | XXX
Q2012 |  | E | Pegademase bovine, 25 iu | 0.00 | 0.00 | 0.00 | 0.00 | 0.00 | 0.00 | 0.00 | 0.00 | 0.00 | 0.00 | XXX
Q2013 |  | E | Pentastarch 10% solution | 0.00 | 0.00 | 0.00 | 0.00 | 0.00 | 0.00 | 0.00 | 0.00 | 0.00 | 0.00 | XXX
Q2014 |  | E | Sermorelin acetate, 0.5 mg | 0.00 | 0.00 | 0.00 | 0.00 | 0.00 | 0.00 | 0.00 | 0.00 | 0.00 | 0.00 | XXX
Q2015 |  | E | Somatrem, 5 mg | 0.00 | 0.00 | 0.00 | 0.00 | 0.00 | 0.00 | 0.00 | 0.00 | 0.00 | 0.00 | XXX
Q2016 |  | E | Somatropin, 1 mg | 0.00 | 0.00 | 0.00 | 0.00 | 0.00 | 0.00 | 0.00 | 0.00 | 0.00 | 0.00 | XXX
Q2017 |  | E | Teniposide, 50 mg | 0.00 | 0.00 | 0.00 | 0.00 | 0.00 | 0.00 | 0.00 | 0.00 | 0.00 | 0.00 | XXX
Q2018 |  | E | Urofollitropin, 75 iu | 0.00 | 0.00 | 0.00 | 0.00 | 0.00 | 0.00 | 0.00 | 0.00 | 0.00 | 0.00 | XXX
Q2019 |  | E | Basiliximab | 0.00 | 0.00 | 0.00 | 0.00 | 0.00 | 0.00 | 0.00 | 0.00 | 0.00 | 0.00 | XXX
Q2020 |  | E | Histrelin acetate | 0.00 | 0.00 | 0.00 | 0.00 | 0.00 | 0.00 | 0.00 | 0.00 | 0.00 | 0.00 | XXX
Q2021 |  | E | Lepirudin | 0.00 | 0.00 | 0.00 | 0.00 | 0.00 | 0.00 | 0.00 | 0.00 | 0.00 | 0.00 | XXX
Q2022 |  | E | VonWillebrandFactrCmplxperIU | 0.00 | 0.00 | 0.00 | 0.00 | 0.00 | 0.00 | 0.00 | 0.00 | 0.00 | 0.00 | XXX
Q3001 |  | E | Brachytherapy Radioelements | 0.00 | 0.00 | 0.00 | 0.00 | 0.00 | 0.00 | 0.00 | 0.00 | 0.00 | 0.00 | XXX
Q3002 |  | E | Gallium ga 67 | 0.00 | 0.00 | 0.00 | 0.00 | 0.00 | 0.00 | 0.00 | 0.00 | 0.00 | 0.00 | XXX
Q3003 |  | E | Technetium tc99m bicisate | 0.00 | 0.00 | 0.00 | 0.00 | 0.00 | 0.00 | 0.00 | 0.00 | 0.00 | 0.00 | XXX
Q3004 |  | E | Xenon xe 133 | 0.00 | 0.00 | 0.00 | 0.00 | 0.00 | 0.00 | 0.00 | 0.00 | 0.00 | 0.00 | XXX
Q3005 |  | E | Technetium tc99m mertiatide | 0.00 | 0.00 | 0.00 | 0.00 | 0.00 | 0.00 | 0.00 | 0.00 | 0.00 | 0.00 | XXX
Q3006 |  | E | Technetium tc99m glucepatate | 0.00 | 0.00 | 0.00 | 0.00 | 0.00 | 0.00 | 0.00 | 0.00 | 0.00 | 0.00 | XXX
Q3007 |  | E | Sodium phosphate p32 | 0.00 | 0.00 | 0.00 | 0.00 | 0.00 | 0.00 | 0.00 | 0.00 | 0.00 | 0.00 | XXX
Q3008 |  | E | Indium 111-in pentetreotide | 0.00 | 0.00 | 0.00 | 0.00 | 0.00 | 0.00 | 0.00 | 0.00 | 0.00 | 0.00 | XXX
Q3009 |  | E | Technetium tc99m oxidronate | 0.00 | 0.00 | 0.00 | 0.00 | 0.00 | 0.00 | 0.00 | 0.00 | 0.00 | 0.00 | XXX
Q3010 |  | E | Technetium tc99mlabeledrbcs | 0.00 | 0.00 | 0.00 | 0.00 | 0.00 | 0.00 | 0.00 | 0.00 | 0.00 | 0.00 | XXX
Q3011 |  | E | Chromic phosphate p32 | 0.00 | 0.00 | 0.00 | 0.00 | 0.00 | 0.00 | 0.00 | 0.00 | 0.00 | 0.00 | XXX
Q3012 |  | E | Cyanocobalamin cobalt co57 | 0.00 | 0.00 | 0.00 | 0.00 | 0.00 | 0.00 | 0.00 | 0.00 | 0.00 | 0.00 | XXX
Q9920 |  | E | Epoetin with hct <= 20 | 0.00 | 0.00 | 0.00 | 0.00 | 0.00 | 0.00 | 0.00 | 0.00 | 0.00 | 0.00 | XXX
Q9921 |  | E | Epoetin with hct = 21 | 0.00 | 0.00 | 0.00 | 0.00 | 0.00 | 0.00 | 0.00 | 0.00 | 0.00 | 0.00 | XXX
Q9922 |  | E | Epoetin with hct = 22 | 0.00 | 0.00 | 0.00 | 0.00 | 0.00 | 0.00 | 0.00 | 0.00 | 0.00 | 0.00 | XXX
Q9923 |  | E | Epoetin with hct = 23 | 0.00 | 0.00 | 0.00 | 0.00 | 0.00 | 0.00 | 0.00 | 0.00 | 0.00 | 0.00 | XXX
Q9924 |  | E | Epoetin with hct = 24 | 0.00 | 0.00 | 0.00 | 0.00 | 0.00 | 0.00 | 0.00 | 0.00 | 0.00 | 0.00 | XXX
Q9925 |  | E | Epoetin with hct = 25 | 0.00 | 0.00 | 0.00 | 0.00 | 0.00 | 0.00 | 0.00 | 0.00 | 0.00 | 0.00 | XXX
Q9926 |  | E | Epoetin with hct = 26 | 0.00 | 0.00 | 0.00 | 0.00 | 0.00 | 0.00 | 0.00 | 0.00 | 0.00 | 0.00 | XXX
Q9927 |  | E | Epoetin with hct = 27 | 0.00 | 0.00 | 0.00 | 0.00 | 0.00 | 0.00 | 0.00 | 0.00 | 0.00 | 0.00 | XXX
Q9928 |  | E | Epoetin with hct = 28 | 0.00 | 0.00 | 0.00 | 0.00 | 0.00 | 0.00 | 0.00 | 0.00 | 0.00 | 0.00 | XXX
Q9929 |  | E | Epoetin with hct = 29 | 0.00 | 0.00 | 0.00 | 0.00 | 0.00 | 0.00 | 0.00 | 0.00 | 0.00 | 0.00 | XXX
Q9930 |  | E | Epoetin with hct = 30 | 0.00 | 0.00 | 0.00 | 0.00 | 0.00 | 0.00 | 0.00 | 0.00 | 0.00 | 0.00 | XXX
Q9931 |  | E | Epoetin with hct = 31 | 0.00 | 0.00 | 0.00 | 0.00 | 0.00 | 0.00 | 0.00 | 0.00 | 0.00 | 0.00 | XXX
Q9932 |  | E | Epoetin with hct = 32 | 0.00 | 0.00 | 0.00 | 0.00 | 0.00 | 0.00 | 0.00 | 0.00 | 0.00 | 0.00 | XXX
Q9933 |  | E | Epoetin with hct = 33 | 0.00 | 0.00 | 0.00 | 0.00 | 0.00 | 0.00 | 0.00 | 0.00 | 0.00 | 0.00 | XXX
Q9934 |  | E | Epoetin with hct = 34 | 0.00 | 0.00 | 0.00 | 0.00 | 0.00 | 0.00 | 0.00 | 0.00 | 0.00 | 0.00 | XXX
Q9935 |  | E | Epoetin with hct = 35 | 0.00 | 0.00 | 0.00 | 0.00 | 0.00 | 0.00 | 0.00 | 0.00 | 0.00 | 0.00 | XXX
Q9936 |  | E | Epoetin with hct = 36 | 0.00 | 0.00 | 0.00 | 0.00 | 0.00 | 0.00 | 0.00 | 0.00 | 0.00 | 0.00 | XXX
Q9937 |  | E | Epoetin with hct = 37 | 0.00 | 0.00 | 0.00 | 0.00 | 0.00 | 0.00 | 0.00 | 0.00 | 0.00 | 0.00 | XXX
Q9938 |  | E | Epoetin with hct = 38 | 0.00 | 0.00 | 0.00 | 0.00 | 0.00 | 0.00 | 0.00 | 0.00 | 0.00 | 0.00 | XXX
Q9939 |  | E | Epoetin with hct = 39 | 0.00 | 0.00 | 0.00 | 0.00 | 0.00 | 0.00 | 0.00 | 0.00 | 0.00 | 0.00 | XXX
Q9940 |  | E | Epoetin with hct >= 40 | 0.00 | 0.00 | 0.00 | 0.00 | 0.00 | 0.00 | 0.00 | 0.00 | 0.00 | 0.00 | XXX
R0070 |  | C | Transport portable x-ray | 0.00 | 0.00 | 0.00 | 0.00 | 0.00 | 0.00 | 0.00 | 0.00 | 0.00 | 0.00 | XXX
R0075 |  | C | Transport port x-ray multipl | 0.00 | 0.00 | 0.00 | 0.00 | 0.00 | 0.00 | 0.00 | 0.00 | 0.00 | 0.00 | XXX
R0076 |  | B | Transport portable EKG | 0.00 | 0.00 | 0.00 | 0.00 | 0.00 | 0.00 | 0.00 | 0.00 | 0.00 | 0.00 | XXX
S0009 |  | I | Injection, butorphanol tartr | 0.00 | 0.00 | 0.00 | 0.00 | 0.00 | 0.00 | 0.00 | 0.00 | 0.00 | 0.00 | XXX
S0010 |  | D | Injection, somatrem, 5 mg | 0.00 | 0.00 | 0.00 | 0.00 | 0.00 | 0.00 | 0.00 | 0.00 | 0.00 | 0.00 | XXX
S0011 |  | D | Injection, somatropin, 5 mg | 0.00 | 0.00 | 0.00 | 0.00 | 0.00 | 0.00 | 0.00 | 0.00 | 0.00 | 0.00 | XXX
S0012 |  | I | Butorphanol tartrate, nasal | 0.00 | 0.00 | 0.00 | 0.00 | 0.00 | 0.00 | 0.00 | 0.00 | 0.00 | 0.00 | XXX
S0014 |  | I | Tacrine hydrochloride, 10 mg | 0.00 | 0.00 | 0.00 | 0.00 | 0.00 | 0.00 | 0.00 | 0.00 | 0.00 | 0.00 | XXX
S0016 |  | I | Injection, amikacin sulfate | 0.00 | 0.00 | 0.00 | 0.00 | 0.00 | 0.00 | 0.00 | 0.00 | 0.00 | 0.00 | XXX
S0017 |  | I | Injection, aminocaproic acid | 0.00 | 0.00 | 0.00 | 0.00 | 0.00 | 0.00 | 0.00 | 0.00 | 0.00 | 0.00 | XXX
S0020 |  | I | Injection, bupivicaine hydro | 0.00 | 0.00 | 0.00 | 0.00 | 0.00 | 0.00 | 0.00 | 0.00 | 0.00 | 0.00 | XXX
S0021 |  | I | Injection, cefoperazone sod | 0.00 | 0.00 | 0.00 | 0.00 | 0.00 | 0.00 | 0.00 | 0.00 | 0.00 | 0.00 | XXX
S0023 |  | I | Injection, cimetidine hydroc | 0.00 | 0.00 | 0.00 | 0.00 | 0.00 | 0.00 | 0.00 | 0.00 | 0.00 | 0.00 | XXX
S0024 |  | I | Injection, ciprofloxacin | 0.00 | 0.00 | 0.00 | 0.00 | 0.00 | 0.00 | 0.00 | 0.00 | 0.00 | 0.00 | XXX
S0028 |  | I | Injection, famotidine, 20 mg | 0.00 | 0.00 | 0.00 | 0.00 | 0.00 | 0.00 | 0.00 | 0.00 | 0.00 | 0.00 | XXX
S0029 |  | I | Injection, fluconazole | 0.00 | 0.00 | 0.00 | 0.00 | 0.00 | 0.00 | 0.00 | 0.00 | 0.00 | 0.00 | XXX
S0030 |  | I | Injection, metronidazole | 0.00 | 0.00 | 0.00 | 0.00 | 0.00 | 0.00 | 0.00 | 0.00 | 0.00 | 0.00 | XXX
S0032 |  | I | Injection, nafcillin sodium | 0.00 | 0.00 | 0.00 | 0.00 | 0.00 | 0.00 | 0.00 | 0.00 | 0.00 | 0.00 | XXX
S0034 |  | I | Injection, ofloxacin, 400 mg | 0.00 | 0.00 | 0.00 | 0.00 | 0.00 | 0.00 | 0.00 | 0.00 | 0.00 | 0.00 | XXX
S0039 |  | I | Injection, sulfamethoxazole | 0.00 | 0.00 | 0.00 | 0.00 | 0.00 | 0.00 | 0.00 | 0.00 | 0.00 | 0.00 | XXX
S0040 |  | I | Injection, ticarcillin disod | 0.00 | 0.00 | 0.00 | 0.00 | 0.00 | 0.00 | 0.00 | 0.00 | 0.00 | 0.00 | XXX
S0071 |  | I | Injection, acyclovir sodium | 0.00 | 0.00 | 0.00 | 0.00 | 0.00 | 0.00 | 0.00 | 0.00 | 0.00 | 0.00 | XXX
S0072 |  | I | Injection, amikacin sulfate | 0.00 | 0.00 | 0.00 | 0.00 | 0.00 | 0.00 | 0.00 | 0.00 | 0.00 | 0.00 | XXX
S0073 |  | I | Injection, aztreonam, 500 mg | 0.00 | 0.00 | 0.00 | 0.00 | 0.00 | 0.00 | 0.00 | 0.00 | 0.00 | 0.00 | XXX
S0074 |  | I | Injection, cefotetan disodiu | 0.00 | 0.00 | 0.00 | 0.00 | 0.00 | 0.00 | 0.00 | 0.00 | 0.00 | 0.00 | XXX
S0077 |  | I | Injection, clindamycin phosp | 0.00 | 0.00 | 0.00 | 0.00 | 0.00 | 0.00 | 0.00 | 0.00 | 0.00 | 0.00 | XXX
S0078 |  | I | Injection, fosphenytoin sodi | 0.00 | 0.00 | 0.00 | 0.00 | 0.00 | 0.00 | 0.00 | 0.00 | 0.00 | 0.00 | XXX
S0080 |  | I | Injection, pentamidine iseth | 0.00 | 0.00 | 0.00 | 0.00 | 0.00 | 0.00 | 0.00 | 0.00 | 0.00 | 0.00 | XXX
S0081 |  | I | Injection, piperacillin sodi | 0.00 | 0.00 | 0.00 | 0.00 | 0.00 | 0.00 | 0.00 | 0.00 | 0.00 | 0.00 | XXX
S0085 |  | I | injection, gatifloxacin | 0.00 | 0.00 | 0.00 | 0.00 | 0.00 | 0.00 | 0.00 | 0.00 | 0.00 | 0.00 | XXX
S0086 |  | I | Injection, verteporfin, 15mg | 0.00 | 0.00 | 0.00 | 0.00 | 0.00 | 0.00 | 0.00 | 0.00 | 0.00 | 0.00 | XXX
S0090 |  | I | Sildenafil citrate, 25 mg | 0.00 | 0.00 | 0.00 | 0.00 | 0.00 | 0.00 | 0.00 | 0.00 | 0.00 | 0.00 | XXX
S0096 |  | I | Injection, itraconazole, 200 | 0.00 | 0.00 | 0.00 | 0.00 | 0.00 | 0.00 | 0.00 | 0.00 | 0.00 | 0.00 | XXX
S0097 |  | D | Injection, ibutilide fumarat | 0.00 | 0.00 | 0.00 | 0.00 | 0.00 | 0.00 | 0.00 | 0.00 | 0.00 | 0.00 | XXX
S0098 |  | D | Injection, sodium ferric glu | 0.00 | 0.00 | 0.00 | 0.00 | 0.00 | 0.00 | 0.00 | 0.00 | 0.00 | 0.00 | XXX
S0156 |  | I | Exemestane, 25 mg | 0.00 | 0.00 | 0.00 | 0.00 | 0.00 | 0.00 | 0.00 | 0.00 | 0.00 | 0.00 | XXX
S0157 |  | I | Becaplermin gel 1%, 0.5 gm | 0.00 | 0.00 | 0.00 | 0.00 | 0.00 | 0.00 | 0.00 | 0.00 | 0.00 | 0.00 | XXX
S0220 |  | I | Medical conference by physic | 0.00 | 0.00 | 0.00 | 0.00 | 0.00 | 0.00 | 0.00 | 0.00 | 0.00 | 0.00 | XXX
S0221 |  | I | Medical conference, 60 min | 0.00 | 0.00 | 0.00 | 0.00 | 0.00 | 0.00 | 0.00 | 0.00 | 0.00 | 0.00 | XXX
S0601 |  | I | Screening proctoscopy | 0.00 | 0.00 | 0.00 | 0.00 | 0.00 | 0.00 | 0.00 | 0.00 | 0.00 | 0.00 | XXX
S0605 |  | I | Digital rectal examination, | 0.00 | 0.00 | 0.00 | 0.00 | 0.00 | 0.00 | 0.00 | 0.00 | 0.00 | 0.00 | XXX
S0610 |  | I | Annual gynecological examina | 0.00 | 0.00 | 0.00 | 0.00 | 0.00 | 0.00 | 0.00 | 0.00 | 0.00 | 0.00 | XXX
S0612 |  | I | Annual gynecological examina | 0.00 | 0.00 | 0.00 | 0.00 | 0.00 | 0.00 | 0.00 | 0.00 | 0.00 | 0.00 | XXX
S0620 |  | I | Routine ophthalmological exa | 0.00 | 0.00 | 0.00 | 0.00 | 0.00 | 0.00 | 0.00 | 0.00 | 0.00 | 0.00 | XXX
S0621 |  | I | Routine ophthalmological exa | 0.00 | 0.00 | 0.00 | 0.00 | 0.00 | 0.00 | 0.00 | 0.00 | 0.00 | 0.00 | XXX
S0630 |  | I | Removal of sutures | 0.00 | 0.00 | 0.00 | 0.00 | 0.00 | 0.00 | 0.00 | 0.00 | 0.00 | 0.00 | XXX
S0800 |  | I | Laser in situ keratomileusis | 0.00 | 0.00 | 0.00 | 0.00 | 0.00 | 0.00 | 0.00 | 0.00 | 0.00 | 0.00 | XXX
S0810 |  | I | Photorefractive keratectomy | 0.00 | 0.00 | 0.00 | 0.00 | 0.00 | 0.00 | 0.00 | 0.00 | 0.00 | 0.00 | XXX
S0820 |  | I | Computerized corneal topogra | 0.00 | 0.00 | 0.00 | 0.00 | 0.00 | 0.00 | 0.00 | 0.00 | 0.00 | 0.00 | XXX
S0830 |  | I | Ultrasound pachymetry | 0.00 | 0.00 | 0.00 | 0.00 | 0.00 | 0.00 | 0.00 | 0.00 | 0.00 | 0.00 | XXX
S1015 |  | I | IV tubing extension set | 0.00 | 0.00 | 0.00 | 0.00 | 0.00 | 0.00 | 0.00 | 0.00 | 0.00 | 0.00 | XXX
S1016 |  | I | Non-pvc intravenous administ | 0.00 | 0.00 | 0.00 | 0.00 | 0.00 | 0.00 | 0.00 | 0.00 | 0.00 | 0.00 | XXX
S2050 |  | D | Donor enterectomy, with prep | 0.00 | 0.00 | 0.00 | 0.00 | 0.00 | 0.00 | 0.00 | 0.00 | 0.00 | 0.00 | XXX
S2052 |  | I | Transplantation of small int | 0.00 | 0.00 | 0.00 | 0.00 | 0.00 | 0.00 | 0.00 | 0.00 | 0.00 | 0.00 | XXX
S2053 |  | I | Transplantation of small int | 0.00 | 0.00 | 0.00 | 0.00 | 0.00 | 0.00 | 0.00 | 0.00 | 0.00 | 0.00 | XXX
S2054 |  | I | Transplantation of multivisc | 0.00 | 0.00 | 0.00 | 0.00 | 0.00 | 0.00 | 0.00 | 0.00 | 0.00 | 0.00 | XXX
S2055 |  | I | Harvesting of donor multivis | 0.00 | 0.00 | 0.00 | 0.00 | 0.00 | 0.00 | 0.00 | 0.00 | 0.00 | 0.00 | XXX
S2060 |  | I | Lobar lung transplantation | 0.00 | 0.00 | 0.00 | 0.00 | 0.00 | 0.00 | 0.00 | 0.00 | 0.00 | 0.00 | XXX
S2061 |  | I | Donor lobectomy (lung) | 0.00 | 0.00 | 0.00 | 0.00 | 0.00 | 0.00 | 0.00 | 0.00 | 0.00 | 0.00 | XXX
S2102 |  | I | Islet cell tissue transplant | 0.00 | 0.00 | 0.00 | 0.00 | 0.00 | 0.00 | 0.00 | 0.00 | 0.00 | 0.00 | XXX
S2103 |  | I | Adrenal tissue transplant | 0.00 | 0.00 | 0.00 | 0.00 | 0.00 | 0.00 | 0.00 | 0.00 | 0.00 | 0.00 | XXX
S2109 |  | D | Autologous chondrocyte trans | 0.00 | 0.00 | 0.00 | 0.00 | 0.00 | 0.00 | 0.00 | 0.00 | 0.00 | 0.00 | XXX
S2120 |  | I | Low density lipoprotein(LDL) | 0.00 | 0.00 | 0.00 | 0.00 | 0.00 | 0.00 | 0.00 | 0.00 | 0.00 | 0.00 | XXX
S2140 |  | I | Cord blood harvesting | 0.00 | 0.00 | 0.00 | 0.00 | 0.00 | 0.00 | 0.00 | 0.00 | 0.00 | 0.00 | XXX
S2142 |  | I | Cord blood-derived stem-cell | 0.00 | 0.00 | 0.00 | 0.00 | 0.00 | 0.00 | 0.00 | 0.00 | 0.00 | 0.00 | XXX
S2180 |  | I | Donor leukocyte infusion | 0.00 | 0.00 | 0.00 | 0.00 | 0.00 | 0.00 | 0.00 | 0.00 | 0.00 | 0.00 | XXX
S2190 |  | D | Subcutaneous implantation of | 0.00 | 0.00 | 0.00 | 0.00 | 0.00 | 0.00 | 0.00 | 0.00 | 0.00 | 0.00 | XXX
S2202 |  | I | Echosclerotherapy | 0.00 | 0.00 | 0.00 | 0.00 | 0.00 | 0.00 | 0.00 | 0.00 | 0.00 | 0.00 | XXX
S2204 |  | D | Transmyocardial laser revasc | 0.00 | 0.00 | 0.00 | 0.00 | 0.00 | 0.00 | 0.00 | 0.00 | 0.00 | 0.00 | XXX
S2205 |  | I | Minimally invasive direct co | 0.00 | 0.00 | 0.00 | 0.00 | 0.00 | 0.00 | 0.00 | 0.00 | 0.00 | 0.00 | XXX
S2206 |  | I | Minimally invasive direct co | 0.00 | 0.00 | 0.00 | 0.00 | 0.00 | 0.00 | 0.00 | 0.00 | 0.00 | 0.00 | XXX
S2207 |  | I | Minimally invasive direct co | 0.00 | 0.00 | 0.00 | 0.00 | 0.00 | 0.00 | 0.00 | 0.00 | 0.00 | 0.00 | XXX
S2208 |  | I | Minimally invasive direct co | 0.00 | 0.00 | 0.00 | 0.00 | 0.00 | 0.00 | 0.00 | 0.00 | 0.00 | 0.00 | XXX
S2209 |  | I | Minimally invasive direct co | 0.00 | 0.00 | 0.00 | 0.00 | 0.00 | 0.00 | 0.00 | 0.00 | 0.00 | 0.00 | XXX
S2210 |  | I | Cryosurgical ablation (in si | 0.00 | 0.00 | 0.00 | 0.00 | 0.00 | 0.00 | 0.00 | 0.00 | 0.00 | 0.00 | XXX
S2220 |  | I | Thrombectomy, coronary | 0.00 | 0.00 | 0.00 | 0.00 | 0.00 | 0.00 | 0.00 | 0.00 | 0.00 | 0.00 | XXX
S2300 |  | I | Arthroscopy, shoulder, surgi | 0.00 | 0.00 | 0.00 | 0.00 | 0.00 | 0.00 | 0.00 | 0.00 | 0.00 | 0.00 | XXX
S2340 |  | I | Chemodenervation of abductor | 0.00 | 0.00 | 0.00 | 0.00 | 0.00 | 0.00 | 0.00 | 0.00 | 0.00 | 0.00 | XXX
S2350 |  | I | Diskectomy, anterior, with d | 0.00 | 0.00 | 0.00 | 0.00 | 0.00 | 0.00 | 0.00 | 0.00 | 0.00 | 0.00 | XXX
S2351 |  | I | Diskectomy, anterior, with d | 0.00 | 0.00 | 0.00 | 0.00 | 0.00 | 0.00 | 0.00 | 0.00 | 0.00 | 0.00 | XXX
S2370 |  | I | Intradiscal electrothermal | 0.00 | 0.00 | 0.00 | 0.00 | 0.00 | 0.00 | 0.00 | 0.00 | 0.00 | 0.00 | XXX
S2371 |  | I | Each additional interspace | 0.00 | 0.00 | 0.00 | 0.00 | 0.00 | 0.00 | 0.00 | 0.00 | 0.00 | 0.00 | XXX
S3620 |  | X | Newborn metabolic screening | 0.00 | 0.00 | 0.00 | 0.00 | 0.00 | 0.00 | 0.00 | 0.00 | 0.00 | 0.00 | XXX
S3645 |  | I | HIV-1 antibody testing of or | 0.00 | 0.00 | 0.00 | 0.00 | 0.00 | 0.00 | 0.00 | 0.00 | 0.00 | 0.00 | XXX
S3650 |  | I | Saliva test, hormone level; | 0.00 | 0.00 | 0.00 | 0.00 | 0.00 | 0.00 | 0.00 | 0.00 | 0.00 | 0.00 | XXX
S3652 |  | I | Saliva test, hormone level; | 0.00 | 0.00 | 0.00 | 0.00 | 0.00 | 0.00 | 0.00 | 0.00 | 0.00 | 0.00 | XXX
S3700 |  | I | Bladder tumor-associated | 0.00 | 0.00 | 0.00 | 0.00 | 0.00 | 0.00 | 0.00 | 0.00 | 0.00 | 0.00 | XXX
S3708 |  | I | Gastrointestinal fat absorpt | 0.00 | 0.00 | 0.00 | 0.00 | 0.00 | 0.00 | 0.00 | 0.00 | 0.00 | 0.00 | XXX
S3902 |  | I | Ballistocardiogram | 0.00 | 0.00 | 0.00 | 0.00 | 0.00 | 0.00 | 0.00 | 0.00 | 0.00 | 0.00 | XXX
S3904 |  | I | Masters two step | 0.00 | 0.00 | 0.00 | 0.00 | 0.00 | 0.00 | 0.00 | 0.00 | 0.00 | 0.00 | XXX
S3906 |  | I | Transfusion, direct, blood | 0.00 | 0.00 | 0.00 | 0.00 | 0.00 | 0.00 | 0.00 | 0.00 | 0.00 | 0.00 | XXX
S5000 |  | I | Prescription drug, generic | 0.00 | 0.00 | 0.00 | 0.00 | 0.00 | 0.00 | 0.00 | 0.00 | 0.00 | 0.00 | XXX
S5001 |  | I | Prescription drug,brand name | 0.00 | 0.00 | 0.00 | 0.00 | 0.00 | 0.00 | 0.00 | 0.00 | 0.00 | 0.00 | XXX
S5002 |  | I | Fat emulsion 10% in 250 ml | 0.00 | 0.00 | 0.00 | 0.00 | 0.00 | 0.00 | 0.00 | 0.00 | 0.00 | 0.00 | XXX
S5003 |  | I | Fat emulsion 20% in 250 ml | 0.00 | 0.00 | 0.00 | 0.00 | 0.00 | 0.00 | 0.00 | 0.00 | 0.00 | 0.00 | XXX
S5010 |  | I | 5% dextrose and 45% saline | 0.00 | 0.00 | 0.00 | 0.00 | 0.00 | 0.00 | 0.00 | 0.00 | 0.00 | 0.00 | XXX
S5011 |  | I | 5% dextrose in lactated ring | 0.00 | 0.00 | 0.00 | 0.00 | 0.00 | 0.00 | 0.00 | 0.00 | 0.00 | 0.00 | XXX
S5012 |  | I | 5% dextrose with potassium | 0.00 | 0.00 | 0.00 | 0.00 | 0.00 | 0.00 | 0.00 | 0.00 | 0.00 | 0.00 | XXX
S5013 |  | I | 5% dextrose/45%saline,1000ml | 0.00 | 0.00 | 0.00 | 0.00 | 0.00 | 0.00 | 0.00 | 0.00 | 0.00 | 0.00 | XXX
S5014 |  | I | 5% dextrose/45%saline,1500ml | 0.00 | 0.00 | 0.00 | 0.00 | 0.00 | 0.00 | 0.00 | 0.00 | 0.00 | 0.00 | XXX
S5016 |  | I | Antibiotic admin supplies w/ | 0.00 | 0.00 | 0.00 | 0.00 | 0.00 | 0.00 | 0.00 | 0.00 | 0.00 | 0.00 | XXX
S5017 |  | I | Antibiotic adminsupplies w/o | 0.00 | 0.00 | 0.00 | 0.00 | 0.00 | 0.00 | 0.00 | 0.00 | 0.00 | 0.00 | XXX
S5018 |  | I | Pain therapy admin supplies | 0.00 | 0.00 | 0.00 | 0.00 | 0.00 | 0.00 | 0.00 | 0.00 | 0.00 | 0.00 | XXX
S5019 |  | I | Chemotherapy admin supplies | 0.00 | 0.00 | 0.00 | 0.00 | 0.00 | 0.00 | 0.00 | 0.00 | 0.00 | 0.00 | XXX
S5020 |  | I | Chemotherapy admin supplies | 0.00 | 0.00 | 0.00 | 0.00 | 0.00 | 0.00 | 0.00 | 0.00 | 0.00 | 0.00 | XXX
S5021 |  | I | Hydration therapy admin supp | 0.00 | 0.00 | 0.00 | 0.00 | 0.00 | 0.00 | 0.00 | 0.00 | 0.00 | 0.00 | XXX
S5022 |  | I | Growth hormone therapy | 0.00 | 0.00 | 0.00 | 0.00 | 0.00 | 0.00 | 0.00 | 0.00 | 0.00 | 0.00 | XXX
S5025 |  | I | Infusion pump rental,perdiem | 0.00 | 0.00 | 0.00 | 0.00 | 0.00 | 0.00 | 0.00 | 0.00 | 0.00 | 0.00 | XXX
S5503 |  | I | Maintenance of implanted vas | 0.00 | 0.00 | 0.00 | 0.00 | 0.00 | 0.00 | 0.00 | 0.00 | 0.00 | 0.00 | XXX
S8001 |  | I | Radiofrequency stimulation | 0.00 | 0.00 | 0.00 | 0.00 | 0.00 | 0.00 | 0.00 | 0.00 | 0.00 | 0.00 | XXX
S8035 |  | I | Magnetic source imaging | 0.00 | 0.00 | 0.00 | 0.00 | 0.00 | 0.00 | 0.00 | 0.00 | 0.00 | 0.00 | XXX
S8040 |  | I | Topographic brain mapping | 0.00 | 0.00 | 0.00 | 0.00 | 0.00 | 0.00 | 0.00 | 0.00 | 0.00 | 0.00 | XXX
S8048 |  | D | Isolated limb perfusion | 0.00 | 0.00 | 0.00 | 0.00 | 0.00 | 0.00 | 0.00 | 0.00 | 0.00 | 0.00 | XXX
S8049 |  | I | Intraoperative radiation the | 0.00 | 0.00 | 0.00 | 0.00 | 0.00 | 0.00 | 0.00 | 0.00 | 0.00 | 0.00 | XXX
S8060 |  | D | Supply of contrast material | 0.00 | 0.00 | 0.00 | 0.00 | 0.00 | 0.00 | 0.00 | 0.00 | 0.00 | 0.00 | XXX
S8080 |  | I | Scintimammography | 0.00 | 0.00 | 0.00 | 0.00 | 0.00 | 0.00 | 0.00 | 0.00 | 0.00 | 0.00 | XXX
S8085 |  | I | Fluorine-18 fluorodeoxygluco | 0.00 | 0.00 | 0.00 | 0.00 | 0.00 | 0.00 | 0.00 | 0.00 | 0.00 | 0.00 | XXX
S8092 |  | I | Electron beam computed tomog | 0.00 | 0.00 | 0.00 | 0.00 | 0.00 | 0.00 | 0.00 | 0.00 | 0.00 | 0.00 | XXX
S8095 |  | I | Wig (for medically-induced h | 0.00 | 0.00 | 0.00 | 0.00 | 0.00 | 0.00 | 0.00 | 0.00 | 0.00 | 0.00 | XXX
S8096 |  | I | Portable peak flow meter | 0.00 | 0.00 | 0.00 | 0.00 | 0.00 | 0.00 | 0.00 | 0.00 | 0.00 | 0.00 | XXX
S8105 |  | I | Oximeter for measuring blood | 0.00 | 0.00 | 0.00 | 0.00 | 0.00 | 0.00 | 0.00 | 0.00 | 0.00 | 0.00 | XXX
S8110 |  | I | Peak expiratory flow rate (p | 0.00 | 0.00 | 0.00 | 0.00 | 0.00 | 0.00 | 0.00 | 0.00 | 0.00 | 0.00 | XXX
S8200 |  | I | Chest compression vest | 0.00 | 0.00 | 0.00 | 0.00 | 0.00 | 0.00 | 0.00 | 0.00 | 0.00 | 0.00 | XXX
S8205 |  | I | Chest compression system gen | 0.00 | 0.00 | 0.00 | 0.00 | 0.00 | 0.00 | 0.00 | 0.00 | 0.00 | 0.00 | XXX
S8210 |  | I | Mucus trap | 0.00 | 0.00 | 0.00 | 0.00 | 0.00 | 0.00 | 0.00 | 0.00 | 0.00 | 0.00 | XXX
S8260 |  | I | Oral orthotic for treatment | 0.00 | 0.00 | 0.00 | 0.00 | 0.00 | 0.00 | 0.00 | 0.00 | 0.00 | 0.00 | XXX
S8300 |  | D | Sacral nerve stimulation tes | 0.00 | 0.00 | 0.00 | 0.00 | 0.00 | 0.00 | 0.00 | 0.00 | 0.00 | 0.00 | XXX
S8400 |  | I | Incontinence pants, each | 0.00 | 0.00 | 0.00 | 0.00 | 0.00 | 0.00 | 0.00 | 0.00 | 0.00 | 0.00 | XXX
S8402 |  | I | Diapers, each | 0.00 | 0.00 | 0.00 | 0.00 | 0.00 | 0.00 | 0.00 | 0.00 | 0.00 | 0.00 | XXX
S8405 |  | I | Incontinence liners, each | 0.00 | 0.00 | 0.00 | 0.00 | 0.00 | 0.00 | 0.00 | 0.00 | 0.00 | 0.00 | XXX
S8950 |  | I | Complex lymphedema therapy, | 0.00 | 0.00 | 0.00 | 0.00 | 0.00 | 0.00 | 0.00 | 0.00 | 0.00 | 0.00 | XXX
S8999 |  | I | Resuscitation bag | 0.00 | 0.00 | 0.00 | 0.00 | 0.00 | 0.00 | 0.00 | 0.00 | 0.00 | 0.00 | XXX
S9001 |  | I | Home uterine monitor with or | 0.00 | 0.00 | 0.00 | 0.00 | 0.00 | 0.00 | 0.00 | 0.00 | 0.00 | 0.00 | XXX
S9007 |  | I | Ultrafiltration monitor | 0.00 | 0.00 | 0.00 | 0.00 | 0.00 | 0.00 | 0.00 | 0.00 | 0.00 | 0.00 | XXX
S9015 |  | I | Automated EEG monitoring | 0.00 | 0.00 | 0.00 | 0.00 | 0.00 | 0.00 | 0.00 | 0.00 | 0.00 | 0.00 | XXX
S9022 |  | I | Digital subtraction angiogra | 0.00 | 0.00 | 0.00 | 0.00 | 0.00 | 0.00 | 0.00 | 0.00 | 0.00 | 0.00 | XXX
S9023 |  | I | Xenon regional cerebral bloo | 0.00 | 0.00 | 0.00 | 0.00 | 0.00 | 0.00 | 0.00 | 0.00 | 0.00 | 0.00 | XXX
S9024 |  | I | Paranasal sinus ultrasound | 0.00 | 0.00 | 0.00 | 0.00 | 0.00 | 0.00 | 0.00 | 0.00 | 0.00 | 0.00 | XXX
S9025 |  | I | Omnicardiogram/cardiointegra | 0.00 | 0.00 | 0.00 | 0.00 | 0.00 | 0.00 | 0.00 | 0.00 | 0.00 | 0.00 | XXX
S9033 |  | D | Gait analysis | 0.00 | 0.00 | 0.00 | 0.00 | 0.00 | 0.00 | 0.00 | 0.00 | 0.00 | 0.00 | XXX
S9035 |  | I | Medical equipment or supplie | 0.00 | 0.00 | 0.00 | 0.00 | 0.00 | 0.00 | 0.00 | 0.00 | 0.00 | 0.00 | XXX
S9055 |  | I | Procuren or other growth fac | 0.00 | 0.00 | 0.00 | 0.00 | 0.00 | 0.00 | 0.00 | 0.00 | 0.00 | 0.00 | XXX
S9056 |  | I | Coma stimulation per diem | 0.00 | 0.00 | 0.00 | 0.00 | 0.00 | 0.00 | 0.00 | 0.00 | 0.00 | 0.00 | XXX
S9061 |  | I | Medical supplies and equipme | 0.00 | 0.00 | 0.00 | 0.00 | 0.00 | 0.00 | 0.00 | 0.00 | 0.00 | 0.00 | XXX
S9075 |  | I | Smoking cessation treatment | 0.00 | 0.00 | 0.00 | 0.00 | 0.00 | 0.00 | 0.00 | 0.00 | 0.00 | 0.00 | XXX
S9085 |  | I | Meniscal allograft transplan | 0.00 | 0.00 | 0.00 | 0.00 | 0.00 | 0.00 | 0.00 | 0.00 | 0.00 | 0.00 | XXX
S9088 |  | I | Services provided in urgent | 0.00 | 0.00 | 0.00 | 0.00 | 0.00 | 0.00 | 0.00 | 0.00 | 0.00 | 0.00 | XXX
S9090 |  | I | Vertebral axial decompressio | 0.00 | 0.00 | 0.00 | 0.00 | 0.00 | 0.00 | 0.00 | 0.00 | 0.00 | 0.00 | XXX
S9122 |  | I | Home health aide or certifie | 0.00 | 0.00 | 0.00 | 0.00 | 0.00 | 0.00 | 0.00 | 0.00 | 0.00 | 0.00 | XXX
S9123 |  | I | Nursing care, in the home; b | 0.00 | 0.00 | 0.00 | 0.00 | 0.00 | 0.00 | 0.00 | 0.00 | 0.00 | 0.00 | XXX
S9124 |  | I | Nursing care, in the home; b | 0.00 | 0.00 | 0.00 | 0.00 | 0.00 | 0.00 | 0.00 | 0.00 | 0.00 | 0.00 | XXX
S9125 |  | I | Respite care, in the home, p | 0.00 | 0.00 | 0.00 | 0.00 | 0.00 | 0.00 | 0.00 | 0.00 | 0.00 | 0.00 | XXX
S9126 |  | I | Hospice care, in the home, p | 0.00 | 0.00 | 0.00 | 0.00 | 0.00 | 0.00 | 0.00 | 0.00 | 0.00 | 0.00 | XXX
S9127 |  | I | Social work visit, in the ho | 0.00 | 0.00 | 0.00 | 0.00 | 0.00 | 0.00 | 0.00 | 0.00 | 0.00 | 0.00 | XXX
S9128 |  | I | Speech therapy, in the home, | 0.00 | 0.00 | 0.00 | 0.00 | 0.00 | 0.00 | 0.00 | 0.00 | 0.00 | 0.00 | XXX
S9129 |  | I | Occupational therapy, in the | 0.00 | 0.00 | 0.00 | 0.00 | 0.00 | 0.00 | 0.00 | 0.00 | 0.00 | 0.00 | XXX
S9140 |  | I | Diabetic Management Program, | 0.00 | 0.00 | 0.00 | 0.00 | 0.00 | 0.00 | 0.00 | 0.00 | 0.00 | 0.00 | XXX
S9141 |  | I | Diabetic Management Program, | 0.00 | 0.00 | 0.00 | 0.00 | 0.00 | 0.00 | 0.00 | 0.00 | 0.00 | 0.00 | XXX
S9200 |  | I | Nursing services and all nec | 0.00 | 0.00 | 0.00 | 0.00 | 0.00 | 0.00 | 0.00 | 0.00 | 0.00 | 0.00 | XXX
S9210 |  | I | Nursing services and all nec | 0.00 | 0.00 | 0.00 | 0.00 | 0.00 | 0.00 | 0.00 | 0.00 | 0.00 | 0.00 | XXX
S9220 |  | I | Nursing services and all nec | 0.00 | 0.00 | 0.00 | 0.00 | 0.00 | 0.00 | 0.00 | 0.00 | 0.00 | 0.00 | XXX
S9225 |  | I | Nursing services and all nec | 0.00 | 0.00 | 0.00 | 0.00 | 0.00 | 0.00 | 0.00 | 0.00 | 0.00 | 0.00 | XXX
S9230 |  | I | Nursing services and all nec | 0.00 | 0.00 | 0.00 | 0.00 | 0.00 | 0.00 | 0.00 | 0.00 | 0.00 | 0.00 | XXX
S9300 |  | I | Nursing services and all nec | 0.00 | 0.00 | 0.00 | 0.00 | 0.00 | 0.00 | 0.00 | 0.00 | 0.00 | 0.00 | XXX
S9308 |  | I | Nursing services and all nec | 0.00 | 0.00 | 0.00 | 0.00 | 0.00 | 0.00 | 0.00 | 0.00 | 0.00 | 0.00 | XXX
S9310 |  | I | Nursing services and all nec | 0.00 | 0.00 | 0.00 | 0.00 | 0.00 | 0.00 | 0.00 | 0.00 | 0.00 | 0.00 | XXX
S9395 |  | I | Nursing services and all nec | 0.00 | 0.00 | 0.00 | 0.00 | 0.00 | 0.00 | 0.00 | 0.00 | 0.00 | 0.00 | XXX
S9420 |  | I | Nursing services and all nec | 0.00 | 0.00 | 0.00 | 0.00 | 0.00 | 0.00 | 0.00 | 0.00 | 0.00 | 0.00 | XXX
S9423 |  | I | Nursing services, patient as | 0.00 | 0.00 | 0.00 | 0.00 | 0.00 | 0.00 | 0.00 | 0.00 | 0.00 | 0.00 | XXX
S9425 |  | I | Nursing services and all nec | 0.00 | 0.00 | 0.00 | 0.00 | 0.00 | 0.00 | 0.00 | 0.00 | 0.00 | 0.00 | XXX
S9435 |  | I | Medical foods for inborn err | 0.00 | 0.00 | 0.00 | 0.00 | 0.00 | 0.00 | 0.00 | 0.00 | 0.00 | 0.00 | XXX
S9455 |  | I | Diabetic Management Program, | 0.00 | 0.00 | 0.00 | 0.00 | 0.00 | 0.00 | 0.00 | 0.00 | 0.00 | 0.00 | XXX
S9460 |  | I | Diabetic Management Program, | 0.00 | 0.00 | 0.00 | 0.00 | 0.00 | 0.00 | 0.00 | 0.00 | 0.00 | 0.00 | XXX
S9465 |  | I | Diabetic Management Program, | 0.00 | 0.00 | 0.00 | 0.00 | 0.00 | 0.00 | 0.00 | 0.00 | 0.00 | 0.00 | XXX
S9470 |  | I | Nutritional counseling, diet | 0.00 | 0.00 | 0.00 | 0.00 | 0.00 | 0.00 | 0.00 | 0.00 | 0.00 | 0.00 | XXX
S9472 |  | I | Cardiac rehabilitation progr | 0.00 | 0.00 | 0.00 | 0.00 | 0.00 | 0.00 | 0.00 | 0.00 | 0.00 | 0.00 | XXX
S9473 |  | I | Pulmonary rehabilitation pro | 0.00 | 0.00 | 0.00 | 0.00 | 0.00 | 0.00 | 0.00 | 0.00 | 0.00 | 0.00 | XXX
S9474 |  | I | Enterostomal therapy by a re | 0.00 | 0.00 | 0.00 | 0.00 | 0.00 | 0.00 | 0.00 | 0.00 | 0.00 | 0.00 | XXX
S9475 |  | I | Ambulatory setting substance | 0.00 | 0.00 | 0.00 | 0.00 | 0.00 | 0.00 | 0.00 | 0.00 | 0.00 | 0.00 | XXX
S9480 |  | I | Intensive outpatient psychia | 0.00 | 0.00 | 0.00 | 0.00 | 0.00 | 0.00 | 0.00 | 0.00 | 0.00 | 0.00 | XXX
S9485 |  | I | Crisis intervention mental h | 0.00 | 0.00 | 0.00 | 0.00 | 0.00 | 0.00 | 0.00 | 0.00 | 0.00 | 0.00 | XXX
S9524 |  | I | Nursing services related to | 0.00 | 0.00 | 0.00 | 0.00 | 0.00 | 0.00 | 0.00 | 0.00 | 0.00 | 0.00 | XXX
S9526 |  | I | Skilled nursing visits for | 0.00 | 0.00 | 0.00 | 0.00 | 0.00 | 0.00 | 0.00 | 0.00 | 0.00 | 0.00 | XXX
S9527 |  | I | Insertion of a peripherally | 0.00 | 0.00 | 0.00 | 0.00 | 0.00 | 0.00 | 0.00 | 0.00 | 0.00 | 0.00 | XXX
S9528 |  | I | Insertion of midline central | 0.00 | 0.00 | 0.00 | 0.00 | 0.00 | 0.00 | 0.00 | 0.00 | 0.00 | 0.00 | XXX
S9533 |  | I | Pain management, intravenous | 0.00 | 0.00 | 0.00 | 0.00 | 0.00 | 0.00 | 0.00 | 0.00 | 0.00 | 0.00 | XXX
S9535 |  | I | Administration of hematopoie | 0.00 | 0.00 | 0.00 | 0.00 | 0.00 | 0.00 | 0.00 | 0.00 | 0.00 | 0.00 | XXX
S9539 |  | I | Administration of antibiotic | 0.00 | 0.00 | 0.00 | 0.00 | 0.00 | 0.00 | 0.00 | 0.00 | 0.00 | 0.00 | XXX
S9543 |  | I | Administration of medication | 0.00 | 0.00 | 0.00 | 0.00 | 0.00 | 0.00 | 0.00 | 0.00 | 0.00 | 0.00 | XXX
S9545 |  | I | Administration of immune glo | 0.00 | 0.00 | 0.00 | 0.00 | 0.00 | 0.00 | 0.00 | 0.00 | 0.00 | 0.00 | XXX
S9550 |  | I | Home IV therapy, hydration | 0.00 | 0.00 | 0.00 | 0.00 | 0.00 | 0.00 | 0.00 | 0.00 | 0.00 | 0.00 | XXX
S9555 |  | I | Additional home infusion | 0.00 | 0.00 | 0.00 | 0.00 | 0.00 | 0.00 | 0.00 | 0.00 | 0.00 | 0.00 | XXX
S9990 |  | I | Services provided as part of | 0.00 | 0.00 | 0.00 | 0.00 | 0.00 | 0.00 | 0.00 | 0.00 | 0.00 | 0.00 | XXX
S9991 |  | I | Services provided as part of | 0.00 | 0.00 | 0.00 | 0.00 | 0.00 | 0.00 | 0.00 | 0.00 | 0.00 | 0.00 | XXX
S9992 |  | I | Transportation costs to and | 0.00 | 0.00 | 0.00 | 0.00 | 0.00 | 0.00 | 0.00 | 0.00 | 0.00 | 0.00 | XXX
S9994 |  | I | Lodging costs (e.g. hotel ch | 0.00 | 0.00 | 0.00 | 0.00 | 0.00 | 0.00 | 0.00 | 0.00 | 0.00 | 0.00 | XXX
S9996 |  | I | Meals for clinical trial par | 0.00 | 0.00 | 0.00 | 0.00 | 0.00 | 0.00 | 0.00 | 0.00 | 0.00 | 0.00 | XXX
S9999 |  | I | Sales tax | 0.00 | 0.00 | 0.00 | 0.00 | 0.00 | 0.00 | 0.00 | 0.00 | 0.00 | 0.00 | XXX
V2020 |  | X | Vision svcs frames purchases | 0.00 | 0.00 | 0.00 | 0.00 | 0.00 | 0.00 | 0.00 | 0.00 | 0.00 | 0.00 | XXX
V2025 |  | N | Eyeglasses delux frames | 0.00 | 0.00 | 0.00 | 0.00 | 0.00 | 0.00 | 0.00 | 0.00 | 0.00 | 0.00 | XXX
V2100 |  | X | Lens spher single plano 4.00 | 0.00 | 0.00 | 0.00 | 0.00 | 0.00 | 0.00 | 0.00 | 0.00 | 0.00 | 0.00 | XXX
V2101 |  | X | Single visn sphere 4.12-7.00 | 0.00 | 0.00 | 0.00 | 0.00 | 0.00 | 0.00 | 0.00 | 0.00 | 0.00 | 0.00 | XXX
V2102 |  | X | Singl visn sphere 7.12-20.00 | 0.00 | 0.00 | 0.00 | 0.00 | 0.00 | 0.00 | 0.00 | 0.00 | 0.00 | 0.00 | XXX
V2103 |  | X | Spherocylindr 4.00d/12-2.00d | 0.00 | 0.00 | 0.00 | 0.00 | 0.00 | 0.00 | 0.00 | 0.00 | 0.00 | 0.00 | XXX
V2104 |  | X | Spherocylindr 4.00d/2.12-4d | 0.00 | 0.00 | 0.00 | 0.00 | 0.00 | 0.00 | 0.00 | 0.00 | 0.00 | 0.00 | XXX
V2105 |  | X | Spherocylinder 4.00d/4.25-6d | 0.00 | 0.00 | 0.00 | 0.00 | 0.00 | 0.00 | 0.00 | 0.00 | 0.00 | 0.00 | XXX
V2106 |  | X | Spherocylinder 4.00d/>6.00d | 0.00 | 0.00 | 0.00 | 0.00 | 0.00 | 0.00 | 0.00 | 0.00 | 0.00 | 0.00 | XXX
V2107 |  | X | Spherocylinder 4.25d/12-2d | 0.00 | 0.00 | 0.00 | 0.00 | 0.00 | 0.00 | 0.00 | 0.00 | 0.00 | 0.00 | XXX
V2108 |  | X | Spherocylinder 4.25d/2.12-4d | 0.00 | 0.00 | 0.00 | 0.00 | 0.00 | 0.00 | 0.00 | 0.00 | 0.00 | 0.00 | XXX
V2109 |  | X | Spherocylinder 4.25d/4.25-6d | 0.00 | 0.00 | 0.00 | 0.00 | 0.00 | 0.00 | 0.00 | 0.00 | 0.00 | 0.00 | XXX
V2110 |  | X | Spherocylinder 4.25d/over 6d | 0.00 | 0.00 | 0.00 | 0.00 | 0.00 | 0.00 | 0.00 | 0.00 | 0.00 | 0.00 | XXX
V2111 |  | X | Spherocylindr 7.25d/.25-2.25 | 0.00 | 0.00 | 0.00 | 0.00 | 0.00 | 0.00 | 0.00 | 0.00 | 0.00 | 0.00 | XXX
V2112 |  | X | Spherocylindr 7.25d/2.25-4d | 0.00 | 0.00 | 0.00 | 0.00 | 0.00 | 0.00 | 0.00 | 0.00 | 0.00 | 0.00 | XXX
V2113 |  | X | Spherocylindr 7.25d/4.25-6d | 0.00 | 0.00 | 0.00 | 0.00 | 0.00 | 0.00 | 0.00 | 0.00 | 0.00 | 0.00 | XXX
V2114 |  | X | Spherocylinder over 12.00d | 0.00 | 0.00 | 0.00 | 0.00 | 0.00 | 0.00 | 0.00 | 0.00 | 0.00 | 0.00 | XXX
V2115 |  | X | Lens lenticular bifocal | 0.00 | 0.00 | 0.00 | 0.00 | 0.00 | 0.00 | 0.00 | 0.00 | 0.00 | 0.00 | XXX
V2116 |  | X | Nonaspheric lens bifocal | 0.00 | 0.00 | 0.00 | 0.00 | 0.00 | 0.00 | 0.00 | 0.00 | 0.00 | 0.00 | XXX
V2117 |  | X | Aspheric lens bifocal | 0.00 | 0.00 | 0.00 | 0.00 | 0.00 | 0.00 | 0.00 | 0.00 | 0.00 | 0.00 | XXX
V2118 |  | X | Lens aniseikonic single | 0.00 | 0.00 | 0.00 | 0.00 | 0.00 | 0.00 | 0.00 | 0.00 | 0.00 | 0.00 | XXX
V2199 |  | X | Lens single vision not oth c | 0.00 | 0.00 | 0.00 | 0.00 | 0.00 | 0.00 | 0.00 | 0.00 | 0.00 | 0.00 | XXX
V2200 |  | X | Lens spher bifoc plano 4.00d | 0.00 | 0.00 | 0.00 | 0.00 | 0.00 | 0.00 | 0.00 | 0.00 | 0.00 | 0.00 | XXX
V2201 |  | X | Lens sphere bifocal 4.12-7.0 | 0.00 | 0.00 | 0.00 | 0.00 | 0.00 | 0.00 | 0.00 | 0.00 | 0.00 | 0.00 | XXX
V2202 |  | X | Lens sphere bifocal 7.12-20. | 0.00 | 0.00 | 0.00 | 0.00 | 0.00 | 0.00 | 0.00 | 0.00 | 0.00 | 0.00 | XXX
V2203 |  | X | Lens sphcyl bifocal 4.00d/.1 | 0.00 | 0.00 | 0.00 | 0.00 | 0.00 | 0.00 | 0.00 | 0.00 | 0.00 | 0.00 | XXX
V2204 |  | X | Lens sphcy bifocal 4.00d/2.1 | 0.00 | 0.00 | 0.00 | 0.00 | 0.00 | 0.00 | 0.00 | 0.00 | 0.00 | 0.00 | XXX
V2205 |  | X | Lens sphcy bifocal 4.00d/4.2 | 0.00 | 0.00 | 0.00 | 0.00 | 0.00 | 0.00 | 0.00 | 0.00 | 0.00 | 0.00 | XXX
V2206 |  | X | Lens sphcy bifocal 4.00d/ove | 0.00 | 0.00 | 0.00 | 0.00 | 0.00 | 0.00 | 0.00 | 0.00 | 0.00 | 0.00 | XXX
V2207 |  | X | Lens sphcy bifocal 4.25-7d/. | 0.00 | 0.00 | 0.00 | 0.00 | 0.00 | 0.00 | 0.00 | 0.00 | 0.00 | 0.00 | XXX
V2208 |  | X | Lens sphcy bifocal 4.25-7/2. | 0.00 | 0.00 | 0.00 | 0.00 | 0.00 | 0.00 | 0.00 | 0.00 | 0.00 | 0.00 | XXX
V2209 |  | X | Lens sphcy bifocal 4.25-7/4. | 0.00 | 0.00 | 0.00 | 0.00 | 0.00 | 0.00 | 0.00 | 0.00 | 0.00 | 0.00 | XXX
V2210 |  | X | Lens sphcy bifocal 4.25-7/ov | 0.00 | 0.00 | 0.00 | 0.00 | 0.00 | 0.00 | 0.00 | 0.00 | 0.00 | 0.00 | XXX
V2211 |  | X | Lens sphcy bifo 7.25-12/.25- | 0.00 | 0.00 | 0.00 | 0.00 | 0.00 | 0.00 | 0.00 | 0.00 | 0.00 | 0.00 | XXX
V2212 |  | X | Lens sphcyl bifo 7.25-12/2.2 | 0.00 | 0.00 | 0.00 | 0.00 | 0.00 | 0.00 | 0.00 | 0.00 | 0.00 | 0.00 | XXX
V2213 |  | X | Lens sphcyl bifo 7.25-12/4.2 | 0.00 | 0.00 | 0.00 | 0.00 | 0.00 | 0.00 | 0.00 | 0.00 | 0.00 | 0.00 | XXX
V2214 |  | X | Lens sphcyl bifocal over 12. | 0.00 | 0.00 | 0.00 | 0.00 | 0.00 | 0.00 | 0.00 | 0.00 | 0.00 | 0.00 | XXX
V2215 |  | X | Lens lenticular bifocal | 0.00 | 0.00 | 0.00 | 0.00 | 0.00 | 0.00 | 0.00 | 0.00 | 0.00 | 0.00 | XXX
V2216 |  | X | Lens lenticular nonaspheric | 0.00 | 0.00 | 0.00 | 0.00 | 0.00 | 0.00 | 0.00 | 0.00 | 0.00 | 0.00 | XXX
V2217 |  | X | Lens lenticular aspheric bif | 0.00 | 0.00 | 0.00 | 0.00 | 0.00 | 0.00 | 0.00 | 0.00 | 0.00 | 0.00 | XXX
V2218 |  | X | Lens aniseikonic bifocal | 0.00 | 0.00 | 0.00 | 0.00 | 0.00 | 0.00 | 0.00 | 0.00 | 0.00 | 0.00 | XXX
V2219 |  | X | Lens bifocal seg width over | 0.00 | 0.00 | 0.00 | 0.00 | 0.00 | 0.00 | 0.00 | 0.00 | 0.00 | 0.00 | XXX
V2220 |  | X | Lens bifocal add over 3.25d | 0.00 | 0.00 | 0.00 | 0.00 | 0.00 | 0.00 | 0.00 | 0.00 | 0.00 | 0.00 | XXX
V2299 |  | X | Lens bifocal speciality | 0.00 | 0.00 | 0.00 | 0.00 | 0.00 | 0.00 | 0.00 | 0.00 | 0.00 | 0.00 | XXX
V2300 |  | X | Lens sphere trifocal 4.00d | 0.00 | 0.00 | 0.00 | 0.00 | 0.00 | 0.00 | 0.00 | 0.00 | 0.00 | 0.00 | XXX
V2301 |  | X | Lens sphere trifocal 4.12-7. | 0.00 | 0.00 | 0.00 | 0.00 | 0.00 | 0.00 | 0.00 | 0.00 | 0.00 | 0.00 | XXX
V2302 |  | X | Lens sphere trifocal 7.12-20 | 0.00 | 0.00 | 0.00 | 0.00 | 0.00 | 0.00 | 0.00 | 0.00 | 0.00 | 0.00 | XXX
V2303 |  | X | Lens sphcy trifocal 4.0/.12- | 0.00 | 0.00 | 0.00 | 0.00 | 0.00 | 0.00 | 0.00 | 0.00 | 0.00 | 0.00 | XXX
V2304 |  | X | Lens sphcy trifocal 4.0/2.25 | 0.00 | 0.00 | 0.00 | 0.00 | 0.00 | 0.00 | 0.00 | 0.00 | 0.00 | 0.00 | XXX
V2305 |  | X | Lens sphcy trifocal 4.0/4.25 | 0.00 | 0.00 | 0.00 | 0.00 | 0.00 | 0.00 | 0.00 | 0.00 | 0.00 | 0.00 | XXX
V2306 |  | X | Lens sphcyl trifocal 4.00/>6 | 0.00 | 0.00 | 0.00 | 0.00 | 0.00 | 0.00 | 0.00 | 0.00 | 0.00 | 0.00 | XXX
V2307 |  | X | Lens sphcy trifocal 4.25-7/. | 0.00 | 0.00 | 0.00 | 0.00 | 0.00 | 0.00 | 0.00 | 0.00 | 0.00 | 0.00 | XXX
V2308 |  | X | Lens sphc trifocal 4.25-7/2. | 0.00 | 0.00 | 0.00 | 0.00 | 0.00 | 0.00 | 0.00 | 0.00 | 0.00 | 0.00 | XXX
V2309 |  | X | Lens sphc trifocal 4.25-7/4. | 0.00 | 0.00 | 0.00 | 0.00 | 0.00 | 0.00 | 0.00 | 0.00 | 0.00 | 0.00 | XXX
V2310 |  | X | Lens sphc trifocal 4.25-7/>6 | 0.00 | 0.00 | 0.00 | 0.00 | 0.00 | 0.00 | 0.00 | 0.00 | 0.00 | 0.00 | XXX
V2311 |  | X | Lens sphc trifo 7.25-12/.25- | 0.00 | 0.00 | 0.00 | 0.00 | 0.00 | 0.00 | 0.00 | 0.00 | 0.00 | 0.00 | XXX
V2312 |  | X | Lens sphc trifo 7.25-12/2.25 | 0.00 | 0.00 | 0.00 | 0.00 | 0.00 | 0.00 | 0.00 | 0.00 | 0.00 | 0.00 | XXX
V2313 |  | X | Lens sphc trifo 7.25-12/4.25 | 0.00 | 0.00 | 0.00 | 0.00 | 0.00 | 0.00 | 0.00 | 0.00 | 0.00 | 0.00 | XXX
V2314 |  | X | Lens sphcyl trifocal over 12 | 0.00 | 0.00 | 0.00 | 0.00 | 0.00 | 0.00 | 0.00 | 0.00 | 0.00 | 0.00 | XXX
V2315 |  | X | Lens lenticular trifocal | 0.00 | 0.00 | 0.00 | 0.00 | 0.00 | 0.00 | 0.00 | 0.00 | 0.00 | 0.00 | XXX
V2316 |  | X | Lens lenticular nonaspheric | 0.00 | 0.00 | 0.00 | 0.00 | 0.00 | 0.00 | 0.00 | 0.00 | 0.00 | 0.00 | XXX
V2317 |  | X | Lens lenticular aspheric tri | 0.00 | 0.00 | 0.00 | 0.00 | 0.00 | 0.00 | 0.00 | 0.00 | 0.00 | 0.00 | XXX
V2318 |  | X | Lens aniseikonic trifocal | 0.00 | 0.00 | 0.00 | 0.00 | 0.00 | 0.00 | 0.00 | 0.00 | 0.00 | 0.00 | XXX
V2319 |  | X | Lens trifocal seg width > 28 | 0.00 | 0.00 | 0.00 | 0.00 | 0.00 | 0.00 | 0.00 | 0.00 | 0.00 | 0.00 | XXX
V2320 |  | X | Lens trifocal add over 3.25d | 0.00 | 0.00 | 0.00 | 0.00 | 0.00 | 0.00 | 0.00 | 0.00 | 0.00 | 0.00 | XXX
V2399 |  | X | Lens trifocal speciality | 0.00 | 0.00 | 0.00 | 0.00 | 0.00 | 0.00 | 0.00 | 0.00 | 0.00 | 0.00 | XXX
V2410 |  | X | Lens variab asphericity sing | 0.00 | 0.00 | 0.00 | 0.00 | 0.00 | 0.00 | 0.00 | 0.00 | 0.00 | 0.00 | XXX
V2430 |  | X | Lens variable asphericity bi | 0.00 | 0.00 | 0.00 | 0.00 | 0.00 | 0.00 | 0.00 | 0.00 | 0.00 | 0.00 | XXX
V2499 |  | X | Variable asphericity lens | 0.00 | 0.00 | 0.00 | 0.00 | 0.00 | 0.00 | 0.00 | 0.00 | 0.00 | 0.00 | XXX
V2500 |  | X | Contact lens pmma spherical | 0.00 | 0.00 | 0.00 | 0.00 | 0.00 | 0.00 | 0.00 | 0.00 | 0.00 | 0.00 | XXX
V2501 |  | X | Cntct lens pmma-toric/prism | 0.00 | 0.00 | 0.00 | 0.00 | 0.00 | 0.00 | 0.00 | 0.00 | 0.00 | 0.00 | XXX
V2502 |  | X | Contact lens pmma bifocal | 0.00 | 0.00 | 0.00 | 0.00 | 0.00 | 0.00 | 0.00 | 0.00 | 0.00 | 0.00 | XXX
V2503 |  | X | Cntct lens pmma color vision | 0.00 | 0.00 | 0.00 | 0.00 | 0.00 | 0.00 | 0.00 | 0.00 | 0.00 | 0.00 | XXX
V2510 |  | X | Cntct gas permeable sphericl | 0.00 | 0.00 | 0.00 | 0.00 | 0.00 | 0.00 | 0.00 | 0.00 | 0.00 | 0.00 | XXX
V2511 |  | X | Cntct toric prism ballast | 0.00 | 0.00 | 0.00 | 0.00 | 0.00 | 0.00 | 0.00 | 0.00 | 0.00 | 0.00 | XXX
V2512 |  | X | Cntct lens gas permbl bifocl | 0.00 | 0.00 | 0.00 | 0.00 | 0.00 | 0.00 | 0.00 | 0.00 | 0.00 | 0.00 | XXX
V2513 |  | X | Contact lens extended wear | 0.00 | 0.00 | 0.00 | 0.00 | 0.00 | 0.00 | 0.00 | 0.00 | 0.00 | 0.00 | XXX
V2520 |  | P | Contact lens hydrophilic | 0.00 | 0.00 | 0.00 | 0.00 | 0.00 | 0.00 | 0.00 | 0.00 | 0.00 | 0.00 | XXX
V2521 |  | X | Cntct lens hydrophilic toric | 0.00 | 0.00 | 0.00 | 0.00 | 0.00 | 0.00 | 0.00 | 0.00 | 0.00 | 0.00 | XXX
V2522 |  | X | Cntct lens hydrophil bifocl | 0.00 | 0.00 | 0.00 | 0.00 | 0.00 | 0.00 | 0.00 | 0.00 | 0.00 | 0.00 | XXX
V2523 |  | X | Cntct lens hydrophil extend | 0.00 | 0.00 | 0.00 | 0.00 | 0.00 | 0.00 | 0.00 | 0.00 | 0.00 | 0.00 | XXX
V2530 |  | X | Contact lens gas impermeable | 0.00 | 0.00 | 0.00 | 0.00 | 0.00 | 0.00 | 0.00 | 0.00 | 0.00 | 0.00 | XXX
V2531 |  | X | Contact lens gas permeable | 0.00 | 0.00 | 0.00 | 0.00 | 0.00 | 0.00 | 0.00 | 0.00 | 0.00 | 0.00 | XXX
V2599 |  | X | Contact lens/es other type | 0.00 | 0.00 | 0.00 | 0.00 | 0.00 | 0.00 | 0.00 | 0.00 | 0.00 | 0.00 | XXX
V2600 |  | X | Hand held low vision aids | 0.00 | 0.00 | 0.00 | 0.00 | 0.00 | 0.00 | 0.00 | 0.00 | 0.00 | 0.00 | XXX
V2610 |  | X | Single lens spectacle mount | 0.00 | 0.00 | 0.00 | 0.00 | 0.00 | 0.00 | 0.00 | 0.00 | 0.00 | 0.00 | XXX
V2615 |  | X | Telescop/othr compound lens | 0.00 | 0.00 | 0.00 | 0.00 | 0.00 | 0.00 | 0.00 | 0.00 | 0.00 | 0.00 | XXX
V2623 |  | X | Plastic eye prosth custom | 0.00 | 0.00 | 0.00 | 0.00 | 0.00 | 0.00 | 0.00 | 0.00 | 0.00 | 0.00 | XXX
V2624 |  | X | Polishing artifical eye | 0.00 | 0.00 | 0.00 | 0.00 | 0.00 | 0.00 | 0.00 | 0.00 | 0.00 | 0.00 | XXX
V2625 |  | X | Enlargemnt of eye prosthesis | 0.00 | 0.00 | 0.00 | 0.00 | 0.00 | 0.00 | 0.00 | 0.00 | 0.00 | 0.00 | XXX
V2626 |  | X | Reduction of eye prosthesis | 0.00 | 0.00 | 0.00 | 0.00 | 0.00 | 0.00 | 0.00 | 0.00 | 0.00 | 0.00 | XXX
V2627 |  | X | Scleral cover shell | 0.00 | 0.00 | 0.00 | 0.00 | 0.00 | 0.00 | 0.00 | 0.00 | 0.00 | 0.00 | XXX
V2628 |  | X | Fabrication & fitting | 0.00 | 0.00 | 0.00 | 0.00 | 0.00 | 0.00 | 0.00 | 0.00 | 0.00 | 0.00 | XXX
V2629 |  | X | Prosthetic eye other type | 0.00 | 0.00 | 0.00 | 0.00 | 0.00 | 0.00 | 0.00 | 0.00 | 0.00 | 0.00 | XXX
V2630 |  | X | Anter chamber intraocul lens | 0.00 | 0.00 | 0.00 | 0.00 | 0.00 | 0.00 | 0.00 | 0.00 | 0.00 | 0.00 | XXX
V2631 |  | X | Iris support intraoclr lens | 0.00 | 0.00 | 0.00 | 0.00 | 0.00 | 0.00 | 0.00 | 0.00 | 0.00 | 0.00 | XXX
V2632 |  | X | Post chmbr intraocular lens | 0.00 | 0.00 | 0.00 | 0.00 | 0.00 | 0.00 | 0.00 | 0.00 | 0.00 | 0.00 | XXX
V2700 |  | X | Balance lens | 0.00 | 0.00 | 0.00 | 0.00 | 0.00 | 0.00 | 0.00 | 0.00 | 0.00 | 0.00 | XXX
V2710 |  | X | Glass/plastic slab off prism | 0.00 | 0.00 | 0.00 | 0.00 | 0.00 | 0.00 | 0.00 | 0.00 | 0.00 | 0.00 | XXX
V2715 |  | X | Prism lens/es | 0.00 | 0.00 | 0.00 | 0.00 | 0.00 | 0.00 | 0.00 | 0.00 | 0.00 | 0.00 | XXX
V2718 |  | X | Fresnell prism press-on lens | 0.00 | 0.00 | 0.00 | 0.00 | 0.00 | 0.00 | 0.00 | 0.00 | 0.00 | 0.00 | XXX
V2730 |  | X | Special base curve | 0.00 | 0.00 | 0.00 | 0.00 | 0.00 | 0.00 | 0.00 | 0.00 | 0.00 | 0.00 | XXX
V2740 |  | X | Rose tint plastic | 0.00 | 0.00 | 0.00 | 0.00 | 0.00 | 0.00 | 0.00 | 0.00 | 0.00 | 0.00 | XXX
V2741 |  | X | Non-rose tint plastic | 0.00 | 0.00 | 0.00 | 0.00 | 0.00 | 0.00 | 0.00 | 0.00 | 0.00 | 0.00 | XXX
V2742 |  | X | Rose tint glass | 0.00 | 0.00 | 0.00 | 0.00 | 0.00 | 0.00 | 0.00 | 0.00 | 0.00 | 0.00 | XXX
V2743 |  | X | Non-rose tint glass | 0.00 | 0.00 | 0.00 | 0.00 | 0.00 | 0.00 | 0.00 | 0.00 | 0.00 | 0.00 | XXX
V2744 |  | X | Tint photochromatic lens/es | 0.00 | 0.00 | 0.00 | 0.00 | 0.00 | 0.00 | 0.00 | 0.00 | 0.00 | 0.00 | XXX
V2750 |  | X | Anti-reflective coating | 0.00 | 0.00 | 0.00 | 0.00 | 0.00 | 0.00 | 0.00 | 0.00 | 0.00 | 0.00 | XXX
V2755 |  | X | UV lens/es | 0.00 | 0.00 | 0.00 | 0.00 | 0.00 | 0.00 | 0.00 | 0.00 | 0.00 | 0.00 | XXX
V2760 |  | X | Scratch resistant coating | 0.00 | 0.00 | 0.00 | 0.00 | 0.00 | 0.00 | 0.00 | 0.00 | 0.00 | 0.00 | XXX
V2770 |  | X | Occluder lens/es | 0.00 | 0.00 | 0.00 | 0.00 | 0.00 | 0.00 | 0.00 | 0.00 | 0.00 | 0.00 | XXX
V2780 |  | X | Oversize lens/es | 0.00 | 0.00 | 0.00 | 0.00 | 0.00 | 0.00 | 0.00 | 0.00 | 0.00 | 0.00 | XXX
V2781 |  | X | Progressive lens per lens | 0.00 | 0.00 | 0.00 | 0.00 | 0.00 | 0.00 | 0.00 | 0.00 | 0.00 | 0.00 | XXX
V2785 |  | X | Corneal tissue processing | 0.00 | 0.00 | 0.00 | 0.00 | 0.00 | 0.00 | 0.00 | 0.00 | 0.00 | 0.00 | XXX
V2790 |  | X | Amniotic membrane | 0.00 | 0.00 | 0.00 | 0.00 | 0.00 | 0.00 | 0.00 | 0.00 | 0.00 | 0.00 | XXX
V2799 |  | X | Miscellaneous vision service | 0.00 | 0.00 | 0.00 | 0.00 | 0.00 | 0.00 | 0.00 | 0.00 | 0.00 | 0.00 | XXX
V5008 |  | N | Hearing screening | 0.00 | 0.00 | 0.00 | 0.00 | 0.00 | 0.00 | 0.00 | 0.00 | 0.00 | 0.00 | XXX
V5010 |  | N | Assessment for hearing aid | 0.00 | 0.00 | 0.00 | 0.00 | 0.00 | 0.00 | 0.00 | 0.00 | 0.00 | 0.00 | XXX
V5011 |  | N | Hearing aid fitting/checking | 0.00 | 0.00 | 0.00 | 0.00 | 0.00 | 0.00 | 0.00 | 0.00 | 0.00 | 0.00 | XXX
V5014 |  | N | Hearing aid repair/modifying | 0.00 | 0.00 | 0.00 | 0.00 | 0.00 | 0.00 | 0.00 | 0.00 | 0.00 | 0.00 | XXX
V5020 |  | N | Conformity evaluation | 0.00 | 0.00 | 0.00 | 0.00 | 0.00 | 0.00 | 0.00 | 0.00 | 0.00 | 0.00 | XXX
V5030 |  | N | Body-worn hearing aid air | 0.00 | 0.00 | 0.00 | 0.00 | 0.00 | 0.00 | 0.00 | 0.00 | 0.00 | 0.00 | XXX
V5040 |  | N | Body-worn hearing aid bone | 0.00 | 0.00 | 0.00 | 0.00 | 0.00 | 0.00 | 0.00 | 0.00 | 0.00 | 0.00 | XXX
V5050 |  | N | Hearing aid monaural in ear | 0.00 | 0.00 | 0.00 | 0.00 | 0.00 | 0.00 | 0.00 | 0.00 | 0.00 | 0.00 | XXX
V5060 |  | N | Behind ear hearing aid | 0.00 | 0.00 | 0.00 | 0.00 | 0.00 | 0.00 | 0.00 | 0.00 | 0.00 | 0.00 | XXX
V5070 |  | N | Glasses air conduction | 0.00 | 0.00 | 0.00 | 0.00 | 0.00 | 0.00 | 0.00 | 0.00 | 0.00 | 0.00 | XXX
V5080 |  | N | Glasses bone conduction | 0.00 | 0.00 | 0.00 | 0.00 | 0.00 | 0.00 | 0.00 | 0.00 | 0.00 | 0.00 | XXX
V5090 |  | N | Hearing aid dispensing fee | 0.00 | 0.00 | 0.00 | 0.00 | 0.00 | 0.00 | 0.00 | 0.00 | 0.00 | 0.00 | XXX
V5100 |  | N | Body-worn bilat hearing aid | 0.00 | 0.00 | 0.00 | 0.00 | 0.00 | 0.00 | 0.00 | 0.00 | 0.00 | 0.00 | XXX
V5110 |  | N | Hearing aid dispensing fee | 0.00 | 0.00 | 0.00 | 0.00 | 0.00 | 0.00 | 0.00 | 0.00 | 0.00 | 0.00 | XXX
V5120 |  | N | Body-worn binaur hearing aid | 0.00 | 0.00 | 0.00 | 0.00 | 0.00 | 0.00 | 0.00 | 0.00 | 0.00 | 0.00 | XXX
V5130 |  | N | In ear binaural hearing aid | 0.00 | 0.00 | 0.00 | 0.00 | 0.00 | 0.00 | 0.00 | 0.00 | 0.00 | 0.00 | XXX
V5140 |  | N | Behind ear binaur hearing ai | 0.00 | 0.00 | 0.00 | 0.00 | 0.00 | 0.00 | 0.00 | 0.00 | 0.00 | 0.00 | XXX
V5150 |  | N | Glasses binaural hearing aid | 0.00 | 0.00 | 0.00 | 0.00 | 0.00 | 0.00 | 0.00 | 0.00 | 0.00 | 0.00 | XXX
V5160 |  | N | Dispensing fee binaural | 0.00 | 0.00 | 0.00 | 0.00 | 0.00 | 0.00 | 0.00 | 0.00 | 0.00 | 0.00 | XXX
V5170 |  | N | Within ear cros hearing aid | 0.00 | 0.00 | 0.00 | 0.00 | 0.00 | 0.00 | 0.00 | 0.00 | 0.00 | 0.00 | XXX
V5180 |  | N | Behind ear cros hearing aid | 0.00 | 0.00 | 0.00 | 0.00 | 0.00 | 0.00 | 0.00 | 0.00 | 0.00 | 0.00 | XXX
V5190 |  | N | Glasses cros hearing aid | 0.00 | 0.00 | 0.00 | 0.00 | 0.00 | 0.00 | 0.00 | 0.00 | 0.00 | 0.00 | XXX
V5200 |  | N | Cros hearing aid dispens fee | 0.00 | 0.00 | 0.00 | 0.00 | 0.00 | 0.00 | 0.00 | 0.00 | 0.00 | 0.00 | XXX
V5210 |  | N | In ear bicros hearing aid | 0.00 | 0.00 | 0.00 | 0.00 | 0.00 | 0.00 | 0.00 | 0.00 | 0.00 | 0.00 | XXX
V5220 |  | N | Behind ear bicros hearing ai | 0.00 | 0.00 | 0.00 | 0.00 | 0.00 | 0.00 | 0.00 | 0.00 | 0.00 | 0.00 | XXX
V5230 |  | N | Glasses bicros hearing aid | 0.00 | 0.00 | 0.00 | 0.00 | 0.00 | 0.00 | 0.00 | 0.00 | 0.00 | 0.00 | XXX
V5240 |  | N | Dispensing fee bicros | 0.00 | 0.00 | 0.00 | 0.00 | 0.00 | 0.00 | 0.00 | 0.00 | 0.00 | 0.00 | XXX
V5299 |  | R | Hearing service | 0.00 | 0.00 | 0.00 | 0.00 | 0.00 | 0.00 | 0.00 | 0.00 | 0.00 | 0.00 | XXX
V5336 |  | N | Repair communication device | 0.00 | 0.00 | 0.00 | 0.00 | 0.00 | 0.00 | 0.00 | 0.00 | 0.00 | 0.00 | XXX
V5362 |  | R | Speech screening | 0.00 | 0.00 | 0.00 | 0.00 | 0.00 | 0.00 | 0.00 | 0.00 | 0.00 | 0.00 | XXX
V5363 |  | R | Language screening | 0.00 | 0.00 | 0.00 | 0.00 | 0.00 | 0.00 | 0.00 | 0.00 | 0.00 | 0.00 | XXX
V5364 |  | R | Dysphagia screening | 0.00 | 0.00 | 0.00 | 0.00 | 0.00 | 0.00 | 0.00 | 0.00 | 0.00 | 0.00 | XXX
¹ CPT codes and descriptions only are copyright 2000 American Medical Association. All Rights Reserved. Applicable FARS/DFARS Apply.
² Copyright 1994 American Dental Association. All rights reserved.
³ + Indicates RVUs are not used for Medicare payment.
⁴ PE RVUs = Practice Expense Relative Value Units.

——————————

¹ CPT codes and descriptions only are copyright 2000 American Medical Association. All Rights Reserved. Applicable FARS/DFARS Apply.

² Copyright 1994 American Dental Association. All rights reserved.

³ + Indicates RVUs are not used for Medicare payment.

⁴ PE RVUs = Practice Expense Relative Value Units.

Addendum C.—Codes with Interim RVUs
CPT¹/HCPCS² | MOD | Status | Description | Physician Work RVUs³ | Fully Implemented Non-Facility PE RVUs | Year 2001 Transitional Non-Facility PE RVUs | Fully Implemented Facility PE RVUs | Year 2001 Transitional Facility PE RVUs | Mal- Practice RVUs | Fully Implemented Non-Facility Total | Year 2001 Transitional Non-Facility Total | Fully Implemented Facility Total | Year 2001 Transitional Facility Total | Global
11980 |  | A | Implant hormone pellet(s) | 1.48 | 1.14 | 1.14 | 0.63 | 0.63 | 0.10 | 2.72 | 2.72 | 2.21 | 2.21 | 000
15342 |  | A | Cultured skin graft, 25 cm | 1.00 | 2.20 | 2.20 | 0.78 | 0.78 | 0.39 | 3.59 | 3.59 | 2.17 | 2.17 | 010
15343 |  | A | Culture skn graft addl 25 cm | 0.25 | 0.28 | 0.28 | 0.10 | 0.10 | 0.09 | 0.62 | 0.62 | 0.44 | 0.44 | ZZZ
16035 |  | A | Incision of burn scab, initi | 3.75 | NA | NA | 1.59 | 1.70 | 0.36 | NA | NA | 5.70 | 5.81 | 090
16036 |  | A | Incise burn scab, addl incis | 1.50 | NA | NA | 0.64 | 0.64 | 0.18 | NA | NA | 2.32 | 2.32 | ZZZ
19100 |  | A | Bx breast percut w/o image | 1.27 | 3.33 | 2.67 | 0.46 | 0.43 | 0.10 | 4.70 | 4.04 | 1.83 | 1.80 | 000
19101 |  | A | Biopsy of breast, open | 3.18 | 9.82 | 8.00 | 2.97 | 2.86 | 0.20 | 13.20 | 11.38 | 6.35 | 6.24 | 010
19102 |  | A | Bx breast percut w/image | 2.00 | 4.58 | 4.58 | 0.73 | 0.73 | 0.08 | 6.66 | 6.66 | 2.81 | 2.81 | 000
19103 |  | A | Bx breast percut w/device | 2.37 | 10.83 | 10.83 | 0.86 | 0.86 | 0.08 | 13.28 | 13.28 | 3.31 | 3.31 | 000
19120 |  | A | Removal of breast lesion | 5.56 | 4.41 | 4.10 | 3.62 | 3.50 | 0.56 | 10.53 | 10.22 | 9.74 | 9.62 | 090
19125 |  | A | Excision, breast lesion | 6.06 | 5.04 | 4.57 | 3.78 | 3.62 | 0.61 | 11.71 | 11.24 | 10.45 | 10.29 | 090
19126 |  | A | Excision, addl breast lesion | 2.93 | NA | NA | 1.11 | 1.23 | 0.30 | NA | NA | 4.34 | 4.46 | ZZZ
19295 |  | A | Place breast clip, percut | 0.00 | 2.61 | 2.61 | 0.94 | 0.94 | 0.01 | 2.62 | 2.62 | 0.95 | 0.95 | ZZZ
20979 |  | A | Us bone stimulation | 0.62 | 0.57 | 0.57 | 0.25 | 0.25 | 0.04 | 1.23 | 1.23 | 0.91 | 0.91 | 000
21199 |  | A | Reconstr lwr jaw w/advance | 16.00 | NA | NA | 10.53 | 10.53 | 1.00 | NA | NA | 27.53 | 27.53 | 090
22520 |  | A | Percut vertebroplasty thor | 8.91 | NA | NA | 3.95 | 3.95 | 0.89 | NA | NA | 13.75 | 13.75 | 010
22521 |  | A | Percut vertebroplasty lumb | 8.34 | NA | NA | 3.72 | 3.72 | 0.84 | NA | NA | 12.90 | 12.90 | 010
22522 |  | A | Percut vertebroplasty addl | 3.00 | NA | NA | 1.20 | 1.20 | 0.30 | NA | NA | 4.50 | 4.50 | ZZZ
30465 |  | A | Repair nasal stenosis | 11.64 | NA | NA | 9.12 | 9.12 | 0.82 | NA | NA | 21.58 | 21.58 | 090
33140 |  | A | Heart revascularize (tmr) | 20.00 | NA | NA | 12.79 | 12.79 | 2.27 | NA | NA | 35.06 | 35.06 | 090
33141 |  | A | Heart tmr w/other procedure | 4.84 | NA | NA | 1.97 | 1.97 | 0.60 | NA | NA | 7.41 | 7.41 | ZZZ
33533 |  | A | CABG, arterial, single | 25.83 | NA | NA | 19.44 | 22.29 | 3.24 | NA | NA | 48.51 | 51.36 | 090
33534 |  | A | CABG, arterial, two | 28.82 | NA | NA | 20.12 | 23.69 | 3.63 | NA | NA | 52.57 | 56.14 | 090
33535 |  | A | CABG, arterial, three | 31.81 | NA | NA | 21.05 | 25.28 | 3.97 | NA | NA | 56.83 | 61.06 | 090
33536 |  | A | Cabg, arterial, four or more | 34.79 | NA | NA | 18.16 | 24.00 | 3.29 | NA | NA | 56.24 | 62.08 | 090
34800 |  | A | Endovasc abdo repair w/tube | 20.75 | NA | NA | 9.72 | 9.72 | 1.49 | NA | NA | 31.96 | 31.96 | 090
34802 |  | A | Endovasc abdo repr w/device | 23.00 | NA | NA | 10.62 | 10.62 | 1.65 | NA | NA | 35.27 | 35.27 | 090
34804 |  | A | Endovasc abdo repr w/device | 23.00 | NA | NA | 10.62 | 10.62 | 1.65 | NA | NA | 35.27 | 35.27 | 090
34808 |  | A | Endovasc abdo occlud device | 4.13 | NA | NA | 1.65 | 1.65 | 0.29 | NA | NA | 6.07 | 6.07 | ZZZ
34812 |  | A | Xpose for endoprosth, aortic | 6.75 | NA | NA | 2.70 | 2.70 | 0.49 | NA | NA | 9.94 | 9.94 | 000
34813 |  | A | Xpose for endoprosth, femorl | 4.80 | NA | NA | 1.92 | 1.92 | 0.34 | NA | NA | 7.06 | 7.06 | ZZZ
34820 |  | A | Xpose for endoprosth, iliac | 9.75 | NA | NA | 3.90 | 3.90 | 0.70 | NA | NA | 14.35 | 14.35 | 000
34825 |  | A | Endovasc extend prosth, init | 12.00 | NA | NA | 6.23 | 6.23 | 0.86 | NA | NA | 19.09 | 19.09 | 090
34826 |  | A | Endovasc exten prosth, addl | 4.13 | NA | NA | 1.65 | 1.65 | 0.29 | NA | NA | 6.07 | 6.07 | ZZZ
34830 |  | A | Open aortic tube prosth repr | 32.59 | NA | NA | 14.81 | 14.81 | 2.34 | NA | NA | 49.74 | 49.74 | 090
34831 |  | A | Open aortoiliac prosth repr | 35.34 | NA | NA | 15.90 | 15.90 | 2.53 | NA | NA | 53.77 | 53.77 | 090
34832 |  | A | Open aortofemor prosth repr | 35.34 | NA | NA | 15.90 | 15.90 | 2.53 | NA | NA | 53.77 | 53.77 | 090
35600 |  | A | Harvest artery for cabg | 4.95 | NA | NA | 1.98 | 1.98 | 0.54 | NA | NA | 7.47 | 7.47 | ZZZ
36540 |  | B | Collect blood venous device | 0.00 | 0.00 | 0.00 | 0.00 | 0.00 | 0.00 | 0.00 | 0.00 | 0.00 | 0.00 | XXX
36831 |  | A | Av fistula excision, open | 8.00 | 2.95 | 2.95 | 2.95 | 2.95 | 0.79 | 11.74 | 11.74 | 11.74 | 11.74 | 090
36832 |  | A | Av fistula revision, open | 10.50 | NA | NA | 5.90 | 6.35 | 1.13 | NA | NA | 17.53 | 17.98 | 090
36870 |  | A | Av fistula revision, open | 5.16 | 30.67 | 30.67 | 2.51 | 2.51 | 0.40 | 36.23 | 36.23 | 8.07 | 8.07 | 090
38500 |  | A | Biopsy/removal, lymph nodes | 2.88 | 2.64 | 2.41 | 2.30 | 2.16 | 0.28 | 5.80 | 5.57 | 5.46 | 5.32 | 010
38530 |  | A | Biopsy/removal, lymph nodes | 6.13 | NA | NA | 5.36 | 4.88 | 0.63 | NA | NA | 12.12 | 11.64 | 090
43231 |  | A | Esoph endoscopy w/us exam | 4.09 | NA | NA | 1.84 | 1.84 | 0.24 | NA | NA | 6.17 | 6.17 | 000
43232 |  | A | Esoph endoscopy w/us fn bx | 4.71 | NA | NA | 2.18 | 2.18 | 0.28 | NA | NA | 7.17 | 7.17 | 000
43240 |  | A | Esoph endoscope w/drain cyst | 7.39 | NA | NA | 3.05 | 3.05 | 0.45 | NA | NA | 10.89 | 10.89 | 000
43241 |  | A | Upper GI endoscopy with tube | 2.59 | NA | NA | 1.22 | 1.69 | 0.14 | NA | NA | 3.95 | 4.42 | 000
43242 |  | A | Uppr gi endoscopy w/us fn bx | 5.51 | 1.98 | 1.98 | 1.98 | 1.98 | 0.34 | 7.83 | 7.83 | 7.83 | 7.83 | 000
43256 |  | A | Uppr gi endoscopy w stent | 4.35 | 1.56 | 1.56 | 1.56 | 1.56 | 0.26 | 6.17 | 6.17 | 6.17 | 6.17 | 000
43752 |  | B | Nasal/orogastric w/stent | 0.00 | 0.00 | 0.00 | 0.00 | 0.00 | 0.00 | 0.00 | 0.00 | 0.00 | 0.00 | XXX
44132 |  | N | Enterectomy, cadaver donor | 0.00 | 0.00 | 0.00 | 0.00 | 0.00 | 0.00 | 0.00 | 0.00 | 0.00 | 0.00 | XXX
44133 |  | N | Enterectomy, live donor | 0.00 | 0.00 | 0.00 | 0.00 | 0.00 | 0.00 | 0.00 | 0.00 | 0.00 | 0.00 | XXX
44135 |  | N | Intestine transplnt, cadaver | 0.00 | 0.00 | 0.00 | 0.00 | 0.00 | 0.00 | 0.00 | 0.00 | 0.00 | 0.00 | XXX
44136 |  | N | Intestine transplant, live | 0.00 | 0.00 | 0.00 | 0.00 | 0.00 | 0.00 | 0.00 | 0.00 | 0.00 | 0.00 | XXX
44360 |  | A | Small bowel endoscopy | 2.59 | NA | NA | 1.31 | 1.85 | 0.14 | NA | NA | 4.04 | 4.58 | 000
44361 |  | A | Small bowel endoscopy/biopsy | 2.87 | NA | NA | 1.41 | 2.02 | 0.15 | NA | NA | 4.43 | 5.04 | 000
44363 |  | A | Small bowel endoscopy | 3.50 | NA | NA | 1.60 | 2.01 | 0.19 | NA | NA | 5.29 | 5.70 | 000
44364 |  | A | Small bowel endoscopy | 3.74 | NA | NA | 1.73 | 2.56 | 0.21 | NA | NA | 5.68 | 6.51 | 000
44365 |  | A | Small bowel endoscopy | 3.31 | NA | NA | 1.58 | 2.30 | 0.18 | NA | NA | 5.07 | 5.79 | 000
44366 |  | A | Small bowel endoscopy | 4.41 | NA | NA | 1.96 | 2.96 | 0.22 | NA | NA | 6.59 | 7.59 | 000
44369 |  | A | Small bowel endoscopy | 4.52 | NA | NA | 1.95 | 2.98 | 0.23 | NA | NA | 6.70 | 7.73 | 000
44370 |  | A | Small bowel endoscopy/stent | 4.33 | 1.56 | 1.56 | 1.56 | 1.56 | 0.26 | 6.15 | 6.15 | 6.15 | 6.15 | 000
44372 |  | A | Small bowel endoscopy | 4.41 | NA | NA | 1.99 | 2.98 | 0.27 | NA | NA | 6.67 | 7.66 | 000
44373 |  | A | Small bowel endoscopy | 3.50 | NA | NA | 1.70 | 2.45 | 0.19 | NA | NA | 5.39 | 6.14 | 000
44376 |  | A | Small bowel endoscopy | 5.26 | NA | NA | 2.28 | 2.81 | 0.29 | NA | NA | 7.83 | 8.36 | 000
44377 |  | A | Small bowel endoscopy/biopsy | 5.53 | NA | NA | 2.38 | 2.94 | 0.28 | NA | NA | 8.19 | 8.75 | 000
44378 |  | A | Small bowel endoscopy | 7.13 | NA | NA | 2.95 | 3.64 | 0.37 | NA | NA | 10.45 | 11.14 | 000
44379 |  | A | S bowel endoscope w/stent | 7.07 | 2.52 | 2.52 | 2.52 | 2.52 | 0.45 | 10.04 | 10.04 | 10.04 | 10.04 | 000
44380 |  | A | Small bowel endoscopy | 1.05 | NA | NA | 0.74 | 1.01 | 0.08 | NA | NA | 1.87 | 2.14 | 000
44382 |  | A | Small bowel endoscopy | 1.27 | NA | NA | 0.82 | 1.16 | 0.09 | NA | NA | 2.18 | 2.52 | 000
44383 |  | A | Ileoscopy w/stent | 2.41 | 0.87 | 0.87 | 0.87 | 0.87 | 0.15 | 3.43 | 3.43 | 3.43 | 3.43 | 000
44388 |  | A | Colon endoscopy | 2.50 | 5.48 | 5.09 | 1.26 | 1.79 | 0.18 | 8.16 | 7.77 | 3.94 | 4.47 | 000
44389 |  | A | Colonoscopy with biopsy | 2.77 | 5.92 | 5.53 | 1.37 | 1.96 | 0.18 | 8.87 | 8.48 | 4.32 | 4.91 | 000
44390 |  | A | Colonoscopy for foreign body | 3.39 | 6.56 | 5.63 | 1.59 | 1.91 | 0.22 | 10.17 | 9.24 | 5.20 | 5.52 | 000
44391 |  | A | Colonoscopy for bleeding | 3.82 | 5.60 | 5.63 | 1.55 | 2.45 | 0.23 | 9.65 | 9.68 | 5.60 | 6.50 | 000
44392 |  | A | Colonoscopy & polypectomy | 3.38 | 6.12 | 5.99 | 1.59 | 2.33 | 0.23 | 9.73 | 9.60 | 5.20 | 5.94 | 000
44393 |  | A | Colonoscopy, lesion removal | 4.28 | 6.79 | 6.56 | 1.92 | 2.88 | 0.27 | 11.34 | 11.11 | 6.47 | 7.43 | 000
44394 |  | A | Colonoscopy w/snare | 3.92 | 6.54 | 6.31 | 1.79 | 2.67 | 0.26 | 10.72 | 10.49 | 5.97 | 6.85 | 000
44397 |  | A | Colonoscopy w stent | 4.23 | NA | NA | 1.90 | 1.90 | 0.30 | NA | NA | 6.43 | 6.43 | 000
44500 |  | A | Intro, gastrointestinal tube | 0.49 | NA | NA | 0.35 | 0.36 | 0.02 | NA | NA | 0.86 | 0.87 | 000
45300 |  | A | Proctosigmoidoscopy dx | 0.38 | 1.24 | 1.08 | 0.23 | 0.25 | 0.05 | 1.67 | 1.51 | 0.66 | 0.68 | 000
45303 |  | A | Proctosigmoidoscopy dilate | 0.44 | 1.41 | 1.23 | 0.26 | 0.28 | 0.06 | 1.91 | 1.73 | 0.76 | 0.78 | 000
45305 |  | A | Protosigmoidoscopy w/bx | 0.56 | 1.34 | 1.23 | 0.30 | 0.34 | 0.09 | 1.99 | 1.88 | 0.95 | 0.99 | 000
45307 |  | A | Protosigmoidoscopy fb | 0.94 | 2.26 | 2.04 | 0.44 | 0.68 | 0.15 | 3.35 | 3.13 | 1.53 | 1.77 | 000
45308 |  | A | Protosigmoidoscopy removal | 0.83 | 1.49 | 1.43 | 0.40 | 0.46 | 0.13 | 2.45 | 2.39 | 1.36 | 1.42 | 000
45309 |  | A | Protosigmoidoscopy removal | 1.11 | 2.07 | 1.86 | 0.50 | 0.53 | 0.17 | 3.35 | 3.14 | 1.78 | 1.81 | 000
45315 |  | A | Protosigmoidoscopy removal | 1.40 | 2.32 | 2.06 | 0.62 | 0.79 | 0.20 | 3.92 | 3.66 | 2.22 | 2.39 | 000
45317 |  | A | Protosigmoidoscopy bleed | 1.50 | 1.76 | 1.66 | 0.65 | 0.83 | 0.20 | 3.46 | 3.36 | 2.35 | 2.53 | 000
45320 |  | A | Protosigmoidoscopy ablate | 1.58 | 1.71 | 1.79 | 0.68 | 1.02 | 0.20 | 3.49 | 3.57 | 2.46 | 2.80 | 000
45321 |  | A | Protosigmoidoscopy volvul | 1.17 | NA | NA | 0.53 | 0.80 | 0.17 | NA | NA | 1.87 | 2.14 | 000
45327 |  | A | Proctosigmoidoscopy w/stent | 1.46 | NA | NA | 0.83 | 0.83 | 0.12 | NA | NA | 2.41 | 2.41 | 000
45330 |  | A | Diagnostic sigmoidoscopy | 0.88 | 1.75 | 1.65 | 0.42 | 0.46 | 0.05 | 2.68 | 2.58 | 1.35 | 1.39 | 000
45331 |  | A | Sigmoidoscopy and biopsy | 1.15 | 1.98 | 1.92 | 0.52 | 0.77 | 0.07 | 3.20 | 3.14 | 1.74 | 1.99 | 000
45332 |  | A | Sigmoidoscopy w/fb removal | 1.79 | 3.54 | 3.13 | 0.75 | 1.04 | 0.11 | 5.44 | 5.03 | 2.65 | 2.94 | 000
45333 |  | A | Sigmoidoscopy & polypectomy | 1.79 | 3.14 | 2.96 | 0.75 | 1.15 | 0.12 | 5.05 | 4.87 | 2.66 | 3.06 | 000
45334 |  | A | Sigmoidoscopy for bleeding | 2.73 | NA | NA | 1.09 | 1.55 | 0.16 | NA | NA | 3.98 | 4.44 | 000
45337 |  | A | Sigmoidoscopy & decompress | 2.15 | NA | NA | 0.89 | 1.37 | 0.15 | NA | NA | 3.19 | 3.67 | 000
45338 |  | A | Sigmoidoscpy w/tumr remove | 2.34 | 3.67 | 3.36 | 0.95 | 1.32 | 0.15 | 6.16 | 5.85 | 3.44 | 3.81 | 000
45339 |  | A | Sigmoidoscopy w/ablate tumr | 2.86 | 2.85 | 3.02 | 1.14 | 1.74 | 0.17 | 5.88 | 6.05 | 4.17 | 4.77 | 000
45341 |  | A | Sigmoidoscopy w/ultrasound | 3.46 | NA | NA | 1.66 | 1.66 | 0.24 | NA | NA | 5.36 | 5.36 | 000
45342 |  | A | Sigmoidoscopy w/us guide bx | 4.08 | NA | NA | 1.81 | 1.81 | 0.29 | NA | NA | 6.18 | 6.18 | 000
45345 |  | A | Sigmodoscopy w/stent | 2.66 | NA | NA | 1.30 | 1.30 | 0.18 | NA | NA | 4.14 | 4.14 | 000
45378 |  | A | Diagnostic colonoscopy | 3.68 | 6.60 | 6.07 | 1.70 | 2.38 | 0.20 | 10.48 | 9.95 | 5.58 | 6.26 | 000
45379 |  | A | Colonoscopy w/fb removal | 4.69 | 7.33 | 6.94 | 2.05 | 2.95 | 0.25 | 12.27 | 11.88 | 6.99 | 7.89 | 000
45380 |  | A | Colonoscopy and biopsy | 3.98 | 6.78 | 6.39 | 1.81 | 2.56 | 0.21 | 10.97 | 10.58 | 6.00 | 6.75 | 000
45382 |  | A | Colonoscopy/control bleeding | 5.69 | 7.95 | 7.56 | 2.23 | 3.27 | 0.27 | 13.91 | 13.52 | 8.19 | 9.23 | 000
45383 |  | A | Lesion removal colonoscopy | 5.83 | 7.82 | 7.47 | 2.48 | 3.47 | 0.32 | 13.97 | 13.62 | 8.63 | 9.62 | 000
45384 |  | A | Lesion remove colonoscopy | 4.67 | 7.41 | 6.96 | 2.06 | 2.95 | 0.24 | 12.32 | 11.87 | 6.97 | 7.86 | 000
45385 |  | A | Lesion removal colonoscopy | 5.27 | 7.57 | 7.48 | 2.28 | 3.30 | 0.28 | 13.12 | 13.03 | 7.83 | 8.85 | 000
45387 |  | A | Colonoscopy w/stent | 5.62 | NA | NA | 2.41 | 2.41 | 0.36 | NA | NA | 8.39 | 8.39 | 000
47379 |  | C | Laparoscope procedure, liver | 0.00 | 0.00 | 0.00 | 0.00 | 0.00 | 0.00 | 0.00 | 0.00 | 0.00 | 0.00 | YYY
50545 |  | A | Laparo radical nephrectomy | 24.00 | NA | NA | 9.41 | 9.41 | 1.81 | NA | NA | 35.22 | 35.22 | 090
50546 |  | A | Laparoscopic nephrectomy | 20.48 | NA | NA | 8.31 | 8.31 | 1.37 | NA | NA | 30.16 | 30.16 | 090
50548 |  | A | Laparo remove k/ureter | 24.40 | NA | NA | 9.44 | 9.44 | 1.49 | NA | NA | 35.33 | 35.33 | 090
50947 |  | A | Laparo new ureter/bladder | 24.50 | NA | NA | 11.62 | 11.62 | 1.84 | NA | NA | 37.96 | 37.96 | 090
50948 |  | A | Laparo new ureter/bladder | 22.50 | NA | NA | 10.51 | 10.51 | 1.70 | NA | NA | 34.71 | 34.71 | 090
50949 |  | C | Laparoscope proc, ureter | 0.00 | 0.00 | 0.00 | 0.00 | 0.00 | 0.00 | 0.00 | 0.00 | 0.00 | 0.00 | YYY
52341 |  | A | Cysto w/ureter stricture tx | 6.00 | NA | NA | 2.40 | 2.40 | 0.34 | NA | NA | 8.74 | 8.74 | 000
52342 |  | A | Cysto w/up stricture tx | 6.50 | NA | NA | 2.60 | 2.60 | 0.36 | NA | NA | 9.46 | 9.46 | 000
52343 |  | A | Cysto w/renal stricture tx | 7.20 | NA | NA | 2.88 | 2.88 | 0.40 | NA | NA | 10.48 | 10.48 | 000
52344 |  | A | Cysto/uretero, stone remove | 7.70 | NA | NA | 3.08 | 3.08 | 0.42 | NA | NA | 11.20 | 11.20 | 000
52345 |  | A | Cysto/uretero w/up stricture | 8.20 | NA | NA | 3.28 | 3.28 | 0.46 | NA | NA | 11.94 | 11.94 | 000
52346 |  | A | Cystouretero w/renal strict | 9.23 | NA | NA | 3.69 | 3.69 | 0.51 | NA | NA | 13.43 | 13.43 | 000
52351 |  | A | Cystouretro & or pyeloscope | 5.86 | NA | NA | 1.96 | 2.74 | 0.32 | NA | NA | 8.14 | 8.92 | 000
52352 |  | A | Cystouretro w/stone remove | 6.88 | NA | NA | 2.30 | 3.78 | 0.38 | NA | NA | 9.56 | 11.04 | 000
52353 |  | A | Cystouretero w/lithotripsy | 7.97 | NA | NA | 2.66 | 4.38 | 0.44 | NA | NA | 11.07 | 12.79 | 000
52354 |  | A | Cystouretero w/biopsy | 7.34 | NA | NA | 2.45 | 3.44 | 0.41 | NA | NA | 10.20 | 11.19 | 000
52355 |  | A | Cystouretero w/excise tumor | 8.82 | NA | NA | 2.95 | 3.82 | 0.50 | NA | NA | 12.27 | 13.14 | 000
52400 |  | A | Cystouretero w/congen repr | 9.68 | NA | NA | 5.36 | 5.42 | 0.53 | NA | NA | 15.57 | 15.63 | 090
54512 |  | A | Excise lesion testis | 8.58 | NA | NA | 4.86 | 4.86 | 0.51 | NA | NA | 13.95 | 13.95 | 090
54522 |  | A | Orchiectomy, partial | 9.50 | NA | NA | 5.79 | 5.79 | 0.57 | NA | NA | 15.86 | 15.86 | 090
55873 |  | A | Cryoablate prostate | 17.80 | NA | NA | 10.16 | 10.16 | 1.01 | NA | NA | 28.97 | 28.97 | 090
57022 |  | A | I &d vaginal hematoma, ob | 2.56 | NA | NA | 1.60 | 1.60 | 0.14 | NA | NA | 4.30 | 4.30 | 010
57023 |  | A | I &d vag hematoma, trauma | 2.56 | NA | NA | 1.60 | 1.60 | 0.14 | NA | NA | 4.30 | 4.30 | 010
57287 |  | A | Revise/remove sling repair | 10.71 | NA | NA | 7.02 | 7.02 | 0.64 | NA | NA | 18.37 | 18.37 | 090
58353 |  | A | Endometr ablate, thermal | 3.56 | NA | NA | 2.16 | 2.16 | 0.19 | NA | NA | 5.91 | 5.91 | 010
61697 |  | A | Brain aneurysm repr, complx | 50.52 | NA | NA | 27.76 | 27.76 | 9.57 | NA | NA | 87.85 | 87.85 | 090
61698 |  | A | Brain aneurysm repr, complx | 48.41 | NA | NA | 26.87 | 26.87 | 9.28 | NA | NA | 84.56 | 84.56 | 090
61700 |  | A | Brain aneurysm repr , simple | 50.52 | NA | NA | 27.76 | 29.42 | 10.18 | NA | NA | 88.46 | 90.12 | 090
61702 |  | A | Inner skull vessel surgery | 48.41 | NA | NA | 26.87 | 30.01 | 9.75 | NA | NA | 85.03 | 88.17 | 090
62252 |  | A | Csf shunt reprogram | 0.74 | 1.40 | 1.40 | 1.40 | 1.40 | 0.04 | 2.18 | 2.18 | 2.18 | 2.18 | XXX
63040 |  | A | Laminotomy, single cervical | 18.81 | NA | NA | 12.98 | 15.35 | 3.36 | NA | NA | 35.15 | 37.52 | 090
63042 |  | A | Laminotomy, single lumbar | 17.47 | NA | NA | 12.60 | 14.67 | 3.11 | NA | NA | 33.18 | 35.25 | 090
63043 |  | B | Laminotomy, addl cervical | 0.00 | 0.00 | 0.00 | 0.00 | 0.00 | 0.00 | 0.00 | 0.00 | 0.00 | 0.00 | ZZZ
63044 |  | B | Laminotomy, addl lumbar | 0.00 | 0.00 | 0.00 | 0.00 | 0.00 | 0.00 | 0.00 | 0.00 | 0.00 | 0.00 | ZZZ
64612 |  | A | Destroy nerve, face muscle | 1.96 | 2.95 | 2.61 | 1.65 | 1.44 | 0.09 | 5.00 | 4.66 | 3.70 | 3.49 | 010
64613 |  | A | Destroy nerve, spine muscle | 1.96 | 1.61 | 1.60 | 1.37 | 1.23 | 0.10 | 3.67 | 3.66 | 3.43 | 3.29 | 010
64614 |  | A | Destroy nerve, extrem musc | 2.20 | 3.37 | 3.37 | 0.81 | 0.81 | 0.16 | 5.73 | 5.73 | 3.17 | 3.17 | 010
66982 |  | A | Cataract surgery, complex | 13.50 | NA | NA | 9.09 | 9.09 | 0.55 | NA | NA | 23.14 | 23.14 | 090
66984 |  | A | Cataract surg w/iol, i stage | 10.23 | NA | NA | 7.60 | 8.77 | 0.41 | NA | NA | 18.24 | 19.41 | 090
67221 |  | A | Ocular photodynamic ther | 4.01 | 4.40 | 4.40 | 2.00 | 2.00 | 0.50 | 8.91 | 8.91 | 6.51 | 6.51 | 000
69714 |  | A | Implant temple bone w/stimul | 14.00 | NA | NA | 8.71 | 8.71 | 0.97 | NA | NA | 23.68 | 23.68 | 090
69715 |  | A | Temple bne implnt w/stimulat | 18.25 | NA | NA | 10.49 | 10.49 | 1.25 | NA | NA | 29.99 | 29.99 | 090
69717 |  | A | Temple bone implant revision | 14.98 | NA | NA | 8.37 | 8.37 | 1.04 | NA | NA | 24.39 | 24.39 | 090
69718 |  | A | Revise temple bone implant | 18.50 | NA | NA | 10.58 | 10.58 | 1.27 | NA | NA | 30.35 | 30.35 | 090
70496 |  | A | Ct angiography, head | 1.75 | 7.71 | 7.71 | 7.71 | 7.71 | 0.54 | 10.00 | 10.00 | 10.00 | 10.00 | XXX
70498 |  | A | Ct angiography, neck | 1.75 | 7.71 | 7.71 | 7.71 | 7.71 | 0.54 | 10.00 | 10.00 | 10.00 | 10.00 | XXX
70540 |  | A | Mri orbit/face/neck w/o dye | 0.98 | 11.48 | 11.69 | 11.48 | 11.69 | 0.36 | 12.82 | 13.03 | 12.82 | 13.03 | XXX
70542 |  | A | Mri orbit/face/neck w/dye | 1.17 | 13.76 | 13.76 | 13.76 | 13.76 | 0.43 | 15.36 | 15.36 | 15.36 | 15.36 | XXX
70543 |  | A | Mri orbt/fac/nck w/o&w dye | 1.56 | 25.27 | 25.27 | 25.27 | 25.27 | 0.78 | 27.61 | 27.61 | 27.61 | 27.61 | XXX
70544 |  | A | Mr angiography head w/o dye | 1.20 | 11.56 | 11.56 | 11.56 | 11.56 | 0.56 | 13.32 | 13.32 | 13.32 | 13.32 | XXX
70545 |  | A | Mr angiography head w/dye | 1.20 | 11.56 | 11.56 | 11.56 | 11.56 | 0.56 | 13.32 | 13.32 | 13.32 | 13.32 | XXX
70546 |  | A | Mr angiograph head w/o&w dye | 1.80 | 22.89 | 22.89 | 22.89 | 22.89 | 0.56 | 25.25 | 25.25 | 25.25 | 25.25 | XXX
70547 |  | A | Mr angiography neck w/o dye | 1.20 | 11.56 | 11.56 | 11.56 | 11.56 | 0.56 | 13.32 | 13.32 | 13.32 | 13.32 | XXX
70548 |  | A | Mr angiography neck w/dye | 1.20 | 11.56 | 11.56 | 11.56 | 11.56 | 0.56 | 13.32 | 13.32 | 13.32 | 13.32 | XXX
70549 |  | A | Mr angiograph neck w/o&w dye | 1.80 | 22.89 | 22.89 | 22.89 | 22.89 | 0.56 | 25.25 | 25.25 | 25.25 | 25.25 | XXX
71275 |  | A | Ct angiography, chest | 1.20 | 9.26 | 9.26 | 9.26 | 9.26 | 0.37 | 10.83 | 10.83 | 10.83 | 10.83 | XXX
71550 |  | A | Mri chest w/o dye | 1.10 | 11.52 | 11.74 | 11.52 | 11.74 | 0.41 | 13.03 | 13.25 | 13.03 | 13.25 | XXX
71551 |  | A | Mri chest w/dye | 1.30 | 13.80 | 13.80 | 13.80 | 13.80 | 0.48 | 15.58 | 15.58 | 15.58 | 15.58 | XXX
71552 |  | A | Mri chest w/o&w dye | 1.70 | 25.31 | 25.31 | 25.31 | 25.31 | 0.63 | 27.64 | 27.64 | 27.64 | 27.64 | XXX
72191 |  | A | Ct angiograph pelv w/o&w dye | 1.20 | 8.91 | 8.91 | 8.91 | 8.91 | 0.37 | 10.48 | 10.48 | 10.48 | 10.48 | XXX
72195 |  | A | Mri pelvis w/o dye | 1.10 | 11.52 | 11.52 | 11.52 | 11.52 | 0.41 | 13.03 | 13.03 | 13.03 | 13.03 | XXX
72196 |  | A | Mri pelvis w/dye | 1.30 | 13.80 | 13.44 | 13.80 | 13.44 | 0.48 | 15.58 | 15.22 | 15.58 | 15.22 | XXX
72197 |  | A | Mri pelvis w/o & w dye | 1.70 | 25.31 | 25.31 | 25.31 | 25.31 | 0.85 | 27.86 | 27.86 | 27.86 | 27.86 | XXX
73206 |  | A | Ct angio upr extrm w/o&w dye | 1.20 | 7.85 | 7.85 | 7.85 | 7.85 | 0.37 | 9.42 | 9.42 | 9.42 | 9.42 | XXX
73218 |  | A | Mri upper extremity w/o dye | 0.98 | 11.48 | 11.48 | 11.48 | 11.48 | 0.36 | 12.82 | 12.82 | 12.82 | 12.82 | XXX
73219 |  | A | Mri upper extremity w/dye | 1.17 | 13.76 | 13.76 | 13.76 | 13.76 | 0.43 | 15.36 | 15.36 | 15.36 | 15.36 | XXX
73220 |  | A | Mri uppr extremity w/o&w dye | 1.56 | 25.27 | 22.03 | 25.27 | 22.03 | 0.78 | 27.61 | 24.37 | 27.61 | 24.37 | XXX
73221 |  | A | Mri joint upr extrem w/o dye | 0.98 | 11.48 | 11.63 | 11.48 | 11.63 | 0.36 | 12.82 | 12.97 | 12.82 | 12.97 | XXX
73222 |  | A | Mri joint upr extrem w/ dye | 1.17 | 13.76 | 13.76 | 13.76 | 13.76 | 0.43 | 15.36 | 15.36 | 15.36 | 15.36 | XXX
73223 |  | A | Mri joint upr extr w/o&w dye | 1.56 | 25.27 | 25.27 | 25.27 | 25.27 | 0.78 | 27.61 | 27.61 | 27.61 | 27.61 | XXX
73706 |  | A | Ct angio lwr extr w/o&w dye | 1.20 | 7.85 | 7.85 | 7.85 | 7.85 | 0.37 | 9.42 | 9.42 | 9.42 | 9.42 | XXX
73718 |  | A | Mri lower extremity w/o dye | 0.98 | 11.48 | 11.48 | 11.48 | 11.48 | 0.36 | 12.82 | 12.82 | 12.82 | 12.82 | XXX
73719 |  | A | Mri lower extremity w/dye | 1.17 | 13.76 | 13.76 | 13.76 | 13.76 | 0.43 | 15.36 | 15.36 | 15.36 | 15.36 | XXX
73720 |  | A | Mri lwr extremity w/o&w dye | 1.56 | 25.26 | 22.02 | 25.26 | 22.02 | 0.78 | 27.60 | 24.36 | 27.60 | 24.36 | XXX
73721 |  | A | Mri joint of lwr extre w/o d | 0.98 | 11.48 | 11.63 | 11.48 | 11.63 | 0.36 | 12.82 | 12.97 | 12.82 | 12.97 | XXX
73722 |  | A | Mri joint of lwr extr w/dye | 1.17 | 13.76 | 13.76 | 13.76 | 13.76 | 0.43 | 15.36 | 15.36 | 15.36 | 15.36 | XXX
73723 |  | A | Mri joint lwr extr w/o&w dye | 1.56 | 25.27 | 25.27 | 25.27 | 25.27 | 0.78 | 27.61 | 27.61 | 27.61 | 27.61 | XXX
74175 |  | A | Ct angio abdom w/o&w dye | 1.20 | 8.91 | 8.91 | 8.91 | 8.91 | 0.37 | 10.48 | 10.48 | 10.48 | 10.48 | XXX
74181 |  | A | Mri abdomen w/o dye | 1.10 | 11.52 | 11.74 | 11.52 | 11.74 | 0.41 | 13.03 | 13.25 | 13.03 | 13.25 | XXX
74182 |  | A | Mri abdomen w/dye | 1.30 | 13.80 | 13.80 | 13.80 | 13.80 | 0.48 | 15.58 | 15.58 | 15.58 | 15.58 | XXX
74183 |  | A | Mri abdomen w/o&w dye | 1.70 | 25.31 | 25.31 | 25.31 | 25.31 | 0.85 | 27.86 | 27.86 | 27.86 | 27.86 | XXX
75635 |  | A | Ct angio abdominal arteries | 1.89 | 9.19 | 9.19 | 9.19 | 9.19 | 0.37 | 11.45 | 11.45 | 11.45 | 11.45 | XXX
75952 |  | A | Endovasc repair abdom aorta | 4.00 | 1.60 | 1.60 | 1.60 | 1.60 | 0.68 | 6.28 | 6.28 | 6.28 | 6.28 | XXX
75953 |  | A | Abdom aneurysm endovas rpr | 1.36 | 0.54 | 0.54 | 0.54 | 0.54 | 0.68 | 2.58 | 2.58 | 2.58 | 2.58 | XXX
76012 |  | A | Percut vertebroplasty fluor | 1.31 | 0.49 | 0.49 | 0.49 | 0.49 | 1.10 | 2.90 | 2.90 | 2.90 | 2.90 | XXX
76013 |  | A | Percut vertebroplasty, ct | 1.38 | 0.52 | 0.52 | 0.52 | 0.52 | 0.48 | 2.38 | 2.38 | 2.38 | 2.38 | XXX
76393 |  | A | Mr guidance for needle place | 1.50 | 11.66 | 11.66 | 11.66 | 11.66 | 0.52 | 13.68 | 13.68 | 13.68 | 13.68 | XXX
76818 |  | A | Fetl biophys profil w/stress | 0.86 | 1.93 | 1.96 | 1.93 | 1.96 | 0.12 | 2.91 | 2.94 | 2.91 | 2.94 | XXX
76819 |  | A | Fetl biophys profil w/o strs | 0.63 | 1.84 | 1.84 | 1.84 | 1.84 | 0.11 | 2.58 | 2.58 | 2.58 | 2.58 | XXX
76975 |  | A | GI endoscopic ultrasound | 0.81 | 1.80 | 1.84 | 1.80 | 1.84 | 0.11 | 2.72 | 2.76 | 2.72 | 2.76 | XXX
77520 |  | C | Proton trmt, simple w/o comp | 0.00 | 0.00 | 0.00 | 0.00 | 0.00 | 0.00 | 0.00 | 0.00 | 0.00 | 0.00 | XXX
77522 |  | C | Proton trmt, simple w/comp | 0.00 | 0.00 | 0.00 | 0.00 | 0.00 | 0.00 | 0.00 | 0.00 | 0.00 | 0.00 | XXX
77523 |  | C | Proton trmt, intermediate | 0.00 | 0.00 | 0.00 | 0.00 | 0.00 | 0.00 | 0.00 | 0.00 | 0.00 | 0.00 | XXX
77525 |  | C | Proton treatment, complex | 0.00 | 0.00 | 0.00 | 0.00 | 0.00 | 0.00 | 0.00 | 0.00 | 0.00 | 0.00 | XXX
90940 |  | X | Hemodialysis access study | 0.00 | 0.00 | 0.00 | 0.00 | 0.00 | 0.00 | 0.00 | 0.00 | 0.00 | 0.00 | XXX
91132 |  | C | Electrogastrography | 0.00 | 0.00 | 0.00 | 0.00 | 0.00 | 0.00 | 0.00 | 0.00 | 0.00 | 0.00 | XXX
91133 |  | C | Electrogastrography w/test | 0.00 | 0.00 | 0.00 | 0.00 | 0.00 | 0.00 | 0.00 | 0.00 | 0.00 | 0.00 | XXX
92585 |  | A | Auditor evoke potent, compre | 0.50 | 2.06 | 2.43 | 2.06 | 2.43 | 0.14 | 2.70 | 3.07 | 2.70 | 3.07 | XXX
92586 |  | A | Auditor evoke potent, limit | 0.00 | 1.84 | 1.84 | NA | NA | 0.12 | 1.96 | 1.96 | NA | NA | XXX
93662 |  | A | Intracardiac ecg (ice) | 2.80 | 4.98 | 4.98 | 4.98 | 4.98 | 0.41 | 8.19 | 8.19 | 8.19 | 8.19 | ZZZ
93668 |  | N | Peripheral vascular rehab | 0.00 | 0.00 | 0.00 | 0.00 | 0.00 | 0.01 | 0.01 | 0.01 | 0.01 | 0.01 | XXX
96570 |  | A | Photodynamic tx, 30 min | 1.10 | 0.44 | 0.44 | 0.44 | 0.44 | 0.04 | 1.58 | 1.58 | 1.58 | 1.58 | ZZZ
96571 |  | A | Photodynamic tx, addl 15 min | 0.55 | 0.22 | 0.22 | 0.22 | 0.22 | 0.02 | 0.79 | 0.79 | 0.79 | 0.79 | ZZZ
97532 |  | A | Cognitive skills development | 0.44 | 0.23 | 0.23 | 0.08 | 0.08 | 0.01 | 0.68 | 0.68 | 0.53 | 0.53 | XXX
97533 |  | A | Sensory integration | 0.44 | 0.29 | 0.29 | 0.08 | 0.08 | 0.01 | 0.74 | 0.74 | 0.53 | 0.53 | XXX
97601 |  | A | Wound care selective | 0.50 | 0.49 | 0.49 | 0.09 | 0.09 | 0.04 | 1.03 | 1.03 | 0.63 | 0.63 | XXX
97602 |  | B | Wound care non-selective | 0.00 | 0.00 | 0.00 | 0.00 | 0.00 | 0.00 | 0.00 | 0.00 | 0.00 | 0.00 | XXX
97802 |  | N | Medical nutrition, indiv, in | 0.00 | 0.00 | 0.00 | 0.00 | 0.00 | 0.00 | 0.00 | 0.00 | 0.00 | 0.00 | XXX
97803 |  | N | Med nutrition, indiv, subseq | 0.00 | 0.00 | 0.00 | 0.00 | 0.00 | 0.00 | 0.00 | 0.00 | 0.00 | 0.00 | XXX
97804 |  | N | Medical nutrition, group | 0.00 | 0.00 | 0.00 | 0.00 | 0.00 | 0.00 | 0.00 | 0.00 | 0.00 | 0.00 | XXX
99172 |  | N | Ocular function screen | 0.00 | 0.00 | 0.00 | 0.00 | 0.00 | 0.00 | 0.00 | 0.00 | 0.00 | 0.00 | XXX
99234 |  | A | Observ/hosp same date | 1.95 | NA | NA | 0.70 | 0.71 | 0.11 | NA | NA | 2.76 | 2.77 | XXX
99235 |  | A | Observ/hosp same date | 2.81 | NA | NA | 0.99 | 1.03 | 0.13 | NA | NA | 3.93 | 3.97 | XXX
99236 |  | A | Observ/hosp same date | 3.66 | NA | NA | 1.25 | 1.25 | 0.17 | NA | NA | 5.08 | 5.08 | XXX
99291 |  | A | Critical care, first hour | 4.00 | 1.57 | 1.57 | 1.32 | 1.38 | 0.14 | 5.71 | 5.71 | 5.46 | 5.52 | XXX
99292 |  | A | Critical care, addl 30 min | 2.00 | 0.85 | 0.81 | 0.65 | 0.66 | 0.07 | 2.92 | 2.88 | 2.72 | 2.73 | ZZZ
G0179 |  | A | MD recertification HHA patient | 0.45 | 1.09 | 1.09 | 0.18 | 0.18 | 0.06 | 1.60 | 1.60 | 0.69 | 0.69 | XXX
G0180 |  | A | MD certification HHA patient | 0.67 | 1.18 | 1.18 | 0.27 | 0.27 | 0.06 | 1.91 | 1.91 | 1.00 | 1.00 | XXX
G0181 |  | A | Home health care supervision | 1.73 | 1.40 | 1.40 | 0.63 | 0.63 | 0.06 | 3.19 | 3.19 | 2.42 | 2.42 | XXX
G0182 |  | A | Hospice care supervision | 1.73 | 1.73 | 1.73 | 0.60 | 0.60 | 0.06 | 3.52 | 3.52 | 2.39 | 2.39 | XXX
G0184 |  | A | Ocular photocoagulation | 0.47 | 0.23 | 0.23 | 0.23 | 0.23 | 0.50 | 1.20 | 1.20 | 1.20 | 1.20 | ZZZ
G0193 |  | C | Endoscopic study swallow functn | 0.00 | 0.00 | 0.00 | 0.00 | 0.00 | 0.00 | 0.00 | 0.00 | 0.00 | 0.00 | XXX
G0194 |  | C | Sensory testing endoscopic stud | 0.00 | 0.00 | 0.00 | 0.00 | 0.00 | 0.00 | 0.00 | 0.00 | 0.00 | 0.00 | XXX
G0195 |  | C | Clinical eval swallowing funct | 0.00 | 0.00 | 0.00 | 0.00 | 0.00 | 0.00 | 0.00 | 0.00 | 0.00 | 0.00 | XXX
G0196 |  | C | Eval of swallowing with radioopa | 0.00 | 0.00 | 0.00 | 0.00 | 0.00 | 0.00 | 0.00 | 0.00 | 0.00 | 0.00 | XXX
G0197 |  | A | Eval of pt for prescip speech devi | 1.35 | 1.91 | 1.91 | 0.77 | 0.77 | 0.04 | 3.30 | 3.30 | 2.16 | 2.16 | XXX
G0198 |  | A | Patient adapation & train for spe | 0.99 | 1.05 | 1.05 | 0.57 | 0.57 | 0.03 | 2.07 | 2.07 | 1.59 | 1.59 | XXX
G0199 |  | A | Reevaluation of patient use spec | 1.01 | 1.72 | 1.72 | 0.58 | 0.58 | 0.03 | 2.76 | 2.76 | 1.62 | 1.62 | XXX
G0200 |  | A | Eval of patient prescip of voice p | 1.35 | 1.91 | 1.91 | 0.77 | 0.77 | 0.04 | 3.30 | 3.30 | 2.16 | 2.16 | XXX
G0201 |  | A | Modi for training in use voice pro | 0.99 | 1.05 | 1.05 | 0.57 | 0.57 | 0.03 | 2.07 | 2.07 | 1.59 | 1.59 | XXX
M0302 |  | A | Assessment of cardiac output | 0.17 | 0.88 | 0.88 | 0.88 | 0.88 | 0.02 | 1.07 | 1.07 | 1.07 | 1.07 | XXX
¹ CPT codes and descriptions only are copyright 2000 American Medical Association. All Rights Reserved. Applicable FARS/DFARS Apply.
² Copyright 1994 American Dental Association. All rights reserved.
³ + Indicates RVUs are not used for Medicare payment.
⁴ PE RVUs = Practice Expense Relative Value Units.

Addendum D.—2002 Geographic Practice Cost Indices by Medicare Carrier and Locality
Carrier No. | Locality No. | Locality name | Work | Practice expense | Malpractice
00510 | 00 | ALABAMA | 0.978 | 0.870 | 0.807
00831 | 01 | ALASKA | 1.064 | 1.172 | 1.223
00832 | 00 | ARIZONA | 0.994 | 0.978 | 1.111
00520 | 13 | ARKANSAS | 0.953 | 0.847 | 0.340
02050 | 26 | ANAHEIM/SANTA ANA, CA | 1.037 | 1.184 | 0.955
02050 | 18 | LOS ANGELES, CA | 1.056 | 1.139 | 0.955
31140 | 03 | MARIN/NAPA/SOLANO, CA | 1.015 | 1.248 | 0.687
31140 | 07 | OAKLAND/BERKELEY, CA | 1.041 | 1.235 | 0.687
31140 | 05 | SAN FRANCISCO, CA | 1.068 | 1.458 | 0.687
31140 | 06 | SAN MATEO, CA | 1.048 | 1.432 | 0.687
31140 | 09 | SANTA CLARA, CA | 1.063 | 1.380 | 0.639
02050 | 17 | VENTURA, CA | 1.028 | 1.125 | 0.783
02050 | 99 | REST OF CALIFORNIA* | 1.007 | 1.034 | 0.748
31140 | 99 | REST OF CALIFORNIA* | 1.007 | 1.034 | 0.748
00824 | 01 | COLORADO | 0.985 | 0.992 | 0.840
10230 | 00 | CONNECTICUT | 1.050 | 1.156 | 0.966
00902 | 01 | DELAWARE | 1.019 | 1.035 | 0.712
00903 | 01 | DC + MD/VA SUBURBS | 1.050 | 1.166 | 0.909
00590 | 03 | FORT LAUDERDALE, FL | 0.996 | 1.018 | 1.877
00590 | 04 | MIAMI, FL | 1.015 | 1.052 | 2.528
00590 | 99 | REST OF FLORIDA | 0.975 | 0.946 | 1.265
00511 | 01 | ATLANTA, GA | 1.006 | 1.059 | 0.935
00511 | 99 | REST OF GEORGIA | 0.970 | 0.892 | 0.935
00833 | 01 | HAWAII/GUAM | 0.997 | 1.124 | 0.834
05130 | 00 | IDAHO | 0.960 | 0.881 | 0.497
00952 | 16 | CHICAGO, IL | 1.028 | 1.092 | 1.797
00952 | 12 | EAST ST. LOUIS, IL | 0.988 | 0.924 | 1.691
00952 | 15 | SUBURBAN CHICAGO, IL | 1.006 | 1.071 | 1.645
00952 | 99 | REST OF ILLINOIS | 0.964 | 0.889 | 1.157
00630 | 00 | INDIANA | 0.981 | 0.922 | 0.481
00826 | 00 | IOWA | 0.959 | 0.876 | 0.596
00650 | 00 | KANSAS* | 0.963 | 0.895 | 0.756
00740 | 04 | KANSAS* | 0.963 | 0.895 | 0.756
00660 | 00 | KENTUCKY | 0.970 | 0.866 | 0.877
00528 | 01 | NEW ORLEANS, LA | 0.998 | 0.945 | 1.283
00528 | 99 | REST OF LOUISIANA | 0.968 | 0.870 | 1.073
31142 | 03 | SOUTHERN MAINE | 0.979 | 0.999 | 0.666
31142 | 99 | REST OF MAINE | 0.961 | 0.910 | 0.666
00901 | 01 | BALTIMORE/SURR. CNTYS, MD | 1.021 | 1.038 | 0.916
00901 | 99 | REST OF MARYLAND | 0.984 | 0.972 | 0.774
31143 | 01 | METROPOLITAN BOSTON | 1.041 | 1.239 | 0.784
31143 | 99 | REST OF MASSACHUSETTS | 1.010 | 1.129 | 0.784
00953 | 01 | DETROIT, MI | 1.043 | 1.038 | 2.738
00953 | 99 | REST OF MICHIGAN | 0.997 | 0.938 | 1.571
10240 | 00 | MINNESOTA | 0.990 | 0.974 | 0.452
10250 | 00 | MISSISSIPPI | 0.957 | 0.837 | 0.779
00740 | 02 | METROPOLITAN KANSAS CITY, MO | 0.988 | 0.967 | 0.846
00523 | 01 | METROPOLITAN ST. LOUIS, MO | 0.994 | 0.938 | 0.846
00740 | 99 | REST OF MISSOURI* | 0.946 | 0.825 | 0.793
00523 | 99 | REST OF MISSOURI* | 0.946 | 0.825 | 0.793
00751 | 01 | MONTANA | 0.950 | 0.876 | 0.727
00655 | 00 | NEBRASKA | 0.948 | 0.877 | 0.430
00834 | 00 | NEVADA | 1.005 | 1.039 | 1.209
31144 | 40 | NEW HAMPSHIRE | 0.986 | 1.030 | 0.825
00805 | 01 | NORTHERN NJ | 1.058 | 1.193 | 0.860
00805 | 99 | REST OF NEW JERSEY | 1.029 | 1.110 | 0.860
00521 | 05 | NEW MEXICO | 0.973 | 0.900 | 0.902
00803 | 01 | MANHATTAN, NY | 1.094 | 1.351 | 1.668
00803 | 02 | NYC SUBURBS/LONG I., NY | 1.068 | 1.251 | 1.952
00803 | 03 | POUGHKPSIE/N NYC SUBURBS, NY | 1.011 | 1.075 | 1.275
14330 | 04 | QUEENS, NY | 1.058 | 1.228 | 1.871
00801 | 99 | REST OF NEW YORK | 0.998 | 0.944 | 0.764
05535 | 00 | NORTH CAROLINA | 0.970 | 0.931 | 0.595
00820 | 01 | NORTH DAKOTA | 0.950 | 0.880 | 0.657
16360 | 00 | OHIO | 0.988 | 0.944 | 0.957
00522 | 00 | OKLAHOMA | 0.968 | 0.876 | 0.444
00835 | 01 | PORTLAND, OR | 0.996 | 1.049 | 0.436
00835 | 99 | REST OF OREGON | 0.961 | 0.933 | 0.436
00865 | 01 | METROPOLITAN PHILADELPHIA, PA | 1.023 | 1.092 | 1.413
00865 | 99 | REST OF PENNSYLVANIA | 0.989 | 0.929 | 0.774
00973 | 20 | PUERTO RICO | 0.881 | 0.712 | 0.275
00870 | 01 | RHODE ISLAND | 1.017 | 1.065 | 0.883
00880 | 01 | SOUTH CAROLINA | 0.974 | 0.904 | 0.279
00820 | 02 | SOUTH DAKOTA | 0.935 | 0.878 | 0.406
05440 | 35 | TENNESSEE | 0.975 | 0.900 | 0.592
00900 | 31 | AUSTIN, TX | 0.986 | 0.996 | 0.859
00900 | 20 | BEAUMONT, TX | 0.992 | 0.890 | 1.338
00900 | 09 | BRAZORIA, TX | 0.992 | 0.978 | 1.338
00900 | 11 | DALLAS, TX | 1.010 | 1.065 | 0.931
00900 | 28 | FORT WORTH, TX | 0.987 | 0.981 | 0.931
00900 | 15 | GALVESTON, TX | 0.988 | 0.969 | 1.338
00900 | 18 | HOUSTON, TX | 1.020 | 1.007 | 1.336
00900 | 99 | REST OF TEXAS | 0.966 | 0.880 | 0.956
00910 | 09 | UTAH | 0.976 | 0.941 | 0.644
31145 | 50 | VERMONT | 0.973 | 0.986 | 0.539
00973 | 50 | VIRGIN ISLANDS | 0.965 | 1.023 | 1.002
10490 | 00 | VIRGINIA | 0.984 | 0.938 | 0.500
00836 | 02 | SEATTLE (KING CNTY), WA | 1.005 | 1.100 | 0.788
00836 | 99 | REST OF WASHINGTON | 0.981 | 0.972 | 0.788
16510 | 16 | WEST VIRGINIA | 0.963 | 0.850 | 1.378
00951 | 00 | WISCONSIN | 0.981 | 0.929 | 0.939
00825 | 21 | WYOMING | 0.967 | 0.895 | 1.005
* Payment locality is serviced by two carriers.
Note: Work GPCI is the 1/4 work GPCI required by Section 1848(e)(1)(A)(iii) of the Social Security Act. GPCIs rescaled by the following factors for budget netrality: Work = 0.99699; Practice Expense = 0.99235; Malpractice Expense = 1.00215.

Addendum E.—2001 Geographic Practice Cost Indices by Medicare Carrier and Locality
Carrier No. | Locality No. | Locality name | Work | Practice expense | Malpractice
00510 | 00 | ALABAMA | 0.978 | 0.871 | 0.841
00831 | 01 | ALASKA | 1.063 | 1.172 | 1.378
00832 | 00 | ARIZONA | 0.994 | 0.975 | 1.150
00520 | 13 | ARKANSAS | 0.953 | 0.851 | 0.371
02050 | 26 | ANAHEIM/SANTA ANA, CA | 1.036 | 1.187 | 0.901
02050 | 18 | LOS ANGELES, CA | 1.055 | 1.169 | 0.901
31140 | 03 | MARIN/NAPA/SOLANO, CA | 1.014 | 1.205 | 0.677
31140 | 07 | OAKLAND/BERKELEY, CA | 1.040 | 1.216 | 0.677
31140 | 05 | SAN FRANCISCO, CA | 1.067 | 1.378 | 0.677
31140 | 06 | SAN MATEO, CA | 1.047 | 1.353 | 0.677
31140 | 09 | SANTA CLARA, CA | 1.062 | 1.321 | 0.653
02050 | 17 | VENTURA, CA | 1.027 | 1.128 | 0.750
02050 | 99 | REST OF CALIFORNIA* | 1.007 | 1.039 | 0.723
31140 | 99 | REST OF CALIFORNIA* | 1.007 | 1.039 | 0.723
00824 | 01 | COLORADO | 0.986 | 0.981 | 0.817
10230 | 00 | CONNECTICUT | 1.049 | 1.164 | 1.009
00902 | 01 | DELAWARE | 1.019 | 1.032 | 0.786
00903 | 01 | DC + MD/VA SUBURBS | 1.050 | 1.164 | 0.970
00590 | 03 | FORT LAUDERDALE, FL | 0.996 | 1.022 | 1.830
00590 | 04 | MIAMI, FL | 1.015 | 1.064 | 2.439
00590 | 99 | REST OF FLORIDA | 0.975 | 0.947 | 1.296
00511 | 01 | ATLANTA, GA | 1.006 | 1.046 | 0.943
00511 | 99 | REST OF GEORGIA | 0.970 | 0.896 | 0.943
00833 | 01 | HAWAII/GUAM | 0.997 | 1.154 | 0.894
05130 | 00 | IDAHO | 0.960 | 0.887 | 0.532
00952 | 16 | CHICAGO, IL | 1.027 | 1.090 | 1.745
00952 | 12 | EAST ST. LOUIS, IL | 0.988 | 0.927 | 1.589
00952 | 15 | SUBURBAN CHICAGO, IL | 1.006 | 1.069 | 1.505
00952 | 99 | REST OF ILLINOIS | 0.964 | 0.888 | 1.074
00630 | 00 | INDIANA | 0.981 | 0.919 | 0.445
00826 | 00 | IOWA | 0.959 | 0.879 | 0.622
00650 | 00 | KANSAS* | 0.963 | 0.897 | 0.823
00740 | 04 | KANSAS* | 0.963 | 0.897 | 0.823
00660 | 00 | KENTUCKY | 0.970 | 0.870 | 0.842
00528 | 01 | NEW ORLEANS, LA | 0.998 | 0.947 | 1.218
00528 | 99 | REST OF LOUISIANA | 0.969 | 0.876 | 1.052
31142 | 03 | SOUTHERN MAINE | 0.979 | 1.015 | 0.687
31142 | 99 | REST OF MAINE | 0.961 | 0.917 | 0.687
00901 | 01 | BALTIMORE/SURR. CNTYS, MD | 1.020 | 1.038 | 1.007
00901 | 99 | REST OF MARYLAND | 0.985 | 0.979 | 0.820
31143 | 01 | METROPOLITAN BOSTON | 1.040 | 1.218 | 0.748
31143 | 99 | REST OF MASSACHUSETTS | 1.010 | 1.111 | 0.748
00953 | 01 | DETROIT, MI | 1.042 | 1.030 | 2.903
00953 | 99 | REST OF MICHIGAN | 0.996 | 0.938 | 1.700
10240 | 00 | MINNESOTA | 0.990 | 0.971 | 0.479
10250 | 00 | MISSISSIPPI | 0.957 | 0.841 | 0.750
00740 | 02 | METROPOLITAN KANSAS CITY, MO | 0.988 | 0.958 | 1.021
00523 | 01 | METROPOLITAN ST. LOUIS, MO | 0.994 | 0.940 | 1.022
00740 | 99 | REST OF MISSOURI* | 0.946 | 0.826 | 0.979
00523 | 99 | REST OF MISSOURI* | 0.946 | 0.826 | 0.979
00751 | 01 | MONTANA | 0.951 | 0.877 | 0.729
00655 | 00 | NEBRASKA | 0.949 | 0.875 | 0.436
00834 | 00 | NEVADA | 1.005 | 1.035 | 1.103
31144 | 40 | NEW HAMPSHIRE | 0.987 | 1.032 | 0.919
00805 | 01 | NORTHERN NJ | 1.057 | 1.192 | 0.827
00805 | 99 | REST OF NEW JERSEY | 1.028 | 1.102 | 0.827
00521 | 05 | NEW MEXICO | 0.973 | 0.905 | 0.809
00803 | 01 | MANHATTAN, NY | 1.093 | 1.352 | 1.661
00803 | 02 | NYC SUBURBS/LONG I., NY | 1.067 | 1.242 | 1.942
00803 | 03 | POUGHKPSIE/N NYC SUBURBS, NY | 1.010 | 1.079 | 1.300
14330 | 04 | QUEENS, NY | 1.057 | 1.231 | 1.855
00801 | 99 | REST OF NEW YORK | 0.998 | 0.951 | 0.778
05535 | 00 | NORTH CAROLINA | 0.970 | 0.927 | 0.546
00820 | 01 | NORTH DAKOTA | 0.950 | 0.879 | 0.657
16360 | 00 | OHIO | 0.989 | 0.941 | 1.016
00522 | 00 | OKLAHOMA | 0.969 | 0.879 | 0.447
00835 | 01 | PORTLAND, OR | 0.996 | 1.035 | 0.511
00835 | 99 | REST OF OREGON | 0.961 | 0.935 | 0.511
00865 | 01 | METROPOLITAN PHILADELPHIA, PA | 1.023 | 1.090 | 1.310
00865 | 99 | REST OF PENNSYLVANIA | 0.989 | 0.930 | 0.705
00973 | 20 | PUERTO RICO | 0.882 | 0.720 | 0.317
00870 | 01 | RHODE ISLAND | 1.017 | 1.067 | 1.036
00880 | 01 | SOUTH CAROLINA | 0.975 | 0.905 | 0.279
00820 | 02 | SOUTH DAKOTA | 0.935 | 0.876 | 0.420
05440 | 35 | TENNESSEE | 0.975 | 0.900 | 0.572
00900 | 31 | AUSTIN, TX | 0.986 | 0.998 | 0.854
00900 | 20 | BEAUMONT, TX | 0.992 | 0.895 | 1.362
00900 | 09 | BRAZORIA, TX | 0.992 | 0.978 | 1.362
00900 | 11 | DALLAS, TX | 1.010 | 1.040 | 0.930
00900 | 28 | FORT WORTH, TX | 0.987 | 0.976 | 0.930
00900 | 15 | GALVESTON, TX | 0.988 | 0.969 | 1.362
00900 | 18 | HOUSTON, TX | 1.020 | 1.007 | 1.377
00900 | 99 | REST OF TEXAS | 0.966 | 0.884 | 0.914
00910 | 09 | UTAH | 0.977 | 0.925 | 0.619
31145 | 50 | VERMONT | 0.973 | 0.985 | 0.544
00973 | 50 | VIRGIN ISLANDS | 0.965 | 1.029 | 1.017
10490 | 00 | VIRGINIA | 0.985 | 0.939 | 0.529
00836 | 02 | SEATTLE (KING CNTY), WA | 1.005 | 1.090 | 0.765
00836 | 99 | REST OF WASHINGTON | 0.982 | 0.974 | 0.765
16510 | 16 | WEST VIRGINIA | 0.963 | 0.852 | 1.242
00951 | 00 | WISCONSIN | 0.981 | 0.931 | 0.890
00825 | 21 | WYOMING | 0.967 | 0.895 | 0.855
* Payment locality is serviced by two carriers.
Note: Work GPCI is the ¼ work GPCI required by Section 1848(e)(1)(A)(iii) of the Social Security Act. GPCIs rescaled by the following factors for budget neutrality: Work = 0.99699; Practice Expense = 0.99235; Malpractice Expense = 1.00215.

Addendum F.—Proposed 2002 Versus 1999 Geographic Adjustment Factors (GAF)
[In Descending Order of Difference]
Locality | 1999 GAF | 2002 GAF | Difference | Percent difference
SAN MATEO, CA | 1.122 | 1.199 | 0.077 | 6.89
SAN FRANCISCO, CA | 1.143 | 1.221 | 0.078 | 6.84
SANTA CLARA, CA | 1.125 | 1.184 | 0.059 | 5.28
MARIN/NAPA/SOLANO, CA | 1.058 | 1.104 | 0.046 | 4.33
METROPOLITAN BOSTON | 1.088 | 1.117 | 0.029 | 2.64
OAKLAND/BERKELEY, CA | 1.086 | 1.113 | 0.027 | 2.46
REST OF MASSACHUSETTS | 1.030 | 1.053 | 0.023 | 2.24
DALLAS, TX | 1.009 | 1.031 | 0.022 | 2.19
UTAH | 0.931 | 0.951 | 0.020 | 2.10
SEATTLE (KING CNTY), WA | 1.023 | 1.038 | 0.015 | 1.48
INDIANA | 0.927 | 0.941 | 0.014 | 1.46
NORTH CAROLINA | 0.928 | 0.942 | 0.014 | 1.46
WYOMING | 0.925 | 0.938 | 0.013 | 1.36
PORTLAND, OR | 0.987 | 1.000 | 0.013 | 1.35
REST OF NEW JERSEY | 1.044 | 1.058 | 0.014 | 1.34
COLORADO | 0.971 | 0.983 | 0.012 | 1.27
ATLANTA, GA | 1.015 | 1.026 | 0.011 | 1.10
SOUTH CAROLINA | 0.913 | 0.923 | 0.010 | 1.06
NEVADA | 1.016 | 1.026 | 0.010 | 1.00
SOUTH DAKOTA | 0.886 | 0.895 | 0.009 | 0.99
MINNESOTA | 0.957 | 0.966 | 0.009 | 0.99
REST OF PENNSYLVANIA | 0.948 | 0.956 | 0.008 | 0.89
NORTHERN NJ | 1.099 | 1.109 | 0.010 | 0.89
VERMONT | 0.957 | 0.965 | 0.008 | 0.88
NEBRASKA | 0.894 | 0.902 | 0.008 | 0.87
TENNESSEE | 0.924 | 0.932 | 0.008 | 0.82
VENTURA, CA | 1.055 | 1.062 | 0.007 | 0.66
NORTH DAKOTA | 0.906 | 0.912 | 0.006 | 0.63
ANAHEIM/SANTA ANA, CA | 1.090 | 1.097 | 0.007 | 0.63
REST OF ILLINOIS | 0.933 | 0.939 | 0.006 | 0.60
SUBURBAN CHICAGO, IL | 1.048 | 1.054 | 0.006 | 0.57
METROPOLITAN PHILADELPHIA, PA | 1.059 | 1.065 | 0.006 | 0.56
FORT WORTH, TX | 0.978 | 0.983 | 0.005 | 0.55
OKLAHOMA | 0.908 | 0.913 | 0.005 | 0.52
NEW MEXICO | 0.935 | 0.940 | 0.005 | 0.49
WEST VIRGINIA | 0.925 | 0.929 | 0.004 | 0.39
VIRGINIA | 0.946 | 0.950 | 0.004 | 0.37
REST OF WASHINGTON | 0.968 | 0.971 | 0.003 | 0.35
REST OF CALIFORNIA | 1.007 | 1.010 | 0.003 | 0.32
ARKANSAS | 0.886 | 0.889 | 0.003 | 0.32
WISCONSIN | 0.955 | 0.957 | 0.002 | 0.26
MONTANA | 0.910 | 0.912 | 0.002 | 0.19
AUSTIN, TX | 0.985 | 0.986 | 0.001 | 0.14
DELAWARE | 1.015 | 1.016 | 0.001 | 0.12
MISSISSIPPI | 0.900 | 0.901 | 0.001 | 0.08
IOWA | 0.912 | 0.913 | 0.001 | 0.08
KENTUCKY | 0.923 | 0.924 | 0.001 | 0.07
REST OF TEXAS | 0.929 | 0.930 | 0.001 | 0.07
DC + MD/VA SUBURBS | 1.095 | 1.095 | −0.000 | −0.02
IDAHO | 0.913 | 0.912 | −0.001 | −0.14
REST OF OREGON | 0.934 | 0.933 | −0.001 | −0.15
NEW ORLEANS, LA | 0.986 | 0.984 | −0.002 | −0.17
ARIZONA | 0.994 | 0.991 | −0.003 | −0.27
NYC SUBURBS/LONG I., NY | 1.177 | 1.173 | −0.004 | −0.30
ALABAMA | 0.930 | 0.927 | −0.003 | −0.36
REST OF MAINE | 0.934 | 0.931 | −0.003 | −0.36
CHICAGO, IL | 1.084 | 1.080 | −0.004 | −0.38
OHIO | 0.973 | 0.968 | −0.005 | −0.47
MANHATTAN, NY | 1.227 | 1.221 | −0.006 | −0.47
REST OF GEORGIA | 0.940 | 0.936 | −0.004 | −0.47
PUERTO RICO | 0.794 | 0.790 | −0.004 | −0.47
BALTIMORE/SURR. CNTYS, MD | 1.031 | 1.025 | −0.006 | −0.57
VIRGIN ISLANDS | 0.997 | 0.991 | −0.006 | −0.57
EAST ST. LOUIS, IL | 0.989 | 0.983 | −0.006 | −0.57
REST OF NEW YORK | 0.973 | 0.967 | −0.006 | −0.57
KANSAS | 0.933 | 0.928 | −0.005 | −0.58
CONNECTICUT | 1.100 | 1.093 | −0.007 | −0.65
REST OF LOUISIANA | 0.936 | 0.930 | −0.006 | −0.68
BRAZORIA, TX | 1.005 | 0.997 | −0.008 | −0.77
METROPOLITAN KANSAS CITY, MO | 0.982 | 0.974 | −0.008 | −0.77
REST OF MARYLAND | 0.980 | 0.972 | −0.008 | −0.77
HOUSTON, TX | 1.034 | 1.025 | −0.009 | −0.86
NEW HAMPSHIRE | 1.008 | 0.999 | −0.009 | −0.86
GALVESTON, TX | 1.000 | 0.991 | −0.009 | −0.87
REST OF FLORIDA | 0.981 | 0.972 | −0.009 | −0.88
POUGHKPSIE/N NYC SUBURBS, NY | 1.056 | 1.046 | −0.010 | −0.94
SOUTHERN MAINE | 0.987 | 0.977 | −0.010 | −0.97
QUEENS, NY | 1.167 | 1.156 | −0.011 | −0.98
FORT LAUDERDALE, FL | 1.046 | 1.033 | −0.013 | −1.23
RHODE ISLAND | 1.047 | 1.033 | −0.014 | −1.33
BEAUMONT, TX | 0.973 | 0.959 | −0.014 | −1.39
ALASKA | 1.131 | 1.115 | −0.016 | −1.44
LOS ANGELES, CA | 1.104 | 1.088 | −0.016 | −1.46
METROPOLITAN ST. LOUIS, MO | 0.983 | 0.965 | −0.018 | −1.79
REST OF MISSOURI | 0.908 | 0.890 | −0.018 | −2.00
REST OF MICHIGAN | 1.013 | 0.990 | −0.023 | −2.24
MIAMI, FL | 1.105 | 1.079 | −0.026 | −2.36
HAWAII/GUAM | 1.072 | 1.046 | −0.026 | −2.42
DETROIT, MI | 1.131 | 1.095 | −0.036 | −3.20

Addendum G—Technical Addendum To The April 1999 Report On The Development Of Resource Based Malpractice Relative Value Units Prepared By KPMG

Table of Contents

Executive Summary

E.1. Changes in This Update of the Resource Based Malpractice Relative Value Units

E.2. Impact by Physician Specialty

E.3. Impact by Class of Procedure

Background

B.1. Background of the Malpractice RVU

B.2. Malpractice Insurance Premium Rate Survey

Methodology

M.1. Overview

M.2. Mapping of Medicare Specialties to ISO Codes

M.3. Calculating the National Average Specialist Premiums

M.4. Specialist Risk Factors

Surgical Codes vs. Non Surgical codes

Obstetrical Codes

Obstetrics/Gynecology Risk Factors

Spinal Surgeries

Invasive Cardiology Procedures

Risk Factor Assignment Algorithm

M.5. Physician Profile Dataset

M.6. Calculating Average Risk Factors by Procedure

M.7. Codes Whose RBMRVUS were not Assigned Using the Risk Factor Algorithms

M.8. Budget Neutrality Adjustment

M.9. Numerical Example

Executive Summary

E.1. Changes in This Update of the Resource Based Malpractice Relative Value Units

This addendum to the original April 1999 Report on Resource Based Malpractice Relative Value Units (RBMRVUs) describes the first update to the RBMRVUs. The Original Report converted the Malpractice Relative Value Units (RVUs) to a resource basis from a charge basis and was the source of the 2000 Malpractice RVUs. The conversion was accomplished by deriving physician specialty surgical and non-surgical risk factors from Malpractice premium and rating data. These risk factors were than used to calculate RBMRVUs by procedure based on the composition of physician specialties performing the procedure.

The changes included in this update are as follows:

• 1996-98 Malpractice Premium Data replaces 1993-95 Malpractice Premium Data.

• Where premium data was not available, KPMG consulted the rating manuals of 5 physician malpractice insurers as opposed to using just St. Paul's manual.

• In the Original Report, Neurosurgeons had separate risk factors for surgical and non-surgical procedures. This has been changed so that the same surgical risk factor is used for all procedures performed by Neurosurgeons.

• The risk factor used for most surgical procedures performed by Neurologists and Cardiologists is now the factor for minor surgery. In the original report, the factor for major surgery was used. Pursuant to our conversation, the change was made because the surgical procedures performed by Neurologists and Cardiologists are less intensive than those performed by their surgical counterparts This change was made for all procedures except invasive Cardiology procedures, which are discussed in the following item.

• Risk factors for invasive Cardiology procedures, including Cardiac Catheterizations and Angioplasties, were established separately from risk factors for other procedures, and were based on data from the new malpractice survey for Cardiologists performing these procedures. These invasive Cardiology procedures have the following Current Procedural Terminology (CPT) Codes: 92980-92998, 93501-93536, 93600-93614, 93617-93641 and 93643-93652.

• 1999 Physician Utilization data provided by HCFA mapped to 2000 CPT codes was used as the basis for the distribution of physician specialty by procedure. The first report used 1997 utilization data mapped to 1999 CPT codes.

This addendum includes an analysis of the impact of the new risk factors and a numerical example illustrating the calculation of the CPT level RBMRVUs. This addendum has been organized according to the structure of the initial Resource Based Malpractice RVU report. Only those sections with changes have been updated.

E.2. Impact by Physician Specialty

The exhibit on pages 6-7 illustrates the impact that this update has on the various physician specialties. All figures are expressed as a percentage of total RVUs, including the impact percentages. Anesthesiologists and Pathologists derive only a small portion of their income from procedures which have explicit Malpractice Relative Value Units. The impact to Anesthesiologists and Pathologists as presented in this exhibit shows the change in the portion of their income attributable only to those codes having explicit Malpractice Relative Value Units. Total RVUs are calculated using the 2000 physician fee schedule. Other changes will take place in 2001 that may change these percentages as a percentage of total RVUs. In particular, an additional year of phasing in the Resource Based Practice Expense RVUs may have a significant impact on the Malpractice RVUs as a percentage of total RVUs by specialty. It is the intention of this exhibit to show only the isolated impact of the RBMRVU change. For this reason, other changes made in the 2001 RBRVS have not been included.

This update produces more modest changes than were originally made by converting the Malpractice RVUs from a charge basis to a resource basis. The biggest gains are for Orthopedic Surgeons (+1.1%) and Hand Surgeons (+0.7%). These changes occur for the following reasons:

• Orthopedic Surgeons: The 1993-95 Malpractice Survey only tracked Orthopedic Surgeons that perform spinal surgeries. In the Original Report, a reduction was made in the Orthopedic Surgical Risk Factor to reflect the possibility that the premium data in the survey might be artificially high for other Orthopedic Surgeons. The 1996-98 Malpractice Premium Survey provided additional data on this subject. When Malpractice Insurers differentiate between Orthopedic Surgeons that do and don't perform spinal surgery the differences can be substantial; however, the survey indicated that this practice is not as widespread as originally anticipated. For this reason, the average 1996-98 premium data was used as the basis for the Orthopedic Surgeons' risk factor in this update.

• Hand Surgeons: Orthopedic Surgeons also perform many of the surgical procedures that Hand Surgeons perform; resulting in a carry over effect to the Hand Surgeon specialty.

The biggest reductions are for Anesthesiologists (−1.3%), Nephrologists (−0.9%), and Cardiologists (−0.7%). Explanation of these losses are as follows:

• Anesthesiologists: Based on the 1996-98 Malpractice Survey, Anesthesiologists' premiums are decreasing at the fastest rate (3.75% per year). Because Anesthesiologists receive very little of their Medicare fees from the Malpractice RVUs in this update, this change impacts them less than the −1.3% change would imply.

• Nephrologists: Nephrologists are not tracked in the survey; their risk factor was based on the St. Paul's underwriting manual in the original RBMRVU report. This update uses five separate underwriting manuals (although only four had risk factors for Nephrologists). St. Paul's assigns Nephrologists the highest risk factor of the four, and was the only insurer to have separate factors for surgical and non-surgical.

• Cardiologists: Cardiologists have been impacted by the reduction in the risk factor for invasive Cardiology procedures. Our new RBMRVUs for these procedures used risk factors appropriate for Cardiologists performing these procedures.

Impact Analysis by Medicare Specialty Code
[All Figures Expressed as a Percentage of Total RVUs]
Spclty code | Medicare description | Resource-based RBMRVUs by year: 2000 | Resource-based RBMRVUs by year: 2001 | Impact from 2000 to 2001*
01 | General practice | 2.6% | 2.7% | +0.1%
02 | General surgery | 4.5% | 4.5% | +0.1%
03 | Allergy/Immunology | 3.9% | 4.0% | +0.1%
04 | Otolaryngology | 3.3% | 3.4% | +0.1%
05 | Anesthesiology | 4.9% | 3.6% | −1.3%
06 | Cardiology | 3.6% | 2.9% | −0.7
07 | Dermatology | 2.4% | 2.5% | +0.1%
08 | Family practice | 2.3% | 2.5% | +0.2%
10 | Gastroenterology | 2.9% | 2.7% | −0.2%
11 | Internal medicine | 2.5% | 2.5% | +0.0%
12 | Osteopathic manipulative therapy | 2.5% | 2.6% | +0.1%
13 | Neurology | 2.7% | 2.8% | +0.0%
14 | Neurosurgery | 6.4% | 7.0% | +0.6%
16 | Obstetrics/Gynecology | 3.1% | 3.6% | +0.5%
18 | Ophthalmology | 2.0% | 1.9% | −0.1%
19 | Oral surgery (dentists only) | 3.1% | 3.3% | +0.2%
20 | Orthopedic surgery | 4.0% | 5.1% | +1.1%
22 | Pathology | 1.9% | 2.5% | +0.6%
24 | Plastic and reconstructive surgery | 3.7% | 3.9% | +0.2%
25 | Physical medicine and rehab | 2.6% | 2.5% | −0.1%
26 | Psychiatry | 2.0% | 1.9% | −0.1%
28 | Colorectal surgery (formerly proctology) | 4.0% | 3.7% | −0.2%
29 | Pulmonary disease | 2.6% | 2.6% | +0.1%
30 | Diagnostic radiology | 3.4% | 3.6% | +0.2%
33 | Thoracic surgery | 5.4% | 5.3% | −0.1%
34 | Urology | 2.8% | 3.0% | +0.2%
35 | Chiropractic | 1.8% | 1.8% | 0.0%
36 | Nuclear medicine | 3.4% | 3.4% | +0.0%
37 | Pediatric medicine | 2.9% | 2.9% | +0.0%
38 | Geriataric medicine | 2.4% | 2.4% | +0.1%
39 | Nephrology | 3.2% | 2.2% | −0.9%
40 | Hand surgery | 3.6% | 4.3% | +0.7%
41 | Optometrist | 1.8% | 1.6% | −0.2%
44 | Infectious disease | 2.6% | 2.6% | +0.0%
46 | Endocrinology | 2.4% | 2.5% | +0.1%
48 | Podiatry | 3.1% | 3.0% | −0.1%
62 | Psychologist | 6.3% | 6.2% | −0.1%
64 | Audiologist | 7.1% | 7.1% | +0.0%
65 | Physical therapist | 2.9% | 2.6% | −0.3%
66 | Rheumatology | 2.4% | 2.7% | +0.3%
67 | Occupational therapist | 3.0% | 2.7% | −0.3%
68 | Clinical psychologist | 2.5% | 2.2% | −0.3%
69 | Clinical lab | 2.4% | 2.8% | +0.4%
70 | Multispecialty clinic or group practice | 3.1% | 3.1% | 0.0%
76 | Peripheral vascular disease | 4.7% | 4.7% | +0.0%
77 | Vascular surgery | 5.3% | 5.2% | 0.0%
78 | Cardiac surgery | 5.6% | 5.4% | −0.1%
79 | Addiction medicine | 2.2% | 2.2% | 0.0%
81 | Critical care | 2.8% | 2.8% | −0.1%
82 | Hematology | 2.7% | 2.7% | +0.1%
83 | Hematology/oncology | 2.8% | 2.9% | +0.1%
84 | Preventive medicine | 2.6% | 2.6% | +0.0%
85 | Maxillofacial Surgery | 3.4% | 3.6% | +0.2%
86 | Neuropsychiatry | 2.3% | 2.3% | −0.1%
90 | Medical oncology | 2.9% | 3.0% | +0.1%
91 | Surgical oncology | 4.0% | 4.3% | +0.3%
92 | Radiation oncology | 3.3% | 3.5% | +0.3%
93 | Emergency Medicine | 4.3% | 4.2% | −0.1%
94 | Interventional Radiology | 3.3% | 3.4% | +0.1%
95 | Independent physiological lab | 5.0% | 5.0% | 0.0%
97 | Physician assistant | 2.2% | 2.3% | +0.1%
98 | Gynecologist/oncologist | 3.5% | 4.0% | +0.6%
| Total | 3.0% | 3.0% | +0.0
* Rounding may create the appearance of arithmetic errors.

E.3. Impact by Class of Procedure

The exhibit on pages 9-11 shows the impact that the proposed update to the RBMRVUs will have on different types of procedures. All figures are again expressed as a percentage of total RVUs including the impact percentages. The largest increases are for Maternity (+2.0%), Musculoskeletal surgeries (+1.4%) and Female Genital surgeries (+1.2%). (Cytogenic Studies also increase +1.3%; however, utilization is very small and there is only one CPT code in this range 88230-88299 that uses RVUs: 88291). Following is an explanation of these gains:

• Musculoskeletal Surgeries: These surgeries tend to be performed by Orthopedic Surgeons. Since Orthopedic Surgeons' risk factors increased, the Malpractice RVUs for these codes have also increased.

• Maternity: RVUs for maternity procedures are linked to the risk factor selected for Obstetrics. This is not a specialty tracked in the physician malpractice survey—the risk factor was assigned by reviewing rating manuals. The five malpractice insurers' manuals showed an increased risk factor was needed for Obstetrics.

• Female Genital Surgeries: Similar to Obstetrics, the five malpractice insurers' manuals showed that an increase was needed in the surgical risk factor for Gynecologists.

The largest decreases were for Dialysis (−1.6%) and Medical Cardiovascular procedures (−1.4%).

Following is an explanation of these reductions:

• Dialysis: The RVUs decreased because of the decrease in risk factor for Nephrologists.

• Medical Cardiovascular: These procedures include the invasive Cardiology procedures mentioned in the previous section for Cardiologists. The risk factor for Cardiologists was reduced, and the resulting RVUs for these procedures are more reflective of actual insurer practice.

Impact Analysis by Procedure Type
[All Figures Expressed as a Percentage of Total RVUs]
Type | Resource-based RBMRVUs by year: 2000 | Resource-based RBMRVUs by year: 2001 | Impact by year: 2000 to 2001* | 2000 to 2001*
Surgical:
Auditory System | 3.2% | 3.2% | +0.0%
Cardiovascular System | 5.7% | 5.3% | −0.4%
Digestive System | 4.3% | 4.1% | −0.3%
Endocrine System | 5.2% | 5.4% | +0.1%
Eye and Ocular Adnexa | 2.0% | 2.1% | +0.0%
Female Genital System | 4.3% | 5.5% | +1.2%
Hemic and Lymphatic Systems | 4.9% | 5.2% | +0.3%
Integumentary System | 3.4% | 3.3% | 0.0%
Male Genital System | 3.1% | 3.3% | +0.2%
Maternity Care and Delivery | 8.1% | 10.1% | +2.0%
Mediastinum and Diaphragm | 5.5% | 5.4% | 0.0%
Muskuloskeletal System | 4.6% | 6.0% | +1.4%
Nervous System | 7.2% | 6.8% | −0.5%
Operating Microscope | 10.8% | 9.8% | −0.9%
Respiratory System | 4.0% | 4.0% | 0.0%
Urinary System | 3.1% | 3.3% | +0.2%
Subtotal | 4.1% | 4.2% | +0.1%
E&M:
Care Plan Oversight Services | 2.2% | 2.2% | 0.0%
Consultations | 2.8% | 3.0% | +0.2%
Critical Care Services | 2.8% | 2.8% | 0.0%
Domiciliary, Rest Home or Custodial Care | 2.2% | 2.1% | 0.0%
Emergency Department Services | 4.5% | 4.3% | −0.1%
Home Services | 2.3% | 2.3% | +0.0%
Hospital Inpatient Services | 2.4% | 2.4% | 0.0%
Hospital Observation | 2.6% | 2.6% | 0.0%
Neonatal Intensive Care | 2.6% | 3.0% | +0.3%
Newborn Care | 1.9% | 2.0% | +0.1%
Nursing Facility Services | 2.3% | 2.2% | 0.0%
Office or Other Outpatient | 1.9% | 2.3% | +0.3%
Prolonged Services | 2.2% | 2.2% | 0.0%
Subtotal | 2.4% | 2.5% | +0.2%
Medicine:
Allergy and Clinical Immunology | 4.7% | 4.7% | 0.0%
Biofeedback | 2.0% | 1.8% | −0.2%
Cardiovascular | 4.4% | 3.0% | −1.4%
Central Nervous System Tests | 7.7% | 7.7% | 0.0%
Chemotherapy | 4.6% | 4.6% | +0.0%
Chiropractic Manipulative Therapy | 1.8% | 1.8% | 0.0%
Dialysis | 3.6% | 2.0% | −1.6%
Gastroenterology | 3.3% | 3.3% | 0.0%
Neurology and Neuromuscular Procedures | 3.0% | 2.9% | −0.2%
Non-Invasive Vascular Diagnostic Studies | 6.2% | 6.2% | 0.0%
Opthalmology | 1.7% | 1.4% | −0.3%
Osteopathic Manipulative Therapy | 2.1% | 1.9% | −0.3%
Physical Medicine and Rehabilitation | 2.8% | 2.6% | −0.3%
Subtotal | 3.4% | 2.7% | −0.7%
Pathology & Lab:
Chemistry | 1.7% | 1.7% | 0.0%
Consultations (Clinical Pathology) | 1.8% | 1.9% | +0.1%
Cytogenic Studies | 1.3% | 2.6% | +1.3%
Cytopathology | 2.1% | 2.7% | +0.6%
Hematology & Coagulation | 1.5% | 1.6% | +0.1%
Immunology | 3.4% | 3.5% | +0.1%
Microbiology | 1.8% | 1.8% | 0.0%
Other | 1.8% | 1.8% | 0.0%
Surgical pathology | 2.0% | 2.6% | +0.6%
Subtotal | 2.0% | 2.6% | 0.5%
Radiology
Diagnostic Imaging | 3.6% | 3.8% | +0.2%
Diagnostic Ultrasound | 3.5% | 3.6% | +0.1%
Nuclear Medicine | 3.6% | 3.6% | +0.1%
Radiation Oncology | 3.3% | 3.6% | +0.3%
Subtotal | 3.5% | 3.7% | +0.2%
* Rounding may create the appearance of arithmetic errors.

Background

B.1. Background of the Malpractice RVU

Please see the April 1999 report on RBMRVUs for a complete description of the charge based Malpractice RVUs.

B.2. Malpractice Insurance Premium Rate Survey

The original development of Resource Based Malpractice RVUs relied upon malpractice insurance premiums for the 1993-95 period. As part of the update to the Malpractice Geographic Practice Cost Indices (GPCI) scheduled to be implemented in the 2001 fee schedule, KPMG collected physician malpractice insurance data for the 1996-98 period. One of the purposes of this addendum is to establish new specialist risk factors derived from the information collected in the most recent survey.

In order to collect the necessary premium data, 52 Departments of Insurance (DOI) from all fifty states, Washington D.C. and Puerto Rico were contacted and sent questionnaires. Each Department of Insurance was requested to supply:

• 1996-98 Premium Rates for the top Physician Malpractice Insurers doing business in the state. These premium rates had to conform to a very specific benefit plan. Annual premiums were collected and/or adjusted to the following specifications: $1 million limit on individual claims/ $3 million limit on aggregate claims, mature “claims-made” coverage (see Section 4.2.2. of the Third Update of the GPCI for a detailed discussion of “claims-made”).

• Name and number of contacts at the DOI and Insurance Carriers.

• Definitions of the geographic rating areas used in the state.

• Definitions of Risk Classifications.

For the majority of states, copies of rate filings were obtained. A few states summarized this information by specialty across insurer. Some states did not have filings or could not comply with the survey in a timely manner. For these states, malpractice insurers were contacted directly.

Some states have Joint Underwriting Associations (JUAs) and Patient Compensation Funds (PCFs) that impact physician malpractice costs. The South Carolina JUA was included because it has the majority market share. All other JUAs were excluded. PCFs were included only when participation was mandatory, with one exception. In South Carolina, the PCF was included even though it is not mandatory because the majority of South Carolina physicians that participate in the JUA also participate in the PCF.

Since PCFs often provide unlimited coverage, states with mandatory PCFs may have a cost level that is higher than the $1 million/$3 million limits mentioned previously. For those states, no actuarial adjustment was made to reduce the premium level to a $1 million/$3 million policy. This was considered appropriate since the intention of the survey was to track actual physician costs as closely as possible.

Overall KPMG collected physician malpractice insurance premium data on a total of 46 companies across all 50 states, Puerto Rico, and Washington, D.C. Insurance companies that operated in more than one state are counted once in this total. In 38 states KPMG collected data from at least two companies. In the remainder of the states, KPMG received information from one company. In each of these states, the sole insurer had a medical malpractice market share of 49% or more (medical malpractice insurance includes physician and hospital malpractice insurance). On average, data was collected from insurance companies with a 56% medical malpractice market share.

There is reason to believe that the actual captured physician malpractice insurance market share is larger than stated here. This is due to the fact that market share statistics included hospital malpractice insurance, but companies that primarily deal in hospital malpractice have been largely excluded. The most credible and consistently available source of medical malpractice insurance premium data comes from National Association of Insurance Commissioners (NAIC) annual statement blanks. Unfortunately, the annual statement line for medical malpractice includes both hospital and physician malpractice insurance. Departments of Insurance provided input regarding significant physician malpractice insurance carriers.

The Office of Management and Budget (OMB) approved physician malpractice survey was primarily designed to update the GPCI not the Malpractice RVU. The needs of the two updates are not the same. While the GPCI focuses on regional cost differences, the ideal Malpractice RVU survey would provide more detail on premium variations by specialty. In accordance with the OMB approved survey, malpractice data was collected for twenty physician specialties. (There are over 90 HCFA specialty codes.) Since the amount of time it takes to perform the survey is a critical component of OMB approval, the number of specialties tracked in the survey has not been changed. In order to supplement the premium survey, five rating manuals were used from among the largest malpractice insurers in order to derive risk factors for specialties not tracked in the survey. Even for the twenty specialties tracked in the survey, it was necessary to supplement the premium data with risk factors from the selected five insurers. Since the survey specified the level of surgical involvement for a specialty, it was not possible to get a surgical and non-surgical risk factor from the same premium data.

Typically malpractice insurers sub-divide each specialty into three separate levels of surgical involvement:

1. Major Surgery

2. Minor Surgery (typically assisting the surgeon or performing very minor surgeries)

3. No Surgery

The surgical risk factors are derived from the highest level of surgical involvement listed for the specialty in the insurers rating manual, typically the “major surgery” category. The non-surgical factors are derived from the lowest level of surgical involvement listed, typically the “no surgery” factors. For those surveyed specialties that had minor surgical involvement, the premium data was used as a reasonability check with the selected surgical and non-surgical risk factors. The minor surgery premium risk factor should fall between the surgical and non-surgical factors and should also be in line with the minor surgery risk factor of the median or most representative rating manual.

For Cardiologists and Neurologists, the minor surgery premium average was also used to set the surgical risk factors. This is due to the fact that the surgical procedures that these specialties perform tend to fit the minor surgery category.

One American Medical Association (AMA) suggestion regarding the first calculation of the RBMRVUs was their desire that surgical specialties always be granted their surgical risk factor even for the non-surgical procedures that they perform. This change has been incorporated in this update of the risk factors for specialties defined as surgeons. The two specialties impacted by this change are Neurosurgeons and Surgical Oncologists.

In the first RBMRVU calculation, Neurologists and Neurosurgeons shared surgical and non-surgical risk factors. This was not inconsistent with the St. Paul's rating manual. Neurosurgeons received higher Malpractice RVU compensation because they performed more surgical procedures. However, the surgical risk factor for Neurosurgeons is now used to calculate the malpractice RVUs for all procedures they perform—surgical and non-surgical. As noted above, Neurologists receive the minor surgery risk factor for the surgical procedures they perform.

In the original report, Surgical Oncologists were mapped to the Avg. Physician risk factors with separate surgical and non-surgical risk factors. In this update, Surgical Oncologists are given the General Surgeons' risk factors which are the same for surgical and non-surgical procedures.

The following table (A-1) shows how the premium data was used for each of the twenty tracked physician specialties (note that any risk factor that is not calculated using premium data from the survey was derived from the rating manual risk factors):

Table A-1.—Uses of the Physician Malpractice Premium Data Collected in the Survey
Specialty | Surgery | Used for surgical RF? | Used for non-surgical RF? | Used for reasonability check?
Ophthalmology | Major | Yes | No | Yes.
General Surgery | Major | Yes | Yes | Yes.
Thoracic Surgery | Major | Yes | Yes | Yes.
Urology Surgery | Major | Yes | Yes | Yes.
Anesthesiology | Major | Yes | Yes | Yes.
Neurosurgery | Major | Yes | Yes | Yes.
Orthopedic Surgery | Major | Yes | Yes | Yes.
Plastic Surgery | Major | Yes | Yes | Yes.
Otorhinolaryngology | Major | Yes | No | Yes.
Gynecology | None | No | Yes | Yes.
Psychiatry | None | No | Yes | Yes.
Pulmonary Disease | None | Yes | Yes | Yes.
Gastroenterology | Minor | No | No | Yes.
Radiology | Minor | Yes | Yes | Yes.
Cardiovascular Disease | Minor | Yes | No | Yes.
Dermatology | Minor | No | No | Yes.
Internal Medicine | Minor | No | No | Yes.
Neurology | Minor | Yes | No | Yes.
Pathology | Minor | Yes | Yes | Yes.
General/Family Practice | Minor | No | No | Yes.

Methodology

M.1. Overview

Please see the Final Report on the Resource Based Malpractice RVUs for a complete overview of the methodology. This update only describes changes to the original methodology. The following changes are being implemented in this update:

• 1996-98 Malpractice Premium Data is used in place of 1993-95 Premium Data.

• Physician premium data from the survey is used to calculate risk factors according to Table A-1 of this update.

• The premium weighted average risk factors of five selected Malpractice Insurers are used. They are Continental Casualty Company (CNA), St. Paul Fire and Marine Insurance Company (St. Paul), Medical Liability Mutual Insurance Company (MLMIC), Medical Protective Company (Medical Protective), and Doctors Company. These five insurers are among the largest malpractice insurers. This is the methodology used for all specialties that are not based on malpractice premium data.

M.2. Mapping of Medicare Specialties to ISO Codes

Please see the April 1999 Report on RBMRVUs for a complete discussion of malpractice insurer's ISO codes and how they are translated into Medicare Physician Specialty Codes.

M.3. Calculating the National Average Specialist Premiums

Please see section M.3. of the Final Report on the Resource Based Malpractice RVUs for a complete discussion of methodology. One of the adjustments described in that report “normalizes” the premium data in the survey for the geographic spread of specialties. A geographic bias is measured by calculating the average Malpractice GPCI that a specialty receives. Variations can be noticeable. For example, it was found that Psychiatrists have a Malpractice GPCI that is 5.6% above the average while General/Family Practitioners are 6.2% below the average. Not to adjust for this phenomenon would effectively create a “double count” of the geographic concentration of a given specialty. Specialties more highly concentrated in high malpractice cost areas would receive higher RVUs because their premiums would be higher, in part due to their geographic concentration in higher cost areas. At the same time they would receive a higher Malpractice GPCI for the identical reason. For specialties more highly concentrated in lower malpractice cost areas, the opposite would be true. They would be effectively “double penalized” for their concentration in low malpractice cost areas. By dividing each specialty's premium by its average Malpractice GPCI, risk factors developed from these new adjusted premiums more accurately reflect the relative cost differences of each specialty as opposed to the geographic dispersion of the specialty.

This normalization calculation has been updated for the risk factors used in this update. A 1998 RVU distribution was used in place of the 1997 RVU distribution used in the original report. The 2002-3 Malpractice GPCI was used as the basis for the normalization. The 2001 “phase-in” Malpractice GPCI was considered, but the 2002-2003 Malpractice GPCI was utilized since it will be in place longer than the 2001 Malpractice GPCI and it is unlikely that Malpractice RVUs will be updated in the interim (beyond updates for new CPT codes).

In Table A-2, the average malpractice premiums tracked in the survey are shown along with their average 2002-3 Malpractice GPCI and the adjusted premium used for risk factors. Note that Psychiatry has been normalized to a 1.31 risk factor to be consistent with the average non-surgical factor developed from the five malpractice insurers' rate manuals (see Table A-3) for Psychiatry. This makes it easier to perform an “apples to apples” comparison of the risk factors developed from premium data versus the comparable rating manual risk factors.

M.4. Specialist Risk Factors

Surgical Codes vs. Non Surgical Codes

Consistent with the development of the original RBMRVUs, separate surgical and non-surgical risk factors continue to be used. For the purposes of calculating RBMRVUs surgeries are defined as CPT codes falling in the range of 10000 through 69999, and codes 92980-92998, 93501-93536, 93600-93614, 93617-93641 and 93643-93652.

Obstetrical Codes

Medicare specialty codes do not distinguish between Obstetricians and Gynecologists. However, malpractice premiums can be quite different for these specialties. Because the majority of Medicare OB/GYN services will be Gynecological, a Gynecology risk factor was used for all OB/GYN procedures, except those that are clearly Obstetrical, such as maternity codes (59000-59899). These codes were assigned a risk factor that is consistent with a risk factor for an Obstetrician who performs surgery in the Original Report. This practice is continued in this addendum. The obstetrical risk factor has been updated.

Obstetrics/Gynecology Risk Factors

Obstetricians and Gynecologists have raised the concern about their average malpractice premium and their corresponding Malpractice RVUs. The survey tracked the Malpractice premium for a Gynecologist who does not perform surgery. We recognize that approximately 40% of Work RVUs paid to Gynecologists under the Medicare program are for surgical procedures. We also recognize that Obstetricians have virtually no utilization under the Medicare program and that they will pay much more for Malpractice Insurance than the typical Gynecologist.

These issues have been addressed in the risk factor methodology. First, Gynecologists receive a risk factor consistent with their Malpractice Survey Premium only for non-surgical procedures. For their surgical procedures they receive a risk factor that is 3.26 times (6.17 vs. 1.89) that which would be granted if we only used their Survey Premium. Second, Obstetricians have been handled by making an explicit adjustment to the maternity codes in order to reflect their higher malpractice costs. These codes are granted a risk factor of 10.83 (based on the rate manuals) which is 76% higher than the Gynecologists' Surgical risk factor and 461% higher than the Gynecologists' Non Surgical risk factor.

Spinal Surgeries

If the risk factor calculated for a Spinal Surgery procedure (CPTs 22100-22899) falls below the risk factor for an Orthopedic Surgeon performing Spinal Surgery (8.64), then the risk factor for an Orthopedic Surgeon performing spinal surgery is used.

Invasive Cardiology Procedures

The following codes receive the greater of their actual average risk factor or the risk factor for invasive Cardiology (3.16): 92980-92998, 93501-93536, 93600-93614, 93617-93641 and 93643-93652.

Risk Factor Assignment Algorithm

The Risk Factor Assignment Algorithm from the original report is presented in this section. Changes are indicated in bold:

Having discussed the background and issues surrounding the physician risk factors, the actual mechanics of the algorithm used to assign risk factors will now be described. The assignment algorithm was as follows:

1. The lowest normalized malpractice premium specialty was determined to be Psychiatry. This specialty was assigned a risk factor value of “1.31”. This factor was selected to be consistent with the risk factor developed for non-surgical Psychiatry developed from rating manuals.

2. If the specialty's normalized average malpractice premium is the basis for the risk factor (as defined in Table A-1), the Risk Factor was calculated as follows:

For example, Ophthalmologists' had a 96-98 average premium of $11,209. Their average MGPCI was 0.98915. Dividing $11,209 by .98915 yields $11,332 as the normalized average premium. Dividing this result by the adjusted Psychiatrists' premium ($11,332/$6,263) gives an answer of 1.81. This 1.81 is then multiplied by 1.31 to give the final risk factor of 2.37.

3. If the risk factor was not being set with malpractice premium data, five rating manuals from among the largest malpractice insurers were consulted and an average risk factor (RF) was developed based on the market share weighted average. Using Psychiatry, non-surgical as an example: C.N.A. Weighting × C.N.A. RF + St. Paul Weighting × St. Paul RF + M.L.M.I.C. Weighting × M.L.M.I.C. RF + Medical Protective Weighting × Medical Protective Risk Factor + Doctors Weighting × Doctors Risk Factor =

25.955% × 1.50 + 25.547% × 1.00 + 20.923% × 1.00 + 14.637% × 1.33 + 12.938% × 2.00 = Note that Weightings are developed by calculating the Insurers' annual earned premium as a percent of the total for all five insurers.

M.5. Physician Profile Dataset

The April 1999 report on the RBMRVU describes this dataset. For this update, we used 1999 utilization data cross walked to 2000 CPT codes. HCFA performed this cross walk before giving the utilization data to KPMG. The most critical task performed on this data by KPMG was the application of the Modifiers to the underlying utilization data. KPMG made the conversions to the Allowed Services counts outlined in the table on the next page. The adjustments in the table are consistent with the modifier adjustments that HCFA specifies for processing physician claims.

Modifier | Description | Code type | Handling/value of code
51 | Multiple Procedures | Rule applies | 50%.
|  | Endoscopic Procedure * | 100%; summary data only. Since claims history could not be taken into account endoscopies are counted 100%.
|  | Modifier does not apply | 100%.
|  | No payment adjustment | 100%.
54 | Surgical Only | Surgery code | Intraoperative % applied.
|  | Non surgery code | 0%.
55 | Post Operative Only | Surgery code | Post Op % applied.
|  | Non surgery code | 0%.
56 | Pre Operative Only | Surgery code | Pre Op % applied.
|  | Non surgery code | 0%.
62 | Co Surgeons | Co Surgeons not permitted | 0%.
|  | Co Surgeons permitted with or without documentation | 62.5%.
|  | Does not apply | 0%.
80 | Asst. Surgeon | Don't pay or does not apply | 0%.
|  | Asst Surgeon permitted with or without documentation | 16%.
26 | Prof. Only |  | 100%.
TC | Technical Only |  | Malpractice RVUs are unchanged.
53 | Terminated endoscopy |  | 100%.
* This is more likely to distort the impact analysis rather than the average risk factor. Endoscopies will be over-weighted in the impact analysis.

M.6. Calculating Average Risk Factors by Procedure

Please see the April 1999 report for a complete description of the calculation. The formula for calculating the risk factors is stated below:

Where:

SERVICESPROC/MOD, SPEC = Number of procedures performed in 1999 by specialty for specific procedure code

RFSPEC= Risk factor for specialty calculated in M.4.

SERVICESPROC/MOD = Number of procedures performed in 1999 for specific procedure code

Avg. RFPROC/MOD = The average risk factor for the particular combination of procedure and modifier code.

M.7. Codes Whose RBMRVUs were not Assigned Using the Risk Factor Algorithms

Please see table A-5 for the assignments made for codes with insufficient utilization data.

M.8. Budget Neutrality Adjustment

Please see the April 1999 report for a complete discussion. The new budget neutrality adjustment is .0171569. Note that this adjustment is applied before inclusion of the technical codes which are left unchanged.

The formula for budget neutrality and the final calculation of RBMRVUs is given below:

This budget neutrality adjustment is multiplied by the Unadjusted RBMRVUs to get the final RBMRVUs.

Where:

SERVICESPROC/MOD = Number of procedures performed in 1999 for specific procedure code

Raw RBMRVUPROC/MOD = The resource-based RVU allocation for the risk-factor method prior to adjustment for budget neutrality

2000 Aggregate MP RVUs = 2000 aggregate malpractice RVUs projected from the 1999 utilization data and 2000 malpractice RVUs

BN Adj = 2001 budget neutrality adjustment, forces RBMRVUs to be budget neutral to the 1999 experience

RBMRVUPROC/MOD = RBMRVU after applying 2001 budget neutrality adjustment

M.9. Numerical Example

The development of risk factors has been demonstrated in a previous section. This numerical example will focus on applying those risk factors to the Procedure Code Malpractice Relative Value Units.

This example will look at the calculation of the Resource Based Malpractice RVU for code 99213-Office/Outpatient Visit, Established Patient, and is shown on the next page. We start with raw physician specialty utilization databased on 1999 utilization and mapped to 2000 codes by the Health Care Financing Administration. In the exhibit, Column B shows the distribution of services by specialty. Column B is labeled “Adjusted Allowed Services” because certain modifier rules have been applied to the counts.

Numerical Example for CPT Code 99213 Calculation of the Average Risk Factor
Code | Description | A Risk factor | B Adjusted allowed svcs | C Percent of total | D Product A X B
1 | General practice | 1.73 | 4,507,361 | 5.18 | 7,797,735
2 | General surgery | 6.14 | 1,516,808 | 1.74 | 9,313,201
3 | Allergy/Immunology | 1.05 | 306,558 | 0.35 | 321,886
4 | Otolaryngology | 2.31 | 1,484,673 | 1.70 | 3,429,595
5 | Anesthesiology | 3.28 | 289,300 | 0.33 | 948,904
6 | Cardiology | 1.81 | 5,711,251 | 6.56 | 10,337,364
7 | Dermatology | 1.12 | 1,904,507 | 2.19 | 2,133,048
8 | Family practice | 1.73 | 18,552,260 | 21.30 | 32,095,410
10 | Gastroenterology | 1.95 | 1,564,620 | 1.80 | 3,051,009
11 | Internal medicine | 1.89 | 25,202,921 | 28.94 | 47,633,521
12 | Osteopathic manipulative therapy | 2.19 | 86,452 | 0.10 | 189,330
13 | Neurology | 1.96 | 1,102,524 | 1.27 | 2,160,947
14 | Neurosurgery | 12.64 | 187,609 | 0.22 | 2,371,378
16 | Obstetrics/Gynecology | 1.89 | 822,589 | 0.94 | 1,554,693
18 | Ophthalmology | 1.18 | 3,171,237 | 3.64 | 3,742,060
19 | Oral surgery (dentists only) | 2.19 | 9,070 | 0.01 | 19,863
20 | Orthopedic surgery | 8.53 | 2,643,730 | 3.04 | 22,551,017
22 | Pathology | 2.07 | 25,423 | 0.03 | 52,626
24 | Plastic and reconstructive surgery | 6.57 | 114,446 | 0.13 | 751,910
25 | Physical medicine and rehab | 1.07 | 340,226 | 0.39 | 364,042
26 | Psychiatry | 1.31 | 91,260 | 0.10 | 119,551
28 | Colorectal surgery (formerly proctolog) | 3.81 | 52,161 | 0.06 | 198,733
29 | Pulmonary disease | 1.94 | 1,785,484 | 2.05 | 3,463,839
30 | Diagnostic radiology | 2.60 | 71,349 | 0.08 | 185,507
33 | Thoracic surgery | 8.14 | 90,142 | 0.10 | 733,756
34 | Urology | 3.58 | 3,013,435 | 3.46 | 10,788,097
36 | Nuclear medicine | 1.38 | 10,151 | 0.01 | 14,008
37 | Pediatric medicine | 1.75 | 128,072 | 0.15 | 224,126
38 | Geriataric medicine | 1.16 | 242,737 | 0.28 | 281,575
39 | Nephrology | 1.57 | 661,649 | 0.76 | 1,038,789
40 | Hand surgery | 5.75 | 32,714 | 0.04 | 188,106
41 | Optometrist | 2.19 | 629,614 | 0.72 | 1,378,855
44 | Infectious disease | 1.57 | 242,070 | 0.28 | 380,050
46 | Endocrinology | 1.57 | 689,586 | 0.79 | 1,082,650
48 | Podiatry | 2.19 | 1,392,115 | 1.60 | 3,048,732
65 | Physical therapist | 1.07 | 18 | 0.00 | 19
66 | Rheumatology | 1.68 | 1,248,991 | 1.43 | 2,098,305
67 | Occupational therapist | 1.08 | 4 | 0.00 | 4
68 | Clinical psychologist | 1.31 | 10 | 0.00 | 13
69 | Clinical lab | 2.07 | 95 | 0.00 | 197
70 | Multispecialty clinic or group practice | 2.19 | 3,515,620 | 4.04 | 7,699,208
76 | Peripheral vascular disease | 2.19 | 15,471 | 0.02 | 33,881
77 | Vascular surgery | 7.41 | 157,071 | 0.18 | 1,163,896
78 | Cardiac surgery | 7.93 | 15,718 | 0.02 | 124,644
79 | Addiction medicine | 1.31 | 9,586 | 0.01 | 12,558
81 | Critical care | 2.19 | 57,499 | 0.07 | 125,923
82 | Hematology | 1.62 | 70,854 | 0.08 | 114,783
83 | Hematology/oncology | 1.62 | 1,531,160 | 1.76 | 2,480,479
84 | Preventive medicine | 1.29 | 7,780 | 0.01 | 10,036
85 | Maxillofacial surgery | 6.57 | 4,718 | 0.01 | 30,997
86 | Neuropsychiatry | 1.31 | 2,358 | 0.00 | 3,089
90 | Medical oncology | 1.85 | 592,350 | 0.68 | 1,095,848
91 | Surgical oncology | 6.14 | 30,958 | 0.04 | 190,082
92 | Radiation oncology | 2.40 | 186,255 | 0.21 | 447,012
93 | Emergency medicine | 4.30 | 294,726 | 0.34 | 1,267,322
94 | Interventional Radiology | 2.68 | 1,908 | 0.00 | 5,113
95 | Independent physiological lab | 2.07 | 3 | 0.00 | 6
98 | Gynecologist/oncologist | 1.93 | 30,429 | 0.03 | 58,728
| SUBTOTAL FOR RISK FCTR CALCULATION | 2.21 | 86,449,686 | 99.26 | 190,908,055
| OTHER |  | 645,885 | 0.74 | N/A
| TOTAL |  | 87,095,571 | 100.00 |

Notice that 0.74% of the services are performed by specialties that have not had risk factors developed for them (“OTHER”). For this 99213 code, this is largely comprised of Physician Assistants and Nurse Practitioners.

The next step is to determine the average risk factor. Column D shows the product of each specialties' risk factor multiplied by the number of Allowed Services for that specialty. If we add up each specialties' product and divide by the total number of allowed services, we have calculated the average risk factor for the code. For code 99213 this is (190,908,055) / (86,449,686) = 2.21. Note that this is just an application of the following formula shown in Section M6:

Next we need to multiply the average risk factor for the code by the Work RVUs for the code. For code 99213 this is: 2.21 * 0.67 = 1.48. Finally the budget neutrality adjustment of .0171569 is applied to 1.48. The result is .0171569 * 1.48 = .03 Malpractice RVUs.

Attachments

Table A-2: Average Premiums, MGPCI, and Resulting Risk Factors by Specialty

Table A-3: Weighted Average Risk Factors Developed from Five Rating Manuals

Table A-4: Selected Risk Factors by HCFA Specialty

Table A-5: Cross Walk Assumptions 1

Table A-2.—Average Premiums, MGPCI and Resulting Risk Factors By Specialty
ISO | Specialty | 1996 avg | 1997 avg | 1998 avg | 93-95 | 96-98 | Annual trend | Avg MGPCI | Normalized 96-98*** | Risk fctr***
80114 | Opthalmology | $11,304 | $11,377 | $10,945 | $10,960 | $11,209 | 0.75% | 0.989% | $11,332 | 2.37
80143 | General surgery | 27,667 | 28,116 | 27,694 | 27,020 | 27,825 | 0.98% | 0.948 | 29,367 | 6.14
80144 | Thoracic surgery | 39,056 | 39,020 | 38,359 | 38,789 | 38,812 | 0.02% | 0.997 | 38,919 | 8.14
80145 | Urology | 16,799 | 17,163 | 16,911 | 15,817 | 16,958 | 2.35% | 0.991 | 17,116 | 3.58
80151 | Anesthesiology | 15,708 | 15,468 | 14,904 | 17,231 | 15,360 | −3.75% | 0.980 | 15,678 | 3.28
80152 | Neurosurgery | 58,104 | 58,263 | 56,735 | 54,610 | 57,701 | 1.85% | 0.954 | 60,455 | 12.64
80154 | Orthopedic surgery | 39,182 | 38,882 | 37,688 | 38,877 | 38,584 | −0.25% | 0.946 | 40,774 | 8.53
80156 | Plastic surgery | 31,670 | 31,708 | 31,062 | 30,599 | 31,480 | 0.95% | 1.002 | 31,415 | 6.57
80159 | Otolaryngology | 20,603 | 19,845 | 19,521 | 19,748 | 19,990 | 0.41% | 0.989 | 20,212 | 4.23
80244 | Gynecology | 8,445 | 8,690 | 8,790 | *n/a | 8,642 | *n/a | 0.957 | 9,033 | 1.89
80249 | Psychiatry** | 6,645 | 6,533 | 6,664 | 7,240 | 6,614 | −2.96% | 1.056 | 6,263 | 1.31
80269 | Pulmonary disease | 9,352 | 9,553 | 9,620 | 8,594 | 9,508 | 3.42% | 1.025 | 9,278 | 1.94
80274 | Gastroenterology | 11,691 | 11,890 | 11,655 | 11,008 | 11,745 | 2.18% | 1.008 | 11,648 | 2.44
80280 | Diagnostic radiology | 12,099 | 12,651 | 12,365 | 10,783 | 12,372 | 4.68% | 0.994 | 12,442 | 2.60
80281 | Cardiology | 13,265 | 13,367 | 12,980 | 12,465 | 13,204 | 1.94% | 1.013 | 13,037 | 2.73
80282 | Dermatology | 10,690 | 10,856 | 10,394 | 10,946 | 10,650 | −0.91% | 1.037 | 10,272 | 2.15
80284 | Internal medicine | 11,770 | 11,941 | 11,798 | 11,491 | 11,836 | 0.99% | 1.019 | 11,611 | 2.43
80288 | Neurology | 14,000 | 13,758 | 13,421 | 12,396 | 13,726 | 3.45% | 1.029 | 13,335 | 2.79
80292 | Pathology | 9,633 | 9,690 | 9,439 | 8,913 | 9,587 | 2.46% | 0.969 | 9,895 | 2.07
80423 | General practice | 11,181 | 11,354 | 11,167 | 10,465 | 11,234 | 2.39% | 0.938 | 11,977 | 2.51
* Data not available.
** Psychiatry is set to 1.31 to be consistent with risk factor taken from rating manuals (see Table A-3).
*** Actual precision on premium and GPCIs is greater than shown. May not be able to reproduce results exactly due to rounding.

Table A-3.—Weighted Average Risk Factors Developed From Five Rating Manuals
[Calculation of Weighted Average Risk Factors]
Code | Description | Weights--> Weighted Avg. Risk Factors: Non Surg | Weights--> Weighted Avg. Risk Factors: Surg | 25.955% C.N.A.: Non Surg | 25.955% C.N.A.: Surg | 25.547% St. Paul: Non Surg | 25.547% St. Paul: Surg | 20.923% Insurers MLMIC: Non Surg | 20.923% Insurers MLMIC: Surg | 14.637% Med. Prof.: Non Surg | 14.637% Med. Prof.: Surg | 12.938% Doctors: Non Surg | 12.938% Doctors: Surg
01 | General practice | 1.73 | 4.43 | 1.67 | 6.17 | 1.23 | 2.93 | 2.24 | 5.09 | 1.57 | 2.60 | 2.18 | 4.89
02 | General surgery | 6.24 | 6.24 | 6.17 | 6.17 | 4.64 | 4.64 | 8.04 | 8.04 | 5.38 | 5.38 | 7.63 | 7.63
03 | Allergy/Immunology | 1.05 | 1.29 | 1.00 | 1.00 | 1.00 | 1.00 | 1.00 | 1.00 | 1.00 | 2.60 | 1.40 | 1.40
04 | Otolaryngology | 2.31 | 3.92 | 1.00 | 3.58 | 1.23 | 2.93 | 3.59 | 5.09 | 1.33 | 2.60 | 6.12 | 6.12
05 | Anesthesiology | 3.11 | 3.11 | 3.58 | 3.58 | 2.43 | 2.43 | 3.14 | 3.14 | 3.36 | 3.36 | 3.15 | 3.15
06 | Cardiology | 1.81 | 2.85 | 1.50 | 3.58 | 1.23 | 1.79 | 2.91 | 2.91 | 1.33 | 2.60 | 2.37 | 3.62
| Cardiac Catheterization | 3.16 | 3.16 | 3.58 | 3.58 | 2.36 | 2.36 | 3.20 | 3.20 | 3.36 | 3.36 | 3.62 | 3.62
07 | Dermatology | 1.12 | 2.41 | 1.00 | 1.50 | 1.00 | 4.64 | 1.00 | 1.00 | 1.00 | 2.60 | 1.93 | 1.93
08 | Family practice | 1.73 | 4.43 | 1.67 | 6.17 | 1.23 | 2.93 | 2.24 | 5.09 | 1.57 | 2.60 | 2.18 | 4.89
10 | Gastroenterology | 1.95 | 2.78 | 1.50 | 3.58 | 1.23 | 2.36 | 2.91 | 2.91 | 1.57 | 1.57 | 3.13 | 3.13
11 | Internal medicine | 1.89 | 2.53 | 1.67 | 3.58 | 1.23 | 1.79 | 2.91 | 2.91 | 1.57 | 1.57 | 2.37 | 2.37
13 | Neurology | 1.96 | 2.11 | 1.67 | 1.67 | 1.23 | 1.79 | 2.39 | 2.39 | 1.57 | 1.47 | 3.75 | 3.75
14 | Neurosurgery | 12.67 | 12.67 | 10.00 | 10.00 | 9.42 | 9.42 | 20.96 | 20.96 | 10.63 | 10.63 | 13.31 | 13.31
16 | Gynecology | 1.93 | 6.17 | 1.50 | 6.17 | 1.23 | 4.64 | 3.59 | 9.01 | 1.33 | 5.38 | 2.18 | 5.48
| Obstetrics | n/a | 10.83 | n/a | 10.00 | n/a | 7.15 | n/a | 15.53 | n/a | 10.63 | n/a | 12.41
18 | Ophthalmology | 1.18 | 2.36 | 1.00 | 1.50 | 1.23 | 1.79 | 1.00 | 3.20 | 1.33 | 2.60 | 1.55 | 3.60
20 | Orthopedic surgery wo Spinal | 8.45 | 8.45 | 8.17 | 8.17 | 6.01 | 6.01 | 12.18 | 12.18 | 7.97 | 7.97 | 8.36 | 8.36
| Orthopedic surgery with Spinal | 8.64 | 8.64 | 8.17 | 8.17 | 6.01 | 6.01 | 12.18 | 12.18 | 9.30 | 9.30 | 8.36 | 8.36
22 | Pathology | 1.57 | 1.77 | 1.50 | 1.50 | 1.00 | 1.79 | 1.81 | 1.81 | 1.57 | 1.57 | 2.43 | 2.43
24 | Plastic Surgery | 7.19 | 7.19 | 8.17 | 8.17 | 4.64 | 4.64 | 9.01 | 9.01 | 7.97 | 7.97 | 6.42 | 6.42
25 | Physical Med & Rehab | 1.07 | 1.07 | 1.00 | 1.00 | 1.23 | 1.23 | 1.00 | 1.00 | n/a | n/a | 1.00 | 1.00
26 | Psychiatry | 1.31 | 1.49 | 1.50 | 1.50 | 1.00 | 1.00 | 1.00 | 1.00 | 1.33 | 2.60 | 2.00 | 2.00
28 | Colorectal surgery | 3.81 | 3.81 | 3.58 | 3.58 | 2.36 | 2.36 | 5.09 | 5.09 | n/a | n/a | 5.02 | 5.02
29 | Pulmonary disease | 1.82 | 1.82 | 1.00 | 1.00 | 1.23 | 1.23 | 2.91 | 2.91 | 1.57 | 1.57 | 3.13 | 3.13
30 | Diagnostic radiology | 2.28 | 2.58 | 1.67 | 1.67 | 1.23 | 1.79 | 4.24 | 4.24 | 1.57 | 2.60 | 3.26 | 3.26
33 | Thoracic surgery | 7.20 | 7.20 | 6.17 | 6.17 | 6.01 | 6.01 | 8.04 | 8.04 | 9.30 | 9.30 | 7.91 | 7.91
34 | Urology | 3.59 | 3.59 | 3.58 | 3.58 | 2.36 | 2.36 | 5.09 | 5.09 | 2.60 | 2.60 | 4.71 | 4.71
36 | Nuclear medicine | 1.38 | 1.61 | 1.50 | 1.50 | 1.23 | 1.23 | n/a | n/a | 1.33 | 2.60 | 1.47 | 1.47
37 | Pediatric medicine | 1.75 | 4.92 | 1.67 | 6.17 | 1.23 | 4.64 | n/a | n/a | n/a | n/a | 2.97 | 2.97
38 | Geriataric medicine | 1.16 | 2.08 | 1.00 | 1.50 | 1.23 | 2.36 | n/a | n/a | 1.33 | 2.60 | n/a | n/a
39 | Nephrology | 1.57 | 1.94 | 1.50 | 1.50 | 1.23 | 2.36 | n/a | n/a | 1.57 | 1.57 | 2.37 | 2.37
40 | Hand surgery | 5.75 | 5.75 | 6.17 | 6.17 | 4.64 | 4.64 | n/a | n/a | 5.38 | 5.38 | 7.54 | 7.54
44 | Infectious disease | 1.57 | 1.75 | 1.50 | 1.50 | 1.23 | 1.79 | n/a | n/a | 1.57 | 1.57 | 2.37 | 2.37
46 | Endocrinology | 1.57 | 1.94 | 1.50 | 1.50 | 1.23 | 2.36 | n/a | n/a | 1.57 | 1.57 | 2.37 | 2.37
66 | Rheumatology | 1.68 | 2.01 | 1.00 | 1.00 | 1.23 | 1.79 | 2.91 | 2.91 | 1.33 | 2.60 | 2.37 | 2.37
67 | Occupational therapist | 1.08 | 1.08 | 1.00 | 1.00 | 1.23 | 1.23 | 1.00 | 1.00 | n/a | n/a | n/a | n/a
77 | Vascular surgery | 7.41 | 7.41 | 6.17 | 6.17 | 6.01 | 6.01 | 9.01 | 9.01 | 9.30 | 9.30 | 7.91 | 7.91
78 | Cardiac surgery | 7.93 | 7.93 | 8.17 | 8.17 | 6.01 | 6.01 | 9.01 | 9.01 | 9.30 | 9.30 | 7.91 | 7.91
82 | Hematology | 1.62 | 1.76 | 1.50 | 1.50 | 1.23 | 1.79 | 1.81 | 1.81 | 1.57 | 1.57 | 2.37 | 2.37
83 | Hematology/oncology | 1.62 | 1.76 | 1.50 | 1.50 | 1.23 | 1.79 | 1.81 | 1.81 | 1.57 | 1.57 | 2.37 | 2.37
84 | Preventive medicine | 1.29 | 4.43 | 1.00 | 6.17 | 1.23 | 2.93 | 1.00 | 5.09 | 1.57 | 2.60 | 2.18 | 4.89
90 | Medical oncology | 1.85 | 1.85 | 1.50 | 1.50 | 1.23 | 1.23 | 2.91 | 2.91 | 1.57 | 1.57 | 2.37 | 2.37
92 | Radiation oncology | 2.40 | 2.40 | 1.50 | 1.50 | 2.36 | 2.36 | 2.91 | 2.91 | 2.60 | 2.60 | 3.26 | 3.26
93 | Emergency medicine | 4.30 | 4.96 | 6.17 | 6.17 | 2.93 | 4.64 | 3.25 | 3.25 | 3.36 | 4.82 | 6.06 | 6.06
94 | Interventional Radiology | 2.68 | 2.68 | 1.50 | 1.50 | 2.36 | 2.36 | 4.24 | 4.24 | 2.60 | 2.60 | 3.26 | 3.26
98 | Gynecologist/oncologist | 1.93 | 6.17 | 1.50 | 6.17 | 1.23 | 4.64 | 3.59 | 9.01 | 1.33 | 5.38 | 2.18 | 5.48

Table A-4.—Medicare Specialties and Risk Factor Assignment
Code | Medical description | Non surgical risk factor | Surgical risk factor | Notes
01 | General practice | 1.73 | 4.43 | Rating Manuals used.
02 | General surgery | 6.14 | 6.14 | Premium data used.
03 | Allergy/Immunology | 1.05 | 1.29 | Rating Manuals used.
04 | Otolaryngology | 2.31 | 4.23 | Surg RF from survey, Non-Surg RF from manuals.
05 | Anesthesiology | 3.28 | 3.28 | Premium data used.
06 | Cardiology | 1.81 | 2.73 | Surg RF from survey, Non-Surg RF from manuals.
07 | Dermatology | 1.12 | 2.41 | Rating Manuals used.
08 | Family practice | 1.73 | 4.43 | Rating Manuals used.
10 | Gastroenterology | 1.95 | 2.78 | Rating Manuals used.
11 | Internal medicine | 1.89 | 2.53 | Rating Manuals used.
12 | Osteopathic manipulative therapy | 2.19 | 3.75 | Cross walked to All Physician Average Risk Factors.
13 | Neurology | 1.96 | 2.79 | Surg RF from survey, Non-Surg RF from manuals.
14 | Neurosurgery | 12.64 | 12.64 | Premium data used.
16 | Obstetrics/Gynecology | 1.89 | 6.17 | Surg RF from manuals, Non-Surg RF from survey.
18 | Ophthalmology | 1.18 | 2.37 | Surg RF from survey, Non-Surg RF from Manuals.
19 | Oral surgery (dentists only) | 2.19 | 3.75 | Cross walked to All Physician Average Risk Factors.
20 | Orthopedic surgery | 8.53 | 8.53 | Premium data used.
22 | Pathology | 2.07 | 2.07 | Premium data used.
24 | Plastic and reconstructive surgery | 6.57 | 6.57 | Premium data used.
25 | Physical medicine and rehab | 1.07 | 1.07 | Rating Manuals used.
26 | Psychiatry | 1.31 | 1.49 | Surg RF from manuals, Non-Surg RF from survey.
28 | Colorectal surgery (formerly proctology) | 3.81 | 3.81 | Rating Manuals used.
29 | Pulmonary disease | 1.94 | 1.94 | Premium data used.
30 | Diagnostic radiology | 2.60 | 2.60 | Premium data used.
33 | Thoracic surgery | 8.14 | 8.14 | Premium data used.
34 | Urology | 3.58 | 3.58 | Premium data used.
35 | Chiropractic | 1.89 | 2.53 | Cross walked to Internal Medicine Risk Factor.
36 | Nuclear medicine | 1.38 | 1.61 | Rating Manuals used.
37 | Pediatric medicine | 1.75 | 4.92 | Rating Manuals used.
38 | Geriataric medicine | 1.16 | 2.08 | Rating Manuals used.
39 | Nephrology | 1.57 | 1.94 | Rating Manuals used.
40 | Hand surgery | 5.75 | 5.75 | Rating Manuals used.
41 | Optometrist | 2.19 | 3.75 | Cross walked to All Physician Average Risk Factors.
44 | Infectious disease | 1.57 | 1.75 | Rating Manuals used.
46 | Endocrinology | 1.57 | 1.94 | Rating Manuals used.
48 | Podiatry | 2.19 | 3.75 | Cross walked to All Physician Average Risk Factors.
62 | Psychologist | 1.31 | 1.49 | Cross walked to Psychiatrists' Risk Factors.
65 | Physical Therapist | 1.07 | 1.07 | Cross walked to Physical Med. & Rehab Risk Factors.
66 | Rheumatology | 1.68 | 2.01 | Rating Manuals used.
67 | Occupational therapist (independently practicing) | 1.08 | 1.08 | Rating Manuals used.
68 | Clinical psychologist | 1.31 | 1.49 | Cross walked to Psychiatrists' Risk Factors.
69 | Clinical lab | 2.07 | 2.07 | Cross walked to Pathologists' Risk Factors.
70 | Multispecialty clinic or group practice | 2.19 | 3.75 | Cross walked to All Physician Average Risk Factors.
76 | Peripheral vascular disease | 2.19 | 3.75 | Cross walked to All Physician Average Risk Factors.
77 | Vascular surgery | 7.41 | 7.41 | Rating Manuals used.
78 | Cardiac surgery | 7.93 | 7.93 | Rating Manuals used.
79 | Addiction medicine | 1.31 | 1.49 | Cross walked to Psychiatrists' Risk Factors.
81 | Critical care | 2.19 | 3.75 | Cross walked to All Physician Average Risk Factors.
82 | Hematology | 1.62 | 1.76 | Rating Manuals used.
83 | Hematology/oncology | 1.62 | 1.76 | Rating Manuals used.
84 | Preventive medicine | 1.29 | 4.43 | Rating Manuals used.
85 | Maxillofacial surgery | 6.57 | 6.57 | Cross walked to Plastic Surgeons' Risk Factors.
86 | Neuropsychiatry | 1.31 | 1.49 | Cross walked to Psychiatrists' Risk Factors.
90 | Medical oncology | 1.85 | 1.85 | Rating Manuals used.
91 | Surgical Oncology | 6.14 | 6.14 | Cross walked to General Surgeons' Risk Factors.
92 | Radiation oncology | 2.40 | 2.40 | Rating Manuals used.
93 | Emergency medicine | 4.30 | 4.96 | Rating Manuals used.
94 | Interventional Radiology | 2.68 | 2.68 | Rating Manuals used.
95 | Independent physiological lab | 2.07 | 2.07 | Cross walked to Pathologists' Risk Factors.
98 | Gynecologist/oncologist | 1.93 | 6.17 | Rating Manuals used.

Exhibit A-5.—Cross Walk Assumptions
HCPCS | MOD | Description | Status | Cross walk assumption: HCPCS | Cross walk assumption: MOD | Cross walk assumption: Description
11975 |  | Insert contraceptive cap | N | 11976 |  | Removal of contraceptive cap.
11977 |  | Removal/reinsert contra cap | N | 11976 |  | Removal of contraceptive cap.
11980 |  | Implant hormone pellet(s) | A | XXXXX |  | AVG SURGICAL.
13300 |  | Repair of wound or lesion | D | 13102 |  | Repair wound/lesion add-on.
15580 |  | Attach skin pedicle graft | D | 15574 |  | Form skin pedicle flap.
15625 |  | Skin graft | D | 15350 |  | Skin homograft.
15775 |  | Hair transplant punch grafts | R | 15776 |  | Hair transplant punch grafts.
15850 |  | Removal of sutures | B | 15851 |  | Removal of sutures.
20979 |  | Us bone stimulation | N | XXXXX |  | Interventional Radiology.
21077 |  | Prepare face/oral prosthesis | A | 21076 |  | Prepare face/oral prosthesis.
21083 |  | Prepare face/oral prosthesis | A | 21076 |  | Prepare face/oral prosthesis.
21127 |  | Augmentation, lower jaw bone | A | 21125 |  | Augmentation, lower jaw bone.
21155 |  | Reconstruct midface, lefort | A | 21154 |  | Reconstruct midface, lefort.
21159 |  | Reconstruct midface, lefort | A | 21154 |  | Reconstruct midface, lefort.
21263 |  | Revise eye sockets | A | 21260 |  | Revise eye sockets.
24931 |  | Amputate upper arm & implant | A | 24900 |  | Amputation of upper arm.
25455 |  | Revision of wrist joint | A | 25450 |  | Revision of wrist joint.
26504 |  | Hand tendon reconstruction | A | 26500 |  | Hand tendon reconstruction.
26551 |  | Great toe-hand transfer | A | XXXXX |  | Orthopedic Surgeon.
26554 |  | Double transfer, toe-hand | A | XXXXX |  | Orthopedic Surgeon.
26556 |  | Toe joint transfer | A | XXXXX |  | Orthopedic Surgeon.
27734 |  | Repair lower leg epiphyses | A | 27730 |  | Repair of tibia epiphysis.
32001 |  | Total lung lavage | D | 32997 |  | Total lung lavage.
33242 |  | Repair pulse generator/leads | D | 33218 |  | Revise eltrd pacing-defib.
33247 |  | Insert/replace leads | D | 33216 |  | Revise eltrd pacing-defib.
33506 |  | Repair artery, translocation | A | 33502 |  | Coronary artery correction.
33688 |  | Repair heart septum defect | A | 33684 |  | Repair heart septum defect.
33710 |  | Repair of heart defects | A | 33702 |  | Repair of heart defects.
33771 |  | Repair great vessels defect | A | 33770 |  | Repair great vessels defect.
33774 |  | Repair great vessels defect | A | 33770 |  | Repair great vessels defect.
33775 |  | Repair great vessels defect | A | 33770 |  | Repair great vessels defect.
33776 |  | Repair great vessels defect | A | 33770 |  | Repair great vessels defect.
33777 |  | Repair great vessels defect | A | 33770 |  | Repair great vessels defect.
33778 |  | Repair great vessels defect | A | 33770 |  | Repair great vessels defect.
33781 |  | Repair great vessels defect | A | 33770 |  | Repair great vessels defect.
33918 |  | Repair pulmonary atresia | A | 33917 |  | Repair pulmonary atresia.
33968 |  | Remove aortic assist device | A | 33971 |  | Aortic circulation assist.
36550 |  | Declot vascular device | A | 36533 |  | Insertion of access device.
42210 |  | Reconstruct cleft palate | A | 42205 |  | Reconstruct cleft palate.
42227 |  | Lengthening of palate | A | 42226 |  | Lengthening of palate.
42509 |  | Parotid duct diversion | A | 42507 |  | Parotid duct diversion.
42835 |  | Removal of adenoids | A | 42830 |  | Removal of adenoids.
46742 |  | Repair of imperforated anus | A | 46753 |  | Reconstruction of anus.
46746 |  | Repair of cloacal anomaly | A | 46744 |  | Repair of cloacal anomaly.
46748 |  | Repair of cloacal anomaly | A | 46744 |  | Repair of cloacal anomaly.
46751 |  | Repair of anal sphincter | A | 46753 |  | Reconstruction of anus.
47136 |  | Transplantation of liver | R | 47130 |  | Partial removal of liver.
49611 |  | Repair umbilical lesion | A | 49610 |  | Repair umbilical lesion.
50526 |  | Repair renal-abdomen fistula | A | 50525 |  | Repair renal-abdomen fistula.
54316 |  | Reconstruction of urethra | A | 54322 |  | Reconstruction of urethra.
54901 |  | Fusion of spermatic ducts | A | 54900 |  | Fusion of spermatic ducts.
56300 |  | Laparoscopy; diagnostic | D | 49320 |  | Diag laparo separate proc.
56301 |  | Laparoscopy; tubal cautery | D | 58670 |  | Laparoscopy, tubal cautery.
56302 |  | Laparoscopy; tubal block | D | 58671 |  | Laparoscopy, tubal block.
56303 |  | Laparoscopy; excise lesions | D | 58662 |  | Laparoscopy, excise lesions.
56304 |  | Laparoscopy; lysis | D | 58660 |  | Laparoscopy, lysis.
56305 |  | Laparoscopy; biopsy | D | 49321 |  | Laparoscopy, biopsy.
56306 |  | Laparoscopy; aspiration | D | 49322 |  | Laparoscopy, aspiration.
56307 |  | Laparoscopy; remove adnexa | D | 58661 |  | Laparoscopy, remove adnexa.
56308 |  | Laparoscopy; hysterectomy | D | 58550 |  | Laparo-asst vag hysterectomy.
56309 |  | Laparoscopy; remove myoma | D | 58551 |  | Laparoscopy, remove myoma.
56310 |  | Laparoscopic enterolysis | D | 44200 |  | Laparoscopy, enterolysis.
56311 |  | Laparoscopic lymph node biop | D | 38570 |  | Laparoscopy, lymph node biop.
56312 |  | Laparoscopic lymphadenectomy | D | 38571 |  | Laparoscopy, lymphadenectomy.
56313 |  | Laparoscopic lymphadenectomy | D | 38572 |  | Laparoscopy, lymphadenectomy.
56314 |  | Lapar; drain lymphocele | D | 49323 |  | Laparo drain lymphocele.
56315 |  | Laparoscopic appendectomy | D | 44970 |  | Laparoscopy, appendectomy.
56316 |  | Laparoscopic hernia repair | D | 49650 |  | Laparo hernia repair initial.
56317 |  | Laparoscopic hernia repair | D | 49651 |  | Laparo hernia repair recur.
56318 |  | Laparoscopic orchiectomy | D | 54690 |  | Laparoscopy, surgical; orchiectomy.
56320 |  | Laparoscopy, spermatic veins | D | 55550 |  | Laparo ligate spermatic vein.
56322 |  | Laparoscopy, vagus nerves | D | 43651 |  | Laparoscopy, vagus nerve.
56323 |  | Laparoscopy, vagus nerves | D | 43652 |  | Laparoscopy, vagus nerve.
56324 |  | Laparoscopy, cholecystoenter | D | 47570 |  | Laparo cholecystoenterostomy.
56340 |  | Laparoscopic cholecystectomy | D | 47562 |  | Laparoscopic cholecystectomy.
56341 |  | Laparoscopic cholecystectomy | D | 47563 |  | Laparo cholecystectomy/graph.
56342 |  | Laparoscopic cholecystectomy | D | 47564 |  | Laparo cholecystectomy/explr.
56343 |  | Laparoscopic salpingostomy | D | 58673 |  | Laparoscopy, salpingostomy.
56344 |  | Laparoscopic fimbrioplasty | D | 58672 |  | Laparoscopy, fimbrioplasty.
56346 |  | Laparoscopic gastrostomy | D | 43653 |  | Laparoscopy, gastrostomy.
56348 |  | Laparo; resect intestine | D | 44202 |  | Laparo, resect intestine.
56349 |  | Laparoscopy; fundoplasty | D | 43280 |  | Laparoscopy, fundoplasty.
56350 |  | Hysteroscopy; diagnostic | D | 58555 |  | Hysteroscopy, dx, sep proc.
56351 |  | Hysteroscopy; biopsy | D | 58558 |  | Hysteroscopy, biopsy.
56352 |  | Hysteroscopy; lysis | D | 58559 |  | Hysteroscopy, lysis.
56353 |  | Hysteroscopy; resect septum | D | 58560 |  | Hysteroscopy, resect septum.
56354 |  | Hysteroscopy; remove myoma | D | 58561 |  | Hysteroscopy, remove myoma.
56355 |  | Hysteroscopy; remove impact | D | 58562 |  | Hysteroscopy, remove fb.
56356 |  | Hysteroscopy; ablation | D | 58563 |  | Hysteroscopy, ablation.
56362 |  | Laparoscopy w/cholangio | D | 47560 |  | Laparoscopy w/cholangio.
56363 |  | Laparoscopy w/biopsy | D | 47561 |  | Laparo w/cholangio/biopsy.
58300 |  | Insert intrauterine device | N | 58301 |  | Remove intrauterine device.
58970 |  | Retrieval of oocyte | A | XXXXX |  | Gynecologist.
58976 |  | Transfer of embryo | A | XXXXX |  | Gynecologist.
61544 |  | Remove & treat brain lesion | A | 61533 |  | Implant brain electrodes.
61609 |  | Transect artery, sinus | A | XXXXX |  | Neurosurgeon.
61611 |  | Transect artery, sinus | A | XXXXX |  | Neurosurgeon.
61855 |  | Implant neuroelectrodes | D | 61862 |  | Implant neurostimul, subcort.
61865 |  | Implant neuroelectrodes | D | 61862 |  | Implant neurostimul, subcort.
61885 |  | Implant neurostim one array | A | XXXXX |  | Neurosurgeon.
62115 |  | Reduction of skull defect | A | XXXXX |  | Neurosurgeon.
62274 |  | Inject spinal anesthetic | D | 62310 |  | Inject spine c/t.
62275 |  | Inject spinal anesthetic | D | 62310 |  | Inject spine c/t.
62276 |  | Inject spinal anesthetic | D | 62318 |  | Inject spine w/cath, c/t.
62277 |  | Inject spinal anesthetic | D | 62318 |  | Inject spine w/cath, c/t.
62278 |  | Inject spinal anesthetic | D | 62311 |  | Inject spine l/s (cd).
62279 |  | Inject spinal anesthetic | D | 62319 |  | Inject spine w/cath l/s (cd).
62288 |  | Injection into spinal canal | D | 62310 |  | Inject spine c/t.
62289 |  | Injection into spinal canal | D | 62311 |  | Inject spine l/s (cd).
62298 |  | Injection into spinal canal | D | 62310 |  | Inject spine c/t.
63196 |  | Incise spinal column & cord | A | 63197 |  | Incise spinal column & cord.
63198 |  | Incise spinal column & cord | A | 63197 |  | Incise spinal column & cord.
63199 |  | Incise spinal column & cord | A | 63197 |  | Incise spinal column & cord.
64440 |  | Injection for nerve block | D | 64479 |  | Inj foramen epidural c/t.
64441 |  | Injection for nerve block | D | 64480 |  | Inj foramen epidural add-on.
64442 |  | Injection for nerve block | D | 64475 |  | Inj paravertebral l/s.
64443 |  | Inject, nerve block add-on | D | 64476 |  | Inj paravertebral l/s add-on.
64862 |  | Repair of low back nerves | A | 64861 |  | Repair of arm nerves.
64870 |  | Fusion of facial/other nerve | A | 64866 |  | Fusion of facial/other nerve.
64876 |  | Repair nerve/shorten bone | A | 64874 |  | Repair & revise nerve add-on.
77419 |  | Weekly radiation therapy | D | 77427 |  | Radiation tx management, x5.
77420 |  | Weekly radiation therapy | D | 77427 |  | Radiation tx management, x5.
77425 |  | Weekly radiation therapy | D | 77427 |  | Radiation tx management, x5.
77430 |  | Weekly radiation therapy | D | 77427 |  | Radiation tx management, x5.
78351 |  | Bone mineral, dual photon | N | 78350 |  | Bone mineral, single photon.
89136 |  | Sample stomach contents | A | 89135 |  | Sample stomach contents.
90875 |  | Psychophysiological therapy | N | XXXXX |  | PSYCHIATRY.
90876 |  | Psychophysiological therapy | N | XXXXX |  | PSYCHIATRY.
90885 |  | Psy evaluation of records | B | XXXXX |  | PSYCHIATRY.
90887 |  | Consultation with family | B | XXXXX |  | PSYCHIATRY.
92015 |  | Refraction | N | XXXXX |  | OPTHALMOLOGY.
92352 |  | Special spectacles fitting | B | XXXXX |  | OPTOMETRIST.
92353 |  | Special spectacles fitting | B | XXXXX |  | OPTOMETRIST.
92354 |  | Special spectacles fitting | B | XXXXX |  | OPTOMETRIST.
92355 |  | Special spectacles fitting | B | XXXXX |  | OPTOMETRIST.
92358 |  | Eye prosthesis service | B | XXXXX |  | OPTHALMOLOGY.
92371 |  | Repair & adjust spectacles | B | XXXXX |  | OPTOMETRIST.
92392 |  | Supply of low vision aids | I | XXXXX |  | OPTOMETRIST.
92393 |  | Supply of artificial eye | I | XXXXX |  | OPTHALMOLOGY.
92395 |  | Supply of spectacles | I | XXXXX |  | OPTOMETRIST.
92396 |  | Supply of contact lenses | I | XXXXX |  | OPTOMETRIST.
96570 |  | Photodynamic tx, 30 min | A | XXXXX |  | SURGICAL ONCOLOGY.
96571 |  | Photodynamic tx, addl 15 min | A | XXXXX |  | SURGICAL ONCOLOGY.
96902 |  | Trichogram | B | XXXXX |  | DERMATOLOGY.
97010 |  | Hot or cold packs therapy | B | XXXXX |  | PHYSICAL MEDICINE.
98943 |  | Chiropractic manipulation | N | 98942 |  | Chiropractic manipulation.
99141 |  | Sedation, iv/im or inhalant | B | XXXXX |  | ANESTHESIOLOGIST.
99142 |  | Sedation, oral/rectal/nasal | B | XXXXX |  | ANESTHESIOLOGIST.
99170 |  | Anogenital exam, child | A | XXXXX |  | AVG NON SURGICAL.
99374 |  | Home health care supervision | B | 99375 |  | Home health care supervision.
99377 |  | Hospice care supervision | B | 99378 |  | Hospice care supervision.
99379 |  | Nursing fac care supervision | B | 99313 |  | Nursing fac care, subseq.
99380 |  | Nursing fac care supervision | B | 99313 |  | Nursing fac care, subseq.
99381 |  | Prev visit, new, infant | N | XXXXX |  | PEDIATRICIAN.
99382 |  | Prev visit, new, age 1-4 | N | XXXXX |  | PEDIATRICIAN.
99383 |  | Prev visit, new, age 5-11 | N | XXXXX |  | PEDIATRICIAN.
99384 |  | Prev visit, new, age 12-17 | N | XXXXX |  | FAMILY PRACTITIONER.
99385 |  | Prev visit, new, age 18-39 | N | XXXXX |  | FAMILY PRACTITIONER.
99386 |  | Prev visit, new, age 40-64 | N | XXXXX |  | FAMILY PRACTITIONER.
99387 |  | Prev visit, new, 65 & over | N | XXXXX |  | FAMILY PRACTITIONER.
99391 |  | Prev visit, est, infant | N | XXXXX |  | PEDIATRICIAN.
99392 |  | Prev visit, est, age 1-4 | N | XXXXX |  | PEDIATRICIAN.
99393 |  | Prev visit, est, age 5-11 | N | XXXXX |  | PEDIATRICIAN.
99394 |  | Prev visit, est, age 12-17 | N | XXXXX |  | FAMILY PRACTITIONER.
99395 |  | Prev visit, est, age 18-39 | N | XXXXX |  | FAMILY PRACTITIONER.
99396 |  | Prev visit, est, age 40-64 | N | XXXXX |  | FAMILY PRACTITIONER.
99397 |  | Prev visit, est, 65 & over | N | XXXXX |  | FAMILY PRACTITIONER.
99401 |  | Preventive counseling, indiv | N | XXXXX |  | PSYCHIATRIST.
99402 |  | Preventive counseling, indiv | N | XXXXX |  | PSYCHIATRIST.
99403 |  | Preventive counseling, indiv | N | XXXXX |  | PSYCHIATRIST.
99404 |  | Preventive counseling, indiv | N | XXXXX |  | PSYCHIATRIST.
99411 |  | Preventive counseling, group | N | XXXXX |  | PSYCHIATRIST.
99412 |  | Preventive counseling, group | N | XXXXX |  | PSYCHIATRIST.
G0102 |  | Prostate ca screening; dre | A | XXXXX |  | UROLOGIST.
G0114 |  | Nett; psychosocial consult | R | XXXXX |  | PSYCHIATRIST.
G0121 |  | Colon ca scrn not hi rsk ind | N | XXXXX |  | AVG NON SURGICAL.
G0128 |  | CORF skilled nursing service | R | XXXXX |  | NURSE PRACTITIONER.
G0166 |  | Extrnl counterpulse, per tx | A | XXXXX |  | NURSE PRACTITIONER.
G0167 |  | Hyperbaric oz tx;no md reqrd | A | XXXXX |  | NURSE PRACTITIONER.
G0168 |  | Wound closure by adhesive | A | XXXXX |  | NURSE PRACTITIONER.
G0169 |  | Removal tissue; no anesthsia | A | XXXXX |  | AVG SURGICAL.
G0170 |  | Skin biograft | A | 15350 |  | Skin homograft.
G0171 |  | Skin biograft add-on | A | 15350 |  | Skin homograft.
Q0068 |  | Extracorpeal plasmapheresis | D | XXXXX |  | AVG NON SURGICAL.

[FR Doc. 00-27833 Filed 10-31-00; 8:45 am]

BILLING CODE 4210-01-P